DEPARTMENT OF HEALTH AND HUMAN SERVICES

Centers for Medicare & Medicaid Services

42 CFR Parts 410 and 414

[CMS-1476-FC]

RIN 0938-AL96

Medicare Program; Revisions to Payment Policies Under the Physician Fee Schedule for Calendar Year 2004

AGENCY: Centers for Medicare & Medicaid Services (CMS), HHS.

ACTION: Final rule with comment period.

SUMMARY: This final rule will refine the resource-based practice expense relative value units (RVUs) and make other changes to Medicare Part B payment policy. The policy changes concern: Medicare Economic Index, practice expense for professional component services, definition of diabetes for diabetes self-management training, supplemental survey data for practice expense, geographic practice cost indices, and several coding issues. In addition, this rule updates the codes subject to the physician self-referral prohibition. We also make revisions to the sustainable growth rate and the anesthesia conversion factor.

These changes will ensure that our payment systems are updated to reflect changes in medical practice and the relative value of services.

We are also finalizing the calendar year (CY) 2003 interim RVUs and are issuing interim RVUs for new and revised procedure codes for CY 2004.

As required by the statute, we are announcing that the physician fee schedule update for CY 2004 is -4.5 percent, the initial estimate of the sustainable growth rate for CY 2004 is 7.4 percent, and the conversion factor for CY 2004 is $35.1339.

We published a proposed rule (68 FR 50428) in the Federal Register on Part B drug payment reform on August 20, 2003. This proposed rule would also make changes to Medicare payment for furnishing or administering certain drugs and biologicals. We have not finalized these proposals to take into account that the Congress is considering legislation that would address these issues. We will continue to monitor legislative activity that would reform the Medicare Part B drug payment system. If legislation is not enacted soon on this issue, we remain committed to completing the regulatory process.

DATES: Effective date: These regulations are effective on January 1, 2004.

Comment date: We will consider comments on the physician self-referral designated health services additions and deletions identified in Tables 8 and 9, and the interim work RVUs for selected procedure codes identified in Addendum C if we receive them at the appropriate address, as provided in the addresses section, no later than 5 p.m. on January 6, 2004.

ADDRESSES: In commenting, please refer to file code CMS-1476-FC. Because of staff and resource limitations, we cannot accept comments by facsimile (FAX) transmission. Mail written comments (one original and two copies) to the following address ONLY:

Centers for Medicare & Medicaid Services, Department of Health and Human Services, Attention: CMS-1476-FC, P.O. Box 8013, Baltimore, MD 21244-8013.

Please allow sufficient time for us to receive mailed comments on time in the event of delivery delays.

If you prefer, you may deliver (by hand or courier) your written comments (one original and two copies) to one of the following addresses:

Room 445-G, Hubert H. Humphrey Building, 200 Independence Avenue, SW., Washington, DC 20201, or Room C5-14-03, 7500 Security Boulevard, Baltimore, MD 21244-8013.

(Because access to the interior of the HHH Building is not readily available to persons without Federal Government identification, commenters are encouraged to leave their comments in the CMS drop slots located in the main lobby of the building. A stamp-in clock is available if you wish to retain proof of filing by stamping in and retaining an extra copy of the comments being filed.)

Comments mailed to the addresses indicated as appropriate for hand or courier delivery may be delayed and could be considered late.

For information on viewing public comments, see the beginning of the SUPPLEMENTARY INFORMATION section.

FOR FURTHER INFORMATION CONTACT:

Pam West (410) 786-2302 (for issues related to practice expense.)

Jim Menas (410) 786-4507 (for issues related to anesthesia.)

Rick Ensor (410) 786-5617 (for issues related to Geographic Cost Price Index (GPCI).)

Mary Stojak (410) 786-6939 (for issues related to the definition of diabetes for diabetes self-management training (DSMT).)

Shannon Martin (410) 786-7939 (for issues related to rebasing of the Medicare Economic Index (MEI).)

Craig Dobyski, (410) 786-4584 (for issues related to telehealth).

Joanne Sinsheimer, (410) 786-4620 (for issues related to updates to the list of certain services subject to the physician self-referral prohibitions).

Diane Milstead (410) 786-3355, Latesha Walker (410) 786-1101, or Gaysha Brooks (410) 786-3355 (for all other issues.)

SUPPLEMENTARY INFORMATION:

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $10. As an alternative, you can view and photocopy the Federal Register document at most libraries designated as Federal Depository Libraries and at many other public and academic libraries throughout the country that receive the Federal Register.

This Federal Register document is also available from the Federal Register online database through GPO access, a service of the U.S. Government Printing Office. The Web site address is http://www.access.gpo.gov/nara/index.html.

Accessing Physician Fee Schedule Web Site and Pricing Information

Information on the physician fee schedule and pricing files can be found on our homepage. You can access this data by typing the following: http://cms.hhs.gov/physicians/pfs or you can access this data by using the following directions:

1. Go to the CMS homepage (http://www.cms.hhs.gov).

2. Place your cursor over the word “Professionals” in the blue area near the top of the page. Select “Physicians” from the drop-down menu.

3. Scroll down and under “Payment/Billing” select “Physician Fee Schedule'.

The Physician Fee Schedule pricing information is contained in two public use files.

(1) National Physician Fee Schedule Relative Value File—This file contains all CPT/HCPCS (excluding codes beginning with B, E, L, K, and O), their short descriptions and a status indicator, which denotes whether or not the service is priced under the physician fee schedule. The file also contains the components used in the calculation of the annual pricing amount (that is., the RVUs, GPCIs, and conversion factor), anesthesia conversion factors, and the payment policy indicators used to price the claims with surgical modifiers. This file does not contain the calculated pricing amounts.

(2) Physician Fee Schedule Payment Amount File National/Carrier—This file contains the CPT code and the Medicare price for all services priced under the Physician Fee Schedule. These data can be downloaded for (a) the entire country, or (b) for a selected carrier (in most cases carriers correlate with states). There is no option of requesting data for selected HCPCS codes. The zip file, which is downloaded, contains a file named PF04pc.doc, which explains the data contained in each column. This file also contains a description of pricing localities used in the Physician Fee Schedule. Due to the size of the national file (as well as many of the carrier-specific files), these data are provided in a comma-delimited format, which can be used to populate database applications. Generally speaking, these data are too large for Excel, however if a carrier specific file has 3 or fewer localities, Excel can be used.

Another file that providers may find useful is the Zipcode to Carrier Locality File. This file will map ZIP Codes to CMS carriers and localities and map Zip Codes to their State and determine whether the ZIP Code has a rural designation as determined by CMS. You can access this file by typing the following: http://cms.hhs.gov/providers/pufdownload/default.asp#alphanu or you can access this data by using the following directions:

1. Go to the CMS homepage (http://www.cms.hhs.gov).

2. Place your cursor over the word “Professionals” in the blue area near the top of the page. Select “Physicians” from the drop-down menu.

3. Scroll down and under “Payment/Billing” select “Medicare Payment Systems.”

4. Scroll down and under Coding Files select “Zipcode to Carrier Locality File.”

Table of Contents

I. Background

A. Legislative History

B. Published Changes to the Fee Schedule

II. Specific Provisions for Calendar Year 2004

A. Resource-Based Practice Expense Relative Value Units

1. Resource-Based Practice Expense Legislation

2. Current Methodology

3. Practice Expense Proposals for Calendar Year 2004

B. Geographic Practice Cost Indices (GPCIs)

C. Coding Issues

III. Other Issues

A. Definition of Diabetes for Diabetes Self-Management Training (DSMT)

B. Outpatient Therapy Services Performed “Incident To” Physicians Services

C. Status of Anesthesia Work and 5-Year Review

D. Payment Policies for Anesthesia Services

E. Technical Correction

F. Publication Issues

IV. Refinement of Relative Value Units for Calendar Year 2004 and Response to Public Comments on Interim Relative Value Units for 2003

V. Update to the Codes for Physician Self-Referral Prohibition

VI. Physician Fee Schedule Update for Calendar Year 2004

VII. Allowed Expenditures for Physicians' Services and the Sustainable Growth Rate

VIII. Anesthesia and Physician Fee Schedule Conversion Factors for CY 2004

IX. Telehealth Originating Site Facility Fee Payment Amount Update

X. Provisions of the Final Rule

XI. Collection of Information Requirements

XII. Response to Comments

XIII. Regulatory Impact Analysis

Addendum A—Explanation and Use of Addendum B

Addendum B—2004 Relative Value Units and Related Information Used in Determining Medicare Payments for 2004 Addendum C—Codes with Interim RVUs

Addendum D—2004 Geographic Practice Cost Indices by Medicare Carrier and Locality

Addendum E—2005 Geographic Practice Cost Indices by Medicare Carrier and Locality

Addendum F—Updated List of CPT/HCPCS Codes Used to Describe Certain Designated Health Services Under the Physician Self-Referral Provision

In addition, because of the many organizations and terms to which we refer by acronym in this proposed rule, we are listing these acronyms and their corresponding terms in alphabetical order below:

AMA American Medical Association

APC Ambulatory Payment Classification

BBA Balanced Budget Act of 1997

BBRA Balanced Budget Refinement Act of 1999

BIPA Medicare, Medicaid, and SCHIP Benefits Improvement and Protection Act of 2000

CF Conversion factor

CFR Code of Federal Regulations

CMS Centers for Medicare & Medicaid Services

CNS Clinical Nurse Specialist

CPT [Physicians'] Current Procedural Terminology [4th Edition, 2002, copyrighted by the American Medical Association]

CPEP Clinical Practice Expert Panel

CRNA Certified Registered Nurse Anesthetist

DHHS Department of Health and Human Services

E/M Evaluation and management

ESRD End-Stage Renal Disease

GAF Geographic adjustment factor

GPCI Geographic practice cost index

HCPCS Healthcare Common Procedure Coding System

HHA Home health agency

IDTFs Independent Diagnostic Testing Facilities

MCM Medicare Carrier Manual

MedPAC Medicare Payment Advisory Commission

MEI Medicare Economic Index

MGMA Medical Group Management Association

MPFS Medicare Physician Fee Schedule

MSA Metropolitan Statistical Area

OMB Office of Management and Budget

PC Professional component

PEAC Practice Expense Advisory Committee

PPO Preferred Provider Organization

PPS Prospective payment system

PRA Paperwork Reduction Act of 1995

RUC [AMA's Specialty Society] Relative [Value] Update Committee

RVU Relative value unit

SGR Sustainable growth rate

SMS [AMA's] Socioeconomic Monitoring System

SNF Skilled Nursing Facility

TC Technical component

I. Background

A. Legislative History

Since January 1, 1992, Medicare has paid for physicians' services under section 1848 of the Social Security Act (the Act), “Payment for Physicians” Services.” This section provides for three major elements: (1) A fee schedule for the payment of physicians' services; (2) limits on the amounts that nonparticipating physicians can charge beneficiaries; and (3) a sustainable growth rate (SGR) for the rates of increase in Medicare expenditures for physicians' services. The Act requires that payments under the fee schedule be based on national uniform relative value units (RVUs) that are based on the resources used in furnishing a service. Section 1848(c) of the Act requires that national RVUs be established for physician work, practice expense, and malpractice expense. Section 1848(c)(2)(B)(ii)(II) of the Act provides that adjustments in RVUs may not cause total physician fee schedule payments to differ by more than $20 million from what they would have been had the adjustments not been made. If adjustments to RVUs cause expenditures to change by more than $20 million, we must make adjustments to ensure that they do not increase or decrease by more than $20 million.

B. Published Changes to the Fee Schedule

In the July 2000 proposed rule, (65 FR 44177), we listed all of the final rules published through November 1999. In the August 2001 proposed rule (66 FR 40372) we discussed the November 2000 final rule relating to the updates to the RVUs and revisions to payment policies under the physician fee schedule.

In the November 2001 final rule with comment period (66 FR 55246), we made revisions to resource-based practice expense RVUs; services and supplies incident to a physician's professional service; anesthesia base unit variations; recognition of Physicians' Current Procedural Terminology (CPT) tracking codes; and nurse practitioners, physician assistants, and clinical nurse specialists performing screening sigmoidoscopies. We also addressed comments received on the June 8, 2001 proposed notice (66 FR 31028) for the 5-year review of work RVUs and finalized these work RVUs. In addition, we acknowledged comments received in response to a discussion of modifier-62, which is used to report the work of co-surgeons. The November 2001 final rule also updated the list of services that are subject to the physician self-referral prohibitions in order to reflect CPT and Healthcare Common Procedure Coding System (HCPCS) code changes that were effective January 1, 2002. All these revisions ensure that our payment systems are updated to reflect changes in medical practice and the relative value of services. This final rule also conformed our regulations to reflect statutory provisions of Medicare, Medicaid, and State Child Health Insurance Program (SCHIP) Benefits Improvement and Protection Act of 2000 (Pub. L. 106-554) (BIPA) concerning: the mammography screening benefit; biennial screening pelvic examinations for certain beneficiaries; expanded coverage for screening colonoscopies to all beneficiaries; annual glaucoma screenings for high-risk beneficiaries; coverage for medical nutrition therapy services for certain beneficiaries; expanded payment for telehealth services; payment for certain Indian Health Service for some services under the physician fee schedule; and revision of the payment for certain physician pathology services.

In the December 31, 2002 final rule with comment period (67 FR 79966), we refined resource-based practice expense RVUs and made other changes to Medicare Part B policy. These included: The pricing of the technical component for positron emission tomography (PET) scans, Medicare qualifications for clinical nurse specialists, a process to add or delete services to the definition of telehealth, the definition for ZZZ global periods, global period for surface radiation, and application of endoscopic reduction rules for certain codes. In addition, this rule: Updated the codes subject to physician self-referral prohibitions, expanded the definition of a screening fecal-occult blood test, and modified our regulations to expand coverage for additional colorectal cancer screening tests through our national coverage determination process. We also made revisions to the SGR, the anesthesia conversion factor (CF), and the work values for some gastroenterologic services. We finalized the calendar year (CY) 2002 interim RVUs and assigned interim RVUs for new and revised procedure codes for CY 2003, clarified the enrollment of therapists in private practice and the policy regarding services and supplies incident to a physician's professional services, and made technical changes to the definition of outpatient rehabilitation services.

This final rule also revised the regulations at § 485.618 to allow registered nurses (RNs) to provide emergency care in certain critical access hospitals (CAHs) in frontier areas (an area with fewer than six residents per square mile) or remote locations (locations designated in a State's rural health plan that we have approved).

As required by statute this final rule also announced that the physician fee schedule update for CY 2003 was −4.4 percent, the initial estimate of the SGR for CY 2003 was 7.6 percent, and the CF for CY 2003 was $34.5920, effective March 1, 2003. However, on February 28, 2003 (68 FR 9567), after enactment of the Consolidated Appropriations Resolution of 2003 (Pub. L. 108-7), we published a final rule that revised the estimates used to establish the SGRs for fiscal years 1998 and 1999 and announced a 1.6 percent increase in the CY 2003 physician fee schedule CF for March 1 to December 31, 2003. The CF from March 1 to December 31, 2003 is $36.7856 and the anesthesia CF for this period is $17.05. All other provisions of the December 31, 2002 final rule were unchanged by the rule published February 28, 2003.

C. Components of the Fee Schedule Payment Amounts

Under the formula set forth in section 1848(b)(1) of the Act, the payment amount for each service paid under the physician fee schedule is the product of three factors—(1) a nationally uniform relative value for the service; (2) a geographic adjustment factor (GAF) for each physician fee schedule area; and (3) a nationally uniform conversion factor (CF) for the service. The CF converts the relative values into payment amounts.

For each physician fee schedule service, there are three relative values—(1) an RVU for physician work; (2) an RVU for practice expense; and (3) an RVU for malpractice expense. For each of these components of the fee schedule, there is a geographic practice cost index (GPCI) for each fee schedule area. The GPCIs reflect the relative costs of practice expenses, malpractice insurance, and physician work in an area compared to the national average for each component.

The general formula for calculating the Medicare fee schedule amount for a given service in a given fee schedule area can be expressed as:

Payment = [(RVU work × GPCI work) + (RVU practice expense × GPCI practice expense) + (RVU malpractice × GPCI malpractice)] × CF

The CF for CY 2004 appears in section IX. The RVUs for CY 2004 are in Addendum B. The GPCIs for CY 2004 can be found in Addendum D.

Section 1848(e) of the Act requires us to develop GAFs for all physician fee schedule areas. The total GAF for a fee schedule area is equal to a weighted average of the individual GPCIs for each of the three components of the service. In accordance with the statute, however, the GAF for the physician's work reflects one-quarter of the relative cost of physician's work compared to the national average.

D. Development of the Relative Value System

1. Work Relative Value Units (RVUs)

Approximately 7,500 codes represent services included in the physician fee schedule. The work RVUs established for the implementation of the fee schedule in January 1992 were developed with extensive input from the physician community. A research team at the Harvard School of Public Health developed the original work RVUs for most codes in a cooperative agreement with us. In constructing the vignettes for the original RVUs, Harvard worked with expert panels of physicians and obtained input from physicians from numerous specialties.

The RVUs for radiology services were based on the American College of Radiology (ACR) relative value scale, which we integrated into the overall physician fee schedule. The RVUs for anesthesia services were based on RVUs from a uniform relative value guide. We established a separate CF for anesthesia services, and we continue to recognize time as a factor in determining payment for these services. As a result, there is a separate payment system for anesthesia services.

2. Practice Expense and Malpractice Expense Relative Value Units

Section 1848(c)(2)(C) of the Act required that the practice expense and malpractice expense RVUS equal the product of the base allowed charges and the practice expense and malpractice percentages for the service. Base allowed charges are defined as the national average allowed charges for the service furnished during 1991, as estimated using the most recent data available. For most services, we used 1989 charge data aged to reflect the 1991 payment rules, since those were the most recent data available for the 1992 fee schedule.

Section 121 of the Social Security Act Amendments of 1994 (Pub. L. 103-432), enacted on October 31, 1994, required us to develop a methodology for a resource-based system for determining practice expense RVUs for each physician service. As amended by the BBA, section 1848(c) required the new payment methodology to be phased in over 4 years, effective for services furnished in 1999, with resource-based practice expense RVUs becoming fully effective in 2002. The BBA also required us to implement resource-based malpractice RVUs for services furnished beginning in 2000.

II. Specific Provisions for Calendar Year 2004

In response to the publication of the August 15, 2003 proposed rule, (68 FR 49030), and the December 2002 interim final rule, (67 FR 79966), we received approximately 2,433 comments. We received comments from individual physicians, health care workers, and professional associations and societies. The majority of comments addressed the physician fee schedule proposals related to the dialysis G codes, “incident to” therapy services, and the geographic practice cost indices locality payment discussion issue.

The proposed rule discussed policies that affected the RVUs on which payment for certain services would be based. Certain changes implemented through this final rule are subject to the $20 million limitation on annual adjustments contained in section 1848(c)(2)(B)(ii)(II) of the Act.

After reviewing the comments and determining the policies we would implement, we have estimated the costs and savings of these policies and added those costs and savings to the estimated costs associated with any other changes in RVUs for 2004. We discuss in detail the effects of these changes in the Regulatory Impact Analysis in section XIII.

For the convenience of the reader, the headings for the policy issues correspond to the headings used in the August 15, 2003 proposed rule. More detailed background information for each issue can be found in the December 2002 interim final rule with comment period and the August 2003 proposed rule.

A. Resource-Based Practice Expense Relative Value Units

1. Resource-Based Practice Expense Legislation

Section 121 of the Social Security Act Amendments of 1994 (Pub. L. 103-432), enacted on October 31, 1994, required us to develop a methodology for a resource-based system for determining practice expense RVUs for each physician's service beginning in 1998. In developing the methodology, we were to consider the staff, equipment, and supplies used in providing medical and surgical services in various settings. The legislation specifically required that, in implementing the new system of practice expense RVUs, we apply the same budget-neutrality provisions that we apply to other adjustments under the physician fee schedule.

Section 4505(a) of the Balanced Budget Act of 1997 (BBA) (Pub. L. 105-33), enacted on August 5, 1997, amended section 1848(c)(2)(B)(ii) of the Act and delayed the effective date of the resource-based practice expense RVU system until January 1, 1999. In addition, section 4505(b) of the BBA provided for a 4-year transition period from charge-based practice expense RVUs to resource-based RVUs.

Further legislation affecting resource-based practice expense RVUs was included in the Medicare, Medicaid and State Child Health Insurance Program (SCHIP) Balanced Budget Refinement Act of 1999 (BBRA) (Pub. L. 106-113) enacted on November 29, 1999. Section 212 of the BBRA amended section 1848(c)(2)(B)(ii) of the Act by directing us to establish a process under which we accept and use, to the maximum extent practicable and consistent with sound data practices, data collected or developed by entities and organizations. These data would supplement the data we normally collect in determining the practice expense component of the physician fee schedule for payments in CY 2001 and CY 2002. (In the 1999 final rule (64 FR 59380), we extended, for an additional 2 years, the period during which we would accept supplementary data.)

2. Current Methodology for Computing the Practice Expense Relative Value Unit System

Effective with services furnished on or after January 1, 1999, we established a new methodology for computing resource-based practice expense RVUs that used the two significant sources of actual practice expense data we have available—the Clinical Practice Expert Panel (CPEP) data and the American Medical Association's (AMA) Socioeconomic Monitoring System (SMS) data. The methodology was based on an assumption that current aggregate specialty practice costs are a reasonable way to establish initial estimates of relative resource costs for physicians' services across specialties. The methodology allocated these aggregate specialty practice costs to specific procedures and, thus, can be seen as a “top-down” approach.

a. Major Steps

A brief discussion of the major steps involved in the determination of the practice expense RVUs follows. (Please see the November 1, 2001 final rule (66 FR 55249) for a more detailed explanation of the top-down methodology.)

• Step 1—Determine the specialty specific practice expense per hour of physician direct patient care. We used the AMA's SMS survey of actual aggregate cost data by specialty to determine the practice expenses per hour for each specialty. We calculated the practice expenses per hour for the specialty by dividing the aggregate practice expenses for the specialty by the total number of hours spent in patient care activities.

• Step 2—Create a specialty specific practice expense pool of practice expense costs for treating Medicare patients. To calculate the total number of hours spent treating Medicare patients for each specialty, we used the physician time assigned to each procedure code and the Medicare utilization data. We then calculated the specialty specific practice expense pools by multiplying the specialty practice expenses per hour by the total physician hours.

• Step 3—Allocate the specialty specific practice expense pool to the specific services performed by each specialty. For each specialty, we divided the practice expense pool into two groups based on whether direct or indirect costs were involved and used a different allocation basis for each group.

(i) Direct costs—For direct costs (which include clinical labor, medical supplies, and medical equipment), we used the procedure specific CPEP data on the staff time, supplies, and equipment as the allocation basis.

(ii) Indirect costs—To allocate the cost pools for indirect costs, including administrative labor, office expenses, and all other expenses, we used the total direct costs combined with the physician fee schedule work RVUs. We converted the work RVUs to dollars using the Medicare CF (expressed in 1995 dollars for consistency with the SMS survey years).

• Step 4—For procedures performed by more than one specialty, the final procedure code allocation was a weighted average of allocations for the specialties that perform the procedure, with the weights being the frequency with which each specialty performs the procedure on Medicare patients.

b. Other Methodological Issues

(i) Nonphysician Work Pool

For services with physician work RVUs equal to zero (including the technical components of radiology services and other diagnostic tests), we created a separate practice expense pool using the average clinical staff time from the CPEP data and the “all physicians” practice expense per hour.

We then used the adjusted 1998 practice expense RVUs to allocate this pool to each service. We have removed services from the nonphysician work pool if the requesting specialty predominates utilization of the service. Also, for all radiology services that are assigned physician work RVUs, we used the adjusted 1998 practice expense RVUs for radiology services as an interim measure to allocate the direct practice expense cost pool for radiology specialties to the most appropriate SMS specialty.

(ii) Crosswalks for Specialties Without Practice Expense Survey Data

Since many specialties identified in our claims data did not correspond exactly to the specialties included in the SMS survey data, it was necessary to crosswalk these specialties to the most appropriate SMS specialty.

(iii) Physical Therapy Services

Because we believe that most physical therapy services furnished in physicians' offices are performed by physical therapists, we crosswalked all utilization for therapy services in the CPT 97000 series to the physical and occupational therapy practice expense pool.

3. Practice Expense Proposals for Calendar Year 2004

a. Nonphysician Workpool

The nonphysician work pool is a special methodology that we used to determine practice expense RVUs for many services that do not have physician work RVUs. While the nonphysician work pool is of benefit to many of the services that were originally included, we have allowed specialties to request that their services be removed from the pool. Because the nonphysician work pool includes a variety of services performed by many different specialties, we use the “all physician” average practice expense per hour in place of a specialty-specific practice expense per hour.

As discussed in the August 15, 2003 proposed rule, we are continuing to study the alternatives that are available and any modifications to the nonphysician workpool would be published in proposed rulemaking.

Comment: Several specialty societies expressed support for the ongoing study of this complex issue and appreciate that any modifications to the nonphysician workpool would be published as proposed rulemaking for review and comment prior to implementation. A biopharmaceutical company commented that we should move forward to develop a new methodology that better recognizes actual resource consumption so that we can develop a preferable alternative.

Response: We are appreciative of the support and will continue to study this issue.

b. Supplemental Practice Expense Survey Data

i. Survey Criteria and Submission Dates

As required by the BBRA, we established criteria to evaluate data collected by organizations to supplement the data normally used in determining the practice expense component of the physician fee schedule. We have required supplementary survey data to be submitted by August 1 to be considered for computing practice expense RVUs for the following year. We proposed to change the required submission date to March 1, which would allow us to publish our decisions regarding survey data in the proposed rule and provide an opportunity for public comment on survey results. We also proposed to extend for an additional 2 years the period for accepting survey data that meets the criteria set forth in the November 2000 final rule (as modified in the December 31, 2002 final rule). The deadline for submission of the supplemental data to be considered in CY 2005 and CY 2006 would be March 1, 2004 and March 1, 2005, respectively.

Comment: Specialty societies expressed appreciation for our proposal to extend the deadline for submission of surveys. Commenters also approved of our proposal to change the due date for submission of supplemental practice expense survey data to March 1, so that the implications of the use of the survey data could be discussed in the proposed rule.

Response: We will implement the change in the submission dates for supplementary surveys as proposed. The deadline for submission of the supplemental data to be considered in CY 2005 and CY 2006 would be March 1, 2004 and March 1, 2005, respectively. We will revise § 414.22(b)(6)(ii) to reflect this change.

ii. Submission of Supplemental Surveys

The College of American Pathologists (CAP) submitted supplemental survey data for independent laboratories for consideration for CY 2004. Our contractor, The Lewin Group, evaluated the data and has recommended acceptance.

Comment: Based on our proposal to revise the date for submission of supplemental survey data, CAP requested that we delay incorporation of this survey data until next year's proposed rule. CAP also expressed an interest in being able to evaluate the combined effects of the use of the new survey data along with the technical change for pathology services before the changes are implemented. Therefore, CAP requested that we also extend the moratorium on calculating the technical component as the difference between the global and professional component practice expense RVUs by one additional year, as discussed in the August 15, 2003 proposed rule. This request for a delay in incorporating the new survey data, as well as extending the moratorium was supported by the AMA and several specialty societies.

Response: We agree with the comments that suggest extending by one year the moratorium on calculating the technical component practice expense RVU as the difference between the global and professional component RVUs for pathology services. We also agree with comments suggesting that we not incorporate the CAP survey into the practice expense methodology until next year. We will evaluate the CAP survey in next year's proposed rule at the same time we show the effect of the above described change for pathology services.

c. Practice Expense for a professional component service

While we typically assign all staff, equipment and supply costs for services with professional and technical components (PC and TC) to the technical portion of the service, in the proposed rule we discussed limited instances where it is appropriate to assign direct inputs to a PC service. We proposed to modify the practice expense methodology to allow direct inputs to be added to PC services when these inputs are clearly associated with the professional service, including when the PEAC makes such recommendations. Specifically we proposed to add the PEAC recommended staff times to the PC of the following cardiac services: CPT codes 93508, 93510, 93511, 93514, 93524, 93526, 93527, 93528, 93529, 93530, 93531, 93532, 93533 and 93624.

Comment: The RUC, the AMA, the American College of Physicians and societies representing cardiologists, cardiac rhythm specialists, interventional radiologists, nuclear medicine, chest physicians, radiation oncologists, radiologists, endocrinologists and dermatologists expressed support for this change in methodology. Commenters were also in agreement with the specific CPT codes mentioned in the proposed rule, but requested that direct inputs also be added to the PC of CPT codes 93619, 93620 and 93642, which were reviewed at the January PEAC meeting. The RUC comment indicated that additional codes might be identified at future PEAC/RUC meetings.

Response: We will finalize the proposed assignment of direct practice expense to the proposed 14 cardiac services and will add the PEAC recommended inputs to the PC of CPT codes 93619, 93620 and 93642, as requested by the commenters.

d. Utilization Data

We use Medicare utilization data in the development of specialty-specific practice expense RVUs that are then weight averaged to determine a single practice expense RVU per code. Prior to 2003, we used the most recent complete year of utilization data to determine the practice expense RVUs. In the December 31, 2002 final rule (67 FR 79982), we adopted a policy of using the 1997 through 2000 Medicare utilization in the practice expense methodology. For new codes created since 2000, there are no Medicare utilization data. In the August 15, 2003 rule we proposed to follow a similar practice to the one described above and use specialty-specific Medicare utilization data for codes created after 2000 at the first opportunity they become available to us. Since we will not have any utilization data at the time we first establish practice expense RVUs for a new code, we proposed that we continue, whenever possible, to make an assumption about the specialty that will likely provide the service or to use the “all physician” average when we do not have sufficient information to assign any given specialty.

Comment: The specialty societies representing internal medicine, rheumatology and pulmonary medicine supported our proposal to use 1997 through 2000 Medicare utilization data for all codes that were in existence at that time and to use specialty-specific Medicare utilization data for codes created after 2000 when utilization data first become available, using the “all physician” average when we do not have sufficient information to assign a given specialty. These commenters, as well as several others, suggested that the RUC and the specialty societies could provide information on the specialties that will likely perform a new service to minimize the potential changes to the practice expense RVUs that will occur when we substitute actual for estimated utilization. However, a specialty society representing gastroenterology expressed concern that we are moving forward with plans to shift the basis of our methodology for compiling data to a five-year basis. The commenter urged us to not make changes until extensive impact comparisons are conducted that can be evaluated by physician community.

Response: We will implement our proposal to use specialty-specific Medicare utilization data for codes created after 2000 at the first opportunity they become available to us. We will also continue, whenever possible, to make an assumption about the specialty that will likely provide the service or to use the “all physician” average when we do not have sufficient information to assign any given specialty. Information about the specialty we assign to a code that has no utilization data can be found in the utilization data files we make available on the CMS web site following final rule publication. With respect to the comment about shifting to a 5-year basis of utilization data for the practice expense methodology, we are making no change in policy for codes that existed in the 1997 to 2000 period. We are using only the later year utilization data for codes that have been created since that time. Any information from the RUC that could assist us in this process would be welcomed.

Comment: A specialty society representing colon and rectal surgeons agreed with our general utilization methodology, but disagreed that averaged 1997-2000 utilization data should be used for all codes that were not in existence for the entire period. The commenter argued that the frequency for these codes might be artificially low because the coding was new and that this may impact the relativity between new and old codes in the same family with similar inputs. The society suggested that any code that did not exist during the entire 1997-2000 period default to 2002 or most recent data.

Response: As we have explained, the Medicare utilization is important to the practice expense methodology because it determines which specialty scaling factors will be applied to the estimated practice expense input values in determining the practice expense RVUs for each service. The proportion of the volume billed by each specialty is more important to determining the practice expense RVU for a given service than the total volume. If the code is low in volume but the proportion of the code's volume billed by each specialty is generally consistent over time, there will be little or no difference in a code's practice expense RVUs, whether we use its initial year of utilization or a later year to determine its value.

Comment: Commenters representing dermatology as well as a pharmaceutical company expressed concern regarding the decrease in payment for photodynamic therapy, CPT code 95657. The commenters noted our discussion in the proposed rule indicating that this reduction in the practice expense RVUs is occurring because of updates to the Medicare utilization data used in the practice expense methodology. As a result of the updated utilization data, the practice expense methodology now uses the dermatology scaling factor (0.54) for supplies instead of the all physician average (1.29), and this change leads to the reduction in payment for the code. The commenters urged us to reconsider the proposal and at least to reinstate physicians' ability to bill separately in 2004 for the light-activating agent under the appropriate J code and also to remove the drug from the practice expense portion of the procedure.

Response: One of the functions of the utilization data in our practice expense methodology is to assign all procedures to the specialty-specific cost pools of the specialty or specialties performing them. Each cost pool has its own scaling factor. This scaling factor is used to scale the aggregate CPEP procedure-level costs for a specialty to the aggregate costs for the same specialty as determined by the SMS practice expense data. As we indicated in the proposed rule, we do not have utilization data upon which to determine the practice expense RVUs for a new code at the time it is created. As a default, we have assigned many new codes the “all physician” scaling factor until we have the data to move these codes into the appropriate specialty cost pools. Because it allows us to apply the appropriate specialty scaling factor, the use of the updated utilization data in the practice expense methodology can lead to increases or decreases in the value of a code, even though its practice expenses remain unchanged. In this case, the supplies scaling factor for dermatology is lower than that for “all physicians,” leading to a decrease in practice expense RVUs when the dermatology scaling factor was applied to the CPEP data of the photodynamic therapy service.

We believe the initial practice RVUs for photodynamic therapy were too high, because the later information on Medicare utilization indicates that we should have used the dermatology scaling factor which would have produced a lower practice expense value. As we indicate above, we are working to minimize changes that will occur in the practice expense RVUs for a service by making an initial assumption about which specialty will likely bill us for a service. However, we believe our policy for new codes should be consistent with how we determine the practice expense RVUs for existing codes, even if updates to the Medicare utilization data lead to increases or decreases in the practice expense RVUs.

Though we believe that it is appropriate to use the updated utilization that results in a reduction in payment for CPT code 96567, we will pay separately for the light activating agent beginning January 1, 2004. However, we are also further considering whether Medicare should pay separately for certain topical drugs in certain circumstances. Any change in policy would be discussed in future rulemaking.

Comment: Specialty societies representing radiation oncology, as well as individual commenters, expressed concern about the decrease in payment for the intensity modulated radiation therapy (IMRT) treatment service, CPT code 77418. The commenters stated that this was due to a “quirk” in the utilization data relating to new codes and requested that this code be priced by the non-physician work pool methodology.

Response: We will calculate the practice expense RVUs for the IMRT treatment service, CPT code 77418, using the nonphysician workpool methodology. This will be consistent with the way we currently calculate the practice expense for all other radiation therapy services with no physician work RVUs.

Comment: The specialty society representing radiation oncology also noted that there was a reduction in the practice expense RVUs for the intensity modulated radiation therapy planning procedure, CPT code 77301. A remote cardiac monitoring service questioned why the use of new utilization data could decrease the value of a code such as HCPCS code G0249 for the provision of test material and equipment for home INR monitoring.

Response: Both CPT code 77301 and HCPCS code G0249 were new codes for which we did not have utilization data and which were initially assigned the “all physician” scaling factor. As described above, now that we have the utilization data, the services have been placed in the specialty-specific cost pools based on how the service is billed to Medicare, which have lower scaling factors than the “all physician.” This shift has led to the reduced practice expense RVUs for CPT code 77301. If we had placed this code in the radiation oncology cost pool to begin with, it would have had the reduced practice expense payments for the past two years as well. HCPCS code G0249 will actually have increased practice expense RVUs in 2004 due to the effect of the repricing of supplies.

Comment: We received one comment that questioned how updated utilization data could have such a huge and direct effect on specific codes. The commenter requested clarification from us on the workings of the utilization data within the practice expense methodology so that the public will understand how utilization data will affect new technologies in the future.

Response: As explained above, one of the functions of the utilization data in our practice expense methodology is to assign all procedures to the specialty-specific cost pools of the specialty or specialties performing them. If we do not know the specialty, we have used “all physician” scaling factors. The “all physician” scaling factors could be higher or lower than the specialty-specific scaling factor and produce different RVUs for the code. For instance, CPT code 77301-26 is a PC service that has no direct cost inputs. Thus, its practice expense RVUs are affected only by the indirect cost scaling factor. To develop the 2003 practice expense RVUs for this code, we adjusted indirect costs allocated to this code by the “all physician” indirect cost scaling factor of 0.57. However, for 2004, we have Medicare utilization data from 2002 for this procedure code. Radiation oncologists and radiologists respectively billed Medicare for 67 percent and 30 percent of the total volume of services provided to Medicare patients in 2002. The weighted average scaling factor for all the specialties that bill Medicare for this procedure code is 0.48. Since we are adjusting indirect costs by 0.48 instead of 0.57, the final practice expense value is lower.

e. Practice Expense Advisory Committee (PEAC)

The PEAC, a subcommittee of the RUC, has, since 1999, been providing us with recommendations for refining the direct practice expense inputs (clinical staff, supplies, and equipment) for existing CPT codes.

1. Recommendations on CPEP Inputs for 2003

In the December 31, 2002 proposed rule, we responded to the PEAC recommendations for the refinement to the CPEP direct practice expense inputs for over 1200 codes, including refinements to codes from almost every major specialty. In addition, the recommendations included standardized times for office-based clinical staff for services provided during a patient's hospitalization and for discharge day management services, as well as pre-service clinical staff times for 323 neurosurgery procedures. We reviewed and accepted all of the recommendations. We received the following comments on these revisions.

Comment: We received comments from specialty societies representing dermatology, dermatolgic surgery and Mohs surgery expressing concern regarding the decrease in practice expense RVUs for skin biopsy procedures, CPT codes 11100 and 11101 and the destruction of benign or premalignant lesion services, CPT codes 17000 and 17003. The commenters questioned whether the reductions reflect errors in the validated practice expense inputs used in the practice expense calculations.

Response: We have checked the practice expense inputs and found that these match the clinical staff, supply and equipment inputs as recommended by the RUC. The reduction in practice expense RVUs was caused by the refinement of these inputs, which, in turn, was based on the presentation made to the PEAC by the dermatology specialty society. We will, therefore, not make any further revisions to the practice expense inputs for these services in this final rule.

2. Recommendations on CPEP Inputs for 2004

In the August 15, 2003 proposed rule we included the PEAC recommendations from meetings held in September of 2002 and January 2003 as well as recommendations on the refinements to the clinical staff time for all 90-day global services. In addition, the PEAC convened a workgroup to make recommendations on the refinement of all the 116 remaining evaluation and management codes. We reviewed the submitted PEAC recommendations and proposed to accept them.

Comment: The American Osteopathic Association expressed appreciation that we supported the recommended changes for the osteopathic manipulative treatment codes and commended us for accepting the PEAC recommendations for the clinical staff times for 90-day global codes. The American College of Obstetricians and Gynecologists stated that our acceptance of the PEAC recommendations is an example of exceptional cooperation and collaboration in meeting the healthcare needs of Americans served by the Medicare program. The American Academy of Dermatology applauded our acceptance of the year's PEAC recommendations. The AMA and the American College of Radiology stated that they appreciate our recognition of the significant resources specialty societies have devoted to the practice expense refinement process and is thankful that our practice expense staff avail themselves of specialty society input. The American College of Surgeons also supported our acceptance of the PEAC recommendations, including the decision to permit exceptions to the standard pre-service times for some surgical procedures. The College other specialty societies also expressed appreciation for our commitment to the refinement process.

Response: We, in turn, are appreciative of these positive comments. We believe that it is only because of the cooperative working relationship between the specialty societies, the AMA and CMS that there has been such a high level of success in tackling practice expense refinement.

Comment: The American College of Physicians as well as other specialty societies representing surgeons, otolaryngologists, podiatrists, geriatric psychiatrists, obstetricians and gynecologists, cataract and refractive surgeons, neurosurgeons, dermatologists, rheumatologists, radiologists and radiation oncologists supported our inclusion of the PEAC recommendations in the proposed rule because this would better enable specialty societies to address their impact and make comments prior to publication of the final rule.

However, specialty societies representing chest physicians and thoracic physicians disagreed with our decision to change our previous practice of including the PEAC recommendations in the final, rather than the proposed rule, because this meant that the recommendations from the March PEAC meeting were not included for this year. The society argued that changing this long-standing policy without announcing it in the Federal Register is inappropriate. The comment also contended that the specialty societies agreed to the inputs at the PEAC meeting; therefore, negative comments would not be forthcoming.

Response: We discussed this issue at the January PEAC meeting and indicated that we were considering including the PEAC recommendations in the proposed rule and that the March recommendations would most likely not be included. We made this decision because, now that the PEAC is refining such a large number of codes, the revisions to the inputs were not only changing the practice expense RVUs of the refined codes, but also the values of services that were not refined. Therefore, we believed it was prudent that revisions be subject to comment before the revisions were implemented.

Comment: The specialty society representing podiatry identified some discrepancies between the PEAC recommendations and the inputs in the CPEP database for CPT codes 10060, 11000, 11055, 11056, 11057 and 11752 and requested that these be corrected.

Response: We have made the corrections as requested.

Comment: The American Society of Transplant Surgeons (ASTS) commented that it is not appropriate to apply either the PEAC-approved standard clinical staff times or RN/LPN/MTA staff blend for 90-day global procedures to the transplant recipient or living donor services. ASTS stated that it had been unaware that the PEAC was applying the standard to all 90-day services unless a case was made to the PEAC that the times should be increased. ASTS argued that there are substantial atypical staff times required for transplant recipients due, in large part, to the intensive education required for the transplant patient. The commenter noted that the three new CPT codes for living donor hepatectomies, CPT codes 47140-47142, were given increased pre-service clinical staff time by the RUC and have an RN as the staff type. ASTS requested that the current clinical staff times be retained and that an RN be assigned rather than the blended staff type to the following transplant services: CPT codes 32851, 32852, 32853, 32854, 33935, 33945, 47135, 47136, 48554, 48556, 50320, 50360, 50365, 50380, 50547.

Response: It does seem reasonable that at least some of these services would have increased pre-times as do the living donor hepatectomies recently reviewed by the RUC. Therefore, we will restore the original CPEP clinical staff pre-times and use the RN staff type for the above services on an interim basis for the coming year. We anticipate that the society will bring all of these codes to the PEAC for review for either the January or March meeting to ensure that the times for the codes receive the same scrutiny as did the new transplant codes. It should be noted that a few of the codes have lower original CPEP pre-time than the PEAC standard of 60 minutes; for those codes we did not change the PEAC standard time. We also are not revising the post-procedure clinical staff times for these codes, because the current times are in line with the post-service times assigned to the new living donor hepatectomy codes recently reviewed by the RUC.

Comment: A commenter noted that high dose rate (HDR) brachytherapy CPT codes 77781, 77782, 77783 and 77784 were not listed in Addendum C of the proposed rule. Since these codes were approved by the PEAC and forwarded to CMS, ACR questioned why these codes were not listed.

Response: The CPEP data base files had been revised to reflect the PEAC recommendations for these codes. It was an oversight that they were not included in Addendum C.

Comment: The American College of Surgeons listed several possible errors in the CPEP database:

CPT code 11450—missing 1 minute of staff time

CPT codes 10080, 10081, 11770, 12032, 12035, 12046, 12047, 21550, 21920, 37609, 38300, 45300-45327, and 46600-46615—missing correct number of gloves.

CPT codes 45900, 45905, 45910, 47382, 49320, 49321, 49322, 49422, 49429—supplies listed incorrectly—have nonfacility inputs when PEAC recommended none in office setting.

Response: We thank the College for checking the database so carefully. We have made the suggested corrections, with the following notes: For CPT codes 10080, 10081 and 11770, the PEAC recommendation listed 5 gloves, not 6. For CPT codes 45300-45327 and 46600-46615, we adjusted the quantity of unsterile gloves to reflect that there are 2 pair in the minimum visit supply package; in addition, CPT codes 45321 and 45327 were not priced in the nonfacility setting.

Comment: The American Society of Colon and Rectal Surgeons noted a few errors in the CPEP supply database. The supply inputs had not been changed to match the accepted new recommendations for CPT codes 45900, 45905, 45910, 47382, 49320, 49321, 49322, 49422 and 49429.

Response: We have made the corrections to the supply database and thank the specialty for bringing this to our attention.

Comment: The American Speech-Language-Hearing Association (ASHA) questioned the proposed 28 percent reduction in the practice expense for CPT code 92507, Treatment of speech, language, voice, communication, auditory processing and/or aural rehabilitation status. The reduction is attributable to a decrease in clinical staff time. ASHA contended that the PEAC recommendation was based on a vignette for a child receiving such therapy, but that the time involved with a typical adult patient receiving this treatment is much longer. ASHA stated that a more reasonable time for clinical staff for this service is 69 minutes compared to the proposed 46 minutes.

Response: We understand that the scenario for performing this service for a child might be very different than for an adult because an adult can participate in a more protracted therapy session. Because it is not clear to us at this time what would be the typical scenario, we will, on an interim basis, average the clinical staff time needed during a speech therapy session for a child with that suggested by ASHA for an adult. We will, therefore, assign 58 minutes of clinical staff time to this service, with the expectation that ASHA will present CPT code 92507 for further discussion and review at the PEAC.

Comment: We received several comments in response to our acceptance of PEAC recommendations for evaluation and management (E/M) codes that reduced payment rates for six nursing home services (CPT codes 99301-99303 and 99311-99313) and two home visit codes (CPT codes 99348 and 99350). This payment reduction is primarily due to a decrease in the clinical staff time assigned to these services.

The American Academy of Family Physicians (AAFP) supported our acceptance of the PEAC recommendations for the E/M nursing facility services. The commenter noted that current practice expenses are higher for services provided in the non-SNF nursing facility than those provided in the SNF facility. The commenter contended that the direct practice expense inputs should not vary based on the type of nursing facility setting and supported the elimination of the current differential in the practice expense RVUs between the SNF and non-SNF facility setting.

However, the American Medical Directors Association (AMDA) representing long term care physicians, the American Geriatrics Society (AGS) and a health care management company, Health Essentials, all disagreed with our decision to accept the E/M nursing facility PEAC recommendations and asked us to reconsider our decision to implement them in 2004. The request to delay implementation was echoed by the American Academy of Home Care Physicians and AGS relating to the two E/M home visit codes.

The home care physicians argued that the PEAC recommendations for the two home visit codes are flawed because these codes have not yet been surveyed by the specialty performing this service. The commenters also contended that their views were not represented when the PEAC considered the refinements of the E/M home visit codes. Similarly, the AMDA noted that the PEAC workgroup responsible for formulating the recommendations for the nursing facility codes did not include long term care physicians. The AMA also commented on this issue and expressed concern that the PEAC recommendations did not include the views of all the relevant medical specialties and requested that we delay implementation of these E/M code recommendations to allow impacted medical specialties an opportunity to present new information to the PEAC.

In addition, the AMDA expressed concern regarding the current work RVUs for nursing home visit services.

Response: At the time the PEAC recommendations were forwarded to CMS, we agreed with the views expressed by the AFPP as to the reasonableness of the practice expense recommendations for the E/M codes for the nursing facility and home visits. However, we are also of the opinion that the relevant medical specialties should be given the opportunity to have their views considered by the PEAC. Consequently, we will not go forward with these E/M recommendations in 2004. This will allow time for the PEAC to reconsider the eight E/M codes with input from representatives from the nursing home and home visit specialties. We will use current CPEP practice expense inputs to price these codes for 2004.

With regard to the concern expressed about the work RVUs for the nursing home visits, in the 2004 final rule we will solicit recommendations on codes to be reviewed during the next 5-year review of work and we suggest that the society recommend review of these codes.

Comment: A specialty society representing gastroenterologists commented that the increased clinical staff pre-time added to certain colorectal procedures needs to be applied equally to gastroenterologists who provide those services.

Response: We have a single payment for each procedure regardless of the specialty performing the service. Therefore, gastroenterologists will be paid the same as colorectal surgeons when performing those services for which we allowed increased pre-service clinical staff time.

Comment: The American College of Radiology submitted several corrections to the CPEP database for those instances where the database differed from the PEAC recommendations that we accepted. The College stated its appreciation for the opportunity to review the practice expense data file for completeness and accuracy and applauded our efforts to ensure that the database captures correct and complete practice expense data.

Response: We thank the College for the time and effort expended in checking this detailed data. We have made revisions to 19 codes: We changed the quantity of sodium chloride injection for CPT codes 78306, 78315, 78460, 78461, 78464, and 78465; adjusted the quantity of films for CPT code 76812; added missing supplies to CPT codes 77408, 77409, 77411, 77412, 77414, 77416, 76830 and 77290; removed equipment that had been deleted from CPT codes 78478 and 78480; and corrected a typographical error in the pre-service clinical staff time for CPT codes 73218 and 75555.

g. Repricing of Clinical Practice Expense Inputs—Supplies

We use the practice expense inputs (the clinical staff, supplies, and equipment assigned to each procedure) to allocate the specialty-specific practice expense cost pools to the procedures performed by each specialty. The costs of the original inputs assigned by the Clinical Practice Expert Panels (CPEP) were determined by our contractor, Abt Associates, based primarily on 1994 and 1995 pricing data from supply catalogs. In addition, for many items on the equipment and supply list, the associated costs were based on the recommendations of a CPEP panel member, rather than on actual catalog prices. Subsequent to the CPEP panels, equipment and supply items have also been added to the CPEP data, with the costs of the inputs provided by the relevant specialty society.

We contracted with a consultant to assist in obtaining current pricing information and also to recommend revisions to improve the uniformity and consistency of the CPEP supply database. On the basis of these recommendations, in the August 15, 2003 proposed rule, we proposed updates to the cost information for supplies in the database. In addition, we proposed the following database revisions:

—Assignment of supply categories.

We proposed that supplies be assigned to one of 14 categories.

—Consolidation/standardization of item descriptions.

We proposed combining items which appeared to be duplicative and modifiying descriptions using a key first word when possible for easier identification of items. For example, “mayo stand cover” and “drape, sterile Mayo” have both been changed to “drape, sterile, for Mayo stand.”

—Standardization of unit descriptions.

The current CPEP database contains over 72 unit descriptions associated with supplies (for example, item, gram, and cup). To provide consistency and ensure that inputs in the database accurately reflect the quantity of an item used, we proposed to standardize the unit description of items. We also proposed to specifically identify items intended for single use through the use of “uou” (unit of use) following the unit. These changes were reflected in Addendum D of the proposed rule.

There were also items that had not been identified or for which pricing information was not found that were included in Table 1 in the August 15 proposed rule. Items that we proposed to delete from the database were also identified in this table. We requested that commenters, particularly the relevant specialty groups, provide us with the needed pricing information with appropriate documentation. We also stated if we did not obtain verified pricing information for an item, it would be eliminated from the database.

Comment: The RUC expressed appreciation for the enormity of the repricing project and stated that the proposed approach was well organized and comprehensive. The American Association of Orthopedic Surgeons also agreed that the assignment of supply categories would be helpful in future refinement activities. The American College of Physicians, the American College of Surgeons, and the American Urological Association expressed support for our proposal to create a numbering system and to standardize the descriptions of supply items to increase accuracy of use. The American Academy of Dermatology also supported this standardization of proposed “unit of use” as long as its application does not assume that “one size fits all” as some supplies may go from milliliter to liter in usage. The American Society of Cataract and Refractive Surgery and the Outpatient Ophthalmic Surgery Society thanked us for the repricing proposal because this will ensure that we are using the more accurate and up-to-date supply costs, thus reimbursing physicians more fairly. The American College of Radiology recognized the need to update supply and pricing information in the practice expense database and commended us for committing to this extensive project. The American College of Surgeons also agreed that the update of prices for supplies will improve the accuracy of the direct practice expense data. The Society of Nuclear Medicine commended us for committing to this extensive project. The American Urological Association also appreciated this effort and acknowledged it as a huge undertaking.

Response: We appreciate the positive feedback and would like to thank all the staff of the specialty societies who worked with our contractor to obtain the most representative prices for all of the supplies in the CPEP input database.

Comment: A specialty society representing podiatrists agreed with removal of hallux implant and the broach kit from the list of supplies to be included under practice expense as both are separately billable and the broach kit is also reusable. The commenter did not agree with removal of the sterile ankle tourniquet since this is packaged as a single use item. The comment included pricing information at $42.87 each (with documentation) for this supply.

Response: We will delete the hallux implant and the broach kit from the CPEP supply data. We will retain the ankle tourniquet using the pricing information supplied by the society.

Comment: Several commenters expressed concern about the reduction in nonfacility practice expense for the interstitial laser coagulation of the prostate procedure, CPT code 52647. A manufacturer of endo-surgery equipment stated that the main reason for this decrease was the decrease in the price assigned to the laser fiber used in this procedure. We had proposed a price of $290 for this item, but the commenter submitted documentation that indicated that the laser fiber should be priced at $850 for CPT code 52647. In addition, the commenter noted that we had proposed in Table 1 to delete the laser fiber because it was reusable; however, this was incorrect as the laser fiber used in this procedure could not be reused and should not be deleted from our supply list.

Response: When the laser fiber was repriced, we believed the item included in the supply list for CPT code 52647 was the same as a “laser tip,” which was priced at $290. We thank the commenters for clarifying the issue. We agree that the laser fiber used in this procedure is a disposable supply that we will retain in our CPEP supply data at the $850 price documented by the commenter.

Comment: Commenters representing cardiac arrhythmia specialists and a remote cardiac monitoring system recommend that we not delete the transtelephonic monitor as a supply even though we are correct that the patient and physician re-use this supply during the course of the pacemaker's life. The specialty society commenter requested that the expense of this supply, which costs $190, should be spread out over approximately 5 years.

Response: The transtelephonic monitor as described would be considered a piece of equipment, rather than a reusable supply. However, unless the equipment costs over $500, we consider it as an indirect cost and it is not included as a direct input. Therefore, we will delete the item from our list of direct practice expense inputs as proposed.

Comment: A specialty society representing chest physicians agreed that the oximetry sensory probe, CPAP nasal pillow and flow sensor are reusable and should be deleted from the list of CPEP supply inputs. The society also agreed that albuterol is separately billable and should also be deleted. Another commenter, representing sleep medicine, agreed that the nasal pillow should be deleted. However, the commenter representing chest physicians and a commenter representing thoracic physicians disagreed with the proposal to delete methacholine chloride because there is no “J” code to use when billing, thus forcing physicians to used an unlisted service code. The commenters also contended that the aerochamber should not be deleted because, although reusable, it has a life of only about six months and should be costed out accordingly. In addition, the commenters disagreed that the inhaler is separately billable because a multi-use canister is utilized for this test; therefore, the amount used from the canister for each test should be included in the practice expense.

Response: We will delete the oximetry sensory probe, CPAP nasal pillow and flow sensor and albuterol from the list of CPEP supply inputs. We will also delete the aerochamber, because an item that is reusable over a six-month period cannot be classified as a disposable supply. The commenter is correct that there is not a HCPCS “J” code for methacholine chloride. Therefore, we will keep this in the supply database as requested so that physicians can avoid the burden of submitting paper claims. We also will keep the inhalant in the database using the quantity of 1 gram per procedure at $0.788.

Comment: Specialty societies representing radiologists and interventional radiologists disagreed with the classification of the Arrow mechanical thrombectomy device as reusable. The commenter contended that this device is single-use because the difficulty in cleaning the intra-luminary surface areas could lead to a risk of contamination if the device is reused. Moreover, reprocessing the thrombectomy device may result in fatigue-related failure.

The societies also disagreed with our contention that a Seldinger needle is reusable; rather a Seldinger needle is single-use and should not be removed as a supply item. It is the commenter's understanding that hospitals are not in the practice of resterilizing Seldinger needles.

While generally favoring reorganization of CMS' supply listing for ease of use and not directly opposed to supply categories, one of the commenters was concerned over the potential loss of granularity of cost data associated with the use of supply categories and would oppose the averaging of costs for the supply categories unless it is appropriate to average from a cost and clinical standpoint. A similar comment was sent by the radiology specialty society.

Response: We will retain the thrombectomy device and the Seldinger needle as disposable supplies in our CPEP input database. With regard to the classification of supplies, the commenter misunderstands the purpose of assigning a classification to each supply. This will not be used for pricing purposes in any way. Rather, the classifications can be useful as a way to sort the long list of supplies in the database to make it easier to find a particular item.

Comment: The contractor responsible for helping us with the repricing of supplies informed us that a supply assigned to the endometrial ablation procedure, CPT code 58353, was listed as a catheter tray when it should be described as a thermal ablation balloon catheter at a price of $727. In addition, our contractor supplied us with prices for several new supply and equipment items mainly for otolaryngology, that were not priced in the proposed rule but were included in the PEAC recommendations.

Response: We will make the appropriate changes in the CPEP supply and equipment databases.

Comment: Commenters representing pediatricians, pulmonary physicians and family physicians pointed out that the new price we had assigned to the safety syringe and needle did not cover the actual cost of purchasing the entire needle stick device that is required by the Occupational Safety and Health Administration.

Response: Our repricing contractor researched this issue for us and agreed that the price we were proposing was too low for the appropriate item. Based on documentation for a 10 ml Syringe with SafetyGlide Needle, the safety syringe and needle will be priced at $.435 each, instead of the $.28 that was proposed.

Comment: A surgical society commenter pointed out that we listed an achalasia balloon in Table 1 in the proposed rule and indicated that it was a supply used with CPT codes 45905 and 45910. The commenter stated that both of these codes were refined in January and that they were not priced in the office setting; therefore the balloon should no longer be listed as a supply used with these services.

Response: Our CPEP database currently has these codes priced only in the facility setting. However, these services had previously been priced in the office and Table 1 was apparently developed before the last of the PEAC recommendations were entered. The achalasia balloon no longer appears on the CPEP supply database.

Comment: We received comments from the American College of Physicians and another medical society representing allergy and immunology with concerns about reductions in reimbursement for the five venom immunology CPT Codes (95145-95149). The commenters believe the reductions are due, in part, to the use of incorrect supply costs for venom extracts that we priced at $5.18 per ml. The commenters provided documentation of current prices of five different venoms from two of the largest manufacturers of venom extracts. They proposed a price-averaging methodology utilizing the small and large quantities of venoms that are available from the two suppliers. A price of $12.22 per milliliter of venom antigen results from using this methodology, and the commenters suggest that this price be used in valuing four of the five CPT Codes for venom immunology, with the exception of CPT Code 95147. When a patient requires three stinging insect venoms, as for CPT 95147, the commenters believe the 3-Vespid mix is typically used. Again, the commenters suggested the same price-averaging method noted above using cost information from the two vendors, which results in a price of $23.49 per ml. This 3-vespid mix price could also be used to value CPT Codes 95148 (four venoms) and 96149 (five venoms) with the single venom, priced at $12.22, added once to CPT code 97148 and twice to CPT Code 97149.

Response: We were pleased to receive the comments, as well as the requested documentation, on the price for various venom extracts, because the venom pricing information was not included in the PEAC recommendations forwarded after the September 2002 meeting for these CPT Codes. This lack of data necessitated the use of a generic stinging insect venom price of $5.18 per ml. We accept the pricing information supplied by these specialty societies, although we do not agree with their proposed averaging of prices from both the small (5ml and 6ml) and larger (10ml and 12ml) quantities of venoms. We believe it is more appropriate to average the venom prices using the larger (10ml and 12ml) quantities because of the volume that is used in an accepted venom immunotherapy program, which consists of a build up period of about four months followed by monthly maintenance therapy. The following prices result from this approach: $10.70 per ml of venom and $21.26 for the 3-Vespid Mix. Venom pricing for the five CPT codes would be as follows: CPT Code 95145 (one venom) at $10.70, CPT Code 95146 (two venoms) at $21.40, 95147 (three venoms using 3-vespid mix), would be $21.26; CPT Code 97148 (four venoms), $21.26 + $10.70 = $31.96; and the venom antigen price for CPT Code 97149 (five venoms) would be $42.66 ($21.26 + $10.70 + $10.70).

Comment: JCAAI also supplied pricing information for the multi-tine device that was requested in Table 1 of our proposed rule. As was suggested above, the commenters again proposed we average costs for high and low volume purchases, excluding bulk pricing, to obtain the price for each test.

Response: We appreciate the pricing information forwarded by JCAAI and selected a purchase quantity that is in the middle of the suggested range. For percutaneous allergy testing, CPT code 95004. This purchase quantity represents testing 200 typical patients, each receiving 40 tests. We have added this Multi-tine per test price, $0.233,to the CPEP database for CPT codes 95004 and 95010.

Comment: The American Speech-Language-Hearing Association (ASHA) provided pricing information for the following items accompanied by the requested documentation: Aphasia assessment treatment forms—$2.84 (for a diagnostic aphasia examination form and aphasia diagnostic profile), communication books/treatment notebook—$1.50 and eartip insert—$0.65 each or $0.39 each (two sources). The American Academy of Otolaryngology—Head and Neck Surgery (AAO-HNS) submitted a price for the eartip insert of $0.23 each and suggested that the communication books/treatment notebook be deleted. The (AAO-HNS)also submitted a price for cottonoids at $0.875 each and for the phenol applicator kit at $15.95 each.

Response: We will use the submitted price for the aphasia forms and will price the eartip insert at $0.423, which is the average of the three prices submitted. The notebook, which is assigned to the speech-language therapy code, would be used over a course of treatment, and is not a disposable supply that is used or priced for a single service. Therefore, we will delete this item from our CPEP supply data. For the phenol applicator kit, we will use the price of $15.152 per kit that represents an average price for a 6-kit and a 24-kit quantity purchase. Because these kits contain the phenol that is used in the procedures, phenol has been deleted as a separate supply from the 11 CPT codes that are assigned the kit. AAO-HNS used a 10-pack quantity to assign a price to each cottonoid, but we are using a 200-pack quantity that reflects the high usage of this item. Therefore, we are using $0.773 as the price for each cottonoid.

Comment: Specialty societies representing radiation oncology and radiology disagreed that the fiducial screws used with the intensity modulated radiation therapy procedure should be deleted from the CPEP input supply list. The society argued that the screws are typically used for this procedure and that they are not separately billable.

Response: We will retain the fiducial screws in the list of supplies assigned to the intensity modulated radiation therapy procedure.

Comment: The American Society of Colon and Rectal Surgeons offered description changes for two services, CPT codes 46917 and 46924. The society recommended that the descriptor for the laser tip for both codes be changed to “laser tip, bare (single use)” at $150. The commenter also requested that an ablation laser generator at $59,890 be added to both codes and the existing laser, diode laser, and laser generator be deleted.

Response: A note from our contractor who is working on our repricing effort verified the above changes and we have revised our supply and equipment databases to reflect them.

Comment: The American Association of Orthopaedic Surgeons agreed with the proposed supply deletions listed in Table 1 of the proposed rule that are used in orthopaedic surgery. In addition, the association agreed with the concept of standardization of unit descriptions. However, the comment contends that the term “unit of use (uou)” is unclear and that we should consider alternative terms and abbreviations that would be more intuitive.

Response: The supply items in Table 1 that were listed for orthopaedic surgery are broach kit, hallux implant, sterile hand table drape, sterile cuff tourniquet, cephalosporin and sterile ankle tourniquet. As stated above, we will be deleting the broach kit and hallux implant and will also delete the hand table drape, cuff tourniquet and cephalosporin. As also noted above, we will retain the sterile ankle tourniquet in the supply database because the comment from the podiatry society argued that this item was not typically reused.

With regard to the comment on the use of “unit of use,” we selected the “unit of use” (uou) term to indicate any item that is packaged for single use, even if the item is not completely used up. This most often occurs with items that are packaged sterile. For example, “bacitracin (0.9gm uou)” refers to one 0.9gm foil package. The quantity entered would be 1 and not a smaller amount such as 0.3. Once this foil package is broken, it is considered “used up” and therefore the unit of use is 0.9gm. Specifically, any item with a “unit of use” designation is meant to be indicated in whole number “unit of use” quantities, not partials (e.g., entered as 1, 2, 3, etc, and not 0.5, 1.5, etc.).

Comment: A commenter representing sleep medicine stated that our proposed price of $25 is significantly below prices for standard CPAP masks used in the polysomnography service, CPT code 95811. The commenter submitted prices from two manufacturers that average to $88.

Response: It appears that the commenter has submitted prices for a reusable CPAP mask that would not be included in our CPEP data as a disposable supply. Therefore, we will price the disposable mask at $25.135, as proposed.

Comment: We received a comment from the American Physical Therapy Association (APTA) that contended there is a rank order anomaly caused by the increased price for the electrode used for CPT code 97033, iontophoresis. APTA noted that the price of a “pair” of electrodes was $16 in 2001 but has increased to $23.98 under our current supply repricing initiative. APTA has asked that we review the proposed cost of this item as a means to moderate the rank order anomaly.

Response: We appreciate the comments offered by APTA and have reviewed the cost of the supplies assigned to the iontophoresis service. We determined that the electrodes for this service are packaged and priced as “kits” that contain the complete set of electrodes needed to provide one iontophoresis treatment. Therefore, only one electrode “kit” is needed for this code, as opposed to the two electrode “pairs” currently in our supply database. Consequently, we have changed the supply list for iontophoresis in our database to reflect that there is one kit, not two electrodes, at the proposed price of $11.99. We believe that this should correct the rank order anomaly.

The following table, “Table 1 Items Needing Specialty Input,” lists those items on which we had requested specialty input, comments we received and the actions we are taking.

Table 1.—Items Needing Specialty Input
2003 PE supply description | 2003 PE unit | 2003 PE price | Primary specialties | Prior status of supply item | Commenter response | CMS action taken
Acetylcholine 10% | 1 gram | $0.40 | Nurse practitioner, neurology | See Note C. Need patient-use item, not R&D item | None | See Note D.
Aerochamber | 1 item |  | Cardiology, internal medicine | Item may be deleted. May not be typical and may be separately billable | Agree—reusable. Requests item be retained | Disagree—Deleted.
Albuterol | 1 ampule |  | Family practice, internal medicine | See Note B | Agree—separately billable | Deleted
Anthralin ointment | 1 g | 2.75 | Dermatology | See Note C | None | See Note D.
Aphasia assessment—forms average | 1 item | 0.95 | Psychiatry, neurology | See Note C | Pricing information submitted at $2.84 | Retained at submitted price.
Balloon, achalasia | 1 item | 255.00 | General surgery, colon and rectal surgery | See Note C. (Codes utilizing this item being reviewed by CPT) | NA in non-facility | Deleted.
Blood dress package | 1 item |  | Neurosurgery | Item may be deleted. Gowning items listed separately | None | Deleted.
Broach kit | 1 item |  | Podiatry, orthopaedic surgery | See Note A | Agree—separately billable and reusable | Deleted.
Cable for EMG needle electrode | 1 item | 1.20 | Neurology, PM&R | See Note A | None | Deleted.
Centimeter ruler | 1 each | 2.39 | Radiation oncology, dermatology | See Note A | None | Deleted.
Cephalosporin | 1 gm |  | Podiatry, orthopedic surgery | See Note B | Agree—separately billable | Deleted
Chordae Villae sampling kit | 1 item |  | Obstetrics, gynecology | Item may be deleted. Duplicated item with catheter-stylet kit | None | Deleted.
Collagen kit | 1 each | 1383.00 | Urology | Need kit contents. Collagen sold as individual syringe. No commercial kit available | NA in non-facility | Deleted.
Communication book/Treatment notebooks | 1 each |  | Otolaryngology, audiology | See Note C | Audiology priced at $1.50 or $3.50. ENT proposed to delete | Deleted—reusable.
Cottonoids | 1 item |  | Otolaryngology | See Note C | Submitted price of $0.875 | Retained at $0.73.
CPAP nasal pillow | 1 each |  | Pulmonary medicine | Item may be deleted. Disposable CPAP face mask also included in code 95811. Nasal pillows used with reusable mask | Agree—not typical | Deleted.
Cysto-catheter kit | 1 item | 9.04 | Urology, general practice | Need kit contents and source/pricing information | None | Deleted.
Detection kit | 1 slide | 8.50 | Pathology, neurology | See Note C | None | See Note D.
Developmental testing—forms average | 1 item | 2.64 | Clinical psychologist, multiple other specialties | See Note C. (Original item price estimated by CPEP member.) | Submitted price of $0.40 for 96110 and $2.44 for 96111 | Retained at submitted prices.
Eartip insert with sound tube | 1 item |  | Otolaryngology, audiology | See Note C | Pricing information submitted by two specialties | Retained at $0.423.
EEG electrode, gold DIN | 1 item | 0.07 | Neurology | See Note A | None | See Note E.
Electrode, ring | 1 item | 475.00 | Obstetrics, gynecology, urology | See Note A | None | Deleted.
Electrodes, pickup, black tin, 9mm | 1 item | 0.42 | Podiatry, neurology | See Note A | None | See Note E.
Electrodes, pickup, red tin, 9mm | 1 item | 0.42 | Podiatry, neurology | See Note A | None | See Note E.
Fiducial screws, set of 4 | 1 set | 558.00 | Radiation oncology | Item may be deleted. May not be typical and may be separately billable. (Screws used for IMRT head fixation device, but typical patient vignette is prostate cancer.) | Disagree—not separately billable. Specialty requests item be retained | Agree—Retained.
Film, fluoroscopic | 1 sheet | 3.51 | Diagnostic radiology, anesthesia | See Note C | None | See Note D.
Flow sensors | 1 item | 1.51 | Pulmonary medicine, internal medicine | See Note A | Agree—reusable | Deleted.
Gold-palladium target | 1 item | 0.59 | Pathology | See Note A | None | Deleted.
Hallux implant | 1 item |  | Podiatry, orthopaedic surgery | See Note B | Agree—separately billable | Deleted.
Headcover for MRI | 1 item | 0.05 | Diagnostic radiology | See Note C | None | See Note D.
Inhalant | 1 ml | 0.75 | Cardiology, internal medicine | Item may be deleted (May not be “typical” for service.) | Use is typical | Retained at $0.788.
Laryngeal mirror | 1 item |  | Diagnostic radiology, otolaryngology | See Note A | None | Deleted.
Laser fiber | 1 item | 595.00 | Urology | See Note A | Disagree—not reusable. Submitted price of $850 | Agree—retained at submitted price.
Laser fiber cleaving tool | 1 item | 200.00 | Urology | See Note A | None | Deleted.
Methylcholine chloride | 1 dose | 48.50 | Pulmonary medicine, internal medicine | See Note B | Disagree—not separately billable. Requests item be retained | Agree—Retained at $39.95.
Mounting tray | 1 each | 40.00 | Radiation oncology, diagnostic radiology | See Note A | None | Deleted.
Multi-tine device | 1 item |  | Allergy/immunology | See Note C | Submitted pricing information | Retained at $0.23.
Needle, 4 inch | 1 item |  | Obstetrics, gynecology | See Note C | None | Deleted.
Needle, 4-6 inch | 1 item |  | Obstetrics, gynecology | See Note C | None | Deleted.
Needle, seldinger | 1 item | 72.90 | Diagnostic radiology, multiple other specialties | See Note A | Disagree—not reusable | Agree—Retained.
Neurobehavioral status—forms average | 1 item | 5.77 | Clinical psychologist, multiple other specialites | See Note C. (Original item price estimated by CPEP member.) | None | See Note D.
Oximetry sensor probe | 1 item | 15.00 | Multiple specialties | See Note A | Agree—resuable | Deleted.
Penile clamp | 1 item | 40.70 | Urology | See Note A | None | Deleted.
Phenol applicator kit | 1 unit |  | Otolaryngology | See Note C | Pricing information submitted | Retained at $15.152.
Primary antibodies | 1 slide | 3.52 | Pathology, neurology | See Note C | None | See Note D.
Psych testing—forms average | 1 item | 2.30 | Clinical psychologist | See Note C | None | See Note D.
Receive coil |  |  | Diagnostic radiology | See Note A | None | Deleted.
Ruler | 1 each | 2.67 | Radiation oncology, diagnostic radiology | See Note A | None | Deleted.
Scissors and clamp, disposable | 1 each | 0.62 | Radiation oncology, diagnostic radiology | Need clamp description and source/pricing | None | See Note D.
Sealant spray |  |  | Radiation oncology, diagnostic | See Note C | None | See Note D.
Silverman needle | 1 item | 66.35 | Urology | See Note A | None | Deleted.
Skin prep, one step | 1 item | 26.00 | Cardiology | Need inches used per procedure (196in per roll) | None | See Note D.
Smoke evacuation cartridge | 1 item | 146.50 | Obstetrics, gynecology | See Note A | None | Deleted.
Sterile, hand table drape (24x43) |  |  | Orthopaedic surgery, hand surgery | Item Deleted. Integral part of hand/upper extremity drape supply item | Agree | Deleted.
Sterilizing tray | 1 each | 64.00 | Radiation oncology, diagnostic radiology | See Note A | None | Deleted.
Steroid | 1 cc | 1.29 | Urology | See Note B | None | Deleted.
Sweat cells, 4 in a set | 1 set | 260.00 | Neurology | See Note A | None | Deleted.
Thrombectomy device | 1 item | 600.00 | Diagnostic radiology | Additional information required. Device is reusable. Need to identify specific PTD single-use accessories (e.g. sheath rotator drive basket) | Disagree—device is not reusable | Agree—Retained.
Tourniquet, ankle, sterile | 1 item |  | Podiatry, orthopaedic surgery | See Note A | Disagree—packaged for single use. Price submitted at $42.87 | Agree—retained at submitted price.
Tourniquet, cuff sterile |  |  | Orthopaedic surgery, hand surgery | See Note A | Agree | Deleted.
Traction straps | 1 item | 60.00 | Radiation oncology, diagnostic radiology | See Note A | None | Deleted.
Transtelephonic monitor |  | 10.56 | Cardiology | See Note A | Agree—resuable, but requests item be retained | Disagree—Deleted.
* CPT codes/descriptions only are copyright 2003 American Medical Assn. All Rights Reserved. Applicable FARS/DFARS apply.
Notes:
A. Item deleted. Reusable
B. Item deleted. Separately Billable
C. Additional information required.
D. Issue is pending. Still under review.
E. Issue is pending. Reuse discussion needed.

h. Miscellaneous Practice Expense Issues

Hyperbaric Oxygen Services

We proposed to assign, on an interim basis, the following practice expense inputs to CPT code 99183, Physician attendance and supervision of hyperbaric oxygen therapy, per session, when performed in the office setting:

Staff: Respiratory Therapist for 135 minutes (for a 2 hour treatment); Supplies: Minimum Visit Supply Package, 180 liters of oxygen, 187 cubic feet of air; Equipment: Hyperbaric chamber.

Comment: A freestanding hyperbaric oxygen center expressed appreciation that we priced this procedure in the non-facility setting. The commenter also requested that we add certain staff time and some supplies to the practice expense inputs assigned to this service.

The additional supplies requested include disinfectant for cleaning the hyperbaric chamber after each patient, two otoscope covers to check patients' ears pre and post treatment, and a denture cup and urinal. An additional 24 minutes of clinical staff time (using the standard staff blend) was also requested for preparing the room, greeting and gowning the patient, patient education, taking vital signs before and after treatment, positioning the patient and cleaning the room.

Response: We believe that the request for the above additional practice expense inputs is reasonable. Currently, we have assigned clinical staff time only for assisting during the procedure itself; additional time was calculated using the times used by the PEAC for the tasks listed. Therefore, we are adding these inputs to those already assigned to the hyperbaric oxygen service. We have also requesting that the PEAC review these inputs at a future meeting and the RUC has stated that the PEAC will be reviewing this CPT code at the January or March 2004 meeting.

Comment: A commenter from another freestanding hyperbaric center expressed concern that the proposed physician fee schedule payment for CPT 99183 is approximately 25 percent of the payment in the hospital setting. The commenter lists additional costs that should be considered such as special cleaners and solvents for cleaning the chamber, the costs of adherence to quality standards and costs for laundering patients' clothing, sheets and blankets. The commenter also stated that the hyperbaric chamber costs more than the $125,000 we have assigned the item.

Response: As mentioned above, we have added disinfectant solution for cleaning the chamber. We will be proposing the repricing of all equipment in our CPEP database next year, which should ensure that the price for the hyperbaric chamber reflects the typical cost. The cost of laundering and much of the quality assurance costs are considered indirect and are not reflected in our direct cost database. However, if the PEAC does refine this code as planned, we will review any recommendation submitted.

Maxillofacial Prosthetics PE/hour

We proposed to eliminate the special practice expense pool for maxillofacial prosthetic services and to use otolaryngology as the crosswalk for oral surgeons and maxillofacial surgeons as a more appropriate approximation of the specialties' practice expense per hour.

Comment: The American Association of Oral and Maxillofacial Surgeons expressed appreciation for our work on this issue over the past three years and heartily concurred with the decision to crosswalk maxillofacial prosthetics to otolaryngology. The American Academy of Otolaryngology-Head and Neck Surgery also supported our proposed crosswalk.

Response: We will implement the crosswalk of maxillofacial prosthetics to otolaryngology as proposed.

Holter Monitoring Codes

We proposed revising the practice expense inputs for holter monitoring codes to remove items that were not needed to perform the services. Specifically, we proposed deleting the ECG electrodes and laser paper, as well as the electric bed, computer and holter monitor from CPT codes 93225 and 93231 and deleting the razor, nonsterile gloves, alcohol swab and tape, as well as the electric bed and exam table from CPT codes 93226 and 93232.

Comment: A commenter representing an independent diagnostic testing facility and another representing cardiologists expressed support for the proposed revisions to the holter monitor codes.

We also received a comment from the RUC stating that the direct practice expense inputs for these above holter monitoring services will be reviewed by the PEAC at the January 2004 meeting.

Response: We will make the proposed changes to the holter monitoring codes on an interim basis and will be glad to review the recommendations from the PEAC when we receive them next year.

Other Practice Expense Issues

Comment: We have received requests from several commenters that we value certain procedures currently priced only in the facility setting in the non-facility setting as well. A manufacturer commented that there is a need to price the hysteroscopic endometrial ablation procedure, CPT code 58563, in the office to ensure Medicare patient access to this alternative to hysterectomy in the least intrusive and least costly setting. Several individual gynecologists have expressed concern about the absence of a nonfacility rate for this service because the facility payment does not cover the costs of performing this procedure in the office.

A manufacturer of endoscopic and surgical supplies and equipment expressed concern that several urology services which had previously been priced in the non-facility setting, are no longer priced in that setting. The commenter contended that the procedures can be performed safely in the office and that patients will be forced to go to a hospital or ambulatory surgical center for these procedures if the office payment does not reflect the direct costs incurred by the physician. The services in question are three cystourethroscopy procedures, CPT codes 52224, 52275, 52276, and two destruction of penile lesion procedures, CPT codes 54057 and 54065.

A consultant representing non-hospital based providers of LDL apheresis, CPT code 36516, requested that we price this procedure in the nonfacility setting and provided some cost data for this code. The commenter stated that this procedure is commonly provided outside of hospitals. A medical technology company requested that we price the percutaneous implantation of neurostimulator electrodes procedure, CPT code 64561, in the nonfacility setting. This service had previously been priced in the office.

Response: We are aware that technological advances make it now possible for more procedures to be safely performed in a physician's office. However, CPT code 58563 has recently been reviewed by the PEAC, and neither the gynecology specialty society nor the PEAC recommended pricing this code in the office setting. Likewise, the urology procedures and the neurostimulator service were reviewed this year by the PEAC and the apheresis services last year by the RUC, and the PEAC and the RUC recommended that these services not be priced in the office setting based on the presentation made by the specialty societies. We would not rule out working further with the commenters on these requests, but we believe that it would not be appropriate to take such an action in this final rule. We will be willing to discuss this issue further to determine whether any action should be proposed in the future.

Comment: The RUC comment identified the following anomalies in the CPEP database for the clinical staff time for a few codes with 000 day global periods:

B. (1) Percutaneous Abscess Drainage Codes

In 1997, CPT created new codes to differentiate between open and percutaneous abscess drainage. Unlike their open procedure counterparts, all of the percutaneous codes were assigned a global period of 000 days with no follow-up visits assigned. However, CMS crosswalked the direct inputs from the open codes, which have a different global period, to the percutaneous codes, including the time assigned for post-procedure office visits. The percutaneous abscess drainage codes identified are CPT codes 32201, 44901, 47011, 48511, 49021, 49041, 49061, 50021, 58823. The comment stated that each of these codes is currently priced in the facility setting only. Because these procedures are predominately performed in the inpatient setting, the comment further recommended that we assign zero direct practice expense inputs for these codes.

(2) Closure of Eyelid by Suture

The commenter also pointed out that CPT code 67875, Closure of eyelid by suture, has an assigned global period of 000 and includes no post-procedure visits in the work relative value. However, the original CPEP process appears to have assigned the code clinical staff time, supplies, and equipment related to a follow up visit.

Response: We agree with the RUC that these 0-day global codes should not have any direct costs assigned for post-procedure follow up visits. Therefore, we are deleting from the database all the inputs related to such visits.

Comment: Several commenters have expressed concern with the unexplained reduction in nonfacility practice expense RVUs for HCPCS code G0166, External counterpulsation.

Response: We have examined the practice expense data files and have discovered an error in the database. This has now been corrected.

Comment: A specialty society representing dermatology commented that the practice expense RVUS for laser treatment of psoriasis procedures, CPT codes 96920-96922, appear overvalued.

Response: The practice expense has increased for these codes because we did not have a price for the laser tip used in these procedures until this year. The laser tip is now priced at $240. We have made adjustments to ensure the practice expense RVUs reflect the correct pricing of supplies as well as the specialty performing the service.

Comment: One specialty society that represents gastroenterologists commented that we cut the payment rate for the colonoscopy procedure, CPT 45385, by 10 percent in the nonfacility setting without explanation or justification.

Response: The decrease in payment for this code is due to the decreased practice expense inputs now assigned to the service. The PEAC submitted recommendations for the direct practice expense inputs for this service that were based on a presentation made by two other gastroenterological specialty societies, and we have accepted these recommendations because we believe them to be reasonable. The code was included on Addendum C, “Codes for Which We Received PEAC Recommendation on Practice Expense Direct Cost Inputs,” in the proposed rule.

Comment: Several commenters representing pediatricians, family physicians and chest physicians stated their concern with the proposed decrease in the practice expense RVUs for immunization services, CPT codes 90471 and 90472, which were removed from the non-physician work pool and priced under the top-down methodology starting in 2003.

Response: We will return the two immunization services to the nonphysician work pool. As discussed above, we are increasing the price assigned to the needle stick prevention device that is in the supply list for the immunization codes. However, the practice expense RVUs for these codes would still be less than the current values. As discussed above, the price for the needle stick prevention device is still fluctuating as new manufacturers enter the market. In addition, it is still not clear exactly which device is optimal for the protection of medical staff. Therefore, until these issues are settled, we will price these immunization services in the nonphysician work pool. This will prevent any sharp decrease in payment for these codes, as well as for payments for the HCPCS G-codes for administration of influenza, hepatitis and pneumococcal vaccines, which are crosswalked to the payment for CPT code 90471.

Comment: We received a comment from Venable, a diathermy manufacturer, who voiced concerns about previous decreases in both the work and the practice expense RVUs for the diathermy procedure, CPT code 97024. According to the commenter, the PEAC recommendations we accepted for 2002 included a substantial reduction in clinical labor time, the elimination of supplies, and the undervaluing of the diathermy equipment, including the assignment of inadequate time for equipment use. Citing our current CPEP price of $3,120 as too low, the commenter noted the cost of the diathermy machines they manufacture range from $19,000 to $30,000 and noted the actual time of a typical treatment is 20 minutes, and not 15, as currently listed. A previous comment from the electrophysiology specialty section of the American Physical Therapy Association (APTA) stated that the average cost of diathermy ranges between $10,000 and $15,000.

Response: We believe the practice expense recommendation we accepted from the PEAC in 2001 for the clinical labor and supplies is appropriate. We would note here that the resultant PEAC recommendation for clinical labor was just one minute less than that proposed by the American Physical Therapy Association at the 2001 PEAC meeting. We continue to support the PEAC's decision to eliminate the supplies for some of the modality procedures, including diathermy, since these services are typically performed with other therapy procedures where the supply costs are captured. However, we agree with the commenter that the current pricing of the diathermy equipment in our CPEP database appears too low, and we will price the diathermy, on an interim basis, at $10,000 for the 2004 fee schedule. In addition, we will assign the requested 20 minutes as the typical time the diathermy equipment is in use for each service. We are planning to propose a repricing of all of the equipment included in our database next year and will revisit the pricing of the diathermy equipment at that time.

In response to the commenter's work RVU concern, next year's final rule will solicit recommendations of codes to be considered for review under the five-year review of work that is to occur in 2005.

Comment: A commenter representing prosthetic urology focused on reductions in payment for several 90-day global prosthetic urology procedures. The commenter contended that these procedures were affected by the adoption of the standard clinical staff times for 90-day global procedures that did not reflect the extra staff time required for patient training during post-procedure visits. In addition, almost half of the prosthetic urology services were established in 2002 and this appeared to have a negative effect on these codes. The commenter strongly recommended that the standard clinical staff times not be applied to the prosthetic urology codes and that we reinstate the “benchmark” clinical staff times.

Response: The commenter is correct that the major cause of the decrease in practice expense RVUs for these services is the use of the standard clinical staff time for 90-day global services. We do not have “benchmark” clinical staff times to reinstate for any of these services. Rather, the current staff times are from the original CPEP panel estimates that have not been reviewed by any multi-specialty panel, such as the PEAC. We accepted the PEAC recommendation to apply the standard clinical staff time to all 90-day global services that had not been reviewed by the PEAC as having exceptions to the standard times. All specialties, including urology, had ample opportunity to present any codes for which they believed the standards did not apply; these urology codes were not brought to the PEAC for review. We do not believe we have a sufficient factual basis for changing the clinical staff times for these services in this final rule. However, we would consider any recommendations for revising the pre- and post-service clinical staff times in the future. As to the effect of using the most recent utilization data in calculating the practice expense RVUs for the new prosthetic urology services, please see the discussion on “Utilization Data” earlier in this section.

Comment: A specialty society representing emergency medicine, an emergency medicine practice management association and an emergency medicine physician practice management organization all commented that the adjustment made in the November 2, 1998 final rule (63 FR 58821) to use the “all physician” practice expense per hour to calculate two indirect cost pools does not make up for the uncompensated care costs of emergency medicine physicians. The practice management association questioned our previous claim that this adjustment was made as a proxy for uncompensated care and asserted it was rather a generic measure to address the low practice expense per hour for emergency medicine. The specialty society commented that it would be difficult to design a supplementary survey to capture the needed data on the levels of uncompensated care.

Response: It is amply clear from reading our entire response in the November 2, 1998 final rule that we considered the adjustment to the indirect costs to serve as a proxy for the uncompensated care experienced by emergency medicine physicians. We believe that, if this adjustment is seen by the specialty as insufficient, the best recourse is for the specialty to undertake a supplementary practice expense survey. By working with our contractor, the Lewin Group, the specialty society should be able to modify the survey in such a way that more accurate data on uncompensated care could be obtained. The data from such a survey could then take the place of the current adjustment to the practice expense per hour for emergency medicine because a proxy for uncompensated care would no longer be needed.

Comment: We received comments from a provider of extracorporeal photopheresis therapy, CPT code 36522, requesting a refinement of the practice expenses of this service in the office setting. Believing this service to be undervalued, the commenter supplied a comprehensive listing of the direct inputs, for the labor, equipment and supplies deemed necessary for the provision of this in-office service. Of particular note among the various suggested supply items was the inclusion of a photopheresis procedural kit.

Response: We want to thank the photopheresis provider for the practice expense suggestions. At this time, we do not have sufficient information regarding the typical resources needed to proceed with a comprehensive refinement of the practice expenses for the in-office provision of photopheresis. However, in reviewing the commenter's various practice expense proposals, we were struck by the obvious absence of the photopheresis procedural kit in our supply database. Consequently, this kit has been added to our CPEP database on an interim basis. We note that there are general similarities between the commenter's proposed inputs for clinical labor and equipment and our current data. We would anticipate a future discussion regarding this service in order to fully refine the practice expense direct cost inputs for photopheresis.

B. Geographic Practice Cost Index Changes

1. Background

The Act requires that payments vary among Medicare physician fee schedule (MPFS) areas according to the extent that resource costs vary, as measured by the Geographic Practice Cost Indices (GPCIs). Section 1848(e)(1)(C) of the Act requires us to review, and, if necessary, adjust the GPCIs at least every 3 years. This section of the Act also requires us to phase in the adjustment and implement only ½ of any adjustment if more than 1 year has elapsed since the last GPCI revision. The GPCIs were first implemented in 1992. The first review and revision was implemented in 1995, the second review was implemented in 1998, and the third review was implemented in 2001. As explained in the August 15, 2003 proposed rule, the fourth GPCI review and revision was scheduled for implementation in 2004. However, because the work and practice expense GPCIs rely primarily on special tabulations of U.S. Census data not yet available, review and revision of only the malpractice GPCI component would occur for implementation in January 2004.

2. Malpractice GPCI Proposal

The malpractice GPCI is the most volatile of the three indices with relatively large variations existing between geographic payment localities. We proposed using actual 1999 through 2002 malpractice premium data and forecasting the malpractice premium rates for 2003. We were unable to include proposed malpractice GPCIs based upon this revised malpractice premium data in the August 15, 2003 proposed rule because we were still in the process of collecting the data. We stated that the revised malpractice GPCIs published in this year's final physician fee schedule regulation would be considered interim and subject to public comment.

3. Collection and Review of Malpractice Premium Data

For purposes of the 2004 update to the malpractice GPCIs we collected actual malpractice premium data for years 1999 through 2001. For 2002 we were able to obtain actual malpractice premium data for 32 states plus Puerto Rico. Where actual malpractice premium data were obtained, premiums were collected from the 20 physician specialties with the largest share of total Medicare RVUs for 2002. Premiums were collected from those insurers with the largest market share and those insurers that when summed with other large insurers comprised at least 50 percent of the state market share for claims-made policies with a $1 million individual case limit and $3 million aggregate case limit.

For those 18 states plus the District of Columbia for which we were unable to obtain actual 2002 premium data, we estimated the 2002 premium based upon an examination of growth rates from 1999 to 2001.

Malpractice premium data were not available for 2003. Two statistical approaches were examined to forecast 2003 malpractice premiums, simple extrapolation and projections based upon the average of historical year-to-year changes (mean rate of change). In most instances, the forecast 2003 premiums were similar using either approach. There was a tendency for the linear extrapolation method to yield slightly more extreme values (positive and negative) so the more conservative, mean rate of change approach was chosen.

Comment: Several commenters expressed concern about the continued use of proxy data, especially HUD residential rent data and nonphysician professional wage data, in the GPCI methodology.

Response: This final rule does not update the work or practice expense GPCIs. Any questions related to the use of proxy data in the calculation of the work and practice expense GPCIs will be responded to as part of future rulemaking.

Comment: One commenter stated that there should be no geographic differences under the physician fee schedule. This commenter felt that the data sources utilized for the construction of the locality specific GPCI indices do not accurately reflect legitimate differences in physician practice costs and that the current methodology did not appropriately reflect the variation that might be caused by case mix, availability of health care resources, and individual practice styles.

Response: Section 1848(e)(1)(A) of the Act requires that payments vary among areas as resources costs vary as reflected by the GPCIs. We agree that there will be some variation in case mix and practice styles between different specialties and individual practitioners. The physician fee schedule was established in 1992 to eliminate the large unjustifiable payment differences that existed among services, specialties, and geographic areas by establishing a national uniform payment system that can vary only as area resource costs vary as measured by the GPCIs. The GPCI component weights represent the average physician expense weights across all physician specialties and are intended to reflect the average costs across all services and specialties in a geographic area and not to reflect exactly the costs of each individual practitioner.

Comment: One commenter stated that there should be no geographic payment differentials because these payment differentials operate as a disincentive for practitioners to practice medicine in rural areas.

Response: Section 1848(e)(1)(A) of the Act requires that payments vary among areas as resources costs vary as reflected by the GPCIs. It should be recognized that the current methodology associated with the calculation of GPCIs partially benefits practitioners in rural areas. This is because the law requires that only one-quarter of area cost differences in physician work, the largest of the three fee schedule components, be recognized. Thus, about 40 percent of fee schedule payments are by statute not adjusted for area cost differences. When combined with the index of 1.000 for medical equipment, supplies, and miscellaneous (which represents about 13 percent of total physician resource costs) this means that there is a national fee schedule for about 53 percent of the average physician payment. That is, only about 47 percent of overall physician payments are adjusted for area resource cost differences. In addition, 34 states have a single statewide GPCI wherein all physicians, whether urban or rural, are paid the same. All of these factors shift payments from higher cost, usually urban, areas to lower cost, usually rural, areas.

Comment: One commenter felt that we should not use projected 2003 premium data and instead should actually collect 2003 premium data.

Response: Currently, 2003 premium data is not available. This is why we will utilize projected 2003 premium data in this update. We plan to utilize more current premium data as it becomes available.

Comment: Although several commenters expressed their support for the use of more current malpractice premium data, a few commenters had concerns about the use of 2001 through projected 2003 premium data and felt that we should use only projected 2004 premium data in place of the three year average.

Response: Since the malpractice index has proven to be the most volatile of the indices in past updates, with significant changes from year-to-year, we will not base the malpractice GPCI upon just one year of projected data. In order to protect against aberrant premiums for any given year, we will utilize a three-year average. We will use 2001 through projected 2003 premium data for the three-year average.

The current methodology projects 2003 malpractice premiums based upon actual malpractice premiums for 1999 through 2002. Since we will continue to collect updated malpractice premium data, we do not think it is appropriate to project through 2004 absent actual 2003 malpractice premium data.

Comment: One commenter suggested that due to the volatility associated with malpractice insurance premium data, we should collect premium data and re-scale the Malpractice GPCI annually.

Response: We agree that, because malpractice insurance premiums are volatile, the Malpractice GPCI is also the most volatile of the three indices. We also agree with the commenter's suggestion regarding annual collection of malpractice premium data. We plan to undertake this collection for 2003 premium data in early 2004. If premium data suggest a re-scaling is warranted, we may revise the GPCIs more frequently than every three years.

Comment: Several commenters requested that we make available to the public the malpractice premium data that was utilized in the calculation of the revised malpractice GPCIs.

Response: Since some of the data upon which the GPCIs were constructed is based upon the reporting of individual malpractice insurance companies, there are some confidentiality issues associated with making the malpractice premium data public. We will attempt to make available any information that is appropriate on our Web site at http://www.cms.hhs.gov.

Comment: The American Medical Association's Relative Value Update Committee (RUC) has requested that CMS work with the RUC's Professional Liability Insurance Workgroup to explore the utilization of premium data that might be collected by the RUC.

Response: We agree with the RUC request and look forward to working with the RUC to obtain more current professional liability premium data.

4. Interim 2004 Malpractice GPCIs

Acquiring data on malpractice insurance rates and using that data to adjust Medicare payments for future malpractice insurance prices is a difficult task. Malpractice insurance rates are quite volatile due to a variety of factors. Some of these factors are changes in State insurance laws, business decisions of malpractice insurance carriers, and changes in how medicine is practiced.

The volatility of malpractice premium data was quite evident in the data we collected in conducting our review of malpractice GPCIs. Based on these data and the comments received on the August 15, 2003 proposed rule, we have modified some of our GPCI calculations and assumptions.

We are very concerned about implementing sharp changes in malpractice GPCIs for 2004, which directly impact physician fee schedule payment amounts. At the same time, we recognize the importance of updating malpractice GPCIs to ensure local differences in physician costs are included in payment amounts. To be sensitive to both of these considerations, we decided to apply a modulating factor of .5 to the changes in the malpractice GPCIs. In other words, as part of our review and analysis of the malpractice GPCIs, we reduced the difference between the new and previous malpractice GPCIs by 50 percent.

As directed by the statute, we will implement ½ of this change in the first year (CY 2004) and ½ of this change in the second year (CY 2005). During this two-year phase-in, we will continue to monitor local malpractice markets, work with the State Departments of Insurance, and collaborate with the RUC to obtain the most current and best malpractice premium data available. As better data are obtained, we will review, propose changes, and revise the malpractice GPCIs as appropriate. The transitional 2004 and full 2005 GPCIs can be found at Addendum D and Addendum E, respectively. These malpractice GPCI revisions necessitate a budget neutrality adjustment, as required by law. Therefore, we adjusted the 2004 through 2006 malpractice GPCIs by 1.0021.

5. Payment Localities

In the August 15, 2003 proposed rule we requested comments on the composition of the current 89 Medicare physician payment localities to which the GPCIs are applied.

Comment: We received numerous comments from professional medical associations, beneficiaries, and practitioners requesting that the specific counties in which they practice medicine or receive medical care be removed from their current locality assignment.

Response: We will continue to examine alternatives for reconfiguring the current locality structure. We expect to further consider this issue as part of future rulemaking.

C. Coding Issues

1. Payment Policy for CPT Tracking Codes

The November 1, 2001 final rule (66 FR 55269) included a discussion of CPT Category III codes (also known as CPT tracking codes) and stated that carriers have discretion for coverage and payment of services described by these CPT tracking codes unless we have made a national coverage determination (NCD). We have received requests to create national payment amounts for some CPT tracking codes even if there has been no NCD. Based on these requests, we proposed to change our policy regarding payment for CPT tracking codes and create national payment policy and determine national payment amounts for CPT tracking codes when there is a significant programmatic need for us to do so. This policy change would not change the contractor's discretion over coverage for the CPT tracking codes, but could establish a payment level to be used if the contractor finds that coverage is warranted. In addition, carriers would not be required to establish a payment amount for a tracking code until they receive a claim for the code.

Comment: Several commenters expressed concerns about this proposal. They believe that establishing a national payment rate for these codes risks premature creation of payment levels of reimbursement and creates an expectation for the future value of the code. The commenters also stated that establishment of a national price could also subvert the RUC process because such pricing could influence subsequent RUC valuation or our acceptance of the RUC's recommendations. Other commenters were supportive of the proposal, with some suggesting that we work with the specialty societies and the RUC in determining appropriate payment rates. One commenter suggested that an alternative to the proposal would be to use the existing refinement panel process because these refinement panels are multispecialty and feature the relevant specialty expertise. One commenter also requested we establish RVUs for specific tracking codes in the final rule.

Response: We understand the reservations and concerns of the commenters. As we indicated in the proposed rule, we would determine national payment amounts for CPT tracking codes only when there is a significant programmatic need for us to do so. If there is a need to establish payment amounts for a tracking code, we would appreciate the assistance of the relevant specialty societies and the RUC and such pricing would be subject to public comment. However, in some instances, interim values might need to be established if timing does not permit us to obtain prior input from the medical community.

Final Decision

We will finalize our proposal to create national payment policies and determine national payment amounts for CPT tracking codes when there is a significant programmatic need for us to do so. We note that, as discussed in the August 15, 2003 proposed rule, this policy change would not change the contractor's discretion over coverage for CPT tracking codes, but would establish a payment level if the contractor finds that coverage is warranted.

2. Excision of Benign and Malignant Lesions

The definitions for excision of benign lesions (CPT codes 11400 through 11446 inclusive) and excision of malignant lesions (CPT codes 11600 through 11646 inclusive) were substantively changed for 2003. These codes are now reported based on the excised diameter (actual skin removed) rather than on the size of the lesion. Based on these changes to the code descriptors, we proposed to make the work RVUs the same for removal of all skin lesions with the same excised diameters that are from the same area of the body, whether the lesions are benign or malignant. For example, the work RVUs for the removal of benign skin lesions from the trunk, arms or legs with excised diameter 1.1-2.0 cm, CPT code 11402, would be the same as the work RVUs for CPT code 11602, which is the removal of malignant skin lesions from trunk, arms or legs with excised diameter of 1.1-2.0 cm.

Comment: The specialty society representing dermatology objected to this proposal and contended that the excision of malignant lesions generally goes deeper and is more time-consuming than the excision of benign lesions and that malignant lesion excision also requires greater skill and embodies greater risk. The society stated that this proposal ignores a multi-specialty effort by a CPT Integumentary Workgroup, the CPT Editorial Panel and the RUC to revise the code descriptors and to assign work RVUs to these services. This view was supported by a joint comment from the heads of several surgical specialties. The RUC also urged us to delay finalizing this proposal until the RUC has the opportunity to provide further recommendations related to these services. In addition, the specialty societies representing podiatry, general surgery, colon and rectal surgery, osteopathy, ophthalmology, plastic surgery, otolaryngology as well as the AMA, the Mayo Foundation and individual physicians also urged us to withdraw this proposal. Medical Group Management Association requested the policy rationale for equating the work RVUs for the benign and malignant code pairs. The specialty society representing family physicians agreed with and supported our position that there is no difference in physician work involved in excising a benign or malignant lesion. However, the commenter did not support our proposal to implement such RVU changes unilaterally and stated that we should utilize the CPT and RUC process.

Response and Final Decision: We still believe that the physician work for these services is sufficiently similar not to warrant differences in the work RVUs. However, we will maintain the 2003 work RVUs as interim values for 2004 to allow opportunity for the specialty to resurvey these services. Note: That due to the adjustments to work RVUs to match the MEI weights, the work RVUs in Addendum B may differ from the values in 2003.

3. Create G Codes for Monitoring Heart Rhythms

As explained in the August 15, 2003 proposed rule, technological advances have made cardiac telemetry equipment, typically used in hospitals, available in the home setting. Coverage of this technology is currently at the discretion of the local Medicare contractors because there is no national coverage determination for this service. We proposed to establish new HCPCS codes to specifically describe this service along with proposed RVUs and PE inputs for payment as follows:

GXXX1—Electrocardiographic monitoring for diagnosis of arrhythmias, utilizing a home computerized telemetry station and trans-telephonic transmission, with automatic activation and real time notification of monitoring station, 24-hour attended monitoring, per 30-day period of time; includes recording, monitoring, receipt of transmissions, analysis, and physician review and interpretation. (global)

We proposed 0.52 physician work RVUs and 0.24 malpractice RVUs for this service and proposed crosswalking the practice expense inputs from CPT Code 93268 Patient demand single or multiple event recording with presymptom memory loop, 24-hour attended monitoring, per 30 day period of time; includes transmission physician review and interpretation.

GXXX2—Electrocardiographic monitoring for diagnosis of arrhythmias, utilizing a home computerized telemetry station and trans-telephonic transmission, with automatic activation and real time notification of monitoring station, 24-hour attended monitoring, per 30-day period of time; recording (includes hook-up, recording and disconnection).

We proposed 0.07 malpractice RVUs and crosswalked the practice expense inputs from CPT Code 93270, Patient demand single or multiple event recording with presymptom memory loop, 24-hour attended monitoring, per 30 day period of time; recording (includes hook-up, recording, and disconnection).

GXXX3—Electrocardiographic monitoring for diagnosis of arrhythmias, utilizing a home computerized telemetry station and trans-telephonic transmission, with automatic activation and real time notification of monitoring station, 24-hour attended monitoring, per 30-day period of time; monitoring, receipt of transmissions, and analysis

We proposed 0.15 malpractice RVUs and crosswalked the practice expense inputs from CPT Code 93271, Patient demand single or multiple event recording with presymptom memory loop, 24-hour attended monitoring, per 30 day period of time; monitoring, receipt of transmission, and analysis.

GXXX4—Electrocardiographic monitoring for diagnosis of arrhythmias, utilizing a home computerized telemetry station and trans-telephonic transmission, with automatic activation and real time notification of monitoring station, 24-hour attended monitoring, per 30-day period of time; physician review and interpretation.

We proposed 0.52 physician work RVUs and 0.02 malpractice RVUs and also crosswalked the practice expense inputs, from CPT code 93272 Patient demand single or multiple event recording with presymptom memory loop, 24-hour attended monitoring, per 30 day period of time; physician review and interpretation only.

Comment: Commenters representing cardiac arrhythmia specialists and cardiologists recommended that we withdraw the proposal to create new G codes for monitoring heart rhythms. The commenters stated that this request was not made by the medical community nor from the manufacturers of these heart rhythm monitoring systems. The commenters contended that the proposal appears to address specifically one manufacturer and specifies a particular mode of transmission and patient location, even though there are other new systems of this type that are not captured by this proposal.

The commenters recommended that we allow this technology to be utilized on a local level before implementing a national coding solution. The commenters further supported that when this new technology warrants a national coding solution, a CPT coding application should be initiated and then the code should be sent to the RUC for review. The commenting specialties stated their willingness to provide medical input into the evaluation, coding and reimbursement for this new technology. Two commenters also stated that the descriptors and the proposed reimbursement do not reflect the monitoring systems that have been developed. Other commenters also requested that we withdraw or reconsider our proposal, as it did not follow the established process for creating and valuing new codes. One specialty society representing clinical endocrinologists supported the establishment of these HCPCS codes, while another commenter, a cardiac monitoring company, provided a general outline of how the various cardiac monitoring technologies can best be used for maximum quality and value. Another commenter suggested that until efficiency of the new technology is demonstrated this proposal should be postponed.

Response: Our intention in proposing these G codes was to recognize and nationally price all currently available real time cardiac telemetry monitoring technology. It was not intended to address only one system currently in use. Based on the concerns raised by commenters, we will not proceed with these proposed HCPCS codes because we want to ensure that any HCPCS codes developed encompass the various technologies that are being utilized for such monitoring.

4. CPT Code 88180 (Flow Cytometry; Each Cell Surface, Cytoplasmic or Nuclear Marker)

Flow cytometry is a technique to analyze single cell suspensions from blood, bone marrow, body fluids, lymph nodes, and other tissues. The technique, currently coded as CPT code 88180, Flow cytometry, each cell surface, cytoplasmic or nuclear marker, quantifies cell surface, cytoplasmic, and nuclear antigens. The August 15, 2003 proposed rule discussed our concerns that the current coding scheme (payment on a per marker basis) may encourage the performance of more markers than may be medically necessary because the pathologist determines what markers to perform and when to perform them. We indicated that we understood the laboratory community would be reviewing this issue and considering whether to recommend changes to the current coding for the procedure. We also requested recommendations on appropriate values for the procedure should we wish to develop a future proposal.

Comments: Commenters, both individuals and organizations, asked that we not put forth a proposal for payment of flow cytometry. The College of American Pathologists (CAP) has proposed coding revisions to both the immunology and anatomic pathology section of CPT and is working with other groups to establish practice guidelines for flow cytometry. CAP asked that we not establish new “G” codes for 2004, but work with CAP and allow the CPT and RUC evaluation process to be used to determine appropriate coding and relative value units for flow cytometry.

Decision: We agree with the commenters. We will work with CAP, the CPT and the RUC to develop appropriate coding and payment policies for flow cytometry.

5. Change in Payments to Physicians Managing Patients on Dialysis

In the August 15, 2003 rule, we proposed to make CPT codes 90918, 90919, 90920, and 90921 for the monthly capitation payments (MCP) invalid for Medicare. We also proposed to create 3 new G codes in place of each CPT code with payments varying with the number of visits provided within each month to an end stage renal disease (ESRD) patient. Under our proposal, there would be separate codes when the physician provides 1 visit per month, 2-3 visits per month and 4 or more visits per month. The code for 1 visit per month would have the lowest payment while a higher payment will be provided for 2 to 3 visits per month and the highest payment for 4 or more visits per month. These new codes would be reported once per month for services performed in an outpatient setting that are related to the patient's ESRD. These physician services would continue to include the establishment of a dialyzing cycle, outpatient evaluation and management of the dialysis visits, telephone calls, and patient management provided during a full month. These codes would not be used if a hospitalization occurred during the month.

The proposed codes are as follows:

GXXX5—End Stage Renal Disease (ESRD) related services per full month, for patients under 2 years of age to include monitoring for the adequacy of nutrition, assessment of growth and development, and counseling of parents; with 4 or more face-to-face physician visits per month.

GXXX6—End Stage Renal Disease (ESRD) related services per full month, for patients under 2 years of age to include monitoring for the adequacy of nutrition, assessment of growth and development, and counseling of parents; with 2 or 3 face-to-face physician visits per month.

GXXX7—End Stage Renal Disease (ESRD) related services per full month, for patients under 2 years of age to include monitoring for the adequacy of nutrition, assessment of growth and development, and counseling of parents; with 1 face-to-face physician visit per month.

GXXX8—End Stage Renal Disease (ESRD) related services per full month, for patients between 2 and 11 years of age to include monitoring for the adequacy of nutrition, assessment of growth and development, and counseling of parents; with 4 or more face-to-face physician visits per month.

GXXX9—End Stage Renal Disease (ESRD) related services per full month, for patients between 2 and 11 years of age to include monitoring for the adequacy of nutrition, assessment of growth and development, and counseling of parents; with 2 or 3 face-to-face physician visits per month.

GXX10—End Stage Renal Disease (ESRD) related services per full month, for patients between 2 and 11 years of age to include monitoring for the adequacy of nutrition, assessment of growth and development, and counseling of parents; with 1 face-to-face physician visit per month.

GXX11—End Stage Renal Disease (ESRD) related services per full month, for patients between 12 and 19 years of age to include monitoring for the adequacy of nutrition, assessment of growth and development, and counseling of parents; with 4 or more face-to-face physician visits per month.

GXX12—End Stage Renal Disease (ESRD) related services per full month, for patients between 12 and 19 years of age to include monitoring for the adequacy of nutrition, assessment of growth and development, and counseling of parents; with 2 or 3 face-to-face physician visits per month.

GXX13—End Stage Renal Disease (ESRD) related services per full month, for patients between 12 and 19 years of age to include monitoring for the adequacy of nutrition, assessment of growth and development, and counseling of parents; with 1 face-to-face physician visit per month.

GXX14—End Stage Renal Disease (ESRD) related services per full month, for patients 20 years of age and over; with 4 or more face-to-face physician visits per month.

GXX15—End Stage Renal Disease (ESRD) related services per full month, for patients 20 years of age and over; with 2 or 3 face-to-face physician visits per month.

GXX16—End Stage Renal Disease (ESRD) related services per full month, for patients 20 years of age and over; with 1 face-to-face physician visit per month.

We based the proposed payments on the assumption that many physicians would provide 4 or more visits to their ESRD patients and a smaller proportion would provide 2-3 visits or only 1 visit per month. Using Medicare utilization data from 2002, we proposed the following relative value units for the new G codes that would make Medicare's aggregate payments for ESRD related services under the physician fee schedule approximately equal to current payments for procedure codes 90918 to 90921:

Table 2
Code | Physician work | Practice expense | Malpractice
GXXX5 | 12.92 | 8.70 | 0.60
GXXX6 | 5.19 | 3.49 | 0.24
GXXX7 | 3.39 | 2.29 | 0.16
GXXX8 | 9.91 | 4.86 | 0.43
GXXX9 | 3.55 | 1.74 | 0.15
GXX10 | 2.32 | 1.14 | 0.10
GXX11 | 8.47 | 4.54 | 0.35
GXX12 | 3.14 | 1.68 | 0.13
GXX13 | 2.05 | 1.10 | 0.08
GXX14 | 5.16 | 2.94 | 0.22
GXX15 | 1.94 | 1.10 | 0.08
GXX16 | 1.27 | 0.73 | 0.06

As part of the proposed rule we also solicited comments on how to further revise our payment methodology to improve quality of care and outcomes. We requested information that could help us design future demonstrations that would study both dimensions of care (quality and utilization) and help ensure that payment is based on appropriate patient-specific care that has been shown to lead to improved outcomes for this complex patient population.

Comment: We received many comments from physicians, the RUC, specialty societies, dialysis centers and nephrologists, as well as other individuals and organizations who expressed concerns with our proposal to alter the way physicians are reimbursed for services provided to End Stage Renal Disease (ESRD) patients and who urged us to withdraw the proposal. The RUC and the AMA, as well as other specialty organizations, expressed disappointment that we developed this proposal without consultation from the medical community and outside the usual CPT and RUC process. The Renal Physicians Association (RPA), the American Society for Nephrology (ASN), the American Association for Kidney Patients (AAKP), and the National Kidney Foundation (NKF) all supported the principle of optimizing nephrologist-dialysis patient interaction, which is included in the proposal. However, the RPA contended that the proposal as currently constituted is unworkable, may negatively impact some dialysis patients and is being put on an unreasonably precipitous implementation schedule. The AAKP outlined similar concerns but believed that increased nephrologist-dialysis patient interaction will lead to improved outcomes and also urged that an advisory committee be established to assist in the effort to further improve quality and coordination of care for dialysis patients. The Medicare Payment Advisory Commission (MedPAC) agreed that the current payment method lacks accountability and quality incentives, and thus encouraged CMS to address these issues. However, MedPAC also expressed concern that without baseline data it was unclear how we could determine and measure the impact of the proposed changes on quality and access. MedPAC further stated that the adjustments to payment should be made subsequent to the collection of information on resource costs and clinical guidelines. Together with these adjustments, further incentives should be added to the monthly payment to reward and improve the quality and access of dialysis-related physician care, which is consistent with MedPAC's June 2003 recommendations. Below are the specific issues raised by commenters:

Disproportionate Payment Differences

Many comments concerned the large variation in proposed payments to physicians who see a patient only once a month, compared to the proposed payment for seeing a patient either two or three times during the month or four or more times during the month. In addition, commenters stated there is more work involved in managing care of the ESRD patients between visits.

Response: Based on our review of the comments, we agree that a significant amount of physician work for patients with ESRD occurs outside of the face-to-face visit with the patients. Since there may be significant physician work associated with providing physician services to ESRD patients between visits, we agree that there should be less difference in the payment levels than we proposed. By raising the minimum payment level, we are accounting for the extensive patient care coordination and other non-face-to-face management required by ESRD patients. However, we continue to believe that more physician work is associated with more frequent face-to-face visits with the patient, and any variation in the payment amounts should reflect this difference.

First, we determined the appropriate relative relationship among different codes. For instance, we believe that approximately 25 percent more physician work is involved with providing two to three visits than with a single visit, and 50 percent more physician work is associated with providing four or more visits. By paying a single amount regardless of how often the patient is seen, we believe our current policy pays too much if the patient is seen fewer than four times per month. Thus, we revised our payment to be consistent with different levels of physician work associated with providing monthly management of dialysis patients. We are setting our aggregate revised payments equal to aggregate current payments. Consistent with these assumptions, we determined the following RVUs:

Table 3.—Relative Values for New Monthly Capitation Codes
Age of patient | HCPCS | Number of visits | Work | Practice expense | Malpractice | Total
Patients Other Than Home Dialysis
<2 | G0308 | 4+ | 12.69 | 8.58 | 0.42 | 21.69
| G0309 | 2 to 3 | 10.57 | 7.13 | 0.36 | 18.06
| G0310 | One Visit | 8.45 | 5.72 | 0.28 | 14.45
2 to 11 | G0311 | 4+ | 9.68 | 4.74 | 0.34 | 14.76
| G0312 | 2 to 3 | 8.07 | 3.94 | 0.29 | 12.30
| G0313 | One visit | 6.46 | 3.16 | 0.22 | 9.84
12 to 19 | G0314 | 4+ | 8.24 | 4.45 | 0.26 | 12.95
| G0315 | 2 to 3 | 6.87 | 3.69 | 0.23 | 10.79
| G0316 | One visit | 5.50 | 2.96 | 0.17 | 8.63
20 + | G0317 | 4+ | 5.07 | 2.88 | 0.17 | 8.12
| G0318 | 2 to 3 | 4.23 | 2.39 | 0.14 | 6.76
| G0319 | One Visit | 3.38 | 1.92 | 0.11 | 5.41
Home dialysis patients (entire month)
<2 | G0320 |  | 10.57 | 7.13 | 0.36 | 18.06
12 to 19 | G0321 |  | 6.87 | 3.69 | 0.23 | 10.79
2 to 11 | G0322 |  | 8.07 | 3.94 | 0.29 | 12.30
20 + | G0323 |  | 4.23 | 2.39 | 0.14 | 6.76
Home dialysis patients (partial month only—per day)
<2 | G0324 |  | 0.35 | 0.24 | 0.01 | 0.60
12 to 19 | G0325 |  | 0.23 | 0.12 | 0.01 | 0.36
2 to 11 | G0326 |  | 0.27 | 0.13 | 0.01 | 0.41
20 + | G0327 |  | 0.14 | 0.08 | 0.01 | 0.23

We used the above principles to establish our monthly capitation payments (MCP) for patients 20 or older. For patients younger than 20, we are using the same relationship that exists among the current MCP codes for different age groups for the new codes that we are creating. For example, the current MCP code for a patient under 2 (CPT code 90918) has work RVUs that are approximately 2.5 times the work RVU for a patient 20 or older (CPT code 90921). Thus, Medicare's work RVU for each code for a patient 2 years or younger will be 2.5 times the amount of the corresponding service provided to a patient 20 or older. These values can be considered as interim and we plan to seek the advice of the RUC in evaluating these codes once the policy has been implemented. There are efforts underway (for example, in their 2004 workplan, the OIG has indicated they will conduct a review of ESRD monthly capitation payments and physician services) which will provide data on the type frequency and content of physician encounters as suggested by MedPAC. However, we believe a change should be made in the interim to improve care and accountability. The use of these new codes will also enable us to collect data about the frequency of physician visits.

Regulatory Impact of Proposal on SGR and Conversion Factor

We received comments regarding the impact of these proposed changes on the sustainable growth rate (SGR) calculations. Commenters expressed concern that, if physician behavior changes and physicians increase the number of visits provided per month, actual expenditures would surpass the target projection, resulting in a future payment reduction for all of medicine.

Response: Section 1848(c)(2)(B)(ii)(II) of the Act requires that changes to RVUs cannot cause the amount of expenditures to increase or decrease by more than $20 million from the amount of expenditures that would have been made if such adjustments had not been made. As indicated above, we have established RVUs for the new monthly capitation codes so that Medicare's aggregate payments for these services are equal to what we would have paid in the absence of these changes. We are not expecting any impact on payment for other physician fee schedule services. However, we will continue to review this issue as we work with the medical community to further refine Medicare policy for treating patients needing dialysis services.

Home Dialysis

Many comments were received regarding home dialysis because patients who dialyze at home typically see their physicians less frequently than other ESRD patients. One commenter suggested that home dialysis patients be excluded from the proposed change and that we continue to pay the current MCP rate for services to these patients.

Response: We have created four G codes for the management of home dialysis patients in each of the age groups and will pay for the home dialysis patients at the same rate as codes G0309, G0312, G0315, and G0318 respectively. Although the codes for home dialysis patients will pay physicians slightly less than the former MCP, physicians will still have a relative incentive to increase the use of home dialysis. We believe this is consistent with Section 1881(b)(3)(B) of the Social Security Act which states “With respect to payments for physicians’ services furnished to individuals determined to have end stage renal disease, the Secretary shall pay 80 percent of the amounts calculated for such services on a comprehensive monthly fee or other basis (which effectively encourages the efficient delivery of dialysis services and provides incentives for the increased use of home dialysis) for an aggregate of services provided over a period of time (as defined in regulations).”

The new G codes for the monthly management of home dialysis patients will be as follows:

G0320—End stage renal disease (ESRD) related services for home dialysis patients per full month; for patients under two years of age to include monitoring for adequacy of nutrition, assessment of growth and development, and counseling of parents.

G0321—End stage renal disease (ESRD) related services for home dialysis patients per full month; for patients two to eleven years of age to include monitoring for adequacy of nutrition, assessment of growth and development, and counseling of parents.

G0322—End stage renal disease (ESRD) related services for home dialysis patients per full month; for patients twelve to nineteen years of age to include monitoring for adequacy of nutrition, assessment of growth and development, and counseling of parents.

G0323—End stage renal disease (ESRD) related services for home dialysis patients per full month; for patients twenty years of age and older.

The American Society of Nephrology also commented that “reimbursement should be constructed so that home dialysis patients should see their nephrologist at least monthly, with further visits on an as needed basis.” We will not specify the frequency of required visits at this time but expect physicians to provide clinically appropriate care to manage the home dialysis patient.

If home dialysis patients are hospitalized during the month, four new G codes have been created: G0324, G0325, G0326, and G0327. These codes will be used to report daily management of home dialysis patients for the days the patient is not in the hospital. CPT codes 90922, 90923, 90924, and 90925 will be considered inactive for Medicare because they are now redundant as other codes are to be used by physicians billing for services to ESRD patients.

The new G codes are as follows:

G0324—End stage renal disease (ESRD) related services for home dialysis (less than full month), per day; for patients under two years of age.

G0325—End stage renal disease (ESRD) related services for home dialysis (less than full month), per day; for patients between two and eleven years of age.

G0326—End stage renal disease (ESRD) related services for home dialysis (less than full month), per day; for patients between twelve and nineteen years of age.

G0327—End stage renal disease (ESRD) related services for home dialysis (less than full month), per day; for patients twenty years of age and over.

For example, if a home dialysis patient is in the hospital for 10 days (counting the calendar day of admission and the calendar day of discharge) and is cared for 20 days in his or her home, then 20 units of the code for the appropriate aged patient is billed.

If a home dialysis patient receives dialysis in a dialysis center or other facility during the month, the physician is still paid the management fee for the home dialysis patient and cannot bill the codes in the range of G0308 through G0319 or CPT codes 90935 or 90937, even though the physician may see the patient during his/her center dialysis.

Role of Non-Physician Practitioners or Physicians Other Than the MCP Physician

We received comments about the role of nonphysician practitioners. It was not clear to the commenters whether visits by these practitioners could count as face-to-face encounters by the MCP physician. The commenters also asked about billing by physicians (for example, a “rounding” physician or fellow) other than the physician who is billing the monthly capitation rate.

Response: Physicians may utilize nonphysician practitioners: nurse practitioners, physician assistants, and clinical nurse specialists, who are able under the Medicare statute to furnish services that would be physician services if furnished by a physician and who are eligible to enroll in the Medicare program, to deliver some of the visits during the month. The rules for the use of these physician extenders would be consistent with the rules for split/shared evaluation and management visits: The nonphysician practitioners and physician must be in the same group practice or employed by the same employer/entity; and the physician must perform some portion of the service in a face-to-face encounter, in this case one or more visits during the month with the patient. In this situation, to bill the service under the physician's UPIN/PIN, the physician and not the physician extender should be the practitioner to perform the visit with the complete assessment of the patient and to establish the patient's plan of care. If the nonphysician practitioner is the practitioner who performs the complete assessment and establishes the plan of care, then the MCP service should be billed under the UPIN/PIN of the nurse practitioner, physician assistant, or clinical nurse specialist.

It is also possible for the physician to use another physician to provide some of the visits during the month, but the physician who provides the complete assessment, establishes the patient's plan of care and provides the ongoing management should be the physician who submits the bill for the monthly service. The non-MCP physician must have a relationship with the billing physician such as a partner, employees of the same practice, or supervising physician and fellow doing sub-specialty training.

Each practitioner should document in a shared medical record services he/she personally performed. Only one practitioner can bill for the management of the ESRD patient in any month. In addition, when a nonphysician practitioner or a “rounding physician” sees a dialysis patient for management of ESRD, they cannot bill an evaluation and management service for the same patient unless there is a separate, substantial and documented service evaluating the patient for care unrelated to the patient's dialysis.

Geographic Issues

Commenters indicated that the lack of geographic considerations would negatively impact physicians and patients in rural and some urban settings where physician visits require significant travel time. Extended travel time can make it difficult for physicians to see patients as often as patients can be seen when the physician's office is near the dialysis facility.

Response: We believe that the policy to allow nurse practitioners, physician's assistants, clinical nurse specialists, and other physicians to deliver some of the visits to patients as well as changes in the payment to more accurately reflect non-visit services and the relative value of additional visits will ameliorate these access issues.

Lack of Clarity Regarding Hospitalization

Commenters noted that the proposed rule did not provide enough detail regarding alternative billing procedures if hospitalization occurs during the month.

Response: For ESRD patients (other than home dialysis patients) who are hospitalized during the month, the physician may bill the code that reflects the number of face-to-face visits during the month on days when the patient was not in the hospital (either admitted as an inpatient or in observation status).

Documentation Requirements

Comment: Many commenters asked for clarification regarding the documentation requirements, if any, associated with the new codes.

Response: We have chosen not to include specific documentation guidelines in this rule. Instead, physicians should document what is clinically relevant, including but not limited to the patient's current status and complaints, a clinically appropriate physical examination, assessment of the patient's treatment for ESRD that includes assessment of the adequacy of the dialysis treatment, the status of the patient's vascular access, assessment and treatment of the other conditions associated with ESRD, such as anemia, electrolyte management, and bone density, as well as changes to the patient's management.

HIPAA Compliance

Comment: A comment was received that HIPAA transaction and code set rules may not be met if these new codes were implemented.

Response: G codes are part of the HCPCS coding system and are in compliance with the HIPAA transaction and code set rules.

Outpatient Settings

Comment: Commenters asked for additional clarification on whether visits counted toward the MCP can be provided in settings other than the dialysis facility.

Response: The visits for management of ESRD patients may occur in the physician's office, in an outpatient hospital or other outpatient setting or even in the patient's home as well as in the dialysis facility.

Transient Patients

Comment: Commenters inquired how physicians would deal with visits and related billing for traveling patients who receive their treatment away from their usual site of treatment.

Response: If the physician manages the care of a patient who is receiving treatment away from the patient's usual site of treatment, the physician who bills for managing the care of the patient is still paid according to the number of times the physician has a face-to-face visit with the patient. If the patient is to be away for an extended period of time, the patient would be managed by the physician who has face-to-face visits with the patient, and that physician would be the one billing for the patient's care management.

Quality of Care and Outcomes

Comment: Commenters representing the American Osteopathic Association, the American Academy of Family Physicians, the National Coalition for Quality Diagnostic Imaging Services, the American Society for Echocardiography and Focus on Therapeutic Outcomes, Inc., provided information on quality initiatives their respective organizations have undertaken or suggestions for relating quality to payment. The National Kidney Foundation recommended the use of technology and other forms of communication to care for ESRD patients and to support constant attention to quality. In addition, the Society for Interventional Radiology commended our efforts to increase the use of arteriovenous fistulae for vascular access in dialysis patients as part of its National Vascular Access Improvement Initiative, but indicated there might be a need to clarify certain policies. The American Association of Kidney Patients (AAKP) also recommended the establishment of a commission or advisory group with representation of the kidney community that could be charged with recommending proposals to tie reimbursement to outcomes. AAKP stated that although the proposed changes are important, these changes remain a change in process of delivery of care that may improve actual outcomes, rather than a change in actual outcomes, that is, in rehabilitation, morbidity, mortality, and quality of life. MedPAC agreed with CMS that the proposed change to provide incentives for additional nephrologist-dialysis patient interactions may not be the ideal method to improve patient outcomes and to achieve this goal, CMS should partner with the ESRD community and work toward a long-term solution. MedPAC suggested that we investigate and incorporate physician clinical practice guidelines into our payment approach, and measure physician quality directly. MedPAC also suggested that we examine whether physician resources vary based on patient complexity, stating that to the extent that resources do vary, a case-mix adjustment—similar to the one MEDPAC recommended for payment to dialysis facilities in its June 2003 report—would be desirable.

Response: We appreciate the information and suggestions provided by the commenters and will take these into consideration. We plan to investigate the use of new technology to improve the management of ESRD patients as part of our overall focus on quality.

Final Decision—We will create the following G Codes to be used for ESRD patients other than home dialysis, based on the age of the patient and number of visits:

G0308—End Stage Renal Disease (ESRD) related services during the course of treatment, for patients under 2 years of age to include monitoring for the adequacy of nutrition, assessment of growth and development, and counseling of parents; with 4 or more face-to-face physician visits per month.

G0309—End Stage Renal Disease (ESRD) related services during the course of treatment, for patients under 2 years of age to include monitoring for the adequacy of nutrition, assessment of growth and development, and counseling of parents; with 2 or 3 face-to-face physician visits per month.

G0310—End Stage Renal Disease (ESRD) related services during the course of treatment, for patients under 2 years of age to include monitoring for the adequacy of nutrition, assessment of growth and development, and counseling of parents; with 1 face-to-face physician visit per month.

G0311—End Stage Renal Disease (ESRD) related services during the course of treatment, for patients between 2 and 11 years of age to include monitoring for the adequacy of nutrition, assessment of growth and development, and counseling of parents; with 4 or more face-to-face physician visits per month.

G0312—End Stage Renal Disease (ESRD) related services during the course of treatment, for patients between 2 and 11 years of age to include monitoring for the adequacy of nutrition, assessment of growth and development, and counseling of parents; with 2 or 3 face-to-face physician visits per month.

G0313—End Stage Renal Disease (ESRD) related services during the course of treatment, for patients between 2 and 11 years of age to include monitoring for the adequacy of nutrition, assessment of growth and development, and counseling of parents; with 1 face-to-face physician visit per month.

G0314—End Stage Renal Disease (ESRD) related services during the course of treatment, for patients between 12 and 19 years of age to include monitoring for the adequacy of nutrition, assessment of growth and development, and counseling of parents; with 4 or more face-to-face physician visits per month.

G0315—End Stage Renal Disease (ESRD) related services during the course of treatment, for patients between 12 and 19 years of age to include monitoring for the adequacy of nutrition, assessment of growth and development, and counseling of parents; with 2 or 3 face-to-face physician visits per month.

G0316—End Stage Renal Disease (ESRD) related services during the course of treatment, for patients between 12 and 19 years of age to include monitoring for the adequacy of nutrition, assessment of growth and development, and counseling of parents; with 1 face-to-face physician visit per month.

G0317—End Stage Renal Disease (ESRD) related services during the course of treatment, for patients 20 years of age and over; with 4 or more face-to-face physician visits per month.

G0318—End Stage Renal Disease (ESRD) related services during the course of treatment, for patients 20 years of age and over; with 2 or 3 face-to-face physician visits per month.

G0319—End Stage Renal Disease (ESRD) related services during the course of treatment, for patients 20 years of age and over; with 1 face-to-face physician visit per month.

In addition we have created the following G codes for home dialysis patients:

G0320—End stage renal disease (ESRD) related services for home dialysis patients per full month; for patients under two years of age to include monitoring for adequacy of nutrition, assessment of growth and development, and counseling of parents.

G0321—End stage renal disease (ESRD) related services for home dialysis patients per full month; for patients two to eleven years of age to include monitoring for adequacy of nutrition, assessment of growth and development, and counseling of parents.

G0322—End stage renal disease (ESRD) related services for home dialysis patients per full month; for patients twelve to nineteen years of age to include monitoring for adequacy of nutrition, assessment of growth and development, and counseling of parents.

G0323—End stage renal disease (ESRD) related services for home dialysis patients per full month; for patients twenty years of age and older.

G0324—End stage renal disease (ESRD) related services for home dialysis (less than full month), per day; for patients under two years of age.

G0325—End stage renal disease (ESRD) related services for home dialysis (less than full month), per day; for patients between two and eleven years of age.

G0326—End stage renal disease (ESRD) related services for home dialysis (less than full month), per day; for patients between twelve and nineteen years of age.

G0327—End stage renal disease (ESRD) related services for home dialysis (less than full month), per day; for patients twenty years of age and over.

6. Miscellaneous Coding Issues

Bioimpedance

Comment: We received several comments concerning the pricing of CPT code 93701, electrical bioimpedance. One commenter, a carrier medical director, requested that this service be considered a technical component service as there is no physician work (professional component) required to produce the results. The commenter referenced the RUC recommendation of 0.00 work that was not accepted by CMS in November 2001. Other commenters stated that pricing of this service should be revisited and the American College of Cardiology recommended work component of 0.25 RVUs be accepted. Commenters also questioned the valuation of the practice expense component, particularly in light of the escalating costs associated with this service.

Response: In next year's final rule we will be accepting recommendations for codes to be considered under the five-year review of work that will occur in 2005. The commenters will be able to respond to that solicitation, and submit this CPT code, as well as any other services they believe need to be reviewed to ensure they are appropriately valued. We are currently in the process of reviewing and obtaining updated pricing for equipment contained in the practice expense data files and proposed changes to pricing for equipment will be included in next year's proposed rule. We would suggest that the commenters review this information when published to ensure that the cost of the equipment is accurately reflected in the database.

Ablation Procedures

Comment: One commenter, a manufacturer, suggested that the work RVUs of certain codes for the ablation of liver tumors (CPT codes 47380, 47370 and 47382) appeared to be undervalued.

Response: As discussed in the previous response, in next year's final rule we will be accepting recommendations for codes to be considered under the five-year review of work that will occur in 2005. The commenter will be able to respond to that solicitation and submit these codes, as well as any additional services they believe need to be reviewed to ensure they are appropriately valued.

Stereotactic Radiosurgery and Stereotactic Radiotherapy

Comment: Two commenters requested that HCPCS codes G0173 and G0251, which are used for reporting stereotactic radiotherapy and stereotactic radiosurgery under the hospital outpatient prospective payment system, be activated for payment under the physician fee schedule.

Response: We are reluctant to establish payment for these services under the physician fee schedule at this time absent specific information on freestanding centers providing this service. We would welcome information and data from these commenters, and other individuals and providers, on the provision of these services in freestanding centers so that we can fully evaluate this issue.

Creation of G Codes

Comment: The AMA and several specialty organizations expressed concern about the establishment of the numerous G codes that were contained in the proposed rule. The commenters state that continual development of G codes, without consultation with the CPT Editorial Panel, the RUC or the physician community undermines the annual review process that CMS has established in the final rule. Further, the commenters argue that the establishment of G Codes undermines the requirements of the Health Insurance Portability and Accountability Act (HIPAA) for coding standardization and an open process for establishing codes.

Response: As we have stated in previous rulemaking, it is sometimes necessary to develop G codes to accommodate changes in legislation, regulation, coverage, and payment policy. We appreciate the input of the medical community and to the extent possible, will work with the CPT Editorial Panel, the RUC and the physician community prior to establishment of these codes.

Pain Management

Comment: The American Society of Interventional Pain Management commented on the differences in payment allowances for various pain management services and other non-pain management services furnished in conjunction with pain management services in various settings, including the physician's office, the OPD and the ASC.

Response: In accordance with the law, we have established payment rates for office-based procedures, using the non-facility practice expense relative value units. However, the office does not represent a practice site where these services are usually performed.

Medicare payment under the physician fee schedule for the physician work is the same in all practice settings. However, the practice expenses are reimbursed differently depending on the practice site. Practice expenses associated with procedures performed in the outpatient departments (OPDs) or ambulatory surgical centers (ASCs) are paid under the OPD or ASC payment system respectively. Practice expenses associated with procedures performed in the physician's office are paid through the physician fee schedule payment system.

III. Other Issues

A. Definition of Diabetes for Diabetes Self-Management Training

In the August 15, 2003 rule we proposed to adopt the definition of diabetes used to determine beneficiary eligibility for Medical Nutrition Therapy (MNT) for purposes of coverage for outpatient diabetes self-management training when the beneficiary has a diagnosis of diabetes. Specifically, we stated that the criteria currently set forth at § 410.141(d), would be replaced with definition of diabetes used for medical nutrition therapy at § 410.130 which reads as follows:

Diabetes means diabetes mellitus consisting of two types. Type 1 is an autoimmune disease that destroys the beta cells of the pancreas, leading to insulin deficiency. Type 2 is familial hyperglycemia that occurs primarily in adults but can also occur in children and adolescents. It is caused by an insulin resistance whose etiology is multiple and not totally understood. Gestational diabetes is any degree of glucose intolerance with onset or first recognition during pregnancy. The diagnostic criterion for a diagnosis of diabetes for a fasting glucose intolerance test is greater than or equal to 126 mg/dL.

A technical error in the proposed rule on page 49070, placed the revised eligibility requirements in § 410.141(f). The eligibility requirements will replace those currently in § 410.141(d).

Comment: We received comment noting that the language for the actual regulatory language had the wrong section letter.

Response: As noted above, this was a technical error.

Final Decision: The following language will replace what was in the proposed rule. “Section 410.141 is amended by replacing paragraph (d) to read as follows: § 410.141 Outpatient diabetes self-management training. (d) Beneficiaries who may be covered. Medicare Part B covers outpatient diabetes self-management training for a beneficiary who has been diagnosed with diabetes.”

Comment: The comments were very supportive of our efforts to streamline this requirement. Several commenters recommended that the definition of diabetes be revised to include patients who might not be classified as Type 1, Type 2, or gestational diabetes in the definition. Most commenters recommended the use of a fasting glucose test of greater than or equal to 126 mg/dL. One commenter suggested the measurement be taken on two occasions. Most commenters also recommended the addition of a random glucose test of greater than 200 mg/dL, with one commenter adding with symptoms of uncontrolled diabetes. Several commenters suggested use of an abnormal glucose tolerance test (GTT). One commenter also suggested the use of a 2 hour post-glucose challenge of greater than or equal to 200 mg/dL test on two different occasions. The American Association of Clinical Endocrinologists (AACE) also suggested that coverage of medical nutrition therapy be expanded to those with impaired fasting glucose.

Response: The definition of diabetes used in the MNT regulation was based on language found in the 2000 Institute of Medicine report entitled, “The Role of Nutrition in Maintaining Health in the Nation's Elderly. We did not have any other generally recognized definition of diabetes at that time and did not intend to limit our definition of diabetes. Regarding the laboratory tests, the characteristics of the commenters' suggestions are generally the same. The base measurement that is already in our MNT regulation, a fasting glucose of 126 mg/dL, is a common measure. Three commenters also noted the use of 200 mg/dL for a random glucose test. The major variation between the commenters was that one suggested multiple measurements. Also, we note that patients with an impaired fasting glucose level do not necessarily meet any of the popular definitions of diabetes.

Final Decision: We agree that in some ways our proposed definition may not include some patients diagnosed with diabetes. We also agree that our clinical laboratory measurements used to determine the presence of diabetes should be expanded. The definition provided by AACE appears to meet the clinical concerns of the medical community and our concerns that no individuals have their treatments delayed unduly if they have obvious symptoms of uncontrolled diabetes. Therefore, we are adopting their clinical definition. We will also broaden our general language to include diabetes of other types. Our final language will be, “Diabetes is diabetes mellitus, a condition of abnormal glucose metabolism diagnosed using the following criteria: A fasting blood sugar greater than or equal to 126 mg/dL on two different occasions; a 2 hour post-glucose challenge greater than or equal to 200 mg/dL on 2 different occasions; or a random glucose test over 200 mg/dL for a person with symptoms of uncontrolled diabetes.” We will also make a conforming amendment to 410.130 for MNT. However, we are constrained from covering MNT for anyone who is not diagnosed with diabetes by the section 1861(s)(2)(V) of the Act that limits coverage of MNT to beneficiaries with diabetes or renal disease.

Outpatient Therapy Services Performed “Incident To” Physicians” Services—Discussion Only

In almost all settings, our regulations specify that outpatient therapy services can be delivered only by qualified physical therapists, occupational therapists, physical therapy assistants, occupational therapy assistants, and speech-language pathologists as defined by § 484.4. Section 1862(a)(20) of the Act requires that any therapy services furnished incident to a physician's professional services must meet the standards and conditions that would apply to such therapy services if they were furnished by a therapist, with the exception of the licensing requirement. While there are currently no national standards for qualifications of individuals providing outpatient therapy services incident to physicians' services, we believe that standards similar to those in § 484.4 are appropriate. In the proposed rule, we stated that we are considering adopting the existing qualification and training standards (with the exception of licensure) in § 484.4 for individuals providing therapy services independently and incident to physicians' services. While we did not propose a change at this time, we requested comments from the public, particularly physicians and staff who would be affected, on adoption of the existing standards in § 484.4, for services of independent therapists and “incident to” services, as well as comments regarding alternatives that we might use to ensure that qualified staff are providing “incident to” therapy services.

We received comments from major therapy organizations and individual therapists representing therapy services, physician organizations and individual physicians and associations and individuals representing other health care professionals, such as athletic trainers, kinesiotherapists and exercise physiologists. A wide spectrum of views was expressed by these commenters. Commenters representing therapists were supportive of establishing consistent training standards in all settings, while physicians favored reliance on the individual physician for quality control. The non-therapist health care providers were concerned about their role in providing therapy services and cardiac rehabilitation and pulmonary service providers were concerned that their services might be affected.

We will review and consider these comments as we determine whether to make a future proposal. Meanwhile, contractors may continue to develop local medical review policies that are consistent with the statute, applying to physical therapy, occupational therapy and speech-language pathology services the same standards and conditions that would apply to such therapy services if they were furnished by an independent therapist, with the exception of the licensing requirement.

D. Status of Anesthesia Work and Five-Year Review

In the December 2002 final rule, we modestly increased the work of anesthesia services. These changes were based on the analysis submitted by the RUC of its review of the work of 19 high volume anesthesia codes. The RUC had provided us with its analysis but did not furnish us with a definitive recommendation. The increase in anesthesia work resulted in an increase in the national anesthesia conversion factor. (We increased the physician work component of the anesthesia conversion factor by 2.10 percent to reflect a 9.13 percent increase in anesthesia work applied to 23 percent of anesthesia allowed charges represented by the 19 codes. As a result of this increase, we applied a 1.6 percent increase to the anesthesia CF.) The American Society of Anesthesiologists expressed concern about the completeness of the review of anesthesia codes under the five-year review. Therefore, in February 2003 we asked the RUC to continue its review of anesthesia work values so that we could develop a final recommendation for a change in the anesthesia CF involving all anesthesia codes. In the proposed rule we stated we were waiting on the RUC's response to our request.

The RUC has spent a considerable amount of effort of studying this issue. The RUC's anesthesia workgroups consisted of a range of physician specialists, including various surgical specialists, who have knowledge about the anesthesia services studied. As a result of their review, the RUC approved and presented the following recommendations to CMS:

1. The RUC position is that the 5-year review has been completed.

2. The RUC anesthesia workgroup analysis only applies to the 19 anesthesia codes and associated 19 surgical codes.

3. The Workgroup recommendations to the RUC stated that there are structural differences between the anesthesia coding system and the remainder of the physician coding system, which contributes to the difficulties in making extrapolations to the entire set of anesthesia services. Among other things, the workgroups and the RUC were concerned that the anesthesia codes cover too large a number of surgical codes making it necessary to examine surgical codes within the anesthesia code, and the 19 selected anesthesia codes may not be the most representative codes.

The ASA disagrees with the RUC's recommendations and asked that we extrapolate from the 19 surveyed procedures to all anesthesia codes.

Decision

When we developed the 2002 final physician fee schedule rule on the second five-year review, one of our concerns was that the RUC's initial findings were not presented as specific recommendations. We wanted to pursue approaches consistent with RUC recommendations. Therefore, in early 2003, we asked the RUC to more clearly present their recommendations.

Based on our review of the history and analysis of this issue and the final recommendation of the RUC, we have decided not to extrapolate from the surveyed procedures to the entire universe of anesthesia procedures; we will make no further adjustments to anesthesia work under the second five-year review.

Payment Policies for Anesthesia Services

There are differences in Medicare payment policies between a teaching anesthesiologist involved with two concurrent cases with residents and a teaching CRNA involved with two concurrent cases with student nurse anesthetists.

Currently, if a teaching anesthesiologist is involved with two concurrent cases with anesthesia residents, the medical direction rules apply. Payment for the physician's medical direction is based on 50 percent of the allowance otherwise allowed if the anesthesiologist performed the anesthesia case alone.

For anesthesia services furnished prior to July 1, 2002, we allowed full payment if a non-medically directed certified registered nurse anesthetist (CRNA) supervised a single case involving a student nurse anesthetist. No payment was made if the teaching CRNA supervised two cases involving student nurse anesthetists. In August 2002, we released the Medicare Carriers Manual Transmittal 1766 relating to the involvement of a non-medically directed teaching CRNA with two student nurse anesthetists. The American Association of Nurse Anesthetists (AANA) noted that their standards for approved nurse anesthesia training programs allow the teaching CRNA to supervise two concurrent cases involving student nurse anesthetists. The new policy allows the teaching CRNA to be paid, for his/her involvement with two concurrent cases with student nurse anesthetists, but not at the full fee level. If a teaching CRNA is involved with two concurrent cases with student nurse anesthetists, payment may be based on the base unit plus the time that the teaching CRNA is present with the student nurse anesthetist. To bill the base unit, the teaching CRNA must be present with the student nurse anesthetist throughout the pre- and post-anesthesia care. This payment per case is usually higher than the 50 percent paid to the teaching anesthesiologist for medically directing resident cases.

In the proposed rule, we asked for comments on the appropriateness of applying the CRNA teaching/resident policy to teaching anesthesiologists.

Comment: The American Association of Nurse Anesthetists commented that it was unclear how the new rule for teaching anesthesiologists would operate with the medical direction rules, particularly if there were more than two concurrent anesthesia cases.

Response: The new policy for teaching anesthesiologists would apply only when there are two concurrent cases, and the cases involve residents. The medical direction payment policy would continue to apply, as it has previously, for three or four concurrent anesthesia cases regardless of the qualified individual (for example, CRNA, resident, or anesthesiologist assistant) who is administering and monitoring anesthesia under the physician's medical direction.

Comment: The ASA requested that the teaching anesthesiology payment regulations be revised so that the teaching anesthesiologists be paid in a similar manner to teaching surgeons. Under the teaching physician rules, the teaching surgeon can be paid the full fee for each of two overlapping surgeries involving residents. The ASA understands that such a proposal would require a revision to Medicare regulations and would require rulemaking.

The ASA requested that, at least, in the interim, we allow teaching anesthesiologists to be paid similarly to teaching CRNAs for two concurrent cases. However, ASA specifically requested that this policy be used in addition to the current medical direction payment policy. In other words, the ASA wants the teaching anesthesiologist to be able to choose case-by-case, whether to seek payment similar to the teaching CRNA (that is, full base units and time units based only on actual presence with the resident) or based on the medical direction rules (that is, 50 percent of the full base and time units).

According to the ASA, a number of anesthesiology department heads believe the nurse anesthesia payment rule is not appropriate to the teaching of already-licensed physicians. They question the need for the teaching physician to participate in the pre- and post-op anesthesia care (to obtain full base units), they think that participation of the teaching anesthesiologist in the key portions of the procedure is far more important than the number of minutes present with the resident (which is the relevant consideration under the teaching physician policy for a single case with a resident).

Response and Final Decision

We have decided to allow teaching anesthesiologists to bill, similarly to teaching CRNAs, for their involvement in two concurrent cases involving residents. This will apply to anesthesia services furnished on or after January 1, 2004.

The anesthesiologist can bill base units and actual time, based on the amount of time the physician is present with the resident during each of two concurrent cases. To bill base units, the physician must be present with the resident during the pre- and post-anesthesia care included in the base units. If the physician is not present with the resident during the pre- and post-anesthesia care, the physician may bill the case as a medically directed case.

The anesthesiologist must document his/her involvement in cases with anesthesia residents. The documentation must be sufficient to support the payment of the fee and available for review upon request. We have revised § 414.46 to incorporate this change.

F. Technical Correction

CPT Code 96155 (Health and behavior intervention, each 15 minutes,face-to-face; family (without the patient present))

This code describes a visit with a patient's family without the patient being present and was first included in the November 1, 2001 final rule. It was incorrectly listed as an active code for which payment could be made under the physician fee schedule. Our longstanding payment policy is that we do not pay for visits with family where the patient is not present. Payment for such visits is included in the pre- and post-service work of a visit where the patient is present. Consistent with this policy, this code is not payable under the physician fee schedule.

Comment: A few commenters urged us to continue to list this code as an active code under the fee schedule as they do not agree with our policy. The commenters do not agree with our assertion that payment for such visits is included in the pre- and post-service work of a visit when the patient is present and believe that not covering the service could result in diminished quality of care. One commenter disagreed that this was a technical correction since this code is currently being paid for under the fee schedule.

Response: As we indicated in the proposed rule, this was erroneously listed as an active code, contrary to longstanding Medicare policy. To be consistent with our policy, no payment may be made for this service under Medicare, and the code will be assigned a status indicator of “N”.

G. Incomplete Screening Colonoscopy

Section 1834(d)(3) of the Act requires that the payment amount for a screening colonoscopy be set at the level for a diagnostic colonoscopy. We have established RVUs for an incomplete diagnostic colonoscopy (CPT code 45378-53) However, an incomplete screening colonoscopy (HCPCS G0105 with modifier ‘53’ or HCPCS G0121 with modifier ‘53’) is currently carrier priced. To make payment for screening colonoscopy consistent with payment for a diagnostic colonoscopy, effective January 1, 2004, Medicare will make payment for an incomplete screening colonoscopy, HCPCS G0105 with modifier ‘53’ and HCPCS G0121 with modifier ‘53’, at the same rate as an incomplete diagnostic colonoscopy (CPT 45378-53). The Medicare carriers will no longer manually price the practitioner payment for an incomplete screening colonoscopy.

H. Publication Issues

Comment: Several commenters noted that section 1871 of the Act requires a 60-day public comment period. Such period traditionally starts with the date the proposed rule is published in the Federal Register. However, for the Physician Fee Schedule Proposed rule, CMS began the start of the 60-day comment period on August 8, the date the proposal was put on display at the Federal Register, rather than August 15, the date the proposal was published in the Federal Register. The commenters request that CMS revert to the traditional start of the comment period, that is, the date of publication in the Federal Register. One commenter suggested that CMS should accept electronically submitted comments when the comment period begins earlier than the publication date.

In addition, several commenters urged CMS to resolve the process issues associated with publishing the proposed and final rule. They indicated that the delayed publication of the proposed rule, combined with missing information from addendums and impact tables, makes review and analysis problematic. The commenters also expressed concern that CMS has insufficient time to evaluate public comments and this is contrary to the spirit of the Administrative Procedures Act.

Response: CMS is keenly aware of the tight time frame between publication of the proposed and final rules. We make every effort to respond to requests from physician specialty groups and providers to include items in the proposed rule that affect payment levels, such as assigning RVUs to new CPT codes and revising RVUs for existing codes. It is difficult to both address numerous concerns and publish the proposed rule in a timely fashion. We will continue to make every effort to publish the proposed rule as early as possible. However, despite the short time frame for issuing the final rule, we take the review and analysis of comments very seriously. CMS devotes the necessary staff resources to ensure that every comment is properly considered.

Furthermore, the statute does not provide that the comment period commences with publication in the Federal Register. Section 1871(b)(1) of the Act states that before issuing a regulation in final form, “the Secretary shall provide for notice of the proposed regulation in the Federal Register and a period of not less than 60 days for public comment thereon.” While the proposed rule did not actually appear in the Federal Register until August 15, 2003, it was filed and went on public display at the Federal Register several days earlier on August 8, 2003. Accordingly, the contents of the proposed rule were, in fact, publicly available for the full 60-day comment period.

IV. Refinement of Relative Value Units for Calendar Year 2004 and Response to Public Comments on Interim Relative Value Units for 2003

A. Summary of Issues Discussed Related to the Adjustment of Relative Value Units

Section IV.B of this final rule describes the methodology used to review the comments received on the RVUs for physician work and the process used to establish RVUs for new and revised CPT codes. Changes to codes on the physician fee schedule reflected in Addendum B are effective for services furnished beginning January 1, 2004. The tables and discussions in this section concerning the work RVUs do not reflect the effect of the adjustment to work RVUs to match the MEI weights as discussed in section VI. The referenced work RVUs may differ from the work RVUs in Addenda B and C that reflect this adjustment.

B. Process for Establishing Work Relative Value Units for the 2004 Physician Fee Schedule

Our December 31, 2002 final rule (67 FR 79966) announced the final work RVUs for Medicare payment for existing procedure codes under the physician fee schedule and interim RVUs for new and revised codes. The RVUs contained in the final rule applied to physician services furnished beginning March 1, 2003. We announced that we considered the RVUs for the interim codes to be subject to public comment under the annual refinement process. In this section, we summarize the refinements to the interim work RVUs published in the December 2002 final rule and our establishment of the work RVUs for new and revised codes for the 2004 physician fee schedule.

C. Work Relative Value Unit Refinements of Interim Relative Value Units

1. Methodology (Includes Table titled “Work Relative Value Unit Refinements of the 2003 Interim and Related Relative Value Units”)

Although the RVUs in the December 2002 final rule were used to calculate 2003 payment amounts, we considered the RVUs for the new or revised codes to be interim. We accepted comments for a period of 60 days. We received substantive comments from many individual physicians and several specialty societies on approximately 10 CPT codes with interim work RVUs. Only comments on codes listed in Addendum C of the December 2002 final rule were considered.

To evaluate these comments we used a process similar to the process used in 1997. (See the October 31, 1997 final rule (62 FR 59084) for the discussion of refinement of CPT codes with interim work RVUs.) We convened a multispecialty panel of physicians to assist us in the review of the comments. The comments that we did not submit to panel review are discussed at the end of this section, as well as those that were reviewed by the panel. We invited representatives from the organization from which we received substantive comments to attend a panel for discussion of the code on which they had commented. The panel was moderated by our medical staff, and consisted of the following voting members:

• One or two clinicians representing the commenting organization.

• One primary care clinician nominated by the American College of Physicians/American Society of Internal Medicine.

• Four carrier medical directors.

• Four clinicians with practices in related specialties, who were expected to have knowledge of the service under review.

The panel discussed the work involved in the procedure under review in comparison to the work associated with other services under the physician fee schedule. We assembled a set of 300 reference services and asked the panel members to compare the clinical aspects of the work of the service a commenter believed was incorrectly valued to one or more of the reference services. In compiling the set, we attempted to include—(1) services that are commonly performed whose work RVUs are not controversial; (2) services that span the entire spectrum from the easiest to the most difficult; and (3) at least three services performed by each of the major specialties so that each specialty would be represented. The intent of the panel process was to capture each participant's independent judgment based on the discussion and his or her clinical experience. Following the discussion, each participant rated the work for the procedure. Ratings were individual and confidential, and there was no attempt to achieve consensus among the panel members.

We then analyzed the ratings based on a presumption that the interim RVUs were correct. To overcome this presumption, the inaccuracy of the interim RVUs had to be apparent to the broad range of physicians participating in each panel.

Ratings of work were analyzed for consistency among the groups represented on each panel. In addition, we used statistical tests to determine whether there was enough agreement among the groups of the panel and whether the agreed-upon RVUs were significantly different from the interim RVUs published in Addendum C of the December 2002 final rule. We did not modify the RVUs unless there was a clear indication for a change. If there was agreement across groups for change, but the groups did not agree on what the new RVUs should be, we eliminated the outlier group and looked for agreement among the remaining groups as the basis for new RVUs. We used the same methodology in analyzing the ratings that we first used in the refinement process for the 1993 physician fee schedule. The statistical tests were described in detail in the November 25, 1992 final rule (57 FR 55938).

Our decision to convene multispecialty panels of physicians and to apply the statistical tests described above was based on our need to balance the interests of those who commented on the work RVUs against the redistributive effects that would occur in other specialties.

We also received comments on RVUs that were interim for 2003, but for which we did not submit the RVUs to the panel for review for a variety of reasons. These comments and our decisions on those RVUs commented upon are discussed in further detail below.

The table below lists those interim codes reviewed under the refinement panel process described in this section. This table includes the following information:

• CPT Code. This is the CPT code for a service.

• Description. This is an abbreviated version of the narrative description of the code.

• 2003 Work RVU. The work RVUs that appeared in the December 2002 rule are shown for each reviewed code.

• Requested Work RVU. This column identifies the work RVUs requested by commenters.

• 2004 Work RVU. This column contains the final RVUs for physician work. (These work RVUs may differ from the work RVUs in Addenda B that reflect the adjustment to work RVUs to match the MEI weights.)

Table 4.—Codes Reviewed Under the Refinement Panel Process
CPT code ¹ | Mod | Descriptor | 2003 work RVU | Requested work RVU | 2004 work RVU
17310 |  | Mohs any stage > 5spec each | 0.62 | 0.95 | 0.95
43219 * |  | Esophagus endoscopy | 2.80 |  | 2.80
43256 * |  | Uppr gi endoscopy w stent | 4.35 |  | 4.35
44383 * |  | Ileoscopy w/stent | 2.94 |  | 2.94
45340 |  | Sig w/balloon dilation | 1.66 | 1.96 | 1.89
51798 |  | Us urine capacity measure | 0.00 | 0.38 | 0.00
75954 |  | Illiac aneurysm endovas rpr | 1.36 | 2.93 | 2.25
92613 |  | Endoscopy swallow tst (fees) | 0.00 | 0.99 | 0.71
92615 |  | Eval laryngoscopy sense test | 0.00 | 0.88 | 0.63
92617 |  | Interprt fees/laryngeal test | 0.00 | 1.10 | 0.79
¹ All CPT codes and descriptions copyright 2003 American Medical Association. All rights are reserved and applicable FARS/DFARS clauses apply.
* The work RVUs for these codes were revised for 2003 by CMS to finalize outstanding issues related to the five-year review of the gastroenterology codes.

2. Interim 2003 Codes

CPT code 17310 Chemosurgery (Mohs micrographic technique) including removal of all gross tumor, surgical excision of tissue specimens, mapping, color coding of specimens, microscopic examination of specimens by the surgeon, and complete histopathological preparation including the first routine stain (e.g. hematoxylin and eosin, toluidine blue); each additional specimen after the first 5 specimens, fixed or fresh tissue, any stage (List separately in addition to code for primary procedure).

Prior to 2003, this code was reported once for all specimens over five generated during a particular stage of Mohs surgery. Beginning in 2003, the code is used to report each specimen over five during a particular stage of Mohs surgery. The RUC recommended maintaining 0.95 work RVUs for this code as an interim value. We disagreed and assigned a work value of 0.62 work RVUs to this code pending further recommendations from the RUC. We believed this value was appropriate for the new descriptor since it allows reporting of CPT code 17310 for each specimen rather than reporting once for all specimens. It also places this code in the correct rank with the other Mohs surgery services, CPT codes 17304-17307, and with the codes for pathology consultation during surgery, CPT codes 88331 and 88332.

Commenters disagreed with the rationale we had used to arrive at the interim work value and indicated that we used inappropriate time/intensity data and failed to include surgery work, focusing only on pathology work. Commenters also stated that the intent of this code has not changed and that CMS had ignored past policy which recognizes CPT code 17310 as an add-on service and thus allows the separate billing of services for each additional specimen beyond the first five. Based on these comments, we referred this code to the multispecialty validation panel for review.

Final decision: As a result of the statistical analysis of the 2003 multispecialty validation panel ratings, we have assigned 0.95 work RVUs to CPT code 17310.

CPT Code 38204 Management of recipient hematopoietic progenitor cell donor search and cell acquisition.

We disagreed with the RUC recommendation of 2.00 work RVUs for CPT code 38204. We believed we are already making payment for any physician work associated with this service as part of our payment for other bone marrow transplant codes (that is, CPT codes 38205, 38206, 38240, 38241, and 38242) and have significant concerns about how this code would be used in actual practice. Therefore, we assigned CPT code 38204 a status indicator of “B,” meaning that we will not make separate payment for this service.

Comments: Some commenters urged us to reconsider the RUC recommendation. In addition, the RUC submitted a comment disagreeing with our contention that the physician work associated with this code is included in other transplant codes. The RUC also asserted that discussions of this issue at the RUC meetings provided substantive information on how this code would be used.

Response: We continue to believe that the work of this service is contained in other transplant codes and are maintaining the status indicator of “B.” Therefore, we will not make separate payment for this service.

CPT Codes 43219 Esophagoscopy, rigid or flexible; with insertion of plastic tube or stent, 43256 Upper gastrointestinal endoscopy including esophagus, stomach, and either the duodenum and/or jejunum as appropriate; with transendoscopic stent placement (includes predilation), and 44383 Ileoscopy, through stoma; with transendoscopic stent placement (includes predilation).

As explained in the December 31, 2002 final rule, the work RVUs for these codes were revised by CMS to finalize outstanding issues related to the five-year review of the gastroenterology codes. For CPT code 43219, we maintained the work RVU of 2.80. Review of information supplied by specialty societies did not provide compelling evidence that the work RVUs should be changed. Based on a review of the physician time data and a comparison to other stent placement codes, we assigned 4.35 work RVUs to CPT code 43256 and 2.94 work RVUs to CPT code 44383, in order to place these services in proper rank order to the other stent placement codes.

Comment: Some commenters felt that we improperly intervened in assigning work RVUs to these services albeit to correct rank order anomalies. Based on these comments we referred these codes to the multispecialty validation panel for review.

Response: As a result of the statistical analysis of the 2003 multispecialty validation panel ratings, we are retaining work RVUs of 2.80 for CPT code 43219, 4.35 for CPT code 43256 and 2.94 for CPT code 44383.

CPT code 45335 Sigmoidoscopy, flexible; with directed submucosal injections any substance.

The RUC recommended work RVUs of 1.46 for CPT code 45335 based on a comparison to CPT code 45330, with incremental work RVUs added to reflect increased pre-, intra-, and post-service work. We disagreed with the RUC recommendation and compared this service to the analysis and recommendation provided by the RUC for CPT code 43201, which is also a new submucosal injection code. Based on the increased risk of complications (resulting in higher intra-service intensities) and the fact that several sites are being injected instead of one, we assigned a work RVU of 1.36 to CPT code 45335.

Comment: Some commenters expressed concern about the rejection of the RUC recommendation for this service and believed that we had misinterpreted the RUC findings.

Response: Upon further review and consideration of the RUC recommendation we will accept the RUC recommended work RVU of 1.46 for this service.

CPT Code 45340 Sigmoidoscopy, flexible; with dilation by balloon, each stricture.

The RUC recommended a work RVU of 1.96 for this code, which includes 1.00 RVU for the incremental work based on the need for conscious sedation to perform this procedure. (Other flexible sigmoidoscopies do not require conscious sedation.) In the December 31, 2002 rule we stated that we did not believe it is appropriate to assign a work RVU for CPT code 45340 that is based on the presumption that a portion of the work value is for the provision of conscious sedation. Rather, we compared the RUC recommendations for work and physician time for other endoscopic dilation codes to the incremental times for CPT code 45340 and assigned a work RVU of 1.66 to CPT code 45340.

Comment: Some commenters urged us to accept the RUC recommendation, noting that our characterization of RUC recommendations on conscious sedation was inaccurate. The commenters stated that the RUC has concluded that there is an increase in the amount of physician work relating to conscious sedation, but has been unable to identify a specific numerical value for that additional increment. The RUC is in the process of determining the universe of codes that include conscious sedation as an inherent part of the service provided by the operating physician to ensure these services are appropriately valued. Based on these comments we referred this code to the multispecialty validation panel for review.

Response: As a result of the statistical analysis of the 2003 multispecialty validation panel ratings, we have assigned 1.89 work RVUs to CPT code 45340.

CPT Code 51798 Measurement of post-voiding residual urine and/or bladder capacity by ultrasound, nonimaging.

The RUC recommended 0.38 work RVUs based on a urology survey that reported that this procedure is performed 75 percent of the time by the physician and also based on a comparison of this procedure to CPT code 76857, Ultrasound, pelvic (nonobstetric, B-scan and/or real time with image documentation; complete. We disagreed. This code is replacing a HCPCS level two code that was assigned 0.00 work RVUs because it is typically performed by a nurse or other clinical staff. We believed that CPT code 51798 is, therefore, also a nonphysician service and assigned 0.00 work RVUs to this service.

Comment: Some commenters requested that we reconsider our decision to assign 0.00 work RVUS to this service. The commenters argued that our reason for disagreeing with the RUC recommendation is based on a stated belief that there is no physician work involved, not on actual survey data as presented by the American Urological Association (AUA) and accepted by the RUC. Commenters urged that CMS work with AUA to review this decision or include this code as part of the multi-specialty validation panel for refinement of work RVUs. Based on these comments, we referred this code to the multispecialty validation panel for review.

Response: As a result of the statistical analysis of the 2003 multispecialty validation panel ratings, we will retain 0.00 work RVUs for CPT code 51798.

CPT Codes 58545-58554 Laproscopic hysterectomy/myonectomy procedures.

We accepted the RUC recommendations for work RVUs for these services.

Comment: Some commenters stated that new values have been established for these services based on new survey data and that the RUC has new recommendations for these services. In their comments on the December 31, 2002 rule, the RUC included these new work RVU recommendations and urged us to review these during the refinement process.

Response: We are in agreement with the RUC recommended values for these services. However, to provide an opportunity for public comment we are including these in the RUC Recommendations for New and Revised codes for 2004 (table xx) and will consider the RVUs interim for 2004.

CPT code 75954 Endovascular graft placement for repair of iliac artery (e.g. aneurysm, pseudoaneurysm, ateriovenous malformation, trauma) radiological supervision and interpretation.

The RUC agreed with the specialty societies and recommended a value of 2.93 work RVUs based on comparing this code to CPT codes 75952, Endovascular repair of infrarenal abdominal aortic anuerysm or dissection, radiological supervision and interpretation, (work RVU of 4.5) and 75953, Placement of proximal or distal extension prosthesis for endovascular repair of infra renal abdominal aortic aneurysm, radiological supervision and interpretation, (work RVU of 1.36). The recommended RVU was midway between the RVUs of the reference procedures. We did not agree with the RUC recommendation. Based on the specialty societies' description of the work of CPT code 75954 (which is virtually identical to the description of the work for CPT code 75953) and in order to maintain correct rank order in this family of codes, we assigned a work RVU of 1.36 to CPT code 75954.

Comment: Some commenters expressed concern about the rejection of the RUC recommendation, particularly since the recommendation was based on data presented by several specialty societies. The commenters stated that the data reflected the proper rank order of this service and indicated that physicians in those specialties that perform ileac aneurysm endorepair may be in a better position to judge the relationship of this code to other imaging services. Based on these comments, we referred this code to the multispecialty validation panel for review.

Response: As a result of the statistical analysis of the 2003 multispecialty validation panel ratings, we have assigned 2.25 work RVUs to CPT code 75954.

CPT code 92610 Clinical Evaluation of swallowing function.

In the December 2002 final rule, this CPT code replaced HCPCS code G0195, which had a work RVU of 1.50 in 2002. The Healthcare Professionals Advisory Committee (HCPAC) recommendation of a work RVU of 0.00 for CPT code 92610 was accepted by CMS.

Comment: Some commenters representing the long term care industry expressed concern with the reduction in work for this service. The rule provided no explanation of the HCPAC recommendation of 0.00 work RVUs for this service and the commenters requested that this issue be addressed.

Response: As requested by the commenters, a discussion of the HCPAC recommendation of 0.00 work RVUS was provided as part of the multispecialty validation panel, which was attended by the commenters.

CPT codes 92613 Flexible fiberoptic endoscopic evaluation of swallowing by cine or video recording; physician interpretation and report only, 92615 Flexible fiberoptic endoscopic evaluation, laryngeal sensory testing by cine or video recording; physician interpretation and report only, and 92617 Flexible fiberoptic endoscopic evaluation of swallowing and laryngeal sensory testing by cine or video recording; physician interpretation and report only.

We did not accept the RUC recommendations for work RVUs for these services (0.99 for 92613, 0.88 for 92615 and 1.10 for 92617) and assigned each of these CPT codes a work RVU of 0.00. We stated that these three services refer only to a separately identified physician review and interpretation of the fiberoptic endoscopic evaluation and that we consider this physician interpretation and report bundled into an E/M service. We stated that the physician who does not perform the testing should only bill for the patient when performing an E/M service, not as the supervisor of another professional performing and reviewing the initial fiberoptic endoscopic evaluation. The interpretation is an integral part of the testing itself and, if a nonphysician professional has the credentials and experience to perform this testing, then that professional should also provide the interpretation of the findings.

Comment: Some commenters urged us to reconsider the RVUs and payment policies related to these services and to accept the RUC recommendations for these codes. The commenters asserted that the physician's detailed frame-by-frame analysis of the video recorded procedure needed to develop the diagnosis and report following this testing is not related to an E/M service. Rather, this is similar to other services where there is a report and interpretation by the physician that is separate from an E/M service. The commenters further stated that the RUC valued each procedure code and physician interpretation and report code separately, based on the coding structure created by CPT. As a result, the interpretation and reporting is separated from each test, and the RUC recommendations do not combine the interpretation with the testing. If the code were to combine the work of interpretation and the testing then the code descriptor would need to be modified and work RVUs revalued. As a final point, commenters disputed our assertion that a nonphysician professional with the credentials and experience to perform this testing should also provide the interpretation of the findings. Based on these comments we referred this code to the multispecialty validation panel for review.

Response: As a result of the statistical analysis of the 2003 multispecialty validation panel ratings, we have assigned 0.71 work RVUs to CPT code 92613; 0.63 work RVUs to CPT code 92615; 0.79 work RVUs to CPT code 92617.

In the December 31, 2002 final rule (67 FR 79966), we also responded to the RUC recommendations on the practice expense inputs for the new and revised CPT codes for CY 2003. There were no comments received on these and therefore we are finalizing our proposals.

Late RUC Recommendations

As we indicated in the August 15, 2003 proposed rule, RUC recommendations for RVUs for 23 new CPT codes for 2003 were received too late for incorporation in the December 31, 2002 final rule. We proposed interim RVUs for these codes and, as with all interim values, these were subject to comment. In their comments on the December 2002 final rule, the AMA-RUC requested that we consider their late recommendations for these codes during refinement. Several specialties also requested that we consider the late RUC recommendations. We had considered addressing these as part of the refinement process, but determined that we should follow the process used for all RUC recommendations and solicit public comment on the valuation of these services. Therefore, we are including the RVUs for codes listed in the table below, along with the codes that are new and revised for 2004, as interim for 2004. Following is a discussion of those codes for which did not accept the RUC recommendation.

Table 5.—2003 Late RUC Recommendations
CPT code ¹ | Short descriptor | CMS assigned 2003 work RVU | RUC recommendation | CMS decision | 2004 work RVU
21030 | Excise max/zygoma b9 tumor | 3.89 | 4.50 | Agree | 4.50
21040 | Removal of jaw bone lesion | 3.89 | 4.50 | Agree | 4.50
21742 | Repair sternum/nuss w/o scope | (²) | (²) | Agree | (²)
21743 | Repair sternum/nuss w/o scope | (²) | (²) | Agree | (²)
36511 | Apheresis wbc | 1.74 | 1.74 | Agree | 1.74
36512 | Apheresis rbc | 1.74 | 1.74 | Agree | 1.74
36513 | Apheresis platelets | 1.74 | 1.74 | Agree | 1.74
36514 | Apheresis plasma | 1.74 | 1.74 | Agree | 1.74
36515 | Apheresis, adsorp/reinfuse | 1.74 | 1.74 | Agree | 1.74
36516 | Apheresis, selective | 1.74 | 1.22 | Agree | 1.22
38207 (Lab Codes) | Cryopreserve stem cells | (³) | 0.47 | Disagree | (⁴)
38210 (Lab Codes) | T-cell depletion of harvest | (³) | 0.94 | Disagree | (⁴)
38211 (Lab Codes) | Tumor cell deplete of harvest | (³) | 0.71 | Disagree | (⁴)
38212 (Lab Codes) | Rbc depletion of harvest | (³) | 0.47 | Disagree | (⁴)
38213 (Lab Codes) | Platelet deplete of harvest | (³) | 0.24 | Disagree | (⁴)
38214 (Lab Codes) | Volume deplete of harvest | (³) | 0.24 | Disagree | (⁴)
38215 (Lab Codes) | Harvest Stem cell concentrate | (³) | 0.55 | Disagree | (⁴)
93784 | Ambulatory BP monitoring | 0.17 | 0.38 | Agree | 0.38
93786 | Ambulatory BP recording | 0.00 | 0.00 | Agree | 0.00
93788 | Ambulatory BP analysis | (⁵) | 0.00 | Agree | 0.00
93790 | Review/report BP recording | 0.17 | 0.38 | Agree | 0.38
¹ All CPT codes and descriptions copyright 2003 American Medical Association. All rights are reserved and applicable FARS/DFARS clauses apply.
² Carrier Priced.
³ Assigned Status Indicator of “I”.
⁴ Maintain Status Indicator of “I”.
⁵ Assigned Status Indicator of “N”

Note : CPT codes 38208, 38209 and 95990 are addressed later in this section (new and revised codes for 2004)and are also included in table 4. Also these work RVUs may differ from the work RVUs in Addenda B and C that reflect the adjustment to match the MEI weights.

CPT codes 38207 Transplant preparation of hematopoietic progenitor cells; cryopreservation and storage, 38210 Transplant preparation of hematopoietic progenitor cells; specific cell depletion within harvest, T-cell depletion, 38211 Transplant preparation of hematopoietic progenitor cells; tumor cell depletion, 38212 Transplant preparation of hematopoietic progenitor cells; red blood cell removal, 38213 Transplant preparation of hematopoietic progenitor cells; platelet depletion, 38214 Transplant preparation of hematopoietic progenitor cells; plasma (volume) depletion, 38215 Transplant preparation of hematopoietic progenitor cells; cell concentration in plasma, mononuclear, or buffy coat layer.

We continue to have the same concerns as outlined in the December 31, 2002 final rule (67 FR 80007) with respect to moving these codes off of the laboratory fee schedule. We are maintaining a status indicator “I” for these services making them not valid for Medicare purposes.

CPT Codes 93784 Ambulatory blood pressure monitoring, utilizing a system such as magnetic tape and/or computer disk, for 24 hours or longer; including recording, scanning analysis, interpretation and report, 93786 Ambulatory blood pressure monitoring, utilizing a system such as magnetic tape and/or computer disk, for 24 hours or longer; recording only, 93788 Ambulatory blood pressure monitoring, utilizing a system such as magnetic tape and/or computer disk, for 24 hours or longer; scanning analysis with report, and 93790 Ambulatory blood pressure monitoring, utilizing a system such as magnetic tape and/or computer disk, for 24 hours or longer; physician review with interpretation and report.

The RUC recommendations for these codes were received too late for inclusion in the 2003 final rule. We had established the following work RVUs for these services during 2002 in response to a national coverage determination: CPT code 93784-0.17 work RVUs; 93786-0.00 work RVUs; 93790-0.17 work RVUs and had indicated that CPT code 93788 was not covered. We stated we would maintain these work RVUs until we receive a RUC recommendation.

Comment: Some commenters urged us to consider the RUC recommendations during the refinement process and also questioned the noncovered status of CPT code 93788. CPT codes 93786 and 93788 are two separate codes for the technical component and the coding format is identical to the coding used for Holter monitoring, which also has two codes for the TC of the service. Commenters also requested that CPT code 93788 be listed as a covered service.

Response: We are accepting the RUC recommendation of 0.38 work RVUs for CPT codes 93784 and 93790 and 0.00 work RVUs for CPT code 93786. We have reviewed the issue of noncoverage of CPT code 93788 and based upon the information provided by the commenters will recognize CPT code 93788 for coverage and payment under the physician fee schedule. We are also accepting the RUC recommendation of 0.00 for CPT code 93788.

We received the following comments on HCPCS codes established in the December 31, 2002 final rule.

GO262 Small intestinal imaging; intraluminal, from ligament of Treitz to the ileocecal valve, includes physician interpretation and report.

We created this code to describe a new diagnostic test for which we will make separate payment under the physician fee schedule. We assigned a work RVU of 2.12 to the code based on a comparison to the work of other diagnostic tests and procedures that require review of significant amounts of data.

Comment: Some commenters stated that that the time we used to establish the work RVU was greatly underestimated and may have been based on a misunderstanding of some of the time data contained in published literature. Based on limited survey data of physicians performing this procedure and comparison to the intensity of other services, commenters recommended a work RVU of 7.80.

Response: We are deleting HCPCS code G0262 since there is a new CPT code 91110, Gastrointestinal tract imaging, intraluminal (e.g., capsule endoscopy), esophagus through ileum, with physician interpretation and report, which will be used to report this service in 2004. We note that we accepted the RUC recommendation of 3.65 work RVUs for CPT 91110. If the commenters do not agree with the valuation of this service they may submit comments on this issue.

GO268 Removal of impacted cerumen (one or both ears) by physician on same date of service as audiologic function testing.

This code was created to allow payment to a physician who removes impacted cerumen on the same date as his or her employed audiologist performs audiologic function testing. We noted that routine removal of cerumen is not paid separately, because it is considered to be part of the procedure with which it is billed (for example, audiologic function testing). This code is to be used only in those unusual circumstances when an employed audiologist who bills under a physician uniform provider identifier number (UPIN) performs audiologic function testing on the same day as removal of impacted cerumen requiring physician expertise for removal. This code should not be used when the audiologist removes cerumen, because removal of cerumen is considered to be part of the diagnostic testing and is not paid separately.

Comment: Commenters stated that creation of this G code was problematic because there could be many other “incident to” services in which a physician performs a separate medically necessary procedure, that, if less extensive, would be considered to be included in a nonphysician provider service. The commenters suggested that a modifier could be used to describe this situation, avoiding the creation of a G code.

Response: We disagree and believe that this is a unique situation that is most appropriately handled through the use of a G code.

GO269 Placement of occlusive device into either a venous or arterial access site, post surgical or interventional procedure (e.g., angioseal plug, vascular plug.)

We created this code due to the inappropriate reporting of this service with codes for such procedures as “blood vessel repair” and “repair of arterial pseudoaneurysm”, and indicated that there would be no separate payment for this service as the work, practice expense, and malpractice risk is included in the main invasive procedure.

Comment: Commenters disagreed with the creation of this G code because it is intended to report a service that is a required component of another service and believed that the creation of this code may lead to the creation of many codes for reporting inclusive procedures separately. Some commenters suggested that the creation of parenthetical instructions in CPT to instruct that “referenced procedures (i.e., blood vessel repair, repair of arterial pseudoaneurysm) would not be appropriately reported in addition to the interventional vascular procedure” would address our concerns. Other commenters disagreed with our assertion that closure devices are included in the practice expense payment, as such devices are not typically used in every interventional or surgical case. Commenters suggested this code be a technical component service only and have RVUs commensurate with the cost of the device.

Response: As we indicated in the December 31, 2002, final rule, this code was created to address a specific concern about inappropriate reporting of this service using such procedures as “blood vessel repair” and “repair of arterial pseudoaneurysm.” Since this service is considered part of the main invasive procedure, to the extent this is typically part of the invasive procedure, it is accounted for under the practice expense methodology. We will continue to consider this code bundled for Medicare purposes, that is, no separate payment will be made under the physician fee schedule.

GO272 Naso/oro gastric tube placement, requiring physician's skill and fluoroscopic guidance (includes fluoroscopy, image documentation and report)

We indicated we were creating this code for use until an identical CPT code can become effective. We assigned this code a work RVU of 0.32.

Comment: Commenters disagreed with the 0.32 value assigned to this service and recommended that we replace the work RVUs with the RUC recommended work value for CPT code 43752.

Response: We are deleting HCPCS code G0272 and CPT code 43752, Naso-or oro-gastric tube placement, requiring physician's skill and fluoroscopic guidance (includes fluoroscopy, image documentation and report), will be used to report this service.

GO273 Radiopharmaceutical biodistribution, single or multiple scans on one or more days, pre-treatment planning for radiopharmaceutical therapy of non-Hodgkin's lymphoma, includes administration of radiopharmaceutical (e.g., radiolabeled antibodies) and GO274 Radiopharmaceutical therapy, non-Hodgkin's lymphoma, includes administration of radiopharmaceutical (e.g., radiolabeled antibodies)

We created G0273 to describe radionuclide scanning to determine the biodistribution of Zevulin. We assigned 0.86 work RVUs to this code based on a comparison to CPT code 78802, Radiopharmaceutical localization of tumor; whole body. We established G0274 to allow appropriate reporting of this new service and assigned a work RVU of 2.07 to this code.

Comment: Commenters urged us to reevaluate the RVUs assigned to these codes and expressed concern that a lack of understanding about this service has led to its inappropriate valuation. Additionally, commenters requested that we present these codes to the AMA for consideration by the CPT Editorial Panel and RUC.

Response: We are deleting HCPCS codes G0273 and G0274. CPT codes 79403, Radiopharmaceutical therapy, radiolabeled monoclonal antibody by intravenous infusion, and 78802, Radiopharmaceutical localization of tumor or distribution of radiopharmaceutical agent(s); whole body single day imaging, will be used to report these services.

GO275 Renal artery angiography (unilateral or bilateral) performed at the time of cardiac catheterization, includes catheter placement in the renal artery, injection of dye, flush aortogram and radiologic supervision and interpretation and production of images (List separately in addition to primary procedure) and GO278 Iliac artery angiography performed at the same time of cardiac catheterization, includes catheter placement, injection of dye, radiologic supervision and interpretation and production of images (List separately in addition to primary procedure)

We created these add-on codes to assure proper reporting of and payment for renal and iliac angiography performed at the time of cardiac angiography. We determined the work value of 0.25 for these two add-on procedures by using the work values for CPT codes 75625, Aortography, abdominal, by serialography, radiological supervision and interpretation and 93544 Injection procedure during cardiac catherization; for aortography and adjusting for the procedure time.

Comment: Commenters suggested that, if the true intention for the creation of G0275 was to assure correct coding of selective renal angiography performed in conjunction with cardiac catheterization, the RVUs are too low and not commensurate with the work associated with selective unilateral and/or bilateral renal angiography. However, if CMS” intention for G0275 is non-selective renal angiography, then this should be stated clearly in the code descriptor. Commenters also considered the work RVUs assigned to G0278 to be too low. If G0278 is meant to be a selective procedure, then the work RVU should take into consideration the selective catheterization codes (CPT codes 36425 and 36425) and associated imaging codes (CPT codes 75710 and 75716).

Response: As announced in Program Memorandum, Transmittal AB-03-119, Change Request 2853) issued August 8, 2003, the descriptors for these two services specify that they apply to non-selective angiography and have been revised as follows:

GO275 Renal artery angiography, non-selective, one or both kidneys, performed at the time of cardiac catheterization and/or coronary angiography, includes positioning or placement of any catheter in the abdominal aorta at or near the origins (ostia) of the renal arteries, injection of dye, flush aortogram, production of permanent images, and radiologic supervision and interpretation (List separately in addition to primary procedure). and

GO278 Iliac and/or femoral artery angiography, non-selective, bilateral or ipsilateral to catheter insertion, performed at the same time as cardiac catheterization and/or coronary angiography, includes positioning or placement of the catheter in the distal aorta or ipsilateral femoral or iliac artery, inkjecton of dye, production of permanent images, and radioogic supervision and interpretation (List separately in addition to primary procedure). We will be retaining the work RVU of 0.25 for these two codes.

GO279 Extracorporeal shock wave therapy; involving elbow epicondylitis

GO280 Extracorporeal shock wave therapy; involving other than elbow epicondylitis or plantar fascitis

In the December 31, 2002 final rule we incorrectly established RVUs for CPT code 0020T, Extracorporeal shock wave therapy; involving musculoskeletal system, which is an emerging technology code and also created two new HCPCS codes (G0279 and G0280) with payments based on our valuation of this CPT code. In the August 15, 2003 proposed rule we also requested additional information on these services.

Comment: Commenters on the December 2002 rule indicated that assignment of RVUs for CPT code 0020T is contrary to national policy established in the November 1, 2001 (66 FR 55269) final rule. They also indicated that the assumptions used to assign RVUs to these services were incorrect and undervalued these services.

Response: In a correction notice published May 30, 2003 (68 FR 32400) we indicated that we had incorrectly assigned RVUs to these services and they would be carrier priced.

Comment: Commenters on the December 2002 rule expressed concern that the G codes were not reflective of the changes in technology and FDA approval of ESWT. Commenters also disagreed with our categorization and portrayal of CPT 0020T as a procedure similar to other physical therapy modalities. Commenters urged us to correct and clarify that CPT 0020T is not physical therapy service but a physician procedure and thus should be removed from the list of codes identifying certain designated health services.

Response: We understand that this is a changing technology and believe the current descriptors accommodate these changes. We are removing CPT 0020T from the list of designated health services in Addendum F since we agree that, at this time, this service is predominantly performed by medical specialties such as orthopedists and podiatrists.

Comment: Commenters on the August 15, 2003 proposed rule urged us to continue to have these services priced by the carrier and expressed concern that our request for additional information indicated we would be establishing national payment amounts for these services. In addition, several physicians provided information on how this service is used in their offices, including cost information as well as a description of the procedure. Some commenters recommended that separate G codes be established to differentiate between the high and low energy levels that are currently used, as this impacts the treatment protocols as well as the resources used in these procedures.

Response: The purpose for soliciting information in the proposed rule was to gain a better understanding of the use of the various systems as well as the resources involved with this procedure. We appreciate the information the commenters provided and will continue to review this issue to determine if coding changes are warranted. We are retaining the current codes, G0279, G0280 and CPT code 0020T under the fee schedule and these will continue to be carrier priced. We believe this will enable the carriers to make appropriate payment for these services based on resources used. In addition, as previously discussed, we are removing CPT code 0020T from the list of designated health services in Addendum F.

GO288 Reconstruction, computed tomographic angiography of aorta for surgical planning for vascular surgery.

We created this code, which is a technical component code, to assure accurate reporting of this service by independent diagnostic testing facilities (IDTFs) that perform this service. This service includes receipt of a Computed Tomographic Angiogram (CTA), post-CTA processing using specialized software, and burning the 3D model onto a CD and returning it to the operating surgeon. This 3D only model is used to assist vascular surgeons in planning for, or monitoring the results of, endovascular aneurysm repair. The service is a technical service provided under the general supervision of a physician according to the supervision requirements for IDTFs.

Comment: Commenters requested clarification on whether this code could be used for the treatment planning both prior to surgery as well as for post-surgical monitoring. They also indicated that it should be expanded to include the use of enhanced computed tomography scans or magnetic resonance images and not just those generated by CTA. In addition, one commenter suggested that CMS ensure that this HCPCS code is used only for those technologies that meet the following criteria: (1) The ability to perform precise modeling of multiple clinically-relevant objects; (2) the ability to generate specific measurements essential for surgical planning and follow-up; (3) built-in quality control and self-validation capabilities; (4) FDA marketing clearance for use in surgical planning and follow-up treatment; and (5) conformance to standards adopted by the International Standards of Organization (ISO).

Commenters also suggested that the payment for this code be revised so that it is more in line with the payment for these services when administered in the outpatient setting.

Response: We agree that this service can be used for treatment planning prior to surgery as well as for post-surgical monitoring and have revised the code descriptor to clarify this point. The descriptor for this code is revised as follows:

G0288 Reconstruction, computed tomographic angiography of aorta for preoperative planning and evaluation post vascular surgery.

However, we are not expanding this service to include the use of enhanced computed tomography scans or magnetic resonance, as we have not been presented with information to support its use with these other data sources. We assume that physicians providing this service will abide by the FDA labeling requirements for the specific equipment used. Payment for services under the outpatient prospective payment system is based on a different methodology than services paid under the physician fee schedule. As required by section 1848 of the Act, payment under the physician fee schedule is based on national relative value units based on resources used in furnishing the service. We believe the RVUs established for this service are reflective of the resources used, and therefore do not believe this should be carrier priced.

GO289 Arthroscopy, knee, surgical, for removal of loose body, foreign body, debridement/shaving of articular cartilage (chrondroplasty) at the time of other surgical knee arthroscopy in a different compartment of the same knee.

We created this add-on code to permit appropriate reporting of arthroscopic procedures performed in different compartments of the same knee during the same operative session. We stated that this code should be reported only when the physician spends at least 15 minutes in the additional compartment performing the procedure. It should not be reported if the reason for performing the procedure is due to a problem caused by the arthroscopic procedure itself. We noted that this code is to be used when a procedure is performed in the lateral, medial, or patellar compartments in addition to the main procedure. We assigned a work RVU of 1.48 to this code RVUs based on a comparison to CPT codes 29874, 29877 and 29870, the base procedure for this family of codes.

Comment: Commenters appreciated our efforts to address the issue of reimbursement for this procedure. However, they expressed concern about the specific reference to a 15 minute time requirement. The commenters believed that this was inappropriate because using time in this manner rewards and encourages inefficient work and penalizes efficient physicians, which ultimately has an impact on the quality of care delivered to Medicare beneficiaries.

Response: We understand the concerns expressed by the commenters and regret any confusion that the time reference may have created. This reference to time was intended as a guideline to ensure that this add-on code is used only when the procedure performed is a substantive procedure needed to produce a significant improvement in the patient's condition. Documentation supporting this should be reflected in the operative note.

Establishment of Interim Work Relative Value Units for New and Revised Physician's Current Procedural Terminology (CPT) Codes and New Healthcare Common Procedure Coding System Codes (HCPCS) for 2004 (Includes Table titled American Medical Association Specialty Relative Value Update Committee and Health Care Professionals Advisory Committee Recommendations and CMS's Decisions for New and Revised 2004 CPT Codes)

One aspect of establishing RVUs for 2004 was related to the assignment of interim work RVUs for all new and revised CPT codes. As described in our November 25, 1992 notice on the 1993 physician fee schedule (57 FR 55983) and in section III.B. of the November 22, 1996 final rule (61 FR 59505 through 59506), we established a process, based on recommendations received from the AMA's RUC, for establishing interim work RVUs for new and revised codes.

This year we received work RVU recommendations for approximately 132 new and revised CPT codes from the RUC. Our staff and medical officers reviewed the RUC recommendations by comparing them to our reference set or to other comparable services for which work RVUs had previously been established, or to both of these criteria. We also considered the relationships among the new and revised codes for which we received RUC recommendations. We agreed with the majority of the relative relationships reflected in the RUC values. In some instances, when we agreed with the relationships, we nonetheless revised the work RVUs to achieve work neutrality within families of codes. That is, the work RVUs have been adjusted so that the sum of the new or revised work RVUs (weighted by projected frequency of use) for a family will be the same as the sum of the current work RVUs (weighted by projected frequency of use). We reviewed all the RUC recommendations. We accepted approximately 95 percent and we disagreed with approximately 5 percent of the RUC recommended values. In the majority of these instances, we agreed with the relativity established by the RUC, but needed to adjust work RVUs to retain budget neutrality.

We received 2 recommendations from the HCPAC. We agreed with both of the HCPAC recommendations.

Table 5, titled “AMA RUC and HCPAC Recommendations and CMS Decisions for New and Revised 2004 CPT Codes”, lists the new or revised CPT codes, and their associated work RVUs, that will be interim in 2004. This table includes the following information:

• A “#” identifies a new code for 2004.

• CPT code. This is the CPT code for a service.

• Modifier. A “26” in this column indicates that the work RVUs are for the professional component of the code.

• Description. This is an abbreviated version of the narrative description of the code.

• RUC recommendations. This column identifies the work RVUs recommended by the RUC.

• HCPAC recommendations. This column identifies the work RVUs recommended by the HCPAC.

• CMS decision. This column indicates whether we agreed with the RUC recommendation (“agree”) or we disagreed with the RUC recommendation (“disagree”). Codes for which we did not accept the RUC recommendation are discussed in greater detail following this table. An “(a)” indicates that no RUC recommendation was provided.

• 2004 Work RVUs. This column establishes the 2004 work RVUs for physician work. These work RVUs may differ from the work RVUs in Addenda B and C that reflect the adjustments to work RVUs to match the MEI weights.

Table 6.—AMA RUC and HCPAC Recommendations and CMS Decisions for New and Revised 2004 CPT Codes
* CPT code | Mod | Description | RUC recommendation | HCPAC recommendation | CMS decision | 2004 work RVU
#20982 |  | Ablate, bone tumor(s) perq | 7.27 |  | Agree | 7.27
#21685 |  | Hyoid myotomy & suspension | 13.00 |  | Agree | 13.00
#22532 |  | Lat thorax spine fusion | 24.00 |  | Agree | 24.00
#22533 |  | Lat lumbar spine fusion | 23.12 |  | Agree | 23.12
#22534 |  | Lat thor/lumb, add'l seg | 6.00 |  | Agree | 6.00
31622 |  | Dx bronchoscope/wash | 2.78 |  | Agree | 2.78
31623 |  | Dx bronchoscope/brush | 2.88 |  | Agree | 2.88
31624 |  | Dx bronchoscope/lavage | 2.88 |  | Agree | 2.88
31625 |  | Bronchoscopy w/biopsy (s) | 3.37 |  | Agree | 3.37
31628 |  | Bronchoscopy/lung bx, each | 3.81 |  | Agree | 3.81
31629 |  | Bronchoscopy/needle bx, each | 4.10 |  | Agree | 4.10
31630 |  | Bronchoscopy dilate/fx repr | 3.82 |  | Agree | 3.82
31631 |  | Bronchoscopy, dilate w/stent | 4.37 |  | Agree | 4.37
#31632 |  | Bronchoscopy/lung bx, add'l | 1.03 |  | Agree | 1.03
#31633 |  | Bronchoscopy/needle bx add'l | 1.32 |  | Agree | 1.32
31635 |  | Bronchoscopy w/fb removal | 3.68 |  | Agree | 3.68
31640 |  | Bronchoscopy w/tumor excise | 4.94 |  | Agree | 4.94
33310 |  | Exploratory heart surgery | 18.51 |  | Agree | 18.51
33315 |  | Exploratory heart surgery | 22.37 |  | Agree | 22.37
#34805 |  | Endovasc abdo repair w/pros | 21.88 |  | Agree | 21.88
#35510 |  | Artery bypass graft | 23.00 |  | Agree | 23.00
#35512 |  | Artery bypass graft | 22.50 |  | Agree | 22.50
#35522 |  | Artery bypass graft | 21.76 |  | Agree | 21.76
#35525 |  | Artery bypass graft | 20.63 |  | Agree | 20.63
#35697 |  | Reimplant artery each | 3.00 |  | Agree | 3.00
#36555 |  | Insert non-tunnel cv cath | 2.68 |  | Agree | 2.68
#36556 |  | Insert non-tunnel cv cath | 2.50 |  | Agree | 2.50
#36557 |  | Insert tunneled cv cath | 5.10 |  | Agree | 5.10
#36558 |  | Insert tunneled cv cath | 4.80 |  | Agree | 4.80
#36560 |  | Insert tunneled cv cath | 6.25 |  | Agree | 6.25
#36561 |  | Insert tunneled cv cath | 6.00 |  | Agree | 6.00
#36563 |  | Insert tunneled cv cath | 6.20 |  | Agree | 6.20
#36565 |  | Insert tunneled cv cath | 6.00 |  | Agree | 6.00
#36566 |  | Insert tunneled cv cath | 6.50 |  | Agree | 6.50
#36568 |  | Insert tunneled cv cath | 1.92 |  | Agree | 1.92
#36569 |  | Insert tunneled cv cath | 1.82 |  | Agree | 1.82
#36570 |  | Insert tunneled cv cath | 5.32 |  | Agree | 5.32
#36571 |  | Insert tunneled cv cath | 5.30 |  | Agree | 5.30
#36575 |  | Repair tunneled cv cath | 0.67 |  | Agree | 0.67
#36576 |  | Repair tunneled cv cath | 3.19 |  | Agree | 3.19
#36578 |  | Repair tunneled cv cath | 3.50 |  | Agree | 3.50
#36580 |  | Replace tunneled cv cath | 1.31 |  | Agree | 1.31
#36581 |  | Replace tunneled cv cath | 3.44 |  | Agree | 3.44
#36582 |  | Replace tunneled cv cath | 5.20 |  | Agree | 5.20
#36583 |  | Replace tunneled cv cath | 5.25 |  | Agree | 5.25
#36584 |  | Replace tunneled cv cath | 1.20 |  | Agree | 1.20
#36585 |  | Replace tunneled cv cath | 4.80 |  | Agree | 4.80
#36589 |  | Removal tunneled cv cath | 2.27 |  | Agree | 2.27
#36590 |  | Removal tunneled cv cath | 3.30 |  | Agree | 3.30
#36595 |  | Mech remov tunneled cv cath | 3.60 |  | Agree | 3.60
#36596 |  | Mech remov tunneled cv cath | 0.75 |  | Agree | 0.75
#36597 |  | Repositoin venous catheter | 1.21 |  | Agree | 1.21
#36838 |  | Dist revas ligation, hemo | 20.63 |  | Agree | 20.63
#37765 |  | Phleb veins—extrem—to 20 | 7.35 |  | Agree | 7.35
#37766 |  | Phleb veins—extrem 20 + | 9.30 |  | Agree | 9.30
37785 |  | Ligate/divide/excise vein | 3.84 |  | Agree | 3.84
38208 |  | Thaw preserved stem cells | 0.56 |  | Disagree | 0.00
38209 |  | Wash harvest stem cells | 0.24 |  | Disagree | 0.00
43235 |  | Uppr gi endoscopy, diagnosis | 2.39 |  | Agree | 2.39
#43237 |  | Endoscopic us exam, esoph | 3.99 |  | Agree | 3.99
#43238 |  | Uppr gi endoscopy w/us fn bx | 5.03 |  | Agree | 5.03
43242 |  | Uppr gi endoscopy w/us fn bx | 7.31 |  | Agree | 7.31
43259 |  | Endoscopic ultrasound exam | 5.20 |  | Agree | 5.20
43752 |  | Nasal/orogastric w/stent | 0.82 |  | Disagree | 0.68
47133 |  | Removal of donor liver | † |  | Agree | †
#47140 |  | Partial removal, donor liver | 55.00 |  | Agree | 55.00
#47141 |  | Partial removal, donor liver | 67.50 |  | Agree | 67.50
#47142 |  | Partial removal, donor liver | 75.00 |  | Agree | 75.00
#53500 |  | Urethrlys, transvag w/scope | 12.21 |  | Agree | 12.21
#57425 |  | Laparoscopy, surg, colpopexy | 15.75 |  | Agree | 15.75
58545 |  | Laparoscopic myomectomy | 14.21 |  | Agree | 14.21
58546 |  | Laparo-myomectomy, complex | 19.00 |  | Agree | 19.00
58550 |  | Laparo-asst vag hysterectomy | 14.19 |  | Agree | 14.19
58552 |  | Laparo-vag hyst incl t/o | 16.00 |  | Agree | 16.00
58553 |  | Laparo-vag hyst, complex | 20.00 |  | Agree | 20.00
58554 |  | Laparo-vag hyst w/t/o, compl | 22.00 |  | Agree | 22.00
#59070 |  | Transabdom amnioinfus w/us | 5.25 |  | Agree | 5.25
#59072 |  | Umbilical cord occlud w/us | 9.00 |  | Agree | 9.00
#59074 |  | Fetal fluid drainage w/us | 5.25 |  | Agree | 5.25
#59076 |  | Fetal shunt placement, w/us | 9.00 |  | Agree | 9.00
#59897 | † | Fetal invas px w/us | † |  | Agree | †
#61537 |  | Removal of brain tissue | 25.00 |  | Agree | 25.00
61538 |  | Removal of brain tissue | 26.81 |  | Agree | 26.81
61539 |  | Removal of brain tissue | 32.08 |  | Agree | 32.08
#61540 |  | Removal of brain tissue | 30.00 |  | Agree | 30.00
61543 |  | Removal of brain tissue | 29.22 |  | Agree | 29.22
#61566 |  | Removal of brain tissue | 31.00 |  | Agree | 31.00
#61567 |  | Incision of brain tissue | 35.50 |  | Agree | 35.50
#61863 |  | Implant neuroelectrode | 19.00 |  | Disagree | 13.92
#61864 |  | Implant neuroelectrode, add'l | 4.50 |  | Agree | 4.50
#61867 |  | Implant neuroelectrode | 31.34 |  | Disagree | 22.96
#61868 |  | Implant neuroelectrde, add'l | 7.92 |  | Agree | 7.92
#63101 |  | Removal of vertebral boby | 32.00 |  | Agree | 32.00
#63102 |  | Removal of vertebral body | 32.00 |  | Agree | 32.00
#63103 |  | Removal vertebral body add-on | 5.00 |  | Disagree | 3.90
#64449 |  | N block inj, lumbar plexus | 3.00 |  | Agree | 3.00
#64517 |  | N block inj, hypogas plxs | 2.20 |  | Agree | 2.20
64680 |  | Injection treatment of nerve | 2.62 |  | Agree | 2.62
#64681 |  | Injection treatment of nerve | 3.55 |  | Agree | 3.55
#65780 |  | Ocular reconst, transplant | 10.25 |  | Agree | 10.25
#65781 |  | Ocular reconst, transplant | 17.67 |  | Agree | 17.67
#65782 |  | Ocular reconst, transplant | 15.00 |  | Agree | 15.00
#67912 |  | Correction eyelid w/ implant | 5.68 |  | Agree | 5.68
#68371 |  | Harvest eye tissue, alograft | 4.90 |  | Agree | 4.90
#70557 |  | Mri brain w/o dye | 2.90 |  | Agree | 2.90
#70558 |  | Mri brain w/dye | 3.20 |  | Agree | 3.20
#70559 |  | Mri brain w/o & w/dye | 3.20 |  | Agree | 3.20
75901 |  | Remove cva device obstruct | 0.49 |  | Agree | 0.49
75902 |  | Remove cva lumen obstruct | 0.39 |  | Agree | 0.39
#75998 |  | Fluoroguide for vein device | 0.38 |  | Agree | 0.38
#76082 |  | Computer mammogram add-on | 0.06 |  | Agree | 0.06
#76083 |  | Computer mammogram add-on | 0.06 |  | Agree | 0.06
#76514 |  | Echo exam of eye, thickness | 0.17 |  | Agree | 0.17
#76937 |  | Us guide, vascular access | 0.30 |  | Agree | 0.30
78800 |  | Tumor imaging, limited area | 0.66 |  | Agree | 0.66
78801 |  | Tumor imaging, mult areas | 0.79 |  | Agree | 0.79
78802 |  | Tumor imaging, whole body | 0.86 |  | Agree | 0.86
78803 |  | Tumor imaging (3D) | 1.09 |  | Agree | 1.09
#78804 |  | Tumor imaging, whole body | 1.07 |  | Agree | 1.07
79100 |  | Repeat hyperthyroid therapy | 1.32 |  | Agree | 1.32
79400 |  | Nonhemato nuclear therapy | 1.96 |  | Agree | 1.96
#79403 |  | Hematopoetic nuclear therapy | 2.25 |  | Agree | 2.25
#85396 |  | Clotting assay, whole blood | 0.37 |  | Agree | 0.37
#88112 |  | Cytopath, cell enhance blood | 1.18 |  | Agree | 1.18
88342 |  | Immunohistochemistry | 0.85 |  | Agree | 0.85
88358 |  | Analysis, tumor | 0.95 |  | Agree | 0.95
#88361 |  | Immunohistochemistry, tumor | 0.94 |  | Agree | 0.94
#91110 |  | Gi tract capsule endoscopy | 3.65 |  | Agree | 3.65
95990 |  | Spin/brain pump refil & main | 0.00 |  | Agree | 0.00
#95991 |  | Spin/brain pump refil & main | 0.77 |  | Agree | 0.77
96110 |  | Developmental test, lim | 0.00 |  | Agree | 0.00
96111 |  | Developmental test, extend | 2.60 |  | Agree | 2.60
97537 |  | Community/Work reintegration |  | 0.45 | Agree | 0.45
#97755 |  | Assistive technology assess |  | 0.62 | Agree | 0.62
(a) No Final RUC recommendation provided.
# New CPT codes.
* All CPT codes copyright 2004 American Medical Association.
† Carrier.

Table 6, which is titled “AMA RUC ANESTHESIA RECOMMENDATIONS AND CMS DECISIONS FOR NEW AND REVISED 2004 CPT CODES”, lists the new or revised CPT codes for anesthesia and their base units that will be interim in 2004. This table includes the following information:

• CPT code. This is the CPT code for a service.

• Description. This is an abbreviated version of the narrative description of the code.

• RUC recommendations. This column identifies the base units recommended by the RUC.

• CMS decision. This column indicates whether we agreed with the RUC recommendation (“agree”) or we disagreed with the RUC recommendation (“disagree”). Codes for which we did not accept the RUC recommendation are discussed in greater detail following this table.

• 2004 Base Units. This column establishes the 2004 base units for these services.

Table 7.—AMA RUC ANESTHSIA RECOMMENDATIONS AND CMS DECISIONS FOR NEW AND REVISED CPT CODES
* CPT code | Description | RUC recommendation | CMS decision | 2003 base units
00529# | ANESTH, CHEST PARTITION VIEW | 11 | Agree | 11
01173# | ANESTH, FX REPAIR, PELVIS | 12 | Agree | 12
01958# | ANESTH, ANTEPARTUM MANIPUL | 5 | Agree | 5
*All CPT codes copyright 2004 American Medical Association.
# New CPT code.

Discussion of Codes for Which There Were No RUC Recommendations or for Which the RUC Recommendations Were Not Accepted

The following is a summary of our rationale for not accepting particular RUC work RVU or base unit recommendations. It is arranged by type of service in CPT order. Additionally, we also discuss those CPT codes for which we received no RUC recommendations for physician work RVUs. This summary refers only to work RVUs or base units.

CPT code 43752 Naso- or oro-gastric tube placement, requiring physician's skill and fluoroscopic guidance (includes fluoroscopy, image documentation and report)

The RUC recommended a work RVU of 0.82 for this service based on a comparison of this procedure to CPT code 44500. While we agree that CPT code 43752 is similar in work intensity to CPT code 44500, we feel the intra-service time is more appropriately valued at the 25th percentile (15 minutes of intra-service time vs. 20 minutes of intra-service time). This reduces the total time associated with CPT code 43752 from 30 minutes to 25 minutes. We applied the ratio of the RUC recommended value of 0.82 work RVU over 30 minutes to the revised intra-service time of 25 minutes to assign 0.68 interim work RVUs for CPT code 43752.

CPT code 63103 Vertebral corpectomy (vertebral body resection), partial or complete, lateral extracavitary approach with decompression of spinal cord and/or nerve root(s) (e.g., for tumor or retropulsed bone fragments); thoracic or lumbar, each additional segment. (List separately in addition to code for primary procedure)

The RUC recommended a work RVU of 5.00 for this service based on a comparison of this procedure to CPT code 63088. It was unclear from the clinical vignettes supplied by the specialty society whether the additional corpectomy would more commonly involve the lumbar or the thoracic region of the spine. There is a significant difference in work intensity associated with the resection of an additional corpus in the thoracic region as opposed to the lumbar region. For this reason we applied the ratio of the reference service (CPT code 63088) to its primary service (CPT code 63087) to CPT code 63101 (primary service associated with CPT 63103) to assign 3.90 interim work RVUs for CPT code 63103.

CPT code 61863 Twist drill, burr hole, craniotomy, or craniectomy with stereotactic implantation of neurostimulator electrode array in subcortical site (e.g., thalamus, globus pallidus, subthalamic nucleus, periventricular, periaqueductal gray), without use of intraoperative microelectrode recording; first array and CPT code 61867 Twist drill, burr hole, craniotomy, or craniectomy with stereotactic implantation of neurostimulator electrode array in subcortical site (e.g., thalamus, globus pallidus, subthalamic nucleus, periventricular, periaqueductal gray), with use of intraoperative microelectrode recording; first array

The RUC recommended a work RVU of 19.00 for CPT code 61863 and 31.34 work RVUs for CPT code 61867. These two new CPT codes replace existing CPT code 61862 (work RVU=19.34). Although we agree with the relative relationship established by the RUC for these services, in order to retain budget neutrality, we adjusted the RUC recommended values. Thus, the recommended values were adjusted in order that the total relative values remain constant before and after the inclusion of the new CPT codes.

We assigned 13.92 work RVUs to CPT code 61863 and 22.96 work RVUs to CPT code 61867.

CPT code 38208 Transplant preparation of hematopoietic progenitor cells; thawing of previously frozen harvest, without washing and CPT code 38209 Transplant preparation of hematopoietic progenitor cells; thawing of previously frozen harvest, with washing

We continue to have the same concerns as outlined in the December 31, 2002 final rule (67 FR 80007) with respect to moving these codes from the laboratory fee schedule and thus establishing relative values under the physician fee schedule. We are maintaining a status indicator “I” for these services, making them not valid for payment under the Medicare Physician Fee Schedule.

CPT code 96111 Developmental testing extended (includes assessment of motor, language, social, adaptive, and/or cognitive functioning by standardized developmental instruments, eg Bayley Scales of Infant Development) with interpretation and report, per hour

Although we agree with the RUC recommended work RVU of 2.60 for CPT code 96111, we note that the tests under this code will no longer be paid on a per hour basis. That is, total payment for the services under CPT code 96111 is based on one hour of provision of the tests. It is our understanding that these tests can be completed typically in one hour. That is, some of the tests can be administered in less than one hour and some may require a little more than one hour, so that the average time for all of the tests works out to be one hour. Therefore, regardless of the total number of hours it takes to complete the services under CPT code 96111 or whether the services are split up and spread over a number of days, payment will be made for 96111 based on only one unit/hour at 2.6 RVUs.

Establishment of Interim Practice Expense RVUs for New and Revised Physician's Current Procedural Terminology (CPT) Codes and New Healthcare Common Procedure Coding System (HCPCS) Codes for 2004.

We have developed a process for establishing interim practice expense RVUs for new and revised codes that is similar to that used for work RVUs. Under this process, the RUC recommends the practice expense direct inputs, that is, the staff time, supplies and equipment, associated with each new code. We then review the recommendations in a manner similar to our evaluation of the recommended work RVUs.

The RUC recommendations on the practice expense inputs for the new and revised 2004 codes were submitted to us as interim recommendations. We, therefore, consider that these recommendations are still subject to further refinement by the PEAC, or by us, if it is determined that such future review is needed. We may also revisit these inputs in light of future decisions of the PEAC regarding supply and equipment packages and standardized approaches to pre- and post-service clinical staff times.

We have accepted, in the interim, almost all of the practice expense recommendations submitted by the RUC for the codes listed in the following table titled “AMA RUC and HCPAC RVU Recommendations and CMS Decisions for New and Revised 2004 CPT Codes.”

We made the following minor changes to the inputs where relevant:

• We deleted the 3-minute phone calls in the post service period to conform to our established standard for all codes with 10 and 90-day global periods.

• We also deleted equipment when individual items did not meet the minimum $500 requirement.

• We deleted certain equipment items that represent indirect, rather than direct costs, including lead shielding, lead lined radioactive waste box and lead-lined sharps box.

• We deleted the L-Block table shield because it is included in the price and description of the dose calibrator, another CPEP equipment item.

• We made minor changes to clinical labor and supplies, for several central venous access (CVA) codes in order to bring uniformity to this new family of codes.

• We assigned, on an interim basis, the clinical labor RN designation for CPT code 95991, physician administered refilling and maintenance of spinal or brain implantable pump, until the PEAC has an opportunity to review the necessity for this clinical assignment.

V. Update to the Codes for Physician Self-Referral Prohibition

A. Background

On January 4, 2001 we published in the Federal Register a final rule with comment period, “Medicare and Medicaid Programs; Physicians Referrals to Health Care Entities With Which They Have Financial Relationships” (66 FR 856). That final rule incorporated into regulations the provisions in paragraphs (a), (b) and (h) of section 1877 of the Act. Section 1877 of the Act prohibits a physician from referring a Medicare beneficiary for certain “designated health services” to a health care entity with which the physician (or a member of the physician's immediate family) has a financial relationship, unless an exception applies. In the final rule, we published an attachment listing all of the CPT and HCPCS codes that defined the entire scope of the following designated health services for purposes of section 1877 of the Act: clinical laboratory services; physical therapy services (including speech-language pathology services); occupational therapy services; radiology and certain other imaging services; and radiation therapy services and supplies.

In the January 2001 final rule, we stated that we would update the list of codes used to define these designated health services (the “Code List”) in an addendum to the annual physician fee schedule final rule. The purpose of the update is to conform the Code List to the most recent publications of CPT and HCPCS codes. The last update of the Code List was included in the December 31, 2002 physician fee schedule final rule in Addendum E and was subsequently corrected in a notice that was published in the Federal Register (68 FR 32400) on May 30, 2003.

The updated all-inclusive Code List effective January 1, 2004 is presented in Addendum F in this final rule. We intend to publish annually the all-inclusive Code List in an addendum to the physician fee schedule final rule. The updated all-inclusive Code List will also be available on our Web site at http://www.cms.hhs.gov/medlearn/refphys.asp.

B. Response to Comments

We received public comments on three issues relating to the most recent Code List. The comments and our responses are stated below.

Comment: One commenter noted that we added three new “Q” codes (Q3021, Q3022, and Q3023) for hepatitis B vaccines. Program Memorandum AB-02-185 issued on December 31, 2002 deleted these HCPCS codes. However, the Program Memorandum also reactivated the following CPT codes for hepatitis B vaccine: 90740, 90743, 90744, 90746 and 90747.

Response: The commenter is correct. We erred in adding the “Q” codes to the list of services that may qualify for an exception under 42 CFR 411.355(h) concerning exceptions for preventive screening tests, immunizations, and vaccines. This was corrected in the correction notice published on May 30, 2003 (68 FR 32400).

Comment: Some commenters objected to the addition of CPT code 0020T (Extracorporeal shock wave therapy; involving plantar fascia) to the list of physical therapy services for purposes of the physician self-referral prohibition. The commenters stated that CPT 0020T is currently a physician service involving anesthesia and therefore, should not be characterized as a physical therapy service.

Response: We agree with the commenters and have removed CPT code 0020T from the list of designated health services. Further discussion of this comment and response is included in section IV.C.2 of this preamble concerning the HCPCS codes G0279 and G0280 relating to extracorporeal shock wave therapy.

Comment: One commenter noted that the annual Code List update does not include codes for the following designated health services: Durable medical equipment and supplies; parenteral and enteral nutrients, equipment and supplies; prosthetics, orthotics and prothestic devices and supplies; home health services; outpatient prescription drugs; and inpatient and outpatient hospital services. The commenter recommended that we include the CPT and HCPCS codes for these designated health services in the annual update and in the quarterly updated Microsoft Excel spreadsheet of RVU values, global periods and supervision levels for Medicare covered-services posted on the CMS Web site. Alternatively, the commenter requested that we clarify that the Code List is not exhaustive and indicate where providers can obtain more information on the remaining categories.

Response: As explained in the January 4, 2001 final rule with comment (66 FR 923), we believe that the regulatory definitions of the designated health services at issue are sufficiently clear to permit entities and physicians to identify them readily. Moreover, some of these designated health services are not amenable to definition solely through codes. Regardless, to define these services through codes or to change the frequency of the Code List update would require a change in the text of the regulatory definitions for the various designated health services found in § 411.351. The purpose of this Code List is simply to make those ministerial changes necessary to conform the Code List to the current CPT and HCPCS code publications. Making substantive changes to the regulatory definitions is beyond the scope of this update and cannot be accomplished without first proposing the changes in a Notice of Proposed Rulemaking. Lastly, we cannot accept the commenter's suggestion that we explain that the Code List is not exhaustive because such a statement is false. The Code List is exhaustive with respect to the specific designated health services that it defines, and for the reasons noted above, we are not defining the remaining designated health services through codes.

C. Revisions Effective for 2004

Tables 7 and 8, below, identify the additions and deletions, respectively, to the comprehensive Code List last published in Addendum E of the December 2002 physician fee schedule final rule and subsequently corrected in the May 30, 2003 correction notice (68 FR 32400). Tables 7 and 8 also identify the additions and deletions to the lists of codes used to identify the items and services that may qualify for the exceptions in § 411.355(g) (regarding EPO and other dialysis-related outpatient prescription drugs furnished in or by an end-stage renal dialysis (ESRD) facility) and in § 411.355(h) (regarding preventive screening tests, immunizations and vaccines).

We will consider comments with respect to the codes listed in Tables 8 and 9 below, if we receive them by the date specified in the DATES section of this final rule.

Table 8.—Additions to the Physician Self-Referral HCPCS/CPT ¹ Codes
Clinical Laboratory Services
0058T | Cryopreservation, ovary tiss.
0059T | Cryopreservation, oocyte.
G0027 | Semen analysis.
G0306 | CBC/diffwbc w/o platelet.
G0307 | CBC without platelet.
G0328 | Fecal blood scrn immunoassay.
Physical Therapy, Occupational Therapy, and Speech-Language Pathology Services
97755 | Assistive technology assess.
Radiology and Certain Other Imaging Services
72198 | Mr angio pelvis w/o & w/dye.
76082 | Computer mammogram add-on.
76083 | Computer mammogram add-on.
76514 | Echo exam of eye, thickness.
91110 | Gi tract capsule endoscopy.
Radiation Therapy Services and Supplies
G0173 | Stereo radiosurgery, complete.
G0251 | Linear acc based stero radio.
G0338 | Linear accelerator stero pln.
G0339 | Robot lin-radsurg com, first.
G0340 | Robt lin-radsurg fractx 2-5.
Drugs Used by Patients Undergoing Dialysis
Q4054 | Darbepoetin alfa, esrd use.
Q4055 | Epoetin alfa, esrd use.
Preventive Screening Tests, Immunizations and Vaccines
76083 | Computer mammogram add-on.
90655 | Flu vaccine, 6-35 mo, im.
¹ CPT codes and descriptions only are copyright 2003 American Medical Association. All rights are reserved and applicable FARS/DFARS clauses apply.

Table 9.—Deletions to the Physician Self-Referral HCPCS/CPT ¹ Codes
Physical Therapy, Occupational Therapy, and Speech-Language Pathology Services
0020T | Extracorp shock wave tx, ft.
Q0086 | Physical therapy evaluation.
Radiology and Certain Other Imaging Services
76085 | Computer mammogram add-on.
76831 | Echo exam, uterus.
G0236 | Digital film conv.
GO262 | Sm intestinal image capsule.
Radiation Therapy Services and Supplies
G0274 | Radiopharm tx, non-Hodgkins.
Drugs Used by Patients Undergoing Dialysis
Q9920 | Epoetin with hct < = 20.
Q9921 | Epoetin with hct = 21.
Q9922 | Epoetin with hct = 22.
Q9923 | Epoetin with hct = 23.
Q9924 | Epoetin with hct = 24.
Q9925 | Epoetin with hct = 25.
Q9926 | Epoetin with hct = 26.
Q9927 | Epoetin with hct = 27.
Q9928 | Epoetin with hct = 28.
Q9929 | Epoetin with hct = 29.
Q9930 | Epoetin with hct = 30.
Q9931 | Epoetin with hct = 31.
Q9932 | Epoetin with hct = 32.
Q9933 | Epoetin with hct = 33.
Q9934 | Epoetin with hct = 34.
Q9935 | Epoetin with hct = 35.
Q9936 | Epoetin with hct = 36.
Q9937 | Epoetin with hct = 37.
Q9938 | Epoetin with hct = 38.
Q9939 | Epoetin with hct = 39.
Q9940 | Epoetin with hct > = 40.
Preventive Screening Tests, Immunizations and Vaccines
76085 | Computer mammogram add-on.
90659 | Flu vacine, whole, im.
¹ CPT codes and descriptions only are copyright 2003 American Medical Association. All rights are reserved and applicable FARS/DFARS clauses apply.

The additions specified in Table 8 generally reflect new CPT and HCPCS codes that become effective January 1, 2004 or that became effective since our last update. It also reflects the addition of codes recently recognized by Medicare for payment purposes.

Additionally, we are adding two G-codes (G0173, “Stereo radiosurgery, complete” and G0251, “Linear acc based stero radio”) to the category of radiation therapy services and supplies. These codes became effective for Medicare payment purposes in August 2000 and July 2002, respectively and should have been reflected in previous Code Lists.

Table 8 also reflects the addition of 2 new HCPCS codes (Q4054 and Q4055) to the list of dialysis-related outpatient prescription drugs that may qualify for the exception described in § 411.355(g) regarding those items. The physician self-referral prohibition will not apply to these drugs if they meet the conditions set forth in § 411.355(g). Table X also reflects the addition of a screening mammography code (CPT 76083) and a flu vaccine code (CPT 90655) to the list that identifies preventive screening tests, immunizations and vaccines that may qualify for the exception described in § 411.355(h) for such items and services. The physician self-referral prohibition will not apply to these services if they meet the conditions set forth in § 411.355(h) concerning the exception for preventive screening tests, immunizations, and vaccines.

Table 8 reflects the deletions necessary to conform the Code List to the most recent publications of CPT and HCPCS codes, as well as additional deletions that we have determined are necessary as described below.

Under the category of physical therapy, occupational therapy and speech-language pathology services, we are removing CPT code 0020T, extracorporeal shock wave therapy for plantar fascia consistent with the response to the comment discussed in section IV.C.2 and VI.B of this preamble.

Under the category of radiology and certain other imaging services, we are deleting CPT code 76831 for an echo exam of the uterus. This code should never have appeared on the Code List. Our definition of “radiology and certain other imaging services” at § 411.351 specifically excludes any x-ray, fluoroscopy or ultrasonic procedure that requires “the insertion of a needle, catheter, tube, or probe”. The type of procedure described by CPT code 76831 involves infusion tubing and should be removed from the Code List.

Under the category of radiation therapy services and supplies, we are removing HCPCS code G0274 for radiopharmaceutical therapy for non-Hodgkin's lymphoma because it is a nuclear medicine service. Our definition of “radiation therapy services and supplies” at § 411.351 specifically excludes nuclear medicine procedures. Thus, HCPCS code G0274 should never have appeared on the Code List.

VI. Physician Fee Schedule Update for Calendar Year 2004

A. Physician Fee Schedule Update

The physician fee schedule update is determined using a formula specified by statute. Under section 1848(d)(4) of the Act, the update is equal to the product of 1 plus the percentage increase in the Medicare Economic Index (MEI) (divided by 100) and 1 plus the update adjustment factor (UAF). For CY 2004, the MEI is equal to 2.9 percent (1.029). The UAF is −7.0 percent (0.930). Section 1848(d)(4)(F) of the Act requires an additional −0.2 percent (0.998) reduction to the update for 2004. Thus, the product of the MEI (1.029), the UAF (0.930), and the statutory adjustment factor (0.998) equals the CY 2004 update of −4.5 percent (0.9551).

The negative physician fee schedule update occurs under a mandatory statutory formula. The law gives us no alternative to reducing the physician fee schedule rates. Only Congress can change the law and avert a reduction in 2004 physician fee schedule rates. Without a congressional act to change the law, the Department is compelled to announce a physician fee schedule update for CY 2004 of −4.5 percent. The Department's calculations are explained below.

B. Rebasing and Revising of the Medicare Economic Index

1. Background

The Medicare Economic Index (MEI) is required by section 1842(b)(3) of the Act, which states that prevailing charge levels beginning after June 30, 1973 may not exceed the level from the previous year except to the extent that the Secretary finds, on the basis of appropriate economic index data, that a higher level is justified by year-to-year economic changes.

Beginning July 1, 1975, and continuing through today, the MEI has met this requirement by reflecting the weighted sum of the annual price changes of the inputs used to produce physicians' services. As such, the MEI attempts to be an equitable measure of price changes associated with physician time and operating expenses.

The current form of the MEI was detailed in the November 25, 1992 Federal Register (57 FR 55896) and was based in part on the recommendations of a Congressionally-mandated meeting of experts held in March 1987. Since that time, the structure of the MEI has remained essentially unchanged, with two exceptions. First, the MEI was rebased in 1998 (63 FR 58845), which moved the cost structure of the index from 1992 data to 1996 data. Second, the methodology for adjusting for productivity was revised in 2002 (67 FR 80019) to reflect the percentage change in the 10-year moving average of economy-wide multifactor productivity.

We are rebasing and revising the MEI for the 2004 physician fee schedule update. The terms “rebasing” and “revising”, while often used interchangeably, actually denote different activities. Rebasing means moving the base year for the structure of costs of an input price index, while revising means changing data sources, cost categories, or price proxies used in the input price index. As is always the case with a rebasing and revising exercise, we have attempted to use the most recently available, relevant, and appropriate information to develop the MEI cost category weights and price proxies. We detail below the updated cost weights for the MEI expense categories, our rationale for selecting the price proxies in the MEI, and the results of rebasing and revising the MEI.

2. Use of More Current Data

The MEI was last rebased and revised in 1998 for the 1999 physician fee schedule update (63 FR 58845). The base year for that version of the MEI was 1996, which means that the cost weights in the index reflect physicians' expenses in 1996. However, we believe it is desirable to periodically rebase and revise the index so that the expense shares and price proxies reflect more current conditions. For this reason, we are rebasing the MEI to reflect physicians' expenses in 2000. In addition, we are revising the cost categories in the MEI and changing three of the proxies we currently use to ensure that the index is appropriately reflecting price changes. We will continue to adjust the MEI using economy-wide multifactor productivity.

The expense categories in the rebased and revised MEI were primarily derived from the 2003 AMA Physician Socioeconomic Characteristics publication (2003 Patient Care Physician Survey data), which measures physicians' earnings and overall practice expenses for 2000. The AMA data were used to determine expenditure weights for total expenses, physicians' earnings, and malpractice expenses, the only information detailed in this survey. To further disaggregate the weights into subcategories reflecting more detailed expenses, we used data from previous AMA surveys, the 1997 Bureau of Economic Analysis Benchmark Input-Output table (I/O), the 2003 Bureau of Labor Statistics (BLS) Employment Cost Index (ECI), and the 2002 Bureau of the Census Current Population Survey (CPS).

3. Rebasing and Revising Expense Categories in the MEI

a. Developing the Weights for Use in the MEI

Developing a rebased and revised MEI requires selecting a base year and determining the number and composition of expense categories and their associated price proxies. We are rebasing the MEI to CY 2000. CY 2000 was chosen as the base year for two main reasons: (1) CY 2000 was the most recent year for which data were available from the AMA, and (2) we believed that the CY 2000 data were representative of the changing distribution of physicians' earnings and practice expenses over time.

Comment: One commenter suggested that we update the weights in the MEI to a more recent base year, possibly CY 2004. While the commenter agreed with us that there is a lack of data to do so, the commenter suggested using the price change in each of the proxies to estimate weights for 2004 as an alternative to 2000 data.

Response: We selected CY 2000 as the base year for two reasons: (1) CY 2000 data were the most recent data available from the AMA, and (2) we felt the CY 2000 data were representative of the changing distribution of physician earnings and practice expenses over time. We do not expect that the experience of the past 3 or 4 years would have a significant impact on the MEI for the CY 2004 update, particularly since changing the weights from 1996 to 2000 had such a minimal effect. In addition, the price proxies that we use capture the current price changes in each of the categories that make up the MEI.

While we agree that it would be optimal to develop MEI weights based on more recent data, we recognize the lack of data to do so. We also recognize that an alternative would be to use price changes in each of the proxies to update the weights to a more recent base year, similar to the methodology we used to develop the distribution of detailed practice expense categories in the current structure. In that case, we used price changes from 1998 to 2000 to develop weights for 2000.

However, as we indicated in the proposed rule, this method has a major drawback in that it assumes that the quantity of inputs would increase at the same rate as the price of those inputs. This may not be the case over longer time periods (for instance, 2000-2004) where there is likely to be substitution away from more costly inputs toward those which are less costly. Our experience with rebasing indexes has also shown that the weights for major categories do not change very much over time, even though the individual price changes for those categories can differ significantly. In addition, because the MEI is a Laspeyres-type index, the price changes between the base period and the current period are reflected in the relative importance of each category in determining the overall increase. Therefore, we feel that basing the index on CY 2000 data and reflecting current price changes likely represents a reasonable estimate of physicians' current experience.

We determined the number and composition of expense categories based on the criteria used to develop the current MEI and other CMS input price index expenditure weights. These criteria are timeliness, reliability, relevance, and public availability. For more information on these criteria, see the May 9, 2002 Federal Register (67 FR 31444) and the detail later in this preamble. Table 10 lists the set of mutually exclusive and exhaustive cost categories that make up the rebased and revised MEI.

Table 10.—Rebased and Revised Medicare Economic Index Expenditure Categories, Weights, and Price Proxies
Expense category | 2000—Expense weights¹ ² | 1996—Expense weights | Price proxy
Total | 100.000 | 100.000 |
Physician Earnings ³ | 52.466 | 54.460 |
Wages and Salaries | 42.730 | 44.197 | AHE—Private.
Benefits ⁴ | 9.735 | 10.263 | ECI—Ben: Private.
Physician Practice Expenses | 47.534 | 45.540 |
Nonphysician Employee Compensation | 18.653 | 16.812 |
Employee Wages and Salaries | 13.808 | 12.424 |
Prof/Tech Wages | 5.887 | 5.662 | ECI—W/S: Private P&T.
Managerial Wages | 3.333 | 2.410 | ECI—W/S: Private Admin.
Clerical Wages | 3.892 | 3.830 | ECI—W/S: Private Clerical.
Services Wages | 0.696 | 0.522 | ECI—W/S: Private Service.
Employee Benefits ⁴ | 4.845 | 4.388 | ECI—Ben: Priv. White Collar.
Other Practice Expenses | 18.129 |  |
Office Expenses | 12.209 | 11.581 | CPI(U)—Housing.
Professional Liability Insurance | 3.865 | 3.152 | CMS—Prof. Liab. Phys. Premiums.
Medical Equipment | 2.055 | 1.878 | PPI—Medical Instruments & Equip.
Pharmaceuticals and Medical Materials and Supplies | 4.319 | 4.516 |
Medical Materials and Supplies | 2.011 |  | PPI Surg. Appliances and Supplies/CPI (U) Med Supplies.
Pharmaceuticals | 2.308 |  | PPI Pharmaceutical Preparations.
Other Expenses | 6.433 | 7.601 | CPI-U All Items Less Food and Energy.
¹ Due to rounding, weights may not sum to 100.000 percent.
² Sources: Physician Socioeconomic Statistics, 2000-2002 Edition (SMS Survey), Physician Socioeconomic Statistics, 2003 Edition (PCPS Survey), Center for Health Policy Research, American Medical Association; 2003 Employment Cost Index, U.S. Department of Labor, Bureau of Labor Statistics; U.S. Department of Commerce, Bureau of Economic Analysis 1997 Benchmark Input Output Tables, and U.S. Department of Commerce, Bureau of the Census, 2002 Current Population Survey.
³ Includes employee physician payroll.
⁴ Includes paid leave.

To determine the expenditure weights for the rebased and revised MEI, we used currently available and statistically valid data sources on physician earnings and practice expenses. While we consulted numerous data sources, we used five data sources to determine the MEI expenditure weights: (1) The 2003 AMA Physician Socioeconomic Statistics (2000 survey data) for self-employed physicians, (2) the 2000-2002 AMA Physician Socioeconomic Statistics (1998 data) for self-employed physicians, (3) the March 2003 BLS Employment Cost Index, (4) the 2002 Bureau of the Census Current Population Survey, and (5) the Bureau of Economic Analysis (BEA) 1997 Benchmark Input-Output tables (I/O). No one data source provided all of the information needed to determine expenditure weights according to our criteria. The development of each of the cost categories using these sources is described in detail below.

b. Physician Earnings

The rebased and revised MEI uses AMA data on mean physician net income (physician earnings) for self-employed physicians to develop a weight for physician earnings. The weight for this expense category is based on AMA data for 2000 and is calculated as a percentage of total mean expenses (physician earnings and practice expenses, including malpractice). The physician earnings expenditure category also includes employee physician compensation. Currently, physician earnings and overhead expenses generated by employee physicians are included in the AMA practice expenses category. However, we believe it is appropriate, for our purposes, to place employee physician compensation in the MEI cost category of physician earnings. Including employee physician payroll in physician earnings in the MEI is consistent with the current payment methodologies in accordance with the physician fee schedule, where the work RVU is computed based on what service is provided and not on who provides the service. Since employee physicians perform the same services as self-employed physicians, employee physician time is reflected in the work RVU. By including the compensation of employee physicians in the physician earnings expense category, these expenses will be adjusted by the appropriate price proxies for time spent by a physician.

To obtain further detail for both wages/salaries and benefits, the ratio between these categories for 1996 (based on the 1996-based MEI) was updated to 2000 using the growth in the overall Employment Cost Index for private employees for wages/salaries and benefits. Alternative data for determining this split were not readily available from any other source. The main shortcoming of this method is that any changes in quantity and intensity (mix of physicians) are not reflected. However, faced with the lack of alternative data, we deemed this approach to be the most feasible, and the results appear to be consistent with anecdotal evidence on this ratio. Its application resulted in a wage-fringe benefit split of 81.4 and 18.6 percent, respectively, in the revised and rebased MEI compared with a wage-fringe benefit split of 81.2 and 18.8 percent, respectively, in the 1996-based MEI.

c. Physician Practice Expenses

To determine the remaining individual practice expense weights other than malpractice expense, we updated AMA expense data from 1998 to 2000 using the relative price change in an appropriate price index. After the levels were updated to 2000 values, it was necessary to normalize these levels to equal the 2000 mean total expense data provided by the 2003 AMA survey. The detailed explanations for the derivation of the individual weights are listed below.

(i) Nonphysician Employee Compensation

The cost share for nonphysician employee compensation was developed by updating the 1998 AMA Socioeconomic Survey data on nonphysician employee compensation costs for self-employed physicians to 2000, using the current proxy for this category, and dividing the resulting amount into total expenses (physician earnings plus practice expenses) for 2000 from the AMA survey. We further divided this cost share into wages/salaries and benefits using BLS Employment Cost Index data. The ECI survey contains data on the proportion of total compensation accounted for by wages/salaries and benefits (including paid leave) by private industry health services occupational category. These proportions can be used to distribute the total nonphysician employee compensation weight to wages/salaries and benefits for non-physician employees. We used 2000 data from the March 2003 publication. Although this survey does not contain data specifically for offices of physicians, data are available on wage/fringe shares for private industry health services, which include hospitals, nursing homes, offices of physicians, and offices of dentists. We believe the data for health services from the survey do provide a reasonable estimate of the split between wages and fringe benefits for employees in physicians' offices. Data for 2000 in the ECI survey for total health services indicate that wages and fringe benefits are 74.02 percent and 25.98 percent of compensation, respectively. As in the 1996-based MEI, we will use CPS data on earnings by occupation to develop cost shares for wages for nonphysician occupational groups shown in Table 6. To arrive at a distribution for these separate categories, we multiplied the overall share for nonphysician employee wages/salaries by each of the occupational proportions from the 2000 CPS. This distribution for the 1996-based and 2000-based MEI are presented in Table 10.

Table 11.—Percent Distribution of Nonphysician Payroll Expense by Occupational Group: 2000 and 1996
BLS occupational group | 2000 expenditure shares | 1996 expenditure shares
Total | 100.000 | 100.000
Professional & Technical Workers | 42.635 | 45.573
Managers | 24.138 | 19.398
Clerical Workers | 28.187 | 30.827
Service Workers | 5.040 | 4.202
¹ Due to rounding, weights may not sum to 100.000 percent.

(ii) Professional Liability Expense

The weight for professional liability expense was derived from the 2003 AMA survey (2000 data) and was calculated as the mean professional liability expense expressed as a percentage of total expenses (physician earnings plus practice expenses). This calculation resulted in a 3.865 percent share of total costs in 2000 compared to a 3.152 percent share in the 1996-based index. The increase in weight for professional liability insurance represents the increases in both premiums and the amount of coverage purchased by physicians in 2000 compared to 1996. While the weight does not reflect the cost experience for 2001 and 2002, the proxy used in the rebased and revised index does reflect the price increases associated with the recent rise in malpractice costs.

Comment: Some commenters were concerned that the rebased and revised MEI does not appropriately reflect the recent increase in professional liability insurance (PLI) premiums that physicians are experiencing.

Response: As we indicated in the proposed rule, the weights in the rebased and revised MEI reflect the distribution of physicians' costs in CY 2000 and do not reflect the more recent experience of physicians, particularly as it pertains to PLI. While it would be optimal to base the weights on more recent data, there is not a more recent, comprehensive measure that would meet our criteria for determining weights in the MEI.

We also indicated that while the weights do not reflect the more recent experience, the proxy we use to measure the price change in this category does reflect more recent price changes in premiums and is the most current data available through the second quarter of 2003. This MEI PLI data, like that used in the development of the GPCIs, does not reflect total expenditures on PLI, which would be needed to develop more current weights for the MEI. In order to develop cost weights, expenditure data for all costs facing physicians are needed.

(iii) Office, Medical Equipment, Pharmaceuticals and Medical Materials and Supplies Expenses, and Other Expenses

The 2003 AMA survey provides less detail for expenses with respect to prior years' publications. Therefore, we calculated the share of each of the above categories by updating the AMA data for 1998 to 2000 using an appropriate price proxy. The primary reason for using the price proxy was that we lacked other data to develop cost weights for each of these categories. As stated previously, the main deficiency of this method is that it does not directly account for changes in the quantity or intensity associated with these expenses. Our belief, however, was that it was important to continue using these detailed breakouts so that each would be proxied by an appropriate price index and that the quantity/intensity effects over a short period of time are not likely to be large. In fact, we have found that even over longer periods of time, the distribution of costs tends to be relatively similar.

Office expenses and medical equipment levels were moved to 2000 using the growth from 1998 to 2000 in their respective MEI price proxies. In the case of office expenses, we used the growth in the CPI-U Housing; for medical equipment expenses, we used the growth in the PPI for Medical Instruments and Equipment.

The share for pharmaceuticals (prescription drugs) and medical materials and supplies was calculated by separating out pharmaceuticals and other medical materials and supplies using 1997 BEA Benchmark Input-Output data. First, the sum of all the pharmaceuticals and medical supplies categories from the Benchmark Input-Output tables for 1997 was calculated. The share of pharmaceuticals and medical supplies was then calculated as a percentage of this total and applied to the 1997 AMA medical supplies data. These calculated levels were then aged to 2000 using the growth in an appropriate price proxy. We thought it was important and appropriate to account for each of these categories separately so that differences in relative price growth between pharmaceuticals (prescription drugs) and other medical materials and supplies would be more accurately represented. The resulting 2000 data for the two separate categories were then aggregated (summed) together to form the overall total for the share for the pharmaceuticals and medical materials and supplies category in the rebased and revised MEI. The pharmaceuticals category was aged using the Producer Price Index (PPI) for Pharmaceutical preparations and the medical materials and supplies category was updated using the PPI for surgical appliances and supplies.

Finally, the Other Expenses category was calculated as a residual (total expenses less the percentage of all categories currently accounted for). The additional detail for transportation expenses found in the 1996-based MEI was removed because the data were not readily available for measurement of a cost share for 2000. The effect on the MEI of removing the detail is negligible.

Comment: One commenter suggested for the purposes of future changes to the MEI, that CMS consider inputs that are vastly different than when the MEI was first developed, such as costs of complying with government regulatory requirements and interpreter services for patients.

Response: We thoroughly research many of the known data sources on a regular basis to determine the appropriate number of detailed categories that make up the MEI. If we determine that a different combination of inputs is needed we will revise the MEI to reflect a more current cost distribution. However, CMS does not have the detailed expenditure and price data for the types of expenditures the commenter indicated. CMS will continue to work with other outside entities in the future to ensure the MEI is as accurate and representative as possible. It should also be noted that these costs are already captured in the MEI, as all costs are captured in the index, just not separately broken out for the reasons previously stated.

4. Selection of Price Proxies for Use in the MEI

After the 2000 cost weights for the rebased and revised MEI were developed, we reviewed the current set of price proxies to determine whether they were still the most appropriate for each expenditure category. As was the case in the development of the 1996-based MEI (57 FR 55901), most of the indicators we considered are based on BLS data and are grouped into one of the following five categories:

Producer Price Indices (PPIs)

Producer price indices (PPIs) measure price changes for goods sold in other than retail markets. They are the preferred proxies for physician purchases at the wholesale level. These fixed-weight indices are a measure of price change at the producer or at the intermediate stage of production, a more likely mode of purchase for physicians.

Consumer Price Indices (CPIs)

Consumer price indices (CPIs) measure change in the prices of final goods and services purchased by consumers. Like the PPIs, they are fixed-weight. Since they may not represent the price changes faced by producers, CPIs were used if there were no appropriate PPI or if the expenditure category was similar to expenditure of retail consumers in general.

Average Hourly Earnings (AHEs)

Average hourly earnings (AHEs) are available for production and nonsupervisory workers for specific industries as well as for the nonfarm business economy. They are calculated by dividing gross payrolls for wages/salaries by total hours. The series reflects shifts in employment mix and, thus, is representative of actual changes in hourly earnings for industries or for the nonfarm business economy.

ECIs for Wages/Salaries

These ECIs measure the rate of change in employee wage rates per hour worked. These fixed-weight indices are not affected by shifts in industry or occupation employment levels and measure only the pure rate of change in wages.

ECIs for Employee Benefits

These ECIs measure the rate of change in employer costs of employee benefits, such as the employer's share of Social Security taxes, pension and other retirement plans, insurance benefits (life, health, disability, and accident), and paid leave. Like ECIs for wages/salaries, the ECIs for employee benefits are not affected by changes in industry output or occupational shifts.

When choosing wage and price proxies for each expense category, we evaluate the strengths and weaknesses of each proxy variable using four criteria. The first criterion is relevance. The price variable should appropriately represent price changes for specific goods or services within the expense category. Relevance may encompass judgments about relative efficiency of the market generating the price and wage increases.

The second criterion is reliability or low sampling variability. If the proxy wage-price variable has a high sampling variability or inexplicable erratic patterns over time, its value is greatly diminished, since it is unlikely to accurately reflect price changes in its associated expenditure category. Low sampling variability can conflict with relevance, since the more specifically a price variable is defined in terms of service, commodity, or geographic area, the higher the possibility of sampling variability.

The third criterion is timeliness of actual published data. For this reason, we prefer monthly and quarterly data to annual data. The length of time the time series data have been published is also important. A well-established time series is needed to assess the reasonableness of the series and to provide a solid base from which to forecast future price changes in the series. We need to forecast the MEI to make Federal budget and Trustees Report estimates.

The fourth criterion is public availability. We prefer to use data sources that are publicly available for our indices so that the public may track each of the individual components in the MEI.

The BLS price proxy categories previously described meet the criteria of relevance, reliability, timeliness, and public availability. Below we discuss the price-wage proxies for the rebased and revised MEI (shown in Table 5).

(a) Expense Categories in the MEI

Physician Time

In the rebased and revised MEI, we are using the AHE for the private nonfarm economy as the proxy for the physician wages/salaries component; this is the same price measure used in the 1996-based MEI. In our judgment, this proxy still most closely comports with Congressional intent as expressed in the Senate Finance Committee's 1972 report (S. Rept. No. 92-1230 at 191 (1972)). It should be noted that AHEs change in accordance with changes in the type and mix of workers.

As we discussed extensively in the November 2, 1998 final rule (63 FR 58848) and again in the December 31, 2002 final rule (67 FR 80019), we believe that the current price proxy for physicians' earnings—AHE in the nonfarm business economy—is the most appropriate proxy to use in the MEI. The AHE for the nonfarm business economy reflects the impacts of supply, demand, and economy-wide productivity for the average worker in the economy. Using this measure as the proxy for physicians' earnings ensures parity in the rate of change in wages for the average worker and those for physicians. In addition, use of this proxy is consistent with the original legislative intent that the change in the physicians' earnings portion of the MEI parallel the change in general earnings for the economy. Since earnings are expressed per hour, a constant quantity of labor input per unit of time is reflected. The use of the AHE data is also consistent with our using the BLS economy-wide multifactor productivity measures since economy-wide wage increases reflect economy-wide productivity increases.

Using the ECI for professional and technical workers or other occupational-specific wage proxies has a major shortcoming; in many instances, occupations such as engineering, computer science, and nursing have unique characteristics that are not representative of the overall economy or the physician market. Specifically, wage changes for such occupations can be influenced by excess supply or demand for these types of workers. We believe it would not be appropriate to proxy the physician earnings portion of the MEI with a wage proxy that reflects these other occupation's unique characteristics. The 2000-based MEI will use the ECI for fringe benefits for total private industry as the price proxy for physician fringe benefits, the same proxy used for the 1996-based MEI. This means that both the wage and fringe benefit proxies for physician earnings are derived from the nonfarm private sector and are computed on a per-hour basis.

Nonphysician Employee Compensation

As in the 1996-based MEI, we used Current Population Survey data on earnings and employment by occupation to develop labor cost shares for the nonphysician occupational groups shown in Table 10. BLS maintains an ECI for each occupational group, and we use these ECIs as price proxies for nonphysician employee wages in the 2000-based MEI.

The skill mix shift in employees of physician offices in the last few years has been towards managerial occupations. While these skill mix shifts are captured in the expenditure weights, they are appropriately held constant in a Laspeyres price index such as the MEI. Skill mix shifts, which may reflect the changing intensity of services provided in physicians' offices, are accounted for in the payment system outside of the MEI. The 2000-based MEI will use the ECI for fringe benefits for white collar employees in the private sector as a proxy for nonphysician benefits since most nonphysician employees in physicians' offices are white-collar employees. This is the same proxy used for the 1996-based MEI.

Office Expense

Office expenses include rent or mortgage for office space, furnishings, insurance, utilities, and telephone. We continue to use the CPI-U for housing because it is a comprehensive measure of the cost of housing, including rent, owner's equivalent rent, and the types of goods and services associated with running an office. This proxy covers about 80 percent of the population.

Pharmaceuticals and Medical Materials and Supplies

This cost category includes drugs, outside laboratory work, x-ray films, and other related services. There is not one price proxy that includes this complete mix of materials and supplies. In the absence of one index, we separately accounted for pharmaceuticals and medical materials and supplies in the 2000-based MEI.

• Medical Materials and Supplies

We equally weighted two proxies together (the PPI Surgical Appliances and Supplies and the CPI-U for Medical Equipment and Supplies) since one proxy does not accurately measure the price change associated with these types of products used nor the mode of purchase used in physicians' offices. While both indexes include such items as bandages, dressings, catheters, I.V. equipment, syringes, and other general disposable medical supplies and nonprescription equipment, the indexes reflect significant differences in the mode of purchase. The PPI measures actual transaction prices at the wholesale level, the mode most likely used by physicians, while the CPI measures prices at the retail level or the final stage of production. The price movements in these two indexes can be different and we believe that it is appropriate to combine these indexes into one proxy since physicians likely use both purchasing methods when obtaining medical supplies.

• Pharmaceuticals

The PPI for pharmaceutical preparations is used to proxy pharmaceutical prices in other CMS market baskets and reflects the price change associated with the average mix of pharmaceuticals purchased economy-wide. We use the PPI for pharmaceutical preparations, rather than the CPI for prescription drugs, because physicians generally purchase drugs directly from a wholesaler. The PPIs we use measure price changes at the final stage of production and not intermediate production, however.

Professional Liability Insurance

It is vital that the MEI accurately reflect the price changes associated with professional liability costs. Accordingly, we continue to incorporate into the MEI a price proxy that accomplishes this goal by making the maximum use of available data on professional liability premiums.

Each year, we solicit professional liability premium data for physicians from a small sample of commercial carriers. This information is not collected through a survey form but instead is requested, on a voluntary basis, from a few national commercial carriers via letter. Generally between 5 and 8 carriers volunteer this information. For the CY 2004 update we were able to obtain data from 7 carriers, all of which were in the top 15 companies in 2001 in terms of market share. While the sample size certainly does not cover the entire professional liability insurance market, we have attempted to maximize the market share in terms of both national coverage and coverage within States.

As we require for our other price proxies, the professional liability price proxy should reflect the pure price change associated with this particular cost category. Thus, it should not capture changes in the mix or level of liability coverage. To accomplish this result, we obtain premium information from commercial carriers for a fixed level of coverage, currently $1 million per occurrence and a $3 million annual limit. This information is collected for every State by physician specialty and risk class. Finally, the State-level, physician-specialty data are aggregated by effective premium date to compute a national total, using counts of physicians by State and specialty as provided in the AMA publication, Physician Characteristics and Distribution in the U.S.

The resulting data provide a quarterly time series, indexed to a base year consistent with the MEI and reflect the national trend in the average professional liability premium for a given level of coverage. From this series, quarterly and annual percent changes in professional liability insurance are estimated for inclusion in the MEI.

Our research has indicated that the most comprehensive data on professional liability costs are held by the State insurance commissioners but these data are available only with a substantial time lag and, therefore, the data currently incorporated into the MEI are much more timely. We believe that, given the limited data available on professional liability premiums, this methodology adequately reflects the price trends facing physicians.

Comment: Several commenters were concerned about the 6.6 percent increase in the PLI component of the MEI published in the proposed rule and felt that this did not represent the actual increase in premiums physicians are experiencing.

Response: We indicated in the proposed rule that the 6.6 percent increase in the PLI component of the index was based on a forecast. For this final rule we have incorporated actual data (through the second quarter of 2003) that indicates that the increase in the proxy for the PLI component of the MEI is 16.9 percent.

Medical Equipment

Medical equipment includes depreciation, leases, and rent on medical equipment. We will use the PPI for medical instruments and equipment as the price proxy for this category, consistent with the price proxy used in the 1996-based MEI and other CMS input price indexes.

Other Expenses

This category includes the residual subcategory of other expenses such as accounting services, legal services, office management services, continuing education, professional association memberships, journals, professional car expenses, and other professional expenses. In the absence of one price proxy or even a group of price proxies that might reflect this heterogeneous mix of goods and services, we use the CPI-U for all items less food and energy, consistent with the price proxy used in the 1996-based MEI. We also condensed the structure compared to that used in the 1996-based MEI because we lack the data to develop a representative weight for transportation, as discussed above. This change resulted in only a negligible effect on the overall MEI over the past 8 years; the average annual increase differs by less than a tenth of a percentage point over that time.

(b) Productivity Adjustment to the MEI

In the December 2002 final rule, we indicated that we were changing the methodology for adjusting for productivity in the MEI. The MEI used for the 2003 physician payment update reflected changes in the 10-year moving average of private nonfarm business (economy-wide) multifactor productivity applied to the entire index; we had previously used economy-wide private nonfarm business labor productivity applied to the labor portions of the index. We will continue to use the new method, adjusting for multifactor productivity applied to the entire index, in the rebased and revised MEI.

As described in the December 31, 2002 (68 FR 9568) final rule, we use multifactor productivity because: (1) It is theoretically more appropriate to explicitly reflect the productivity gains associated with all inputs (both labor and nonlabor); (2) the recent growth rate in economy-wide multifactor productivity appears to be more consistent with the current market conditions facing physicians; and (3) the MEI still uses economy-wide wage changes as a proxy for physician wage changes. We also believe that using a 10-year moving average change in economy-wide multifactor productivity produces a stable and predictable adjustment and is consistent with the moving-average methodology used in the 1996-based MEI. The adjustment will be based on the latest available actual historical economy-wide multifactor productivity data, as measured by BLS. For the 2004 update, this means using the multifactor productivity data through 2001, the latest available information.

5. Results of Rebasing

Because the rebased and revised MEI is similar in structure to the 1996-based MEI, updating the MEI from a 1996 base year to a 2000 base year resulted in small changes in expense category weights. Physicians' earnings dropped slightly, from 54.5 percent of the index in 1996 to 52.5 percent in 2000. The expense shares for non-physician employee compensation, office expenses, professional liability insurance, and medical equipment all rose slightly, while expense shares for medical materials and supplies and other expenses declined.

The update using the rebased and revised MEI for the 2004 Physician Fee Schedule is an increase of 2.9 percent. This incorporates historical data through the second quarter of 2003.

Table 12.—Annual Percent Change in the Revised and Rebased Medicare Economic Index, 2004—All Categories
Increase in the Medicare Economic Index Update for Calendar Year 2004 ¹: Cost categories and price measures | Increase in the Medicare Economic Index Update for Calendar Year 2004 ¹: 2000 weights ² | Increase in the Medicare Economic Index Update for Calendar Year 2004 ¹: 2004 percent changes
Medicare Economic Index Total, productivity adjusted | n/a | 2.9
Productivity: 10-year moving average of Multifactor productivity, private nonfarm business sector | n/a | 0.9
Medicare Economic Index Total, without productivity adjustment | 100.000 | 3.8
1. Physician's Own Time ³ | 52.466 | 3.6
a. Wages and Salaries: Average Hourly Earnings, private Nonfarm | 42.730 | 3.2
b. Fringe Benefits: Employment Cost Index, benefits, private nonfarm | 9.735 | 5.4
2. Physician's Practice Expense ³ | 47.534 | 4.0
a. Nonphysician Employee Compensation | 18.653 | 3.4
1. Wages and Salaries: Employment Cost Index, wages and salaries, weighted by occupation | 13.808 | 2.8
2. Fringe Benefits: Employment Cost Index, fringe benefits, white collar | 4.845 | 5.0
b. Office Expense: Consumer Price Index (CPI-U), housing | 12.209 | 2.5
c. Drugs and Medical Materials and Supplies | 4.319 | 3.1
1. Medical Materials and Supplies: Producer Price Index, surgical appliances and supplies/Consumer Price Index (CPI-U), medical equipment and supplies (equally weighted) | 2.011 | 1.0
2. Pharmaceuticals: Producer Price Index (PPI pharmaceutical preparations) | 2.308 | 4.9
d. Professional Liability Insurance: premiums ⁴ | 3.865 | 16.9
e. Medical Equipment: PPI, medical instruments and equipment | 2.055 | 2.3
f. Other Expenses | 6.433 | 1.9
¹ The rates of historical change are estimated for the 12-month period ending June 30, 2002, which is the period used for computing the calendar year 2004 update. The price proxy values are based upon the latest available Bureau of Labor Statistics data as of September 22, 2002.
² The weights shown for the MEI components are the 2000 base-year weights, which may not sum to subtotals or totals because of rounding. The MEI is a fixed-weight, Laspeyres-type input price index whose category weights indicate the distribution of expenditures among the inputs to physicians' services for calendar year 2000. To determine the MEI level for a given year, the price proxy level for each component is multiplied by its 2000 weight. The sum of these products (weights multiplied by the price index levels) over all cost categories yields the composite MEI level for a given year. The annual percent change in the MEI levels is an estimate of price change over time for a fixed market basket of inputs to physicians' services. Due to rounding, weights may not sum to 100.000 percent.
³ The measures of productivity, average hourly earnings, Employment Cost Indexes, as well as the various Producer and Consumer Price Indexes can be found on the Bureau of Labor Statistics Web site http://stats.bls.gov.
⁴ Derived from data collected from several major insurers (the latest available historical percent change data are for the period ending second quarter of 2003).
n/a Productivity is factored into the MEI categories as an adjustment to the price variables; therefore, no explicit weight exists for productivity in the MEI.

As is the case with this index rebasing, our experience in previous rebasing and revising indexes has been that there is usually a very small effect on the overall percent change. The difference is typically between zero and 0.3 percentage points per year on average. The rebased and revised MEI overall percent increase for the CY 2004 update is only 0.1 percentage point higher compared to the 1996-based MEI. This is also the case for this final rule. When the MEI was last rebased, there was no difference in the average annual percentage change from 1985 to 1998. When the PPS hospital indices were rebased, the average difference in the percentage change was less than one-tenth of a percentage point from 1995 to 2002.

The first reason for this small difference between the 1996-based and 2000-based MEI percent changes is that the weight of professional liability insurance increased, giving it a higher relative importance in the index in 2000. This category also increased at a faster pace than other index categories during 2002 and projected for 2003, resulting in an even greater relative importance for this index by 2004 and causing it to have a larger effect on the overall index compared to the 1996-based MEI.

In addition, the pharmaceuticals from the medical materials and supplies category grew faster than the overall medical materials and supplies in the 1996-based MEI. In addition, the faster growth in the aggregate medical materials and supplies category combined with a higher weight in the 2000-based index gave the category a higher relative importance. However, these increases were mostly offset by declines in weight of some of the other categories, most notably physician earnings.

6. Adjustments to RVUs To Match the New MEI Weights

As discussed in the August 15, 2003 proposed rule, section 1848(c)(2)(B)(ii)(II) of the Act requires that increases or decreases in RVUs may not cause the amount of expenditures for the year to differ by more than $20 million from what expenditures would have been in the absence of these changes. If this threshold is exceeded, we make across-the-board adjustments to preserve budget neutrality. Therefore, if we adjust the work, practice expense and malpractice RVUs to match the new MEI weights, we are required by statute to ensure that the adjustments do not increase or decrease Medicare expenditures by more than $20 million. To meet the requirements of the statute and ensure that aggregate pools of RVUs match the proposed new MEI weights, we considered two options. We considered either making no adjustments to the physician work RVUs and adjusting only the practice expense and malpractice RVUs or adjusting all 3 categories of RVUs. We proposed adjusting all 3 categories of RVUs rather than adjusting only the practice expense and malpractice RVUs, which would have resulted in a reduction to the physician fee schedule conversion factor in addition to the -4.2 percent reduction that was forecasted. Specifically, we proposed to reduce the physician work RVUs by an estimated 0.35 percent (0.9965) and the practice expense RVUs by an estimated 1.15 percent (0.9885) and to increase the malpractice RVUs by an estimated 21.7 percent (1.217) to match the rebased MEI weights.

Comment: We received comments from a number of physician organizations opposing any adjustment to the physician work RVUs. Several of the comments appreciated our reluctance to reduce the physician fee schedule conversion factor by an additional 0.3 percentage points when there will already be a large reduction in the physician fee schedule update. One commenter stated that any additional reduction to the physician fee schedule conversion factor would be inappropriate. However, these comments also stated that that the physician work RVUs should remain constant and stable. There were a number of comments that stated that across-the-board adjustments should never be applied to the work component of the Resource Based Relative Value System. One comment indicated that we should not make any adjustments to the work RVUs unless they are recommended by the RUC. Several of the comments stated that the proposed adjustments to the RVUs to match the MEI weights would not assist the physician community in addressing the professional liability crisis since any increase in physician fees for some services will be offset by reductions in other services. Additional payments by Medicare to cover increased professional liability costs, or congressional action, are necessary to alleviate this problem. Some of the comments indicated that CMS did not provide sufficient information to make a determination as to how the two proposals would affect individual codes because the adjustments were not applied to the RVUs shown in Addendum B of the proposed rule. Several of the comments stated that the stability of work RVUs is essential since they are used by private payors, physician compensation systems, and in productivity analysis. The RUC commented that they depend upon the stability in these values as they review new and revised codes, both in magnitude estimation and in any calculations regarding intra-work per unit of time (IWPUT). One comment suggested CMS create a separate adjustment factor to adjust payments without changing the conversion factor or the RVUs, as it did for the first five-year review of the Medicare physician fee schedule in 1995. We also received a comment urging us to review the Secretary's “ancillary policies” authority under section 1848(c)(4) of Act to determine whether CMS has statutory authority to increase PLI relative value units without reducing the work and practice expense relative value units.

We also received several comments that expressed support for maintaining stability in the practice expense RVUs. The comment stated “much like what is done with work relative values, any code-level refinements due to annual coding changes that result in a non-budget neutral impact should not result in a reduction of all practice expense relative values. The comment requested that CMS present an analysis of this issue in an upcoming proposed rule and recommended that adjustments related to the MEI rebasing not be applied to the practice expense relative values.

Response: We share the concern about establishing stability in the practice expense RVUs. As we indicated in the June 28, 2002 proposed rule (67 FR 43851), “once the refinement process is complete, we believe the physician community has a reasonable expectation that the practice expense RVUs will not change from year to year unless further refinement is undertaken.” We plan to analyze in an upcoming proposed rule whether there are any alternatives to our current practice of rescaling the practice expense RVUs to apply budget neutrality. However, we disagree with the comments that suggest we only increase the malpractice expense RVUs and not apply any adjustments to the work and practice expense RVUs to match the MEI weights. It is not possible to match the aggregate RVUs to the new MEI weights if we make no adjustments to both work and practice expense and adjust only the malpractice RVUs and the conversion factor. While it would be possible to maintain budget neutrality for the increase in malpractice RVUs by reducing the conversion factor, the aggregate number of RVUs for work and practice expense would not match the MEI weights unless we could adjust at least two of the three RVUs in combination with applying a compensating adjustment to the CF.

We have considered the comment suggesting that we use the Secretary's section 1848(c) “ancillary” policies authority to adjust the RVUs to match the MEI weights but not maintain budget neutrality. Section 1848(c) states that the Secretary may establish ancillary policies (with respect to the use of modifiers, local codes, and other matters) as may be necessary to implement this section.” We believe that this section of the statute must, nonetheless, be read consistently with the requirements of section 1848(c)(2)(B)(ii)(II) of the Act requiring that changes to RVUs cannot cause the amount of expenditures to increase or decrease by more than $20 million from the amount of expenditures that would have been made if such adjustments had not been made. We believe the statute is clear and any increase in the malpractice expense RVUs must be offset by decreases to the work and practice expense RVUs or the conversion factor.

We also do not believe that the work RVUs should be maintained and a separate “work adjustor” established. While such policy was adopted following the 5-year review of physician work in 1997, we used this procedure only because the effect of the work adjustor could be removed once resource-based practice expense RVUs were adopted in 1999. We did not find the work adjustor to be desirable. It added an extra element to the physician fee schedule payment calculation and created confusion and questions among the public who had difficulty using the RVUs determine a payment amount that matched the amount actually paid by Medicare.

We acknowledge the comments that indicate that the work RVUs are used for many purposes other than Medicare payment. While our proposal would slightly reduce the absolute value of the physician work RVUs, it would not change their relative values since there would be a uniform decrease to all of the RVUs. We believe the relative relationship among the values for the services makes them useful for analysis for purposes other than Medicare payment. Since the relative values will be left unchanged, we do not believe the work RVUs will lose their utility for these other uses.

We disagree that our proposed rule did not provide enough information upon which to determine the impact on payment for a given service. The proposed rule provided the specific level of the estimated adjustments. While we did not actually apply the adjustments to the RVUs shown in Addendum B, any interested party could determine the effect of our proposal on any given service with the information we provided. We further noted that the adjustments we provided were estimated and would change once we made final determinations of the work, practice expense and malpractice RVUs for 2004. For the final rule, we will reduce the work RVUs by 0.57 percent (0.9943), the practice expense by 0.77 (0.9923) percent and increase the malpractice RVUs by 19.86 percent (1.1986). We have also modeled the impact of our proposal by specialty in the impact section of this final rule.

With respect to the comments about our proposal and the large increases in professional liability premiums, we have not asserted that our policy to adjust the RVUs will resolve this issue. While the comments that our policy will increase payments for some service and decrease payments for payments for others are correct, we note that payments for services with high malpractice RVUs will increase the most in payment while there will be negligible impact on payment for most other services. Such a policy will improve our payment policies by giving more weight to the malpractice RVU in determining Medicare total payment consistent with the proportion that professional liability expenses represent of total physician expenses. As indicated in the impact section, services provided by cardiac and thoracic surgeons, neurosurgeons, orthopedic surgeons, vascular surgeons and emergency physicians are increasing in payment as a result of this proposal. There will be little impact of these adjustments on all other specialties.

C. The Update Adjustment Factor

Section 1848(d) of the Act provides that the physician fee schedule update is equal to the product of the MEI and an “update adjustment factor” or UAF. The UAF is applied to make actual and target expenditures (referred to in the law as “allowed expenditures”) equal. Allowed expenditures are equal to actual expenditures in a base period updated each year by the SGR. The SGR sets the annual rate of growth in allowed expenditures and is determined by a formula specified in section 1848(f) of the Act.

1. Calculation Under Current Law

Under section 1848(d)(4)(A) of the Act, the physician fee schedule update for a year is equal to the product of—(1) 1 plus the Secretary's estimate of the percentage increase in the MEI for the year, divided by 100 and (2) 1 plus the Secretary's estimate of the UAF for the year. Under section 1848(d)(4)(B) of the Act, the UAF for a year beginning with 2001 is equal to the sum of the following—

• Prior Year Adjustment Component. An amount determined by—

• Computing the difference (which may be positive or negative) between the amount of the allowed expenditures for physicians' services for the prior year (the year prior to the year for which the update is being determined) and the amount of the actual expenditures for such services for that year;

• Dividing that difference by the amount of the actual expenditures for such services for that year; and

• Multiplying that quotient by 0.75.

• Cumulative Adjustment Component. An amount determined by—

• Computing the difference (which may be positive or negative) between the amount of the allowed expenditures for physicians' services from April 1, 1996, through the end of the prior year and the amount of the actual expenditures for such services during that period;

• Dividing that difference by actual expenditures for such services for the prior year as increased by the sustainable growth rate for the year for which the update adjustment factor is to be determined; and

• Multiplying that quotient by 0.33.

Section 1848(d)(4)(E) of the Act requires the Secretary to recalculate allowed expenditures consistent with section 1848(f)(3) of the Act. Section 1848(f)(3) specifies that the SGR (and, in turn, allowed expenditures) for the upcoming calendar year (2004 in this case), the current calendar year (2003) and the preceding calendar year (2002) are to be determined on the basis of the best data available as of September 1 of the current year. Allowed expenditures are initially estimated and subsequently revised twice. The second revision occurs after the calendar year has ended (that is, we are making the final revision to 2002 allowed expenditures in this final rule). Once the SGR and allowed expenditures for a year have been revised twice, they are final.

Table 13 shows annual and cumulative allowed expenditures for physicians' services from April 1, 1996 through the end of the current calendar year, including the transition period to a calendar year system that occurred in 1999.

Table 13
Period | Annual allowed expenditures ($ in billions) | Cumulative allowed expenditures ($ in billions) | FY/CY SGR
4/1/96-3/31/97 | 48.9 | 48.9 | N/A
4/1/97-3/31/98 | 50.5 | 99.4 | FY 1998 = 3.2%
4/1/98-3/31/99 | 52.6 | 152.0 | FY 1999 = 4.2%
1/1/99-3/31/99 | 13.3 | (¹) | FY 1999 = 4.2%
4/1/99-12/31/99 | 42.1 | (²) | FY 2000 = 6.9%
1/1/99-12/31/99 | 55.3 | 194.1 | FY 1999/2000³
1/1/00-12/31/00 | 59.4 | 253.4 | CY 2000 = 7.3%
1/1/01-12/31/01 | 62.0 | 315.5 | CY 2001 = 4.5%
1/1/02-12/31/02 | 67.2 | 382.6 | CY 2002 = 8.2%
1/1/03-12/31/03 | 71.7 | 454.2 | CY 2003 = 6.7%
1/1/04-12/31/04 | 77.0 | 528.6 | CY 2004 = 7.4%
¹ Allowed expenditures for the first quarter of 1999 are based on the FY 1999 SGR.
² Allowed expenditures for the last three quarters of 1999 are based on the FY 2000 SGR.
³ Allowed expenditures in the first year (April 1, 1996-March 31, 1997) are equal to actual expenditures. All subsequent figures are equal to quarterly allowed expenditure figures increased by the applicable SGR. Cumulative allowed expenditures are equal to the sum of annual allowed expenditures. We provide more detailed quarterly allowed and actual expenditure data on our Web site under the Medicare Actuary's publications at the following address: http://www.cms.hhs.gov/statistics/actuary/. We expect to update the web site with the most current information later this month.

Consistent with section 1848(d)(4)(E) of the Act, table 13 includes our final revision of allowed expenditures for 2002, a recalculation of allowed expenditures for 2003, and our initial estimate of allowed expenditures for 2004. To determine the update adjustment factor for 2004, the statute requires that we use allowed and actual expenditures from April 1, 1996 through December 31, 2003 and the 2004 SGR. Consistent with section 1848(d)(4)(E), we will be making further revisions to 2003 and 2004 SGRs and 2003 allowed expenditures. Because we have incomplete actual expenditure data for 2003, we are using an estimate for this period. Any difference between current estimates and final figures will be taken into account in determining the update adjustment factor for future years.

We are using figures from table 13 in the statutory formula illustrated below:

UAF = Update Adjustment Factor

Target03 = Allowed Expenditures for 2003 or $71.7 billion

Actual03 = Estimated Actual Expenditures for 2003 = $77.8 billion

Target4/96-12/03 = Allowed Expenditures from 4/1/1996-12/31/2002 = $454.2 billion

Actual4/96-12/02 = Estimated Actual Expenditures from 4/1/1996-12/31/2003 = $462.0 billion

SGR03 = 7.4 percent (1.074)

Section 1848(d)(4)(D) of the Act indicates that the UAF determined under section 1848(d)(4)(B) of the Act for a year may not be less than −0.070 or greater than 0.03. The calculated UAF of −0.090 is less than the statutory limit of −0.070. Therefore, the UAF for 2004 will be −0.70.

Section 1848(d)(4)(A)(ii) of the Act indicates that 1 should be added to the UAF determined under section 1848(d)(4)(B) of the Act. Thus, adding 1 to −0.070 makes the update adjustment factor equal to 0.930.

VII. Allowed Expenditures for Physicians' Services and the Sustainable Growth Rate

A. Medicare Sustainable Growth Rate

The SGR is an annual growth rate that applies to physicians' services paid for by Medicare. The use of the SGR is intended to control growth in aggregate Medicare expenditures for physicians' services. Payments for services are not withheld if the percentage increase in actual expenditures exceeds the SGR. Rather, the physician fee schedule update, as specified in section 1848(d)(4) of the Act, is adjusted based on a comparison of allowed expenditures (determined using the SGR) and actual expenditures. If actual expenditures exceed allowed expenditures, the update is reduced. If actual expenditures are less than allowed expenditures, the update is increased.

Section 1848(f)(2) of the Act specifies that the SGR for a year (beginning with 2001) is equal to the product of the following four factors:

(1) The estimated change in fees for physicians' services.

(2) The estimated change in the average number of Medicare fee-for-service beneficiaries.

(3) The estimated projected growth in real GDP per capita.

(4) The estimated change in expenditures due to changes in law or regulations.

In general, section 1848(f)(3) of the Act requires us to publish SGRs for 3 different time periods, no later than November 1 of each year, using the best data available as of September 1 of each year. Under section 1848(f)(3)(C)(i) of the Act, the SGR is estimated and subsequently revised twice (beginning with the FY and CY 2000 SGRs) based on later data. (The Consolidated Appropriations Reduction Resolution of 2003 (P.L. 108-7) contained a provision permitting revision of the FY 1998 and FY 1999 SGRs. See the February 28, 2003 Federal Register (68 FR 9567) for a discussion of these SGRs. Under section 1848(f)(3)(C)(ii) of the Act, there are no further revisions to the SGR once it has been estimated and subsequently revised in each of the 2 years following the preliminary estimate. In this final rule, we are making our preliminary estimate of the 2004 SGR, a revision to the 2003 SGR, and our final revision to the 2002 SGR.

B. Physicians' Services

Section 1848(f)(4)(A) of the Act defines the scope of physicians' services covered by the SGR. The statute indicates that the term “physicians' services” includes other items and services (such as clinical diagnostic laboratory tests and radiology services), specified by the Secretary, that are commonly performed or furnished by a physician or in a physician's office, but does not include services furnished to a Medicare+Choice plan enrollee. We published a definition of physicians' services for use in the SGR in the Federal Register (66 FR 55316) on November 1, 2001. We defined “physicians' services” to include many of the medical and other health services listed in section 1861(s) of the Act. For purposes of determining allowed expenditures, actual expenditures, and SGRs through December 31, 2002, we have specified that “physicians' services” include the following medical and other health services if bills for the items and services are processed and paid by Medicare carriers (and those items and services paid through intermediaries where specified):

• Physicians' services.

• Services and supplies furnished incident to physicians' services.

• Outpatient physical therapy services and outpatient occupational therapy services.

• Antigens prepared by or under the direct supervision of a physician.

• Services of physician assistants, certified registered nurse anesthetists, certified nurse midwives, clinical psychologists, clinical social workers, nurse practitioners, and clinical nurse specialists.

• Screening tests for prostate cancer, colorectal cancer, and glaucoma.

• Screening mammography, screening pap smears, and screening pelvic exams.

• Diabetes outpatient self-management training services.

• Medical nutrition therapy services.

• Diagnostic x-ray tests, diagnostic laboratory tests, and other diagnostic tests (including outpatient diagnostic laboratory tests paid through intermediaries).

• X-ray, radium, and radioactive isotope therapy.

• Surgical dressings, splints, casts, and other devices used for the reduction of fractures and dislocations.

• Bone mass measurements.

C. Provisions Related to the Sustainable Growth Rate

Section 211(b)(1) of the BBRA amended section 1848(f)(1) of the Act to require that three SGR estimates be published in the Federal Register not later than November 1 of every year. In this final rule, we are publishing our preliminary estimate of the SGR for 2004, a revised estimate of the SGR for 2003, and our final determination of the SGR for 2002. Consistent with section 1848(f)(3)(C) of the Act, we are using the best data available to us as of September 1, 2003 for all of the figures.

D. Preliminary Estimate of the SGR for 2004

Our preliminary estimate of the 2004 SGR is 7.4 percent. We first estimated the 2004 SGR in March and made the estimate available to the Medicare Payment Advisory Commission and on our website. Table 13 shows our March estimates and our current estimates of the factors included in the SGR:

Table 14
Statutory factors | March estimate | Current estimate
Fees | 2.3% (1.023) | 2.7% (1.027)
Enrollment | 1.3% (1.013) | 1.7% (1.017)
Real Per Capita GDP | 2.7% (1.027) | 2.8% (1.028)
Law and Regulation | 0.0% (1.000) | 0.0% (1.000)
Total | 6.4% (1.064) | 7.4% (1.074)

Note: Consistent with section 1848(f)(2) of the Act, the statutory factors are multiplied, not added, to produce the total (that is, 1.027 × 1.017 × 1.028 × 1.000 = 1.074.) A more detailed explanation of each figure is provided below in section G.1.

E. Revised SGR for 2003

Our current estimate of the 2003 SGR is 6.7 percent. Table 14 shows our preliminary estimate of the 2003 SGR that was published in the Federal Register on December 1, 2002 (67 FR 80027) and our current estimate:

Table 15
Statutory factors | 12/31/02 estimate | Current estimate
Fees | 2.9% (1.029) | 2.8% (1.028)
Enrollment | 1.2% (1.012) | 2.4% (1.024)
Real Per Capita GDP | 3.3% (1.033) | 1.4% (1.014)
Law and Regulation | 0.0% (1.000) | 0.0% (1.000)
Total | 7.6% (1.076) | 6.7% (1.067)

A more detailed explanation of each figure is provided below in section G.2.

F. Final Sustainable Growth Rate for 2002

The SGR for 2002 is 8.3 percent. Table 16 shows our preliminary estimate of the SGR published in the Federal Register on November 1, 2001 (66 FR 55317), our revised estimate published in the Federal Register on December 31, 2001 (67 FR 80028) and the final figures determined using the latest available data:

Table 16
Statutory factors | 11/1/01 estimate | 12/31/02 estimate (¹) | Final
Fees | 2.3% (1.023) | 2.5% (1.025) | 2.5% (1.025)
Enrollment | 0.7% (1.007) | 2.8% (1.028) | 3.2% (1.032)
Real Per Capita GDP | 1.7% (1.027) | 2.3% (1.023) | 1.4% (1.014)
Law and Reg | 0.8% (1.008) | 1.1% (1.011) | 1.0% (1.010)
Total | 5.6% (1.056) | 9.0% (1.090) | 8.3% (1.083)
¹ The figures for fees, enrollment and real per capita GDP from the 12/31/02 final rule are shown here. We made a subsequent change to the law and regulations factor and the total in the February 28, 2003 Federal Register (68 FR 9572). We show the revised law and regulation factor and total in the above table.

A more detailed explanation of each figure is provided below in section G.2.

G. Calculation of 2004, 2003, and 2002 Sustainable Growth Rates

1. Detail on the 2004 SGR

All of the figures used to determine the 2004 SGR are estimates that will be revised based on subsequent data. Any differences between these estimates and the actual measurement of these figures will be included in future revisions of the SGR and allowed expenditures and incorporated into subsequent physician fee schedule updates.

Factor 1—Changes in Fees for Physicians' Services (Before Applying Legislative Adjustments) for CY 2004

This factor is calculated as a weighted average of the 2004 fee increases for the different types of services included in the definition of physicians' services for the SGR. Medical and other health services paid using the physician fee schedule are estimated to account for approximately 80.3 percent of total allowed charges included in the SGR in 2004 and are updated using the MEI. The MEI for 2004 is 2.9 percent. Diagnostic laboratory tests are estimated to represent approximately 7.4 percent of Medicare allowed charges included in the SGR in 2004 and the costs of these tests are updated by the CPI-U. The CPI-U for 2004 that will be used to update clinical diagnostic laboratory tests is 2.1 percent. Drugs represent 12.3 percent of Medicare allowed charges included in the SGR. We are projecting a weighted average change in fees for drugs that are included in the SGR of 2.0 percent. Table 16 shows the weighted average of the MEI, laboratory and drug price increases for 2004:

Table 17
| Weight | Update
Physician | 0.803 | 2.9
Laboratory | 0.074 | 2.1
Drugs | 0.123 | 2.0
Weighted Average | 1.000 | 2.7

After taking into account the elements described in table 16, we estimate that the weighted-average increase in fees for physicians' services in 2004 under the SGR (before applying any legislative adjustments) will be 2.7 percent.

Factor 2—The Percentage Change in the Average Number of Part B Enrollees from 2003 to 2004

This factor is our estimate of the percent change in the average number of fee-for-service enrollees from 2003 to 2004. Services provided to Medicare+Choice (M+C) plan enrollees are outside the scope of the SGR and are excluded from this estimate. Our actuaries estimate that the average number of Medicare Part B fee-for-service enrollees will increase by 1.7 percent from 2003 to 2004. Table 18 illustrates how this figure was determined:

Table 18
| 2003 | 2004
Overall | ¹ 38.535 | ¹ 39.013
Medicare+Choice | ¹ 4.689 | ¹ 4.606
Net | ¹ 33.847 | ¹ 34.407
Percent Increase |  | ² 1.7
¹ Millions.
² Percent.

An important factor affecting fee-for-service enrollment is beneficiary enrollment in Medicare+Choice plans. Because it is difficult to estimate the size of the Medicare+Choice enrollee population before the start of a calendar year, at this time, we do not know how actual enrollment in Medicare+Choice plans will compare to current estimates. For this reason, the estimate may change substantially as actual Medicare fee-for-service enrollment for 2004 becomes known.

Factor 3—Estimated Real Gross Domestic Product Per Capita Growth in 2004

We estimate that the growth in real per capita GDP from 2003 to 2004 will be 2.8 percent. Our past experience indicates that there have also been large changes in estimates of real per capita GDP growth made before the year begins and the actual change in GDP computed after the year is complete. Thus, it is likely that this figure will change as actual information on economic performance becomes available to us in 2004.

Factor 4—Percentage Change in Expenditures for Physicians' Services Resulting From Changes in Law or Regulations in CY 2004 Compared With CY 2003

We are not projecting any change in spending in 2004 due to changes in law or regulations.

2. Detail on the 2003 SGR

A more detailed discussion of our revised estimates of the four elements of the 2003 SGR follows.

Factor 1—Changes in Fees for Physicians' Services (Before Applying Legislative Adjustments) for 2003

This factor was calculated as a weighted average of the 2003 fee increases that apply for the different types of services included in the definition of physicians' services for the SGR.

We estimate that services paid using the physician fee schedule account for approximately 82.7 percent of total allowed charges included in the SGR in 2003. These services were updated using the 2003 MEI of 3.0 percent. We estimate that diagnostic laboratory tests represent approximately 7.1 percent of total allowed charges included in the SGR in 2003. These services were updated by the 2003 CPI-U of 1.1 percent. We estimate that drugs represent 10.2 percent of Medicare allowed charges included in the SGR in 2003. Pursuant to section 1842(o) of the Act, Medicare pays for drugs based on 95 percent of AWP. Using wholesale pricing information and Medicare utilization for drugs included in the SGR, we estimate weighted average fee increases for drugs of 1.9 percent in 2003. Table 19 shows the weighted average of the MEI, laboratory and drug price increases for 2003:

Table 19
| Weight | Update
Physician | 0.827 | 3.0
Laboratory | 0.071 | 1.1
Drugs | 0.102 | 1.9
Weighted Average | 1.000 | 2.8

After taking into account the elements described in table 19, we estimate that the weighted-average increase in fees for physicians' services in 2003 under the SGR (before applying any legislative adjustments) will be 2.8 percent.

Factor 2—The Percentage Change in the Average Number of Part B Enrollees from 2002 to 2003

Our actuaries estimate that the average number of Medicare Part B fee-for-service enrollees (excluding beneficiaries enrolled in M+C plans) increased by 2.4 percent in 2003. Table 20 illustrates how we determined this figure:

Table 20
[In millions]
| 2002 | 2003
Overall | 38.074 | 38.535
Medicare+Choice | 5.005 | 4.689
Net | 33.069 | 33.847
Percent Increase |  | 2.4%

Our actuaries' estimate of the 2.8 percent change in the average number of fee-for-service enrollees, net of Medicare+Choice enrollment for 2003, compared to 2002 is different from our preliminary estimate (1.2 percent for 2003 from the December 31, 2002 final rule (67 FR 80029)) because the historical base from which our actuarial estimate is made has changed. We now have complete information on Medicare fee-for-service enrollment for 2002 that is different than the figure we used one year ago. Further, we now have information on actual fee-for-service enrollment for the first 8 months of 2003. We would caution that our estimate of fee-for-service enrollment for 2003 could change again once we have complete information for the entire year.

Factor 3—Estimated Real Gross Domestic Product Per Capita Growth in 2003

We estimate that the growth in real per capita GDP will be 1.4 percent in 2003. Our past experience indicates that there have also been large differences between our estimates of real per capita GDP growth made prior to the year's end and the actual change in this factor. Thus, it is likely that this figure will change further as complete actual information on 2003 economic performance becomes available to us in 2004.

Factor 4—Percentage Change in Expenditures for Physicians' Services Resulting From Changes in Law or Regulations in 2003 Compared With 2002

There were no statutory or regulatory changes that affected Medicare expenditures for services included in the SGR in 2003.

3. Detail on the 2002 SGR

A more detailed discussion of our revised estimates of the four elements of the 2002 SGR follows.

Factor 1—Changes in Fees for Physicians' Services (Before Applying Legislative Adjustments) for 2002

This factor was calculated as a weighted average of the 2002 fee increases that apply for the different types of services included in the definition of physicians' services for the SGR.

Services paid using the physician fee schedule accounted for approximately 84.1 percent of total Medicare allowed charges included in the SGR in 2002, and are updated using the MEI. The MEI for 2002 was 2.6 percent. Diagnostic laboratory tests represent approximately 7.2 of total Medicare allowed charges included in the SGR, and are typically updated by the CPI-U. However, the BBA required a 0.0 percent update in 2002 for laboratory services. Drugs represented approximately 8.7 percent of total Medicare allowed charges included in the SGR in 2002. Pursuant to section 1842(o) of the Act, Medicare pays for drugs based on 95 percent of AWP. Using wholesale pricing information and Medicare utilization for drugs included in the SGR, we estimate a weighted average fee increase for drugs of 2.8 percent in 2002. Table 21 shows the weighted average of the MEI, laboratory and drug price increases for 2002:

Table 21
| Weight | Update
Physician | 0.841 | 2.6
Laboratory | 0.072 | 0.0
Drugs | 0.087 | 2.8
Weighted Average | 1.000 | 2.5

After taking into account the elements described in table 21, we estimate that the weighted-average increase in fees for physicians' services in 2002 under the SGR (before applying any legislative adjustments) was 2.5 percent.

Factor 2—The Percentage Change in the Average Number of Part B Enrollees from 2001 to 2002

We estimate the increase in the average number of fee-for-service enrollees (excluding beneficiaries enrolled in M+C plans) from 2001 to 2002 was 3.2 percent. Our calculation of this factor is based on complete data from 2002. Table 22 illustrates the calculation of this factor:

Table 22
[In millions]
| 2001 | 2002
Overall | 37.650 | 38.074
Medicare+Choice | 5.608 | 5.005
Net | 32.041 | 33.069
Percent Increase |  | 3.2%

Factor 3—Estimated Real Gross Domestic Product Per Capita Growth in 2002

We estimate that the growth in real per capita GDP was 1.4 percent in 2002. This is a final figure based on complete data for 2002.

Factor 4—Percentage Change in Expenditures for Physicians' Services Resulting From Changes in Law or Regulations in 2002 Compared With 2001

Sections 101 through 104 of the BIPA added Medicare coverage for a variety of new services that will affect the 2002 SGR. In addition, section 112 of BIPA made changes that will result in additional Medicare coverage for certain drugs that will affect 2002 spending for services included in the SGR. Prior to the enactment of the BIPA, Medicare paid only for drugs that cannot be self-administered by the patient. BIPA allows Medicare to pay for drugs that can be, but are not usually, self-administered. Accordingly, we are accounting for the increased Medicare drug expenditures that will result from implementation of section 112 of the BIPA. We are also adjusting this factor to account for including screening mammography services in the SGR consistent with our discussion of this issue in the November 1, 2001 Federal Register (66 FR 55318). After taking these provisions into account, our final estimate of the percentage change in expenditures for physicians' services resulting from changes in law or regulations is 1.0 percent for 2002.

VIII. Anesthesia and Physician Fee Schedule Conversion Factors for Calendar Year 2004

The 2004 physician fee schedule CF will be $35.1339. The 2004 national average anesthesia conversion factor is $16.43.

The specific calculations to determine the physician fee schedule and anesthesia CFs for 2004 are explained below.

Detail on Calculation of the 2004 Physician Fee Schedule Conversion Factor

Physician Fee Schedule Conversion Factor

Under section 1848(d)(1)(A) of the Act, the physician fee schedule CF is equal to the CF for the previous year multiplied by the update determined under section 1848(d)(4) of the Act.

We are illustrating the calculation for the 2004 physician fee schedule CF in table 23:

Table 23
2003 Conversion Factor | $36.7856
2004 Update | 0.9551
2004 Conversion Factor | $35.1339

Anesthesia Fee Schedule Conversion Factor

Anesthesia services do not have RVUs like other physician fee schedule services. Therefore, we account for any necessary RVU adjustments through an adjustment to the anesthesia fee schedule CF. We are adjusting the anesthesia CF to reflect the RVUs adjustments being made to all other physician fee schedule services to match the revised MEI weights. The 2003 anesthesia CF is $17.05. Physician work represents 79.02 percent of the anesthesia CF (0.7902). We are decreasing this portion of the anesthesia CF by 0.57 percent (0.9943). Practice expenses represent 13.75 percent (0.1375) of the anesthesia CF. We are reducing this portion of the anesthesia conversion factor by 0.77 percent (0.9923) for the adjustment to match the RVUs with the MEI weights. In addition, we are increasing the practice expense portion of the anesthesia CF by 0.18 percent (1.0018) for changes to anesthesia practice expenses resulting from the refinement of practice expense RVUs. Taken together, we are reducing the practice expense portion of the anesthesia fee schedule CF by 0.59 percent (0.9923 × 1.0018 = 0.9941). Professional liability insurance represents 7.23 percent (0.0723) of the anesthesia CF. We are increasing this portion of the anesthesia CF by 19.86 percent (1.1986). Taken together, the adjustments to the work, practice expense and malpractice portions of the anesthesia CF result in a total adjustment of 1.090 percent (0.7903 *0.9943) + ((0.1347 × 0.9941) + (0.0723 × 1.1986) = 1.0090. To determine the anesthesia fee schedule CF for 2004, we used the following figures:

Table 24
2003 Anesthesia Conversion Factor | $17.0522
Adjustments to match MEI weights and practice expense factor | 1.0090
2004 Update | 0.9551
2004 Anesthesia Conversion Factor | $16.4339

IX. Telehealth Originating Site Facility Fee Payment Amount Update

Section 1834(m) of the Act establishes the payment amount for the Medicare telehealth originating site facility fee for telehealth services provided from October 1, 2001, through December 31 2002, at $20. For telehealth services provided on or after January 1 of each subsequent calendar year, the telehealth originating site facility fee is increased by the percentage increase in the MEI as defined in section 1842(i)(3) of the Act. The MEI increase for 2004 is 2.9 percent.

Therefore, for CY 2004, the payment amount for HCPCS code “Q3014, telehealth originating site facility fee” is 80 percent of the lesser of the actual charge or $21.20.

The Medicare telehealth originating site facility fee and MEI increase by the applicable time period is shown below.

Table 25
Facility fee | MEI increase (percent) | Period
$20.00 | N/A | 10/01/2001-12/31/2002
$20.60 | 3.0 | 01/01/2003-12/31/2003
$21.20 | 2.9 | 01/01/2004-12/31/2004

X. Provisions of the Final Regulations

This final rule with comment period adopts the provisions of the August 2003 proposed rule except as noted elsewhere in the preamble. The following is a highlight of the changes made from the proposed rule.

For geographic practice cost indices, based upon the volatility of the premium data collected, our review of the comments received on the August 15, 2003 proposed rule, and our review of malpractice GPCIs, we have modified some of our GPCI calculations and assumptions. We reduced the overall impact associated with revision to the malpractice GPCIs by a factor of 50 percent to mitigate for the volatility of the data. As directed by the statute, we will implement half of this change in the first year (CY 2004) and half of this change in the second year (CY 2005).

For the creation G codes for monitoring heart rhythms issue, based on concerns raised by commenters, we will not proceed with the proposed HCPCS codes because we want to ensure that any HCPCS codes developed, encompass the various technologies that are being utilized for such monitoring.

For changes in payments to physicians managing patients on dialysis, we are moving forward with our proposals and we are adjusting the payment rates for the established G codes. In addition we are adding additional codes to address the concerns raised about home dialysis.

For the definition of diabetes for diabetes self-management training we adopted the AACE clinical definition. We also expanded our general language to include other types of diabetes.

For excision of benign and malignant lesions, we are not moving forward with our proposal, however, we will maintain the 2003 work RVUs as interim values for 2004 to allow opportunity for the specialty to resurvey these services.

For payment policies for anesthesia services we have decided to allow teaching anesthesiologists to bill, similarly to teaching CRNAs, for their involvement in two concurrent cases involving residents.

XI. Collection of Information Requirements

This document does not impose information collection and recordkeeping requirements. Consequently, it need not be reviewed by the Office of Management and Budget under the authority of the Paperwork Reduction Act of 1995 (44 U.S.C. 35).

XII. Response to Comments

Because of the large number of public comments we normally receive on Federal Register documents, we are not able to acknowledge or respond to them individually. We will consider all comments we receive by the date and time specified in the DATES section of this preamble, and, if we proceed with a subsequent document, we will respond to the major comments in the preamble to that document.

XIII. Regulatory Impact Analysis

We have examined the impact of this rule as required by Executive Order 12866 (September 1993, Regulatory Planning and Review), the Regulatory Flexibility Act (RFA) (September 16, 1980 Pub. L. 96-354), section 1102(b) of the Social Security Act, the Unfunded Mandates Reform Act of 1995 (Pub. L. 104-4), and Executive Order 13132. Executive Order 12866 directs agencies to assess all costs and benefits of available regulatory alternatives and, when regulation is necessary, to select regulatory approaches that maximize net benefits (including potential economic, environmental, public health and safety effects, distributive impacts, and equity). A regulatory impact analysis must be prepared for final rules with economically significant effects (that is, a final rule that would have an annual effect on the economy of $100 million or more in any 1 year, or would adversely affect in a material way the economy, a sector of the economy, productivity, competition, jobs, the environment, public health or safety, or State, local, or tribal governments or communities).

We have simulated the effect of the physician fee schedule changes that we are adopting in this final rule. We are making several changes to the physician fee schedule RVUs in this final rule. In general, section 1848(c)(2)(B)(ii)(II) requires that changes to RVUs cannot increase or decrease expenditures more than $20 million. Thus, changes to the RVUs made pursuant to section 1848(c)(2)(B)(ii)(II) must be budget neutral. That is, increases in payments resulting from RVU changes must be offset by decreases in payments for other services and there will be redistribution in payment among physicians, practitioners and suppliers that bill Medicare for physician fee schedule services. We expect that the changes we are making to the physician fee schedule RVUs under section 1848(c) will result in a redistribution of Medicare allowed charges of more than $100 million in one year. For this reason, we are considering this final rule to be economically significant. Therefore, this final rule is a major rule and we have prepared a regulatory impact analysis.

The RFA requires that we analyze regulatory options for small businesses and other entities. We prepare a Regulatory Flexibility Analysis unless we certify that a rule would not have a significant economic impact on a substantial number of small entities. The analysis must include a justification concerning the reason action is being taken, the kinds and number of small entities the rule affects, and an explanation of any meaningful options that achieve the objectives and less significant adverse economic impact on the small entities.

Section 1102(b) of the Act requires us to prepare a regulatory impact analysis for any final rule that may have a significant impact on the operations of a substantial number of small rural hospitals. This analysis must conform to the provisions of section 603 of the RFA. For purposes of section 1102(b) of the Act, we define a small rural hospital as a hospital that is located outside a Metropolitan Statistical Area and has fewer than 100 beds.

For purposes of the RFA, physicians, non-physician practitioners, and suppliers are considered small businesses if they generate revenues of $6 million or less. Approximately 95 percent of physicians (except mental health specialists) are considered to be small entities. There are about 900,000 physicians, other practitioners and medical suppliers that receive Medicare payment under the physician fee schedule.

The analysis and discussion provided in this section as well as elsewhere in this final rule complies with the RFA requirements. Section 202 of the Unfunded Mandates Reform Act of 1995 also requires that agencies assess anticipated costs and benefits before issuing any rule that may result in expenditure in any 1 year by State, local, or tribal governments, in the aggregate, or by the private sector, of $110 million. This final rule would not impose unfunded mandates on State, local, or tribal governments, or on the private sector of more than $110 million dollars.

We have examined this final rule in accordance with Executive Order 13132 and have determined that this regulation would not have any significant impact on the rights, roles, or responsibilities of State, local, or tribal governments.

We have prepared the following analysis, which together with the rest of this preamble, meets all assessment requirements. It explains the rationale for, and purposes of, the rule, details the costs and benefits of the rule, analyzes alternatives, and presents the measures we propose to use to minimize the burden on small entities. As indicated elsewhere in this final rule, we are making changes to the Medicare Economic Index, refining resource-based practice based practice expense RVUs, creating new codes for dialysis patient visits to their physicians and making a variety of other changes to our regulations, payments or payment policy to ensure that our payment systems are updated to reflect changes in medical practice and the relative value of services. We provide information for each of the policy changes in the relevant sections in this final rule. While this rule revises the definition of diabetes for the purposes of outpatient diabetes self-management training, it does not impose reporting, record-keeping and other compliance requirements. We are unaware of any relevant Federal rules that duplicate, overlap or conflict with this proposed rule. The relevant sections of this final rule contain a description of significant alternatives.

A. Physician Fee Schedule Relative Value Units

As indicated above, we are making changes to the work and practice expense RVUs under the provisions of section 1848(c)(2) of the Act and section 429(b) of BIPA. Under section 1848(c)(2) of the Act, adjustments to RVUs may not cause the amount of expenditures to differ by more than $20 million from the amount of expenditures that would have resulted without such adjustments. We are making several changes under section 1848(c)(2) that would result in a change of expenditures that would exceed $20 million threshold if we made no offsetting adjustments to either the conversion factor or RVUs.

With respect to practice expense, our policy has been to meet the budget neutrality requirements in the statute by incorporating a rescaling adjustment in the practice expense methodology. That is, we estimate the aggregate number of practice expense relative values that will be paid under current and revised policy in CY 2004. We apply a uniform adjustment factor to make the aggregate number of revised practice expense relative values equal the estimated number that would be paid under current policy. We are applying this policy for all changes that we are making under section 1848(c).

Table 26 shows the specialty level impact on payment of changes being made for CY 2004. The payment impacts reflect averages for each specialty based on Medicare utilization. The payment impact for an individual physician would be different from the average, based on the mix of services the physician provides. The average change in total revenues would be less than the impact displayed here since physicians furnish services to both Medicare and non-Medicare patients and specialties may receive substantial Medicare revenues for services that are not paid under the physician fee schedule. For instance, independent laboratories receive 17 of their revenues from physician schedule services and the remainder for laboratory fee schedule services that are unaffected by this rule. We modeled the impact of all changes to the relative value units and illustrated their effect in table 26. The column labeled “NPRM” shows the combined effect of all of the changes contained in the August 15, 2003 proposed rule (see 68 FR 49033 to 49038 for a detailed discussion of each provision).

The column labeled “Practice Expense Refinements” shows the impact on payment from further changes to the practice expense inputs that we made using information that became available to us since the proposed rule. In some cases, we made changes to the practice expense inputs in response to public comments. In other situations, we may have received a price for an item of medical equipment or supplies where we previously did not have one. In most cases, these changes may increase or decrease the practice expense RVU for a given code but will have very little impact across all of the services provided by a specialty. However, in one case, we include prices for several items of equipment and supplies that are generally used by otolaryngologists. The addition of this new information increased payment for many procedural services provided by otolaryngologists and reduced payment for their diagnostic services. The net effect of these changes is to increase payments to otolaryngologists by the 1 percent shown in table x. Audiologists provide many of the same diagnostic services that are billed to Medicare by otolaryngologists resulting in the approximate 2 percent decrease in payment shown in table 26 for audiologists. Similarly, there may be some very small additional impact on allergy from the additional practice expense refinements. There were a number of coding changes made by CPT to central venous access codes. It is possible there may be small impact on payment from these coding changes for interventional radiology.

The “Practice Expense Refinements” column also shows an increase in payment of 2 percent for radiation oncology and 1 percent for portable x-ray suppliers. These impacts are a result of our decision to use the non-physician work pool methodology to develop the practice expense RVUs for procedure code 77418 (Intensity Modulated Radiation Therapy).

We also modeled the effect of adjusting the RVUs to match the new MEI weights. Because we are increasing the malpractice RVUs by approximately 20 percent, adjusting the RVUs to match the new MEI weights will result in an increase in payment for those specialties that perform services with high malpractice RVUs. Payments to cardiac surgery, neurosurgery, orthopedic surgery, thoracic surgery and vascular surgery will increase by approximately 1 percent. The column labeled “Total” shows the impact of all changes that we are making to the work and practice expense RVUs for 2004.

Table 26.—Impact of Physician Fee Schedule Changes on Total Medicare Allowed Charges by Physician, Practitioner and Supplier Subcategory
Specialty | Medicare allowed charges (millions) | NPRM (percent) | Practice expense refinements (percent) | Adjusting RVUs to match MEI weights (percent) | Total (percent)
Physicians:
ALLERGY/IMMUNOLOGY | $153 | −1 | −1 | 0 | −2
ANESTHESIOLOGY | 1,327 | 0 | 0 | 0 | 0
CARDIAC SURGERY | 321 | 0 | 0 | 1 | 0
CARDIOLOGY | 5,759 | 0 | 0 | 0 | 0
CLINICS | 1,167 | 0 | 0 | 0 | 0
COLON AND RECTAL SURGERY | 101 | 1 | 0 | 0 | 1
CRITICAL CARE | 108 | −1 | 0 | 0 | −1
DERMATOLOGY | 1,708 | 0 | 0 | 0 | 0
EMERGENCY MEDICINE | 1,444 | 0 | 0 | 0 | 0
ENDOCRINOLOGY | 246 | 1 | 0 | 0 | 1
FAMILY PRACTICE | 4,005 | 1 | 0 | 0 | 1
GASTROENTEROLOGY | 1,513 | −1 | 0 | 0 | −1
GENERAL PRACTICE | 954 | 0 | 0 | 0 | 0
GENERAL SURGERY | 2,110 | −1 | 0 | 0 | 0
GERIATRICS | 97 | −1 | 1 | 0 | 0
HAND SURGERY | 46 | −2 | 0 | 0 | −2
HEMATOLOGY/ONCOLOGY | 1,086 | 1 | 0 | 0 | 1
INFECTIOUS DISEASE | 336 | 0 | 0 | 0 | 0
INTERNAL MEDICINE | 7,917 | 1 | 0 | 0 | 1
INTERVENTIONAL RADIOLOGY | 155 | 0 | −1 | 0 | 0
NEPHROLOGY | 1,187 | 0 | 0 | 0 | 0
NEUROLOGY | 1,072 | 1 | 0 | 0 | 1
NEUROSURGERY | 433 | 0 | 0 | 1 | 1
OBSTETRICS/GYNECOLOGY | 550 | 1 | 0 | 0 | 1
OPHTHALMOLOGY | 4,291 | −1 | 0 | 0 | −1
ORTHOPEDIC SURGERY | 2,645 | −2 | 0 | 1 | −1
OTOLARNGOLOGY | 735 | 2 | 1 | 0 | 3
PATHOLOGY | 799 | 0 | 0 | 0 | 0
PEDIATRICS | 58 | 0 | 0 | 0 | 0
PHYSICAL MEDICINE | 594 | 1 | 0 | 0 | 1
PLASTIC SURGERY | 274 | 0 | 0 | 0 | 0
PSYCHIATRY | 1,073 | 0 | 0 | 0 | 0
PULMONARY DISEASE | 1,305 | −1 | 0 | 0 | −1
RADIATION ONCOLOGY | 1,002 | −3 | 2 | 0 | 0
RADIOLOGY | 4,230 | 0 | 0 | 0 | 0
RHEUMATOLOGY | 352 | 1 | 0 | 0 | 1
THORACIC SURGERY | 446 | −1 | 0 | 1 | 0
UROLOGY | 1,540 | 2 | 0 | 0 | 1
VASCULAR SURGERY | 429 | −1 | 0 | 1 | 0
Practitioners:
AUDIOLOGIST | 25 | −1 | −2 | 1 | −1
CHIROPRACTOR | 589 | 0 | 0 | 0 | 0
CLINICAL PSYCHOLOGIST | 449 | 0 | 0 | 0 | 0
CLINICAL SOCIAL WORKER | 277 | 0 | 0 | 0 | 0
NURSE ANESTHETIST | 452 | 0 | 0 | 1 | 1
NURSE PRACTITIONER | 434 | −1 | 1 | 0 | 0
OPTOMETRY | 611 | 1 | 0 | 0 | 0
ORAL/MAXILLOFACIAL SURGERY | 33 | 8 | 0 | 0 | 8
PHYSICAL/OCCUPATIONAL THERAPY | 835 | 0 | 0 | 1 | 0
PHYSICIANS ASSISTANT | 322 | 0 | 0 | 0 | 0
PODIATRY | 1,307 | −1 | 0 | 0 | −1
Suppliers:
DIAGNOSTIC TESTING FACILITY | 728 | 0 | 0 | 0 | 0
INDEPENDENT LABORATORY | 508 | 2 | 0 | 0 | 1
PORTABLE X-RAY SUPPLIER | 82 | −1 | 1 | 0 | 0
Other:
ALL OTHER | 54 | 0 | 0 | 0 | 0
ALL PHYSICIAN FEE SCHEDULE | 60,385 | 0 | 0 | 0 | 0

The statutory methodology for updating physician fee schedule conversion factor is specified in section 1848(d)(4) of the Act. Consistent with the requirements of section 1848(d)(4) of the Act, as explained in section VI of this final rule, we are reducing the physician fee schedule conversion factor by approximately 4.5 percent. In table 27, we are showing the estimated change in average payments by specialty based on provisions of this final rule and the estimated physician fee schedule update.

Table 27.—Impact of Physician Fee Schedule Changes on Total Medicare Allowed Charges by Physician, Practitioner, and Supplier Subcategory Including the Effect of the Physician Fee Schedule Update
Specialty | Medicare allowed charges (millions) | Impact of RVU changes (percent) | Physician fee schedule update (percent) | Total (percent)
Physicians:
ALLERGY/IMMUNOLOGY | $153 | −2 | −4.5 | −6
ANESTHESIOLOGY | 1,327 | 0 | −4.5 | −4
CARDIAC SURGERY | 321 | 0 | −4.5 | −4
CARDIOLOGY | 5,759 | 0 | −4.5 | −4
CLINICS | 1,167 | 0 | −4.5 | −4
COLON AND RECTAL SURGERY | 101 | 1 | −4.5 | −4
CRITICAL CARE | 108 | −1 | −4.5 | −5
DERMATOLOGY | 1,708 | 0 | −4.5 | −5
EMERGENCY MEDICINE | 1,444 | 0 | −4.5 | −4
ENDOCRINOLOGY | 246 | 1 | −4.5 | −4
FAMILY PRACTICE | 4,005 | 1 | −4.5 | −4
GASTROENTEROLOGY | 1,513 | −1 | −4.5 | −5
GENERAL PRACTICE | 954 | 0 | −4.5 | −4
GENERAL SURGERY | 2,110 | 0 | −4.5 | −5
GERIATRICS | 97 | 0 | −4.5 | −5
HAND SURGERY | 46 | −2 | −4.5 | −7
HEMATOLOGY/ONCOLOGY | 1,086 | 1 | −4.5 | −4
INFECTIOUS DISEASE | 336 | 0 | −4.5 | −5
INTERNAL MEDICINE | 7,917 | 1 | −4.5 | −4
INTERVENTIONAL RADIOLOGY | 155 | 0 | −4.5 | −5
NEPHROLOGY | 1,187 | 0 | −4.5 | −5
NEUROLOGY | 1,072 | 1 | −4.5 | −3
NEUROSURGERY | 433 | 1 | −4.5 | −4
OBSTETRICS/GYNECOLOGY | 550 | 1 | −4.5 | −4
OPHTHALMOLOGY | 4,291 | −1 | −4.5 | −5
ORTHOPEDIC SURGERY | 2,645 | −1 | −4.5 | −6
OTOLARNGOLOGY | 735 | 3 | −4.5 | −2
PATHOLOGY | 799 | 0 | −4.5 | −4
PEDIATRICS | 58 | 0 | −4.5 | −4
PHYSICAL MEDICINE | 594 | 1 | −4.5 | −4
PLASTIC SURGERY | 274 | 0 | −4.5 | −4
PSYCHIATRY | 1,073 | 0 | −4.5 | −5
PULMONARY DISEASE | 1,305 | −1 | −4.5 | −6
RADIATION ONCOLOGY | 1,002 | 0 | −4.5 | −5
RADIOLOGY | 4,230 | 0 | −4.5 | −5
RHEUMATOLOGY | 352 | 1 | −4.5 | −3
THORACIC SURGERY | 446 | 0 | −4.5 | −4
UROLOGY | 1,540 | 1 | −4.5 | −3
VASCULAR SURGERY | 429 | 0 | −4.5 | −5
Practitioners:
AUDIOLOGIST | 25 | −1 | −4.5 | −6
CHIROPRACTOR | 589 | 0 | −4.5 | −4
CLINICAL PSYCHOLOGIST | 449 | 0 | −4.5 | −5
CLINICAL SOCIAL WORKER | 277 | 0 | −4.5 | −5
NURSE ANESTHETIST | 452 | 1 | −4.5 | −4
NURSE PRACTITIONER | 434 | 0 | −4.5 | −4
OPTOMETRY | 611 | 0 | −4.5 | −4
ORAL/MAXILLOFACIAL SURGERY | 33 | 8 | −4.5 | 3
PHYSICAL/OCCUPATIONAL THERAPY | 835 | 0 | −4.5 | −4
PHYSICIANS ASSISTANT | 322 | 0 | −4.5 | −4
PODIATRY | 1,307 | −1 | −4.5 | −5
Suppliers:
DIAGNOSTIC TESTING FACILITY | 728 | 0 | −4.5 | −5
INDEPENDENT LABORATORY | 508 | 1 | −4.5 | −3
PORTABLE X-RAY SUPPLIER | 82 | 0 | −4.5 | −4
Other:
ALL OTHER | 54 | 0 | −4.5 | −4
ALL PHYSICIAN FEE SCHEDULE | 60,385 | 0 | −4.5 | −4

Table 28 shows the impact on payments for selected high volume procedures of all of the changes previously discussed. This table shows the combined impact of the change in the work, practice expense and malpractice RVUs and the estimated physician fee schedule update on total payment for the procedure. There are separate columns that show the change in the facility rates and the non-facility rates. For an explanation of facility and non-facility practice expense refer to § 414.22(b)(5)(i).

Table 28.—Impact of Final Rule and Physician Fee Schedule Update on Medicare Payment for Selected Procedures
HCPCS | MOD | DESC | Non-Facility: Old | Non-Facility: New | Non-Facility: % change | Facility: Old | Facility: New | Facility: % change
11721 |  | Debride nail, 6 or more | $37.52 | $36.19 | −4 | 29.06 | 28.11 | −3
17000 |  | Destroy benign/premlg lesion | 61.43 | 57.27 | −7 | 33.11 | 33.73 | 2
27130 |  | Total hip arthroplasty | N/A | N/A | N/A | 1,343.41 | 1,290.82 | −4
27236 |  | Treat thigh fracture | N/A | N/A | N/A | 1,068.99 | 1,024.86 | −4
27244 |  | Treat thigh fracture | N/A | N/A | N/A | 1,155.44 | 1,050.15 | −9
27447 |  | Total knee arthroplasty | N/A | N/A | N/A | 1,445.67 | 1,390.25 | −4
33533 |  | CABG, arterial, single | N/A | N/A | N/A | 1,799.18 | 1,742.99 | −3
35301 |  | Rechanneling of artery | N/A | N/A | N/A | 1,073.77 | 1,043.83 | −3
43239 |  | Upper GI endoscopy, biopsy | 337.69 | 305.31 | −10 | 155.97 | 150.02 | −4
45385 |  | Lesion removal colonoscopy | 545.53 | 471.85 | −14 | 290.61 | 271.23 | −7
66821 |  | After cataract laser surgery | 231.01 | 227.32 | −2 | 214.83 | 224.15 | 4
66984 |  | Cataract surg w/iol, 1 stage | N/A | N/A | N/A | 672.81 | 645.06 | −4
67210 |  | Treatment of retinal lesion | 604.39 | 544.58 | −10 | 548.47 | 528.41 | −4
71010 | 26 | Chest x-ray | 9.20 | 8.78 | −5 | 9.20 | 8.78 | −5
71020 | 26 | Chest x-ray | 11.04 | 10.54 | −5 | 11.04 | 10.54 | −5
76091 |  | Mammogram, both breasts | 94.17 | 89.94 | −4 | N/A | N/A | N/A
76091 | 26 | Mammogram, both breasts | 44.14 | 42.16 | −4 | 44.14 | 42.16 | −4
76092 |  | Mammogram, screening | 82.77 | 79.40 | −4 | N/A | N/A | N/A
76092 | 26 | Mammogram, screening | 36.05 | 34.08 | −5 | 36.05 | 34.08 | −5
77427 |  | Radiation tx management, x5 | 168.11 | 158.81 | −6 | 168.11 | 158.81 | −6
78465 | 26 | Heart image (3d), multiple | 75.41 | 71.67 | −5 | 75.41 | 71.67 | −5
88305 | 26 | Tissue exam by pathologist | 40.83 | 39.00 | −4 | 40.83 | 39.00 | −4
90801 |  | Psy dx interview | 148.98 | 141.94 | −5 | 140.52 | 133.16 | −5
90806 |  | Psytx, off, 45-50 min | 96.38 | 91.70 | −5 | 92.70 | 88.54 | −4
90807 |  | Psytx, off, 45-50 min w/e&m | 102.63 | 97.32 | −5 | 100.06 | 95.21 | −5
90862 |  | Medication management | 50.76 | 48.13 | −5 | 47.82 | 45.32 | −5
90935 |  | Hemodialysis, one evaluation | N/A | N/A | N/A | 71.36 | 67.81 | −5
92004 |  | Eye exam, new patient | 123.60 | 119.46 | −3 | 88.29 | 83.62 | −5
92012 |  | Eye exam established pat | 61.43 | 60.08 | −2 | 36.05 | 34.08 | −5
92014 |  | Eye exam & treatment | 91.60 | 88.19 | −4 | 58.86 | 55.86 | −5
92980 |  | Insert intracoronary stent | N/A | N/A | N/A | 800.45 | 763.81 | −5
92982 |  | Coronary artery dilation | N/A | N/A | N/A | 594.46 | 566.71 | −5
93000 |  | Electrocardiogram, complete | 26.12 | 24.95 | −2 | N/A | N/A | N/A
93010 |  | Electrocardiogram report | 8.83 | 8.43 | −5 | 8.83 | 8.43 | −5
93015 |  | Cardiovascular stress test | 104.10 | 99.78 | −4 | N/A | N/A | N/A
93307 | 26 | Echo exam of heart | 48.19 | 46.03 | −4 | 48.19 | 46.03 | −4
93510 | 26 | Left heart catheterization | 231.38 | 237.86 | 3 | 231.38 | 237.86 | 3
98941 |  | Chiropractic manipulation | 35.68 | 34.08 | −4 | 31.27 | 29.86 | −5
99203 |  | Office/outpatient visit, new | 92.70 | 90.65 | −2 | 70.26 | 67.46 | −4
99204 |  | Office/outpatient visit, new | 132.06 | 128.24 | −3 | 103.74 | 99.08 | −4
99205 |  | Office/outpatient visit, new | 168.48 | 161.97 | −4 | 137.58 | 130.70 | −5
99211 |  | Office/outpatient visit, est | 20.60 | 20.73 | 1 | 8.83 | 8.43 | −5
99212 |  | Office/outpatient visit, est | 36.42 | 36.19 | −1 | 23.17 | 22.13 | −4
99213 |  | Office/outpatient visit, est | 51.13 | 49.89 | −2 | 34.58 | 33.03 | −4
99214 |  | Office/outpatient visit, est | 79.82 | 77.29 | −3 | 56.65 | 53.75 | −5
99215 |  | Office/outpatient visit, est | 116.98 | 112.43 | −4 | 91.23 | 86.78 | −5
99221 |  | Initial hospital care | N/A | N/A | N/A | 65.85 | 62.54 | −5
99222 |  | Initial hospital care | N/A | N/A | N/A | 109.25 | 104.00 | −5
99223 |  | Initial hospital care | N/A | N/A | N/A | 151.92 | 144.75 | −5
99231 |  | Subsequent hospital care | N/A | N/A | N/A | 32.74 | 31.27 | −4
99232 |  | Subsequent hospital care | N/A | N/A | N/A | 54.07 | 51.30 | −5
99233 |  | Subsequent hospital care | N/A | N/A | N/A | 76.88 | 73.43 | −4
99236 |  | Observ/hosp same date | N/A | N/A | N/A | 216.67 | 211.86 | −2
99238 |  | Hospital discharge day | N/A | N/A | N/A | 69.16 | 65.70 | −5
99239 |  | Hospital discharge day | N/A | N/A | N/A | 93.80 | 89.24 | −5
99241 |  | Office consultation | 47.45 | 47.08 | −1 | 33.11 | 31.97 | −3
99242 |  | Office consultation | 88.29 | 86.08 | −3 | 68.05 | 65.35 | −4
99243 |  | Office consultation | 116.61 | 113.83 | −2 | 90.49 | 86.43 | −4
99244 |  | Office consultation | 165.90 | 160.91 | −3 | 134.27 | 127.89 | −5
99245 |  | Office consultation | 215.20 | 206.94 | −4 | 177.67 | 169.35 | −5
99251 |  | Initial inpatient consult | N/A | N/A | N/A | 34.95 | 33.73 | −3
99252 |  | Initial inpatient consult | N/A | N/A | N/A | 70.26 | 67.46 | −4
99253 |  | Initial inpatient consult | N/A | N/A | N/A | 96.01 | 91.35 | −5
99254 |  | Initial inpatient consult | N/A | N/A | N/A | 137.95 | 131.05 | −5
99255 |  | Initial inpatient consult | N/A | N/A | N/A | 189.81 | 180.94 | −5
99261 |  | Follow-up inpatient consult | N/A | N/A | N/A | 22.07 | 20.73 | −6
99262 |  | Follow-up inpatient consult | N/A | N/A | N/A | 43.77 | 42.16 | −4
99263 |  | Follow-up inpatient consult | N/A | N/A | N/A | 65.11 | 62.19 | −4
99282 |  | Emergency dept visit | N/A | N/A | N/A | 26.85 | 26.00 | −3
99283 |  | Emergency dept visit | N/A | N/A | N/A | 60.33 | 57.62 | −4
99284 |  | Emergency dept visit | N/A | N/A | N/A | 94.17 | 89.94 | −4
99285 |  | Emergency dept visit | N/A | N/A | N/A | 146.77 | 140.18 | −4
99291 |  | Critical care, first hour | 210.05 | 229.07 | 9 | 200.11 | 191.13 | −4
99292 |  | Critical care, add'l 30 min | 107.78 | 101.19 | −6 | 100.06 | 95.21 | −5
99301 |  | Nursing facility care | 71.00 | 67.46 | −5 | 61.06 | 57.97 | −5
99302 |  | Nursing facility care | 96.75 | 92.05 | −5 | 81.30 | 77.65 | −4
99303 |  | Nursing facility care | 119.92 | 114.19 | −5 | 101.16 | 96.27 | −5
99311 |  | Nursing fac care, subseq | 40.83 | 39.00 | −4 | 30.53 | 28.81 | −6
99312 |  | Nursing fac care, subseq | 62.54 | 59.38 | −5 | 50.40 | 48.13 | −5
99313 |  | Nursing fac care, subseq | 85.71 | 81.16 | −5 | 71.73 | 68.16 | −5
99348 |  | Home visit, est patient | 74.31 | 70.62 | −5 | N/A | N/A | N/A
99350 |  | Home visit, est patient | 167.74 | 160.21 | −4 | N/A | N/A | N/A
G0317 |  | ESRDrelsvc 4+/mo; 20+yr | 262.28 | 285.29 | 9 | 262.28 | 285.29 | 9
G0318 |  | ESRDrelsvc 2-3/mo; 20+yr | 262.28 | 237.51 | −9 | 262.28 | 237.51 | −9
G0319 |  | ESRDrelsvc 1/mo; 20+yr | 262.28 | 190.07 | −28 | 262.28 | 190.07 | −28

B. Geographic Practice Cost Index Changes

Section 1848(e)(1)(A) of the Act requires that payments under the Medicare physician fee schedule vary among payment areas only to the extent that area costs vary as reflected by the area GPCIs. The GPCIs measure areas cost differences in the three components of the physician fee schedule: Physician work, practice expenses, and malpractice insurance. Section 1848(e)(1)(C) of the Act requires that the GPCIs be reviewed and, if necessary, revised at least every 3 years. Due to problems with the availability of U.S. Census Bureau data, which is the major resource utilized in both the work and practice expense GPCIs, we have updated only the malpractice GPCI in this regulation.

The first GPCI revision was implemented in 1995. The second revision was implemented in 1998. The third revision was implemented in 2001. This constitutes the fourth revision to the GPCIs. Section 1848(e)(1)(C) of the Act also requires that GPCI revisions be phased in equally over a 2-year period if more than one year has elapsed since the last adjustment.

In order to mitigate the volatility associated with malpractice insurance premiums, we reduced the percent change in the malpractice GPCIs by a factor of 50 percent. As directed by the statute, we will implement ½ of this change in the first year (CY 2004) and ½ of this change in the second year (CY 2005). During this two-year phase-in, we will continue to work with the State Departments of Insurance to obtain the most current malpractice premium data available. As more current data are obtained, we will review and revise the malpractice GPCIs as appropriate.

An estimate of the 2004 proposed malpractice GPCI changes can be demonstrated by a comparison of area geographic adjustment factors (GAFs). The GAFs are a weighted composite of each area's work, practice expense, and malpractice expense GPCIs using the national GPCI cost share weights. While we do not actually use the GAFs in computing the fee schedule payment for a specific service, they are useful in comparing overall area costs and payments. The actual effect on payment for any specific service will deviate from the GAF to the extent that the service's proportions of work, practice expenses, and malpractice expense RVUs differ from those of the GAF. Table 27 shows the estimated effects of the revised 2004 malpractice GPCIs on area GAFs. As directed by statute, the 2004 GAFs reflect only ½ of the impact of the revision to the malpractice GPCIs.

With the exception of Detroit, Michigan, no locality experienced an increase of more than 1 percent in total payments due to the revision of their malpractice GPCI for 2004. Alternatively, locality specific decreases in total payments due to the revision of the malpractice GPCIs do not exceed 1 percent for any given locality in 2004.

Table 29.—Revised Geographic Adjustment Factors from Final Rule
Carrier No. | Locality No. | Locality name | 2003 GAF | 2004 GAF | Percent difference
00510 | 00 | Alabama | 0.927 | 0.923 | −0.4
00831 | 01 | Alaska | 1.115 | 1.113 | −0.1
00832 | 00 | Arizona | 0.991 | 0.991 | 0.0
00520 | 13 | Arkansas | 0.889 | 0.885 | −0.4
31146 | 26 | Anaheim/Santa Ana, CA | 1.096 | 1.098 | 0.1
31146 | 18 | Los Angeles, CA | 1.088 | 1.088 | 0.0
31140 | 03 | Marin/Napa/Solano, CA | 1.103 | 1.104 | 0.0
31140 | 07 | Oakland/Berkeley, CA | 1.112 | 1.111 | 0.0
31140 | 05 | San Francisco, CA | 1.221 | 1.223 | 0.2
31140 | 06 | San Mateo, CA | 1.199 | 1.201 | 0.2
31140 | 09 | Santa Clara, CA | 1.184 | 1.184 | 0.1
31146 | 17 | Ventura, CA | 1.061 | 1.060 | −0.1
31146 | 99 | Rest of California* | 1.010 | 1.008 | −0.2
31140 | 99 | Rest of California* | 1.010 | 1.008 | −0.2
00824 | 01 | Colorado | 0.983 | 0.982 | −0.2
00591 | 00 | Connecticut | 1.092 | 1.092 | 0.0
00902 | 01 | Delaware | 1.016 | 1.018 | 0.2
00903 | 01 | DC + MD/VA Suburbs | 1.094 | 1.095 | 0.1
00590 | 03 | Fort Lauderdale, FL | 1.034 | 1.036 | 0.3
00590 | 04 | Miami, FL | 1.079 | 1.085 | 0.5
00590 | 99 | Rest of Florida | 0.972 | 0.974 | 0.2
00511 | 01 | Atlanta, GA | 1.026 | 1.027 | 0.1
00511 | 99 | Rest of Georgia | 0.936 | 0.935 | −0.1
00833 | 01 | Hawaii/Guam | 1.046 | 1.046 | 0.0
05130 | 00 | Idaho | 0.912 | 0.907 | −0.5
00952 | 16 | Chicago, IL | 1.079 | 1.087 | 0.7
00952 | 12 | East St. Louis, IL | 0.983 | 0.988 | 0.5
00952 | 15 | Suburban Chicago, IL | 1.054 | 1.059 | 0.5
00952 | 99 | Rest of Illinois | 0.939 | 0.940 | 0.1
00630 | 00 | Indiana | 0.940 | 0.935 | −0.5
00826 | 00 | Iowa | 0.912 | 0.909 | −0.4
00650 | 00 | Kansas * | 0.928 | 0.925 | −0.3
00740 | 02 | Kansas * | 0.928 | 0.925 | −0.3
00660 | 00 | Kentucky | 0.923 | 0.921 | −0.2
00528 | 01 | New Orleans, LA | 0.985 | 0.984 | 0.0
00528 | 99 | Rest of Louisiana | 0.930 | 0.929 | −0.1
31142 | 03 | Southern Maine | 0.977 | 0.975 | −0.2
31142 | 99 | Rest of Maine | 0.930 | 0.927 | −0.3
00901 | 01 | Baltimore/Surr. Cntys, MD | 1.025 | 1.025 | 0.0
00901 | 99 | Rest of Maryland | 0.972 | 0.970 | −0.2
31143 | 01 | Metropolitan Boston | 1.117 | 1.118 | 0.2
31143 | 99 | Rest of Massachusetts | 1.053 | 1.054 | 0.1
00953 | 01 | Detroit, MI | 1.095 | 1.106 | 1.0
00953 | 99 | Rest of Michigan | 0.990 | 0.992 | 0.2
00954 | 00 | Minnesota | 0.966 | 0.962 | −0.5
00512 | 00 | Mississippi | 0.900 | 0.896 | −0.4
00740 | 04 | Metropolitan Kansas City, MO | 0.974 | 0.975 | 0.1
00523 | 01 | Metropolitan St. Louis, MO | 0.965 | 0.966 | 0.0
00740 | 99 | Rest of Missouri * | 0.890 | 0.889 | −0.1
00523 | 99 | Rest of Missouri * | 0.890 | 0.889 | −0.1
00751 | 01 | Montana | 0.912 | 0.913 | 0.1
00655 | 00 | Nebraska | 0.902 | 0.898 | −0.4
00834 | 00 | Nevada | 1.026 | 1.025 | −0.1
31144 | 40 | New Hampshire | 0.999 | 1.001 | 0.2
00805 | 01 | Northern NJ | 1.109 | 1.111 | 0.2
00805 | 99 | Rest of New Jersey | 1.058 | 1.060 | 0.2
00521 | 05 | New Mexico | 0.940 | 0.938 | −0.2
00803 | 01 | Manhattan, NY | 1.221 | 1.225 | 0.3
00803 | 02 | Nyc Suburbs/Long I., NY | 1.174 | 1.179 | 0.4
00803 | 03 | Poughkpsie/N Nyc Suburbs, NY | 1.046 | 1.047 | 0.1
14330 | 04 | Queens, NY | 1.156 | 1.161 | 0.4
00801 | 99 | Rest of New York | 0.968 | 0.964 | −0.4
05535 | 00 | North Carolina | 0.941 | 0.939 | −0.2
00820 | 01 | North Dakota | 0.911 | 0.907 | −0.4
00883 | 00 | Ohio | 0.968 | 0.968 | 0.0
00522 | 00 | Oklahoma | 0.912 | 0.907 | −0.7
00835 | 01 | Portland, OR | 1.000 | 0.998 | −0.3
00835 | 99 | Rest of Oregon | 0.932 | 0.929 | −0.4
00865 | 01 | Metropolitan Philadelphia, PA | 1.064 | 1.067 | 0.3
00865 | 99 | Rest of Pennsylvania | 0.957 | 0.955 | −0.2
00973 | 20 | Puerto Rico | 0.790 | 0.784 | −0.8
00870 | 01 | Rhode Island | 1.033 | 1.033 | 0.0
00880 | 01 | South Carolina | 0.922 | 0.919 | −0.4
00820 | 02 | South Dakota | 0.894 | 0.889 | −0.6
05440 | 35 | Tennessee | 0.931 | 0.928 | −0.3
00900 | 31 | Austin, TX | 0.986 | 0.988 | 0.2
00900 | 20 | Beaumont, TX | 0.960 | 0.960 | 0.0
00900 | 09 | Brazoria, TX | 0.997 | 0.999 | 0.1
00900 | 11 | Dallas, TX | 1.031 | 1.033 | 0.3
00900 | 28 | Fort Worth, TX | 0.983 | 0.985 | 0.2
00900 | 15 | Galveston, TX | 0.991 | 0.992 | 0.1
00900 | 18 | Houston, TX | 1.025 | 1.026 | 0.1
00900 | 99 | Rest of Texas | 0.929 | 0.932 | 0.2
00910 | 09 | Utah | 0.951 | 0.948 | −0.2
31145 | 50 | Vermont | 0.965 | 0.962 | −0.3
00973 | 50 | Virgin Islands | 0.991 | 0.992 | 0.1
00904 | 00 | Virginia | 0.949 | 0.947 | −0.2
00836 | 02 | Seattle (King Cnty), WA | 1.038 | 1.038 | 0.0
00836 | 99 | Rest of Washington | 0.971 | 0.970 | −0.1
00884 | 16 | West Virginia | 0.929 | 0.933 | 0.5
00951 | 00 | Wisconsin | 0.958 | 0.954 | −0.4
00825 | 21 | Wyoming | 0.938 | 0.936 | −0.2

C. Tracking Codes

We are adopting a policy that will allow CMS to create national payment policy and determine national payment amounts for CPT tracking codes regardless of whether a national coverage determination for a specific service has been made. Our policy will have no effect on Medicare expenditures but will allow for more flexibility in determining payment rates for new services.

D. G Codes for Managing Dialysis Patients

As previously discussed in section II.D., we have reviewed our current payment policy for the monthly dialysis capitation payment in response to concerns that have been raised over whether our payment policy is consistent with current medical practice. We are establishing new G codes for these services and are aligning Medicare's payment to recognize the higher amount of physician work associated with more frequent face-to-face visits. Aggregated Medicare payments to physicians for treating dialysis patients will not be increased or decreased by the establishment of these new procedure codes. Relative to payment based on the current CPT codes, Medicare payments to physicians for providing fewer than four visits per month will decrease. If the physician provides four or more visits per month, payment will increase. The net effect of these payment changes will not increase or decrease aggregate Medicare payment for physician services provided to dialysis patients.

E. Rebasing and Revising the MEI

Section IV.B. of this final rule discusses rebasing and revising the MEI for the CY 2004 physician fee schedule. Substituting the 2000 MEI weights in place of the 1996 weights increases the MEI by 0.1 percent for 2004. After 2004, the MEI in some years is likely to be unaffected by using more recent year weights while other years may have slightly higher increases (between 0.1 to 0.2 percentage points).

F. Definition of Diabetes for Diabetes Self-Management Training

In section III.A., we revised the definition of diabetes for purposes of the Outpatient Diabetes Self-Management Training benefit and are using this definition to determine beneficiary eligibility for Medical Nutrition Therapy when the beneficiary has a diagnosis of diabetes. The streamlining of the beneficiary eligibility requirements for Outpatient Diabetes Self-Management Training will reduce administrative burden for the referring physician or qualified non-physician practitioner and for the accredited Outpatient Diabetes Self-Management Training programs by simplifying documentation requirements and eliminating the need for reconsiderations and appeals to clarify that the requirements have been met. As indicated in the February 28, 2003 Federal Register (68 FR 9572), we incorporated an adjustment to the SGR consistent with our original estimates of expenditures associated with this new benefit. Our experience is that expenditures have been less than originally estimated. We expect that simplifying administrative requirements associated with this new benefit will make it more likely that expenditures for diabetes self-management training will be consistent with original estimates and there will be no increase in Medicare expenditures from making these modifications.

G. Payment Policies for Anesthesia Services

In section III.D. of this final rule, we discussed Medicare payment for anesthesia services involving anesthesiologists and residents. Effective January 1, 2004, we are revising our teaching anesthesia rules to allow teaching anesthesiologists to bill, similar to teaching CRNAs, for their involvement in two concurrent cases with residents. The policy change will allow anesthesiologists to be paid either under the rules for medical direction or the same way that teaching CRNAs are paid for two concurrent cases. We are uncertain how the practice arrangements of teaching anesthesiologists will change as a result of this new policy. We believe that most teaching anesthesiologists will continue to function under the medical direction practice model for concurrent cases involving residents. Therefore, we believe there will be minimal change in Medicare program expenditures as a result of this change.

H. Alternatives Considered

This proposed rule contains a range of policies. The preamble identifies those policies when discretion has been exercised and presents rationale for our decisions, including a presentation of nonselected options.

I. Impact on Beneficiaries

Although changes in physicians' payments were large when the physician fee schedule was implemented in 1992, we detected no problems with beneficiary access to care. While it has been suggested that the negative update for 2004 may affect beneficiary access to care, we note that the formula to determine this update is set by statute and this regulation cannot, and does not, change it. Nevertheless, we remain concerned about the issue and will continue to study the issue to the best of our ability with available resources.

In accordance with the provisions of Executive Order 12866, this regulation was reviewed by the Office of Management and Budget.

List of Subjects

42 CFR Part 410

Health facilities, Health professions, Kidney diseases,

42 CFR Part 414

Administrative practice and procedure, Health facilities, Health professions, Kidney diseases, Medicare, Reporting and recordkeeping requirements, Rural areas, X-rays.

For the reasons set forth in the preamble, the Centers for Medicare & Medicaid Services amends 42 CFR chapter IV as follows:

PART 410—SUPPLEMENTARY MEDICAL INSURANCE (SMI) BENEFITS

1. The authority citation for part 410 continues to read as follows:

Authority: Secs. 1102 and 1871 of the Social Security Act (42 U.S.C. 1302 and 1395hh).

2. Section 410.130 is amended by revising the definition of “Diabetes” to read as follows:

§ 410.130 Definitions

* * * * *

Diabetes means diabetes mellitus, a condition of abnormal glucose metabolism diagnosed using the following criteria: A fasting blood sugar greater than or equal to 126 mg/dL on two different occasions; a 2 hour post-glucose challenge greater than or equal to 200 mg/dL on 2 different occasions; or a random glucose test over 200 mg/dL for a person with symptoms of uncontrolled diabetes.

* * * * *

3. Section 410.140 is amended by adding the definition of “Diabetes” in alphabetical order to read as follows:

§ 410.140 Definitions

* * * * *

Diabetes means diabetes mellitus, a condition of abnormal glucose metabolism diagnosed using the following criteria: A fasting blood sugar greater than or equal to 126 mg/dL on two different occasions; a 2 hour post-glucose challenge greater than or equal to 200 mg/dL on 2 different occasions; or a random glucose test over 200 mg/dL for a person with symptoms of uncontrolled diabetes.

* * * * *

4. Section 410.141 is amended by revising paragraph (d) to read as follows:

§ 410.141 Outpatient diabetes self-management training.

* * * * *

(d) Beneficiaries who may be covered. Medicare Part B covers outpatient diabetes self-management training for a beneficiary who has been diagnosed with diabetes.

* * * * *

PART 414—PAYMENT FOR PART B MEDICAL AND OTHER HEALTH SERVICES

1. The authority citation for part 414 continues to read as follows:

Authority: Secs. 1102, 1871, and 1881(b)(1) of the Social Security Act (42 U.S.C. 1302, 1395hh, and 1395rr(b)(1)).

2. Section 414.22(b)(6)(iii) is revised to read as follows:

§ 414.22 Relative value units (RVUs).

* * * * *

(b) * * *

(6) * * *

(iii) CMS will consider for use in determining practice expense RVUs for the physician fee schedule survey data and related materials submitted to CMS by March 1, 2004 to determine CY 2005 practice expense RVUs and by March 1, 2005 to determine CY 2006 practice expense RVUs.

* * * * *

3. Section 414.46 is amended to—

a. Redesignate paragraphs (e) through (g) as paragraphs (f) through (h), respectively.

b. Add new paragraph (e).

The addition reads as follows:

§ 414.46 Additional rules for payment of anesthesia services.

* * * * *

(e) Physicians involved with two concurrent cases with residents. The physician can bill base units and time units based on the amount of time the physician is actually present with the resident during each of two concurrent cases furnished on or after January 1, 2004.

(1) To bill the base units, the physician must be present with the resident during the pre- and post-anesthesia care included in the base units.

(2) If the physician is not present with the resident during pre- and post-anesthesia care, then the physician may bill the case as a medically directed case in accordance with paragraph (d) of this section.

* * * * *

(Catalog of Federal Domestic Assistance Program No. 93.774, Medicare—Supplementary Medical Insurance Program)

Dated: October 28, 2003.
Thomas A Scully,
Administrator, Centers for Medicare & Medicaid Services.
Approved: October 28, 2003.
Tommy G. Thompson,
Secretary.

Note: These addenda will not appear in the Code of Federal Regulations.

Addendum A—Explanation and Use of Addenda B

The addenda on the following pages provide various data pertaining to the Medicare fee schedule for physicians' services furnished in 2003. Addendum B contains the RVUs for work, non-facility practice expense, facility practice expense, and malpractice expense, and other information for all services included in the physician fee schedule.

In previous years, we have listed many services in Addendum B that are not paid under the physician fee schedule. To avoid publishing as many pages of codes for these services, we are not including clinical laboratory codes and most alphanumeric codes (Healthcare Common Procedure Coding System (HCPCS) codes not included in CPT) in Addendum B.

Addendum B—2003 Relative Value Units and Related Information Used in Determining Medicare Payments for 2003

This addendum contains the following information for each CPT code and alphanumeric HCPCS code, except for alphanumeric codes beginning with B (enteral and parenteral therapy), E (durable medical equipment), K (temporary codes for non-physicians' services or items), or L (orthotics), and codes for anesthesiology.

1. CPT/HCPCS code. This is the CPT or alphanumeric HCPCS number for the service. Alphanumeric HCPCS codes are included at the end of this addendum.

2. Modifier. A modifier is shown if there is a technical component (modifier TC) and a professional component (PC) (modifier −26) for the service. If there is a PC and a TC for the service, Addendum B contains three entries for the code: One for the global values (both professional and technical); one for modifier −26 (PC); and one for modifier TC. The global service is not designated by a modifier, and physicians must bill using the code without a modifier if the physician furnishes both the PC and the TC of the service.

Modifier −53 is shown for a discontinued procedure. There will be RVUs for the code (CPT code 45378) with this modifier.

3. Status indicator. This indicator shows whether the CPT/HCPCS code is in the physician fee schedule and whether it is separately payable if the service is covered.

A = Active code. These codes are separately payable under the fee schedule if covered. There will be RVUs for codes with this status. The presence of an “A” indicator does not mean that Medicare has made a national decision regarding the coverage of the service. Carriers remain responsible for coverage decisions in the absence of a national Medicare policy.

B = Bundled code. Payment for covered services is always bundled into payment for other services not specified. If RVUs are shown, they are not used for Medicare payment. If these services are covered, payment for them is subsumed by the payment for the services to which they are incident. (An example is a telephone call from a hospital nurse regarding care of a patient.)

C = Carrier-priced code. Carriers will establish RVUs and payment amounts for these services, generally on a case-by-case basis following review of documentation, such as an operative report.

D = Deleted code. These codes are deleted effective with the beginning of the calendar year.

E = Excluded from physician fee schedule by regulation. These codes are for items or services that we chose to exclude from the physician fee schedule payment by regulation. No RVUs are shown, and no payment may be made under the physician fee schedule for these codes. Payment for them, if they are covered, continues under reasonable charge or other payment procedures.

F = Deleted/discontinued codes. Code not subject to a 90-day grace period.

G = Code not valid for Medicare purposes. Medicare does not recognize codes assigned this status. Medicare uses another code for reporting of, and payment for, these services.

H = Deleted modifier. Either the TC or PC component shown for the code has been deleted, and the deleted component is shown in the data base with the H status indicator. (Code subject to a 90-day grace period.)

I = Not valid for Medicare purposes. Medicare uses another code for the reporting of, and the payment for, these services. (Code NOT subject to a 90-day grace period.)

N = Non-covered service. These codes are non-covered services. Medicare payment may not be made for these codes. If RVUs are shown, they are not used for Medicare payment.

P = Bundled or excluded code. There are no RVUs for these services. No separate payment should be made for them under the physician fee schedule.

—If the item or service is covered as incident to a physician's service and is furnished on the same day as a physician's service, payment for it is bundled into the payment for the physician's service to which it is incident (an example is an elastic bandage furnished by a physician incident to a physician's service).

—If the item or service is covered as other than incident to a physician's service, it is excluded from the physician fee schedule (for example, colostomy supplies) and is paid under the other payment provisions of the Act.

R = Restricted coverage. Special coverage instructions apply. If the service is covered and no RVUs are shown, it is carrier-priced.

T = Injections. There are RVUs for these services, but they are only paid if there are no other services payable under the physician fee schedule billed on the same date by the same provider. If any other services payable under the physician fee schedule are billed on the same date by the same provider, these services are bundled into the service(s) for which payment is made.

X = Exclusion by law. These codes represent an item or service that is not within the definition of “physicians’ services” for physician fee schedule payment purposes. No RVUs are shown for these codes, and no payment may be made under the physician fee schedule. (Examples are ambulance services and clinical diagnostic laboratory services.)

4. Description of code. This is an abbreviated version of the narrative description of the code.

5. Physician work RVUs. These are the RVUs for the physician work for this service in 2003. Codes that are not used for Medicare payment are identified with a “+”.

6. Facility practice expense RVUs. These are the fully implemented resource-based practice expense RVUs for facility settings.

7. Non-facility practice expense RVUs. These are the fully implemented resource-based practice expense RVUs for non-facility settings.

8. Malpractice expense RVUs. These are the RVUs for the malpractice expense for the service for 2003.

9. Facility total. This is the sum of the work, fully implemented facility practice expense, and malpractice expense RVUs.

10. Non-facility total. This is the sum of the work, fully implemented non-facility practice expense, and malpractice expense RVUs.

11. Global period. This indicator shows the number of days in the global period for the code (0, 10, or 90 days). An explanation of the alpha codes follows:

MMM = The code describes a service furnished in uncomplicated maternity cases including antepartum care, delivery, and postpartum care. The usual global surgical concept does not apply. See the 1999 Physicians' Current Procedural Terminology for specific definitions.

XXX = The global concept does not apply.

YYY = The global period is to be set by the carrier (for example, unlisted surgery codes).

ZZZ = Code related to another service that is always included in the global period of the other service. (Note: Physician work and practice expense are associated with intra-service time and in some instances the post-service time.)

——————————

¹ CPT codes and descriptions only are copyright 2003 American Medical Association. All Rights Reserved. Applicable FARS/DFARS Apply.

² Copyright 2003 American Dental Association. All rights reserved.

³ +Indicates RVUs are not used for Medicare payment.

Addendum B.—Relative Value Units (RVUS) and Related Information
CPT¹/HCPCS² | MOD | Status | Description | Physician work RVUs³ | Non-facility PE RVUs | Facility PE RVUs | Malpractice RVUs | Non-facility Total | Facility total | Global
0001T |  | C | Endovas repr abdo ao aneurys | 0.00 | 0.00 | 0.00 | 0.00 | 0.00 | 0.00 | XXX
0002T |  | D | endo repair abd aa aorto uni | 0.00 | 0.00 | 0.00 | 0.00 | 0.00 | 0.00 | XXX
0003T |  | C | Cervicography | 0.00 | 0.00 | 0.00 | 0.00 | 0.00 | 0.00 | XXX
0005T |  | C | Perc cath stent/brain cv art | 0.00 | 0.00 | 0.00 | 0.00 | 0.00 | 0.00 | XXX
0006T |  | C | Perc cath stent/brain cv art | 0.00 | 0.00 | 0.00 | 0.00 | 0.00 | 0.00 | XXX
0007T |  | C | Perc cath stent/brain cv art | 0.00 | 0.00 | 0.00 | 0.00 | 0.00 | 0.00 | XXX
0008T |  | C | Upper gi endoscopy w/suture | 0.00 | 0.00 | 0.00 | 0.00 | 0.00 | 0.00 | XXX
0009T |  | C | Endometrial cryoablation | 0.00 | 0.00 | 0.00 | 0.00 | 0.00 | 0.00 | XXX
0010T |  | C | Tb test, gamma interferon | 0.00 | 0.00 | 0.00 | 0.00 | 0.00 | 0.00 | XXX
0012T |  | C | Osteochondral knee autograft | 0.00 | 0.00 | 0.00 | 0.00 | 0.00 | 0.00 | XXX
0013T |  | C | Osteochondral knee allograft | 0.00 | 0.00 | 0.00 | 0.00 | 0.00 | 0.00 | XXX
0014T |  | C | Meniscal transplant, knee | 0.00 | 0.00 | 0.00 | 0.00 | 0.00 | 0.00 | XXX
0016T |  | C | Thermotx choroid vasc lesion | 0.00 | 0.00 | 0.00 | 0.00 | 0.00 | 0.00 | XXX
0017T |  | C | Photocoagulat macular drusen | 0.00 | 0.00 | 0.00 | 0.00 | 0.00 | 0.00 | XXX
0018T |  | C | Transcranial magnetic stimul | 0.00 | 0.00 | 0.00 | 0.00 | 0.00 | 0.00 | XXX
0019T |  | I | Extracorp shock wave tx, ms | 0.00 | 0.00 | 0.00 | 0.00 | 0.00 | 0.00 | XXX
0020T |  | C | Extracorp shock wave tx, ft | 0.00 | 0.00 | 0.00 | 0.00 | 0.00 | 0.00 | XXX
0021T |  | C | Fetal oximetry, trnsvag/cerv | 0.00 | 0.00 | 0.00 | 0.00 | 0.00 | 0.00 | XXX
0023T |  | C | Phenotype drug test, hiv 1 | 0.00 | 0.00 | 0.00 | 0.00 | 0.00 | 0.00 | XXX
0024T |  | C | Transcath cardiac reduction | 0.00 | 0.00 | 0.00 | 0.00 | 0.00 | 0.00 | XXX
0025T |  | D | Ultrasonic pachymetry | 0.00 | 0.00 | 0.00 | 0.00 | 0.00 | 0.00 | XXX
0026T |  | C | Measure remnant lipoproteins | 0.00 | 0.00 | 0.00 | 0.00 | 0.00 | 0.00 | XXX
0027T |  | C | Endoscopic epidural lysis | 0.00 | 0.00 | 0.00 | 0.00 | 0.00 | 0.00 | XXX
0028T |  | C | Dexa body composition study | 0.00 | 0.00 | 0.00 | 0.00 | 0.00 | 0.00 | XXX
0029T |  | C | Magnetic tx for incontinence | 0.00 | 0.00 | 0.00 | 0.00 | 0.00 | 0.00 | XXX
0030T |  | C | Antiprothrombin antibody | 0.00 | 0.00 | 0.00 | 0.00 | 0.00 | 0.00 | XXX
0031T |  | C | Speculoscopy | 0.00 | 0.00 | 0.00 | 0.00 | 0.00 | 0.00 | XXX
0032T |  | C | Speculoscopy w/direct sample | 0.00 | 0.00 | 0.00 | 0.00 | 0.00 | 0.00 | XXX
0033T |  | C | Endovasc taa repr incl subcl | 0.00 | 0.00 | 0.00 | 0.00 | 0.00 | 0.00 | XXX
0034T |  | C | Endovasc taa repr w/o subcl | 0.00 | 0.00 | 0.00 | 0.00 | 0.00 | 0.00 | XXX
0035T |  | C | Insert endovasc prosth, taa | 0.00 | 0.00 | 0.00 | 0.00 | 0.00 | 0.00 | XXX
0036T |  | C | Endovasc prosth, taa, add-on | 0.00 | 0.00 | 0.00 | 0.00 | 0.00 | 0.00 | XXX
0037T |  | C | Artery transpose/endovas taa | 0.00 | 0.00 | 0.00 | 0.00 | 0.00 | 0.00 | XXX
0038T |  | C | Rad endovasc taa rpr w/cover | 0.00 | 0.00 | 0.00 | 0.00 | 0.00 | 0.00 | XXX
0039T |  | C | Rad s/i, endovasc taa repair | 0.00 | 0.00 | 0.00 | 0.00 | 0.00 | 0.00 | XXX
0040T |  | C | Rad s/i, endovasc taa prosth | 0.00 | 0.00 | 0.00 | 0.00 | 0.00 | 0.00 | XXX
0041T |  | C | Detect ur infect agnt w/cpas | 0.00 | 0.00 | 0.00 | 0.00 | 0.00 | 0.00 | XXX
0042T |  | C | Ct perfusion w/contrast, cbf | 0.00 | 0.00 | 0.00 | 0.00 | 0.00 | 0.00 | XXX
0043T |  | C | Co expired gas analysis | 0.00 | 0.00 | 0.00 | 0.00 | 0.00 | 0.00 | XXX
0044T |  | C | Whole body photography | 0.00 | 0.00 | 0.00 | 0.00 | 0.00 | 0.00 | XXX
0045T |  | C | Whole body photography | 0.00 | 0.00 | 0.00 | 0.00 | 0.00 | 0.00 | XXX
0046T |  | C | Cath lavage, mammary duct(s | 0.00 | 0.00 | 0.00 | 0.00 | 0.00 | 0.00 | XXX
0047T |  | C | Cath lavage, mammary duct(s) | 0.00 | 0.00 | 0.00 | 0.00 | 0.00 | 0.00 | XXX
0048T |  | C | Implant ventricular device | 0.00 | 0.00 | 0.00 | 0.00 | 0.00 | 0.00 | XXX
0049T |  | C | External circulation assist | 0.00 | 0.00 | 0.00 | 0.00 | 0.00 | 0.00 | XXX
0050T |  | C | Removal circulation assist | 0.00 | 0.00 | 0.00 | 0.00 | 0.00 | 0.00 | XXX
0051T |  | C | Implant total heart system | 0.00 | 0.00 | 0.00 | 0.00 | 0.00 | 0.00 | XXX
0052T |  | C | Replace component heart syst | 0.00 | 0.00 | 0.00 | 0.00 | 0.00 | 0.00 | XXX
0053T |  | C | Replace component heart syst | 0.00 | 0.00 | 0.00 | 0.00 | 0.00 | 0.00 | XXX
0054T |  | C | Bone surgery using computer | 0.00 | 0.00 | 0.00 | 0.00 | 0.00 | 0.00 | XXX
0055T |  | C | Bone surgery using computer | 0.00 | 0.00 | 0.00 | 0.00 | 0.00 | 0.00 | XXX
0056T |  | C | Bone surgery using computer | 0.00 | 0.00 | 0.00 | 0.00 | 0.00 | 0.00 | XXX
0057T |  | C | Uppr gi scope w/ thrml txmnt | 0.00 | 0.00 | 0.00 | 0.00 | 0.00 | 0.00 | XXX
0058T |  | C | Cryopreservation, ovary tiss | 0.00 | 0.00 | 0.00 | 0.00 | 0.00 | 0.00 | XXX
0059T |  | C | Cryopreservation, oocyte | 0.00 | 0.00 | 0.00 | 0.00 | 0.00 | 0.00 | XXX
0060T |  | C | Electrical impedance scan | 0.00 | 0.00 | 0.00 | 0.00 | 0.00 | 0.00 | XXX
0061T |  | C | Destruction of tumor, breast | 0.00 | 0.00 | 0.00 | 0.00 | 0.00 | 0.00 | XXX
10021 |  | A | Fna w/o image | 1.26 | 2.22 | 0.55 | 0.08 | 3.56 | 1.89 | XXX
10022 |  | A | Fna w/image | 1.26 | 2.65 | 0.43 | 0.06 | 3.97 | 1.75 | XXX
10040 |  | A | Acne surgery | 1.17 | 1.02 | 0.68 | 0.06 | 2.25 | 1.91 | 010
10060 |  | A | Drainage of skin abscess | 1.16 | 1.22 | 0.95 | 0.10 | 2.48 | 2.21 | 010
10061 |  | A | Drainage of skin abscess | 2.39 | 1.84 | 1.53 | 0.20 | 4.43 | 4.12 | 010
10080 |  | A | Drainage of pilonidal cyst | 1.16 | 3.19 | 1.16 | 0.11 | 4.46 | 2.43 | 010
10081 |  | A | Drainage of pilonidal cyst | 2.44 | 4.16 | 1.53 | 0.23 | 6.83 | 4.20 | 010
10120 |  | A | Remove foreign body | 1.21 | 1.48 | 0.42 | 0.12 | 2.81 | 1.75 | 010
10121 |  | A | Remove foreign body | 2.67 | 3.36 | 1.91 | 0.30 | 6.33 | 4.88 | 010
10140 |  | A | Drainage of hematoma/fluid | 1.52 | 1.53 | 0.91 | 0.18 | 3.23 | 2.61 | 010
10160 |  | A | Puncture drainage of lesion | 1.19 | 0.73 | 0.47 | 0.13 | 2.05 | 1.79 | 010
10180 |  | A | Complex drainage, wound | 2.24 | 3.27 | 2.09 | 0.30 | 5.81 | 4.63 | 010
11000 |  | A | Debride infected skin | 0.60 | 0.58 | 0.22 | 0.06 | 1.24 | 0.88 | 000
11001 |  | A | Debride infected skin add-on | 0.30 | 0.23 | 0.11 | 0.02 | 0.55 | 0.43 | ZZZ
11010 |  | A | Debride skin, fx | 4.18 | 6.80 | 2.35 | 0.54 | 11.52 | 7.07 | 010
11011 |  | A | Debride skin/muscle, fx | 4.92 | 8.12 | 2.39 | 0.64 | 13.68 | 7.95 | 000
11012 |  | A | Debride skin/muscle/bone, fx | 6.84 | 12.02 | 3.90 | 1.07 | 19.93 | 11.81 | 000
11040 |  | A | Debride skin, partial | 0.50 | 0.52 | 0.21 | 0.06 | 1.08 | 0.77 | 000
11041 |  | A | Debride skin, full | 0.82 | 0.65 | 0.33 | 0.07 | 1.54 | 1.22 | 000
11042 |  | A | Debride skin/tissue | 1.11 | 0.98 | 0.47 | 0.11 | 2.20 | 1.69 | 000
11043 |  | A | Debride tissue/muscle | 2.37 | 3.47 | 2.63 | 0.29 | 6.13 | 5.29 | 010
11044 |  | A | Debride tissue/muscle/bone | 3.04 | 4.58 | 3.80 | 0.41 | 8.03 | 7.25 | 010
11055 |  | R | Trim skin lesion | 0.43 | 0.56 | 0.17 | 0.02 | 1.01 | 0.62 | 000
11056 |  | R | Trim skin lesions, 2 to 4 | 0.61 | 0.64 | 0.24 | 0.04 | 1.29 | 0.89 | 000
11057 |  | R | Trim skin lesions, over 4 | 0.79 | 0.73 | 0.31 | 0.05 | 1.57 | 1.15 | 000
11100 |  | A | Biopsy, skin lesion | 0.81 | 1.27 | 0.37 | 0.05 | 2.13 | 1.23 | 000
11101 |  | A | Biopsy, skin add-on | 0.41 | 0.34 | 0.19 | 0.02 | 0.77 | 0.62 | ZZZ
11200 |  | A | Removal of skin tags | 0.77 | 1.07 | 0.78 | 0.05 | 1.89 | 1.60 | 010
11201 |  | A | Remove skin tags add-on | 0.29 | 0.16 | 0.12 | 0.02 | 0.47 | 0.43 | ZZZ
11300 |  | A | Shave skin lesion | 0.51 | 1.01 | 0.22 | 0.04 | 1.56 | 0.77 | 000
11301 |  | A | Shave skin lesion | 0.85 | 1.13 | 0.38 | 0.05 | 2.03 | 1.28 | 000
11302 |  | A | Shave skin lesion | 1.04 | 1.32 | 0.47 | 0.06 | 2.42 | 1.57 | 000
11303 |  | A | Shave skin lesion | 1.23 | 1.61 | 0.53 | 0.07 | 2.91 | 1.83 | 000
11305 |  | A | Shave skin lesion | 0.67 | 0.85 | 0.27 | 0.05 | 1.57 | 0.99 | 000
11306 |  | A | Shave skin lesion | 0.98 | 1.12 | 0.43 | 0.06 | 2.16 | 1.47 | 000
11307 |  | A | Shave skin lesion | 1.13 | 1.31 | 0.50 | 0.06 | 2.50 | 1.69 | 000
11308 |  | A | Shave skin lesion | 1.40 | 1.47 | 0.61 | 0.08 | 2.95 | 2.09 | 000
11310 |  | A | Shave skin lesion | 0.73 | 1.14 | 0.33 | 0.05 | 1.92 | 1.11 | 000
11311 |  | A | Shave skin lesion | 1.04 | 1.26 | 0.50 | 0.06 | 2.36 | 1.60 | 000
11312 |  | A | Shave skin lesion | 1.19 | 1.46 | 0.56 | 0.07 | 2.72 | 1.82 | 000
11313 |  | A | Shave skin lesion | 1.61 | 1.84 | 0.72 | 0.11 | 3.56 | 2.44 | 000
11400 |  | A | Exc tr-ext b9+marg 0.5 < cm | 0.85 | 2.04 | 0.90 | 0.07 | 2.96 | 1.82 | 010
11401 |  | A | Exc tr-ext b9+marg 0.6-1 cm | 1.22 | 2.10 | 1.04 | 0.11 | 3.43 | 2.37 | 010
11402 |  | A | Exc tr-ext b9+marg 1.1-2 cm | 1.50 | 2.27 | 1.10 | 0.14 | 3.91 | 2.74 | 010
11403 |  | A | Exc tr-ext b9+marg 2.1-3 cm | 1.78 | 2.45 | 1.35 | 0.19 | 4.42 | 3.32 | 010
11404 |  | A | Exc tr-ext b9+marg 3.1-4 cm | 2.05 | 2.77 | 1.43 | 0.22 | 5.04 | 3.70 | 010
11406 |  | A | Exc tr-ext b9+marg 4.0 cm | 2.74 | 3.14 | 1.69 | 0.30 | 6.18 | 4.73 | 010
11420 |  | A | Exc h-f-nk-sp b9+marg 0.5 < | 0.97 | 1.80 | 0.94 | 0.10 | 2.87 | 2.01 | 010
11421 |  | A | Exc h-f-nk-sp b9+marg 0.6-1 | 1.41 | 2.10 | 1.13 | 0.13 | 3.64 | 2.67 | 010
11422 |  | A | Exc h-f-nk-sp b9+marg 1.1-2 | 1.62 | 2.30 | 1.36 | 0.17 | 4.09 | 3.15 | 010
11423 |  | A | Exc h-f-nk-sp b9+marg 2.1-3 | 2.00 | 2.64 | 1.48 | 0.20 | 4.84 | 3.68 | 010
11424 |  | A | Exc h-f-nk-sp b9+marg 3.1-4 | 2.42 | 2.86 | 1.63 | 0.25 | 5.53 | 4.30 | 010
11426 |  | A | Exc h-f-nk-sp b9+marg > 4 cm | 3.76 | 3.57 | 2.13 | 0.41 | 7.74 | 6.30 | 010
11440 |  | A | Exc face-mm b9+marg 0.5 < cm | 1.05 | 2.31 | 1.35 | 0.10 | 3.46 | 2.50 | 010
11441 |  | A | Exc face-mm b9+marg 0.6-1 cm | 1.47 | 2.42 | 1.53 | 0.13 | 4.02 | 3.13 | 010
11442 |  | A | Exc face-mm b9+marg 1.1-2 cm | 1.71 | 2.62 | 1.60 | 0.17 | 4.50 | 3.48 | 010
11443 |  | A | Exc face-mm b9+marg 2.1-3 cm | 2.28 | 3.01 | 1.85 | 0.22 | 5.51 | 4.35 | 010
11444 |  | A | Exc face-mm b9+marg 3.1-4 cm | 3.12 | 3.58 | 2.21 | 0.30 | 7.00 | 5.63 | 010
11446 |  | A | Exc face-mm b9+marg > 4 cm | 4.46 | 4.16 | 2.82 | 0.36 | 8.98 | 7.64 | 010
11450 |  | A | Removal, sweat gland lesion | 2.71 | 5.20 | 2.06 | 0.31 | 8.22 | 5.08 | 090
11451 |  | A | Removal, sweat gland lesion | 3.93 | 6.84 | 2.59 | 0.47 | 11.24 | 6.99 | 090
11462 |  | A | Removal, sweat gland lesion | 2.50 | 5.29 | 2.04 | 0.28 | 8.07 | 4.82 | 090
11463 |  | A | Removal, sweat gland lesion | 3.93 | 7.08 | 2.73 | 0.48 | 11.49 | 7.14 | 090
11470 |  | A | Removal, sweat gland lesion | 3.23 | 5.23 | 2.30 | 0.36 | 8.82 | 5.89 | 090
11471 |  | A | Removal, sweat gland lesion | 4.38 | 6.96 | 2.82 | 0.48 | 11.82 | 7.68 | 090
11600 |  | A | Exc tr-ext mlg+marg 0.5 < cm | 1.30 | 2.70 | 0.99 | 0.11 | 4.11 | 2.40 | 010
11601 |  | A | Exc tr-ext mlg+marg 0.6-1 cm | 1.79 | 2.76 | 1.24 | 0.14 | 4.69 | 3.17 | 010
11602 |  | A | Exc tr-ext mlg+marg 1.1-2 cm | 1.94 | 2.90 | 1.29 | 0.16 | 5.00 | 3.39 | 010
11603 |  | A | Exc tr-ext mlg+marg 2.1-3 cm | 2.18 | 3.15 | 1.35 | 0.19 | 5.52 | 3.72 | 010
11604 |  | A | Exc tr-ext mlg+marg 3.1-4 cm | 2.39 | 3.46 | 1.42 | 0.22 | 6.07 | 4.03 | 010
11606 |  | A | Exc tr-ext mlg+marg > 4 cm | 3.41 | 4.16 | 1.77 | 0.34 | 7.91 | 5.52 | 010
11620 |  | A | Exc h-f-nk-sp mlg+marg 0.5 < | 1.18 | 2.66 | 0.97 | 0.11 | 3.95 | 2.26 | 010
11621 |  | A | Exc h-f-nk-sp mlg+marg 0.6-1 | 1.75 | 2.77 | 1.26 | 0.14 | 4.66 | 3.15 | 010
11622 |  | A | Exc h-f-nk-sp mlg+marg 1.1-2 | 2.08 | 3.04 | 1.41 | 0.18 | 5.30 | 3.67 | 010
11623 |  | A | Exc h-f-nk-sp mlg+marg 2.1-3 | 2.60 | 3.41 | 1.61 | 0.24 | 6.25 | 4.45 | 010
11624 |  | A | Exc h-f-nk-sp mlg+marg 3.1-4 | 3.04 | 3.83 | 1.80 | 0.30 | 7.17 | 5.14 | 010
11626 |  | A | Exc h-f-nk-sp mlg+mar > 4 cm | 4.28 | 4.74 | 2.43 | 0.42 | 9.44 | 7.13 | 010
11640 |  | A | Exc face-mm malig+marg 0.5 < | 1.34 | 2.73 | 1.13 | 0.12 | 4.19 | 2.59 | 010
11641 |  | A | Exc face-mm malig+marg 0.6-1 | 2.15 | 3.10 | 1.55 | 0.18 | 5.43 | 3.88 | 010
11642 |  | A | Exc face-mm malig+marg 1.1-2 | 2.58 | 3.48 | 1.75 | 0.22 | 6.28 | 4.55 | 010
11643 |  | A | Exc face-mm malig+marg 2.1-3 | 3.08 | 3.89 | 1.98 | 0.29 | 7.26 | 5.35 | 010
11644 |  | A | Exc face-mm malig+marg 3.1-4 | 4.01 | 4.79 | 2.49 | 0.40 | 9.20 | 6.90 | 010
11646 |  | A | Exc face-mm mlg+marg > 4 cm | 5.92 | 5.87 | 3.53 | 0.55 | 12.34 | 10.00 | 010
11719 |  | R | Trim nail(s) | 0.17 | 0.25 | 0.07 | 0.01 | 0.43 | 0.25 | 000
11720 |  | A | Debride nail, 1-5 | 0.32 | 0.34 | 0.13 | 0.02 | 0.68 | 0.47 | 000
11721 |  | A | Debride nail, 6 or more | 0.54 | 0.44 | 0.21 | 0.05 | 1.03 | 0.80 | 000
11730 |  | A | Removal of nail plate | 1.12 | 1.03 | 0.44 | 0.11 | 2.26 | 1.67 | 000
11732 |  | A | Remove nail plate, add-on | 0.57 | 0.45 | 0.23 | 0.06 | 1.08 | 0.86 | ZZZ
11740 |  | A | Drain blood from under nail | 0.37 | 0.86 | 0.14 | 0.04 | 1.27 | 0.55 | 000
11750 |  | A | Removal of nail bed | 1.85 | 2.15 | 1.75 | 0.19 | 4.19 | 3.79 | 010
11752 |  | A | Remove nail bed/finger tip | 2.65 | 2.99 | 2.99 | 0.40 | 6.04 | 6.04 | 010
11755 |  | A | Biopsy, nail unit | 1.30 | 1.10 | 0.56 | 0.07 | 2.47 | 1.93 | 000
11760 |  | A | Repair of nail bed | 1.57 | 1.86 | 1.23 | 0.20 | 3.63 | 3.00 | 010
11762 |  | A | Reconstruction of nail bed | 2.87 | 2.29 | 1.85 | 0.38 | 5.54 | 5.10 | 010
11765 |  | A | Excision of nail fold, toe | 0.69 | 1.16 | 0.53 | 0.06 | 1.91 | 1.28 | 010
11770 |  | A | Removal of pilonidal lesion | 2.60 | 3.58 | 1.53 | 0.29 | 6.47 | 4.42 | 010
11771 |  | A | Removal of pilonidal lesion | 5.71 | 5.79 | 3.36 | 0.67 | 12.17 | 9.74 | 090
11772 |  | A | Removal of pilonidal lesion | 6.94 | 7.27 | 3.90 | 0.82 | 15.03 | 11.66 | 090
11900 |  | A | Injection into skin lesions | 0.52 | 0.66 | 0.22 | 0.02 | 1.20 | 0.76 | 000
11901 |  | A | Added skin lesions injection | 0.80 | 0.67 | 0.36 | 0.04 | 1.51 | 1.20 | 000
11920 |  | R | Correct skin color defects | 1.60 | 2.01 | 0.78 | 0.20 | 3.81 | 2.58 | 000
11921 |  | R | Correct skin color defects | 1.92 | 2.38 | 0.98 | 0.25 | 4.55 | 3.15 | 000
11922 |  | R | Correct skin color defects | 0.49 | 0.38 | 0.25 | 0.06 | 0.93 | 0.80 | ZZZ
11950 |  | R | Therapy for contour defects | 0.84 | 1.17 | 0.42 | 0.07 | 2.08 | 1.33 | 000
11951 |  | R | Therapy for contour defects | 1.18 | 1.51 | 0.52 | 0.12 | 2.81 | 1.82 | 000
11952 |  | R | Therapy for contour defects | 1.68 | 1.89 | 0.69 | 0.20 | 3.77 | 2.57 | 000
11954 |  | R | Therapy for contour defects | 1.84 | 2.46 | 0.91 | 0.23 | 4.53 | 2.98 | 000
11960 |  | A | Insert tissue expander(s) | 9.03 | NA | 10.65 | 1.05 | NA | 20.73 | 090
11970 |  | A | Replace tissue expander | 7.02 | NA | 6.16 | 0.92 | NA | 14.10 | 090
11971 |  | A | Remove tissue expander(s) | 2.12 | 7.20 | 4.81 | 0.25 | 9.57 | 7.18 | 090
11975 |  | N | Insert contraceptive cap | +1.47 | 1.43 | 0.58 | 0.17 | 3.07 | 2.22 | XXX
11976 |  | R | Removal of contraceptive cap | 1.77 | 1.72 | 0.69 | 0.20 | 3.69 | 2.66 | 000
11977 |  | N | Removal/reinsert contra cap | +3.28 | 2.28 | 1.27 | 0.37 | 5.93 | 4.92 | XXX
11980 |  | A | Implant hormone pellet(s) | 1.47 | 1.11 | 0.56 | 0.12 | 2.70 | 2.15 | 000
11981 |  | A | Insert drug implant device | 1.47 | 1.76 | 0.69 | 0.17 | 3.40 | 2.33 | XXX
11982 |  | A | Remove drug implant device | 1.77 | 1.99 | 0.85 | 0.20 | 3.96 | 2.82 | XXX
11983 |  | A | Remove/insert drug implant | 3.28 | 2.34 | 1.49 | 0.37 | 5.99 | 5.14 | XXX
12001 |  | A | Repair superficial wound(s) | 1.69 | 2.04 | 0.50 | 0.16 | 3.89 | 2.35 | 010
12002 |  | A | Repair superficial wound(s) | 1.85 | 2.10 | 0.95 | 0.18 | 4.13 | 2.98 | 010
12004 |  | A | Repair superficial wound(s) | 2.23 | 2.40 | 1.06 | 0.20 | 4.83 | 3.49 | 010
12005 |  | A | Repair superficial wound(s) | 2.84 | 2.90 | 1.25 | 0.28 | 6.02 | 4.37 | 010
12006 |  | A | Repair superficial wound(s) | 3.65 | 3.48 | 1.56 | 0.37 | 7.50 | 5.58 | 010
12007 |  | A | Repair superficial wound(s) | 4.10 | 3.91 | 1.86 | 0.44 | 8.45 | 6.40 | 010
12011 |  | A | Repair superficial wound(s) | 1.75 | 2.20 | 0.51 | 0.17 | 4.12 | 2.43 | 010
12013 |  | A | Repair superficial wound(s) | 1.98 | 2.35 | 0.98 | 0.19 | 4.52 | 3.15 | 010
12014 |  | A | Repair superficial wound(s) | 2.45 | 2.65 | 1.11 | 0.22 | 5.32 | 3.78 | 010
12015 |  | A | Repair superficial wound(s) | 3.17 | 3.23 | 1.30 | 0.29 | 6.69 | 4.76 | 010
12016 |  | A | Repair superficial wound(s) | 3.91 | 3.65 | 1.58 | 0.38 | 7.94 | 5.87 | 010
12017 |  | A | Repair superficial wound(s) | 4.68 | NA | 1.93 | 0.47 | NA | 7.08 | 010
12018 |  | A | Repair superficial wound(s) | 5.50 | NA | 2.30 | 0.55 | NA | 8.35 | 010
12020 |  | A | Closure of split wound | 2.61 | 2.70 | 1.77 | 0.29 | 5.60 | 4.67 | 010
12021 |  | A | Closure of split wound | 1.83 | 1.77 | 1.42 | 0.23 | 3.83 | 3.48 | 010
12031 |  | A | Layer closure of wound(s) | 2.14 | 2.33 | 0.82 | 0.18 | 4.65 | 3.14 | 010
12032 |  | A | Layer closure of wound(s) | 2.46 | 3.93 | 1.86 | 0.18 | 6.57 | 4.50 | 010
12034 |  | A | Layer closure of wound(s) | 2.90 | 3.21 | 1.43 | 0.25 | 6.36 | 4.58 | 010
12035 |  | A | Layer closure of wound(s) | 3.41 | 5.34 | 2.21 | 0.36 | 9.11 | 5.98 | 010
12036 |  | A | Layer closure of wound(s) | 4.03 | 5.43 | 2.41 | 0.49 | 9.95 | 6.93 | 010
12037 |  | A | Layer closure of wound(s) | 4.64 | 6.52 | 2.81 | 0.59 | 11.75 | 8.04 | 010
12041 |  | A | Layer closure of wound(s) | 2.36 | 2.50 | 0.87 | 0.20 | 5.06 | 3.43 | 010
12042 |  | A | Layer closure of wound(s) | 2.72 | 3.24 | 1.39 | 0.20 | 6.16 | 4.31 | 010
12044 |  | A | Layer closure of wound(s) | 3.12 | 3.24 | 1.58 | 0.29 | 6.65 | 4.99 | 010
12045 |  | A | Layer closure of wound(s) | 3.62 | 3.72 | 2.20 | 0.41 | 7.75 | 6.23 | 010
12046 |  | A | Layer closure of wound(s) | 4.23 | 6.68 | 2.80 | 0.48 | 11.39 | 7.51 | 010
12047 |  | A | Layer closure of wound(s) | 4.62 | 6.54 | 3.13 | 0.49 | 11.65 | 8.24 | 010
12051 |  | A | Layer closure of wound(s) | 2.46 | 3.26 | 1.38 | 0.19 | 5.91 | 4.03 | 010
12052 |  | A | Layer closure of wound(s) | 2.75 | 3.21 | 1.36 | 0.20 | 6.16 | 4.31 | 010
12053 |  | A | Layer closure of wound(s) | 3.10 | 3.25 | 1.52 | 0.24 | 6.59 | 4.86 | 010
12054 |  | A | Layer closure of wound(s) | 3.44 | 3.59 | 1.62 | 0.30 | 7.33 | 5.36 | 010
12055 |  | A | Layer closure of wound(s) | 4.40 | 4.59 | 2.16 | 0.42 | 9.41 | 6.98 | 010
12056 |  | A | Layer closure of wound(s) | 5.21 | 6.85 | 3.11 | 0.52 | 12.58 | 8.84 | 010
12057 |  | A | Layer closure of wound(s) | 5.93 | 6.18 | 3.80 | 0.60 | 12.71 | 10.33 | 010
13100 |  | A | Repair of wound or lesion | 3.10 | 3.55 | 1.80 | 0.25 | 6.90 | 5.15 | 010
13101 |  | A | Repair of wound or lesion | 3.90 | 3.79 | 2.24 | 0.26 | 7.95 | 6.40 | 010
13102 |  | A | Repair wound/lesion add-on | 1.23 | 0.74 | 0.58 | 0.12 | 2.09 | 1.93 | ZZZ
13120 |  | A | Repair of wound or lesion | 3.28 | 3.65 | 1.84 | 0.28 | 7.21 | 5.40 | 010
13121 |  | A | Repair of wound or lesion | 4.31 | 4.01 | 2.34 | 0.30 | 8.62 | 6.95 | 010
13122 |  | A | Repair wound/lesion add-on | 1.43 | 0.87 | 0.64 | 0.14 | 2.44 | 2.21 | ZZZ
13131 |  | A | Repair of wound or lesion | 3.77 | 3.92 | 2.16 | 0.30 | 7.99 | 6.23 | 010
13132 |  | A | Repair of wound or lesion | 5.92 | 4.73 | 3.21 | 0.38 | 11.03 | 9.51 | 010
13133 |  | A | Repair wound/lesion add-on | 2.18 | 1.21 | 1.04 | 0.20 | 3.59 | 3.42 | ZZZ
13150 |  | A | Repair of wound or lesion | 3.79 | 5.56 | 2.63 | 0.35 | 9.70 | 6.77 | 010
13151 |  | A | Repair of wound or lesion | 4.42 | 5.46 | 3.07 | 0.34 | 10.22 | 7.83 | 010
13152 |  | A | Repair of wound or lesion | 6.29 | 6.14 | 3.97 | 0.46 | 12.89 | 10.72 | 010
13153 |  | A | Repair wound/lesion add-on | 2.37 | 1.36 | 1.15 | 0.22 | 3.95 | 3.74 | ZZZ
13160 |  | A | Late closure of wound | 10.42 | NA | 7.19 | 1.43 | NA | 19.04 | 090
14000 |  | A | Skin tissue rearrangement | 5.86 | 8.61 | 5.18 | 0.55 | 15.02 | 11.59 | 090
14001 |  | A | Skin tissue rearrangement | 8.42 | 10.06 | 6.66 | 0.78 | 19.26 | 15.86 | 090
14020 |  | A | Skin tissue rearrangement | 6.55 | 9.27 | 6.05 | 0.60 | 16.42 | 13.20 | 090
14021 |  | A | Skin tissue rearrangement | 10.00 | 10.56 | 7.82 | 0.83 | 21.39 | 18.65 | 090
14040 |  | A | Skin tissue rearrangement | 7.83 | 8.35 | 6.94 | 0.66 | 16.84 | 15.43 | 090
14041 |  | A | Skin tissue rearrangement | 11.42 | 10.76 | 8.78 | 0.85 | 23.03 | 21.05 | 090
14060 |  | A | Skin tissue rearrangement | 8.45 | 9.18 | 7.77 | 0.71 | 18.34 | 16.93 | 090
14061 |  | A | Skin tissue rearrangement | 12.22 | 11.79 | 9.62 | 0.90 | 24.91 | 22.74 | 090
14300 |  | A | Skin tissue rearrangement | 11.69 | 11.31 | 9.27 | 1.05 | 24.05 | 22.01 | 090
14350 |  | A | Skin tissue rearrangement | 9.56 | NA | 7.20 | 1.31 | NA | 18.07 | 090
15000 |  | A | Skin graft | 3.98 | 3.85 | 2.22 | 0.44 | 8.27 | 6.64 | 000
15001 |  | A | Skin graft add-on | 0.99 | 1.38 | 0.42 | 0.13 | 2.50 | 1.54 | ZZZ
15050 |  | A | Skin pinch graft | 4.28 | 6.03 | 4.78 | 0.55 | 10.86 | 9.61 | 090
15100 |  | A | Skin split graft | 9.00 | 12.77 | 7.88 | 1.13 | 22.90 | 18.01 | 090
15101 |  | A | Skin split graft add-on | 1.71 | 3.88 | 1.68 | 0.22 | 5.81 | 3.61 | ZZZ
15120 |  | A | Skin split graft | 9.77 | 10.90 | 7.86 | 1.08 | 21.75 | 18.71 | 090
15121 |  | A | Skin split graft add-on | 2.65 | 4.63 | 1.90 | 0.32 | 7.60 | 4.87 | ZZZ
15200 |  | A | Skin full graft | 7.98 | 10.83 | 6.06 | 0.87 | 19.68 | 14.91 | 090
15201 |  | A | Skin full graft add-on | 1.31 | 1.05 | 0.63 | 0.17 | 2.53 | 2.11 | ZZZ
15220 |  | A | Skin full graft | 7.83 | 10.71 | 6.51 | 0.82 | 19.36 | 15.16 | 090
15221 |  | A | Skin full graft add-on | 1.18 | 0.91 | 0.58 | 0.14 | 2.23 | 1.90 | ZZZ
15240 |  | A | Skin full graft | 8.99 | 10.27 | 7.73 | 0.96 | 20.22 | 17.68 | 090
15241 |  | A | Skin full graft add-on | 1.85 | 1.46 | 0.92 | 0.20 | 3.51 | 2.97 | ZZZ
15260 |  | A | Skin full graft | 10.00 | 9.98 | 8.70 | 0.76 | 20.74 | 19.46 | 090
15261 |  | A | Skin full graft add-on | 2.22 | 2.75 | 1.44 | 0.20 | 5.17 | 3.86 | ZZZ
15342 |  | A | Cultured skin graft, 25 cm | 0.99 | 1.84 | 0.56 | 0.11 | 2.94 | 1.66 | 010
15343 |  | A | Culture skn graft addl 25 cm | 0.25 | 0.27 | 0.10 | 0.02 | 0.54 | 0.37 | ZZZ
15350 |  | A | Skin homograft | 3.98 | 8.31 | 4.88 | 0.50 | 12.79 | 9.36 | 090
15351 |  | A | Skin homograft add-on | 0.99 | 0.95 | 0.40 | 0.13 | 2.07 | 1.52 | ZZZ
15400 |  | A | Skin heterograft | 3.98 | 4.21 | 4.13 | 0.48 | 8.67 | 8.59 | 090
15401 |  | A | Skin heterograft add-on | 0.99 | 1.23 | 0.45 | 0.13 | 2.35 | 1.57 | ZZZ
15570 |  | A | Form skin pedicle flap | 9.16 | 9.27 | 6.74 | 1.15 | 19.58 | 17.05 | 090
15572 |  | A | Form skin pedicle flap | 9.22 | 8.48 | 6.32 | 1.11 | 18.81 | 16.65 | 090
15574 |  | A | Form skin pedicle flap | 9.82 | 8.89 | 7.02 | 1.10 | 19.81 | 17.94 | 090
15576 |  | A | Form skin pedicle flap | 8.64 | 9.51 | 6.49 | 0.86 | 19.01 | 15.99 | 090
15600 |  | A | Skin graft | 1.90 | 7.17 | 2.73 | 0.23 | 9.30 | 4.86 | 090
15610 |  | A | Skin graft | 2.41 | 3.78 | 3.07 | 0.30 | 6.49 | 5.78 | 090
15620 |  | A | Skin graft | 2.92 | 7.54 | 3.71 | 0.34 | 10.80 | 6.97 | 090
15630 |  | A | Skin graft | 3.25 | 6.92 | 3.98 | 0.34 | 10.51 | 7.57 | 090
15650 |  | A | Transfer skin pedicle flap | 3.95 | 6.79 | 4.06 | 0.43 | 11.17 | 8.44 | 090
15732 |  | A | Muscle-skin graft, head/neck | 17.74 | 18.24 | 12.34 | 1.80 | 37.78 | 31.88 | 090
15734 |  | A | Muscle-skin graft, trunk | 17.69 | 18.13 | 12.44 | 2.29 | 38.11 | 32.42 | 090
15736 |  | A | Muscle-skin graft, arm | 16.18 | 18.35 | 11.33 | 2.13 | 36.66 | 29.64 | 090
15738 |  | A | Muscle-skin graft, leg | 17.82 | 18.14 | 11.86 | 2.34 | 38.30 | 32.02 | 090
15740 |  | A | Island pedicle flap graft | 10.19 | 9.92 | 7.97 | 0.74 | 20.85 | 18.90 | 090
15750 |  | A | Neurovascular pedicle graft | 11.34 | NA | 9.09 | 1.39 | NA | 21.82 | 090
15756 |  | A | Free myo/skin flap microvasc | 35.03 | NA | 20.93 | 3.73 | NA | 59.69 | 090
15757 |  | A | Free skin flap, microvasc | 35.03 | NA | 21.96 | 4.04 | NA | 61.03 | 090
15758 |  | A | Free fascial flap, microvasc | 34.90 | NA | 21.95 | 4.22 | NA | 61.07 | 090
15760 |  | A | Composite skin graft | 8.69 | 9.82 | 7.09 | 0.86 | 19.37 | 16.64 | 090
15770 |  | A | Derma-fat-fascia graft | 7.48 | NA | 6.77 | 0.93 | NA | 15.18 | 090
15775 |  | R | Hair transplant punch grafts | 3.94 | 2.82 | 1.34 | 0.52 | 7.28 | 5.80 | 000
15776 |  | R | Hair transplant punch grafts | 5.51 | 5.44 | 2.85 | 0.72 | 11.67 | 9.08 | 000
15780 |  | A | Abrasion treatment of skin | 7.25 | 7.16 | 7.16 | 0.49 | 14.90 | 14.90 | 090
15781 |  | A | Abrasion treatment of skin | 4.82 | 5.41 | 5.41 | 0.32 | 10.55 | 10.55 | 090
15782 |  | A | Abrasion treatment of skin | 4.30 | 4.38 | 4.38 | 0.25 | 8.93 | 8.93 | 090
15783 |  | A | Abrasion treatment of skin | 4.27 | 4.98 | 4.22 | 0.31 | 9.56 | 8.80 | 090
15786 |  | A | Abrasion, lesion, single | 2.02 | 1.65 | 1.29 | 0.13 | 3.80 | 3.44 | 010
15787 |  | A | Abrasion, lesions, add-on | 0.33 | 0.32 | 0.16 | 0.02 | 0.67 | 0.51 | ZZZ
15788 |  | R | Chemical peel, face, epiderm | 2.08 | 3.38 | 2.29 | 0.13 | 5.59 | 4.50 | 090
15789 |  | R | Chemical peel, face, dermal | 4.89 | 6.48 | 5.02 | 0.32 | 11.69 | 10.23 | 090
15792 |  | R | Chemical peel, nonfacial | 1.85 | 3.21 | 2.79 | 0.12 | 5.18 | 4.76 | 090
15793 |  | A | Chemical peel, nonfacial | 3.72 | NA | 4.20 | 0.20 | NA | 8.12 | 090
15810 |  | A | Salabrasion | 4.71 | 3.94 | 3.94 | 0.50 | 9.15 | 9.15 | 090
15811 |  | A | Salabrasion | 5.36 | 6.37 | 5.58 | 0.62 | 12.35 | 11.56 | 090
15819 |  | A | Plastic surgery, neck | 9.33 | NA | 7.28 | 0.92 | NA | 17.53 | 090
15820 |  | A | Revision of lower eyelid | 5.12 | 6.92 | 5.40 | 0.36 | 12.40 | 10.88 | 090
15821 |  | A | Revision of lower eyelid | 5.69 | 7.31 | 5.58 | 0.37 | 13.37 | 11.64 | 090
15822 |  | A | Revision of upper eyelid | 4.42 | 5.87 | 4.41 | 0.26 | 10.55 | 9.09 | 090
15823 |  | A | Revision of upper eyelid | 7.01 | 7.86 | 6.29 | 0.38 | 15.25 | 13.68 | 090
15824 |  | R | Removal of forehead wrinkles | 0.00 | 0.00 | 0.00 | 0.00 | 0.00 | 0.00 | 000
15825 |  | R | Removal of neck wrinkles | 0.00 | 0.00 | 0.00 | 0.00 | 0.00 | 0.00 | 000
15826 |  | R | Removal of brow wrinkles | 0.00 | 0.00 | 0.00 | 0.00 | 0.00 | 0.00 | 000
15828 |  | R | Removal of face wrinkles | 0.00 | 0.00 | 0.00 | 0.00 | 0.00 | 0.00 | 000
15829 |  | R | Removal of skin wrinkles | 0.00 | 0.00 | 0.00 | 0.00 | 0.00 | 0.00 | 000
15831 |  | A | Excise excessive skin tissue | 12.33 | NA | 8.32 | 1.56 | NA | 22.21 | 090
15832 |  | A | Excise excessive skin tissue | 11.52 | NA | 8.46 | 1.45 | NA | 21.43 | 090
15833 |  | A | Excise excessive skin tissue | 10.58 | NA | 8.18 | 1.40 | NA | 20.16 | 090
15834 |  | A | Excise excessive skin tissue | 10.79 | NA | 7.75 | 1.41 | NA | 19.95 | 090
15835 |  | A | Excise excessive skin tissue | 11.60 | 11.58 | 7.71 | 1.35 | 24.53 | 20.66 | 090
15836 |  | A | Excise excessive skin tissue | 9.29 | NA | 6.88 | 1.14 | NA | 17.31 | 090
15837 |  | A | Excise excessive skin tissue | 8.38 | 8.01 | 7.08 | 0.93 | 17.32 | 16.39 | 090
15838 |  | A | Excise excessive skin tissue | 7.09 | NA | 6.15 | 0.70 | NA | 13.94 | 090
15839 |  | A | Excise excessive skin tissue | 9.33 | 7.95 | 6.27 | 1.05 | 18.33 | 16.65 | 090
15840 |  | A | Graft for face nerve palsy | 13.18 | NA | 10.15 | 1.38 | NA | 24.71 | 090
15841 |  | A | Graft for face nerve palsy | 23.13 | NA | 15.24 | 3.18 | NA | 41.55 | 090
15842 |  | A | Flap for face nerve palsy | 37.74 | NA | 23.29 | 4.78 | NA | 65.81 | 090
15845 |  | A | Skin and muscle repair, face | 12.50 | NA | 9.47 | 0.96 | NA | 22.93 | 090
15850 |  | B | Removal of sutures | +0.78 | 1.61 | 0.30 | 0.05 | 2.44 | 1.13 | XXX
15851 |  | A | Removal of sutures | 0.86 | 1.75 | 0.34 | 0.06 | 2.67 | 1.26 | 000
15852 |  | A | Dressing change not for burn | 0.86 | 1.88 | 0.36 | 0.08 | 2.82 | 1.30 | 000
15860 |  | A | Test for blood flow in graft | 1.94 | 1.29 | 0.79 | 0.16 | 3.39 | 2.89 | 000
15876 |  | R | Suction assisted lipectomy | 0.00 | 0.00 | 0.00 | 0.00 | 0.00 | 0.00 | 000
15877 |  | R | Suction assisted lipectomy | 0.00 | 0.00 | 0.00 | 0.00 | 0.00 | 0.00 | 000
15878 |  | R | Suction assisted lipectomy | 0.00 | 0.00 | 0.00 | 0.00 | 0.00 | 0.00 | 000
15879 |  | R | Suction assisted lipectomy | 0.00 | 0.00 | 0.00 | 0.00 | 0.00 | 0.00 | 000
15920 |  | A | Removal of tail bone ulcer | 7.90 | NA | 5.66 | 0.99 | NA | 14.55 | 090
15922 |  | A | Removal of tail bone ulcer | 9.84 | NA | 7.39 | 1.27 | NA | 18.50 | 090
15931 |  | A | Remove sacrum pressure sore | 9.19 | NA | 5.80 | 1.14 | NA | 16.13 | 090
15933 |  | A | Remove sacrum pressure sore | 10.79 | NA | 8.03 | 1.37 | NA | 20.19 | 090
15934 |  | A | Remove sacrum pressure sore | 12.62 | NA | 8.24 | 1.62 | NA | 22.48 | 090
15935 |  | A | Remove sacrum pressure sore | 14.49 | NA | 10.52 | 1.87 | NA | 26.88 | 090
15936 |  | A | Remove sacrum pressure sore | 12.31 | NA | 8.44 | 1.58 | NA | 22.33 | 090
15937 |  | A | Remove sacrum pressure sore | 14.13 | NA | 10.06 | 1.81 | NA | 26.00 | 090
15940 |  | A | Remove hip pressure sore | 9.29 | NA | 6.29 | 1.17 | NA | 16.75 | 090
15941 |  | A | Remove hip pressure sore | 11.36 | NA | 9.68 | 1.47 | NA | 22.51 | 090
15944 |  | A | Remove hip pressure sore | 11.39 | NA | 8.80 | 1.45 | NA | 21.64 | 090
15945 |  | A | Remove hip pressure sore | 12.62 | NA | 9.84 | 1.65 | NA | 24.11 | 090
15946 |  | A | Remove hip pressure sore | 21.45 | NA | 14.57 | 2.78 | NA | 38.80 | 090
15950 |  | A | Remove thigh pressure sore | 7.50 | NA | 5.52 | 0.96 | NA | 13.98 | 090
15951 |  | A | Remove thigh pressure sore | 10.66 | NA | 8.04 | 1.37 | NA | 20.07 | 090
15952 |  | A | Remove thigh pressure sore | 11.33 | NA | 7.91 | 1.43 | NA | 20.67 | 090
15953 |  | A | Remove thigh pressure sore | 12.56 | NA | 9.16 | 1.65 | NA | 23.37 | 090
15956 |  | A | Remove thigh pressure sore | 15.43 | NA | 10.95 | 1.97 | NA | 28.35 | 090
15958 |  | A | Remove thigh pressure sore | 15.39 | NA | 11.24 | 1.99 | NA | 28.62 | 090
15999 |  | C | Removal of pressure sore | 0.00 | 0.00 | 0.00 | 0.00 | 0.00 | 0.00 | YYY
16000 |  | A | Initial treatment of burn(s) | 0.88 | 0.87 | 0.27 | 0.07 | 1.82 | 1.22 | 000
16010 |  | A | Treatment of burn(s) | 0.87 | 0.67 | 0.64 | 0.08 | 1.62 | 1.59 | 000
16015 |  | A | Treatment of burn(s) | 2.34 | NA | 1.17 | 0.26 | NA | 3.77 | 000
16020 |  | A | Treatment of burn(s) | 0.80 | 1.30 | 0.62 | 0.07 | 2.17 | 1.49 | 000
16025 |  | A | Treatment of burn(s) | 1.84 | 1.82 | 0.98 | 0.19 | 3.85 | 3.01 | 000
16030 |  | A | Treatment of burn(s) | 2.07 | 2.23 | 1.14 | 0.22 | 4.52 | 3.43 | 000
16035 |  | A | Incision of burn scab, initi | 3.73 | NA | 1.48 | 0.43 | NA | 5.64 | 090
16036 |  | A | Escharotomy; addl incision | 1.49 | NA | 0.61 | 0.13 | NA | 2.23 | ZZZ
17000 |  | A | Destroy benign/premlg lesion | 0.60 | 0.99 | 0.32 | 0.04 | 1.63 | 0.96 | 010
17003 |  | A | Destroy lesions, 2-14 | 0.15 | 0.11 | 0.07 | 0.01 | 0.27 | 0.23 | ZZZ
17004 |  | A | Destroy lesions, 15 or more | 2.77 | 2.34 | 1.31 | 0.14 | 5.25 | 4.22 | 010
17106 |  | A | Destruction of skin lesions | 4.56 | 4.93 | 3.37 | 0.34 | 9.83 | 8.27 | 090
17107 |  | A | Destruction of skin lesions | 9.11 | 7.60 | 5.51 | 0.64 | 17.35 | 15.26 | 090
17108 |  | A | Destruction of skin lesions | 13.12 | 9.72 | 7.76 | 1.07 | 23.91 | 21.95 | 090
17110 |  | A | Destruct lesion, 1-14 | 0.65 | 1.65 | 0.51 | 0.05 | 2.35 | 1.21 | 010
17111 |  | A | Destruct lesion, 15 or more | 0.91 | 1.71 | 0.61 | 0.05 | 2.67 | 1.57 | 010
17250 |  | A | Chemical cautery, tissue | 0.50 | 1.25 | 0.36 | 0.05 | 1.80 | 0.91 | 000
17260 |  | A | Destruction of skin lesions | 0.90 | 1.30 | 0.46 | 0.05 | 2.25 | 1.41 | 010
17261 |  | A | Destruction of skin lesions | 1.16 | 1.64 | 0.60 | 0.06 | 2.86 | 1.82 | 010
17262 |  | A | Destruction of skin lesions | 1.57 | 1.92 | 0.79 | 0.08 | 3.57 | 2.44 | 010
17263 |  | A | Destruction of skin lesions | 1.78 | 2.09 | 0.86 | 0.10 | 3.97 | 2.74 | 010
17264 |  | A | Destruction of skin lesions | 1.93 | 2.26 | 0.89 | 0.10 | 4.29 | 2.92 | 010
17266 |  | A | Destruction of skin lesions | 2.33 | 2.55 | 1.00 | 0.13 | 5.01 | 3.46 | 010
17270 |  | A | Destruction of skin lesions | 1.31 | 1.74 | 0.64 | 0.07 | 3.12 | 2.02 | 010
17271 |  | A | Destruction of skin lesions | 1.48 | 1.81 | 0.75 | 0.07 | 3.36 | 2.30 | 010
17272 |  | A | Destruction of skin lesions | 1.76 | 2.02 | 0.88 | 0.08 | 3.86 | 2.72 | 010
17273 |  | A | Destruction of skin lesions | 2.04 | 2.24 | 0.99 | 0.11 | 4.39 | 3.14 | 010
17274 |  | A | Destruction of skin lesions | 2.58 | 2.60 | 1.22 | 0.13 | 5.31 | 3.93 | 010
17276 |  | A | Destruction of skin lesions | 3.18 | 3.00 | 1.46 | 0.18 | 6.36 | 4.82 | 010
17280 |  | A | Destruction of skin lesions | 1.16 | 1.64 | 0.58 | 0.06 | 2.86 | 1.80 | 010
17281 |  | A | Destruction of skin lesions | 1.71 | 1.93 | 0.86 | 0.08 | 3.72 | 2.65 | 010
17282 |  | A | Destruction of skin lesions | 2.03 | 2.19 | 1.02 | 0.11 | 4.33 | 3.16 | 010
17283 |  | A | Destruction of skin lesions | 2.62 | 2.59 | 1.27 | 0.13 | 5.34 | 4.02 | 010
17284 |  | A | Destruction of skin lesions | 3.19 | 2.98 | 1.53 | 0.17 | 6.34 | 4.89 | 010
17286 |  | A | Destruction of skin lesions | 4.41 | 3.75 | 2.21 | 0.26 | 8.42 | 6.88 | 010
17304 |  | A | 1 stage mohs, up to 5 spec | 7.56 | 8.19 | 3.61 | 0.37 | 16.12 | 11.54 | 000
17305 |  | A | 2 stage mohs, up to 5 spec | 2.83 | 3.86 | 1.36 | 0.14 | 6.83 | 4.33 | 000
17306 |  | A | 3 stage mohs, up to 5 spec | 2.83 | 3.88 | 1.37 | 0.14 | 6.85 | 4.34 | 000
17307 |  | A | Mohs addl stage up to 5 spec | 2.83 | 3.82 | 1.38 | 0.14 | 6.79 | 4.35 | 000
17310 |  | A | Mohs any stage > 5 spec each | 0.62 | 1.50 | 0.31 | 0.06 | 2.18 | 0.99 | ZZZ
17340 |  | A | Cryotherapy of skin | 0.76 | 0.38 | 0.31 | 0.05 | 1.19 | 1.12 | 010
17360 |  | A | Skin peel therapy | 1.42 | 1.48 | 0.75 | 0.07 | 2.97 | 2.24 | 010
17380 |  | R | Hair removal by electrolysis | 0.00 | 0.00 | 0.00 | 0.00 | 0.00 | 0.00 | 000
17999 |  | C | Skin tissue procedure | 0.00 | 0.00 | 0.00 | 0.00 | 0.00 | 0.00 | YYY
19000 |  | A | Drainage of breast lesion | 0.84 | 2.05 | 0.36 | 0.08 | 2.97 | 1.28 | 000
19001 |  | A | Drain breast lesion add-on | 0.42 | 0.80 | 0.14 | 0.04 | 1.26 | 0.60 | ZZZ
19020 |  | A | Incision of breast lesion | 3.55 | 6.08 | 2.81 | 0.42 | 10.05 | 6.78 | 090
19030 |  | A | Injection for breast x-ray | 1.52 | 3.37 | 0.51 | 0.08 | 4.97 | 2.11 | 000
19100 |  | A | Bx breast percut w/o image | 1.26 | 2.17 | 0.43 | 0.12 | 3.55 | 1.81 | 000
19101 |  | A | Biopsy of breast, open | 3.16 | 4.72 | 1.70 | 0.24 | 8.12 | 5.10 | 010
19102 |  | A | Bx breast percut w/image | 1.99 | 4.01 | 0.66 | 0.16 | 6.16 | 2.81 | 000
19103 |  | A | Bx breast percut w/device | 3.68 | 12.14 | 1.25 | 0.19 | 16.01 | 5.12 | 000
19110 |  | A | Nipple exploration | 4.28 | 5.90 | 3.10 | 0.53 | 10.71 | 7.91 | 090
19112 |  | A | Excise breast duct fistula | 3.65 | 5.93 | 2.72 | 0.46 | 10.04 | 6.83 | 090
19120 |  | A | Removal of breast lesion | 5.53 | 4.63 | 3.11 | 0.67 | 10.83 | 9.31 | 090
19125 |  | A | Excision, breast lesion | 6.03 | 4.89 | 3.33 | 0.73 | 11.65 | 10.09 | 090
19126 |  | A | Excision, addl breast lesion | 2.91 | NA | 1.01 | 0.36 | NA | 4.28 | ZZZ
19140 |  | A | Removal of breast tissue | 5.11 | 7.37 | 3.46 | 0.62 | 13.10 | 9.19 | 090
19160 |  | A | Removal of breast tissue | 5.96 | NA | 3.49 | 0.73 | NA | 10.18 | 090
19162 |  | A | Remove breast tissue, nodes | 13.45 | NA | 6.45 | 1.65 | NA | 21.55 | 090
19180 |  | A | Removal of breast | 8.75 | NA | 5.13 | 1.05 | NA | 14.93 | 090
19182 |  | A | Removal of breast | 7.69 | NA | 4.85 | 0.95 | NA | 13.49 | 090
19200 |  | A | Removal of breast | 15.40 | NA | 8.12 | 1.81 | NA | 25.33 | 090
19220 |  | A | Removal of breast | 15.63 | NA | 8.38 | 1.87 | NA | 25.88 | 090
19240 |  | A | Removal of breast | 15.91 | NA | 8.37 | 1.94 | NA | 26.22 | 090
19260 |  | A | Removal of chest wall lesion | 15.35 | NA | 11.13 | 1.97 | NA | 28.45 | 090
19271 |  | A | Revision of chest wall | 18.79 | NA | 17.58 | 2.72 | NA | 39.09 | 090
19272 |  | A | Extensive chest wall surgery | 21.43 | NA | 18.37 | 3.04 | NA | 42.84 | 090
19290 |  | A | Place needle wire, breast | 1.26 | 3.02 | 0.43 | 0.07 | 4.35 | 1.76 | 000
19291 |  | A | Place needle wire, breast | 0.63 | 1.75 | 0.21 | 0.04 | 2.42 | 0.88 | ZZZ
19295 |  | A | Place breast clip, percut | 0.00 | 2.81 | NA | 0.01 | 2.82 | NA | ZZZ
19316 |  | A | Suspension of breast | 10.63 | NA | 7.67 | 1.38 | NA | 19.68 | 090
19318 |  | A | Reduction of large breast | 15.53 | NA | 11.32 | 2.03 | NA | 28.88 | 090
19324 |  | A | Enlarge breast | 5.82 | NA | 4.98 | 0.76 | NA | 11.56 | 090
19325 |  | A | Enlarge breast with implant | 8.40 | NA | 6.67 | 1.08 | NA | 16.15 | 090
19328 |  | A | Removal of breast implant | 5.65 | NA | 5.13 | 0.73 | NA | 11.51 | 090
19330 |  | A | Removal of implant material | 7.55 | NA | 6.13 | 0.97 | NA | 14.65 | 090
19340 |  | A | Immediate breast prosthesis | 6.29 | NA | 3.16 | 0.82 | NA | 10.27 | ZZZ
19342 |  | A | Delayed breast prosthesis | 11.14 | NA | 9.07 | 1.45 | NA | 21.66 | 090
19350 |  | A | Breast reconstruction | 8.87 | 14.35 | 7.19 | 1.14 | 24.36 | 17.20 | 090
19355 |  | A | Correct inverted nipple(s) | 7.53 | 12.94 | 5.07 | 0.96 | 21.43 | 13.56 | 090
19357 |  | A | Breast reconstruction | 18.06 | NA | 14.01 | 2.35 | NA | 34.42 | 090
19361 |  | A | Breast reconstruction | 19.15 | NA | 11.91 | 2.49 | NA | 33.55 | 090
19364 |  | A | Breast reconstruction | 40.77 | NA | 23.88 | 4.69 | NA | 69.34 | 090
19366 |  | A | Breast reconstruction | 21.16 | NA | 11.35 | 2.72 | NA | 35.23 | 090
19367 |  | A | Breast reconstruction | 25.58 | NA | 16.74 | 3.33 | NA | 45.65 | 090
19368 |  | A | Breast reconstruction | 32.24 | NA | 20.48 | 4.21 | NA | 56.93 | 090
19369 |  | A | Breast reconstruction | 29.65 | NA | 19.99 | 3.88 | NA | 53.52 | 090
19370 |  | A | Surgery of breast capsule | 8.00 | NA | 7.03 | 1.03 | NA | 16.06 | 090
19371 |  | A | Removal of breast capsule | 9.30 | NA | 7.96 | 1.21 | NA | 18.47 | 090
19380 |  | A | Revise breast reconstruction | 9.09 | NA | 7.84 | 1.17 | NA | 18.10 | 090
19396 |  | A | Design custom breast implant | 2.16 | 5.84 | 1.00 | 0.28 | 8.28 | 3.44 | 000
19499 |  | C | Breast surgery procedure | 0.00 | 0.00 | 0.00 | 0.00 | 0.00 | 0.00 | YYY
20000 |  | A | Incision of abscess | 2.11 | 2.38 | 1.63 | 0.20 | 4.69 | 3.94 | 010
20005 |  | A | Incision of deep abscess | 3.40 | 3.37 | 2.14 | 0.41 | 7.18 | 5.95 | 010
20100 |  | A | Explore wound, neck | 10.02 | 5.86 | 4.42 | 1.19 | 17.07 | 15.63 | 010
20101 |  | A | Explore wound, chest | 3.20 | 2.99 | 1.61 | 0.29 | 6.48 | 5.10 | 010
20102 |  | A | Explore wound, abdomen | 3.92 | 3.56 | 1.82 | 0.42 | 7.90 | 6.16 | 010
20103 |  | A | Explore wound, extremity | 5.27 | 4.19 | 3.25 | 0.68 | 10.14 | 9.20 | 010
20150 |  | A | Excise epiphyseal bar | 13.61 | NA | 7.30 | 1.15 | NA | 22.06 | 090
20200 |  | A | Muscle biopsy | 1.45 | 3.17 | 0.79 | 0.20 | 4.82 | 2.44 | 000
20205 |  | A | Deep muscle biopsy | 2.34 | 4.19 | 1.22 | 0.28 | 6.81 | 3.84 | 000
20206 |  | A | Needle biopsy, muscle | 0.98 | 3.21 | 0.35 | 0.07 | 4.26 | 1.40 | 000
20220 |  | A | Bone biopsy, trocar/needle | 1.26 | 4.80 | 2.82 | 0.07 | 6.13 | 4.15 | 000
20225 |  | A | Bone biopsy, trocar/needle | 1.86 | 4.38 | 2.99 | 0.13 | 6.37 | 4.98 | 000
20240 |  | A | Bone biopsy, excisional | 3.21 | NA | 2.54 | 0.40 | NA | 6.15 | 010
20245 |  | A | Bone biopsy, excisional | 7.74 | NA | 6.33 | 0.53 | NA | 14.60 | 010
20250 |  | A | Open bone biopsy | 5.00 | NA | 4.59 | 0.60 | NA | 10.19 | 010
20251 |  | A | Open bone biopsy | 5.53 | NA | 5.24 | 0.95 | NA | 11.72 | 010
20500 |  | A | Injection of sinus tract | 1.22 | 6.00 | 3.94 | 0.12 | 7.34 | 5.28 | 010
20501 |  | A | Inject sinus tract for x-ray | 0.76 | 3.02 | 0.25 | 0.04 | 3.82 | 1.05 | 000
20520 |  | A | Removal of foreign body | 1.84 | 2.28 | 1.83 | 0.20 | 4.32 | 3.87 | 010
20525 |  | A | Removal of foreign body | 3.48 | 3.43 | 2.69 | 0.48 | 7.39 | 6.65 | 010
20526 |  | A | Ther injection, carp tunnel | 0.93 | 0.97 | 0.52 | 0.07 | 1.97 | 1.52 | 000
20550 |  | A | Inj tendon sheath/ligament | 0.75 | 0.72 | 0.24 | 0.07 | 1.54 | 1.06 | 000
20551 |  | A | Inj tendon origin/insertion | 0.75 | 0.69 | 0.34 | 0.07 | 1.51 | 1.16 | 000
20552 |  | A | Inj trigger point, 1/2 muscl | 0.66 | 0.74 | 0.21 | 0.07 | 1.47 | 0.94 | 000
20553 |  | A | Inject trigger points, =/> 3 | 0.75 | 0.85 | 0.23 | 0.07 | 1.67 | 1.05 | 000
20600 |  | A | Drain/inject, joint/bursa | 0.66 | 0.65 | 0.36 | 0.07 | 1.38 | 1.09 | 000
20605 |  | A | Drain/inject, joint/bursa | 0.68 | 0.76 | 0.37 | 0.07 | 1.51 | 1.12 | 000
20610 |  | A | Drain/inject, joint/bursa | 0.79 | 0.95 | 0.43 | 0.10 | 1.84 | 1.32 | 000
20612 |  | A | Aspirate/inj ganglion cyst | 0.70 | 0.72 | 0.34 | 0.07 | 1.49 | 1.11 | 000
20615 |  | A | Treatment of bone cyst | 2.27 | 2.57 | 1.85 | 0.23 | 5.07 | 4.35 | 010
20650 |  | A | Insert and remove bone pin | 2.22 | 2.44 | 1.96 | 0.34 | 5.00 | 4.52 | 010
20660 |  | A | Apply, rem fixation device | 2.50 | 3.11 | 1.72 | 0.58 | 6.19 | 4.80 | 000
20661 |  | A | Application of head brace | 4.86 | NA | 5.03 | 1.10 | NA | 10.99 | 090
20662 |  | A | Application of pelvis brace | 6.04 | NA | 5.51 | 0.97 | NA | 12.52 | 090
20663 |  | A | Application of thigh brace | 5.40 | NA | 4.82 | 0.92 | NA | 11.14 | 090
20664 |  | A | Halo brace application | 8.01 | NA | 7.12 | 1.79 | NA | 16.92 | 090
20665 |  | A | Removal of fixation device | 1.30 | 2.09 | 1.33 | 0.20 | 3.59 | 2.83 | 010
20670 |  | A | Removal of support implant | 1.73 | 6.77 | 3.95 | 0.28 | 8.78 | 5.96 | 010
20680 |  | A | Removal of support implant | 3.33 | 3.24 | 3.24 | 0.55 | 7.12 | 7.12 | 090
20690 |  | A | Apply bone fixation device | 3.50 | NA | 2.49 | 0.56 | NA | 6.55 | 090
20692 |  | A | Apply bone fixation device | 6.37 | NA | 3.78 | 0.72 | NA | 10.87 | 090
20693 |  | A | Adjust bone fixation device | 5.83 | NA | 5.59 | 1.02 | NA | 12.44 | 090
20694 |  | A | Remove bone fixation device | 4.14 | 6.94 | 4.53 | 0.68 | 11.76 | 9.35 | 090
20802 |  | A | Replantation, arm, complete | 40.92 | NA | 21.66 | 6.96 | NA | 69.54 | 090
20805 |  | A | Replant forearm, complete | 49.72 | NA | 35.31 | 4.73 | NA | 89.76 | 090
20808 |  | A | Replantation hand, complete | 61.30 | NA | 43.88 | 7.78 | NA | 112.96 | 090
20816 |  | A | Replantation digit, complete | 30.76 | NA | 39.66 | 3.61 | NA | 74.03 | 090
20822 |  | A | Replantation digit, complete | 25.44 | NA | 36.34 | 3.68 | NA | 65.46 | 090
20824 |  | A | Replantation thumb, complete | 30.76 | NA | 38.52 | 4.17 | NA | 73.45 | 090
20827 |  | A | Replantation thumb, complete | 26.26 | NA | 38.35 | 3.85 | NA | 68.46 | 090
20838 |  | A | Replantation foot, complete | 41.17 | NA | 22.95 | 7.01 | NA | 71.13 | 090
20900 |  | A | Removal of bone for graft | 5.55 | 7.42 | 5.85 | 0.92 | 13.89 | 12.32 | 090
20902 |  | A | Removal of bone for graft | 7.51 | NA | 6.94 | 1.27 | NA | 15.72 | 090
20910 |  | A | Remove cartilage for graft | 5.31 | 7.21 | 5.49 | 0.60 | 13.12 | 11.40 | 090
20912 |  | A | Remove cartilage for graft | 6.31 | NA | 6.15 | 0.66 | NA | 13.12 | 090
20920 |  | A | Removal of fascia for graft | 5.28 | NA | 4.45 | 0.65 | NA | 10.38 | 090
20922 |  | A | Removal of fascia for graft | 6.57 | 6.83 | 5.13 | 1.05 | 14.45 | 12.75 | 090
20924 |  | A | Removal of tendon for graft | 6.44 | NA | 5.98 | 0.98 | NA | 13.40 | 090
20926 |  | A | Removal of tissue for graft | 5.50 | NA | 4.99 | 0.87 | NA | 11.36 | 090
20930 |  | B | Spinal bone allograft | 0.00 | 0.00 | 0.00 | 0.00 | 0.00 | 0.00 | XXX
20931 |  | A | Spinal bone allograft | 1.80 | NA | 0.94 | 0.41 | NA | 3.15 | ZZZ
20936 |  | B | Spinal bone autograft | 0.00 | 0.00 | 0.00 | 0.00 | 0.00 | 0.00 | XXX
20937 |  | A | Spinal bone autograft | 2.77 | NA | 1.47 | 0.52 | NA | 4.76 | ZZZ
20938 |  | A | Spinal bone autograft | 3.00 | NA | 1.58 | 0.62 | NA | 5.20 | ZZZ
20950 |  | A | Fluid pressure, muscle | 1.25 | 1.38 | 1.01 | 0.19 | 2.82 | 2.45 | 000
20955 |  | A | Fibula bone graft, microvasc | 38.99 | NA | 25.26 | 5.21 | NA | 69.46 | 090
20956 |  | A | Iliac bone graft, microvasc | 39.05 | NA | 25.12 | 6.92 | NA | 71.09 | 090
20957 |  | A | Mt bone graft, microvasc | 40.42 | NA | 19.28 | 6.88 | NA | 66.58 | 090
20962 |  | A | Other bone graft, microvasc | 39.05 | NA | 26.68 | 6.22 | NA | 71.95 | 090
20969 |  | A | Bone/skin graft, microvasc | 43.67 | NA | 27.76 | 5.20 | NA | 76.63 | 090
20970 |  | A | Bone/skin graft, iliac crest | 42.81 | NA | 26.14 | 5.56 | NA | 74.51 | 090
20972 |  | A | Bone/skin graft, metatarsal | 42.74 | 22.01 | 20.35 | 7.28 | 72.03 | 70.37 | 090
20973 |  | A | Bone/skin graft, great toe | 45.50 | NA | 25.54 | 5.57 | NA | 76.61 | 090
20974 |  | A | Electrical bone stimulation | 0.62 | 0.63 | 0.56 | 0.11 | 1.36 | 1.29 | 000
20975 |  | A | Electrical bone stimulation | 2.59 | NA | 1.75 | 0.50 | NA | 4.84 | 000
20979 |  | A | Us bone stimulation | 0.62 | 0.78 | 0.34 | 0.05 | 1.45 | 1.01 | 000
20982 |  | A | Ablate, bone tumor(s) perq | 7.24 | 106.25 | 3.02 | 0.68 | 114.17 | 10.94 | 000
20999 |  | C | Musculoskeletal surgery | 0.00 | 0.00 | 0.00 | 0.00 | 0.00 | 0.00 | YYY
21010 |  | A | Incision of jaw joint | 10.08 | NA | 7.33 | 0.65 | NA | 18.06 | 090
21015 |  | A | Resection of facial tumor | 5.26 | NA | 5.59 | 0.62 | NA | 11.47 | 090
21025 |  | A | Excision of bone, lower jaw | 10.00 | 10.33 | 8.32 | 0.95 | 21.28 | 19.27 | 090
21026 |  | A | Excision of facial bone(s) | 4.82 | 7.03 | 5.59 | 0.48 | 12.33 | 10.89 | 090
21029 |  | A | Contour of face bone lesion | 7.67 | 8.70 | 6.33 | 0.89 | 17.26 | 14.89 | 090
21030 |  | A | Excise max/zygoma b9 tumor | 3.87 | 6.57 | 4.05 | 0.72 | 11.16 | 8.64 | 090
21031 |  | A | Remove exostosis, mandible | 3.22 | 4.64 | 3.18 | 0.34 | 8.20 | 6.74 | 090
21032 |  | A | Remove exostosis, maxilla | 3.22 | 4.68 | 3.29 | 0.32 | 8.22 | 6.83 | 090
21034 |  | A | Excise max/zygoma mlg tumor | 16.08 | 13.73 | 11.44 | 1.64 | 31.45 | 29.16 | 090
21040 |  | A | Excise mandible lesion | 3.87 | 6.61 | 3.88 | 0.23 | 10.71 | 7.98 | 090
21044 |  | A | Removal of jaw bone lesion | 11.79 | NA | 8.80 | 1.04 | NA | 21.63 | 090
21045 |  | A | Extensive jaw surgery | 16.08 | NA | 11.56 | 1.44 | NA | 29.08 | 090
21046 |  | A | Remove mandible cyst complex | 12.93 | NA | 12.85 | 1.21 | NA | 26.99 | 090
21047 |  | A | Excise lwr jaw cyst w/repair | 18.64 | NA | 13.60 | 1.83 | NA | 34.07 | 090
21048 |  | A | Remove maxilla cyst complex | 13.42 | NA | 13.13 | 1.21 | NA | 27.76 | 090
21049 |  | A | Excis uppr jaw cyst w/repair | 17.90 | NA | 13.19 | 1.21 | NA | 32.30 | 090
21050 |  | A | Removal of jaw joint | 10.71 | NA | 10.40 | 1.01 | NA | 22.12 | 090
21060 |  | A | Remove jaw joint cartilage | 10.17 | NA | 9.92 | 1.39 | NA | 21.48 | 090
21070 |  | A | Remove coronoid process | 8.15 | NA | 7.11 | 0.80 | NA | 16.06 | 090
21076 |  | A | Prepare face/oral prosthesis | 13.34 | 12.86 | 10.30 | 1.63 | 27.83 | 25.27 | 010
21077 |  | A | Prepare face/oral prosthesis | 33.56 | 32.61 | 26.51 | 4.11 | 70.28 | 64.18 | 090
21079 |  | A | Prepare face/oral prosthesis | 22.21 | 22.50 | 17.70 | 1.91 | 46.62 | 41.82 | 090
21080 |  | A | Prepare face/oral prosthesis | 24.96 | 25.54 | 20.02 | 3.06 | 53.56 | 48.04 | 090
21081 |  | A | Prepare face/oral prosthesis | 22.75 | 23.24 | 18.01 | 2.24 | 48.23 | 43.00 | 090
21082 |  | A | Prepare face/oral prosthesis | 20.75 | 20.13 | 16.18 | 1.75 | 42.63 | 38.68 | 090
21083 |  | A | Prepare face/oral prosthesis | 19.19 | 19.60 | 14.91 | 2.35 | 41.14 | 36.45 | 090
21084 |  | A | Prepare face/oral prosthesis | 22.38 | 22.97 | 17.87 | 1.88 | 47.23 | 42.13 | 090
21085 |  | A | Prepare face/oral prosthesis | 8.95 | 8.62 | 6.97 | 0.78 | 18.35 | 16.70 | 010
21086 |  | A | Prepare face/oral prosthesis | 24.78 | 24.61 | 19.86 | 2.23 | 51.62 | 46.87 | 090
21087 |  | A | Prepare face/oral prosthesis | 24.78 | 24.19 | 19.66 | 2.66 | 51.63 | 47.10 | 090
21088 |  | C | Prepare face/oral prosthesis | 0.00 | 0.00 | 0.00 | 0.00 | 0.00 | 0.00 | 090
21089 |  | C | Prepare face/oral prosthesis | 0.00 | 0.00 | 0.00 | 0.00 | 0.00 | 0.00 | 090
21100 |  | A | Maxillofacial fixation | 4.20 | 5.71 | 4.68 | 0.22 | 10.13 | 9.10 | 090
21110 |  | A | Interdental fixation | 5.18 | 7.10 | 5.74 | 0.34 | 12.62 | 11.26 | 090
21116 |  | A | Injection, jaw joint x-ray | 0.81 | 7.40 | 0.34 | 0.06 | 8.27 | 1.21 | 000
21120 |  | A | Reconstruction of chin | 4.90 | 8.97 | 5.36 | 0.35 | 14.22 | 10.61 | 090
21121 |  | A | Reconstruction of chin | 7.60 | 10.56 | 6.73 | 0.67 | 18.83 | 15.00 | 090
21122 |  | A | Reconstruction of chin | 8.47 | NA | 7.16 | 0.71 | NA | 16.34 | 090
21123 |  | A | Reconstruction of chin | 11.10 | NA | 8.36 | 1.39 | NA | 20.85 | 090
21125 |  | A | Augmentation, lower jaw bone | 10.56 | 11.94 | 8.38 | 0.86 | 23.36 | 19.80 | 090
21127 |  | A | Augmentation, lower jaw bone | 11.06 | 14.70 | 9.23 | 0.91 | 26.67 | 21.20 | 090
21137 |  | A | Reduction of forehead | 9.76 | NA | 7.52 | 0.64 | NA | 17.92 | 090
21138 |  | A | Reduction of forehead | 12.12 | NA | 9.41 | 1.76 | NA | 23.29 | 090
21139 |  | A | Reduction of forehead | 14.53 | NA | 9.88 | 1.22 | NA | 25.63 | 090
21141 |  | A | Reconstruct midface, lefort | 18.00 | NA | 14.06 | 1.95 | NA | 34.01 | 090
21142 |  | A | Reconstruct midface, lefort | 18.70 | NA | 13.25 | 1.39 | NA | 33.34 | 090
21143 |  | A | Reconstruct midface, lefort | 19.47 | NA | 14.29 | 1.08 | NA | 34.84 | 090
21145 |  | A | Reconstruct midface, lefort | 19.83 | NA | 14.33 | 2.51 | NA | 36.67 | 090
21146 |  | A | Reconstruct midface, lefort | 20.59 | NA | 15.80 | 2.55 | NA | 38.94 | 090
21147 |  | A | Reconstruct midface, lefort | 21.65 | NA | 15.47 | 1.82 | NA | 38.94 | 090
21150 |  | A | Reconstruct midface, lefort | 25.10 | NA | 14.27 | 1.31 | NA | 40.68 | 090
21151 |  | A | Reconstruct midface, lefort | 28.14 | NA | 18.00 | 2.37 | NA | 48.51 | 090
21154 |  | A | Reconstruct midface, lefort | 30.35 | NA | 20.41 | 5.83 | NA | 56.59 | 090
21155 |  | A | Reconstruct midface, lefort | 34.25 | NA | 22.55 | 6.57 | NA | 63.37 | 090
21159 |  | A | Reconstruct midface, lefort | 42.14 | NA | 24.74 | 8.08 | NA | 74.96 | 090
21160 |  | A | Reconstruct midface, lefort | 46.18 | NA | 24.69 | 5.26 | NA | 76.13 | 090
21172 |  | A | Reconstruct orbit/forehead | 27.64 | NA | 14.22 | 2.29 | NA | 44.15 | 090
21175 |  | A | Reconstruct orbit/forehead | 32.98 | NA | 18.51 | 6.18 | NA | 57.67 | 090
21179 |  | A | Reconstruct entire forehead | 22.12 | NA | 15.02 | 2.97 | NA | 40.11 | 090
21180 |  | A | Reconstruct entire forehead | 25.05 | NA | 16.24 | 2.58 | NA | 43.87 | 090
21181 |  | A | Contour cranial bone lesion | 9.84 | NA | 7.61 | 1.16 | NA | 18.61 | 090
21182 |  | A | Reconstruct cranial bone | 32.01 | NA | 19.87 | 3.03 | NA | 54.91 | 090
21183 |  | A | Reconstruct cranial bone | 35.11 | NA | 21.59 | 3.30 | NA | 60.00 | 090
21184 |  | A | Reconstruct cranial bone | 38.02 | NA | 22.79 | 4.94 | NA | 65.75 | 090
21188 |  | A | Reconstruction of midface | 22.33 | NA | 15.34 | 2.22 | NA | 39.89 | 090
21193 |  | A | Reconst lwr jaw w/o graft | 17.05 | NA | 13.13 | 1.83 | NA | 32.01 | 090
21194 |  | A | Reconst lwr jaw w/graft | 19.73 | NA | 14.25 | 1.67 | NA | 35.65 | 090
21195 |  | A | Reconst lwr jaw w/o fixation | 17.14 | NA | 13.43 | 1.44 | NA | 32.01 | 090
21196 |  | A | Reconst lwr jaw w/fixation | 18.80 | NA | 14.05 | 1.94 | NA | 34.79 | 090
21198 |  | A | Reconstr lwr jaw segment | 14.08 | NA | 11.03 | 1.26 | NA | 26.37 | 090
21199 |  | A | Reconstr lwr jaw w/advance | 15.91 | NA | 9.29 | 1.51 | NA | 26.71 | 090
21206 |  | A | Reconstruct upper jaw bone | 14.02 | NA | 10.95 | 1.21 | NA | 26.18 | 090
21208 |  | A | Augmentation of facial bones | 10.17 | 14.68 | 9.39 | 1.10 | 25.95 | 20.66 | 090
21209 |  | A | Reduction of facial bones | 6.68 | 12.02 | 7.32 | 0.72 | 19.42 | 14.72 | 090
21210 |  | A | Face bone graft | 10.17 | 13.85 | 9.53 | 1.05 | 25.07 | 20.75 | 090
21215 |  | A | Lower jaw bone graft | 10.71 | 13.65 | 9.72 | 1.25 | 25.61 | 21.68 | 090
21230 |  | A | Rib cartilage graft | 10.71 | NA | 8.66 | 1.15 | NA | 20.52 | 090
21235 |  | A | Ear cartilage graft | 6.68 | 11.49 | 7.17 | 0.62 | 18.79 | 14.47 | 090
21240 |  | A | Reconstruction of jaw joint | 13.97 | NA | 12.87 | 1.38 | NA | 28.22 | 090
21242 |  | A | Reconstruction of jaw joint | 12.88 | NA | 12.35 | 1.68 | NA | 26.91 | 090
21243 |  | A | Reconstruction of jaw joint | 20.67 | NA | 18.10 | 2.22 | NA | 40.99 | 090
21244 |  | A | Reconstruction of lower jaw | 11.79 | NA | 10.17 | 1.14 | NA | 23.10 | 090
21245 |  | A | Reconstruction of jaw | 11.79 | 16.29 | 9.83 | 1.05 | 29.13 | 22.67 | 090
21246 |  | A | Reconstruction of jaw | 12.40 | 14.73 | 9.96 | 1.45 | 28.58 | 23.81 | 090
21247 |  | A | Reconstruct lower jaw bone | 22.50 | NA | 18.15 | 2.65 | NA | 43.30 | 090
21248 |  | A | Reconstruction of jaw | 11.41 | 13.18 | 9.42 | 1.21 | 25.80 | 22.04 | 090
21249 |  | A | Reconstruction of jaw | 17.42 | 16.78 | 12.81 | 1.67 | 35.87 | 31.90 | 090
21255 |  | A | Reconstruct lower jaw bone | 16.62 | NA | 12.90 | 1.35 | NA | 30.87 | 090
21256 |  | A | Reconstruction of orbit | 16.10 | NA | 12.29 | 1.25 | NA | 29.64 | 090
21260 |  | A | Revise eye sockets | 16.43 | NA | 9.04 | 1.50 | NA | 26.97 | 090
21261 |  | A | Revise eye sockets | 31.31 | NA | 19.43 | 2.64 | NA | 53.38 | 090
21263 |  | A | Revise eye sockets | 28.26 | NA | 13.03 | 2.59 | NA | 43.88 | 090
21267 |  | A | Revise eye sockets | 18.79 | NA | 13.35 | 1.62 | NA | 33.76 | 090
21268 |  | A | Revise eye sockets | 24.34 | NA | 15.50 | 0.95 | NA | 40.79 | 090
21270 |  | A | Augmentation, cheek bone | 10.17 | 12.06 | 8.19 | 0.87 | 23.10 | 19.23 | 090
21275 |  | A | Revision, orbitofacial bones | 11.18 | NA | 8.84 | 1.23 | NA | 21.25 | 090
21280 |  | A | Revision of eyelid | 6.00 | NA | 6.13 | 0.32 | NA | 12.45 | 090
21282 |  | A | Revision of eyelid | 3.47 | NA | 4.72 | 0.25 | NA | 8.44 | 090
21295 |  | A | Revision of jaw muscle/bone | 1.52 | NA | 2.86 | 0.16 | NA | 4.54 | 090
21296 |  | A | Revision of jaw muscle/bone | 4.23 | NA | 4.49 | 0.36 | NA | 9.08 | 090
21299 |  | C | Cranio/maxillofacial surgery | 0.00 | 0.00 | 0.00 | 0.00 | 0.00 | 0.00 | YYY
21300 |  | A | Treatment of skull fracture | 0.72 | 2.43 | 0.26 | 0.11 | 3.26 | 1.09 | 000
21310 |  | A | Treatment of nose fracture | 0.58 | 2.38 | 0.15 | 0.06 | 3.02 | 0.79 | 000
21315 |  | A | Treatment of nose fracture | 1.50 | 3.08 | 1.29 | 0.14 | 4.72 | 2.93 | 010
21320 |  | A | Treatment of nose fracture | 1.84 | 4.30 | 1.86 | 0.18 | 6.32 | 3.88 | 010
21325 |  | A | Treatment of nose fracture | 3.75 | NA | 3.80 | 0.37 | NA | 7.92 | 090
21330 |  | A | Treatment of nose fracture | 5.35 | NA | 5.34 | 0.58 | NA | 11.27 | 090
21335 |  | A | Treatment of nose fracture | 8.56 | NA | 6.88 | 0.77 | NA | 16.21 | 090
21336 |  | A | Treat nasal septal fracture | 5.69 | NA | 6.14 | 0.54 | NA | 12.37 | 090
21337 |  | A | Treat nasal septal fracture | 2.68 | 5.17 | 3.73 | 0.26 | 8.11 | 6.67 | 090
21338 |  | A | Treat nasoethmoid fracture | 6.42 | NA | 6.04 | 0.64 | NA | 13.10 | 090
21339 |  | A | Treat nasoethmoid fracture | 8.04 | NA | 6.83 | 0.91 | NA | 15.78 | 090
21340 |  | A | Treatment of nose fracture | 10.71 | NA | 8.80 | 1.02 | NA | 20.53 | 090
21343 |  | A | Treatment of sinus fracture | 12.88 | NA | 10.26 | 1.27 | NA | 24.41 | 090
21344 |  | A | Treatment of sinus fracture | 19.61 | NA | 13.85 | 2.06 | NA | 35.52 | 090
21345 |  | A | Treat nose/jaw fracture | 8.11 | 11.68 | 8.00 | 0.72 | 20.51 | 16.83 | 090
21346 |  | A | Treat nose/jaw fracture | 10.55 | 13.35 | 9.12 | 1.02 | 24.92 | 20.69 | 090
21347 |  | A | Treat nose/jaw fracture | 12.62 | NA | 9.87 | 1.37 | NA | 23.86 | 090
21348 |  | A | Treat nose/jaw fracture | 16.59 | NA | 11.44 | 1.80 | NA | 29.83 | 090
21355 |  | A | Treat cheek bone fracture | 3.75 | 4.76 | 2.40 | 0.35 | 8.86 | 6.50 | 010
21356 |  | A | Treat cheek bone fracture | 4.13 | 11.83 | 3.25 | 0.43 | 16.39 | 7.81 | 010
21360 |  | A | Treat cheek bone fracture | 6.42 | 14.06 | 6.26 | 0.62 | 21.10 | 13.30 | 090
21365 |  | A | Treat cheek bone fracture | 14.86 | NA | 11.91 | 1.56 | NA | 28.33 | 090
21366 |  | A | Treat cheek bone fracture | 17.67 | NA | 11.78 | 1.69 | NA | 31.14 | 090
21385 |  | A | Treat eye socket fracture | 9.11 | NA | 7.14 | 0.77 | NA | 17.02 | 090
21386 |  | A | Treat eye socket fracture | 9.11 | NA | 7.56 | 0.91 | NA | 17.58 | 090
21387 |  | A | Treat eye socket fracture | 9.64 | NA | 7.62 | 0.93 | NA | 18.19 | 090
21390 |  | A | Treat eye socket fracture | 10.07 | NA | 8.11 | 0.84 | NA | 19.02 | 090
21395 |  | A | Treat eye socket fracture | 12.61 | NA | 9.43 | 1.31 | NA | 23.35 | 090
21400 |  | A | Treat eye socket fracture | 1.39 | 3.77 | 2.14 | 0.14 | 5.30 | 3.67 | 090
21401 |  | A | Treat eye socket fracture | 3.24 | 5.15 | 3.91 | 0.41 | 8.80 | 7.56 | 090
21406 |  | A | Treat eye socket fracture | 6.97 | NA | 6.42 | 0.71 | NA | 14.10 | 090
21407 |  | A | Treat eye socket fracture | 8.56 | NA | 7.22 | 0.80 | NA | 16.58 | 090
21408 |  | A | Treat eye socket fracture | 12.31 | NA | 9.31 | 1.49 | NA | 23.11 | 090
21421 |  | A | Treat mouth roof fracture | 5.11 | 10.04 | 6.23 | 0.50 | 15.65 | 11.84 | 090
21422 |  | A | Treat mouth roof fracture | 8.27 | 11.42 | 7.18 | 0.83 | 20.52 | 16.28 | 090
21423 |  | A | Treat mouth roof fracture | 10.34 | NA | 8.58 | 1.14 | NA | 20.06 | 090
21431 |  | A | Treat craniofacial fracture | 7.01 | 10.79 | 6.93 | 0.70 | 18.50 | 14.64 | 090
21432 |  | A | Treat craniofacial fracture | 8.56 | NA | 6.24 | 0.66 | NA | 15.46 | 090
21433 |  | A | Treat craniofacial fracture | 25.21 | NA | 17.03 | 2.95 | NA | 45.19 | 090
21435 |  | A | Treat craniofacial fracture | 17.15 | NA | 13.11 | 1.99 | NA | 32.25 | 090
21436 |  | A | Treat craniofacial fracture | 27.88 | NA | 18.63 | 2.78 | NA | 49.29 | 090
21440 |  | A | Treat dental ridge fracture | 2.68 | 8.15 | 4.17 | 0.26 | 11.09 | 7.11 | 090
21445 |  | A | Treat dental ridge fracture | 5.35 | 10.58 | 6.36 | 0.66 | 16.59 | 12.37 | 090
21450 |  | A | Treat lower jaw fracture | 2.95 | 10.78 | 3.82 | 0.28 | 14.01 | 7.05 | 090
21451 |  | A | Treat lower jaw fracture | 4.84 | 8.88 | 5.83 | 0.47 | 14.19 | 11.14 | 090
21452 |  | A | Treat lower jaw fracture | 1.97 | 7.96 | 3.61 | 0.17 | 10.10 | 5.75 | 090
21453 |  | A | Treat lower jaw fracture | 5.51 | 10.64 | 6.92 | 0.59 | 16.74 | 13.02 | 090
21454 |  | A | Treat lower jaw fracture | 6.42 | NA | 6.63 | 0.66 | NA | 13.71 | 090
21461 |  | A | Treat lower jaw fracture | 8.04 | 12.68 | 8.39 | 0.87 | 21.59 | 17.30 | 090
21462 |  | A | Treat lower jaw fracture | 9.73 | 14.24 | 9.13 | 0.96 | 24.93 | 19.82 | 090
21465 |  | A | Treat lower jaw fracture | 11.84 | NA | 10.17 | 1.01 | NA | 23.02 | 090
21470 |  | A | Treat lower jaw fracture | 15.25 | NA | 12.39 | 1.63 | NA | 29.27 | 090
21480 |  | A | Reset dislocated jaw | 0.61 | 1.98 | 0.19 | 0.06 | 2.65 | 0.86 | 000
21485 |  | A | Reset dislocated jaw | 3.97 | 6.01 | 4.86 | 0.37 | 10.35 | 9.20 | 090
21490 |  | A | Repair dislocated jaw | 11.79 | NA | 10.02 | 1.57 | NA | 23.38 | 090
21493 |  | A | Treat hyoid bone fracture | 1.26 | NA | 2.89 | 0.12 | NA | 4.27 | 090
21494 |  | A | Treat hyoid bone fracture | 6.24 | NA | 5.78 | 0.53 | NA | 12.55 | 090
21495 |  | A | Treat hyoid bone fracture | 5.66 | NA | 6.05 | 0.49 | NA | 12.20 | 090
21497 |  | A | Interdental wiring | 3.84 | 6.62 | 5.08 | 0.37 | 10.83 | 9.29 | 090
21499 |  | C | Head surgery procedure | 0.00 | 0.00 | 0.00 | 0.00 | 0.00 | 0.00 | YYY
21501 |  | A | Drain neck/chest lesion | 3.79 | 4.74 | 3.92 | 0.43 | 8.96 | 8.14 | 090
21502 |  | A | Drain chest lesion | 7.08 | NA | 5.63 | 0.95 | NA | 13.66 | 090
21510 |  | A | Drainage of bone lesion | 5.71 | NA | 5.62 | 0.80 | NA | 12.13 | 090
21550 |  | A | Biopsy of neck/chest | 2.05 | 3.68 | 1.75 | 0.16 | 5.89 | 3.96 | 010
21555 |  | A | Remove lesion, neck/chest | 4.33 | 5.12 | 3.20 | 0.49 | 9.94 | 8.02 | 090
21556 |  | A | Remove lesion, neck/chest | 5.54 | NA | 4.15 | 0.61 | NA | 10.30 | 090
21557 |  | A | Remove tumor, neck/chest | 8.83 | NA | 5.48 | 1.02 | NA | 15.33 | 090
21600 |  | A | Partial removal of rib | 6.85 | NA | 5.71 | 0.97 | NA | 13.53 | 090
21610 |  | A | Partial removal of rib | 14.53 | NA | 9.16 | 2.22 | NA | 25.91 | 090
21615 |  | A | Removal of rib | 9.81 | NA | 6.61 | 1.44 | NA | 17.86 | 090
21616 |  | A | Removal of rib and nerves | 11.97 | NA | 7.98 | 1.57 | NA | 21.52 | 090
21620 |  | A | Partial removal of sternum | 6.75 | NA | 5.98 | 0.92 | NA | 13.65 | 090
21627 |  | A | Sternal debridement | 6.77 | NA | 6.29 | 0.98 | NA | 14.04 | 090
21630 |  | A | Extensive sternum surgery | 17.28 | NA | 11.99 | 2.34 | NA | 31.61 | 090
21632 |  | A | Extensive sternum surgery | 18.04 | NA | 10.79 | 2.59 | NA | 31.42 | 090
21685 |  | A | Hyoid myotomy & suspension | 12.93 | NA | 10.21 | 1.51 | NA | 24.65 | 090
21700 |  | A | Revision of neck muscle | 6.15 | 6.14 | 4.82 | 0.37 | 12.66 | 11.34 | 090
21705 |  | A | Revision of neck muscle/rib | 9.55 | NA | 5.68 | 1.10 | NA | 16.33 | 090
21720 |  | A | Revision of neck muscle | 5.65 | 5.53 | 4.68 | 0.96 | 12.14 | 11.29 | 090
21725 |  | A | Revision of neck muscle | 6.95 | NA | 5.58 | 1.08 | NA | 13.61 | 090
21740 |  | A | Reconstruction of sternum | 16.41 | NA | 8.38 | 2.43 | NA | 27.22 | 090
21742 |  | C | Repair stern/nuss w/o scope | 0.00 | 0.00 | 0.00 | 0.00 | 0.00 | 0.00 | 090
21743 |  | C | Repair sternum/nuss w/scope | 0.00 | 0.00 | 0.00 | 0.00 | 0.00 | 0.00 | 090
21750 |  | A | Repair of sternum separation | 10.71 | NA | 5.91 | 1.62 | NA | 18.24 | 090
21800 |  | A | Treatment of rib fracture | 0.95 | 2.13 | 1.44 | 0.11 | 3.19 | 2.50 | 090
21805 |  | A | Treatment of rib fracture | 2.73 | NA | 3.30 | 0.35 | NA | 6.38 | 090
21810 |  | A | Treatment of rib fracture(s) | 6.82 | NA | 4.96 | 0.72 | NA | 12.50 | 090
21820 |  | A | Treat sternum fracture | 1.27 | 2.67 | 1.85 | 0.18 | 4.12 | 3.30 | 090
21825 |  | A | Treat sternum fracture | 7.37 | NA | 6.50 | 1.01 | NA | 14.88 | 090
21899 |  | C | Neck/chest surgery procedure | 0.00 | 0.00 | 0.00 | 0.00 | 0.00 | 0.00 | YYY
21920 |  | A | Biopsy soft tissue of back | 2.05 | 3.31 | 1.50 | 0.14 | 5.50 | 3.69 | 010
21925 |  | A | Biopsy soft tissue of back | 4.46 | 6.70 | 3.37 | 0.53 | 11.69 | 8.36 | 090
21930 |  | A | Remove lesion, back or flank | 4.97 | 5.55 | 3.50 | 0.59 | 11.11 | 9.06 | 090
21935 |  | A | Remove tumor, back | 17.86 | NA | 10.32 | 2.24 | NA | 30.42 | 090
22100 |  | A | Remove part of neck vertebra | 9.67 | NA | 7.72 | 1.86 | NA | 19.25 | 090
22101 |  | A | Remove part, thorax vertebra | 9.75 | NA | 7.93 | 1.81 | NA | 19.49 | 090
22102 |  | A | Remove part, lumbar vertebra | 9.75 | NA | 8.18 | 1.75 | NA | 19.68 | 090
22103 |  | A | Remove extra spine segment | 2.33 | NA | 1.23 | 0.44 | NA | 4.00 | ZZZ
22110 |  | A | Remove part of neck vertebra | 12.67 | NA | 9.39 | 2.64 | NA | 24.70 | 090
22112 |  | A | Remove part, thorax vertebra | 12.74 | NA | 9.41 | 2.35 | NA | 24.50 | 090
22114 |  | A | Remove part, lumbar vertebra | 12.74 | NA | 9.41 | 2.37 | NA | 24.52 | 090
22116 |  | A | Remove extra spine segment | 2.31 | NA | 1.18 | 0.48 | NA | 3.97 | ZZZ
22210 |  | A | Revision of neck spine | 23.68 | NA | 15.71 | 5.07 | NA | 44.46 | 090
22212 |  | A | Revision of thorax spine | 19.31 | NA | 13.41 | 3.33 | NA | 36.05 | 090
22214 |  | A | Revision of lumbar spine | 19.34 | NA | 13.92 | 3.33 | NA | 36.59 | 090
22216 |  | A | Revise, extra spine segment | 6.01 | NA | 3.18 | 1.17 | NA | 10.36 | ZZZ
22220 |  | A | Revision of neck spine | 21.25 | NA | 13.95 | 4.37 | NA | 39.57 | 090
22222 |  | A | Revision of thorax spine | 21.40 | NA | 11.74 | 3.69 | NA | 36.83 | 090
22224 |  | A | Revision of lumbar spine | 21.40 | NA | 14.39 | 3.84 | NA | 39.63 | 090
22226 |  | A | Revise, extra spine segment | 6.01 | NA | 3.14 | 1.21 | NA | 10.36 | ZZZ
22305 |  | A | Treat spine process fracture | 2.04 | 3.22 | 2.41 | 0.35 | 5.61 | 4.80 | 090
22310 |  | A | Treat spine fracture | 2.60 | 4.94 | 4.17 | 0.44 | 7.98 | 7.21 | 090
22315 |  | A | Treat spine fracture | 8.79 | 13.58 | 7.63 | 1.64 | 24.01 | 18.06 | 090
22318 |  | A | Treat odontoid fx w/o graft | 21.38 | NA | 13.70 | 5.11 | NA | 40.19 | 090
22319 |  | A | Treat odontoid fx w/graft | 23.86 | NA | 15.09 | 5.71 | NA | 44.66 | 090
22325 |  | A | Treat spine fracture | 18.20 | NA | 12.28 | 3.13 | NA | 33.61 | 090
22326 |  | A | Treat neck spine fracture | 19.48 | NA | 12.99 | 4.24 | NA | 36.71 | 090
22327 |  | A | Treat thorax spine fracture | 19.09 | NA | 12.58 | 3.30 | NA | 34.97 | 090
22328 |  | A | Treat each add spine fx | 4.58 | NA | 2.30 | 0.79 | NA | 7.67 | ZZZ
22505 |  | A | Manipulation of spine | 1.86 | NA | 0.95 | 0.32 | NA | 3.13 | 010
22520 |  | A | Percut vertebroplasty thor | 8.86 | 103.00 | 4.39 | 1.19 | 113.05 | 14.44 | 010
22521 |  | A | Percut vertebroplasty lumb | 8.29 | 91.36 | 4.23 | 1.11 | 100.76 | 13.63 | 010
22522 |  | A | Percut vertebroplasty addl | 4.29 | NA | 1.71 | 0.40 | NA | 6.40 | ZZZ
22532 |  | A | Lat thorax spine fusion | 23.86 | NA | 14.92 | 4.53 | NA | 43.31 | 090
22533 |  | A | Lat lumbar spine fusion | 22.99 | NA | 13.60 | 3.81 | NA | 40.40 | 090
22534 |  | A | Lat thor/lumb, addl seg | 5.97 | NA | 3.08 | 1.17 | NA | 10.22 | ZZZ
22548 |  | A | Neck spine fusion | 25.67 | NA | 16.03 | 5.97 | NA | 47.67 | 090
22554 |  | A | Neck spine fusion | 18.51 | NA | 12.47 | 4.21 | NA | 35.19 | 090
22556 |  | A | Thorax spine fusion | 23.33 | NA | 14.81 | 4.53 | NA | 42.67 | 090
22558 |  | A | Lumbar spine fusion | 22.15 | NA | 13.37 | 3.81 | NA | 39.33 | 090
22585 |  | A | Additional spinal fusion | 5.50 | NA | 2.83 | 1.17 | NA | 9.50 | ZZZ
22590 |  | A | Spine & skull spinal fusion | 20.39 | NA | 13.47 | 4.57 | NA | 38.43 | 090
22595 |  | A | Neck spinal fusion | 19.28 | NA | 12.96 | 4.34 | NA | 36.58 | 090
22600 |  | A | Neck spine fusion | 16.05 | NA | 11.28 | 3.46 | NA | 30.79 | 090
22610 |  | A | Thorax spine fusion | 15.93 | NA | 11.46 | 3.19 | NA | 30.58 | 090
22612 |  | A | Lumbar spine fusion | 20.88 | NA | 14.25 | 3.93 | NA | 39.06 | 090
22614 |  | A | Spine fusion, extra segment | 6.40 | NA | 3.40 | 1.25 | NA | 11.05 | ZZZ
22630 |  | A | Lumbar spine fusion | 20.72 | NA | 13.71 | 4.54 | NA | 38.97 | 090
22632 |  | A | Spine fusion, extra segment | 5.20 | NA | 2.70 | 1.08 | NA | 8.98 | ZZZ
22800 |  | A | Fusion of spine | 18.15 | NA | 12.78 | 3.25 | NA | 34.18 | 090
22802 |  | A | Fusion of spine | 30.70 | NA | 19.68 | 5.30 | NA | 55.68 | 090
22804 |  | A | Fusion of spine | 36.06 | NA | 22.81 | 6.27 | NA | 65.14 | 090
22808 |  | A | Fusion of spine | 26.12 | NA | 16.42 | 5.23 | NA | 47.77 | 090
22810 |  | A | Fusion of spine | 30.10 | NA | 18.47 | 5.38 | NA | 53.95 | 090
22812 |  | A | Fusion of spine | 32.51 | NA | 20.13 | 5.60 | NA | 58.24 | 090
22818 |  | A | Kyphectomy, 1-2 segments | 31.65 | NA | 19.07 | 6.00 | NA | 56.72 | 090
22819 |  | A | Kyphectomy, 3 or more | 36.23 | NA | 20.21 | 6.23 | NA | 62.67 | 090
22830 |  | A | Exploration of spinal fusion | 10.79 | NA | 7.98 | 2.07 | NA | 20.84 | 090
22840 |  | A | Insert spine fixation device | 12.47 | NA | 6.58 | 2.43 | NA | 21.48 | ZZZ
22841 |  | B | Insert spine fixation device | 0.00 | 0.00 | 0.00 | 0.00 | 0.00 | 0.00 | XXX
22842 |  | A | Insert spine fixation device | 12.51 | NA | 6.60 | 2.45 | NA | 21.56 | ZZZ
22843 |  | A | Insert spine fixation device | 13.38 | NA | 6.70 | 2.52 | NA | 22.60 | ZZZ
22844 |  | A | Insert spine fixation device | 16.35 | NA | 8.87 | 2.90 | NA | 28.12 | ZZZ
22845 |  | A | Insert spine fixation device | 11.89 | NA | 6.16 | 2.66 | NA | 20.71 | ZZZ
22846 |  | A | Insert spine fixation device | 12.35 | NA | 6.42 | 2.71 | NA | 21.48 | ZZZ
22847 |  | A | Insert spine fixation device | 13.72 | NA | 7.12 | 2.83 | NA | 23.67 | ZZZ
22848 |  | A | Insert pelv fixation device | 5.97 | NA | 3.23 | 1.05 | NA | 10.25 | ZZZ
22849 |  | A | Reinsert spinal fixation | 18.40 | NA | 11.89 | 3.44 | NA | 33.73 | 090
22850 |  | A | Remove spine fixation device | 9.47 | NA | 7.08 | 1.81 | NA | 18.36 | 090
22851 |  | A | Apply spine prosth device | 6.67 | NA | 3.40 | 1.33 | NA | 11.40 | ZZZ
22852 |  | A | Remove spine fixation device | 8.96 | NA | 6.87 | 1.68 | NA | 17.51 | 090
22855 |  | A | Remove spine fixation device | 15.04 | NA | 9.83 | 3.28 | NA | 28.15 | 090
22899 |  | C | Spine surgery procedure | 0.00 | 0.00 | 0.00 | 0.00 | 0.00 | 0.00 | YYY
22900 |  | A | Remove abdominal wall lesion | 5.77 | NA | 3.31 | 0.70 | NA | 9.78 | 090
22999 |  | C | Abdomen surgery procedure | 0.00 | 0.00 | 0.00 | 0.00 | 0.00 | 0.00 | YYY
23000 |  | A | Removal of calcium deposits | 4.34 | 5.27 | 4.21 | 0.60 | 10.21 | 9.15 | 090
23020 |  | A | Release shoulder joint | 8.88 | NA | 7.65 | 1.47 | NA | 18.00 | 090
23030 |  | A | Drain shoulder lesion | 3.41 | 3.05 | 2.97 | 0.50 | 6.96 | 6.88 | 010
23031 |  | A | Drain shoulder bursa | 2.72 | 2.74 | 2.74 | 0.40 | 5.86 | 5.86 | 010
23035 |  | A | Drain shoulder bone lesion | 8.56 | NA | 8.59 | 1.43 | NA | 18.58 | 090
23040 |  | A | Exploratory shoulder surgery | 9.15 | NA | 7.93 | 1.53 | NA | 18.61 | 090
23044 |  | A | Exploratory shoulder surgery | 7.08 | NA | 6.56 | 1.16 | NA | 14.80 | 090
23065 |  | A | Biopsy shoulder tissues | 2.26 | 2.85 | 1.56 | 0.17 | 5.28 | 3.99 | 010
23066 |  | A | Biopsy shoulder tissues | 4.14 | 5.15 | 4.11 | 0.60 | 9.89 | 8.85 | 090
23075 |  | A | Removal of shoulder lesion | 2.38 | 2.27 | 1.84 | 0.30 | 4.95 | 4.52 | 010
23076 |  | A | Removal of shoulder lesion | 7.59 | NA | 5.84 | 1.04 | NA | 14.47 | 090
23077 |  | A | Remove tumor of shoulder | 16.00 | NA | 10.88 | 2.17 | NA | 29.05 | 090
23100 |  | A | Biopsy of shoulder joint | 6.00 | NA | 5.76 | 0.97 | NA | 12.73 | 090
23101 |  | A | Shoulder joint surgery | 5.55 | NA | 5.44 | 0.92 | NA | 11.91 | 090
23105 |  | A | Remove shoulder joint lining | 8.18 | NA | 7.25 | 1.35 | NA | 16.78 | 090
23106 |  | A | Incision of collarbone joint | 5.93 | NA | 5.80 | 0.98 | NA | 12.71 | 090
23107 |  | A | Explore treat shoulder joint | 8.57 | NA | 7.46 | 1.43 | NA | 17.46 | 090
23120 |  | A | Partial removal, collar bone | 7.07 | NA | 6.55 | 1.19 | NA | 14.81 | 090
23125 |  | A | Removal of collar bone | 9.34 | NA | 7.69 | 1.52 | NA | 18.55 | 090
23130 |  | A | Remove shoulder bone, part | 7.51 | NA | 7.18 | 1.27 | NA | 15.96 | 090
23140 |  | A | Removal of bone lesion | 6.85 | NA | 5.46 | 0.98 | NA | 13.29 | 090
23145 |  | A | Removal of bone lesion | 9.04 | NA | 7.66 | 1.49 | NA | 18.19 | 090
23146 |  | A | Removal of bone lesion | 7.79 | NA | 7.21 | 1.33 | NA | 16.33 | 090
23150 |  | A | Removal of humerus lesion | 8.43 | NA | 7.05 | 1.37 | NA | 16.85 | 090
23155 |  | A | Removal of humerus lesion | 10.29 | NA | 8.55 | 1.44 | NA | 20.28 | 090
23156 |  | A | Removal of humerus lesion | 8.63 | NA | 7.46 | 1.41 | NA | 17.50 | 090
23170 |  | A | Remove collar bone lesion | 6.82 | NA | 6.38 | 1.01 | NA | 14.21 | 090
23172 |  | A | Remove shoulder blade lesion | 6.86 | NA | 6.47 | 1.14 | NA | 14.47 | 090
23174 |  | A | Remove humerus lesion | 9.46 | NA | 8.46 | 1.56 | NA | 19.48 | 090
23180 |  | A | Remove collar bone lesion | 8.48 | NA | 9.29 | 1.41 | NA | 19.18 | 090
23182 |  | A | Remove shoulder blade lesion | 8.10 | NA | 8.94 | 1.29 | NA | 18.33 | 090
23184 |  | A | Remove humerus lesion | 9.33 | NA | 9.65 | 1.49 | NA | 20.47 | 090
23190 |  | A | Partial removal of scapula | 7.20 | NA | 6.29 | 1.16 | NA | 14.65 | 090
23195 |  | A | Removal of head of humerus | 9.75 | NA | 7.85 | 1.65 | NA | 19.25 | 090
23200 |  | A | Removal of collar bone | 12.01 | NA | 9.00 | 1.77 | NA | 22.78 | 090
23210 |  | A | Removal of shoulder blade | 12.42 | NA | 9.37 | 1.93 | NA | 23.72 | 090
23220 |  | A | Partial removal of humerus | 14.48 | NA | 10.99 | 2.43 | NA | 27.90 | 090
23221 |  | A | Partial removal of humerus | 17.64 | NA | 11.96 | 3.01 | NA | 32.61 | 090
23222 |  | A | Partial removal of humerus | 23.78 | NA | 16.00 | 4.04 | NA | 43.82 | 090
23330 |  | A | Remove shoulder foreign body | 1.84 | 2.07 | 1.91 | 0.22 | 4.13 | 3.97 | 010
23331 |  | A | Remove shoulder foreign body | 7.34 | NA | 6.86 | 1.22 | NA | 15.42 | 090
23332 |  | A | Remove shoulder foreign body | 11.55 | NA | 9.41 | 1.94 | NA | 22.90 | 090
23350 |  | A | Injection for shoulder x-ray | 0.99 | 3.84 | 0.34 | 0.06 | 4.89 | 1.39 | 000
23395 |  | A | Muscle transfer,shoulder/arm | 16.75 | NA | 12.87 | 2.74 | NA | 32.36 | 090
23397 |  | A | Muscle transfers | 16.04 | NA | 11.50 | 2.68 | NA | 30.22 | 090
23400 |  | A | Fixation of shoulder blade | 13.46 | NA | 10.24 | 2.29 | NA | 25.99 | 090
23405 |  | A | Incision of tendon & muscle | 8.32 | NA | 7.04 | 1.34 | NA | 16.70 | 090
23406 |  | A | Incise tendon(s) & muscle(s) | 10.73 | NA | 8.49 | 1.77 | NA | 20.99 | 090
23410 |  | A | Repair rotator cuff, acute | 12.38 | NA | 9.51 | 2.06 | NA | 23.95 | 090
23412 |  | A | Repair rotator cuff, chronic | 13.23 | NA | 10.00 | 2.23 | NA | 25.46 | 090
23415 |  | A | Release of shoulder ligament | 9.91 | NA | 8.06 | 1.67 | NA | 19.64 | 090
23420 |  | A | Repair of shoulder | 13.22 | NA | 10.89 | 2.23 | NA | 26.34 | 090
23430 |  | A | Repair biceps tendon | 9.92 | NA | 8.20 | 1.68 | NA | 19.80 | 090
23440 |  | A | Remove/transplant tendon | 10.42 | NA | 8.38 | 1.76 | NA | 20.56 | 090
23450 |  | A | Repair shoulder capsule | 13.32 | NA | 9.97 | 2.23 | NA | 25.52 | 090
23455 |  | A | Repair shoulder capsule | 14.29 | NA | 10.56 | 2.41 | NA | 27.26 | 090
23460 |  | A | Repair shoulder capsule | 15.28 | NA | 11.49 | 2.60 | NA | 29.37 | 090
23462 |  | A | Repair shoulder capsule | 15.21 | NA | 10.89 | 2.59 | NA | 28.69 | 090
23465 |  | A | Repair shoulder capsule | 15.76 | NA | 11.42 | 1.93 | NA | 29.11 | 090
23466 |  | A | Repair shoulder capsule | 14.14 | NA | 11.39 | 2.40 | NA | 27.93 | 090
23470 |  | A | Reconstruct shoulder joint | 17.05 | NA | 12.25 | 2.88 | NA | 32.18 | 090
23472 |  | A | Reconstruct shoulder joint | 20.98 | NA | 14.42 | 2.84 | NA | 38.24 | 090
23480 |  | A | Revision of collar bone | 11.12 | NA | 8.87 | 1.87 | NA | 21.86 | 090
23485 |  | A | Revision of collar bone | 13.35 | NA | 10.01 | 2.21 | NA | 25.57 | 090
23490 |  | A | Reinforce clavicle | 11.79 | NA | 8.79 | 1.33 | NA | 21.91 | 090
23491 |  | A | Reinforce shoulder bones | 14.13 | NA | 10.81 | 2.40 | NA | 27.34 | 090
23500 |  | A | Treat clavicle fracture | 2.07 | 3.70 | 2.60 | 0.31 | 6.08 | 4.98 | 090
23505 |  | A | Treat clavicle fracture | 3.67 | 5.39 | 3.80 | 0.60 | 9.66 | 8.07 | 090
23515 |  | A | Treat clavicle fracture | 7.37 | NA | 6.60 | 1.23 | NA | 15.20 | 090
23520 |  | A | Treat clavicle dislocation | 2.15 | 3.70 | 2.75 | 0.31 | 6.16 | 5.21 | 090
23525 |  | A | Treat clavicle dislocation | 3.58 | 5.34 | 3.93 | 0.53 | 9.45 | 8.04 | 090
23530 |  | A | Treat clavicle dislocation | 7.27 | NA | 6.05 | 1.02 | NA | 14.34 | 090
23532 |  | A | Treat clavicle dislocation | 7.96 | NA | 6.99 | 1.35 | NA | 16.30 | 090
23540 |  | A | Treat clavicle dislocation | 2.22 | 4.31 | 2.51 | 0.29 | 6.82 | 5.02 | 090
23545 |  | A | Treat clavicle dislocation | 3.23 | 4.56 | 3.43 | 0.47 | 8.26 | 7.13 | 090
23550 |  | A | Treat clavicle dislocation | 7.20 | NA | 6.46 | 1.13 | NA | 14.79 | 090
23552 |  | A | Treat clavicle dislocation | 8.40 | NA | 7.34 | 1.41 | NA | 17.15 | 090
23570 |  | A | Treat shoulder blade fx | 2.22 | 3.71 | 2.91 | 0.35 | 6.28 | 5.48 | 090
23575 |  | A | Treat shoulder blade fx | 4.04 | 5.83 | 4.30 | 0.64 | 10.51 | 8.98 | 090
23585 |  | A | Treat scapula fracture | 8.91 | NA | 7.68 | 1.50 | NA | 18.09 | 090
23600 |  | A | Treat humerus fracture | 2.91 | 5.80 | 3.87 | 0.47 | 9.18 | 7.25 | 090
23605 |  | A | Treat humerus fracture | 4.84 | 6.67 | 5.01 | 0.80 | 12.31 | 10.65 | 090
23615 |  | A | Treat humerus fracture | 9.30 | NA | 8.79 | 1.57 | NA | 19.66 | 090
23616 |  | A | Treat humerus fracture | 21.15 | NA | 14.28 | 3.57 | NA | 39.00 | 090
23620 |  | A | Treat humerus fracture | 2.39 | 5.26 | 3.27 | 0.38 | 8.03 | 6.04 | 090
23625 |  | A | Treat humerus fracture | 3.91 | 6.39 | 4.60 | 0.64 | 10.94 | 9.15 | 090
23630 |  | A | Treat humerus fracture | 7.31 | NA | 6.67 | 1.23 | NA | 15.21 | 090
23650 |  | A | Treat shoulder dislocation | 3.37 | 4.75 | 2.94 | 0.37 | 8.49 | 6.68 | 090
23655 |  | A | Treat shoulder dislocation | 4.54 | NA | 4.23 | 0.62 | NA | 9.39 | 090
23660 |  | A | Treat shoulder dislocation | 7.45 | NA | 6.44 | 1.21 | NA | 15.10 | 090
23665 |  | A | Treat dislocation/fracture | 4.44 | 6.66 | 4.99 | 0.72 | 11.82 | 10.15 | 090
23670 |  | A | Treat dislocation/fracture | 7.85 | NA | 6.90 | 1.32 | NA | 16.07 | 090
23675 |  | A | Treat dislocation/fracture | 6.02 | 7.65 | 6.13 | 0.99 | 14.66 | 13.14 | 090
23680 |  | A | Treat dislocation/fracture | 10.00 | NA | 8.18 | 1.67 | NA | 19.85 | 090
23700 |  | A | Fixation of shoulder | 2.51 | NA | 2.32 | 0.42 | NA | 5.25 | 010
23800 |  | A | Fusion of shoulder joint | 14.08 | NA | 10.58 | 2.36 | NA | 27.02 | 090
23802 |  | A | Fusion of shoulder joint | 16.51 | NA | 10.38 | 2.80 | NA | 29.69 | 090
23900 |  | A | Amputation of arm & girdle | 19.61 | NA | 12.05 | 2.96 | NA | 34.62 | 090
23920 |  | A | Amputation at shoulder joint | 14.53 | NA | 10.21 | 2.30 | NA | 27.04 | 090
23921 |  | A | Amputation follow-up surgery | 5.46 | 5.28 | 5.28 | 0.93 | 11.67 | 11.67 | 090
23929 |  | C | Shoulder surgery procedure | 0.00 | 0.00 | 0.00 | 0.00 | 0.00 | 0.00 | YYY
23930 |  | A | Drainage of arm lesion | 2.92 | 2.75 | 2.36 | 0.38 | 6.05 | 5.66 | 010
23931 |  | A | Drainage of arm bursa | 1.78 | 2.46 | 2.21 | 0.25 | 4.49 | 4.24 | 010
23935 |  | A | Drain arm/elbow bone lesion | 6.06 | NA | 6.18 | 1.01 | NA | 13.25 | 090
24000 |  | A | Exploratory elbow surgery | 5.79 | NA | 5.42 | 0.92 | NA | 12.13 | 090
24006 |  | A | Release elbow joint | 9.26 | NA | 7.77 | 1.52 | NA | 18.55 | 090
24065 |  | A | Biopsy arm/elbow soft tissue | 2.07 | 2.12 | 1.80 | 0.17 | 4.36 | 4.04 | 010
24066 |  | A | Biopsy arm/elbow soft tissue | 5.18 | 5.81 | 4.33 | 0.73 | 11.72 | 10.24 | 090
24075 |  | A | Remove arm/elbow lesion | 3.90 | 5.11 | 3.71 | 0.52 | 9.53 | 8.13 | 090
24076 |  | A | Remove arm/elbow lesion | 6.26 | NA | 5.14 | 0.84 | NA | 12.24 | 090
24077 |  | A | Remove tumor of arm/elbow | 11.69 | NA | 8.75 | 1.58 | NA | 22.02 | 090
24100 |  | A | Biopsy elbow joint lining | 4.90 | NA | 4.52 | 0.74 | NA | 10.16 | 090
24101 |  | A | Explore/treat elbow joint | 6.10 | NA | 5.92 | 1.01 | NA | 13.03 | 090
24102 |  | A | Remove elbow joint lining | 7.98 | NA | 6.91 | 1.31 | NA | 16.20 | 090
24105 |  | A | Removal of elbow bursa | 3.59 | NA | 4.41 | 0.59 | NA | 8.59 | 090
24110 |  | A | Remove humerus lesion | 7.35 | NA | 6.78 | 1.19 | NA | 15.32 | 090
24115 |  | A | Remove/graft bone lesion | 9.58 | NA | 7.43 | 1.38 | NA | 18.39 | 090
24116 |  | A | Remove/graft bone lesion | 11.74 | NA | 9.21 | 1.99 | NA | 22.94 | 090
24120 |  | A | Remove elbow lesion | 6.61 | NA | 5.94 | 1.04 | NA | 13.59 | 090
24125 |  | A | Remove/graft bone lesion | 7.85 | NA | 6.25 | 1.05 | NA | 15.15 | 090
24126 |  | A | Remove/graft bone lesion | 8.26 | NA | 7.04 | 1.08 | NA | 16.38 | 090
24130 |  | A | Removal of head of radius | 6.21 | NA | 6.01 | 1.04 | NA | 13.26 | 090
24134 |  | A | Removal of arm bone lesion | 9.67 | NA | 9.27 | 1.57 | NA | 20.51 | 090
24136 |  | A | Remove radius bone lesion | 7.94 | NA | 7.49 | 1.02 | NA | 16.45 | 090
24138 |  | A | Remove elbow bone lesion | 8.00 | NA | 7.75 | 1.34 | NA | 17.09 | 090
24140 |  | A | Partial removal of arm bone | 9.13 | NA | 9.60 | 1.47 | NA | 20.20 | 090
24145 |  | A | Partial removal of radius | 7.54 | NA | 8.24 | 1.21 | NA | 16.99 | 090
24147 |  | A | Partial removal of elbow | 7.50 | NA | 8.73 | 1.25 | NA | 17.48 | 090
24149 |  | A | Radical resection of elbow | 14.12 | NA | 11.54 | 2.28 | NA | 27.94 | 090
24150 |  | A | Extensive humerus surgery | 13.19 | NA | 10.22 | 2.17 | NA | 25.58 | 090
24151 |  | A | Extensive humerus surgery | 15.49 | NA | 11.81 | 2.62 | NA | 29.92 | 090
24152 |  | A | Extensive radius surgery | 10.00 | NA | 7.96 | 1.43 | NA | 19.39 | 090
24153 |  | A | Extensive radius surgery | 11.47 | NA | 5.90 | 0.77 | NA | 18.14 | 090
24155 |  | A | Removal of elbow joint | 11.66 | NA | 8.48 | 1.70 | NA | 21.84 | 090
24160 |  | A | Remove elbow joint implant | 7.79 | NA | 6.85 | 1.28 | NA | 15.92 | 090
24164 |  | A | Remove radius head implant | 6.19 | NA | 5.73 | 1.01 | NA | 12.93 | 090
24200 |  | A | Removal of arm foreign body | 1.75 | 1.99 | 1.69 | 0.18 | 3.92 | 3.62 | 010
24201 |  | A | Removal of arm foreign body | 4.53 | 5.75 | 4.37 | 0.67 | 10.95 | 9.57 | 090
24220 |  | A | Injection for elbow x-ray | 1.30 | 10.48 | 0.45 | 0.08 | 11.86 | 1.83 | 000
24300 |  | A | Manipulate elbow w/anesth | 3.73 | NA | 5.54 | 0.59 | NA | 9.86 | 090
24301 |  | A | Muscle/tendon transfer | 10.14 | NA | 8.27 | 1.56 | NA | 19.97 | 090
24305 |  | A | Arm tendon lengthening | 7.41 | NA | 6.75 | 1.17 | NA | 15.33 | 090
24310 |  | A | Revision of arm tendon | 5.95 | NA | 5.79 | 0.89 | NA | 12.63 | 090
24320 |  | A | Repair of arm tendon | 10.50 | NA | 7.82 | 1.20 | NA | 19.52 | 090
24330 |  | A | Revision of arm muscles | 9.55 | NA | 7.96 | 1.45 | NA | 18.96 | 090
24331 |  | A | Revision of arm muscles | 10.59 | NA | 8.68 | 1.69 | NA | 20.96 | 090
24332 |  | A | Tenolysis, triceps | 7.41 | NA | 6.66 | 0.92 | NA | 14.99 | 090
24340 |  | A | Repair of biceps tendon | 7.85 | NA | 6.99 | 1.29 | NA | 16.13 | 090
24341 |  | A | Repair arm tendon/muscle | 7.85 | NA | 7.83 | 1.29 | NA | 16.97 | 090
24342 |  | A | Repair of ruptured tendon | 10.56 | NA | 8.54 | 1.77 | NA | 20.87 | 090
24343 |  | A | Repr elbow lat ligmnt w/tiss | 8.60 | NA | 8.02 | 1.35 | NA | 17.97 | 090
24344 |  | A | Reconstruct elbow lat ligmnt | 13.92 | NA | 11.43 | 2.19 | NA | 27.54 | 090
24345 |  | A | Repr elbw med ligmnt w/tissu | 8.60 | NA | 7.91 | 1.35 | NA | 17.86 | 090
24346 |  | A | Reconstruct elbow med ligmnt | 13.92 | NA | 11.28 | 2.19 | NA | 27.39 | 090
24350 |  | A | Repair of tennis elbow | 5.22 | NA | 5.57 | 0.86 | NA | 11.65 | 090
24351 |  | A | Repair of tennis elbow | 5.88 | NA | 5.92 | 0.98 | NA | 12.78 | 090
24352 |  | A | Repair of tennis elbow | 6.39 | NA | 6.18 | 1.08 | NA | 13.65 | 090
24354 |  | A | Repair of tennis elbow | 6.44 | NA | 6.14 | 1.05 | NA | 13.63 | 090
24356 |  | A | Revision of tennis elbow | 6.64 | NA | 6.32 | 1.08 | NA | 14.04 | 090
24360 |  | A | Reconstruct elbow joint | 12.27 | NA | 9.46 | 2.03 | NA | 23.76 | 090
24361 |  | A | Reconstruct elbow joint | 14.00 | NA | 10.56 | 2.34 | NA | 26.90 | 090
24362 |  | A | Reconstruct elbow joint | 14.90 | NA | 10.08 | 2.30 | NA | 27.28 | 090
24363 |  | A | Replace elbow joint | 18.38 | NA | 13.67 | 3.02 | NA | 35.07 | 090
24365 |  | A | Reconstruct head of radius | 8.34 | NA | 7.15 | 1.33 | NA | 16.82 | 090
24366 |  | A | Reconstruct head of radius | 9.08 | NA | 7.51 | 1.53 | NA | 18.12 | 090
24400 |  | A | Revision of humerus | 11.00 | NA | 9.00 | 1.83 | NA | 21.83 | 090
24410 |  | A | Revision of humerus | 14.74 | NA | 10.54 | 2.27 | NA | 27.55 | 090
24420 |  | A | Revision of humerus | 13.36 | NA | 10.77 | 2.18 | NA | 26.31 | 090
24430 |  | A | Repair of humerus | 12.74 | NA | 9.85 | 2.16 | NA | 24.75 | 090
24435 |  | A | Repair humerus with graft | 13.09 | NA | 10.95 | 2.21 | NA | 26.25 | 090
24470 |  | A | Revision of elbow joint | 8.69 | NA | 7.69 | 1.47 | NA | 17.85 | 090
24495 |  | A | Decompression of forearm | 8.07 | NA | 9.03 | 1.10 | NA | 18.20 | 090
24498 |  | A | Reinforce humerus | 11.85 | NA | 9.38 | 2.00 | NA | 23.23 | 090
24500 |  | A | Treat humerus fracture | 3.19 | 5.46 | 3.66 | 0.49 | 9.14 | 7.34 | 090
24505 |  | A | Treat humerus fracture | 5.14 | 7.37 | 5.34 | 0.86 | 13.37 | 11.34 | 090
24515 |  | A | Treat humerus fracture | 11.58 | NA | 9.44 | 1.95 | NA | 22.97 | 090
24516 |  | A | Treat humerus fracture | 11.58 | NA | 9.21 | 1.95 | NA | 22.74 | 090
24530 |  | A | Treat humerus fracture | 3.48 | 5.45 | 3.99 | 0.56 | 9.49 | 8.03 | 090
24535 |  | A | Treat humerus fracture | 6.83 | 8.47 | 6.48 | 1.15 | 16.45 | 14.46 | 090
24538 |  | A | Treat humerus fracture | 9.38 | NA | 8.79 | 1.50 | NA | 19.67 | 090
24545 |  | A | Treat humerus fracture | 10.40 | NA | 8.50 | 1.76 | NA | 20.66 | 090
24546 |  | A | Treat humerus fracture | 15.60 | NA | 11.43 | 2.61 | NA | 29.64 | 090
24560 |  | A | Treat humerus fracture | 2.78 | 5.13 | 3.26 | 0.42 | 8.33 | 6.46 | 090
24565 |  | A | Treat humerus fracture | 5.53 | 7.37 | 5.46 | 0.89 | 13.79 | 11.88 | 090
24566 |  | A | Treat humerus fracture | 7.75 | NA | 8.21 | 1.32 | NA | 17.28 | 090
24575 |  | A | Treat humerus fracture | 10.60 | NA | 8.38 | 1.73 | NA | 20.71 | 090
24576 |  | A | Treat humerus fracture | 2.84 | 5.00 | 3.64 | 0.46 | 8.30 | 6.94 | 090
24577 |  | A | Treat humerus fracture | 5.76 | 7.65 | 5.76 | 0.97 | 14.38 | 12.49 | 090
24579 |  | A | Treat humerus fracture | 11.53 | NA | 8.93 | 1.94 | NA | 22.40 | 090
24582 |  | A | Treat humerus fracture | 8.50 | NA | 9.10 | 1.44 | NA | 19.04 | 090
24586 |  | A | Treat elbow fracture | 15.12 | NA | 11.23 | 2.54 | NA | 28.89 | 090
24587 |  | A | Treat elbow fracture | 15.07 | NA | 11.04 | 2.57 | NA | 28.68 | 090
24600 |  | A | Treat elbow dislocation | 4.21 | 5.63 | 3.58 | 0.59 | 10.43 | 8.38 | 090
24605 |  | A | Treat elbow dislocation | 5.39 | NA | 5.32 | 0.86 | NA | 11.57 | 090
24615 |  | A | Treat elbow dislocation | 9.37 | NA | 7.81 | 1.57 | NA | 18.75 | 090
24620 |  | A | Treat elbow fracture | 6.94 | NA | 6.18 | 1.08 | NA | 14.20 | 090
24635 |  | A | Treat elbow fracture | 13.11 | NA | 14.37 | 2.21 | NA | 29.69 | 090
24640 |  | A | Treat elbow dislocation | 1.19 | 1.96 | 0.88 | 0.13 | 3.28 | 2.20 | 010
24650 |  | A | Treat radius fracture | 2.15 | 4.60 | 2.78 | 0.34 | 7.09 | 5.27 | 090
24655 |  | A | Treat radius fracture | 4.37 | 6.84 | 4.74 | 0.70 | 11.91 | 9.81 | 090
24665 |  | A | Treat radius fracture | 8.09 | NA | 7.56 | 1.35 | NA | 17.00 | 090
24666 |  | A | Treat radius fracture | 9.44 | NA | 8.14 | 1.58 | NA | 19.16 | 090
24670 |  | A | Treat ulnar fracture | 2.53 | 4.50 | 3.06 | 0.40 | 7.43 | 5.99 | 090
24675 |  | A | Treat ulnar fracture | 4.69 | 6.80 | 4.87 | 0.78 | 12.27 | 10.34 | 090
24685 |  | A | Treat ulnar fracture | 8.75 | NA | 7.60 | 1.47 | NA | 17.82 | 090
24800 |  | A | Fusion of elbow joint | 11.14 | NA | 8.81 | 1.69 | NA | 21.64 | 090
24802 |  | A | Fusion/graft of elbow joint | 13.61 | NA | 10.44 | 2.27 | NA | 26.32 | 090
24900 |  | A | Amputation of upper arm | 9.55 | NA | 7.43 | 1.41 | NA | 18.39 | 090
24920 |  | A | Amputation of upper arm | 9.49 | NA | 7.59 | 1.46 | NA | 18.54 | 090
24925 |  | A | Amputation follow-up surgery | 7.03 | NA | 6.34 | 1.14 | NA | 14.51 | 090
24930 |  | A | Amputation follow-up surgery | 10.19 | NA | 7.59 | 1.47 | NA | 19.25 | 090
24931 |  | A | Amputate upper arm & implant | 12.65 | NA | 6.19 | 1.87 | NA | 20.71 | 090
24935 |  | A | Revision of amputation | 15.47 | NA | 8.50 | 1.89 | NA | 25.86 | 090
24940 |  | C | Revision of upper arm | 0.00 | 0.00 | 0.00 | 0.00 | 0.00 | 0.00 | 090
24999 |  | C | Upper arm/elbow surgery | 0.00 | 0.00 | 0.00 | 0.00 | 0.00 | 0.00 | YYY
25000 |  | A | Incision of tendon sheath | 3.36 | NA | 7.03 | 0.54 | NA | 10.93 | 090
25001 |  | A | Incise flexor carpi radialis | 3.36 | NA | 4.13 | 0.54 | NA | 8.03 | 090
25020 |  | A | Decompress forearm 1 space | 5.89 | NA | 10.04 | 0.91 | NA | 16.84 | 090
25023 |  | A | Decompress forearm 1 space | 12.89 | NA | 15.51 | 1.82 | NA | 30.22 | 090
25024 |  | A | Decompress forearm 2 spaces | 9.45 | NA | 7.49 | 1.49 | NA | 18.43 | 090
25025 |  | A | Decompress forearm 2 spaces | 16.45 | NA | 10.06 | 2.61 | NA | 29.12 | 090
25028 |  | A | Drainage of forearm lesion | 5.22 | NA | 8.54 | 0.73 | NA | 14.49 | 090
25031 |  | A | Drainage of forearm bursa | 4.12 | NA | 8.35 | 0.60 | NA | 13.07 | 090
25035 |  | A | Treat forearm bone lesion | 7.32 | NA | 14.20 | 1.17 | NA | 22.69 | 090
25040 |  | A | Explore/treat wrist joint | 7.14 | NA | 7.42 | 1.15 | NA | 15.71 | 090
25065 |  | A | Biopsy forearm soft tissues | 1.98 | 2.83 | 2.83 | 0.14 | 4.95 | 4.95 | 010
25066 |  | A | Biopsy forearm soft tissues | 4.11 | NA | 7.33 | 0.59 | NA | 12.03 | 090
25075 |  | A | Removel forearm lesion subcu | 3.72 | NA | 6.19 | 0.48 | NA | 10.39 | 090
25076 |  | A | Removel forearm lesion deep | 4.89 | NA | 10.08 | 0.71 | NA | 15.68 | 090
25077 |  | A | Remove tumor, forearm/wrist | 9.70 | NA | 12.84 | 1.32 | NA | 23.86 | 090
25085 |  | A | Incision of wrist capsule | 5.47 | NA | 7.38 | 0.85 | NA | 13.70 | 090
25100 |  | A | Biopsy of wrist joint | 3.88 | NA | 5.46 | 0.60 | NA | 9.94 | 090
25101 |  | A | Explore/treat wrist joint | 4.66 | NA | 6.02 | 0.72 | NA | 11.40 | 090
25105 |  | A | Remove wrist joint lining | 5.82 | NA | 7.57 | 0.92 | NA | 14.31 | 090
25107 |  | A | Remove wrist joint cartilage | 6.39 | NA | 8.50 | 0.98 | NA | 15.87 | 090
25110 |  | A | Remove wrist tendon lesion | 3.90 | NA | 7.34 | 0.58 | NA | 11.82 | 090
25111 |  | A | Remove wrist tendon lesion | 3.37 | NA | 4.88 | 0.50 | NA | 8.75 | 090
25112 |  | A | Reremove wrist tendon lesion | 4.50 | NA | 5.49 | 0.65 | NA | 10.64 | 090
25115 |  | A | Remove wrist/forearm lesion | 8.77 | NA | 14.60 | 1.33 | NA | 24.70 | 090
25116 |  | A | Remove wrist/forearm lesion | 7.07 | NA | 13.67 | 1.08 | NA | 21.82 | 090
25118 |  | A | Excise wrist tendon sheath | 4.35 | NA | 5.94 | 0.66 | NA | 10.95 | 090
25119 |  | A | Partial removal of ulna | 6.01 | NA | 7.85 | 0.96 | NA | 14.82 | 090
25120 |  | A | Removal of forearm lesion | 6.07 | NA | 12.58 | 0.97 | NA | 19.62 | 090
25125 |  | A | Remove/graft forearm lesion | 7.44 | NA | 13.37 | 1.22 | NA | 22.03 | 090
25126 |  | A | Remove/graft forearm lesion | 7.51 | NA | 13.46 | 1.20 | NA | 22.17 | 090
25130 |  | A | Removal of wrist lesion | 5.23 | NA | 6.58 | 0.79 | NA | 12.60 | 090
25135 |  | A | Remove & graft wrist lesion | 6.85 | NA | 7.61 | 1.07 | NA | 15.53 | 090
25136 |  | A | Remove & graft wrist lesion | 5.94 | NA | 6.76 | 0.70 | NA | 13.40 | 090
25145 |  | A | Remove forearm bone lesion | 6.33 | NA | 12.61 | 0.98 | NA | 19.92 | 090
25150 |  | A | Partial removal of ulna | 7.05 | NA | 8.49 | 1.15 | NA | 16.69 | 090
25151 |  | A | Partial removal of radius | 7.35 | NA | 13.23 | 1.11 | NA | 21.69 | 090
25170 |  | A | Extensive forearm surgery | 11.03 | NA | 15.64 | 1.82 | NA | 28.49 | 090
25210 |  | A | Removal of wrist bone | 5.92 | NA | 6.98 | 0.87 | NA | 13.77 | 090
25215 |  | A | Removal of wrist bones | 7.85 | NA | 8.99 | 1.22 | NA | 18.06 | 090
25230 |  | A | Partial removal of radius | 5.20 | NA | 6.29 | 0.79 | NA | 12.28 | 090
25240 |  | A | Partial removal of ulna | 5.14 | NA | 7.16 | 0.83 | NA | 13.13 | 090
25246 |  | A | Injection for wrist x-ray | 1.44 | 10.14 | 0.49 | 0.08 | 11.66 | 2.01 | 000
25248 |  | A | Remove forearm foreign body | 5.11 | NA | 8.83 | 0.65 | NA | 14.59 | 090
25250 |  | A | Removal of wrist prosthesis | 6.56 | NA | 6.06 | 1.01 | NA | 13.63 | 090
25251 |  | A | Removal of wrist prosthesis | 9.52 | NA | 7.90 | 1.38 | NA | 18.80 | 090
25259 |  | A | Manipulate wrist w/anesthes | 3.73 | NA | 5.53 | 0.60 | NA | 9.86 | 090
25260 |  | A | Repair forearm tendon/muscle | 7.76 | NA | 14.06 | 1.16 | NA | 22.98 | 090
25263 |  | A | Repair forearm tendon/muscle | 7.78 | NA | 13.95 | 1.13 | NA | 22.86 | 090
25265 |  | A | Repair forearm tendon/muscle | 9.82 | NA | 14.83 | 1.43 | NA | 26.08 | 090
25270 |  | A | Repair forearm tendon/muscle | 5.97 | NA | 12.74 | 0.91 | NA | 19.62 | 090
25272 |  | A | Repair forearm tendon/muscle | 7.00 | NA | 13.45 | 1.07 | NA | 21.52 | 090
25274 |  | A | Repair forearm tendon/muscle | 8.70 | NA | 14.17 | 1.37 | NA | 24.24 | 090
25275 |  | A | Repair forearm tendon sheath | 8.45 | NA | 7.54 | 1.35 | NA | 17.34 | 090
25280 |  | A | Revise wrist/forearm tendon | 7.18 | NA | 13.17 | 1.09 | NA | 21.44 | 090
25290 |  | A | Incise wrist/forearm tendon | 5.26 | NA | 15.71 | 0.79 | NA | 21.76 | 090
25295 |  | A | Release wrist/forearm tendon | 6.51 | NA | 12.73 | 1.03 | NA | 20.27 | 090
25300 |  | A | Fusion of tendons at wrist | 8.75 | NA | 8.61 | 1.28 | NA | 18.64 | 090
25301 |  | A | Fusion of tendons at wrist | 8.35 | NA | 8.25 | 1.29 | NA | 17.89 | 090
25310 |  | A | Transplant forearm tendon | 8.09 | NA | 13.59 | 1.21 | NA | 22.89 | 090
25312 |  | A | Transplant forearm tendon | 9.52 | NA | 14.49 | 1.46 | NA | 25.47 | 090
25315 |  | A | Revise palsy hand tendon(s) | 10.14 | NA | 15.05 | 1.51 | NA | 26.70 | 090
25316 |  | A | Revise palsy hand tendon(s) | 12.26 | NA | 16.80 | 2.09 | NA | 31.15 | 090
25320 |  | A | Repair/revise wrist joint | 10.71 | NA | 11.33 | 1.58 | NA | 23.62 | 090
25332 |  | A | Revise wrist joint | 11.34 | NA | 9.16 | 1.75 | NA | 22.25 | 090
25335 |  | A | Realignment of hand | 12.81 | NA | 11.84 | 1.99 | NA | 26.64 | 090
25337 |  | A | Reconstruct ulna/radioulnar | 10.11 | NA | 11.19 | 1.57 | NA | 22.87 | 090
25350 |  | A | Revision of radius | 8.73 | NA | 14.43 | 1.40 | NA | 24.56 | 090
25355 |  | A | Revision of radius | 10.11 | NA | 15.08 | 1.73 | NA | 26.92 | 090
25360 |  | A | Revision of ulna | 8.38 | NA | 14.33 | 1.40 | NA | 24.11 | 090
25365 |  | A | Revise radius & ulna | 12.33 | NA | 16.13 | 2.00 | NA | 30.46 | 090
25370 |  | A | Revise radius or ulna | 13.28 | NA | 16.47 | 2.25 | NA | 32.00 | 090
25375 |  | A | Revise radius & ulna | 12.97 | NA | 16.95 | 2.21 | NA | 32.13 | 090
25390 |  | A | Shorten radius or ulna | 10.34 | NA | 15.08 | 1.65 | NA | 27.07 | 090
25391 |  | A | Lengthen radius or ulna | 13.57 | NA | 17.06 | 2.07 | NA | 32.70 | 090
25392 |  | A | Shorten radius & ulna | 13.87 | NA | 16.41 | 2.07 | NA | 32.35 | 090
25393 |  | A | Lengthen radius & ulna | 15.78 | NA | 18.06 | 2.24 | NA | 36.08 | 090
25394 |  | A | Repair carpal bone, shorten | 10.34 | NA | 8.33 | 1.68 | NA | 20.35 | 090
25400 |  | A | Repair radius or ulna | 10.86 | NA | 15.66 | 1.80 | NA | 28.32 | 090
25405 |  | A | Repair/graft radius or ulna | 14.30 | NA | 17.77 | 2.34 | NA | 34.41 | 090
25415 |  | A | Repair radius & ulna | 13.27 | NA | 17.01 | 2.24 | NA | 32.52 | 090
25420 |  | A | Repair/graft radius & ulna | 16.24 | NA | 18.76 | 2.64 | NA | 37.64 | 090
25425 |  | A | Repair/graft radius or ulna | 13.13 | NA | 22.34 | 1.93 | NA | 37.40 | 090
25426 |  | A | Repair/graft radius & ulna | 15.73 | NA | 17.43 | 2.67 | NA | 35.83 | 090
25430 |  | A | Vasc graft into carpal bone | 9.20 | NA | 7.36 | 1.28 | NA | 17.84 | 090
25431 |  | A | Repair nonunion carpal bone | 10.38 | NA | 8.32 | 0.67 | NA | 19.37 | 090
25440 |  | A | Repair/graft wrist bone | 10.38 | NA | 9.53 | 1.69 | NA | 21.60 | 090
25441 |  | A | Reconstruct wrist joint | 12.83 | NA | 9.99 | 2.19 | NA | 25.01 | 090
25442 |  | A | Reconstruct wrist joint | 10.79 | NA | 8.86 | 1.49 | NA | 21.14 | 090
25443 |  | A | Reconstruct wrist joint | 10.33 | NA | 8.74 | 1.56 | NA | 20.63 | 090
25444 |  | A | Reconstruct wrist joint | 11.09 | NA | 9.16 | 1.71 | NA | 21.96 | 090
25445 |  | A | Reconstruct wrist joint | 9.63 | NA | 7.97 | 1.51 | NA | 19.11 | 090
25446 |  | A | Wrist replacement | 16.46 | NA | 11.94 | 2.64 | NA | 31.04 | 090
25447 |  | A | Repair wrist joint(s) | 10.31 | NA | 8.62 | 1.61 | NA | 20.54 | 090
25449 |  | A | Remove wrist joint implant | 14.41 | NA | 10.69 | 2.12 | NA | 27.22 | 090
25450 |  | A | Revision of wrist joint | 7.83 | NA | 10.54 | 1.05 | NA | 19.42 | 090
25455 |  | A | Revision of wrist joint | 9.44 | NA | 11.45 | 1.28 | NA | 22.17 | 090
25490 |  | A | Reinforce radius | 9.49 | NA | 14.19 | 1.43 | NA | 25.11 | 090
25491 |  | A | Reinforce ulna | 9.90 | NA | 14.92 | 1.69 | NA | 26.51 | 090
25492 |  | A | Reinforce radius and ulna | 12.26 | NA | 15.79 | 1.94 | NA | 29.99 | 090
25500 |  | A | Treat fracture of radius | 2.44 | 4.04 | 2.76 | 0.34 | 6.82 | 5.54 | 090
25505 |  | A | Treat fracture of radius | 5.18 | 7.31 | 5.31 | 0.83 | 13.32 | 11.32 | 090
25515 |  | A | Treat fracture of radius | 9.13 | NA | 7.55 | 1.46 | NA | 18.14 | 090
25520 |  | A | Treat fracture of radius | 6.22 | 7.52 | 5.93 | 1.02 | 14.76 | 13.17 | 090
25525 |  | A | Treat fracture of radius | 12.17 | NA | 10.04 | 2.01 | NA | 24.22 | 090
25526 |  | A | Treat fracture of radius | 12.91 | NA | 13.74 | 2.16 | NA | 28.81 | 090
25530 |  | A | Treat fracture of ulna | 2.08 | 4.19 | 2.84 | 0.32 | 6.59 | 5.24 | 090
25535 |  | A | Treat fracture of ulna | 5.11 | 6.93 | 5.23 | 0.82 | 12.86 | 11.16 | 090
25545 |  | A | Treat fracture of ulna | 8.85 | NA | 7.73 | 1.47 | NA | 18.05 | 090
25560 |  | A | Treat fracture radius & ulna | 2.43 | 4.09 | 2.70 | 0.32 | 6.84 | 5.45 | 090
25565 |  | A | Treat fracture radius & ulna | 5.60 | 7.44 | 5.38 | 0.91 | 13.95 | 11.89 | 090
25574 |  | A | Treat fracture radius & ulna | 6.97 | NA | 7.21 | 1.15 | NA | 15.33 | 090
25575 |  | A | Treat fracture radius/ulna | 10.39 | NA | 9.50 | 1.75 | NA | 21.64 | 090
25600 |  | A | Treat fracture radius/ulna | 2.62 | 4.52 | 2.99 | 0.41 | 7.55 | 6.02 | 090
25605 |  | A | Treat fracture radius/ulna | 5.78 | 8.12 | 6.08 | 0.97 | 14.87 | 12.83 | 090
25611 |  | A | Treat fracture radius/ulna | 7.73 | NA | 8.94 | 1.29 | NA | 17.96 | 090
25620 |  | A | Treat fracture radius/ulna | 8.50 | NA | 7.36 | 1.40 | NA | 17.26 | 090
25622 |  | A | Treat wrist bone fracture | 2.60 | 4.69 | 3.18 | 0.40 | 7.69 | 6.18 | 090
25624 |  | A | Treat wrist bone fracture | 4.50 | 7.06 | 4.96 | 0.73 | 12.29 | 10.19 | 090
25628 |  | A | Treat wrist bone fracture | 8.38 | NA | 7.89 | 1.37 | NA | 17.64 | 090
25630 |  | A | Treat wrist bone fracture | 2.86 | 4.61 | 2.99 | 0.44 | 7.91 | 6.29 | 090
25635 |  | A | Treat wrist bone fracture | 4.36 | 6.83 | 3.97 | 0.47 | 11.66 | 8.80 | 090
25645 |  | A | Treat wrist bone fracture | 7.21 | NA | 6.86 | 1.11 | NA | 15.18 | 090
25650 |  | A | Treat wrist bone fracture | 3.03 | 4.88 | 3.27 | 0.44 | 8.35 | 6.74 | 090
25651 |  | A | Pin ulnar styloid fracture | 5.33 | NA | 5.45 | 0.86 | NA | 11.64 | 090
25652 |  | A | Treat fracture ulnar styloid | 7.56 | NA | 6.93 | 1.22 | NA | 15.71 | 090
25660 |  | A | Treat wrist dislocation | 4.73 | NA | 4.71 | 0.71 | NA | 10.15 | 090
25670 |  | A | Treat wrist dislocation | 7.87 | NA | 7.15 | 1.28 | NA | 16.30 | 090
25671 |  | A | Pin radioulnar dislocation | 5.97 | NA | 6.04 | 0.97 | NA | 12.98 | 090
25675 |  | A | Treat wrist dislocation | 4.64 | 6.57 | 4.66 | 0.68 | 11.89 | 9.98 | 090
25676 |  | A | Treat wrist dislocation | 7.99 | NA | 7.40 | 1.32 | NA | 16.71 | 090
25680 |  | A | Treat wrist fracture | 5.96 | NA | 4.80 | 0.73 | NA | 11.49 | 090
25685 |  | A | Treat wrist fracture | 9.72 | NA | 7.96 | 1.50 | NA | 19.18 | 090
25690 |  | A | Treat wrist dislocation | 5.47 | NA | 5.45 | 0.93 | NA | 11.85 | 090
25695 |  | A | Treat wrist dislocation | 8.29 | NA | 7.27 | 1.28 | NA | 16.84 | 090
25800 |  | A | Fusion of wrist joint | 9.70 | NA | 9.20 | 1.56 | NA | 20.46 | 090
25805 |  | A | Fusion/graft of wrist joint | 11.22 | NA | 10.35 | 1.81 | NA | 23.38 | 090
25810 |  | A | Fusion/graft of wrist joint | 10.51 | NA | 9.99 | 1.64 | NA | 22.14 | 090
25820 |  | A | Fusion of hand bones | 7.41 | NA | 7.96 | 1.15 | NA | 16.52 | 090
25825 |  | A | Fuse hand bones with graft | 9.22 | NA | 9.32 | 1.44 | NA | 19.98 | 090
25830 |  | A | Fusion, radioulnar jnt/ulna | 10.00 | NA | 14.86 | 1.52 | NA | 26.38 | 090
25900 |  | A | Amputation of forearm | 8.96 | NA | 13.02 | 1.29 | NA | 23.27 | 090
25905 |  | A | Amputation of forearm | 9.07 | NA | 12.99 | 1.27 | NA | 23.33 | 090
25907 |  | A | Amputation follow-up surgery | 7.76 | NA | 12.36 | 1.21 | NA | 21.33 | 090
25909 |  | A | Amputation follow-up surgery | 8.91 | NA | 12.89 | 1.28 | NA | 23.08 | 090
25915 |  | A | Amputation of forearm | 16.98 | NA | 19.72 | 2.89 | NA | 39.59 | 090
25920 |  | A | Amputate hand at wrist | 8.63 | NA | 8.09 | 1.27 | NA | 17.99 | 090
25922 |  | A | Amputate hand at wrist | 7.38 | NA | 7.25 | 1.11 | NA | 15.74 | 090
25924 |  | A | Amputation follow-up surgery | 8.41 | NA | 8.31 | 1.28 | NA | 18.00 | 090
25927 |  | A | Amputation of hand | 8.75 | NA | 12.27 | 1.22 | NA | 22.24 | 090
25929 |  | A | Amputation follow-up surgery | 7.55 | NA | 6.09 | 1.07 | NA | 14.71 | 090
25931 |  | A | Amputation follow-up surgery | 7.77 | NA | 12.18 | 1.05 | NA | 21.00 | 090
25999 |  | C | Forearm or wrist surgery | 0.00 | 0.00 | 0.00 | 0.00 | 0.00 | 0.00 | YYY
26010 |  | A | Drainage of finger abscess | 1.53 | 5.77 | 1.69 | 0.17 | 7.47 | 3.39 | 010
26011 |  | A | Drainage of finger abscess | 2.18 | 9.17 | 2.33 | 0.30 | 11.65 | 4.81 | 010
26020 |  | A | Drain hand tendon sheath | 4.64 | NA | 5.63 | 0.71 | NA | 10.98 | 090
26025 |  | A | Drainage of palm bursa | 4.79 | NA | 5.42 | 0.72 | NA | 10.93 | 090
26030 |  | A | Drainage of palm bursa(s) | 5.90 | NA | 6.06 | 0.86 | NA | 12.82 | 090
26034 |  | A | Treat hand bone lesion | 6.19 | NA | 6.33 | 0.95 | NA | 13.47 | 090
26035 |  | A | Decompress fingers/hand | 9.46 | NA | 8.20 | 1.34 | NA | 19.00 | 090
26037 |  | A | Decompress fingers/hand | 7.21 | NA | 6.67 | 1.04 | NA | 14.92 | 090
26040 |  | A | Release palm contracture | 3.31 | NA | 4.03 | 0.54 | NA | 7.88 | 090
26045 |  | A | Release palm contracture | 5.53 | NA | 5.62 | 0.89 | NA | 12.04 | 090
26055 |  | A | Incise finger tendon sheath | 2.67 | 14.70 | 3.89 | 0.43 | 17.80 | 6.99 | 090
26060 |  | A | Incision of finger tendon | 2.79 | NA | 3.49 | 0.42 | NA | 6.70 | 090
26070 |  | A | Explore/treat hand joint | 3.67 | NA | 3.40 | 0.42 | NA | 7.49 | 090
26075 |  | A | Explore/treat finger joint | 3.77 | NA | 3.81 | 0.48 | NA | 8.06 | 090
26080 |  | A | Explore/treat finger joint | 4.22 | NA | 4.83 | 0.62 | NA | 9.67 | 090
26100 |  | A | Biopsy hand joint lining | 3.65 | NA | 4.14 | 0.54 | NA | 8.33 | 090
26105 |  | A | Biopsy finger joint lining | 3.69 | NA | 4.22 | 0.54 | NA | 8.45 | 090
26110 |  | A | Biopsy finger joint lining | 3.51 | NA | 4.02 | 0.53 | NA | 8.06 | 090
26115 |  | A | Removel hand lesion subcut | 3.84 | 13.49 | 4.72 | 0.58 | 17.91 | 9.14 | 090
26116 |  | A | Removel hand lesion, deep | 5.50 | NA | 5.98 | 0.83 | NA | 12.31 | 090
26117 |  | A | Remove tumor, hand/finger | 8.50 | NA | 7.10 | 1.21 | NA | 16.81 | 090
26121 |  | A | Release palm contracture | 7.50 | NA | 6.97 | 1.13 | NA | 15.60 | 090
26123 |  | A | Release palm contracture | 9.24 | NA | 8.84 | 1.40 | NA | 19.48 | 090
26125 |  | A | Release palm contracture | 4.58 | NA | 2.48 | 0.68 | NA | 7.74 | ZZZ
26130 |  | A | Remove wrist joint lining | 5.39 | NA | 5.36 | 0.78 | NA | 11.53 | 090
26135 |  | A | Revise finger joint, each | 6.92 | NA | 6.47 | 1.04 | NA | 14.43 | 090
26140 |  | A | Revise finger joint, each | 6.13 | NA | 6.03 | 0.91 | NA | 13.07 | 090
26145 |  | A | Tendon excision, palm/finger | 6.28 | NA | 6.05 | 0.92 | NA | 13.25 | 090
26160 |  | A | Remove tendon sheath lesion | 3.13 | 12.84 | 4.08 | 0.47 | 16.44 | 7.68 | 090
26170 |  | A | Removal of palm tendon, each | 4.74 | NA | 4.94 | 0.72 | NA | 10.40 | 090
26180 |  | A | Removal of finger tendon | 5.15 | NA | 5.41 | 0.77 | NA | 11.33 | 090
26185 |  | A | Remove finger bone | 5.22 | NA | 5.97 | 0.80 | NA | 11.99 | 090
26200 |  | A | Remove hand bone lesion | 5.48 | NA | 5.35 | 0.85 | NA | 11.68 | 090
26205 |  | A | Remove/graft bone lesion | 7.66 | NA | 6.91 | 1.14 | NA | 15.71 | 090
26210 |  | A | Removal of finger lesion | 5.12 | NA | 5.42 | 0.77 | NA | 11.31 | 090
26215 |  | A | Remove/graft finger lesion | 7.06 | NA | 6.32 | 0.92 | NA | 14.30 | 090
26230 |  | A | Partial removal of hand bone | 6.29 | NA | 5.91 | 1.01 | NA | 13.21 | 090
26235 |  | A | Partial removal, finger bone | 6.15 | NA | 5.81 | 0.93 | NA | 12.89 | 090
26236 |  | A | Partial removal, finger bone | 5.29 | NA | 5.34 | 0.79 | NA | 11.42 | 090
26250 |  | A | Extensive hand surgery | 7.51 | NA | 6.46 | 1.10 | NA | 15.07 | 090
26255 |  | A | Extensive hand surgery | 12.36 | NA | 9.45 | 1.26 | NA | 23.07 | 090
26260 |  | A | Extensive finger surgery | 6.99 | NA | 6.20 | 0.99 | NA | 14.18 | 090
26261 |  | A | Extensive finger surgery | 9.04 | NA | 6.28 | 1.01 | NA | 16.33 | 090
26262 |  | A | Partial removal of finger | 5.64 | NA | 5.35 | 0.84 | NA | 11.83 | 090
26320 |  | A | Removal of implant from hand | 3.96 | NA | 4.30 | 0.59 | NA | 8.85 | 090
26340 |  | A | Manipulate finger w/anesth | 2.49 | NA | 4.79 | 0.36 | NA | 7.64 | 090
26350 |  | A | Repair finger/hand tendon | 5.96 | NA | 15.67 | 0.87 | NA | 22.50 | 090
26352 |  | A | Repair/graft hand tendon | 7.64 | NA | 16.25 | 1.11 | NA | 25.00 | 090
26356 |  | A | Repair finger/hand tendon | 8.02 | NA | 19.11 | 1.19 | NA | 28.32 | 090
26357 |  | A | Repair finger/hand tendon | 8.53 | NA | 16.71 | 1.22 | NA | 26.46 | 090
26358 |  | A | Repair/graft hand tendon | 9.09 | NA | 17.61 | 1.28 | NA | 27.98 | 090
26370 |  | A | Repair finger/hand tendon | 7.07 | NA | 16.11 | 1.08 | NA | 24.26 | 090
26372 |  | A | Repair/graft hand tendon | 8.71 | NA | 17.50 | 1.27 | NA | 27.48 | 090
26373 |  | A | Repair finger/hand tendon | 8.11 | NA | 17.07 | 1.17 | NA | 26.35 | 090
26390 |  | A | Revise hand/finger tendon | 9.14 | NA | 14.07 | 1.31 | NA | 24.52 | 090
26392 |  | A | Repair/graft hand tendon | 10.20 | NA | 17.86 | 1.51 | NA | 29.57 | 090
26410 |  | A | Repair hand tendon | 4.60 | NA | 12.74 | 0.68 | NA | 18.02 | 090
26412 |  | A | Repair/graft hand tendon | 6.27 | NA | 14.08 | 0.96 | NA | 21.31 | 090
26415 |  | A | Excision, hand/finger tendon | 8.29 | NA | 12.43 | 0.92 | NA | 21.64 | 090
26416 |  | A | Graft hand or finger tendon | 9.32 | NA | 15.37 | 1.44 | NA | 26.13 | 090
26418 |  | A | Repair finger tendon | 4.23 | NA | 13.10 | 0.60 | NA | 17.93 | 090
26420 |  | A | Repair/graft finger tendon | 6.73 | NA | 14.43 | 0.99 | NA | 22.15 | 090
26426 |  | A | Repair finger/hand tendon | 6.11 | NA | 13.92 | 0.92 | NA | 20.95 | 090
26428 |  | A | Repair/graft finger tendon | 7.17 | NA | 14.73 | 1.01 | NA | 22.91 | 090
26432 |  | A | Repair finger tendon | 4.00 | NA | 10.81 | 0.58 | NA | 15.39 | 090
26433 |  | A | Repair finger tendon | 4.53 | NA | 11.49 | 0.67 | NA | 16.69 | 090
26434 |  | A | Repair/graft finger tendon | 6.06 | NA | 12.20 | 0.85 | NA | 19.11 | 090
26437 |  | A | Realignment of tendons | 5.79 | NA | 12.12 | 0.89 | NA | 18.80 | 090
26440 |  | A | Release palm/finger tendon | 4.99 | NA | 14.34 | 0.74 | NA | 20.07 | 090
26442 |  | A | Release palm & finger tendon | 8.11 | NA | 16.79 | 1.13 | NA | 26.03 | 090
26445 |  | A | Release hand/finger tendon | 4.29 | NA | 14.09 | 0.65 | NA | 19.03 | 090
26449 |  | A | Release forearm/hand tendon | 6.96 | NA | 16.57 | 1.01 | NA | 24.54 | 090
26450 |  | A | Incision of palm tendon | 3.65 | NA | 7.66 | 0.55 | NA | 11.86 | 090
26455 |  | A | Incision of finger tendon | 3.62 | NA | 7.59 | 0.56 | NA | 11.77 | 090
26460 |  | A | Incise hand/finger tendon | 3.44 | NA | 7.40 | 0.53 | NA | 11.37 | 090
26471 |  | A | Fusion of finger tendons | 5.70 | NA | 11.79 | 0.87 | NA | 18.36 | 090
26474 |  | A | Fusion of finger tendons | 5.29 | NA | 11.97 | 0.83 | NA | 18.09 | 090
26476 |  | A | Tendon lengthening | 5.15 | NA | 11.49 | 0.74 | NA | 17.38 | 090
26477 |  | A | Tendon shortening | 5.12 | NA | 11.66 | 0.72 | NA | 17.50 | 090
26478 |  | A | Lengthening of hand tendon | 5.77 | NA | 12.37 | 0.92 | NA | 19.06 | 090
26479 |  | A | Shortening of hand tendon | 5.71 | NA | 12.22 | 0.91 | NA | 18.84 | 090
26480 |  | A | Transplant hand tendon | 6.65 | NA | 15.85 | 1.01 | NA | 23.51 | 090
26483 |  | A | Transplant/graft hand tendon | 8.24 | NA | 16.31 | 1.23 | NA | 25.78 | 090
26485 |  | A | Transplant palm tendon | 7.66 | NA | 16.18 | 1.13 | NA | 24.97 | 090
26489 |  | A | Transplant/graft palm tendon | 9.50 | NA | 12.70 | 1.17 | NA | 23.37 | 090
26490 |  | A | Revise thumb tendon | 8.36 | NA | 13.32 | 1.26 | NA | 22.94 | 090
26492 |  | A | Tendon transfer with graft | 9.57 | NA | 14.14 | 1.43 | NA | 25.14 | 090
26494 |  | A | Hand tendon/muscle transfer | 8.42 | NA | 13.76 | 1.35 | NA | 23.53 | 090
26496 |  | A | Revise thumb tendon | 9.54 | NA | 13.75 | 1.40 | NA | 24.69 | 090
26497 |  | A | Finger tendon transfer | 9.52 | NA | 14.12 | 1.40 | NA | 25.04 | 090
26498 |  | A | Finger tendon transfer | 13.92 | NA | 16.73 | 2.09 | NA | 32.74 | 090
26499 |  | A | Revision of finger | 8.93 | NA | 13.66 | 1.13 | NA | 23.72 | 090
26500 |  | A | Hand tendon reconstruction | 5.93 | NA | 12.24 | 0.79 | NA | 18.96 | 090
26502 |  | A | Hand tendon reconstruction | 7.10 | NA | 12.72 | 1.04 | NA | 20.86 | 090
26504 |  | A | Hand tendon reconstruction | 7.43 | NA | 13.15 | 1.01 | NA | 21.59 | 090
26508 |  | A | Release thumb contracture | 5.98 | NA | 12.24 | 0.91 | NA | 19.13 | 090
26510 |  | A | Thumb tendon transfer | 5.40 | NA | 11.93 | 0.85 | NA | 18.18 | 090
26516 |  | A | Fusion of knuckle joint | 7.11 | NA | 12.79 | 1.08 | NA | 20.98 | 090
26517 |  | A | Fusion of knuckle joints | 8.78 | NA | 14.12 | 1.15 | NA | 24.05 | 090
26518 |  | A | Fusion of knuckle joints | 8.97 | NA | 13.93 | 1.35 | NA | 24.25 | 090
26520 |  | A | Release knuckle contracture | 5.27 | NA | 14.80 | 0.78 | NA | 20.85 | 090
26525 |  | A | Release finger contracture | 5.30 | NA | 14.91 | 0.79 | NA | 21.00 | 090
26530 |  | A | Revise knuckle joint | 6.65 | NA | 6.08 | 1.03 | NA | 13.76 | 090
26531 |  | A | Revise knuckle with implant | 7.86 | NA | 7.07 | 1.21 | NA | 16.14 | 090
26535 |  | A | Revise finger joint | 5.21 | NA | 3.73 | 0.79 | NA | 9.73 | 090
26536 |  | A | Revise/implant finger joint | 6.33 | NA | 9.84 | 0.96 | NA | 17.13 | 090
26540 |  | A | Repair hand joint | 6.39 | NA | 12.49 | 0.97 | NA | 19.85 | 090
26541 |  | A | Repair hand joint with graft | 8.57 | NA | 13.99 | 1.34 | NA | 23.90 | 090
26542 |  | A | Repair hand joint with graft | 6.74 | NA | 12.54 | 1.04 | NA | 20.32 | 090
26545 |  | A | Reconstruct finger joint | 6.88 | NA | 12.93 | 0.95 | NA | 20.76 | 090
26546 |  | A | Repair nonunion hand | 8.87 | NA | 15.37 | 1.37 | NA | 25.61 | 090
26548 |  | A | Reconstruct finger joint | 7.98 | NA | 13.55 | 1.17 | NA | 22.70 | 090
26550 |  | A | Construct thumb replacement | 21.12 | NA | 18.39 | 2.16 | NA | 41.67 | 090
26551 |  | A | Great toe-hand transfer | 46.31 | NA | 34.09 | 7.87 | NA | 88.27 | 090
26553 |  | A | Single transfer, toe-hand | 46.01 | NA | 23.43 | 2.39 | NA | 71.83 | 090
26554 |  | A | Double transfer, toe-hand | 54.64 | NA | 38.69 | 9.30 | NA | 102.63 | 090
26555 |  | A | Positional change of finger | 16.54 | NA | 18.86 | 2.55 | NA | 37.95 | 090
26556 |  | A | Toe joint transfer | 46.99 | NA | 34.88 | 7.99 | NA | 89.86 | 090
26560 |  | A | Repair of web finger | 5.35 | NA | 10.41 | 0.72 | NA | 16.48 | 090
26561 |  | A | Repair of web finger | 10.86 | NA | 13.07 | 0.83 | NA | 24.76 | 090
26562 |  | A | Repair of web finger | 14.91 | NA | 17.78 | 1.17 | NA | 33.86 | 090
26565 |  | A | Correct metacarpal flaw | 6.70 | NA | 12.60 | 1.01 | NA | 20.31 | 090
26567 |  | A | Correct finger deformity | 6.78 | NA | 12.53 | 1.01 | NA | 20.32 | 090
26568 |  | A | Lengthen metacarpal/finger | 9.03 | NA | 16.27 | 1.32 | NA | 26.62 | 090
26580 |  | A | Repair hand deformity | 18.08 | NA | 13.88 | 1.75 | NA | 33.71 | 090
26587 |  | A | Reconstruct extra finger | 13.97 | NA | 9.14 | 1.34 | NA | 24.45 | 090
26590 |  | A | Repair finger deformity | 17.86 | NA | 14.56 | 1.58 | NA | 34.00 | 090
26591 |  | A | Repair muscles of hand | 3.23 | NA | 10.56 | 0.44 | NA | 14.23 | 090
26593 |  | A | Release muscles of hand | 5.28 | NA | 11.63 | 0.77 | NA | 17.68 | 090
26596 |  | A | Excision constricting tissue | 8.90 | NA | 9.12 | 1.04 | NA | 19.06 | 090
26600 |  | A | Treat metacarpal fracture | 1.95 | 4.13 | 2.69 | 0.30 | 6.38 | 4.94 | 090
26605 |  | A | Treat metacarpal fracture | 2.83 | 5.31 | 3.62 | 0.46 | 8.60 | 6.91 | 090
26607 |  | A | Treat metacarpal fracture | 5.33 | NA | 6.41 | 0.84 | NA | 12.58 | 090
26608 |  | A | Treat metacarpal fracture | 5.33 | NA | 6.42 | 0.87 | NA | 12.62 | 090
26615 |  | A | Treat metacarpal fracture | 5.30 | NA | 5.59 | 0.84 | NA | 11.73 | 090
26641 |  | A | Treat thumb dislocation | 3.92 | 5.47 | 3.64 | 0.50 | 9.89 | 8.06 | 090
26645 |  | A | Treat thumb fracture | 4.38 | 6.17 | 4.23 | 0.65 | 11.20 | 9.26 | 090
26650 |  | A | Treat thumb fracture | 5.69 | NA | 6.84 | 0.92 | NA | 13.45 | 090
26665 |  | A | Treat thumb fracture | 7.56 | NA | 6.88 | 1.16 | NA | 15.60 | 090
26670 |  | A | Treat hand dislocation | 3.67 | 4.96 | 3.09 | 0.43 | 9.06 | 7.19 | 090
26675 |  | A | Treat hand dislocation | 4.61 | 6.30 | 4.47 | 0.67 | 11.58 | 9.75 | 090
26676 |  | A | Pin hand dislocation | 5.49 | NA | 6.87 | 0.91 | NA | 13.27 | 090
26685 |  | A | Treat hand dislocation | 6.94 | NA | 6.32 | 1.14 | NA | 14.40 | 090
26686 |  | A | Treat hand dislocation | 7.89 | NA | 7.10 | 1.26 | NA | 16.25 | 090
26700 |  | A | Treat knuckle dislocation | 3.67 | 4.71 | 3.02 | 0.42 | 8.80 | 7.11 | 090
26705 |  | A | Treat knuckle dislocation | 4.17 | 6.10 | 4.31 | 0.60 | 10.87 | 9.08 | 090
26706 |  | A | Pin knuckle dislocation | 5.09 | NA | 5.15 | 0.77 | NA | 11.01 | 090
26715 |  | A | Treat knuckle dislocation | 5.71 | NA | 5.78 | 0.90 | NA | 12.39 | 090
26720 |  | A | Treat finger fracture, each | 1.65 | 3.94 | 2.65 | 0.24 | 5.83 | 4.54 | 090
26725 |  | A | Treat finger fracture, each | 3.31 | 6.16 | 4.09 | 0.52 | 9.99 | 7.92 | 090
26727 |  | A | Treat finger fracture, each | 5.20 | NA | 6.48 | 0.83 | NA | 12.51 | 090
26735 |  | A | Treat finger fracture, each | 5.95 | NA | 5.92 | 0.92 | NA | 12.79 | 090
26740 |  | A | Treat finger fracture, each | 1.93 | 3.60 | 2.73 | 0.29 | 5.82 | 4.95 | 090
26742 |  | A | Treat finger fracture, each | 3.83 | 5.88 | 3.90 | 0.59 | 10.30 | 8.32 | 090
26746 |  | A | Treat finger fracture, each | 5.78 | NA | 5.97 | 0.89 | NA | 12.64 | 090
26750 |  | A | Treat finger fracture, each | 1.69 | 3.18 | 2.12 | 0.23 | 5.10 | 4.04 | 090
26755 |  | A | Treat finger fracture, each | 3.08 | 4.85 | 3.10 | 0.44 | 8.37 | 6.62 | 090
26756 |  | A | Pin finger fracture, each | 4.36 | NA | 6.10 | 0.67 | NA | 11.13 | 090
26765 |  | A | Treat finger fracture, each | 4.15 | NA | 4.82 | 0.61 | NA | 9.58 | 090
26770 |  | A | Treat finger dislocation | 3.00 | 4.47 | 2.60 | 0.32 | 7.79 | 5.92 | 090
26775 |  | A | Treat finger dislocation | 3.69 | 5.92 | 3.88 | 0.52 | 10.13 | 8.09 | 090
26776 |  | A | Pin finger dislocation | 4.77 | NA | 6.27 | 0.76 | NA | 11.80 | 090
26785 |  | A | Treat finger dislocation | 4.19 | NA | 4.85 | 0.65 | NA | 9.69 | 090
26820 |  | A | Thumb fusion with graft | 8.21 | NA | 13.77 | 1.33 | NA | 23.31 | 090
26841 |  | A | Fusion of thumb | 7.09 | NA | 13.67 | 1.16 | NA | 21.92 | 090
26842 |  | A | Thumb fusion with graft | 8.19 | NA | 13.85 | 1.32 | NA | 23.36 | 090
26843 |  | A | Fusion of hand joint | 7.57 | NA | 12.79 | 1.19 | NA | 21.55 | 090
26844 |  | A | Fusion/graft of hand joint | 8.68 | NA | 13.82 | 1.34 | NA | 23.84 | 090
26850 |  | A | Fusion of knuckle | 6.93 | NA | 12.70 | 1.07 | NA | 20.70 | 090
26852 |  | A | Fusion of knuckle with graft | 8.41 | NA | 13.41 | 1.26 | NA | 23.08 | 090
26860 |  | A | Fusion of finger joint | 4.66 | NA | 11.68 | 0.72 | NA | 17.06 | 090
26861 |  | A | Fusion of finger jnt, add-on | 1.73 | NA | 0.94 | 0.26 | NA | 2.93 | ZZZ
26862 |  | A | Fusion/graft of finger joint | 7.33 | NA | 12.89 | 1.10 | NA | 21.32 | 090
26863 |  | A | Fuse/graft added joint | 3.88 | NA | 2.14 | 0.61 | NA | 6.63 | ZZZ
26910 |  | A | Amputate metacarpal bone | 7.56 | NA | 11.83 | 1.08 | NA | 20.47 | 090
26951 |  | A | Amputation of finger/thumb | 4.56 | NA | 10.74 | 0.67 | NA | 15.97 | 090
26952 |  | A | Amputation of finger/thumb | 6.27 | NA | 12.35 | 0.89 | NA | 19.51 | 090
26989 |  | C | Hand/finger surgery | 0.00 | 0.00 | 0.00 | 0.00 | 0.00 | 0.00 | YYY
26990 |  | A | Drainage of pelvis lesion | 7.44 | NA | 7.70 | 1.10 | NA | 16.24 | 090
26991 |  | A | Drainage of pelvis bursa | 6.64 | 7.56 | 6.00 | 1.02 | 15.22 | 13.66 | 090
26992 |  | A | Drainage of bone lesion | 12.95 | NA | 11.00 | 2.10 | NA | 26.05 | 090
27000 |  | A | Incision of hip tendon | 5.59 | NA | 5.35 | 0.91 | NA | 11.85 | 090
27001 |  | A | Incision of hip tendon | 6.90 | NA | 6.21 | 1.14 | NA | 14.25 | 090
27003 |  | A | Incision of hip tendon | 7.30 | NA | 6.62 | 1.11 | NA | 15.03 | 090
27005 |  | A | Incision of hip tendon | 9.60 | NA | 7.93 | 1.63 | NA | 19.16 | 090
27006 |  | A | Incision of hip tendons | 9.62 | NA | 8.08 | 1.59 | NA | 19.29 | 090
27025 |  | A | Incision of hip/thigh fascia | 11.10 | NA | 8.67 | 1.65 | NA | 21.42 | 090
27030 |  | A | Drainage of hip joint | 12.94 | NA | 9.76 | 2.17 | NA | 24.87 | 090
27033 |  | A | Exploration of hip joint | 13.31 | NA | 10.03 | 2.24 | NA | 25.58 | 090
27035 |  | A | Denervation of hip joint | 16.59 | NA | 12.45 | 2.04 | NA | 31.08 | 090
27036 |  | A | Excision of hip joint/muscle | 12.81 | NA | 10.13 | 2.16 | NA | 25.10 | 090
27040 |  | A | Biopsy of soft tissues | 2.85 | 2.65 | 2.07 | 0.25 | 5.75 | 5.17 | 010
27041 |  | A | Biopsy of soft tissues | 9.83 | NA | 6.80 | 1.21 | NA | 17.84 | 090
27047 |  | A | Remove hip/pelvis lesion | 7.41 | 6.62 | 5.05 | 0.95 | 14.98 | 13.41 | 090
27048 |  | A | Remove hip/pelvis lesion | 6.21 | NA | 5.10 | 0.87 | NA | 12.18 | 090
27049 |  | A | Remove tumor, hip/pelvis | 13.58 | NA | 8.93 | 1.92 | NA | 24.43 | 090
27050 |  | A | Biopsy of sacroiliac joint | 4.34 | NA | 4.52 | 0.64 | NA | 9.50 | 090
27052 |  | A | Biopsy of hip joint | 6.19 | NA | 5.95 | 1.02 | NA | 13.16 | 090
27054 |  | A | Removal of hip joint lining | 8.49 | NA | 7.44 | 1.40 | NA | 17.33 | 090
27060 |  | A | Removal of ischial bursa | 5.40 | NA | 4.88 | 0.72 | NA | 11.00 | 090
27062 |  | A | Remove femur lesion/bursa | 5.34 | NA | 5.28 | 0.89 | NA | 11.51 | 090
27065 |  | A | Removal of hip bone lesion | 5.87 | NA | 5.60 | 0.91 | NA | 12.38 | 090
27066 |  | A | Removal of hip bone lesion | 10.27 | NA | 8.59 | 1.70 | NA | 20.56 | 090
27067 |  | A | Remove/graft hip bone lesion | 13.75 | NA | 10.79 | 2.34 | NA | 26.88 | 090
27070 |  | A | Partial removal of hip bone | 10.66 | NA | 9.88 | 1.63 | NA | 22.17 | 090
27071 |  | A | Partial removal of hip bone | 11.39 | NA | 10.86 | 1.81 | NA | 24.06 | 090
27075 |  | A | Extensive hip surgery | 34.80 | NA | 19.89 | 2.66 | NA | 57.35 | 090
27076 |  | A | Extensive hip surgery | 21.99 | NA | 14.93 | 3.43 | NA | 40.35 | 090
27077 |  | A | Extensive hip surgery | 39.77 | NA | 23.36 | 3.81 | NA | 66.94 | 090
27078 |  | A | Extensive hip surgery | 13.36 | NA | 10.54 | 2.00 | NA | 25.90 | 090
27079 |  | A | Extensive hip surgery | 13.67 | NA | 10.20 | 2.23 | NA | 26.10 | 090
27080 |  | A | Removal of tail bone | 6.35 | NA | 5.14 | 0.96 | NA | 12.45 | 090
27086 |  | A | Remove hip foreign body | 1.86 | 2.03 | 1.89 | 0.20 | 4.09 | 3.95 | 010
27087 |  | A | Remove hip foreign body | 8.49 | NA | 6.79 | 1.31 | NA | 16.59 | 090
27090 |  | A | Removal of hip prosthesis | 11.09 | NA | 8.74 | 1.86 | NA | 21.69 | 090
27091 |  | A | Removal of hip prosthesis | 22.01 | NA | 14.02 | 3.73 | NA | 39.76 | 090
27093 |  | A | Injection for hip x-ray | 1.29 | 12.36 | 0.49 | 0.11 | 13.76 | 1.89 | 000
27095 |  | A | Injection for hip x-ray | 1.49 | 10.91 | 0.53 | 0.12 | 12.52 | 2.14 | 000
27096 |  | A | Inject sacroiliac joint | 1.39 | 9.63 | 0.34 | 0.10 | 11.12 | 1.83 | 000
27097 |  | A | Revision of hip tendon | 8.75 | NA | 6.56 | 1.46 | NA | 16.77 | 090
27098 |  | A | Transfer tendon to pelvis | 8.78 | NA | 7.16 | 1.49 | NA | 17.43 | 090
27100 |  | A | Transfer of abdominal muscle | 11.02 | NA | 8.83 | 1.88 | NA | 21.73 | 090
27105 |  | A | Transfer of spinal muscle | 11.70 | NA | 9.31 | 1.99 | NA | 23.00 | 090
27110 |  | A | Transfer of iliopsoas muscle | 13.18 | NA | 9.54 | 1.65 | NA | 24.37 | 090
27111 |  | A | Transfer of iliopsoas muscle | 12.08 | NA | 9.28 | 1.77 | NA | 23.13 | 090
27120 |  | A | Reconstruction of hip socket | 17.91 | NA | 11.87 | 2.94 | NA | 32.72 | 090
27122 |  | A | Reconstruction of hip socket | 14.89 | NA | 11.02 | 2.49 | NA | 28.40 | 090
27125 |  | A | Partial hip replacement | 14.61 | NA | 10.60 | 2.46 | NA | 27.67 | 090
27130 |  | A | Total hip arthroplasty | 20.01 | NA | 13.35 | 3.38 | NA | 36.74 | 090
27132 |  | A | Total hip arthroplasty | 23.17 | NA | 15.65 | 3.91 | NA | 42.73 | 090
27134 |  | A | Revise hip joint replacement | 28.36 | NA | 17.88 | 4.76 | NA | 51.00 | 090
27137 |  | A | Revise hip joint replacement | 21.05 | NA | 13.96 | 3.56 | NA | 38.57 | 090
27138 |  | A | Revise hip joint replacement | 22.04 | NA | 14.44 | 3.73 | NA | 40.21 | 090
27140 |  | A | Transplant femur ridge | 12.17 | NA | 9.52 | 2.00 | NA | 23.69 | 090
27146 |  | A | Incision of hip bone | 17.33 | NA | 12.38 | 2.72 | NA | 32.43 | 090
27147 |  | A | Revision of hip bone | 20.46 | NA | 13.49 | 3.13 | NA | 37.08 | 090
27151 |  | A | Incision of hip bones | 22.38 | NA | 8.38 | 3.74 | NA | 34.50 | 090
27156 |  | A | Revision of hip bones | 24.49 | NA | 16.27 | 4.17 | NA | 44.93 | 090
27158 |  | A | Revision of pelvis | 19.63 | NA | 11.37 | 3.12 | NA | 34.12 | 090
27161 |  | A | Incision of neck of femur | 16.61 | NA | 12.21 | 2.78 | NA | 31.60 | 090
27165 |  | A | Incision/fixation of femur | 17.81 | NA | 12.99 | 3.01 | NA | 33.81 | 090
27170 |  | A | Repair/graft femur head/neck | 15.98 | NA | 11.42 | 2.64 | NA | 30.04 | 090
27175 |  | A | Treat slipped epiphysis | 8.41 | NA | 6.65 | 1.43 | NA | 16.49 | 090
27176 |  | A | Treat slipped epiphysis | 11.98 | NA | 9.09 | 2.01 | NA | 23.08 | 090
27177 |  | A | Treat slipped epiphysis | 14.99 | NA | 10.95 | 2.53 | NA | 28.47 | 090
27178 |  | A | Treat slipped epiphysis | 11.92 | NA | 8.51 | 2.01 | NA | 22.44 | 090
27179 |  | A | Revise head/neck of femur | 12.91 | NA | 10.02 | 2.21 | NA | 25.14 | 090
27181 |  | A | Treat slipped epiphysis | 14.60 | NA | 10.26 | 2.09 | NA | 26.95 | 090
27185 |  | A | Revision of femur epiphysis | 9.13 | NA | 7.66 | 1.55 | NA | 18.34 | 090
27187 |  | A | Reinforce hip bones | 13.46 | NA | 10.44 | 2.27 | NA | 26.17 | 090
27193 |  | A | Treat pelvic ring fracture | 5.53 | 7.18 | 5.80 | 0.92 | 13.63 | 12.25 | 090
27194 |  | A | Treat pelvic ring fracture | 9.59 | 8.86 | 7.58 | 1.58 | 20.03 | 18.75 | 090
27200 |  | A | Treat tail bone fracture | 1.83 | 3.08 | 2.21 | 0.26 | 5.17 | 4.30 | 090
27202 |  | A | Treat tail bone fracture | 7.00 | NA | 17.89 | 0.83 | NA | 25.72 | 090
27215 |  | A | Treat pelvic fracture(s) | 9.99 | NA | 7.25 | 1.64 | NA | 18.88 | 090
27216 |  | A | Treat pelvic ring fracture | 15.10 | NA | 9.84 | 2.58 | NA | 27.52 | 090
27217 |  | A | Treat pelvic ring fracture | 14.03 | NA | 10.27 | 2.34 | NA | 26.64 | 090
27218 |  | A | Treat pelvic ring fracture | 20.04 | NA | 11.64 | 3.42 | NA | 35.10 | 090
27220 |  | A | Treat hip socket fracture | 6.14 | 7.13 | 5.57 | 1.02 | 14.29 | 12.73 | 090
27222 |  | A | Treat hip socket fracture | 12.63 | NA | 9.98 | 2.12 | NA | 24.73 | 090
27226 |  | A | Treat hip wall fracture | 14.83 | NA | 8.05 | 2.48 | NA | 25.36 | 090
27227 |  | A | Treat hip fracture(s) | 23.32 | NA | 15.52 | 3.88 | NA | 42.72 | 090
27228 |  | A | Treat hip fracture(s) | 27.01 | NA | 17.76 | 4.52 | NA | 49.29 | 090
27230 |  | A | Treat thigh fracture | 5.47 | 6.59 | 5.11 | 0.87 | 12.93 | 11.45 | 090
27232 |  | A | Treat thigh fracture | 10.62 | NA | 7.26 | 1.74 | NA | 19.62 | 090
27235 |  | A | Treat thigh fracture | 12.09 | NA | 9.50 | 2.05 | NA | 23.64 | 090
27236 |  | A | Treat thigh fracture | 15.51 | NA | 11.05 | 2.61 | NA | 29.17 | 090
27238 |  | A | Treat thigh fracture | 5.49 | NA | 5.15 | 0.91 | NA | 11.55 | 090
27240 |  | A | Treat thigh fracture | 12.43 | NA | 9.47 | 2.03 | NA | 23.93 | 090
27244 |  | A | Treat thigh fracture | 15.85 | NA | 11.37 | 2.67 | NA | 29.89 | 090
27245 |  | A | Treat thigh fracture | 20.19 | NA | 13.84 | 3.42 | NA | 37.45 | 090
27246 |  | A | Treat thigh fracture | 4.68 | 5.73 | 4.47 | 0.79 | 11.20 | 9.94 | 090
27248 |  | A | Treat thigh fracture | 10.39 | NA | 8.28 | 1.74 | NA | 20.41 | 090
27250 |  | A | Treat hip dislocation | 6.91 | NA | 4.84 | 0.82 | NA | 12.57 | 090
27252 |  | A | Treat hip dislocation | 10.33 | NA | 7.47 | 1.64 | NA | 19.44 | 090
27253 |  | A | Treat hip dislocation | 12.85 | NA | 9.82 | 2.17 | NA | 24.84 | 090
27254 |  | A | Treat hip dislocation | 18.16 | NA | 12.16 | 3.02 | NA | 33.34 | 090
27256 |  | A | Treat hip dislocation | 4.10 | 3.47 | 2.11 | 0.59 | 8.16 | 6.80 | 010
27257 |  | A | Treat hip dislocation | 5.19 | NA | 2.92 | 0.67 | NA | 8.78 | 010
27258 |  | A | Treat hip dislocation | 15.34 | NA | 11.03 | 2.47 | NA | 28.84 | 090
27259 |  | A | Treat hip dislocation | 21.43 | NA | 14.27 | 3.58 | NA | 39.28 | 090
27265 |  | A | Treat hip dislocation | 5.02 | NA | 4.81 | 0.78 | NA | 10.61 | 090
27266 |  | A | Treat hip dislocation | 7.45 | NA | 6.33 | 1.25 | NA | 15.03 | 090
27275 |  | A | Manipulation of hip joint | 2.26 | NA | 2.15 | 0.37 | NA | 4.78 | 010
27280 |  | A | Fusion of sacroiliac joint | 13.31 | NA | 10.41 | 2.37 | NA | 26.09 | 090
27282 |  | A | Fusion of pubic bones | 11.28 | NA | 8.33 | 1.37 | NA | 20.98 | 090
27284 |  | A | Fusion of hip joint | 23.32 | NA | 14.99 | 2.83 | NA | 41.14 | 090
27286 |  | A | Fusion of hip joint | 23.32 | NA | 15.98 | 2.84 | NA | 42.14 | 090
27290 |  | A | Amputation of leg at hip | 23.15 | NA | 14.32 | 3.52 | NA | 40.99 | 090
27295 |  | A | Amputation of leg at hip | 18.54 | NA | 11.65 | 2.82 | NA | 33.01 | 090
27299 |  | C | Pelvis/hip joint surgery | 0.00 | 0.00 | 0.00 | 0.00 | 0.00 | 0.00 | YYY
27301 |  | A | Drain thigh/knee lesion | 6.45 | 7.42 | 5.91 | 0.96 | 14.83 | 13.32 | 090
27303 |  | A | Drainage of bone lesion | 8.23 | NA | 7.32 | 1.37 | NA | 16.92 | 090
27305 |  | A | Incise thigh tendon & fascia | 5.89 | NA | 5.40 | 0.92 | NA | 12.21 | 090
27306 |  | A | Incision of thigh tendon | 4.59 | NA | 4.85 | 0.74 | NA | 10.18 | 090
27307 |  | A | Incision of thigh tendons | 5.77 | NA | 5.58 | 0.93 | NA | 12.28 | 090
27310 |  | A | Exploration of knee joint | 9.22 | NA | 7.62 | 1.55 | NA | 18.39 | 090
27315 |  | A | Partial removal, thigh nerve | 6.93 | NA | 4.88 | 0.95 | NA | 12.76 | 090
27320 |  | A | Partial removal, thigh nerve | 6.26 | NA | 5.18 | 0.93 | NA | 12.37 | 090
27323 |  | A | Biopsy, thigh soft tissues | 2.27 | 2.22 | 1.94 | 0.20 | 4.69 | 4.41 | 010
27324 |  | A | Biopsy, thigh soft tissues | 4.87 | NA | 4.40 | 0.71 | NA | 9.98 | 090
27327 |  | A | Removal of thigh lesion | 4.44 | 5.40 | 3.95 | 0.60 | 10.44 | 8.99 | 090
27328 |  | A | Removal of thigh lesion | 5.54 | NA | 4.61 | 0.79 | NA | 10.94 | 090
27329 |  | A | Remove tumor, thigh/knee | 14.06 | NA | 9.62 | 2.01 | NA | 25.69 | 090
27330 |  | A | Biopsy, knee joint lining | 4.94 | NA | 4.69 | 0.79 | NA | 10.42 | 090
27331 |  | A | Explore/treat knee joint | 5.85 | NA | 5.57 | 0.97 | NA | 12.39 | 090
27332 |  | A | Removal of knee cartilage | 8.22 | NA | 7.14 | 1.38 | NA | 16.74 | 090
27333 |  | A | Removal of knee cartilage | 7.26 | NA | 6.68 | 1.23 | NA | 15.17 | 090
27334 |  | A | Remove knee joint lining | 8.65 | NA | 7.46 | 1.45 | NA | 17.56 | 090
27335 |  | A | Remove knee joint lining | 9.94 | NA | 8.27 | 1.69 | NA | 19.90 | 090
27340 |  | A | Removal of kneecap bursa | 4.16 | NA | 4.57 | 0.70 | NA | 9.43 | 090
27345 |  | A | Removal of knee cyst | 5.89 | NA | 5.66 | 0.97 | NA | 12.52 | 090
27347 |  | A | Remove knee cyst | 5.75 | NA | 5.48 | 0.91 | NA | 12.14 | 090
27350 |  | A | Removal of kneecap | 8.12 | NA | 7.26 | 1.38 | NA | 16.76 | 090
27355 |  | A | Remove femur lesion | 7.61 | NA | 6.88 | 1.28 | NA | 15.77 | 090
27356 |  | A | Remove femur lesion/graft | 9.43 | NA | 7.97 | 1.55 | NA | 18.95 | 090
27357 |  | A | Remove femur lesion/graft | 10.47 | NA | 8.80 | 1.77 | NA | 21.04 | 090
27358 |  | A | Remove femur lesion/fixation | 4.71 | NA | 2.56 | 0.80 | NA | 8.07 | ZZZ
27360 |  | A | Partial removal, leg bone(s) | 10.44 | NA | 10.04 | 1.70 | NA | 22.18 | 090
27365 |  | A | Extensive leg surgery | 16.18 | NA | 11.80 | 2.71 | NA | 30.69 | 090
27370 |  | A | Injection for knee x-ray | 0.95 | 12.16 | 0.33 | 0.07 | 13.18 | 1.35 | 000
27372 |  | A | Removal of foreign body | 5.04 | 6.08 | 4.73 | 0.74 | 11.86 | 10.51 | 090
27380 |  | A | Repair of kneecap tendon | 7.12 | NA | 7.33 | 1.20 | NA | 15.65 | 090
27381 |  | A | Repair/graft kneecap tendon | 10.28 | NA | 9.14 | 1.73 | NA | 21.15 | 090
27385 |  | A | Repair of thigh muscle | 7.72 | NA | 7.67 | 1.31 | NA | 16.70 | 090
27386 |  | A | Repair/graft of thigh muscle | 10.50 | NA | 9.57 | 1.79 | NA | 21.86 | 090
27390 |  | A | Incision of thigh tendon | 5.30 | NA | 5.31 | 0.83 | NA | 11.44 | 090
27391 |  | A | Incision of thigh tendons | 7.16 | NA | 6.70 | 1.19 | NA | 15.05 | 090
27392 |  | A | Incision of thigh tendons | 9.15 | NA | 7.80 | 1.47 | NA | 18.42 | 090
27393 |  | A | Lengthening of thigh tendon | 6.35 | NA | 5.91 | 1.08 | NA | 13.34 | 090
27394 |  | A | Lengthening of thigh tendons | 8.45 | NA | 7.35 | 1.40 | NA | 17.20 | 090
27395 |  | A | Lengthening of thigh tendons | 11.66 | NA | 9.49 | 1.95 | NA | 23.10 | 090
27396 |  | A | Transplant of thigh tendon | 7.82 | NA | 7.13 | 1.33 | NA | 16.28 | 090
27397 |  | A | Transplants of thigh tendons | 11.22 | NA | 9.14 | 1.89 | NA | 22.25 | 090
27400 |  | A | Revise thigh muscles/tendons | 8.97 | NA | 7.42 | 1.41 | NA | 17.80 | 090
27403 |  | A | Repair of knee cartilage | 8.28 | NA | 7.22 | 1.39 | NA | 16.89 | 090
27405 |  | A | Repair of knee ligament | 8.60 | NA | 7.54 | 1.45 | NA | 17.59 | 090
27407 |  | A | Repair of knee ligament | 10.22 | NA | 8.39 | 1.65 | NA | 20.26 | 090
27409 |  | A | Repair of knee ligaments | 12.83 | NA | 10.01 | 2.10 | NA | 24.94 | 090
27418 |  | A | Repair degenerated kneecap | 10.79 | NA | 8.95 | 1.81 | NA | 21.55 | 090
27420 |  | A | Revision of unstable kneecap | 9.77 | NA | 8.15 | 1.65 | NA | 19.57 | 090
27422 |  | A | Revision of unstable kneecap | 9.72 | NA | 8.16 | 1.64 | NA | 19.52 | 090
27424 |  | A | Revision/removal of kneecap | 9.75 | NA | 8.13 | 1.65 | NA | 19.53 | 090
27425 |  | A | Lat retinacular release open | 5.19 | NA | 5.55 | 0.87 | NA | 11.61 | 090
27427 |  | A | Reconstruction, knee | 9.31 | NA | 7.82 | 1.55 | NA | 18.68 | 090
27428 |  | A | Reconstruction, knee | 13.92 | NA | 11.21 | 2.34 | NA | 27.47 | 090
27429 |  | A | Reconstruction, knee | 15.43 | NA | 12.47 | 2.61 | NA | 30.51 | 090
27430 |  | A | Revision of thigh muscles | 9.61 | NA | 8.05 | 1.62 | NA | 19.28 | 090
27435 |  | A | Incision of knee joint | 9.44 | NA | 8.45 | 1.59 | NA | 19.48 | 090
27437 |  | A | Revise kneecap | 8.41 | NA | 7.19 | 1.41 | NA | 17.01 | 090
27438 |  | A | Revise kneecap with implant | 11.17 | NA | 8.51 | 1.87 | NA | 21.55 | 090
27440 |  | A | Revision of knee joint | 10.37 | NA | 6.08 | 1.70 | NA | 18.15 | 090
27441 |  | A | Revision of knee joint | 10.76 | NA | 6.76 | 1.79 | NA | 19.31 | 090
27442 |  | A | Revision of knee joint | 11.82 | NA | 8.90 | 2.01 | NA | 22.73 | 090
27443 |  | A | Revision of knee joint | 10.87 | NA | 8.67 | 1.82 | NA | 21.36 | 090
27445 |  | A | Revision of knee joint | 17.58 | NA | 12.35 | 2.98 | NA | 32.91 | 090
27446 |  | A | Revision of knee joint | 15.75 | NA | 11.26 | 2.66 | NA | 29.67 | 090
27447 |  | A | Total knee arthroplasty | 21.36 | NA | 14.61 | 3.60 | NA | 39.57 | 090
27448 |  | A | Incision of thigh | 11.00 | NA | 8.74 | 1.81 | NA | 21.55 | 090
27450 |  | A | Incision of thigh | 13.90 | NA | 10.71 | 2.35 | NA | 26.96 | 090
27454 |  | A | Realignment of thigh bone | 17.46 | NA | 12.62 | 2.95 | NA | 33.03 | 090
27455 |  | A | Realignment of knee | 12.75 | NA | 9.96 | 2.13 | NA | 24.84 | 090
27457 |  | A | Realignment of knee | 13.37 | NA | 10.01 | 2.25 | NA | 25.63 | 090
27465 |  | A | Shortening of thigh bone | 13.79 | NA | 10.45 | 2.23 | NA | 26.47 | 090
27466 |  | A | Lengthening of thigh bone | 16.24 | NA | 12.00 | 2.30 | NA | 30.54 | 090
27468 |  | A | Shorten/lengthen thighs | 18.86 | NA | 12.58 | 3.21 | NA | 34.65 | 090
27470 |  | A | Repair of thigh | 15.98 | NA | 11.96 | 2.68 | NA | 30.62 | 090
27472 |  | A | Repair/graft of thigh | 17.62 | NA | 12.86 | 2.98 | NA | 33.46 | 090
27475 |  | A | Surgery to stop leg growth | 8.59 | NA | 7.30 | 1.35 | NA | 17.24 | 090
27477 |  | A | Surgery to stop leg growth | 9.79 | NA | 7.82 | 1.57 | NA | 19.18 | 090
27479 |  | A | Surgery to stop leg growth | 12.73 | NA | 9.96 | 2.17 | NA | 24.86 | 090
27485 |  | A | Surgery to stop leg growth | 8.79 | NA | 7.46 | 1.49 | NA | 17.74 | 090
27486 |  | A | Revise/replace knee joint | 19.16 | NA | 13.48 | 3.24 | NA | 35.88 | 090
27487 |  | A | Revise/replace knee joint | 25.13 | NA | 16.59 | 4.24 | NA | 45.96 | 090
27488 |  | A | Removal of knee prosthesis | 15.65 | NA | 11.66 | 2.65 | NA | 29.96 | 090
27495 |  | A | Reinforce thigh | 15.46 | NA | 11.59 | 2.61 | NA | 29.66 | 090
27496 |  | A | Decompression of thigh/knee | 6.08 | NA | 5.77 | 0.92 | NA | 12.77 | 090
27497 |  | A | Decompression of thigh/knee | 7.13 | NA | 5.71 | 1.01 | NA | 13.85 | 090
27498 |  | A | Decompression of thigh/knee | 7.94 | NA | 6.13 | 1.16 | NA | 15.23 | 090
27499 |  | A | Decompression of thigh/knee | 8.95 | NA | 7.06 | 1.41 | NA | 17.42 | 090
27500 |  | A | Treatment of thigh fracture | 5.89 | 7.09 | 5.05 | 0.96 | 13.94 | 11.90 | 090
27501 |  | A | Treatment of thigh fracture | 5.89 | 7.65 | 5.73 | 0.99 | 14.53 | 12.61 | 090
27502 |  | A | Treatment of thigh fracture | 10.52 | NA | 8.20 | 1.79 | NA | 20.51 | 090
27503 |  | A | Treatment of thigh fracture | 10.52 | NA | 8.35 | 1.79 | NA | 20.66 | 090
27506 |  | A | Treatment of thigh fracture | 17.35 | NA | 12.84 | 2.79 | NA | 32.98 | 090
27507 |  | A | Treatment of thigh fracture | 13.91 | NA | 9.98 | 2.34 | NA | 26.23 | 090
27508 |  | A | Treatment of thigh fracture | 5.80 | 7.05 | 5.38 | 0.96 | 13.81 | 12.14 | 090
27509 |  | A | Treatment of thigh fracture | 7.67 | NA | 7.99 | 1.29 | NA | 16.95 | 090
27510 |  | A | Treatment of thigh fracture | 9.08 | NA | 7.25 | 1.51 | NA | 17.84 | 090
27511 |  | A | Treatment of thigh fracture | 13.56 | NA | 11.31 | 2.29 | NA | 27.16 | 090
27513 |  | A | Treatment of thigh fracture | 17.82 | NA | 13.97 | 3.01 | NA | 34.80 | 090
27514 |  | A | Treatment of thigh fracture | 17.20 | NA | 13.44 | 2.89 | NA | 33.53 | 090
27516 |  | A | Treat thigh fx growth plate | 5.34 | 7.35 | 5.44 | 0.89 | 13.58 | 11.67 | 090
27517 |  | A | Treat thigh fx growth plate | 8.73 | 8.99 | 7.42 | 1.46 | 19.18 | 17.61 | 090
27519 |  | A | Treat thigh fx growth plate | 14.93 | NA | 11.75 | 2.51 | NA | 29.19 | 090
27520 |  | A | Treat kneecap fracture | 2.84 | 5.29 | 3.46 | 0.46 | 8.59 | 6.76 | 090
27524 |  | A | Treat kneecap fracture | 9.94 | NA | 8.23 | 1.68 | NA | 19.85 | 090
27530 |  | A | Treat knee fracture | 3.76 | 5.95 | 4.32 | 0.61 | 10.32 | 8.69 | 090
27532 |  | A | Treat knee fracture | 7.26 | 7.90 | 6.32 | 1.22 | 16.38 | 14.80 | 090
27535 |  | A | Treat knee fracture | 11.43 | NA | 10.20 | 1.93 | NA | 23.56 | 090
27536 |  | A | Treat knee fracture | 15.56 | NA | 11.60 | 2.62 | NA | 29.78 | 090
27538 |  | A | Treat knee fracture(s) | 4.84 | 7.14 | 5.14 | 0.80 | 12.78 | 10.78 | 090
27540 |  | A | Treat knee fracture | 13.03 | NA | 9.57 | 2.16 | NA | 24.76 | 090
27550 |  | A | Treat knee dislocation | 5.73 | 6.66 | 4.99 | 0.82 | 13.21 | 11.54 | 090
27552 |  | A | Treat knee dislocation | 7.85 | NA | 6.94 | 1.32 | NA | 16.11 | 090
27556 |  | A | Treat knee dislocation | 14.33 | NA | 11.78 | 2.41 | NA | 28.52 | 090
27557 |  | A | Treat knee dislocation | 16.67 | NA | 13.26 | 2.84 | NA | 32.77 | 090
27558 |  | A | Treat knee dislocation | 17.62 | NA | 13.22 | 3.01 | NA | 33.85 | 090
27560 |  | A | Treat kneecap dislocation | 3.80 | 5.65 | 3.35 | 0.48 | 9.93 | 7.63 | 090
27562 |  | A | Treat kneecap dislocation | 5.76 | NA | 4.85 | 0.83 | NA | 11.44 | 090
27566 |  | A | Treat kneecap dislocation | 12.16 | NA | 9.35 | 2.07 | NA | 23.58 | 090
27570 |  | A | Fixation of knee joint | 1.73 | NA | 1.83 | 0.29 | NA | 3.85 | 010
27580 |  | A | Fusion of knee | 19.26 | NA | 14.91 | 3.24 | NA | 37.41 | 090
27590 |  | A | Amputate leg at thigh | 11.96 | NA | 7.14 | 1.62 | NA | 20.72 | 090
27591 |  | A | Amputate leg at thigh | 12.61 | NA | 8.95 | 1.95 | NA | 23.51 | 090
27592 |  | A | Amputate leg at thigh | 9.96 | NA | 6.64 | 1.40 | NA | 18.00 | 090
27594 |  | A | Amputation follow-up surgery | 6.88 | NA | 5.48 | 0.98 | NA | 13.34 | 090
27596 |  | A | Amputation follow-up surgery | 10.54 | NA | 7.28 | 1.49 | NA | 19.31 | 090
27598 |  | A | Amputate lower leg at knee | 10.47 | NA | 7.38 | 1.49 | NA | 19.34 | 090
27599 |  | C | Leg surgery procedure | 0.00 | 0.00 | 0.00 | 0.00 | 0.00 | 0.00 | YYY
27600 |  | A | Decompression of lower leg | 5.62 | NA | 4.72 | 0.82 | NA | 11.16 | 090
27601 |  | A | Decompression of lower leg | 5.61 | NA | 5.05 | 0.83 | NA | 11.49 | 090
27602 |  | A | Decompression of lower leg | 7.31 | NA | 5.34 | 1.02 | NA | 13.67 | 090
27603 |  | A | Drain lower leg lesion | 4.91 | 10.78 | 4.88 | 0.67 | 16.36 | 10.46 | 090
27604 |  | A | Drain lower leg bursa | 4.44 | 8.71 | 4.57 | 0.65 | 13.80 | 9.66 | 090
27605 |  | A | Incision of achilles tendon | 2.85 | 8.89 | 2.36 | 0.46 | 12.20 | 5.67 | 010
27606 |  | A | Incision of achilles tendon | 4.12 | 10.17 | 3.44 | 0.68 | 14.97 | 8.24 | 010
27607 |  | A | Treat lower leg bone lesion | 7.92 | NA | 6.65 | 1.29 | NA | 15.86 | 090
27610 |  | A | Explore/treat ankle joint | 8.29 | NA | 7.13 | 1.38 | NA | 16.80 | 090
27612 |  | A | Exploration of ankle joint | 7.29 | NA | 6.18 | 1.21 | NA | 14.68 | 090
27613 |  | A | Biopsy lower leg soft tissue | 2.16 | 3.81 | 1.78 | 0.19 | 6.16 | 4.13 | 010
27614 |  | A | Biopsy lower leg soft tissue | 5.63 | 8.89 | 4.67 | 0.74 | 15.26 | 11.04 | 090
27615 |  | A | Remove tumor, lower leg | 12.49 | NA | 10.68 | 1.67 | NA | 24.84 | 090
27618 |  | A | Remove lower leg lesion | 5.06 | 9.20 | 4.26 | 0.65 | 14.91 | 9.97 | 090
27619 |  | A | Remove lower leg lesion | 8.35 | 10.73 | 6.23 | 1.21 | 20.29 | 15.79 | 090
27620 |  | A | Explore/treat ankle joint | 5.95 | NA | 5.55 | 0.99 | NA | 12.49 | 090
27625 |  | A | Remove ankle joint lining | 8.25 | NA | 6.61 | 1.39 | NA | 16.25 | 090
27626 |  | A | Remove ankle joint lining | 8.86 | NA | 7.08 | 1.47 | NA | 17.41 | 090
27630 |  | A | Removal of tendon lesion | 4.77 | 9.12 | 4.51 | 0.72 | 14.61 | 10.00 | 090
27635 |  | A | Remove lower leg bone lesion | 7.74 | NA | 6.92 | 1.27 | NA | 15.93 | 090
27637 |  | A | Remove/graft leg bone lesion | 9.79 | NA | 8.43 | 1.65 | NA | 19.87 | 090
27638 |  | A | Remove/graft leg bone lesion | 10.51 | NA | 8.48 | 1.76 | NA | 20.75 | 090
27640 |  | A | Partial removal of tibia | 11.31 | NA | 10.93 | 1.85 | NA | 24.09 | 090
27641 |  | A | Partial removal of fibula | 9.19 | NA | 8.92 | 1.46 | NA | 19.57 | 090
27645 |  | A | Extensive lower leg surgery | 14.09 | NA | 12.47 | 2.37 | NA | 28.93 | 090
27646 |  | A | Extensive lower leg surgery | 12.59 | NA | 11.45 | 1.86 | NA | 25.90 | 090
27647 |  | A | Extensive ankle/heel surgery | 12.17 | NA | 7.91 | 1.97 | NA | 22.05 | 090
27648 |  | A | Injection for ankle x-ray | 0.95 | 9.54 | 0.33 | 0.06 | 10.55 | 1.34 | 000
27650 |  | A | Repair achilles tendon | 9.63 | NA | 7.59 | 1.62 | NA | 18.84 | 090
27652 |  | A | Repair/graft achilles tendon | 10.27 | NA | 8.10 | 1.74 | NA | 20.11 | 090
27654 |  | A | Repair of achilles tendon | 9.96 | NA | 7.30 | 1.69 | NA | 18.95 | 090
27656 |  | A | Repair leg fascia defect | 4.54 | 10.07 | 4.04 | 0.58 | 15.19 | 9.16 | 090
27658 |  | A | Repair of leg tendon, each | 4.95 | 9.29 | 4.82 | 0.82 | 15.06 | 10.59 | 090
27659 |  | A | Repair of leg tendon, each | 6.77 | 11.42 | 5.85 | 1.15 | 19.34 | 13.77 | 090
27664 |  | A | Repair of leg tendon, each | 4.56 | 11.39 | 4.79 | 0.76 | 16.71 | 10.11 | 090
27665 |  | A | Repair of leg tendon, each | 5.37 | 11.17 | 5.24 | 0.90 | 17.44 | 11.51 | 090
27675 |  | A | Repair lower leg tendons | 7.14 | NA | 5.85 | 1.21 | NA | 14.20 | 090
27676 |  | A | Repair lower leg tendons | 8.37 | NA | 6.85 | 1.38 | NA | 16.60 | 090
27680 |  | A | Release of lower leg tendon | 5.71 | NA | 5.25 | 0.96 | NA | 11.92 | 090
27681 |  | A | Release of lower leg tendons | 6.78 | NA | 6.02 | 1.10 | NA | 13.90 | 090
27685 |  | A | Revision of lower leg tendon | 6.46 | 8.21 | 5.57 | 1.09 | 15.76 | 13.12 | 090
27686 |  | A | Revise lower leg tendons | 7.42 | 12.67 | 6.66 | 1.26 | 21.35 | 15.34 | 090
27687 |  | A | Revision of calf tendon | 6.20 | NA | 5.48 | 1.05 | NA | 12.73 | 090
27690 |  | A | Revise lower leg tendon | 8.66 | NA | 6.52 | 1.46 | NA | 16.64 | 090
27691 |  | A | Revise lower leg tendon | 9.90 | NA | 7.90 | 1.68 | NA | 19.48 | 090
27692 |  | A | Revise additional leg tendon | 1.86 | NA | 0.94 | 0.31 | NA | 3.11 | ZZZ
27695 |  | A | Repair of ankle ligament | 6.47 | NA | 5.98 | 1.08 | NA | 13.53 | 090
27696 |  | A | Repair of ankle ligaments | 8.22 | NA | 6.57 | 1.39 | NA | 16.18 | 090
27698 |  | A | Repair of ankle ligament | 9.31 | NA | 7.06 | 1.57 | NA | 17.94 | 090
27700 |  | A | Revision of ankle joint | 9.24 | NA | 5.69 | 1.49 | NA | 16.42 | 090
27702 |  | A | Reconstruct ankle joint | 13.59 | NA | 10.43 | 2.30 | NA | 26.32 | 090
27703 |  | A | Reconstruction, ankle joint | 15.78 | NA | 11.20 | 2.68 | NA | 29.66 | 090
27704 |  | A | Removal of ankle implant | 7.58 | NA | 5.61 | 0.73 | NA | 13.92 | 090
27705 |  | A | Incision of tibia | 10.32 | NA | 8.33 | 1.73 | NA | 20.38 | 090
27707 |  | A | Incision of fibula | 4.35 | NA | 5.07 | 0.72 | NA | 10.14 | 090
27709 |  | A | Incision of tibia & fibula | 9.89 | NA | 8.25 | 1.67 | NA | 19.81 | 090
27712 |  | A | Realignment of lower leg | 14.17 | NA | 10.84 | 2.40 | NA | 27.41 | 090
27715 |  | A | Revision of lower leg | 14.31 | NA | 10.95 | 2.40 | NA | 27.66 | 090
27720 |  | A | Repair of tibia | 11.72 | NA | 9.56 | 1.99 | NA | 23.27 | 090
27722 |  | A | Repair/graft of tibia | 11.75 | NA | 9.32 | 1.98 | NA | 23.05 | 090
27724 |  | A | Repair/graft of tibia | 18.10 | NA | 12.58 | 2.52 | NA | 33.20 | 090
27725 |  | A | Repair of lower leg | 15.50 | NA | 12.01 | 2.64 | NA | 30.15 | 090
27727 |  | A | Repair of lower leg | 13.93 | NA | 10.52 | 2.21 | NA | 26.66 | 090
27730 |  | A | Repair of tibia epiphysis | 7.37 | 17.94 | 6.52 | 0.90 | 26.21 | 14.79 | 090
27732 |  | A | Repair of fibula epiphysis | 5.29 | 11.72 | 5.06 | 0.76 | 17.77 | 11.11 | 090
27734 |  | A | Repair lower leg epiphyses | 8.43 | NA | 6.49 | 1.02 | NA | 15.94 | 090
27740 |  | A | Repair of leg epiphyses | 9.25 | 20.84 | 8.01 | 1.57 | 31.66 | 18.83 | 090
27742 |  | A | Repair of leg epiphyses | 10.24 | 12.64 | 7.34 | 1.86 | 24.74 | 19.44 | 090
27745 |  | A | Reinforce tibia | 10.01 | NA | 8.30 | 1.65 | NA | 19.96 | 090
27750 |  | A | Treatment of tibia fracture | 3.17 | 5.43 | 3.81 | 0.52 | 9.12 | 7.50 | 090
27752 |  | A | Treatment of tibia fracture | 5.81 | 7.46 | 5.55 | 0.98 | 14.25 | 12.34 | 090
27756 |  | A | Treatment of tibia fracture | 6.74 | NA | 6.60 | 1.13 | NA | 14.47 | 090
27758 |  | A | Treatment of tibia fracture | 11.60 | NA | 9.29 | 1.82 | NA | 22.71 | 090
27759 |  | A | Treatment of tibia fracture | 13.68 | NA | 10.43 | 2.31 | NA | 26.42 | 090
27760 |  | A | Treatment of ankle fracture | 2.99 | 5.31 | 3.59 | 0.47 | 8.77 | 7.05 | 090
27762 |  | A | Treatment of ankle fracture | 5.22 | 7.20 | 5.22 | 0.85 | 13.27 | 11.29 | 090
27766 |  | A | Treatment of ankle fracture | 8.31 | NA | 7.24 | 1.40 | NA | 16.95 | 090
27780 |  | A | Treatment of fibula fracture | 2.63 | 4.98 | 3.25 | 0.40 | 8.01 | 6.28 | 090
27781 |  | A | Treatment of fibula fracture | 4.37 | 6.42 | 4.54 | 0.68 | 11.47 | 9.59 | 090
27784 |  | A | Treatment of fibula fracture | 7.07 | NA | 6.53 | 1.17 | NA | 14.77 | 090
27786 |  | A | Treatment of ankle fracture | 2.82 | 5.15 | 3.37 | 0.44 | 8.41 | 6.63 | 090
27788 |  | A | Treatment of ankle fracture | 4.42 | 6.54 | 4.54 | 0.73 | 11.69 | 9.69 | 090
27792 |  | A | Treatment of ankle fracture | 7.62 | NA | 6.98 | 1.28 | NA | 15.88 | 090
27808 |  | A | Treatment of ankle fracture | 2.81 | 5.76 | 3.65 | 0.46 | 9.03 | 6.92 | 090
27810 |  | A | Treatment of ankle fracture | 5.10 | 7.03 | 5.05 | 0.85 | 12.98 | 11.00 | 090
27814 |  | A | Treatment of ankle fracture | 10.62 | NA | 8.63 | 1.80 | NA | 21.05 | 090
27816 |  | A | Treatment of ankle fracture | 2.87 | 5.05 | 3.45 | 0.44 | 8.36 | 6.76 | 090
27818 |  | A | Treatment of ankle fracture | 5.47 | 7.14 | 5.10 | 0.89 | 13.50 | 11.46 | 090
27822 |  | A | Treatment of ankle fracture | 10.94 | NA | 10.75 | 1.55 | NA | 23.24 | 090
27823 |  | A | Treatment of ankle fracture | 12.93 | NA | 11.61 | 1.98 | NA | 26.52 | 090
27824 |  | A | Treat lower leg fracture | 2.87 | 5.63 | 3.78 | 0.47 | 8.97 | 7.12 | 090
27825 |  | A | Treat lower leg fracture | 6.15 | 8.28 | 5.92 | 1.02 | 15.45 | 13.09 | 090
27826 |  | A | Treat lower leg fracture | 8.49 | NA | 8.96 | 1.43 | NA | 18.88 | 090
27827 |  | A | Treat lower leg fracture | 13.98 | NA | 12.85 | 2.35 | NA | 29.18 | 090
27828 |  | A | Treat lower leg fracture | 16.14 | NA | 14.00 | 2.72 | NA | 32.86 | 090
27829 |  | A | Treat lower leg joint | 5.46 | NA | 6.85 | 0.92 | NA | 13.23 | 090
27830 |  | A | Treat lower leg dislocation | 3.77 | 5.19 | 3.88 | 0.53 | 9.49 | 8.18 | 090
27831 |  | A | Treat lower leg dislocation | 4.53 | NA | 4.50 | 0.73 | NA | 9.76 | 090
27832 |  | A | Treat lower leg dislocation | 6.45 | NA | 6.22 | 1.09 | NA | 13.76 | 090
27840 |  | A | Treat ankle dislocation | 4.55 | NA | 3.95 | 0.56 | NA | 9.06 | 090
27842 |  | A | Treat ankle dislocation | 6.17 | NA | 5.15 | 0.91 | NA | 12.23 | 090
27846 |  | A | Treat ankle dislocation | 9.73 | NA | 8.01 | 1.63 | NA | 19.37 | 090
27848 |  | A | Treat ankle dislocation | 11.14 | NA | 9.81 | 1.86 | NA | 22.81 | 090
27860 |  | A | Fixation of ankle joint | 2.33 | NA | 2.03 | 0.37 | NA | 4.73 | 010
27870 |  | A | Fusion of ankle joint, open | 13.83 | NA | 10.61 | 2.34 | NA | 26.78 | 090
27871 |  | A | Fusion of tibiofibular joint | 9.12 | NA | 7.70 | 1.55 | NA | 18.37 | 090
27880 |  | A | Amputation of lower leg | 11.78 | NA | 7.51 | 1.65 | NA | 20.94 | 090
27881 |  | A | Amputation of lower leg | 12.27 | NA | 9.09 | 1.91 | NA | 23.27 | 090
27882 |  | A | Amputation of lower leg | 8.89 | NA | 7.00 | 1.23 | NA | 17.12 | 090
27884 |  | A | Amputation follow-up surgery | 8.16 | NA | 6.13 | 1.14 | NA | 15.43 | 090
27886 |  | A | Amputation follow-up surgery | 9.27 | NA | 6.88 | 1.35 | NA | 17.50 | 090
27888 |  | A | Amputation of foot at ankle | 9.61 | NA | 7.67 | 1.51 | NA | 18.79 | 090
27889 |  | A | Amputation of foot at ankle | 9.92 | NA | 6.79 | 1.43 | NA | 18.14 | 090
27892 |  | A | Decompression of leg | 7.35 | NA | 5.89 | 1.03 | NA | 14.27 | 090
27893 |  | A | Decompression of leg | 7.31 | NA | 5.80 | 1.08 | NA | 14.19 | 090
27894 |  | A | Decompression of leg | 10.43 | NA | 7.99 | 1.50 | NA | 19.92 | 090
27899 |  | C | Leg/ankle surgery procedure | 0.00 | 0.00 | 0.00 | 0.00 | 0.00 | 0.00 | YYY
28001 |  | A | Drainage of bursa of foot | 2.71 | 5.88 | 3.54 | 0.37 | 8.96 | 6.62 | 010
28002 |  | A | Treatment of foot infection | 4.59 | 7.30 | 4.68 | 0.67 | 12.56 | 9.94 | 010
28003 |  | A | Treatment of foot infection | 8.36 | 7.75 | 6.10 | 1.23 | 17.34 | 15.69 | 090
28005 |  | A | Treat foot bone lesion | 8.63 | NA | 6.43 | 1.37 | NA | 16.43 | 090
28008 |  | A | Incision of foot fascia | 4.42 | 5.75 | 3.59 | 0.67 | 10.84 | 8.68 | 090
28010 |  | A | Incision of toe tendon | 2.82 | 5.59 | 2.94 | 0.47 | 8.88 | 6.23 | 090
28011 |  | A | Incision of toe tendons | 4.12 | 7.50 | 4.29 | 0.70 | 12.32 | 9.11 | 090
28020 |  | A | Exploration of foot joint | 4.98 | 7.14 | 4.25 | 0.77 | 12.89 | 10.00 | 090
28022 |  | A | Exploration of foot joint | 4.64 | 6.16 | 3.97 | 0.74 | 11.54 | 9.35 | 090
28024 |  | A | Exploration of toe joint | 4.36 | 6.26 | 4.03 | 0.60 | 11.22 | 8.99 | 090
28030 |  | A | Removal of foot nerve | 6.11 | NA | 3.62 | 1.02 | NA | 10.75 | 090
28035 |  | A | Decompression of tibia nerve | 5.06 | 5.59 | 4.07 | 0.85 | 11.50 | 9.98 | 090
28043 |  | A | Excision of foot lesion | 3.52 | 5.85 | 3.31 | 0.54 | 9.91 | 7.37 | 090
28045 |  | A | Excision of foot lesion | 4.69 | 6.19 | 3.75 | 0.74 | 11.62 | 9.18 | 090
28046 |  | A | Resection of tumor, foot | 10.12 | 9.53 | 7.42 | 1.35 | 21.00 | 18.89 | 090
28050 |  | A | Biopsy of foot joint lining | 4.23 | 5.84 | 3.70 | 0.66 | 10.73 | 8.59 | 090
28052 |  | A | Biopsy of foot joint lining | 3.92 | 6.05 | 3.60 | 0.61 | 10.58 | 8.13 | 090
28054 |  | A | Biopsy of toe joint lining | 3.43 | 5.88 | 3.40 | 0.54 | 9.85 | 7.37 | 090
28060 |  | A | Partial removal, foot fascia | 5.20 | 6.46 | 4.07 | 0.83 | 12.49 | 10.10 | 090
28062 |  | A | Removal of foot fascia | 6.48 | 7.21 | 4.24 | 1.02 | 14.71 | 11.74 | 090
28070 |  | A | Removal of foot joint lining | 5.07 | 6.02 | 3.93 | 0.82 | 11.91 | 9.82 | 090
28072 |  | A | Removal of foot joint lining | 4.55 | 6.50 | 4.37 | 0.77 | 11.82 | 9.69 | 090
28080 |  | A | Removal of foot lesion | 3.56 | 5.99 | 3.74 | 0.60 | 10.15 | 7.90 | 090
28086 |  | A | Excise foot tendon sheath | 4.75 | 9.60 | 4.74 | 0.79 | 15.14 | 10.28 | 090
28088 |  | A | Excise foot tendon sheath | 3.84 | 7.13 | 4.04 | 0.62 | 11.59 | 8.50 | 090
28090 |  | A | Removal of foot lesion | 4.38 | 6.09 | 3.59 | 0.68 | 11.15 | 8.65 | 090
28092 |  | A | Removal of toe lesions | 3.62 | 6.40 | 3.65 | 0.55 | 10.57 | 7.82 | 090
28100 |  | A | Removal of ankle/heel lesion | 5.63 | 9.33 | 4.86 | 0.91 | 15.87 | 11.40 | 090
28102 |  | A | Remove/graft foot lesion | 7.69 | NA | 6.09 | 1.16 | NA | 14.94 | 090
28103 |  | A | Remove/graft foot lesion | 6.46 | 8.50 | 4.81 | 1.07 | 16.03 | 12.34 | 090
28104 |  | A | Removal of foot lesion | 5.09 | 6.41 | 4.09 | 0.83 | 12.33 | 10.01 | 090
28106 |  | A | Remove/graft foot lesion | 7.12 | NA | 4.64 | 1.21 | NA | 12.97 | 090
28107 |  | A | Remove/graft foot lesion | 5.53 | 7.33 | 4.37 | 0.89 | 13.75 | 10.79 | 090
28108 |  | A | Removal of toe lesions | 4.14 | 5.50 | 3.38 | 0.62 | 10.26 | 8.14 | 090
28110 |  | A | Part removal of metatarsal | 4.06 | 6.09 | 3.72 | 0.59 | 10.74 | 8.37 | 090
28111 |  | A | Part removal of metatarsal | 4.98 | 7.28 | 4.23 | 0.76 | 13.02 | 9.97 | 090
28112 |  | A | Part removal of metatarsal | 4.46 | 6.77 | 4.10 | 0.72 | 11.95 | 9.28 | 090
28113 |  | A | Part removal of metatarsal | 4.76 | 6.89 | 4.71 | 0.76 | 12.41 | 10.23 | 090
28114 |  | A | Removal of metatarsal heads | 9.73 | 12.06 | 8.60 | 1.63 | 23.42 | 19.96 | 090
28116 |  | A | Revision of foot | 7.71 | 7.28 | 5.28 | 1.23 | 16.22 | 14.22 | 090
28118 |  | A | Removal of heel bone | 5.93 | 7.20 | 4.57 | 0.95 | 14.08 | 11.45 | 090
28119 |  | A | Removal of heel spur | 5.36 | 6.27 | 3.91 | 0.89 | 12.52 | 10.16 | 090
28120 |  | A | Part removal of ankle/heel | 5.37 | 8.79 | 5.12 | 0.83 | 14.99 | 11.32 | 090
28122 |  | A | Partial removal of foot bone | 7.25 | 7.98 | 5.75 | 1.15 | 16.38 | 14.15 | 090
28124 |  | A | Partial removal of toe | 4.78 | 6.14 | 4.10 | 0.78 | 11.70 | 9.66 | 090
28126 |  | A | Partial removal of toe | 3.50 | 5.39 | 3.55 | 0.59 | 9.48 | 7.64 | 090
28130 |  | A | Removal of ankle bone | 8.06 | NA | 6.78 | 1.33 | NA | 16.17 | 090
28140 |  | A | Removal of metatarsal | 6.87 | 8.35 | 5.05 | 1.01 | 16.23 | 12.93 | 090
28150 |  | A | Removal of toe | 4.07 | 6.04 | 3.82 | 0.62 | 10.73 | 8.51 | 090
28153 |  | A | Partial removal of toe | 3.64 | 5.46 | 3.11 | 0.59 | 9.69 | 7.34 | 090
28160 |  | A | Partial removal of toe | 3.72 | 5.75 | 3.87 | 0.61 | 10.08 | 8.20 | 090
28171 |  | A | Extensive foot surgery | 9.55 | NA | 5.76 | 1.35 | NA | 16.66 | 090
28173 |  | A | Extensive foot surgery | 8.75 | 8.35 | 5.70 | 1.25 | 18.35 | 15.70 | 090
28175 |  | A | Extensive foot surgery | 6.02 | 6.75 | 4.13 | 0.90 | 13.67 | 11.05 | 090
28190 |  | A | Removal of foot foreign body | 1.95 | 6.60 | 3.55 | 0.19 | 8.74 | 5.69 | 010
28192 |  | A | Removal of foot foreign body | 4.61 | 6.51 | 3.76 | 0.62 | 11.74 | 8.99 | 090
28193 |  | A | Removal of foot foreign body | 5.70 | 6.42 | 4.16 | 0.76 | 12.88 | 10.62 | 090
28200 |  | A | Repair of foot tendon | 4.57 | 6.00 | 3.75 | 0.71 | 11.28 | 9.03 | 090
28202 |  | A | Repair/graft of foot tendon | 6.80 | 8.17 | 4.67 | 1.03 | 16.00 | 12.50 | 090
28208 |  | A | Repair of foot tendon | 4.35 | 5.79 | 3.50 | 0.71 | 10.85 | 8.56 | 090
28210 |  | A | Repair/graft of foot tendon | 6.31 | 7.20 | 4.25 | 0.92 | 14.43 | 11.48 | 090
28220 |  | A | Release of foot tendon | 4.50 | 5.62 | 3.60 | 0.76 | 10.88 | 8.86 | 090
28222 |  | A | Release of foot tendons | 5.59 | 6.01 | 4.28 | 0.92 | 12.52 | 10.79 | 090
28225 |  | A | Release of foot tendon | 3.64 | 5.32 | 3.11 | 0.60 | 9.56 | 7.35 | 090
28226 |  | A | Release of foot tendons | 4.50 | 5.67 | 3.89 | 0.74 | 10.91 | 9.13 | 090
28230 |  | A | Incision of foot tendon(s) | 4.22 | 5.69 | 3.84 | 0.71 | 10.62 | 8.77 | 090
28232 |  | A | Incision of toe tendon | 3.37 | 5.73 | 3.48 | 0.58 | 9.68 | 7.43 | 090
28234 |  | A | Incision of foot tendon | 3.35 | 5.89 | 3.51 | 0.55 | 9.79 | 7.41 | 090
28238 |  | A | Revision of foot tendon | 7.69 | 8.06 | 5.12 | 1.29 | 17.04 | 14.10 | 090
28240 |  | A | Release of big toe | 4.34 | 5.65 | 3.67 | 0.73 | 10.72 | 8.74 | 090
28250 |  | A | Revision of foot fascia | 5.89 | 6.60 | 4.31 | 0.97 | 13.46 | 11.17 | 090
28260 |  | A | Release of midfoot joint | 7.91 | 7.15 | 5.19 | 1.29 | 16.35 | 14.39 | 090
28261 |  | A | Revision of foot tendon | 11.66 | 9.00 | 7.41 | 1.99 | 22.65 | 21.06 | 090
28262 |  | A | Revision of foot and ankle | 15.74 | 14.48 | 11.56 | 2.66 | 32.88 | 29.96 | 090
28264 |  | A | Release of midfoot joint | 10.29 | 8.59 | 7.90 | 1.75 | 20.63 | 19.94 | 090
28270 |  | A | Release of foot contracture | 4.73 | 5.96 | 4.24 | 0.80 | 11.49 | 9.77 | 090
28272 |  | A | Release of toe joint, each | 3.78 | 5.20 | 3.07 | 0.62 | 9.60 | 7.47 | 090
28280 |  | A | Fusion of toes | 5.16 | 7.33 | 4.56 | 0.86 | 13.35 | 10.58 | 090
28285 |  | A | Repair of hammertoe | 4.56 | 6.02 | 3.88 | 0.77 | 11.35 | 9.21 | 090
28286 |  | A | Repair of hammertoe | 4.53 | 5.80 | 3.71 | 0.77 | 11.10 | 9.01 | 090
28288 |  | A | Partial removal of foot bone | 4.71 | 6.76 | 5.36 | 0.78 | 12.25 | 10.85 | 090
28289 |  | A | Repair hallux rigidus | 7.00 | 9.07 | 6.27 | 1.15 | 17.22 | 14.42 | 090
28290 |  | A | Correction of bunion | 5.63 | 7.09 | 5.34 | 0.95 | 13.67 | 11.92 | 090
28292 |  | A | Correction of bunion | 7.00 | 7.88 | 5.81 | 1.17 | 16.05 | 13.98 | 090
28293 |  | A | Correction of bunion | 9.10 | 10.95 | 6.07 | 1.53 | 21.58 | 16.70 | 090
28294 |  | A | Correction of bunion | 8.51 | 7.72 | 5.14 | 1.39 | 17.62 | 15.04 | 090
28296 |  | A | Correction of bunion | 9.13 | 8.23 | 5.86 | 1.53 | 18.89 | 16.52 | 090
28297 |  | A | Correction of bunion | 9.13 | 9.21 | 6.83 | 1.57 | 19.91 | 17.53 | 090
28298 |  | A | Correction of bunion | 7.89 | 7.38 | 5.46 | 1.34 | 16.61 | 14.69 | 090
28299 |  | A | Correction of bunion | 10.52 | 8.80 | 6.48 | 1.49 | 20.81 | 18.49 | 090
28300 |  | A | Incision of heel bone | 9.49 | 13.25 | 7.14 | 1.57 | 24.31 | 18.20 | 090
28302 |  | A | Incision of ankle bone | 9.50 | 13.25 | 7.03 | 1.38 | 24.13 | 17.91 | 090
28304 |  | A | Incision of midfoot bones | 9.11 | 8.25 | 5.86 | 1.20 | 18.56 | 16.17 | 090
28305 |  | A | Incise/graft midfoot bones | 10.44 | 11.00 | 6.88 | 0.66 | 22.10 | 17.98 | 090
28306 |  | A | Incision of metatarsal | 5.83 | 7.27 | 4.30 | 0.97 | 14.07 | 11.10 | 090
28307 |  | A | Incision of metatarsal | 6.29 | 11.70 | 5.39 | 0.85 | 18.84 | 12.53 | 090
28308 |  | A | Incision of metatarsal | 5.26 | 6.13 | 3.80 | 0.89 | 12.28 | 9.95 | 090
28309 |  | A | Incision of metatarsals | 12.71 | NA | 8.14 | 1.97 | NA | 22.82 | 090
28310 |  | A | Revision of big toe | 5.40 | 6.30 | 4.00 | 0.91 | 12.61 | 10.31 | 090
28312 |  | A | Revision of toe | 4.52 | 6.03 | 4.15 | 0.74 | 11.29 | 9.41 | 090
28313 |  | A | Repair deformity of toe | 4.98 | 6.50 | 5.51 | 0.82 | 12.30 | 11.31 | 090
28315 |  | A | Removal of sesamoid bone | 4.83 | 5.88 | 3.70 | 0.79 | 11.50 | 9.32 | 090
28320 |  | A | Repair of foot bones | 9.13 | NA | 6.83 | 1.52 | NA | 17.48 | 090
28322 |  | A | Repair of metatarsals | 8.29 | 10.24 | 6.39 | 1.40 | 19.93 | 16.08 | 090
28340 |  | A | Resect enlarged toe tissue | 6.94 | 7.12 | 4.47 | 1.17 | 15.23 | 12.58 | 090
28341 |  | A | Resect enlarged toe | 8.36 | 7.30 | 5.00 | 1.41 | 17.07 | 14.77 | 090
28344 |  | A | Repair extra toe(s) | 4.24 | 6.85 | 3.73 | 0.72 | 11.81 | 8.69 | 090
28345 |  | A | Repair webbed toe(s) | 5.89 | 7.07 | 4.83 | 1.01 | 13.97 | 11.73 | 090
28360 |  | A | Reconstruct cleft foot | 13.26 | NA | 10.61 | 2.25 | NA | 26.12 | 090
28400 |  | A | Treatment of heel fracture | 2.15 | 4.33 | 3.03 | 0.35 | 6.83 | 5.53 | 090
28405 |  | A | Treatment of heel fracture | 4.54 | 5.57 | 4.58 | 0.76 | 10.87 | 9.88 | 090
28406 |  | A | Treatment of heel fracture | 6.27 | NA | 6.87 | 1.04 | NA | 14.18 | 090
28415 |  | A | Treat heel fracture | 15.88 | NA | 13.39 | 2.68 | NA | 31.95 | 090
28420 |  | A | Treat/graft heel fracture | 16.55 | NA | 13.10 | 2.74 | NA | 32.39 | 090
28430 |  | A | Treatment of ankle fracture | 2.08 | 4.12 | 2.65 | 0.32 | 6.52 | 5.05 | 090
28435 |  | A | Treatment of ankle fracture | 3.38 | 4.56 | 3.68 | 0.56 | 8.50 | 7.62 | 090
28436 |  | A | Treatment of ankle fracture | 4.68 | NA | 5.96 | 0.79 | NA | 11.43 | 090
28445 |  | A | Treat ankle fracture | 15.53 | NA | 11.14 | 1.55 | NA | 28.22 | 090
28450 |  | A | Treat midfoot fracture, each | 1.89 | 4.12 | 2.55 | 0.30 | 6.31 | 4.74 | 090
28455 |  | A | Treat midfoot fracture, each | 3.07 | 4.01 | 3.45 | 0.52 | 7.60 | 7.04 | 090
28456 |  | A | Treat midfoot fracture | 2.66 | NA | 4.26 | 0.43 | NA | 7.35 | 090
28465 |  | A | Treat midfoot fracture, each | 6.97 | NA | 6.44 | 1.04 | NA | 14.45 | 090
28470 |  | A | Treat metatarsal fracture | 1.98 | 3.92 | 2.52 | 0.31 | 6.21 | 4.81 | 090
28475 |  | A | Treat metatarsal fracture | 2.95 | 4.10 | 3.22 | 0.49 | 7.54 | 6.66 | 090
28476 |  | A | Treat metatarsal fracture | 3.36 | NA | 5.05 | 0.55 | NA | 8.96 | 090
28485 |  | A | Treat metatarsal fracture | 5.68 | NA | 5.61 | 0.96 | NA | 12.25 | 090
28490 |  | A | Treat big toe fracture | 1.08 | 2.23 | 1.77 | 0.16 | 3.47 | 3.01 | 090
28495 |  | A | Treat big toe fracture | 1.57 | 2.52 | 2.10 | 0.23 | 4.32 | 3.90 | 090
28496 |  | A | Treat big toe fracture | 2.32 | 9.82 | 3.67 | 0.38 | 12.52 | 6.37 | 090
28505 |  | A | Treat big toe fracture | 3.79 | 9.82 | 4.75 | 0.60 | 14.21 | 9.14 | 090
28510 |  | A | Treatment of toe fracture | 1.08 | 2.00 | 1.73 | 0.16 | 3.24 | 2.97 | 090
28515 |  | A | Treatment of toe fracture | 1.45 | 2.36 | 2.02 | 0.20 | 4.01 | 3.67 | 090
28525 |  | A | Treat toe fracture | 3.30 | 9.41 | 4.30 | 0.53 | 13.24 | 8.13 | 090
28530 |  | A | Treat sesamoid bone fracture | 1.05 | 2.10 | 1.49 | 0.16 | 3.31 | 2.70 | 090
28531 |  | A | Treat sesamoid bone fracture | 2.34 | 9.07 | 2.53 | 0.40 | 11.81 | 5.27 | 090
28540 |  | A | Treat foot dislocation | 2.03 | 2.90 | 2.71 | 0.29 | 5.22 | 5.03 | 090
28545 |  | A | Treat foot dislocation | 2.44 | 2.89 | 2.89 | 0.40 | 5.73 | 5.73 | 090
28546 |  | A | Treat foot dislocation | 3.18 | 8.02 | 4.88 | 0.55 | 11.75 | 8.61 | 090
28555 |  | A | Repair foot dislocation | 6.26 | 11.64 | 6.62 | 1.05 | 18.95 | 13.93 | 090
28570 |  | A | Treat foot dislocation | 1.65 | 2.92 | 2.31 | 0.26 | 4.83 | 4.22 | 090
28575 |  | A | Treat foot dislocation | 3.29 | 4.43 | 4.08 | 0.54 | 8.26 | 7.91 | 090
28576 |  | A | Treat foot dislocation | 4.15 | 10.33 | 5.57 | 0.67 | 15.15 | 10.39 | 090
28585 |  | A | Repair foot dislocation | 7.94 | 8.23 | 6.61 | 1.35 | 17.52 | 15.90 | 090
28600 |  | A | Treat foot dislocation | 1.88 | 3.32 | 2.70 | 0.29 | 5.49 | 4.87 | 090
28605 |  | A | Treat foot dislocation | 2.69 | 3.79 | 3.65 | 0.42 | 6.90 | 6.76 | 090
28606 |  | A | Treat foot dislocation | 4.87 | 16.21 | 6.07 | 0.82 | 21.90 | 11.76 | 090
28615 |  | A | Repair foot dislocation | 7.73 | NA | 8.08 | 1.31 | NA | 17.12 | 090
28630 |  | A | Treat toe dislocation | 1.69 | 1.24 | 1.14 | 0.20 | 3.13 | 3.03 | 010
28635 |  | A | Treat toe dislocation | 1.90 | 1.68 | 1.51 | 0.29 | 3.87 | 3.70 | 010
28636 |  | A | Treat toe dislocation | 2.75 | 6.22 | 3.10 | 0.47 | 9.44 | 6.32 | 010
28645 |  | A | Repair toe dislocation | 4.20 | 5.73 | 3.54 | 0.70 | 10.63 | 8.44 | 090
28660 |  | A | Treat toe dislocation | 1.22 | 1.63 | 1.19 | 0.13 | 2.98 | 2.54 | 010
28665 |  | A | Treat toe dislocation | 1.91 | 1.67 | 1.65 | 0.29 | 3.87 | 3.85 | 010
28666 |  | A | Treat toe dislocation | 2.64 | 6.07 | 2.26 | 0.46 | 9.17 | 5.36 | 010
28675 |  | A | Repair of toe dislocation | 2.90 | 8.92 | 3.81 | 0.49 | 12.31 | 7.20 | 090
28705 |  | A | Fusion of foot bones | 18.69 | NA | 12.56 | 2.55 | NA | 33.80 | 090
28715 |  | A | Fusion of foot bones | 13.03 | NA | 9.84 | 2.21 | NA | 25.08 | 090
28725 |  | A | Fusion of foot bones | 11.54 | NA | 8.39 | 1.95 | NA | 21.88 | 090
28730 |  | A | Fusion of foot bones | 10.70 | NA | 8.56 | 1.81 | NA | 21.07 | 090
28735 |  | A | Fusion of foot bones | 10.79 | NA | 7.96 | 1.81 | NA | 20.56 | 090
28737 |  | A | Revision of foot bones | 9.59 | NA | 6.94 | 1.63 | NA | 18.16 | 090
28740 |  | A | Fusion of foot bones | 7.97 | 11.72 | 6.51 | 1.35 | 21.04 | 15.83 | 090
28750 |  | A | Fusion of big toe joint | 7.26 | 13.11 | 6.66 | 1.23 | 21.60 | 15.15 | 090
28755 |  | A | Fusion of big toe joint | 4.71 | 6.90 | 3.90 | 0.79 | 12.40 | 9.40 | 090
28760 |  | A | Fusion of big toe joint | 7.71 | 8.14 | 5.69 | 1.28 | 17.13 | 14.68 | 090
28800 |  | A | Amputation of midfoot | 8.16 | NA | 6.09 | 1.17 | NA | 15.42 | 090
28805 |  | A | Amputation thru metatarsal | 8.34 | NA | 5.94 | 1.16 | NA | 15.44 | 090
28810 |  | A | Amputation toe & metatarsal | 6.17 | NA | 4.79 | 0.84 | NA | 11.80 | 090
28820 |  | A | Amputation of toe | 4.38 | 8.58 | 4.12 | 0.61 | 13.57 | 9.11 | 090
28825 |  | A | Partial amputation of toe | 3.57 | 8.00 | 3.82 | 0.52 | 12.09 | 7.91 | 090
28899 |  | C | Foot/toes surgery procedure | 0.00 | 0.00 | 0.00 | 0.00 | 0.00 | 0.00 | YYY
29000 |  | A | Application of body cast | 2.24 | 3.14 | 1.75 | 0.36 | 5.74 | 4.35 | 000
29010 |  | A | Application of body cast | 2.05 | 3.33 | 1.75 | 0.32 | 5.70 | 4.12 | 000
29015 |  | A | Application of body cast | 2.40 | 3.04 | 1.60 | 0.25 | 5.69 | 4.25 | 000
29020 |  | A | Application of body cast | 2.10 | 3.33 | 1.43 | 0.19 | 5.62 | 3.72 | 000
29025 |  | A | Application of body cast | 2.39 | 3.30 | 1.86 | 0.31 | 6.00 | 4.56 | 000
29035 |  | A | Application of body cast | 1.76 | 3.49 | 1.56 | 0.29 | 5.54 | 3.61 | 000
29040 |  | A | Application of body cast | 2.21 | 2.60 | 1.53 | 0.42 | 5.23 | 4.16 | 000
29044 |  | A | Application of body cast | 2.11 | 3.84 | 1.87 | 0.35 | 6.30 | 4.33 | 000
29046 |  | A | Application of body cast | 2.40 | 3.33 | 2.05 | 0.41 | 6.14 | 4.86 | 000
29049 |  | A | Application of figure eight | 0.88 | 1.26 | 0.55 | 0.14 | 2.28 | 1.57 | 000
29055 |  | A | Application of shoulder cast | 1.77 | 2.85 | 1.45 | 0.29 | 4.91 | 3.51 | 000
29058 |  | A | Application of shoulder cast | 1.30 | 1.52 | 0.73 | 0.17 | 2.99 | 2.20 | 000
29065 |  | A | Application of long arm cast | 0.87 | 1.28 | 0.74 | 0.14 | 2.29 | 1.75 | 000
29075 |  | A | Application of forearm cast | 0.77 | 1.22 | 0.67 | 0.13 | 2.12 | 1.57 | 000
29085 |  | A | Apply hand/wrist cast | 0.87 | 1.25 | 0.64 | 0.13 | 2.25 | 1.64 | 000
29086 |  | A | Apply finger cast | 0.62 | 0.94 | 0.53 | 0.07 | 1.63 | 1.22 | 000
29105 |  | A | Apply long arm splint | 0.87 | 1.20 | 0.53 | 0.13 | 2.20 | 1.53 | 000
29125 |  | A | Apply forearm splint | 0.59 | 1.00 | 0.41 | 0.07 | 1.66 | 1.07 | 000
29126 |  | A | Apply forearm splint | 0.77 | 1.22 | 0.48 | 0.07 | 2.06 | 1.32 | 000
29130 |  | A | Application of finger splint | 0.50 | 0.47 | 0.17 | 0.06 | 1.03 | 0.73 | 000
29131 |  | A | Application of finger splint | 0.55 | 0.74 | 0.25 | 0.04 | 1.33 | 0.84 | 000
29200 |  | A | Strapping of chest | 0.65 | 0.76 | 0.37 | 0.05 | 1.46 | 1.07 | 000
29220 |  | A | Strapping of low back | 0.64 | 0.73 | 0.40 | 0.08 | 1.45 | 1.12 | 000
29240 |  | A | Strapping of shoulder | 0.71 | 0.87 | 0.39 | 0.06 | 1.64 | 1.16 | 000
29260 |  | A | Strapping of elbow or wrist | 0.55 | 0.76 | 0.34 | 0.05 | 1.36 | 0.94 | 000
29280 |  | A | Strapping of hand or finger | 0.51 | 0.83 | 0.35 | 0.05 | 1.39 | 0.91 | 000
29305 |  | A | Application of hip cast | 2.02 | 3.22 | 1.73 | 0.35 | 5.59 | 4.10 | 000
29325 |  | A | Application of hip casts | 2.31 | 3.40 | 1.92 | 0.37 | 6.08 | 4.60 | 000
29345 |  | A | Application of long leg cast | 1.39 | 1.71 | 1.05 | 0.23 | 3.33 | 2.67 | 000
29355 |  | A | Application of long leg cast | 1.52 | 1.67 | 1.11 | 0.24 | 3.43 | 2.87 | 000
29358 |  | A | Apply long leg cast brace | 1.42 | 1.98 | 1.08 | 0.23 | 3.63 | 2.73 | 000
29365 |  | A | Application of long leg cast | 1.17 | 1.60 | 0.93 | 0.20 | 2.97 | 2.30 | 000
29405 |  | A | Apply short leg cast | 0.86 | 1.19 | 0.70 | 0.14 | 2.19 | 1.70 | 000
29425 |  | A | Apply short leg cast | 1.00 | 1.19 | 0.73 | 0.17 | 2.36 | 1.90 | 000
29435 |  | A | Apply short leg cast | 1.17 | 1.51 | 0.91 | 0.20 | 2.88 | 2.28 | 000
29440 |  | A | Addition of walker to cast | 0.57 | 0.67 | 0.28 | 0.08 | 1.32 | 0.93 | 000
29445 |  | A | Apply rigid leg cast | 1.77 | 1.77 | 0.97 | 0.29 | 3.83 | 3.03 | 000
29450 |  | A | Application of leg cast | 2.07 | 1.47 | 1.10 | 0.16 | 3.70 | 3.33 | 000
29505 |  | A | Application, long leg splint | 0.69 | 1.17 | 0.48 | 0.07 | 1.93 | 1.24 | 000
29515 |  | A | Application lower leg splint | 0.73 | 0.86 | 0.49 | 0.08 | 1.67 | 1.30 | 000
29520 |  | A | Strapping of hip | 0.54 | 0.89 | 0.47 | 0.02 | 1.45 | 1.03 | 000
29530 |  | A | Strapping of knee | 0.57 | 0.81 | 0.35 | 0.05 | 1.43 | 0.97 | 000
29540 |  | A | Strapping of ankle and/or ft | 0.51 | 0.42 | 0.32 | 0.05 | 0.98 | 0.88 | 000
29550 |  | A | Strapping of toes | 0.47 | 0.42 | 0.28 | 0.06 | 0.95 | 0.81 | 000
29580 |  | A | Application of paste boot | 0.57 | 0.66 | 0.36 | 0.06 | 1.29 | 0.99 | 000
29590 |  | A | Application of foot splint | 0.76 | 0.51 | 0.30 | 0.07 | 1.34 | 1.13 | 000
29700 |  | A | Removal/revision of cast | 0.57 | 0.88 | 0.29 | 0.08 | 1.53 | 0.94 | 000
29705 |  | A | Removal/revision of cast | 0.76 | 0.80 | 0.39 | 0.12 | 1.68 | 1.27 | 000
29710 |  | A | Removal/revision of cast | 1.33 | 1.51 | 0.70 | 0.20 | 3.04 | 2.23 | 000
29715 |  | A | Removal/revision of cast | 0.93 | 1.16 | 0.41 | 0.10 | 2.19 | 1.44 | 000
29720 |  | A | Repair of body cast | 0.68 | 1.11 | 0.39 | 0.12 | 1.91 | 1.19 | 000
29730 |  | A | Windowing of cast | 0.75 | 0.79 | 0.36 | 0.12 | 1.66 | 1.23 | 000
29740 |  | A | Wedging of cast | 1.11 | 1.12 | 0.50 | 0.18 | 2.41 | 1.79 | 000
29750 |  | A | Wedging of clubfoot cast | 1.25 | 1.05 | 0.59 | 0.19 | 2.49 | 2.03 | 000
29799 |  | C | Casting/strapping procedure | 0.00 | 0.00 | 0.00 | 0.00 | 0.00 | 0.00 | YYY
29800 |  | A | Jaw arthroscopy/surgery | 6.39 | NA | 7.20 | 1.01 | NA | 14.60 | 090
29804 |  | A | Jaw arthroscopy/surgery | 8.09 | NA | 8.51 | 0.79 | NA | 17.39 | 090
29805 |  | A | Shoulder arthroscopy, dx | 5.86 | NA | 5.72 | 1.01 | NA | 12.59 | 090
29806 |  | A | Shoulder arthroscopy/surgery | 14.29 | NA | 11.06 | 2.40 | NA | 27.75 | 090
29807 |  | A | Shoulder arthroscopy/surgery | 13.82 | NA | 10.89 | 2.33 | NA | 27.04 | 090
29819 |  | A | Shoulder arthroscopy/surgery | 7.58 | NA | 6.74 | 1.28 | NA | 15.60 | 090
29820 |  | A | Shoulder arthroscopy/surgery | 7.03 | NA | 6.18 | 1.19 | NA | 14.40 | 090
29821 |  | A | Shoulder arthroscopy/surgery | 7.68 | NA | 6.76 | 1.29 | NA | 15.73 | 090
29822 |  | A | Shoulder arthroscopy/surgery | 7.39 | NA | 6.64 | 1.25 | NA | 15.28 | 090
29823 |  | A | Shoulder arthroscopy/surgery | 8.12 | NA | 7.16 | 1.38 | NA | 16.66 | 090
29824 |  | A | Shoulder arthroscopy/surgery | 8.20 | NA | 7.41 | 1.38 | NA | 16.99 | 090
29825 |  | A | Shoulder arthroscopy/surgery | 7.58 | NA | 6.72 | 1.27 | NA | 15.57 | 090
29826 |  | A | Shoulder arthroscopy/surgery | 8.94 | NA | 7.49 | 1.51 | NA | 17.94 | 090
29827 |  | A | Arthroscop rotator cuff repr | 15.27 | NA | 11.44 | 2.23 | NA | 28.94 | 090
29830 |  | A | Elbow arthroscopy | 5.73 | NA | 5.31 | 0.95 | NA | 11.99 | 090
29834 |  | A | Elbow arthroscopy/surgery | 6.24 | NA | 5.79 | 1.03 | NA | 13.06 | 090
29835 |  | A | Elbow arthroscopy/surgery | 6.44 | NA | 5.83 | 1.05 | NA | 13.32 | 090
29836 |  | A | Elbow arthroscopy/surgery | 7.51 | NA | 6.73 | 1.27 | NA | 15.51 | 090
29837 |  | A | Elbow arthroscopy/surgery | 6.83 | NA | 6.08 | 1.15 | NA | 14.06 | 090
29838 |  | A | Elbow arthroscopy/surgery | 7.67 | NA | 6.84 | 1.28 | NA | 15.79 | 090
29840 |  | A | Wrist arthroscopy | 5.51 | NA | 5.30 | 0.83 | NA | 11.64 | 090
29843 |  | A | Wrist arthroscopy/surgery | 5.98 | NA | 5.60 | 0.98 | NA | 12.56 | 090
29844 |  | A | Wrist arthroscopy/surgery | 6.33 | NA | 5.79 | 1.03 | NA | 13.15 | 090
29845 |  | A | Wrist arthroscopy/surgery | 7.48 | NA | 6.46 | 1.01 | NA | 14.95 | 090
29846 |  | A | Wrist arthroscopy/surgery | 6.71 | NA | 6.01 | 1.07 | NA | 13.79 | 090
29847 |  | A | Wrist arthroscopy/surgery | 7.04 | NA | 6.16 | 1.09 | NA | 14.29 | 090
29848 |  | A | Wrist endoscopy/surgery | 5.41 | NA | 5.55 | 0.86 | NA | 11.82 | 090
29850 |  | A | Knee arthroscopy/surgery | 8.14 | NA | 5.10 | 0.89 | NA | 14.13 | 090
29851 |  | A | Knee arthroscopy/surgery | 13.03 | NA | 9.76 | 2.17 | NA | 24.96 | 090
29855 |  | A | Tibial arthroscopy/surgery | 10.56 | NA | 8.69 | 1.80 | NA | 21.05 | 090
29856 |  | A | Tibial arthroscopy/surgery | 14.06 | NA | 10.63 | 2.40 | NA | 27.09 | 090
29860 |  | A | Hip arthroscopy, dx | 8.00 | NA | 6.90 | 1.37 | NA | 16.27 | 090
29861 |  | A | Hip arthroscopy/surgery | 9.10 | NA | 7.31 | 1.55 | NA | 17.96 | 090
29862 |  | A | Hip arthroscopy/surgery | 9.84 | NA | 8.48 | 1.67 | NA | 19.99 | 090
29863 |  | A | Hip arthroscopy/surgery | 9.84 | NA | 8.42 | 1.68 | NA | 19.94 | 090
29870 |  | A | Knee arthroscopy, dx | 5.04 | NA | 4.85 | 0.80 | NA | 10.69 | 090
29871 |  | A | Knee arthroscopy/drainage | 6.51 | NA | 5.83 | 1.05 | NA | 13.39 | 090
29873 |  | A | Knee arthroscopy/surgery | 5.97 | NA | 6.45 | 0.87 | NA | 13.29 | 090
29874 |  | A | Knee arthroscopy/surgery | 7.01 | NA | 6.04 | 1.04 | NA | 14.09 | 090
29875 |  | A | Knee arthroscopy/surgery | 6.27 | NA | 5.80 | 1.05 | NA | 13.12 | 090
29876 |  | A | Knee arthroscopy/surgery | 7.87 | NA | 6.96 | 1.33 | NA | 16.16 | 090
29877 |  | A | Knee arthroscopy/surgery | 7.31 | NA | 6.67 | 1.23 | NA | 15.21 | 090
29879 |  | A | Knee arthroscopy/surgery | 7.99 | NA | 7.05 | 1.35 | NA | 16.39 | 090
29880 |  | A | Knee arthroscopy/surgery | 8.45 | NA | 7.29 | 1.43 | NA | 17.17 | 090
29881 |  | A | Knee arthroscopy/surgery | 7.72 | NA | 6.89 | 1.31 | NA | 15.92 | 090
29882 |  | A | Knee arthroscopy/surgery | 8.60 | NA | 7.18 | 1.31 | NA | 17.09 | 090
29883 |  | A | Knee arthroscopy/surgery | 10.99 | NA | 9.00 | 1.59 | NA | 21.58 | 090
29884 |  | A | Knee arthroscopy/surgery | 7.29 | NA | 6.63 | 1.23 | NA | 15.15 | 090
29885 |  | A | Knee arthroscopy/surgery | 9.04 | NA | 7.89 | 1.52 | NA | 18.45 | 090
29886 |  | A | Knee arthroscopy/surgery | 7.50 | NA | 6.77 | 1.27 | NA | 15.54 | 090
29887 |  | A | Knee arthroscopy/surgery | 8.99 | NA | 7.86 | 1.52 | NA | 18.37 | 090
29888 |  | A | Knee arthroscopy/surgery | 13.82 | NA | 10.19 | 2.34 | NA | 26.35 | 090
29889 |  | A | Knee arthroscopy/surgery | 15.91 | NA | 12.36 | 2.53 | NA | 30.80 | 090
29891 |  | A | Ankle arthroscopy/surgery | 8.35 | NA | 7.42 | 1.40 | NA | 17.17 | 090
29892 |  | A | Ankle arthroscopy/surgery | 8.95 | NA | 7.68 | 1.51 | NA | 18.14 | 090
29893 |  | A | Scope, plantar fasciotomy | 5.19 | 6.20 | 3.96 | 0.89 | 12.28 | 10.04 | 090
29894 |  | A | Ankle arthroscopy/surgery | 7.17 | NA | 5.45 | 1.21 | NA | 13.83 | 090
29895 |  | A | Ankle arthroscopy/surgery | 6.95 | NA | 5.45 | 1.16 | NA | 13.56 | 090
29897 |  | A | Ankle arthroscopy/surgery | 7.14 | NA | 5.85 | 1.21 | NA | 14.20 | 090
29898 |  | A | Ankle arthroscopy/surgery | 8.27 | NA | 6.17 | 1.37 | NA | 15.81 | 090
29899 |  | A | Ankle arthroscopy/surgery | 13.83 | NA | 9.94 | 2.34 | NA | 26.11 | 090
29900 |  | A | Mcp joint arthroscopy, dx | 5.39 | NA | 5.77 | 0.90 | NA | 12.06 | 090
29901 |  | A | Mcp joint arthroscopy, surg | 6.10 | NA | 6.15 | 1.02 | NA | 13.27 | 090
29902 |  | A | Mcp joint arthroscopy, surg | 6.66 | NA | 6.45 | 1.11 | NA | 14.22 | 090
29999 |  | C | Arthroscopy of joint | 0.00 | 0.00 | 0.00 | 0.00 | 0.00 | 0.00 | YYY
30000 |  | A | Drainage of nose lesion | 1.42 | 4.24 | 1.43 | 0.12 | 5.78 | 2.97 | 010
30020 |  | A | Drainage of nose lesion | 1.42 | 3.39 | 1.50 | 0.10 | 4.91 | 3.02 | 010
30100 |  | A | Intranasal biopsy | 0.93 | 2.07 | 0.82 | 0.07 | 3.07 | 1.82 | 000
30110 |  | A | Removal of nose polyp(s) | 1.62 | 3.40 | 1.60 | 0.14 | 5.16 | 3.36 | 010
30115 |  | A | Removal of nose polyp(s) | 4.33 | NA | 4.06 | 0.37 | NA | 8.76 | 090
30117 |  | A | Removal of intranasal lesion | 3.14 | 4.43 | 3.31 | 0.26 | 7.83 | 6.71 | 090
30118 |  | A | Removal of intranasal lesion | 9.63 | NA | 7.35 | 0.79 | NA | 17.77 | 090
30120 |  | A | Revision of nose | 5.24 | 5.59 | 5.54 | 0.49 | 11.32 | 11.27 | 090
30124 |  | A | Removal of nose lesion | 3.08 | NA | 3.07 | 0.24 | NA | 6.39 | 090
30125 |  | A | Removal of nose lesion | 7.12 | NA | 5.98 | 0.65 | NA | 13.75 | 090
30130 |  | A | Removal of turbinate bones | 3.36 | NA | 3.55 | 0.26 | NA | 7.17 | 090
30140 |  | A | Removal of turbinate bones | 3.41 | NA | 4.01 | 0.29 | NA | 7.71 | 090
30150 |  | A | Partial removal of nose | 9.09 | NA | 7.74 | 0.91 | NA | 17.74 | 090
30160 |  | A | Removal of nose | 9.53 | NA | 7.73 | 0.93 | NA | 18.19 | 090
30200 |  | A | Injection treatment of nose | 0.78 | 1.72 | 0.78 | 0.07 | 2.57 | 1.63 | 000
30210 |  | A | Nasal sinus therapy | 1.07 | 2.19 | 1.34 | 0.10 | 3.36 | 2.51 | 010
30220 |  | A | Insert nasal septal button | 1.53 | 4.55 | 1.56 | 0.13 | 6.21 | 3.22 | 010
30300 |  | A | Remove nasal foreign body | 1.03 | 4.89 | 2.00 | 0.08 | 6.00 | 3.11 | 010
30310 |  | A | Remove nasal foreign body | 1.95 | NA | 3.22 | 0.17 | NA | 5.34 | 010
30320 |  | A | Remove nasal foreign body | 4.49 | NA | 4.53 | 0.43 | NA | 9.45 | 090
30400 |  | R | Reconstruction of nose | 9.77 | NA | 9.27 | 0.96 | NA | 20.00 | 090
30410 |  | R | Reconstruction of nose | 12.91 | NA | 11.06 | 1.29 | NA | 25.26 | 090
30420 |  | R | Reconstruction of nose | 15.79 | NA | 12.55 | 1.49 | NA | 29.83 | 090
30430 |  | R | Revision of nose | 7.17 | NA | 8.20 | 0.74 | NA | 16.11 | 090
30435 |  | R | Revision of nose | 11.64 | NA | 10.74 | 1.32 | NA | 23.70 | 090
30450 |  | R | Revision of nose | 18.54 | NA | 14.26 | 1.83 | NA | 34.63 | 090
30460 |  | A | Revision of nose | 9.90 | NA | 7.81 | 1.02 | NA | 18.73 | 090
30462 |  | A | Revision of nose | 19.46 | NA | 13.83 | 2.30 | NA | 35.59 | 090
30465 |  | A | Repair nasal stenosis | 11.57 | NA | 7.76 | 1.16 | NA | 20.49 | 090
30520 |  | A | Repair of nasal septum | 5.67 | NA | 5.21 | 0.49 | NA | 11.37 | 090
30540 |  | A | Repair nasal defect | 7.71 | NA | 5.70 | 0.64 | NA | 14.05 | 090
30545 |  | A | Repair nasal defect | 11.32 | NA | 8.73 | 0.96 | NA | 21.01 | 090
30560 |  | A | Release of nasal adhesions | 1.25 | 4.99 | 2.18 | 0.11 | 6.35 | 3.54 | 010
30580 |  | A | Repair upper jaw fistula | 6.65 | 7.26 | 6.19 | 0.60 | 14.51 | 13.44 | 090
30600 |  | A | Repair mouth/nose fistula | 5.99 | 6.39 | 5.58 | 0.84 | 13.22 | 12.41 | 090
30620 |  | A | Intranasal reconstruction | 5.94 | NA | 5.84 | 0.54 | NA | 12.32 | 090
30630 |  | A | Repair nasal septum defect | 7.08 | NA | 6.25 | 0.61 | NA | 13.94 | 090
30801 |  | A | Cauterization, inner nose | 1.08 | 2.20 | 2.09 | 0.10 | 3.38 | 3.27 | 010
30802 |  | A | Cauterization, inner nose | 2.02 | 2.74 | 2.60 | 0.18 | 4.94 | 4.80 | 010
30901 |  | A | Control of nosebleed | 1.20 | 1.38 | 0.33 | 0.11 | 2.69 | 1.64 | 000
30903 |  | A | Control of nosebleed | 1.53 | 2.84 | 0.51 | 0.14 | 4.51 | 2.18 | 000
30905 |  | A | Control of nosebleed | 1.96 | 3.62 | 0.77 | 0.18 | 5.76 | 2.91 | 000
30906 |  | A | Repeat control of nosebleed | 2.44 | 4.00 | 1.22 | 0.20 | 6.64 | 3.86 | 000
30915 |  | A | Ligation, nasal sinus artery | 7.16 | NA | 5.89 | 0.60 | NA | 13.65 | 090
30920 |  | A | Ligation, upper jaw artery | 9.77 | NA | 7.56 | 0.83 | NA | 18.16 | 090
30930 |  | A | Therapy, fracture of nose | 1.25 | NA | 1.67 | 0.11 | NA | 3.03 | 010
30999 |  | C | Nasal surgery procedure | 0.00 | 0.00 | 0.00 | 0.00 | 0.00 | 0.00 | YYY
31000 |  | A | Irrigation, maxillary sinus | 1.14 | 2.96 | 1.43 | 0.10 | 4.20 | 2.67 | 010
31002 |  | A | Irrigation, sphenoid sinus | 1.90 | NA | 3.34 | 0.17 | NA | 5.41 | 010
31020 |  | A | Exploration, maxillary sinus | 2.92 | 4.18 | 3.55 | 0.24 | 7.34 | 6.71 | 090
31030 |  | A | Exploration, maxillary sinus | 5.89 | 5.73 | 4.85 | 0.50 | 12.12 | 11.24 | 090
31032 |  | A | Explore sinus, remove polyps | 6.53 | NA | 5.66 | 0.56 | NA | 12.75 | 090
31040 |  | A | Exploration behind upper jaw | 9.37 | NA | 6.35 | 0.85 | NA | 16.57 | 090
31050 |  | A | Exploration, sphenoid sinus | 5.25 | NA | 4.55 | 0.47 | NA | 10.27 | 090
31051 |  | A | Sphenoid sinus surgery | 7.07 | NA | 5.92 | 0.66 | NA | 13.65 | 090
31070 |  | A | Exploration of frontal sinus | 4.26 | NA | 4.25 | 0.36 | NA | 8.87 | 090
31075 |  | A | Exploration of frontal sinus | 9.11 | NA | 7.29 | 0.77 | NA | 17.17 | 090
31080 |  | A | Removal of frontal sinus | 11.35 | NA | 8.53 | 0.93 | NA | 20.81 | 090
31081 |  | A | Removal of frontal sinus | 12.68 | NA | 9.59 | 2.21 | NA | 24.48 | 090
31084 |  | A | Removal of frontal sinus | 13.43 | NA | 10.15 | 1.15 | NA | 24.73 | 090
31085 |  | A | Removal of frontal sinus | 14.12 | NA | 10.52 | 1.41 | NA | 26.05 | 090
31086 |  | A | Removal of frontal sinus | 12.79 | NA | 9.96 | 1.08 | NA | 23.83 | 090
31087 |  | A | Removal of frontal sinus | 13.03 | NA | 9.89 | 1.38 | NA | 24.30 | 090
31090 |  | A | Exploration of sinuses | 9.48 | NA | 8.67 | 0.79 | NA | 18.94 | 090
31200 |  | A | Removal of ethmoid sinus | 4.94 | NA | 5.07 | 0.30 | NA | 10.31 | 090
31201 |  | A | Removal of ethmoid sinus | 8.32 | NA | 6.89 | 0.70 | NA | 15.91 | 090
31205 |  | A | Removal of ethmoid sinus | 10.18 | NA | 7.71 | 0.70 | NA | 18.59 | 090
31225 |  | A | Removal of upper jaw | 19.12 | NA | 13.88 | 1.65 | NA | 34.65 | 090
31230 |  | A | Removal of upper jaw | 21.81 | NA | 15.29 | 1.88 | NA | 38.98 | 090
31231 |  | A | Nasal endoscopy, dx | 1.09 | 3.59 | 0.92 | 0.10 | 4.78 | 2.11 | 000
31233 |  | A | Nasal/sinus endoscopy, dx | 2.17 | 4.53 | 1.53 | 0.19 | 6.89 | 3.89 | 000
31235 |  | A | Nasal/sinus endoscopy, dx | 2.62 | 5.16 | 1.78 | 0.22 | 8.00 | 4.62 | 000
31237 |  | A | Nasal/sinus endoscopy, surg | 2.96 | 5.46 | 1.93 | 0.25 | 8.67 | 5.14 | 000
31238 |  | A | Nasal/sinus endoscopy, surg | 3.24 | 5.51 | 2.14 | 0.28 | 9.03 | 5.66 | 000
31239 |  | A | Nasal/sinus endoscopy, surg | 8.65 | NA | 8.37 | 0.55 | NA | 17.57 | 010
31240 |  | A | Nasal/sinus endoscopy, surg | 2.60 | NA | 1.78 | 0.22 | NA | 4.60 | 000
31254 |  | A | Revision of ethmoid sinus | 4.62 | NA | 2.92 | 0.38 | NA | 7.92 | 000
31255 |  | A | Removal of ethmoid sinus | 6.92 | NA | 4.20 | 0.59 | NA | 11.71 | 000
31256 |  | A | Exploration maxillary sinus | 3.27 | NA | 2.16 | 0.28 | NA | 5.71 | 000
31267 |  | A | Endoscopy, maxillary sinus | 5.43 | NA | 3.36 | 0.46 | NA | 9.25 | 000
31276 |  | A | Sinus endoscopy, surgical | 8.80 | NA | 5.22 | 0.74 | NA | 14.76 | 000
31287 |  | A | Nasal/sinus endoscopy, surg | 3.90 | NA | 2.51 | 0.32 | NA | 6.73 | 000
31288 |  | A | Nasal/sinus endoscopy, surg | 4.55 | NA | 2.88 | 0.38 | NA | 7.81 | 000
31290 |  | A | Nasal/sinus endoscopy, surg | 17.14 | NA | 12.27 | 1.44 | NA | 30.85 | 010
31291 |  | A | Nasal/sinus endoscopy, surg | 18.09 | NA | 12.68 | 2.07 | NA | 32.84 | 010
31292 |  | A | Nasal/sinus endoscopy, surg | 14.68 | NA | 10.83 | 1.19 | NA | 26.70 | 010
31293 |  | A | Nasal/sinus endoscopy, surg | 16.12 | NA | 11.63 | 1.16 | NA | 28.91 | 010
31294 |  | A | Nasal/sinus endoscopy, surg | 18.95 | NA | 13.14 | 1.25 | NA | 33.34 | 010
31299 |  | C | Sinus surgery procedure | 0.00 | 0.00 | 0.00 | 0.00 | 0.00 | 0.00 | YYY
31300 |  | A | Removal of larynx lesion | 14.21 | NA | 12.17 | 1.19 | NA | 27.57 | 090
31320 |  | A | Diagnostic incision, larynx | 5.23 | NA | 7.36 | 0.48 | NA | 13.07 | 090
31360 |  | A | Removal of larynx | 16.98 | NA | 14.11 | 1.44 | NA | 32.53 | 090
31365 |  | A | Removal of larynx | 24.02 | NA | 17.82 | 2.06 | NA | 43.90 | 090
31367 |  | A | Partial removal of larynx | 21.74 | NA | 17.57 | 1.88 | NA | 41.19 | 090
31368 |  | A | Partial removal of larynx | 26.94 | NA | 21.23 | 2.28 | NA | 50.45 | 090
31370 |  | A | Partial removal of larynx | 21.26 | NA | 17.21 | 1.81 | NA | 40.28 | 090
31375 |  | A | Partial removal of larynx | 20.09 | NA | 15.53 | 1.71 | NA | 37.33 | 090
31380 |  | A | Partial removal of larynx | 20.09 | NA | 15.47 | 1.68 | NA | 37.24 | 090
31382 |  | A | Partial removal of larynx | 20.40 | NA | 16.74 | 1.73 | NA | 38.87 | 090
31390 |  | A | Removal of larynx & pharynx | 27.37 | NA | 21.47 | 2.34 | NA | 51.18 | 090
31395 |  | A | Reconstruct larynx & pharynx | 30.91 | NA | 25.41 | 2.72 | NA | 59.04 | 090
31400 |  | A | Revision of larynx | 10.25 | NA | 10.13 | 0.86 | NA | 21.24 | 090
31420 |  | A | Removal of epiglottis | 10.16 | NA | 9.91 | 0.85 | NA | 20.92 | 090
31500 |  | A | Insert emergency airway | 2.32 | NA | 0.56 | 0.18 | NA | 3.06 | 000
31502 |  | A | Change of windpipe airway | 0.65 | 1.52 | 0.26 | 0.05 | 2.22 | 0.96 | 000
31505 |  | A | Diagnostic laryngoscopy | 0.61 | 1.59 | 0.64 | 0.05 | 2.25 | 1.30 | 000
31510 |  | A | Laryngoscopy with biopsy | 1.91 | 3.46 | 1.30 | 0.18 | 5.55 | 3.39 | 000
31511 |  | A | Remove foreign body, larynx | 2.15 | 3.28 | 1.12 | 0.19 | 5.62 | 3.46 | 000
31512 |  | A | Removal of larynx lesion | 2.06 | 3.36 | 1.41 | 0.19 | 5.61 | 3.66 | 000
31513 |  | A | Injection into vocal cord | 2.09 | NA | 1.51 | 0.18 | NA | 3.78 | 000
31515 |  | A | Laryngoscopy for aspiration | 1.79 | 3.77 | 1.11 | 0.14 | 5.70 | 3.04 | 000
31520 |  | A | Diagnostic laryngoscopy | 2.55 | NA | 1.62 | 0.20 | NA | 4.37 | 000
31525 |  | A | Diagnostic laryngoscopy | 2.62 | 3.90 | 1.71 | 0.22 | 6.74 | 4.55 | 000
31526 |  | A | Diagnostic laryngoscopy | 2.56 | NA | 1.77 | 0.22 | NA | 4.55 | 000
31527 |  | A | Laryngoscopy for treatment | 3.25 | NA | 1.93 | 0.25 | NA | 5.43 | 000
31528 |  | A | Laryngoscopy and dilation | 2.36 | NA | 1.47 | 0.19 | NA | 4.02 | 000
31529 |  | A | Laryngoscopy and dilation | 2.66 | NA | 1.73 | 0.22 | NA | 4.61 | 000
31530 |  | A | Operative laryngoscopy | 3.37 | NA | 2.00 | 0.29 | NA | 5.66 | 000
31531 |  | A | Operative laryngoscopy | 3.57 | NA | 2.33 | 0.30 | NA | 6.20 | 000
31535 |  | A | Operative laryngoscopy | 3.14 | NA | 2.04 | 0.26 | NA | 5.44 | 000
31536 |  | A | Operative laryngoscopy | 3.54 | NA | 2.31 | 0.30 | NA | 6.15 | 000
31540 |  | A | Operative laryngoscopy | 4.11 | NA | 2.61 | 0.35 | NA | 7.07 | 000
31541 |  | A | Operative laryngoscopy | 4.50 | NA | 2.85 | 0.38 | NA | 7.73 | 000
31560 |  | A | Operative laryngoscopy | 5.43 | NA | 3.20 | 0.46 | NA | 9.09 | 000
31561 |  | A | Operative laryngoscopy | 5.97 | NA | 3.41 | 0.50 | NA | 9.88 | 000
31570 |  | A | Laryngoscopy with injection | 3.85 | 5.81 | 2.45 | 0.29 | 9.95 | 6.59 | 000
31571 |  | A | Laryngoscopy with injection | 4.25 | NA | 2.66 | 0.36 | NA | 7.27 | 000
31575 |  | A | Diagnostic laryngoscopy | 1.09 | 1.91 | 0.92 | 0.10 | 3.10 | 2.11 | 000
31576 |  | A | Laryngoscopy with biopsy | 1.96 | 3.66 | 1.33 | 0.16 | 5.78 | 3.45 | 000
31577 |  | A | Remove foreign body, larynx | 2.46 | 3.78 | 1.59 | 0.20 | 6.44 | 4.25 | 000
31578 |  | A | Removal of larynx lesion | 2.82 | 4.30 | 1.58 | 0.24 | 7.36 | 4.64 | 000
31579 |  | A | Diagnostic laryngoscopy | 2.25 | 3.84 | 1.54 | 0.19 | 6.28 | 3.98 | 000
31580 |  | A | Revision of larynx | 12.31 | NA | 11.24 | 1.04 | NA | 24.59 | 090
31582 |  | A | Revision of larynx | 21.50 | NA | 17.63 | 1.82 | NA | 40.95 | 090
31584 |  | A | Treat larynx fracture | 19.53 | NA | 14.73 | 1.70 | NA | 35.96 | 090
31585 |  | A | Treat larynx fracture | 4.61 | NA | 5.65 | 0.36 | NA | 10.62 | 090
31586 |  | A | Treat larynx fracture | 7.98 | NA | 8.44 | 0.67 | NA | 17.09 | 090
31587 |  | A | Revision of larynx | 11.92 | NA | 10.16 | 1.05 | NA | 23.13 | 090
31588 |  | A | Revision of larynx | 13.04 | NA | 13.26 | 1.10 | NA | 27.40 | 090
31590 |  | A | Reinnervate larynx | 6.93 | NA | 8.92 | 0.60 | NA | 16.45 | 090
31595 |  | A | Larynx nerve surgery | 8.29 | NA | 7.73 | 0.74 | NA | 16.76 | 090
31599 |  | C | Larynx surgery procedure | 0.00 | 0.00 | 0.00 | 0.00 | 0.00 | 0.00 | YYY
31600 |  | A | Incision of windpipe | 7.14 | NA | 3.22 | 0.41 | NA | 10.77 | 000
31601 |  | A | Incision of windpipe | 4.42 | NA | 2.42 | 0.47 | NA | 7.31 | 000
31603 |  | A | Incision of windpipe | 4.13 | NA | 1.74 | 0.42 | NA | 6.29 | 000
31605 |  | A | Incision of windpipe | 3.56 | NA | 1.20 | 0.40 | NA | 5.16 | 000
31610 |  | A | Incision of windpipe | 8.71 | NA | 7.51 | 0.83 | NA | 17.05 | 090
31611 |  | A | Surgery/speech prosthesis | 5.61 | NA | 6.02 | 0.48 | NA | 12.11 | 090
31612 |  | A | Puncture/clear windpipe | 0.90 | 1.13 | 0.36 | 0.07 | 2.10 | 1.33 | 000
31613 |  | A | Repair windpipe opening | 4.56 | NA | 5.43 | 0.44 | NA | 10.43 | 090
31614 |  | A | Repair windpipe opening | 7.08 | NA | 7.87 | 0.61 | NA | 15.56 | 090
31615 |  | A | Visualization of windpipe | 2.08 | 2.66 | 1.22 | 0.17 | 4.91 | 3.47 | 000
31622 |  | A | Dx bronchoscope/wash | 2.76 | 4.20 | 0.89 | 0.17 | 7.13 | 3.82 | 000
31623 |  | A | Dx bronchoscope/brush | 2.86 | 5.09 | 0.90 | 0.17 | 8.12 | 3.93 | 000
31624 |  | A | Dx bronchoscope/lavage | 2.86 | 4.32 | 0.90 | 0.16 | 7.34 | 3.92 | 000
31625 |  | A | Bronchoscopy w/biopsy(s) | 3.35 | 5.41 | 1.27 | 0.19 | 8.95 | 4.81 | 000
31628 |  | A | Bronchoscopy/lung bx, each | 3.79 | 5.62 | 1.36 | 0.17 | 9.58 | 5.32 | 000
31629 |  | A | Bronchoscopy/needle bx, each | 3.35 | NA | 1.24 | 0.16 | NA | 4.75 | 000
31630 |  | A | Bronchoscopy dilate/fx repr | 3.80 | NA | 1.98 | 0.36 | NA | 6.14 | 000
31631 |  | A | Bronchoscopy, dilate w/stent | 4.35 | NA | 2.01 | 0.37 | NA | 6.73 | 000
31632 |  | A | Bronchoscopy/lung bx, addl | 1.02 | 0.76 | 0.32 | 0.17 | 1.95 | 1.51 | ZZZ
31633 |  | A | Bronchoscopy/needle bx addl | 1.31 | 0.92 | 0.41 | 0.17 | 2.40 | 1.89 | ZZZ
31635 |  | A | Bronchoscopy w/fb removal | 3.66 | NA | 1.68 | 0.25 | NA | 5.59 | 000
31640 |  | A | Bronchoscopy w/tumor excise | 4.91 | NA | 2.33 | 0.44 | NA | 7.68 | 000
31641 |  | A | Bronchoscopy, treat blockage | 5.00 | NA | 2.12 | 0.36 | NA | 7.48 | 000
31643 |  | A | Diag bronchoscope/catheter | 3.48 | NA | 1.32 | 0.18 | NA | 4.98 | 000
31645 |  | A | Bronchoscopy, clear airways | 3.14 | NA | 1.22 | 0.16 | NA | 4.52 | 000
31646 |  | A | Bronchoscopy, reclear airway | 2.70 | NA | 1.09 | 0.14 | NA | 3.93 | 000
31656 |  | A | Bronchoscopy, inj for x-ray | 2.16 | NA | 0.93 | 0.12 | NA | 3.21 | 000
31700 |  | A | Insertion of airway catheter | 1.33 | 2.08 | 0.69 | 0.08 | 3.49 | 2.10 | 000
31708 |  | A | Instill airway contrast dye | 1.40 | NA | 0.60 | 0.07 | NA | 2.07 | 000
31710 |  | A | Insertion of airway catheter | 1.29 | NA | 0.71 | 0.07 | NA | 2.07 | 000
31715 |  | A | Injection for bronchus x-ray | 1.10 | NA | 0.61 | 0.07 | NA | 1.78 | 000
31717 |  | A | Bronchial brush biopsy | 2.11 | 2.89 | 0.87 | 0.11 | 5.11 | 3.09 | 000
31720 |  | A | Clearance of airways | 1.05 | 1.48 | 0.33 | 0.07 | 2.60 | 1.45 | 000
31725 |  | A | Clearance of airways | 1.95 | 1.84 | 0.59 | 0.12 | 3.91 | 2.66 | 000
31730 |  | A | Intro, windpipe wire/tube | 2.83 | 2.24 | 1.09 | 0.18 | 5.25 | 4.10 | 000
31750 |  | A | Repair of windpipe | 12.95 | NA | 11.61 | 1.22 | NA | 25.78 | 090
31755 |  | A | Repair of windpipe | 15.84 | NA | 14.34 | 1.38 | NA | 31.56 | 090
31760 |  | A | Repair of windpipe | 22.22 | NA | 10.50 | 1.77 | NA | 34.49 | 090
31766 |  | A | Reconstruction of windpipe | 30.26 | NA | 13.52 | 3.79 | NA | 47.57 | 090
31770 |  | A | Repair/graft of bronchus | 22.38 | NA | 10.01 | 2.72 | NA | 35.11 | 090
31775 |  | A | Reconstruct bronchus | 23.41 | NA | 11.67 | 3.49 | NA | 38.57 | 090
31780 |  | A | Reconstruct windpipe | 17.62 | NA | 11.05 | 1.86 | NA | 30.53 | 090
31781 |  | A | Reconstruct windpipe | 23.40 | NA | 12.06 | 2.45 | NA | 37.91 | 090
31785 |  | A | Remove windpipe lesion | 17.13 | NA | 10.32 | 1.63 | NA | 29.08 | 090
31786 |  | A | Remove windpipe lesion | 23.84 | NA | 13.13 | 2.64 | NA | 39.61 | 090
31800 |  | A | Repair of windpipe injury | 7.39 | NA | 4.88 | 0.80 | NA | 13.07 | 090
31805 |  | A | Repair of windpipe injury | 13.06 | NA | 7.10 | 1.74 | NA | 21.90 | 090
31820 |  | A | Closure of windpipe lesion | 4.46 | 5.59 | 4.96 | 0.42 | 10.47 | 9.84 | 090
31825 |  | A | Repair of windpipe defect | 6.77 | 7.68 | 7.11 | 0.60 | 15.05 | 14.48 | 090
31830 |  | A | Revise windpipe scar | 4.47 | 5.74 | 5.33 | 0.43 | 10.64 | 10.23 | 090
31899 |  | C | Airways surgical procedure | 0.00 | 0.00 | 0.00 | 0.00 | 0.00 | 0.00 | YYY
32000 |  | A | Drainage of chest | 1.53 | 3.13 | 0.49 | 0.08 | 4.74 | 2.10 | 000
32002 |  | A | Treatment of collapsed lung | 2.18 | 3.34 | 0.84 | 0.13 | 5.65 | 3.15 | 000
32005 |  | A | Treat lung lining chemically | 2.18 | 6.45 | 0.69 | 0.20 | 8.83 | 3.07 | 000
32020 |  | A | Insertion of chest tube | 3.96 | NA | 1.45 | 0.43 | NA | 5.84 | 000
32035 |  | A | Exploration of chest | 8.62 | NA | 5.71 | 1.22 | NA | 15.55 | 090
32036 |  | A | Exploration of chest | 9.62 | NA | 6.23 | 1.44 | NA | 17.29 | 090
32095 |  | A | Biopsy through chest wall | 8.31 | NA | 5.22 | 1.19 | NA | 14.72 | 090
32100 |  | A | Exploration/biopsy of chest | 15.15 | NA | 7.65 | 1.74 | NA | 24.54 | 090
32110 |  | A | Explore/repair chest | 22.87 | NA | 10.54 | 1.95 | NA | 35.36 | 090
32120 |  | A | Re-exploration of chest | 11.47 | NA | 6.87 | 1.70 | NA | 20.04 | 090
32124 |  | A | Explore chest free adhesions | 12.65 | NA | 7.04 | 1.81 | NA | 21.50 | 090
32140 |  | A | Removal of lung lesion(s) | 13.85 | NA | 7.50 | 2.01 | NA | 23.36 | 090
32141 |  | A | Remove/treat lung lesions | 13.92 | NA | 7.38 | 2.06 | NA | 23.36 | 090
32150 |  | A | Removal of lung lesion(s) | 14.07 | NA | 7.47 | 1.92 | NA | 23.46 | 090
32151 |  | A | Remove lung foreign body | 14.13 | NA | 7.85 | 1.79 | NA | 23.77 | 090
32160 |  | A | Open chest heart massage | 9.25 | NA | 5.21 | 1.21 | NA | 15.67 | 090
32200 |  | A | Drain, open, lung lesion | 15.20 | NA | 8.48 | 1.75 | NA | 25.43 | 090
32201 |  | A | Drain, percut, lung lesion | 3.98 | NA | 1.32 | 0.22 | NA | 5.52 | 000
32215 |  | A | Treat chest lining | 11.27 | NA | 6.69 | 1.61 | NA | 19.57 | 090
32220 |  | A | Release of lung | 23.86 | NA | 12.56 | 2.86 | NA | 39.28 | 090
32225 |  | A | Partial release of lung | 13.88 | NA | 7.47 | 2.04 | NA | 23.39 | 090
32310 |  | A | Removal of chest lining | 13.36 | NA | 7.22 | 1.98 | NA | 22.56 | 090
32320 |  | A | Free/remove chest lining | 23.86 | NA | 11.88 | 3.00 | NA | 38.74 | 090
32400 |  | A | Needle biopsy chest lining | 1.75 | 1.73 | 0.56 | 0.08 | 3.56 | 2.39 | 000
32402 |  | A | Open biopsy chest lining | 7.52 | NA | 4.96 | 1.09 | NA | 13.57 | 090
32405 |  | A | Biopsy, lung or mediastinum | 1.92 | 2.14 | 0.64 | 0.11 | 4.17 | 2.67 | 000
32420 |  | A | Puncture/clear lung | 2.17 | NA | 0.83 | 0.13 | NA | 3.13 | 000
32440 |  | A | Removal of lung | 24.86 | NA | 12.56 | 3.07 | NA | 40.49 | 090
32442 |  | A | Sleeve pneumonectomy | 26.09 | NA | 14.29 | 3.74 | NA | 44.12 | 090
32445 |  | A | Removal of lung | 24.95 | NA | 13.70 | 3.73 | NA | 42.38 | 090
32480 |  | A | Partial removal of lung | 23.61 | NA | 11.77 | 2.68 | NA | 38.06 | 090
32482 |  | A | Bilobectomy | 24.86 | NA | 12.62 | 2.82 | NA | 40.30 | 090
32484 |  | A | Segmentectomy | 20.57 | NA | 11.08 | 3.04 | NA | 34.69 | 090
32486 |  | A | Sleeve lobectomy | 23.78 | NA | 12.84 | 3.60 | NA | 40.22 | 090
32488 |  | A | Completion pneumonectomy | 25.56 | NA | 13.39 | 3.81 | NA | 42.76 | 090
32491 |  | R | Lung volume reduction | 21.13 | NA | 12.19 | 3.19 | NA | 36.51 | 090
32500 |  | A | Partial removal of lung | 21.87 | NA | 11.98 | 2.12 | NA | 35.97 | 090
32501 |  | A | Repair bronchus add-on | 4.66 | NA | 1.52 | 0.67 | NA | 6.85 | ZZZ
32520 |  | A | Remove lung & revise chest | 21.56 | NA | 10.98 | 3.25 | NA | 35.79 | 090
32522 |  | A | Remove lung & revise chest | 24.06 | NA | 11.81 | 3.40 | NA | 39.27 | 090
32525 |  | A | Remove lung & revise chest | 26.35 | NA | 12.50 | 3.90 | NA | 42.75 | 090
32540 |  | A | Removal of lung lesion | 14.56 | NA | 9.33 | 2.21 | NA | 26.10 | 090
32601 |  | A | Thoracoscopy, diagnostic | 5.43 | NA | 2.36 | 0.76 | NA | 8.55 | 000
32602 |  | A | Thoracoscopy, diagnostic | 5.93 | NA | 2.52 | 0.84 | NA | 9.29 | 000
32603 |  | A | Thoracoscopy, diagnostic | 7.77 | NA | 3.06 | 0.91 | NA | 11.74 | 000
32604 |  | A | Thoracoscopy, diagnostic | 8.73 | NA | 3.46 | 1.16 | NA | 13.35 | 000
32605 |  | A | Thoracoscopy, diagnostic | 6.89 | NA | 2.89 | 1.03 | NA | 10.81 | 000
32606 |  | A | Thoracoscopy, diagnostic | 8.35 | NA | 3.33 | 1.19 | NA | 12.87 | 000
32650 |  | A | Thoracoscopy, surgical | 10.69 | NA | 6.57 | 1.50 | NA | 18.76 | 090
32651 |  | A | Thoracoscopy, surgical | 12.84 | NA | 7.08 | 1.80 | NA | 21.72 | 090
32652 |  | A | Thoracoscopy, surgical | 18.55 | NA | 9.87 | 2.76 | NA | 31.18 | 090
32653 |  | A | Thoracoscopy, surgical | 12.80 | NA | 6.80 | 1.86 | NA | 21.46 | 090
32654 |  | A | Thoracoscopy, surgical | 12.37 | NA | 7.29 | 1.81 | NA | 21.47 | 090
32655 |  | A | Thoracoscopy, surgical | 13.03 | NA | 7.09 | 1.83 | NA | 21.95 | 090
32656 |  | A | Thoracoscopy, surgical | 12.84 | NA | 7.66 | 1.93 | NA | 22.43 | 090
32657 |  | A | Thoracoscopy, surgical | 13.57 | NA | 7.48 | 1.97 | NA | 23.02 | 090
32658 |  | A | Thoracoscopy, surgical | 11.56 | NA | 7.09 | 1.76 | NA | 20.41 | 090
32659 |  | A | Thoracoscopy, surgical | 11.52 | NA | 7.21 | 1.67 | NA | 20.40 | 090
32660 |  | A | Thoracoscopy, surgical | 17.33 | NA | 9.17 | 2.51 | NA | 29.01 | 090
32661 |  | A | Thoracoscopy, surgical | 13.17 | NA | 7.55 | 1.99 | NA | 22.71 | 090
32662 |  | A | Thoracoscopy, surgical | 16.35 | NA | 8.57 | 2.41 | NA | 27.33 | 090
32663 |  | A | Thoracoscopy, surgical | 18.36 | NA | 10.42 | 2.73 | NA | 31.51 | 090
32664 |  | A | Thoracoscopy, surgical | 14.12 | NA | 7.51 | 2.04 | NA | 23.67 | 090
32665 |  | A | Thoracoscopy, surgical | 15.45 | NA | 8.04 | 2.15 | NA | 25.64 | 090
32800 |  | A | Repair lung hernia | 13.61 | NA | 7.29 | 1.81 | NA | 22.71 | 090
32810 |  | A | Close chest after drainage | 12.98 | NA | 7.35 | 1.86 | NA | 22.19 | 090
32815 |  | A | Close bronchial fistula | 23.02 | NA | 10.69 | 3.40 | NA | 37.11 | 090
32820 |  | A | Reconstruct injured chest | 21.36 | NA | 11.99 | 2.77 | NA | 36.12 | 090
32850 |  | X | Donor pneumonectomy | 0.00 | 0.00 | 0.00 | 0.00 | 0.00 | 0.00 | XXX
32851 |  | A | Lung transplant, single | 38.41 | NA | 26.78 | 5.87 | NA | 71.06 | 090
32852 |  | A | Lung transplant with bypass | 41.56 | NA | 31.65 | 6.20 | NA | 79.41 | 090
32853 |  | A | Lung transplant, double | 47.54 | NA | 30.49 | 7.35 | NA | 85.38 | 090
32854 |  | A | Lung transplant with bypass | 50.69 | NA | 33.59 | 7.68 | NA | 91.96 | 090
32900 |  | A | Removal of rib(s) | 20.15 | NA | 9.75 | 2.90 | NA | 32.80 | 090
32905 |  | A | Revise & repair chest wall | 20.63 | NA | 9.95 | 3.04 | NA | 33.62 | 090
32906 |  | A | Revise & repair chest wall | 26.62 | NA | 11.85 | 3.96 | NA | 42.43 | 090
32940 |  | A | Revision of lung | 19.32 | NA | 9.22 | 2.96 | NA | 31.50 | 090
32960 |  | A | Therapeutic pneumothorax | 1.83 | 1.80 | 0.58 | 0.14 | 3.77 | 2.55 | 000
32997 |  | A | Total lung lavage | 5.97 | NA | 1.92 | 0.66 | NA | 8.55 | 000
32999 |  | C | Chest surgery procedure | 0.00 | 0.00 | 0.00 | 0.00 | 0.00 | 0.00 | YYY
33010 |  | A | Drainage of heart sac | 2.23 | NA | 0.97 | 0.16 | NA | 3.36 | 000
33011 |  | A | Repeat drainage of heart sac | 2.23 | NA | 1.00 | 0.16 | NA | 3.39 | 000
33015 |  | A | Incision of heart sac | 6.76 | NA | 4.83 | 0.77 | NA | 12.36 | 090
33020 |  | A | Incision of heart sac | 12.54 | NA | 6.61 | 1.80 | NA | 20.95 | 090
33025 |  | A | Incision of heart sac | 12.02 | NA | 6.17 | 1.80 | NA | 19.99 | 090
33030 |  | A | Partial removal of heart sac | 18.60 | NA | 9.24 | 2.88 | NA | 30.72 | 090
33031 |  | A | Partial removal of heart sac | 21.67 | NA | 9.74 | 3.33 | NA | 34.74 | 090
33050 |  | A | Removal of heart sac lesion | 14.28 | NA | 7.63 | 2.07 | NA | 23.98 | 090
33120 |  | A | Removal of heart lesion | 24.42 | NA | 11.27 | 3.67 | NA | 39.36 | 090
33130 |  | A | Removal of heart lesion | 21.27 | NA | 9.93 | 3.01 | NA | 34.21 | 090
33140 |  | A | Heart revascularize (tmr) | 19.89 | NA | 10.53 | 2.72 | NA | 33.14 | 090
33141 |  | A | Heart tmr w/other procedure | 4.81 | NA | 1.55 | 0.66 | NA | 7.02 | ZZZ
33200 |  | A | Insertion of heart pacemaker | 12.41 | NA | 6.84 | 1.40 | NA | 20.65 | 090
33201 |  | A | Insertion of heart pacemaker | 10.12 | NA | 6.48 | 1.45 | NA | 18.05 | 090
33206 |  | A | Insertion of heart pacemaker | 6.63 | NA | 4.54 | 0.60 | NA | 11.77 | 090
33207 |  | A | Insertion of heart pacemaker | 7.99 | NA | 4.75 | 0.68 | NA | 13.42 | 090
33208 |  | A | Insertion of heart pacemaker | 8.08 | NA | 4.87 | 0.65 | NA | 13.60 | 090
33210 |  | A | Insertion of heart electrode | 3.28 | NA | 1.27 | 0.20 | NA | 4.75 | 000
33211 |  | A | Insertion of heart electrode | 3.38 | NA | 1.33 | 0.20 | NA | 4.91 | 000
33212 |  | A | Insertion of pulse generator | 5.49 | NA | 3.40 | 0.53 | NA | 9.42 | 090
33213 |  | A | Insertion of pulse generator | 6.33 | NA | 3.78 | 0.55 | NA | 10.66 | 090
33214 |  | A | Upgrade of pacemaker system | 7.71 | NA | 4.99 | 0.62 | NA | 13.32 | 090
33215 |  | A | Reposition pacing-defib lead | 4.73 | NA | 3.19 | 0.43 | NA | 8.35 | 090
33216 |  | A | Insert lead pace-defib, one | 5.75 | NA | 4.30 | 0.43 | NA | 10.48 | 090
33217 |  | A | Insert lead pace-defib, dual | 5.72 | NA | 4.34 | 0.43 | NA | 10.49 | 090
33218 |  | A | Repair lead pace-defib, one | 5.41 | NA | 4.35 | 0.48 | NA | 10.24 | 090
33220 |  | A | Repair lead pace-defib, dual | 5.49 | NA | 4.34 | 0.47 | NA | 10.30 | 090
33222 |  | A | Revise pocket, pacemaker | 4.93 | NA | 4.34 | 0.47 | NA | 9.74 | 090
33223 |  | A | Revise pocket, pacing-defib | 6.42 | NA | 4.61 | 0.53 | NA | 11.56 | 090
33224 |  | A | Insert pacing lead & connect | 9.00 | NA | 4.05 | 0.43 | NA | 13.48 | 000
33225 |  | A | L ventric pacing lead add-on | 8.29 | NA | 3.24 | 0.43 | NA | 11.96 | ZZZ
33226 |  | A | Reposition l ventric lead | 8.64 | NA | 3.91 | 0.43 | NA | 12.98 | 000
33233 |  | A | Removal of pacemaker system | 3.27 | NA | 3.28 | 0.26 | NA | 6.81 | 090
33234 |  | A | Removal of pacemaker system | 7.78 | NA | 4.93 | 0.67 | NA | 13.38 | 090
33235 |  | A | Removal pacemaker electrode | 9.35 | NA | 6.80 | 0.82 | NA | 16.97 | 090
33236 |  | A | Remove electrode/thoracotomy | 12.53 | NA | 7.22 | 1.79 | NA | 21.54 | 090
33237 |  | A | Remove electrode/thoracotomy | 13.63 | NA | 7.61 | 1.88 | NA | 23.12 | 090
33238 |  | A | Remove electrode/thoracotomy | 15.13 | NA | 8.06 | 1.87 | NA | 25.06 | 090
33240 |  | A | Insert pulse generator | 7.56 | NA | 4.62 | 0.64 | NA | 12.82 | 090
33241 |  | A | Remove pulse generator | 3.22 | NA | 2.97 | 0.25 | NA | 6.44 | 090
33243 |  | A | Remove eltrd/thoracotomy | 22.51 | NA | 11.15 | 3.03 | NA | 36.69 | 090
33244 |  | A | Remove eltrd, transven | 13.68 | NA | 8.87 | 1.26 | NA | 23.81 | 090
33245 |  | A | Insert epic eltrd pace-defib | 14.22 | NA | 7.86 | 1.53 | NA | 23.61 | 090
33246 |  | A | Insert epic eltrd/generator | 20.59 | NA | 10.15 | 2.66 | NA | 33.40 | 090
33249 |  | A | Eltrd/insert pace-defib | 14.15 | NA | 8.51 | 0.96 | NA | 23.62 | 090
33250 |  | A | Ablate heart dysrhythm focus | 21.73 | NA | 11.22 | 1.21 | NA | 34.16 | 090
33251 |  | A | Ablate heart dysrhythm focus | 24.74 | NA | 11.33 | 2.89 | NA | 38.96 | 090
33253 |  | A | Reconstruct atria | 30.88 | NA | 13.44 | 4.41 | NA | 48.73 | 090
33261 |  | A | Ablate heart dysrhythm focus | 24.74 | NA | 11.46 | 3.38 | NA | 39.58 | 090
33282 |  | A | Implant pat-active ht record | 4.15 | NA | 4.11 | 0.47 | NA | 8.73 | 090
33284 |  | A | Remove pat-active ht record | 2.49 | NA | 3.52 | 0.28 | NA | 6.29 | 090
33300 |  | A | Repair of heart wound | 17.82 | NA | 9.06 | 2.29 | NA | 29.17 | 090
33305 |  | A | Repair of heart wound | 21.32 | NA | 10.30 | 3.21 | NA | 34.83 | 090
33310 |  | A | Exploratory heart surgery | 18.40 | NA | 9.27 | 2.71 | NA | 30.38 | 090
33315 |  | A | Exploratory heart surgery | 22.24 | NA | 10.53 | 3.48 | NA | 36.25 | 090
33320 |  | A | Repair major blood vessel(s) | 16.69 | NA | 8.14 | 1.99 | NA | 26.82 | 090
33321 |  | A | Repair major vessel | 20.08 | NA | 9.53 | 3.24 | NA | 32.85 | 090
33322 |  | A | Repair major blood vessel(s) | 20.50 | NA | 10.07 | 3.01 | NA | 33.58 | 090
33330 |  | A | Insert major vessel graft | 21.31 | NA | 10.06 | 2.98 | NA | 34.35 | 090
33332 |  | A | Insert major vessel graft | 23.82 | NA | 10.37 | 2.94 | NA | 37.13 | 090
33335 |  | A | Insert major vessel graft | 29.84 | NA | 12.98 | 4.54 | NA | 47.36 | 090
33400 |  | A | Repair of aortic valve | 28.34 | NA | 15.16 | 3.70 | NA | 47.20 | 090
33401 |  | A | Valvuloplasty, open | 23.77 | NA | 13.23 | 3.25 | NA | 40.25 | 090
33403 |  | A | Valvuloplasty, w/cp bypass | 24.75 | NA | 13.87 | 2.97 | NA | 41.59 | 090
33404 |  | A | Prepare heart-aorta conduit | 28.38 | NA | 14.06 | 3.97 | NA | 46.41 | 090
33405 |  | A | Replacement of aortic valve | 34.80 | NA | 17.66 | 4.63 | NA | 57.09 | 090
33406 |  | A | Replacement of aortic valve | 37.29 | NA | 18.47 | 4.88 | NA | 60.64 | 090
33410 |  | A | Replacement of aortic valve | 32.27 | NA | 16.11 | 4.93 | NA | 53.31 | 090
33411 |  | A | Replacement of aortic valve | 36.04 | NA | 18.11 | 4.99 | NA | 59.14 | 090
33412 |  | A | Replacement of aortic valve | 41.76 | NA | 19.84 | 5.59 | NA | 67.19 | 090
33413 |  | A | Replacement of aortic valve | 43.25 | NA | 20.20 | 5.11 | NA | 68.56 | 090
33414 |  | A | Repair of aortic valve | 30.18 | NA | 13.72 | 4.54 | NA | 48.44 | 090
33415 |  | A | Revision, subvalvular tissue | 27.00 | NA | 11.75 | 3.90 | NA | 42.65 | 090
33416 |  | A | Revise ventricle muscle | 30.18 | NA | 13.11 | 4.61 | NA | 47.90 | 090
33417 |  | A | Repair of aortic valve | 28.37 | NA | 13.21 | 4.29 | NA | 45.87 | 090
33420 |  | A | Revision of mitral valve | 22.57 | NA | 9.71 | 1.77 | NA | 34.05 | 090
33422 |  | A | Revision of mitral valve | 25.79 | NA | 13.17 | 3.96 | NA | 42.92 | 090
33425 |  | A | Repair of mitral valve | 26.85 | NA | 12.64 | 3.60 | NA | 43.09 | 090
33426 |  | A | Repair of mitral valve | 32.81 | NA | 16.57 | 4.64 | NA | 54.02 | 090
33427 |  | A | Repair of mitral valve | 39.77 | NA | 18.74 | 5.15 | NA | 63.66 | 090
33430 |  | A | Replacement of mitral valve | 33.31 | NA | 16.71 | 4.73 | NA | 54.75 | 090
33460 |  | A | Revision of tricuspid valve | 23.47 | NA | 10.93 | 3.62 | NA | 38.02 | 090
33463 |  | A | Valvuloplasty, tricuspid | 25.47 | NA | 12.51 | 3.80 | NA | 41.78 | 090
33464 |  | A | Valvuloplasty, tricuspid | 27.17 | NA | 13.09 | 4.16 | NA | 44.42 | 090
33465 |  | A | Replace tricuspid valve | 28.63 | NA | 12.58 | 4.33 | NA | 45.54 | 090
33468 |  | A | Revision of tricuspid valve | 29.95 | NA | 13.23 | 4.79 | NA | 47.97 | 090
33470 |  | A | Revision of pulmonary valve | 20.69 | NA | 10.65 | 3.37 | NA | 34.71 | 090
33471 |  | A | Valvotomy, pulmonary valve | 22.12 | NA | 9.70 | 3.60 | NA | 35.42 | 090
33472 |  | A | Revision of pulmonary valve | 22.12 | NA | 11.73 | 3.50 | NA | 37.35 | 090
33474 |  | A | Revision of pulmonary valve | 22.91 | NA | 10.68 | 3.40 | NA | 36.99 | 090
33475 |  | A | Replacement, pulmonary valve | 32.81 | NA | 14.87 | 3.16 | NA | 50.84 | 090
33476 |  | A | Revision of heart chamber | 25.62 | NA | 11.87 | 2.88 | NA | 40.37 | 090
33478 |  | A | Revision of heart chamber | 26.59 | NA | 12.58 | 4.27 | NA | 43.44 | 090
33496 |  | A | Repair, prosth valve clot | 27.09 | NA | 12.39 | 4.12 | NA | 43.60 | 090
33500 |  | A | Repair heart vessel fistula | 25.40 | NA | 11.23 | 3.36 | NA | 39.99 | 090
33501 |  | A | Repair heart vessel fistula | 17.68 | NA | 8.20 | 2.46 | NA | 28.34 | 090
33502 |  | A | Coronary artery correction | 20.92 | NA | 10.72 | 3.01 | NA | 34.65 | 090
33503 |  | A | Coronary artery graft | 21.66 | NA | 9.77 | 1.70 | NA | 33.13 | 090
33504 |  | A | Coronary artery graft | 24.52 | NA | 11.59 | 3.64 | NA | 39.75 | 090
33505 |  | A | Repair artery w/tunnel | 26.69 | NA | 12.78 | 1.82 | NA | 41.29 | 090
33506 |  | A | Repair artery, translocation | 35.30 | NA | 14.37 | 3.82 | NA | 53.49 | 090
33508 |  | A | Endoscopic vein harvest | 0.31 | NA | 0.10 | 0.04 | NA | 0.45 | ZZZ
33510 |  | A | CABG, vein, single | 28.83 | NA | 15.76 | 3.75 | NA | 48.34 | 090
33511 |  | A | CABG, vein, two | 29.83 | NA | 16.46 | 4.00 | NA | 50.29 | 090
33512 |  | A | CABG, vein, three | 31.62 | NA | 17.00 | 4.43 | NA | 53.05 | 090
33513 |  | A | CABG, vein, four | 31.82 | NA | 17.16 | 4.78 | NA | 53.76 | 090
33514 |  | A | CABG, vein, five | 32.56 | NA | 17.41 | 5.24 | NA | 55.21 | 090
33516 |  | A | Cabg, vein, six or more | 34.80 | NA | 18.15 | 5.54 | NA | 58.49 | 090
33517 |  | A | CABG, artery-vein, single | 2.56 | NA | 0.82 | 0.38 | NA | 3.76 | ZZZ
33518 |  | A | CABG, artery-vein, two | 4.82 | NA | 1.56 | 0.73 | NA | 7.11 | ZZZ
33519 |  | A | CABG, artery-vein, three | 7.08 | NA | 2.28 | 1.07 | NA | 10.43 | ZZZ
33521 |  | A | CABG, artery-vein, four | 9.35 | NA | 3.02 | 1.41 | NA | 13.78 | ZZZ
33522 |  | A | CABG, artery-vein, five | 11.60 | NA | 3.74 | 1.77 | NA | 17.11 | ZZZ
33523 |  | A | Cabg, art-vein, six or more | 13.87 | NA | 4.45 | 2.13 | NA | 20.45 | ZZZ
33530 |  | A | Coronary artery, bypass/reop | 5.83 | NA | 1.88 | 0.87 | NA | 8.58 | ZZZ
33533 |  | A | CABG, arterial, single | 29.83 | NA | 15.90 | 3.88 | NA | 49.61 | 090
33534 |  | A | CABG, arterial, two | 32.02 | NA | 17.07 | 4.35 | NA | 53.44 | 090
33535 |  | A | CABG, arterial, three | 34.30 | NA | 17.54 | 4.76 | NA | 56.60 | 090
33536 |  | A | Cabg, arterial, four or more | 37.29 | NA | 17.82 | 3.94 | NA | 59.05 | 090
33542 |  | A | Removal of heart lesion | 28.69 | NA | 12.64 | 4.33 | NA | 45.66 | 090
33545 |  | A | Repair of heart damage | 36.57 | NA | 15.30 | 5.27 | NA | 57.14 | 090
33572 |  | A | Open coronary endarterectomy | 4.42 | NA | 1.43 | 0.66 | NA | 6.51 | ZZZ
33600 |  | A | Closure of valve | 29.34 | NA | 12.45 | 2.76 | NA | 44.55 | 090
33602 |  | A | Closure of valve | 28.38 | NA | 12.53 | 3.48 | NA | 44.39 | 090
33606 |  | A | Anastomosis/artery-aorta | 30.56 | NA | 13.45 | 4.30 | NA | 48.31 | 090
33608 |  | A | Repair anomaly w/conduit | 30.91 | NA | 13.70 | 5.00 | NA | 49.61 | 090
33610 |  | A | Repair by enlargement | 30.44 | NA | 13.96 | 4.82 | NA | 49.22 | 090
33611 |  | A | Repair double ventricle | 33.81 | NA | 13.75 | 3.93 | NA | 51.49 | 090
33612 |  | A | Repair double ventricle | 34.80 | NA | 14.79 | 5.32 | NA | 54.91 | 090
33615 |  | A | Repair, modified fontan | 33.81 | NA | 14.85 | 3.78 | NA | 52.44 | 090
33617 |  | A | Repair single ventricle | 36.79 | NA | 15.61 | 4.90 | NA | 57.30 | 090
33619 |  | A | Repair single ventricle | 44.74 | NA | 20.07 | 5.65 | NA | 70.46 | 090
33641 |  | A | Repair heart septum defect | 21.27 | NA | 9.32 | 3.20 | NA | 33.79 | 090
33645 |  | A | Revision of heart veins | 24.68 | NA | 11.44 | 3.92 | NA | 40.04 | 090
33647 |  | A | Repair heart septum defects | 28.57 | NA | 13.42 | 4.04 | NA | 46.03 | 090
33660 |  | A | Repair of heart defects | 29.83 | NA | 13.16 | 3.38 | NA | 46.37 | 090
33665 |  | A | Repair of heart defects | 28.44 | NA | 13.26 | 4.57 | NA | 46.27 | 090
33670 |  | A | Repair of heart chambers | 34.80 | NA | 13.40 | 2.61 | NA | 50.81 | 090
33681 |  | A | Repair heart septum defect | 30.44 | NA | 14.21 | 4.23 | NA | 48.88 | 090
33684 |  | A | Repair heart septum defect | 29.48 | NA | 13.35 | 4.52 | NA | 47.35 | 090
33688 |  | A | Repair heart septum defect | 30.45 | NA | 10.80 | 4.66 | NA | 45.91 | 090
33690 |  | A | Reinforce pulmonary artery | 19.44 | NA | 9.98 | 3.07 | NA | 32.49 | 090
33692 |  | A | Repair of heart defects | 30.57 | NA | 13.73 | 4.52 | NA | 48.82 | 090
33694 |  | A | Repair of heart defects | 33.81 | NA | 14.16 | 5.12 | NA | 53.09 | 090
33697 |  | A | Repair of heart defects | 35.79 | NA | 14.34 | 5.44 | NA | 55.57 | 090
33702 |  | A | Repair of heart defects | 26.39 | NA | 12.18 | 4.14 | NA | 42.71 | 090
33710 |  | A | Repair of heart defects | 29.54 | NA | 13.76 | 4.61 | NA | 47.91 | 090
33720 |  | A | Repair of heart defect | 26.41 | NA | 12.04 | 3.85 | NA | 42.30 | 090
33722 |  | A | Repair of heart defect | 28.25 | NA | 13.28 | 4.55 | NA | 46.08 | 090
33730 |  | A | Repair heart-vein defect(s) | 34.05 | NA | 14.14 | 3.42 | NA | 51.61 | 090
33732 |  | A | Repair heart-vein defect | 28.00 | NA | 13.31 | 3.33 | NA | 44.64 | 090
33735 |  | A | Revision of heart chamber | 21.27 | NA | 10.06 | 1.34 | NA | 32.67 | 090
33736 |  | A | Revision of heart chamber | 23.39 | NA | 11.67 | 3.24 | NA | 38.30 | 090
33737 |  | A | Revision of heart chamber | 21.64 | NA | 10.87 | 3.51 | NA | 36.02 | 090
33750 |  | A | Major vessel shunt | 21.29 | NA | 10.32 | 2.09 | NA | 33.70 | 090
33755 |  | A | Major vessel shunt | 21.67 | NA | 8.65 | 3.51 | NA | 33.83 | 090
33762 |  | A | Major vessel shunt | 21.67 | NA | 10.35 | 1.91 | NA | 33.93 | 090
33764 |  | A | Major vessel shunt & graft | 21.67 | NA | 10.20 | 2.31 | NA | 34.18 | 090
33766 |  | A | Major vessel shunt | 22.63 | NA | 11.20 | 3.64 | NA | 37.47 | 090
33767 |  | A | Major vessel shunt | 24.36 | NA | 11.60 | 3.76 | NA | 39.72 | 090
33770 |  | A | Repair great vessels defect | 36.79 | NA | 14.56 | 5.38 | NA | 56.73 | 090
33771 |  | A | Repair great vessels defect | 34.45 | NA | 12.62 | 5.60 | NA | 52.67 | 090
33774 |  | A | Repair great vessels defect | 30.80 | NA | 13.96 | 5.01 | NA | 49.77 | 090
33775 |  | A | Repair great vessels defect | 32.02 | NA | 14.42 | 5.20 | NA | 51.64 | 090
33776 |  | A | Repair great vessels defect | 33.85 | NA | 15.16 | 5.49 | NA | 54.50 | 090
33777 |  | A | Repair great vessels defect | 33.27 | NA | 15.09 | 5.41 | NA | 53.77 | 090
33778 |  | A | Repair great vessels defect | 39.77 | NA | 16.27 | 5.79 | NA | 61.83 | 090
33779 |  | A | Repair great vessels defect | 36.00 | NA | 15.45 | 2.88 | NA | 54.33 | 090
33780 |  | A | Repair great vessels defect | 41.51 | NA | 18.87 | 6.24 | NA | 66.62 | 090
33781 |  | A | Repair great vessels defect | 36.24 | NA | 13.78 | 5.89 | NA | 55.91 | 090
33786 |  | A | Repair arterial trunk | 38.78 | NA | 16.09 | 5.62 | NA | 60.49 | 090
33788 |  | A | Revision of pulmonary artery | 26.47 | NA | 12.05 | 3.98 | NA | 42.50 | 090
33800 |  | A | Aortic suspension | 16.15 | NA | 7.73 | 1.33 | NA | 25.21 | 090
33802 |  | A | Repair vessel defect | 17.56 | NA | 8.97 | 1.87 | NA | 28.40 | 090
33803 |  | A | Repair vessel defect | 19.49 | NA | 9.53 | 3.15 | NA | 32.17 | 090
33813 |  | A | Repair septal defect | 20.53 | NA | 10.55 | 3.33 | NA | 34.41 | 090
33814 |  | A | Repair septal defect | 25.62 | NA | 12.26 | 3.02 | NA | 40.90 | 090
33820 |  | A | Revise major vessel | 16.20 | NA | 8.05 | 2.52 | NA | 26.77 | 090
33822 |  | A | Revise major vessel | 17.22 | NA | 8.58 | 2.79 | NA | 28.59 | 090
33824 |  | A | Revise major vessel | 19.41 | NA | 9.68 | 3.13 | NA | 32.22 | 090
33840 |  | A | Remove aorta constriction | 20.51 | NA | 9.99 | 2.83 | NA | 33.33 | 090
33845 |  | A | Remove aorta constriction | 21.99 | NA | 10.97 | 3.48 | NA | 36.44 | 090
33851 |  | A | Remove aorta constriction | 21.15 | NA | 10.36 | 3.43 | NA | 34.94 | 090
33852 |  | A | Repair septal defect | 23.57 | NA | 11.20 | 3.82 | NA | 38.59 | 090
33853 |  | A | Repair septal defect | 31.54 | NA | 14.32 | 5.07 | NA | 50.93 | 090
33860 |  | A | Ascending aortic graft | 37.78 | NA | 16.02 | 5.15 | NA | 58.95 | 090
33861 |  | A | Ascending aortic graft | 41.76 | NA | 17.27 | 5.08 | NA | 64.11 | 090
33863 |  | A | Ascending aortic graft | 44.74 | NA | 18.23 | 5.51 | NA | 68.48 | 090
33870 |  | A | Transverse aortic arch graft | 43.75 | NA | 17.93 | 6.10 | NA | 67.78 | 090
33875 |  | A | Thoracic aortic graft | 32.87 | NA | 13.80 | 4.89 | NA | 51.56 | 090
33877 |  | A | Thoracoabdominal graft | 42.36 | NA | 16.28 | 6.08 | NA | 64.72 | 090
33910 |  | A | Remove lung artery emboli | 24.45 | NA | 11.15 | 3.67 | NA | 39.27 | 090
33915 |  | A | Remove lung artery emboli | 20.90 | NA | 9.60 | 1.44 | NA | 31.94 | 090
33916 |  | A | Surgery of great vessel | 25.68 | NA | 11.18 | 3.64 | NA | 40.50 | 090
33917 |  | A | Repair pulmonary artery | 24.36 | NA | 11.85 | 3.80 | NA | 40.01 | 090
33918 |  | A | Repair pulmonary atresia | 26.30 | NA | 12.22 | 4.10 | NA | 42.62 | 090
33919 |  | A | Repair pulmonary atresia | 39.77 | NA | 17.13 | 4.17 | NA | 61.07 | 090
33920 |  | A | Repair pulmonary atresia | 31.77 | NA | 13.76 | 4.33 | NA | 49.86 | 090
33922 |  | A | Transect pulmonary artery | 23.39 | NA | 10.81 | 2.76 | NA | 36.96 | 090
33924 |  | A | Remove pulmonary shunt | 5.47 | NA | 1.80 | 0.89 | NA | 8.16 | ZZZ
33930 |  | X | Removal of donor heart/lung | 0.00 | 0.00 | 0.00 | 0.00 | 0.00 | 0.00 | XXX
33935 |  | R | Transplantation, heart/lung | 60.61 | NA | 28.07 | 9.77 | NA | 98.45 | 090
33940 |  | X | Removal of donor heart | 0.00 | 0.00 | 0.00 | 0.00 | 0.00 | 0.00 | XXX
33945 |  | R | Transplantation of heart | 41.86 | NA | 20.81 | 6.50 | NA | 69.17 | 090
33960 |  | A | External circulation assist | 19.25 | NA | 4.91 | 2.57 | NA | 26.73 | 000
33961 |  | A | External circulation assist | 10.87 | NA | 3.60 | 1.76 | NA | 16.23 | ZZZ
33967 |  | A | Insert ia percut device | 4.82 | NA | 1.86 | 0.34 | NA | 7.02 | 000
33968 |  | A | Remove aortic assist device | 0.64 | NA | 0.23 | 0.08 | NA | 0.95 | 000
33970 |  | A | Aortic circulation assist | 6.71 | NA | 2.25 | 0.84 | NA | 9.80 | 000
33971 |  | A | Aortic circulation assist | 9.63 | NA | 5.90 | 1.16 | NA | 16.69 | 090
33973 |  | A | Insert balloon device | 9.70 | NA | 3.27 | 1.21 | NA | 14.18 | 000
33974 |  | A | Remove intra-aortic balloon | 14.33 | NA | 7.80 | 1.77 | NA | 23.90 | 090
33975 |  | A | Implant ventricular device | 20.88 | NA | 6.20 | 2.06 | NA | 29.14 | XXX
33976 |  | A | Implant ventricular device | 22.87 | NA | 7.42 | 3.38 | NA | 33.67 | XXX
33977 |  | A | Remove ventricular device | 19.18 | NA | 10.69 | 2.92 | NA | 32.79 | 090
33978 |  | A | Remove ventricular device | 21.61 | NA | 11.38 | 3.19 | NA | 36.18 | 090
33979 |  | A | Insert intracorporeal device | 45.74 | NA | 14.63 | 4.77 | NA | 65.14 | XXX
33980 |  | A | Remove intracorporeal device | 55.93 | NA | 24.64 | 5.51 | NA | 86.08 | 090
33999 |  | C | Cardiac surgery procedure | 0.00 | 0.00 | 0.00 | 0.00 | 0.00 | 0.00 | YYY
34001 |  | A | Removal of artery clot | 12.84 | NA | 6.70 | 1.75 | NA | 21.29 | 090
34051 |  | A | Removal of artery clot | 15.12 | NA | 7.59 | 2.28 | NA | 24.99 | 090
34101 |  | A | Removal of artery clot | 9.94 | NA | 5.35 | 1.33 | NA | 16.62 | 090
34111 |  | A | Removal of arm artery clot | 9.94 | NA | 5.37 | 1.02 | NA | 16.33 | 090
34151 |  | A | Removal of artery clot | 24.86 | NA | 10.50 | 2.21 | NA | 37.57 | 090
34201 |  | A | Removal of artery clot | 9.97 | NA | 5.41 | 1.22 | NA | 16.60 | 090
34203 |  | A | Removal of leg artery clot | 16.41 | NA | 8.09 | 1.64 | NA | 26.14 | 090
34401 |  | A | Removal of vein clot | 24.86 | NA | 10.71 | 1.44 | NA | 37.01 | 090
34421 |  | A | Removal of vein clot | 11.93 | NA | 6.29 | 1.14 | NA | 19.36 | 090
34451 |  | A | Removal of vein clot | 26.85 | NA | 11.43 | 1.91 | NA | 40.19 | 090
34471 |  | A | Removal of vein clot | 10.12 | NA | 5.38 | 1.08 | NA | 16.58 | 090
34490 |  | A | Removal of vein clot | 9.80 | NA | 5.43 | 0.87 | NA | 16.10 | 090
34501 |  | A | Repair valve, femoral vein | 15.91 | NA | 8.34 | 1.64 | NA | 25.89 | 090
34502 |  | A | Reconstruct vena cava | 26.80 | NA | 12.20 | 3.58 | NA | 42.58 | 090
34510 |  | A | Transposition of vein valve | 18.84 | NA | 9.29 | 1.92 | NA | 30.05 | 090
34520 |  | A | Cross-over vein graft | 17.85 | NA | 8.74 | 1.69 | NA | 28.28 | 090
34530 |  | A | Leg vein fusion | 16.55 | NA | 8.63 | 2.47 | NA | 27.65 | 090
34800 |  | A | Endovasc abdo repair w/tube | 20.63 | NA | 9.19 | 1.79 | NA | 31.61 | 090
34802 |  | A | Endovasc abdo repr w/device | 22.87 | NA | 9.88 | 1.98 | NA | 34.73 | 090
34804 |  | A | Endovasc abdo repr w/device | 22.87 | NA | 9.88 | 1.98 | NA | 34.73 | 090
34805 |  | A | Endovasc abdo repair w/pros | 21.76 | NA | 9.51 | 1.98 | NA | 33.25 | 090
34808 |  | A | Endovasc abdo occlud device | 4.11 | NA | 1.38 | 0.35 | NA | 5.84 | ZZZ
34812 |  | A | Xpose for endoprosth, femorl | 6.71 | NA | 2.25 | 0.59 | NA | 9.55 | 000
34813 |  | A | Femoral endovas graft add-on | 4.77 | NA | 1.58 | 0.41 | NA | 6.76 | ZZZ
34820 |  | A | Xpose for endoprosth, iliac | 9.69 | NA | 3.26 | 0.84 | NA | 13.79 | 000
34825 |  | A | Endovasc extend prosth, init | 11.93 | NA | 6.20 | 1.03 | NA | 19.16 | 090
34826 |  | A | Endovasc exten prosth, addl | 4.11 | NA | 1.39 | 0.35 | NA | 5.85 | ZZZ
34830 |  | A | Open aortic tube prosth repr | 32.40 | NA | 13.68 | 2.80 | NA | 48.88 | 090
34831 |  | A | Open aortoiliac prosth repr | 35.14 | NA | 11.90 | 3.03 | NA | 50.07 | 090
34832 |  | A | Open aortofemor prosth repr | 35.14 | NA | 14.67 | 3.03 | NA | 52.84 | 090
34833 |  | A | Xpose for endoprosth, iliac | 11.93 | NA | 4.54 | 0.84 | NA | 17.31 | 000
34834 |  | A | Xpose, endoprosth, brachial | 5.32 | NA | 2.25 | 0.59 | NA | 8.16 | 000
34900 |  | A | Endovasc iliac repr w/graft | 16.29 | NA | 7.90 | 1.79 | NA | 25.98 | 090
35001 |  | A | Repair defect of artery | 19.53 | NA | 9.52 | 2.92 | NA | 31.97 | 090
35002 |  | A | Repair artery rupture, neck | 20.88 | NA | 9.78 | 2.18 | NA | 32.84 | 090
35005 |  | A | Repair defect of artery | 18.02 | NA | 8.88 | 1.62 | NA | 28.52 | 090
35011 |  | A | Repair defect of artery | 17.90 | NA | 8.00 | 1.56 | NA | 27.46 | 090
35013 |  | A | Repair artery rupture, arm | 21.87 | NA | 9.71 | 2.29 | NA | 33.87 | 090
35021 |  | A | Repair defect of artery | 19.54 | NA | 9.25 | 2.31 | NA | 31.10 | 090
35022 |  | A | Repair artery rupture, chest | 23.05 | NA | 10.01 | 2.39 | NA | 35.45 | 090
35045 |  | A | Repair defect of arm artery | 17.47 | NA | 7.61 | 1.50 | NA | 26.58 | 090
35081 |  | A | Repair defect of artery | 27.85 | NA | 11.45 | 3.84 | NA | 43.14 | 090
35082 |  | A | Repair artery rupture, aorta | 38.28 | NA | 15.35 | 4.88 | NA | 58.51 | 090
35091 |  | A | Repair defect of artery | 35.20 | NA | 13.61 | 4.90 | NA | 53.71 | 090
35092 |  | A | Repair artery rupture, aorta | 44.74 | NA | 17.73 | 5.17 | NA | 67.64 | 090
35102 |  | A | Repair defect of artery | 30.58 | NA | 12.40 | 4.12 | NA | 47.10 | 090
35103 |  | A | Repair artery rupture, groin | 40.27 | NA | 15.95 | 4.54 | NA | 60.76 | 090
35111 |  | A | Repair defect of artery | 24.86 | NA | 10.53 | 2.17 | NA | 37.56 | 090
35112 |  | A | Repair artery rupture,spleen | 29.83 | NA | 12.07 | 2.34 | NA | 44.24 | 090
35121 |  | A | Repair defect of artery | 29.83 | NA | 12.41 | 3.51 | NA | 45.75 | 090
35122 |  | A | Repair artery rupture, belly | 34.80 | NA | 13.93 | 4.24 | NA | 52.97 | 090
35131 |  | A | Repair defect of artery | 24.86 | NA | 10.76 | 2.53 | NA | 38.15 | 090
35132 |  | A | Repair artery rupture, groin | 29.83 | NA | 12.42 | 2.97 | NA | 45.22 | 090
35141 |  | A | Repair defect of artery | 19.89 | NA | 8.89 | 1.98 | NA | 30.76 | 090
35142 |  | A | Repair artery rupture, thigh | 23.17 | NA | 10.39 | 2.10 | NA | 35.66 | 090
35151 |  | A | Repair defect of artery | 22.51 | NA | 10.02 | 2.31 | NA | 34.84 | 090
35152 |  | A | Repair artery rupture, knee | 25.47 | NA | 11.34 | 2.31 | NA | 39.12 | 090
35161 |  | A | Repair defect of artery | 18.65 | NA | 9.08 | 2.65 | NA | 30.38 | 090
35162 |  | A | Repair artery rupture | 19.67 | NA | 9.57 | 2.65 | NA | 31.89 | 090
35180 |  | A | Repair blood vessel lesion | 13.54 | NA | 6.99 | 1.73 | NA | 22.26 | 090
35182 |  | A | Repair blood vessel lesion | 29.83 | NA | 12.76 | 2.25 | NA | 44.84 | 090
35184 |  | A | Repair blood vessel lesion | 17.90 | NA | 8.31 | 1.61 | NA | 27.82 | 090
35188 |  | A | Repair blood vessel lesion | 14.20 | NA | 7.61 | 1.83 | NA | 23.64 | 090
35189 |  | A | Repair blood vessel lesion | 27.84 | NA | 11.94 | 2.54 | NA | 42.32 | 090
35190 |  | A | Repair blood vessel lesion | 12.68 | NA | 6.49 | 1.59 | NA | 20.76 | 090
35201 |  | A | Repair blood vessel lesion | 16.05 | NA | 7.99 | 1.40 | NA | 25.44 | 090
35206 |  | A | Repair blood vessel lesion | 13.17 | NA | 6.60 | 1.25 | NA | 21.02 | 090
35207 |  | A | Repair blood vessel lesion | 10.09 | NA | 7.59 | 1.38 | NA | 19.06 | 090
35211 |  | A | Repair blood vessel lesion | 21.99 | NA | 10.31 | 3.39 | NA | 35.69 | 090
35216 |  | A | Repair blood vessel lesion | 18.64 | NA | 8.81 | 2.60 | NA | 30.05 | 090
35221 |  | A | Repair blood vessel lesion | 24.25 | NA | 10.02 | 2.15 | NA | 36.42 | 090
35226 |  | A | Repair blood vessel lesion | 14.42 | NA | 7.51 | 1.01 | NA | 22.94 | 090
35231 |  | A | Repair blood vessel lesion | 19.89 | NA | 9.79 | 1.58 | NA | 31.26 | 090
35236 |  | A | Repair blood vessel lesion | 17.01 | NA | 7.96 | 1.43 | NA | 26.40 | 090
35241 |  | A | Repair blood vessel lesion | 22.99 | NA | 10.74 | 3.48 | NA | 37.21 | 090
35246 |  | A | Repair blood vessel lesion | 26.30 | NA | 11.29 | 2.66 | NA | 40.25 | 090
35251 |  | A | Repair blood vessel lesion | 30.03 | NA | 11.91 | 2.24 | NA | 44.18 | 090
35256 |  | A | Repair blood vessel lesion | 18.26 | NA | 8.43 | 1.58 | NA | 28.27 | 090
35261 |  | A | Repair blood vessel lesion | 17.70 | NA | 8.03 | 1.61 | NA | 27.34 | 090
35266 |  | A | Repair blood vessel lesion | 14.83 | NA | 7.04 | 1.39 | NA | 23.26 | 090
35271 |  | A | Repair blood vessel lesion | 21.99 | NA | 10.21 | 3.32 | NA | 35.52 | 090
35276 |  | A | Repair blood vessel lesion | 24.11 | NA | 11.01 | 2.84 | NA | 37.96 | 090
35281 |  | A | Repair blood vessel lesion | 27.84 | NA | 11.79 | 2.18 | NA | 41.81 | 090
35286 |  | A | Repair blood vessel lesion | 16.07 | NA | 8.08 | 1.63 | NA | 25.78 | 090
35301 |  | A | Rechanneling of artery | 18.59 | NA | 8.45 | 2.67 | NA | 29.71 | 090
35311 |  | A | Rechanneling of artery | 26.85 | NA | 11.49 | 3.30 | NA | 41.64 | 090
35321 |  | A | Rechanneling of artery | 15.91 | NA | 7.34 | 1.63 | NA | 24.88 | 090
35331 |  | A | Rechanneling of artery | 26.05 | NA | 11.22 | 3.25 | NA | 40.52 | 090
35341 |  | A | Rechanneling of artery | 24.97 | NA | 10.93 | 3.44 | NA | 39.34 | 090
35351 |  | A | Rechanneling of artery | 22.87 | NA | 9.64 | 2.74 | NA | 35.25 | 090
35355 |  | A | Rechanneling of artery | 18.39 | NA | 8.13 | 2.16 | NA | 28.68 | 090
35361 |  | A | Rechanneling of artery | 28.04 | NA | 11.77 | 3.19 | NA | 43.00 | 090
35363 |  | A | Rechanneling of artery | 30.03 | NA | 12.58 | 3.32 | NA | 45.93 | 090
35371 |  | A | Rechanneling of artery | 14.64 | NA | 6.98 | 1.58 | NA | 23.20 | 090
35372 |  | A | Rechanneling of artery | 17.90 | NA | 8.09 | 1.83 | NA | 27.82 | 090
35381 |  | A | Rechanneling of artery | 15.72 | NA | 7.83 | 2.16 | NA | 25.71 | 090
35390 |  | A | Reoperation, carotid add-on | 3.17 | NA | 1.06 | 0.46 | NA | 4.69 | ZZZ
35400 |  | A | Angioscopy | 2.98 | NA | 1.04 | 0.41 | NA | 4.43 | ZZZ
35450 |  | A | Repair arterial blockage | 10.01 | NA | 4.05 | 1.01 | NA | 15.07 | 000
35452 |  | A | Repair arterial blockage | 6.87 | NA | 3.15 | 0.91 | NA | 10.93 | 000
35454 |  | A | Repair arterial blockage | 6.01 | NA | 2.84 | 0.80 | NA | 9.65 | 000
35456 |  | A | Repair arterial blockage | 7.31 | NA | 3.27 | 0.98 | NA | 11.56 | 000
35458 |  | A | Repair arterial blockage | 9.44 | NA | 3.98 | 1.31 | NA | 14.73 | 000
35459 |  | A | Repair arterial blockage | 8.58 | NA | 3.64 | 1.15 | NA | 13.37 | 000
35460 |  | A | Repair venous blockage | 6.01 | NA | 2.68 | 0.79 | NA | 9.48 | 000
35470 |  | A | Repair arterial blockage | 8.58 | NA | 3.88 | 0.60 | NA | 13.06 | 000
35471 |  | A | Repair arterial blockage | 10.01 | NA | 4.50 | 0.60 | NA | 15.11 | 000
35472 |  | A | Repair arterial blockage | 6.87 | NA | 3.26 | 0.47 | NA | 10.60 | 000
35473 |  | A | Repair arterial blockage | 6.01 | NA | 2.94 | 0.41 | NA | 9.36 | 000
35474 |  | A | Repair arterial blockage | 7.32 | NA | 2.91 | 0.48 | NA | 10.71 | 000
35475 |  | R | Repair arterial blockage | 9.44 | NA | 4.10 | 0.56 | NA | 14.10 | 000
35476 |  | A | Repair venous blockage | 6.01 | NA | 2.88 | 0.32 | NA | 9.21 | 000
35480 |  | A | Atherectomy, open | 11.02 | NA | 4.51 | 1.35 | NA | 16.88 | 000
35481 |  | A | Atherectomy, open | 7.57 | NA | 3.44 | 1.01 | NA | 12.02 | 000
35482 |  | A | Atherectomy, open | 6.61 | NA | 3.09 | 0.90 | NA | 10.60 | 000
35483 |  | A | Atherectomy, open | 8.05 | NA | 3.53 | 0.97 | NA | 12.55 | 000
35484 |  | A | Atherectomy, open | 10.38 | NA | 4.23 | 1.35 | NA | 15.96 | 000
35485 |  | A | Atherectomy, open | 9.44 | NA | 4.06 | 1.27 | NA | 14.77 | 000
35490 |  | A | Atherectomy, percutaneous | 11.02 | NA | 4.75 | 0.66 | NA | 16.43 | 000
35491 |  | A | Atherectomy, percutaneous | 7.57 | NA | 3.32 | 0.59 | NA | 11.48 | 000
35492 |  | A | Atherectomy, percutaneous | 6.61 | NA | 3.22 | 0.52 | NA | 10.35 | 000
35493 |  | A | Atherectomy, percutaneous | 8.05 | NA | 3.83 | 0.56 | NA | 12.44 | 000
35494 |  | A | Atherectomy, percutaneous | 10.38 | NA | 4.45 | 0.58 | NA | 15.41 | 000
35495 |  | A | Atherectomy, percutaneous | 9.44 | NA | 4.42 | 0.61 | NA | 14.47 | 000
35500 |  | A | Harvest vein for bypass | 6.41 | NA | 2.04 | 0.76 | NA | 9.21 | ZZZ
35501 |  | A | Artery bypass graft | 19.08 | NA | 8.43 | 2.79 | NA | 30.30 | 090
35506 |  | A | Artery bypass graft | 19.56 | NA | 9.39 | 2.79 | NA | 31.74 | 090
35507 |  | A | Artery bypass graft | 19.56 | NA | 9.36 | 2.72 | NA | 31.64 | 090
35508 |  | A | Artery bypass graft | 18.54 | NA | 9.28 | 2.80 | NA | 30.62 | 090
35509 |  | A | Artery bypass graft | 17.97 | NA | 8.76 | 2.54 | NA | 29.27 | 090
35510 |  | A | Artery bypass graft | 22.87 | NA | 10.22 | 2.09 | NA | 35.18 | 090
35511 |  | A | Artery bypass graft | 21.08 | NA | 9.34 | 2.09 | NA | 32.51 | 090
35512 |  | A | Artery bypass graft | 22.37 | NA | 10.05 | 2.09 | NA | 34.51 | 090
35515 |  | A | Artery bypass graft | 18.54 | NA | 9.23 | 2.71 | NA | 30.48 | 090
35516 |  | A | Artery bypass graft | 16.23 | NA | 6.87 | 2.25 | NA | 25.35 | 090
35518 |  | A | Artery bypass graft | 21.08 | NA | 9.04 | 2.13 | NA | 32.25 | 090
35521 |  | A | Artery bypass graft | 22.07 | NA | 9.81 | 2.18 | NA | 34.06 | 090
35522 |  | A | Artery bypass graft | 21.64 | NA | 9.79 | 2.09 | NA | 33.52 | 090
35525 |  | A | Artery bypass graft | 20.51 | NA | 9.41 | 2.09 | NA | 32.01 | 090
35526 |  | A | Artery bypass graft | 29.78 | NA | 12.37 | 2.61 | NA | 44.76 | 090
35531 |  | A | Artery bypass graft | 35.99 | NA | 14.57 | 3.49 | NA | 54.05 | 090
35533 |  | A | Artery bypass graft | 27.84 | NA | 11.77 | 2.82 | NA | 42.43 | 090
35536 |  | A | Artery bypass graft | 31.52 | NA | 13.06 | 3.14 | NA | 47.72 | 090
35541 |  | A | Artery bypass graft | 25.65 | NA | 11.17 | 3.28 | NA | 40.10 | 090
35546 |  | A | Artery bypass graft | 25.39 | NA | 10.90 | 3.40 | NA | 39.69 | 090
35548 |  | A | Artery bypass graft | 21.45 | NA | 9.45 | 2.94 | NA | 33.84 | 090
35549 |  | A | Artery bypass graft | 23.22 | NA | 10.30 | 3.32 | NA | 36.84 | 090
35551 |  | A | Artery bypass graft | 26.52 | NA | 11.41 | 3.82 | NA | 41.75 | 090
35556 |  | A | Artery bypass graft | 21.64 | NA | 9.73 | 2.97 | NA | 34.34 | 090
35558 |  | A | Artery bypass graft | 21.08 | NA | 9.56 | 1.89 | NA | 32.53 | 090
35560 |  | A | Artery bypass graft | 31.82 | NA | 13.31 | 3.27 | NA | 48.40 | 090
35563 |  | A | Artery bypass graft | 24.06 | NA | 10.53 | 2.01 | NA | 36.60 | 090
35565 |  | A | Artery bypass graft | 23.07 | NA | 10.18 | 2.05 | NA | 35.30 | 090
35566 |  | A | Artery bypass graft | 26.77 | NA | 11.46 | 3.62 | NA | 41.85 | 090
35571 |  | A | Artery bypass graft | 23.92 | NA | 10.93 | 2.57 | NA | 37.42 | 090
35572 |  | A | Harvest femoropopliteal vein | 6.78 | NA | 2.35 | 0.76 | NA | 9.89 | ZZZ
35582 |  | A | Vein bypass graft | 26.98 | NA | 11.61 | 3.73 | NA | 42.32 | 090
35583 |  | A | Vein bypass graft | 22.24 | NA | 10.22 | 3.03 | NA | 35.49 | 090
35585 |  | A | Vein bypass graft | 28.23 | NA | 12.35 | 3.85 | NA | 44.43 | 090
35587 |  | A | Vein bypass graft | 24.61 | NA | 11.53 | 2.60 | NA | 38.74 | 090
35600 |  | A | Harvest artery for cabg | 4.92 | NA | 1.60 | 0.72 | NA | 7.24 | ZZZ
35601 |  | A | Artery bypass graft | 17.40 | NA | 8.59 | 2.49 | NA | 28.48 | 090
35606 |  | A | Artery bypass graft | 18.60 | NA | 8.97 | 2.60 | NA | 30.17 | 090
35612 |  | A | Artery bypass graft | 15.67 | NA | 7.83 | 2.06 | NA | 25.56 | 090
35616 |  | A | Artery bypass graft | 15.61 | NA | 8.02 | 2.21 | NA | 25.84 | 090
35621 |  | A | Artery bypass graft | 19.89 | NA | 8.69 | 2.01 | NA | 30.59 | 090
35623 |  | A | Bypass graft, not vein | 23.86 | NA | 10.51 | 2.29 | NA | 36.66 | 090
35626 |  | A | Artery bypass graft | 27.59 | NA | 11.78 | 3.46 | NA | 42.83 | 090
35631 |  | A | Artery bypass graft | 33.81 | NA | 13.90 | 3.39 | NA | 51.10 | 090
35636 |  | A | Artery bypass graft | 29.33 | NA | 12.43 | 2.84 | NA | 44.60 | 090
35641 |  | A | Artery bypass graft | 24.43 | NA | 11.00 | 3.39 | NA | 38.82 | 090
35642 |  | A | Artery bypass graft | 17.88 | NA | 8.70 | 2.21 | NA | 28.79 | 090
35645 |  | A | Artery bypass graft | 17.37 | NA | 8.35 | 2.29 | NA | 28.01 | 090
35646 |  | A | Artery bypass graft | 30.82 | NA | 13.10 | 4.35 | NA | 48.27 | 090
35647 |  | A | Artery bypass graft | 27.84 | NA | 11.78 | 3.93 | NA | 43.55 | 090
35650 |  | A | Artery bypass graft | 18.89 | NA | 8.38 | 1.97 | NA | 29.24 | 090
35651 |  | A | Artery bypass graft | 24.90 | NA | 10.86 | 3.03 | NA | 38.79 | 090
35654 |  | A | Artery bypass graft | 24.86 | NA | 10.70 | 2.52 | NA | 38.08 | 090
35656 |  | A | Artery bypass graft | 19.42 | NA | 8.60 | 2.65 | NA | 30.67 | 090
35661 |  | A | Artery bypass graft | 18.89 | NA | 8.93 | 1.80 | NA | 29.62 | 090
35663 |  | A | Artery bypass graft | 21.87 | NA | 9.96 | 1.86 | NA | 33.69 | 090
35665 |  | A | Artery bypass graft | 20.88 | NA | 9.49 | 2.11 | NA | 32.48 | 090
35666 |  | A | Artery bypass graft | 22.06 | NA | 10.68 | 2.62 | NA | 35.36 | 090
35671 |  | A | Artery bypass graft | 19.22 | NA | 9.40 | 2.01 | NA | 30.63 | 090
35681 |  | A | Composite bypass graft | 1.59 | NA | 0.54 | 0.22 | NA | 2.35 | ZZZ
35682 |  | A | Composite bypass graft | 7.16 | NA | 2.41 | 0.99 | NA | 10.56 | ZZZ
35683 |  | A | Composite bypass graft | 8.45 | NA | 2.84 | 1.17 | NA | 12.46 | ZZZ
35685 |  | A | Bypass graft patency/patch | 4.03 | NA | 1.36 | 0.30 | NA | 5.69 | ZZZ
35686 |  | A | Bypass graft/av fist patency | 3.33 | NA | 1.14 | 0.25 | NA | 4.72 | ZZZ
35691 |  | A | Arterial transposition | 17.95 | NA | 8.46 | 2.47 | NA | 28.88 | 090
35693 |  | A | Arterial transposition | 15.27 | NA | 7.67 | 2.16 | NA | 25.10 | 090
35694 |  | A | Arterial transposition | 19.05 | NA | 8.69 | 2.55 | NA | 30.29 | 090
35695 |  | A | Arterial transposition | 19.05 | NA | 8.61 | 2.62 | NA | 30.28 | 090
35697 |  | A | Reimplant artery each | 2.98 | NA | 1.03 | 0.41 | NA | 4.42 | ZZZ
35700 |  | A | Reoperation, bypass graft | 3.06 | NA | 1.02 | 0.43 | NA | 4.51 | ZZZ
35701 |  | A | Exploration, carotid artery | 8.45 | NA | 5.16 | 0.77 | NA | 14.38 | 090
35721 |  | A | Exploration, femoral artery | 7.14 | NA | 4.43 | 0.71 | NA | 12.28 | 090
35741 |  | A | Exploration popliteal artery | 7.95 | NA | 4.69 | 0.72 | NA | 13.36 | 090
35761 |  | A | Exploration of artery/vein | 5.34 | NA | 4.05 | 0.72 | NA | 10.11 | 090
35800 |  | A | Explore neck vessels | 6.98 | NA | 4.63 | 0.95 | NA | 12.56 | 090
35820 |  | A | Explore chest vessels | 12.81 | NA | 6.93 | 1.93 | NA | 21.67 | 090
35840 |  | A | Explore abdominal vessels | 9.71 | NA | 5.31 | 1.27 | NA | 16.29 | 090
35860 |  | A | Explore limb vessels | 5.52 | NA | 4.03 | 0.76 | NA | 10.31 | 090
35870 |  | A | Repair vessel graft defect | 22.04 | NA | 9.81 | 2.96 | NA | 34.81 | 090
35875 |  | A | Removal of clot in graft | 10.07 | NA | 5.24 | 1.16 | NA | 16.47 | 090
35876 |  | A | Removal of clot in graft | 16.90 | NA | 7.59 | 2.25 | NA | 26.74 | 090
35879 |  | A | Revise graft w/vein | 15.91 | NA | 7.74 | 1.62 | NA | 25.27 | 090
35881 |  | A | Revise graft w/vein | 17.90 | NA | 8.71 | 1.73 | NA | 28.34 | 090
35901 |  | A | Excision, graft, neck | 8.14 | NA | 5.34 | 1.08 | NA | 14.56 | 090
35903 |  | A | Excision, graft, extremity | 9.34 | NA | 5.99 | 1.23 | NA | 16.56 | 090
35905 |  | A | Excision, graft, thorax | 31.07 | NA | 13.14 | 2.58 | NA | 46.79 | 090
35907 |  | A | Excision, graft, abdomen | 34.80 | NA | 14.15 | 2.60 | NA | 51.55 | 090
36000 |  | A | Place needle in vein | 0.18 | 0.62 | 0.05 | 0.01 | 0.81 | 0.24 | XXX
36002 |  | A | Pseudoaneurysm injection trt | 1.95 | 2.92 | 1.00 | 0.12 | 4.99 | 3.07 | 000
36005 |  | A | Injection ext venography | 0.94 | 8.42 | 0.32 | 0.05 | 9.41 | 1.31 | 000
36010 |  | A | Place catheter in vein | 2.42 | NA | 0.79 | 0.19 | NA | 3.40 | XXX
36011 |  | A | Place catheter in vein | 3.12 | NA | 1.04 | 0.20 | NA | 4.36 | XXX
36012 |  | A | Place catheter in vein | 3.50 | NA | 1.16 | 0.20 | NA | 4.86 | XXX
36013 |  | A | Place catheter in artery | 2.51 | NA | 0.66 | 0.20 | NA | 3.37 | XXX
36014 |  | A | Place catheter in artery | 3.00 | NA | 1.00 | 0.17 | NA | 4.17 | XXX
36015 |  | A | Place catheter in artery | 3.50 | NA | 1.16 | 0.19 | NA | 4.85 | XXX
36100 |  | A | Establish access to artery | 3.00 | NA | 1.11 | 0.22 | NA | 4.33 | XXX
36120 |  | A | Establish access to artery | 2.00 | NA | 0.65 | 0.13 | NA | 2.78 | XXX
36140 |  | A | Establish access to artery | 2.00 | NA | 0.64 | 0.14 | NA | 2.78 | XXX
36145 |  | A | Artery to vein shunt | 2.00 | NA | 0.66 | 0.12 | NA | 2.78 | XXX
36160 |  | A | Establish access to aorta | 2.51 | NA | 0.84 | 0.24 | NA | 3.59 | XXX
36200 |  | A | Place catheter in aorta | 3.00 | 77.01 | 1.02 | 0.18 | 80.19 | 4.20 | XXX
36215 |  | A | Place catheter in artery | 4.65 | NA | 1.59 | 0.26 | NA | 6.50 | XXX
36216 |  | A | Place catheter in artery | 5.25 | NA | 1.78 | 0.29 | NA | 7.32 | XXX
36217 |  | A | Place catheter in artery | 6.26 | NA | 2.16 | 0.38 | NA | 8.80 | XXX
36218 |  | A | Place catheter in artery | 1.00 | NA | 0.35 | 0.06 | NA | 1.41 | ZZZ
36245 |  | A | Place catheter in artery | 4.65 | NA | 1.67 | 0.28 | NA | 6.60 | XXX
36246 |  | A | Place catheter in artery | 5.25 | NA | 1.81 | 0.31 | NA | 7.37 | XXX
36247 |  | A | Place catheter in artery | 6.26 | NA | 2.12 | 0.38 | NA | 8.76 | XXX
36248 |  | A | Place catheter in artery | 1.00 | NA | 0.35 | 0.07 | NA | 1.42 | ZZZ
36260 |  | A | Insertion of infusion pump | 9.65 | NA | 4.96 | 1.20 | NA | 15.81 | 090
36261 |  | A | Revision of infusion pump | 5.42 | NA | 3.62 | 0.60 | NA | 9.64 | 090
36262 |  | A | Removal of infusion pump | 4.00 | NA | 2.80 | 0.52 | NA | 7.32 | 090
36299 |  | C | Vessel injection procedure | 0.00 | 0.00 | 0.00 | 0.00 | 0.00 | 0.00 | YYY
36400 |  | A | Bl draw < 3 yrs fem/jugular | 0.38 | 0.29 | 0.09 | 0.01 | 0.68 | 0.48 | XXX
36405 |  | A | Bl draw < 3 yrs scalp vein | 0.31 | 0.27 | 0.08 | 0.01 | 0.59 | 0.40 | XXX
36406 |  | A | Bl draw < 3 yrs other vein | 0.18 | 0.31 | 0.05 | 0.01 | 0.50 | 0.24 | XXX
36410 |  | A | Non-routine bl draw > 3 yrs | 0.18 | 0.31 | 0.05 | 0.01 | 0.50 | 0.24 | XXX
36415 |  | I | Routine venipuncture | 0.00 | 0.00 | 0.00 | 0.00 | 0.00 | 0.00 | XXX
36416 |  | I | Capillary blood draw | 0.00 | 0.00 | 0.00 | 0.00 | 0.00 | 0.00 | XXX
36420 |  | A | Vein access cutdown < 1 yr | 1.00 | 3.16 | 0.28 | 0.11 | 4.27 | 1.39 | XXX
36425 |  | A | Vein access cutdown > 1 yr | 0.76 | NA | 0.22 | 0.06 | NA | 1.04 | XXX
36430 |  | A | Blood transfusion service | 0.00 | 0.99 | NA | 0.06 | 1.05 | NA | XXX
36440 |  | A | Bl push transfuse, 2 yr or < | 1.02 | NA | 0.29 | 0.10 | NA | 1.41 | XXX
36450 |  | A | Bl exchange/transfuse, nb | 2.22 | NA | 0.70 | 0.19 | NA | 3.11 | XXX
36455 |  | A | Bl exchange/transfuse non-nb | 2.42 | NA | 0.83 | 0.12 | NA | 3.37 | XXX
36460 |  | A | Transfusion service, fetal | 6.55 | NA | 2.24 | 0.67 | NA | 9.46 | XXX
36468 |  | R | Injection(s), spider veins | 0.00 | 0.00 | 0.00 | 0.00 | 0.00 | 0.00 | 000
36469 |  | R | Injection(s), spider veins | 0.00 | 0.00 | 0.00 | 0.00 | 0.00 | 0.00 | 000
36470 |  | A | Injection therapy of vein | 1.08 | 2.75 | 0.45 | 0.12 | 3.95 | 1.65 | 010
36471 |  | A | Injection therapy of veins | 1.56 | 3.10 | 0.61 | 0.18 | 4.84 | 2.35 | 010
36481 |  | A | Insertion of catheter, vein | 6.95 | 7.00 | 2.76 | 0.48 | 14.43 | 10.19 | 000
36488 |  | D | Insertion of catheter, vein | 0.00 | 0.00 | 0.00 | 0.00 | 0.00 | 0.00 | 000
36489 |  | D | Insertion of catheter, vein | 0.00 | 0.00 | 0.00 | 0.00 | 0.00 | 0.00 | 000
36490 |  | D | Insertion of catheter, vein | 0.00 | 0.00 | 0.00 | 0.00 | 0.00 | 0.00 | 000
36491 |  | D | Insertion of catheter, vein | 0.00 | 0.00 | 0.00 | 0.00 | 0.00 | 0.00 | 000
36493 |  | D | Repositioning of cvc | 0.00 | 0.00 | 0.00 | 0.00 | 0.00 | 0.00 | 000
36500 |  | A | Insertion of catheter, vein | 3.50 | NA | 1.24 | 0.17 | NA | 4.91 | 000
36510 |  | A | Insertion of catheter, vein | 1.08 | 3.81 | 0.63 | 0.07 | 4.96 | 1.78 | 000
36511 |  | A | Apheresis wbc | 1.73 | NA | 0.69 | 0.07 | NA | 2.49 | 000
36512 |  | A | Apheresis rbc | 1.73 | NA | 0.69 | 0.07 | NA | 2.49 | 000
36513 |  | A | Apheresis platelets | 1.73 | NA | 0.69 | 0.07 | NA | 2.49 | 000
36514 |  | A | Apheresis plasma | 1.73 | NA | 0.69 | 0.07 | NA | 2.49 | 000
36515 |  | A | Apheresis, adsorp/reinfuse | 1.73 | NA | 0.73 | 0.07 | NA | 2.53 | 000
36516 |  | A | Apheresis, selective | 1.73 | NA | 0.73 | 0.07 | NA | 2.53 | 000
36522 |  | A | Photopheresis | 1.66 | 30.38 | 1.14 | 0.08 | 32.12 | 2.88 | 000
36530 |  | D | Insertion of infusion pump | 0.00 | 0.00 | 0.00 | 0.00 | 0.00 | 0.00 | 010
36531 |  | D | Revision of infusion pump | 0.00 | 0.00 | 0.00 | 0.00 | 0.00 | 0.00 | 010
36532 |  | D | Removal of infusion pump | 0.00 | 0.00 | 0.00 | 0.00 | 0.00 | 0.00 | 010
36533 |  | D | Insertion of access device | 0.00 | 0.00 | 0.00 | 0.00 | 0.00 | 0.00 | 010
36534 |  | D | Revision of access device | 0.00 | 0.00 | 0.00 | 0.00 | 0.00 | 0.00 | 010
36535 |  | D | Removal of access device | 0.00 | 0.00 | 0.00 | 0.00 | 0.00 | 0.00 | 010
36536 |  | D | Remove cva device obstruct | 0.00 | 0.00 | 0.00 | 0.00 | 0.00 | 0.00 | 000
36537 |  | D | Remove cva lumen obstruct | 0.00 | 0.00 | 0.00 | 0.00 | 0.00 | 0.00 | 000
36540 |  | B | Collect blood venous device | 0.00 | 0.00 | 0.00 | 0.00 | 0.00 | 0.00 | XXX
36550 |  | A | Declot vascular device | 0.00 | 0.41 | NA | 0.37 | 0.78 | NA | XXX
36555 |  | A | Insert non-tunnel cv cath | 2.66 | 6.06 | 0.82 | 0.20 | 8.92 | 3.68 | 000
36556 |  | A | Insert non-tunnel cv cath | 2.49 | 5.06 | 0.75 | 0.10 | 7.65 | 3.34 | 000
36557 |  | A | Insert tunneled cv cath | 5.07 | 13.64 | 2.59 | 0.59 | 19.30 | 8.25 | 010
36558 |  | A | Insert tunneled cv cath | 4.77 | 13.54 | 2.48 | 0.59 | 18.90 | 7.84 | 010
36560 |  | A | Insert tunneled cv cath | 6.21 | 29.38 | 2.98 | 0.59 | 36.18 | 9.78 | 010
36561 |  | A | Insert tunneled cv cath | 5.97 | 29.29 | 2.89 | 0.59 | 35.85 | 9.45 | 010
36563 |  | A | Insert tunneled cv cath | 6.16 | 26.75 | 2.99 | 0.67 | 33.58 | 9.82 | 010
36565 |  | A | Insert tunneled cv cath | 5.97 | 22.30 | 2.89 | 0.59 | 28.86 | 9.45 | 010
36566 |  | A | Insert tunneled cv cath | 6.46 | 23.11 | 3.06 | 0.59 | 30.16 | 10.11 | 010
36568 |  | A | Insert tunneled cv cath | 1.91 | 8.29 | 0.60 | 0.20 | 10.40 | 2.71 | 000
36569 |  | A | Insert tunneled cv cath | 1.81 | 6.77 | 0.58 | 0.16 | 8.74 | 2.55 | 000
36570 |  | A | Insert tunneled cv cath | 5.29 | 40.53 | 2.66 | 0.59 | 46.41 | 8.54 | 010
36571 |  | A | Insert tunneled cv cath | 5.27 | 35.86 | 2.65 | 0.59 | 41.72 | 8.51 | 010
36575 |  | A | Repair tunneled cv cath | 0.67 | 3.35 | 0.26 | 0.59 | 4.61 | 1.52 | 000
36576 |  | A | Repair tunneled cv cath | 3.17 | 7.73 | 1.77 | 0.59 | 11.49 | 5.53 | 010
36578 |  | A | Replace tunneled cv cath | 3.48 | 10.57 | 2.21 | 0.59 | 14.64 | 6.28 | 010
36580 |  | A | Replace tunneled cv cath | 1.30 | 5.88 | 0.42 | 0.16 | 7.34 | 1.88 | 000
36581 |  | A | Replace tunneled cv cath | 3.42 | 13.30 | 1.85 | 0.59 | 17.31 | 5.86 | 010
36582 |  | A | Replace tunneled cv cath | 5.17 | 26.69 | 2.78 | 0.59 | 32.45 | 8.54 | 010
36583 |  | A | Replace tunneled cv cath | 5.22 | 13.17 | 2.80 | 0.59 | 18.98 | 8.61 | 010
36584 |  | A | Replace tunneled cv cath | 1.19 | 6.33 | 0.56 | 0.16 | 7.68 | 1.91 | 000
36585 |  | A | Replace tunneled cv cath | 4.77 | 35.52 | 2.65 | 0.59 | 40.88 | 8.01 | 010
36589 |  | A | Removal tunneled cv cath | 2.26 | 2.13 | 1.42 | 0.25 | 4.64 | 3.93 | 010
36590 |  | A | Removal tunneled cv cath | 3.28 | 6.34 | 1.64 | 0.41 | 10.03 | 5.33 | 010
36595 |  | A | Mech remov tunneled cv cath | 3.58 | 18.94 | 1.47 | 0.28 | 22.80 | 5.33 | 000
36596 |  | A | Mech remov tunneled cv cath | 0.75 | 4.43 | 0.50 | 0.05 | 5.23 | 1.30 | 000
36597 |  | A | Reposition venous catheter | 1.20 | 3.18 | 0.44 | 0.07 | 4.45 | 1.71 | 000
36600 |  | A | Withdrawal of arterial blood | 0.32 | 0.49 | 0.09 | 0.02 | 0.83 | 0.43 | XXX
36620 |  | A | Insertion catheter, artery | 1.14 | NA | 0.24 | 0.07 | NA | 1.45 | 000
36625 |  | A | Insertion catheter, artery | 2.10 | NA | 0.53 | 0.19 | NA | 2.82 | 000
36640 |  | A | Insertion catheter, artery | 2.09 | NA | 1.03 | 0.22 | NA | 3.34 | 000
36660 |  | A | Insertion catheter, artery | 1.39 | NA | 0.44 | 0.10 | NA | 1.93 | 000
36680 |  | A | Insert needle, bone cavity | 1.19 | NA | 0.50 | 0.10 | NA | 1.79 | 000
36800 |  | A | Insertion of cannula | 2.42 | NA | 1.82 | 0.20 | NA | 4.44 | 000
36810 |  | A | Insertion of cannula | 3.95 | NA | 1.69 | 0.48 | NA | 6.12 | 000
36815 |  | A | Insertion of cannula | 2.61 | NA | 1.18 | 0.31 | NA | 4.10 | 000
36819 |  | A | Av fusion/uppr arm vein | 13.92 | NA | 6.43 | 1.87 | NA | 22.22 | 090
36820 |  | A | Av fusion/forearm vein | 13.92 | NA | 6.43 | 1.87 | NA | 22.22 | 090
36821 |  | A | Av fusion direct any site | 8.88 | NA | 4.72 | 1.16 | NA | 14.76 | 090
36822 |  | A | Insertion of cannula(s) | 5.39 | NA | 4.31 | 0.76 | NA | 10.46 | 090
36823 |  | A | Insertion of cannula(s) | 20.88 | NA | 9.56 | 2.61 | NA | 33.05 | 090
36825 |  | A | Artery-vein autograft | 9.78 | NA | 5.13 | 1.31 | NA | 16.22 | 090
36830 |  | A | Artery-vein nonautograft | 11.93 | NA | 5.30 | 1.58 | NA | 18.81 | 090
36831 |  | A | Open thrombect av fistula | 7.95 | NA | 3.98 | 0.95 | NA | 12.88 | 090
36832 |  | A | Av fistula revision, open | 10.44 | NA | 4.79 | 1.35 | NA | 16.58 | 090
36833 |  | A | Av fistula revision | 11.88 | NA | 5.27 | 1.55 | NA | 18.70 | 090
36834 |  | A | Repair A-V aneurysm | 9.87 | NA | 4.81 | 1.27 | NA | 15.95 | 090
36835 |  | A | Artery to vein shunt | 7.11 | NA | 4.34 | 0.96 | NA | 12.41 | 090
36838 |  | A | Dist revas ligation, hemo | 20.51 | NA | 9.41 | 2.97 | NA | 32.89 | 090
36860 |  | A | External cannula declotting | 2.00 | 2.54 | 1.36 | 0.12 | 4.66 | 3.48 | 000
36861 |  | A | Cannula declotting | 2.51 | NA | 1.50 | 0.17 | NA | 4.18 | 000
36870 |  | A | Percut thrombect av fistula | 5.13 | 47.27 | 3.17 | 0.28 | 52.68 | 8.58 | 090
37140 |  | A | Revision of circulation | 23.47 | NA | 10.60 | 1.45 | NA | 35.52 | 090
37145 |  | A | Revision of circulation | 24.47 | NA | 11.07 | 2.97 | NA | 38.51 | 090
37160 |  | A | Revision of circulation | 21.48 | NA | 9.38 | 2.59 | NA | 33.45 | 090
37180 |  | A | Revision of circulation | 24.47 | NA | 10.45 | 3.15 | NA | 38.07 | 090
37181 |  | A | Splice spleen/kidney veins | 26.53 | NA | 11.13 | 3.20 | NA | 40.86 | 090
37182 |  | A | Insert hepatic shunt (tips) | 16.90 | NA | 6.32 | 1.79 | NA | 25.01 | 000
37183 |  | A | Remove hepatic shunt (tips) | 7.95 | NA | 3.11 | 0.52 | NA | 11.58 | 000
37195 |  | A | Thrombolytic therapy, stroke | 0.00 | 7.99 | NA | 0.46 | 8.45 | NA | XXX
37200 |  | A | Transcatheter biopsy | 4.53 | NA | 1.52 | 0.23 | NA | 6.28 | 000
37201 |  | A | Transcatheter therapy infuse | 4.97 | NA | 2.54 | 0.29 | NA | 7.80 | 000
37202 |  | A | Transcatheter therapy infuse | 5.65 | NA | 3.07 | 0.46 | NA | 9.18 | 000
37203 |  | A | Transcatheter retrieval | 5.00 | NA | 2.55 | 0.28 | NA | 7.83 | 000
37204 |  | A | Transcatheter occlusion | 18.04 | NA | 5.99 | 1.09 | NA | 25.12 | 000
37205 |  | A | Transcatheter stent | 8.23 | NA | 3.77 | 0.52 | NA | 12.52 | 000
37206 |  | A | Transcatheter stent add-on | 4.11 | NA | 1.46 | 0.26 | NA | 5.83 | ZZZ
37207 |  | A | Transcatheter stent | 8.23 | NA | 3.18 | 1.07 | NA | 12.48 | 000
37208 |  | A | Transcatheter stent add-on | 4.11 | NA | 1.40 | 0.53 | NA | 6.04 | ZZZ
37209 |  | A | Exchange arterial catheter | 2.26 | NA | 0.75 | 0.13 | NA | 3.14 | 000
37250 |  | A | Iv us first vessel add-on | 2.09 | NA | 0.75 | 0.20 | NA | 3.04 | ZZZ
37251 |  | A | Iv us each add vessel add-on | 1.59 | NA | 0.56 | 0.17 | NA | 2.32 | ZZZ
37500 |  | A | Endoscopy ligate perf veins | 10.94 | NA | 7.09 | 0.48 | NA | 18.51 | 090
37501 |  | C | Vascular endoscopy procedure | 0.00 | 0.00 | 0.00 | 0.00 | 0.00 | 0.00 | YYY
37565 |  | A | Ligation of neck vein | 10.82 | NA | 5.69 | 0.54 | NA | 17.05 | 090
37600 |  | A | Ligation of neck artery | 11.19 | NA | 6.71 | 0.48 | NA | 18.38 | 090
37605 |  | A | Ligation of neck artery | 13.04 | NA | 6.98 | 0.92 | NA | 20.94 | 090
37606 |  | A | Ligation of neck artery | 6.24 | NA | 4.62 | 0.95 | NA | 11.81 | 090
37607 |  | A | Ligation of a-v fistula | 6.12 | NA | 3.60 | 0.80 | NA | 10.52 | 090
37609 |  | A | Temporal artery procedure | 2.98 | 4.74 | 1.99 | 0.25 | 7.97 | 5.22 | 010
37615 |  | A | Ligation of neck artery | 5.70 | NA | 4.14 | 0.68 | NA | 10.52 | 090
37616 |  | A | Ligation of chest artery | 16.40 | NA | 7.96 | 2.31 | NA | 26.67 | 090
37617 |  | A | Ligation of abdomen artery | 21.93 | NA | 9.30 | 2.03 | NA | 33.26 | 090
37618 |  | A | Ligation of extremity artery | 4.81 | NA | 3.60 | 0.65 | NA | 9.06 | 090
37620 |  | A | Revision of major vein | 10.50 | NA | 5.75 | 0.90 | NA | 17.15 | 090
37650 |  | A | Revision of major vein | 7.76 | NA | 4.70 | 0.67 | NA | 13.13 | 090
37660 |  | A | Revision of major vein | 20.88 | NA | 9.10 | 1.40 | NA | 31.38 | 090
37700 |  | A | Revise leg vein | 3.71 | NA | 2.83 | 0.48 | NA | 7.02 | 090
37720 |  | A | Removal of leg vein | 5.63 | NA | 3.74 | 0.73 | NA | 10.10 | 090
37730 |  | A | Removal of leg veins | 7.29 | NA | 4.31 | 0.92 | NA | 12.52 | 090
37735 |  | A | Removal of leg veins/lesion | 10.47 | NA | 5.56 | 1.40 | NA | 17.43 | 090
37760 |  | A | Ligation, leg veins, open | 10.41 | NA | 5.40 | 1.33 | NA | 17.14 | 090
37765 |  | A | Phleb veins—extrem—to 20 | 7.31 | NA | 4.56 | 0.48 | NA | 12.35 | 090
37766 |  | A | Phleb veins—extrem 20+ | 9.25 | NA | 5.28 | 0.48 | NA | 15.01 | 090
37780 |  | A | Revision of leg vein | 3.82 | NA | 2.88 | 0.49 | NA | 7.19 | 090
37785 |  | A | Ligate/divide/excise vein | 3.82 | 5.16 | 2.66 | 0.49 | 9.47 | 6.97 | 090
37788 |  | A | Revascularization, penis | 21.88 | NA | 9.39 | 1.62 | NA | 32.89 | 090
37790 |  | A | Penile venous occlusion | 8.29 | NA | 4.52 | 0.76 | NA | 13.57 | 090
37799 |  | C | Vascular surgery procedure | 0.00 | 0.00 | 0.00 | 0.00 | 0.00 | 0.00 | YYY
38100 |  | A | Removal of spleen, total | 14.42 | NA | 6.28 | 1.56 | NA | 22.26 | 090
38101 |  | A | Removal of spleen, partial | 15.22 | NA | 6.64 | 1.65 | NA | 23.51 | 090
38102 |  | A | Removal of spleen, total | 4.77 | NA | 1.66 | 0.59 | NA | 7.02 | ZZZ
38115 |  | A | Repair of ruptured spleen | 15.73 | NA | 6.76 | 1.68 | NA | 24.17 | 090
38120 |  | A | Laparoscopy, splenectomy | 16.90 | NA | 7.51 | 2.07 | NA | 26.48 | 090
38129 |  | C | Laparoscope proc, spleen | 0.00 | 0.00 | 0.00 | 0.00 | 0.00 | 0.00 | YYY
38200 |  | A | Injection for spleen x-ray | 2.62 | NA | 0.90 | 0.14 | NA | 3.66 | 000
38204 |  | B | Bl donor search management | 0.00 | 0.00 | 0.00 | 0.00 | 0.00 | 0.00 | XXX
38205 |  | R | Harvest allogenic stem cells | 1.49 | NA | 0.61 | 0.06 | NA | 2.16 | 000
38206 |  | R | Harvest auto stem cells | 1.49 | NA | 0.61 | 0.06 | NA | 2.16 | 000
38207 |  | I | Cryopreserve stem cells | 0.00 | 0.00 | 0.00 | 0.00 | 0.00 | 0.00 | XXX
38208 |  | I | Thaw preserved stem cells | 0.00 | 0.00 | 0.00 | 0.00 | 0.00 | 0.00 | XXX
38209 |  | I | Wash harvest stem cells | 0.00 | 0.00 | 0.00 | 0.00 | 0.00 | 0.00 | XXX
38210 |  | I | T-cell depletion of harvest | 0.00 | 0.00 | 0.00 | 0.00 | 0.00 | 0.00 | XXX
38211 |  | I | Tumor cell deplete of harvst | 0.00 | 0.00 | 0.00 | 0.00 | 0.00 | 0.00 | XXX
38212 |  | I | Rbc depletion of harvest | 0.00 | 0.00 | 0.00 | 0.00 | 0.00 | 0.00 | XXX
38213 |  | I | Platelet deplete of harvest | 0.00 | 0.00 | 0.00 | 0.00 | 0.00 | 0.00 | XXX
38214 |  | I | Volume deplete of harvest | 0.00 | 0.00 | 0.00 | 0.00 | 0.00 | 0.00 | XXX
38215 |  | I | Harvest stem cell concentrte | 0.00 | 0.00 | 0.00 | 0.00 | 0.00 | 0.00 | XXX
38220 |  | A | Bone marrow aspiration | 1.07 | 3.97 | 0.43 | 0.04 | 5.08 | 1.54 | XXX
38221 |  | A | Bone marrow biopsy | 1.36 | 4.15 | 0.54 | 0.05 | 5.56 | 1.95 | XXX
38230 |  | R | Bone marrow collection | 4.51 | NA | 2.51 | 0.30 | NA | 7.32 | 010
38240 |  | R | Bone marrow/stem transplant | 2.23 | NA | 0.82 | 0.10 | NA | 3.15 | XXX
38241 |  | R | Bone marrow/stem transplant | 2.23 | NA | 0.82 | 0.10 | NA | 3.15 | XXX
38242 |  | A | Lymphocyte infuse transplant | 1.70 | NA | 0.68 | 0.06 | NA | 2.44 | 000
38300 |  | A | Drainage, lymph node lesion | 1.98 | 4.50 | 2.10 | 0.18 | 6.66 | 4.26 | 010
38305 |  | A | Drainage, lymph node lesion | 5.97 | 6.06 | 4.42 | 0.43 | 12.46 | 10.82 | 090
38308 |  | A | Incision of lymph channels | 6.41 | 5.81 | 3.77 | 0.61 | 12.83 | 10.79 | 090
38380 |  | A | Thoracic duct procedure | 7.42 | NA | 5.75 | 0.82 | NA | 13.99 | 090
38381 |  | A | Thoracic duct procedure | 12.81 | NA | 6.72 | 1.89 | NA | 21.42 | 090
38382 |  | A | Thoracic duct procedure | 10.02 | NA | 5.81 | 1.29 | NA | 17.12 | 090
38500 |  | A | Biopsy/removal, lymph nodes | 3.73 | 3.83 | 2.12 | 0.34 | 7.90 | 6.19 | 010
38505 |  | A | Needle biopsy, lymph nodes | 1.13 | 2.16 | 0.79 | 0.11 | 3.40 | 2.03 | 000
38510 |  | A | Biopsy/removal, lymph nodes | 6.39 | 5.71 | 3.54 | 0.46 | 12.56 | 10.39 | 010
38520 |  | A | Biopsy/removal, lymph nodes | 6.63 | NA | 4.09 | 0.62 | NA | 11.34 | 090
38525 |  | A | Biopsy/removal, lymph nodes | 6.04 | NA | 3.39 | 0.58 | NA | 10.01 | 090
38530 |  | A | Biopsy/removal, lymph nodes | 7.93 | NA | 4.45 | 0.76 | NA | 13.14 | 090
38542 |  | A | Explore deep node(s), neck | 5.88 | NA | 4.53 | 0.60 | NA | 11.01 | 090
38550 |  | A | Removal, neck/armpit lesion | 6.88 | NA | 4.04 | 0.83 | NA | 11.75 | 090
38555 |  | A | Removal, neck/armpit lesion | 14.06 | NA | 8.52 | 1.75 | NA | 24.33 | 090
38562 |  | A | Removal, pelvic lymph nodes | 10.43 | NA | 5.99 | 1.16 | NA | 17.58 | 090
38564 |  | A | Removal, abdomen lymph nodes | 10.77 | NA | 5.39 | 1.27 | NA | 17.43 | 090
38570 |  | A | Laparoscopy, lymph node biop | 9.20 | NA | 4.00 | 1.07 | NA | 14.27 | 010
38571 |  | A | Laparoscopy, lymphadenectomy | 14.60 | NA | 5.67 | 0.96 | NA | 21.23 | 010
38572 |  | A | Laparoscopy, lymphadenectomy | 16.50 | NA | 7.24 | 1.58 | NA | 25.32 | 010
38589 |  | C | Laparoscope proc, lymphatic | 0.00 | 0.00 | 0.00 | 0.00 | 0.00 | 0.00 | YYY
38700 |  | A | Removal of lymph nodes, neck | 8.19 | NA | 8.19 | 0.72 | NA | 17.10 | 090
38720 |  | A | Removal of lymph nodes, neck | 13.53 | NA | 11.18 | 1.23 | NA | 25.94 | 090
38724 |  | A | Removal of lymph nodes, neck | 14.46 | NA | 11.70 | 1.32 | NA | 27.48 | 090
38740 |  | A | Remove armpit lymph nodes | 9.97 | NA | 5.06 | 0.83 | NA | 15.86 | 090
38745 |  | A | Remove armpit lymph nodes | 13.03 | NA | 6.25 | 1.08 | NA | 20.36 | 090
38746 |  | A | Remove thoracic lymph nodes | 4.86 | NA | 1.59 | 0.66 | NA | 7.11 | ZZZ
38747 |  | A | Remove abdominal lymph nodes | 4.86 | NA | 1.69 | 0.60 | NA | 7.15 | ZZZ
38760 |  | A | Remove groin lymph nodes | 12.88 | NA | 6.29 | 1.05 | NA | 20.22 | 090
38765 |  | A | Remove groin lymph nodes | 19.87 | NA | 9.05 | 1.80 | NA | 30.72 | 090
38770 |  | A | Remove pelvis lymph nodes | 13.15 | NA | 5.91 | 1.19 | NA | 20.25 | 090
38780 |  | A | Remove abdomen lymph nodes | 16.50 | NA | 8.53 | 1.92 | NA | 26.95 | 090
38790 |  | A | Inject for lymphatic x-ray | 1.28 | 10.81 | 0.80 | 0.11 | 12.20 | 2.19 | 000
38792 |  | A | Identify sentinel node | 0.52 | NA | 0.45 | 0.05 | NA | 1.02 | 000
38794 |  | A | Access thoracic lymph duct | 4.42 | NA | 3.43 | 0.20 | NA | 8.05 | 090
38999 |  | C | Blood/lymph system procedure | 0.00 | 0.00 | 0.00 | 0.00 | 0.00 | 0.00 | YYY
39000 |  | A | Exploration of chest | 6.07 | NA | 4.51 | 0.87 | NA | 11.45 | 090
39010 |  | A | Exploration of chest | 11.72 | NA | 6.43 | 1.75 | NA | 19.90 | 090
39200 |  | A | Removal chest lesion | 13.54 | NA | 6.61 | 1.98 | NA | 22.13 | 090
39220 |  | A | Removal chest lesion | 17.32 | NA | 8.31 | 2.52 | NA | 28.15 | 090
39400 |  | A | Visualization of chest | 5.58 | NA | 4.65 | 0.83 | NA | 11.06 | 010
39499 |  | C | Chest procedure | 0.00 | 0.00 | 0.00 | 0.00 | 0.00 | 0.00 | YYY
39501 |  | A | Repair diaphragm laceration | 13.11 | NA | 6.53 | 1.65 | NA | 21.29 | 090
39502 |  | A | Repair paraesophageal hernia | 16.24 | NA | 7.25 | 2.01 | NA | 25.50 | 090
39503 |  | A | Repair of diaphragm hernia | 94.46 | NA | 33.85 | 4.22 | NA | 132.53 | 090
39520 |  | A | Repair of diaphragm hernia | 16.01 | NA | 7.99 | 2.19 | NA | 26.19 | 090
39530 |  | A | Repair of diaphragm hernia | 15.32 | NA | 7.16 | 1.99 | NA | 24.47 | 090
39531 |  | A | Repair of diaphragm hernia | 16.33 | NA | 7.41 | 2.19 | NA | 25.93 | 090
39540 |  | A | Repair of diaphragm hernia | 13.24 | NA | 6.28 | 1.65 | NA | 21.17 | 090
39541 |  | A | Repair of diaphragm hernia | 14.33 | NA | 6.66 | 1.82 | NA | 22.81 | 090
39545 |  | A | Revision of diaphragm | 13.29 | NA | 7.41 | 1.86 | NA | 22.56 | 090
39560 |  | A | Resect diaphragm, simple | 11.93 | NA | 6.34 | 1.62 | NA | 19.89 | 090
39561 |  | A | Resect diaphragm, complex | 17.40 | NA | 9.31 | 2.36 | NA | 29.07 | 090
39599 |  | C | Diaphragm surgery procedure | 0.00 | 0.00 | 0.00 | 0.00 | 0.00 | 0.00 | YYY
40490 |  | A | Biopsy of lip | 1.21 | 1.87 | 0.62 | 0.07 | 3.15 | 1.90 | 000
40500 |  | A | Partial excision of lip | 4.26 | 6.15 | 4.95 | 0.37 | 10.78 | 9.58 | 090
40510 |  | A | Partial excision of lip | 4.67 | 6.90 | 4.84 | 0.46 | 12.03 | 9.97 | 090
40520 |  | A | Partial excision of lip | 4.64 | 7.41 | 5.09 | 0.50 | 12.55 | 10.23 | 090
40525 |  | A | Reconstruct lip with flap | 7.51 | NA | 6.98 | 0.82 | NA | 15.31 | 090
40527 |  | A | Reconstruct lip with flap | 9.08 | NA | 7.94 | 0.98 | NA | 18.00 | 090
40530 |  | A | Partial removal of lip | 5.37 | 6.65 | 5.25 | 0.56 | 12.58 | 11.18 | 090
40650 |  | A | Repair lip | 3.62 | 5.62 | 3.86 | 0.37 | 9.61 | 7.85 | 090
40652 |  | A | Repair lip | 4.24 | 6.59 | 5.30 | 0.47 | 11.30 | 10.01 | 090
40654 |  | A | Repair lip | 5.28 | 7.24 | 6.03 | 0.58 | 13.10 | 11.89 | 090
40700 |  | A | Repair cleft lip/nasal | 12.72 | NA | 9.63 | 1.11 | NA | 23.46 | 090
40701 |  | A | Repair cleft lip/nasal | 15.76 | NA | 11.92 | 1.63 | NA | 29.31 | 090
40702 |  | A | Repair cleft lip/nasal | 12.97 | NA | 8.56 | 1.21 | NA | 22.74 | 090
40720 |  | A | Repair cleft lip/nasal | 13.47 | NA | 10.62 | 1.57 | NA | 25.66 | 090
40761 |  | A | Repair cleft lip/nasal | 14.64 | NA | 10.93 | 1.69 | NA | 27.26 | 090
40799 |  | C | Lip surgery procedure | 0.00 | 0.00 | 0.00 | 0.00 | 0.00 | 0.00 | YYY
40800 |  | A | Drainage of mouth lesion | 1.16 | 2.24 | 1.16 | 0.11 | 3.51 | 2.43 | 010
40801 |  | A | Drainage of mouth lesion | 2.52 | 3.21 | 2.05 | 0.22 | 5.95 | 4.79 | 010
40804 |  | A | Removal, foreign body, mouth | 1.23 | 2.58 | 1.13 | 0.11 | 3.92 | 2.47 | 010
40805 |  | A | Removal, foreign body, mouth | 2.67 | 3.44 | 2.00 | 0.20 | 6.31 | 4.87 | 010
40806 |  | A | Incision of lip fold | 0.31 | 1.39 | 0.96 | 0.02 | 1.72 | 1.29 | 000
40808 |  | A | Biopsy of mouth lesion | 0.95 | 2.32 | 1.09 | 0.08 | 3.35 | 2.12 | 010
40810 |  | A | Excision of mouth lesion | 1.30 | 2.41 | 1.23 | 0.11 | 3.82 | 2.64 | 010
40812 |  | A | Excise/repair mouth lesion | 2.30 | 3.27 | 1.80 | 0.20 | 5.77 | 4.30 | 010
40814 |  | A | Excise/repair mouth lesion | 3.40 | 4.79 | 3.32 | 0.31 | 8.50 | 7.03 | 090
40816 |  | A | Excision of mouth lesion | 3.65 | 4.98 | 3.43 | 0.32 | 8.95 | 7.40 | 090
40818 |  | A | Excise oral mucosa for graft | 2.40 | 5.23 | 3.58 | 0.17 | 7.80 | 6.15 | 090
40819 |  | A | Excise lip or cheek fold | 2.40 | 4.45 | 2.96 | 0.20 | 7.05 | 5.56 | 090
40820 |  | A | Treatment of mouth lesion | 1.27 | 2.74 | 2.37 | 0.10 | 4.11 | 3.74 | 010
40830 |  | A | Repair mouth laceration | 1.75 | 3.12 | 2.56 | 0.17 | 5.04 | 4.48 | 010
40831 |  | A | Repair mouth laceration | 2.45 | 3.66 | 3.12 | 0.25 | 6.36 | 5.82 | 010
40840 |  | R | Reconstruction of mouth | 8.68 | 8.69 | 7.45 | 0.95 | 18.32 | 17.08 | 090
40842 |  | R | Reconstruction of mouth | 8.68 | 8.79 | 7.19 | 0.78 | 18.25 | 16.65 | 090
40843 |  | R | Reconstruction of mouth | 12.03 | 11.01 | 8.71 | 1.01 | 24.05 | 21.75 | 090
40844 |  | R | Reconstruction of mouth | 15.92 | 13.98 | 11.90 | 1.95 | 31.85 | 29.77 | 090
40845 |  | R | Reconstruction of mouth | 18.47 | 16.03 | 13.70 | 1.76 | 36.26 | 33.93 | 090
40899 |  | C | Mouth surgery procedure | 0.00 | 0.00 | 0.00 | 0.00 | 0.00 | 0.00 | YYY
41000 |  | A | Drainage of mouth lesion | 1.29 | 2.50 | 1.42 | 0.11 | 3.90 | 2.82 | 010
41005 |  | A | Drainage of mouth lesion | 1.25 | 2.71 | 1.64 | 0.11 | 4.07 | 3.00 | 010
41006 |  | A | Drainage of mouth lesion | 3.22 | 4.44 | 3.49 | 0.30 | 7.96 | 7.01 | 090
41007 |  | A | Drainage of mouth lesion | 3.08 | 4.23 | 3.34 | 0.26 | 7.57 | 6.68 | 090
41008 |  | A | Drainage of mouth lesion | 3.35 | 4.58 | 3.53 | 0.29 | 8.22 | 7.17 | 090
41009 |  | A | Drainage of mouth lesion | 3.57 | 4.92 | 3.90 | 0.30 | 8.79 | 7.77 | 090
41010 |  | A | Incision of tongue fold | 1.05 | 3.51 | 3.51 | 0.07 | 4.63 | 4.63 | 010
41015 |  | A | Drainage of mouth lesion | 3.94 | 5.43 | 4.11 | 0.35 | 9.72 | 8.40 | 090
41016 |  | A | Drainage of mouth lesion | 4.05 | 5.51 | 4.12 | 0.34 | 9.90 | 8.51 | 090
41017 |  | A | Drainage of mouth lesion | 4.05 | 5.43 | 4.20 | 0.38 | 9.86 | 8.63 | 090
41018 |  | A | Drainage of mouth lesion | 5.07 | 5.87 | 4.32 | 0.42 | 11.36 | 9.81 | 090
41100 |  | A | Biopsy of tongue | 1.62 | 2.58 | 1.44 | 0.14 | 4.34 | 3.20 | 010
41105 |  | A | Biopsy of tongue | 1.41 | 2.48 | 1.33 | 0.12 | 4.01 | 2.86 | 010
41108 |  | A | Biopsy of floor of mouth | 1.04 | 2.23 | 1.14 | 0.10 | 3.37 | 2.28 | 010
41110 |  | A | Excision of tongue lesion | 1.50 | 2.55 | 1.35 | 0.13 | 4.18 | 2.98 | 010
41112 |  | A | Excision of tongue lesion | 2.71 | 4.30 | 2.74 | 0.24 | 7.25 | 5.69 | 090
41113 |  | A | Excision of tongue lesion | 3.17 | 4.66 | 3.02 | 0.28 | 8.11 | 6.47 | 090
41114 |  | A | Excision of tongue lesion | 8.42 | 8.86 | 6.37 | 0.77 | 18.05 | 15.56 | 090
41115 |  | A | Excision of tongue fold | 1.73 | 3.47 | 2.60 | 0.16 | 5.36 | 4.49 | 010
41116 |  | A | Excision of mouth lesion | 2.43 | 4.28 | 2.81 | 0.20 | 6.91 | 5.44 | 090
41120 |  | A | Partial removal of tongue | 9.71 | NA | 7.67 | 0.84 | NA | 18.22 | 090
41130 |  | A | Partial removal of tongue | 11.09 | NA | 8.45 | 0.97 | NA | 20.51 | 090
41135 |  | A | Tongue and neck surgery | 22.96 | NA | 14.99 | 1.99 | NA | 39.94 | 090
41140 |  | A | Removal of tongue | 25.35 | NA | 16.24 | 2.22 | NA | 43.81 | 090
41145 |  | A | Tongue removal, neck surgery | 29.89 | NA | 19.39 | 2.53 | NA | 51.81 | 090
41150 |  | A | Tongue, mouth, jaw surgery | 22.91 | NA | 15.66 | 2.00 | NA | 40.57 | 090
41153 |  | A | Tongue, mouth, neck surgery | 23.63 | NA | 16.13 | 2.05 | NA | 41.81 | 090
41155 |  | A | Tongue, jaw, & neck surgery | 27.56 | NA | 18.18 | 2.42 | NA | 48.16 | 090
41250 |  | A | Repair tongue laceration | 1.90 | 3.12 | 1.65 | 0.18 | 5.20 | 3.73 | 010
41251 |  | A | Repair tongue laceration | 2.26 | 3.63 | 1.96 | 0.22 | 6.11 | 4.44 | 010
41252 |  | A | Repair tongue laceration | 2.95 | 4.22 | 2.31 | 0.28 | 7.45 | 5.54 | 010
41500 |  | A | Fixation of tongue | 3.69 | NA | 3.67 | 0.31 | NA | 7.67 | 090
41510 |  | A | Tongue to lip surgery | 3.40 | NA | 3.15 | 0.29 | NA | 6.84 | 090
41520 |  | A | Reconstruction, tongue fold | 2.71 | 4.12 | 3.25 | 0.23 | 7.06 | 6.19 | 090
41599 |  | C | Tongue and mouth surgery | 0.00 | 0.00 | 0.00 | 0.00 | 0.00 | 0.00 | YYY
41800 |  | A | Drainage of gum lesion | 1.16 | 2.70 | 1.47 | 0.11 | 3.97 | 2.74 | 010
41805 |  | A | Removal foreign body, gum | 1.23 | 2.77 | 2.38 | 0.11 | 4.11 | 3.72 | 010
41806 |  | A | Removal foreign body,jawbone | 2.67 | 3.66 | 3.19 | 0.26 | 6.59 | 6.12 | 010
41820 |  | R | Excision, gum, each quadrant | 0.00 | 0.00 | 0.00 | 0.00 | 0.00 | 0.00 | 000
41821 |  | R | Excision of gum flap | 0.00 | 0.00 | 0.00 | 0.00 | 0.00 | 0.00 | 000
41822 |  | R | Excision of gum lesion | 2.30 | 4.14 | 1.34 | 0.29 | 6.73 | 3.93 | 010
41823 |  | R | Excision of gum lesion | 3.28 | 5.89 | 4.15 | 0.35 | 9.52 | 7.78 | 090
41825 |  | A | Excision of gum lesion | 1.30 | 3.30 | 2.38 | 0.12 | 4.72 | 3.80 | 010
41826 |  | A | Excision of gum lesion | 2.30 | 3.89 | 2.93 | 0.20 | 6.39 | 5.43 | 010
41827 |  | A | Excision of gum lesion | 3.40 | 5.68 | 3.89 | 0.30 | 9.38 | 7.59 | 090
41828 |  | R | Excision of gum lesion | 3.07 | 4.44 | 3.38 | 0.26 | 7.77 | 6.71 | 010
41830 |  | R | Removal of gum tissue | 3.33 | 4.98 | 3.62 | 0.28 | 8.59 | 7.23 | 010
41850 |  | R | Treatment of gum lesion | 0.00 | 0.00 | 0.00 | 0.00 | 0.00 | 0.00 | 000
41870 |  | R | Gum graft | 0.00 | 0.00 | 0.00 | 0.00 | 0.00 | 0.00 | 000
41872 |  | R | Repair gum | 2.58 | 4.68 | 3.57 | 0.22 | 7.48 | 6.37 | 090
41874 |  | R | Repair tooth socket | 3.07 | 4.74 | 3.32 | 0.28 | 8.09 | 6.67 | 090
41899 |  | C | Dental surgery procedure | 0.00 | 0.00 | 0.00 | 0.00 | 0.00 | 0.00 | YYY
42000 |  | A | Drainage mouth roof lesion | 1.22 | 2.76 | 1.27 | 0.12 | 4.10 | 2.61 | 010
42100 |  | A | Biopsy roof of mouth | 1.30 | 2.30 | 1.38 | 0.12 | 3.72 | 2.80 | 010
42104 |  | A | Excision lesion, mouth roof | 1.63 | 2.80 | 1.57 | 0.14 | 4.57 | 3.34 | 010
42106 |  | A | Excision lesion, mouth roof | 2.09 | 3.76 | 2.85 | 0.19 | 6.04 | 5.13 | 010
42107 |  | A | Excision lesion, mouth roof | 4.41 | 6.14 | 4.24 | 0.38 | 10.93 | 9.03 | 090
42120 |  | A | Remove palate/lesion | 6.13 | NA | 5.62 | 0.53 | NA | 12.28 | 090
42140 |  | A | Excision of uvula | 1.61 | 2.50 | 2.39 | 0.14 | 4.25 | 4.14 | 090
42145 |  | A | Repair palate, pharynx/uvula | 8.00 | NA | 6.69 | 0.67 | NA | 15.36 | 090
42160 |  | A | Treatment mouth roof lesion | 1.79 | 3.63 | 2.69 | 0.16 | 5.58 | 4.64 | 010
42180 |  | A | Repair palate | 2.49 | 3.43 | 2.15 | 0.23 | 6.15 | 4.87 | 010
42182 |  | A | Repair palate | 3.81 | 4.29 | 3.09 | 0.32 | 8.42 | 7.22 | 010
42200 |  | A | Reconstruct cleft palate | 11.93 | NA | 9.10 | 1.16 | NA | 22.19 | 090
42205 |  | A | Reconstruct cleft palate | 13.21 | NA | 9.46 | 0.98 | NA | 23.65 | 090
42210 |  | A | Reconstruct cleft palate | 14.42 | NA | 10.65 | 1.49 | NA | 26.56 | 090
42215 |  | A | Reconstruct cleft palate | 8.77 | NA | 7.65 | 1.15 | NA | 17.57 | 090
42220 |  | A | Reconstruct cleft palate | 6.98 | NA | 5.71 | 0.49 | NA | 13.18 | 090
42225 |  | A | Reconstruct cleft palate | 9.49 | NA | 7.76 | 0.90 | NA | 18.15 | 090
42226 |  | A | Lengthening of palate | 9.95 | NA | 7.97 | 0.87 | NA | 18.79 | 090
42227 |  | A | Lengthening of palate | 9.47 | NA | 7.43 | 0.84 | NA | 17.74 | 090
42235 |  | A | Repair palate | 7.83 | NA | 5.42 | 0.59 | NA | 13.84 | 090
42260 |  | A | Repair nose to lip fistula | 9.74 | 9.34 | 7.53 | 1.02 | 20.10 | 18.29 | 090
42280 |  | A | Preparation, palate mold | 1.53 | 2.03 | 0.89 | 0.14 | 3.70 | 2.56 | 010
42281 |  | A | Insertion, palate prosthesis | 1.92 | 2.96 | 1.92 | 0.17 | 5.05 | 4.01 | 010
42299 |  | C | Palate/uvula surgery | 0.00 | 0.00 | 0.00 | 0.00 | 0.00 | 0.00 | YYY
42300 |  | A | Drainage of salivary gland | 1.92 | 2.99 | 1.85 | 0.18 | 5.09 | 3.95 | 010
42305 |  | A | Drainage of salivary gland | 6.04 | NA | 5.00 | 0.55 | NA | 11.59 | 090
42310 |  | A | Drainage of salivary gland | 1.55 | 2.37 | 1.56 | 0.13 | 4.05 | 3.24 | 010
42320 |  | A | Drainage of salivary gland | 2.34 | 3.56 | 2.13 | 0.20 | 6.10 | 4.67 | 010
42325 |  | A | Create salivary cyst drain | 2.73 | 3.59 | 2.26 | 0.20 | 6.52 | 5.19 | 090
42326 |  | A | Create salivary cyst drain | 3.76 | 4.60 | 3.15 | 0.41 | 8.77 | 7.32 | 090
42330 |  | A | Removal of salivary stone | 2.20 | 3.33 | 1.89 | 0.19 | 5.72 | 4.28 | 010
42335 |  | A | Removal of salivary stone | 3.29 | 3.94 | 3.40 | 0.28 | 7.51 | 6.97 | 090
42340 |  | A | Removal of salivary stone | 4.57 | 5.20 | 4.33 | 0.41 | 10.18 | 9.31 | 090
42400 |  | A | Biopsy of salivary gland | 0.78 | 1.77 | 0.72 | 0.07 | 2.62 | 1.57 | 000
42405 |  | A | Biopsy of salivary gland | 3.27 | 4.21 | 2.50 | 0.29 | 7.77 | 6.06 | 010
42408 |  | A | Excision of salivary cyst | 4.51 | 5.11 | 4.10 | 0.41 | 10.03 | 9.02 | 090
42409 |  | A | Drainage of salivary cyst | 2.79 | 3.59 | 3.13 | 0.24 | 6.62 | 6.16 | 090
42410 |  | A | Excise parotid gland/lesion | 9.29 | NA | 6.71 | 0.92 | NA | 16.92 | 090
42415 |  | A | Excise parotid gland/lesion | 16.79 | NA | 11.38 | 1.51 | NA | 29.68 | 090
42420 |  | A | Excise parotid gland/lesion | 19.48 | NA | 12.90 | 1.74 | NA | 34.12 | 090
42425 |  | A | Excise parotid gland/lesion | 12.95 | NA | 9.17 | 1.17 | NA | 23.29 | 090
42426 |  | A | Excise parotid gland/lesion | 21.14 | NA | 13.57 | 1.88 | NA | 36.59 | 090
42440 |  | A | Excise submaxillary gland | 6.93 | NA | 5.12 | 0.61 | NA | 12.66 | 090
42450 |  | A | Excise sublingual gland | 4.59 | 5.73 | 4.29 | 0.41 | 10.73 | 9.29 | 090
42500 |  | A | Repair salivary duct | 4.28 | 5.52 | 4.24 | 0.36 | 10.16 | 8.88 | 090
42505 |  | A | Repair salivary duct | 6.14 | 6.99 | 5.42 | 0.53 | 13.66 | 12.09 | 090
42507 |  | A | Parotid duct diversion | 6.08 | NA | 5.26 | 0.79 | NA | 12.13 | 090
42508 |  | A | Parotid duct diversion | 9.05 | NA | 7.10 | 0.77 | NA | 16.92 | 090
42509 |  | A | Parotid duct diversion | 11.47 | NA | 8.50 | 1.49 | NA | 21.46 | 090
42510 |  | A | Parotid duct diversion | 8.10 | NA | 6.17 | 0.68 | NA | 14.95 | 090
42550 |  | A | Injection for salivary x-ray | 1.24 | 13.07 | 0.42 | 0.07 | 14.38 | 1.73 | 000
42600 |  | A | Closure of salivary fistula | 4.79 | 5.90 | 4.57 | 0.41 | 11.10 | 9.77 | 090
42650 |  | A | Dilation of salivary duct | 0.77 | 1.18 | 0.72 | 0.07 | 2.02 | 1.56 | 000
42660 |  | A | Dilation of salivary duct | 1.12 | 1.50 | 0.85 | 0.08 | 2.70 | 2.05 | 000
42665 |  | A | Ligation of salivary duct | 2.52 | 3.60 | 3.01 | 0.20 | 6.32 | 5.73 | 090
42699 |  | C | Salivary surgery procedure | 0.00 | 0.00 | 0.00 | 0.00 | 0.00 | 0.00 | YYY
42700 |  | A | Drainage of tonsil abscess | 1.61 | 2.78 | 1.75 | 0.14 | 4.53 | 3.50 | 010
42720 |  | A | Drainage of throat abscess | 5.39 | 5.10 | 3.86 | 0.47 | 10.96 | 9.72 | 010
42725 |  | A | Drainage of throat abscess | 10.66 | NA | 8.08 | 0.96 | NA | 19.70 | 090
42800 |  | A | Biopsy of throat | 1.38 | 2.25 | 1.42 | 0.12 | 3.75 | 2.92 | 010
42802 |  | A | Biopsy of throat | 1.53 | 4.43 | 1.96 | 0.13 | 6.09 | 3.62 | 010
42804 |  | A | Biopsy of upper nose/throat | 1.23 | 4.01 | 1.81 | 0.11 | 5.35 | 3.15 | 010
42806 |  | A | Biopsy of upper nose/throat | 1.57 | 4.16 | 1.94 | 0.14 | 5.87 | 3.65 | 010
42808 |  | A | Excise pharynx lesion | 2.29 | 3.21 | 1.95 | 0.20 | 5.70 | 4.44 | 010
42809 |  | A | Remove pharynx foreign body | 1.80 | 2.39 | 1.39 | 0.16 | 4.35 | 3.35 | 010
42810 |  | A | Excision of neck cyst | 3.23 | 4.90 | 3.41 | 0.30 | 8.43 | 6.94 | 090
42815 |  | A | Excision of neck cyst | 7.03 | NA | 5.47 | 0.64 | NA | 13.14 | 090
42820 |  | A | Remove tonsils and adenoids | 3.89 | NA | 3.51 | 0.34 | NA | 7.74 | 090
42821 |  | A | Remove tonsils and adenoids | 4.27 | NA | 3.72 | 0.36 | NA | 8.35 | 090
42825 |  | A | Removal of tonsils | 3.40 | NA | 3.35 | 0.29 | NA | 7.04 | 090
42826 |  | A | Removal of tonsils | 3.36 | NA | 3.24 | 0.28 | NA | 6.88 | 090
42830 |  | A | Removal of adenoids | 2.56 | NA | 2.65 | 0.22 | NA | 5.43 | 090
42831 |  | A | Removal of adenoids | 2.69 | NA | 2.90 | 0.23 | NA | 5.82 | 090
42835 |  | A | Removal of adenoids | 2.29 | NA | 2.66 | 0.20 | NA | 5.15 | 090
42836 |  | A | Removal of adenoids | 3.16 | NA | 3.17 | 0.26 | NA | 6.59 | 090
42842 |  | A | Extensive surgery of throat | 8.71 | NA | 6.82 | 0.73 | NA | 16.26 | 090
42844 |  | A | Extensive surgery of throat | 14.23 | NA | 10.13 | 1.25 | NA | 25.61 | 090
42845 |  | A | Extensive surgery of throat | 24.15 | NA | 16.28 | 2.11 | NA | 42.54 | 090
42860 |  | A | Excision of tonsil tags | 2.21 | NA | 2.60 | 0.19 | NA | 5.00 | 090
42870 |  | A | Excision of lingual tonsil | 5.37 | NA | 4.83 | 0.46 | NA | 10.66 | 090
42890 |  | A | Partial removal of pharynx | 12.87 | NA | 9.44 | 1.09 | NA | 23.40 | 090
42892 |  | A | Revision of pharyngeal walls | 15.74 | NA | 11.01 | 1.37 | NA | 28.12 | 090
42894 |  | A | Revision of pharyngeal walls | 22.75 | NA | 15.23 | 1.97 | NA | 39.95 | 090
42900 |  | A | Repair throat wound | 5.22 | NA | 3.73 | 0.47 | NA | 9.42 | 010
42950 |  | A | Reconstruction of throat | 8.05 | NA | 6.68 | 0.70 | NA | 15.43 | 090
42953 |  | A | Repair throat, esophagus | 8.91 | NA | 7.59 | 0.87 | NA | 17.37 | 090
42955 |  | A | Surgical opening of throat | 7.35 | NA | 5.62 | 0.76 | NA | 13.73 | 090
42960 |  | A | Control throat bleeding | 2.32 | NA | 2.03 | 0.20 | NA | 4.55 | 010
42961 |  | A | Control throat bleeding | 5.56 | NA | 4.90 | 0.48 | NA | 10.94 | 090
42962 |  | A | Control throat bleeding | 7.10 | NA | 5.80 | 0.61 | NA | 13.51 | 090
42970 |  | A | Control nose/throat bleeding | 5.40 | NA | 3.66 | 0.44 | NA | 9.50 | 090
42971 |  | A | Control nose/throat bleeding | 6.17 | NA | 5.03 | 0.54 | NA | 11.74 | 090
42972 |  | A | Control nose/throat bleeding | 7.16 | NA | 5.53 | 0.65 | NA | 13.34 | 090
42999 |  | C | Throat surgery procedure | 0.00 | 0.00 | 0.00 | 0.00 | 0.00 | 0.00 | YYY
43020 |  | A | Incision of esophagus | 8.04 | NA | 5.68 | 0.84 | NA | 14.56 | 090
43030 |  | A | Throat muscle surgery | 7.65 | NA | 5.85 | 0.72 | NA | 14.22 | 090
43045 |  | A | Incision of esophagus | 20.01 | NA | 10.48 | 2.58 | NA | 33.07 | 090
43100 |  | A | Excision of esophagus lesion | 9.14 | NA | 6.27 | 0.95 | NA | 16.36 | 090
43101 |  | A | Excision of esophagus lesion | 16.15 | NA | 7.79 | 2.17 | NA | 26.11 | 090
43107 |  | A | Removal of esophagus | 39.77 | NA | 16.94 | 3.94 | NA | 60.65 | 090
43108 |  | A | Removal of esophagus | 34.00 | NA | 14.23 | 4.53 | NA | 52.76 | 090
43112 |  | A | Removal of esophagus | 43.25 | NA | 17.98 | 4.40 | NA | 65.63 | 090
43113 |  | A | Removal of esophagus | 35.07 | NA | 15.06 | 5.19 | NA | 55.32 | 090
43116 |  | A | Partial removal of esophagus | 31.04 | NA | 16.90 | 3.14 | NA | 51.08 | 090
43117 |  | A | Partial removal of esophagus | 39.77 | NA | 16.17 | 4.21 | NA | 60.15 | 090
43118 |  | A | Partial removal of esophagus | 33.01 | NA | 13.76 | 4.27 | NA | 51.04 | 090
43121 |  | A | Partial removal of esophagus | 29.02 | NA | 12.51 | 4.12 | NA | 45.65 | 090
43122 |  | A | Partial removal of esophagus | 39.77 | NA | 16.38 | 3.92 | NA | 60.07 | 090
43123 |  | A | Partial removal of esophagus | 33.01 | NA | 13.98 | 4.75 | NA | 51.74 | 090
43124 |  | A | Removal of esophagus | 27.16 | NA | 13.02 | 3.54 | NA | 43.72 | 090
43130 |  | A | Removal of esophagus pouch | 11.68 | NA | 7.61 | 1.27 | NA | 20.56 | 090
43135 |  | A | Removal of esophagus pouch | 16.01 | NA | 7.96 | 2.22 | NA | 26.19 | 090
43200 |  | A | Esophagus endoscopy | 1.58 | 4.05 | 1.10 | 0.13 | 5.76 | 2.81 | 000
43201 |  | A | Esoph scope w/submucous inj | 2.08 | 4.75 | 1.28 | 0.14 | 6.97 | 3.50 | 000
43202 |  | A | Esophagus endoscopy, biopsy | 1.88 | 5.47 | 0.97 | 0.14 | 7.49 | 2.99 | 000
43204 |  | A | Esoph scope w/sclerosis inj | 3.75 | NA | 1.56 | 0.22 | NA | 5.53 | 000
43205 |  | A | Esophagus endoscopy/ligation | 3.77 | NA | 1.57 | 0.20 | NA | 5.54 | 000
43215 |  | A | Esophagus endoscopy | 2.59 | NA | 1.24 | 0.20 | NA | 4.03 | 000
43216 |  | A | Esophagus endoscopy/lesion | 2.39 | NA | 1.20 | 0.18 | NA | 3.77 | 000
43217 |  | A | Esophagus endoscopy | 2.88 | 6.89 | 1.23 | 0.20 | 9.97 | 4.31 | 000
43219 |  | A | Esophagus endoscopy | 2.78 | NA | 1.38 | 0.19 | NA | 4.35 | 000
43220 |  | A | Esoph endoscopy, dilation | 2.09 | NA | 0.99 | 0.14 | NA | 3.22 | 000
43226 |  | A | Esoph endoscopy, dilation | 2.33 | NA | 1.06 | 0.14 | NA | 3.53 | 000
43227 |  | A | Esoph endoscopy, repair | 3.58 | NA | 1.49 | 0.22 | NA | 5.29 | 000
43228 |  | A | Esoph endoscopy, ablation | 3.75 | NA | 1.59 | 0.30 | NA | 5.64 | 000
43231 |  | A | Esoph endoscopy w/us exam | 3.17 | NA | 1.34 | 0.24 | NA | 4.75 | 000
43232 |  | A | Esoph endoscopy w/us fn bx | 4.45 | NA | 1.86 | 0.31 | NA | 6.62 | 000
43234 |  | A | Upper GI endoscopy, exam | 2.00 | 5.30 | 0.90 | 0.16 | 7.46 | 3.06 | 000
43235 |  | A | Uppr gi endoscopy, diagnosis | 2.38 | 5.12 | 1.08 | 0.16 | 7.66 | 3.62 | 000
43236 |  | A | Uppr gi scope w/submuc inj | 2.90 | 6.42 | 1.27 | 0.17 | 9.49 | 4.34 | 000
43237 |  | A | Endoscopic us exam, esoph | 3.97 | NA | 1.63 | 0.26 | NA | 5.86 | 000
43238 |  | A | Uppr gi endoscopy w/us fn bx | 5.00 | NA | 1.99 | 0.26 | NA | 7.25 | 000
43239 |  | A | Upper GI endoscopy, biopsy | 2.85 | 5.67 | 1.25 | 0.17 | 8.69 | 4.27 | 000
43240 |  | A | Esoph endoscope w/drain cyst | 6.82 | NA | 2.69 | 0.43 | NA | 9.94 | 000
43241 |  | A | Upper GI endoscopy with tube | 2.58 | NA | 1.15 | 0.17 | NA | 3.90 | 000
43242 |  | A | Uppr gi endoscopy w/us fn bx | 7.27 | NA | 2.82 | 0.35 | NA | 10.44 | 000
43243 |  | A | Upper gi endoscopy & inject | 4.54 | NA | 1.86 | 0.25 | NA | 6.65 | 000
43244 |  | A | Upper GI endoscopy/ligation | 5.02 | NA | 2.03 | 0.25 | NA | 7.30 | 000
43245 |  | A | Uppr gi scope dilate strictr | 3.16 | NA | 1.36 | 0.22 | NA | 4.74 | 000
43246 |  | A | Place gastrostomy tube | 4.31 | NA | 1.76 | 0.29 | NA | 6.36 | 000
43247 |  | A | Operative upper GI endoscopy | 3.37 | NA | 1.44 | 0.20 | NA | 5.01 | 000
43248 |  | A | Uppr gi endoscopy/guide wire | 3.13 | NA | 1.37 | 0.18 | NA | 4.68 | 000
43249 |  | A | Esoph endoscopy, dilation | 2.88 | NA | 1.27 | 0.18 | NA | 4.33 | 000
43250 |  | A | Upper GI endoscopy/tumor | 3.18 | NA | 1.37 | 0.20 | NA | 4.75 | 000
43251 |  | A | Operative upper GI endoscopy | 3.68 | NA | 1.55 | 0.23 | NA | 5.46 | 000
43255 |  | A | Operative upper GI endoscopy | 4.79 | NA | 1.94 | 0.24 | NA | 6.97 | 000
43256 |  | A | Uppr gi endoscopy w stent | 4.33 | NA | 1.78 | 0.28 | NA | 6.39 | 000
43258 |  | A | Operative upper GI endoscopy | 4.52 | NA | 1.86 | 0.26 | NA | 6.64 | 000
43259 |  | A | Endoscopic ultrasound exam | 5.17 | NA | 2.06 | 0.26 | NA | 7.49 | 000
43260 |  | A | Endo cholangiopancreatograph | 5.93 | NA | 2.33 | 0.32 | NA | 8.58 | 000
43261 |  | A | Endo cholangiopancreatograph | 6.23 | NA | 2.44 | 0.35 | NA | 9.02 | 000
43262 |  | A | Endo cholangiopancreatograph | 7.35 | NA | 2.84 | 0.41 | NA | 10.60 | 000
43263 |  | A | Endo cholangiopancreatograph | 7.25 | NA | 2.82 | 0.34 | NA | 10.41 | 000
43264 |  | A | Endo cholangiopancreatograph | 8.85 | NA | 3.37 | 0.49 | NA | 12.71 | 000
43265 |  | A | Endo cholangiopancreatograph | 9.96 | NA | 3.76 | 0.50 | NA | 14.22 | 000
43267 |  | A | Endo cholangiopancreatograph | 7.35 | NA | 2.84 | 0.41 | NA | 10.60 | 000
43268 |  | A | Endo cholangiopancreatograph | 7.35 | NA | 2.94 | 0.41 | NA | 10.70 | 000
43269 |  | A | Endo cholangiopancreatograph | 8.16 | NA | 3.13 | 0.34 | NA | 11.63 | 000
43271 |  | A | Endo cholangiopancreatograph | 7.35 | NA | 2.83 | 0.41 | NA | 10.59 | 000
43272 |  | A | Endo cholangiopancreatograph | 7.35 | NA | 2.84 | 0.41 | NA | 10.60 | 000
43280 |  | A | Laparoscopy, fundoplasty | 17.15 | NA | 7.40 | 2.11 | NA | 26.66 | 090
43289 |  | C | Laparoscope proc, esoph | 0.00 | 0.00 | 0.00 | 0.00 | 0.00 | 0.00 | YYY
43300 |  | A | Repair of esophagus | 9.09 | NA | 6.53 | 1.02 | NA | 16.64 | 090
43305 |  | A | Repair esophagus and fistula | 17.29 | NA | 10.84 | 1.63 | NA | 29.76 | 090
43310 |  | A | Repair of esophagus | 25.25 | NA | 10.95 | 3.81 | NA | 40.01 | 090
43312 |  | A | Repair esophagus and fistula | 28.26 | NA | 11.79 | 4.05 | NA | 44.10 | 090
43313 |  | A | Esophagoplasty congenital | 45.02 | NA | 20.35 | 6.51 | NA | 71.88 | 090
43314 |  | A | Tracheo-esophagoplasty cong | 49.98 | NA | 22.27 | 6.63 | NA | 78.88 | 090
43320 |  | A | Fuse esophagus & stomach | 19.82 | NA | 9.21 | 1.91 | NA | 30.94 | 090
43324 |  | A | Revise esophagus & stomach | 20.45 | NA | 8.88 | 2.06 | NA | 31.39 | 090
43325 |  | A | Revise esophagus & stomach | 19.95 | NA | 8.87 | 1.98 | NA | 30.80 | 090
43326 |  | A | Revise esophagus & stomach | 19.63 | NA | 9.22 | 2.21 | NA | 31.06 | 090
43330 |  | A | Repair of esophagus | 19.66 | NA | 8.64 | 1.82 | NA | 30.12 | 090
43331 |  | A | Repair of esophagus | 20.02 | NA | 9.66 | 2.31 | NA | 31.99 | 090
43340 |  | A | Fuse esophagus & intestine | 19.50 | NA | 8.99 | 1.83 | NA | 30.32 | 090
43341 |  | A | Fuse esophagus & intestine | 20.73 | NA | 9.91 | 2.57 | NA | 33.21 | 090
43350 |  | A | Surgical opening, esophagus | 15.69 | NA | 8.47 | 1.38 | NA | 25.54 | 090
43351 |  | A | Surgical opening, esophagus | 18.25 | NA | 9.65 | 1.81 | NA | 29.71 | 090
43352 |  | A | Surgical opening, esophagus | 15.17 | NA | 8.37 | 1.53 | NA | 25.07 | 090
43360 |  | A | Gastrointestinal repair | 35.50 | NA | 15.02 | 3.60 | NA | 54.12 | 090
43361 |  | A | Gastrointestinal repair | 40.27 | NA | 16.86 | 4.22 | NA | 61.35 | 090
43400 |  | A | Ligate esophagus veins | 21.08 | NA | 9.54 | 1.19 | NA | 31.81 | 090
43401 |  | A | Esophagus surgery for veins | 21.96 | NA | 9.63 | 2.07 | NA | 33.66 | 090
43405 |  | A | Ligate/staple esophagus | 19.90 | NA | 9.56 | 1.95 | NA | 31.41 | 090
43410 |  | A | Repair esophagus wound | 13.39 | NA | 7.58 | 1.38 | NA | 22.35 | 090
43415 |  | A | Repair esophagus wound | 24.86 | NA | 11.65 | 2.30 | NA | 38.81 | 090
43420 |  | A | Repair esophagus opening | 14.27 | NA | 7.51 | 1.03 | NA | 22.81 | 090
43425 |  | A | Repair esophagus opening | 20.91 | NA | 9.84 | 2.43 | NA | 33.18 | 090
43450 |  | A | Dilate esophagus | 1.37 | 2.54 | 0.74 | 0.08 | 3.99 | 2.19 | 000
43453 |  | A | Dilate esophagus | 1.50 | 6.04 | 0.78 | 0.10 | 7.64 | 2.38 | 000
43456 |  | A | Dilate esophagus | 2.56 | 13.88 | 1.16 | 0.17 | 16.61 | 3.89 | 000
43458 |  | A | Dilate esophagus | 3.04 | 6.64 | 1.35 | 0.20 | 9.88 | 4.59 | 000
43460 |  | A | Pressure treatment esophagus | 3.78 | NA | 1.50 | 0.25 | NA | 5.53 | 000
43496 |  | C | Free jejunum flap, microvasc | 0.00 | 0.00 | 0.00 | 0.00 | 0.00 | 0.00 | 090
43499 |  | C | Esophagus surgery procedure | 0.00 | 0.00 | 0.00 | 0.00 | 0.00 | 0.00 | YYY
43500 |  | A | Surgical opening of stomach | 10.99 | NA | 5.05 | 1.01 | NA | 17.05 | 090
43501 |  | A | Surgical repair of stomach | 19.93 | NA | 8.43 | 1.86 | NA | 30.22 | 090
43502 |  | A | Surgical repair of stomach | 23.00 | NA | 9.59 | 2.19 | NA | 34.78 | 090
43510 |  | A | Surgical opening of stomach | 13.01 | NA | 6.63 | 1.08 | NA | 20.72 | 090
43520 |  | A | Incision of pyloric muscle | 9.93 | NA | 5.22 | 1.01 | NA | 16.16 | 090
43600 |  | A | Biopsy of stomach | 1.90 | NA | 1.04 | 0.13 | NA | 3.07 | 000
43605 |  | A | Biopsy of stomach | 11.91 | NA | 5.37 | 1.11 | NA | 18.39 | 090
43610 |  | A | Excision of stomach lesion | 14.52 | NA | 6.25 | 1.37 | NA | 22.14 | 090
43611 |  | A | Excision of stomach lesion | 17.74 | NA | 7.69 | 1.65 | NA | 27.08 | 090
43620 |  | A | Removal of stomach | 29.87 | NA | 11.96 | 2.74 | NA | 44.57 | 090
43621 |  | A | Removal of stomach | 30.55 | NA | 12.17 | 2.83 | NA | 45.55 | 090
43622 |  | A | Removal of stomach | 32.34 | NA | 12.76 | 2.97 | NA | 48.07 | 090
43631 |  | A | Removal of stomach, partial | 22.46 | NA | 9.29 | 2.39 | NA | 34.14 | 090
43632 |  | A | Removal of stomach, partial | 22.46 | NA | 9.30 | 2.40 | NA | 34.16 | 090
43633 |  | A | Removal of stomach, partial | 22.97 | NA | 9.47 | 2.46 | NA | 34.90 | 090
43634 |  | A | Removal of stomach, partial | 24.98 | NA | 10.22 | 2.61 | NA | 37.81 | 090
43635 |  | A | Removal of stomach, partial | 2.05 | NA | 0.71 | 0.25 | NA | 3.01 | ZZZ
43638 |  | A | Removal of stomach, partial | 28.83 | NA | 12.02 | 2.68 | NA | 43.53 | 090
43639 |  | A | Removal of stomach, partial | 29.48 | NA | 11.82 | 2.77 | NA | 44.07 | 090
43640 |  | A | Vagotomy & pylorus repair | 16.92 | NA | 7.37 | 1.81 | NA | 26.10 | 090
43641 |  | A | Vagotomy & pylorus repair | 17.17 | NA | 7.48 | 1.83 | NA | 26.48 | 090
43651 |  | A | Laparoscopy, vagus nerve | 10.09 | NA | 4.81 | 1.23 | NA | 16.13 | 090
43652 |  | A | Laparoscopy, vagus nerve | 12.08 | NA | 5.46 | 1.50 | NA | 19.04 | 090
43653 |  | A | Laparoscopy, gastrostomy | 7.69 | NA | 4.27 | 0.93 | NA | 12.89 | 090
43659 |  | C | Laparoscope proc, stom | 0.00 | 0.00 | 0.00 | 0.00 | 0.00 | 0.00 | YYY
43750 |  | A | Place gastrostomy tube | 4.46 | NA | 2.75 | 0.40 | NA | 7.61 | 010
43752 |  | A | Nasal/orogastric w/stent | 0.68 | 0.26 | 0.26 | 0.02 | 0.96 | 0.96 | 000
43760 |  | A | Change gastrostomy tube | 1.09 | 1.67 | 0.46 | 0.08 | 2.84 | 1.63 | 000
43761 |  | A | Reposition gastrostomy tube | 2.00 | NA | 0.79 | 0.12 | NA | 2.91 | 000
43800 |  | A | Reconstruction of pylorus | 13.61 | NA | 5.98 | 1.28 | NA | 20.87 | 090
43810 |  | A | Fusion of stomach and bowel | 14.57 | NA | 6.28 | 1.32 | NA | 22.17 | 090
43820 |  | A | Fusion of stomach and bowel | 15.28 | NA | 6.52 | 1.41 | NA | 23.21 | 090
43825 |  | A | Fusion of stomach and bowel | 19.11 | NA | 8.14 | 1.80 | NA | 29.05 | 090
43830 |  | A | Place gastrostomy tube | 9.48 | NA | 4.93 | 0.83 | NA | 15.24 | 090
43831 |  | A | Place gastrostomy tube | 7.80 | NA | 4.57 | 0.97 | NA | 13.34 | 090
43832 |  | A | Place gastrostomy tube | 15.51 | NA | 6.97 | 1.35 | NA | 23.83 | 090
43840 |  | A | Repair of stomach lesion | 15.47 | NA | 6.88 | 1.44 | NA | 23.79 | 090
43842 |  | A | Gastroplasty for obesity | 18.36 | NA | 8.22 | 1.81 | NA | 28.39 | 090
43843 |  | A | Gastroplasty for obesity | 18.54 | NA | 8.21 | 1.83 | NA | 28.58 | 090
43846 |  | A | Gastric bypass for obesity | 23.91 | NA | 10.49 | 2.35 | NA | 36.75 | 090
43847 |  | A | Gastric bypass for obesity | 26.77 | NA | 11.43 | 2.57 | NA | 40.77 | 090
43848 |  | A | Revision gastroplasty | 29.22 | NA | 12.36 | 2.86 | NA | 44.44 | 090
43850 |  | A | Revise stomach-bowel fusion | 24.58 | NA | 9.97 | 2.36 | NA | 36.91 | 090
43855 |  | A | Revise stomach-bowel fusion | 26.01 | NA | 10.48 | 2.41 | NA | 38.90 | 090
43860 |  | A | Revise stomach-bowel fusion | 24.86 | NA | 10.12 | 2.43 | NA | 37.41 | 090
43865 |  | A | Revise stomach-bowel fusion | 26.37 | NA | 10.65 | 2.58 | NA | 39.60 | 090
43870 |  | A | Repair stomach opening | 9.63 | NA | 4.59 | 0.85 | NA | 15.07 | 090
43880 |  | A | Repair stomach-bowel fistula | 24.51 | NA | 10.06 | 2.33 | NA | 36.90 | 090
43999 |  | C | Stomach surgery procedure | 0.00 | 0.00 | 0.00 | 0.00 | 0.00 | 0.00 | YYY
44005 |  | A | Freeing of bowel adhesion | 16.14 | NA | 6.84 | 1.67 | NA | 24.65 | 090
44010 |  | A | Incision of small bowel | 12.45 | NA | 5.55 | 1.26 | NA | 19.26 | 090
44015 |  | A | Insert needle cath bowel | 2.61 | NA | 0.89 | 0.30 | NA | 3.80 | ZZZ
44020 |  | A | Explore small intestine | 13.91 | NA | 6.04 | 1.44 | NA | 21.39 | 090
44021 |  | A | Decompress small bowel | 14.00 | NA | 6.07 | 1.41 | NA | 21.48 | 090
44025 |  | A | Incision of large bowel | 14.20 | NA | 6.13 | 1.45 | NA | 21.78 | 090
44050 |  | A | Reduce bowel obstruction | 13.95 | NA | 6.06 | 1.38 | NA | 21.39 | 090
44055 |  | A | Correct malrotation of bowel | 21.87 | NA | 8.87 | 1.58 | NA | 32.32 | 090
44100 |  | A | Biopsy of bowel | 2.00 | NA | 1.10 | 0.14 | NA | 3.24 | 000
44110 |  | A | Excise intestine lesion(s) | 11.74 | NA | 5.34 | 1.20 | NA | 18.28 | 090
44111 |  | A | Excision of bowel lesion(s) | 14.21 | NA | 6.24 | 1.46 | NA | 21.91 | 090
44120 |  | A | Removal of small intestine | 16.90 | NA | 7.20 | 1.75 | NA | 25.85 | 090
44121 |  | A | Removal of small intestine | 4.42 | NA | 1.54 | 0.55 | NA | 6.51 | ZZZ
44125 |  | A | Removal of small intestine | 17.44 | NA | 7.38 | 1.79 | NA | 26.61 | 090
44126 |  | A | Enterectomy w/o taper, cong | 35.30 | NA | 14.31 | 0.43 | NA | 50.04 | 090
44127 |  | A | Enterectomy w/taper, cong | 40.77 | NA | 15.95 | 0.49 | NA | 57.21 | 090
44128 |  | A | Enterectomy cong, add-on | 4.42 | NA | 1.56 | 0.54 | NA | 6.52 | ZZZ
44130 |  | A | Bowel to bowel fusion | 14.41 | NA | 6.33 | 1.47 | NA | 22.21 | 090
44132 |  | R | Enterectomy, cadaver donor | 0.00 | 0.00 | 0.00 | 0.00 | 0.00 | 0.00 | XXX
44133 |  | R | Enterectomy, live donor | 0.00 | 0.00 | 0.00 | 0.00 | 0.00 | 0.00 | XXX
44135 |  | R | Intestine transplnt, cadaver | 0.00 | 0.00 | 0.00 | 0.00 | 0.00 | 0.00 | XXX
44136 |  | R | Intestine transplant, live | 0.00 | 0.00 | 0.00 | 0.00 | 0.00 | 0.00 | XXX
44139 |  | A | Mobilization of colon | 2.22 | NA | 0.77 | 0.25 | NA | 3.24 | ZZZ
44140 |  | A | Partial removal of colon | 20.88 | NA | 8.78 | 2.57 | NA | 32.23 | 090
44141 |  | A | Partial removal of colon | 19.40 | NA | 10.27 | 2.34 | NA | 32.01 | 090
44143 |  | A | Partial removal of colon | 22.86 | NA | 10.91 | 2.42 | NA | 36.19 | 090
44144 |  | A | Partial removal of colon | 21.41 | NA | 9.79 | 2.27 | NA | 33.47 | 090
44145 |  | A | Partial removal of colon | 26.27 | NA | 10.98 | 2.66 | NA | 39.91 | 090
44146 |  | A | Partial removal of colon | 27.38 | NA | 13.13 | 2.64 | NA | 43.15 | 090
44147 |  | A | Partial removal of colon | 20.59 | NA | 8.82 | 2.09 | NA | 31.50 | 090
44150 |  | A | Removal of colon | 23.81 | NA | 12.28 | 2.46 | NA | 38.55 | 090
44151 |  | A | Removal of colon/ileostomy | 26.73 | NA | 13.68 | 2.36 | NA | 42.77 | 090
44152 |  | A | Removal of colon/ileostomy | 27.67 | NA | 11.81 | 2.83 | NA | 42.31 | 090
44153 |  | A | Removal of colon/ileostomy | 30.42 | NA | 14.72 | 2.79 | NA | 47.93 | 090
44155 |  | A | Removal of colon/ileostomy | 27.70 | NA | 13.58 | 2.71 | NA | 43.99 | 090
44156 |  | A | Removal of colon/ileostomy | 30.61 | NA | 15.30 | 2.62 | NA | 48.53 | 090
44160 |  | A | Removal of colon | 18.51 | NA | 7.87 | 2.23 | NA | 28.61 | 090
44200 |  | A | Laparoscopy, enterolysis | 14.36 | NA | 6.29 | 1.75 | NA | 22.40 | 090
44201 |  | A | Laparoscopy, jejunostomy | 9.72 | NA | 4.73 | 1.16 | NA | 15.61 | 090
44202 |  | A | Lap resect s/intestine singl | 21.91 | NA | 9.07 | 2.59 | NA | 33.57 | 090
44203 |  | A | Lap resect s/intestine, addl | 4.42 | NA | 1.52 | 0.55 | NA | 6.49 | ZZZ
44204 |  | A | Laparo partial colectomy | 24.94 | NA | 10.09 | 3.06 | NA | 38.09 | 090
44205 |  | A | Lap colectomy part w/ileum | 22.10 | NA | 8.97 | 2.67 | NA | 33.74 | 090
44206 |  | A | Lap part colectomy w/stoma | 26.85 | NA | 11.48 | 2.42 | NA | 40.75 | 090
44207 |  | A | L colectomy/coloproctostomy | 29.83 | NA | 11.72 | 2.66 | NA | 44.21 | 090
44208 |  | A | L colectomy/coloproctostomy | 31.82 | NA | 13.42 | 2.64 | NA | 47.88 | 090
44210 |  | A | Laparo total proctocolectomy | 27.84 | NA | 12.16 | 2.46 | NA | 42.46 | 090
44211 |  | A | Laparo total proctocolectomy | 34.80 | NA | 14.90 | 2.79 | NA | 52.49 | 090
44212 |  | A | Laparo total proctocolectomy | 32.31 | NA | 14.04 | 2.71 | NA | 49.06 | 090
44238 |  | C | Laparoscope proc, intestine | 0.00 | 0.00 | 0.00 | 0.00 | 0.00 | 0.00 | YYY
44239 |  | C | Laparoscope proc, rectum | 0.00 | 0.00 | 0.00 | 0.00 | 0.00 | 0.00 | YYY
44300 |  | A | Open bowel to skin | 12.04 | NA | 5.58 | 1.05 | NA | 18.67 | 090
44310 |  | A | Ileostomy/jejunostomy | 15.86 | NA | 6.80 | 1.35 | NA | 24.01 | 090
44312 |  | A | Revision of ileostomy | 7.97 | NA | 4.07 | 0.65 | NA | 12.69 | 090
44314 |  | A | Revision of ileostomy | 14.96 | NA | 6.67 | 1.19 | NA | 22.82 | 090
44316 |  | A | Devise bowel pouch | 20.97 | NA | 8.68 | 1.69 | NA | 31.34 | 090
44320 |  | A | Colostomy | 17.54 | NA | 7.79 | 1.53 | NA | 26.86 | 090
44322 |  | A | Colostomy with biopsies | 11.91 | NA | 8.82 | 1.41 | NA | 22.14 | 090
44340 |  | A | Revision of colostomy | 7.68 | NA | 4.36 | 0.67 | NA | 12.71 | 090
44345 |  | A | Revision of colostomy | 15.34 | NA | 7.01 | 1.33 | NA | 23.68 | 090
44346 |  | A | Revision of colostomy | 16.89 | NA | 7.51 | 1.44 | NA | 25.84 | 090
44360 |  | A | Small bowel endoscopy | 2.58 | NA | 1.13 | 0.17 | NA | 3.88 | 000
44361 |  | A | Small bowel endoscopy/biopsy | 2.85 | NA | 1.23 | 0.18 | NA | 4.26 | 000
44363 |  | A | Small bowel endoscopy | 3.48 | NA | 1.42 | 0.23 | NA | 5.13 | 000
44364 |  | A | Small bowel endoscopy | 3.72 | NA | 1.54 | 0.25 | NA | 5.51 | 000
44365 |  | A | Small bowel endoscopy | 3.29 | NA | 1.40 | 0.22 | NA | 4.91 | 000
44366 |  | A | Small bowel endoscopy | 4.38 | NA | 1.78 | 0.26 | NA | 6.42 | 000
44369 |  | A | Small bowel endoscopy | 4.49 | NA | 1.78 | 0.28 | NA | 6.55 | 000
44370 |  | A | Small bowel endoscopy/stent | 4.77 | NA | 2.01 | 0.25 | NA | 7.03 | 000
44372 |  | A | Small bowel endoscopy | 4.38 | NA | 1.77 | 0.32 | NA | 6.47 | 000
44373 |  | A | Small bowel endoscopy | 3.48 | NA | 1.46 | 0.23 | NA | 5.17 | 000
44376 |  | A | Small bowel endoscopy | 5.23 | NA | 2.06 | 0.35 | NA | 7.64 | 000
44377 |  | A | Small bowel endoscopy/biopsy | 5.50 | NA | 2.18 | 0.34 | NA | 8.02 | 000
44378 |  | A | Small bowel endoscopy | 7.09 | NA | 2.75 | 0.44 | NA | 10.28 | 000
44379 |  | A | S bowel endoscope w/stent | 7.43 | NA | 2.97 | 0.46 | NA | 10.86 | 000
44380 |  | A | Small bowel endoscopy | 1.04 | NA | 0.58 | 0.10 | NA | 1.72 | 000
44382 |  | A | Small bowel endoscopy | 1.26 | NA | 0.65 | 0.11 | NA | 2.02 | 000
44383 |  | A | Ileoscopy w/stent | 2.92 | NA | 1.30 | 0.16 | NA | 4.38 | 000
44385 |  | A | Endoscopy of bowel pouch | 1.81 | 5.03 | 0.97 | 0.14 | 6.98 | 2.92 | 000
44386 |  | A | Endoscopy, bowel pouch/biop | 2.11 | 6.60 | 1.13 | 0.18 | 8.89 | 3.42 | 000
44388 |  | A | Colonoscopy | 2.80 | 5.22 | 1.18 | 0.22 | 8.24 | 4.20 | 000
44389 |  | A | Colonoscopy with biopsy | 3.11 | 6.59 | 1.30 | 0.22 | 9.92 | 4.63 | 000
44390 |  | A | Colonoscopy for foreign body | 3.81 | 6.84 | 1.53 | 0.26 | 10.91 | 5.60 | 000
44391 |  | A | Colonoscopy for bleeding | 4.30 | 8.84 | 1.74 | 0.28 | 13.42 | 6.32 | 000
44392 |  | A | Colonoscopy & polypectomy | 3.80 | 6.64 | 1.53 | 0.28 | 10.72 | 5.61 | 000
44393 |  | A | Colonoscopy, lesion removal | 4.81 | 7.01 | 1.91 | 0.32 | 12.14 | 7.04 | 000
44394 |  | A | Colonoscopy w/snare | 4.40 | 7.87 | 1.77 | 0.31 | 12.58 | 6.48 | 000
44397 |  | A | Colonoscopy w/stent | 4.68 | NA | 2.08 | 0.34 | NA | 7.10 | 000
44500 |  | A | Intro, gastrointestinal tube | 0.49 | NA | 0.36 | 0.02 | NA | 0.87 | 000
44602 |  | A | Suture, small intestine | 15.94 | NA | 6.49 | 1.28 | NA | 23.71 | 090
44603 |  | A | Suture, small intestine | 18.55 | NA | 7.39 | 1.67 | NA | 27.61 | 090
44604 |  | A | Suture, large intestine | 15.94 | NA | 6.56 | 1.70 | NA | 24.20 | 090
44605 |  | A | Repair of bowel lesion | 19.42 | NA | 8.55 | 1.85 | NA | 29.82 | 090
44615 |  | A | Intestinal stricturoplasty | 15.84 | NA | 6.79 | 1.67 | NA | 24.30 | 090
44620 |  | A | Repair bowel opening | 12.13 | NA | 5.42 | 1.26 | NA | 18.81 | 090
44625 |  | A | Repair bowel opening | 14.96 | NA | 6.41 | 1.56 | NA | 22.93 | 090
44626 |  | A | Repair bowel opening | 25.22 | NA | 9.96 | 3.03 | NA | 38.21 | 090
44640 |  | A | Repair bowel-skin fistula | 21.53 | NA | 8.71 | 1.75 | NA | 31.99 | 090
44650 |  | A | Repair bowel fistula | 22.44 | NA | 9.01 | 1.79 | NA | 33.24 | 090
44660 |  | A | Repair bowel-bladder fistula | 21.24 | NA | 8.48 | 1.37 | NA | 31.09 | 090
44661 |  | A | Repair bowel-bladder fistula | 24.67 | NA | 9.69 | 1.83 | NA | 36.19 | 090
44680 |  | A | Surgical revision, intestine | 15.31 | NA | 6.56 | 1.64 | NA | 23.51 | 090
44700 |  | A | Suspend bowel w/prosthesis | 16.02 | NA | 6.77 | 1.45 | NA | 24.24 | 090
44701 |  | A | Intraop colon lavage add-on | 3.08 | NA | 1.07 | 0.25 | NA | 4.40 | ZZZ
44799 |  | C | Unlisted procedure intestine | 0.00 | 0.00 | 0.00 | 0.00 | 0.00 | 0.00 | YYY
44800 |  | A | Excision of bowel pouch | 11.17 | NA | 5.49 | 1.33 | NA | 17.99 | 090
44820 |  | A | Excision of mesentery lesion | 12.02 | NA | 5.58 | 1.23 | NA | 18.83 | 090
44850 |  | A | Repair of mesentery | 10.68 | NA | 5.07 | 1.19 | NA | 16.94 | 090
44899 |  | C | Bowel surgery procedure | 0.00 | 0.00 | 0.00 | 0.00 | 0.00 | 0.00 | YYY
44900 |  | A | Drain app abscess, open | 10.08 | NA | 4.78 | 1.01 | NA | 15.87 | 090
44901 |  | A | Drain app abscess, percut | 3.36 | NA | 1.13 | 0.20 | NA | 4.69 | 000
44950 |  | A | Appendectomy | 9.94 | NA | 4.40 | 1.05 | NA | 15.39 | 090
44955 |  | A | Appendectomy add-on | 1.52 | NA | 0.55 | 0.19 | NA | 2.26 | ZZZ
44960 |  | A | Appendectomy | 12.27 | NA | 5.44 | 1.31 | NA | 19.02 | 090
44970 |  | A | Laparoscopy, appendectomy | 8.65 | NA | 4.29 | 1.05 | NA | 13.99 | 090
44979 |  | C | Laparoscope proc, app | 0.00 | 0.00 | 0.00 | 0.00 | 0.00 | 0.00 | YYY
45000 |  | A | Drainage of pelvic abscess | 4.49 | NA | 3.02 | 0.44 | NA | 7.95 | 090
45005 |  | A | Drainage of rectal abscess | 1.98 | 4.90 | 1.72 | 0.22 | 7.10 | 3.92 | 010
45020 |  | A | Drainage of rectal abscess | 4.69 | NA | 3.34 | 0.49 | NA | 8.52 | 090
45100 |  | A | Biopsy of rectum | 3.66 | NA | 2.41 | 0.40 | NA | 6.47 | 090
45108 |  | A | Removal of anorectal lesion | 4.73 | NA | 2.94 | 0.55 | NA | 8.22 | 090
45110 |  | A | Removal of rectum | 27.84 | NA | 12.63 | 2.71 | NA | 43.18 | 090
45111 |  | A | Partial removal of rectum | 16.39 | NA | 7.30 | 1.92 | NA | 25.61 | 090
45112 |  | A | Removal of rectum | 30.37 | NA | 11.95 | 2.82 | NA | 45.14 | 090
45113 |  | A | Partial proctectomy | 30.41 | NA | 12.84 | 2.55 | NA | 45.80 | 090
45114 |  | A | Partial removal of rectum | 27.16 | NA | 11.12 | 2.73 | NA | 41.01 | 090
45116 |  | A | Partial removal of rectum | 24.44 | NA | 10.20 | 2.40 | NA | 37.04 | 090
45119 |  | A | Remove rectum w/reservoir | 30.66 | NA | 12.68 | 2.55 | NA | 45.89 | 090
45120 |  | A | Removal of rectum | 24.46 | NA | 10.30 | 2.73 | NA | 37.49 | 090
45121 |  | A | Removal of rectum and colon | 26.89 | NA | 11.28 | 3.19 | NA | 41.36 | 090
45123 |  | A | Partial proctectomy | 16.61 | NA | 6.99 | 1.25 | NA | 24.85 | 090
45126 |  | A | Pelvic exenteration | 44.90 | NA | 19.71 | 3.87 | NA | 68.48 | 090
45130 |  | A | Excision of rectal prolapse | 16.35 | NA | 6.87 | 1.34 | NA | 24.56 | 090
45135 |  | A | Excision of rectal prolapse | 19.17 | NA | 8.56 | 1.82 | NA | 29.55 | 090
45136 |  | A | Excise ileoanal reservior | 27.14 | NA | 12.66 | 3.26 | NA | 43.06 | 090
45150 |  | A | Excision of rectal stricture | 5.64 | NA | 3.02 | 0.55 | NA | 9.21 | 090
45160 |  | A | Excision of rectal lesion | 15.23 | NA | 6.75 | 1.28 | NA | 23.26 | 090
45170 |  | A | Excision of rectal lesion | 11.42 | NA | 5.33 | 1.07 | NA | 17.82 | 090
45190 |  | A | Destruction, rectal tumor | 9.68 | NA | 4.73 | 0.91 | NA | 15.32 | 090
45300 |  | A | Proctosigmoidoscopy dx | 0.38 | 1.50 | 0.31 | 0.06 | 1.94 | 0.75 | 000
45303 |  | A | Proctosigmoidoscopy dilate | 0.44 | 19.47 | 0.36 | 0.07 | 19.98 | 0.87 | 000
45305 |  | A | Proctosigmoidoscopy w/bx | 1.00 | 2.62 | 0.53 | 0.11 | 3.73 | 1.64 | 000
45307 |  | A | Proctosigmoidoscopy fb | 0.93 | 3.06 | 0.51 | 0.18 | 4.17 | 1.62 | 000
45308 |  | A | Proctosigmoidoscopy removal | 0.83 | 1.96 | 0.47 | 0.16 | 2.95 | 1.46 | 000
45309 |  | A | Proctosigmoidoscopy removal | 2.00 | 2.82 | 0.86 | 0.20 | 5.02 | 3.06 | 000
45315 |  | A | Proctosigmoidoscopy removal | 1.39 | 2.85 | 0.66 | 0.24 | 4.48 | 2.29 | 000
45317 |  | A | Proctosigmoidoscopy bleed | 1.49 | 2.41 | 0.69 | 0.24 | 4.14 | 2.42 | 000
45320 |  | A | Proctosigmoidoscopy ablate | 1.57 | 2.88 | 0.73 | 0.24 | 4.69 | 2.54 | 000
45321 |  | A | Proctosigmoidoscopy volvul | 1.16 | NA | 0.60 | 0.20 | NA | 1.96 | 000
45327 |  | A | Proctosigmoidoscopy w/stent | 1.64 | NA | 0.71 | 0.12 | NA | 2.47 | 000
45330 |  | A | Diagnostic sigmoidoscopy | 0.95 | 2.24 | 0.53 | 0.06 | 3.25 | 1.54 | 000
45331 |  | A | Sigmoidoscopy and biopsy | 1.14 | 2.98 | 0.64 | 0.08 | 4.20 | 1.86 | 000
45332 |  | A | Sigmoidoscopy w/fb removal | 1.78 | 4.96 | 0.85 | 0.13 | 6.87 | 2.76 | 000
45333 |  | A | Sigmoidoscopy & polypectomy | 1.78 | 4.80 | 0.85 | 0.14 | 6.72 | 2.77 | 000
45334 |  | A | Sigmoidoscopy for bleeding | 2.71 | NA | 1.20 | 0.19 | NA | 4.10 | 000
45335 |  | A | Sigmoidoscopy w/submuc inj | 1.35 | 3.45 | 0.65 | 0.08 | 4.88 | 2.08 | 000
45337 |  | A | Sigmoidoscopy & decompress | 2.35 | NA | 1.06 | 0.18 | NA | 3.59 | 000
45338 |  | A | Sigmoidoscopy w/tumr remove | 2.33 | 5.12 | 1.06 | 0.18 | 7.63 | 3.57 | 000
45339 |  | A | Sigmoidoscopy w/ablate tumr | 3.12 | 3.38 | 1.34 | 0.20 | 6.70 | 4.66 | 000
45340 |  | A | Sig w/balloon dilation | 1.65 | 6.74 | 0.76 | 0.08 | 8.47 | 2.49 | 000
45341 |  | A | Sigmoidoscopy w/ultrasound | 2.59 | NA | 1.14 | 0.24 | NA | 3.97 | 000
45342 |  | A | Sigmoidoscopy w/us guide bx | 4.04 | NA | 1.62 | 0.28 | NA | 5.94 | 000
45345 |  | A | Sigmoidoscopy w/stent | 2.90 | NA | 1.22 | 0.18 | NA | 4.30 | 000
45355 |  | A | Surgical colonoscopy | 3.50 | NA | 1.42 | 0.31 | NA | 5.23 | 000
45378 |  | A | Diagnostic colonoscopy | 3.68 | 6.13 | 1.60 | 0.24 | 10.05 | 5.52 | 000
45378 | 53 | A | Diagnostic colonoscopy | 0.95 | 2.24 | 0.53 | 0.06 | 3.25 | 1.54 | 000
45379 |  | A | Colonoscopy w/fb removal | 4.66 | 7.70 | 1.88 | 0.30 | 12.66 | 6.84 | 000
45380 |  | A | Colonoscopy and biopsy | 4.41 | 7.17 | 1.80 | 0.25 | 11.83 | 6.46 | 000
45381 |  | A | Colonoscopy, submucous inj | 4.18 | 8.26 | 1.71 | 0.25 | 12.69 | 6.14 | 000
45382 |  | A | Colonoscopy/control bleeding | 5.66 | 9.86 | 2.25 | 0.32 | 15.84 | 8.23 | 000
45383 |  | A | Lesion removal colonoscopy | 5.84 | 7.96 | 2.29 | 0.38 | 14.18 | 8.51 | 000
45384 |  | A | Lesion remove colonoscopy | 4.67 | 6.79 | 1.90 | 0.29 | 11.75 | 6.86 | 000
45385 |  | A | Lesion removal colonoscopy | 5.28 | 7.81 | 2.10 | 0.34 | 13.43 | 7.72 | 000
45386 |  | A | Colonoscopy dilate stricture | 4.55 | 13.86 | 1.85 | 0.25 | 18.66 | 6.65 | 000
45387 |  | A | Colonoscopy w/stent | 5.88 | NA | 2.38 | 0.40 | NA | 8.66 | 000
45500 |  | A | Repair of rectum | 7.25 | NA | 3.64 | 0.67 | NA | 11.56 | 090
45505 |  | A | Repair of rectum | 7.54 | NA | 3.91 | 0.60 | NA | 12.05 | 090
45520 |  | A | Treatment of rectal prolapse | 0.55 | 0.86 | 0.19 | 0.05 | 1.46 | 0.79 | 000
45540 |  | A | Correct rectal prolapse | 16.18 | NA | 6.94 | 1.40 | NA | 24.52 | 090
45541 |  | A | Correct rectal prolapse | 13.32 | NA | 6.06 | 1.05 | NA | 20.43 | 090
45550 |  | A | Repair rectum/remove sigmoid | 22.87 | NA | 9.39 | 1.89 | NA | 34.15 | 090
45560 |  | A | Repair of rectocele | 10.52 | NA | 5.19 | 0.87 | NA | 16.58 | 090
45562 |  | A | Exploration/repair of rectum | 15.29 | NA | 7.13 | 1.38 | NA | 23.80 | 090
45563 |  | A | Exploration/repair of rectum | 23.34 | NA | 10.73 | 2.21 | NA | 36.28 | 090
45800 |  | A | Repair rect/bladder fistula | 17.67 | NA | 7.59 | 1.37 | NA | 26.63 | 090
45805 |  | A | Repair fistula w/colostomy | 20.66 | NA | 9.71 | 1.76 | NA | 32.13 | 090
45820 |  | A | Repair rectourethral fistula | 18.37 | NA | 7.77 | 1.40 | NA | 27.54 | 090
45825 |  | A | Repair fistula w/colostomy | 21.13 | NA | 10.02 | 1.16 | NA | 32.31 | 090
45900 |  | A | Reduction of rectal prolapse | 2.60 | NA | 1.54 | 0.20 | NA | 4.34 | 010
45905 |  | A | Dilation of anal sphincter | 2.29 | NA | 1.45 | 0.17 | NA | 3.91 | 010
45910 |  | A | Dilation of rectal narrowing | 2.78 | NA | 1.68 | 0.17 | NA | 4.63 | 010
45915 |  | A | Remove rectal obstruction | 3.12 | 4.80 | 1.19 | 0.20 | 8.12 | 4.51 | 010
45999 |  | C | Rectum surgery procedure | 0.00 | 0.00 | 0.00 | 0.00 | 0.00 | 0.00 | YYY
46020 |  | A | Placement of seton | 2.88 | 2.30 | 1.88 | 0.26 | 5.44 | 5.02 | 010
46030 |  | A | Removal of rectal marker | 1.22 | 1.37 | 0.72 | 0.13 | 2.72 | 2.07 | 010
46040 |  | A | Incision of rectal abscess | 4.93 | 5.36 | 3.21 | 0.58 | 10.87 | 8.72 | 090
46045 |  | A | Incision of rectal abscess | 4.30 | NA | 2.96 | 0.48 | NA | 7.74 | 090
46050 |  | A | Incision of anal abscess | 1.18 | 2.60 | 0.87 | 0.13 | 3.91 | 2.18 | 010
46060 |  | A | Incision of rectal abscess | 5.66 | NA | 3.33 | 0.62 | NA | 9.61 | 090
46070 |  | A | Incision of anal septum | 2.69 | NA | 1.91 | 0.32 | NA | 4.92 | 090
46080 |  | A | Incision of anal sphincter | 2.48 | 2.41 | 1.14 | 0.28 | 5.17 | 3.90 | 010
46083 |  | A | Incise external hemorrhoid | 1.39 | 2.54 | 0.96 | 0.14 | 4.07 | 2.49 | 010
46200 |  | A | Removal of anal fissure | 3.40 | 3.69 | 2.45 | 0.36 | 7.45 | 6.21 | 090
46210 |  | A | Removal of anal crypt | 2.65 | 4.88 | 2.17 | 0.31 | 7.84 | 5.13 | 090
46211 |  | A | Removal of anal crypts | 4.23 | 5.16 | 2.98 | 0.44 | 9.83 | 7.65 | 090
46220 |  | A | Removal of anal tag | 1.55 | 2.30 | 0.94 | 0.17 | 4.02 | 2.66 | 010
46221 |  | A | Ligation of hemorrhoid(s) | 2.03 | 1.64 | 1.14 | 0.14 | 3.81 | 3.31 | 010
46230 |  | A | Removal of anal tags | 2.56 | 3.08 | 1.30 | 0.26 | 5.90 | 4.12 | 010
46250 |  | A | Hemorrhoidectomy | 3.87 | 4.93 | 2.48 | 0.52 | 9.32 | 6.87 | 090
46255 |  | A | Hemorrhoidectomy | 4.57 | 5.48 | 2.71 | 0.61 | 10.66 | 7.89 | 090
46257 |  | A | Remove hemorrhoids & fissure | 5.37 | NA | 2.95 | 0.71 | NA | 9.03 | 090
46258 |  | A | Remove hemorrhoids & fistula | 5.70 | NA | 3.34 | 0.77 | NA | 9.81 | 090
46260 |  | A | Hemorrhoidectomy | 6.33 | NA | 3.28 | 0.82 | NA | 10.43 | 090
46261 |  | A | Remove hemorrhoids & fissure | 7.04 | NA | 3.69 | 0.84 | NA | 11.57 | 090
46262 |  | A | Remove hemorrhoids & fistula | 7.46 | NA | 3.83 | 0.91 | NA | 12.20 | 090
46270 |  | A | Removal of anal fistula | 3.70 | 4.72 | 2.40 | 0.43 | 8.85 | 6.53 | 090
46275 |  | A | Removal of anal fistula | 4.53 | 4.42 | 2.60 | 0.48 | 9.43 | 7.61 | 090
46280 |  | A | Removal of anal fistula | 5.95 | NA | 3.34 | 0.60 | NA | 9.89 | 090
46285 |  | A | Removal of anal fistula | 4.07 | 3.64 | 2.38 | 0.41 | 8.12 | 6.86 | 090
46288 |  | A | Repair anal fistula | 7.09 | NA | 3.78 | 0.72 | NA | 11.59 | 090
46320 |  | A | Removal of hemorrhoid clot | 1.60 | 2.15 | 0.86 | 0.17 | 3.92 | 2.63 | 010
46500 |  | A | Injection into hemorrhoid(s) | 1.60 | 2.82 | 0.63 | 0.14 | 4.56 | 2.37 | 010
46600 |  | A | Diagnostic anoscopy | 0.50 | 1.61 | 0.39 | 0.05 | 2.16 | 0.94 | 000
46604 |  | A | Anoscopy and dilation | 1.30 | 9.49 | 0.64 | 0.11 | 10.90 | 2.05 | 000
46606 |  | A | Anoscopy and biopsy | 0.81 | 3.90 | 0.46 | 0.08 | 4.79 | 1.35 | 000
46608 |  | A | Anoscopy, remove for body | 1.50 | 4.51 | 0.69 | 0.16 | 6.17 | 2.35 | 000
46610 |  | A | Anoscopy, remove lesion | 1.31 | 4.14 | 0.64 | 0.14 | 5.59 | 2.09 | 000
46611 |  | A | Anoscopy | 1.80 | 3.40 | 0.80 | 0.18 | 5.38 | 2.78 | 000
46612 |  | A | Anoscopy, remove lesions | 2.33 | 5.26 | 1.01 | 0.22 | 7.81 | 3.56 | 000
46614 |  | A | Anoscopy, control bleeding | 2.00 | 2.30 | 0.87 | 0.17 | 4.47 | 3.04 | 000
46615 |  | A | Anoscopy | 2.66 | 2.55 | 1.10 | 0.28 | 5.49 | 4.04 | 000
46700 |  | A | Repair of anal stricture | 9.08 | NA | 4.29 | 0.67 | NA | 14.04 | 090
46705 |  | A | Repair of anal stricture | 6.86 | NA | 3.79 | 0.87 | NA | 11.52 | 090
46706 |  | A | Repr of anal fistula w/glue | 2.38 | NA | 1.26 | 0.20 | NA | 3.84 | 010
46715 |  | A | Repair of anovaginal fistula | 7.16 | NA | 3.68 | 0.91 | NA | 11.75 | 090
46716 |  | A | Repair of anovaginal fistula | 14.98 | NA | 8.07 | 1.56 | NA | 24.61 | 090
46730 |  | A | Construction of absent anus | 26.60 | NA | 12.21 | 2.43 | NA | 41.24 | 090
46735 |  | A | Construction of absent anus | 31.99 | NA | 13.72 | 3.16 | NA | 48.87 | 090
46740 |  | A | Construction of absent anus | 29.83 | NA | 13.36 | 2.39 | NA | 45.58 | 090
46742 |  | A | Repair of imperforated anus | 35.60 | NA | 17.98 | 3.15 | NA | 56.73 | 090
46744 |  | A | Repair of cloacal anomaly | 52.33 | NA | 21.44 | 2.72 | NA | 76.49 | 090
46746 |  | A | Repair of cloacal anomaly | 57.89 | NA | 25.48 | 3.01 | NA | 86.38 | 090
46748 |  | A | Repair of cloacal anomaly | 63.84 | NA | 24.12 | 3.32 | NA | 91.28 | 090
46750 |  | A | Repair of anal sphincter | 10.19 | NA | 5.18 | 0.83 | NA | 16.20 | 090
46751 |  | A | Repair of anal sphincter | 8.72 | NA | 5.70 | 0.93 | NA | 15.35 | 090
46753 |  | A | Reconstruction of anus | 8.24 | NA | 3.92 | 0.70 | NA | 12.86 | 090
46754 |  | A | Removal of suture from anus | 2.19 | 3.68 | 1.71 | 0.14 | 6.01 | 4.04 | 010
46760 |  | A | Repair of anal sphincter | 14.35 | NA | 7.19 | 1.03 | NA | 22.57 | 090
46761 |  | A | Repair of anal sphincter | 13.76 | NA | 6.16 | 1.01 | NA | 20.93 | 090
46762 |  | A | Implant artificial sphincter | 12.64 | NA | 5.62 | 0.85 | NA | 19.11 | 090
46900 |  | A | Destruction, anal lesion(s) | 1.90 | 3.57 | 0.80 | 0.16 | 5.63 | 2.86 | 010
46910 |  | A | Destruction, anal lesion(s) | 1.85 | 2.72 | 1.11 | 0.17 | 4.74 | 3.13 | 010
46916 |  | A | Cryosurgery, anal lesion(s) | 1.85 | 3.10 | 1.42 | 0.11 | 5.06 | 3.38 | 010
46917 |  | A | Laser surgery, anal lesions | 1.85 | 9.33 | 1.14 | 0.19 | 11.37 | 3.18 | 010
46922 |  | A | Excision of anal lesion(s) | 1.85 | 3.36 | 1.10 | 0.20 | 5.41 | 3.15 | 010
46924 |  | A | Destruction, anal lesion(s) | 2.74 | 8.54 | 1.38 | 0.24 | 11.52 | 4.36 | 010
46934 |  | A | Destruction of hemorrhoids | 3.49 | 5.09 | 2.74 | 0.31 | 8.89 | 6.54 | 090
46935 |  | A | Destruction of hemorrhoids | 2.42 | 3.50 | 1.23 | 0.20 | 6.12 | 3.85 | 010
46936 |  | A | Destruction of hemorrhoids | 3.67 | 4.51 | 2.28 | 0.36 | 8.54 | 6.31 | 090
46937 |  | A | Cryotherapy of rectal lesion | 2.67 | 2.77 | 1.24 | 0.14 | 5.58 | 4.05 | 010
46938 |  | A | Cryotherapy of rectal lesion | 4.63 | 4.27 | 2.74 | 0.48 | 9.38 | 7.85 | 090
46940 |  | A | Treatment of anal fissure | 2.31 | 2.01 | 1.10 | 0.20 | 4.52 | 3.61 | 010
46942 |  | A | Treatment of anal fissure | 2.03 | 1.86 | 1.02 | 0.17 | 4.06 | 3.22 | 010
46945 |  | A | Ligation of hemorrhoids | 1.83 | 3.59 | 1.91 | 0.20 | 5.62 | 3.94 | 090
46946 |  | A | Ligation of hemorrhoids | 2.57 | 4.26 | 1.87 | 0.26 | 7.09 | 4.70 | 090
46999 |  | C | Anus surgery procedure | 0.00 | 0.00 | 0.00 | 0.00 | 0.00 | 0.00 | YYY
47000 |  | A | Needle biopsy of liver | 1.89 | 3.28 | 0.64 | 0.11 | 5.28 | 2.64 | 000
47001 |  | A | Needle biopsy, liver add-on | 1.89 | NA | 0.65 | 0.22 | NA | 2.76 | ZZZ
47010 |  | A | Open drainage, liver lesion | 15.92 | NA | 8.62 | 0.78 | NA | 25.32 | 090
47011 |  | A | Percut drain, liver lesion | 3.68 | NA | 1.23 | 0.20 | NA | 5.11 | 000
47015 |  | A | Inject/aspirate liver cyst | 15.02 | NA | 7.62 | 1.03 | NA | 23.67 | 090
47100 |  | A | Wedge biopsy of liver | 11.60 | NA | 6.16 | 0.90 | NA | 18.66 | 090
47120 |  | A | Partial removal of liver | 35.30 | NA | 15.44 | 2.74 | NA | 53.48 | 090
47122 |  | A | Extensive removal of liver | 54.82 | NA | 21.84 | 4.31 | NA | 80.97 | 090
47125 |  | A | Partial removal of liver | 48.91 | NA | 19.85 | 3.81 | NA | 72.57 | 090
47130 |  | A | Partial removal of liver | 53.05 | NA | 21.32 | 4.16 | NA | 78.53 | 090
47133 |  | X | Removal of donor liver | 0.00 | 0.00 | 0.00 | 0.00 | 0.00 | 0.00 | XXX
47134 |  | D | Partial removal, donor liver | 0.00 | 0.00 | 0.00 | 0.00 | 0.00 | 0.00 | XXX
47135 |  | R | Transplantation of liver | 81.06 | NA | 32.43 | 9.74 | NA | 123.23 | 090
47136 |  | R | Transplantation of liver | 68.21 | NA | 27.78 | 8.31 | NA | 104.30 | 090
47140 |  | A | Partial removal, donor liver | 54.69 | NA | 22.98 | 4.77 | NA | 82.44 | 090
47141 |  | A | Partial removal, donor liver | 67.12 | NA | 27.70 | 4.77 | NA | 99.59 | 090
47142 |  | A | Partial removal, donor liver | 74.57 | NA | 30.29 | 4.77 | NA | 109.63 | 090
47300 |  | A | Surgery for liver lesion | 14.99 | NA | 7.36 | 1.16 | NA | 23.51 | 090
47350 |  | A | Repair liver wound | 19.45 | NA | 9.01 | 1.50 | NA | 29.96 | 090
47360 |  | A | Repair liver wound | 26.77 | NA | 11.78 | 2.05 | NA | 40.60 | 090
47361 |  | A | Repair liver wound | 46.85 | NA | 18.81 | 3.73 | NA | 69.39 | 090
47362 |  | A | Repair liver wound | 18.40 | NA | 8.90 | 1.46 | NA | 28.76 | 090
47370 |  | A | Laparo ablate liver tumor rf | 19.58 | NA | 8.28 | 1.02 | NA | 28.88 | 090
47371 |  | A | Laparo ablate liver cryosurg | 19.58 | NA | 8.29 | 1.02 | NA | 28.89 | 090
47379 |  | C | Laparoscope procedure, liver | 0.00 | 0.00 | 0.00 | 0.00 | 0.00 | 0.00 | YYY
47380 |  | A | Open ablate liver tumor rf | 22.87 | NA | 9.50 | 1.02 | NA | 33.39 | 090
47381 |  | A | Open ablate liver tumor cryo | 23.14 | NA | 9.77 | 1.02 | NA | 33.93 | 090
47382 |  | A | Percut ablate liver rf | 15.10 | NA | 6.16 | 1.37 | NA | 22.63 | 010
47399 |  | C | Liver surgery procedure | 0.00 | 0.00 | 0.00 | 0.00 | 0.00 | 0.00 | YYY
47400 |  | A | Incision of liver duct | 32.30 | NA | 13.69 | 2.18 | NA | 48.17 | 090
47420 |  | A | Incision of bile duct | 19.77 | NA | 8.90 | 2.04 | NA | 30.71 | 090
47425 |  | A | Incision of bile duct | 19.72 | NA | 8.95 | 1.92 | NA | 30.59 | 090
47460 |  | A | Incise bile duct sphincter | 17.94 | NA | 8.50 | 1.49 | NA | 27.93 | 090
47480 |  | A | Incision of gallbladder | 10.76 | NA | 6.03 | 1.02 | NA | 17.81 | 090
47490 |  | A | Incision of gallbladder | 7.19 | NA | 5.87 | 0.40 | NA | 13.46 | 090
47500 |  | A | Injection for liver x-rays | 1.95 | NA | 0.64 | 0.11 | NA | 2.70 | 000
47505 |  | A | Injection for liver x-rays | 0.76 | 2.58 | 0.25 | 0.04 | 3.38 | 1.05 | 000
47510 |  | A | Insert catheter, bile duct | 7.79 | NA | 5.05 | 0.43 | NA | 13.27 | 090
47511 |  | A | Insert bile duct drain | 10.44 | NA | 5.13 | 0.56 | NA | 16.13 | 090
47525 |  | A | Change bile duct catheter | 5.52 | NA | 3.28 | 0.29 | NA | 9.09 | 010
47530 |  | A | Revise/reinsert bile tube | 5.82 | NA | 4.36 | 0.35 | NA | 10.53 | 090
47550 |  | A | Bile duct endoscopy add-on | 3.00 | NA | 1.04 | 0.36 | NA | 4.40 | ZZZ
47552 |  | A | Biliary endoscopy thru skin | 6.01 | NA | 2.42 | 0.50 | NA | 8.93 | 000
47553 |  | A | Biliary endoscopy thru skin | 6.31 | NA | 2.62 | 0.36 | NA | 9.29 | 000
47554 |  | A | Biliary endoscopy thru skin | 9.01 | NA | 3.41 | 0.89 | NA | 13.31 | 000
47555 |  | A | Biliary endoscopy thru skin | 7.52 | NA | 3.04 | 0.42 | NA | 10.98 | 000
47556 |  | A | Biliary endoscopy thru skin | 8.51 | NA | 3.35 | 0.46 | NA | 12.32 | 000
47560 |  | A | Laparoscopy w/cholangio | 4.86 | NA | 1.84 | 0.59 | NA | 7.29 | 000
47561 |  | A | Laparo w/cholangio/biopsy | 5.15 | NA | 2.15 | 0.59 | NA | 7.89 | 000
47562 |  | A | Laparoscopic cholecystectomy | 11.03 | NA | 5.06 | 1.35 | NA | 17.44 | 090
47563 |  | A | Laparo cholecystectomy/graph | 11.87 | NA | 5.37 | 1.45 | NA | 18.69 | 090
47564 |  | A | Laparo cholecystectomy/explr | 14.15 | NA | 6.03 | 1.73 | NA | 21.91 | 090
47570 |  | A | Laparo cholecystoenterostomy | 12.51 | NA | 5.45 | 1.53 | NA | 19.49 | 090
47579 |  | C | Laparoscope proc, biliary | 0.00 | 0.00 | 0.00 | 0.00 | 0.00 | 0.00 | YYY
47600 |  | A | Removal of gallbladder | 13.50 | NA | 6.25 | 1.39 | NA | 21.14 | 090
47605 |  | A | Removal of gallbladder | 14.61 | NA | 6.61 | 1.50 | NA | 22.72 | 090
47610 |  | A | Removal of gallbladder | 18.71 | NA | 8.07 | 1.93 | NA | 28.71 | 090
47612 |  | A | Removal of gallbladder | 18.67 | NA | 8.02 | 1.92 | NA | 28.61 | 090
47620 |  | A | Removal of gallbladder | 20.52 | NA | 8.66 | 2.12 | NA | 31.30 | 090
47630 |  | A | Remove bile duct stone | 9.06 | NA | 4.84 | 0.55 | NA | 14.45 | 090
47700 |  | A | Exploration of bile ducts | 15.53 | NA | 7.55 | 1.68 | NA | 24.76 | 090
47701 |  | A | Bile duct revision | 27.65 | NA | 11.71 | 3.60 | NA | 42.96 | 090
47711 |  | A | Excision of bile duct tumor | 22.90 | NA | 10.12 | 2.37 | NA | 35.39 | 090
47712 |  | A | Excision of bile duct tumor | 30.07 | NA | 12.65 | 3.20 | NA | 45.92 | 090
47715 |  | A | Excision of bile duct cyst | 18.69 | NA | 8.57 | 1.91 | NA | 29.17 | 090
47716 |  | A | Fusion of bile duct cyst | 16.35 | NA | 8.00 | 1.69 | NA | 26.04 | 090
47720 |  | A | Fuse gallbladder & bowel | 15.82 | NA | 7.61 | 1.64 | NA | 25.07 | 090
47721 |  | A | Fuse upper gi structures | 19.01 | NA | 8.72 | 1.95 | NA | 29.68 | 090
47740 |  | A | Fuse gallbladder & bowel | 18.37 | NA | 8.52 | 1.91 | NA | 28.80 | 090
47741 |  | A | Fuse gallbladder & bowel | 21.22 | NA | 9.45 | 2.18 | NA | 32.85 | 090
47760 |  | A | Fuse bile ducts and bowel | 25.70 | NA | 11.02 | 2.65 | NA | 39.37 | 090
47765 |  | A | Fuse liver ducts & bowel | 24.74 | NA | 11.02 | 2.61 | NA | 38.37 | 090
47780 |  | A | Fuse bile ducts and bowel | 26.35 | NA | 11.39 | 2.72 | NA | 40.46 | 090
47785 |  | A | Fuse bile ducts and bowel | 31.00 | NA | 13.16 | 3.22 | NA | 47.38 | 090
47800 |  | A | Reconstruction of bile ducts | 23.17 | NA | 10.23 | 2.34 | NA | 35.74 | 090
47801 |  | A | Placement, bile duct support | 15.08 | NA | 8.38 | 0.83 | NA | 24.29 | 090
47802 |  | A | Fuse liver duct & intestine | 21.43 | NA | 9.86 | 2.21 | NA | 33.50 | 090
47900 |  | A | Suture bile duct injury | 19.79 | NA | 9.02 | 1.98 | NA | 30.79 | 090
47999 |  | C | Bile tract surgery procedure | 0.00 | 0.00 | 0.00 | 0.00 | 0.00 | 0.00 | YYY
48000 |  | A | Drainage of abdomen | 27.91 | NA | 11.68 | 1.58 | NA | 41.17 | 090
48001 |  | A | Placement of drain, pancreas | 35.25 | NA | 14.09 | 2.28 | NA | 51.62 | 090
48005 |  | A | Resect/debride pancreas | 41.93 | NA | 16.80 | 2.71 | NA | 61.44 | 090
48020 |  | A | Removal of pancreatic stone | 15.61 | NA | 7.43 | 1.63 | NA | 24.67 | 090
48100 |  | A | Biopsy of pancreas, open | 12.16 | NA | 5.71 | 1.29 | NA | 19.16 | 090
48102 |  | A | Needle biopsy, pancreas | 4.65 | 9.11 | 2.47 | 0.24 | 14.00 | 7.36 | 010
48120 |  | A | Removal of pancreas lesion | 15.76 | NA | 6.98 | 1.62 | NA | 24.36 | 090
48140 |  | A | Partial removal of pancreas | 22.81 | NA | 9.69 | 2.54 | NA | 35.04 | 090
48145 |  | A | Partial removal of pancreas | 23.88 | NA | 10.01 | 2.70 | NA | 36.59 | 090
48146 |  | A | Pancreatectomy | 26.25 | NA | 12.20 | 2.91 | NA | 41.36 | 090
48148 |  | A | Removal of pancreatic duct | 17.24 | NA | 7.76 | 1.93 | NA | 26.93 | 090
48150 |  | A | Partial removal of pancreas | 47.73 | NA | 19.86 | 5.31 | NA | 72.90 | 090
48152 |  | A | Pancreatectomy | 43.50 | NA | 18.53 | 4.88 | NA | 66.91 | 090
48153 |  | A | Pancreatectomy | 47.62 | NA | 19.96 | 5.27 | NA | 72.85 | 090
48154 |  | A | Pancreatectomy | 43.85 | NA | 18.59 | 4.91 | NA | 67.35 | 090
48155 |  | A | Removal of pancreas | 24.50 | NA | 11.96 | 2.76 | NA | 39.22 | 090
48160 |  | N | Pancreas removal/transplant | 0.00 | 0.00 | 0.00 | 0.00 | 0.00 | 0.00 | XXX
48180 |  | A | Fuse pancreas and bowel | 24.58 | NA | 10.32 | 2.68 | NA | 37.58 | 090
48400 |  | A | Injection, intraop add-on | 1.94 | NA | 0.65 | 0.12 | NA | 2.71 | ZZZ
48500 |  | A | Surgery of pancreatic cyst | 15.19 | NA | 7.48 | 1.62 | NA | 24.29 | 090
48510 |  | A | Drain pancreatic pseudocyst | 14.23 | NA | 7.60 | 1.28 | NA | 23.11 | 090
48511 |  | A | Drain pancreatic pseudocyst | 3.98 | NA | 1.33 | 0.20 | NA | 5.51 | 000
48520 |  | A | Fuse pancreas cyst and bowel | 15.50 | NA | 6.82 | 1.69 | NA | 24.01 | 090
48540 |  | A | Fuse pancreas cyst and bowel | 19.61 | NA | 8.25 | 2.18 | NA | 30.04 | 090
48545 |  | A | Pancreatorrhaphy | 18.08 | NA | 8.11 | 1.93 | NA | 28.12 | 090
48547 |  | A | Duodenal exclusion | 25.68 | NA | 10.65 | 2.76 | NA | 39.09 | 090
48550 |  | X | Donor pancreatectomy | 0.00 | 0.00 | 0.00 | 0.00 | 0.00 | 0.00 | XXX
48554 |  | R | Transpl allograft pancreas | 33.98 | NA | 17.51 | 3.96 | NA | 55.45 | 090
48556 |  | A | Removal, allograft pancreas | 15.62 | NA | 8.38 | 1.82 | NA | 25.82 | 090
48999 |  | C | Pancreas surgery procedure | 0.00 | 0.00 | 0.00 | 0.00 | 0.00 | 0.00 | YYY
49000 |  | A | Exploration of abdomen | 11.61 | NA | 5.48 | 1.40 | NA | 18.49 | 090
49002 |  | A | Reopening of abdomen | 10.43 | NA | 5.13 | 1.27 | NA | 16.83 | 090
49010 |  | A | Exploration behind abdomen | 12.21 | NA | 5.99 | 1.46 | NA | 19.66 | 090
49020 |  | A | Drain abdominal abscess | 22.71 | NA | 10.35 | 1.57 | NA | 34.63 | 090
49021 |  | A | Drain abdominal abscess | 3.36 | NA | 1.12 | 0.19 | NA | 4.67 | 000
49040 |  | A | Drain, open, abdom abscess | 13.44 | NA | 6.54 | 1.01 | NA | 20.99 | 090
49041 |  | A | Drain, percut, abdom abscess | 3.98 | NA | 1.33 | 0.22 | NA | 5.53 | 000
49060 |  | A | Drain, open, retrop abscess | 15.77 | NA | 7.55 | 0.92 | NA | 24.24 | 090
49061 |  | A | Drain, percut, retroper absc | 3.68 | NA | 1.23 | 0.20 | NA | 5.11 | 000
49062 |  | A | Drain to peritoneal cavity | 11.30 | NA | 5.54 | 1.29 | NA | 18.13 | 090
49080 |  | A | Puncture, peritoneal cavity | 1.34 | 4.14 | 0.46 | 0.08 | 5.56 | 1.88 | 000
49081 |  | A | Removal of abdominal fluid | 1.25 | 2.66 | 0.58 | 0.07 | 3.98 | 1.90 | 000
49085 |  | A | Remove abdomen foreign body | 12.07 | NA | 5.61 | 1.05 | NA | 18.73 | 090
49180 |  | A | Biopsy, abdominal mass | 1.72 | 3.34 | 0.58 | 0.10 | 5.16 | 2.40 | 000
49200 |  | A | Removal of abdominal lesion | 10.19 | NA | 5.16 | 1.10 | NA | 16.45 | 090
49201 |  | A | Remove abdom lesion, complex | 14.76 | NA | 7.26 | 1.76 | NA | 23.78 | 090
49215 |  | A | Excise sacral spine tumor | 33.31 | NA | 14.24 | 2.97 | NA | 50.52 | 090
49220 |  | A | Multiple surgery, abdomen | 14.80 | NA | 6.76 | 1.81 | NA | 23.37 | 090
49250 |  | A | Excision of umbilicus | 8.30 | NA | 4.40 | 1.01 | NA | 13.71 | 090
49255 |  | A | Removal of omentum | 11.08 | NA | 5.78 | 1.34 | NA | 18.20 | 090
49320 |  | A | Diag laparo separate proc | 5.07 | NA | 2.69 | 0.60 | NA | 8.36 | 010
49321 |  | A | Laparoscopy, biopsy | 5.37 | NA | 2.69 | 0.64 | NA | 8.70 | 010
49322 |  | A | Laparoscopy, aspiration | 5.67 | NA | 3.03 | 0.68 | NA | 9.38 | 010
49323 |  | A | Laparo drain lymphocele | 9.43 | NA | 4.57 | 1.05 | NA | 15.05 | 090
49329 |  | C | Laparo proc, abdm/per/oment | 0.00 | 0.00 | 0.00 | 0.00 | 0.00 | 0.00 | YYY
49400 |  | A | Air injection into abdomen | 1.87 | NA | 0.79 | 0.13 | NA | 2.79 | 000
49419 |  | A | Insrt abdom cath for chemotx | 6.61 | NA | 3.59 | 0.66 | NA | 10.86 | 090
49420 |  | A | Insert abdom drain, temp | 2.21 | NA | 1.12 | 0.16 | NA | 3.49 | 000
49421 |  | A | Insert abdom drain, perm | 5.51 | NA | 3.22 | 0.66 | NA | 9.39 | 090
49422 |  | A | Remove perm cannula/catheter | 6.21 | NA | 2.94 | 0.76 | NA | 9.91 | 010
49423 |  | A | Exchange drainage catheter | 1.45 | NA | 0.67 | 0.08 | NA | 2.20 | 000
49424 |  | A | Assess cyst, contrast inject | 0.76 | NA | 0.45 | 0.04 | NA | 1.25 | 000
49425 |  | A | Insert abdomen-venous drain | 11.31 | NA | 5.66 | 1.45 | NA | 18.42 | 090
49426 |  | A | Revise abdomen-venous shunt | 9.58 | NA | 4.86 | 1.11 | NA | 15.55 | 090
49427 |  | A | Injection, abdominal shunt | 0.88 | NA | 0.49 | 0.06 | NA | 1.43 | 000
49428 |  | A | Ligation of shunt | 6.03 | NA | 3.31 | 0.37 | NA | 9.71 | 010
49429 |  | A | Removal of shunt | 7.36 | NA | 3.44 | 0.97 | NA | 11.77 | 010
49491 |  | A | Rpr hern preemie reduc | 11.07 | NA | 5.13 | 1.32 | NA | 17.52 | 090
49492 |  | A | Rpr ing hern premie, blocked | 13.95 | NA | 6.21 | 1.76 | NA | 21.92 | 090
49495 |  | A | Rpr ing hernia baby, reduc | 5.86 | NA | 3.02 | 0.70 | NA | 9.58 | 090
49496 |  | A | Rpr ing hernia baby, blocked | 8.74 | NA | 4.41 | 1.10 | NA | 14.25 | 090
49500 |  | A | Rpr ing hernia, init, reduce | 5.45 | NA | 3.19 | 0.55 | NA | 9.19 | 090
49501 |  | A | Rpr ing hernia, init blocked | 8.83 | NA | 4.28 | 0.91 | NA | 14.02 | 090
49505 |  | A | Prp i/hern init reduc>5 yr | 7.56 | 4.15 | 3.91 | 0.78 | 12.49 | 12.25 | 090
49507 |  | A | Prp i/hern init block>5 yr | 9.52 | NA | 4.58 | 0.99 | NA | 15.09 | 090
49520 |  | A | Rerepair ing hernia, reduce | 9.58 | NA | 4.53 | 1.01 | NA | 15.12 | 090
49521 |  | A | Rerepair ing hernia, blocked | 11.90 | NA | 5.34 | 1.25 | NA | 18.49 | 090
49525 |  | A | Repair ing hernia, sliding | 8.52 | NA | 4.18 | 0.89 | NA | 13.59 | 090
49540 |  | A | Repair lumbar hernia | 10.33 | NA | 4.84 | 1.08 | NA | 16.25 | 090
49550 |  | A | Rpr rem hernia, init, reduce | 8.58 | NA | 4.21 | 0.90 | NA | 13.69 | 090
49553 |  | A | Rpr fem hernia, init blocked | 9.39 | NA | 4.51 | 0.99 | NA | 14.89 | 090
49555 |  | A | Rerepair fem hernia, reduce | 8.98 | NA | 4.37 | 0.95 | NA | 14.30 | 090
49557 |  | A | Rerepair fem hernia, blocked | 11.09 | NA | 5.09 | 1.16 | NA | 17.34 | 090
49560 |  | A | Rpr ventral hern init, reduc | 11.50 | NA | 5.26 | 1.20 | NA | 17.96 | 090
49561 |  | A | Rpr ventral hern init, block | 14.17 | NA | 6.17 | 1.47 | NA | 21.81 | 090
49565 |  | A | Rerepair ventrl hern, reduce | 11.50 | NA | 5.33 | 1.20 | NA | 18.03 | 090
49566 |  | A | Rerepair ventrl hern, block | 14.32 | NA | 6.24 | 1.49 | NA | 22.05 | 090
49568 |  | A | Hernia repair w/mesh | 4.86 | NA | 1.70 | 0.60 | NA | 7.16 | ZZZ
49570 |  | A | Rpr epigastric hern, reduce | 5.66 | NA | 3.22 | 0.60 | NA | 9.48 | 090
49572 |  | A | Rpr epigastric hern, blocked | 6.69 | NA | 3.54 | 0.70 | NA | 10.93 | 090
49580 |  | A | Rpr umbil hern, reduc < 5 yr | 4.09 | NA | 2.68 | 0.41 | NA | 7.18 | 090
49582 |  | A | Rpr umbil hern, block < 5 yr | 6.61 | NA | 3.57 | 0.68 | NA | 10.86 | 090
49585 |  | A | Rpr umbil hern, reduc > 5 yr | 6.19 | NA | 3.38 | 0.64 | NA | 10.21 | 090
49587 |  | A | Rpr umbil hern, block > 5 yr | 7.52 | NA | 3.82 | 0.78 | NA | 12.12 | 090
49590 |  | A | Repair spigilian hernia | 8.49 | NA | 4.18 | 0.89 | NA | 13.56 | 090
49600 |  | A | Repair umbilical lesion | 10.90 | NA | 5.42 | 1.35 | NA | 17.67 | 090
49605 |  | A | Repair umbilical lesion | 75.57 | NA | 28.95 | 3.08 | NA | 107.60 | 090
49606 |  | A | Repair umbilical lesion | 18.49 | NA | 7.82 | 2.66 | NA | 28.97 | 090
49610 |  | A | Repair umbilical lesion | 10.44 | NA | 5.34 | 0.92 | NA | 16.70 | 090
49611 |  | A | Repair umbilical lesion | 8.87 | NA | 6.56 | 0.78 | NA | 16.21 | 090
49650 |  | A | Laparo hernia repair initial | 6.23 | NA | 3.26 | 0.77 | NA | 10.26 | 090
49651 |  | A | Laparo hernia repair recur | 8.19 | NA | 4.13 | 1.01 | NA | 13.33 | 090
49659 |  | C | Laparo proc, hernia repair | 0.00 | 0.00 | 0.00 | 0.00 | 0.00 | 0.00 | YYY
49900 |  | A | Repair of abdominal wall | 12.21 | NA | 6.34 | 1.47 | NA | 20.02 | 090
49904 |  | A | Omental flap, extra-abdom | 19.89 | NA | 15.64 | 2.29 | NA | 37.82 | 090
49905 |  | A | Omental flap, intra-abdom | 6.51 | NA | 2.31 | 0.73 | NA | 9.55 | ZZZ
49906 |  | C | Free omental flap, microvasc | 0.00 | 0.00 | 0.00 | 0.00 | 0.00 | 0.00 | 090
49999 |  | C | Abdomen surgery procedure | 0.00 | 0.00 | 0.00 | 0.00 | 0.00 | 0.00 | YYY
50010 |  | A | Exploration of kidney | 10.92 | NA | 5.48 | 0.95 | NA | 17.35 | 090
50020 |  | A | Renal abscess, open drain | 14.58 | NA | 8.90 | 0.96 | NA | 24.44 | 090
50021 |  | A | Renal abscess, percut drain | 3.36 | NA | 1.11 | 0.18 | NA | 4.65 | 000
50040 |  | A | Drainage of kidney | 14.85 | NA | 8.51 | 0.98 | NA | 24.34 | 090
50045 |  | A | Exploration of kidney | 15.37 | NA | 6.88 | 1.27 | NA | 23.52 | 090
50060 |  | A | Removal of kidney stone | 19.19 | NA | 8.13 | 1.37 | NA | 28.69 | 090
50065 |  | A | Incision of kidney | 20.67 | NA | 6.38 | 1.35 | NA | 28.40 | 090
50070 |  | A | Incision of kidney | 20.20 | NA | 8.52 | 1.44 | NA | 30.16 | 090
50075 |  | A | Removal of kidney stone | 25.20 | NA | 10.30 | 1.81 | NA | 37.31 | 090
50080 |  | A | Removal of kidney stone | 14.63 | NA | 7.92 | 1.03 | NA | 23.58 | 090
50081 |  | A | Removal of kidney stone | 21.68 | NA | 10.46 | 1.56 | NA | 33.70 | 090
50100 |  | A | Revise kidney blood vessels | 16.00 | NA | 8.01 | 1.97 | NA | 25.98 | 090
50120 |  | A | Exploration of kidney | 15.82 | NA | 7.06 | 1.25 | NA | 24.13 | 090
50125 |  | A | Explore and drain kidney | 16.43 | NA | 7.21 | 1.28 | NA | 24.92 | 090
50130 |  | A | Removal of kidney stone | 17.19 | NA | 7.46 | 1.25 | NA | 25.90 | 090
50135 |  | A | Exploration of kidney | 19.07 | NA | 8.08 | 1.41 | NA | 28.56 | 090
50200 |  | A | Biopsy of kidney | 2.62 | NA | 0.91 | 0.14 | NA | 3.67 | 000
50205 |  | A | Biopsy of kidney | 11.25 | NA | 5.30 | 1.13 | NA | 17.68 | 090
50220 |  | A | Remove kidney, open | 17.05 | NA | 7.52 | 1.39 | NA | 25.96 | 090
50225 |  | A | Removal kidney open, complex | 20.11 | NA | 8.45 | 1.51 | NA | 30.07 | 090
50230 |  | A | Removal kidney open, radical | 21.94 | NA | 8.93 | 1.62 | NA | 32.49 | 090
50234 |  | A | Removal of kidney & ureter | 22.27 | NA | 9.14 | 1.64 | NA | 33.05 | 090
50236 |  | A | Removal of kidney & ureter | 24.72 | NA | 11.52 | 1.80 | NA | 38.04 | 090
50240 |  | A | Partial removal of kidney | 21.87 | NA | 10.61 | 1.63 | NA | 34.11 | 090
50280 |  | A | Removal of kidney lesion | 15.58 | NA | 6.97 | 1.19 | NA | 23.74 | 090
50290 |  | A | Removal of kidney lesion | 14.65 | NA | 6.73 | 1.33 | NA | 22.71 | 090
50300 |  | X | Removal of donor kidney | 0.00 | 0.00 | 0.00 | 0.00 | 0.00 | 0.00 | XXX
50320 |  | A | Removal of donor kidney | 22.08 | NA | 10.07 | 2.13 | NA | 34.28 | 090
50340 |  | A | Removal of kidney | 12.08 | NA | 7.00 | 1.38 | NA | 20.46 | 090
50360 |  | A | Transplantation of kidney | 31.35 | NA | 15.95 | 3.56 | NA | 50.86 | 090
50365 |  | A | Transplantation of kidney | 36.60 | NA | 18.88 | 4.21 | NA | 59.69 | 090
50370 |  | A | Remove transplanted kidney | 13.64 | NA | 7.60 | 1.51 | NA | 22.75 | 090
50380 |  | A | Reimplantation of kidney | 20.64 | NA | 13.46 | 2.16 | NA | 36.26 | 090
50390 |  | A | Drainage of kidney lesion | 1.95 | NA | 0.64 | 0.11 | NA | 2.70 | 000
50392 |  | A | Insert kidney drain | 3.36 | NA | 1.11 | 0.18 | NA | 4.65 | 000
50393 |  | A | Insert ureteral tube | 4.14 | NA | 1.37 | 0.22 | NA | 5.73 | 000
50394 |  | A | Injection for kidney x-ray | 0.76 | 2.53 | 0.25 | 0.05 | 3.34 | 1.06 | 000
50395 |  | A | Create passage to kidney | 3.36 | NA | 1.11 | 0.19 | NA | 4.66 | 000
50396 |  | A | Measure kidney pressure | 2.08 | NA | 0.86 | 0.12 | NA | 3.06 | 000
50398 |  | A | Change kidney tube | 1.45 | 1.21 | 0.48 | 0.08 | 2.74 | 2.01 | 000
50400 |  | A | Revision of kidney/ureter | 19.39 | NA | 7.81 | 1.45 | NA | 28.65 | 090
50405 |  | A | Revision of kidney/ureter | 23.79 | NA | 10.53 | 1.74 | NA | 36.06 | 090
50500 |  | A | Repair of kidney wound | 19.46 | NA | 8.84 | 1.74 | NA | 30.04 | 090
50520 |  | A | Close kidney-skin fistula | 17.13 | NA | 8.84 | 1.51 | NA | 27.48 | 090
50525 |  | A | Repair renal-abdomen fistula | 22.14 | NA | 10.28 | 1.81 | NA | 34.23 | 090
50526 |  | A | Repair renal-abdomen fistula | 23.88 | NA | 10.99 | 1.94 | NA | 36.81 | 090
50540 |  | A | Revision of horseshoe kidney | 19.82 | NA | 8.59 | 1.53 | NA | 29.94 | 090
50541 |  | A | Laparo ablate renal cyst | 15.91 | NA | 6.49 | 1.19 | NA | 23.59 | 090
50542 |  | A | Laparo ablate renal mass | 19.89 | NA | 8.23 | 1.63 | NA | 29.75 | 090
50543 |  | A | Laparo partial nephrectomy | 25.35 | NA | 10.39 | 1.63 | NA | 37.37 | 090
50544 |  | A | Laparoscopy, pyeloplasty | 22.27 | NA | 8.56 | 1.69 | NA | 32.52 | 090
50545 |  | A | Laparo radical nephrectomy | 23.86 | NA | 9.22 | 1.83 | NA | 34.91 | 090
50546 |  | A | Laparoscopic nephrectomy | 20.36 | NA | 8.39 | 1.64 | NA | 30.39 | 090
50547 |  | A | Laparo removal donor kidney | 25.35 | NA | 10.56 | 2.45 | NA | 38.36 | 090
50548 |  | A | Laparo remove w/ ureter | 24.26 | NA | 9.20 | 1.79 | NA | 35.25 | 090
50549 |  | C | Laparoscope proc, renal | 0.00 | 0.00 | 0.00 | 0.00 | 0.00 | 0.00 | YYY
50551 |  | A | Kidney endoscopy | 5.57 | 4.99 | 1.81 | 0.40 | 10.96 | 7.78 | 000
50553 |  | A | Kidney endoscopy | 5.96 | 18.71 | 1.96 | 0.42 | 25.09 | 8.34 | 000
50555 |  | A | Kidney endoscopy & biopsy | 6.49 | 19.36 | 2.13 | 0.46 | 26.31 | 9.08 | 000
50557 |  | A | Kidney endoscopy & treatment | 6.58 | 20.15 | 2.14 | 0.47 | 27.20 | 9.19 | 000
50559 |  | A | Renal endoscopy/radiotracer | 6.74 | NA | 2.21 | 0.32 | NA | 9.27 | 000
50561 |  | A | Kidney endoscopy & treatment | 7.55 | 17.84 | 2.46 | 0.53 | 25.92 | 10.54 | 000
50562 |  | A | Renal scope w/tumor resect | 10.86 | NA | 3.88 | 1.01 | NA | 15.75 | 090
50570 |  | A | Kidney endoscopy | 9.49 | NA | 3.09 | 0.67 | NA | 13.25 | 000
50572 |  | A | Kidney endoscopy | 10.29 | NA | 3.35 | 0.77 | NA | 14.41 | 000
50574 |  | A | Kidney endoscopy & biopsy | 10.96 | NA | 3.58 | 0.78 | NA | 15.32 | 000
50575 |  | A | Kidney endoscopy | 13.90 | NA | 4.52 | 1.01 | NA | 19.43 | 000
50576 |  | A | Kidney endoscopy & treatment | 10.93 | NA | 3.54 | 0.79 | NA | 15.26 | 000
50578 |  | A | Renal endoscopy/radiotracer | 11.29 | NA | 3.67 | 0.80 | NA | 15.76 | 000
50580 |  | A | Kidney endoscopy & treatment | 11.79 | NA | 3.83 | 0.84 | NA | 16.46 | 000
50590 |  | A | Fragmenting of kidney stone | 9.04 | 10.92 | 5.11 | 0.65 | 20.61 | 14.80 | 090
50600 |  | A | Exploration of ureter | 15.75 | NA | 7.07 | 1.19 | NA | 24.01 | 090
50605 |  | A | Insert ureteral support | 15.37 | NA | 7.09 | 1.35 | NA | 23.81 | 090
50610 |  | A | Removal of ureter stone | 15.83 | NA | 7.32 | 1.29 | NA | 24.44 | 090
50620 |  | A | Removal of ureter stone | 15.07 | NA | 6.69 | 1.09 | NA | 22.85 | 090
50630 |  | A | Removal of ureter stone | 14.85 | NA | 6.63 | 1.08 | NA | 22.56 | 090
50650 |  | A | Removal of ureter | 17.31 | NA | 7.59 | 1.28 | NA | 26.18 | 090
50660 |  | A | Removal of ureter | 19.44 | NA | 8.33 | 1.43 | NA | 29.20 | 090
50684 |  | A | Injection for ureter x-ray | 0.76 | 15.43 | 0.25 | 0.05 | 16.24 | 1.06 | 000
50686 |  | A | Measure ureter pressure | 1.50 | 4.60 | 0.65 | 0.11 | 6.21 | 2.26 | 000
50688 |  | A | Change of ureter tube | 1.16 | NA | 1.76 | 0.07 | NA | 2.99 | 010
50690 |  | A | Injection for ureter x-ray | 1.15 | 15.92 | 0.38 | 0.07 | 17.14 | 1.60 | 000
50700 |  | A | Revision of ureter | 15.12 | NA | 7.39 | 1.03 | NA | 23.54 | 090
50715 |  | A | Release of ureter | 18.79 | NA | 9.28 | 2.01 | NA | 30.08 | 090
50722 |  | A | Release of ureter | 16.26 | NA | 8.18 | 1.69 | NA | 26.13 | 090
50725 |  | A | Release/revise ureter | 18.38 | NA | 8.41 | 1.73 | NA | 28.52 | 090
50727 |  | A | Revise ureter | 8.13 | NA | 5.29 | 0.61 | NA | 14.03 | 090
50728 |  | A | Revise ureter | 11.95 | NA | 6.82 | 1.05 | NA | 19.82 | 090
50740 |  | A | Fusion of ureter & kidney | 18.32 | NA | 8.06 | 1.79 | NA | 28.17 | 090
50750 |  | A | Fusion of ureter & kidney | 19.40 | NA | 8.36 | 1.49 | NA | 29.25 | 090
50760 |  | A | Fusion of ureters | 18.32 | NA | 8.05 | 1.50 | NA | 27.87 | 090
50770 |  | A | Splicing of ureters | 19.40 | NA | 8.35 | 1.50 | NA | 29.25 | 090
50780 |  | A | Reimplant ureter in bladder | 18.26 | NA | 7.96 | 1.44 | NA | 27.66 | 090
50782 |  | A | Reimplant ureter in bladder | 19.43 | NA | 9.73 | 1.35 | NA | 30.51 | 090
50783 |  | A | Reimplant ureter in bladder | 20.43 | NA | 9.48 | 1.62 | NA | 31.53 | 090
50785 |  | A | Reimplant ureter in bladder | 20.40 | NA | 8.68 | 1.56 | NA | 30.64 | 090
50800 |  | A | Implant ureter in bowel | 14.44 | NA | 7.08 | 1.10 | NA | 22.62 | 090
50810 |  | A | Fusion of ureter & bowel | 19.94 | NA | 9.70 | 2.13 | NA | 31.77 | 090
50815 |  | A | Urine shunt to intestine | 19.82 | NA | 9.07 | 1.57 | NA | 30.46 | 090
50820 |  | A | Construct bowel bladder | 21.77 | NA | 9.25 | 1.65 | NA | 32.67 | 090
50825 |  | A | Construct bowel bladder | 28.02 | NA | 11.81 | 2.17 | NA | 42.00 | 090
50830 |  | A | Revise urine flow | 31.10 | NA | 12.81 | 2.64 | NA | 46.55 | 090
50840 |  | A | Replace ureter by bowel | 19.89 | NA | 9.03 | 1.51 | NA | 30.43 | 090
50845 |  | A | Appendico-vesicostomy | 20.77 | NA | 8.99 | 1.51 | NA | 31.27 | 090
50860 |  | A | Transplant ureter to skin | 15.27 | NA | 6.98 | 1.21 | NA | 23.46 | 090
50900 |  | A | Repair of ureter | 13.54 | NA | 6.44 | 1.17 | NA | 21.15 | 090
50920 |  | A | Closure ureter/skin fistula | 14.25 | NA | 6.87 | 1.01 | NA | 22.13 | 090
50930 |  | A | Closure ureter/bowel fistula | 18.61 | NA | 8.30 | 1.88 | NA | 28.79 | 090
50940 |  | A | Release of ureter | 14.43 | NA | 6.72 | 1.25 | NA | 22.40 | 090
50945 |  | A | Laparoscopy ureterolithotomy | 16.90 | NA | 7.04 | 1.38 | NA | 25.32 | 090
50947 |  | A | Laparo new ureter/bladder | 24.36 | NA | 9.76 | 2.39 | NA | 36.51 | 090
50948 |  | A | Laparo new ureter/bladder | 22.37 | NA | 8.72 | 2.19 | NA | 33.28 | 090
50949 |  | C | Laparoscope proc, ureter | 0.00 | 0.00 | 0.00 | 0.00 | 0.00 | 0.00 | YYY
50951 |  | A | Endoscopy of ureter | 5.81 | 5.41 | 1.89 | 0.42 | 11.64 | 8.12 | 000
50953 |  | A | Endoscopy of ureter | 6.20 | 18.72 | 2.02 | 0.44 | 25.36 | 8.66 | 000
50955 |  | A | Ureter endoscopy & biopsy | 6.71 | 19.64 | 2.22 | 0.46 | 26.81 | 9.39 | 000
50957 |  | A | Ureter endoscopy & treatment | 6.75 | 18.38 | 2.20 | 0.48 | 25.61 | 9.43 | 000
50959 |  | A | Ureter endoscopy & tracer | 4.37 | NA | 1.39 | 0.22 | NA | 5.98 | 000
50961 |  | A | Ureter endoscopy & treatment | 6.02 | 25.58 | 1.95 | 0.42 | 32.02 | 8.39 | 000
50970 |  | A | Ureter endoscopy | 7.10 | NA | 2.32 | 0.52 | NA | 9.94 | 000
50972 |  | A | Ureter endoscopy & catheter | 6.85 | NA | 2.28 | 0.47 | NA | 9.60 | 000
50974 |  | A | Ureter endoscopy & biopsy | 9.12 | NA | 2.96 | 0.64 | NA | 12.72 | 000
50976 |  | A | Ureter endoscopy & treatment | 8.99 | NA | 2.94 | 0.64 | NA | 12.57 | 000
50978 |  | A | Ureter endoscopy & tracer | 5.07 | NA | 1.69 | 0.36 | NA | 7.12 | 000
50980 |  | A | Ureter endoscopy & treatment | 6.81 | NA | 2.22 | 0.49 | NA | 9.52 | 000
51000 |  | A | Drainage of bladder | 0.78 | 2.01 | 0.24 | 0.06 | 2.85 | 1.08 | 000
51005 |  | A | Drainage of bladder | 1.01 | 4.88 | 0.34 | 0.10 | 5.99 | 1.45 | 000
51010 |  | A | Drainage of bladder | 3.51 | 5.80 | 1.93 | 0.28 | 9.59 | 5.72 | 010
51020 |  | A | Incise & treat bladder | 6.67 | NA | 4.04 | 0.50 | NA | 11.21 | 090
51030 |  | A | Incise & treat bladder | 6.73 | NA | 4.14 | 0.50 | NA | 11.37 | 090
51040 |  | A | Incise & drain bladder | 4.37 | NA | 2.92 | 0.32 | NA | 7.61 | 090
51045 |  | A | Incise bladder/drain ureter | 6.73 | NA | 4.13 | 0.56 | NA | 11.42 | 090
51050 |  | A | Removal of bladder stone | 6.88 | NA | 3.79 | 0.50 | NA | 11.17 | 090
51060 |  | A | Removal of ureter stone | 8.80 | NA | 4.68 | 0.65 | NA | 14.13 | 090
51065 |  | A | Remove ureter calculus | 8.80 | NA | 4.53 | 0.64 | NA | 13.97 | 090
51080 |  | A | Drainage of bladder abscess | 5.93 | NA | 3.70 | 0.42 | NA | 10.05 | 090
51500 |  | A | Removal of bladder cyst | 10.08 | NA | 5.14 | 1.05 | NA | 16.27 | 090
51520 |  | A | Removal of bladder lesion | 9.24 | NA | 4.86 | 0.70 | NA | 14.80 | 090
51525 |  | A | Removal of bladder lesion | 13.89 | NA | 6.32 | 1.02 | NA | 21.23 | 090
51530 |  | A | Removal of bladder lesion | 12.31 | NA | 5.95 | 0.98 | NA | 19.24 | 090
51535 |  | A | Repair of ureter lesion | 12.50 | NA | 6.34 | 1.08 | NA | 19.92 | 090
51550 |  | A | Partial removal of bladder | 15.57 | NA | 6.94 | 1.26 | NA | 23.77 | 090
51555 |  | A | Partial removal of bladder | 21.11 | NA | 8.91 | 1.64 | NA | 31.66 | 090
51565 |  | A | Revise bladder & ureter(s) | 21.50 | NA | 9.23 | 1.68 | NA | 32.41 | 090
51570 |  | A | Removal of bladder | 24.10 | NA | 10.05 | 1.91 | NA | 36.06 | 090
51575 |  | A | Removal of bladder & nodes | 30.28 | NA | 12.38 | 2.25 | NA | 44.91 | 090
51580 |  | A | Remove bladder/revise tract | 30.90 | NA | 12.85 | 2.33 | NA | 46.08 | 090
51585 |  | A | Removal of bladder & nodes | 35.03 | NA | 14.08 | 2.61 | NA | 51.72 | 090
51590 |  | A | Remove bladder/revise tract | 32.47 | NA | 12.97 | 2.41 | NA | 47.85 | 090
51595 |  | A | Remove bladder/revise tract | 36.93 | NA | 14.51 | 2.67 | NA | 54.11 | 090
51596 |  | A | Remove bladder/create pouch | 39.29 | NA | 15.64 | 2.86 | NA | 57.79 | 090
51597 |  | A | Removal of pelvic structures | 38.13 | NA | 15.24 | 2.98 | NA | 56.35 | 090
51600 |  | A | Injection for bladder x-ray | 0.87 | 5.86 | 0.29 | 0.05 | 6.78 | 1.21 | 000
51605 |  | A | Preparation for bladder xray | 0.64 | 10.87 | 0.35 | 0.05 | 11.56 | 1.04 | 000
51610 |  | A | Injection for bladder x-ray | 1.04 | 1.75 | 0.62 | 0.06 | 2.85 | 1.72 | 000
51700 |  | A | Irrigation of bladder | 0.87 | 1.67 | 0.29 | 0.06 | 2.60 | 1.22 | 000
51701 |  | A | Insert bladder catheter | 0.50 | 1.66 | 0.19 | 0.04 | 2.20 | 0.73 | 000
51702 |  | A | Insert temp bladder cath | 0.50 | 2.36 | 0.26 | 0.04 | 2.90 | 0.80 | 000
51703 |  | A | Insert bladder cath, complex | 1.46 | 3.08 | 0.58 | 0.11 | 4.65 | 2.15 | 000
51705 |  | A | Change of bladder tube | 1.01 | 2.36 | 0.63 | 0.07 | 3.44 | 1.71 | 010
51710 |  | A | Change of bladder tube | 1.48 | 3.46 | 0.78 | 0.11 | 5.05 | 2.37 | 010
51715 |  | A | Endoscopic injection/implant | 3.72 | 4.04 | 1.37 | 0.29 | 8.05 | 5.38 | 000
51720 |  | A | Treatment of bladder lesion | 1.95 | 1.80 | 0.71 | 0.14 | 3.89 | 2.80 | 000
51725 |  | A | Simple cystometrogram | 1.50 | 5.83 | NA | 0.16 | 7.49 | NA | 000
51725 | 26 | A | Simple cystometrogram | 1.50 | 0.50 | 0.50 | 0.12 | 2.12 | 2.12 | 000
51725 | TC | A | Simple cystometrogram | 0.00 | 5.33 | NA | 0.04 | 5.37 | NA | 000
51726 |  | A | Complex cystometrogram | 1.70 | 7.91 | NA | 0.18 | 9.79 | NA | 000
51726 | 26 | A | Complex cystometrogram | 1.70 | 0.57 | 0.57 | 0.13 | 2.40 | 2.40 | 000
51726 | TC | A | Complex cystometrogram | 0.00 | 7.34 | NA | 0.05 | 7.39 | NA | 000
51736 |  | A | Urine flow measurement | 0.61 | 0.60 | NA | 0.06 | 1.27 | NA | 000
51736 | 26 | A | Urine flow measurement | 0.61 | 0.20 | 0.20 | 0.05 | 0.86 | 0.86 | 000
51736 | TC | A | Urine flow measurement | 0.00 | 0.40 | NA | 0.01 | 0.41 | NA | 000
51741 |  | A | Electro-uroflowmetry, first | 1.13 | 0.83 | NA | 0.10 | 2.06 | NA | 000
51741 | 26 | A | Electro-uroflowmetry, first | 1.13 | 0.38 | 0.38 | 0.08 | 1.59 | 1.59 | 000
51741 | TC | A | Electro-uroflowmetry, first | 0.00 | 0.45 | NA | 0.02 | 0.47 | NA | 000
51772 |  | A | Urethra pressure profile | 1.60 | 5.86 | NA | 0.19 | 7.65 | NA | 000
51772 | 26 | A | Urethra pressure profile | 1.60 | 0.56 | 0.56 | 0.14 | 2.30 | 2.30 | 000
51772 | TC | A | Urethra pressure profile | 0.00 | 5.30 | NA | 0.05 | 5.35 | NA | 000
51784 |  | A | Anal/urinary muscle study | 1.52 | 4.16 | NA | 0.16 | 5.84 | NA | 000
51784 | 26 | A | Anal/urinary muscle study | 1.52 | 0.51 | 0.51 | 0.12 | 2.15 | 2.15 | 000
51784 | TC | A | Anal/urinary muscle study | 0.00 | 3.65 | NA | 0.04 | 3.69 | NA | 000
51785 |  | A | Anal/urinary muscle study | 1.52 | 4.68 | NA | 0.15 | 6.35 | NA | 000
51785 | 26 | A | Anal/urinary muscle study | 1.52 | 0.51 | 0.51 | 0.11 | 2.14 | 2.14 | 000
51785 | TC | A | Anal/urinary muscle study | 0.00 | 4.17 | NA | 0.04 | 4.21 | NA | 000
51792 |  | A | Urinary reflex study | 1.09 | 6.06 | NA | 0.24 | 7.39 | NA | 000
51792 | 26 | A | Urinary reflex study | 1.09 | 0.42 | 0.42 | 0.11 | 1.62 | 1.62 | 000
51792 | TC | A | Urinary reflex study | 0.00 | 5.64 | NA | 0.13 | 5.77 | NA | 000
51795 |  | A | Urine voiding pressure study | 1.52 | 7.69 | NA | 0.22 | 9.43 | NA | 000
51795 | 26 | A | Urine voiding pressure study | 1.52 | 0.51 | 0.51 | 0.12 | 2.15 | 2.15 | 000
51795 | TC | A | Urine voiding pressure study | 0.00 | 7.18 | NA | 0.10 | 7.28 | NA | 000
51797 |  | A | Intraabdominal pressure test | 1.59 | 6.02 | NA | 0.17 | 7.78 | NA | 000
51797 | 26 | A | Intraabdominal pressure test | 1.59 | 0.54 | 0.54 | 0.12 | 2.25 | 2.25 | 000
51797 | TC | A | Intraabdominal pressure test | 0.00 | 5.48 | NA | 0.05 | 5.53 | NA | 000
51798 |  | A | Us urine capacity measure | 0.00 | 0.36 | NA | 0.08 | 0.44 | NA | XXX
51800 |  | A | Revision of bladder/urethra | 17.32 | NA | 7.79 | 1.40 | NA | 26.51 | 090
51820 |  | A | Revision of urinary tract | 17.79 | NA | 8.58 | 1.74 | NA | 28.11 | 090
51840 |  | A | Attach bladder/urethra | 10.65 | NA | 5.65 | 1.04 | NA | 17.34 | 090
51841 |  | A | Attach bladder/urethra | 12.96 | NA | 6.46 | 1.25 | NA | 20.67 | 090
51845 |  | A | Repair bladder neck | 9.67 | NA | 4.93 | 0.74 | NA | 15.34 | 090
51860 |  | A | Repair of bladder wound | 11.95 | NA | 5.98 | 1.07 | NA | 19.00 | 090
51865 |  | A | Repair of bladder wound | 14.95 | NA | 6.91 | 1.21 | NA | 23.07 | 090
51880 |  | A | Repair of bladder opening | 7.62 | NA | 4.15 | 0.65 | NA | 12.42 | 090
51900 |  | A | Repair bladder/vagina lesion | 12.90 | NA | 6.30 | 1.04 | NA | 20.24 | 090
51920 |  | A | Close bladder-uterus fistula | 11.74 | NA | 5.82 | 1.03 | NA | 18.59 | 090
51925 |  | A | Hysterectomy/bladder repair | 15.49 | NA | 8.82 | 1.77 | NA | 26.08 | 090
51940 |  | A | Correction of bladder defect | 28.27 | NA | 12.51 | 2.36 | NA | 43.14 | 090
51960 |  | A | Revision of bladder & bowel | 22.88 | NA | 9.98 | 1.69 | NA | 34.55 | 090
51980 |  | A | Construct bladder opening | 11.30 | NA | 5.56 | 0.89 | NA | 17.75 | 090
51990 |  | A | Laparo urethral suspension | 12.43 | NA | 6.26 | 1.22 | NA | 19.91 | 090
51992 |  | A | Laparo sling operation | 13.93 | NA | 6.32 | 1.11 | NA | 21.36 | 090
52000 |  | A | Cystoscopy | 2.00 | 3.41 | 0.76 | 0.14 | 5.55 | 2.90 | 000
52001 |  | A | Cystoscopy, removal of clots | 5.42 | 5.22 | 1.89 | 0.38 | 11.02 | 7.69 | 000
52005 |  | A | Cystoscopy & ureter catheter | 2.36 | 6.01 | 0.90 | 0.18 | 8.55 | 3.44 | 000
52007 |  | A | Cystoscopy and biopsy | 3.00 | NA | 1.17 | 0.22 | NA | 4.39 | 000
52010 |  | A | Cystoscopy & duct catheter | 3.00 | NA | 1.15 | 0.22 | NA | 4.37 | 000
52204 |  | A | Cystoscopy | 2.36 | 3.67 | 0.92 | 0.18 | 6.21 | 3.46 | 000
52214 |  | A | Cystoscopy and treatment | 3.69 | NA | 1.35 | 0.26 | NA | 5.30 | 000
52224 |  | A | Cystoscopy and treatment | 3.12 | NA | 1.17 | 0.22 | NA | 4.51 | 000
52234 |  | A | Cystoscopy and treatment | 4.60 | NA | 1.65 | 0.32 | NA | 6.57 | 000
52235 |  | A | Cystoscopy and treatment | 5.42 | NA | 1.93 | 0.38 | NA | 7.73 | 000
52240 |  | A | Cystoscopy and treatment | 9.66 | NA | 3.33 | 0.70 | NA | 13.69 | 000
52250 |  | A | Cystoscopy and radiotracer | 4.47 | NA | 1.69 | 0.32 | NA | 6.48 | 000
52260 |  | A | Cystoscopy and treatment | 3.90 | NA | 1.45 | 0.28 | NA | 5.63 | 000
52265 |  | A | Cystoscopy and treatment | 2.92 | 3.79 | 1.13 | 0.22 | 6.93 | 4.27 | 000
52270 |  | A | Cystoscopy & revise urethra | 3.35 | NA | 1.26 | 0.24 | NA | 4.85 | 000
52275 |  | A | Cystoscopy & revise urethra | 4.67 | NA | 1.69 | 0.34 | NA | 6.70 | 000
52276 |  | A | Cystoscopy and treatment | 4.97 | NA | 1.81 | 0.36 | NA | 7.14 | 000
52277 |  | A | Cystoscopy and treatment | 6.13 | NA | 2.28 | 0.46 | NA | 8.87 | 000
52281 |  | A | Cystoscopy and treatment | 2.78 | 7.47 | 1.09 | 0.20 | 10.45 | 4.07 | 000
52282 |  | A | Cystoscopy, implant stent | 6.36 | NA | 2.26 | 0.46 | NA | 9.08 | 000
52283 |  | A | Cystoscopy and treatment | 3.72 | 4.06 | 1.41 | 0.26 | 8.04 | 5.39 | 000
52285 |  | A | Cystoscopy and treatment | 3.59 | 4.14 | 1.36 | 0.26 | 7.99 | 5.21 | 000
52290 |  | A | Cystoscopy and treatment | 4.56 | NA | 1.68 | 0.32 | NA | 6.56 | 000
52300 |  | A | Cystoscopy and treatment | 5.28 | NA | 1.93 | 0.38 | NA | 7.59 | 000
52301 |  | A | Cystoscopy and treatment | 5.48 | NA | 2.02 | 0.47 | NA | 7.97 | 000
52305 |  | A | Cystoscopy and treatment | 5.28 | NA | 1.88 | 0.37 | NA | 7.53 | 000
52310 |  | A | Cystoscopy and treatment | 2.79 | 3.56 | 1.04 | 0.20 | 6.55 | 4.03 | 000
52315 |  | A | Cystoscopy and treatment | 5.18 | NA | 1.86 | 0.37 | NA | 7.41 | 000
52317 |  | A | Remove bladder stone | 6.68 | NA | 2.31 | 0.48 | NA | 9.47 | 000
52318 |  | A | Remove bladder stone | 9.14 | NA | 3.14 | 0.65 | NA | 12.93 | 000
52320 |  | A | Cystoscopy and treatment | 4.67 | NA | 1.66 | 0.34 | NA | 6.67 | 000
52325 |  | A | Cystoscopy, stone removal | 6.12 | NA | 2.13 | 0.44 | NA | 8.69 | 000
52327 |  | A | Cystoscopy, inject material | 5.16 | NA | 1.85 | 0.38 | NA | 7.39 | 000
52330 |  | A | Cystoscopy and treatment | 5.01 | NA | 1.78 | 0.36 | NA | 7.15 | 000
52332 |  | A | Cystoscopy and treatment | 2.81 | NA | 1.07 | 0.20 | NA | 4.08 | 000
52334 |  | A | Create passage to kidney | 4.80 | NA | 1.78 | 0.34 | NA | 6.92 | 000
52341 |  | A | Cysto w/ureter stricture tx | 5.97 | NA | 2.24 | 0.44 | NA | 8.65 | 000
52342 |  | A | Cysto w/up stricture tx | 6.46 | NA | 2.38 | 0.48 | NA | 9.32 | 000
52343 |  | A | Cysto w/renal stricture tx | 7.16 | NA | 2.62 | 0.53 | NA | 10.31 | 000
52344 |  | A | Cysto/uretero, stone remove | 7.66 | NA | 2.84 | 0.56 | NA | 11.06 | 000
52345 |  | A | Cysto/uretero w/up stricture | 8.15 | NA | 3.00 | 0.60 | NA | 11.75 | 000
52346 |  | A | Cystouretero w/renal strict | 9.18 | NA | 3.32 | 0.68 | NA | 13.18 | 000
52347 |  | A | Cystoscopy, resect ducts | 5.25 | NA | 1.73 | 0.40 | NA | 7.38 | 000
52351 |  | A | Cystouretero & or pyeloscope | 5.83 | NA | 2.17 | 0.43 | NA | 8.43 | 000
52352 |  | A | Cystouretero w/stone remove | 6.84 | NA | 2.54 | 0.50 | NA | 9.88 | 000
52353 |  | A | Cystouretero w/lithotripsy | 7.92 | NA | 2.90 | 0.59 | NA | 11.41 | 000
52354 |  | A | Cystouretero w/biopsy | 7.30 | NA | 2.71 | 0.54 | NA | 10.55 | 000
52355 |  | A | Cystouretero w/excise tumor | 8.77 | NA | 3.19 | 0.66 | NA | 12.62 | 000
52400 |  | A | Cystouretero w/congen repr | 9.62 | NA | 3.83 | 0.72 | NA | 14.17 | 090
52450 |  | A | Incision of prostate | 7.60 | NA | 3.77 | 0.55 | NA | 11.92 | 090
52500 |  | A | Revision of bladder neck | 8.42 | NA | 4.02 | 0.60 | NA | 13.04 | 090
52510 |  | A | Dilation prostatic urethra | 6.68 | NA | 3.20 | 0.48 | NA | 10.36 | 090
52601 |  | A | Prostatectomy (TURP) | 12.30 | NA | 5.22 | 0.89 | NA | 18.41 | 090
52606 |  | A | Control postop bleeding | 8.08 | NA | 3.63 | 0.59 | NA | 12.30 | 090
52612 |  | A | Prostatectomy, first stage | 7.93 | NA | 3.83 | 0.58 | NA | 12.34 | 090
52614 |  | A | Prostatectomy, second stage | 6.80 | NA | 3.43 | 0.49 | NA | 10.72 | 090
52620 |  | A | Remove residual prostate | 6.57 | NA | 3.06 | 0.47 | NA | 10.10 | 090
52630 |  | A | Remove prostate regrowth | 7.22 | NA | 3.25 | 0.52 | NA | 10.99 | 090
52640 |  | A | Relieve bladder contracture | 6.58 | NA | 3.03 | 0.47 | NA | 10.08 | 090
52647 |  | A | Laser surgery of prostate | 10.30 | 77.33 | 4.63 | 0.73 | 88.36 | 15.66 | 090
52648 |  | A | Laser surgery of prostate | 11.15 | NA | 4.90 | 0.79 | NA | 16.84 | 090
52700 |  | A | Drainage of prostate abscess | 6.76 | NA | 3.25 | 0.49 | NA | 10.50 | 090
53000 |  | A | Incision of urethra | 2.27 | NA | 1.58 | 0.16 | NA | 4.01 | 010
53010 |  | A | Incision of urethra | 3.62 | NA | 3.07 | 0.24 | NA | 6.93 | 090
53020 |  | A | Incision of urethra | 1.76 | 3.12 | 0.68 | 0.13 | 5.01 | 2.57 | 000
53025 |  | A | Incision of urethra | 1.12 | 3.88 | 0.52 | 0.08 | 5.08 | 1.72 | 000
53040 |  | A | Drainage of urethra abscess | 6.36 | 11.42 | 6.38 | 0.49 | 18.27 | 13.23 | 090
53060 |  | A | Drainage of urethra abscess | 2.62 | NA | 1.48 | 0.28 | NA | 4.38 | 010
53080 |  | A | Drainage of urinary leakage | 6.25 | NA | 6.22 | 0.50 | NA | 12.97 | 090
53085 |  | A | Drainage of urinary leakage | 10.21 | NA | 7.71 | 0.80 | NA | 18.72 | 090
53200 |  | A | Biopsy of urethra | 2.58 | 4.35 | 0.99 | 0.20 | 7.13 | 3.77 | 000
53210 |  | A | Removal of urethra | 12.50 | NA | 6.11 | 0.97 | NA | 19.58 | 090
53215 |  | A | Removal of urethra | 15.49 | NA | 6.85 | 1.11 | NA | 23.45 | 090
53220 |  | A | Treatment of urethra lesion | 6.96 | NA | 3.92 | 0.53 | NA | 11.41 | 090
53230 |  | A | Removal of urethra lesion | 9.53 | NA | 4.89 | 0.72 | NA | 15.14 | 090
53235 |  | A | Removal of urethra lesion | 10.08 | NA | 5.09 | 0.72 | NA | 15.89 | 090
53240 |  | A | Surgery for urethra pouch | 6.41 | NA | 3.69 | 0.50 | NA | 10.60 | 090
53250 |  | A | Removal of urethra gland | 5.86 | NA | 3.43 | 0.42 | NA | 9.71 | 090
53260 |  | A | Treatment of urethra lesion | 2.96 | 3.32 | 1.83 | 0.28 | 6.56 | 5.07 | 010
53265 |  | A | Treatment of urethra lesion | 3.10 | NA | 1.86 | 0.24 | NA | 5.20 | 010
53270 |  | A | Removal of urethra gland | 3.07 | NA | 1.91 | 0.25 | NA | 5.23 | 010
53275 |  | A | Repair of urethra defect | 4.50 | NA | 2.30 | 0.34 | NA | 7.14 | 010
53400 |  | A | Revise urethra, stage 1 | 12.70 | NA | 6.17 | 1.02 | NA | 19.89 | 090
53405 |  | A | Revise urethra, stage 2 | 14.40 | NA | 6.53 | 1.09 | NA | 22.02 | 090
53410 |  | A | Reconstruction of urethra | 16.35 | NA | 7.29 | 1.19 | NA | 24.83 | 090
53415 |  | A | Reconstruction of urethra | 19.30 | NA | 7.58 | 1.39 | NA | 28.27 | 090
53420 |  | A | Reconstruct urethra, stage 1 | 14.00 | NA | 6.55 | 1.08 | NA | 21.63 | 090
53425 |  | A | Reconstruct urethra, stage 2 | 15.89 | NA | 7.12 | 1.16 | NA | 24.17 | 090
53430 |  | A | Reconstruction of urethra | 16.25 | NA | 7.23 | 1.21 | NA | 24.69 | 090
53431 |  | A | Reconstruct urethra/bladder | 19.78 | NA | 8.28 | 1.56 | NA | 29.62 | 090
53440 |  | A | Male sling procedure | 13.54 | NA | 6.11 | 0.87 | NA | 20.52 | 090
53442 |  | A | Remove/revise male sling | 11.50 | NA | 5.58 | 0.66 | NA | 17.74 | 090
53444 |  | A | Insert tandem cuff | 13.32 | NA | 5.98 | 1.05 | NA | 20.35 | 090
53445 |  | A | Insert uro/ves nck sphincter | 13.98 | NA | 7.34 | 1.01 | NA | 22.33 | 090
53446 |  | A | Remove uro sphincter | 10.17 | NA | 5.34 | 0.80 | NA | 16.31 | 090
53447 |  | A | Remove/replace ur sphincter | 13.41 | NA | 6.56 | 0.95 | NA | 20.92 | 090
53448 |  | A | Remov/replc ur sphinctr comp | 21.03 | NA | 9.23 | 1.67 | NA | 31.93 | 090
53449 |  | A | Repair uro sphincter | 9.64 | NA | 4.91 | 0.68 | NA | 15.23 | 090
53450 |  | A | Revision of urethra | 6.11 | NA | 3.45 | 0.44 | NA | 10.00 | 090
53460 |  | A | Revision of urethra | 7.08 | NA | 3.87 | 0.52 | NA | 11.47 | 090
53500 |  | A | Urethrlys, transvag w/ scope | 12.14 | NA | 6.27 | 0.89 | NA | 19.30 | 090
53502 |  | A | Repair of urethra injury | 7.59 | NA | 4.19 | 0.60 | NA | 12.38 | 090
53505 |  | A | Repair of urethra injury | 7.59 | NA | 4.04 | 0.55 | NA | 12.18 | 090
53510 |  | A | Repair of urethra injury | 10.05 | NA | 5.35 | 0.72 | NA | 16.12 | 090
53515 |  | A | Repair of urethra injury | 13.23 | NA | 6.12 | 0.99 | NA | 20.34 | 090
53520 |  | A | Repair of urethra defect | 8.63 | NA | 4.65 | 0.64 | NA | 13.92 | 090
53600 |  | A | Dilate urethra stricture | 1.20 | 1.19 | 0.45 | 0.08 | 2.47 | 1.73 | 000
53601 |  | A | Dilate urethra stricture | 0.97 | 1.32 | 0.39 | 0.07 | 2.36 | 1.43 | 000
53605 |  | A | Dilate urethra stricture | 1.27 | NA | 0.42 | 0.10 | NA | 1.79 | 000
53620 |  | A | Dilate urethra stricture | 1.61 | 2.06 | 0.62 | 0.12 | 3.79 | 2.35 | 000
53621 |  | A | Dilate urethra stricture | 1.34 | 2.14 | 0.51 | 0.10 | 3.58 | 1.95 | 000
53660 |  | A | Dilation of urethra | 0.71 | 1.36 | 0.33 | 0.05 | 2.12 | 1.09 | 000
53661 |  | A | Dilation of urethra | 0.72 | 1.36 | 0.31 | 0.05 | 2.13 | 1.08 | 000
53665 |  | A | Dilation of urethra | 0.76 | NA | 0.26 | 0.06 | NA | 1.08 | 000
53850 |  | A | Prostatic microwave thermotx | 9.40 | 99.30 | 4.37 | 0.67 | 109.37 | 14.44 | 090
53852 |  | A | Prostatic rf thermotx | 9.82 | 93.70 | 4.75 | 0.70 | 104.22 | 15.27 | 090
53853 |  | A | Prostatic water thermother | 5.21 | 58.09 | 3.23 | 0.32 | 63.62 | 8.76 | 090
53899 |  | C | Urology surgery procedure | 0.00 | 0.00 | 0.00 | 0.00 | 0.00 | 0.00 | YYY
54000 |  | A | Slitting of prepuce | 1.53 | NA | 1.35 | 0.12 | NA | 3.00 | 010
54001 |  | A | Slitting of prepuce | 2.18 | 4.35 | 1.53 | 0.17 | 6.70 | 3.88 | 010
54015 |  | A | Drain penis lesion | 5.29 | NA | 2.61 | 0.40 | NA | 8.30 | 010
54050 |  | A | Destruction, penis lesion(s) | 1.23 | 1.71 | 1.06 | 0.08 | 3.02 | 2.37 | 010
54055 |  | A | Destruction, penis lesion(s) | 1.21 | 1.62 | 0.82 | 0.08 | 2.91 | 2.11 | 010
54056 |  | A | Cryosurgery, penis lesion(s) | 1.23 | 2.50 | 1.39 | 0.07 | 3.80 | 2.69 | 010
54057 |  | A | Laser surg, penis lesion(s) | 1.23 | NA | 0.88 | 0.10 | NA | 2.21 | 010
54060 |  | A | Excision of penis lesion(s) | 1.92 | 3.92 | 1.47 | 0.14 | 5.98 | 3.53 | 010
54065 |  | A | Destruction, penis lesion(s) | 2.41 | NA | 1.74 | 0.16 | NA | 4.31 | 010
54100 |  | A | Biopsy of penis | 1.89 | 2.90 | 0.83 | 0.12 | 4.91 | 2.84 | 000
54105 |  | A | Biopsy of penis | 3.48 | NA | 1.99 | 0.25 | NA | 5.72 | 010
54110 |  | A | Treatment of penis lesion | 10.07 | NA | 5.71 | 0.72 | NA | 16.50 | 090
54111 |  | A | Treat penis lesion, graft | 13.49 | NA | 6.77 | 0.95 | NA | 21.21 | 090
54112 |  | A | Treat penis lesion, graft | 15.77 | NA | 7.78 | 1.13 | NA | 24.68 | 090
54115 |  | A | Treatment of penis lesion | 6.11 | 8.61 | 4.52 | 0.47 | 15.19 | 11.10 | 090
54120 |  | A | Partial removal of penis | 9.91 | NA | 5.67 | 0.72 | NA | 16.30 | 090
54125 |  | A | Removal of penis | 13.45 | NA | 6.83 | 0.97 | NA | 21.25 | 090
54130 |  | A | Remove penis & nodes | 20.03 | NA | 9.20 | 1.43 | NA | 30.66 | 090
54135 |  | A | Remove penis & nodes | 26.21 | NA | 11.22 | 1.89 | NA | 39.32 | 090
54150 |  | A | Circumcision | 1.80 | NA | 0.99 | 0.20 | NA | 2.99 | 010
54152 |  | A | Circumcision | 2.30 | NA | 1.23 | 0.19 | NA | 3.72 | 010
54160 |  | A | Circumcision | 2.47 | NA | 1.12 | 0.19 | NA | 3.78 | 010
54161 |  | A | Circumcision | 3.25 | NA | 1.60 | 0.24 | NA | 5.09 | 010
54162 |  | A | Lysis penil circumic lesion | 2.98 | NA | 2.03 | 0.24 | NA | 5.25 | 010
54163 |  | A | Repair of circumcision | 2.98 | NA | 2.04 | 0.24 | NA | 5.26 | 010
54164 |  | A | Frenulotomy of penis | 2.49 | NA | 1.88 | 0.19 | NA | 4.56 | 010
54200 |  | A | Treatment of penis lesion | 1.05 | 1.87 | 1.02 | 0.07 | 2.99 | 2.14 | 010
54205 |  | A | Treatment of penis lesion | 7.88 | NA | 4.89 | 0.56 | NA | 13.33 | 090
54220 |  | A | Treatment of penis lesion | 2.41 | 3.98 | 0.97 | 0.18 | 6.57 | 3.56 | 000
54230 |  | A | Prepare penis study | 1.33 | 1.13 | 0.64 | 0.10 | 2.56 | 2.07 | 000
54231 |  | A | Dynamic cavernosometry | 2.03 | 1.42 | 0.88 | 0.17 | 3.62 | 3.08 | 000
54235 |  | A | Penile injection | 1.18 | 0.99 | 0.60 | 0.08 | 2.25 | 1.86 | 000
54240 |  | A | Penis study | 1.30 | 1.04 | NA | 0.16 | 2.50 | NA | 000
54240 | 26 | A | Penis study | 1.30 | 0.43 | 0.43 | 0.10 | 1.83 | 1.83 | 000
54240 | TC | A | Penis study | 0.00 | 0.61 | NA | 0.06 | 0.67 | NA | 000
54250 |  | A | Penis study | 2.21 | 0.93 | NA | 0.19 | 3.33 | NA | 000
54250 | 26 | A | Penis study | 2.21 | 0.71 | 0.71 | 0.17 | 3.09 | 3.09 | 000
54250 | TC | A | Penis study | 0.00 | 0.22 | NA | 0.02 | 0.24 | NA | 000
54300 |  | A | Revision of penis | 10.35 | NA | 5.81 | 0.77 | NA | 16.93 | 090
54304 |  | A | Revision of penis | 12.42 | NA | 6.62 | 0.89 | NA | 19.93 | 090
54308 |  | A | Reconstruction of urethra | 11.76 | NA | 6.24 | 0.84 | NA | 18.84 | 090
54312 |  | A | Reconstruction of urethra | 13.49 | NA | 7.28 | 0.97 | NA | 21.74 | 090
54316 |  | A | Reconstruction of urethra | 16.72 | NA | 8.28 | 1.20 | NA | 26.20 | 090
54318 |  | A | Reconstruction of urethra | 11.19 | NA | 6.06 | 1.38 | NA | 18.63 | 090
54322 |  | A | Reconstruction of urethra | 12.94 | NA | 6.71 | 0.92 | NA | 20.57 | 090
54324 |  | A | Reconstruction of urethra | 16.22 | NA | 8.31 | 1.23 | NA | 25.76 | 090
54326 |  | A | Reconstruction of urethra | 15.63 | NA | 8.10 | 1.11 | NA | 24.84 | 090
54328 |  | A | Revise penis/urethra | 15.56 | NA | 7.53 | 1.10 | NA | 24.19 | 090
54332 |  | A | Revise penis/urethra | 16.98 | NA | 8.03 | 1.21 | NA | 26.22 | 090
54336 |  | A | Revise penis/urethra | 19.93 | NA | 10.83 | 2.28 | NA | 33.04 | 090
54340 |  | A | Secondary urethral surgery | 8.86 | NA | 5.32 | 0.86 | NA | 15.04 | 090
54344 |  | A | Secondary urethral surgery | 15.85 | NA | 8.07 | 1.32 | NA | 25.24 | 090
54348 |  | A | Secondary urethral surgery | 17.05 | NA | 8.71 | 1.22 | NA | 26.98 | 090
54352 |  | A | Reconstruct urethra/penis | 24.60 | NA | 11.62 | 1.94 | NA | 38.16 | 090
54360 |  | A | Penis plastic surgery | 11.86 | NA | 6.25 | 0.86 | NA | 18.97 | 090
54380 |  | A | Repair penis | 13.10 | NA | 6.91 | 1.39 | NA | 21.40 | 090
54385 |  | A | Repair penis | 15.30 | NA | 8.57 | 0.85 | NA | 24.72 | 090
54390 |  | A | Repair penis and bladder | 21.49 | NA | 9.71 | 1.53 | NA | 32.73 | 090
54400 |  | A | Insert semi-rigid prosthesis | 8.94 | NA | 4.52 | 0.64 | NA | 14.10 | 090
54401 |  | A | Insert self-contd prosthesis | 10.22 | NA | 5.92 | 0.73 | NA | 16.87 | 090
54405 |  | A | Insert multi-comp penis pros | 13.35 | NA | 6.13 | 0.96 | NA | 20.44 | 090
54406 |  | A | Remove muti-comp penis pros | 12.03 | NA | 5.53 | 0.90 | NA | 18.46 | 090
54408 |  | A | Repair multi-comp penis pros | 12.68 | NA | 5.84 | 0.95 | NA | 19.47 | 090
54410 |  | A | Remove/replace penis prosth | 15.41 | NA | 6.75 | 1.15 | NA | 23.31 | 090
54411 |  | A | Remov/replc penis pros, comp | 15.91 | NA | 7.17 | 0.96 | NA | 24.04 | 090
54415 |  | A | Remove self-contd penis pros | 8.15 | NA | 4.29 | 0.65 | NA | 13.09 | 090
54416 |  | A | Remv/repl penis contain pros | 10.81 | NA | 5.49 | 0.66 | NA | 16.96 | 090
54417 |  | A | Remv/replc penis pros, compl | 14.11 | NA | 6.28 | 0.66 | NA | 21.05 | 090
54420 |  | A | Revision of penis | 11.35 | NA | 5.78 | 0.86 | NA | 17.99 | 090
54430 |  | A | Revision of penis | 10.09 | NA | 5.32 | 0.72 | NA | 16.13 | 090
54435 |  | A | Revision of penis | 6.09 | NA | 3.78 | 0.43 | NA | 10.30 | 090
54440 |  | C | Repair of penis | 0.00 | 0.00 | 0.00 | 0.00 | 0.00 | 0.00 | 090
54450 |  | A | Preputial stretching | 1.11 | 1.12 | 0.48 | 0.08 | 2.31 | 1.67 | 000
54500 |  | A | Biopsy of testis | 1.30 | 0.62 | 0.58 | 0.10 | 2.02 | 1.98 | 000
54505 |  | A | Biopsy of testis | 3.44 | NA | 1.96 | 0.25 | NA | 5.65 | 010
54512 |  | A | Excise lesion testis | 8.53 | NA | 4.21 | 0.67 | NA | 13.41 | 090
54520 |  | A | Removal of testis | 5.20 | NA | 2.89 | 0.40 | NA | 8.49 | 090
54522 |  | A | Orchiectomy, partial | 9.45 | NA | 4.97 | 0.74 | NA | 15.16 | 090
54530 |  | A | Removal of testis | 8.53 | NA | 4.38 | 0.64 | NA | 13.55 | 090
54535 |  | A | Extensive testis surgery | 12.09 | NA | 5.74 | 0.99 | NA | 18.82 | 090
54550 |  | A | Exploration for testis | 7.74 | NA | 3.94 | 0.59 | NA | 12.27 | 090
54560 |  | A | Exploration for testis | 11.07 | NA | 5.33 | 0.95 | NA | 17.35 | 090
54600 |  | A | Reduce testis torsion | 6.97 | NA | 3.66 | 0.54 | NA | 11.17 | 090
54620 |  | A | Suspension of testis | 4.87 | NA | 2.50 | 0.37 | NA | 7.74 | 010
54640 |  | A | Suspension of testis | 6.86 | NA | 3.85 | 0.59 | NA | 11.30 | 090
54650 |  | A | Orchiopexy (Fowler-Stephens) | 11.38 | NA | 5.60 | 0.97 | NA | 17.95 | 090
54660 |  | A | Revision of testis | 5.08 | NA | 3.11 | 0.42 | NA | 8.61 | 090
54670 |  | A | Repair testis injury | 6.37 | NA | 3.65 | 0.49 | NA | 10.51 | 090
54680 |  | A | Relocation of testis(es) | 12.58 | NA | 6.36 | 1.13 | NA | 20.07 | 090
54690 |  | A | Laparoscopy, orchiectomy | 10.90 | NA | 5.12 | 1.19 | NA | 17.21 | 090
54692 |  | A | Laparoscopy, orchiopexy | 12.81 | NA | 5.52 | 1.04 | NA | 19.37 | 090
54699 |  | C | Laparoscope proc, testis | 0.00 | 0.00 | 0.00 | 0.00 | 0.00 | 0.00 | YYY
54700 |  | A | Drainage of scrotum | 3.41 | NA | 1.97 | 0.28 | NA | 5.66 | 010
54800 |  | A | Biopsy of epididymis | 2.32 | 0.95 | 0.91 | 0.17 | 3.44 | 3.40 | 000
54820 |  | A | Exploration of epididymis | 5.11 | NA | 3.05 | 0.40 | NA | 8.56 | 090
54830 |  | A | Remove epididymis lesion | 5.35 | NA | 3.13 | 0.41 | NA | 8.89 | 090
54840 |  | A | Remove epididymis lesion | 5.17 | NA | 2.88 | 0.37 | NA | 8.42 | 090
54860 |  | A | Removal of epididymis | 6.28 | NA | 3.42 | 0.46 | NA | 10.16 | 090
54861 |  | A | Removal of epididymis | 8.85 | NA | 4.44 | 0.62 | NA | 13.91 | 090
54900 |  | A | Fusion of spermatic ducts | 13.12 | NA | 5.93 | 1.61 | NA | 20.66 | 090
54901 |  | A | Fusion of spermatic ducts | 17.84 | NA | 7.65 | 2.19 | NA | 27.68 | 090
55000 |  | A | Drainage of hydrocele | 1.42 | 2.13 | 0.65 | 0.12 | 3.67 | 2.19 | 000
55040 |  | A | Removal of hydrocele | 5.33 | NA | 3.00 | 0.42 | NA | 8.75 | 090
55041 |  | A | Removal of hydroceles | 7.70 | NA | 4.09 | 0.60 | NA | 12.39 | 090
55060 |  | A | Repair of hydrocele | 5.49 | NA | 3.17 | 0.44 | NA | 9.10 | 090
55100 |  | A | Drainage of scrotum abscess | 2.12 | 3.81 | 1.61 | 0.18 | 6.11 | 3.91 | 010
55110 |  | A | Explore scrotum | 5.67 | NA | 3.22 | 0.43 | NA | 9.32 | 090
55120 |  | A | Removal of scrotum lesion | 5.06 | 5.81 | 3.03 | 0.40 | 11.27 | 8.49 | 090
55150 |  | A | Removal of scrotum | 7.18 | NA | 4.01 | 0.56 | NA | 11.75 | 090
55175 |  | A | Revision of scrotum | 5.21 | NA | 3.11 | 0.40 | NA | 8.72 | 090
55180 |  | A | Revision of scrotum | 10.66 | NA | 5.53 | 0.86 | NA | 17.05 | 090
55200 |  | A | Incision of sperm duct | 4.22 | 5.58 | 2.45 | 0.30 | 10.10 | 6.97 | 090
55250 |  | A | Removal of sperm duct(s) | 3.27 | 9.14 | 2.82 | 0.25 | 12.66 | 6.34 | 090
55300 |  | A | Prepare, sperm duct x-ray | 3.49 | NA | 1.33 | 0.24 | NA | 5.06 | 000
55400 |  | A | Repair of sperm duct | 8.44 | NA | 4.24 | 0.60 | NA | 13.28 | 090
55450 |  | A | Ligation of sperm duct | 4.10 | 7.26 | 1.91 | 0.29 | 11.65 | 6.30 | 010
55500 |  | A | Removal of hydrocele | 5.56 | NA | 3.19 | 0.52 | NA | 9.27 | 090
55520 |  | A | Removal of sperm cord lesion | 6.00 | NA | 3.34 | 0.67 | NA | 10.01 | 090
55530 |  | A | Revise spermatic cord veins | 5.63 | NA | 3.11 | 0.43 | NA | 9.17 | 090
55535 |  | A | Revise spermatic cord veins | 6.52 | NA | 3.50 | 0.50 | NA | 10.52 | 090
55540 |  | A | Revise hernia & sperm veins | 7.63 | NA | 3.90 | 0.89 | NA | 12.42 | 090
55550 |  | A | Laparo ligate spermatic vein | 6.53 | NA | 3.36 | 0.56 | NA | 10.45 | 090
55559 |  | C | Laparo proc, spermatic cord | 0.00 | 0.00 | 0.00 | 0.00 | 0.00 | 0.00 | YYY
55600 |  | A | Incise sperm duct pouch | 6.34 | NA | 3.44 | 0.46 | NA | 10.24 | 090
55605 |  | A | Incise sperm duct pouch | 7.91 | NA | 4.42 | 0.65 | NA | 12.98 | 090
55650 |  | A | Remove sperm duct pouch | 11.73 | NA | 5.42 | 0.86 | NA | 18.01 | 090
55680 |  | A | Remove sperm pouch lesion | 5.16 | NA | 3.07 | 0.37 | NA | 8.60 | 090
55700 |  | A | Biopsy of prostate | 1.56 | 4.37 | 0.72 | 0.12 | 6.05 | 2.40 | 000
55705 |  | A | Biopsy of prostate | 4.54 | NA | 2.34 | 0.31 | NA | 7.19 | 010
55720 |  | A | Drainage of prostate abscess | 7.60 | NA | 4.00 | 0.53 | NA | 12.13 | 090
55725 |  | A | Drainage of prostate abscess | 8.63 | NA | 4.68 | 0.61 | NA | 13.92 | 090
55801 |  | A | Removal of prostate | 17.70 | NA | 7.47 | 1.29 | NA | 26.46 | 090
55810 |  | A | Extensive prostate surgery | 22.45 | NA | 8.82 | 1.62 | NA | 32.89 | 090
55812 |  | A | Extensive prostate surgery | 27.35 | NA | 11.27 | 2.03 | NA | 40.65 | 090
55815 |  | A | Extensive prostate surgery | 30.29 | NA | 12.20 | 2.21 | NA | 44.70 | 090
55821 |  | A | Removal of prostate | 14.17 | NA | 6.39 | 1.02 | NA | 21.58 | 090
55831 |  | A | Removal of prostate | 15.53 | NA | 6.85 | 1.13 | NA | 23.51 | 090
55840 |  | A | Extensive prostate surgery | 22.56 | NA | 9.55 | 1.64 | NA | 33.75 | 090
55842 |  | A | Extensive prostate surgery | 24.24 | NA | 10.11 | 1.77 | NA | 36.12 | 090
55845 |  | A | Extensive prostate surgery | 28.39 | NA | 11.22 | 2.05 | NA | 41.66 | 090
55859 |  | A | Percut/needle insert, pros | 12.45 | NA | 5.98 | 0.89 | NA | 19.32 | 090
55860 |  | A | Surgical exposure, prostate | 14.37 | NA | 6.52 | 0.98 | NA | 21.87 | 090
55862 |  | A | Extensive prostate surgery | 18.29 | NA | 8.07 | 1.37 | NA | 27.73 | 090
55865 |  | A | Extensive prostate surgery | 22.74 | NA | 9.49 | 1.64 | NA | 33.87 | 090
55866 |  | A | Laparo radical prostatectomy | 30.56 | NA | 11.95 | 1.64 | NA | 44.15 | 090
55870 |  | A | Electroejaculation | 2.57 | 1.58 | 1.10 | 0.17 | 4.32 | 3.84 | 000
55873 |  | A | Cryoablate prostate | 19.36 | NA | 9.12 | 1.22 | NA | 29.70 | 090
55899 |  | C | Genital surgery procedure | 0.00 | 0.00 | 0.00 | 0.00 | 0.00 | 0.00 | YYY
55970 |  | N | Sex transformation, M to F | 0.00 | 0.00 | 0.00 | 0.00 | 0.00 | 0.00 | XXX
55980 |  | N | Sex transformation, F to M | 0.00 | 0.00 | 0.00 | 0.00 | 0.00 | 0.00 | XXX
56405 |  | A | I & D of vulva/perineum | 1.43 | 1.36 | 1.17 | 0.17 | 2.96 | 2.77 | 010
56420 |  | A | Drainage of gland abscess | 1.38 | 2.34 | 1.10 | 0.16 | 3.88 | 2.64 | 010
56440 |  | A | Surgery for vulva lesion | 2.82 | NA | 1.74 | 0.34 | NA | 4.90 | 010
56441 |  | A | Lysis of labial lesion(s) | 1.96 | 1.86 | 1.45 | 0.20 | 4.02 | 3.61 | 010
56501 |  | A | Destroy, vulva lesions, sim | 1.52 | 1.83 | 1.29 | 0.18 | 3.53 | 2.99 | 010
56515 |  | A | Destroy vulva lesion/s compl | 2.74 | 2.60 | 1.87 | 0.22 | 5.56 | 4.83 | 010
56605 |  | A | Biopsy of vulva/perineum | 1.09 | 1.11 | 0.47 | 0.13 | 2.33 | 1.69 | 000
56606 |  | A | Biopsy of vulva/perineum | 0.55 | 0.51 | 0.22 | 0.07 | 1.13 | 0.84 | ZZZ
56620 |  | A | Partial removal of vulva | 7.43 | NA | 5.06 | 0.91 | NA | 13.40 | 090
56625 |  | A | Complete removal of vulva | 8.35 | NA | 5.66 | 1.01 | NA | 15.02 | 090
56630 |  | A | Extensive vulva surgery | 12.29 | NA | 7.32 | 1.47 | NA | 21.08 | 090
56631 |  | A | Extensive vulva surgery | 16.11 | NA | 9.38 | 1.95 | NA | 27.44 | 090
56632 |  | A | Extensive vulva surgery | 20.17 | NA | 10.07 | 2.43 | NA | 32.67 | 090
56633 |  | A | Extensive vulva surgery | 16.38 | NA | 9.16 | 1.99 | NA | 27.53 | 090
56634 |  | A | Extensive vulva surgery | 17.78 | NA | 10.04 | 2.13 | NA | 29.95 | 090
56637 |  | A | Extensive vulva surgery | 21.84 | NA | 11.70 | 2.61 | NA | 36.15 | 090
56640 |  | A | Extensive vulva surgery | 22.04 | NA | 11.12 | 2.71 | NA | 35.87 | 090
56700 |  | A | Partial removal of hymen | 2.51 | NA | 1.77 | 0.29 | NA | 4.57 | 010
56720 |  | A | Incision of hymen | 0.68 | NA | 0.41 | 0.08 | NA | 1.17 | 000
56740 |  | A | Remove vagina gland lesion | 4.54 | NA | 2.51 | 0.44 | NA | 7.49 | 010
56800 |  | A | Repair of vagina | 3.87 | NA | 2.23 | 0.44 | NA | 6.54 | 010
56805 |  | A | Repair clitoris | 18.75 | NA | 9.55 | 2.18 | NA | 30.48 | 090
56810 |  | A | Repair of perineum | 4.11 | NA | 2.34 | 0.49 | NA | 6.94 | 010
56820 |  | A | Exam of vulva w/scope | 1.49 | 1.39 | 0.64 | 0.12 | 3.00 | 2.25 | 000
56821 |  | A | Exam/biopsy of vulva w/scope | 2.04 | 1.82 | 0.91 | 0.16 | 4.02 | 3.11 | 000
57000 |  | A | Exploration of vagina | 2.95 | NA | 1.77 | 0.34 | NA | 5.06 | 010
57010 |  | A | Drainage of pelvic abscess | 6.00 | NA | 3.93 | 0.68 | NA | 10.61 | 090
57020 |  | A | Drainage of pelvic fluid | 1.49 | 0.97 | 0.61 | 0.18 | 2.64 | 2.28 | 000
57022 |  | A | I & d vaginal hematoma, pp | 2.55 | NA | 1.54 | 0.29 | NA | 4.38 | 010
57023 |  | A | I & d vag hematoma, non-ob | 4.72 | NA | 2.64 | 0.29 | NA | 7.65 | 010
57061 |  | A | Destroy vag lesions, simple | 1.24 | 1.70 | 1.16 | 0.16 | 3.10 | 2.56 | 010
57065 |  | A | Destroy vag lesions, complex | 2.60 | 2.36 | 1.75 | 0.31 | 5.27 | 4.66 | 010
57100 |  | A | Biopsy of vagina | 1.19 | 1.13 | 0.49 | 0.12 | 2.44 | 1.80 | 000
57105 |  | A | Biopsy of vagina | 1.68 | 1.99 | 1.37 | 0.20 | 3.87 | 3.25 | 010
57106 |  | A | Remove vagina wall, partial | 6.32 | NA | 4.37 | 0.70 | NA | 11.39 | 090
57107 |  | A | Remove vagina tissue, part | 22.87 | NA | 10.76 | 2.60 | NA | 36.23 | 090
57109 |  | A | Vaginectomy partial w/nodes | 26.85 | NA | 11.55 | 2.36 | NA | 40.76 | 090
57110 |  | A | Remove vagina wall, complete | 14.21 | NA | 7.44 | 1.71 | NA | 23.36 | 090
57111 |  | A | Remove vagina tissue, compl | 26.85 | NA | 12.84 | 3.25 | NA | 42.94 | 090
57112 |  | A | Vaginectomy w/nodes, compl | 28.83 | NA | 12.38 | 2.62 | NA | 43.83 | 090
57120 |  | A | Closure of vagina | 7.37 | NA | 4.71 | 0.90 | NA | 12.98 | 090
57130 |  | A | Remove vagina lesion | 2.42 | 2.22 | 1.59 | 0.28 | 4.92 | 4.29 | 010
57135 |  | A | Remove vagina lesion | 2.65 | 2.31 | 1.69 | 0.31 | 5.27 | 4.65 | 010
57150 |  | A | Treat vagina infection | 0.55 | 1.12 | 0.22 | 0.07 | 1.74 | 0.84 | 000
57155 |  | A | Insert uteri tandems/ovoids | 6.23 | NA | 4.31 | 0.71 | NA | 11.25 | 090
57160 |  | A | Insert pessary/other device | 0.88 | 1.11 | 0.40 | 0.11 | 2.10 | 1.39 | 000
57170 |  | A | Fitting of diaphragm/cap | 0.90 | 1.52 | 0.34 | 0.11 | 2.53 | 1.35 | 000
57180 |  | A | Treat vaginal bleeding | 1.57 | 2.26 | 1.35 | 0.19 | 4.02 | 3.11 | 010
57200 |  | A | Repair of vagina | 3.92 | NA | 2.98 | 0.46 | NA | 7.36 | 090
57210 |  | A | Repair vagina/perineum | 5.14 | NA | 3.51 | 0.60 | NA | 9.25 | 090
57220 |  | A | Revision of urethra | 4.29 | NA | 3.19 | 0.50 | NA | 7.98 | 090
57230 |  | A | Repair of urethral lesion | 5.61 | NA | 3.47 | 0.60 | NA | 9.68 | 090
57240 |  | A | Repair bladder & vagina | 6.04 | NA | 3.90 | 0.64 | NA | 10.58 | 090
57250 |  | A | Repair rectum & vagina | 5.50 | NA | 3.65 | 0.65 | NA | 9.80 | 090
57260 |  | A | Repair of vagina | 8.22 | NA | 4.93 | 0.99 | NA | 14.14 | 090
57265 |  | A | Extensive repair of vagina | 11.28 | NA | 6.16 | 1.37 | NA | 18.81 | 090
57268 |  | A | Repair of bowel bulge | 6.72 | NA | 4.30 | 0.79 | NA | 11.81 | 090
57270 |  | A | Repair of bowel pouch | 12.04 | NA | 6.39 | 1.40 | NA | 19.83 | 090
57280 |  | A | Suspension of vagina | 14.95 | NA | 7.51 | 1.73 | NA | 24.19 | 090
57282 |  | A | Repair of vaginal prolapse | 8.81 | NA | 5.41 | 1.03 | NA | 15.25 | 090
57284 |  | A | Repair paravaginal defect | 12.63 | NA | 7.29 | 1.40 | NA | 21.32 | 090
57287 |  | A | Revise/remove sling repair | 10.65 | NA | 5.60 | 0.89 | NA | 17.14 | 090
57288 |  | A | Repair bladder defect | 12.95 | NA | 6.02 | 1.03 | NA | 20.00 | 090
57289 |  | A | Repair bladder & vagina | 11.51 | NA | 6.16 | 1.14 | NA | 18.81 | 090
57291 |  | A | Construction of vagina | 7.90 | NA | 5.04 | 0.93 | NA | 13.87 | 090
57292 |  | A | Construct vagina with graft | 13.02 | NA | 7.11 | 1.55 | NA | 21.68 | 090
57300 |  | A | Repair rectum-vagina fistula | 7.57 | NA | 4.37 | 0.84 | NA | 12.78 | 090
57305 |  | A | Repair rectum-vagina fistula | 13.69 | NA | 6.37 | 1.59 | NA | 21.65 | 090
57307 |  | A | Fistula repair & colostomy | 15.84 | NA | 7.14 | 1.91 | NA | 24.89 | 090
57308 |  | A | Fistula repair, transperine | 9.88 | NA | 5.24 | 1.09 | NA | 16.21 | 090
57310 |  | A | Repair urethrovaginal lesion | 6.74 | NA | 3.95 | 0.54 | NA | 11.23 | 090
57311 |  | A | Repair urethrovaginal lesion | 7.93 | NA | 4.28 | 0.61 | NA | 12.82 | 090
57320 |  | A | Repair bladder-vagina lesion | 7.96 | NA | 4.51 | 0.72 | NA | 13.19 | 090
57330 |  | A | Repair bladder-vagina lesion | 12.28 | NA | 5.87 | 1.03 | NA | 19.18 | 090
57335 |  | A | Repair vagina | 18.62 | NA | 9.31 | 1.99 | NA | 29.92 | 090
57400 |  | A | Dilation of vagina | 2.26 | NA | 1.15 | 0.26 | NA | 3.67 | 000
57410 |  | A | Pelvic examination | 1.74 | 2.05 | 0.90 | 0.17 | 3.96 | 2.81 | 000
57415 |  | A | Remove vaginal foreign body | 2.16 | NA | 1.46 | 0.23 | NA | 3.85 | 010
57420 |  | A | Exam of vagina w/scope | 1.59 | 1.43 | 0.68 | 0.12 | 3.14 | 2.39 | 000
57421 |  | A | Exam/biopsy of vag w/scope | 2.19 | 1.92 | 0.97 | 0.16 | 4.27 | 3.32 | 000
57425 |  | A | Laparoscopy, surg, colpopexy | 15.66 | NA | 6.76 | 1.73 | NA | 24.15 | 090
57452 |  | A | Exam of cervix w/scope | 1.49 | 1.45 | 0.64 | 0.12 | 3.06 | 2.25 | 000
57454 |  | A | Bx/curett of cervix w/scope | 2.32 | 1.80 | 1.01 | 0.16 | 4.28 | 3.49 | 000
57455 |  | A | Biopsy of cervix w/scope | 1.98 | 1.80 | 0.88 | 0.16 | 3.94 | 3.02 | 000
57456 |  | A | Endocerv curettage w/scope | 1.84 | 1.72 | 0.83 | 0.16 | 3.72 | 2.83 | 000
57460 |  | A | Bx of cervix w/scope, leep | 2.81 | 6.18 | 1.23 | 0.34 | 9.33 | 4.38 | 000
57461 |  | A | Conz of cervix w/scope, leep | 3.42 | 6.43 | 1.42 | 0.34 | 10.19 | 5.18 | 000
57500 |  | A | Biopsy of cervix | 0.96 | 2.73 | 0.48 | 0.12 | 3.81 | 1.56 | 000
57505 |  | A | Endocervical curettage | 1.13 | 1.51 | 1.13 | 0.14 | 2.78 | 2.40 | 010
57510 |  | A | Cauterization of cervix | 1.89 | 1.60 | 1.06 | 0.22 | 3.71 | 3.17 | 010
57511 |  | A | Cryocautery of cervix | 1.89 | 1.87 | 1.41 | 0.22 | 3.98 | 3.52 | 010
57513 |  | A | Laser surgery of cervix | 1.89 | 1.92 | 1.44 | 0.23 | 4.04 | 3.56 | 010
57520 |  | A | Conization of cervix | 4.02 | 5.00 | 2.84 | 0.49 | 9.51 | 7.35 | 090
57522 |  | A | Conization of cervix | 3.34 | 4.46 | 2.74 | 0.41 | 8.21 | 6.49 | 090
57530 |  | A | Removal of cervix | 4.76 | NA | 3.52 | 0.58 | NA | 8.86 | 090
57531 |  | A | Removal of cervix, radical | 27.84 | NA | 13.51 | 2.95 | NA | 44.30 | 090
57540 |  | A | Removal of residual cervix | 12.15 | NA | 6.38 | 1.45 | NA | 19.98 | 090
57545 |  | A | Remove cervix/repair pelvis | 12.96 | NA | 6.83 | 1.56 | NA | 21.35 | 090
57550 |  | A | Removal of residual cervix | 5.50 | NA | 3.93 | 0.66 | NA | 10.09 | 090
57555 |  | A | Remove cervix/repair vagina | 8.90 | NA | 5.23 | 1.07 | NA | 15.20 | 090
57556 |  | A | Remove cervix, repair bowel | 8.32 | NA | 4.96 | 0.96 | NA | 14.24 | 090
57700 |  | A | Revision of cervix | 3.53 | NA | 3.16 | 0.40 | NA | 7.09 | 090
57720 |  | A | Revision of cervix | 4.11 | NA | 3.21 | 0.49 | NA | 7.81 | 090
57800 |  | A | Dilation of cervical canal | 0.77 | 0.78 | 0.49 | 0.10 | 1.65 | 1.36 | 000
57820 |  | A | D & c of residual cervix | 1.66 | 1.51 | 1.16 | 0.20 | 3.37 | 3.02 | 010
58100 |  | A | Biopsy of uterus lining | 1.52 | 1.36 | 0.73 | 0.08 | 2.96 | 2.33 | 000
58120 |  | A | Dilation and curettage | 3.25 | 2.35 | 1.91 | 0.40 | 6.00 | 5.56 | 010
58140 |  | A | Myomectomy abdom method | 14.52 | NA | 7.22 | 1.75 | NA | 23.49 | 090
58145 |  | A | Myomectomy vag method | 7.99 | NA | 4.91 | 0.96 | NA | 13.86 | 090
58146 |  | A | Myomectomy abdom complex | 18.89 | NA | 8.89 | 1.75 | NA | 29.53 | 090
58150 |  | A | Total hysterectomy | 15.15 | NA | 7.64 | 1.88 | NA | 24.67 | 090
58152 |  | A | Total hysterectomy | 20.48 | NA | 10.02 | 1.82 | NA | 32.32 | 090
58180 |  | A | Partial hysterectomy | 15.20 | NA | 7.61 | 1.85 | NA | 24.66 | 090
58200 |  | A | Extensive hysterectomy | 21.47 | NA | 10.29 | 2.58 | NA | 34.34 | 090
58210 |  | A | Extensive hysterectomy | 28.69 | NA | 13.63 | 3.49 | NA | 45.81 | 090
58240 |  | A | Removal of pelvis contents | 38.17 | NA | 18.22 | 4.51 | NA | 60.90 | 090
58260 |  | A | Vaginal hysterectomy | 12.91 | NA | 6.82 | 1.47 | NA | 21.20 | 090
58262 |  | A | Vag hyst including t/o | 14.69 | NA | 7.51 | 1.70 | NA | 23.90 | 090
58263 |  | A | Vag hyst w/t/o & vag repair | 15.97 | NA | 8.03 | 1.86 | NA | 25.86 | 090
58267 |  | A | Vag hyst w/urinary repair | 16.94 | NA | 8.52 | 1.81 | NA | 27.27 | 090
58270 |  | A | Vag hyst w/enterocele repair | 14.18 | NA | 7.19 | 1.64 | NA | 23.01 | 090
58275 |  | A | Hysterectomy/revise vagina | 15.67 | NA | 7.91 | 1.81 | NA | 25.39 | 090
58280 |  | A | Hysterectomy/revise vagina | 16.91 | NA | 8.40 | 1.85 | NA | 27.16 | 090
58285 |  | A | Extensive hysterectomy | 22.13 | NA | 10.33 | 2.25 | NA | 34.71 | 090
58290 |  | A | Vag hyst complex | 18.89 | NA | 9.01 | 1.47 | NA | 29.37 | 090
58291 |  | A | Vag hyst incl t/o, complex | 20.67 | NA | 10.01 | 1.70 | NA | 32.38 | 090
58292 |  | A | Vag hyst t/o & repair, compl | 21.95 | NA | 10.55 | 1.86 | NA | 34.36 | 090
58293 |  | A | Vag hyst w/uro repair, compl | 22.93 | NA | 11.04 | 1.81 | NA | 35.78 | 090
58294 |  | A | Vag hyst w/enterocele, compl | 20.16 | NA | 9.79 | 1.64 | NA | 31.59 | 090
58300 |  | N | Insert intrauterine device | +1.00 | 1.43 | 0.39 | 0.12 | 2.55 | 1.51 | XXX
58301 |  | A | Remove intrauterine device | 1.26 | 1.36 | 0.49 | 0.16 | 2.78 | 1.91 | 000
58321 |  | A | Artificial insemination | 0.91 | 1.18 | 0.38 | 0.12 | 2.21 | 1.41 | 000
58322 |  | A | Artificial insemination | 1.09 | 1.23 | 0.42 | 0.13 | 2.45 | 1.64 | 000
58323 |  | A | Sperm washing | 0.23 | 0.24 | 0.10 | 0.02 | 0.49 | 0.35 | 000
58340 |  | A | Catheter for hysterography | 0.87 | 6.20 | 0.65 | 0.10 | 7.17 | 1.62 | 000
58345 |  | A | Reopen fallopian tube | 4.63 | NA | 2.46 | 0.43 | NA | 7.52 | 010
58346 |  | A | Insert heyman uteri capsule | 6.71 | NA | 4.02 | 0.77 | NA | 11.50 | 090
58350 |  | A | Reopen fallopian tube | 1.00 | 1.53 | 0.94 | 0.12 | 2.65 | 2.06 | 010
58353 |  | A | Endometr ablate, thermal | 3.54 | 37.17 | 2.08 | 0.44 | 41.15 | 6.06 | 010
58400 |  | A | Suspension of uterus | 6.32 | NA | 4.06 | 0.74 | NA | 11.12 | 090
58410 |  | A | Suspension of uterus | 12.66 | NA | 6.57 | 1.31 | NA | 20.54 | 090
58520 |  | A | Repair of ruptured uterus | 11.85 | NA | 6.12 | 1.40 | NA | 19.37 | 090
58540 |  | A | Revision of uterus | 14.56 | NA | 7.07 | 1.53 | NA | 23.16 | 090
58545 |  | A | Laparoscopic myomectomy | 14.52 | NA | 7.31 | 1.74 | NA | 23.57 | 090
58546 |  | A | Laparo-myomectomy, complex | 18.89 | NA | 9.12 | 1.74 | NA | 29.75 | 090
58550 |  | A | Laparo-asst vag hysterectomy | 14.11 | NA | 7.44 | 1.73 | NA | 23.28 | 090
58552 |  | A | Laparo-vag hyst incl t/o | 14.11 | NA | 7.42 | 1.73 | NA | 23.26 | 090
58553 |  | A | Laparo-vag hyst, complex | 18.89 | NA | 9.08 | 1.47 | NA | 29.44 | 090
58554 |  | A | Laparo-vag hyst w/t/o, compl | 18.89 | NA | 9.38 | 1.47 | NA | 29.74 | 090
58555 |  | A | Hysteroscopy, dx, sep proc | 3.31 | 2.13 | 1.48 | 0.41 | 5.85 | 5.20 | 000
58558 |  | A | Hysteroscopy, biopsy | 4.72 | NA | 2.09 | 0.59 | NA | 7.40 | 000
58559 |  | A | Hysteroscopy, lysis | 6.13 | NA | 2.65 | 0.74 | NA | 9.52 | 000
58560 |  | A | Hysteroscopy, resect septum | 6.96 | NA | 3.01 | 0.85 | NA | 10.82 | 000
58561 |  | A | Hysteroscopy, remove myoma | 9.94 | NA | 4.23 | 1.22 | NA | 15.39 | 000
58562 |  | A | Hysteroscopy, remove fb | 5.18 | NA | 2.23 | 0.62 | NA | 8.03 | 000
58563 |  | A | Hysteroscopy, ablation | 6.13 | NA | 2.67 | 0.74 | NA | 9.54 | 000
58578 |  | C | Laparo proc, uterus | 0.00 | 0.00 | 0.00 | 0.00 | 0.00 | 0.00 | YYY
58579 |  | C | Hysteroscope procedure | 0.00 | 0.00 | 0.00 | 0.00 | 0.00 | 0.00 | YYY
58600 |  | A | Division of fallopian tube | 5.57 | NA | 3.41 | 0.47 | NA | 9.45 | 090
58605 |  | A | Division of fallopian tube | 4.97 | NA | 3.20 | 0.40 | NA | 8.57 | 090
58611 |  | A | Ligate oviduct(s) add-on | 1.44 | NA | 0.58 | 0.08 | NA | 2.10 | ZZZ
58615 |  | A | Occlude fallopian tube(s) | 3.88 | NA | 2.77 | 0.48 | NA | 7.13 | 010
58660 |  | A | Laparoscopy, lysis | 11.23 | NA | 5.35 | 1.37 | NA | 17.95 | 090
58661 |  | A | Laparoscopy, remove adnexa | 10.99 | NA | 5.22 | 1.34 | NA | 17.55 | 010
58662 |  | A | Laparoscopy, excise lesions | 11.72 | NA | 5.88 | 1.41 | NA | 19.01 | 090
58670 |  | A | Laparoscopy, tubal cautery | 5.57 | NA | 3.33 | 0.66 | NA | 9.56 | 090
58671 |  | A | Laparoscopy, tubal block | 5.57 | NA | 3.34 | 0.67 | NA | 9.58 | 090
58672 |  | A | Laparoscopy, fimbrioplasty | 12.81 | NA | 6.30 | 1.46 | NA | 20.57 | 090
58673 |  | A | Laparoscopy, salpingostomy | 13.66 | NA | 6.71 | 1.68 | NA | 22.05 | 090
58679 |  | C | Laparo proc, oviduct-ovary | 0.00 | 0.00 | 0.00 | 0.00 | 0.00 | 0.00 | YYY
58700 |  | A | Removal of fallopian tube | 11.98 | NA | 6.09 | 0.77 | NA | 18.84 | 090
58720 |  | A | Removal of ovary/tube(s) | 11.30 | NA | 5.91 | 1.37 | NA | 18.58 | 090
58740 |  | A | Revise fallopian tube(s) | 13.92 | NA | 7.28 | 0.71 | NA | 21.91 | 090
58750 |  | A | Repair oviduct | 14.76 | NA | 7.50 | 1.82 | NA | 24.08 | 090
58752 |  | A | Revise ovarian tube(s) | 14.76 | NA | 7.16 | 1.81 | NA | 23.73 | 090
58760 |  | A | Remove tubal obstruction | 13.06 | NA | 6.84 | 1.61 | NA | 21.51 | 090
58770 |  | A | Create new tubal opening | 13.89 | NA | 7.06 | 1.70 | NA | 22.65 | 090
58800 |  | A | Drainage of ovarian cyst(s) | 4.12 | 4.55 | 3.04 | 0.43 | 9.10 | 7.59 | 090
58805 |  | A | Drainage of ovarian cyst(s) | 5.85 | NA | 3.59 | 0.67 | NA | 10.11 | 090
58820 |  | A | Drain ovary abscess, open | 4.20 | NA | 3.38 | 0.35 | NA | 7.93 | 090
58822 |  | A | Drain ovary abscess, percut | 10.07 | NA | 5.32 | 1.10 | NA | 16.49 | 090
58823 |  | A | Drain pelvic abscess, percut | 3.36 | NA | 1.14 | 0.22 | NA | 4.72 | 000
58825 |  | A | Transposition, ovary(s) | 10.92 | NA | 5.91 | 0.74 | NA | 17.57 | 090
58900 |  | A | Biopsy of ovary(s) | 5.96 | NA | 3.67 | 0.67 | NA | 10.30 | 090
58920 |  | A | Partial removal of ovary(s) | 11.30 | NA | 5.70 | 0.82 | NA | 17.82 | 090
58925 |  | A | Removal of ovarian cyst(s) | 11.30 | NA | 5.79 | 1.37 | NA | 18.46 | 090
58940 |  | A | Removal of ovary(s) | 7.25 | NA | 4.20 | 0.87 | NA | 12.32 | 090
58943 |  | A | Removal of ovary(s) | 18.32 | NA | 8.94 | 2.23 | NA | 29.49 | 090
58950 |  | A | Resect ovarian malignancy | 16.83 | NA | 8.77 | 1.86 | NA | 27.46 | 090
58951 |  | A | Resect ovarian malignancy | 22.25 | NA | 10.83 | 2.64 | NA | 35.72 | 090
58952 |  | A | Resect ovarian malignancy | 24.87 | NA | 12.21 | 3.08 | NA | 40.16 | 090
58953 |  | A | Tah, rad dissect for debulk | 31.82 | NA | 14.92 | 3.96 | NA | 50.70 | 090
58954 |  | A | Tah rad debulk/lymph remove | 34.80 | NA | 16.08 | 4.27 | NA | 55.15 | 090
58960 |  | A | Exploration of abdomen | 14.57 | NA | 7.68 | 1.76 | NA | 24.01 | 090
58970 |  | A | Retrieval of oocyte | 3.51 | 2.35 | 1.53 | 0.43 | 6.29 | 5.47 | 000
58974 |  | C | Transfer of embryo | 0.00 | 0.00 | 0.00 | 0.00 | 0.00 | 0.00 | 000
58976 |  | A | Transfer of embryo | 3.81 | 2.67 | 1.85 | 0.47 | 6.95 | 6.13 | 000
58999 |  | C | Genital surgery procedure | 0.00 | 0.00 | 0.00 | 0.00 | 0.00 | 0.00 | YYY
59000 |  | A | Amniocentesis, diagnostic | 1.29 | 2.14 | 0.69 | 0.28 | 3.71 | 2.26 | 000
59001 |  | A | Amniocentesis, therapeutic | 2.98 | NA | 1.43 | 0.28 | NA | 4.69 | 000
59012 |  | A | Fetal cord puncture,prenatal | 3.43 | NA | 1.58 | 0.74 | NA | 5.75 | 000
59015 |  | A | Chorion biopsy | 2.19 | 1.60 | 1.07 | 0.48 | 4.27 | 3.74 | 000
59020 |  | A | Fetal contract stress test | 0.66 | 0.79 | NA | 0.24 | 1.69 | NA | 000
59020 | 26 | A | Fetal contract stress test | 0.66 | 0.27 | 0.27 | 0.14 | 1.07 | 1.07 | 000
59020 | TC | A | Fetal contract stress test | 0.00 | 0.52 | NA | 0.10 | 0.62 | NA | 000
59025 |  | A | Fetal non-stress test | 0.53 | 0.44 | NA | 0.14 | 1.11 | NA | 000
59025 | 26 | A | Fetal non-stress test | 0.53 | 0.21 | 0.21 | 0.12 | 0.86 | 0.86 | 000
59025 | TC | A | Fetal non-stress test | 0.00 | 0.23 | NA | 0.02 | 0.25 | NA | 000
59030 |  | A | Fetal scalp blood sample | 1.98 | NA | 1.05 | 0.43 | NA | 3.46 | 000
59050 |  | A | Fetal monitor w/report | 0.88 | NA | 0.36 | 0.19 | NA | 1.43 | XXX
59051 |  | A | Fetal monitor/interpret only | 0.74 | NA | 0.30 | 0.17 | NA | 1.21 | XXX
59070 |  | A | Transabdom amnioinfus w/ us | 5.22 | 5.19 | 2.43 | 0.28 | 10.69 | 7.93 | 000
59072 |  | A | Umbilical cord occlud w/ us | 8.95 | NA | 3.17 | 0.67 | NA | 12.79 | 000
59074 |  | A | Fetal fluid drainage w/ us | 5.22 | 4.66 | 2.43 | 0.28 | 10.16 | 7.93 | 000
59076 |  | A | Fetal shunt placement, w/ us | 8.95 | NA | 3.17 | 0.67 | NA | 12.79 | 000
59100 |  | A | Remove uterus lesion | 12.28 | NA | 6.57 | 2.65 | NA | 21.50 | 090
59120 |  | A | Treat ectopic pregnancy | 11.42 | NA | 6.36 | 2.47 | NA | 20.25 | 090
59121 |  | A | Treat ectopic pregnancy | 11.60 | NA | 6.43 | 2.51 | NA | 20.54 | 090
59130 |  | A | Treat ectopic pregnancy | 14.14 | NA | 5.08 | 3.04 | NA | 22.26 | 090
59135 |  | A | Treat ectopic pregnancy | 13.80 | NA | 7.34 | 2.98 | NA | 24.12 | 090
59136 |  | A | Treat ectopic pregnancy | 13.10 | NA | 6.72 | 2.83 | NA | 22.65 | 090
59140 |  | A | Treat ectopic pregnancy | 5.43 | 5.29 | 3.65 | 1.17 | 11.89 | 10.25 | 090
59150 |  | A | Treat ectopic pregnancy | 11.60 | NA | 6.13 | 1.47 | NA | 19.20 | 090
59151 |  | A | Treat ectopic pregnancy | 11.42 | NA | 6.17 | 1.69 | NA | 19.28 | 090
59160 |  | A | D & c after delivery | 2.69 | 3.31 | 2.14 | 0.59 | 6.59 | 5.42 | 010
59200 |  | A | Insert cervical dilator | 0.79 | 1.24 | 0.31 | 0.18 | 2.21 | 1.28 | 000
59300 |  | A | Episiotomy or vaginal repair | 2.40 | 2.19 | 0.97 | 0.52 | 5.11 | 3.89 | 000
59320 |  | A | Revision of cervix | 2.47 | NA | 1.28 | 0.54 | NA | 4.29 | 000
59325 |  | A | Revision of cervix | 4.05 | NA | 1.94 | 0.87 | NA | 6.86 | 000
59350 |  | A | Repair of uterus | 4.92 | NA | 1.97 | 1.05 | NA | 7.94 | 000
59400 |  | A | Obstetrical care | 22.93 | NA | 15.73 | 4.96 | NA | 43.62 | MMM
59409 |  | A | Obstetrical care | 13.42 | NA | 5.37 | 2.90 | NA | 21.69 | MMM
59410 |  | A | Obstetrical care | 14.70 | NA | 6.40 | 3.18 | NA | 24.28 | MMM
59412 |  | A | Antepartum manipulation | 1.70 | NA | 0.82 | 0.37 | NA | 2.89 | MMM
59414 |  | A | Deliver placenta | 1.60 | NA | 0.64 | 0.35 | NA | 2.59 | MMM
59425 |  | A | Antepartum care only | 4.78 | 4.34 | 1.88 | 1.03 | 10.15 | 7.69 | MMM
59426 |  | A | Antepartum care only | 8.23 | 7.78 | 3.25 | 1.79 | 17.80 | 13.27 | MMM
59430 |  | A | Care after delivery | 2.12 | 1.26 | 0.95 | 0.46 | 3.84 | 3.53 | MMM
59510 |  | A | Cesarean delivery | 26.07 | NA | 17.69 | 5.63 | NA | 49.39 | MMM
59514 |  | A | Cesarean delivery only | 15.88 | NA | 6.29 | 3.43 | NA | 25.60 | MMM
59515 |  | A | Cesarean delivery | 17.27 | NA | 7.97 | 3.74 | NA | 28.98 | MMM
59525 |  | A | Remove uterus after cesarean | 8.49 | NA | 3.34 | 1.83 | NA | 13.66 | ZZZ
59610 |  | A | Vbac delivery | 24.48 | NA | 16.29 | 5.29 | NA | 46.06 | MMM
59612 |  | A | Vbac delivery only | 14.97 | NA | 6.13 | 3.24 | NA | 24.34 | MMM
59614 |  | A | Vbac care after delivery | 16.25 | NA | 7.04 | 3.51 | NA | 26.80 | MMM
59618 |  | A | Attempted vbac delivery | 27.62 | NA | 18.81 | 5.97 | NA | 52.40 | MMM
59620 |  | A | Attempted vbac delivery only | 17.43 | NA | 6.85 | 3.78 | NA | 28.06 | MMM
59622 |  | A | Attempted vbac after care | 18.82 | NA | 8.77 | 4.06 | NA | 31.65 | MMM
59812 |  | A | Treatment of miscarriage | 3.99 | NA | 2.60 | 0.70 | NA | 7.29 | 090
59820 |  | A | Care of miscarriage | 3.99 | NA | 3.59 | 0.86 | NA | 8.44 | 090
59821 |  | A | Treatment of miscarriage | 4.44 | NA | 3.51 | 0.96 | NA | 8.91 | 090
59830 |  | A | Treat uterus infection | 6.08 | NA | 4.08 | 1.32 | NA | 11.48 | 090
59840 |  | R | Abortion | 2.99 | NA | 2.16 | 0.65 | NA | 5.80 | 010
59841 |  | R | Abortion | 5.21 | 2.60 | 2.60 | 1.13 | 8.94 | 8.94 | 010
59850 |  | R | Abortion | 5.88 | NA | 3.30 | 1.27 | NA | 10.45 | 090
59851 |  | R | Abortion | 5.90 | NA | 3.79 | 1.27 | NA | 10.96 | 090
59852 |  | R | Abortion | 8.19 | NA | 5.40 | 1.77 | NA | 15.36 | 090
59855 |  | R | Abortion | 6.09 | NA | 3.62 | 1.32 | NA | 11.03 | 090
59856 |  | R | Abortion | 7.44 | NA | 4.12 | 1.61 | NA | 13.17 | 090
59857 |  | R | Abortion | 9.24 | NA | 4.63 | 1.99 | NA | 15.86 | 090
59866 |  | R | Abortion (mpr) | 3.98 | NA | 1.85 | 0.86 | NA | 6.69 | 000
59870 |  | A | Evacuate mole of uterus | 5.98 | NA | 4.51 | 0.92 | NA | 11.41 | 090
59871 |  | A | Remove cerclage suture | 2.12 | 1.79 | 1.15 | 0.46 | 4.37 | 3.73 | 000
59897 |  | C | Fetal invas px w/ us | 0.00 | 0.00 | 0.00 | 0.00 | 0.00 | 0.00 | YYY
59898 |  | C | Laparo proc, ob care/deliver | 0.00 | 0.00 | 0.00 | 0.00 | 0.00 | 0.00 | YYY
59899 |  | C | Maternity care procedure | 0.00 | 0.00 | 0.00 | 0.00 | 0.00 | 0.00 | YYY
60000 |  | A | Drain thyroid/tongue cyst | 1.75 | 2.20 | 2.07 | 0.17 | 4.12 | 3.99 | 010
60001 |  | A | Aspirate/inject thyriod cyst | 0.96 | 1.52 | 0.35 | 0.07 | 2.55 | 1.38 | 000
60100 |  | A | Biopsy of thyroid | 1.55 | 1.44 | 0.54 | 0.06 | 3.05 | 2.15 | 000
60200 |  | A | Remove thyroid lesion | 9.50 | NA | 6.18 | 1.01 | NA | 16.69 | 090
60210 |  | A | Partial thyroid excision | 10.82 | NA | 5.83 | 1.21 | NA | 17.86 | 090
60212 |  | A | Partial thyroid excision | 15.94 | NA | 7.88 | 1.81 | NA | 25.63 | 090
60220 |  | A | Partial removal of thyroid | 11.83 | NA | 6.35 | 1.16 | NA | 19.34 | 090
60225 |  | A | Partial removal of thyroid | 14.11 | NA | 7.62 | 1.57 | NA | 23.30 | 090
60240 |  | A | Removal of thyroid | 15.97 | NA | 7.82 | 1.80 | NA | 25.59 | 090
60252 |  | A | Removal of thyroid | 20.45 | NA | 10.39 | 1.95 | NA | 32.79 | 090
60254 |  | A | Extensive thyroid surgery | 26.84 | NA | 14.52 | 2.35 | NA | 43.71 | 090
60260 |  | A | Repeat thyroid surgery | 17.37 | NA | 8.93 | 1.67 | NA | 27.97 | 090
60270 |  | A | Removal of thyroid | 20.15 | NA | 10.57 | 2.13 | NA | 32.85 | 090
60271 |  | A | Removal of thyroid | 16.73 | NA | 8.82 | 1.62 | NA | 27.17 | 090
60280 |  | A | Remove thyroid duct lesion | 5.84 | NA | 4.88 | 0.54 | NA | 11.26 | 090
60281 |  | A | Remove thyroid duct lesion | 8.48 | NA | 6.05 | 0.80 | NA | 15.33 | 090
60500 |  | A | Explore parathyroid glands | 16.14 | NA | 7.60 | 1.93 | NA | 25.67 | 090
60502 |  | A | Re-explore parathyroids | 20.23 | NA | 9.58 | 2.40 | NA | 32.21 | 090
60505 |  | A | Explore parathyroid glands | 21.37 | NA | 11.08 | 2.57 | NA | 35.02 | 090
60512 |  | A | Autotransplant parathyroid | 4.42 | NA | 1.64 | 0.53 | NA | 6.59 | ZZZ
60520 |  | A | Removal of thymus gland | 16.71 | NA | 8.28 | 2.21 | NA | 27.20 | 090
60521 |  | A | Removal of thymus gland | 18.76 | NA | 9.29 | 2.80 | NA | 30.85 | 090
60522 |  | A | Removal of thymus gland | 22.96 | NA | 11.00 | 3.39 | NA | 37.35 | 090
60540 |  | A | Explore adrenal gland | 16.93 | NA | 7.72 | 1.70 | NA | 26.35 | 090
60545 |  | A | Explore adrenal gland | 19.77 | NA | 8.68 | 2.10 | NA | 30.55 | 090
60600 |  | A | Remove carotid body lesion | 17.83 | NA | 10.90 | 2.24 | NA | 30.97 | 090
60605 |  | A | Remove carotid body lesion | 20.12 | NA | 12.83 | 2.73 | NA | 35.68 | 090
60650 |  | A | Laparoscopy adrenalectomy | 19.89 | NA | 8.08 | 2.37 | NA | 30.34 | 090
60659 |  | C | Laparo proc, endocrine | 0.00 | 0.00 | 0.00 | 0.00 | 0.00 | 0.00 | YYY
60699 |  | C | Endocrine surgery procedure | 0.00 | 0.00 | 0.00 | 0.00 | 0.00 | 0.00 | YYY
61000 |  | A | Remove cranial cavity fluid | 1.57 | NA | 0.97 | 0.16 | NA | 2.70 | 000
61001 |  | A | Remove cranial cavity fluid | 1.48 | NA | 1.08 | 0.18 | NA | 2.74 | 000
61020 |  | A | Remove brain cavity fluid | 1.50 | NA | 1.38 | 0.31 | NA | 3.19 | 000
61026 |  | A | Injection into brain canal | 1.68 | NA | 1.45 | 0.25 | NA | 3.38 | 000
61050 |  | A | Remove brain canal fluid | 1.50 | NA | 1.28 | 0.16 | NA | 2.94 | 000
61055 |  | A | Injection into brain canal | 2.09 | NA | 1.44 | 0.16 | NA | 3.69 | 000
61070 |  | A | Brain canal shunt procedure | 0.88 | NA | 1.05 | 0.11 | NA | 2.04 | 000
61105 |  | A | Twist drill hole | 5.11 | NA | 4.01 | 1.26 | NA | 10.38 | 090
61107 |  | A | Drill skull for implantation | 4.97 | NA | 3.36 | 1.22 | NA | 9.55 | 000
61108 |  | A | Drill skull for drainage | 10.13 | NA | 7.25 | 2.45 | NA | 19.83 | 090
61120 |  | A | Burr hole for puncture | 8.71 | NA | 6.09 | 2.17 | NA | 16.97 | 090
61140 |  | A | Pierce skull for biopsy | 15.81 | NA | 10.04 | 3.78 | NA | 29.63 | 090
61150 |  | A | Pierce skull for drainage | 17.47 | NA | 10.54 | 4.22 | NA | 32.23 | 090
61151 |  | A | Pierce skull for drainage | 12.35 | NA | 7.95 | 2.94 | NA | 23.24 | 090
61154 |  | A | Pierce skull & remove clot | 14.90 | NA | 9.64 | 3.66 | NA | 28.20 | 090
61156 |  | A | Pierce skull for drainage | 16.23 | NA | 9.98 | 4.10 | NA | 30.31 | 090
61210 |  | A | Pierce skull, implant device | 5.81 | NA | 3.76 | 1.39 | NA | 10.96 | 000
61215 |  | A | Insert brain-fluid device | 4.86 | NA | 4.08 | 1.19 | NA | 10.13 | 090
61250 |  | A | Pierce skull & explore | 10.36 | NA | 6.96 | 2.42 | NA | 19.74 | 090
61253 |  | A | Pierce skull & explore | 12.29 | NA | 7.84 | 2.71 | NA | 22.84 | 090
61304 |  | A | Open skull for exploration | 21.83 | NA | 13.04 | 5.19 | NA | 40.06 | 090
61305 |  | A | Open skull for exploration | 26.46 | NA | 15.56 | 6.29 | NA | 48.31 | 090
61312 |  | A | Open skull for drainage | 24.43 | NA | 15.27 | 5.98 | NA | 45.68 | 090
61313 |  | A | Open skull for drainage | 24.79 | NA | 15.04 | 6.08 | NA | 45.91 | 090
61314 |  | A | Open skull for drainage | 24.09 | NA | 13.26 | 4.79 | NA | 42.14 | 090
61315 |  | A | Open skull for drainage | 27.52 | NA | 16.26 | 6.74 | NA | 50.52 | 090
61316 |  | A | Implt cran bone flap to abdo | 1.38 | NA | 0.58 | 0.52 | NA | 2.48 | ZZZ
61320 |  | A | Open skull for drainage | 25.47 | NA | 14.98 | 6.23 | NA | 46.68 | 090
61321 |  | A | Open skull for drainage | 28.34 | NA | 16.37 | 6.41 | NA | 51.12 | 090
61322 |  | A | Decompressive craniotomy | 29.33 | NA | 14.64 | 5.98 | NA | 49.95 | 090
61323 |  | A | Decompressive lobectomy | 30.82 | NA | 14.82 | 5.98 | NA | 51.62 | 090
61330 |  | A | Decompress eye socket | 23.19 | NA | 13.95 | 3.09 | NA | 40.23 | 090
61332 |  | A | Explore/biopsy eye socket | 27.12 | NA | 15.84 | 4.97 | NA | 47.93 | 090
61333 |  | A | Explore orbit/remove lesion | 27.79 | NA | 15.83 | 2.68 | NA | 46.30 | 090
61334 |  | A | Explore orbit/remove object | 18.17 | NA | 10.82 | 3.62 | NA | 32.61 | 090
61340 |  | A | Subtemporal decompression | 18.55 | NA | 11.30 | 4.39 | NA | 34.24 | 090
61343 |  | A | Incise skull (press relief) | 29.60 | NA | 17.09 | 7.24 | NA | 53.93 | 090
61345 |  | A | Relieve cranial pressure | 27.04 | NA | 15.66 | 6.27 | NA | 48.97 | 090
61440 |  | A | Incise skull for surgery | 26.48 | NA | 14.46 | 6.68 | NA | 47.62 | 090
61450 |  | A | Incise skull for surgery | 25.80 | NA | 14.53 | 6.12 | NA | 46.45 | 090
61458 |  | A | Incise skull for brain wound | 27.13 | NA | 15.77 | 6.33 | NA | 49.23 | 090
61460 |  | A | Incise skull for surgery | 28.23 | NA | 16.68 | 6.15 | NA | 51.06 | 090
61470 |  | A | Incise skull for surgery | 25.91 | NA | 14.08 | 5.57 | NA | 45.56 | 090
61480 |  | A | Incise skull for surgery | 26.34 | NA | 15.53 | 6.64 | NA | 48.51 | 090
61490 |  | A | Incise skull for surgery | 25.51 | NA | 14.57 | 6.44 | NA | 46.52 | 090
61500 |  | A | Removal of skull lesion | 17.82 | NA | 10.99 | 3.91 | NA | 32.72 | 090
61501 |  | A | Remove infected skull bone | 14.76 | NA | 9.37 | 3.15 | NA | 27.28 | 090
61510 |  | A | Removal of brain lesion | 28.29 | NA | 16.97 | 6.92 | NA | 52.18 | 090
61512 |  | A | Remove brain lining lesion | 34.89 | NA | 19.99 | 8.56 | NA | 63.44 | 090
61514 |  | A | Removal of brain abscess | 25.12 | NA | 14.68 | 6.14 | NA | 45.94 | 090
61516 |  | A | Removal of brain lesion | 24.47 | NA | 14.51 | 5.92 | NA | 44.90 | 090
61517 |  | A | Implt brain chemotx add-on | 1.37 | NA | 0.57 | 0.10 | NA | 2.04 | ZZZ
61518 |  | A | Removal of brain lesion | 37.11 | NA | 21.45 | 9.03 | NA | 67.59 | 090
61519 |  | A | Remove brain lining lesion | 41.15 | NA | 23.01 | 9.77 | NA | 73.93 | 090
61520 |  | A | Removal of brain lesion | 54.53 | NA | 30.81 | 12.11 | NA | 97.45 | 090
61521 |  | A | Removal of brain lesion | 44.23 | NA | 24.61 | 10.61 | NA | 79.45 | 090
61522 |  | A | Removal of brain abscess | 29.28 | NA | 16.70 | 6.35 | NA | 52.33 | 090
61524 |  | A | Removal of brain lesion | 27.70 | NA | 15.93 | 6.00 | NA | 49.63 | 090
61526 |  | A | Removal of brain lesion | 51.87 | NA | 29.95 | 8.05 | NA | 89.87 | 090
61530 |  | A | Removal of brain lesion | 43.61 | NA | 25.47 | 7.40 | NA | 76.48 | 090
61531 |  | A | Implant brain electrodes | 14.55 | NA | 9.30 | 3.40 | NA | 27.25 | 090
61533 |  | A | Implant brain electrodes | 19.60 | NA | 11.75 | 4.55 | NA | 35.90 | 090
61534 |  | A | Removal of brain lesion | 20.85 | NA | 12.31 | 4.97 | NA | 38.13 | 090
61535 |  | A | Remove brain electrodes | 11.56 | NA | 7.56 | 2.74 | NA | 21.86 | 090
61536 |  | A | Removal of brain lesion | 35.32 | NA | 20.11 | 8.01 | NA | 63.44 | 090
61537 |  | A | Removal of brain tissue | 24.86 | NA | 14.63 | 6.45 | NA | 45.94 | 090
61538 |  | A | Removal of brain tissue | 26.66 | NA | 15.58 | 6.45 | NA | 48.69 | 090
61539 |  | A | Removal of brain tissue | 31.90 | NA | 18.07 | 7.93 | NA | 57.90 | 090
61540 |  | A | Removal of brain tissue | 29.83 | NA | 17.69 | 7.93 | NA | 55.45 | 090
61541 |  | A | Incision of brain tissue | 28.69 | NA | 16.48 | 6.59 | NA | 51.76 | 090
61542 |  | A | Removal of brain tissue | 30.84 | NA | 18.12 | 7.78 | NA | 56.74 | 090
61543 |  | A | Removal of brain tissue | 29.05 | NA | 16.65 | 7.32 | NA | 53.02 | 090
61544 |  | A | Remove & treat brain lesion | 25.35 | NA | 14.08 | 5.89 | NA | 45.32 | 090
61545 |  | A | Excision of brain tumor | 43.55 | NA | 24.63 | 10.64 | NA | 78.82 | 090
61546 |  | A | Removal of pituitary gland | 31.12 | NA | 17.79 | 7.26 | NA | 56.17 | 090
61548 |  | A | Removal of pituitary gland | 21.41 | NA | 13.00 | 4.35 | NA | 38.76 | 090
61550 |  | A | Release of skull seams | 14.57 | NA | 7.10 | 1.37 | NA | 23.04 | 090
61552 |  | A | Release of skull seams | 19.45 | NA | 9.31 | 1.05 | NA | 29.81 | 090
61556 |  | A | Incise skull/sutures | 22.13 | NA | 11.57 | 4.28 | NA | 37.98 | 090
61557 |  | A | Incise skull/sutures | 22.25 | NA | 13.85 | 5.61 | NA | 41.71 | 090
61558 |  | A | Excision of skull/sutures | 25.43 | NA | 14.43 | 3.13 | NA | 42.99 | 090
61559 |  | A | Excision of skull/sutures | 32.60 | NA | 19.63 | 8.22 | NA | 60.45 | 090
61563 |  | A | Excision of skull tumor | 26.68 | NA | 15.51 | 5.35 | NA | 47.54 | 090
61564 |  | A | Excision of skull tumor | 33.64 | NA | 18.59 | 8.49 | NA | 60.72 | 090
61566 |  | A | Removal of brain tissue | 30.82 | NA | 17.62 | 6.45 | NA | 54.89 | 090
61567 |  | A | Incision of brain tissue | 35.30 | NA | 20.98 | 6.45 | NA | 62.73 | 090
61570 |  | A | Remove foreign body, brain | 24.46 | NA | 14.15 | 5.51 | NA | 44.12 | 090
61571 |  | A | Incise skull for brain wound | 26.24 | NA | 15.39 | 6.27 | NA | 47.90 | 090
61575 |  | A | Skull base/brainstem surgery | 34.16 | NA | 19.96 | 6.02 | NA | 60.14 | 090
61576 |  | A | Skull base/brainstem surgery | 52.13 | NA | 30.00 | 5.61 | NA | 87.74 | 090
61580 |  | A | Craniofacial approach, skull | 30.18 | NA | 25.77 | 3.30 | NA | 59.25 | 090
61581 |  | A | Craniofacial approach, skull | 34.40 | NA | 23.50 | 4.04 | NA | 61.94 | 090
61582 |  | A | Craniofacial approach, skull | 31.48 | NA | 27.43 | 7.55 | NA | 66.46 | 090
61583 |  | A | Craniofacial approach, skull | 36.00 | NA | 25.34 | 8.32 | NA | 69.66 | 090
61584 |  | A | Orbitocranial approach/skull | 34.45 | NA | 24.75 | 7.83 | NA | 67.03 | 090
61585 |  | A | Orbitocranial approach/skull | 38.39 | NA | 26.79 | 7.42 | NA | 72.60 | 090
61586 |  | A | Resect nasopharynx, skull | 24.96 | NA | 22.67 | 4.22 | NA | 51.85 | 090
61590 |  | A | Infratemporal approach/skull | 41.54 | NA | 29.15 | 5.13 | NA | 75.82 | 090
61591 |  | A | Infratemporal approach/skull | 43.43 | NA | 30.09 | 6.30 | NA | 79.82 | 090
61592 |  | A | Orbitocranial approach/skull | 39.41 | NA | 26.96 | 9.05 | NA | 75.42 | 090
61595 |  | A | Transtemporal approach/skull | 29.40 | NA | 22.78 | 3.66 | NA | 55.84 | 090
61596 |  | A | Transcochlear approach/skull | 35.43 | NA | 24.89 | 5.09 | NA | 65.41 | 090
61597 |  | A | Transcondylar approach/skull | 37.74 | NA | 23.37 | 7.97 | NA | 69.08 | 090
61598 |  | A | Transpetrosal approach/skull | 33.22 | NA | 23.66 | 5.51 | NA | 62.39 | 090
61600 |  | A | Resect/excise cranial lesion | 25.70 | NA | 20.16 | 3.74 | NA | 49.60 | 090
61601 |  | A | Resect/excise cranial lesion | 27.73 | NA | 20.86 | 6.34 | NA | 54.93 | 090
61605 |  | A | Resect/excise cranial lesion | 29.16 | NA | 22.42 | 3.01 | NA | 54.59 | 090
61606 |  | A | Resect/excise cranial lesion | 38.61 | NA | 25.55 | 8.16 | NA | 72.32 | 090
61607 |  | A | Resect/excise cranial lesion | 36.06 | NA | 24.19 | 6.82 | NA | 67.07 | 090
61608 |  | A | Resect/excise cranial lesion | 41.86 | NA | 27.02 | 9.96 | NA | 78.84 | 090
61609 |  | A | Transect artery, sinus | 9.83 | NA | 4.92 | 2.48 | NA | 17.23 | ZZZ
61610 |  | A | Transect artery, sinus | 29.50 | NA | 13.33 | 4.22 | NA | 47.05 | ZZZ
61611 |  | A | Transect artery, sinus | 7.38 | NA | 3.87 | 1.86 | NA | 13.11 | ZZZ
61612 |  | A | Transect artery, sinus | 27.72 | NA | 13.50 | 4.26 | NA | 45.48 | ZZZ
61613 |  | A | Remove aneurysm, sinus | 40.63 | NA | 26.68 | 9.97 | NA | 77.28 | 090
61615 |  | A | Resect/excise lesion, skull | 31.89 | NA | 23.11 | 5.56 | NA | 60.56 | 090
61616 |  | A | Resect/excise lesion, skull | 43.08 | NA | 29.13 | 8.41 | NA | 80.62 | 090
61618 |  | A | Repair dura | 16.89 | NA | 10.64 | 3.50 | NA | 31.03 | 090
61619 |  | A | Repair dura | 20.59 | NA | 12.46 | 4.10 | NA | 37.15 | 090
61623 |  | A | Endovasc tempory vessel occl | 9.90 | NA | 4.28 | 0.60 | NA | 14.78 | 000
61624 |  | A | Transcath occlusion, cns | 20.04 | NA | 7.00 | 1.38 | NA | 28.42 | 000
61626 |  | A | Transcath occlusion, non-cns | 16.53 | NA | 5.59 | 1.01 | NA | 23.13 | 000
61680 |  | A | Intracranial vessel surgery | 30.53 | NA | 17.73 | 7.24 | NA | 55.50 | 090
61682 |  | A | Intracranial vessel surgery | 61.22 | NA | 32.72 | 15.21 | NA | 109.15 | 090
61684 |  | A | Intracranial vessel surgery | 39.58 | NA | 22.37 | 9.43 | NA | 71.38 | 090
61686 |  | A | Intracranial vessel surgery | 64.12 | NA | 35.28 | 15.82 | NA | 115.22 | 090
61690 |  | A | Intracranial vessel surgery | 29.14 | NA | 17.00 | 6.60 | NA | 52.74 | 090
61692 |  | A | Intracranial vessel surgery | 51.57 | NA | 27.93 | 12.19 | NA | 91.69 | 090
61697 |  | A | Brain aneurysm repr, complx | 50.23 | NA | 28.47 | 12.36 | NA | 91.06 | 090
61698 |  | A | Brain aneurysm repr, complx | 48.13 | NA | 27.12 | 11.97 | NA | 87.22 | 090
61700 |  | A | Brain aneurysm repr, simple | 50.23 | NA | 28.25 | 12.20 | NA | 90.68 | 090
61702 |  | A | Inner skull vessel surgery | 48.13 | NA | 26.44 | 11.69 | NA | 86.26 | 090
61703 |  | A | Clamp neck artery | 17.37 | NA | 10.66 | 4.34 | NA | 32.37 | 090
61705 |  | A | Revise circulation to head | 35.99 | NA | 19.57 | 7.99 | NA | 63.55 | 090
61708 |  | A | Revise circulation to head | 35.10 | NA | 15.35 | 2.61 | NA | 53.06 | 090
61710 |  | A | Revise circulation to head | 29.50 | NA | 13.80 | 2.90 | NA | 46.20 | 090
61711 |  | A | Fusion of skull arteries | 36.12 | NA | 20.14 | 8.86 | NA | 65.12 | 090
61720 |  | A | Incise skull/brain surgery | 16.67 | NA | 10.15 | 4.21 | NA | 31.03 | 090
61735 |  | A | Incise skull/brain surgery | 20.31 | NA | 12.37 | 4.99 | NA | 37.67 | 090
61750 |  | A | Incise skull/brain biopsy | 18.10 | NA | 10.80 | 4.45 | NA | 33.35 | 090
61751 |  | A | Brain biopsy w/ct/mr guide | 17.52 | NA | 11.01 | 4.28 | NA | 32.81 | 090
61760 |  | A | Implant brain electrodes | 22.14 | NA | 8.91 | 5.50 | NA | 36.55 | 090
61770 |  | A | Incise skull for treatment | 21.32 | NA | 12.45 | 4.90 | NA | 38.67 | 090
61790 |  | A | Treat trigeminal nerve | 10.80 | NA | 6.05 | 2.18 | NA | 19.03 | 090
61791 |  | A | Treat trigeminal tract | 14.53 | NA | 9.07 | 3.63 | NA | 27.23 | 090
61793 |  | A | Focus radiation beam | 17.14 | NA | 10.29 | 4.21 | NA | 31.64 | 090
61795 |  | A | Brain surgery using computer | 4.02 | NA | 2.06 | 0.97 | NA | 7.05 | ZZZ
61850 |  | A | Implant neuroelectrodes | 12.32 | NA | 7.81 | 2.67 | NA | 22.80 | 090
61860 |  | A | Implant neuroelectrodes | 20.75 | NA | 12.27 | 4.84 | NA | 37.86 | 090
61862 |  | D | Implant neurostimul, subcort | 0.00 | 0.00 | 0.00 | 0.00 | 0.00 | 0.00 | 090
61863 |  | A | Implant neuroelectrode | 13.84 | NA | 9.34 | 4.76 | NA | 27.94 | 090
61864 |  | A | Implant neuroelectrde, addl | 4.47 | NA | 2.31 | 1.13 | NA | 7.91 | ZZZ
61867 |  | A | Implant neuroelectrode | 22.83 | NA | 13.98 | 4.76 | NA | 41.57 | 090
61868 |  | A | Implant neuroelectrde, addl | 7.87 | NA | 4.07 | 1.20 | NA | 13.14 | ZZZ
61870 |  | A | Implant neuroelectrodes | 14.85 | NA | 9.95 | 2.04 | NA | 26.84 | 090
61875 |  | A | Implant neuroelectrodes | 14.97 | NA | 8.72 | 2.90 | NA | 26.59 | 090
61880 |  | A | Revise/remove neuroelectrode | 6.25 | NA | 4.67 | 1.57 | NA | 12.49 | 090
61885 |  | A | Implant neurostim one array | 5.82 | NA | 5.42 | 1.46 | NA | 12.70 | 090
61886 |  | A | Implant neurostim arrays | 7.95 | NA | 6.47 | 1.97 | NA | 16.39 | 090
61888 |  | A | Revise/remove neuroreceiver | 5.04 | NA | 3.94 | 1.25 | NA | 10.23 | 010
62000 |  | A | Treat skull fracture | 12.46 | NA | 5.62 | 1.04 | NA | 19.12 | 090
62005 |  | A | Treat skull fracture | 16.08 | NA | 8.95 | 2.79 | NA | 27.82 | 090
62010 |  | A | Treatment of head injury | 19.70 | NA | 11.91 | 4.85 | NA | 36.46 | 090
62100 |  | A | Repair brain fluid leakage | 21.90 | NA | 13.01 | 4.88 | NA | 39.79 | 090
62115 |  | A | Reduction of skull defect | 21.54 | NA | 11.84 | 5.43 | NA | 38.81 | 090
62116 |  | A | Reduction of skull defect | 23.46 | NA | 13.58 | 5.81 | NA | 42.85 | 090
62117 |  | A | Reduction of skull defect | 26.45 | NA | 15.63 | 6.66 | NA | 48.74 | 090
62120 |  | A | Repair skull cavity lesion | 23.22 | NA | 14.49 | 3.68 | NA | 41.39 | 090
62121 |  | A | Incise skull repair | 21.46 | NA | 12.89 | 2.96 | NA | 37.31 | 090
62140 |  | A | Repair of skull defect | 13.43 | NA | 8.47 | 3.12 | NA | 25.02 | 090
62141 |  | A | Repair of skull defect | 14.83 | NA | 9.21 | 3.42 | NA | 27.46 | 090
62142 |  | A | Remove skull plate/flap | 10.73 | NA | 7.12 | 2.52 | NA | 20.37 | 090
62143 |  | A | Replace skull plate/flap | 12.98 | NA | 8.19 | 3.06 | NA | 24.23 | 090
62145 |  | A | Repair of skull & brain | 18.71 | NA | 11.09 | 4.57 | NA | 34.37 | 090
62146 |  | A | Repair of skull with graft | 16.03 | NA | 9.80 | 3.52 | NA | 29.35 | 090
62147 |  | A | Repair of skull with graft | 19.23 | NA | 11.51 | 4.36 | NA | 35.10 | 090
62148 |  | A | Retr bone flap to fix skull | 1.99 | NA | 0.83 | 0.52 | NA | 3.34 | ZZZ
62160 |  | A | Neuroendoscopy add-on | 2.98 | NA | 1.15 | 0.62 | NA | 4.75 | ZZZ
62161 |  | A | Dissect brain w/scope | 19.89 | NA | 9.66 | 4.43 | NA | 33.98 | 090
62162 |  | A | Remove colloid cyst w/scope | 25.11 | NA | 11.82 | 6.92 | NA | 43.85 | 090
62163 |  | A | Neuroendoscopy w/fb removal | 15.41 | NA | 7.93 | 4.43 | NA | 27.77 | 090
62164 |  | A | Remove brain tumor w/scope | 27.34 | NA | 13.03 | 6.92 | NA | 47.29 | 090
62165 |  | A | Remove pituit tumor w/scope | 21.87 | NA | 10.61 | 4.35 | NA | 36.83 | 090
62180 |  | A | Establish brain cavity shunt | 20.94 | NA | 12.49 | 5.18 | NA | 38.61 | 090
62190 |  | A | Establish brain cavity shunt | 11.01 | NA | 7.21 | 2.61 | NA | 20.83 | 090
62192 |  | A | Establish brain cavity shunt | 12.18 | NA | 7.76 | 2.95 | NA | 22.89 | 090
62194 |  | A | Replace/irrigate catheter | 5.00 | NA | 2.86 | 0.60 | NA | 8.46 | 010
62200 |  | A | Establish brain cavity shunt | 18.22 | NA | 11.03 | 4.43 | NA | 33.68 | 090
62201 |  | A | Brain cavity shunt w/scope | 14.78 | NA | 9.62 | 3.02 | NA | 27.42 | 090
62220 |  | A | Establish brain cavity shunt | 12.93 | NA | 8.13 | 3.03 | NA | 24.09 | 090
62223 |  | A | Establish brain cavity shunt | 12.80 | NA | 8.39 | 3.09 | NA | 24.28 | 090
62225 |  | A | Replace/irrigate catheter | 5.38 | NA | 4.18 | 1.31 | NA | 10.87 | 090
62230 |  | A | Replace/revise brain shunt | 10.48 | NA | 6.61 | 2.52 | NA | 19.61 | 090
62252 |  | A | Csf shunt reprogram | 0.74 | 1.47 | NA | 0.21 | 2.42 | NA | XXX
62252 | 26 | A | Csf shunt reprogram | 0.74 | 0.38 | 0.38 | 0.19 | 1.31 | 1.31 | XXX
62252 | TC | A | Csf shunt reprogram | 0.00 | 1.09 | NA | 0.02 | 1.11 | NA | XXX
62256 |  | A | Remove brain cavity shunt | 6.56 | NA | 4.79 | 1.61 | NA | 12.96 | 090
62258 |  | A | Replace brain cavity shunt | 14.46 | NA | 8.86 | 3.49 | NA | 26.81 | 090
62263 |  | A | Epidural lysis mult sessions | 6.11 | 12.19 | 2.44 | 0.50 | 18.80 | 9.05 | 010
62264 |  | A | Epidural lysis on single day | 4.40 | 7.90 | 1.43 | 0.36 | 12.66 | 6.19 | 010
62268 |  | A | Drain spinal cord cyst | 4.71 | 10.72 | 2.20 | 0.35 | 15.78 | 7.26 | 000
62269 |  | A | Needle biopsy, spinal cord | 4.99 | 12.34 | 2.03 | 0.35 | 17.68 | 7.37 | 000
62270 |  | A | Spinal fluid tap, diagnostic | 1.12 | 3.06 | 0.50 | 0.07 | 4.25 | 1.69 | 000
62272 |  | A | Drain cerebro spinal fluid | 1.34 | 3.68 | 0.64 | 0.16 | 5.18 | 2.14 | 000
62273 |  | A | Treat epidural spine lesion | 2.14 | 2.81 | 0.59 | 0.17 | 5.12 | 2.90 | 000
62280 |  | A | Treat spinal cord lesion | 2.62 | 6.70 | 0.89 | 0.20 | 9.52 | 3.71 | 010
62281 |  | A | Treat spinal cord lesion | 2.64 | 5.86 | 0.78 | 0.19 | 8.69 | 3.61 | 010
62282 |  | A | Treat spinal canal lesion | 2.32 | 8.27 | 0.80 | 0.17 | 10.76 | 3.29 | 010
62284 |  | A | Injection for myelogram | 1.53 | 4.92 | 0.61 | 0.12 | 6.57 | 2.26 | 000
62287 |  | A | Percutaneous diskectomy | 8.03 | NA | 5.60 | 0.79 | NA | 14.42 | 090
62290 |  | A | Inject for spine disk x-ray | 2.98 | 6.87 | 1.30 | 0.24 | 10.09 | 4.52 | 000
62291 |  | A | Inject for spine disk x-ray | 2.89 | 5.75 | 1.15 | 0.20 | 8.84 | 4.24 | 000
62292 |  | A | Injection into disk lesion | 7.82 | NA | 4.57 | 0.78 | NA | 13.17 | 090
62294 |  | A | Injection into spinal artery | 11.76 | NA | 5.70 | 1.02 | NA | 18.48 | 090
62310 |  | A | Inject spine c/t | 1.90 | 4.93 | 0.52 | 0.13 | 6.96 | 2.55 | 000
62311 |  | A | Inject spine l/s (cd) | 1.53 | 5.01 | 0.46 | 0.11 | 6.65 | 2.10 | 000
62318 |  | A | Inject spine w/cath, c/t | 2.03 | 5.63 | 0.53 | 0.14 | 7.80 | 2.70 | 000
62319 |  | A | Inject spine w/cath l/s (cd) | 1.86 | 4.92 | 0.49 | 0.13 | 6.91 | 2.48 | 000
62350 |  | A | Implant spinal canal cath | 6.83 | NA | 4.09 | 0.77 | NA | 11.69 | 090
62351 |  | A | Implant spinal canal cath | 9.94 | NA | 7.19 | 2.15 | NA | 19.28 | 090
62355 |  | A | Remove spinal canal catheter | 5.42 | NA | 3.28 | 0.56 | NA | 9.26 | 090
62360 |  | A | Insert spine infusion device | 2.61 | NA | 2.80 | 0.25 | NA | 5.66 | 090
62361 |  | A | Implant spine infusion pump | 5.39 | NA | 4.00 | 0.60 | NA | 9.99 | 090
62362 |  | A | Implant spine infusion pump | 7.00 | NA | 4.49 | 1.03 | NA | 12.52 | 090
62365 |  | A | Remove spine infusion device | 5.39 | NA | 3.68 | 0.70 | NA | 9.77 | 090
62367 |  | C | Analyze spine infusion pump | 0.00 | 0.00 | 0.00 | 0.00 | 0.00 | 0.00 | XXX
62367 | 26 | A | Analyze spine infusion pump | 0.48 | 0.13 | 0.13 | 0.04 | 0.65 | 0.65 | XXX
62367 | TC | C | Analyze spine infusion pump | 0.00 | 0.00 | 0.00 | 0.00 | 0.00 | 0.00 | XXX
62368 |  | C | Analyze spine infusion pump | 0.00 | 0.00 | 0.00 | 0.00 | 0.00 | 0.00 | XXX
62368 | 26 | A | Analyze spine infusion pump | 0.75 | 0.19 | 0.19 | 0.06 | 1.00 | 1.00 | XXX
62368 | TC | C | Analyze spine infusion pump | 0.00 | 0.00 | 0.00 | 0.00 | 0.00 | 0.00 | XXX
63001 |  | A | Removal of spinal lamina | 15.73 | NA | 9.65 | 3.63 | NA | 29.01 | 090
63003 |  | A | Removal of spinal lamina | 15.86 | NA | 9.98 | 3.57 | NA | 29.41 | 090
63005 |  | A | Removal of spinal lamina | 14.83 | NA | 10.05 | 3.14 | NA | 28.02 | 090
63011 |  | A | Removal of spinal lamina | 14.44 | NA | 8.38 | 1.71 | NA | 24.53 | 090
63012 |  | A | Removal of spinal lamina | 15.31 | NA | 10.21 | 3.25 | NA | 28.77 | 090
63015 |  | A | Removal of spinal lamina | 19.24 | NA | 12.05 | 4.60 | NA | 35.89 | 090
63016 |  | A | Removal of spinal lamina | 19.09 | NA | 11.94 | 4.34 | NA | 35.37 | 090
63017 |  | A | Removal of spinal lamina | 15.85 | NA | 10.49 | 3.49 | NA | 29.83 | 090
63020 |  | A | Neck spine disk surgery | 14.73 | NA | 9.79 | 3.46 | NA | 27.98 | 090
63030 |  | A | Low back disk surgery | 11.93 | NA | 8.49 | 2.65 | NA | 23.07 | 090
63035 |  | A | Spinal disk surgery add-on | 3.13 | NA | 1.61 | 0.68 | NA | 5.42 | ZZZ
63040 |  | A | Laminotomy, single cervical | 18.70 | NA | 11.64 | 4.03 | NA | 34.37 | 090
63042 |  | A | Laminotomy, single lumbar | 17.37 | NA | 11.44 | 3.73 | NA | 32.54 | 090
63043 |  | C | Laminotomy, addl cervical | 0.00 | 0.00 | 0.00 | 0.00 | 0.00 | 0.00 | ZZZ
63044 |  | C | Laminotomy, addl lumbar | 0.00 | 0.00 | 0.00 | 0.00 | 0.00 | 0.00 | ZZZ
63045 |  | A | Removal of spinal lamina | 16.41 | NA | 10.49 | 3.82 | NA | 30.72 | 090
63046 |  | A | Removal of spinal lamina | 15.71 | NA | 10.29 | 3.46 | NA | 29.46 | 090
63047 |  | A | Removal of spinal lamina | 14.53 | NA | 9.96 | 3.13 | NA | 27.62 | 090
63048 |  | A | Remove spinal lamina add-on | 3.24 | NA | 1.69 | 0.70 | NA | 5.63 | ZZZ
63055 |  | A | Decompress spinal cord | 21.86 | NA | 13.31 | 4.90 | NA | 40.07 | 090
63056 |  | A | Decompress spinal cord | 20.24 | NA | 12.69 | 4.00 | NA | 36.93 | 090
63057 |  | A | Decompress spine cord add-on | 5.23 | NA | 2.67 | 0.97 | NA | 8.87 | ZZZ
63064 |  | A | Decompress spinal cord | 24.47 | NA | 14.62 | 5.66 | NA | 44.75 | 090
63066 |  | A | Decompress spine cord add-on | 3.24 | NA | 1.69 | 0.76 | NA | 5.69 | ZZZ
63075 |  | A | Neck spine disk surgery | 19.30 | NA | 12.24 | 4.47 | NA | 36.01 | 090
63076 |  | A | Neck spine disk surgery | 4.03 | NA | 2.08 | 0.93 | NA | 7.04 | ZZZ
63077 |  | A | Spine disk surgery, thorax | 21.32 | NA | 12.86 | 4.12 | NA | 38.30 | 090
63078 |  | A | Spine disk surgery, thorax | 3.26 | NA | 1.66 | 0.60 | NA | 5.52 | ZZZ
63081 |  | A | Removal of vertebral body | 23.59 | NA | 14.50 | 5.35 | NA | 43.44 | 090
63082 |  | A | Remove vertebral body add-on | 4.35 | NA | 2.25 | 0.98 | NA | 7.58 | ZZZ
63085 |  | A | Removal of vertebral body | 26.77 | NA | 15.58 | 5.63 | NA | 47.98 | 090
63086 |  | A | Remove vertebral body add-on | 3.17 | NA | 1.61 | 0.66 | NA | 5.44 | ZZZ
63087 |  | A | Removal of vertebral body | 35.37 | NA | 19.63 | 7.04 | NA | 62.04 | 090
63088 |  | A | Remove vertebral body add-on | 4.31 | NA | 2.20 | 0.92 | NA | 7.43 | ZZZ
63090 |  | A | Removal of vertebral body | 28.00 | NA | 16.14 | 5.12 | NA | 49.26 | 090
63091 |  | A | Remove vertebral body add-on | 3.01 | NA | 1.47 | 0.54 | NA | 5.02 | ZZZ
63101 |  | A | Removal of vertebral body | 31.82 | NA | 19.57 | 5.66 | NA | 57.05 | 090
63102 |  | A | Removal of vertebral body | 31.82 | NA | 19.57 | 5.66 | NA | 57.05 | 090
63103 |  | A | Remove vertebral body add-on | 3.88 | NA | 2.03 | 0.76 | NA | 6.67 | ZZZ
63170 |  | A | Incise spinal cord tract(s) | 19.72 | NA | 12.22 | 4.66 | NA | 36.60 | 090
63172 |  | A | Drainage of spinal cyst | 17.56 | NA | 10.99 | 4.15 | NA | 32.70 | 090
63173 |  | A | Drainage of spinal cyst | 21.86 | NA | 13.19 | 4.96 | NA | 40.01 | 090
63180 |  | A | Revise spinal cord ligaments | 18.17 | NA | 11.35 | 4.59 | NA | 34.11 | 090
63182 |  | A | Revise spinal cord ligaments | 20.38 | NA | 11.31 | 4.17 | NA | 35.86 | 090
63185 |  | A | Incise spinal column/nerves | 14.95 | NA | 8.38 | 2.49 | NA | 25.82 | 090
63190 |  | A | Incise spinal column/nerves | 17.35 | NA | 10.45 | 3.45 | NA | 31.25 | 090
63191 |  | A | Incise spinal column/nerves | 17.44 | NA | 10.84 | 4.20 | NA | 32.48 | 090
63194 |  | A | Incise spinal column & cord | 19.08 | NA | 12.05 | 4.81 | NA | 35.94 | 090
63195 |  | A | Incise spinal column & cord | 18.73 | NA | 11.36 | 4.12 | NA | 34.21 | 090
63196 |  | A | Incise spinal column & cord | 22.17 | NA | 13.74 | 5.59 | NA | 41.50 | 090
63197 |  | A | Incise spinal column & cord | 20.99 | NA | 12.55 | 5.30 | NA | 38.84 | 090
63198 |  | A | Incise spinal column & cord | 25.24 | NA | 8.77 | 6.36 | NA | 40.37 | 090
63199 |  | A | Incise spinal column & cord | 26.74 | NA | 15.42 | 6.74 | NA | 48.90 | 090
63200 |  | A | Release of spinal cord | 19.07 | NA | 11.62 | 4.33 | NA | 35.02 | 090
63250 |  | A | Revise spinal cord vessels | 40.53 | NA | 20.27 | 9.17 | NA | 69.97 | 090
63251 |  | A | Revise spinal cord vessels | 40.97 | NA | 22.95 | 9.56 | NA | 73.48 | 090
63252 |  | A | Revise spinal cord vessels | 40.96 | NA | 22.59 | 9.29 | NA | 72.84 | 090
63265 |  | A | Excise intraspinal lesion | 21.44 | NA | 12.97 | 5.14 | NA | 39.55 | 090
63266 |  | A | Excise intraspinal lesion | 22.17 | NA | 13.39 | 5.36 | NA | 40.92 | 090
63267 |  | A | Excise intraspinal lesion | 17.85 | NA | 11.23 | 4.20 | NA | 33.28 | 090
63268 |  | A | Excise intraspinal lesion | 18.41 | NA | 10.56 | 3.81 | NA | 32.78 | 090
63270 |  | A | Excise intraspinal lesion | 26.65 | NA | 15.71 | 6.48 | NA | 48.84 | 090
63271 |  | A | Excise intraspinal lesion | 26.77 | NA | 15.82 | 6.66 | NA | 49.25 | 090
63272 |  | A | Excise intraspinal lesion | 25.18 | NA | 14.91 | 6.08 | NA | 46.17 | 090
63273 |  | A | Excise intraspinal lesion | 24.15 | NA | 14.56 | 6.09 | NA | 44.80 | 090
63275 |  | A | Biopsy/excise spinal tumor | 23.55 | NA | 13.99 | 5.61 | NA | 43.15 | 090
63276 |  | A | Biopsy/excise spinal tumor | 23.32 | NA | 13.88 | 5.55 | NA | 42.75 | 090
63277 |  | A | Biopsy/excise spinal tumor | 20.71 | NA | 12.69 | 4.83 | NA | 38.23 | 090
63278 |  | A | Biopsy/excise spinal tumor | 20.44 | NA | 12.55 | 4.82 | NA | 37.81 | 090
63280 |  | A | Biopsy/excise spinal tumor | 28.19 | NA | 16.57 | 6.95 | NA | 51.71 | 090
63281 |  | A | Biopsy/excise spinal tumor | 27.89 | NA | 16.42 | 6.80 | NA | 51.11 | 090
63282 |  | A | Biopsy/excise spinal tumor | 26.24 | NA | 15.57 | 6.39 | NA | 48.20 | 090
63283 |  | A | Biopsy/excise spinal tumor | 24.86 | NA | 14.89 | 6.14 | NA | 45.89 | 090
63285 |  | A | Biopsy/excise spinal tumor | 35.79 | NA | 20.26 | 8.76 | NA | 64.81 | 090
63286 |  | A | Biopsy/excise spinal tumor | 35.43 | NA | 20.21 | 8.47 | NA | 64.11 | 090
63287 |  | A | Biopsy/excise spinal tumor | 36.49 | NA | 20.77 | 8.97 | NA | 66.23 | 090
63290 |  | A | Biopsy/excise spinal tumor | 37.17 | NA | 20.91 | 9.17 | NA | 67.25 | 090
63300 |  | A | Removal of vertebral body | 24.29 | NA | 14.51 | 5.73 | NA | 44.53 | 090
63301 |  | A | Removal of vertebral body | 27.44 | NA | 15.71 | 6.03 | NA | 49.18 | 090
63302 |  | A | Removal of vertebral body | 27.65 | NA | 16.03 | 6.29 | NA | 49.97 | 090
63303 |  | A | Removal of vertebral body | 30.33 | NA | 17.11 | 6.24 | NA | 53.68 | 090
63304 |  | A | Removal of vertebral body | 30.16 | NA | 17.54 | 5.66 | NA | 53.36 | 090
63305 |  | A | Removal of vertebral body | 31.85 | NA | 18.18 | 6.46 | NA | 56.49 | 090
63306 |  | A | Removal of vertebral body | 32.04 | NA | 18.00 | 2.86 | NA | 52.90 | 090
63307 |  | A | Removal of vertebral body | 31.45 | NA | 17.00 | 5.07 | NA | 53.52 | 090
63308 |  | A | Remove vertebral body add-on | 5.22 | NA | 2.64 | 1.21 | NA | 9.07 | ZZZ
63600 |  | A | Remove spinal cord lesion | 13.94 | NA | 5.54 | 1.46 | NA | 20.94 | 090
63610 |  | A | Stimulation of spinal cord | 8.68 | 56.38 | 2.33 | 0.52 | 65.58 | 11.53 | 000
63615 |  | A | Remove lesion of spinal cord | 16.19 | NA | 9.35 | 3.42 | NA | 28.96 | 090
63650 |  | A | Implant neuroelectrodes | 6.70 | NA | 3.30 | 0.58 | NA | 10.58 | 090
63655 |  | A | Implant neuroelectrodes | 10.23 | NA | 7.00 | 2.22 | NA | 19.45 | 090
63660 |  | A | Revise/remove neuroelectrode | 6.12 | NA | 3.71 | 0.78 | NA | 10.61 | 090
63685 |  | A | Implant neuroreceiver | 7.00 | NA | 4.25 | 1.15 | NA | 12.40 | 090
63688 |  | A | Revise/remove neuroreceiver | 5.36 | NA | 3.64 | 0.84 | NA | 9.84 | 090
63700 |  | A | Repair of spinal herniation | 16.44 | NA | 10.40 | 3.22 | NA | 30.06 | 090
63702 |  | A | Repair of spinal herniation | 18.37 | NA | 10.94 | 1.63 | NA | 30.94 | 090
63704 |  | A | Repair of spinal herniation | 21.06 | NA | 13.05 | 4.60 | NA | 38.71 | 090
63706 |  | A | Repair of spinal herniation | 23.97 | NA | 13.83 | 5.67 | NA | 43.47 | 090
63707 |  | A | Repair spinal fluid leakage | 11.20 | NA | 7.78 | 2.35 | NA | 21.33 | 090
63709 |  | A | Repair spinal fluid leakage | 14.24 | NA | 9.48 | 2.98 | NA | 26.70 | 090
63710 |  | A | Graft repair of spine defect | 13.99 | NA | 9.16 | 3.13 | NA | 26.28 | 090
63740 |  | A | Install spinal shunt | 11.30 | NA | 7.48 | 2.58 | NA | 21.36 | 090
63741 |  | A | Install spinal shunt | 8.20 | NA | 4.86 | 1.26 | NA | 14.32 | 090
63744 |  | A | Revision of spinal shunt | 8.05 | NA | 5.36 | 1.81 | NA | 15.22 | 090
63746 |  | A | Removal of spinal shunt | 6.39 | NA | 3.88 | 1.38 | NA | 11.65 | 090
64400 |  | A | N block inj, trigeminal | 1.10 | 2.04 | 0.37 | 0.07 | 3.21 | 1.54 | 000
64402 |  | A | N block inj, facial | 1.24 | 1.77 | 0.54 | 0.08 | 3.09 | 1.86 | 000
64405 |  | A | N block inj, occipital | 1.31 | 1.55 | 0.40 | 0.10 | 2.96 | 1.81 | 000
64408 |  | A | N block inj, vagus | 1.40 | 1.60 | 0.66 | 0.11 | 3.11 | 2.17 | 000
64410 |  | A | N block inj, phrenic | 1.42 | 2.64 | 0.41 | 0.10 | 4.16 | 1.93 | 000
64412 |  | A | N block inj, spinal accessor | 1.17 | 2.78 | 0.37 | 0.10 | 4.05 | 1.64 | 000
64413 |  | A | N block inj, cervical plexus | 1.39 | 1.93 | 0.45 | 0.11 | 3.43 | 1.95 | 000
64415 |  | A | N block inj, brachial plexus | 1.47 | 2.91 | 0.40 | 0.10 | 4.48 | 1.97 | 000
64416 |  | A | N block cont infuse, b plex | 3.48 | NA | 0.72 | 0.10 | NA | 4.30 | 010
64417 |  | A | N block inj, axillary | 1.43 | 3.16 | 0.44 | 0.11 | 4.70 | 1.98 | 000
64418 |  | A | N block inj, suprascapular | 1.31 | 2.72 | 0.38 | 0.08 | 4.11 | 1.77 | 000
64420 |  | A | N block inj, intercost, sng | 1.17 | 3.58 | 0.36 | 0.08 | 4.83 | 1.61 | 000
64421 |  | A | N block inj, intercost, mlt | 1.67 | 5.45 | 0.47 | 0.12 | 7.24 | 2.26 | 000
64425 |  | A | N block inj ilio-ing/hypogi | 1.74 | 1.74 | 0.49 | 0.13 | 3.61 | 2.36 | 000
64430 |  | A | N block inj, pudendal | 1.45 | 2.63 | 0.51 | 0.13 | 4.21 | 2.09 | 000
64435 |  | A | N block inj, paracervical | 1.44 | 2.64 | 0.64 | 0.18 | 4.26 | 2.26 | 000
64445 |  | A | N block inj, sciatic, sng | 1.47 | 2.75 | 0.39 | 0.10 | 4.32 | 1.96 | 000
64446 |  | A | N blk inj, sciatic, cont inf | 3.23 | NA | 1.20 | 0.10 | NA | 4.53 | 010
64447 |  | A | N block inj fem, single | 1.49 | NA | 0.52 | 0.10 | NA | 2.11 | 000
64448 |  | A | N block inj fem, cont inf | 2.98 | NA | 1.03 | 0.10 | NA | 4.11 | 010
64449 |  | A | N block inj, lumbar plexus | 2.98 | NA | 0.98 | 0.10 | NA | 4.06 | 010
64450 |  | A | N block, other peripheral | 1.26 | 1.29 | 0.42 | 0.10 | 2.65 | 1.78 | 000
64470 |  | A | Inj paravertebral c/t | 1.84 | 4.92 | 0.58 | 0.14 | 6.90 | 2.56 | 000
64472 |  | A | Inj paravertebral c/t add-on | 1.28 | 1.96 | 0.32 | 0.11 | 3.35 | 1.71 | ZZZ
64475 |  | A | Inj paravertebral l/s | 1.40 | 4.61 | 0.49 | 0.11 | 6.12 | 2.00 | 000
64476 |  | A | Inj paravertebral l/s add-on | 0.97 | 1.84 | 0.25 | 0.07 | 2.88 | 1.29 | ZZZ
64479 |  | A | Inj foramen epidural c/t | 2.19 | 7.14 | 0.73 | 0.17 | 9.50 | 3.09 | 000
64480 |  | A | Inj foramen epidural add-on | 1.53 | 2.43 | 0.48 | 0.11 | 4.07 | 2.12 | ZZZ
64483 |  | A | Inj foramen epidural l/s | 1.89 | 7.64 | 0.66 | 0.14 | 9.67 | 2.69 | 000
64484 |  | A | Inj foramen epidural add-on | 1.32 | 2.84 | 0.38 | 0.10 | 4.26 | 1.80 | ZZZ
64505 |  | A | N block, spenopalatine gangl | 1.35 | 1.24 | 0.49 | 0.10 | 2.69 | 1.94 | 000
64508 |  | A | N block, carotid sinus s/p | 1.11 | 3.01 | 0.52 | 0.07 | 4.19 | 1.70 | 000
64510 |  | A | N block, stellate ganglion | 1.21 | 3.27 | 0.39 | 0.08 | 4.56 | 1.68 | 000
64517 |  | A | N block inj, hypogas plxs | 2.19 | 2.76 | 0.89 | 0.13 | 5.08 | 3.21 | 000
64520 |  | A | N block, lumbar/thoracic | 1.34 | 4.63 | 0.43 | 0.10 | 6.07 | 1.87 | 000
64530 |  | A | N block inj, celiac pelus | 1.57 | 4.01 | 0.49 | 0.11 | 5.69 | 2.17 | 000
64550 |  | A | Apply neurostimulator | 0.18 | 0.30 | 0.05 | 0.01 | 0.49 | 0.24 | 000
64553 |  | A | Implant neuroelectrodes | 2.30 | 2.77 | 1.88 | 0.20 | 5.27 | 4.38 | 010
64555 |  | A | Implant neuroelectrodes | 2.26 | 3.16 | 1.23 | 0.13 | 5.55 | 3.62 | 010
64560 |  | A | Implant neuroelectrodes | 2.35 | 2.69 | 1.34 | 0.20 | 5.24 | 3.89 | 010
64561 |  | A | Implant neuroelectrodes | 6.70 | NA | 3.20 | 0.13 | NA | 10.03 | 010
64565 |  | A | Implant neuroelectrodes | 1.75 | 3.39 | 1.28 | 0.10 | 5.24 | 3.13 | 010
64573 |  | A | Implant neuroelectrodes | 7.46 | NA | 5.30 | 1.77 | NA | 14.53 | 090
64575 |  | A | Implant neuroelectrodes | 4.33 | NA | 2.75 | 0.44 | NA | 7.52 | 090
64577 |  | A | Implant neuroelectrodes | 4.59 | NA | 3.31 | 0.60 | NA | 8.50 | 090
64580 |  | A | Implant neuroelectrodes | 4.10 | NA | 3.60 | 0.25 | NA | 7.95 | 090
64581 |  | A | Implant neuroelectrodes | 13.42 | NA | 5.47 | 0.44 | NA | 19.33 | 090
64585 |  | A | Revise/remove neuroelectrode | 2.05 | 11.70 | 1.75 | 0.35 | 14.10 | 4.15 | 010
64590 |  | A | Implant neuroreceiver | 2.39 | 7.41 | 1.93 | 0.48 | 10.28 | 4.80 | 010
64595 |  | A | Revise/remove neuroreceiver | 1.72 | 10.90 | 1.53 | 0.26 | 12.88 | 3.51 | 010
64600 |  | A | Injection treatment of nerve | 3.43 | 8.56 | 1.60 | 0.34 | 12.33 | 5.37 | 010
64605 |  | A | Injection treatment of nerve | 5.58 | 8.74 | 2.09 | 0.64 | 14.96 | 8.31 | 010
64610 |  | A | Injection treatment of nerve | 7.12 | 8.00 | 3.63 | 1.34 | 16.46 | 12.09 | 010
64612 |  | A | Destroy nerve, face muscle | 1.95 | 2.66 | 1.08 | 0.11 | 4.72 | 3.14 | 010
64613 |  | A | Destroy nerve, spine muscle | 1.95 | 3.01 | 1.00 | 0.12 | 5.08 | 3.07 | 010
64614 |  | A | Destroy nerve, extrem musc | 2.19 | 3.28 | 1.13 | 0.11 | 5.58 | 3.43 | 010
64620 |  | A | Injection treatment of nerve | 2.82 | 4.67 | 1.21 | 0.20 | 7.69 | 4.23 | 010
64622 |  | A | Destr paravertebrl nerve l/s | 2.98 | 7.74 | 1.26 | 0.20 | 10.92 | 4.44 | 010
64623 |  | A | Destr paravertebral n add-on | 0.98 | 2.46 | 0.23 | 0.07 | 3.51 | 1.28 | ZZZ
64626 |  | A | Destr paravertebrl nerve c/t | 3.26 | 6.79 | 1.90 | 0.26 | 10.31 | 5.42 | 010
64627 |  | A | Destr paravertebral n add-on | 1.15 | 2.65 | 0.27 | 0.10 | 3.90 | 1.52 | ZZZ
64630 |  | A | Injection treatment of nerve | 2.98 | 2.78 | 1.31 | 0.19 | 5.95 | 4.48 | 010
64640 |  | A | Injection treatment of nerve | 2.74 | 4.32 | 1.71 | 0.13 | 7.19 | 4.58 | 010
64680 |  | A | Injection treatment of nerve | 2.61 | 6.08 | 1.31 | 0.18 | 8.87 | 4.10 | 010
64681 |  | A | Injection treatment of nerve | 3.53 | 8.81 | 2.13 | 0.18 | 12.52 | 5.84 | 010
64702 |  | A | Revise finger/toe nerve | 4.21 | NA | 3.86 | 0.61 | NA | 8.68 | 090
64704 |  | A | Revise hand/foot nerve | 4.54 | NA | 3.31 | 0.71 | NA | 8.56 | 090
64708 |  | A | Revise arm/leg nerve | 6.09 | NA | 4.87 | 0.98 | NA | 11.94 | 090
64712 |  | A | Revision of sciatic nerve | 7.71 | NA | 5.09 | 0.65 | NA | 13.45 | 090
64713 |  | A | Revision of arm nerve(s) | 10.94 | NA | 5.98 | 1.21 | NA | 18.13 | 090
64714 |  | A | Revise low back nerve(s) | 10.27 | NA | 4.35 | 0.77 | NA | 15.39 | 090
64716 |  | A | Revision of cranial nerve | 6.27 | NA | 5.32 | 0.71 | NA | 12.30 | 090
64718 |  | A | Revise ulnar nerve at elbow | 5.96 | NA | 5.94 | 1.04 | NA | 12.94 | 090
64719 |  | A | Revise ulnar nerve at wrist | 4.82 | NA | 4.51 | 0.76 | NA | 10.09 | 090
64721 |  | A | Carpal tunnel surgery | 4.27 | 5.01 | 5.01 | 0.71 | 9.99 | 9.99 | 090
64722 |  | A | Relieve pressure on nerve(s) | 4.67 | NA | 3.13 | 0.38 | NA | 8.18 | 090
64726 |  | A | Release foot/toe nerve | 4.16 | NA | 2.80 | 0.68 | NA | 7.64 | 090
64727 |  | A | Internal nerve revision | 3.08 | NA | 1.52 | 0.48 | NA | 5.08 | ZZZ
64732 |  | A | Incision of brow nerve | 4.38 | NA | 3.58 | 0.92 | NA | 8.88 | 090
64734 |  | A | Incision of cheek nerve | 4.89 | NA | 4.12 | 0.99 | NA | 10.00 | 090
64736 |  | A | Incision of chin nerve | 4.57 | NA | 4.09 | 0.85 | NA | 9.51 | 090
64738 |  | A | Incision of jaw nerve | 5.70 | NA | 4.67 | 1.01 | NA | 11.38 | 090
64740 |  | A | Incision of tongue nerve | 5.56 | NA | 4.45 | 0.52 | NA | 10.53 | 090
64742 |  | A | Incision of facial nerve | 6.18 | NA | 4.79 | 0.83 | NA | 11.80 | 090
64744 |  | A | Incise nerve, back of head | 5.21 | NA | 3.85 | 1.17 | NA | 10.23 | 090
64746 |  | A | Incise diaphragm nerve | 5.90 | NA | 4.40 | 0.90 | NA | 11.20 | 090
64752 |  | A | Incision of vagus nerve | 7.02 | NA | 4.27 | 0.99 | NA | 12.28 | 090
64755 |  | A | Incision of stomach nerves | 13.44 | NA | 5.75 | 1.39 | NA | 20.58 | 090
64760 |  | A | Incision of vagus nerve | 6.92 | NA | 3.57 | 0.61 | NA | 11.10 | 090
64761 |  | A | Incision of pelvis nerve | 6.37 | NA | 3.62 | 0.31 | NA | 10.30 | 090
64763 |  | A | Incise hip/thigh nerve | 6.89 | NA | 5.30 | 0.92 | NA | 13.11 | 090
64766 |  | A | Incise hip/thigh nerve | 8.62 | NA | 5.34 | 1.19 | NA | 15.15 | 090
64771 |  | A | Sever cranial nerve | 7.31 | NA | 5.65 | 1.58 | NA | 14.54 | 090
64772 |  | A | Incision of spinal nerve | 7.17 | NA | 4.99 | 1.44 | NA | 13.60 | 090
64774 |  | A | Remove skin nerve lesion | 5.14 | NA | 3.85 | 0.72 | NA | 9.71 | 090
64776 |  | A | Remove digit nerve lesion | 5.09 | NA | 3.72 | 0.76 | NA | 9.57 | 090
64778 |  | A | Digit nerve surgery add-on | 3.09 | NA | 1.52 | 0.46 | NA | 5.07 | ZZZ
64782 |  | A | Remove limb nerve lesion | 6.19 | NA | 3.79 | 0.95 | NA | 10.93 | 090
64783 |  | A | Limb nerve surgery add-on | 3.70 | NA | 1.87 | 0.58 | NA | 6.15 | ZZZ
64784 |  | A | Remove nerve lesion | 9.76 | NA | 6.64 | 1.40 | NA | 17.80 | 090
64786 |  | A | Remove sciatic nerve lesion | 15.37 | NA | 9.94 | 2.66 | NA | 27.97 | 090
64787 |  | A | Implant nerve end | 4.28 | NA | 2.15 | 0.67 | NA | 7.10 | ZZZ
64788 |  | A | Remove skin nerve lesion | 4.58 | NA | 3.51 | 0.65 | NA | 8.74 | 090
64790 |  | A | Removal of nerve lesion | 11.25 | NA | 7.28 | 2.01 | NA | 20.54 | 090
64792 |  | A | Removal of nerve lesion | 14.83 | NA | 8.93 | 2.25 | NA | 26.01 | 090
64795 |  | A | Biopsy of nerve | 2.99 | NA | 1.61 | 0.48 | NA | 5.08 | 000
64802 |  | A | Remove sympathetic nerves | 9.10 | NA | 5.18 | 1.04 | NA | 15.32 | 090
64804 |  | A | Remove sympathetic nerves | 14.56 | NA | 7.14 | 2.15 | NA | 23.85 | 090
64809 |  | A | Remove sympathetic nerves | 13.59 | NA | 5.82 | 1.15 | NA | 20.56 | 090
64818 |  | A | Remove sympathetic nerves | 10.24 | NA | 5.28 | 1.29 | NA | 16.81 | 090
64820 |  | A | Remove sympathetic nerves | 10.31 | NA | 7.20 | 1.40 | NA | 18.91 | 090
64821 |  | A | Remove sympathetic nerves | 8.70 | NA | 7.42 | 1.19 | NA | 17.31 | 090
64822 |  | A | Remove sympathetic nerves | 8.70 | NA | 7.35 | 1.19 | NA | 17.24 | 090
64823 |  | A | Remove sympathetic nerves | 10.31 | NA | 8.27 | 1.40 | NA | 19.98 | 090
64831 |  | A | Repair of digit nerve | 9.39 | NA | 7.12 | 1.37 | NA | 17.88 | 090
64832 |  | A | Repair nerve add-on | 5.63 | NA | 2.98 | 0.82 | NA | 9.43 | ZZZ
64834 |  | A | Repair of hand or foot nerve | 10.13 | NA | 7.14 | 1.47 | NA | 18.74 | 090
64835 |  | A | Repair of hand or foot nerve | 10.88 | NA | 7.75 | 1.63 | NA | 20.26 | 090
64836 |  | A | Repair of hand or foot nerve | 10.88 | NA | 7.72 | 1.58 | NA | 20.18 | 090
64837 |  | A | Repair nerve add-on | 6.22 | NA | 3.27 | 0.96 | NA | 10.45 | ZZZ
64840 |  | A | Repair of leg nerve | 12.95 | NA | 8.38 | 1.03 | NA | 22.36 | 090
64856 |  | A | Repair/transpose nerve | 13.72 | NA | 9.27 | 2.05 | NA | 25.04 | 090
64857 |  | A | Repair arm/leg nerve | 14.41 | NA | 9.72 | 2.11 | NA | 26.24 | 090
64858 |  | A | Repair sciatic nerve | 16.40 | NA | 10.86 | 3.33 | NA | 30.59 | 090
64859 |  | A | Nerve surgery | 4.24 | NA | 2.22 | 0.60 | NA | 7.06 | ZZZ
64861 |  | A | Repair of arm nerves | 19.13 | NA | 11.93 | 2.94 | NA | 34.00 | 090
64862 |  | A | Repair of low back nerves | 19.33 | NA | 12.10 | 2.96 | NA | 34.39 | 090
64864 |  | A | Repair of facial nerve | 12.48 | NA | 8.19 | 1.35 | NA | 22.02 | 090
64865 |  | A | Repair of facial nerve | 15.15 | NA | 9.97 | 1.64 | NA | 26.76 | 090
64866 |  | A | Fusion of facial/other nerve | 15.65 | NA | 9.82 | 1.27 | NA | 26.74 | 090
64868 |  | A | Fusion of facial/other nerve | 13.96 | NA | 8.97 | 1.68 | NA | 24.61 | 090
64870 |  | A | Fusion of facial/other nerve | 15.90 | NA | 8.84 | 1.29 | NA | 26.03 | 090
64872 |  | A | Subsequent repair of nerve | 1.98 | NA | 1.09 | 0.29 | NA | 3.36 | ZZZ
64874 |  | A | Repair & revise nerve add-on | 2.96 | NA | 1.55 | 0.41 | NA | 4.92 | ZZZ
64876 |  | A | Repair nerve/shorten bone | 3.36 | NA | 1.30 | 0.47 | NA | 5.13 | ZZZ
64885 |  | A | Nerve graft, head or neck | 17.43 | NA | 11.04 | 1.81 | NA | 30.28 | 090
64886 |  | A | Nerve graft, head or neck | 20.63 | NA | 12.89 | 2.07 | NA | 35.59 | 090
64890 |  | A | Nerve graft, hand or foot | 15.06 | NA | 10.09 | 2.09 | NA | 27.24 | 090
64891 |  | A | Nerve graft, hand or foot | 16.05 | NA | 7.74 | 1.65 | NA | 25.44 | 090
64892 |  | A | Nerve graft, arm or leg | 14.57 | NA | 8.97 | 1.98 | NA | 25.52 | 090
64893 |  | A | Nerve graft, arm or leg | 15.51 | NA | 9.99 | 2.12 | NA | 27.62 | 090
64895 |  | A | Nerve graft, hand or foot | 19.14 | NA | 9.76 | 2.45 | NA | 31.35 | 090
64896 |  | A | Nerve graft, hand or foot | 20.37 | NA | 11.15 | 2.22 | NA | 33.74 | 090
64897 |  | A | Nerve graft, arm or leg | 18.14 | NA | 10.82 | 3.16 | NA | 32.12 | 090
64898 |  | A | Nerve graft, arm or leg | 19.39 | NA | 11.95 | 3.25 | NA | 34.59 | 090
64901 |  | A | Nerve graft add-on | 10.16 | NA | 5.34 | 1.19 | NA | 16.69 | ZZZ
64902 |  | A | Nerve graft add-on | 11.76 | NA | 6.05 | 1.32 | NA | 19.13 | ZZZ
64905 |  | A | Nerve pedicle transfer | 13.94 | NA | 8.65 | 1.82 | NA | 24.41 | 090
64907 |  | A | Nerve pedicle transfer | 18.72 | NA | 12.62 | 2.15 | NA | 33.49 | 090
64999 |  | C | Nervous system surgery | 0.00 | 0.00 | 0.00 | 0.00 | 0.00 | 0.00 | YYY
65091 |  | A | Revise eye | 6.42 | NA | 9.83 | 0.31 | NA | 16.56 | 090
65093 |  | A | Revise eye with implant | 6.83 | NA | 10.19 | 0.34 | NA | 17.36 | 090
65101 |  | A | Removal of eye | 6.99 | NA | 10.77 | 0.34 | NA | 18.10 | 090
65103 |  | A | Remove eye/insert implant | 7.53 | NA | 10.98 | 0.36 | NA | 18.87 | 090
65105 |  | A | Remove eye/attach implant | 8.44 | NA | 11.64 | 0.41 | NA | 20.49 | 090
65110 |  | A | Removal of eye | 13.87 | NA | 14.77 | 0.82 | NA | 29.46 | 090
65112 |  | A | Remove eye/revise socket | 16.29 | NA | 17.06 | 1.15 | NA | 34.50 | 090
65114 |  | A | Remove eye/revise socket | 17.43 | NA | 17.28 | 1.13 | NA | 35.84 | 090
65125 |  | A | Revise ocular implant | 3.10 | 9.32 | 3.00 | 0.18 | 12.60 | 6.28 | 090
65130 |  | A | Insert ocular implant | 7.11 | NA | 10.36 | 0.34 | NA | 17.81 | 090
65135 |  | A | Insert ocular implant | 7.29 | NA | 10.53 | 0.35 | NA | 18.17 | 090
65140 |  | A | Attach ocular implant | 7.97 | NA | 10.99 | 0.37 | NA | 19.33 | 090
65150 |  | A | Revise ocular implant | 6.22 | NA | 9.38 | 0.30 | NA | 15.90 | 090
65155 |  | A | Reinsert ocular implant | 8.61 | NA | 11.72 | 0.48 | NA | 20.81 | 090
65175 |  | A | Removal of ocular implant | 6.24 | NA | 9.75 | 0.31 | NA | 16.30 | 090
65205 |  | A | Remove foreign body from eye | 0.71 | 0.61 | 0.19 | 0.04 | 1.36 | 0.94 | 000
65210 |  | A | Remove foreign body from eye | 0.84 | 0.74 | 0.30 | 0.04 | 1.62 | 1.18 | 000
65220 |  | A | Remove foreign body from eye | 0.71 | 0.61 | 0.18 | 0.06 | 1.38 | 0.95 | 000
65222 |  | A | Remove foreign body from eye | 0.92 | 0.76 | 0.27 | 0.05 | 1.73 | 1.24 | 000
65235 |  | A | Remove foreign body from eye | 7.53 | NA | 7.34 | 0.36 | NA | 15.23 | 090
65260 |  | A | Remove foreign body from eye | 10.90 | NA | 11.54 | 0.52 | NA | 22.96 | 090
65265 |  | A | Remove foreign body from eye | 12.52 | NA | 12.78 | 0.60 | NA | 25.90 | 090
65270 |  | A | Repair of eye wound | 1.89 | 3.86 | 2.27 | 0.10 | 5.85 | 4.26 | 010
65272 |  | A | Repair of eye wound | 3.80 | 5.85 | 5.27 | 0.19 | 9.84 | 9.26 | 090
65273 |  | A | Repair of eye wound | 4.34 | NA | 5.70 | 0.20 | NA | 10.24 | 090
65275 |  | A | Repair of eye wound | 5.31 | 5.74 | 5.74 | 0.32 | 11.37 | 11.37 | 090
65280 |  | A | Repair of eye wound | 7.62 | NA | 8.26 | 0.36 | NA | 16.24 | 090
65285 |  | A | Repair of eye wound | 12.83 | NA | 12.51 | 0.61 | NA | 25.95 | 090
65286 |  | A | Repair of eye wound | 5.48 | 8.51 | 7.60 | 0.25 | 14.24 | 13.33 | 090
65290 |  | A | Repair of eye socket wound | 5.38 | NA | 6.55 | 0.31 | NA | 12.24 | 090
65400 |  | A | Removal of eye lesion | 6.03 | 8.72 | 7.55 | 0.29 | 15.04 | 13.87 | 090
65410 |  | A | Biopsy of cornea | 1.46 | 1.73 | 0.65 | 0.07 | 3.26 | 2.18 | 000
65420 |  | A | Removal of eye lesion | 4.15 | 7.60 | 6.80 | 0.20 | 11.95 | 11.15 | 090
65426 |  | A | Removal of eye lesion | 5.22 | 7.56 | 6.61 | 0.24 | 13.02 | 12.07 | 090
65430 |  | A | Corneal smear | 1.46 | 5.00 | 0.66 | 0.07 | 6.53 | 2.19 | 000
65435 |  | A | Curette/treat cornea | 0.91 | 1.34 | 0.40 | 0.05 | 2.30 | 1.36 | 000
65436 |  | A | Curette/treat cornea | 4.17 | 5.91 | 5.28 | 0.20 | 10.28 | 9.65 | 090
65450 |  | A | Treatment of corneal lesion | 3.25 | 7.27 | 6.39 | 0.16 | 10.68 | 9.80 | 090
65600 |  | A | Revision of cornea | 3.38 | 5.70 | 3.15 | 0.17 | 9.25 | 6.70 | 090
65710 |  | A | Corneal transplant | 12.28 | NA | 12.46 | 0.59 | NA | 25.33 | 090
65730 |  | A | Corneal transplant | 14.17 | NA | 11.98 | 0.67 | NA | 26.82 | 090
65750 |  | A | Corneal transplant | 14.91 | NA | 13.49 | 0.71 | NA | 29.11 | 090
65755 |  | A | Corneal transplant | 14.81 | NA | 13.41 | 0.70 | NA | 28.92 | 090
65760 |  | N | Revision of cornea | 0.00 | 0.00 | 0.00 | 0.00 | 0.00 | 0.00 | XXX
65765 |  | N | Revision of cornea | 0.00 | 0.00 | 0.00 | 0.00 | 0.00 | 0.00 | XXX
65767 |  | N | Corneal tissue transplant | 0.00 | 0.00 | 0.00 | 0.00 | 0.00 | 0.00 | XXX
65770 |  | A | Revise cornea with implant | 17.46 | NA | 14.47 | 0.83 | NA | 32.76 | 090
65771 |  | N | Radial keratotomy | 0.00 | 0.00 | 0.00 | 0.00 | 0.00 | 0.00 | XXX
65772 |  | A | Correction of astigmatism | 4.27 | 7.23 | 6.53 | 0.20 | 11.70 | 11.00 | 090
65775 |  | A | Correction of astigmatism | 5.76 | NA | 7.43 | 0.26 | NA | 13.45 | 090
65780 |  | A | Ocular reconst, transplant | 10.19 | NA | 10.04 | 0.35 | NA | 20.58 | 090
65781 |  | A | Ocular reconst, transplant | 17.57 | NA | 13.45 | 0.35 | NA | 31.37 | 090
65782 |  | A | Ocular reconst, transplant | 14.91 | NA | 11.79 | 0.35 | NA | 27.05 | 090
65800 |  | A | Drainage of eye | 1.90 | 2.29 | 1.19 | 0.10 | 4.29 | 3.19 | 000
65805 |  | A | Drainage of eye | 1.90 | 2.29 | 1.19 | 0.10 | 4.29 | 3.19 | 000
65810 |  | A | Drainage of eye | 4.84 | NA | 8.13 | 0.23 | NA | 13.20 | 090
65815 |  | A | Drainage of eye | 5.02 | 8.46 | 7.56 | 0.24 | 13.72 | 12.82 | 090
65820 |  | A | Relieve inner eye pressure | 8.08 | NA | 10.75 | 0.38 | NA | 19.21 | 090
65850 |  | A | Incision of eye | 10.46 | NA | 9.49 | 0.49 | NA | 20.44 | 090
65855 |  | A | Laser surgery of eye | 3.83 | 5.26 | 4.09 | 0.20 | 9.29 | 8.12 | 010
65860 |  | A | Incise inner eye adhesions | 3.53 | 3.94 | 3.28 | 0.17 | 7.64 | 6.98 | 090
65865 |  | A | Incise inner eye adhesions | 5.57 | NA | 6.56 | 0.26 | NA | 12.39 | 090
65870 |  | A | Incise inner eye adhesions | 6.23 | NA | 7.21 | 0.29 | NA | 13.73 | 090
65875 |  | A | Incise inner eye adhesions | 6.50 | NA | 7.52 | 0.30 | NA | 14.32 | 090
65880 |  | A | Incise inner eye adhesions | 7.05 | NA | 7.76 | 0.34 | NA | 15.15 | 090
65900 |  | A | Remove eye lesion | 10.87 | NA | 11.60 | 0.55 | NA | 23.02 | 090
65920 |  | A | Remove implant of eye | 8.35 | NA | 8.80 | 0.40 | NA | 17.55 | 090
65930 |  | A | Remove blood clot from eye | 7.40 | NA | 7.82 | 0.35 | NA | 15.57 | 090
66020 |  | A | Injection treatment of eye | 1.58 | 2.40 | 1.60 | 0.08 | 4.06 | 3.26 | 010
66030 |  | A | Injection treatment of eye | 1.24 | 2.23 | 1.44 | 0.06 | 3.53 | 2.74 | 010
66130 |  | A | Remove eye lesion | 7.65 | 7.56 | 6.99 | 0.37 | 15.58 | 15.01 | 090
66150 |  | A | Glaucoma surgery | 8.25 | NA | 9.94 | 0.40 | NA | 18.59 | 090
66155 |  | A | Glaucoma surgery | 8.24 | NA | 9.91 | 0.38 | NA | 18.53 | 090
66160 |  | A | Glaucoma surgery | 10.11 | NA | 10.77 | 0.49 | NA | 21.37 | 090
66165 |  | A | Glaucoma surgery | 7.96 | NA | 9.79 | 0.37 | NA | 18.12 | 090
66170 |  | A | Glaucoma surgery | 12.09 | NA | 12.56 | 0.58 | NA | 25.23 | 090
66172 |  | A | Incision of eye | 14.95 | NA | 15.26 | 0.71 | NA | 30.92 | 090
66180 |  | A | Implant eye shunt | 14.47 | NA | 11.67 | 0.68 | NA | 26.82 | 090
66185 |  | A | Revise eye shunt | 8.09 | NA | 8.28 | 0.38 | NA | 16.75 | 090
66220 |  | A | Repair eye lesion | 7.73 | NA | 8.83 | 0.38 | NA | 16.94 | 090
66225 |  | A | Repair/graft eye lesion | 10.99 | NA | 9.42 | 0.53 | NA | 20.94 | 090
66250 |  | A | Follow-up surgery of eye | 5.95 | 7.74 | 6.57 | 0.28 | 13.97 | 12.80 | 090
66500 |  | A | Incision of iris | 3.69 | NA | 5.15 | 0.18 | NA | 9.02 | 090
66505 |  | A | Incision of iris | 4.06 | NA | 5.44 | 0.20 | NA | 9.70 | 090
66600 |  | A | Remove iris and lesion | 8.63 | NA | 8.99 | 0.41 | NA | 18.03 | 090
66605 |  | A | Removal of iris | 12.72 | NA | 11.37 | 0.73 | NA | 24.82 | 090
66625 |  | A | Removal of iris | 5.10 | 7.09 | 6.35 | 0.24 | 12.43 | 11.69 | 090
66630 |  | A | Removal of iris | 6.12 | NA | 7.50 | 0.29 | NA | 13.91 | 090
66635 |  | A | Removal of iris | 6.21 | NA | 6.71 | 0.29 | NA | 13.21 | 090
66680 |  | A | Repair iris & ciliary body | 5.41 | NA | 6.10 | 0.25 | NA | 11.76 | 090
66682 |  | A | Repair iris & ciliary body | 6.17 | NA | 7.50 | 0.29 | NA | 13.96 | 090
66700 |  | A | Destruction, ciliary body | 4.75 | 5.40 | 4.09 | 0.23 | 10.38 | 9.07 | 090
66710 |  | A | Destruction, ciliary body | 4.75 | 5.27 | 3.88 | 0.22 | 10.24 | 8.85 | 090
66720 |  | A | Destruction, ciliary body | 4.75 | 5.76 | 4.64 | 0.23 | 10.74 | 9.62 | 090
66740 |  | A | Destruction, ciliary body | 4.75 | 5.43 | 4.26 | 0.22 | 10.40 | 9.23 | 090
66761 |  | A | Revision of iris | 4.05 | 5.61 | 4.28 | 0.19 | 9.85 | 8.52 | 090
66762 |  | A | Revision of iris | 4.55 | 5.69 | 4.27 | 0.22 | 10.46 | 9.04 | 090
66770 |  | A | Removal of inner eye lesion | 5.15 | 6.11 | 4.77 | 0.24 | 11.50 | 10.16 | 090
66820 |  | A | Incision, secondary cataract | 3.87 | NA | 7.18 | 0.19 | NA | 11.24 | 090
66821 |  | A | After cataract laser surgery | 2.34 | 4.01 | 3.92 | 0.12 | 6.47 | 6.38 | 090
66825 |  | A | Reposition intraocular lens | 8.18 | NA | 10.18 | 0.38 | NA | 18.74 | 090
66830 |  | A | Removal of lens lesion | 8.15 | NA | 7.15 | 0.38 | NA | 15.68 | 090
66840 |  | A | Removal of lens material | 7.86 | NA | 7.07 | 0.37 | NA | 15.30 | 090
66850 |  | A | Removal of lens material | 9.06 | NA | 7.83 | 0.43 | NA | 17.32 | 090
66852 |  | A | Removal of lens material | 9.91 | NA | 8.29 | 0.47 | NA | 18.67 | 090
66920 |  | A | Extraction of lens | 8.81 | NA | 7.51 | 0.42 | NA | 16.74 | 090
66930 |  | A | Extraction of lens | 10.12 | NA | 8.64 | 0.49 | NA | 19.25 | 090
66940 |  | A | Extraction of lens | 8.88 | NA | 8.10 | 0.42 | NA | 17.40 | 090
66982 |  | A | Cataract surgery, complex | 13.42 | NA | 10.02 | 0.67 | NA | 24.11 | 090
66983 |  | A | Cataract surg w/iol, 1 stage | 8.94 | NA | 6.27 | 0.44 | NA | 15.65 | 090
66984 |  | A | Cataract surg w/iol, 1 stage | 10.17 | NA | 7.70 | 0.49 | NA | 18.36 | 090
66985 |  | A | Insert lens prosthesis | 8.34 | NA | 7.54 | 0.40 | NA | 16.28 | 090
66986 |  | A | Exchange lens prosthesis | 12.21 | NA | 9.31 | 0.59 | NA | 22.11 | 090
66990 |  | A | Ophthalmic endoscope add-on | 1.50 | NA | 0.69 | 0.07 | NA | 2.26 | ZZZ
66999 |  | C | Eye surgery procedure | 0.00 | 0.00 | 0.00 | 0.00 | 0.00 | 0.00 | YYY
67005 |  | A | Partial removal of eye fluid | 5.67 | NA | 4.43 | 0.26 | NA | 10.36 | 090
67010 |  | A | Partial removal of eye fluid | 6.83 | NA | 4.98 | 0.32 | NA | 12.13 | 090
67015 |  | A | Release of eye fluid | 6.88 | NA | 7.81 | 0.32 | NA | 15.01 | 090
67025 |  | A | Replace eye fluid | 6.80 | 14.38 | 7.58 | 0.32 | 21.50 | 14.70 | 090
67027 |  | A | Implant eye drug system | 10.79 | 12.91 | 8.89 | 0.55 | 24.25 | 20.23 | 090
67028 |  | A | Injection eye drug | 2.51 | 6.57 | 1.15 | 0.13 | 9.21 | 3.79 | 000
67030 |  | A | Incise inner eye strands | 4.81 | NA | 6.88 | 0.23 | NA | 11.92 | 090
67031 |  | A | Laser surgery, eye strands | 3.65 | 4.78 | 4.13 | 0.18 | 8.61 | 7.96 | 090
67036 |  | A | Removal of inner eye fluid | 11.82 | NA | 9.45 | 0.56 | NA | 21.83 | 090
67038 |  | A | Strip retinal membrane | 21.12 | NA | 16.00 | 1.01 | NA | 38.13 | 090
67039 |  | A | Laser treatment of retina | 14.44 | NA | 12.67 | 0.68 | NA | 27.79 | 090
67040 |  | A | Laser treatment of retina | 17.13 | NA | 14.17 | 0.82 | NA | 32.12 | 090
67101 |  | A | Repair detached retina | 7.49 | 9.95 | 8.20 | 0.35 | 17.79 | 16.04 | 090
67105 |  | A | Repair detached retina | 7.37 | 8.08 | 6.30 | 0.35 | 15.80 | 14.02 | 090
67107 |  | A | Repair detached retina | 14.76 | NA | 12.95 | 0.70 | NA | 28.41 | 090
67108 |  | A | Repair detached retina | 20.70 | NA | 17.21 | 0.98 | NA | 38.89 | 090
67110 |  | A | Repair detached retina | 8.76 | 15.54 | 9.33 | 0.42 | 24.72 | 18.51 | 090
67112 |  | A | Rerepair detached retina | 16.76 | NA | 14.76 | 0.79 | NA | 32.31 | 090
67115 |  | A | Release encircling material | 4.96 | NA | 7.16 | 0.23 | NA | 12.35 | 090
67120 |  | A | Remove eye implant material | 5.95 | 12.43 | 7.01 | 0.28 | 18.66 | 13.24 | 090
67121 |  | A | Remove eye implant material | 10.61 | NA | 11.28 | 0.50 | NA | 22.39 | 090
67141 |  | A | Treatment of retina | 5.17 | 7.32 | 6.56 | 0.24 | 12.73 | 11.97 | 090
67145 |  | A | Treatment of retina | 5.34 | 5.81 | 4.99 | 0.25 | 11.40 | 10.58 | 090
67208 |  | A | Treatment of retinal lesion | 6.66 | 6.01 | 5.44 | 0.31 | 12.98 | 12.41 | 090
67210 |  | A | Treatment of retinal lesion | 8.77 | 6.31 | 5.85 | 0.42 | 15.50 | 15.04 | 090
67218 |  | A | Treatment of retinal lesion | 18.42 | NA | 14.28 | 0.64 | NA | 33.34 | 090
67220 |  | A | Treatment of choroid lesion | 13.06 | 9.93 | 8.93 | 0.61 | 23.60 | 22.60 | 090
67221 |  | R | Ocular photodynamic ther | 3.99 | 4.74 | 1.83 | 0.19 | 8.92 | 6.01 | 000
67225 |  | A | Eye photodynamic ther add-on | 0.47 | 0.26 | 0.22 | 0.01 | 0.74 | 0.70 | ZZZ
67227 |  | A | Treatment of retinal lesion | 6.54 | 6.45 | 5.44 | 0.31 | 13.30 | 12.29 | 090
67228 |  | A | Treatment of retinal lesion | 12.67 | 10.94 | 8.50 | 0.60 | 24.21 | 21.77 | 090
67250 |  | A | Reinforce eye wall | 8.61 | NA | 10.48 | 0.43 | NA | 19.52 | 090
67255 |  | A | Reinforce/graft eye wall | 8.85 | NA | 11.07 | 0.42 | NA | 20.34 | 090
67299 |  | C | Eye surgery procedure | 0.00 | 0.00 | 0.00 | 0.00 | 0.00 | 0.00 | YYY
67311 |  | A | Revise eye muscle | 6.61 | NA | 6.49 | 0.32 | NA | 13.42 | 090
67312 |  | A | Revise two eye muscles | 8.49 | NA | 7.63 | 0.42 | NA | 16.54 | 090
67314 |  | A | Revise eye muscle | 7.48 | NA | 7.34 | 0.36 | NA | 15.18 | 090
67316 |  | A | Revise two eye muscles | 9.60 | NA | 8.31 | 0.48 | NA | 18.39 | 090
67318 |  | A | Revise eye muscle(s) | 7.81 | NA | 7.72 | 0.37 | NA | 15.90 | 090
67320 |  | A | Revise eye muscle(s) add-on | 4.31 | NA | 1.98 | 0.20 | NA | 6.49 | ZZZ
67331 |  | A | Eye surgery follow-up add-on | 4.04 | NA | 1.93 | 0.20 | NA | 6.17 | ZZZ
67332 |  | A | Rerevise eye muscles add-on | 4.46 | NA | 2.05 | 0.22 | NA | 6.73 | ZZZ
67334 |  | A | Revise eye muscle w/suture | 3.96 | NA | 1.82 | 0.19 | NA | 5.97 | ZZZ
67335 |  | A | Eye suture during surgery | 2.48 | NA | 1.14 | 0.12 | NA | 3.74 | ZZZ
67340 |  | A | Revise eye muscle add-on | 4.90 | NA | 2.25 | 0.23 | NA | 7.38 | ZZZ
67343 |  | A | Release eye tissue | 7.31 | NA | 7.41 | 0.36 | NA | 15.08 | 090
67345 |  | A | Destroy nerve of eye muscle | 2.94 | 4.42 | 1.39 | 0.16 | 7.52 | 4.49 | 010
67350 |  | A | Biopsy eye muscle | 2.85 | NA | 1.89 | 0.16 | NA | 4.90 | 000
67399 |  | C | Eye muscle surgery procedure | 0.00 | 0.00 | 0.00 | 0.00 | 0.00 | 0.00 | YYY
67400 |  | A | Explore/biopsy eye socket | 9.70 | NA | 12.64 | 0.52 | NA | 22.86 | 090
67405 |  | A | Explore/drain eye socket | 7.88 | NA | 11.21 | 0.43 | NA | 19.52 | 090
67412 |  | A | Explore/treat eye socket | 9.45 | NA | 13.10 | 0.49 | NA | 23.04 | 090
67413 |  | A | Explore/treat eye socket | 9.94 | NA | 12.26 | 0.52 | NA | 22.72 | 090
67414 |  | A | Explr/decompress eye socket | 11.07 | NA | 14.17 | 0.58 | NA | 25.82 | 090
67415 |  | A | Aspiration, orbital contents | 1.75 | NA | 0.77 | 0.11 | NA | 2.63 | 000
67420 |  | A | Explore/treat eye socket | 19.95 | NA | 18.96 | 1.01 | NA | 39.92 | 090
67430 |  | A | Explore/treat eye socket | 13.31 | NA | 16.04 | 1.16 | NA | 30.51 | 090
67440 |  | A | Explore/drain eye socket | 13.02 | NA | 15.64 | 0.70 | NA | 29.36 | 090
67445 |  | A | Explr/decompress eye socket | 14.34 | NA | 15.84 | 0.76 | NA | 30.94 | 090
67450 |  | A | Explore/biopsy eye socket | 13.43 | NA | 15.99 | 0.67 | NA | 30.09 | 090
67500 |  | A | Inject/treat eye socket | 0.79 | 0.83 | 0.19 | 0.05 | 1.67 | 1.03 | 000
67505 |  | A | Inject/treat eye socket | 0.82 | 0.92 | 0.21 | 0.05 | 1.79 | 1.08 | 000
67515 |  | A | Inject/treat eye socket | 0.61 | 0.83 | 0.28 | 0.02 | 1.46 | 0.91 | 000
67550 |  | A | Insert eye socket implant | 10.13 | NA | 12.40 | 0.60 | NA | 23.13 | 090
67560 |  | A | Revise eye socket implant | 10.54 | NA | 12.43 | 0.56 | NA | 23.53 | 090
67570 |  | A | Decompress optic nerve | 13.50 | NA | 15.38 | 0.83 | NA | 29.71 | 090
67599 |  | C | Orbit surgery procedure | 0.00 | 0.00 | 0.00 | 0.00 | 0.00 | 0.00 | YYY
67700 |  | A | Drainage of eyelid abscess | 1.34 | 4.88 | 0.64 | 0.07 | 6.29 | 2.05 | 010
67710 |  | A | Incision of eyelid | 1.01 | 5.04 | 0.54 | 0.05 | 6.10 | 1.60 | 010
67715 |  | A | Incision of eyelid fold | 1.21 | 4.62 | 0.63 | 0.06 | 5.89 | 1.90 | 010
67800 |  | A | Remove eyelid lesion | 1.37 | 2.52 | 0.69 | 0.07 | 3.96 | 2.13 | 010
67801 |  | A | Remove eyelid lesions | 1.87 | 5.40 | 0.93 | 0.10 | 7.37 | 2.90 | 010
67805 |  | A | Remove eyelid lesions | 2.21 | 5.55 | 1.08 | 0.11 | 7.87 | 3.40 | 010
67808 |  | A | Remove eyelid lesion(s) | 3.78 | NA | 5.29 | 0.20 | NA | 9.27 | 090
67810 |  | A | Biopsy of eyelid | 1.47 | 3.69 | 0.68 | 0.07 | 5.23 | 2.22 | 000
67820 |  | A | Revise eyelashes | 0.88 | 1.12 | 0.38 | 0.05 | 2.05 | 1.31 | 000
67825 |  | A | Revise eyelashes | 1.37 | 1.60 | 1.08 | 0.07 | 3.04 | 2.52 | 010
67830 |  | A | Revise eyelashes | 1.69 | 7.55 | 1.97 | 0.08 | 9.32 | 3.74 | 010
67835 |  | A | Revise eyelashes | 5.53 | NA | 5.05 | 0.26 | NA | 10.84 | 090
67840 |  | A | Remove eyelid lesion | 2.03 | 5.38 | 1.00 | 0.10 | 7.51 | 3.13 | 010
67850 |  | A | Treat eyelid lesion | 1.68 | 6.12 | 1.92 | 0.08 | 7.88 | 3.68 | 010
67875 |  | A | Closure of eyelid by suture | 1.34 | 7.11 | 0.63 | 0.07 | 8.52 | 2.04 | 000
67880 |  | A | Revision of eyelid | 3.78 | 9.75 | 4.35 | 0.19 | 13.72 | 8.32 | 090
67882 |  | A | Revision of eyelid | 5.04 | 11.13 | 5.56 | 0.25 | 16.42 | 10.85 | 090
67900 |  | A | Repair brow defect | 6.11 | 10.63 | 6.38 | 0.36 | 17.10 | 12.85 | 090
67901 |  | A | Repair eyelid defect | 6.93 | NA | 6.47 | 0.38 | NA | 13.78 | 090
67902 |  | A | Repair eyelid defect | 6.99 | NA | 6.54 | 0.41 | NA | 13.94 | 090
67903 |  | A | Repair eyelid defect | 6.33 | 11.39 | 6.76 | 0.47 | 18.19 | 13.56 | 090
67904 |  | A | Repair eyelid defect | 6.22 | 12.61 | 7.24 | 0.31 | 19.14 | 13.77 | 090
67906 |  | A | Repair eyelid defect | 6.75 | 9.20 | 6.07 | 0.50 | 16.45 | 13.32 | 090
67908 |  | A | Repair eyelid defect | 5.10 | 8.93 | 5.74 | 0.24 | 14.27 | 11.08 | 090
67909 |  | A | Revise eyelid defect | 5.37 | 9.47 | 6.14 | 0.30 | 15.14 | 11.81 | 090
67911 |  | A | Revise eyelid defect | 5.24 | NA | 6.10 | 0.28 | NA | 11.62 | 090
67912 |  | A | Correction eyelid w/ implant | 5.65 | 20.59 | 5.33 | 0.28 | 26.52 | 11.26 | 090
67914 |  | A | Repair eyelid defect | 3.66 | 9.40 | 3.99 | 0.19 | 13.25 | 7.84 | 090
67915 |  | A | Repair eyelid defect | 3.16 | 7.99 | 2.61 | 0.16 | 11.31 | 5.93 | 090
67916 |  | A | Repair eyelid defect | 5.28 | 11.90 | 5.75 | 0.26 | 17.44 | 11.29 | 090
67917 |  | A | Repair eyelid defect | 5.99 | 9.81 | 6.21 | 0.30 | 16.10 | 12.50 | 090
67921 |  | A | Repair eyelid defect | 3.38 | 9.20 | 3.79 | 0.17 | 12.75 | 7.34 | 090
67922 |  | A | Repair eyelid defect | 3.04 | 7.94 | 3.52 | 0.16 | 11.14 | 6.72 | 090
67923 |  | A | Repair eyelid defect | 5.85 | 11.47 | 5.96 | 0.29 | 17.61 | 12.10 | 090
67924 |  | A | Repair eyelid defect | 5.76 | 9.20 | 5.72 | 0.28 | 15.24 | 11.76 | 090
67930 |  | A | Repair eyelid wound | 3.59 | 8.48 | 2.98 | 0.20 | 12.27 | 6.77 | 010
67935 |  | A | Repair eyelid wound | 6.18 | 11.48 | 6.01 | 0.35 | 18.01 | 12.54 | 090
67938 |  | A | Remove eyelid foreign body | 1.32 | 5.87 | 0.57 | 0.07 | 7.26 | 1.96 | 010
67950 |  | A | Revision of eyelid | 5.79 | 8.34 | 6.64 | 0.36 | 14.49 | 12.79 | 090
67961 |  | A | Revision of eyelid | 5.66 | 10.27 | 5.76 | 0.31 | 16.24 | 11.73 | 090
67966 |  | A | Revision of eyelid | 6.53 | 8.42 | 5.73 | 0.40 | 15.35 | 12.66 | 090
67971 |  | A | Reconstruction of eyelid | 9.73 | NA | 7.34 | 0.50 | NA | 17.57 | 090
67973 |  | A | Reconstruction of eyelid | 12.80 | NA | 9.33 | 0.71 | NA | 22.84 | 090
67974 |  | A | Reconstruction of eyelid | 12.77 | NA | 9.24 | 0.65 | NA | 22.66 | 090
67975 |  | A | Reconstruction of eyelid | 9.08 | NA | 7.02 | 0.46 | NA | 16.56 | 090
67999 |  | C | Revision of eyelid | 0.00 | 0.00 | 0.00 | 0.00 | 0.00 | 0.00 | YYY
68020 |  | A | Incise/drain eyelid lining | 1.36 | 5.75 | 0.68 | 0.07 | 7.18 | 2.11 | 010
68040 |  | A | Treatment of eyelid lesions | 0.85 | 4.86 | 0.39 | 0.04 | 5.75 | 1.28 | 000
68100 |  | A | Biopsy of eyelid lining | 1.34 | 5.07 | 0.62 | 0.07 | 6.48 | 2.03 | 000
68110 |  | A | Remove eyelid lining lesion | 1.76 | 6.12 | 1.42 | 0.08 | 7.96 | 3.26 | 010
68115 |  | A | Remove eyelid lining lesion | 2.35 | 5.62 | 1.14 | 0.12 | 8.09 | 3.61 | 010
68130 |  | A | Remove eyelid lining lesion | 4.90 | 8.20 | 4.33 | 0.23 | 13.33 | 9.46 | 090
68135 |  | A | Remove eyelid lining lesion | 1.83 | 5.38 | 0.91 | 0.08 | 7.29 | 2.82 | 010
68200 |  | A | Treat eyelid by injection | 0.49 | 0.73 | 0.23 | 0.02 | 1.24 | 0.74 | 000
68320 |  | A | Revise/graft eyelid lining | 5.34 | 6.63 | 5.47 | 0.25 | 12.22 | 11.06 | 090
68325 |  | A | Revise/graft eyelid lining | 7.32 | NA | 6.46 | 0.36 | NA | 14.14 | 090
68326 |  | A | Revise/graft eyelid lining | 7.11 | NA | 6.34 | 0.36 | NA | 13.81 | 090
68328 |  | A | Revise/graft eyelid lining | 8.13 | NA | 7.08 | 0.48 | NA | 15.69 | 090
68330 |  | A | Revise eyelid lining | 4.80 | 7.32 | 6.11 | 0.23 | 12.35 | 11.14 | 090
68335 |  | A | Revise/graft eyelid lining | 7.15 | NA | 6.87 | 0.35 | NA | 14.37 | 090
68340 |  | A | Separate eyelid adhesions | 4.15 | 10.91 | 4.79 | 0.20 | 15.26 | 9.14 | 090
68360 |  | A | Revise eyelid lining | 4.35 | 6.68 | 5.64 | 0.20 | 11.23 | 10.19 | 090
68362 |  | A | Revise eyelid lining | 7.30 | NA | 7.80 | 0.35 | NA | 15.45 | 090
68371 |  | A | Harvest eye tissue, alograft | 4.87 | NA | 4.66 | 0.20 | NA | 9.73 | 010
68399 |  | C | Eyelid lining surgery | 0.00 | 0.00 | 0.00 | 0.00 | 0.00 | 0.00 | YYY
68400 |  | A | Incise/drain tear gland | 1.68 | 7.69 | 2.06 | 0.08 | 9.45 | 3.82 | 010
68420 |  | A | Incise/drain tear sac | 2.29 | 8.01 | 2.35 | 0.12 | 10.42 | 4.76 | 010
68440 |  | A | Incise tear duct opening | 0.93 | 4.99 | 0.50 | 0.05 | 5.97 | 1.48 | 010
68500 |  | A | Removal of tear gland | 10.96 | NA | 10.27 | 0.72 | NA | 21.95 | 090
68505 |  | A | Partial removal, tear gland | 10.88 | NA | 11.28 | 0.68 | NA | 22.84 | 090
68510 |  | A | Biopsy of tear gland | 4.58 | 8.50 | 2.11 | 0.23 | 13.31 | 6.92 | 000
68520 |  | A | Removal of tear sac | 7.47 | NA | 7.85 | 0.40 | NA | 15.72 | 090
68525 |  | A | Biopsy of tear sac | 4.40 | NA | 2.04 | 0.22 | NA | 6.66 | 000
68530 |  | A | Clearance of tear duct | 3.64 | 9.55 | 2.88 | 0.19 | 13.38 | 6.71 | 010
68540 |  | A | Remove tear gland lesion | 10.54 | NA | 9.88 | 0.55 | NA | 20.97 | 090
68550 |  | A | Remove tear gland lesion | 13.18 | NA | 11.87 | 0.79 | NA | 25.84 | 090
68700 |  | A | Repair tear ducts | 6.56 | NA | 7.36 | 0.32 | NA | 14.24 | 090
68705 |  | A | Revise tear duct opening | 2.05 | 5.51 | 1.01 | 0.10 | 7.66 | 3.16 | 010
68720 |  | A | Create tear sac drain | 8.91 | NA | 8.35 | 0.46 | NA | 17.72 | 090
68745 |  | A | Create tear duct drain | 8.58 | NA | 8.32 | 0.46 | NA | 17.36 | 090
68750 |  | A | Create tear duct drain | 8.61 | NA | 8.77 | 0.44 | NA | 17.82 | 090
68760 |  | A | Close tear duct opening | 1.72 | 4.04 | 1.25 | 0.08 | 5.84 | 3.05 | 010
68761 |  | A | Close tear duct opening | 1.35 | 3.46 | 0.99 | 0.07 | 4.88 | 2.41 | 010
68770 |  | A | Close tear system fistula | 6.98 | 12.89 | 6.85 | 0.34 | 20.21 | 14.17 | 090
68801 |  | A | Dilate tear duct opening | 0.93 | 0.94 | 0.61 | 0.05 | 1.92 | 1.59 | 010
68810 |  | A | Probe nasolacrimal duct | 1.89 | 2.34 | 0.93 | 0.10 | 4.33 | 2.92 | 010
68811 |  | A | Probe nasolacrimal duct | 2.34 | NA | 2.37 | 0.12 | NA | 4.83 | 010
68815 |  | A | Probe nasolacrimal duct | 3.18 | 8.25 | 2.71 | 0.17 | 11.60 | 6.06 | 010
68840 |  | A | Explore/irrigate tear ducts | 1.24 | 1.66 | 0.97 | 0.06 | 2.96 | 2.27 | 010
68850 |  | A | Injection for tear sac x-ray | 0.80 | 16.48 | 0.30 | 0.04 | 17.32 | 1.14 | 000
68899 |  | C | Tear duct system surgery | 0.00 | 0.00 | 0.00 | 0.00 | 0.00 | 0.00 | YYY
69000 |  | A | Drain external ear lesion | 1.44 | 3.01 | 1.43 | 0.12 | 4.57 | 2.99 | 010
69005 |  | A | Drain external ear lesion | 2.10 | 3.00 | 1.87 | 0.19 | 5.29 | 4.16 | 010
69020 |  | A | Drain outer ear canal lesion | 1.47 | 3.97 | 2.07 | 0.13 | 5.57 | 3.67 | 010
69090 |  | N | Pierce earlobes | 0.00 | 0.00 | 0.00 | 0.00 | 0.00 | 0.00 | XXX
69100 |  | A | Biopsy of external ear | 0.81 | 1.76 | 0.40 | 0.05 | 2.62 | 1.26 | 000
69105 |  | A | Biopsy of external ear canal | 0.85 | 2.33 | 0.77 | 0.07 | 3.25 | 1.69 | 000
69110 |  | A | Remove external ear, partial | 3.42 | 4.11 | 3.06 | 0.29 | 7.82 | 6.77 | 090
69120 |  | A | Removal of external ear | 4.03 | NA | 4.01 | 0.37 | NA | 8.41 | 090
69140 |  | A | Remove ear canal lesion(s) | 7.92 | NA | 6.76 | 0.67 | NA | 15.35 | 090
69145 |  | A | Remove ear canal lesion(s) | 2.61 | 3.61 | 2.62 | 0.22 | 6.44 | 5.45 | 090
69150 |  | A | Extensive ear canal surgery | 13.35 | NA | 10.00 | 1.28 | NA | 24.63 | 090
69155 |  | A | Extensive ear/neck surgery | 20.68 | NA | 14.62 | 1.81 | NA | 37.11 | 090
69200 |  | A | Clear outer ear canal | 0.77 | 2.36 | 0.60 | 0.06 | 3.19 | 1.43 | 000
69205 |  | A | Clear outer ear canal | 1.19 | NA | 1.37 | 0.11 | NA | 2.67 | 010
69210 |  | A | Remove impacted ear wax | 0.61 | 0.64 | 0.24 | 0.05 | 1.30 | 0.90 | 000
69220 |  | A | Clean out mastoid cavity | 0.83 | 2.34 | 0.74 | 0.07 | 3.24 | 1.64 | 000
69222 |  | A | Clean out mastoid cavity | 1.39 | 3.82 | 2.05 | 0.12 | 5.33 | 3.56 | 010
69300 |  | R | Revise external ear | 6.32 | NA | 4.28 | 0.52 | NA | 11.12 | YYY
69310 |  | A | Rebuild outer ear canal | 10.73 | NA | 8.46 | 0.92 | NA | 20.11 | 090
69320 |  | A | Rebuild outer ear canal | 16.86 | NA | 12.23 | 1.40 | NA | 30.49 | 090
69399 |  | C | Outer ear surgery procedure | 0.00 | 0.00 | 0.00 | 0.00 | 0.00 | 0.00 | YYY
69400 |  | A | Inflate middle ear canal | 0.83 | 2.36 | 0.68 | 0.07 | 3.26 | 1.58 | 000
69401 |  | A | Inflate middle ear canal | 0.63 | 1.31 | 0.65 | 0.05 | 1.99 | 1.33 | 000
69405 |  | A | Catheterize middle ear canal | 2.62 | 3.52 | 2.31 | 0.22 | 6.36 | 5.15 | 010
69410 |  | A | Inset middle ear (baffle) | 0.33 | 2.06 | 0.50 | 0.02 | 2.41 | 0.85 | 000
69420 |  | A | Incision of eardrum | 1.32 | 3.11 | 1.60 | 0.12 | 4.55 | 3.04 | 010
69421 |  | A | Incision of eardrum | 1.72 | NA | 2.11 | 0.16 | NA | 3.99 | 010
69424 |  | A | Remove ventilating tube | 0.85 | 2.16 | 0.69 | 0.07 | 3.08 | 1.61 | 000
69433 |  | A | Create eardrum opening | 1.51 | 3.13 | 1.68 | 0.13 | 4.77 | 3.32 | 010
69436 |  | A | Create eardrum opening | 1.95 | NA | 2.24 | 0.17 | NA | 4.36 | 010
69440 |  | A | Exploration of middle ear | 7.53 | NA | 6.34 | 0.64 | NA | 14.51 | 090
69450 |  | A | Eardrum revision | 5.54 | NA | 5.07 | 0.47 | NA | 11.08 | 090
69501 |  | A | Mastoidectomy | 9.02 | NA | 7.13 | 0.78 | NA | 16.93 | 090
69502 |  | A | Mastoidectomy | 12.31 | NA | 9.36 | 1.03 | NA | 22.70 | 090
69505 |  | A | Remove mastoid structures | 12.92 | NA | 9.62 | 1.10 | NA | 23.64 | 090
69511 |  | A | Extensive mastoid surgery | 13.44 | NA | 9.95 | 1.15 | NA | 24.54 | 090
69530 |  | A | Extensive mastoid surgery | 19.08 | NA | 13.14 | 1.58 | NA | 33.80 | 090
69535 |  | A | Remove part of temporal bone | 35.93 | NA | 22.59 | 3.10 | NA | 61.62 | 090
69540 |  | A | Remove ear lesion | 1.19 | 3.72 | 1.95 | 0.11 | 5.02 | 3.25 | 010
69550 |  | A | Remove ear lesion | 10.93 | NA | 8.39 | 0.96 | NA | 20.28 | 090
69552 |  | A | Remove ear lesion | 19.35 | NA | 13.06 | 1.63 | NA | 34.04 | 090
69554 |  | A | Remove ear lesion | 32.97 | NA | 21.10 | 2.78 | NA | 56.85 | 090
69601 |  | A | Mastoid surgery revision | 13.16 | NA | 10.11 | 1.10 | NA | 24.37 | 090
69602 |  | A | Mastoid surgery revision | 13.50 | NA | 10.05 | 1.13 | NA | 24.68 | 090
69603 |  | A | Mastoid surgery revision | 13.94 | NA | 10.28 | 1.20 | NA | 25.42 | 090
69604 |  | A | Mastoid surgery revision | 13.94 | NA | 10.26 | 1.17 | NA | 25.37 | 090
69605 |  | A | Mastoid surgery revision | 18.38 | NA | 12.94 | 1.55 | NA | 32.87 | 090
69610 |  | A | Repair of eardrum | 4.40 | 5.45 | 3.30 | 0.37 | 10.22 | 8.07 | 010
69620 |  | A | Repair of eardrum | 5.86 | 6.19 | 4.55 | 0.48 | 12.53 | 10.89 | 090
69631 |  | A | Repair eardrum structures | 9.80 | NA | 7.94 | 0.83 | NA | 18.57 | 090
69632 |  | A | Rebuild eardrum structures | 12.68 | NA | 9.83 | 1.07 | NA | 23.58 | 090
69633 |  | A | Rebuild eardrum structures | 12.03 | NA | 9.49 | 1.01 | NA | 22.53 | 090
69635 |  | A | Repair eardrum structures | 13.25 | NA | 9.50 | 1.04 | NA | 23.79 | 090
69636 |  | A | Rebuild eardrum structures | 15.13 | NA | 11.26 | 1.28 | NA | 27.67 | 090
69637 |  | A | Rebuild eardrum structures | 15.02 | NA | 11.20 | 1.27 | NA | 27.49 | 090
69641 |  | A | Revise middle ear & mastoid | 12.64 | NA | 9.58 | 1.07 | NA | 23.29 | 090
69642 |  | A | Revise middle ear & mastoid | 16.74 | NA | 12.24 | 1.41 | NA | 30.39 | 090
69643 |  | A | Revise middle ear & mastoid | 15.23 | NA | 11.27 | 1.29 | NA | 27.79 | 090
69644 |  | A | Revise middle ear & mastoid | 16.87 | NA | 12.19 | 1.43 | NA | 30.49 | 090
69645 |  | A | Revise middle ear & mastoid | 16.29 | NA | 11.83 | 1.39 | NA | 29.51 | 090
69646 |  | A | Revise middle ear & mastoid | 17.89 | NA | 12.76 | 1.51 | NA | 32.16 | 090
69650 |  | A | Release middle ear bone | 9.60 | NA | 7.48 | 0.82 | NA | 17.90 | 090
69660 |  | A | Revise middle ear bone | 11.83 | NA | 8.70 | 1.01 | NA | 21.54 | 090
69661 |  | A | Revise middle ear bone | 15.65 | NA | 11.19 | 1.32 | NA | 28.16 | 090
69662 |  | A | Revise middle ear bone | 15.35 | NA | 10.91 | 1.29 | NA | 27.55 | 090
69666 |  | A | Repair middle ear structures | 9.69 | NA | 7.55 | 0.82 | NA | 18.06 | 090
69667 |  | A | Repair middle ear structures | 9.70 | NA | 7.54 | 0.86 | NA | 18.10 | 090
69670 |  | A | Remove mastoid air cells | 11.44 | NA | 8.73 | 0.93 | NA | 21.10 | 090
69676 |  | A | Remove middle ear nerve | 9.47 | NA | 7.68 | 0.83 | NA | 17.98 | 090
69700 |  | A | Close mastoid fistula | 8.18 | NA | 5.93 | 0.66 | NA | 14.77 | 090
69710 |  | N | Implant/replace hearing aid | 0.00 | 0.00 | 0.00 | 0.00 | 0.00 | 0.00 | XXX
69711 |  | A | Remove/repair hearing aid | 10.38 | NA | 8.15 | 0.74 | NA | 19.27 | 090
69714 |  | A | Implant temple bone w/stimul | 13.92 | NA | 10.00 | 1.21 | NA | 25.13 | 090
69715 |  | A | Temple bne implnt w/stimulat | 18.15 | NA | 12.50 | 1.58 | NA | 32.23 | 090
69717 |  | A | Temple bone implant revision | 14.89 | NA | 9.67 | 1.29 | NA | 25.85 | 090
69718 |  | A | Revise temple bone implant | 18.39 | NA | 12.41 | 1.61 | NA | 32.41 | 090
69720 |  | A | Release facial nerve | 14.30 | NA | 10.86 | 1.23 | NA | 26.39 | 090
69725 |  | A | Release facial nerve | 25.24 | NA | 17.01 | 2.13 | NA | 44.38 | 090
69740 |  | A | Repair facial nerve | 15.87 | NA | 10.46 | 1.35 | NA | 27.68 | 090
69745 |  | A | Repair facial nerve | 16.59 | NA | 11.46 | 1.20 | NA | 29.25 | 090
69799 |  | C | Middle ear surgery procedure | 0.00 | 0.00 | 0.00 | 0.00 | 0.00 | 0.00 | YYY
69801 |  | A | Incise inner ear | 8.51 | NA | 6.88 | 0.72 | NA | 16.11 | 090
69802 |  | A | Incise inner ear | 13.03 | NA | 9.69 | 1.09 | NA | 23.81 | 090
69805 |  | A | Explore inner ear | 13.74 | NA | 10.14 | 1.16 | NA | 25.04 | 090
69806 |  | A | Explore inner ear | 12.28 | NA | 9.26 | 1.03 | NA | 22.57 | 090
69820 |  | A | Establish inner ear window | 10.28 | NA | 7.91 | 0.79 | NA | 18.98 | 090
69840 |  | A | Revise inner ear window | 10.20 | NA | 6.98 | 0.77 | NA | 17.95 | 090
69905 |  | A | Remove inner ear | 11.04 | NA | 8.38 | 0.92 | NA | 20.34 | 090
69910 |  | A | Remove inner ear & mastoid | 13.55 | NA | 9.81 | 1.13 | NA | 24.49 | 090
69915 |  | A | Incise inner ear nerve | 21.11 | NA | 14.30 | 1.85 | NA | 37.26 | 090
69930 |  | A | Implant cochlear device | 16.71 | NA | 11.95 | 1.43 | NA | 30.09 | 090
69949 |  | C | Inner ear surgery procedure | 0.00 | 0.00 | 0.00 | 0.00 | 0.00 | 0.00 | YYY
69950 |  | A | Incise inner ear nerve | 25.49 | NA | 16.21 | 3.48 | NA | 45.18 | 090
69955 |  | A | Release facial nerve | 26.89 | NA | 17.76 | 2.27 | NA | 46.92 | 090
69960 |  | A | Release inner ear canal | 26.89 | NA | 17.24 | 2.91 | NA | 47.04 | 090
69970 |  | A | Remove inner ear lesion | 29.87 | NA | 18.53 | 2.80 | NA | 51.20 | 090
69979 |  | C | Temporal bone surgery | 0.00 | 0.00 | 0.00 | 0.00 | 0.00 | 0.00 | YYY
69990 |  | R | Microsurgery add-on | 3.45 | NA | 1.82 | 0.67 | NA | 5.94 | ZZZ
70010 |  | A | Contrast x-ray of brain | 1.18 | 4.70 | NA | 0.29 | 6.17 | NA | XXX
70010 | 26 | A | Contrast x-ray of brain | 1.18 | 0.40 | 0.40 | 0.07 | 1.65 | 1.65 | XXX
70010 | TC | A | Contrast x-ray of brain | 0.00 | 4.30 | NA | 0.22 | 4.52 | NA | XXX
70015 |  | A | Contrast x-ray of brain | 1.18 | 1.74 | NA | 0.14 | 3.06 | NA | XXX
70015 | 26 | A | Contrast x-ray of brain | 1.18 | 0.40 | 0.40 | 0.06 | 1.64 | 1.64 | XXX
70015 | TC | A | Contrast x-ray of brain | 0.00 | 1.34 | NA | 0.08 | 1.42 | NA | XXX
70030 |  | A | X-ray eye for foreign body | 0.17 | 0.48 | NA | 0.03 | 0.68 | NA | XXX
70030 | 26 | A | X-ray eye for foreign body | 0.17 | 0.06 | 0.06 | 0.01 | 0.24 | 0.24 | XXX
70030 | TC | A | X-ray eye for foreign body | 0.00 | 0.42 | NA | 0.02 | 0.44 | NA | XXX
70100 |  | A | X-ray exam of jaw | 0.18 | 0.58 | NA | 0.03 | 0.79 | NA | XXX
70100 | 26 | A | X-ray exam of jaw | 0.18 | 0.06 | 0.06 | 0.01 | 0.25 | 0.25 | XXX
70100 | TC | A | X-ray exam of jaw | 0.00 | 0.52 | NA | 0.02 | 0.54 | NA | XXX
70110 |  | A | X-ray exam of jaw | 0.25 | 0.70 | NA | 0.05 | 1.00 | NA | XXX
70110 | 26 | A | X-ray exam of jaw | 0.25 | 0.08 | 0.08 | 0.01 | 0.34 | 0.34 | XXX
70110 | TC | A | X-ray exam of jaw | 0.00 | 0.62 | NA | 0.04 | 0.66 | NA | XXX
70120 |  | A | X-ray exam of mastoids | 0.18 | 0.68 | NA | 0.05 | 0.91 | NA | XXX
70120 | 26 | A | X-ray exam of mastoids | 0.18 | 0.06 | 0.06 | 0.01 | 0.25 | 0.25 | XXX
70120 | TC | A | X-ray exam of mastoids | 0.00 | 0.62 | NA | 0.04 | 0.66 | NA | XXX
70130 |  | A | X-ray exam of mastoids | 0.34 | 0.88 | NA | 0.06 | 1.28 | NA | XXX
70130 | 26 | A | X-ray exam of mastoids | 0.34 | 0.11 | 0.11 | 0.01 | 0.46 | 0.46 | XXX
70130 | TC | A | X-ray exam of mastoids | 0.00 | 0.77 | NA | 0.05 | 0.82 | NA | XXX
70134 |  | A | X-ray exam of middle ear | 0.34 | 0.83 | NA | 0.06 | 1.23 | NA | XXX
70134 | 26 | A | X-ray exam of middle ear | 0.34 | 0.11 | 0.11 | 0.01 | 0.46 | 0.46 | XXX
70134 | TC | A | X-ray exam of middle ear | 0.00 | 0.72 | NA | 0.05 | 0.77 | NA | XXX
70140 |  | A | X-ray exam of facial bones | 0.19 | 0.68 | NA | 0.05 | 0.92 | NA | XXX
70140 | 26 | A | X-ray exam of facial bones | 0.19 | 0.06 | 0.06 | 0.01 | 0.26 | 0.26 | XXX
70140 | TC | A | X-ray exam of facial bones | 0.00 | 0.62 | NA | 0.04 | 0.66 | NA | XXX
70150 |  | A | X-ray exam of facial bones | 0.26 | 0.86 | NA | 0.06 | 1.18 | NA | XXX
70150 | 26 | A | X-ray exam of facial bones | 0.26 | 0.09 | 0.09 | 0.01 | 0.36 | 0.36 | XXX
70150 | TC | A | X-ray exam of facial bones | 0.00 | 0.77 | NA | 0.05 | 0.82 | NA | XXX
70160 |  | A | X-ray exam of nasal bones | 0.17 | 0.58 | NA | 0.03 | 0.78 | NA | XXX
70160 | 26 | A | X-ray exam of nasal bones | 0.17 | 0.06 | 0.06 | 0.01 | 0.24 | 0.24 | XXX
70160 | TC | A | X-ray exam of nasal bones | 0.00 | 0.52 | NA | 0.02 | 0.54 | NA | XXX
70170 |  | A | X-ray exam of tear duct | 0.30 | 1.04 | NA | 0.07 | 1.41 | NA | XXX
70170 | 26 | A | X-ray exam of tear duct | 0.30 | 0.10 | 0.10 | 0.01 | 0.41 | 0.41 | XXX
70170 | TC | A | X-ray exam of tear duct | 0.00 | 0.94 | NA | 0.06 | 1.00 | NA | XXX
70190 |  | A | X-ray exam of eye sockets | 0.21 | 0.69 | NA | 0.05 | 0.95 | NA | XXX
70190 | 26 | A | X-ray exam of eye sockets | 0.21 | 0.07 | 0.07 | 0.01 | 0.29 | 0.29 | XXX
70190 | TC | A | X-ray exam of eye sockets | 0.00 | 0.62 | NA | 0.04 | 0.66 | NA | XXX
70200 |  | A | X-ray exam of eye sockets | 0.28 | 0.86 | NA | 0.06 | 1.20 | NA | XXX
70200 | 26 | A | X-ray exam of eye sockets | 0.28 | 0.09 | 0.09 | 0.01 | 0.38 | 0.38 | XXX
70200 | TC | A | X-ray exam of eye sockets | 0.00 | 0.77 | NA | 0.05 | 0.82 | NA | XXX
70210 |  | A | X-ray exam of sinuses | 0.17 | 0.68 | NA | 0.05 | 0.90 | NA | XXX
70210 | 26 | A | X-ray exam of sinuses | 0.17 | 0.06 | 0.06 | 0.01 | 0.24 | 0.24 | XXX
70210 | TC | A | X-ray exam of sinuses | 0.00 | 0.62 | NA | 0.04 | 0.66 | NA | XXX
70220 |  | A | X-ray exam of sinuses | 0.25 | 0.85 | NA | 0.06 | 1.16 | NA | XXX
70220 | 26 | A | X-ray exam of sinuses | 0.25 | 0.08 | 0.08 | 0.01 | 0.34 | 0.34 | XXX
70220 | TC | A | X-ray exam of sinuses | 0.00 | 0.77 | NA | 0.05 | 0.82 | NA | XXX
70240 |  | A | X-ray exam, pituitary saddle | 0.19 | 0.48 | NA | 0.03 | 0.70 | NA | XXX
70240 | 26 | A | X-ray exam, pituitary saddle | 0.19 | 0.06 | 0.06 | 0.01 | 0.26 | 0.26 | XXX
70240 | TC | A | X-ray exam, pituitary saddle | 0.00 | 0.42 | NA | 0.02 | 0.44 | NA | XXX
70250 |  | A | X-ray exam of skull | 0.24 | 0.70 | NA | 0.05 | 0.99 | NA | XXX
70250 | 26 | A | X-ray exam of skull | 0.24 | 0.08 | 0.08 | 0.01 | 0.33 | 0.33 | XXX
70250 | TC | A | X-ray exam of skull | 0.00 | 0.62 | NA | 0.04 | 0.66 | NA | XXX
70260 |  | A | X-ray exam of skull | 0.34 | 0.99 | NA | 0.07 | 1.40 | NA | XXX
70260 | 26 | A | X-ray exam of skull | 0.34 | 0.11 | 0.11 | 0.01 | 0.46 | 0.46 | XXX
70260 | TC | A | X-ray exam of skull | 0.00 | 0.88 | NA | 0.06 | 0.94 | NA | XXX
70300 |  | A | X-ray exam of teeth | 0.10 | 0.31 | NA | 0.03 | 0.44 | NA | XXX
70300 | 26 | A | X-ray exam of teeth | 0.10 | 0.05 | 0.05 | 0.01 | 0.16 | 0.16 | XXX
70300 | TC | A | X-ray exam of teeth | 0.00 | 0.26 | NA | 0.02 | 0.28 | NA | XXX
70310 |  | A | X-ray exam of teeth | 0.16 | 0.50 | NA | 0.03 | 0.69 | NA | XXX
70310 | 26 | A | X-ray exam of teeth | 0.16 | 0.08 | 0.08 | 0.01 | 0.25 | 0.25 | XXX
70310 | TC | A | X-ray exam of teeth | 0.00 | 0.42 | NA | 0.02 | 0.44 | NA | XXX
70320 |  | A | Full mouth x-ray of teeth | 0.22 | 0.85 | NA | 0.06 | 1.13 | NA | XXX
70320 | 26 | A | Full mouth x-ray of teeth | 0.22 | 0.08 | 0.08 | 0.01 | 0.31 | 0.31 | XXX
70320 | TC | A | Full mouth x-ray of teeth | 0.00 | 0.77 | NA | 0.05 | 0.82 | NA | XXX
70328 |  | A | X-ray exam of jaw joint | 0.18 | 0.55 | NA | 0.03 | 0.76 | NA | XXX
70328 | 26 | A | X-ray exam of jaw joint | 0.18 | 0.06 | 0.06 | 0.01 | 0.25 | 0.25 | XXX
70328 | TC | A | X-ray exam of jaw joint | 0.00 | 0.49 | NA | 0.02 | 0.51 | NA | XXX
70330 |  | A | X-ray exam of jaw joints | 0.24 | 0.91 | NA | 0.06 | 1.21 | NA | XXX
70330 | 26 | A | X-ray exam of jaw joints | 0.24 | 0.08 | 0.08 | 0.01 | 0.33 | 0.33 | XXX
70330 | TC | A | X-ray exam of jaw joints | 0.00 | 0.83 | NA | 0.05 | 0.88 | NA | XXX
70332 |  | A | X-ray exam of jaw joint | 0.54 | 2.28 | NA | 0.14 | 2.96 | NA | XXX
70332 | 26 | A | X-ray exam of jaw joint | 0.54 | 0.20 | 0.20 | 0.02 | 0.76 | 0.76 | XXX
70332 | TC | A | X-ray exam of jaw joint | 0.00 | 2.08 | NA | 0.12 | 2.20 | NA | XXX
70336 |  | A | Magnetic image, jaw joint | 1.47 | 11.61 | NA | 0.67 | 13.75 | NA | XXX
70336 | 26 | A | Magnetic image, jaw joint | 1.47 | 0.50 | 0.50 | 0.08 | 2.05 | 2.05 | XXX
70336 | TC | A | Magnetic image, jaw joint | 0.00 | 11.11 | NA | 0.59 | 11.70 | NA | XXX
70350 |  | A | X-ray head for orthodontia | 0.17 | 0.45 | NA | 0.03 | 0.65 | NA | XXX
70350 | 26 | A | X-ray head for orthodontia | 0.17 | 0.07 | 0.07 | 0.01 | 0.25 | 0.25 | XXX
70350 | TC | A | X-ray head for orthodontia | 0.00 | 0.38 | NA | 0.02 | 0.40 | NA | XXX
70355 |  | A | Panoramic x-ray of jaws | 0.20 | 0.65 | NA | 0.05 | 0.90 | NA | XXX
70355 | 26 | A | Panoramic x-ray of jaws | 0.20 | 0.08 | 0.08 | 0.01 | 0.29 | 0.29 | XXX
70355 | TC | A | Panoramic x-ray of jaws | 0.00 | 0.57 | NA | 0.04 | 0.61 | NA | XXX
70360 |  | A | X-ray exam of neck | 0.17 | 0.48 | NA | 0.03 | 0.68 | NA | XXX
70360 | 26 | A | X-ray exam of neck | 0.17 | 0.06 | 0.06 | 0.01 | 0.24 | 0.24 | XXX
70360 | TC | A | X-ray exam of neck | 0.00 | 0.42 | NA | 0.02 | 0.44 | NA | XXX
70370 |  | A | Throat x-ray & fluoroscopy | 0.32 | 1.40 | NA | 0.08 | 1.80 | NA | XXX
70370 | 26 | A | Throat x-ray & fluoroscopy | 0.32 | 0.11 | 0.11 | 0.01 | 0.44 | 0.44 | XXX
70370 | TC | A | Throat x-ray & fluoroscopy | 0.00 | 1.29 | NA | 0.07 | 1.36 | NA | XXX
70371 |  | A | Speech evaluation, complex | 0.84 | 2.36 | NA | 0.17 | 3.37 | NA | XXX
70371 | 26 | A | Speech evaluation, complex | 0.84 | 0.28 | 0.28 | 0.05 | 1.17 | 1.17 | XXX
70371 | TC | A | Speech evaluation, complex | 0.00 | 2.08 | NA | 0.12 | 2.20 | NA | XXX
70373 |  | A | Contrast x-ray of larynx | 0.44 | 1.92 | NA | 0.13 | 2.49 | NA | XXX
70373 | 26 | A | Contrast x-ray of larynx | 0.44 | 0.15 | 0.15 | 0.02 | 0.61 | 0.61 | XXX
70373 | TC | A | Contrast x-ray of larynx | 0.00 | 1.77 | NA | 0.11 | 1.88 | NA | XXX
70380 |  | A | X-ray exam of salivary gland | 0.17 | 0.72 | NA | 0.05 | 0.94 | NA | XXX
70380 | 26 | A | X-ray exam of salivary gland | 0.17 | 0.06 | 0.06 | 0.01 | 0.24 | 0.24 | XXX
70380 | TC | A | X-ray exam of salivary gland | 0.00 | 0.66 | NA | 0.04 | 0.70 | NA | XXX
70390 |  | A | X-ray exam of salivary duct | 0.38 | 1.90 | NA | 0.13 | 2.41 | NA | XXX
70390 | 26 | A | X-ray exam of salivary duct | 0.38 | 0.13 | 0.13 | 0.02 | 0.53 | 0.53 | XXX
70390 | TC | A | X-ray exam of salivary duct | 0.00 | 1.77 | NA | 0.11 | 1.88 | NA | XXX
70450 |  | A | Ct head/brain w/o dye | 0.85 | 4.95 | NA | 0.30 | 6.10 | NA | XXX
70450 | 26 | A | Ct head/brain w/o dye | 0.85 | 0.28 | 0.28 | 0.05 | 1.18 | 1.18 | XXX
70450 | TC | A | Ct head/brain w/o dye | 0.00 | 4.67 | NA | 0.25 | 4.92 | NA | XXX
70460 |  | A | Ct head/brain w/dye | 1.12 | 5.99 | NA | 0.36 | 7.47 | NA | XXX
70460 | 26 | A | Ct head/brain w/dye | 1.12 | 0.38 | 0.38 | 0.06 | 1.56 | 1.56 | XXX
70460 | TC | A | Ct head/brain w/dye | 0.00 | 5.61 | NA | 0.30 | 5.91 | NA | XXX
70470 |  | A | Ct head/brain w/o & w/ dye | 1.26 | 7.43 | NA | 0.44 | 9.13 | NA | XXX
70470 | 26 | A | Ct head/brain w/o & w/ dye | 1.26 | 0.42 | 0.42 | 0.07 | 1.75 | 1.75 | XXX
70470 | TC | A | Ct head/brain w/o & w/ dye | 0.00 | 7.01 | NA | 0.37 | 7.38 | NA | XXX
70480 |  | A | Ct orbit/ear/fossa w/o dye | 1.27 | 5.10 | NA | 0.32 | 6.69 | NA | XXX
70480 | 26 | A | Ct orbit/ear/fossa w/o dye | 1.27 | 0.43 | 0.43 | 0.07 | 1.77 | 1.77 | XXX
70480 | TC | A | Ct orbit/ear/fossa w/o dye | 0.00 | 4.67 | NA | 0.25 | 4.92 | NA | XXX
70481 |  | A | Ct orbit/ear/fossa w/dye | 1.37 | 6.07 | NA | 0.37 | 7.81 | NA | XXX
70481 | 26 | A | Ct orbit/ear/fossa w/dye | 1.37 | 0.46 | 0.46 | 0.07 | 1.90 | 1.90 | XXX
70481 | TC | A | Ct orbit/ear/fossa w/dye | 0.00 | 5.61 | NA | 0.30 | 5.91 | NA | XXX
70482 |  | A | Ct orbit/ear/fossa w/o&w dye | 1.44 | 7.50 | NA | 0.44 | 9.38 | NA | XXX
70482 | 26 | A | Ct orbit/ear/fossa w/o&w dye | 1.44 | 0.49 | 0.49 | 0.07 | 2.00 | 2.00 | XXX
70482 | TC | A | Ct orbit/ear/fossa w/o&w dye | 0.00 | 7.01 | NA | 0.37 | 7.38 | NA | XXX
70486 |  | A | Ct maxillofacial w/o dye | 1.13 | 5.05 | NA | 0.31 | 6.49 | NA | XXX
70486 | 26 | A | Ct maxillofacial w/o dye | 1.13 | 0.38 | 0.38 | 0.06 | 1.57 | 1.57 | XXX
70486 | TC | A | Ct maxillofacial w/o dye | 0.00 | 4.67 | NA | 0.25 | 4.92 | NA | XXX
70487 |  | A | Ct maxillofacial w/dye | 1.29 | 6.05 | NA | 0.37 | 7.71 | NA | XXX
70487 | 26 | A | Ct maxillofacial w/dye | 1.29 | 0.44 | 0.44 | 0.07 | 1.80 | 1.80 | XXX
70487 | TC | A | Ct maxillofacial w/dye | 0.00 | 5.61 | NA | 0.30 | 5.91 | NA | XXX
70488 |  | A | Ct maxillofacial w/o & w dye | 1.41 | 7.48 | NA | 0.44 | 9.33 | NA | XXX
70488 | 26 | A | Ct maxillofacial w/o & w dye | 1.41 | 0.47 | 0.47 | 0.07 | 1.95 | 1.95 | XXX
70488 | TC | A | Ct maxillofacial w/o & w dye | 0.00 | 7.01 | NA | 0.37 | 7.38 | NA | XXX
70490 |  | A | Ct soft tissue neck w/o dye | 1.27 | 5.10 | NA | 0.32 | 6.69 | NA | XXX
70490 | 26 | A | Ct soft tissue neck w/o dye | 1.27 | 0.43 | 0.43 | 0.07 | 1.77 | 1.77 | XXX
70490 | TC | A | Ct soft tissue neck w/o dye | 0.00 | 4.67 | NA | 0.25 | 4.92 | NA | XXX
70491 |  | A | Ct soft tissue neck w/dye | 1.37 | 6.07 | NA | 0.37 | 7.81 | NA | XXX
70491 | 26 | A | Ct soft tissue neck w/dye | 1.37 | 0.46 | 0.46 | 0.07 | 1.90 | 1.90 | XXX
70491 | TC | A | Ct soft tissue neck w/dye | 0.00 | 5.61 | NA | 0.30 | 5.91 | NA | XXX
70492 |  | A | Ct sft tsue nck w/o & w/dye | 1.44 | 7.49 | NA | 0.44 | 9.37 | NA | XXX
70492 | 26 | A | Ct sft tsue nck w/o & w/dye | 1.44 | 0.48 | 0.48 | 0.07 | 1.99 | 1.99 | XXX
70492 | TC | A | Ct sft tsue nck w/o & w/dye | 0.00 | 7.01 | NA | 0.37 | 7.38 | NA | XXX
70496 |  | A | Ct angiography, head | 1.74 | 11.10 | NA | 0.68 | 13.52 | NA | XXX
70496 | 26 | A | Ct angiography, head | 1.74 | 0.58 | 0.58 | 0.10 | 2.42 | 2.42 | XXX
70496 | TC | A | Ct angiography, head | 0.00 | 10.52 | NA | 0.58 | 11.10 | NA | XXX
70498 |  | A | Ct angiography, neck | 1.74 | 11.11 | NA | 0.68 | 13.53 | NA | XXX
70498 | 26 | A | Ct angiography, neck | 1.74 | 0.59 | 0.59 | 0.10 | 2.43 | 2.43 | XXX
70498 | TC | A | Ct angiography, neck | 0.00 | 10.52 | NA | 0.58 | 11.10 | NA | XXX
70540 |  | A | Mri orbit/face/neck w/o dye | 1.34 | 11.56 | NA | 0.43 | 13.33 | NA | XXX
70540 | 26 | A | Mri orbit/face/neck w/o dye | 1.34 | 0.45 | 0.45 | 0.05 | 1.84 | 1.84 | XXX
70540 | TC | A | Mri orbit/face/neck w/o dye | 0.00 | 11.11 | NA | 0.38 | 11.49 | NA | XXX
70542 |  | A | Mri orbit/face/neck w/dye | 1.61 | 13.88 | NA | 0.53 | 16.02 | NA | XXX
70542 | 26 | A | Mri orbit/face/neck w/dye | 1.61 | 0.55 | 0.55 | 0.06 | 2.22 | 2.22 | XXX
70542 | TC | A | Mri orbit/face/neck w/dye | 0.00 | 13.33 | NA | 0.47 | 13.80 | NA | XXX
70543 |  | A | Mri orbt/fac/nck w/o & w dye | 2.14 | 25.39 | NA | 0.92 | 28.45 | NA | XXX
70543 | 26 | A | Mri orbt/fac/nck w/o & w dye | 2.14 | 0.71 | 0.71 | 0.08 | 2.93 | 2.93 | XXX
70543 | TC | A | Mri orbt/fac/nck w/o & w dye | 0.00 | 24.68 | NA | 0.84 | 25.52 | NA | XXX
70544 |  | A | Mr angiography head w/o dye | 1.19 | 11.51 | NA | 0.65 | 13.35 | NA | XXX
70544 | 26 | A | Mr angiography head w/o dye | 1.19 | 0.40 | 0.40 | 0.06 | 1.65 | 1.65 | XXX
70544 | TC | A | Mr angiography head w/o dye | 0.00 | 11.11 | NA | 0.59 | 11.70 | NA | XXX
70545 |  | A | Mr angiography head w/dye | 1.19 | 11.51 | NA | 0.65 | 13.35 | NA | XXX
70545 | 26 | A | Mr angiography head w/dye | 1.19 | 0.40 | 0.40 | 0.06 | 1.65 | 1.65 | XXX
70545 | TC | A | Mr angiography head w/dye | 0.00 | 11.11 | NA | 0.59 | 11.70 | NA | XXX
70546 |  | A | Mr angiograph head w/o&w dye | 1.79 | 22.83 | NA | 0.69 | 25.31 | NA | XXX
70546 | 26 | A | Mr angiograph head w/o&w dye | 1.79 | 0.61 | 0.61 | 0.10 | 2.50 | 2.50 | XXX
70546 | TC | A | Mr angiograph head w/o&w dye | 0.00 | 22.22 | NA | 0.59 | 22.81 | NA | XXX
70547 |  | A | Mr angiography neck w/o dye | 1.19 | 11.51 | NA | 0.65 | 13.35 | NA | XXX
70547 | 26 | A | Mr angiography neck w/o dye | 1.19 | 0.40 | 0.40 | 0.06 | 1.65 | 1.65 | XXX
70547 | TC | A | Mr angiography neck w/o dye | 0.00 | 11.11 | NA | 0.59 | 11.70 | NA | XXX
70548 |  | A | Mr angiography neck w/dye | 1.19 | 11.51 | NA | 0.65 | 13.35 | NA | XXX
70548 | 26 | A | Mr angiography neck w/dye | 1.19 | 0.40 | 0.40 | 0.06 | 1.65 | 1.65 | XXX
70548 | TC | A | Mr angiography neck w/dye | 0.00 | 11.11 | NA | 0.59 | 11.70 | NA | XXX
70549 |  | A | Mr angiograph neck w/o&w dye | 1.79 | 22.83 | NA | 0.69 | 25.31 | NA | XXX
70549 | 26 | A | Mr angiograph neck w/o&w dye | 1.79 | 0.61 | 0.61 | 0.10 | 2.50 | 2.50 | XXX
70549 | TC | A | Mr angiograph neck w/o&w dye | 0.00 | 22.22 | NA | 0.59 | 22.81 | NA | XXX
70551 |  | A | Mri brain w/o dye | 1.47 | 11.61 | NA | 0.67 | 13.75 | NA | XXX
70551 | 26 | A | Mri brain w/o dye | 1.47 | 0.50 | 0.50 | 0.08 | 2.05 | 2.05 | XXX
70551 | TC | A | Mri brain w/o dye | 0.00 | 11.11 | NA | 0.59 | 11.70 | NA | XXX
70552 |  | A | Mri brain w/ dye | 1.77 | 13.94 | NA | 0.80 | 16.51 | NA | XXX
70552 | 26 | A | Mri brain w/ dye | 1.77 | 0.61 | 0.61 | 0.10 | 2.48 | 2.48 | XXX
70552 | TC | A | Mri brain w/ dye | 0.00 | 13.33 | NA | 0.70 | 14.03 | NA | XXX
70553 |  | A | Mri brain w/o & w/ dye | 2.35 | 25.46 | NA | 1.43 | 29.24 | NA | XXX
70553 | 26 | A | Mri brain w/o & w/ dye | 2.35 | 0.78 | 0.78 | 0.12 | 3.25 | 3.25 | XXX
70553 | TC | A | Mri brain w/o & w/ dye | 0.00 | 24.68 | NA | 1.31 | 25.99 | NA | XXX
70557 |  | C | Mri brain w/o dye | 0.00 | 0.00 | 0.00 | 0.00 | 0.00 | 0.00 | XXX
70557 | 26 | A | Mri brain w/o dye | 2.88 | 0.99 | 0.99 | 0.08 | 3.95 | 3.95 | XXX
70557 | TC | C | Mri brain w/o dye | 0.00 | 0.00 | 0.00 | 0.00 | 0.00 | 0.00 | XXX
70558 |  | C | Mri brain w/ dye | 0.00 | 0.00 | 0.00 | 0.00 | 0.00 | 0.00 | XXX
70558 | 26 | A | Mri brain w/ dye | 3.18 | 1.09 | 1.09 | 0.10 | 4.37 | 4.37 | XXX
70558 | TC | C | Mri brain w/ dye | 0.00 | 0.00 | 0.00 | 0.00 | 0.00 | 0.00 | XXX
70559 |  | C | Mri brain w/o & w/ dye | 0.00 | 0.00 | 0.00 | 0.00 | 0.00 | 0.00 | XXX
70559 | 26 | A | Mri brain w/o & w/ dye | 3.18 | 1.09 | 1.09 | 0.12 | 4.39 | 4.39 | XXX
70559 | TC | C | Mri brain w/o & w/ dye | 0.00 | 0.00 | 0.00 | 0.00 | 0.00 | 0.00 | XXX
71010 |  | A | Chest x-ray | 0.18 | 0.53 | NA | 0.03 | 0.74 | NA | XXX
71010 | 26 | A | Chest x-ray | 0.18 | 0.06 | 0.06 | 0.01 | 0.25 | 0.25 | XXX
71010 | TC | A | Chest x-ray | 0.00 | 0.47 | NA | 0.02 | 0.49 | NA | XXX
71015 |  | A | Chest x-ray | 0.21 | 0.59 | NA | 0.03 | 0.83 | NA | XXX
71015 | 26 | A | Chest x-ray | 0.21 | 0.07 | 0.07 | 0.01 | 0.29 | 0.29 | XXX
71015 | TC | A | Chest x-ray | 0.00 | 0.52 | NA | 0.02 | 0.54 | NA | XXX
71020 |  | A | Chest x-ray | 0.22 | 0.69 | NA | 0.05 | 0.96 | NA | XXX
71020 | 26 | A | Chest x-ray | 0.22 | 0.07 | 0.07 | 0.01 | 0.30 | 0.30 | XXX
71020 | TC | A | Chest x-ray | 0.00 | 0.62 | NA | 0.04 | 0.66 | NA | XXX
71021 |  | A | Chest x-ray | 0.27 | 0.81 | NA | 0.06 | 1.14 | NA | XXX
71021 | 26 | A | Chest x-ray | 0.27 | 0.09 | 0.09 | 0.01 | 0.37 | 0.37 | XXX
71021 | TC | A | Chest x-ray | 0.00 | 0.72 | NA | 0.05 | 0.77 | NA | XXX
71022 |  | A | Chest x-ray | 0.31 | 0.82 | NA | 0.07 | 1.20 | NA | XXX
71022 | 26 | A | Chest x-ray | 0.31 | 0.10 | 0.10 | 0.02 | 0.43 | 0.43 | XXX
71022 | TC | A | Chest x-ray | 0.00 | 0.72 | NA | 0.05 | 0.77 | NA | XXX
71023 |  | A | Chest x-ray and fluoroscopy | 0.38 | 0.90 | NA | 0.07 | 1.35 | NA | XXX
71023 | 26 | A | Chest x-ray and fluoroscopy | 0.38 | 0.13 | 0.13 | 0.02 | 0.53 | 0.53 | XXX
71023 | TC | A | Chest x-ray and fluoroscopy | 0.00 | 0.77 | NA | 0.05 | 0.82 | NA | XXX
71030 |  | A | Chest x-ray | 0.31 | 0.87 | NA | 0.06 | 1.24 | NA | XXX
71030 | 26 | A | Chest x-ray | 0.31 | 0.10 | 0.10 | 0.01 | 0.42 | 0.42 | XXX
71030 | TC | A | Chest x-ray | 0.00 | 0.77 | NA | 0.05 | 0.82 | NA | XXX
71034 |  | A | Chest x-ray and fluoroscopy | 0.46 | 1.59 | NA | 0.10 | 2.15 | NA | XXX
71034 | 26 | A | Chest x-ray and fluoroscopy | 0.46 | 0.16 | 0.16 | 0.02 | 0.64 | 0.64 | XXX
71034 | TC | A | Chest x-ray and fluoroscopy | 0.00 | 1.43 | NA | 0.08 | 1.51 | NA | XXX
71035 |  | A | Chest x-ray | 0.18 | 0.58 | NA | 0.03 | 0.79 | NA | XXX
71035 | 26 | A | Chest x-ray | 0.18 | 0.06 | 0.06 | 0.01 | 0.25 | 0.25 | XXX
71035 | TC | A | Chest x-ray | 0.00 | 0.52 | NA | 0.02 | 0.54 | NA | XXX
71040 |  | A | Contrast x-ray of bronchi | 0.58 | 1.64 | NA | 0.12 | 2.34 | NA | XXX
71040 | 26 | A | Contrast x-ray of bronchi | 0.58 | 0.19 | 0.19 | 0.04 | 0.81 | 0.81 | XXX
71040 | TC | A | Contrast x-ray of bronchi | 0.00 | 1.45 | NA | 0.08 | 1.53 | NA | XXX
71060 |  | A | Contrast x-ray of bronchi | 0.74 | 2.43 | NA | 0.17 | 3.34 | NA | XXX
71060 | 26 | A | Contrast x-ray of bronchi | 0.74 | 0.25 | 0.25 | 0.04 | 1.03 | 1.03 | XXX
71060 | TC | A | Contrast x-ray of bronchi | 0.00 | 2.18 | NA | 0.13 | 2.31 | NA | XXX
71090 |  | A | X-ray & pacemaker insertion | 0.54 | 1.88 | NA | 0.13 | 2.55 | NA | XXX
71090 | 26 | A | X-ray & pacemaker insertion | 0.54 | 0.21 | 0.21 | 0.02 | 0.77 | 0.77 | XXX
71090 | TC | A | X-ray & pacemaker insertion | 0.00 | 1.67 | NA | 0.11 | 1.78 | NA | XXX
71100 |  | A | X-ray exam of ribs | 0.22 | 0.64 | NA | 0.05 | 0.91 | NA | XXX
71100 | 26 | A | X-ray exam of ribs | 0.22 | 0.07 | 0.07 | 0.01 | 0.30 | 0.30 | XXX
71100 | TC | A | X-ray exam of ribs | 0.00 | 0.57 | NA | 0.04 | 0.61 | NA | XXX
71101 |  | A | X-ray exam of ribs/chest | 0.27 | 0.75 | NA | 0.05 | 1.07 | NA | XXX
71101 | 26 | A | X-ray exam of ribs/chest | 0.27 | 0.09 | 0.09 | 0.01 | 0.37 | 0.37 | XXX
71101 | TC | A | X-ray exam of ribs/chest | 0.00 | 0.66 | NA | 0.04 | 0.70 | NA | XXX
71110 |  | A | X-ray exam of ribs | 0.27 | 0.86 | NA | 0.06 | 1.19 | NA | XXX
71110 | 26 | A | X-ray exam of ribs | 0.27 | 0.09 | 0.09 | 0.01 | 0.37 | 0.37 | XXX
71110 | TC | A | X-ray exam of ribs | 0.00 | 0.77 | NA | 0.05 | 0.82 | NA | XXX
71111 |  | A | X-ray exam of ribs/ chest | 0.32 | 0.99 | NA | 0.07 | 1.38 | NA | XXX
71111 | 26 | A | X-ray exam of ribs/ chest | 0.32 | 0.11 | 0.11 | 0.01 | 0.44 | 0.44 | XXX
71111 | TC | A | X-ray exam of ribs/ chest | 0.00 | 0.88 | NA | 0.06 | 0.94 | NA | XXX
71120 |  | A | X-ray exam of breastbone | 0.20 | 0.71 | NA | 0.05 | 0.96 | NA | XXX
71120 | 26 | A | X-ray exam of breastbone | 0.20 | 0.07 | 0.07 | 0.01 | 0.28 | 0.28 | XXX
71120 | TC | A | X-ray exam of breastbone | 0.00 | 0.64 | NA | 0.04 | 0.68 | NA | XXX
71130 |  | A | X-ray exam of breastbone | 0.22 | 0.77 | NA | 0.05 | 1.04 | NA | XXX
71130 | 26 | A | X-ray exam of breastbone | 0.22 | 0.07 | 0.07 | 0.01 | 0.30 | 0.30 | XXX
71130 | TC | A | X-ray exam of breastbone | 0.00 | 0.70 | NA | 0.04 | 0.74 | NA | XXX
71250 |  | A | Ct thorax w/o dye | 1.15 | 6.24 | NA | 0.37 | 7.76 | NA | XXX
71250 | 26 | A | Ct thorax w/o dye | 1.15 | 0.39 | 0.39 | 0.06 | 1.60 | 1.60 | XXX
71250 | TC | A | Ct thorax w/o dye | 0.00 | 5.85 | NA | 0.31 | 6.16 | NA | XXX
71260 |  | A | Ct thorax w/dye | 1.23 | 7.42 | NA | 0.43 | 9.08 | NA | XXX
71260 | 26 | A | Ct thorax w/dye | 1.23 | 0.41 | 0.41 | 0.06 | 1.70 | 1.70 | XXX
71260 | TC | A | Ct thorax w/dye | 0.00 | 7.01 | NA | 0.37 | 7.38 | NA | XXX
71270 |  | A | Ct thorax w/o & w/ dye | 1.37 | 9.23 | NA | 0.53 | 11.13 | NA | XXX
71270 | 26 | A | Ct thorax w/o & w/ dye | 1.37 | 0.46 | 0.46 | 0.07 | 1.90 | 1.90 | XXX
71270 | TC | A | Ct thorax w/o & w/ dye | 0.00 | 8.77 | NA | 0.46 | 9.23 | NA | XXX
71275 |  | A | Ct angiography, chest | 1.91 | 12.92 | NA | 0.45 | 15.28 | NA | XXX
71275 | 26 | A | Ct angiography, chest | 1.91 | 0.64 | 0.64 | 0.07 | 2.62 | 2.62 | XXX
71275 | TC | A | Ct angiography, chest | 0.00 | 12.28 | NA | 0.38 | 12.66 | NA | XXX
71550 |  | A | Mri chest w/o dye | 1.45 | 11.60 | NA | 0.49 | 13.54 | NA | XXX
71550 | 26 | A | Mri chest w/o dye | 1.45 | 0.49 | 0.49 | 0.05 | 1.99 | 1.99 | XXX
71550 | TC | A | Mri chest w/o dye | 0.00 | 11.11 | NA | 0.44 | 11.55 | NA | XXX
71551 |  | A | Mri chest w/dye | 1.72 | 13.91 | NA | 0.59 | 16.22 | NA | XXX
71551 | 26 | A | Mri chest w/dye | 1.72 | 0.58 | 0.58 | 0.07 | 2.37 | 2.37 | XXX
71551 | TC | A | Mri chest w/dye | 0.00 | 13.33 | NA | 0.52 | 13.85 | NA | XXX
71552 |  | A | Mri chest w/o & w/dye | 2.25 | 25.43 | NA | 0.77 | 28.45 | NA | XXX
71552 | 26 | A | Mri chest w/o & w/dye | 2.25 | 0.75 | 0.75 | 0.10 | 3.10 | 3.10 | XXX
71552 | TC | A | Mri chest w/o & w/dye | 0.00 | 24.68 | NA | 0.67 | 25.35 | NA | XXX
71555 |  | R | Mri angio chest w or w/o dye | 1.80 | 11.72 | NA | 0.69 | 14.21 | NA | XXX
71555 | 26 | R | Mri angio chest w or w/o dye | 1.80 | 0.61 | 0.61 | 0.10 | 2.51 | 2.51 | XXX
71555 | TC | R | Mri angio chest w or w/o dye | 0.00 | 11.11 | NA | 0.59 | 11.70 | NA | XXX
72010 |  | A | X-ray exam of spine | 0.45 | 1.16 | NA | 0.10 | 1.71 | NA | XXX
72010 | 26 | A | X-ray exam of spine | 0.45 | 0.15 | 0.15 | 0.04 | 0.64 | 0.64 | XXX
72010 | TC | A | X-ray exam of spine | 0.00 | 1.01 | NA | 0.06 | 1.07 | NA | XXX
72020 |  | A | X-ray exam of spine | 0.15 | 0.47 | NA | 0.03 | 0.65 | NA | XXX
72020 | 26 | A | X-ray exam of spine | 0.15 | 0.05 | 0.05 | 0.01 | 0.21 | 0.21 | XXX
72020 | TC | A | X-ray exam of spine | 0.00 | 0.42 | NA | 0.02 | 0.44 | NA | XXX
72040 |  | A | X-ray exam of neck spine | 0.22 | 0.67 | NA | 0.05 | 0.94 | NA | XXX
72040 | 26 | A | X-ray exam of neck spine | 0.22 | 0.07 | 0.07 | 0.01 | 0.30 | 0.30 | XXX
72040 | TC | A | X-ray exam of neck spine | 0.00 | 0.60 | NA | 0.04 | 0.64 | NA | XXX
72050 |  | A | X-ray exam of neck spine | 0.31 | 0.98 | NA | 0.08 | 1.37 | NA | XXX
72050 | 26 | A | X-ray exam of neck spine | 0.31 | 0.10 | 0.10 | 0.02 | 0.43 | 0.43 | XXX
72050 | TC | A | X-ray exam of neck spine | 0.00 | 0.88 | NA | 0.06 | 0.94 | NA | XXX
72052 |  | A | X-ray exam of neck spine | 0.36 | 1.24 | NA | 0.08 | 1.68 | NA | XXX
72052 | 26 | A | X-ray exam of neck spine | 0.36 | 0.12 | 0.12 | 0.02 | 0.50 | 0.50 | XXX
72052 | TC | A | X-ray exam of neck spine | 0.00 | 1.12 | NA | 0.06 | 1.18 | NA | XXX
72069 |  | A | X-ray exam of trunk spine | 0.22 | 0.57 | NA | 0.04 | 0.83 | NA | XXX
72069 | 26 | A | X-ray exam of trunk spine | 0.22 | 0.08 | 0.08 | 0.02 | 0.32 | 0.32 | XXX
72069 | TC | A | X-ray exam of trunk spine | 0.00 | 0.49 | NA | 0.02 | 0.51 | NA | XXX
72070 |  | A | X-ray exam of thoracic spine | 0.22 | 0.71 | NA | 0.05 | 0.98 | NA | XXX
72070 | 26 | A | X-ray exam of thoracic spine | 0.22 | 0.07 | 0.07 | 0.01 | 0.30 | 0.30 | XXX
72070 | TC | A | X-ray exam of thoracic spine | 0.00 | 0.64 | NA | 0.04 | 0.68 | NA | XXX
72072 |  | A | X-ray exam of thoracic spine | 0.22 | 0.79 | NA | 0.06 | 1.07 | NA | XXX
72072 | 26 | A | X-ray exam of thoracic spine | 0.22 | 0.07 | 0.07 | 0.01 | 0.30 | 0.30 | XXX
72072 | TC | A | X-ray exam of thoracic spine | 0.00 | 0.72 | NA | 0.05 | 0.77 | NA | XXX
72074 |  | A | X-ray exam of thoracic spine | 0.22 | 0.97 | NA | 0.07 | 1.26 | NA | XXX
72074 | 26 | A | X-ray exam of thoracic spine | 0.22 | 0.07 | 0.07 | 0.01 | 0.30 | 0.30 | XXX
72074 | TC | A | X-ray exam of thoracic spine | 0.00 | 0.90 | NA | 0.06 | 0.96 | NA | XXX
72080 |  | A | X-ray exam of trunk spine | 0.22 | 0.73 | NA | 0.06 | 1.01 | NA | XXX
72080 | 26 | A | X-ray exam of trunk spine | 0.22 | 0.07 | 0.07 | 0.02 | 0.31 | 0.31 | XXX
72080 | TC | A | X-ray exam of trunk spine | 0.00 | 0.66 | NA | 0.04 | 0.70 | NA | XXX
72090 |  | A | X-ray exam of trunk spine | 0.28 | 0.76 | NA | 0.06 | 1.10 | NA | XXX
72090 | 26 | A | X-ray exam of trunk spine | 0.28 | 0.10 | 0.10 | 0.02 | 0.40 | 0.40 | XXX
72090 | TC | A | X-ray exam of trunk spine | 0.00 | 0.66 | NA | 0.04 | 0.70 | NA | XXX
72100 |  | A | X-ray exam of lower spine | 0.22 | 0.73 | NA | 0.06 | 1.01 | NA | XXX
72100 | 26 | A | X-ray exam of lower spine | 0.22 | 0.07 | 0.07 | 0.02 | 0.31 | 0.31 | XXX
72100 | TC | A | X-ray exam of lower spine | 0.00 | 0.66 | NA | 0.04 | 0.70 | NA | XXX
72110 |  | A | X-ray exam of lower spine | 0.31 | 1.00 | NA | 0.08 | 1.39 | NA | XXX
72110 | 26 | A | X-ray exam of lower spine | 0.31 | 0.10 | 0.10 | 0.02 | 0.43 | 0.43 | XXX
72110 | TC | A | X-ray exam of lower spine | 0.00 | 0.90 | NA | 0.06 | 0.96 | NA | XXX
72114 |  | A | X-ray exam of lower spine | 0.36 | 1.30 | NA | 0.10 | 1.76 | NA | XXX
72114 | 26 | A | X-ray exam of lower spine | 0.36 | 0.12 | 0.12 | 0.04 | 0.52 | 0.52 | XXX
72114 | TC | A | X-ray exam of lower spine | 0.00 | 1.18 | NA | 0.06 | 1.24 | NA | XXX
72120 |  | A | X-ray exam of lower spine | 0.22 | 0.95 | NA | 0.08 | 1.25 | NA | XXX
72120 | 26 | A | X-ray exam of lower spine | 0.22 | 0.07 | 0.07 | 0.02 | 0.31 | 0.31 | XXX
72120 | TC | A | X-ray exam of lower spine | 0.00 | 0.88 | NA | 0.06 | 0.94 | NA | XXX
72125 |  | A | Ct neck spine w/o dye | 1.15 | 6.24 | NA | 0.37 | 7.76 | NA | XXX
72125 | 26 | A | Ct neck spine w/o dye | 1.15 | 0.39 | 0.39 | 0.06 | 1.60 | 1.60 | XXX
72125 | TC | A | Ct neck spine w/o dye | 0.00 | 5.85 | NA | 0.31 | 6.16 | NA | XXX
72126 |  | A | Ct neck spine w/dye | 1.21 | 7.42 | NA | 0.43 | 9.06 | NA | XXX
72126 | 26 | A | Ct neck spine w/dye | 1.21 | 0.41 | 0.41 | 0.06 | 1.68 | 1.68 | XXX
72126 | TC | A | Ct neck spine w/dye | 0.00 | 7.01 | NA | 0.37 | 7.38 | NA | XXX
72127 |  | A | Ct neck spine w/o & w/dye | 1.26 | 9.20 | NA | 0.53 | 10.99 | NA | XXX
72127 | 26 | A | Ct neck spine w/o & w/dye | 1.26 | 0.43 | 0.43 | 0.07 | 1.76 | 1.76 | XXX
72127 | TC | A | Ct neck spine w/o & w/dye | 0.00 | 8.77 | NA | 0.46 | 9.23 | NA | XXX
72128 |  | A | Ct chest spine w/o dye | 1.15 | 6.24 | NA | 0.37 | 7.76 | NA | XXX
72128 | 26 | A | Ct chest spine w/o dye | 1.15 | 0.39 | 0.39 | 0.06 | 1.60 | 1.60 | XXX
72128 | TC | A | Ct chest spine w/o dye | 0.00 | 5.85 | NA | 0.31 | 6.16 | NA | XXX
72129 |  | A | Ct chest spine w/dye | 1.21 | 7.42 | NA | 0.43 | 9.06 | NA | XXX
72129 | 26 | A | Ct chest spine w/dye | 1.21 | 0.41 | 0.41 | 0.06 | 1.68 | 1.68 | XXX
72129 | TC | A | Ct chest spine w/dye | 0.00 | 7.01 | NA | 0.37 | 7.38 | NA | XXX
72130 |  | A | Ct chest spine w/o & w/dye | 1.26 | 9.19 | NA | 0.53 | 10.98 | NA | XXX
72130 | 26 | A | Ct chest spine w/o & w/dye | 1.26 | 0.42 | 0.42 | 0.07 | 1.75 | 1.75 | XXX
72130 | TC | A | Ct chest spine w/o & w/dye | 0.00 | 8.77 | NA | 0.46 | 9.23 | NA | XXX
72131 |  | A | Ct lumbar spine w/o dye | 1.15 | 6.24 | NA | 0.37 | 7.76 | NA | XXX
72131 | 26 | A | Ct lumbar spine w/o dye | 1.15 | 0.39 | 0.39 | 0.06 | 1.60 | 1.60 | XXX
72131 | TC | A | Ct lumbar spine w/o dye | 0.00 | 5.85 | NA | 0.31 | 6.16 | NA | XXX
72132 |  | A | Ct lumbar spine w/dye | 1.21 | 7.42 | NA | 0.44 | 9.07 | NA | XXX
72132 | 26 | A | Ct lumbar spine w/dye | 1.21 | 0.41 | 0.41 | 0.07 | 1.69 | 1.69 | XXX
72132 | TC | A | Ct lumbar spine w/dye | 0.00 | 7.01 | NA | 0.37 | 7.38 | NA | XXX
72133 |  | A | Ct lumbar spine w/o & w/dye | 1.26 | 9.20 | NA | 0.53 | 10.99 | NA | XXX
72133 | 26 | A | Ct lumbar spine w/o & w/dye | 1.26 | 0.43 | 0.43 | 0.07 | 1.76 | 1.76 | XXX
72133 | TC | A | Ct lumbar spine w/o & w/dye | 0.00 | 8.77 | NA | 0.46 | 9.23 | NA | XXX
72141 |  | A | Mri neck spine w/o dye | 1.59 | 11.65 | NA | 0.67 | 13.91 | NA | XXX
72141 | 26 | A | Mri neck spine w/o dye | 1.59 | 0.54 | 0.54 | 0.08 | 2.21 | 2.21 | XXX
72141 | TC | A | Mri neck spine w/o dye | 0.00 | 11.11 | NA | 0.59 | 11.70 | NA | XXX
72142 |  | A | Mri neck spine w/dye | 1.91 | 13.98 | NA | 0.81 | 16.70 | NA | XXX
72142 | 26 | A | Mri neck spine w/dye | 1.91 | 0.65 | 0.65 | 0.11 | 2.67 | 2.67 | XXX
72142 | TC | A | Mri neck spine w/dye | 0.00 | 13.33 | NA | 0.70 | 14.03 | NA | XXX
72146 |  | A | Mri chest spine w/o dye | 1.59 | 12.87 | NA | 0.72 | 15.18 | NA | XXX
72146 | 26 | A | Mri chest spine w/o dye | 1.59 | 0.54 | 0.54 | 0.08 | 2.21 | 2.21 | XXX
72146 | TC | A | Mri chest spine w/o dye | 0.00 | 12.33 | NA | 0.64 | 12.97 | NA | XXX
72147 |  | A | Mri chest spine w/dye | 1.91 | 13.97 | NA | 0.81 | 16.69 | NA | XXX
72147 | 26 | A | Mri chest spine w/dye | 1.91 | 0.64 | 0.64 | 0.11 | 2.66 | 2.66 | XXX
72147 | TC | A | Mri chest spine w/dye | 0.00 | 13.33 | NA | 0.70 | 14.03 | NA | XXX
72148 |  | A | Mri lumbar spine w/o dye | 1.47 | 12.83 | NA | 0.72 | 15.02 | NA | XXX
72148 | 26 | A | Mri lumbar spine w/o dye | 1.47 | 0.50 | 0.50 | 0.08 | 2.05 | 2.05 | XXX
72148 | TC | A | Mri lumbar spine w/o dye | 0.00 | 12.33 | NA | 0.64 | 12.97 | NA | XXX
72149 |  | A | Mri lumbar spine w/dye | 1.77 | 13.94 | NA | 0.81 | 16.52 | NA | XXX
72149 | 26 | A | Mri lumbar spine w/dye | 1.77 | 0.61 | 0.61 | 0.11 | 2.49 | 2.49 | XXX
72149 | TC | A | Mri lumbar spine w/dye | 0.00 | 13.33 | NA | 0.70 | 14.03 | NA | XXX
72156 |  | A | Mri neck spine w/o & w/dye | 2.56 | 25.53 | NA | 1.44 | 29.53 | NA | XXX
72156 | 26 | A | Mri neck spine w/o & w/dye | 2.56 | 0.85 | 0.85 | 0.13 | 3.54 | 3.54 | XXX
72156 | TC | A | Mri neck spine w/o & w/dye | 0.00 | 24.68 | NA | 1.31 | 25.99 | NA | XXX
72157 |  | A | Mri chest spine w/o & w/dye | 2.56 | 25.53 | NA | 1.44 | 29.53 | NA | XXX
72157 | 26 | A | Mri chest spine w/o & w/dye | 2.56 | 0.85 | 0.85 | 0.13 | 3.54 | 3.54 | XXX
72157 | TC | A | Mri chest spine w/o & w/dye | 0.00 | 24.68 | NA | 1.31 | 25.99 | NA | XXX
72158 |  | A | Mri lumbar spine w/o & w/dye | 2.35 | 25.46 | NA | 1.44 | 29.25 | NA | XXX
72158 | 26 | A | Mri lumbar spine w/o & w/dye | 2.35 | 0.78 | 0.78 | 0.13 | 3.26 | 3.26 | XXX
72158 | TC | A | Mri lumbar spine w/o & w/dye | 0.00 | 24.68 | NA | 1.31 | 25.99 | NA | XXX
72159 |  | N | Mr angio spine w/o&w/dye | +1.79 | 12.98 | 12.98 | 0.74 | 15.51 | 15.51 | XXX
72159 | 26 | N | Mr angio spine w/o&w/dye | +1.79 | 0.69 | 0.69 | 0.10 | 2.58 | 2.58 | XXX
72159 | TC | N | Mr angio spine w/o&w/dye | +0.00 | 12.29 | 12.29 | 0.64 | 12.93 | 12.93 | XXX
72170 |  | A | X-ray exam of pelvis | 0.17 | 0.58 | NA | 0.03 | 0.78 | NA | XXX
72170 | 26 | A | X-ray exam of pelvis | 0.17 | 0.06 | 0.06 | 0.01 | 0.24 | 0.24 | XXX
72170 | TC | A | X-ray exam of pelvis | 0.00 | 0.52 | NA | 0.02 | 0.54 | NA | XXX
72190 |  | A | X-ray exam of pelvis | 0.21 | 0.73 | NA | 0.05 | 0.99 | NA | XXX
72190 | 26 | A | X-ray exam of pelvis | 0.21 | 0.07 | 0.07 | 0.01 | 0.29 | 0.29 | XXX
72190 | TC | A | X-ray exam of pelvis | 0.00 | 0.66 | NA | 0.04 | 0.70 | NA | XXX
72191 |  | A | Ct angiograph pelv w/o&w/dye | 1.80 | 12.54 | NA | 0.45 | 14.79 | NA | XXX
72191 | 26 | A | Ct angiograph pelv w/o&w/dye | 1.80 | 0.61 | 0.61 | 0.07 | 2.48 | 2.48 | XXX
72191 | TC | A | Ct angiograph pelv w/o&w/dye | 0.00 | 11.93 | NA | 0.38 | 12.31 | NA | XXX
72192 |  | A | Ct pelvis w/o dye | 1.08 | 6.21 | NA | 0.37 | 7.66 | NA | XXX
72192 | 26 | A | Ct pelvis w/o dye | 1.08 | 0.36 | 0.36 | 0.06 | 1.50 | 1.50 | XXX
72192 | TC | A | Ct pelvis w/o dye | 0.00 | 5.85 | NA | 0.31 | 6.16 | NA | XXX
72193 |  | A | Ct pelvis w/dye | 1.15 | 7.18 | NA | 0.42 | 8.75 | NA | XXX
72193 | 26 | A | Ct pelvis w/dye | 1.15 | 0.39 | 0.39 | 0.06 | 1.60 | 1.60 | XXX
72193 | TC | A | Ct pelvis w/dye | 0.00 | 6.79 | NA | 0.36 | 7.15 | NA | XXX
72194 |  | A | Ct pelvis w/o & w/dye | 1.21 | 8.82 | NA | 0.49 | 10.52 | NA | XXX
72194 | 26 | A | Ct pelvis w/o & w/dye | 1.21 | 0.41 | 0.41 | 0.06 | 1.68 | 1.68 | XXX
72194 | TC | A | Ct pelvis w/o & w/dye | 0.00 | 8.41 | NA | 0.43 | 8.84 | NA | XXX
72195 |  | A | Mri pelvis w/o dye | 1.45 | 11.60 | NA | 0.50 | 13.55 | NA | XXX
72195 | 26 | A | Mri pelvis w/o dye | 1.45 | 0.49 | 0.49 | 0.06 | 2.00 | 2.00 | XXX
72195 | TC | A | Mri pelvis w/o dye | 0.00 | 11.11 | NA | 0.44 | 11.55 | NA | XXX
72196 |  | A | Mri pelvis w/dye | 1.72 | 13.91 | NA | 0.58 | 16.21 | NA | XXX
72196 | 26 | A | Mri pelvis w/dye | 1.72 | 0.58 | 0.58 | 0.06 | 2.36 | 2.36 | XXX
72196 | TC | A | Mri pelvis w/dye | 0.00 | 13.33 | NA | 0.52 | 13.85 | NA | XXX
72197 |  | A | Mri pelvis w/o & w/dye | 2.25 | 25.43 | NA | 1.01 | 28.69 | NA | XXX
72197 | 26 | A | Mri pelvis w/o & w/dye | 2.25 | 0.75 | 0.75 | 0.10 | 3.10 | 3.10 | XXX
72197 | TC | A | Mri pelvis w/o & w/dye | 0.00 | 24.68 | NA | 0.91 | 25.59 | NA | XXX
72198 |  | A | Mr angio pelvis w/o & w/dye | 1.79 | 11.80 | NA | 0.69 | 14.28 | NA | XXX
72198 | 26 | A | Mr angio pelvis w/o & w/dye | 1.79 | 0.69 | 0.69 | 0.10 | 2.58 | 2.58 | XXX
72198 | TC | A | Mr angio pelvis w/o & w/dye | 0.00 | 11.11 | NA | 0.59 | 11.70 | NA | XXX
72200 |  | A | X-ray exam sacroiliac joints | 0.17 | 0.58 | NA | 0.03 | 0.78 | NA | XXX
72200 | 26 | A | X-ray exam sacroiliac joints | 0.17 | 0.06 | 0.06 | 0.01 | 0.24 | 0.24 | XXX
72200 | TC | A | X-ray exam sacroiliac joints | 0.00 | 0.52 | NA | 0.02 | 0.54 | NA | XXX
72202 |  | A | X-ray exam sacroiliac joints | 0.19 | 0.68 | NA | 0.05 | 0.92 | NA | XXX
72202 | 26 | A | X-ray exam sacroiliac joints | 0.19 | 0.06 | 0.06 | 0.01 | 0.26 | 0.26 | XXX
72202 | TC | A | X-ray exam sacroiliac joints | 0.00 | 0.62 | NA | 0.04 | 0.66 | NA | XXX
72220 |  | A | X-ray exam of tailbone | 0.17 | 0.63 | NA | 0.05 | 0.85 | NA | XXX
72220 | 26 | A | X-ray exam of tailbone | 0.17 | 0.06 | 0.06 | 0.01 | 0.24 | 0.24 | XXX
72220 | TC | A | X-ray exam of tailbone | 0.00 | 0.57 | NA | 0.04 | 0.61 | NA | XXX
72240 |  | A | Contrast x-ray of neck spine | 0.90 | 4.99 | NA | 0.30 | 6.19 | NA | XXX
72240 | 26 | A | Contrast x-ray of neck spine | 0.90 | 0.29 | 0.29 | 0.05 | 1.24 | 1.24 | XXX
72240 | TC | A | Contrast x-ray of neck spine | 0.00 | 4.70 | NA | 0.25 | 4.95 | NA | XXX
72255 |  | A | Contrast x-ray, thorax spine | 0.90 | 4.58 | NA | 0.27 | 5.75 | NA | XXX
72255 | 26 | A | Contrast x-ray, thorax spine | 0.90 | 0.28 | 0.28 | 0.05 | 1.23 | 1.23 | XXX
72255 | TC | A | Contrast x-ray, thorax spine | 0.00 | 4.30 | NA | 0.22 | 4.52 | NA | XXX
72265 |  | A | Contrast x-ray, lower spine | 0.83 | 4.30 | NA | 0.27 | 5.40 | NA | XXX
72265 | 26 | A | Contrast x-ray, lower spine | 0.83 | 0.26 | 0.26 | 0.05 | 1.14 | 1.14 | XXX
72265 | TC | A | Contrast x-ray, lower spine | 0.00 | 4.04 | NA | 0.22 | 4.26 | NA | XXX
72270 |  | A | Contrast x-ray, spine | 1.32 | 6.48 | NA | 0.40 | 8.20 | NA | XXX
72270 | 26 | A | Contrast x-ray, spine | 1.32 | 0.43 | 0.43 | 0.08 | 1.83 | 1.83 | XXX
72270 | TC | A | Contrast x-ray, spine | 0.00 | 6.05 | NA | 0.32 | 6.37 | NA | XXX
72275 |  | A | Epidurography | 0.76 | 2.28 | NA | 0.26 | 3.30 | NA | XXX
72275 | 26 | A | Epidurography | 0.76 | 0.20 | 0.20 | 0.04 | 1.00 | 1.00 | XXX
72275 | TC | A | Epidurography | 0.00 | 2.08 | NA | 0.22 | 2.30 | NA | XXX
72285 |  | A | X-ray c/t spine disk | 1.15 | 8.68 | NA | 0.50 | 10.33 | NA | XXX
72285 | 26 | A | X-ray c/t spine disk | 1.15 | 0.36 | 0.36 | 0.07 | 1.58 | 1.58 | XXX
72285 | TC | A | X-ray c/t spine disk | 0.00 | 8.32 | NA | 0.43 | 8.75 | NA | XXX
72295 |  | A | X-ray of lower spine disk | 0.83 | 8.06 | NA | 0.45 | 9.34 | NA | XXX
72295 | 26 | A | X-ray of lower spine disk | 0.83 | 0.27 | 0.27 | 0.05 | 1.15 | 1.15 | XXX
72295 | TC | A | X-ray of lower spine disk | 0.00 | 7.79 | NA | 0.40 | 8.19 | NA | XXX
73000 |  | A | X-ray exam of collar bone | 0.16 | 0.57 | NA | 0.03 | 0.76 | NA | XXX
73000 | 26 | A | X-ray exam of collar bone | 0.16 | 0.05 | 0.05 | 0.01 | 0.22 | 0.22 | XXX
73000 | TC | A | X-ray exam of collar bone | 0.00 | 0.52 | NA | 0.02 | 0.54 | NA | XXX
73010 |  | A | X-ray exam of shoulder blade | 0.17 | 0.58 | NA | 0.03 | 0.78 | NA | XXX
73010 | 26 | A | X-ray exam of shoulder blade | 0.17 | 0.06 | 0.06 | 0.01 | 0.24 | 0.24 | XXX
73010 | TC | A | X-ray exam of shoulder blade | 0.00 | 0.52 | NA | 0.02 | 0.54 | NA | XXX
73020 |  | A | X-ray exam of shoulder | 0.15 | 0.52 | NA | 0.03 | 0.70 | NA | XXX
73020 | 26 | A | X-ray exam of shoulder | 0.15 | 0.05 | 0.05 | 0.01 | 0.21 | 0.21 | XXX
73020 | TC | A | X-ray exam of shoulder | 0.00 | 0.47 | NA | 0.02 | 0.49 | NA | XXX
73030 |  | A | X-ray exam of shoulder | 0.18 | 0.63 | NA | 0.05 | 0.86 | NA | XXX
73030 | 26 | A | X-ray exam of shoulder | 0.18 | 0.06 | 0.06 | 0.01 | 0.25 | 0.25 | XXX
73030 | TC | A | X-ray exam of shoulder | 0.00 | 0.57 | NA | 0.04 | 0.61 | NA | XXX
73040 |  | A | Contrast x-ray of shoulder | 0.54 | 2.26 | NA | 0.16 | 2.96 | NA | XXX
73040 | 26 | A | Contrast x-ray of shoulder | 0.54 | 0.18 | 0.18 | 0.04 | 0.76 | 0.76 | XXX
73040 | TC | A | Contrast x-ray of shoulder | 0.00 | 2.08 | NA | 0.12 | 2.20 | NA | XXX
73050 |  | A | X-ray exam of shoulders | 0.20 | 0.73 | NA | 0.06 | 0.99 | NA | XXX
73050 | 26 | A | X-ray exam of shoulders | 0.20 | 0.07 | 0.07 | 0.02 | 0.29 | 0.29 | XXX
73050 | TC | A | X-ray exam of shoulders | 0.00 | 0.66 | NA | 0.04 | 0.70 | NA | XXX
73060 |  | A | X-ray exam of humerus | 0.17 | 0.63 | NA | 0.05 | 0.85 | NA | XXX
73060 | 26 | A | X-ray exam of humerus | 0.17 | 0.06 | 0.06 | 0.01 | 0.24 | 0.24 | XXX
73060 | TC | A | X-ray exam of humerus | 0.00 | 0.57 | NA | 0.04 | 0.61 | NA | XXX
73070 |  | A | X-ray exam of elbow | 0.15 | 0.57 | NA | 0.03 | 0.75 | NA | XXX
73070 | 26 | A | X-ray exam of elbow | 0.15 | 0.05 | 0.05 | 0.01 | 0.21 | 0.21 | XXX
73070 | TC | A | X-ray exam of elbow | 0.00 | 0.52 | NA | 0.02 | 0.54 | NA | XXX
73080 |  | A | X-ray exam of elbow | 0.17 | 0.63 | NA | 0.05 | 0.85 | NA | XXX
73080 | 26 | A | X-ray exam of elbow | 0.17 | 0.06 | 0.06 | 0.01 | 0.24 | 0.24 | XXX
73080 | TC | A | X-ray exam of elbow | 0.00 | 0.57 | NA | 0.04 | 0.61 | NA | XXX
73085 |  | A | Contrast x-ray of elbow | 0.54 | 2.27 | NA | 0.16 | 2.97 | NA | XXX
73085 | 26 | A | Contrast x-ray of elbow | 0.54 | 0.19 | 0.19 | 0.04 | 0.77 | 0.77 | XXX
73085 | TC | A | Contrast x-ray of elbow | 0.00 | 2.08 | NA | 0.12 | 2.20 | NA | XXX
73090 |  | A | X-ray exam of forearm | 0.16 | 0.57 | NA | 0.03 | 0.76 | NA | XXX
73090 | 26 | A | X-ray exam of forearm | 0.16 | 0.05 | 0.05 | 0.01 | 0.22 | 0.22 | XXX
73090 | TC | A | X-ray exam of forearm | 0.00 | 0.52 | NA | 0.02 | 0.54 | NA | XXX
73092 |  | A | X-ray exam of arm, infant | 0.16 | 0.54 | NA | 0.03 | 0.73 | NA | XXX
73092 | 26 | A | X-ray exam of arm, infant | 0.16 | 0.05 | 0.05 | 0.01 | 0.22 | 0.22 | XXX
73092 | TC | A | X-ray exam of arm, infant | 0.00 | 0.49 | NA | 0.02 | 0.51 | NA | XXX
73100 |  | A | X-ray exam of wrist | 0.16 | 0.55 | NA | 0.04 | 0.75 | NA | XXX
73100 | 26 | A | X-ray exam of wrist | 0.16 | 0.06 | 0.06 | 0.02 | 0.24 | 0.24 | XXX
73100 | TC | A | X-ray exam of wrist | 0.00 | 0.49 | NA | 0.02 | 0.51 | NA | XXX
73110 |  | A | X-ray exam of wrist | 0.17 | 0.59 | NA | 0.03 | 0.79 | NA | XXX
73110 | 26 | A | X-ray exam of wrist | 0.17 | 0.06 | 0.06 | 0.01 | 0.24 | 0.24 | XXX
73110 | TC | A | X-ray exam of wrist | 0.00 | 0.53 | NA | 0.02 | 0.55 | NA | XXX
73115 |  | A | Contrast x-ray of wrist | 0.54 | 1.75 | NA | 0.14 | 2.43 | NA | XXX
73115 | 26 | A | Contrast x-ray of wrist | 0.54 | 0.19 | 0.19 | 0.04 | 0.77 | 0.77 | XXX
73115 | TC | A | Contrast x-ray of wrist | 0.00 | 1.56 | NA | 0.10 | 1.66 | NA | XXX
73120 |  | A | X-ray exam of hand | 0.16 | 0.54 | NA | 0.03 | 0.73 | NA | XXX
73120 | 26 | A | X-ray exam of hand | 0.16 | 0.05 | 0.05 | 0.01 | 0.22 | 0.22 | XXX
73120 | TC | A | X-ray exam of hand | 0.00 | 0.49 | NA | 0.02 | 0.51 | NA | XXX
73130 |  | A | X-ray exam of hand | 0.17 | 0.59 | NA | 0.03 | 0.79 | NA | XXX
73130 | 26 | A | X-ray exam of hand | 0.17 | 0.06 | 0.06 | 0.01 | 0.24 | 0.24 | XXX
73130 | TC | A | X-ray exam of hand | 0.00 | 0.53 | NA | 0.02 | 0.55 | NA | XXX
73140 |  | A | X-ray exam of finger(s) | 0.13 | 0.46 | NA | 0.03 | 0.62 | NA | XXX
73140 | 26 | A | X-ray exam of finger(s) | 0.13 | 0.04 | 0.04 | 0.01 | 0.18 | 0.18 | XXX
73140 | TC | A | X-ray exam of finger(s) | 0.00 | 0.42 | NA | 0.02 | 0.44 | NA | XXX
73200 |  | A | Ct upper extremity w/o dye | 1.08 | 5.28 | NA | 0.31 | 6.67 | NA | XXX
73200 | 26 | A | Ct upper extremity w/o dye | 1.08 | 0.36 | 0.36 | 0.06 | 1.50 | 1.50 | XXX
73200 | TC | A | Ct upper extremity w/o dye | 0.00 | 4.92 | NA | 0.25 | 5.17 | NA | XXX
73201 |  | A | Ct upper extremity w/dye | 1.15 | 6.24 | NA | 0.37 | 7.76 | NA | XXX
73201 | 26 | A | Ct upper extremity w/dye | 1.15 | 0.39 | 0.39 | 0.06 | 1.60 | 1.60 | XXX
73201 | TC | A | Ct upper extremity w/dye | 0.00 | 5.85 | NA | 0.31 | 6.16 | NA | XXX
73202 |  | A | Ct uppr extremity w/o&w/dye | 1.21 | 7.77 | NA | 0.45 | 9.43 | NA | XXX
73202 | 26 | A | Ct uppr extremity w/o&w/dye | 1.21 | 0.41 | 0.41 | 0.07 | 1.69 | 1.69 | XXX
73202 | TC | A | Ct uppr extremity w/o&w/dye | 0.00 | 7.36 | NA | 0.38 | 7.74 | NA | XXX
73206 |  | A | Ct angio upr extrm w/o&w/dye | 1.80 | 11.47 | NA | 0.45 | 13.72 | NA | XXX
73206 | 26 | A | Ct angio upr extrm w/o&w/dye | 1.80 | 0.60 | 0.60 | 0.07 | 2.47 | 2.47 | XXX
73206 | TC | A | Ct angio upr extrm w/o&w/dye | 0.00 | 10.87 | NA | 0.38 | 11.25 | NA | XXX
73218 |  | A | Mri upper extremity w/o dye | 1.34 | 11.56 | NA | 0.43 | 13.33 | NA | XXX
73218 | 26 | A | Mri upper extremity w/o dye | 1.34 | 0.45 | 0.45 | 0.05 | 1.84 | 1.84 | XXX
73218 | TC | A | Mri upper extremity w/o dye | 0.00 | 11.11 | NA | 0.38 | 11.49 | NA | XXX
73219 |  | A | Mri upper extremity w/dye | 1.61 | 13.88 | NA | 0.53 | 16.02 | NA | XXX
73219 | 26 | A | Mri upper extremity w/dye | 1.61 | 0.55 | 0.55 | 0.06 | 2.22 | 2.22 | XXX
73219 | TC | A | Mri upper extremity w/dye | 0.00 | 13.33 | NA | 0.47 | 13.80 | NA | XXX
73220 |  | A | Mri uppr extremity w/o&w/dye | 2.14 | 25.39 | NA | 0.94 | 28.47 | NA | XXX
73220 | 26 | A | Mri uppr extremity w/o&w/dye | 2.14 | 0.71 | 0.71 | 0.10 | 2.95 | 2.95 | XXX
73220 | TC | A | Mri uppr extremity w/o&w/dye | 0.00 | 24.68 | NA | 0.84 | 25.52 | NA | XXX
73221 |  | A | Mri joint upr extrem w/o dye | 1.34 | 11.56 | NA | 0.43 | 13.33 | NA | XXX
73221 | 26 | A | Mri joint upr extrem w/o dye | 1.34 | 0.45 | 0.45 | 0.05 | 1.84 | 1.84 | XXX
73221 | TC | A | Mri joint upr extrem w/o dye | 0.00 | 11.11 | NA | 0.38 | 11.49 | NA | XXX
73222 |  | A | Mri joint upr extrem w/dye | 1.61 | 13.87 | NA | 0.53 | 16.01 | NA | XXX
73222 | 26 | A | Mri joint upr extrem w/dye | 1.61 | 0.54 | 0.54 | 0.06 | 2.21 | 2.21 | XXX
73222 | TC | A | Mri joint upr extrem w/dye | 0.00 | 13.33 | NA | 0.47 | 13.80 | NA | XXX
73223 |  | A | Mri joint upr extr w/o&w/dye | 2.14 | 25.39 | NA | 0.92 | 28.45 | NA | XXX
73223 | 26 | A | Mri joint upr extr w/o&w/dye | 2.14 | 0.71 | 0.71 | 0.08 | 2.93 | 2.93 | XXX
73223 | TC | A | Mri joint upr extr w/o&w/dye | 0.00 | 24.68 | NA | 0.84 | 25.52 | NA | XXX
73225 |  | N | Mr angio upr extr w/o&w/dye | +1.72 | 11.74 | 11.74 | 0.69 | 14.15 | 14.15 | XXX
73225 | 26 | N | Mr angio upr extr w/o&w/dye | +1.72 | 0.67 | 0.67 | 0.10 | 2.49 | 2.49 | XXX
73225 | TC | N | Mr angio upr extr w/o&w/dye | +0.00 | 11.07 | 11.07 | 0.59 | 11.66 | 11.66 | XXX
73500 |  | A | X-ray exam of hip | 0.17 | 0.53 | NA | 0.03 | 0.73 | NA | XXX
73500 | 26 | A | X-ray exam of hip | 0.17 | 0.06 | 0.06 | 0.01 | 0.24 | 0.24 | XXX
73500 | TC | A | X-ray exam of hip | 0.00 | 0.47 | NA | 0.02 | 0.49 | NA | XXX
73510 |  | A | X-ray exam of hip | 0.21 | 0.64 | NA | 0.06 | 0.91 | NA | XXX
73510 | 26 | A | X-ray exam of hip | 0.21 | 0.07 | 0.07 | 0.02 | 0.30 | 0.30 | XXX
73510 | TC | A | X-ray exam of hip | 0.00 | 0.57 | NA | 0.04 | 0.61 | NA | XXX
73520 |  | A | X-ray exam of hips | 0.26 | 0.75 | NA | 0.06 | 1.07 | NA | XXX
73520 | 26 | A | X-ray exam of hips | 0.26 | 0.09 | 0.09 | 0.02 | 0.37 | 0.37 | XXX
73520 | TC | A | X-ray exam of hips | 0.00 | 0.66 | NA | 0.04 | 0.70 | NA | XXX
73525 |  | A | Contrast x-ray of hip | 0.54 | 2.26 | NA | 0.16 | 2.96 | NA | XXX
73525 | 26 | A | Contrast x-ray of hip | 0.54 | 0.18 | 0.18 | 0.04 | 0.76 | 0.76 | XXX
73525 | TC | A | Contrast x-ray of hip | 0.00 | 2.08 | NA | 0.12 | 2.20 | NA | XXX
73530 |  | A | X-ray exam of hip | 0.29 | 0.62 | NA | 0.03 | 0.94 | NA | XXX
73530 | 26 | A | X-ray exam of hip | 0.29 | 0.10 | 0.10 | 0.01 | 0.40 | 0.40 | XXX
73530 | TC | A | X-ray exam of hip | 0.00 | 0.52 | NA | 0.02 | 0.54 | NA | XXX
73540 |  | A | X-ray exam of pelvis & hips | 0.20 | 0.64 | NA | 0.06 | 0.90 | NA | XXX
73540 | 26 | A | X-ray exam of pelvis & hips | 0.20 | 0.07 | 0.07 | 0.02 | 0.29 | 0.29 | XXX
73540 | TC | A | X-ray exam of pelvis & hips | 0.00 | 0.57 | NA | 0.04 | 0.61 | NA | XXX
73542 |  | A | X-ray exam, sacroiliac joint | 0.59 | 2.24 | NA | 0.16 | 2.99 | NA | XXX
73542 | 26 | A | X-ray exam, sacroiliac joint | 0.59 | 0.16 | 0.16 | 0.04 | 0.79 | 0.79 | XXX
73542 | TC | A | X-ray exam, sacroiliac joint | 0.00 | 2.08 | NA | 0.12 | 2.20 | NA | XXX
73550 |  | A | X-ray exam of thigh | 0.17 | 0.63 | NA | 0.05 | 0.85 | NA | XXX
73550 | 26 | A | X-ray exam of thigh | 0.17 | 0.06 | 0.06 | 0.01 | 0.24 | 0.24 | XXX
73550 | TC | A | X-ray exam of thigh | 0.00 | 0.57 | NA | 0.04 | 0.61 | NA | XXX
73560 |  | A | X-ray exam of knee, 1 or 2 | 0.17 | 0.58 | NA | 0.04 | 0.79 | NA | XXX
73560 | 26 | A | X-ray exam of knee, 1 or 2 | 0.17 | 0.06 | 0.06 | 0.02 | 0.25 | 0.25 | XXX
73560 | TC | A | X-ray exam of knee, 1 or 2 | 0.00 | 0.52 | NA | 0.02 | 0.54 | NA | XXX
73562 |  | A | X-ray exam of knee, 3 | 0.18 | 0.63 | NA | 0.06 | 0.87 | NA | XXX
73562 | 26 | A | X-ray exam of knee, 3 | 0.18 | 0.06 | 0.06 | 0.02 | 0.26 | 0.26 | XXX
73562 | TC | A | X-ray exam of knee, 3 | 0.00 | 0.57 | NA | 0.04 | 0.61 | NA | XXX
73564 |  | A | X-ray exam, knee, 4 or more | 0.22 | 0.70 | NA | 0.06 | 0.98 | NA | XXX
73564 | 26 | A | X-ray exam, knee, 4 or more | 0.22 | 0.08 | 0.08 | 0.02 | 0.32 | 0.32 | XXX
73564 | TC | A | X-ray exam, knee, 4 or more | 0.00 | 0.62 | NA | 0.04 | 0.66 | NA | XXX
73565 |  | A | X-ray exam of knees | 0.17 | 0.55 | NA | 0.04 | 0.76 | NA | XXX
73565 | 26 | A | X-ray exam of knees | 0.17 | 0.06 | 0.06 | 0.02 | 0.25 | 0.25 | XXX
73565 | TC | A | X-ray exam of knees | 0.00 | 0.49 | NA | 0.02 | 0.51 | NA | XXX
73580 |  | A | Contrast x-ray of knee joint | 0.54 | 2.78 | NA | 0.18 | 3.50 | NA | XXX
73580 | 26 | A | Contrast x-ray of knee joint | 0.54 | 0.18 | 0.18 | 0.04 | 0.76 | 0.76 | XXX
73580 | TC | A | Contrast x-ray of knee joint | 0.00 | 2.60 | NA | 0.14 | 2.74 | NA | XXX
73590 |  | A | X-ray exam of lower leg | 0.17 | 0.58 | NA | 0.03 | 0.78 | NA | XXX
73590 | 26 | A | X-ray exam of lower leg | 0.17 | 0.06 | 0.06 | 0.01 | 0.24 | 0.24 | XXX
73590 | TC | A | X-ray exam of lower leg | 0.00 | 0.52 | NA | 0.02 | 0.54 | NA | XXX
73592 |  | A | X-ray exam of leg, infant | 0.16 | 0.55 | NA | 0.03 | 0.74 | NA | XXX
73592 | 26 | A | X-ray exam of leg, infant | 0.16 | 0.06 | 0.06 | 0.01 | 0.23 | 0.23 | XXX
73592 | TC | A | X-ray exam of leg, infant | 0.00 | 0.49 | NA | 0.02 | 0.51 | NA | XXX
73600 |  | A | X-ray exam of ankle | 0.16 | 0.54 | NA | 0.03 | 0.73 | NA | XXX
73600 | 26 | A | X-ray exam of ankle | 0.16 | 0.05 | 0.05 | 0.01 | 0.22 | 0.22 | XXX
73600 | TC | A | X-ray exam of ankle | 0.00 | 0.49 | NA | 0.02 | 0.51 | NA | XXX
73610 |  | A | X-ray exam of ankle | 0.17 | 0.59 | NA | 0.03 | 0.79 | NA | XXX
73610 | 26 | A | X-ray exam of ankle | 0.17 | 0.06 | 0.06 | 0.01 | 0.24 | 0.24 | XXX
73610 | TC | A | X-ray exam of ankle | 0.00 | 0.53 | NA | 0.02 | 0.55 | NA | XXX
73615 |  | A | Contrast x-ray of ankle | 0.54 | 2.27 | NA | 0.16 | 2.97 | NA | XXX
73615 | 26 | A | Contrast x-ray of ankle | 0.54 | 0.19 | 0.19 | 0.04 | 0.77 | 0.77 | XXX
73615 | TC | A | Contrast x-ray of ankle | 0.00 | 2.08 | NA | 0.12 | 2.20 | NA | XXX
73620 |  | A | X-ray exam of foot | 0.16 | 0.54 | NA | 0.03 | 0.73 | NA | XXX
73620 | 26 | A | X-ray exam of foot | 0.16 | 0.05 | 0.05 | 0.01 | 0.22 | 0.22 | XXX
73620 | TC | A | X-ray exam of foot | 0.00 | 0.49 | NA | 0.02 | 0.51 | NA | XXX
73630 |  | A | X-ray exam of foot | 0.17 | 0.59 | NA | 0.03 | 0.79 | NA | XXX
73630 | 26 | A | X-ray exam of foot | 0.17 | 0.06 | 0.06 | 0.01 | 0.24 | 0.24 | XXX
73630 | TC | A | X-ray exam of foot | 0.00 | 0.53 | NA | 0.02 | 0.55 | NA | XXX
73650 |  | A | X-ray exam of heel | 0.16 | 0.52 | NA | 0.03 | 0.71 | NA | XXX
73650 | 26 | A | X-ray exam of heel | 0.16 | 0.05 | 0.05 | 0.01 | 0.22 | 0.22 | XXX
73650 | TC | A | X-ray exam of heel | 0.00 | 0.47 | NA | 0.02 | 0.49 | NA | XXX
73660 |  | A | X-ray exam of toe(s) | 0.13 | 0.46 | NA | 0.03 | 0.62 | NA | XXX
73660 | 26 | A | X-ray exam of toe(s) | 0.13 | 0.04 | 0.04 | 0.01 | 0.18 | 0.18 | XXX
73660 | TC | A | X-ray exam of toe(s) | 0.00 | 0.42 | NA | 0.02 | 0.44 | NA | XXX
73700 |  | A | Ct lower extremity w/o dye | 1.08 | 5.28 | NA | 0.31 | 6.67 | NA | XXX
73700 | 26 | A | Ct lower extremity w/o dye | 1.08 | 0.36 | 0.36 | 0.06 | 1.50 | 1.50 | XXX
73700 | TC | A | Ct lower extremity w/o dye | 0.00 | 4.92 | NA | 0.25 | 5.17 | NA | XXX
73701 |  | A | Ct lower extremity w/dye | 1.15 | 6.24 | NA | 0.37 | 7.76 | NA | XXX
73701 | 26 | A | Ct lower extremity w/dye | 1.15 | 0.39 | 0.39 | 0.06 | 1.60 | 1.60 | XXX
73701 | TC | A | Ct lower extremity w/dye | 0.00 | 5.85 | NA | 0.31 | 6.16 | NA | XXX
73702 |  | A | Ct lwr extremity w/o&w/dye | 1.21 | 7.77 | NA | 0.44 | 9.42 | NA | XXX
73702 | 26 | A | Ct lwr extremity w/o&w/dye | 1.21 | 0.41 | 0.41 | 0.06 | 1.68 | 1.68 | XXX
73702 | TC | A | Ct lwr extremity w/o&w/dye | 0.00 | 7.36 | NA | 0.38 | 7.74 | NA | XXX
73706 |  | A | Ct angio lwr extr w/o&w/dye | 1.89 | 11.51 | NA | 0.45 | 13.85 | NA | XXX
73706 | 26 | A | Ct angio lwr extr w/o&w/dye | 1.89 | 0.64 | 0.64 | 0.07 | 2.60 | 2.60 | XXX
73706 | TC | A | Ct angio lwr extr w/o&w/dye | 0.00 | 10.87 | NA | 0.38 | 11.25 | NA | XXX
73718 |  | A | Mri lower extremity w/o dye | 1.34 | 11.56 | NA | 0.43 | 13.33 | NA | XXX
73718 | 26 | A | Mri lower extremity w/o dye | 1.34 | 0.45 | 0.45 | 0.05 | 1.84 | 1.84 | XXX
73718 | TC | A | Mri lower extremity w/o dye | 0.00 | 11.11 | NA | 0.38 | 11.49 | NA | XXX
73719 |  | A | Mri lower extremity w/dye | 1.61 | 13.87 | NA | 0.53 | 16.01 | NA | XXX
73719 | 26 | A | Mri lower extremity w/dye | 1.61 | 0.54 | 0.54 | 0.06 | 2.21 | 2.21 | XXX
73719 | TC | A | Mri lower extremity w/dye | 0.00 | 13.33 | NA | 0.47 | 13.80 | NA | XXX
73720 |  | A | Mri lwr extremity w/o&w/dye | 2.14 | 25.39 | NA | 0.94 | 28.47 | NA | XXX
73720 | 26 | A | Mri lwr extremity w/o&w/dye | 2.14 | 0.71 | 0.71 | 0.10 | 2.95 | 2.95 | XXX
73720 | TC | A | Mri lwr extremity w/o&w/dye | 0.00 | 24.68 | NA | 0.84 | 25.52 | NA | XXX
73721 |  | A | Mri jnt of lwr extre w/o dye | 1.34 | 11.56 | NA | 0.43 | 13.33 | NA | XXX
73721 | 26 | A | Mri jnt of lwr extre w/o dye | 1.34 | 0.45 | 0.45 | 0.05 | 1.84 | 1.84 | XXX
73721 | TC | A | Mri jnt of lwr extre w/o dye | 0.00 | 11.11 | NA | 0.38 | 11.49 | NA | XXX
73722 |  | A | Mri joint of lwr extr w/dye | 1.61 | 13.88 | NA | 0.54 | 16.03 | NA | XXX
73722 | 26 | A | Mri joint of lwr extr w/dye | 1.61 | 0.55 | 0.55 | 0.07 | 2.23 | 2.23 | XXX
73722 | TC | A | Mri joint of lwr extr w/dye | 0.00 | 13.33 | NA | 0.47 | 13.80 | NA | XXX
73723 |  | A | Mri joint lwr extr w/o&w/dye | 2.14 | 25.39 | NA | 0.92 | 28.45 | NA | XXX
73723 | 26 | A | Mri joint lwr extr w/o&w/dye | 2.14 | 0.71 | 0.71 | 0.08 | 2.93 | 2.93 | XXX
73723 | TC | A | Mri joint lwr extr w/o&w/dye | 0.00 | 24.68 | NA | 0.84 | 25.52 | NA | XXX
73725 |  | R | Mr ang lwr ext w or w/o dye | 1.81 | 11.72 | NA | 0.69 | 14.22 | NA | XXX
73725 | 26 | R | Mr ang lwr ext w or w/o dye | 1.81 | 0.61 | 0.61 | 0.10 | 2.52 | 2.52 | XXX
73725 | TC | R | Mr ang lwr ext w or w/o dye | 0.00 | 11.11 | NA | 0.59 | 11.70 | NA | XXX
74000 |  | A | X-ray exam of abdomen | 0.18 | 0.58 | NA | 0.03 | 0.79 | NA | XXX
74000 | 26 | A | X-ray exam of abdomen | 0.18 | 0.06 | 0.06 | 0.01 | 0.25 | 0.25 | XXX
74000 | TC | A | X-ray exam of abdomen | 0.00 | 0.52 | NA | 0.02 | 0.54 | NA | XXX
74010 |  | A | X-ray exam of abdomen | 0.23 | 0.65 | NA | 0.05 | 0.93 | NA | XXX
74010 | 26 | A | X-ray exam of abdomen | 0.23 | 0.08 | 0.08 | 0.01 | 0.32 | 0.32 | XXX
74010 | TC | A | X-ray exam of abdomen | 0.00 | 0.57 | NA | 0.04 | 0.61 | NA | XXX
74020 |  | A | X-ray exam of abdomen | 0.27 | 0.71 | NA | 0.05 | 1.03 | NA | XXX
74020 | 26 | A | X-ray exam of abdomen | 0.27 | 0.09 | 0.09 | 0.01 | 0.37 | 0.37 | XXX
74020 | TC | A | X-ray exam of abdomen | 0.00 | 0.62 | NA | 0.04 | 0.66 | NA | XXX
74022 |  | A | X-ray exam series, abdomen | 0.32 | 0.83 | NA | 0.06 | 1.21 | NA | XXX
74022 | 26 | A | X-ray exam series, abdomen | 0.32 | 0.11 | 0.11 | 0.01 | 0.44 | 0.44 | XXX
74022 | TC | A | X-ray exam series, abdomen | 0.00 | 0.72 | NA | 0.05 | 0.77 | NA | XXX
74150 |  | A | Ct abdomen w/o dye | 1.18 | 6.01 | NA | 0.36 | 7.55 | NA | XXX
74150 | 26 | A | Ct abdomen w/o dye | 1.18 | 0.40 | 0.40 | 0.06 | 1.64 | 1.64 | XXX
74150 | TC | A | Ct abdomen w/o dye | 0.00 | 5.61 | NA | 0.30 | 5.91 | NA | XXX
74160 |  | A | Ct abdomen w/dye | 1.26 | 7.21 | NA | 0.43 | 8.90 | NA | XXX
74160 | 26 | A | Ct abdomen w/dye | 1.26 | 0.42 | 0.42 | 0.07 | 1.75 | 1.75 | XXX
74160 | TC | A | Ct abdomen w/dye | 0.00 | 6.79 | NA | 0.36 | 7.15 | NA | XXX
74170 |  | A | Ct abdomen w/o &w /dye | 1.39 | 8.88 | NA | 0.50 | 10.77 | NA | XXX
74170 | 26 | A | Ct abdomen w/o &w /dye | 1.39 | 0.47 | 0.47 | 0.07 | 1.93 | 1.93 | XXX
74170 | TC | A | Ct abdomen w/o &w /dye | 0.00 | 8.41 | NA | 0.43 | 8.84 | NA | XXX
74175 |  | A | Ct angio abdom w/o & w/dye | 1.89 | 12.57 | NA | 0.45 | 14.91 | NA | XXX
74175 | 26 | A | Ct angio abdom w/o & w/dye | 1.89 | 0.64 | 0.64 | 0.07 | 2.60 | 2.60 | XXX
74175 | TC | A | Ct angio abdom w/o & w/dye | 0.00 | 11.93 | NA | 0.38 | 12.31 | NA | XXX
74181 |  | A | Mri abdomen w/o dye | 1.45 | 11.60 | NA | 0.51 | 13.56 | NA | XXX
74181 | 26 | A | Mri abdomen w/o dye | 1.45 | 0.49 | 0.49 | 0.07 | 2.01 | 2.01 | XXX
74181 | TC | A | Mri abdomen w/o dye | 0.00 | 11.11 | NA | 0.44 | 11.55 | NA | XXX
74182 |  | A | Mri abdomen w/dye | 1.72 | 13.91 | NA | 0.59 | 16.22 | NA | XXX
74182 | 26 | A | Mri abdomen w/dye | 1.72 | 0.58 | 0.58 | 0.07 | 2.37 | 2.37 | XXX
74182 | TC | A | Mri abdomen w/dye | 0.00 | 13.33 | NA | 0.52 | 13.85 | NA | XXX
74183 |  | A | Mri abdomen w/o & w/dye | 2.25 | 25.43 | NA | 1.01 | 28.69 | NA | XXX
74183 | 26 | A | Mri abdomen w/o & w/dye | 2.25 | 0.75 | 0.75 | 0.10 | 3.10 | 3.10 | XXX
74183 | TC | A | Mri abdomen w/o & w/dye | 0.00 | 24.68 | NA | 0.91 | 25.59 | NA | XXX
74185 |  | R | Mri angio, abdom w orw/o dye | 1.79 | 11.71 | NA | 0.69 | 14.19 | NA | XXX
74185 | 26 | R | Mri angio, abdom w orw/o dye | 1.79 | 0.60 | 0.60 | 0.10 | 2.49 | 2.49 | XXX
74185 | TC | R | Mri angio, abdom w orw/o dye | 0.00 | 11.11 | NA | 0.59 | 11.70 | NA | XXX
74190 |  | A | X-ray exam of peritoneum | 0.48 | 1.45 | NA | 0.09 | 2.02 | NA | XXX
74190 | 26 | A | X-ray exam of peritoneum | 0.48 | 0.16 | 0.16 | 0.02 | 0.66 | 0.66 | XXX
74190 | TC | A | X-ray exam of peritoneum | 0.00 | 1.29 | NA | 0.07 | 1.36 | NA | XXX
74210 |  | A | Contrst x-ray exam of throat | 0.36 | 1.30 | NA | 0.08 | 1.74 | NA | XXX
74210 | 26 | A | Contrst x-ray exam of throat | 0.36 | 0.12 | 0.12 | 0.02 | 0.50 | 0.50 | XXX
74210 | TC | A | Contrst x-ray exam of throat | 0.00 | 1.18 | NA | 0.06 | 1.24 | NA | XXX
74220 |  | A | Contrast x-ray, esophagus | 0.46 | 1.33 | NA | 0.08 | 1.87 | NA | XXX
74220 | 26 | A | Contrast x-ray, esophagus | 0.46 | 0.15 | 0.15 | 0.02 | 0.63 | 0.63 | XXX
74220 | TC | A | Contrast x-ray, esophagus | 0.00 | 1.18 | NA | 0.06 | 1.24 | NA | XXX
74230 |  | A | Cine/vid x-ray, throat/esoph | 0.53 | 1.47 | NA | 0.09 | 2.09 | NA | XXX
74230 | 26 | A | Cine/vid x-ray, throat/esoph | 0.53 | 0.18 | 0.18 | 0.02 | 0.73 | 0.73 | XXX
74230 | TC | A | Cine/vid x-ray, throat/esoph | 0.00 | 1.29 | NA | 0.07 | 1.36 | NA | XXX
74235 |  | A | Remove esophagus obstruction | 1.18 | 3.00 | NA | 0.20 | 4.38 | NA | XXX
74235 | 26 | A | Remove esophagus obstruction | 1.18 | 0.40 | 0.40 | 0.06 | 1.64 | 1.64 | XXX
74235 | TC | A | Remove esophagus obstruction | 0.00 | 2.60 | NA | 0.14 | 2.74 | NA | XXX
74240 |  | A | X-ray exam, upper gi tract | 0.69 | 1.68 | NA | 0.12 | 2.49 | NA | XXX
74240 | 26 | A | X-ray exam, upper gi tract | 0.69 | 0.23 | 0.23 | 0.04 | 0.96 | 0.96 | XXX
74240 | TC | A | X-ray exam, upper gi tract | 0.00 | 1.45 | NA | 0.08 | 1.53 | NA | XXX
74241 |  | A | X-ray exam, upper gi tract | 0.69 | 1.71 | NA | 0.12 | 2.52 | NA | XXX
74241 | 26 | A | X-ray exam, upper gi tract | 0.69 | 0.23 | 0.23 | 0.04 | 0.96 | 0.96 | XXX
74241 | TC | A | X-ray exam, upper gi tract | 0.00 | 1.48 | NA | 0.08 | 1.56 | NA | XXX
74245 |  | A | X-ray exam, upper gi tract | 0.90 | 2.66 | NA | 0.18 | 3.74 | NA | XXX
74245 | 26 | A | X-ray exam, upper gi tract | 0.90 | 0.30 | 0.30 | 0.05 | 1.25 | 1.25 | XXX
74245 | TC | A | X-ray exam, upper gi tract | 0.00 | 2.36 | NA | 0.13 | 2.49 | NA | XXX
74246 |  | A | Contrst x-ray uppr gi tract | 0.69 | 1.86 | NA | 0.14 | 2.69 | NA | XXX
74246 | 26 | A | Contrst x-ray uppr gi tract | 0.69 | 0.23 | 0.23 | 0.04 | 0.96 | 0.96 | XXX
74246 | TC | A | Contrst x-ray uppr gi tract | 0.00 | 1.63 | NA | 0.10 | 1.73 | NA | XXX
74247 |  | A | Contrst x-ray uppr gi tract | 0.69 | 1.90 | NA | 0.15 | 2.74 | NA | XXX
74247 | 26 | A | Contrst x-ray uppr gi tract | 0.69 | 0.23 | 0.23 | 0.04 | 0.96 | 0.96 | XXX
74247 | TC | A | Contrst x-ray uppr gi tract | 0.00 | 1.67 | NA | 0.11 | 1.78 | NA | XXX
74249 |  | A | Contrst x-ray uppr gi tract | 0.90 | 2.85 | NA | 0.19 | 3.94 | NA | XXX
74249 | 26 | A | Contrst x-ray uppr gi tract | 0.90 | 0.30 | 0.30 | 0.05 | 1.25 | 1.25 | XXX
74249 | TC | A | Contrst x-ray uppr gi tract | 0.00 | 2.55 | NA | 0.14 | 2.69 | NA | XXX
74250 |  | A | X-ray exam of small bowel | 0.47 | 1.45 | NA | 0.09 | 2.01 | NA | XXX
74250 | 26 | A | X-ray exam of small bowel | 0.47 | 0.16 | 0.16 | 0.02 | 0.65 | 0.65 | XXX
74250 | TC | A | X-ray exam of small bowel | 0.00 | 1.29 | NA | 0.07 | 1.36 | NA | XXX
74251 |  | A | X-ray exam of small bowel | 0.69 | 1.52 | NA | 0.11 | 2.32 | NA | XXX
74251 | 26 | A | X-ray exam of small bowel | 0.69 | 0.23 | 0.23 | 0.04 | 0.96 | 0.96 | XXX
74251 | TC | A | X-ray exam of small bowel | 0.00 | 1.29 | NA | 0.07 | 1.36 | NA | XXX
74260 |  | A | X-ray exam of small bowel | 0.50 | 1.65 | NA | 0.10 | 2.25 | NA | XXX
74260 | 26 | A | X-ray exam of small bowel | 0.50 | 0.17 | 0.17 | 0.02 | 0.69 | 0.69 | XXX
74260 | TC | A | X-ray exam of small bowel | 0.00 | 1.48 | NA | 0.08 | 1.56 | NA | XXX
74270 |  | A | Contrast x-ray exam of colon | 0.69 | 1.92 | NA | 0.15 | 2.76 | NA | XXX
74270 | 26 | A | Contrast x-ray exam of colon | 0.69 | 0.23 | 0.23 | 0.04 | 0.96 | 0.96 | XXX
74270 | TC | A | Contrast x-ray exam of colon | 0.00 | 1.69 | NA | 0.11 | 1.80 | NA | XXX
74280 |  | A | Contrast x-ray exam of colon | 0.98 | 2.54 | NA | 0.18 | 3.70 | NA | XXX
74280 | 26 | A | Contrast x-ray exam of colon | 0.98 | 0.33 | 0.33 | 0.05 | 1.36 | 1.36 | XXX
74280 | TC | A | Contrast x-ray exam of colon | 0.00 | 2.21 | NA | 0.13 | 2.34 | NA | XXX
74283 |  | A | Contrast x-ray exam of colon | 2.01 | 3.20 | NA | 0.25 | 5.46 | NA | XXX
74283 | 26 | A | Contrast x-ray exam of colon | 2.01 | 0.66 | 0.66 | 0.11 | 2.78 | 2.78 | XXX
74283 | TC | A | Contrast x-ray exam of colon | 0.00 | 2.54 | NA | 0.14 | 2.68 | NA | XXX
74290 |  | A | Contrast x-ray, gallbladder | 0.32 | 0.83 | NA | 0.06 | 1.21 | NA | XXX
74290 | 26 | A | Contrast x-ray, gallbladder | 0.32 | 0.11 | 0.11 | 0.01 | 0.44 | 0.44 | XXX
74290 | TC | A | Contrast x-ray, gallbladder | 0.00 | 0.72 | NA | 0.05 | 0.77 | NA | XXX
74291 |  | A | Contrast x-rays, gallbladder | 0.20 | 0.49 | NA | 0.03 | 0.72 | NA | XXX
74291 | 26 | A | Contrast x-rays, gallbladder | 0.20 | 0.07 | 0.07 | 0.01 | 0.28 | 0.28 | XXX
74291 | TC | A | Contrast x-rays, gallbladder | 0.00 | 0.42 | NA | 0.02 | 0.44 | NA | XXX
74300 |  | C | X-ray bile ducts/pancreas | 0.00 | 0.00 | 0.00 | 0.00 | 0.00 | 0.00 | XXX
74300 | 26 | A | X-ray bile ducts/pancreas | 0.36 | 0.12 | 0.12 | 0.02 | 0.50 | 0.50 | XXX
74300 | TC | C | X-ray bile ducts/pancreas | 0.00 | 0.00 | 0.00 | 0.00 | 0.00 | 0.00 | XXX
74301 |  | C | X-rays at surgery add-on | 0.00 | 0.00 | 0.00 | 0.00 | 0.00 | 0.00 | ZZZ
74301 | 26 | A | X-rays at surgery add-on | 0.21 | 0.07 | 0.07 | 0.01 | 0.29 | 0.29 | ZZZ
74301 | TC | C | X-rays at surgery add-on | 0.00 | 0.00 | 0.00 | 0.00 | 0.00 | 0.00 | ZZZ
74305 |  | A | X-ray bile ducts/pancreas | 0.42 | 0.91 | NA | 0.07 | 1.40 | NA | XXX
74305 | 26 | A | X-ray bile ducts/pancreas | 0.42 | 0.14 | 0.14 | 0.02 | 0.58 | 0.58 | XXX
74305 | TC | A | X-ray bile ducts/pancreas | 0.00 | 0.77 | NA | 0.05 | 0.82 | NA | XXX
74320 |  | A | Contrast x-ray of bile ducts | 0.54 | 3.31 | NA | 0.19 | 4.04 | NA | XXX
74320 | 26 | A | Contrast x-ray of bile ducts | 0.54 | 0.18 | 0.18 | 0.02 | 0.74 | 0.74 | XXX
74320 | TC | A | Contrast x-ray of bile ducts | 0.00 | 3.13 | NA | 0.17 | 3.30 | NA | XXX
74327 |  | A | X-ray bile stone removal | 0.70 | 1.98 | NA | 0.15 | 2.83 | NA | XXX
74327 | 26 | A | X-ray bile stone removal | 0.70 | 0.23 | 0.23 | 0.04 | 0.97 | 0.97 | XXX
74327 | TC | A | X-ray bile stone removal | 0.00 | 1.75 | NA | 0.11 | 1.86 | NA | XXX
74328 |  | A | X-ray bile duct endoscopy | 0.70 | 3.36 | NA | 0.21 | 4.27 | NA | XXX
74328 | 26 | A | X-ray bile duct endoscopy | 0.70 | 0.23 | 0.23 | 0.04 | 0.97 | 0.97 | XXX
74328 | TC | A | X-ray bile duct endoscopy | 0.00 | 3.13 | NA | 0.17 | 3.30 | NA | XXX
74329 |  | A | X-ray for pancreas endoscopy | 0.70 | 3.36 | NA | 0.21 | 4.27 | NA | XXX
74329 | 26 | A | X-ray for pancreas endoscopy | 0.70 | 0.23 | 0.23 | 0.04 | 0.97 | 0.97 | XXX
74329 | TC | A | X-ray for pancreas endoscopy | 0.00 | 3.13 | NA | 0.17 | 3.30 | NA | XXX
74330 |  | A | X-ray bile/panc endoscopy | 0.89 | 3.43 | NA | 0.22 | 4.54 | NA | XXX
74330 | 26 | A | X-ray bile/panc endoscopy | 0.89 | 0.30 | 0.30 | 0.05 | 1.24 | 1.24 | XXX
74330 | TC | A | X-ray bile/panc endoscopy | 0.00 | 3.13 | NA | 0.17 | 3.30 | NA | XXX
74340 |  | A | X-ray guide for GI tube | 0.54 | 2.78 | NA | 0.16 | 3.48 | NA | XXX
74340 | 26 | A | X-ray guide for GI tube | 0.54 | 0.18 | 0.18 | 0.02 | 0.74 | 0.74 | XXX
74340 | TC | A | X-ray guide for GI tube | 0.00 | 2.60 | NA | 0.14 | 2.74 | NA | XXX
74350 |  | A | X-ray guide, stomach tube | 0.76 | 3.38 | NA | 0.21 | 4.35 | NA | XXX
74350 | 26 | A | X-ray guide, stomach tube | 0.76 | 0.25 | 0.25 | 0.04 | 1.05 | 1.05 | XXX
74350 | TC | A | X-ray guide, stomach tube | 0.00 | 3.13 | NA | 0.17 | 3.30 | NA | XXX
74355 |  | A | X-ray guide, intestinal tube | 0.76 | 2.85 | NA | 0.18 | 3.79 | NA | XXX
74355 | 26 | A | X-ray guide, intestinal tube | 0.76 | 0.25 | 0.25 | 0.04 | 1.05 | 1.05 | XXX
74355 | TC | A | X-ray guide, intestinal tube | 0.00 | 2.60 | NA | 0.14 | 2.74 | NA | XXX
74360 |  | A | X-ray guide, GI dilation | 0.54 | 3.32 | NA | 0.19 | 4.05 | NA | XXX
74360 | 26 | A | X-ray guide, GI dilation | 0.54 | 0.19 | 0.19 | 0.02 | 0.75 | 0.75 | XXX
74360 | TC | A | X-ray guide, GI dilation | 0.00 | 3.13 | NA | 0.17 | 3.30 | NA | XXX
74363 |  | A | X-ray, bile duct dilation | 0.87 | 6.34 | NA | 0.37 | 7.58 | NA | XXX
74363 | 26 | A | X-ray, bile duct dilation | 0.87 | 0.29 | 0.29 | 0.05 | 1.21 | 1.21 | XXX
74363 | TC | A | X-ray, bile duct dilation | 0.00 | 6.05 | NA | 0.32 | 6.37 | NA | XXX
74400 |  | A | Contrst x-ray, urinary tract | 0.49 | 1.83 | NA | 0.13 | 2.45 | NA | XXX
74400 | 26 | A | Contrst x-ray, urinary tract | 0.49 | 0.16 | 0.16 | 0.02 | 0.67 | 0.67 | XXX
74400 | TC | A | Contrst x-ray, urinary tract | 0.00 | 1.67 | NA | 0.11 | 1.78 | NA | XXX
74410 |  | A | Contrst x-ray, urinary tract | 0.49 | 2.09 | NA | 0.13 | 2.71 | NA | XXX
74410 | 26 | A | Contrst x-ray, urinary tract | 0.49 | 0.16 | 0.16 | 0.02 | 0.67 | 0.67 | XXX
74410 | TC | A | Contrst x-ray, urinary tract | 0.00 | 1.93 | NA | 0.11 | 2.04 | NA | XXX
74415 |  | A | Contrst x-ray, urinary tract | 0.49 | 2.26 | NA | 0.14 | 2.89 | NA | XXX
74415 | 26 | A | Contrst x-ray, urinary tract | 0.49 | 0.16 | 0.16 | 0.02 | 0.67 | 0.67 | XXX
74415 | TC | A | Contrst x-ray, urinary tract | 0.00 | 2.10 | NA | 0.12 | 2.22 | NA | XXX
74420 |  | A | Contrst x-ray, urinary tract | 0.36 | 2.72 | NA | 0.16 | 3.24 | NA | XXX
74420 | 26 | A | Contrst x-ray, urinary tract | 0.36 | 0.12 | 0.12 | 0.02 | 0.50 | 0.50 | XXX
74420 | TC | A | Contrst x-ray, urinary tract | 0.00 | 2.60 | NA | 0.14 | 2.74 | NA | XXX
74425 |  | A | Contrst x-ray, urinary tract | 0.36 | 1.41 | NA | 0.09 | 1.86 | NA | XXX
74425 | 26 | A | Contrst x-ray, urinary tract | 0.36 | 0.12 | 0.12 | 0.02 | 0.50 | 0.50 | XXX
74425 | TC | A | Contrst x-ray, urinary tract | 0.00 | 1.29 | NA | 0.07 | 1.36 | NA | XXX
74430 |  | A | Contrast x-ray, bladder | 0.32 | 1.15 | NA | 0.08 | 1.55 | NA | XXX
74430 | 26 | A | Contrast x-ray, bladder | 0.32 | 0.11 | 0.11 | 0.02 | 0.45 | 0.45 | XXX
74430 | TC | A | Contrast x-ray, bladder | 0.00 | 1.04 | NA | 0.06 | 1.10 | NA | XXX
74440 |  | A | X-ray, male genital tract | 0.38 | 1.24 | NA | 0.08 | 1.70 | NA | XXX
74440 | 26 | A | X-ray, male genital tract | 0.38 | 0.12 | 0.12 | 0.02 | 0.52 | 0.52 | XXX
74440 | TC | A | X-ray, male genital tract | 0.00 | 1.12 | NA | 0.06 | 1.18 | NA | XXX
74445 |  | A | X-ray exam of penis | 1.13 | 1.50 | NA | 0.12 | 2.75 | NA | XXX
74445 | 26 | A | X-ray exam of penis | 1.13 | 0.38 | 0.38 | 0.06 | 1.57 | 1.57 | XXX
74445 | TC | A | X-ray exam of penis | 0.00 | 1.12 | NA | 0.06 | 1.18 | NA | XXX
74450 |  | A | X-ray, urethra/bladder | 0.33 | 1.56 | NA | 0.10 | 1.99 | NA | XXX
74450 | 26 | A | X-ray, urethra/bladder | 0.33 | 0.11 | 0.11 | 0.02 | 0.46 | 0.46 | XXX
74450 | TC | A | X-ray, urethra/bladder | 0.00 | 1.45 | NA | 0.08 | 1.53 | NA | XXX
74455 |  | A | X-ray, urethra/bladder | 0.33 | 1.67 | NA | 0.12 | 2.12 | NA | XXX
74455 | 26 | A | X-ray, urethra/bladder | 0.33 | 0.11 | 0.11 | 0.02 | 0.46 | 0.46 | XXX
74455 | TC | A | X-ray, urethra/bladder | 0.00 | 1.56 | NA | 0.10 | 1.66 | NA | XXX
74470 |  | A | X-ray exam of kidney lesion | 0.54 | 1.42 | NA | 0.09 | 2.05 | NA | XXX
74470 | 26 | A | X-ray exam of kidney lesion | 0.54 | 0.18 | 0.18 | 0.02 | 0.74 | 0.74 | XXX
74470 | TC | A | X-ray exam of kidney lesion | 0.00 | 1.24 | NA | 0.07 | 1.31 | NA | XXX
74475 |  | A | X-ray control, cath insert | 0.54 | 4.22 | NA | 0.24 | 5.00 | NA | XXX
74475 | 26 | A | X-ray control, cath insert | 0.54 | 0.18 | 0.18 | 0.02 | 0.74 | 0.74 | XXX
74475 | TC | A | X-ray control, cath insert | 0.00 | 4.04 | NA | 0.22 | 4.26 | NA | XXX
74480 |  | A | X-ray control, cath insert | 0.54 | 4.22 | NA | 0.24 | 5.00 | NA | XXX
74480 | 26 | A | X-ray control, cath insert | 0.54 | 0.18 | 0.18 | 0.02 | 0.74 | 0.74 | XXX
74480 | TC | A | X-ray control, cath insert | 0.00 | 4.04 | NA | 0.22 | 4.26 | NA | XXX
74485 |  | A | X-ray guide, GU dilation | 0.54 | 3.31 | NA | 0.21 | 4.06 | NA | XXX
74485 | 26 | A | X-ray guide, GU dilation | 0.54 | 0.18 | 0.18 | 0.04 | 0.76 | 0.76 | XXX
74485 | TC | A | X-ray guide, GU dilation | 0.00 | 3.13 | NA | 0.17 | 3.30 | NA | XXX
74710 |  | A | X-ray measurement of pelvis | 0.34 | 1.15 | NA | 0.08 | 1.57 | NA | XXX
74710 | 26 | A | X-ray measurement of pelvis | 0.34 | 0.11 | 0.11 | 0.02 | 0.47 | 0.47 | XXX
74710 | TC | A | X-ray measurement of pelvis | 0.00 | 1.04 | NA | 0.06 | 1.10 | NA | XXX
74740 |  | A | X-ray, female genital tract | 0.38 | 1.42 | NA | 0.09 | 1.89 | NA | XXX
74740 | 26 | A | X-ray, female genital tract | 0.38 | 0.13 | 0.13 | 0.02 | 0.53 | 0.53 | XXX
74740 | TC | A | X-ray, female genital tract | 0.00 | 1.29 | NA | 0.07 | 1.36 | NA | XXX
74742 |  | A | X-ray, fallopian tube | 0.61 | 3.34 | NA | 0.19 | 4.14 | NA | XXX
74742 | 26 | A | X-ray, fallopian tube | 0.61 | 0.21 | 0.21 | 0.02 | 0.84 | 0.84 | XXX
74742 | TC | A | X-ray, fallopian tube | 0.00 | 3.13 | NA | 0.17 | 3.30 | NA | XXX
74775 |  | A | X-ray exam of perineum | 0.62 | 1.66 | NA | 0.12 | 2.40 | NA | XXX
74775 | 26 | A | X-ray exam of perineum | 0.62 | 0.21 | 0.21 | 0.04 | 0.87 | 0.87 | XXX
74775 | TC | A | X-ray exam of perineum | 0.00 | 1.45 | NA | 0.08 | 1.53 | NA | XXX
75552 |  | A | Heart mri for morph w/o dye | 1.59 | 11.65 | NA | 0.67 | 13.91 | NA | XXX
75552 | 26 | A | Heart mri for morph w/o dye | 1.59 | 0.54 | 0.54 | 0.08 | 2.21 | 2.21 | XXX
75552 | TC | A | Heart mri for morph w/o dye | 0.00 | 11.11 | NA | 0.59 | 11.70 | NA | XXX
75553 |  | A | Heart mri for morph w/dye | 1.99 | 11.77 | NA | 0.70 | 14.46 | NA | XXX
75553 | 26 | A | Heart mri for morph w/dye | 1.99 | 0.66 | 0.66 | 0.11 | 2.76 | 2.76 | XXX
75553 | TC | A | Heart mri for morph w/dye | 0.00 | 11.11 | NA | 0.59 | 11.70 | NA | XXX
75554 |  | A | Cardiac MRI/function | 1.82 | 11.76 | NA | 0.67 | 14.25 | NA | XXX
75554 | 26 | A | Cardiac MRI/function | 1.82 | 0.65 | 0.65 | 0.08 | 2.55 | 2.55 | XXX
75554 | TC | A | Cardiac MRI/function | 0.00 | 11.11 | NA | 0.59 | 11.70 | NA | XXX
75555 |  | A | Cardiac MRI/limited study | 1.73 | 11.75 | NA | 0.67 | 14.15 | NA | XXX
75555 | 26 | A | Cardiac MRI/limited study | 1.73 | 0.64 | 0.64 | 0.08 | 2.45 | 2.45 | XXX
75555 | TC | A | Cardiac MRI/limited study | 0.00 | 11.11 | NA | 0.59 | 11.70 | NA | XXX
75556 |  | N | Cardiac MRI/flow mapping | 0.00 | 0.00 | 0.00 | 0.00 | 0.00 | 0.00 | XXX
75600 |  | A | Contrast x-ray exam of aorta | 0.49 | 12.68 | NA | 0.67 | 13.84 | NA | XXX
75600 | 26 | A | Contrast x-ray exam of aorta | 0.49 | 0.19 | 0.19 | 0.02 | 0.70 | 0.70 | XXX
75600 | TC | A | Contrast x-ray exam of aorta | 0.00 | 12.49 | NA | 0.65 | 13.14 | NA | XXX
75605 |  | A | Contrast x-ray exam of aorta | 1.13 | 12.90 | NA | 0.71 | 14.74 | NA | XXX
75605 | 26 | A | Contrast x-ray exam of aorta | 1.13 | 0.41 | 0.41 | 0.06 | 1.60 | 1.60 | XXX
75605 | TC | A | Contrast x-ray exam of aorta | 0.00 | 12.49 | NA | 0.65 | 13.14 | NA | XXX
75625 |  | A | Contrast x-ray exam of aorta | 1.13 | 12.88 | NA | 0.71 | 14.72 | NA | XXX
75625 | 26 | A | Contrast x-ray exam of aorta | 1.13 | 0.39 | 0.39 | 0.06 | 1.58 | 1.58 | XXX
75625 | TC | A | Contrast x-ray exam of aorta | 0.00 | 12.49 | NA | 0.65 | 13.14 | NA | XXX
75630 |  | A | X-ray aorta, leg arteries | 1.78 | 13.65 | NA | 0.78 | 16.21 | NA | XXX
75630 | 26 | A | X-ray aorta, leg arteries | 1.78 | 0.63 | 0.63 | 0.10 | 2.51 | 2.51 | XXX
75630 | TC | A | X-ray aorta, leg arteries | 0.00 | 13.02 | NA | 0.68 | 13.70 | NA | XXX
75635 |  | A | Ct angio abdominal arteries | 2.39 | 16.58 | NA | 0.49 | 19.46 | NA | XXX
75635 | 26 | A | Ct angio abdominal arteries | 2.39 | 0.80 | 0.80 | 0.11 | 3.30 | 3.30 | XXX
75635 | TC | A | Ct angio abdominal arteries | 0.00 | 15.78 | NA | 0.38 | 16.16 | NA | XXX
75650 |  | A | Artery x-rays, head & neck | 1.48 | 12.99 | NA | 0.73 | 15.20 | NA | XXX
75650 | 26 | A | Artery x-rays, head & neck | 1.48 | 0.50 | 0.50 | 0.08 | 2.06 | 2.06 | XXX
75650 | TC | A | Artery x-rays, head & neck | 0.00 | 12.49 | NA | 0.65 | 13.14 | NA | XXX
75658 |  | A | Artery x-rays, arm | 1.30 | 12.97 | NA | 0.72 | 14.99 | NA | XXX
75658 | 26 | A | Artery x-rays, arm | 1.30 | 0.48 | 0.48 | 0.07 | 1.85 | 1.85 | XXX
75658 | TC | A | Artery x-rays, arm | 0.00 | 12.49 | NA | 0.65 | 13.14 | NA | XXX
75660 |  | A | Artery x-rays, head & neck | 1.30 | 12.94 | NA | 0.72 | 14.96 | NA | XXX
75660 | 26 | A | Artery x-rays, head & neck | 1.30 | 0.45 | 0.45 | 0.07 | 1.82 | 1.82 | XXX
75660 | TC | A | Artery x-rays, head & neck | 0.00 | 12.49 | NA | 0.65 | 13.14 | NA | XXX
75662 |  | A | Artery x-rays, head & neck | 1.65 | 13.09 | NA | 0.75 | 15.49 | NA | XXX
75662 | 26 | A | Artery x-rays, head & neck | 1.65 | 0.60 | 0.60 | 0.10 | 2.35 | 2.35 | XXX
75662 | TC | A | Artery x-rays, head & neck | 0.00 | 12.49 | NA | 0.65 | 13.14 | NA | XXX
75665 |  | A | Artery x-rays, head & neck | 1.30 | 12.94 | NA | 0.73 | 14.97 | NA | XXX
75665 | 26 | A | Artery x-rays, head & neck | 1.30 | 0.45 | 0.45 | 0.08 | 1.83 | 1.83 | XXX
75665 | TC | A | Artery x-rays, head & neck | 0.00 | 12.49 | NA | 0.65 | 13.14 | NA | XXX
75671 |  | A | Artery x-rays, head & neck | 1.65 | 13.05 | NA | 0.75 | 15.45 | NA | XXX
75671 | 26 | A | Artery x-rays, head & neck | 1.65 | 0.56 | 0.56 | 0.10 | 2.31 | 2.31 | XXX
75671 | TC | A | Artery x-rays, head & neck | 0.00 | 12.49 | NA | 0.65 | 13.14 | NA | XXX
75676 |  | A | Artery x-rays, neck | 1.30 | 12.94 | NA | 0.73 | 14.97 | NA | XXX
75676 | 26 | A | Artery x-rays, neck | 1.30 | 0.45 | 0.45 | 0.08 | 1.83 | 1.83 | XXX
75676 | TC | A | Artery x-rays, neck | 0.00 | 12.49 | NA | 0.65 | 13.14 | NA | XXX
75680 |  | A | Artery x-rays, neck | 1.65 | 13.05 | NA | 0.75 | 15.45 | NA | XXX
75680 | 26 | A | Artery x-rays, neck | 1.65 | 0.56 | 0.56 | 0.10 | 2.31 | 2.31 | XXX
75680 | TC | A | Artery x-rays, neck | 0.00 | 12.49 | NA | 0.65 | 13.14 | NA | XXX
75685 |  | A | Artery x-rays, spine | 1.30 | 12.93 | NA | 0.72 | 14.95 | NA | XXX
75685 | 26 | A | Artery x-rays, spine | 1.30 | 0.44 | 0.44 | 0.07 | 1.81 | 1.81 | XXX
75685 | TC | A | Artery x-rays, spine | 0.00 | 12.49 | NA | 0.65 | 13.14 | NA | XXX
75705 |  | A | Artery x-rays, spine | 2.17 | 13.23 | NA | 0.78 | 16.18 | NA | XXX
75705 | 26 | A | Artery x-rays, spine | 2.17 | 0.74 | 0.74 | 0.13 | 3.04 | 3.04 | XXX
75705 | TC | A | Artery x-rays, spine | 0.00 | 12.49 | NA | 0.65 | 13.14 | NA | XXX
75710 |  | A | Artery x-rays, arm/leg | 1.13 | 12.88 | NA | 0.72 | 14.73 | NA | XXX
75710 | 26 | A | Artery x-rays, arm/leg | 1.13 | 0.39 | 0.39 | 0.07 | 1.59 | 1.59 | XXX
75710 | TC | A | Artery x-rays, arm/leg | 0.00 | 12.49 | NA | 0.65 | 13.14 | NA | XXX
75716 |  | A | Artery x-rays, arms/legs | 1.30 | 12.93 | NA | 0.72 | 14.95 | NA | XXX
75716 | 26 | A | Artery x-rays, arms/legs | 1.30 | 0.44 | 0.44 | 0.07 | 1.81 | 1.81 | XXX
75716 | TC | A | Artery x-rays, arms/legs | 0.00 | 12.49 | NA | 0.65 | 13.14 | NA | XXX
75722 |  | A | Artery x-rays, kidney | 1.13 | 12.90 | NA | 0.71 | 14.74 | NA | XXX
75722 | 26 | A | Artery x-rays, kidney | 1.13 | 0.41 | 0.41 | 0.06 | 1.60 | 1.60 | XXX
75722 | TC | A | Artery x-rays, kidney | 0.00 | 12.49 | NA | 0.65 | 13.14 | NA | XXX
75724 |  | A | Artery x-rays, kidneys | 1.48 | 13.06 | NA | 0.71 | 15.25 | NA | XXX
75724 | 26 | A | Artery x-rays, kidneys | 1.48 | 0.57 | 0.57 | 0.06 | 2.11 | 2.11 | XXX
75724 | TC | A | Artery x-rays, kidneys | 0.00 | 12.49 | NA | 0.65 | 13.14 | NA | XXX
75726 |  | A | Artery x-rays, abdomen | 1.13 | 12.87 | NA | 0.71 | 14.71 | NA | XXX
75726 | 26 | A | Artery x-rays, abdomen | 1.13 | 0.38 | 0.38 | 0.06 | 1.57 | 1.57 | XXX
75726 | TC | A | Artery x-rays, abdomen | 0.00 | 12.49 | NA | 0.65 | 13.14 | NA | XXX
75731 |  | A | Artery x-rays, adrenal gland | 1.13 | 12.87 | NA | 0.71 | 14.71 | NA | XXX
75731 | 26 | A | Artery x-rays, adrenal gland | 1.13 | 0.38 | 0.38 | 0.06 | 1.57 | 1.57 | XXX
75731 | TC | A | Artery x-rays, adrenal gland | 0.00 | 12.49 | NA | 0.65 | 13.14 | NA | XXX
75733 |  | A | Artery x-rays, adrenals | 1.30 | 12.93 | NA | 0.72 | 14.95 | NA | XXX
75733 | 26 | A | Artery x-rays, adrenals | 1.30 | 0.44 | 0.44 | 0.07 | 1.81 | 1.81 | XXX
75733 | TC | A | Artery x-rays, adrenals | 0.00 | 12.49 | NA | 0.65 | 13.14 | NA | XXX
75736 |  | A | Artery x-rays, pelvis | 1.13 | 12.87 | NA | 0.71 | 14.71 | NA | XXX
75736 | 26 | A | Artery x-rays, pelvis | 1.13 | 0.38 | 0.38 | 0.06 | 1.57 | 1.57 | XXX
75736 | TC | A | Artery x-rays, pelvis | 0.00 | 12.49 | NA | 0.65 | 13.14 | NA | XXX
75741 |  | A | Artery x-rays, lung | 1.30 | 12.93 | NA | 0.72 | 14.95 | NA | XXX
75741 | 26 | A | Artery x-rays, lung | 1.30 | 0.44 | 0.44 | 0.07 | 1.81 | 1.81 | XXX
75741 | TC | A | Artery x-rays, lung | 0.00 | 12.49 | NA | 0.65 | 13.14 | NA | XXX
75743 |  | A | Artery x-rays, lungs | 1.65 | 13.04 | NA | 0.73 | 15.42 | NA | XXX
75743 | 26 | A | Artery x-rays, lungs | 1.65 | 0.55 | 0.55 | 0.08 | 2.28 | 2.28 | XXX
75743 | TC | A | Artery x-rays, lungs | 0.00 | 12.49 | NA | 0.65 | 13.14 | NA | XXX
75746 |  | A | Artery x-rays, lung | 1.13 | 12.87 | NA | 0.71 | 14.71 | NA | XXX
75746 | 26 | A | Artery x-rays, lung | 1.13 | 0.38 | 0.38 | 0.06 | 1.57 | 1.57 | XXX
75746 | TC | A | Artery x-rays, lung | 0.00 | 12.49 | NA | 0.65 | 13.14 | NA | XXX
75756 |  | A | Artery x-rays, chest | 1.13 | 12.95 | NA | 0.70 | 14.78 | NA | XXX
75756 | 26 | A | Artery x-rays, chest | 1.13 | 0.46 | 0.46 | 0.05 | 1.64 | 1.64 | XXX
75756 | TC | A | Artery x-rays, chest | 0.00 | 12.49 | NA | 0.65 | 13.14 | NA | XXX
75774 |  | A | Artery x-ray, each vessel | 0.36 | 12.62 | NA | 0.67 | 13.65 | NA | ZZZ
75774 | 26 | A | Artery x-ray, each vessel | 0.36 | 0.13 | 0.13 | 0.02 | 0.51 | 0.51 | ZZZ
75774 | TC | A | Artery x-ray, each vessel | 0.00 | 12.49 | NA | 0.65 | 13.14 | NA | ZZZ
75790 |  | A | Visualize A-V shunt | 1.83 | 1.95 | NA | 0.19 | 3.97 | NA | XXX
75790 | 26 | A | Visualize A-V shunt | 1.83 | 0.61 | 0.61 | 0.11 | 2.55 | 2.55 | XXX
75790 | TC | A | Visualize A-V shunt | 0.00 | 1.34 | NA | 0.08 | 1.42 | NA | XXX
75801 |  | A | Lymph vessel x-ray, arm/leg | 0.81 | 5.64 | NA | 0.35 | 6.80 | NA | XXX
75801 | 26 | A | Lymph vessel x-ray, arm/leg | 0.81 | 0.27 | 0.27 | 0.06 | 1.14 | 1.14 | XXX
75801 | TC | A | Lymph vessel x-ray, arm/leg | 0.00 | 5.37 | NA | 0.29 | 5.66 | NA | XXX
75803 |  | A | Lymph vessel x-ray,arms/legs | 1.16 | 5.76 | NA | 0.35 | 7.27 | NA | XXX
75803 | 26 | A | Lymph vessel x-ray,arms/legs | 1.16 | 0.39 | 0.39 | 0.06 | 1.61 | 1.61 | XXX
75803 | TC | A | Lymph vessel x-ray,arms/legs | 0.00 | 5.37 | NA | 0.29 | 5.66 | NA | XXX
75805 |  | A | Lymph vessel x-ray, trunk | 0.81 | 6.32 | NA | 0.37 | 7.50 | NA | XXX
75805 | 26 | A | Lymph vessel x-ray, trunk | 0.81 | 0.27 | 0.27 | 0.05 | 1.13 | 1.13 | XXX
75805 | TC | A | Lymph vessel x-ray, trunk | 0.00 | 6.05 | NA | 0.32 | 6.37 | NA | XXX
75807 |  | A | Lymph vessel x-ray, trunk | 1.16 | 6.44 | NA | 0.38 | 7.98 | NA | XXX
75807 | 26 | A | Lymph vessel x-ray, trunk | 1.16 | 0.39 | 0.39 | 0.06 | 1.61 | 1.61 | XXX
75807 | TC | A | Lymph vessel x-ray, trunk | 0.00 | 6.05 | NA | 0.32 | 6.37 | NA | XXX
75809 |  | A | Nonvascular shunt, x-ray | 0.47 | 0.93 | NA | 0.07 | 1.47 | NA | XXX
75809 | 26 | A | Nonvascular shunt, x-ray | 0.47 | 0.16 | 0.16 | 0.02 | 0.65 | 0.65 | XXX
75809 | TC | A | Nonvascular shunt, x-ray | 0.00 | 0.77 | NA | 0.05 | 0.82 | NA | XXX
75810 |  | A | Vein x-ray, spleen/liver | 1.13 | 12.87 | NA | 0.72 | 14.72 | NA | XXX
75810 | 26 | A | Vein x-ray, spleen/liver | 1.13 | 0.38 | 0.38 | 0.07 | 1.58 | 1.58 | XXX
75810 | TC | A | Vein x-ray, spleen/liver | 0.00 | 12.49 | NA | 0.65 | 13.14 | NA | XXX
75820 |  | A | Vein x-ray, arm/leg | 0.70 | 1.17 | NA | 0.10 | 1.97 | NA | XXX
75820 | 26 | A | Vein x-ray, arm/leg | 0.70 | 0.23 | 0.23 | 0.04 | 0.97 | 0.97 | XXX
75820 | TC | A | Vein x-ray, arm/leg | 0.00 | 0.94 | NA | 0.06 | 1.00 | NA | XXX
75822 |  | A | Vein x-ray, arms/legs | 1.05 | 1.82 | NA | 0.14 | 3.01 | NA | XXX
75822 | 26 | A | Vein x-ray, arms/legs | 1.05 | 0.35 | 0.35 | 0.06 | 1.46 | 1.46 | XXX
75822 | TC | A | Vein x-ray, arms/legs | 0.00 | 1.47 | NA | 0.08 | 1.55 | NA | XXX
75825 |  | A | Vein x-ray, trunk | 1.13 | 12.87 | NA | 0.72 | 14.72 | NA | XXX
75825 | 26 | A | Vein x-ray, trunk | 1.13 | 0.38 | 0.38 | 0.07 | 1.58 | 1.58 | XXX
75825 | TC | A | Vein x-ray, trunk | 0.00 | 12.49 | NA | 0.65 | 13.14 | NA | XXX
75827 |  | A | Vein x-ray, chest | 1.13 | 12.87 | NA | 0.71 | 14.71 | NA | XXX
75827 | 26 | A | Vein x-ray, chest | 1.13 | 0.38 | 0.38 | 0.06 | 1.57 | 1.57 | XXX
75827 | TC | A | Vein x-ray, chest | 0.00 | 12.49 | NA | 0.65 | 13.14 | NA | XXX
75831 |  | A | Vein x-ray, kidney | 1.13 | 12.87 | NA | 0.71 | 14.71 | NA | XXX
75831 | 26 | A | Vein x-ray, kidney | 1.13 | 0.38 | 0.38 | 0.06 | 1.57 | 1.57 | XXX
75831 | TC | A | Vein x-ray, kidney | 0.00 | 12.49 | NA | 0.65 | 13.14 | NA | XXX
75833 |  | A | Vein x-ray, kidneys | 1.48 | 12.99 | NA | 0.73 | 15.20 | NA | XXX
75833 | 26 | A | Vein x-ray, kidneys | 1.48 | 0.50 | 0.50 | 0.08 | 2.06 | 2.06 | XXX
75833 | TC | A | Vein x-ray, kidneys | 0.00 | 12.49 | NA | 0.65 | 13.14 | NA | XXX
75840 |  | A | Vein x-ray, adrenal gland | 1.13 | 12.88 | NA | 0.73 | 14.74 | NA | XXX
75840 | 26 | A | Vein x-ray, adrenal gland | 1.13 | 0.39 | 0.39 | 0.08 | 1.60 | 1.60 | XXX
75840 | TC | A | Vein x-ray, adrenal gland | 0.00 | 12.49 | NA | 0.65 | 13.14 | NA | XXX
75842 |  | A | Vein x-ray, adrenal glands | 1.48 | 12.98 | NA | 0.73 | 15.19 | NA | XXX
75842 | 26 | A | Vein x-ray, adrenal glands | 1.48 | 0.49 | 0.49 | 0.08 | 2.05 | 2.05 | XXX
75842 | TC | A | Vein x-ray, adrenal glands | 0.00 | 12.49 | NA | 0.65 | 13.14 | NA | XXX
75860 |  | A | Vein x-ray, neck | 1.13 | 12.89 | NA | 0.72 | 14.74 | NA | XXX
75860 | 26 | A | Vein x-ray, neck | 1.13 | 0.40 | 0.40 | 0.07 | 1.60 | 1.60 | XXX
75860 | TC | A | Vein x-ray, neck | 0.00 | 12.49 | NA | 0.65 | 13.14 | NA | XXX
75870 |  | A | Vein x-ray, skull | 1.13 | 12.89 | NA | 0.72 | 14.74 | NA | XXX
75870 | 26 | A | Vein x-ray, skull | 1.13 | 0.40 | 0.40 | 0.07 | 1.60 | 1.60 | XXX
75870 | TC | A | Vein x-ray, skull | 0.00 | 12.49 | NA | 0.65 | 13.14 | NA | XXX
75872 |  | A | Vein x-ray, skull | 1.13 | 12.87 | NA | 0.71 | 14.71 | NA | XXX
75872 | 26 | A | Vein x-ray, skull | 1.13 | 0.38 | 0.38 | 0.06 | 1.57 | 1.57 | XXX
75872 | TC | A | Vein x-ray, skull | 0.00 | 12.49 | NA | 0.65 | 13.14 | NA | XXX
75880 |  | A | Vein x-ray, eye socket | 0.70 | 1.18 | NA | 0.10 | 1.98 | NA | XXX
75880 | 26 | A | Vein x-ray, eye socket | 0.70 | 0.24 | 0.24 | 0.04 | 0.98 | 0.98 | XXX
75880 | TC | A | Vein x-ray, eye socket | 0.00 | 0.94 | NA | 0.06 | 1.00 | NA | XXX
75885 |  | A | Vein x-ray, liver | 1.43 | 12.97 | NA | 0.72 | 15.12 | NA | XXX
75885 | 26 | A | Vein x-ray, liver | 1.43 | 0.48 | 0.48 | 0.07 | 1.98 | 1.98 | XXX
75885 | TC | A | Vein x-ray, liver | 0.00 | 12.49 | NA | 0.65 | 13.14 | NA | XXX
75887 |  | A | Vein x-ray, liver | 1.43 | 12.97 | NA | 0.72 | 15.12 | NA | XXX
75887 | 26 | A | Vein x-ray, liver | 1.43 | 0.48 | 0.48 | 0.07 | 1.98 | 1.98 | XXX
75887 | TC | A | Vein x-ray, liver | 0.00 | 12.49 | NA | 0.65 | 13.14 | NA | XXX
75889 |  | A | Vein x-ray, liver | 1.13 | 12.87 | NA | 0.71 | 14.71 | NA | XXX
75889 | 26 | A | Vein x-ray, liver | 1.13 | 0.38 | 0.38 | 0.06 | 1.57 | 1.57 | XXX
75889 | TC | A | Vein x-ray, liver | 0.00 | 12.49 | NA | 0.65 | 13.14 | NA | XXX
75891 |  | A | Vein x-ray, liver | 1.13 | 12.87 | NA | 0.71 | 14.71 | NA | XXX
75891 | 26 | A | Vein x-ray, liver | 1.13 | 0.38 | 0.38 | 0.06 | 1.57 | 1.57 | XXX
75891 | TC | A | Vein x-ray, liver | 0.00 | 12.49 | NA | 0.65 | 13.14 | NA | XXX
75893 |  | A | Venous sampling by catheter | 0.54 | 12.67 | NA | 0.67 | 13.88 | NA | XXX
75893 | 26 | A | Venous sampling by catheter | 0.54 | 0.18 | 0.18 | 0.02 | 0.74 | 0.74 | XXX
75893 | TC | A | Venous sampling by catheter | 0.00 | 12.49 | NA | 0.65 | 13.14 | NA | XXX
75894 |  | A | X-rays, transcath therapy | 1.30 | 24.36 | NA | 1.34 | 27.00 | NA | XXX
75894 | 26 | A | X-rays, transcath therapy | 1.30 | 0.44 | 0.44 | 0.08 | 1.82 | 1.82 | XXX
75894 | TC | A | X-rays, transcath therapy | 0.00 | 23.92 | NA | 1.26 | 25.18 | NA | XXX
75896 |  | A | X-rays, transcath therapy | 1.30 | 21.27 | NA | 1.16 | 23.73 | NA | XXX
75896 | 26 | A | X-rays, transcath therapy | 1.30 | 0.46 | 0.46 | 0.07 | 1.83 | 1.83 | XXX
75896 | TC | A | X-rays, transcath therapy | 0.00 | 20.81 | NA | 1.09 | 21.90 | NA | XXX
75898 |  | A | Follow-up angiography | 1.64 | 1.60 | NA | 0.14 | 3.38 | NA | XXX
75898 | 26 | A | Follow-up angiography | 1.64 | 0.56 | 0.56 | 0.08 | 2.28 | 2.28 | XXX
75898 | TC | A | Follow-up angiography | 0.00 | 1.04 | NA | 0.06 | 1.10 | NA | XXX
75900 |  | A | Arterial catheter exchange | 0.49 | 20.95 | NA | 1.12 | 22.56 | NA | XXX
75900 | 26 | A | Arterial catheter exchange | 0.49 | 0.16 | 0.16 | 0.02 | 0.67 | 0.67 | XXX
75900 | TC | A | Arterial catheter exchange | 0.00 | 20.79 | NA | 1.10 | 21.89 | NA | XXX
75901 |  | A | Remove cva device obstruct | 0.49 | 1.45 | NA | 0.85 | 2.79 | NA | XXX
75901 | 26 | A | Remove cva device obstruct | 0.49 | 0.16 | 0.16 | 0.02 | 0.67 | 0.67 | XXX
75901 | TC | A | Remove cva device obstruct | 0.00 | 1.29 | NA | 0.83 | 2.12 | NA | XXX
75902 |  | A | Remove cva lumen obstruct | 0.39 | 1.42 | NA | 0.85 | 2.66 | NA | XXX
75902 | 26 | A | Remove cva lumen obstruct | 0.39 | 0.13 | 0.13 | 0.02 | 0.54 | 0.54 | XXX
75902 | TC | A | Remove cva lumen obstruct | 0.00 | 1.29 | NA | 0.83 | 2.12 | NA | XXX
75940 |  | A | X-ray placement, vein filter | 0.54 | 12.67 | NA | 0.69 | 13.90 | NA | XXX
75940 | 26 | A | X-ray placement, vein filter | 0.54 | 0.18 | 0.18 | 0.04 | 0.76 | 0.76 | XXX
75940 | TC | A | X-ray placement, vein filter | 0.00 | 12.49 | NA | 0.65 | 13.14 | NA | XXX
75945 |  | A | Intravascular us | 0.40 | 4.66 | NA | 0.28 | 5.34 | NA | XXX
75945 | 26 | A | Intravascular us | 0.40 | 0.14 | 0.14 | 0.04 | 0.58 | 0.58 | XXX
75945 | TC | A | Intravascular us | 0.00 | 4.52 | NA | 0.24 | 4.76 | NA | XXX
75946 |  | A | Intravascular us add-on | 0.40 | 2.41 | NA | 0.17 | 2.98 | NA | ZZZ
75946 | 26 | A | Intravascular us add-on | 0.40 | 0.14 | 0.14 | 0.04 | 0.58 | 0.58 | ZZZ
75946 | TC | A | Intravascular us add-on | 0.00 | 2.27 | NA | 0.13 | 2.40 | NA | ZZZ
75952 |  | C | Endovasc repair abdom aorta | 0.00 | 0.00 | 0.00 | 0.00 | 0.00 | 0.00 | XXX
75952 | 26 | A | Endovasc repair abdom aorta | 4.47 | 1.51 | 1.51 | 0.82 | 6.80 | 6.80 | XXX
75952 | TC | C | Endovasc repair abdom aorta | 0.00 | 0.00 | 0.00 | 0.00 | 0.00 | 0.00 | XXX
75953 |  | C | Abdom aneurysm endovas rpr | 0.00 | 0.00 | 0.00 | 0.00 | 0.00 | 0.00 | XXX
75953 | 26 | A | Abdom aneurysm endovas rpr | 1.35 | 0.46 | 0.46 | 0.82 | 2.63 | 2.63 | XXX
75953 | TC | C | Abdom aneurysm endovas rpr | 0.00 | 0.00 | 0.00 | 0.00 | 0.00 | 0.00 | XXX
75954 |  | C | Iliac aneurysm endovas rpr | 0.00 | 0.00 | 0.00 | 0.00 | 0.00 | 0.00 | XXX
75954 | 26 | A | Iliac aneurysm endovas rpr | 1.35 | 0.48 | 0.48 | 0.82 | 2.65 | 2.65 | XXX
75954 | TC | C | Iliac aneurysm endovas rpr | 0.00 | 0.00 | 0.00 | 0.00 | 0.00 | 0.00 | XXX
75960 |  | A | Transcatheter intro, stent | 0.82 | 15.07 | NA | 0.82 | 16.71 | NA | XXX
75960 | 26 | A | Transcatheter intro, stent | 0.82 | 0.29 | 0.29 | 0.05 | 1.16 | 1.16 | XXX
75960 | TC | A | Transcatheter intro, stent | 0.00 | 14.78 | NA | 0.77 | 15.55 | NA | XXX
75961 |  | A | Retrieval, broken catheter | 4.23 | 11.82 | NA | 0.77 | 16.82 | NA | XXX
75961 | 26 | A | Retrieval, broken catheter | 4.23 | 1.41 | 1.41 | 0.22 | 5.86 | 5.86 | XXX
75961 | TC | A | Retrieval, broken catheter | 0.00 | 10.41 | NA | 0.55 | 10.96 | NA | XXX
75962 |  | A | Repair arterial blockage | 0.54 | 15.80 | NA | 0.87 | 17.21 | NA | XXX
75962 | 26 | A | Repair arterial blockage | 0.54 | 0.19 | 0.19 | 0.04 | 0.77 | 0.77 | XXX
75962 | TC | A | Repair arterial blockage | 0.00 | 15.61 | NA | 0.83 | 16.44 | NA | XXX
75964 |  | A | Repair artery blockage, each | 0.36 | 8.45 | NA | 0.45 | 9.26 | NA | ZZZ
75964 | 26 | A | Repair artery blockage, each | 0.36 | 0.12 | 0.12 | 0.02 | 0.50 | 0.50 | ZZZ
75964 | TC | A | Repair artery blockage, each | 0.00 | 8.33 | NA | 0.43 | 8.76 | NA | ZZZ
75966 |  | A | Repair arterial blockage | 1.30 | 16.08 | NA | 0.90 | 18.28 | NA | XXX
75966 | 26 | A | Repair arterial blockage | 1.30 | 0.47 | 0.47 | 0.07 | 1.84 | 1.84 | XXX
75966 | TC | A | Repair arterial blockage | 0.00 | 15.61 | NA | 0.83 | 16.44 | NA | XXX
75968 |  | A | Repair artery blockage, each | 0.36 | 8.46 | NA | 0.44 | 9.26 | NA | ZZZ
75968 | 26 | A | Repair artery blockage, each | 0.36 | 0.13 | 0.13 | 0.01 | 0.50 | 0.50 | ZZZ
75968 | TC | A | Repair artery blockage, each | 0.00 | 8.33 | NA | 0.43 | 8.76 | NA | ZZZ
75970 |  | A | Vascular biopsy | 0.83 | 11.73 | NA | 0.65 | 13.21 | NA | XXX
75970 | 26 | A | Vascular biopsy | 0.83 | 0.29 | 0.29 | 0.05 | 1.17 | 1.17 | XXX
75970 | TC | A | Vascular biopsy | 0.00 | 11.44 | NA | 0.60 | 12.04 | NA | XXX
75978 |  | A | Repair venous blockage | 0.54 | 15.79 | NA | 0.85 | 17.18 | NA | XXX
75978 | 26 | A | Repair venous blockage | 0.54 | 0.18 | 0.18 | 0.02 | 0.74 | 0.74 | XXX
75978 | TC | A | Repair venous blockage | 0.00 | 15.61 | NA | 0.83 | 16.44 | NA | XXX
75980 |  | A | Contrast xray exam bile duct | 1.43 | 5.85 | NA | 0.36 | 7.64 | NA | XXX
75980 | 26 | A | Contrast xray exam bile duct | 1.43 | 0.48 | 0.48 | 0.07 | 1.98 | 1.98 | XXX
75980 | TC | A | Contrast xray exam bile duct | 0.00 | 5.37 | NA | 0.29 | 5.66 | NA | XXX
75982 |  | A | Contrast xray exam bile duct | 1.43 | 6.53 | NA | 0.39 | 8.35 | NA | XXX
75982 | 26 | A | Contrast xray exam bile duct | 1.43 | 0.48 | 0.48 | 0.07 | 1.98 | 1.98 | XXX
75982 | TC | A | Contrast xray exam bile duct | 0.00 | 6.05 | NA | 0.32 | 6.37 | NA | XXX
75984 |  | A | Xray control catheter change | 0.72 | 2.17 | NA | 0.15 | 3.04 | NA | XXX
75984 | 26 | A | Xray control catheter change | 0.72 | 0.24 | 0.24 | 0.04 | 1.00 | 1.00 | XXX
75984 | TC | A | Xray control catheter change | 0.00 | 1.93 | NA | 0.11 | 2.04 | NA | XXX
75989 |  | A | Abscess drainage under x-ray | 1.18 | 3.53 | NA | 0.23 | 4.94 | NA | XXX
75989 | 26 | A | Abscess drainage under x-ray | 1.18 | 0.40 | 0.40 | 0.06 | 1.64 | 1.64 | XXX
75989 | TC | A | Abscess drainage under x-ray | 0.00 | 3.13 | NA | 0.17 | 3.30 | NA | XXX
75992 |  | A | Atherectomy, x-ray exam | 0.54 | 15.80 | NA | 0.85 | 17.19 | NA | XXX
75992 | 26 | A | Atherectomy, x-ray exam | 0.54 | 0.19 | 0.19 | 0.02 | 0.75 | 0.75 | XXX
75992 | TC | A | Atherectomy, x-ray exam | 0.00 | 15.61 | NA | 0.83 | 16.44 | NA | XXX
75993 |  | A | Atherectomy, x-ray exam | 0.36 | 8.47 | NA | 0.44 | 9.27 | NA | ZZZ
75993 | 26 | A | Atherectomy, x-ray exam | 0.36 | 0.14 | 0.14 | 0.01 | 0.51 | 0.51 | ZZZ
75993 | TC | A | Atherectomy, x-ray exam | 0.00 | 8.33 | NA | 0.43 | 8.76 | NA | ZZZ
75994 |  | A | Atherectomy, x-ray exam | 1.30 | 16.08 | NA | 0.90 | 18.28 | NA | XXX
75994 | 26 | A | Atherectomy, x-ray exam | 1.30 | 0.47 | 0.47 | 0.07 | 1.84 | 1.84 | XXX
75994 | TC | A | Atherectomy, x-ray exam | 0.00 | 15.61 | NA | 0.83 | 16.44 | NA | XXX
75995 |  | A | Atherectomy, x-ray exam | 1.30 | 16.09 | NA | 0.90 | 18.29 | NA | XXX
75995 | 26 | A | Atherectomy, x-ray exam | 1.30 | 0.48 | 0.48 | 0.07 | 1.85 | 1.85 | XXX
75995 | TC | A | Atherectomy, x-ray exam | 0.00 | 15.61 | NA | 0.83 | 16.44 | NA | XXX
75996 |  | A | Atherectomy, x-ray exam | 0.36 | 8.45 | NA | 0.44 | 9.25 | NA | ZZZ
75996 | 26 | A | Atherectomy, x-ray exam | 0.36 | 0.12 | 0.12 | 0.01 | 0.49 | 0.49 | ZZZ
75996 | TC | A | Atherectomy, x-ray exam | 0.00 | 8.33 | NA | 0.43 | 8.76 | NA | ZZZ
75998 |  | A | Fluoroguide for vein device | 0.38 | 1.42 | NA | 0.15 | 1.95 | NA | ZZZ
75998 | 26 | A | Fluoroguide for vein device | 0.38 | 0.13 | 0.13 | 0.05 | 0.56 | 0.56 | ZZZ
75998 | TC | A | Fluoroguide for vein device | 0.00 | 1.29 | NA | 0.10 | 1.39 | NA | ZZZ
76000 |  | A | Fluoroscope examination | 0.17 | 1.34 | NA | 0.08 | 1.59 | NA | XXX
76000 | 26 | A | Fluoroscope examination | 0.17 | 0.05 | 0.05 | 0.01 | 0.23 | 0.23 | XXX
76000 | TC | A | Fluoroscope examination | 0.00 | 1.29 | NA | 0.07 | 1.36 | NA | XXX
76001 |  | A | Fluoroscope exam, extensive | 0.67 | 2.82 | NA | 0.18 | 3.67 | NA | XXX
76001 | 26 | A | Fluoroscope exam, extensive | 0.67 | 0.22 | 0.22 | 0.04 | 0.93 | 0.93 | XXX
76001 | TC | A | Fluoroscope exam, extensive | 0.00 | 2.60 | NA | 0.14 | 2.74 | NA | XXX
76003 |  | A | Needle localization by x-ray | 0.54 | 1.46 | NA | 0.11 | 2.11 | NA | XXX
76003 | 26 | A | Needle localization by x-ray | 0.54 | 0.17 | 0.17 | 0.04 | 0.75 | 0.75 | XXX
76003 | TC | A | Needle localization by x-ray | 0.00 | 1.29 | NA | 0.07 | 1.36 | NA | XXX
76005 |  | A | Fluoroguide for spine inject | 0.60 | 1.45 | NA | 0.11 | 2.16 | NA | XXX
76005 | 26 | A | Fluoroguide for spine inject | 0.60 | 0.16 | 0.16 | 0.04 | 0.80 | 0.80 | XXX
76005 | TC | A | Fluoroguide for spine inject | 0.00 | 1.29 | NA | 0.07 | 1.36 | NA | XXX
76006 |  | A | X-ray stress view | 0.41 | 0.19 | 0.19 | 0.05 | 0.65 | 0.65 | XXX
76010 |  | A | X-ray, nose to rectum | 0.18 | 0.58 | NA | 0.03 | 0.79 | NA | XXX
76010 | 26 | A | X-ray, nose to rectum | 0.18 | 0.06 | 0.06 | 0.01 | 0.25 | 0.25 | XXX
76010 | TC | A | X-ray, nose to rectum | 0.00 | 0.52 | NA | 0.02 | 0.54 | NA | XXX
76012 |  | C | Percut vertebroplasty fluor | 0.00 | 0.00 | 0.00 | 0.00 | 0.00 | 0.00 | XXX
76012 | 26 | A | Percut vertebroplasty fluor | 1.30 | 0.48 | 0.48 | 0.28 | 2.06 | 2.06 | XXX
76012 | TC | C | Percut vertebroplasty fluor | 0.00 | 0.00 | 0.00 | 0.00 | 0.00 | 0.00 | XXX
76013 |  | C | Percut vertebroplasty, ct | 0.00 | 0.00 | 0.00 | 0.00 | 0.00 | 0.00 | XXX
76013 | 26 | A | Percut vertebroplasty, ct | 1.37 | 0.49 | 0.49 | 0.58 | 2.44 | 2.44 | XXX
76013 | TC | C | Percut vertebroplasty, ct | 0.00 | 0.00 | 0.00 | 0.00 | 0.00 | 0.00 | XXX
76020 |  | A | X-rays for bone age | 0.19 | 0.58 | NA | 0.03 | 0.80 | NA | XXX
76020 | 26 | A | X-rays for bone age | 0.19 | 0.06 | 0.06 | 0.01 | 0.26 | 0.26 | XXX
76020 | TC | A | X-rays for bone age | 0.00 | 0.52 | NA | 0.02 | 0.54 | NA | XXX
76040 |  | A | X-rays, bone evaluation | 0.27 | 0.86 | NA | 0.09 | 1.22 | NA | XXX
76040 | 26 | A | X-rays, bone evaluation | 0.27 | 0.09 | 0.09 | 0.04 | 0.40 | 0.40 | XXX
76040 | TC | A | X-rays, bone evaluation | 0.00 | 0.77 | NA | 0.05 | 0.82 | NA | XXX
76061 |  | A | X-rays, bone survey | 0.45 | 1.14 | NA | 0.08 | 1.67 | NA | XXX
76061 | 26 | A | X-rays, bone survey | 0.45 | 0.15 | 0.15 | 0.02 | 0.62 | 0.62 | XXX
76061 | TC | A | X-rays, bone survey | 0.00 | 0.99 | NA | 0.06 | 1.05 | NA | XXX
76062 |  | A | X-rays, bone survey | 0.54 | 1.61 | NA | 0.10 | 2.25 | NA | XXX
76062 | 26 | A | X-rays, bone survey | 0.54 | 0.18 | 0.18 | 0.02 | 0.74 | 0.74 | XXX
76062 | TC | A | X-rays, bone survey | 0.00 | 1.43 | NA | 0.08 | 1.51 | NA | XXX
76065 |  | A | X-rays, bone evaluation | 0.70 | 0.96 | NA | 0.06 | 1.72 | NA | XXX
76065 | 26 | A | X-rays, bone evaluation | 0.70 | 0.24 | 0.24 | 0.01 | 0.95 | 0.95 | XXX
76065 | TC | A | X-rays, bone evaluation | 0.00 | 0.72 | NA | 0.05 | 0.77 | NA | XXX
76066 |  | A | Joint survey, single view | 0.31 | 1.21 | NA | 0.08 | 1.60 | NA | XXX
76066 | 26 | A | Joint survey, single view | 0.31 | 0.11 | 0.11 | 0.02 | 0.44 | 0.44 | XXX
76066 | TC | A | Joint survey, single view | 0.00 | 1.10 | NA | 0.06 | 1.16 | NA | XXX
76070 |  | A | Ct bone density, axial | 0.25 | 3.01 | NA | 0.17 | 3.43 | NA | XXX
76070 | 26 | A | Ct bone density, axial | 0.25 | 0.08 | 0.08 | 0.01 | 0.34 | 0.34 | XXX
76070 | TC | A | Ct bone density, axial | 0.00 | 2.93 | NA | 0.16 | 3.09 | NA | XXX
76071 |  | A | Ct bone density, peripheral | 0.22 | 3.00 | NA | 0.06 | 3.28 | NA | XXX
76071 | 26 | A | Ct bone density, peripheral | 0.22 | 0.07 | 0.07 | 0.01 | 0.30 | 0.30 | XXX
76071 | TC | A | Ct bone density, peripheral | 0.00 | 2.93 | NA | 0.05 | 2.98 | NA | XXX
76075 |  | A | Dexa, axial skeleton study | 0.30 | 3.17 | NA | 0.18 | 3.65 | NA | XXX
76075 | 26 | A | Dexa, axial skeleton study | 0.30 | 0.10 | 0.10 | 0.01 | 0.41 | 0.41 | XXX
76075 | TC | A | Dexa, axial skeleton study | 0.00 | 3.07 | NA | 0.17 | 3.24 | NA | XXX
76076 |  | A | Dexa, peripheral study | 0.22 | 0.82 | NA | 0.06 | 1.10 | NA | XXX
76076 | 26 | A | Dexa, peripheral study | 0.22 | 0.08 | 0.08 | 0.01 | 0.31 | 0.31 | XXX
76076 | TC | A | Dexa, peripheral study | 0.00 | 0.74 | NA | 0.05 | 0.79 | NA | XXX
76078 |  | A | Radiographic absorptiometry | 0.20 | 0.81 | NA | 0.06 | 1.07 | NA | XXX
76078 | 26 | A | Radiographic absorptiometry | 0.20 | 0.07 | 0.07 | 0.01 | 0.28 | 0.28 | XXX
76078 | TC | A | Radiographic absorptiometry | 0.00 | 0.74 | NA | 0.05 | 0.79 | NA | XXX
76080 |  | A | X-ray exam of fistula | 0.54 | 1.22 | NA | 0.08 | 1.84 | NA | XXX
76080 | 26 | A | X-ray exam of fistula | 0.54 | 0.18 | 0.18 | 0.02 | 0.74 | 0.74 | XXX
76080 | TC | A | X-ray exam of fistula | 0.00 | 1.04 | NA | 0.06 | 1.10 | NA | XXX
76082 |  | A | Computer mammogram add-on | 0.06 | 0.44 | NA | 0.02 | 0.52 | NA | ZZZ
76082 | 26 | A | Computer mammogram add-on | 0.06 | 0.02 | 0.02 | 0.01 | 0.09 | 0.09 | ZZZ
76082 | TC | A | Computer mammogram add-on | 0.00 | 0.42 | NA | 0.01 | 0.43 | NA | ZZZ
76083 |  | A | Computer mammogram add-on | 0.06 | 0.44 | NA | 0.02 | 0.52 | NA | ZZZ
76083 | 26 | A | Computer mammogram add-on | 0.06 | 0.02 | 0.02 | 0.01 | 0.09 | 0.09 | ZZZ
76083 | TC | A | Computer mammogram add-on | 0.00 | 0.42 | NA | 0.01 | 0.43 | NA | ZZZ
76085 |  | F | Computer mammogram add-on | +0.00 | 0.00 | 0.00 | 0.00 | 0.00 | 0.00 | ZZZ
76085 | 26 | F | Computer mammogram add-on | +0.00 | 0.00 | 0.00 | 0.00 | 0.00 | 0.00 | ZZZ
76085 | TC | F | Computer mammogram add-on | +0.00 | 0.00 | 0.00 | 0.00 | 0.00 | 0.00 | ZZZ
76086 |  | A | X-ray of mammary duct | 0.36 | 2.72 | NA | 0.16 | 3.24 | NA | XXX
76086 | 26 | A | X-ray of mammary duct | 0.36 | 0.12 | 0.12 | 0.02 | 0.50 | 0.50 | XXX
76086 | TC | A | X-ray of mammary duct | 0.00 | 2.60 | NA | 0.14 | 2.74 | NA | XXX
76088 |  | A | X-ray of mammary ducts | 0.45 | 3.78 | NA | 0.21 | 4.44 | NA | XXX
76088 | 26 | A | X-ray of mammary ducts | 0.45 | 0.15 | 0.15 | 0.02 | 0.62 | 0.62 | XXX
76088 | TC | A | X-ray of mammary ducts | 0.00 | 3.63 | NA | 0.19 | 3.82 | NA | XXX
76090 |  | A | Mammogram, one breast | 0.70 | 1.27 | NA | 0.10 | 2.07 | NA | XXX
76090 | 26 | A | Mammogram, one breast | 0.70 | 0.23 | 0.23 | 0.04 | 0.97 | 0.97 | XXX
76090 | TC | A | Mammogram, one breast | 0.00 | 1.04 | NA | 0.06 | 1.10 | NA | XXX
76091 |  | A | Mammogram, both breasts | 0.87 | 1.58 | NA | 0.11 | 2.56 | NA | XXX
76091 | 26 | A | Mammogram, both breasts | 0.87 | 0.29 | 0.29 | 0.04 | 1.20 | 1.20 | XXX
76091 | TC | A | Mammogram, both breasts | 0.00 | 1.29 | NA | 0.07 | 1.36 | NA | XXX
76092 |  | A | Mammogram, screening | 0.70 | 1.45 | NA | 0.11 | 2.26 | NA | XXX
76092 | 26 | A | Mammogram, screening | 0.70 | 0.23 | 0.23 | 0.04 | 0.97 | 0.97 | XXX
76092 | TC | A | Mammogram, screening | 0.00 | 1.22 | NA | 0.07 | 1.29 | NA | XXX
76093 |  | A | Magnetic image, breast | 1.62 | 18.02 | NA | 0.99 | 20.63 | NA | XXX
76093 | 26 | A | Magnetic image, breast | 1.62 | 0.55 | 0.55 | 0.08 | 2.25 | 2.25 | XXX
76093 | TC | A | Magnetic image, breast | 0.00 | 17.47 | NA | 0.91 | 18.38 | NA | XXX
76094 |  | A | Magnetic image, both breasts | 1.62 | 24.25 | NA | 1.31 | 27.18 | NA | XXX
76094 | 26 | A | Magnetic image, both breasts | 1.62 | 0.54 | 0.54 | 0.08 | 2.24 | 2.24 | XXX
76094 | TC | A | Magnetic image, both breasts | 0.00 | 23.71 | NA | 1.23 | 24.94 | NA | XXX
76095 |  | A | Stereotactic breast biopsy | 1.58 | 7.63 | NA | 0.48 | 9.69 | NA | XXX
76095 | 26 | A | Stereotactic breast biopsy | 1.58 | 0.53 | 0.53 | 0.11 | 2.22 | 2.22 | XXX
76095 | TC | A | Stereotactic breast biopsy | 0.00 | 7.10 | NA | 0.37 | 7.47 | NA | XXX
76096 |  | A | X-ray of needle wire, breast | 0.56 | 1.48 | NA | 0.11 | 2.15 | NA | XXX
76096 | 26 | A | X-ray of needle wire, breast | 0.56 | 0.19 | 0.19 | 0.04 | 0.79 | 0.79 | XXX
76096 | TC | A | X-ray of needle wire, breast | 0.00 | 1.29 | NA | 0.07 | 1.36 | NA | XXX
76098 |  | A | X-ray exam, breast specimen | 0.16 | 0.47 | NA | 0.03 | 0.66 | NA | XXX
76098 | 26 | A | X-ray exam, breast specimen | 0.16 | 0.05 | 0.05 | 0.01 | 0.22 | 0.22 | XXX
76098 | TC | A | X-ray exam, breast specimen | 0.00 | 0.42 | NA | 0.02 | 0.44 | NA | XXX
76100 |  | A | X-ray exam of body section | 0.58 | 1.43 | NA | 0.11 | 2.12 | NA | XXX
76100 | 26 | A | X-ray exam of body section | 0.58 | 0.19 | 0.19 | 0.04 | 0.81 | 0.81 | XXX
76100 | TC | A | X-ray exam of body section | 0.00 | 1.24 | NA | 0.07 | 1.31 | NA | XXX
76101 |  | A | Complex body section x-ray | 0.58 | 1.60 | NA | 0.12 | 2.30 | NA | XXX
76101 | 26 | A | Complex body section x-ray | 0.58 | 0.19 | 0.19 | 0.04 | 0.81 | 0.81 | XXX
76101 | TC | A | Complex body section x-ray | 0.00 | 1.41 | NA | 0.08 | 1.49 | NA | XXX
76102 |  | A | Complex body section x-rays | 0.58 | 1.92 | NA | 0.15 | 2.65 | NA | XXX
76102 | 26 | A | Complex body section x-rays | 0.58 | 0.20 | 0.20 | 0.04 | 0.82 | 0.82 | XXX
76102 | TC | A | Complex body section x-rays | 0.00 | 1.72 | NA | 0.11 | 1.83 | NA | XXX
76120 |  | A | Cine/video x-rays | 0.38 | 1.17 | NA | 0.08 | 1.63 | NA | XXX
76120 | 26 | A | Cine/video x-rays | 0.38 | 0.13 | 0.13 | 0.02 | 0.53 | 0.53 | XXX
76120 | TC | A | Cine/video x-rays | 0.00 | 1.04 | NA | 0.06 | 1.10 | NA | XXX
76125 |  | A | Cine/video x-rays add-on | 0.27 | 0.86 | NA | 0.06 | 1.19 | NA | ZZZ
76125 | 26 | A | Cine/video x-rays add-on | 0.27 | 0.09 | 0.09 | 0.01 | 0.37 | 0.37 | ZZZ
76125 | TC | A | Cine/video x-rays add-on | 0.00 | 0.77 | NA | 0.05 | 0.82 | NA | ZZZ
76140 |  | I | X-ray consultation | 0.00 | 0.00 | 0.00 | 0.00 | 0.00 | 0.00 | XXX
76150 |  | A | X-ray exam, dry process | 0.00 | 0.42 | NA | 0.02 | 0.44 | NA | XXX
76350 |  | C | Special x-ray contrast study | 0.00 | 0.00 | 0.00 | 0.00 | 0.00 | 0.00 | XXX
76355 |  | A | Ct scan for localization | 1.20 | 8.60 | NA | 0.49 | 10.29 | NA | XXX
76355 | 26 | A | Ct scan for localization | 1.20 | 0.41 | 0.41 | 0.07 | 1.68 | 1.68 | XXX
76355 | TC | A | Ct scan for localization | 0.00 | 8.19 | NA | 0.42 | 8.61 | NA | XXX
76360 |  | A | Ct scan for needle biopsy | 1.15 | 8.58 | NA | 0.48 | 10.21 | NA | XXX
76360 | 26 | A | Ct scan for needle biopsy | 1.15 | 0.39 | 0.39 | 0.06 | 1.60 | 1.60 | XXX
76360 | TC | A | Ct scan for needle biopsy | 0.00 | 8.19 | NA | 0.42 | 8.61 | NA | XXX
76362 |  | A | Ct guide for tissue ablation | 3.98 | 9.51 | NA | 1.67 | 15.16 | NA | XXX
76362 | 26 | A | Ct guide for tissue ablation | 3.98 | 1.32 | 1.32 | 0.22 | 5.52 | 5.52 | XXX
76362 | TC | A | Ct guide for tissue ablation | 0.00 | 8.19 | NA | 1.45 | 9.64 | NA | XXX
76370 |  | A | Ct scan for therapy guide | 0.85 | 3.21 | NA | 0.21 | 4.27 | NA | XXX
76370 | 26 | A | Ct scan for therapy guide | 0.85 | 0.28 | 0.28 | 0.05 | 1.18 | 1.18 | XXX
76370 | TC | A | Ct scan for therapy guide | 0.00 | 2.93 | NA | 0.16 | 3.09 | NA | XXX
76375 |  | A | 3d/holograph reconstr add-on | 0.16 | 3.56 | NA | 0.19 | 3.91 | NA | XXX
76375 | 26 | A | 3d/holograph reconstr add-on | 0.16 | 0.05 | 0.05 | 0.01 | 0.22 | 0.22 | XXX
76375 | TC | A | 3d/holograph reconstr add-on | 0.00 | 3.51 | NA | 0.18 | 3.69 | NA | XXX
76380 |  | A | CAT scan follow-up study | 0.97 | 3.80 | NA | 0.23 | 5.00 | NA | XXX
76380 | 26 | A | CAT scan follow-up study | 0.97 | 0.33 | 0.33 | 0.05 | 1.35 | 1.35 | XXX
76380 | TC | A | CAT scan follow-up study | 0.00 | 3.47 | NA | 0.18 | 3.65 | NA | XXX
76390 |  | N | Mr spectroscopy | +1.39 | 11.55 | 11.55 | 0.66 | 13.60 | 13.60 | XXX
76390 | 26 | N | Mr spectroscopy | +1.39 | 0.48 | 0.48 | 0.07 | 1.94 | 1.94 | XXX
76390 | TC | N | Mr spectroscopy | +0.00 | 11.07 | 11.07 | 0.59 | 11.66 | 11.66 | XXX
76393 |  | A | Mr guidance for needle place | 1.49 | 11.62 | NA | 0.63 | 13.74 | NA | XXX
76393 | 26 | A | Mr guidance for needle place | 1.49 | 0.51 | 0.51 | 0.08 | 2.08 | 2.08 | XXX
76393 | TC | A | Mr guidance for needle place | 0.00 | 11.11 | NA | 0.55 | 11.66 | NA | XXX
76394 |  | A | Mri for tissue ablation | 4.23 | 12.52 | NA | 1.78 | 18.53 | NA | XXX
76394 | 26 | A | Mri for tissue ablation | 4.23 | 1.41 | 1.41 | 0.23 | 5.87 | 5.87 | XXX
76394 | TC | A | Mri for tissue ablation | 0.00 | 11.11 | NA | 1.55 | 12.66 | NA | XXX
76400 |  | A | Magnetic image, bone marrow | 1.59 | 11.64 | NA | 0.67 | 13.90 | NA | XXX
76400 | 26 | A | Magnetic image, bone marrow | 1.59 | 0.53 | 0.53 | 0.08 | 2.20 | 2.20 | XXX
76400 | TC | A | Magnetic image, bone marrow | 0.00 | 11.11 | NA | 0.59 | 11.70 | NA | XXX
76490 |  | D | Us for tissue ablation | 0.00 | 0.00 | 0.00 | 0.00 | 0.00 | 0.00 | XXX
76490 | 26 | D | Us for tissue ablation | 0.00 | 0.00 | 0.00 | 0.00 | 0.00 | 0.00 | XXX
76490 | TC | D | Us for tissue ablation | 0.00 | 0.00 | 0.00 | 0.00 | 0.00 | 0.00 | XXX
76496 |  | C | Fluoroscopic procedure | 0.00 | 0.00 | 0.00 | 0.00 | 0.00 | 0.00 | XXX
76496 | 26 | C | Fluoroscopic procedure | 0.00 | 0.00 | 0.00 | 0.00 | 0.00 | 0.00 | XXX
76496 | TC | C | Fluoroscopic procedure | 0.00 | 0.00 | 0.00 | 0.00 | 0.00 | 0.00 | XXX
76497 |  | C | Ct procedure | 0.00 | 0.00 | 0.00 | 0.00 | 0.00 | 0.00 | XXX
76497 | 26 | C | Ct procedure | 0.00 | 0.00 | 0.00 | 0.00 | 0.00 | 0.00 | XXX
76497 | TC | C | Ct procedure | 0.00 | 0.00 | 0.00 | 0.00 | 0.00 | 0.00 | XXX
76498 |  | C | Mri procedure | 0.00 | 0.00 | 0.00 | 0.00 | 0.00 | 0.00 | XXX
76498 | 26 | C | Mri procedure | 0.00 | 0.00 | 0.00 | 0.00 | 0.00 | 0.00 | XXX
76498 | TC | C | Mri procedure | 0.00 | 0.00 | 0.00 | 0.00 | 0.00 | 0.00 | XXX
76499 |  | C | Radiographic procedure | 0.00 | 0.00 | 0.00 | 0.00 | 0.00 | 0.00 | XXX
76499 | 26 | C | Radiographic procedure | 0.00 | 0.00 | 0.00 | 0.00 | 0.00 | 0.00 | XXX
76499 | TC | C | Radiographic procedure | 0.00 | 0.00 | 0.00 | 0.00 | 0.00 | 0.00 | XXX
76506 |  | A | Echo exam of head | 0.63 | 1.66 | NA | 0.12 | 2.41 | NA | XXX
76506 | 26 | A | Echo exam of head | 0.63 | 0.25 | 0.25 | 0.04 | 0.92 | 0.92 | XXX
76506 | TC | A | Echo exam of head | 0.00 | 1.41 | NA | 0.08 | 1.49 | NA | XXX
76511 |  | A | Echo exam of eye | 0.93 | 1.10 | NA | 0.09 | 2.12 | NA | XXX
76511 | 26 | A | Echo exam of eye | 0.93 | 0.41 | 0.41 | 0.02 | 1.36 | 1.36 | XXX
76511 | TC | A | Echo exam of eye | 0.00 | 0.69 | NA | 0.07 | 0.76 | NA | XXX
76512 |  | A | Echo exam of eye | 0.66 | 1.03 | NA | 0.11 | 1.80 | NA | XXX
76512 | 26 | A | Echo exam of eye | 0.66 | 0.30 | 0.30 | 0.01 | 0.97 | 0.97 | XXX
76512 | TC | A | Echo exam of eye | 0.00 | 0.73 | NA | 0.10 | 0.83 | NA | XXX
76513 |  | A | Echo exam of eye, water bath | 0.66 | 1.11 | NA | 0.11 | 1.88 | NA | XXX
76513 | 26 | A | Echo exam of eye, water bath | 0.66 | 0.30 | 0.30 | 0.01 | 0.97 | 0.97 | XXX
76513 | TC | A | Echo exam of eye, water bath | 0.00 | 0.81 | NA | 0.10 | 0.91 | NA | XXX
76514 |  | A | Echo exam of eye, thickness | 0.17 | 0.14 | NA | 0.02 | 0.33 | NA | XXX
76514 | 26 | A | Echo exam of eye, thickness | 0.17 | 0.08 | 0.08 | 0.01 | 0.26 | 0.26 | XXX
76514 | TC | A | Echo exam of eye, thickness | 0.00 | 0.06 | NA | 0.01 | 0.07 | NA | XXX
76516 |  | A | Echo exam of eye | 0.54 | 0.74 | NA | 0.08 | 1.36 | NA | XXX
76516 | 26 | A | Echo exam of eye | 0.54 | 0.25 | 0.25 | 0.01 | 0.80 | 0.80 | XXX
76516 | TC | A | Echo exam of eye | 0.00 | 0.49 | NA | 0.07 | 0.56 | NA | XXX
76519 |  | A | Echo exam of eye | 0.54 | 0.83 | NA | 0.08 | 1.45 | NA | XXX
76519 | 26 | A | Echo exam of eye | 0.54 | 0.25 | 0.25 | 0.01 | 0.80 | 0.80 | XXX
76519 | TC | A | Echo exam of eye | 0.00 | 0.58 | NA | 0.07 | 0.65 | NA | XXX
76529 |  | A | Echo exam of eye | 0.57 | 0.78 | NA | 0.09 | 1.44 | NA | XXX
76529 | 26 | A | Echo exam of eye | 0.57 | 0.25 | 0.25 | 0.01 | 0.83 | 0.83 | XXX
76529 | TC | A | Echo exam of eye | 0.00 | 0.53 | NA | 0.08 | 0.61 | NA | XXX
76536 |  | A | Us exam of head and neck | 0.56 | 1.60 | NA | 0.10 | 2.26 | NA | XXX
76536 | 26 | A | Us exam of head and neck | 0.56 | 0.19 | 0.19 | 0.02 | 0.77 | 0.77 | XXX
76536 | TC | A | Us exam of head and neck | 0.00 | 1.41 | NA | 0.08 | 1.49 | NA | XXX
76604 |  | A | Us exam, chest, b-scan | 0.55 | 1.47 | NA | 0.09 | 2.11 | NA | XXX
76604 | 26 | A | Us exam, chest, b-scan | 0.55 | 0.18 | 0.18 | 0.02 | 0.75 | 0.75 | XXX
76604 | TC | A | Us exam, chest, b-scan | 0.00 | 1.29 | NA | 0.07 | 1.36 | NA | XXX
76645 |  | A | Us exam, breast(s) | 0.54 | 1.22 | NA | 0.10 | 1.86 | NA | XXX
76645 | 26 | A | Us exam, breast(s) | 0.54 | 0.18 | 0.18 | 0.04 | 0.76 | 0.76 | XXX
76645 | TC | A | Us exam, breast(s) | 0.00 | 1.04 | NA | 0.06 | 1.10 | NA | XXX
76700 |  | A | Us exam, abdom, complete | 0.81 | 2.22 | NA | 0.16 | 3.19 | NA | XXX
76700 | 26 | A | Us exam, abdom, complete | 0.81 | 0.27 | 0.27 | 0.05 | 1.13 | 1.13 | XXX
76700 | TC | A | Us exam, abdom, complete | 0.00 | 1.95 | NA | 0.11 | 2.06 | NA | XXX
76705 |  | A | Echo exam of abdomen | 0.59 | 1.61 | NA | 0.12 | 2.32 | NA | XXX
76705 | 26 | A | Echo exam of abdomen | 0.59 | 0.20 | 0.20 | 0.04 | 0.83 | 0.83 | XXX
76705 | TC | A | Echo exam of abdomen | 0.00 | 1.41 | NA | 0.08 | 1.49 | NA | XXX
76770 |  | A | Us exam abdo back wall, comp | 0.74 | 2.20 | NA | 0.15 | 3.09 | NA | XXX
76770 | 26 | A | Us exam abdo back wall, comp | 0.74 | 0.25 | 0.25 | 0.04 | 1.03 | 1.03 | XXX
76770 | TC | A | Us exam abdo back wall, comp | 0.00 | 1.95 | NA | 0.11 | 2.06 | NA | XXX
76775 |  | A | Us exam abdo back wall, lim | 0.58 | 1.60 | NA | 0.12 | 2.30 | NA | XXX
76775 | 26 | A | Us exam abdo back wall, lim | 0.58 | 0.19 | 0.19 | 0.04 | 0.81 | 0.81 | XXX
76775 | TC | A | Us exam abdo back wall, lim | 0.00 | 1.41 | NA | 0.08 | 1.49 | NA | XXX
76778 |  | A | Us exam kidney transplant | 0.74 | 2.20 | NA | 0.15 | 3.09 | NA | XXX
76778 | 26 | A | Us exam kidney transplant | 0.74 | 0.25 | 0.25 | 0.04 | 1.03 | 1.03 | XXX
76778 | TC | A | Us exam kidney transplant | 0.00 | 1.95 | NA | 0.11 | 2.06 | NA | XXX
76800 |  | A | Us exam, spinal canal | 1.12 | 1.76 | NA | 0.13 | 3.01 | NA | XXX
76800 | 26 | A | Us exam, spinal canal | 1.12 | 0.35 | 0.35 | 0.05 | 1.52 | 1.52 | XXX
76800 | TC | A | Us exam, spinal canal | 0.00 | 1.41 | NA | 0.08 | 1.49 | NA | XXX
76801 |  | A | Ob us < 14 wks, single fetus | 0.98 | 2.43 | NA | 0.17 | 3.58 | NA | XXX
76801 | 26 | A | Ob us < 14 wks, single fetus | 0.98 | 0.35 | 0.35 | 0.05 | 1.38 | 1.38 | XXX
76801 | TC | A | Ob us < 14 wks, single fetus | 0.00 | 2.08 | NA | 0.12 | 2.20 | NA | XXX
76802 |  | A | Ob us < 14 wks, addl fetus | 0.83 | 1.33 | NA | 0.17 | 2.33 | NA | ZZZ
76802 | 26 | A | Ob us < 14 wks, addl fetus | 0.83 | 0.29 | 0.29 | 0.05 | 1.17 | 1.17 | ZZZ
76802 | TC | A | Ob us < 14 wks, addl fetus | 0.00 | 1.04 | NA | 0.12 | 1.16 | NA | ZZZ
76805 |  | A | Ob us >/= 14 wks, sngl fetus | 0.98 | 2.43 | NA | 0.17 | 3.58 | NA | XXX
76805 | 26 | A | Ob us >/= 14 wks, sngl fetus | 0.98 | 0.35 | 0.35 | 0.05 | 1.38 | 1.38 | XXX
76805 | TC | A | Ob us >/= 14 wks, sngl fetus | 0.00 | 2.08 | NA | 0.12 | 2.20 | NA | XXX
76810 |  | A | Ob us >/= 14 wks, addl fetus | 0.97 | 1.39 | NA | 0.30 | 2.66 | NA | ZZZ
76810 | 26 | A | Ob us >/= 14 wks, addl fetus | 0.97 | 0.35 | 0.35 | 0.08 | 1.40 | 1.40 | ZZZ
76810 | TC | A | Ob us >/= 14 wks, addl fetus | 0.00 | 1.04 | NA | 0.22 | 1.26 | NA | ZZZ
76811 |  | A | Ob us, detailed, sngl fetus | 1.89 | 4.16 | NA | 0.61 | 6.66 | NA | XXX
76811 | 26 | A | Ob us, detailed, sngl fetus | 1.89 | 0.66 | 0.66 | 0.18 | 2.73 | 2.73 | XXX
76811 | TC | A | Ob us, detailed, sngl fetus | 0.00 | 3.50 | NA | 0.43 | 3.93 | NA | XXX
76812 |  | A | Ob us, detailed, addl fetus | 1.77 | 1.68 | NA | 0.55 | 4.00 | NA | ZZZ
76812 | 26 | A | Ob us, detailed, addl fetus | 1.77 | 0.64 | 0.64 | 0.14 | 2.55 | 2.55 | ZZZ
76812 | TC | A | Ob us, detailed, addl fetus | 0.00 | 1.04 | NA | 0.41 | 1.45 | NA | ZZZ
76815 |  | A | Ob us, limited, fetus(s) | 0.65 | 1.64 | NA | 0.10 | 2.39 | NA | XXX
76815 | 26 | A | Ob us, limited, fetus(s) | 0.65 | 0.23 | 0.23 | 0.02 | 0.90 | 0.90 | XXX
76815 | TC | A | Ob us, limited, fetus(s) | 0.00 | 1.41 | NA | 0.08 | 1.49 | NA | XXX
76816 |  | A | Ob us, follow-up, per fetus | 0.85 | 1.42 | NA | 0.08 | 2.35 | NA | XXX
76816 | 26 | A | Ob us, follow-up, per fetus | 0.85 | 0.32 | 0.32 | 0.02 | 1.19 | 1.19 | XXX
76816 | TC | A | Ob us, follow-up, per fetus | 0.00 | 1.10 | NA | 0.06 | 1.16 | NA | XXX
76817 |  | A | Transvaginal us, obstetric | 0.75 | 1.79 | NA | 0.08 | 2.62 | NA | XXX
76817 | 26 | A | Transvaginal us, obstetric | 0.75 | 0.28 | 0.28 | 0.02 | 1.05 | 1.05 | XXX
76817 | TC | A | Transvaginal us, obstetric | 0.00 | 1.51 | NA | 0.06 | 1.57 | NA | XXX
76818 |  | A | Fetal biophys profile w/nst | 1.04 | 2.00 | NA | 0.15 | 3.19 | NA | XXX
76818 | 26 | A | Fetal biophys profile w/nst | 1.04 | 0.40 | 0.40 | 0.05 | 1.49 | 1.49 | XXX
76818 | TC | A | Fetal biophys profile w/nst | 0.00 | 1.60 | NA | 0.10 | 1.70 | NA | XXX
76819 |  | A | Fetal biophys profil w/o nst | 0.77 | 1.89 | NA | 0.12 | 2.78 | NA | XXX
76819 | 26 | A | Fetal biophys profil w/o nst | 0.77 | 0.29 | 0.29 | 0.02 | 1.08 | 1.08 | XXX
76819 | TC | A | Fetal biophys profil w/o nst | 0.00 | 1.60 | NA | 0.10 | 1.70 | NA | XXX
76825 |  | A | Echo exam of fetal heart | 1.66 | 2.57 | NA | 0.18 | 4.41 | NA | XXX
76825 | 26 | A | Echo exam of fetal heart | 1.66 | 0.62 | 0.62 | 0.07 | 2.35 | 2.35 | XXX
76825 | TC | A | Echo exam of fetal heart | 0.00 | 1.95 | NA | 0.11 | 2.06 | NA | XXX
76826 |  | A | Echo exam of fetal heart | 0.83 | 1.00 | NA | 0.09 | 1.92 | NA | XXX
76826 | 26 | A | Echo exam of fetal heart | 0.83 | 0.30 | 0.30 | 0.04 | 1.17 | 1.17 | XXX
76826 | TC | A | Echo exam of fetal heart | 0.00 | 0.70 | NA | 0.05 | 0.75 | NA | XXX
76827 |  | A | Echo exam of fetal heart | 0.58 | 1.93 | NA | 0.14 | 2.65 | NA | XXX
76827 | 26 | A | Echo exam of fetal heart | 0.58 | 0.22 | 0.22 | 0.02 | 0.82 | 0.82 | XXX
76827 | TC | A | Echo exam of fetal heart | 0.00 | 1.71 | NA | 0.12 | 1.83 | NA | XXX
76828 |  | A | Echo exam of fetal heart | 0.56 | 1.32 | NA | 0.10 | 1.98 | NA | XXX
76828 | 26 | A | Echo exam of fetal heart | 0.56 | 0.22 | 0.22 | 0.02 | 0.80 | 0.80 | XXX
76828 | TC | A | Echo exam of fetal heart | 0.00 | 1.10 | NA | 0.08 | 1.18 | NA | XXX
76830 |  | A | Transvaginal us, non-ob | 0.69 | 1.74 | NA | 0.14 | 2.57 | NA | XXX
76830 | 26 | A | Transvaginal us, non-ob | 0.69 | 0.23 | 0.23 | 0.04 | 0.96 | 0.96 | XXX
76830 | TC | A | Transvaginal us, non-ob | 0.00 | 1.51 | NA | 0.10 | 1.61 | NA | XXX
76831 |  | A | Echo exam, uterus | 0.72 | 1.77 | NA | 0.12 | 2.61 | NA | XXX
76831 | 26 | A | Echo exam, uterus | 0.72 | 0.26 | 0.26 | 0.02 | 1.00 | 1.00 | XXX
76831 | TC | A | Echo exam, uterus | 0.00 | 1.51 | NA | 0.10 | 1.61 | NA | XXX
76856 |  | A | Us exam, pelvic, complete | 0.69 | 1.74 | NA | 0.14 | 2.57 | NA | XXX
76856 | 26 | A | Us exam, pelvic, complete | 0.69 | 0.23 | 0.23 | 0.04 | 0.96 | 0.96 | XXX
76856 | TC | A | Us exam, pelvic, complete | 0.00 | 1.51 | NA | 0.10 | 1.61 | NA | XXX
76857 |  | A | Us exam, pelvic, limited | 0.38 | 1.71 | NA | 0.08 | 2.17 | NA | XXX
76857 | 26 | A | Us exam, pelvic, limited | 0.38 | 0.13 | 0.13 | 0.02 | 0.53 | 0.53 | XXX
76857 | TC | A | Us exam, pelvic, limited | 0.00 | 1.58 | NA | 0.06 | 1.64 | NA | XXX
76870 |  | A | Us exam, scrotum | 0.64 | 1.72 | NA | 0.14 | 2.50 | NA | XXX
76870 | 26 | A | Us exam, scrotum | 0.64 | 0.21 | 0.21 | 0.04 | 0.89 | 0.89 | XXX
76870 | TC | A | Us exam, scrotum | 0.00 | 1.51 | NA | 0.10 | 1.61 | NA | XXX
76872 |  | A | Us, transrectal | 0.69 | 2.10 | NA | 0.15 | 2.94 | NA | XXX
76872 | 26 | A | Us, transrectal | 0.69 | 0.23 | 0.23 | 0.05 | 0.97 | 0.97 | XXX
76872 | TC | A | Us, transrectal | 0.00 | 1.87 | NA | 0.10 | 1.97 | NA | XXX
76873 |  | A | Echograp trans r, pros study | 1.54 | 2.59 | NA | 0.26 | 4.39 | NA | XXX
76873 | 26 | A | Echograp trans r, pros study | 1.54 | 0.51 | 0.51 | 0.10 | 2.15 | 2.15 | XXX
76873 | TC | A | Echograp trans r, pros study | 0.00 | 2.08 | NA | 0.16 | 2.24 | NA | XXX
76880 |  | A | Us exam, extremity | 0.59 | 1.61 | NA | 0.12 | 2.32 | NA | XXX
76880 | 26 | A | Us exam, extremity | 0.59 | 0.20 | 0.20 | 0.04 | 0.83 | 0.83 | XXX
76880 | TC | A | Us exam, extremity | 0.00 | 1.41 | NA | 0.08 | 1.49 | NA | XXX
76885 |  | A | Us exam infant hips, dynamic | 0.74 | 1.76 | NA | 0.14 | 2.64 | NA | XXX
76885 | 26 | A | Us exam infant hips, dynamic | 0.74 | 0.25 | 0.25 | 0.04 | 1.03 | 1.03 | XXX
76885 | TC | A | Us exam infant hips, dynamic | 0.00 | 1.51 | NA | 0.10 | 1.61 | NA | XXX
76886 |  | A | Us exam infant hips, static | 0.62 | 1.62 | NA | 0.12 | 2.36 | NA | XXX
76886 | 26 | A | Us exam infant hips, static | 0.62 | 0.21 | 0.21 | 0.04 | 0.87 | 0.87 | XXX
76886 | TC | A | Us exam infant hips, static | 0.00 | 1.41 | NA | 0.08 | 1.49 | NA | XXX
76930 |  | A | Echo guide, cardiocentesis | 0.67 | 1.77 | NA | 0.12 | 2.56 | NA | XXX
76930 | 26 | A | Echo guide, cardiocentesis | 0.67 | 0.26 | 0.26 | 0.02 | 0.95 | 0.95 | XXX
76930 | TC | A | Echo guide, cardiocentesis | 0.00 | 1.51 | NA | 0.10 | 1.61 | NA | XXX
76932 |  | A | Echo guide for heart biopsy | 0.67 | 1.77 | NA | 0.12 | 2.56 | NA | XXX
76932 | 26 | A | Echo guide for heart biopsy | 0.67 | 0.26 | 0.26 | 0.02 | 0.95 | 0.95 | XXX
76932 | TC | A | Echo guide for heart biopsy | 0.00 | 1.51 | NA | 0.10 | 1.61 | NA | XXX
76936 |  | A | Echo guide for artery repair | 1.98 | 6.90 | NA | 0.47 | 9.35 | NA | XXX
76936 | 26 | A | Echo guide for artery repair | 1.98 | 0.66 | 0.66 | 0.13 | 2.77 | 2.77 | XXX
76936 | TC | A | Echo guide for artery repair | 0.00 | 6.24 | NA | 0.34 | 6.58 | NA | XXX
76937 |  | A | Us guide, vascular access | 0.30 | 0.48 | NA | 0.15 | 0.93 | NA | ZZZ
76937 | 26 | A | Us guide, vascular access | 0.30 | 0.10 | 0.10 | 0.05 | 0.45 | 0.45 | ZZZ
76937 | TC | A | Us guide, vascular access | 0.00 | 0.38 | NA | 0.10 | 0.48 | NA | ZZZ
76940 |  | A | Us guide, tissue ablation | 1.99 | 2.16 | NA | 0.42 | 4.57 | NA | XXX
76940 | 26 | A | Us guide, tissue ablation | 1.99 | 0.65 | 0.65 | 0.13 | 2.77 | 2.77 | XXX
76940 | TC | A | Us guide, tissue ablation | 0.00 | 1.51 | NA | 0.29 | 1.80 | NA | XXX
76941 |  | A | Echo guide for transfusion | 1.33 | 2.00 | NA | 0.15 | 3.48 | NA | XXX
76941 | 26 | A | Echo guide for transfusion | 1.33 | 0.48 | 0.48 | 0.07 | 1.88 | 1.88 | XXX
76941 | TC | A | Echo guide for transfusion | 0.00 | 1.52 | NA | 0.08 | 1.60 | NA | XXX
76942 |  | A | Echo guide for biopsy | 0.67 | 2.77 | NA | 0.15 | 3.59 | NA | XXX
76942 | 26 | A | Echo guide for biopsy | 0.67 | 0.22 | 0.22 | 0.05 | 0.94 | 0.94 | XXX
76942 | TC | A | Echo guide for biopsy | 0.00 | 2.55 | NA | 0.10 | 2.65 | NA | XXX
76945 |  | A | Echo guide, villus sampling | 0.67 | 1.75 | NA | 0.12 | 2.54 | NA | XXX
76945 | 26 | A | Echo guide, villus sampling | 0.67 | 0.23 | 0.23 | 0.04 | 0.94 | 0.94 | XXX
76945 | TC | A | Echo guide, villus sampling | 0.00 | 1.52 | NA | 0.08 | 1.60 | NA | XXX
76946 |  | A | Echo guide for amniocentesis | 0.38 | 1.65 | NA | 0.11 | 2.14 | NA | XXX
76946 | 26 | A | Echo guide for amniocentesis | 0.38 | 0.14 | 0.14 | 0.01 | 0.53 | 0.53 | XXX
76946 | TC | A | Echo guide for amniocentesis | 0.00 | 1.51 | NA | 0.10 | 1.61 | NA | XXX
76948 |  | A | Echo guide, ova aspiration | 0.38 | 1.64 | NA | 0.12 | 2.14 | NA | XXX
76948 | 26 | A | Echo guide, ova aspiration | 0.38 | 0.13 | 0.13 | 0.02 | 0.53 | 0.53 | XXX
76948 | TC | A | Echo guide, ova aspiration | 0.00 | 1.51 | NA | 0.10 | 1.61 | NA | XXX
76950 |  | A | Echo guidance radiotherapy | 0.58 | 1.48 | NA | 0.11 | 2.17 | NA | XXX
76950 | 26 | A | Echo guidance radiotherapy | 0.58 | 0.19 | 0.19 | 0.04 | 0.81 | 0.81 | XXX
76950 | TC | A | Echo guidance radiotherapy | 0.00 | 1.29 | NA | 0.07 | 1.36 | NA | XXX
76965 |  | A | Echo guidance radiotherapy | 1.33 | 5.96 | NA | 0.37 | 7.66 | NA | XXX
76965 | 26 | A | Echo guidance radiotherapy | 1.33 | 0.44 | 0.44 | 0.08 | 1.85 | 1.85 | XXX
76965 | TC | A | Echo guidance radiotherapy | 0.00 | 5.52 | NA | 0.29 | 5.81 | NA | XXX
76970 |  | A | Ultrasound exam follow-up | 0.40 | 1.17 | NA | 0.08 | 1.65 | NA | XXX
76970 | 26 | A | Ultrasound exam follow-up | 0.40 | 0.13 | 0.13 | 0.02 | 0.55 | 0.55 | XXX
76970 | TC | A | Ultrasound exam follow-up | 0.00 | 1.04 | NA | 0.06 | 1.10 | NA | XXX
76975 |  | A | GI endoscopic ultrasound | 0.81 | 1.79 | NA | 0.14 | 2.74 | NA | XXX
76975 | 26 | A | GI endoscopic ultrasound | 0.81 | 0.28 | 0.28 | 0.04 | 1.13 | 1.13 | XXX
76975 | TC | A | GI endoscopic ultrasound | 0.00 | 1.51 | NA | 0.10 | 1.61 | NA | XXX
76977 |  | A | Us bone density measure | 0.05 | 0.83 | NA | 0.06 | 0.94 | NA | XXX
76977 | 26 | A | Us bone density measure | 0.05 | 0.02 | 0.02 | 0.01 | 0.08 | 0.08 | XXX
76977 | TC | A | Us bone density measure | 0.00 | 0.81 | NA | 0.05 | 0.86 | NA | XXX
76986 |  | A | Ultrasound guide intraoper | 1.19 | 3.01 | NA | 0.22 | 4.42 | NA | XXX
76986 | 26 | A | Ultrasound guide intraoper | 1.19 | 0.41 | 0.41 | 0.08 | 1.68 | 1.68 | XXX
76986 | TC | A | Ultrasound guide intraoper | 0.00 | 2.60 | NA | 0.14 | 2.74 | NA | XXX
76999 |  | C | Echo examination procedure | 0.00 | 0.00 | 0.00 | 0.00 | 0.00 | 0.00 | XXX
76999 | 26 | C | Echo examination procedure | 0.00 | 0.00 | 0.00 | 0.00 | 0.00 | 0.00 | XXX
76999 | TC | C | Echo examination procedure | 0.00 | 0.00 | 0.00 | 0.00 | 0.00 | 0.00 | XXX
77261 |  | A | Radiation therapy planning | 1.38 | 0.52 | 0.52 | 0.07 | 1.97 | 1.97 | XXX
77262 |  | A | Radiation therapy planning | 2.10 | 0.76 | 0.76 | 0.11 | 2.97 | 2.97 | XXX
77263 |  | A | Radiation therapy planning | 3.12 | 1.12 | 1.12 | 0.16 | 4.40 | 4.40 | XXX
77280 |  | A | Set radiation therapy field | 0.70 | 3.67 | NA | 0.22 | 4.59 | NA | XXX
77280 | 26 | A | Set radiation therapy field | 0.70 | 0.23 | 0.23 | 0.04 | 0.97 | 0.97 | XXX
77280 | TC | A | Set radiation therapy field | 0.00 | 3.44 | NA | 0.18 | 3.62 | NA | XXX
77285 |  | A | Set radiation therapy field | 1.04 | 5.86 | NA | 0.35 | 7.25 | NA | XXX
77285 | 26 | A | Set radiation therapy field | 1.04 | 0.34 | 0.34 | 0.05 | 1.43 | 1.43 | XXX
77285 | TC | A | Set radiation therapy field | 0.00 | 5.52 | NA | 0.30 | 5.82 | NA | XXX
77290 |  | A | Set radiation therapy field | 1.55 | 6.95 | NA | 0.42 | 8.92 | NA | XXX
77290 | 26 | A | Set radiation therapy field | 1.55 | 0.50 | 0.50 | 0.07 | 2.12 | 2.12 | XXX
77290 | TC | A | Set radiation therapy field | 0.00 | 6.45 | NA | 0.35 | 6.80 | NA | XXX
77295 |  | A | Set radiation therapy field | 4.54 | 29.16 | NA | 1.69 | 35.39 | NA | XXX
77295 | 26 | A | Set radiation therapy field | 4.54 | 1.46 | 1.46 | 0.22 | 6.22 | 6.22 | XXX
77295 | TC | A | Set radiation therapy field | 0.00 | 27.70 | NA | 1.47 | 29.17 | NA | XXX
77299 |  | C | Radiation therapy planning | 0.00 | 0.00 | 0.00 | 0.00 | 0.00 | 0.00 | XXX
77299 | 26 | C | Radiation therapy planning | 0.00 | 0.00 | 0.00 | 0.00 | 0.00 | 0.00 | XXX
77299 | TC | C | Radiation therapy planning | 0.00 | 0.00 | 0.00 | 0.00 | 0.00 | 0.00 | XXX
77300 |  | A | Radiation therapy dose plan | 0.62 | 1.53 | NA | 0.11 | 2.26 | NA | XXX
77300 | 26 | A | Radiation therapy dose plan | 0.62 | 0.20 | 0.20 | 0.04 | 0.86 | 0.86 | XXX
77300 | TC | A | Radiation therapy dose plan | 0.00 | 1.33 | NA | 0.07 | 1.40 | NA | XXX
77301 |  | A | Radiotherapy dose plan, imrt | 7.95 | 30.26 | NA | 1.69 | 39.90 | NA | XXX
77301 | 26 | A | Radiotherapy dose plan, imrt | 7.95 | 2.56 | 2.56 | 0.22 | 10.73 | 10.73 | XXX
77301 | TC | A | Radiotherapy dose plan, imrt | 0.00 | 27.70 | NA | 1.47 | 29.17 | NA | XXX
77305 |  | A | Teletx isodose plan simple | 0.70 | 2.07 | NA | 0.15 | 2.92 | NA | XXX
77305 | 26 | A | Teletx isodose plan simple | 0.70 | 0.23 | 0.23 | 0.04 | 0.97 | 0.97 | XXX
77305 | TC | A | Teletx isodose plan simple | 0.00 | 1.84 | NA | 0.11 | 1.95 | NA | XXX
77310 |  | A | Teletx isodose plan intermed | 1.04 | 2.65 | NA | 0.18 | 3.87 | NA | XXX
77310 | 26 | A | Teletx isodose plan intermed | 1.04 | 0.34 | 0.34 | 0.05 | 1.43 | 1.43 | XXX
77310 | TC | A | Teletx isodose plan intermed | 0.00 | 2.31 | NA | 0.13 | 2.44 | NA | XXX
77315 |  | A | Teletx isodose plan complex | 1.55 | 3.14 | NA | 0.21 | 4.90 | NA | XXX
77315 | 26 | A | Teletx isodose plan complex | 1.55 | 0.50 | 0.50 | 0.07 | 2.12 | 2.12 | XXX
77315 | TC | A | Teletx isodose plan complex | 0.00 | 2.64 | NA | 0.14 | 2.78 | NA | XXX
77321 |  | A | Special teletx port plan | 0.94 | 4.32 | NA | 0.25 | 5.51 | NA | XXX
77321 | 26 | A | Special teletx port plan | 0.94 | 0.31 | 0.31 | 0.05 | 1.30 | 1.30 | XXX
77321 | TC | A | Special teletx port plan | 0.00 | 4.01 | NA | 0.20 | 4.21 | NA | XXX
77326 |  | A | Brachytx isodose calc simp | 0.92 | 2.64 | NA | 0.18 | 3.74 | NA | XXX
77326 | 26 | A | Brachytx isodose calc simp | 0.92 | 0.30 | 0.30 | 0.05 | 1.27 | 1.27 | XXX
77326 | TC | A | Brachytx isodose calc simp | 0.00 | 2.34 | NA | 0.13 | 2.47 | NA | XXX
77327 |  | A | Brachytx isodose calc interm | 1.38 | 3.89 | NA | 0.25 | 5.52 | NA | XXX
77327 | 26 | A | Brachytx isodose calc interm | 1.38 | 0.45 | 0.45 | 0.07 | 1.90 | 1.90 | XXX
77327 | TC | A | Brachytx isodose calc interm | 0.00 | 3.44 | NA | 0.18 | 3.62 | NA | XXX
77328 |  | A | Brachytx isodose plan compl | 2.08 | 5.58 | NA | 0.36 | 8.02 | NA | XXX
77328 | 26 | A | Brachytx isodose plan compl | 2.08 | 0.66 | 0.66 | 0.11 | 2.85 | 2.85 | XXX
77328 | TC | A | Brachytx isodose plan compl | 0.00 | 4.92 | NA | 0.25 | 5.17 | NA | XXX
77331 |  | A | Special radiation dosimetry | 0.87 | 0.78 | NA | 0.07 | 1.72 | NA | XXX
77331 | 26 | A | Special radiation dosimetry | 0.87 | 0.28 | 0.28 | 0.05 | 1.20 | 1.20 | XXX
77331 | TC | A | Special radiation dosimetry | 0.00 | 0.50 | NA | 0.02 | 0.52 | NA | XXX
77332 |  | A | Radiation treatment aid(s) | 0.54 | 1.50 | NA | 0.09 | 2.13 | NA | XXX
77332 | 26 | A | Radiation treatment aid(s) | 0.54 | 0.17 | 0.17 | 0.02 | 0.73 | 0.73 | XXX
77332 | TC | A | Radiation treatment aid(s) | 0.00 | 1.33 | NA | 0.07 | 1.40 | NA | XXX
77333 |  | A | Radiation treatment aid(s) | 0.84 | 2.15 | NA | 0.16 | 3.15 | NA | XXX
77333 | 26 | A | Radiation treatment aid(s) | 0.84 | 0.27 | 0.27 | 0.05 | 1.16 | 1.16 | XXX
77333 | TC | A | Radiation treatment aid(s) | 0.00 | 1.88 | NA | 0.11 | 1.99 | NA | XXX
77334 |  | A | Radiation treatment aid(s) | 1.23 | 3.62 | NA | 0.23 | 5.08 | NA | XXX
77334 | 26 | A | Radiation treatment aid(s) | 1.23 | 0.40 | 0.40 | 0.06 | 1.69 | 1.69 | XXX
77334 | TC | A | Radiation treatment aid(s) | 0.00 | 3.22 | NA | 0.17 | 3.39 | NA | XXX
77336 |  | A | Radiation physics consult | 0.00 | 2.96 | NA | 0.16 | 3.12 | NA | XXX
77370 |  | A | Radiation physics consult | 0.00 | 3.46 | NA | 0.18 | 3.64 | NA | XXX
77399 |  | C | External radiation dosimetry | 0.00 | 0.00 | 0.00 | 0.00 | 0.00 | 0.00 | XXX
77399 | 26 | C | External radiation dosimetry | 0.00 | 0.00 | 0.00 | 0.00 | 0.00 | 0.00 | XXX
77399 | TC | C | External radiation dosimetry | 0.00 | 0.00 | 0.00 | 0.00 | 0.00 | 0.00 | XXX
77401 |  | A | Radiation treatment delivery | 0.00 | 1.76 | NA | 0.11 | 1.87 | NA | XXX
77402 |  | A | Radiation treatment delivery | 0.00 | 1.76 | NA | 0.11 | 1.87 | NA | XXX
77403 |  | A | Radiation treatment delivery | 0.00 | 1.76 | NA | 0.11 | 1.87 | NA | XXX
77404 |  | A | Radiation treatment delivery | 0.00 | 1.76 | NA | 0.11 | 1.87 | NA | XXX
77406 |  | A | Radiation treatment delivery | 0.00 | 1.76 | NA | 0.11 | 1.87 | NA | XXX
77407 |  | A | Radiation treatment delivery | 0.00 | 2.07 | NA | 0.12 | 2.19 | NA | XXX
77408 |  | A | Radiation treatment delivery | 0.00 | 2.07 | NA | 0.12 | 2.19 | NA | XXX
77409 |  | A | Radiation treatment delivery | 0.00 | 2.07 | NA | 0.12 | 2.19 | NA | XXX
77411 |  | A | Radiation treatment delivery | 0.00 | 2.07 | NA | 0.12 | 2.19 | NA | XXX
77412 |  | A | Radiation treatment delivery | 0.00 | 2.31 | NA | 0.13 | 2.44 | NA | XXX
77413 |  | A | Radiation treatment delivery | 0.00 | 2.31 | NA | 0.13 | 2.44 | NA | XXX
77414 |  | A | Radiation treatment delivery | 0.00 | 2.31 | NA | 0.13 | 2.44 | NA | XXX
77416 |  | A | Radiation treatment delivery | 0.00 | 2.31 | NA | 0.13 | 2.44 | NA | XXX
77417 |  | A | Radiology port film(s) | 0.00 | 0.59 | NA | 0.04 | 0.63 | NA | XXX
77418 |  | A | Radiation tx delivery, imrt | 0.00 | 17.83 | NA | 0.13 | 17.96 | NA | XXX
77427 |  | A | Radiation tx management, x5 | 3.29 | 1.06 | 1.06 | 0.17 | 4.52 | 4.52 | XXX
77431 |  | A | Radiation therapy management | 1.80 | 0.68 | 0.68 | 0.08 | 2.56 | 2.56 | XXX
77432 |  | A | Stereotactic radiation trmt | 7.88 | 2.93 | 2.93 | 0.40 | 11.21 | 11.21 | XXX
77470 |  | A | Special radiation treatment | 2.08 | 11.71 | NA | 0.70 | 14.49 | NA | XXX
77470 | 26 | A | Special radiation treatment | 2.08 | 0.66 | 0.66 | 0.11 | 2.85 | 2.85 | XXX
77470 | TC | A | Special radiation treatment | 0.00 | 11.05 | NA | 0.59 | 11.64 | NA | XXX
77499 |  | C | Radiation therapy management | 0.00 | 0.00 | 0.00 | 0.00 | 0.00 | 0.00 | XXX
77499 | 26 | C | Radiation therapy management | 0.00 | 0.00 | 0.00 | 0.00 | 0.00 | 0.00 | XXX
77499 | TC | C | Radiation therapy management | 0.00 | 0.00 | 0.00 | 0.00 | 0.00 | 0.00 | XXX
77520 |  | C | Proton trmt, simple w/o comp | 0.00 | 0.00 | 0.00 | 0.00 | 0.00 | 0.00 | XXX
77522 |  | C | Proton trmt, simple w/comp | 0.00 | 0.00 | 0.00 | 0.00 | 0.00 | 0.00 | XXX
77523 |  | C | Proton trmt, intermediate | 0.00 | 0.00 | 0.00 | 0.00 | 0.00 | 0.00 | XXX
77525 |  | C | Proton treatment, complex | 0.00 | 0.00 | 0.00 | 0.00 | 0.00 | 0.00 | XXX
77600 |  | R | Hyperthermia treatment | 1.55 | 3.52 | NA | 0.26 | 5.33 | NA | XXX
77600 | 26 | R | Hyperthermia treatment | 1.55 | 0.50 | 0.50 | 0.10 | 2.15 | 2.15 | XXX
77600 | TC | R | Hyperthermia treatment | 0.00 | 3.02 | NA | 0.16 | 3.18 | NA | XXX
77605 |  | R | Hyperthermia treatment | 2.08 | 4.69 | NA | 0.38 | 7.15 | NA | XXX
77605 | 26 | R | Hyperthermia treatment | 2.08 | 0.66 | 0.66 | 0.16 | 2.90 | 2.90 | XXX
77605 | TC | R | Hyperthermia treatment | 0.00 | 4.03 | NA | 0.22 | 4.25 | NA | XXX
77610 |  | R | Hyperthermia treatment | 1.55 | 3.53 | NA | 0.24 | 5.32 | NA | XXX
77610 | 26 | R | Hyperthermia treatment | 1.55 | 0.51 | 0.51 | 0.08 | 2.14 | 2.14 | XXX
77610 | TC | R | Hyperthermia treatment | 0.00 | 3.02 | NA | 0.16 | 3.18 | NA | XXX
77615 |  | R | Hyperthermia treatment | 2.08 | 4.69 | NA | 0.33 | 7.10 | NA | XXX
77615 | 26 | R | Hyperthermia treatment | 2.08 | 0.66 | 0.66 | 0.11 | 2.85 | 2.85 | XXX
77615 | TC | R | Hyperthermia treatment | 0.00 | 4.03 | NA | 0.22 | 4.25 | NA | XXX
77620 |  | R | Hyperthermia treatment | 1.55 | 3.54 | NA | 0.23 | 5.32 | NA | XXX
77620 | 26 | R | Hyperthermia treatment | 1.55 | 0.52 | 0.52 | 0.07 | 2.14 | 2.14 | XXX
77620 | TC | R | Hyperthermia treatment | 0.00 | 3.02 | NA | 0.16 | 3.18 | NA | XXX
77750 |  | A | Infuse radioactive materials | 4.88 | 2.91 | NA | 0.27 | 8.06 | NA | 090
77750 | 26 | A | Infuse radioactive materials | 4.88 | 1.59 | 1.59 | 0.20 | 6.67 | 6.67 | 090
77750 | TC | A | Infuse radioactive materials | 0.00 | 1.32 | NA | 0.07 | 1.39 | NA | 090
77761 |  | A | Apply intrcav radiat simple | 3.79 | 3.58 | NA | 0.33 | 7.70 | NA | 090
77761 | 26 | A | Apply intrcav radiat simple | 3.79 | 1.10 | 1.10 | 0.19 | 5.08 | 5.08 | 090
77761 | TC | A | Apply intrcav radiat simple | 0.00 | 2.48 | NA | 0.14 | 2.62 | NA | 090
77762 |  | A | Apply intrcav radiat interm | 5.69 | 5.42 | NA | 0.45 | 11.56 | NA | 090
77762 | 26 | A | Apply intrcav radiat interm | 5.69 | 1.85 | 1.85 | 0.26 | 7.80 | 7.80 | 090
77762 | TC | A | Apply intrcav radiat interm | 0.00 | 3.57 | NA | 0.19 | 3.76 | NA | 090
77763 |  | A | Apply intrcav radiat compl | 8.52 | 7.20 | NA | 0.64 | 16.36 | NA | 090
77763 | 26 | A | Apply intrcav radiat compl | 8.52 | 2.75 | 2.75 | 0.41 | 11.68 | 11.68 | 090
77763 | TC | A | Apply intrcav radiat compl | 0.00 | 4.45 | NA | 0.23 | 4.68 | NA | 090
77776 |  | A | Apply interstit radiat simpl | 4.63 | 3.12 | NA | 0.42 | 8.17 | NA | 090
77776 | 26 | A | Apply interstit radiat simpl | 4.63 | 0.97 | 0.97 | 0.29 | 5.89 | 5.89 | 090
77776 | TC | A | Apply interstit radiat simpl | 0.00 | 2.15 | NA | 0.13 | 2.28 | NA | 090
77777 |  | A | Apply interstit radiat inter | 7.44 | 6.57 | NA | 0.60 | 14.61 | NA | 090
77777 | 26 | A | Apply interstit radiat inter | 7.44 | 2.37 | 2.37 | 0.38 | 10.19 | 10.19 | 090
77777 | TC | A | Apply interstit radiat inter | 0.00 | 4.20 | NA | 0.22 | 4.42 | NA | 090
77778 |  | A | Apply interstit radiat compl | 11.13 | 8.66 | NA | 0.82 | 20.61 | NA | 090
77778 | 26 | A | Apply interstit radiat compl | 11.13 | 3.57 | 3.57 | 0.56 | 15.26 | 15.26 | 090
77778 | TC | A | Apply interstit radiat compl | 0.00 | 5.09 | NA | 0.26 | 5.35 | NA | 090
77781 |  | A | High intensity brachytherapy | 1.65 | 20.67 | NA | 1.13 | 23.45 | NA | 090
77781 | 26 | A | High intensity brachytherapy | 1.65 | 0.54 | 0.54 | 0.08 | 2.27 | 2.27 | 090
77781 | TC | A | High intensity brachytherapy | 0.00 | 20.13 | NA | 1.05 | 21.18 | NA | 090
77782 |  | A | High intensity brachytherapy | 2.48 | 20.93 | NA | 1.17 | 24.58 | NA | 090
77782 | 26 | A | High intensity brachytherapy | 2.48 | 0.80 | 0.80 | 0.12 | 3.40 | 3.40 | 090
77782 | TC | A | High intensity brachytherapy | 0.00 | 20.13 | NA | 1.05 | 21.18 | NA | 090
77783 |  | A | High intensity brachytherapy | 3.71 | 21.32 | NA | 1.23 | 26.26 | NA | 090
77783 | 26 | A | High intensity brachytherapy | 3.71 | 1.19 | 1.19 | 0.18 | 5.08 | 5.08 | 090
77783 | TC | A | High intensity brachytherapy | 0.00 | 20.13 | NA | 1.05 | 21.18 | NA | 090
77784 |  | A | High intensity brachytherapy | 5.58 | 21.93 | NA | 1.31 | 28.82 | NA | 090
77784 | 26 | A | High intensity brachytherapy | 5.58 | 1.80 | 1.80 | 0.26 | 7.64 | 7.64 | 090
77784 | TC | A | High intensity brachytherapy | 0.00 | 20.13 | NA | 1.05 | 21.18 | NA | 090
77789 |  | A | Apply surface radiation | 1.11 | 0.82 | NA | 0.06 | 1.99 | NA | 000
77789 | 26 | A | Apply surface radiation | 1.11 | 0.37 | 0.37 | 0.04 | 1.52 | 1.52 | 000
77789 | TC | A | Apply surface radiation | 0.00 | 0.45 | NA | 0.02 | 0.47 | NA | 000
77790 |  | A | Radiation handling | 1.04 | 0.84 | NA | 0.07 | 1.95 | NA | XXX
77790 | 26 | A | Radiation handling | 1.04 | 0.34 | 0.34 | 0.05 | 1.43 | 1.43 | XXX
77790 | TC | A | Radiation handling | 0.00 | 0.50 | NA | 0.02 | 0.52 | NA | XXX
77799 |  | C | Radium/radioisotope therapy | 0.00 | 0.00 | 0.00 | 0.00 | 0.00 | 0.00 | XXX
77799 | 26 | C | Radium/radioisotope therapy | 0.00 | 0.00 | 0.00 | 0.00 | 0.00 | 0.00 | XXX
77799 | TC | C | Radium/radioisotope therapy | 0.00 | 0.00 | 0.00 | 0.00 | 0.00 | 0.00 | XXX
78000 |  | A | Thyroid, single uptake | 0.19 | 1.03 | NA | 0.07 | 1.29 | NA | XXX
78000 | 26 | A | Thyroid, single uptake | 0.19 | 0.07 | 0.07 | 0.01 | 0.27 | 0.27 | XXX
78000 | TC | A | Thyroid, single uptake | 0.00 | 0.96 | NA | 0.06 | 1.02 | NA | XXX
78001 |  | A | Thyroid, multiple uptakes | 0.26 | 1.38 | NA | 0.08 | 1.72 | NA | XXX
78001 | 26 | A | Thyroid, multiple uptakes | 0.26 | 0.09 | 0.09 | 0.01 | 0.36 | 0.36 | XXX
78001 | TC | A | Thyroid, multiple uptakes | 0.00 | 1.29 | NA | 0.07 | 1.36 | NA | XXX
78003 |  | A | Thyroid suppress/stimul | 0.33 | 1.07 | NA | 0.07 | 1.47 | NA | XXX
78003 | 26 | A | Thyroid suppress/stimul | 0.33 | 0.11 | 0.11 | 0.01 | 0.45 | 0.45 | XXX
78003 | TC | A | Thyroid suppress/stimul | 0.00 | 0.96 | NA | 0.06 | 1.02 | NA | XXX
78006 |  | A | Thyroid imaging with uptake | 0.49 | 2.53 | NA | 0.15 | 3.17 | NA | XXX
78006 | 26 | A | Thyroid imaging with uptake | 0.49 | 0.17 | 0.17 | 0.02 | 0.68 | 0.68 | XXX
78006 | TC | A | Thyroid imaging with uptake | 0.00 | 2.36 | NA | 0.13 | 2.49 | NA | XXX
78007 |  | A | Thyroid image, mult uptakes | 0.50 | 2.72 | NA | 0.16 | 3.38 | NA | XXX
78007 | 26 | A | Thyroid image, mult uptakes | 0.50 | 0.17 | 0.17 | 0.02 | 0.69 | 0.69 | XXX
78007 | TC | A | Thyroid image, mult uptakes | 0.00 | 2.55 | NA | 0.14 | 2.69 | NA | XXX
78010 |  | A | Thyroid imaging | 0.39 | 1.94 | NA | 0.13 | 2.46 | NA | XXX
78010 | 26 | A | Thyroid imaging | 0.39 | 0.13 | 0.13 | 0.02 | 0.54 | 0.54 | XXX
78010 | TC | A | Thyroid imaging | 0.00 | 1.81 | NA | 0.11 | 1.92 | NA | XXX
78011 |  | A | Thyroid imaging with flow | 0.45 | 2.55 | NA | 0.15 | 3.15 | NA | XXX
78011 | 26 | A | Thyroid imaging with flow | 0.45 | 0.16 | 0.16 | 0.02 | 0.63 | 0.63 | XXX
78011 | TC | A | Thyroid imaging with flow | 0.00 | 2.39 | NA | 0.13 | 2.52 | NA | XXX
78015 |  | A | Thyroid met imaging | 0.67 | 2.78 | NA | 0.18 | 3.63 | NA | XXX
78015 | 26 | A | Thyroid met imaging | 0.67 | 0.23 | 0.23 | 0.04 | 0.94 | 0.94 | XXX
78015 | TC | A | Thyroid met imaging | 0.00 | 2.55 | NA | 0.14 | 2.69 | NA | XXX
78016 |  | A | Thyroid met imaging/studies | 0.82 | 3.74 | NA | 0.22 | 4.78 | NA | XXX
78016 | 26 | A | Thyroid met imaging/studies | 0.82 | 0.29 | 0.29 | 0.04 | 1.15 | 1.15 | XXX
78016 | TC | A | Thyroid met imaging/studies | 0.00 | 3.45 | NA | 0.18 | 3.63 | NA | XXX
78018 |  | A | Thyroid met imaging, body | 0.86 | 5.68 | NA | 0.33 | 6.87 | NA | XXX
78018 | 26 | A | Thyroid met imaging, body | 0.86 | 0.30 | 0.30 | 0.04 | 1.20 | 1.20 | XXX
78018 | TC | A | Thyroid met imaging, body | 0.00 | 5.38 | NA | 0.29 | 5.67 | NA | XXX
78020 |  | A | Thyroid met uptake | 0.60 | 1.50 | NA | 0.16 | 2.26 | NA | ZZZ
78020 | 26 | A | Thyroid met uptake | 0.60 | 0.21 | 0.21 | 0.02 | 0.83 | 0.83 | ZZZ
78020 | TC | A | Thyroid met uptake | 0.00 | 1.29 | NA | 0.14 | 1.43 | NA | ZZZ
78070 |  | A | Parathyroid nuclear imaging | 0.82 | 2.09 | NA | 0.15 | 3.06 | NA | XXX
78070 | 26 | A | Parathyroid nuclear imaging | 0.82 | 0.28 | 0.28 | 0.04 | 1.14 | 1.14 | XXX
78070 | TC | A | Parathyroid nuclear imaging | 0.00 | 1.81 | NA | 0.11 | 1.92 | NA | XXX
78075 |  | A | Adrenal nuclear imaging | 0.74 | 5.65 | NA | 0.33 | 6.72 | NA | XXX
78075 | 26 | A | Adrenal nuclear imaging | 0.74 | 0.27 | 0.27 | 0.04 | 1.05 | 1.05 | XXX
78075 | TC | A | Adrenal nuclear imaging | 0.00 | 5.38 | NA | 0.29 | 5.67 | NA | XXX
78099 |  | C | Endocrine nuclear procedure | 0.00 | 0.00 | 0.00 | 0.00 | 0.00 | 0.00 | XXX
78099 | 26 | C | Endocrine nuclear procedure | 0.00 | 0.00 | 0.00 | 0.00 | 0.00 | 0.00 | XXX
78099 | TC | C | Endocrine nuclear procedure | 0.00 | 0.00 | 0.00 | 0.00 | 0.00 | 0.00 | XXX
78102 |  | A | Bone marrow imaging, ltd | 0.55 | 2.22 | NA | 0.14 | 2.91 | NA | XXX
78102 | 26 | A | Bone marrow imaging, ltd | 0.55 | 0.20 | 0.20 | 0.02 | 0.77 | 0.77 | XXX
78102 | TC | A | Bone marrow imaging, ltd | 0.00 | 2.02 | NA | 0.12 | 2.14 | NA | XXX
78103 |  | A | Bone marrow imaging, mult | 0.75 | 3.41 | NA | 0.21 | 4.37 | NA | XXX
78103 | 26 | A | Bone marrow imaging, mult | 0.75 | 0.26 | 0.26 | 0.04 | 1.05 | 1.05 | XXX
78103 | TC | A | Bone marrow imaging, mult | 0.00 | 3.15 | NA | 0.17 | 3.32 | NA | XXX
78104 |  | A | Bone marrow imaging, body | 0.80 | 4.32 | NA | 0.26 | 5.38 | NA | XXX
78104 | 26 | A | Bone marrow imaging, body | 0.80 | 0.28 | 0.28 | 0.04 | 1.12 | 1.12 | XXX
78104 | TC | A | Bone marrow imaging, body | 0.00 | 4.04 | NA | 0.22 | 4.26 | NA | XXX
78110 |  | A | Plasma volume, single | 0.19 | 1.01 | NA | 0.07 | 1.27 | NA | XXX
78110 | 26 | A | Plasma volume, single | 0.19 | 0.07 | 0.07 | 0.01 | 0.27 | 0.27 | XXX
78110 | TC | A | Plasma volume, single | 0.00 | 0.94 | NA | 0.06 | 1.00 | NA | XXX
78111 |  | A | Plasma volume, multiple | 0.22 | 2.63 | NA | 0.15 | 3.00 | NA | XXX
78111 | 26 | A | Plasma volume, multiple | 0.22 | 0.08 | 0.08 | 0.01 | 0.31 | 0.31 | XXX
78111 | TC | A | Plasma volume, multiple | 0.00 | 2.55 | NA | 0.14 | 2.69 | NA | XXX
78120 |  | A | Red cell mass, single | 0.23 | 1.80 | NA | 0.12 | 2.15 | NA | XXX
78120 | 26 | A | Red cell mass, single | 0.23 | 0.08 | 0.08 | 0.01 | 0.32 | 0.32 | XXX
78120 | TC | A | Red cell mass, single | 0.00 | 1.72 | NA | 0.11 | 1.83 | NA | XXX
78121 |  | A | Red cell mass, multiple | 0.32 | 3.00 | NA | 0.15 | 3.47 | NA | XXX
78121 | 26 | A | Red cell mass, multiple | 0.32 | 0.11 | 0.11 | 0.01 | 0.44 | 0.44 | XXX
78121 | TC | A | Red cell mass, multiple | 0.00 | 2.89 | NA | 0.14 | 3.03 | NA | XXX
78122 |  | A | Blood volume | 0.45 | 4.72 | NA | 0.26 | 5.43 | NA | XXX
78122 | 26 | A | Blood volume | 0.45 | 0.16 | 0.16 | 0.02 | 0.63 | 0.63 | XXX
78122 | TC | A | Blood volume | 0.00 | 4.56 | NA | 0.24 | 4.80 | NA | XXX
78130 |  | A | Red cell survival study | 0.61 | 3.04 | NA | 0.18 | 3.83 | NA | XXX
78130 | 26 | A | Red cell survival study | 0.61 | 0.21 | 0.21 | 0.04 | 0.86 | 0.86 | XXX
78130 | TC | A | Red cell survival study | 0.00 | 2.83 | NA | 0.14 | 2.97 | NA | XXX
78135 |  | A | Red cell survival kinetics | 0.64 | 5.05 | NA | 0.29 | 5.98 | NA | XXX
78135 | 26 | A | Red cell survival kinetics | 0.64 | 0.22 | 0.22 | 0.04 | 0.90 | 0.90 | XXX
78135 | TC | A | Red cell survival kinetics | 0.00 | 4.83 | NA | 0.25 | 5.08 | NA | XXX
78140 |  | A | Red cell sequestration | 0.61 | 4.10 | NA | 0.24 | 4.95 | NA | XXX
78140 | 26 | A | Red cell sequestration | 0.61 | 0.20 | 0.20 | 0.04 | 0.85 | 0.85 | XXX
78140 | TC | A | Red cell sequestration | 0.00 | 3.90 | NA | 0.20 | 4.10 | NA | XXX
78160 |  | A | Plasma iron turnover | 0.33 | 3.75 | NA | 0.23 | 4.31 | NA | XXX
78160 | 26 | A | Plasma iron turnover | 0.33 | 0.12 | 0.12 | 0.04 | 0.49 | 0.49 | XXX
78160 | TC | A | Plasma iron turnover | 0.00 | 3.63 | NA | 0.19 | 3.82 | NA | XXX
78162 |  | A | Radioiron absorption exam | 0.45 | 3.37 | NA | 0.18 | 4.00 | NA | XXX
78162 | 26 | A | Radioiron absorption exam | 0.45 | 0.19 | 0.19 | 0.01 | 0.65 | 0.65 | XXX
78162 | TC | A | Radioiron absorption exam | 0.00 | 3.18 | NA | 0.17 | 3.35 | NA | XXX
78170 |  | A | Red cell iron utilization | 0.41 | 5.40 | NA | 0.33 | 6.14 | NA | XXX
78170 | 26 | A | Red cell iron utilization | 0.41 | 0.14 | 0.14 | 0.05 | 0.60 | 0.60 | XXX
78170 | TC | A | Red cell iron utilization | 0.00 | 5.26 | NA | 0.28 | 5.54 | NA | XXX
78172 |  | C | Total body iron estimation | 0.00 | 0.00 | 0.00 | 0.00 | 0.00 | 0.00 | XXX
78172 | 26 | A | Total body iron estimation | 0.53 | 0.18 | 0.18 | 0.02 | 0.73 | 0.73 | XXX
78172 | TC | C | Total body iron estimation | 0.00 | 0.00 | 0.00 | 0.00 | 0.00 | 0.00 | XXX
78185 |  | A | Spleen imaging | 0.40 | 2.48 | NA | 0.15 | 3.03 | NA | XXX
78185 | 26 | A | Spleen imaging | 0.40 | 0.14 | 0.14 | 0.02 | 0.56 | 0.56 | XXX
78185 | TC | A | Spleen imaging | 0.00 | 2.34 | NA | 0.13 | 2.47 | NA | XXX
78190 |  | A | Platelet survival, kinetics | 1.08 | 6.06 | NA | 0.37 | 7.51 | NA | XXX
78190 | 26 | A | Platelet survival, kinetics | 1.08 | 0.39 | 0.39 | 0.07 | 1.54 | 1.54 | XXX
78190 | TC | A | Platelet survival, kinetics | 0.00 | 5.67 | NA | 0.30 | 5.97 | NA | XXX
78191 |  | A | Platelet survival | 0.61 | 7.48 | NA | 0.41 | 8.50 | NA | XXX
78191 | 26 | A | Platelet survival | 0.61 | 0.21 | 0.21 | 0.04 | 0.86 | 0.86 | XXX
78191 | TC | A | Platelet survival | 0.00 | 7.27 | NA | 0.37 | 7.64 | NA | XXX
78195 |  | A | Lymph system imaging | 1.19 | 4.46 | NA | 0.28 | 5.93 | NA | XXX
78195 | 26 | A | Lymph system imaging | 1.19 | 0.42 | 0.42 | 0.06 | 1.67 | 1.67 | XXX
78195 | TC | A | Lymph system imaging | 0.00 | 4.04 | NA | 0.22 | 4.26 | NA | XXX
78199 |  | C | Blood/lymph nuclear exam | 0.00 | 0.00 | 0.00 | 0.00 | 0.00 | 0.00 | XXX
78199 | 26 | C | Blood/lymph nuclear exam | 0.00 | 0.00 | 0.00 | 0.00 | 0.00 | 0.00 | XXX
78199 | TC | C | Blood/lymph nuclear exam | 0.00 | 0.00 | 0.00 | 0.00 | 0.00 | 0.00 | XXX
78201 |  | A | Liver imaging | 0.44 | 2.49 | NA | 0.15 | 3.08 | NA | XXX
78201 | 26 | A | Liver imaging | 0.44 | 0.15 | 0.15 | 0.02 | 0.61 | 0.61 | XXX
78201 | TC | A | Liver imaging | 0.00 | 2.34 | NA | 0.13 | 2.47 | NA | XXX
78202 |  | A | Liver imaging with flow | 0.51 | 3.04 | NA | 0.16 | 3.71 | NA | XXX
78202 | 26 | A | Liver imaging with flow | 0.51 | 0.18 | 0.18 | 0.02 | 0.71 | 0.71 | XXX
78202 | TC | A | Liver imaging with flow | 0.00 | 2.86 | NA | 0.14 | 3.00 | NA | XXX
78205 |  | A | Liver imaging (3D) | 0.71 | 6.10 | NA | 0.35 | 7.16 | NA | XXX
78205 | 26 | A | Liver imaging (3D) | 0.71 | 0.25 | 0.25 | 0.04 | 1.00 | 1.00 | XXX
78205 | TC | A | Liver imaging (3D) | 0.00 | 5.85 | NA | 0.31 | 6.16 | NA | XXX
78206 |  | A | Liver image (3d) with flow | 0.95 | 6.19 | NA | 0.16 | 7.30 | NA | XXX
78206 | 26 | A | Liver image (3d) with flow | 0.95 | 0.34 | 0.34 | 0.05 | 1.34 | 1.34 | XXX
78206 | TC | A | Liver image (3d) with flow | 0.00 | 5.85 | NA | 0.11 | 5.96 | NA | XXX
78215 |  | A | Liver and spleen imaging | 0.49 | 3.09 | NA | 0.16 | 3.74 | NA | XXX
78215 | 26 | A | Liver and spleen imaging | 0.49 | 0.17 | 0.17 | 0.02 | 0.68 | 0.68 | XXX
78215 | TC | A | Liver and spleen imaging | 0.00 | 2.92 | NA | 0.14 | 3.06 | NA | XXX
78216 |  | A | Liver & spleen image/flow | 0.57 | 3.65 | NA | 0.20 | 4.42 | NA | XXX
78216 | 26 | A | Liver & spleen image/flow | 0.57 | 0.20 | 0.20 | 0.02 | 0.79 | 0.79 | XXX
78216 | TC | A | Liver & spleen image/flow | 0.00 | 3.45 | NA | 0.18 | 3.63 | NA | XXX
78220 |  | A | Liver function study | 0.49 | 3.86 | NA | 0.21 | 4.56 | NA | XXX
78220 | 26 | A | Liver function study | 0.49 | 0.17 | 0.17 | 0.02 | 0.68 | 0.68 | XXX
78220 | TC | A | Liver function study | 0.00 | 3.69 | NA | 0.19 | 3.88 | NA | XXX
78223 |  | A | Hepatobiliary imaging | 0.84 | 3.91 | NA | 0.24 | 4.99 | NA | XXX
78223 | 26 | A | Hepatobiliary imaging | 0.84 | 0.28 | 0.28 | 0.05 | 1.17 | 1.17 | XXX
78223 | TC | A | Hepatobiliary imaging | 0.00 | 3.63 | NA | 0.19 | 3.82 | NA | XXX
78230 |  | A | Salivary gland imaging | 0.45 | 2.30 | NA | 0.15 | 2.90 | NA | XXX
78230 | 26 | A | Salivary gland imaging | 0.45 | 0.15 | 0.15 | 0.02 | 0.62 | 0.62 | XXX
78230 | TC | A | Salivary gland imaging | 0.00 | 2.15 | NA | 0.13 | 2.28 | NA | XXX
78231 |  | A | Serial salivary imaging | 0.52 | 3.34 | NA | 0.19 | 4.05 | NA | XXX
78231 | 26 | A | Serial salivary imaging | 0.52 | 0.19 | 0.19 | 0.02 | 0.73 | 0.73 | XXX
78231 | TC | A | Serial salivary imaging | 0.00 | 3.15 | NA | 0.17 | 3.32 | NA | XXX
78232 |  | A | Salivary gland function exam | 0.47 | 3.68 | NA | 0.19 | 4.34 | NA | XXX
78232 | 26 | A | Salivary gland function exam | 0.47 | 0.17 | 0.17 | 0.01 | 0.65 | 0.65 | XXX
78232 | TC | A | Salivary gland function exam | 0.00 | 3.51 | NA | 0.18 | 3.69 | NA | XXX
78258 |  | A | Esophageal motility study | 0.74 | 3.11 | NA | 0.18 | 4.03 | NA | XXX
78258 | 26 | A | Esophageal motility study | 0.74 | 0.25 | 0.25 | 0.04 | 1.03 | 1.03 | XXX
78258 | TC | A | Esophageal motility study | 0.00 | 2.86 | NA | 0.14 | 3.00 | NA | XXX
78261 |  | A | Gastric mucosa imaging | 0.69 | 4.32 | NA | 0.26 | 5.27 | NA | XXX
78261 | 26 | A | Gastric mucosa imaging | 0.69 | 0.25 | 0.25 | 0.04 | 0.98 | 0.98 | XXX
78261 | TC | A | Gastric mucosa imaging | 0.00 | 4.07 | NA | 0.22 | 4.29 | NA | XXX
78262 |  | A | Gastroesophageal reflux exam | 0.68 | 4.46 | NA | 0.26 | 5.40 | NA | XXX
78262 | 26 | A | Gastroesophageal reflux exam | 0.68 | 0.24 | 0.24 | 0.04 | 0.96 | 0.96 | XXX
78262 | TC | A | Gastroesophageal reflux exam | 0.00 | 4.22 | NA | 0.22 | 4.44 | NA | XXX
78264 |  | A | Gastric emptying study | 0.78 | 4.37 | NA | 0.26 | 5.41 | NA | XXX
78264 | 26 | A | Gastric emptying study | 0.78 | 0.27 | 0.27 | 0.04 | 1.09 | 1.09 | XXX
78264 | TC | A | Gastric emptying study | 0.00 | 4.10 | NA | 0.22 | 4.32 | NA | XXX
78267 |  | X | Breath tst attain/anal c-14 | 0.00 | 0.00 | 0.00 | 0.00 | 0.00 | 0.00 | XXX
78268 |  | X | Breath test analysis, c-14 | 0.00 | 0.00 | 0.00 | 0.00 | 0.00 | 0.00 | XXX
78270 |  | A | Vit B-12 absorption exam | 0.20 | 1.61 | NA | 0.11 | 1.92 | NA | XXX
78270 | 26 | A | Vit B-12 absorption exam | 0.20 | 0.07 | 0.07 | 0.01 | 0.28 | 0.28 | XXX
78270 | TC | A | Vit B-12 absorption exam | 0.00 | 1.54 | NA | 0.10 | 1.64 | NA | XXX
78271 |  | A | Vit b-12 absrp exam, int fac | 0.20 | 1.70 | NA | 0.11 | 2.01 | NA | XXX
78271 | 26 | A | Vit b-12 absrp exam, int fac | 0.20 | 0.07 | 0.07 | 0.01 | 0.28 | 0.28 | XXX
78271 | TC | A | Vit b-12 absrp exam, int fac | 0.00 | 1.63 | NA | 0.10 | 1.73 | NA | XXX
78272 |  | A | Vit B-12 absorp, combined | 0.27 | 2.40 | NA | 0.14 | 2.81 | NA | XXX
78272 | 26 | A | Vit B-12 absorp, combined | 0.27 | 0.10 | 0.10 | 0.01 | 0.38 | 0.38 | XXX
78272 | TC | A | Vit B-12 absorp, combined | 0.00 | 2.30 | NA | 0.13 | 2.43 | NA | XXX
78278 |  | A | Acute GI blood loss imaging | 0.98 | 5.17 | NA | 0.30 | 6.45 | NA | XXX
78278 | 26 | A | Acute GI blood loss imaging | 0.98 | 0.34 | 0.34 | 0.05 | 1.37 | 1.37 | XXX
78278 | TC | A | Acute GI blood loss imaging | 0.00 | 4.83 | NA | 0.25 | 5.08 | NA | XXX
78282 |  | C | GI protein loss exam | 0.00 | 0.00 | 0.00 | 0.00 | 0.00 | 0.00 | XXX
78282 | 26 | A | GI protein loss exam | 0.38 | 0.13 | 0.13 | 0.02 | 0.53 | 0.53 | XXX
78282 | TC | C | GI protein loss exam | 0.00 | 0.00 | 0.00 | 0.00 | 0.00 | 0.00 | XXX
78290 |  | A | Meckel's divert exam | 0.68 | 3.25 | NA | 0.20 | 4.13 | NA | XXX
78290 | 26 | A | Meckel's divert exam | 0.68 | 0.23 | 0.23 | 0.04 | 0.95 | 0.95 | XXX
78290 | TC | A | Meckel's divert exam | 0.00 | 3.02 | NA | 0.16 | 3.18 | NA | XXX
78291 |  | A | Leveen/shunt patency exam | 0.87 | 3.35 | NA | 0.21 | 4.43 | NA | XXX
78291 | 26 | A | Leveen/shunt patency exam | 0.87 | 0.31 | 0.31 | 0.05 | 1.23 | 1.23 | XXX
78291 | TC | A | Leveen/shunt patency exam | 0.00 | 3.04 | NA | 0.16 | 3.20 | NA | XXX
78299 |  | C | GI nuclear procedure | 0.00 | 0.00 | 0.00 | 0.00 | 0.00 | 0.00 | XXX
78299 | 26 | C | GI nuclear procedure | 0.00 | 0.00 | 0.00 | 0.00 | 0.00 | 0.00 | XXX
78299 | TC | C | GI nuclear procedure | 0.00 | 0.00 | 0.00 | 0.00 | 0.00 | 0.00 | XXX
78300 |  | A | Bone imaging, limited area | 0.62 | 2.67 | NA | 0.18 | 3.47 | NA | XXX
78300 | 26 | A | Bone imaging, limited area | 0.62 | 0.21 | 0.21 | 0.04 | 0.87 | 0.87 | XXX
78300 | TC | A | Bone imaging, limited area | 0.00 | 2.46 | NA | 0.14 | 2.60 | NA | XXX
78305 |  | A | Bone imaging, multiple areas | 0.83 | 3.91 | NA | 0.23 | 4.97 | NA | XXX
78305 | 26 | A | Bone imaging, multiple areas | 0.83 | 0.28 | 0.28 | 0.04 | 1.15 | 1.15 | XXX
78305 | TC | A | Bone imaging, multiple areas | 0.00 | 3.63 | NA | 0.19 | 3.82 | NA | XXX
78306 |  | A | Bone imaging, whole body | 0.86 | 4.53 | NA | 0.27 | 5.66 | NA | XXX
78306 | 26 | A | Bone imaging, whole body | 0.86 | 0.29 | 0.29 | 0.05 | 1.20 | 1.20 | XXX
78306 | TC | A | Bone imaging, whole body | 0.00 | 4.24 | NA | 0.22 | 4.46 | NA | XXX
78315 |  | A | Bone imaging, 3 phase | 1.01 | 5.08 | NA | 0.30 | 6.39 | NA | XXX
78315 | 26 | A | Bone imaging, 3 phase | 1.01 | 0.35 | 0.35 | 0.05 | 1.41 | 1.41 | XXX
78315 | TC | A | Bone imaging, 3 phase | 0.00 | 4.73 | NA | 0.25 | 4.98 | NA | XXX
78320 |  | A | Bone imaging (3D) | 1.03 | 6.22 | NA | 0.36 | 7.61 | NA | XXX
78320 | 26 | A | Bone imaging (3D) | 1.03 | 0.37 | 0.37 | 0.05 | 1.45 | 1.45 | XXX
78320 | TC | A | Bone imaging (3D) | 0.00 | 5.85 | NA | 0.31 | 6.16 | NA | XXX
78350 |  | A | Bone mineral, single photon | 0.22 | 0.81 | NA | 0.06 | 1.09 | NA | XXX
78350 | 26 | A | Bone mineral, single photon | 0.22 | 0.07 | 0.07 | 0.01 | 0.30 | 0.30 | XXX
78350 | TC | A | Bone mineral, single photon | 0.00 | 0.74 | NA | 0.05 | 0.79 | NA | XXX
78351 |  | N | Bone mineral, dual photon | +0.30 | 1.73 | 0.12 | 0.01 | 2.04 | 0.43 | XXX
78399 |  | C | Musculoskeletal nuclear exam | 0.00 | 0.00 | 0.00 | 0.00 | 0.00 | 0.00 | XXX
78399 | 26 | C | Musculoskeletal nuclear exam | 0.00 | 0.00 | 0.00 | 0.00 | 0.00 | 0.00 | XXX
78399 | TC | C | Musculoskeletal nuclear exam | 0.00 | 0.00 | 0.00 | 0.00 | 0.00 | 0.00 | XXX
78414 |  | C | Non-imaging heart function | 0.00 | 0.00 | 0.00 | 0.00 | 0.00 | 0.00 | XXX
78414 | 26 | A | Non-imaging heart function | 0.45 | 0.16 | 0.16 | 0.02 | 0.63 | 0.63 | XXX
78414 | TC | C | Non-imaging heart function | 0.00 | 0.00 | 0.00 | 0.00 | 0.00 | 0.00 | XXX
78428 |  | A | Cardiac shunt imaging | 0.78 | 2.53 | NA | 0.17 | 3.48 | NA | XXX
78428 | 26 | A | Cardiac shunt imaging | 0.78 | 0.30 | 0.30 | 0.04 | 1.12 | 1.12 | XXX
78428 | TC | A | Cardiac shunt imaging | 0.00 | 2.23 | NA | 0.13 | 2.36 | NA | XXX
78445 |  | A | Vascular flow imaging | 0.49 | 2.01 | NA | 0.13 | 2.63 | NA | XXX
78445 | 26 | A | Vascular flow imaging | 0.49 | 0.17 | 0.17 | 0.02 | 0.68 | 0.68 | XXX
78445 | TC | A | Vascular flow imaging | 0.00 | 1.84 | NA | 0.11 | 1.95 | NA | XXX
78455 |  | A | Venous thrombosis study | 0.73 | 4.20 | NA | 0.24 | 5.17 | NA | XXX
78455 | 26 | A | Venous thrombosis study | 0.73 | 0.25 | 0.25 | 0.04 | 1.02 | 1.02 | XXX
78455 | TC | A | Venous thrombosis study | 0.00 | 3.95 | NA | 0.20 | 4.15 | NA | XXX
78456 |  | A | Acute venous thrombus image | 0.99 | 4.30 | NA | 0.34 | 5.63 | NA | XXX
78456 | 26 | A | Acute venous thrombus image | 0.99 | 0.35 | 0.35 | 0.05 | 1.39 | 1.39 | XXX
78456 | TC | A | Acute venous thrombus image | 0.00 | 3.95 | NA | 0.29 | 4.24 | NA | XXX
78457 |  | A | Venous thrombosis imaging | 0.77 | 2.91 | NA | 0.18 | 3.86 | NA | XXX
78457 | 26 | A | Venous thrombosis imaging | 0.77 | 0.27 | 0.27 | 0.04 | 1.08 | 1.08 | XXX
78457 | TC | A | Venous thrombosis imaging | 0.00 | 2.64 | NA | 0.14 | 2.78 | NA | XXX
78458 |  | A | Ven thrombosis images, bilat | 0.89 | 4.32 | NA | 0.24 | 5.45 | NA | XXX
78458 | 26 | A | Ven thrombosis images, bilat | 0.89 | 0.33 | 0.33 | 0.04 | 1.26 | 1.26 | XXX
78458 | TC | A | Ven thrombosis images, bilat | 0.00 | 3.99 | NA | 0.20 | 4.19 | NA | XXX
78459 |  | C | Heart muscle imaging (PET) | 0.00 | 0.00 | 0.00 | 0.00 | 0.00 | 0.00 | XXX
78459 | 26 | R | Heart muscle imaging (PET) | 1.49 | 0.59 | 0.59 | 0.05 | 2.13 | 2.13 | XXX
78459 | TC | C | Heart muscle imaging (PET) | 0.00 | 0.00 | 0.00 | 0.00 | 0.00 | 0.00 | XXX
78460 |  | A | Heart muscle blood, single | 0.86 | 2.64 | NA | 0.17 | 3.67 | NA | XXX
78460 | 26 | A | Heart muscle blood, single | 0.86 | 0.30 | 0.30 | 0.04 | 1.20 | 1.20 | XXX
78460 | TC | A | Heart muscle blood, single | 0.00 | 2.34 | NA | 0.13 | 2.47 | NA | XXX
78461 |  | A | Heart muscle blood, multiple | 1.22 | 5.11 | NA | 0.31 | 6.64 | NA | XXX
78461 | 26 | A | Heart muscle blood, multiple | 1.22 | 0.44 | 0.44 | 0.06 | 1.72 | 1.72 | XXX
78461 | TC | A | Heart muscle blood, multiple | 0.00 | 4.67 | NA | 0.25 | 4.92 | NA | XXX
78464 |  | A | Heart image (3d), single | 1.08 | 7.40 | NA | 0.42 | 8.90 | NA | XXX
78464 | 26 | A | Heart image (3d), single | 1.08 | 0.39 | 0.39 | 0.05 | 1.52 | 1.52 | XXX
78464 | TC | A | Heart image (3d), single | 0.00 | 7.01 | NA | 0.37 | 7.38 | NA | XXX
78465 |  | A | Heart image (3d), multiple | 1.45 | 12.23 | NA | 0.67 | 14.35 | NA | XXX
78465 | 26 | A | Heart image (3d), multiple | 1.45 | 0.53 | 0.53 | 0.06 | 2.04 | 2.04 | XXX
78465 | TC | A | Heart image (3d), multiple | 0.00 | 11.70 | NA | 0.61 | 12.31 | NA | XXX
78466 |  | A | Heart infarct image | 0.69 | 2.85 | NA | 0.18 | 3.72 | NA | XXX
78466 | 26 | A | Heart infarct image | 0.69 | 0.25 | 0.25 | 0.04 | 0.98 | 0.98 | XXX
78466 | TC | A | Heart infarct image | 0.00 | 2.60 | NA | 0.14 | 2.74 | NA | XXX
78468 |  | A | Heart infarct image (ef) | 0.80 | 3.91 | NA | 0.23 | 4.94 | NA | XXX
78468 | 26 | A | Heart infarct image (ef) | 0.80 | 0.28 | 0.28 | 0.04 | 1.12 | 1.12 | XXX
78468 | TC | A | Heart infarct image (ef) | 0.00 | 3.63 | NA | 0.19 | 3.82 | NA | XXX
78469 |  | A | Heart infarct image (3D) | 0.91 | 5.50 | NA | 0.32 | 6.73 | NA | XXX
78469 | 26 | A | Heart infarct image (3D) | 0.91 | 0.32 | 0.32 | 0.04 | 1.27 | 1.27 | XXX
78469 | TC | A | Heart infarct image (3D) | 0.00 | 5.18 | NA | 0.28 | 5.46 | NA | XXX
78472 |  | A | Gated heart, planar, single | 0.97 | 5.82 | NA | 0.35 | 7.14 | NA | XXX
78472 | 26 | A | Gated heart, planar, single | 0.97 | 0.35 | 0.35 | 0.05 | 1.37 | 1.37 | XXX
78472 | TC | A | Gated heart, planar, single | 0.00 | 5.47 | NA | 0.30 | 5.77 | NA | XXX
78473 |  | A | Gated heart, multiple | 1.46 | 8.71 | NA | 0.48 | 10.65 | NA | XXX
78473 | 26 | A | Gated heart, multiple | 1.46 | 0.52 | 0.52 | 0.06 | 2.04 | 2.04 | XXX
78473 | TC | A | Gated heart, multiple | 0.00 | 8.19 | NA | 0.42 | 8.61 | NA | XXX
78478 |  | A | Heart wall motion add-on | 0.62 | 1.78 | NA | 0.12 | 2.52 | NA | XXX
78478 | 26 | A | Heart wall motion add-on | 0.62 | 0.23 | 0.23 | 0.02 | 0.87 | 0.87 | XXX
78478 | TC | A | Heart wall motion add-on | 0.00 | 1.55 | NA | 0.10 | 1.65 | NA | XXX
78480 |  | A | Heart function add-on | 0.62 | 1.78 | NA | 0.12 | 2.52 | NA | XXX
78480 | 26 | A | Heart function add-on | 0.62 | 0.23 | 0.23 | 0.02 | 0.87 | 0.87 | XXX
78480 | TC | A | Heart function add-on | 0.00 | 1.55 | NA | 0.10 | 1.65 | NA | XXX
78481 |  | A | Heart first pass, single | 0.97 | 5.55 | NA | 0.32 | 6.84 | NA | XXX
78481 | 26 | A | Heart first pass, single | 0.97 | 0.37 | 0.37 | 0.04 | 1.38 | 1.38 | XXX
78481 | TC | A | Heart first pass, single | 0.00 | 5.18 | NA | 0.28 | 5.46 | NA | XXX
78483 |  | A | Heart first pass, multiple | 1.46 | 8.35 | NA | 0.47 | 10.28 | NA | XXX
78483 | 26 | A | Heart first pass, multiple | 1.46 | 0.55 | 0.55 | 0.06 | 2.07 | 2.07 | XXX
78483 | TC | A | Heart first pass, multiple | 0.00 | 7.80 | NA | 0.41 | 8.21 | NA | XXX
78491 |  | I | Heart image (pet), single | 0.00 | 0.00 | 0.00 | 0.00 | 0.00 | 0.00 | XXX
78491 | 26 | I | Heart image (pet), single | +1.49 | 0.60 | 0.60 | 0.06 | 2.15 | 2.15 | XXX
78491 | TC | I | Heart image (pet), single | 0.00 | 0.00 | 0.00 | 0.00 | 0.00 | 0.00 | XXX
78492 |  | I | Heart image (pet), multiple | 0.00 | 0.00 | 0.00 | 0.00 | 0.00 | 0.00 | XXX
78492 | 26 | I | Heart image (pet), multiple | +1.86 | 0.74 | 0.74 | 0.07 | 2.67 | 2.67 | XXX
78492 | TC | I | Heart image (pet), multiple | 0.00 | 0.00 | 0.00 | 0.00 | 0.00 | 0.00 | XXX
78494 |  | A | Heart image, spect | 1.18 | 7.43 | NA | 0.35 | 8.96 | NA | XXX
78494 | 26 | A | Heart image, spect | 1.18 | 0.42 | 0.42 | 0.05 | 1.65 | 1.65 | XXX
78494 | TC | A | Heart image, spect | 0.00 | 7.01 | NA | 0.30 | 7.31 | NA | XXX
78496 |  | A | Heart first pass add-on | 0.50 | 7.20 | NA | 0.32 | 8.02 | NA | ZZZ
78496 | 26 | A | Heart first pass add-on | 0.50 | 0.19 | 0.19 | 0.02 | 0.71 | 0.71 | ZZZ
78496 | TC | A | Heart first pass add-on | 0.00 | 7.01 | NA | 0.30 | 7.31 | NA | ZZZ
78499 |  | C | Cardiovascular nuclear exam | 0.00 | 0.00 | 0.00 | 0.00 | 0.00 | 0.00 | XXX
78499 | 26 | C | Cardiovascular nuclear exam | 0.00 | 0.00 | 0.00 | 0.00 | 0.00 | 0.00 | XXX
78499 | TC | C | Cardiovascular nuclear exam | 0.00 | 0.00 | 0.00 | 0.00 | 0.00 | 0.00 | XXX
78580 |  | A | Lung perfusion imaging | 0.74 | 3.65 | NA | 0.22 | 4.61 | NA | XXX
78580 | 26 | A | Lung perfusion imaging | 0.74 | 0.25 | 0.25 | 0.04 | 1.03 | 1.03 | XXX
78580 | TC | A | Lung perfusion imaging | 0.00 | 3.40 | NA | 0.18 | 3.58 | NA | XXX
78584 |  | A | Lung V/Q image single breath | 0.98 | 3.51 | NA | 0.22 | 4.71 | NA | XXX
78584 | 26 | A | Lung V/Q image single breath | 0.98 | 0.33 | 0.33 | 0.05 | 1.36 | 1.36 | XXX
78584 | TC | A | Lung V/Q image single breath | 0.00 | 3.18 | NA | 0.17 | 3.35 | NA | XXX
78585 |  | A | Lung V/Q imaging | 1.08 | 5.96 | NA | 0.36 | 7.40 | NA | XXX
78585 | 26 | A | Lung V/Q imaging | 1.08 | 0.37 | 0.37 | 0.06 | 1.51 | 1.51 | XXX
78585 | TC | A | Lung V/Q imaging | 0.00 | 5.59 | NA | 0.30 | 5.89 | NA | XXX
78586 |  | A | Aerosol lung image, single | 0.40 | 2.70 | NA | 0.16 | 3.26 | NA | XXX
78586 | 26 | A | Aerosol lung image, single | 0.40 | 0.13 | 0.13 | 0.02 | 0.55 | 0.55 | XXX
78586 | TC | A | Aerosol lung image, single | 0.00 | 2.57 | NA | 0.14 | 2.71 | NA | XXX
78587 |  | A | Aerosol lung image, multiple | 0.49 | 2.95 | NA | 0.16 | 3.60 | NA | XXX
78587 | 26 | A | Aerosol lung image, multiple | 0.49 | 0.17 | 0.17 | 0.02 | 0.68 | 0.68 | XXX
78587 | TC | A | Aerosol lung image, multiple | 0.00 | 2.78 | NA | 0.14 | 2.92 | NA | XXX
78588 |  | A | Perfusion lung image | 1.08 | 3.55 | NA | 0.24 | 4.87 | NA | XXX
78588 | 26 | A | Perfusion lung image | 1.08 | 0.37 | 0.37 | 0.06 | 1.51 | 1.51 | XXX
78588 | TC | A | Perfusion lung image | 0.00 | 3.18 | NA | 0.18 | 3.36 | NA | XXX
78591 |  | A | Vent image, 1 breath, 1 proj | 0.40 | 2.97 | NA | 0.16 | 3.53 | NA | XXX
78591 | 26 | A | Vent image, 1 breath, 1 proj | 0.40 | 0.14 | 0.14 | 0.02 | 0.56 | 0.56 | XXX
78591 | TC | A | Vent image, 1 breath, 1 proj | 0.00 | 2.83 | NA | 0.14 | 2.97 | NA | XXX
78593 |  | A | Vent image, 1 proj, gas | 0.49 | 3.59 | NA | 0.20 | 4.28 | NA | XXX
78593 | 26 | A | Vent image, 1 proj, gas | 0.49 | 0.17 | 0.17 | 0.02 | 0.68 | 0.68 | XXX
78593 | TC | A | Vent image, 1 proj, gas | 0.00 | 3.42 | NA | 0.18 | 3.60 | NA | XXX
78594 |  | A | Vent image, mult proj, gas | 0.53 | 5.12 | NA | 0.27 | 5.92 | NA | XXX
78594 | 26 | A | Vent image, mult proj, gas | 0.53 | 0.18 | 0.18 | 0.02 | 0.73 | 0.73 | XXX
78594 | TC | A | Vent image, mult proj, gas | 0.00 | 4.94 | NA | 0.25 | 5.19 | NA | XXX
78596 |  | A | Lung differential function | 1.26 | 7.44 | NA | 0.43 | 9.13 | NA | XXX
78596 | 26 | A | Lung differential function | 1.26 | 0.43 | 0.43 | 0.06 | 1.75 | 1.75 | XXX
78596 | TC | A | Lung differential function | 0.00 | 7.01 | NA | 0.37 | 7.38 | NA | XXX
78599 |  | C | Respiratory nuclear exam | 0.00 | 0.00 | 0.00 | 0.00 | 0.00 | 0.00 | XXX
78599 | 26 | C | Respiratory nuclear exam | 0.00 | 0.00 | 0.00 | 0.00 | 0.00 | 0.00 | XXX
78599 | TC | C | Respiratory nuclear exam | 0.00 | 0.00 | 0.00 | 0.00 | 0.00 | 0.00 | XXX
78600 |  | A | Brain imaging, ltd static | 0.44 | 3.01 | NA | 0.16 | 3.61 | NA | XXX
78600 | 26 | A | Brain imaging, ltd static | 0.44 | 0.15 | 0.15 | 0.02 | 0.61 | 0.61 | XXX
78600 | TC | A | Brain imaging, ltd static | 0.00 | 2.86 | NA | 0.14 | 3.00 | NA | XXX
78601 |  | A | Brain imaging, ltd w/flow | 0.51 | 3.55 | NA | 0.20 | 4.26 | NA | XXX
78601 | 26 | A | Brain imaging, ltd w/flow | 0.51 | 0.18 | 0.18 | 0.02 | 0.71 | 0.71 | XXX
78601 | TC | A | Brain imaging, ltd w/flow | 0.00 | 3.37 | NA | 0.18 | 3.55 | NA | XXX
78605 |  | A | Brain imaging, complete | 0.53 | 3.56 | NA | 0.20 | 4.29 | NA | XXX
78605 | 26 | A | Brain imaging, complete | 0.53 | 0.19 | 0.19 | 0.02 | 0.74 | 0.74 | XXX
78605 | TC | A | Brain imaging, complete | 0.00 | 3.37 | NA | 0.18 | 3.55 | NA | XXX
78606 |  | A | Brain imaging, compl w/flow | 0.64 | 4.05 | NA | 0.24 | 4.93 | NA | XXX
78606 | 26 | A | Brain imaging, compl w/flow | 0.64 | 0.22 | 0.22 | 0.04 | 0.90 | 0.90 | XXX
78606 | TC | A | Brain imaging, compl w/flow | 0.00 | 3.83 | NA | 0.20 | 4.03 | NA | XXX
78607 |  | A | Brain imaging (3D) | 1.22 | 6.94 | NA | 0.41 | 8.57 | NA | XXX
78607 | 26 | A | Brain imaging (3D) | 1.22 | 0.44 | 0.44 | 0.06 | 1.72 | 1.72 | XXX
78607 | TC | A | Brain imaging (3D) | 0.00 | 6.50 | NA | 0.35 | 6.85 | NA | XXX
78608 |  | N | Brain imaging (PET) | 0.00 | 0.00 | 0.00 | 0.00 | 0.00 | 0.00 | XXX
78609 |  | N | Brain imaging (PET) | 0.00 | 0.00 | 0.00 | 0.00 | 0.00 | 0.00 | XXX
78610 |  | A | Brain flow imaging only | 0.30 | 1.67 | NA | 0.11 | 2.08 | NA | XXX
78610 | 26 | A | Brain flow imaging only | 0.30 | 0.11 | 0.11 | 0.01 | 0.42 | 0.42 | XXX
78610 | TC | A | Brain flow imaging only | 0.00 | 1.56 | NA | 0.10 | 1.66 | NA | XXX
78615 |  | A | Cerebral vascular flow image | 0.42 | 3.97 | NA | 0.22 | 4.61 | NA | XXX
78615 | 26 | A | Cerebral vascular flow image | 0.42 | 0.16 | 0.16 | 0.02 | 0.60 | 0.60 | XXX
78615 | TC | A | Cerebral vascular flow image | 0.00 | 3.81 | NA | 0.20 | 4.01 | NA | XXX
78630 |  | A | Cerebrospinal fluid scan | 0.68 | 5.22 | NA | 0.30 | 6.20 | NA | XXX
78630 | 26 | A | Cerebrospinal fluid scan | 0.68 | 0.23 | 0.23 | 0.04 | 0.95 | 0.95 | XXX
78630 | TC | A | Cerebrospinal fluid scan | 0.00 | 4.99 | NA | 0.26 | 5.25 | NA | XXX
78635 |  | A | CSF ventriculography | 0.61 | 2.76 | NA | 0.16 | 3.53 | NA | XXX
78635 | 26 | A | CSF ventriculography | 0.61 | 0.24 | 0.24 | 0.02 | 0.87 | 0.87 | XXX
78635 | TC | A | CSF ventriculography | 0.00 | 2.52 | NA | 0.14 | 2.66 | NA | XXX
78645 |  | A | CSF shunt evaluation | 0.57 | 3.60 | NA | 0.20 | 4.37 | NA | XXX
78645 | 26 | A | CSF shunt evaluation | 0.57 | 0.20 | 0.20 | 0.02 | 0.79 | 0.79 | XXX
78645 | TC | A | CSF shunt evaluation | 0.00 | 3.40 | NA | 0.18 | 3.58 | NA | XXX
78647 |  | A | Cerebrospinal fluid scan | 0.89 | 6.17 | NA | 0.35 | 7.41 | NA | XXX
78647 | 26 | A | Cerebrospinal fluid scan | 0.89 | 0.32 | 0.32 | 0.04 | 1.25 | 1.25 | XXX
78647 | TC | A | Cerebrospinal fluid scan | 0.00 | 5.85 | NA | 0.31 | 6.16 | NA | XXX
78650 |  | A | CSF leakage imaging | 0.61 | 4.81 | NA | 0.26 | 5.68 | NA | XXX
78650 | 26 | A | CSF leakage imaging | 0.61 | 0.21 | 0.21 | 0.02 | 0.84 | 0.84 | XXX
78650 | TC | A | CSF leakage imaging | 0.00 | 4.60 | NA | 0.24 | 4.84 | NA | XXX
78660 |  | A | Nuclear exam of tear flow | 0.53 | 2.28 | NA | 0.14 | 2.95 | NA | XXX
78660 | 26 | A | Nuclear exam of tear flow | 0.53 | 0.18 | 0.18 | 0.02 | 0.73 | 0.73 | XXX
78660 | TC | A | Nuclear exam of tear flow | 0.00 | 2.10 | NA | 0.12 | 2.22 | NA | XXX
78699 |  | C | Nervous system nuclear exam | 0.00 | 0.00 | 0.00 | 0.00 | 0.00 | 0.00 | XXX
78699 | 26 | C | Nervous system nuclear exam | 0.00 | 0.00 | 0.00 | 0.00 | 0.00 | 0.00 | XXX
78699 | TC | C | Nervous system nuclear exam | 0.00 | 0.00 | 0.00 | 0.00 | 0.00 | 0.00 | XXX
78700 |  | A | Kidney imaging, static | 0.45 | 3.17 | NA | 0.18 | 3.80 | NA | XXX
78700 | 26 | A | Kidney imaging, static | 0.45 | 0.15 | 0.15 | 0.02 | 0.62 | 0.62 | XXX
78700 | TC | A | Kidney imaging, static | 0.00 | 3.02 | NA | 0.16 | 3.18 | NA | XXX
78701 |  | A | Kidney imaging with flow | 0.49 | 3.70 | NA | 0.20 | 4.39 | NA | XXX
78701 | 26 | A | Kidney imaging with flow | 0.49 | 0.17 | 0.17 | 0.02 | 0.68 | 0.68 | XXX
78701 | TC | A | Kidney imaging with flow | 0.00 | 3.53 | NA | 0.18 | 3.71 | NA | XXX
78704 |  | A | Imaging renogram | 0.74 | 4.17 | NA | 0.24 | 5.15 | NA | XXX
78704 | 26 | A | Imaging renogram | 0.74 | 0.25 | 0.25 | 0.04 | 1.03 | 1.03 | XXX
78704 | TC | A | Imaging renogram | 0.00 | 3.92 | NA | 0.20 | 4.12 | NA | XXX
78707 |  | A | Kidney flow/function image | 0.95 | 4.76 | NA | 0.28 | 5.99 | NA | XXX
78707 | 26 | A | Kidney flow/function image | 0.95 | 0.33 | 0.33 | 0.05 | 1.33 | 1.33 | XXX
78707 | TC | A | Kidney flow/function image | 0.00 | 4.43 | NA | 0.23 | 4.66 | NA | XXX
78708 |  | A | Kidney flow/function image | 1.20 | 4.85 | NA | 0.29 | 6.34 | NA | XXX
78708 | 26 | A | Kidney flow/function image | 1.20 | 0.42 | 0.42 | 0.06 | 1.68 | 1.68 | XXX
78708 | TC | A | Kidney flow/function image | 0.00 | 4.43 | NA | 0.23 | 4.66 | NA | XXX
78709 |  | A | Kidney flow/function image | 1.40 | 4.91 | NA | 0.30 | 6.61 | NA | XXX
78709 | 26 | A | Kidney flow/function image | 1.40 | 0.48 | 0.48 | 0.07 | 1.95 | 1.95 | XXX
78709 | TC | A | Kidney flow/function image | 0.00 | 4.43 | NA | 0.23 | 4.66 | NA | XXX
78710 |  | A | Kidney imaging (3D) | 0.66 | 6.08 | NA | 0.35 | 7.09 | NA | XXX
78710 | 26 | A | Kidney imaging (3D) | 0.66 | 0.23 | 0.23 | 0.04 | 0.93 | 0.93 | XXX
78710 | TC | A | Kidney imaging (3D) | 0.00 | 5.85 | NA | 0.31 | 6.16 | NA | XXX
78715 |  | A | Renal vascular flow exam | 0.30 | 1.67 | NA | 0.11 | 2.08 | NA | XXX
78715 | 26 | A | Renal vascular flow exam | 0.30 | 0.11 | 0.11 | 0.01 | 0.42 | 0.42 | XXX
78715 | TC | A | Renal vascular flow exam | 0.00 | 1.56 | NA | 0.10 | 1.66 | NA | XXX
78725 |  | A | Kidney function study | 0.38 | 1.90 | NA | 0.12 | 2.40 | NA | XXX
78725 | 26 | A | Kidney function study | 0.38 | 0.13 | 0.13 | 0.01 | 0.52 | 0.52 | XXX
78725 | TC | A | Kidney function study | 0.00 | 1.77 | NA | 0.11 | 1.88 | NA | XXX
78730 |  | A | Urinary bladder retention | 0.36 | 1.58 | NA | 0.10 | 2.04 | NA | XXX
78730 | 26 | A | Urinary bladder retention | 0.36 | 0.13 | 0.13 | 0.02 | 0.51 | 0.51 | XXX
78730 | TC | A | Urinary bladder retention | 0.00 | 1.45 | NA | 0.08 | 1.53 | NA | XXX
78740 |  | A | Ureteral reflux study | 0.57 | 2.29 | NA | 0.14 | 3.00 | NA | XXX
78740 | 26 | A | Ureteral reflux study | 0.57 | 0.19 | 0.19 | 0.02 | 0.78 | 0.78 | XXX
78740 | TC | A | Ureteral reflux study | 0.00 | 2.10 | NA | 0.12 | 2.22 | NA | XXX
78760 |  | A | Testicular imaging | 0.66 | 2.88 | NA | 0.18 | 3.72 | NA | XXX
78760 | 26 | A | Testicular imaging | 0.66 | 0.22 | 0.22 | 0.04 | 0.92 | 0.92 | XXX
78760 | TC | A | Testicular imaging | 0.00 | 2.66 | NA | 0.14 | 2.80 | NA | XXX
78761 |  | A | Testicular imaging/flow | 0.71 | 3.42 | NA | 0.21 | 4.34 | NA | XXX
78761 | 26 | A | Testicular imaging/flow | 0.71 | 0.24 | 0.24 | 0.04 | 0.99 | 0.99 | XXX
78761 | TC | A | Testicular imaging/flow | 0.00 | 3.18 | NA | 0.17 | 3.35 | NA | XXX
78799 |  | C | Genitourinary nuclear exam | 0.00 | 0.00 | 0.00 | 0.00 | 0.00 | 0.00 | XXX
78799 | 26 | C | Genitourinary nuclear exam | 0.00 | 0.00 | 0.00 | 0.00 | 0.00 | 0.00 | XXX
78799 | TC | C | Genitourinary nuclear exam | 0.00 | 0.00 | 0.00 | 0.00 | 0.00 | 0.00 | XXX
78800 |  | A | Tumor imaging, limited area | 0.66 | 3.59 | NA | 0.22 | 4.47 | NA | XXX
78800 | 26 | A | Tumor imaging, limited area | 0.66 | 0.22 | 0.22 | 0.04 | 0.92 | 0.92 | XXX
78800 | TC | A | Tumor imaging, limited area | 0.00 | 3.37 | NA | 0.18 | 3.55 | NA | XXX
78801 |  | A | Tumor imaging, mult areas | 0.79 | 4.46 | NA | 0.26 | 5.51 | NA | XXX
78801 | 26 | A | Tumor imaging, mult areas | 0.79 | 0.27 | 0.27 | 0.04 | 1.10 | 1.10 | XXX
78801 | TC | A | Tumor imaging, mult areas | 0.00 | 4.19 | NA | 0.22 | 4.41 | NA | XXX
78802 |  | A | Tumor imaging, whole body | 0.86 | 5.79 | NA | 0.34 | 6.99 | NA | XXX
78802 | 26 | A | Tumor imaging, whole body | 0.86 | 0.30 | 0.30 | 0.04 | 1.20 | 1.20 | XXX
78802 | TC | A | Tumor imaging, whole body | 0.00 | 5.49 | NA | 0.30 | 5.79 | NA | XXX
78803 |  | A | Tumor imaging (3D) | 1.08 | 6.89 | NA | 0.40 | 8.37 | NA | XXX
78803 | 26 | A | Tumor imaging (3D) | 1.08 | 0.39 | 0.39 | 0.05 | 1.52 | 1.52 | XXX
78803 | TC | A | Tumor imaging (3D) | 0.00 | 6.50 | NA | 0.35 | 6.85 | NA | XXX
78804 |  | A | Tumor imaging, whole body | 1.06 | 4.62 | NA | 0.34 | 6.02 | NA | XXX
78804 | 26 | A | Tumor imaging, whole body | 1.06 | 0.38 | 0.38 | 0.04 | 1.48 | 1.48 | XXX
78804 | TC | A | Tumor imaging, whole body | 0.00 | 4.24 | NA | 0.30 | 4.54 | NA | XXX
78805 |  | A | Abscess imaging, ltd area | 0.73 | 3.62 | NA | 0.22 | 4.57 | NA | XXX
78805 | 26 | A | Abscess imaging, ltd area | 0.73 | 0.25 | 0.25 | 0.04 | 1.02 | 1.02 | XXX
78805 | TC | A | Abscess imaging, ltd area | 0.00 | 3.37 | NA | 0.18 | 3.55 | NA | XXX
78806 |  | A | Abscess imaging, whole body | 0.86 | 6.67 | NA | 0.39 | 7.92 | NA | XXX
78806 | 26 | A | Abscess imaging, whole body | 0.86 | 0.30 | 0.30 | 0.04 | 1.20 | 1.20 | XXX
78806 | TC | A | Abscess imaging, whole body | 0.00 | 6.37 | NA | 0.35 | 6.72 | NA | XXX
78807 |  | A | Nuclear localization/abscess | 1.08 | 6.90 | NA | 0.40 | 8.38 | NA | XXX
78807 | 26 | A | Nuclear localization/abscess | 1.08 | 0.40 | 0.40 | 0.05 | 1.53 | 1.53 | XXX
78807 | TC | A | Nuclear localization/abscess | 0.00 | 6.50 | NA | 0.35 | 6.85 | NA | XXX
78810 |  | N | Tumor imaging (PET) | 0.00 | 0.00 | 0.00 | 0.00 | 0.00 | 0.00 | XXX
78810 | 26 | N | Tumor imaging (PET) | +1.92 | 0.74 | 0.74 | 0.11 | 2.77 | 2.77 | XXX
78810 | TC | N | Tumor imaging (PET) | 0.00 | 0.00 | 0.00 | 0.00 | 0.00 | 0.00 | XXX
78890 |  | B | Nuclear medicine data proc | +0.05 | 1.31 | NA | 0.07 | 1.43 | NA | XXX
78890 | 26 | B | Nuclear medicine data proc | +0.05 | 0.02 | 0.02 | 0.01 | 0.08 | 0.08 | XXX
78890 | TC | B | Nuclear medicine data proc | +0.00 | 1.29 | NA | 0.06 | 1.35 | NA | XXX
78891 |  | B | Nuclear med data proc | +0.10 | 2.64 | NA | 0.14 | 2.88 | NA | XXX
78891 | 26 | B | Nuclear med data proc | +0.10 | 0.04 | 0.04 | 0.01 | 0.15 | 0.15 | XXX
78891 | TC | B | Nuclear med data proc | +0.00 | 2.60 | NA | 0.13 | 2.73 | NA | XXX
78990 |  | I | Provide diag radionuclide(s) | 0.00 | 0.00 | 0.00 | 0.00 | 0.00 | 0.00 | XXX
78999 |  | C | Nuclear diagnostic exam | 0.00 | 0.00 | 0.00 | 0.00 | 0.00 | 0.00 | XXX
78999 | 26 | C | Nuclear diagnostic exam | 0.00 | 0.00 | 0.00 | 0.00 | 0.00 | 0.00 | XXX
78999 | TC | C | Nuclear diagnostic exam | 0.00 | 0.00 | 0.00 | 0.00 | 0.00 | 0.00 | XXX
79000 |  | A | Init hyperthyroid therapy | 1.79 | 3.22 | NA | 0.22 | 5.23 | NA | XXX
79000 | 26 | A | Init hyperthyroid therapy | 1.79 | 0.62 | 0.62 | 0.08 | 2.49 | 2.49 | XXX
79000 | TC | A | Init hyperthyroid therapy | 0.00 | 2.60 | NA | 0.14 | 2.74 | NA | XXX
79001 |  | A | Repeat hyperthyroid therapy | 1.04 | 1.65 | NA | 0.12 | 2.81 | NA | XXX
79001 | 26 | A | Repeat hyperthyroid therapy | 1.04 | 0.36 | 0.36 | 0.05 | 1.45 | 1.45 | XXX
79001 | TC | A | Repeat hyperthyroid therapy | 0.00 | 1.29 | NA | 0.07 | 1.36 | NA | XXX
79020 |  | A | Thyroid ablation | 1.80 | 3.21 | NA | 0.22 | 5.23 | NA | XXX
79020 | 26 | A | Thyroid ablation | 1.80 | 0.61 | 0.61 | 0.08 | 2.49 | 2.49 | XXX
79020 | TC | A | Thyroid ablation | 0.00 | 2.60 | NA | 0.14 | 2.74 | NA | XXX
79030 |  | A | Thyroid ablation, carcinoma | 2.09 | 3.31 | NA | 0.24 | 5.64 | NA | XXX
79030 | 26 | A | Thyroid ablation, carcinoma | 2.09 | 0.71 | 0.71 | 0.10 | 2.90 | 2.90 | XXX
79030 | TC | A | Thyroid ablation, carcinoma | 0.00 | 2.60 | NA | 0.14 | 2.74 | NA | XXX
79035 |  | A | Thyroid metastatic therapy | 2.51 | 3.48 | NA | 0.25 | 6.24 | NA | XXX
79035 | 26 | A | Thyroid metastatic therapy | 2.51 | 0.88 | 0.88 | 0.11 | 3.50 | 3.50 | XXX
79035 | TC | A | Thyroid metastatic therapy | 0.00 | 2.60 | NA | 0.14 | 2.74 | NA | XXX
79100 |  | A | Hematopoetic nuclear therapy | 1.31 | 3.07 | NA | 0.20 | 4.58 | NA | XXX
79100 | 26 | A | Hematopoetic nuclear therapy | 1.31 | 0.47 | 0.47 | 0.06 | 1.84 | 1.84 | XXX
79100 | TC | A | Hematopoetic nuclear therapy | 0.00 | 2.60 | NA | 0.14 | 2.74 | NA | XXX
79200 |  | A | Intracavitary nuclear trmt | 1.98 | 3.29 | NA | 0.22 | 5.49 | NA | XXX
79200 | 26 | A | Intracavitary nuclear trmt | 1.98 | 0.69 | 0.69 | 0.08 | 2.75 | 2.75 | XXX
79200 | TC | A | Intracavitary nuclear trmt | 0.00 | 2.60 | NA | 0.14 | 2.74 | NA | XXX
79300 |  | C | Interstitial nuclear therapy | 0.00 | 0.00 | 0.00 | 0.00 | 0.00 | 0.00 | XXX
79300 | 26 | A | Interstitial nuclear therapy | 1.59 | 0.57 | 0.57 | 0.08 | 2.24 | 2.24 | XXX
79300 | TC | C | Interstitial nuclear therapy | 0.00 | 0.00 | 0.00 | 0.00 | 0.00 | 0.00 | XXX
79400 |  | A | Nonhemato nuclear therapy | 1.95 | 3.27 | NA | 0.24 | 5.46 | NA | XXX
79400 | 26 | A | Nonhemato nuclear therapy | 1.95 | 0.67 | 0.67 | 0.10 | 2.72 | 2.72 | XXX
79400 | TC | A | Nonhemato nuclear therapy | 0.00 | 2.60 | NA | 0.14 | 2.74 | NA | XXX
79403 |  | A | Hematopoetic nuclear therapy | 2.24 | 5.15 | NA | 0.24 | 7.63 | NA | XXX
79403 | 26 | A | Hematopoetic nuclear therapy | 2.24 | 0.91 | 0.91 | 0.10 | 3.25 | 3.25 | XXX
79403 | TC | A | Hematopoetic nuclear therapy | 0.00 | 4.24 | NA | 0.14 | 4.38 | NA | XXX
79420 |  | C | Intravascular nuclear ther | 0.00 | 0.00 | 0.00 | 0.00 | 0.00 | 0.00 | XXX
79420 | 26 | A | Intravascular nuclear ther | 1.50 | 0.50 | 0.50 | 0.07 | 2.07 | 2.07 | XXX
79420 | TC | C | Intravascular nuclear ther | 0.00 | 0.00 | 0.00 | 0.00 | 0.00 | 0.00 | XXX
79440 |  | A | Nuclear joint therapy | 1.98 | 3.33 | NA | 0.24 | 5.55 | NA | XXX
79440 | 26 | A | Nuclear joint therapy | 1.98 | 0.73 | 0.73 | 0.10 | 2.81 | 2.81 | XXX
79440 | TC | A | Nuclear joint therapy | 0.00 | 2.60 | NA | 0.14 | 2.74 | NA | XXX
79900 |  | C | Provide ther radiopharm(s) | 0.00 | 0.00 | 0.00 | 0.00 | 0.00 | 0.00 | XXX
79999 |  | C | Nuclear medicine therapy | 0.00 | 0.00 | 0.00 | 0.00 | 0.00 | 0.00 | XXX
79999 | 26 | C | Nuclear medicine therapy | 0.00 | 0.00 | 0.00 | 0.00 | 0.00 | 0.00 | XXX
79999 | TC | C | Nuclear medicine therapy | 0.00 | 0.00 | 0.00 | 0.00 | 0.00 | 0.00 | XXX
80500 |  | A | Lab pathology consultation | 0.37 | 0.21 | 0.16 | 0.01 | 0.59 | 0.54 | XXX
80502 |  | A | Lab pathology consultation | 1.32 | 0.64 | 0.59 | 0.06 | 2.02 | 1.97 | XXX
83020 | 26 | A | Hemoglobin electrophoresis | 0.37 | 0.16 | 0.16 | 0.01 | 0.54 | 0.54 | XXX
83912 | 26 | A | Genetic examination | 0.37 | 0.15 | 0.15 | 0.01 | 0.53 | 0.53 | XXX
84165 | 26 | A | Electrophoreisis of proteins | 0.37 | 0.16 | 0.16 | 0.01 | 0.54 | 0.54 | XXX
84181 | 26 | A | Western blot test | 0.37 | 0.14 | 0.14 | 0.01 | 0.52 | 0.52 | XXX
84182 | 26 | A | Protein, western blot test | 0.37 | 0.17 | 0.17 | 0.01 | 0.55 | 0.55 | XXX
85060 |  | A | Blood smear interpretation | 0.45 | 0.19 | 0.19 | 0.02 | 0.66 | 0.66 | XXX
85097 |  | A | Bone marrow interpretation | 0.93 | 1.64 | 0.41 | 0.04 | 2.61 | 1.38 | XXX
85390 | 26 | A | Fibrinolysins screen | 0.37 | 0.12 | 0.12 | 0.01 | 0.50 | 0.50 | XXX
85396 |  | A | Clotting assay, whole blood | 0.37 | NA | 0.17 | 0.04 | NA | 0.58 | XXX
85576 | 26 | A | Blood platelet aggregation | 0.37 | 0.16 | 0.16 | 0.01 | 0.54 | 0.54 | XXX
86077 |  | A | Physician blood bank service | 0.93 | 0.47 | 0.41 | 0.04 | 1.44 | 1.38 | XXX
86078 |  | A | Physician blood bank service | 0.93 | 0.50 | 0.41 | 0.04 | 1.47 | 1.38 | XXX
86079 |  | A | Physician blood bank service | 0.93 | 0.50 | 0.42 | 0.04 | 1.47 | 1.39 | XXX
86255 | 26 | A | Fluorescent antibody, screen | 0.37 | 0.17 | 0.16 | 0.01 | 0.55 | 0.54 | XXX
86256 | 26 | A | Fluorescent antibody, titer | 0.37 | 0.16 | 0.16 | 0.01 | 0.54 | 0.54 | XXX
86320 | 26 | A | Serum immunoelectrophoresis | 0.37 | 0.16 | 0.16 | 0.01 | 0.54 | 0.54 | XXX
86325 | 26 | A | Other immunoelectrophoresis | 0.37 | 0.16 | 0.16 | 0.01 | 0.54 | 0.54 | XXX
86327 | 26 | A | Immunoelectrophoresis assay | 0.42 | 0.19 | 0.19 | 0.01 | 0.62 | 0.62 | XXX
86334 | 26 | A | Immunofixation procedure | 0.37 | 0.16 | 0.16 | 0.01 | 0.54 | 0.54 | XXX
86485 |  | C | Skin test, candida | 0.00 | 0.00 | 0.00 | 0.00 | 0.00 | 0.00 | XXX
86490 |  | A | Coccidioidomycosis skin test | 0.00 | 0.29 | NA | 0.02 | 0.31 | NA | XXX
86510 |  | A | Histoplasmosis skin test | 0.00 | 0.32 | NA | 0.02 | 0.34 | NA | XXX
86580 |  | A | TB intradermal test | 0.00 | 0.25 | NA | 0.02 | 0.27 | NA | XXX
86585 |  | A | TB tine test | 0.00 | 0.20 | NA | 0.01 | 0.21 | NA | XXX
86586 |  | C | Skin test, unlisted | 0.00 | 0.00 | 0.00 | 0.00 | 0.00 | 0.00 | XXX
87164 | 26 | A | Dark field examination | 0.37 | 0.12 | 0.12 | 0.01 | 0.50 | 0.50 | XXX
87207 | 26 | A | Smear, special stain | 0.37 | 0.17 | 0.16 | 0.01 | 0.55 | 0.54 | XXX
88104 |  | A | Cytopathology, fluids | 0.56 | 0.76 | NA | 0.04 | 1.36 | NA | XXX
88104 | 26 | A | Cytopathology, fluids | 0.56 | 0.25 | 0.25 | 0.02 | 0.83 | 0.83 | XXX
88104 | TC | A | Cytopathology, fluids | 0.00 | 0.51 | NA | 0.02 | 0.53 | NA | XXX
88106 |  | A | Cytopathology, fluids | 0.56 | 0.62 | NA | 0.04 | 1.22 | NA | XXX
88106 | 26 | A | Cytopathology, fluids | 0.56 | 0.25 | 0.25 | 0.02 | 0.83 | 0.83 | XXX
88106 | TC | A | Cytopathology, fluids | 0.00 | 0.37 | NA | 0.02 | 0.39 | NA | XXX
88107 |  | A | Cytopathology, fluids | 0.76 | 0.98 | NA | 0.06 | 1.80 | NA | XXX
88107 | 26 | A | Cytopathology, fluids | 0.76 | 0.34 | 0.34 | 0.04 | 1.14 | 1.14 | XXX
88107 | TC | A | Cytopathology, fluids | 0.00 | 0.64 | NA | 0.02 | 0.66 | NA | XXX
88108 |  | A | Cytopath, concentrate tech | 0.56 | 0.82 | NA | 0.04 | 1.42 | NA | XXX
88108 | 26 | A | Cytopath, concentrate tech | 0.56 | 0.25 | 0.25 | 0.02 | 0.83 | 0.83 | XXX
88108 | TC | A | Cytopath, concentrate tech | 0.00 | 0.57 | NA | 0.02 | 0.59 | NA | XXX
88112 |  | A | Cytopath, cell enhance tech | 1.17 | 2.02 | NA | 0.08 | 3.27 | NA | XXX
88112 | 26 | A | Cytopath, cell enhance tech | 1.17 | 0.53 | 0.53 | 0.06 | 1.76 | 1.76 | XXX
88112 | TC | A | Cytopath, cell enhance tech | 0.00 | 1.49 | NA | 0.02 | 1.51 | NA | XXX
88125 |  | A | Forensic cytopathology | 0.26 | 0.27 | NA | 0.02 | 0.55 | NA | XXX
88125 | 26 | A | Forensic cytopathology | 0.26 | 0.12 | 0.12 | 0.01 | 0.39 | 0.39 | XXX
88125 | TC | A | Forensic cytopathology | 0.00 | 0.15 | NA | 0.01 | 0.16 | NA | XXX
88141 |  | A | Cytopath, c/v, interpret | 0.42 | 0.18 | 0.18 | 0.01 | 0.61 | 0.61 | XXX
88160 |  | A | Cytopath smear, other source | 0.50 | 0.93 | NA | 0.04 | 1.47 | NA | XXX
88160 | 26 | A | Cytopath smear, other source | 0.50 | 0.22 | 0.22 | 0.02 | 0.74 | 0.74 | XXX
88160 | TC | A | Cytopath smear, other source | 0.00 | 0.71 | NA | 0.02 | 0.73 | NA | XXX
88161 |  | A | Cytopath smear, other source | 0.50 | 0.88 | NA | 0.04 | 1.42 | NA | XXX
88161 | 26 | A | Cytopath smear, other source | 0.50 | 0.22 | 0.22 | 0.02 | 0.74 | 0.74 | XXX
88161 | TC | A | Cytopath smear, other source | 0.00 | 0.66 | NA | 0.02 | 0.68 | NA | XXX
88162 |  | A | Cytopath smear, other source | 0.76 | 0.68 | NA | 0.06 | 1.50 | NA | XXX
88162 | 26 | A | Cytopath smear, other source | 0.76 | 0.34 | 0.34 | 0.04 | 1.14 | 1.14 | XXX
88162 | TC | A | Cytopath smear, other source | 0.00 | 0.34 | NA | 0.02 | 0.36 | NA | XXX
88172 |  | A | Cytopathology eval of fna | 0.60 | 0.67 | NA | 0.04 | 1.31 | NA | XXX
88172 | 26 | A | Cytopathology eval of fna | 0.60 | 0.27 | 0.27 | 0.02 | 0.89 | 0.89 | XXX
88172 | TC | A | Cytopathology eval of fna | 0.00 | 0.40 | NA | 0.02 | 0.42 | NA | XXX
88173 |  | A | Cytopath eval, fna, report | 1.38 | 1.78 | NA | 0.08 | 3.24 | NA | XXX
88173 | 26 | A | Cytopath eval, fna, report | 1.38 | 0.62 | 0.62 | 0.06 | 2.06 | 2.06 | XXX
88173 | TC | A | Cytopath eval, fna, report | 0.00 | 1.16 | NA | 0.02 | 1.18 | NA | XXX
88180 |  | A | Cell marker study | 0.36 | 1.45 | NA | 0.03 | 1.84 | NA | XXX
88180 | 26 | A | Cell marker study | 0.36 | 0.16 | 0.16 | 0.01 | 0.53 | 0.53 | XXX
88180 | TC | A | Cell marker study | 0.00 | 1.29 | NA | 0.02 | 1.31 | NA | XXX
88182 |  | A | Cell marker study | 0.77 | 1.61 | NA | 0.08 | 2.46 | NA | XXX
88182 | 26 | A | Cell marker study | 0.77 | 0.34 | 0.34 | 0.04 | 1.15 | 1.15 | XXX
88182 | TC | A | Cell marker study | 0.00 | 1.27 | NA | 0.04 | 1.31 | NA | XXX
88199 |  | C | Cytopathology procedure | 0.00 | 0.00 | 0.00 | 0.00 | 0.00 | 0.00 | XXX
88199 | 26 | C | Cytopathology procedure | 0.00 | 0.00 | 0.00 | 0.00 | 0.00 | 0.00 | XXX
88199 | TC | C | Cytopathology procedure | 0.00 | 0.00 | 0.00 | 0.00 | 0.00 | 0.00 | XXX
88291 |  | A | Cyto/molecular report | 0.52 | 0.28 | 0.28 | 0.02 | 0.82 | 0.82 | XXX
88299 |  | C | Cytogenetic study | 0.00 | 0.00 | 0.00 | 0.00 | 0.00 | 0.00 | XXX
88300 |  | A | Surgical path, gross | 0.08 | 0.28 | NA | 0.02 | 0.38 | NA | XXX
88300 | 26 | A | Surgical path, gross | 0.08 | 0.04 | 0.04 | 0.01 | 0.13 | 0.13 | XXX
88300 | TC | A | Surgical path, gross | 0.00 | 0.24 | NA | 0.01 | 0.25 | NA | XXX
88302 |  | A | Tissue exam by pathologist | 0.13 | 0.70 | NA | 0.03 | 0.86 | NA | XXX
88302 | 26 | A | Tissue exam by pathologist | 0.13 | 0.06 | 0.06 | 0.01 | 0.20 | 0.20 | XXX
88302 | TC | A | Tissue exam by pathologist | 0.00 | 0.64 | NA | 0.02 | 0.66 | NA | XXX
88304 |  | A | Tissue exam by pathologist | 0.22 | 0.88 | NA | 0.03 | 1.13 | NA | XXX
88304 | 26 | A | Tissue exam by pathologist | 0.22 | 0.10 | 0.10 | 0.01 | 0.33 | 0.33 | XXX
88304 | TC | A | Tissue exam by pathologist | 0.00 | 0.78 | NA | 0.02 | 0.80 | NA | XXX
88305 |  | A | Tissue exam by pathologist | 0.75 | 1.75 | NA | 0.06 | 2.56 | NA | XXX
88305 | 26 | A | Tissue exam by pathologist | 0.75 | 0.34 | 0.34 | 0.02 | 1.11 | 1.11 | XXX
88305 | TC | A | Tissue exam by pathologist | 0.00 | 1.41 | NA | 0.04 | 1.45 | NA | XXX
88307 |  | A | Tissue exam by pathologist | 1.58 | 2.67 | NA | 0.13 | 4.38 | NA | XXX
88307 | 26 | A | Tissue exam by pathologist | 1.58 | 0.70 | 0.70 | 0.07 | 2.35 | 2.35 | XXX
88307 | TC | A | Tissue exam by pathologist | 0.00 | 1.97 | NA | 0.06 | 2.03 | NA | XXX
88309 |  | A | Tissue exam by pathologist | 2.27 | 3.27 | NA | 0.16 | 5.70 | NA | XXX
88309 | 26 | A | Tissue exam by pathologist | 2.27 | 1.00 | 1.00 | 0.10 | 3.37 | 3.37 | XXX
88309 | TC | A | Tissue exam by pathologist | 0.00 | 2.27 | NA | 0.06 | 2.33 | NA | XXX
88311 |  | A | Decalcify tissue | 0.24 | 0.20 | NA | 0.02 | 0.46 | NA | XXX
88311 | 26 | A | Decalcify tissue | 0.24 | 0.11 | 0.11 | 0.01 | 0.36 | 0.36 | XXX
88311 | TC | A | Decalcify tissue | 0.00 | 0.09 | NA | 0.01 | 0.10 | NA | XXX
88312 |  | A | Special stains | 0.54 | 1.36 | NA | 0.03 | 1.93 | NA | XXX
88312 | 26 | A | Special stains | 0.54 | 0.24 | 0.24 | 0.02 | 0.80 | 0.80 | XXX
88312 | TC | A | Special stains | 0.00 | 1.12 | NA | 0.01 | 1.13 | NA | XXX
88313 |  | A | Special stains | 0.24 | 1.10 | NA | 0.02 | 1.36 | NA | XXX
88313 | 26 | A | Special stains | 0.24 | 0.11 | 0.11 | 0.01 | 0.36 | 0.36 | XXX
88313 | TC | A | Special stains | 0.00 | 0.99 | NA | 0.01 | 1.00 | NA | XXX
88314 |  | A | Histochemical stain | 0.45 | 0.89 | NA | 0.04 | 1.38 | NA | XXX
88314 | 26 | A | Histochemical stain | 0.45 | 0.20 | 0.20 | 0.02 | 0.67 | 0.67 | XXX
88314 | TC | A | Histochemical stain | 0.00 | 0.69 | NA | 0.02 | 0.71 | NA | XXX
88318 |  | A | Chemical histochemistry | 0.42 | 0.81 | NA | 0.02 | 1.25 | NA | XXX
88318 | 26 | A | Chemical histochemistry | 0.42 | 0.19 | 0.19 | 0.01 | 0.62 | 0.62 | XXX
88318 | TC | A | Chemical histochemistry | 0.00 | 0.62 | NA | 0.01 | 0.63 | NA | XXX
88319 |  | A | Enzyme histochemistry | 0.53 | 1.90 | NA | 0.04 | 2.47 | NA | XXX
88319 | 26 | A | Enzyme histochemistry | 0.53 | 0.23 | 0.23 | 0.02 | 0.78 | 0.78 | XXX
88319 | TC | A | Enzyme histochemistry | 0.00 | 1.67 | NA | 0.02 | 1.69 | NA | XXX
88321 |  | A | Microslide consultation | 1.29 | 0.81 | 0.57 | 0.05 | 2.15 | 1.91 | XXX
88323 |  | A | Microslide consultation | 1.34 | 1.45 | NA | 0.08 | 2.87 | NA | XXX
88323 | 26 | A | Microslide consultation | 1.34 | 0.60 | 0.60 | 0.06 | 2.00 | 2.00 | XXX
88323 | TC | A | Microslide consultation | 0.00 | 0.85 | NA | 0.02 | 0.87 | NA | XXX
88325 |  | A | Comprehensive review of data | 2.21 | 2.98 | 0.97 | 0.10 | 5.29 | 3.28 | XXX
88329 |  | A | Path consult introp | 0.67 | 0.64 | 0.30 | 0.02 | 1.33 | 0.99 | XXX
88331 |  | A | Path consult intraop, 1 bloc | 1.18 | 1.00 | NA | 0.09 | 2.27 | NA | XXX
88331 | 26 | A | Path consult intraop, 1 bloc | 1.18 | 0.53 | 0.53 | 0.05 | 1.76 | 1.76 | XXX
88331 | TC | A | Path consult intraop, 1 bloc | 0.00 | 0.47 | NA | 0.04 | 0.51 | NA | XXX
88332 |  | A | Path consult intraop, addl | 0.59 | 0.50 | NA | 0.04 | 1.13 | NA | XXX
88332 | 26 | A | Path consult intraop, addl | 0.59 | 0.26 | 0.26 | 0.02 | 0.87 | 0.87 | XXX
88332 | TC | A | Path consult intraop, addl | 0.00 | 0.24 | NA | 0.02 | 0.26 | NA | XXX
88342 |  | A | Immunohistochemistry | 0.85 | 1.36 | NA | 0.06 | 2.27 | NA | XXX
88342 | 26 | A | Immunohistochemistry | 0.85 | 0.38 | 0.38 | 0.04 | 1.27 | 1.27 | XXX
88342 | TC | A | Immunohistochemistry | 0.00 | 0.98 | NA | 0.02 | 1.00 | NA | XXX
88346 |  | A | Immunofluorescent study | 0.86 | 1.46 | NA | 0.06 | 2.38 | NA | XXX
88346 | 26 | A | Immunofluorescent study | 0.86 | 0.38 | 0.38 | 0.04 | 1.28 | 1.28 | XXX
88346 | TC | A | Immunofluorescent study | 0.00 | 1.08 | NA | 0.02 | 1.10 | NA | XXX
88347 |  | A | Immunofluorescent study | 0.86 | 1.78 | NA | 0.06 | 2.70 | NA | XXX
88347 | 26 | A | Immunofluorescent study | 0.86 | 0.36 | 0.36 | 0.04 | 1.26 | 1.26 | XXX
88347 | TC | A | Immunofluorescent study | 0.00 | 1.42 | NA | 0.02 | 1.44 | NA | XXX
88348 |  | A | Electron microscopy | 1.50 | 8.57 | NA | 0.13 | 10.20 | NA | XXX
88348 | 26 | A | Electron microscopy | 1.50 | 0.65 | 0.65 | 0.06 | 2.21 | 2.21 | XXX
88348 | TC | A | Electron microscopy | 0.00 | 7.92 | NA | 0.07 | 7.99 | NA | XXX
88349 |  | A | Scanning electron microscopy | 0.76 | 10.00 | NA | 0.10 | 10.86 | NA | XXX
88349 | 26 | A | Scanning electron microscopy | 0.76 | 0.34 | 0.34 | 0.04 | 1.14 | 1.14 | XXX
88349 | TC | A | Scanning electron microscopy | 0.00 | 9.66 | NA | 0.06 | 9.72 | NA | XXX
88355 |  | A | Analysis, skeletal muscle | 1.84 | 2.63 | NA | 0.14 | 4.61 | NA | XXX
88355 | 26 | A | Analysis, skeletal muscle | 1.84 | 0.81 | 0.81 | 0.08 | 2.73 | 2.73 | XXX
88355 | TC | A | Analysis, skeletal muscle | 0.00 | 1.82 | NA | 0.06 | 1.88 | NA | XXX
88356 |  | A | Analysis, nerve | 3.00 | 2.91 | NA | 0.19 | 6.10 | NA | XXX
88356 | 26 | A | Analysis, nerve | 3.00 | 1.29 | 1.29 | 0.12 | 4.41 | 4.41 | XXX
88356 | TC | A | Analysis, nerve | 0.00 | 1.62 | NA | 0.07 | 1.69 | NA | XXX
88358 |  | A | Analysis, tumor | 2.80 | 1.39 | NA | 0.19 | 4.38 | NA | XXX
88358 | 26 | A | Analysis, tumor | 2.80 | 1.24 | 1.24 | 0.12 | 4.16 | 4.16 | XXX
88358 | TC | A | Analysis, tumor | 0.00 | 0.15 | NA | 0.07 | 0.22 | NA | XXX
88361 |  | A | Immunohistochemistry, tumor | 0.93 | 2.62 | NA | 0.19 | 3.74 | NA | XXX
88361 | 26 | A | Immunohistochemistry, tumor | 0.93 | 0.42 | 0.42 | 0.12 | 1.47 | 1.47 | XXX
88361 | TC | A | Immunohistochemistry, tumor | 0.00 | 2.20 | NA | 0.07 | 2.27 | NA | XXX
88362 |  | A | Nerve teasing preparations | 2.16 | 4.44 | NA | 0.14 | 6.74 | NA | XXX
88362 | 26 | A | Nerve teasing preparations | 2.16 | 0.93 | 0.93 | 0.08 | 3.17 | 3.17 | XXX
88362 | TC | A | Nerve teasing preparations | 0.00 | 3.51 | NA | 0.06 | 3.57 | NA | XXX
88365 |  | A | Tissue hybridization | 0.92 | 2.23 | NA | 0.06 | 3.21 | NA | XXX
88365 | 26 | A | Tissue hybridization | 0.92 | 0.41 | 0.41 | 0.04 | 1.37 | 1.37 | XXX
88365 | TC | A | Tissue hybridization | 0.00 | 1.82 | NA | 0.02 | 1.84 | NA | XXX
88371 | 26 | A | Protein, western blot tissue | 0.37 | 0.13 | 0.13 | 0.01 | 0.51 | 0.51 | XXX
88372 | 26 | A | Protein analysis w/probe | 0.37 | 0.17 | 0.17 | 0.01 | 0.55 | 0.55 | XXX
88380 |  | C | Microdissection | 0.00 | 0.00 | 0.00 | 0.00 | 0.00 | 0.00 | XXX
88380 | 26 | C | Microdissection | 0.00 | 0.00 | 0.00 | 0.00 | 0.00 | 0.00 | XXX
88380 | TC | C | Microdissection | 0.00 | 0.00 | 0.00 | 0.00 | 0.00 | 0.00 | XXX
88399 |  | C | Surgical pathology procedure | 0.00 | 0.00 | 0.00 | 0.00 | 0.00 | 0.00 | XXX
88399 | 26 | C | Surgical pathology procedure | 0.00 | 0.00 | 0.00 | 0.00 | 0.00 | 0.00 | XXX
88399 | TC | C | Surgical pathology procedure | 0.00 | 0.00 | 0.00 | 0.00 | 0.00 | 0.00 | XXX
89060 | 26 | A | Exam,synovial fluid crystals | 0.37 | 0.17 | 0.16 | 0.01 | 0.55 | 0.54 | XXX
89100 |  | A | Sample intestinal contents | 0.60 | 1.62 | 0.22 | 0.02 | 2.24 | 0.84 | XXX
89105 |  | A | Sample intestinal contents | 0.50 | 2.26 | 0.17 | 0.02 | 2.78 | 0.69 | XXX
89130 |  | A | Sample stomach contents | 0.45 | 1.76 | 0.13 | 0.02 | 2.23 | 0.60 | XXX
89132 |  | A | Sample stomach contents | 0.19 | 1.51 | 0.06 | 0.01 | 1.71 | 0.26 | XXX
89135 |  | A | Sample stomach contents | 0.79 | 1.61 | 0.25 | 0.04 | 2.44 | 1.08 | XXX
89136 |  | A | Sample stomach contents | 0.21 | 1.66 | 0.09 | 0.01 | 1.88 | 0.31 | XXX
89140 |  | A | Sample stomach contents | 0.93 | 2.09 | 0.28 | 0.04 | 3.06 | 1.25 | XXX
89141 |  | A | Sample stomach contents | 0.85 | 2.75 | 0.34 | 0.04 | 3.64 | 1.23 | XXX
90281 |  | I | Human ig, im | 0.00 | 0.00 | 0.00 | 0.00 | 0.00 | 0.00 | XXX
90283 |  | I | Human ig, iv | 0.00 | 0.00 | 0.00 | 0.00 | 0.00 | 0.00 | XXX
90287 |  | I | Botulinum antitoxin | 0.00 | 0.00 | 0.00 | 0.00 | 0.00 | 0.00 | XXX
90288 |  | I | Botulism ig, iv | 0.00 | 0.00 | 0.00 | 0.00 | 0.00 | 0.00 | XXX
90291 |  | I | Cmv ig, iv | 0.00 | 0.00 | 0.00 | 0.00 | 0.00 | 0.00 | XXX
90296 |  | E | Diphtheria antitoxin | 0.00 | 0.00 | 0.00 | 0.00 | 0.00 | 0.00 | XXX
90371 |  | E | Hep b ig, im | 0.00 | 0.00 | 0.00 | 0.00 | 0.00 | 0.00 | XXX
90375 |  | E | Rabies ig, im/sc | 0.00 | 0.00 | 0.00 | 0.00 | 0.00 | 0.00 | XXX
90376 |  | E | Rabies ig, heat treated | 0.00 | 0.00 | 0.00 | 0.00 | 0.00 | 0.00 | XXX
90378 |  | X | Rsv ig, im, 50mg | 0.00 | 0.00 | 0.00 | 0.00 | 0.00 | 0.00 | XXX
90379 |  | I | Rsv ig, iv | 0.00 | 0.00 | 0.00 | 0.00 | 0.00 | 0.00 | XXX
90384 |  | I | Rh ig, full-dose, im | 0.00 | 0.00 | 0.00 | 0.00 | 0.00 | 0.00 | XXX
90385 |  | E | Rh ig, minidose, im | 0.00 | 0.00 | 0.00 | 0.00 | 0.00 | 0.00 | XXX
90386 |  | I | Rh ig, iv | 0.00 | 0.00 | 0.00 | 0.00 | 0.00 | 0.00 | XXX
90389 |  | I | Tetanus ig, im | 0.00 | 0.00 | 0.00 | 0.00 | 0.00 | 0.00 | XXX
90393 |  | E | Vaccina ig, im | 0.00 | 0.00 | 0.00 | 0.00 | 0.00 | 0.00 | XXX
90396 |  | E | Varicella-zoster ig, im | 0.00 | 0.00 | 0.00 | 0.00 | 0.00 | 0.00 | XXX
90399 |  | I | Immune globulin | 0.00 | 0.00 | 0.00 | 0.00 | 0.00 | 0.00 | XXX
90471 |  | A | Immunization admin | 0.00 | 0.20 | NA | 0.01 | 0.21 | NA | XXX
90472 |  | A | Immunization admin, each add | 0.00 | 0.14 | NA | 0.01 | 0.15 | NA | ZZZ
90473 |  | N | Immune admin oral/nasal | 0.00 | 0.00 | 0.00 | 0.00 | 0.00 | 0.00 | XXX
90474 |  | N | Immune admin oral/nasal addl | 0.00 | 0.00 | 0.00 | 0.00 | 0.00 | 0.00 | ZZZ
90476 |  | E | Adenovirus vaccine, type 4 | 0.00 | 0.00 | 0.00 | 0.00 | 0.00 | 0.00 | XXX
90477 |  | E | Adenovirus vaccine, type 7 | 0.00 | 0.00 | 0.00 | 0.00 | 0.00 | 0.00 | XXX
90581 |  | E | Anthrax vaccine, sc | 0.00 | 0.00 | 0.00 | 0.00 | 0.00 | 0.00 | XXX
90585 |  | E | Bcg vaccine, percut | 0.00 | 0.00 | 0.00 | 0.00 | 0.00 | 0.00 | XXX
90586 |  | E | Bcg vaccine, intravesical | 0.00 | 0.00 | 0.00 | 0.00 | 0.00 | 0.00 | XXX
90632 |  | E | Hep a vaccine, adult im | 0.00 | 0.00 | 0.00 | 0.00 | 0.00 | 0.00 | XXX
90633 |  | E | Hep a vacc, ped/adol, 2 dose | 0.00 | 0.00 | 0.00 | 0.00 | 0.00 | 0.00 | XXX
90634 |  | E | Hep a vacc, ped/adol, 3 dose | 0.00 | 0.00 | 0.00 | 0.00 | 0.00 | 0.00 | XXX
90636 |  | E | Hep a/hep b vacc, adult im | 0.00 | 0.00 | 0.00 | 0.00 | 0.00 | 0.00 | XXX
90645 |  | E | Hib vaccine, hboc, im | 0.00 | 0.00 | 0.00 | 0.00 | 0.00 | 0.00 | XXX
90646 |  | E | Hib vaccine, prp-d, im | 0.00 | 0.00 | 0.00 | 0.00 | 0.00 | 0.00 | XXX
90647 |  | E | Hib vaccine, prp-omp, im | 0.00 | 0.00 | 0.00 | 0.00 | 0.00 | 0.00 | XXX
90648 |  | E | Hib vaccine, prp-t, im | 0.00 | 0.00 | 0.00 | 0.00 | 0.00 | 0.00 | XXX
90655 |  | X | Flu vaccine, 6-35 mo, im | 0.00 | 0.00 | 0.00 | 0.00 | 0.00 | 0.00 | XXX
90657 |  | X | Flu vaccine, 6-35 mo, im | 0.00 | 0.00 | 0.00 | 0.00 | 0.00 | 0.00 | XXX
90658 |  | X | Flu vaccine, 3 yrs, im | 0.00 | 0.00 | 0.00 | 0.00 | 0.00 | 0.00 | XXX
90659 |  | D | Flu vaccine, whole, im | 0.00 | 0.00 | 0.00 | 0.00 | 0.00 | 0.00 | XXX
90660 |  | X | Flu vaccine, nasal | 0.00 | 0.00 | 0.00 | 0.00 | 0.00 | 0.00 | XXX
90665 |  | E | Lyme disease vaccine, im | 0.00 | 0.00 | 0.00 | 0.00 | 0.00 | 0.00 | XXX
90669 |  | N | Pneumococcal vacc, ped <5 | 0.00 | 0.00 | 0.00 | 0.00 | 0.00 | 0.00 | XXX
90675 |  | E | Rabies vaccine, im | 0.00 | 0.00 | 0.00 | 0.00 | 0.00 | 0.00 | XXX
90676 |  | E | Rabies vaccine, id | 0.00 | 0.00 | 0.00 | 0.00 | 0.00 | 0.00 | XXX
90680 |  | E | Rotovirus vaccine, oral | 0.00 | 0.00 | 0.00 | 0.00 | 0.00 | 0.00 | XXX
90690 |  | E | Typhoid vaccine, oral | 0.00 | 0.00 | 0.00 | 0.00 | 0.00 | 0.00 | XXX
90691 |  | E | Typhoid vaccine, im | 0.00 | 0.00 | 0.00 | 0.00 | 0.00 | 0.00 | XXX
90692 |  | E | Typhoid vaccine, h-p, sc/id | 0.00 | 0.00 | 0.00 | 0.00 | 0.00 | 0.00 | XXX
90693 |  | E | Typhoid vaccine, akd, sc | 0.00 | 0.00 | 0.00 | 0.00 | 0.00 | 0.00 | XXX
90698 |  | E | Dtap-hib-ip vaccine, im | 0.00 | 0.00 | 0.00 | 0.00 | 0.00 | 0.00 | XXX
90700 |  | E | Dtap vaccine, im | 0.00 | 0.00 | 0.00 | 0.00 | 0.00 | 0.00 | XXX
90701 |  | E | Dtp vaccine, im | 0.00 | 0.00 | 0.00 | 0.00 | 0.00 | 0.00 | XXX
90702 |  | E | Dt vaccine < 7, im | 0.00 | 0.00 | 0.00 | 0.00 | 0.00 | 0.00 | XXX
90703 |  | E | Tetanus vaccine, im | 0.00 | 0.00 | 0.00 | 0.00 | 0.00 | 0.00 | XXX
90704 |  | E | Mumps vaccine, sc | 0.00 | 0.00 | 0.00 | 0.00 | 0.00 | 0.00 | XXX
90705 |  | E | Measles vaccine, sc | 0.00 | 0.00 | 0.00 | 0.00 | 0.00 | 0.00 | XXX
90706 |  | E | Rubella vaccine, sc | 0.00 | 0.00 | 0.00 | 0.00 | 0.00 | 0.00 | XXX
90707 |  | E | Mmr vaccine, sc | 0.00 | 0.00 | 0.00 | 0.00 | 0.00 | 0.00 | XXX
90708 |  | E | Measles-rubella vaccine, sc | 0.00 | 0.00 | 0.00 | 0.00 | 0.00 | 0.00 | XXX
90710 |  | E | Mmrv vaccine, sc | 0.00 | 0.00 | 0.00 | 0.00 | 0.00 | 0.00 | XXX
90712 |  | E | Oral poliovirus vaccine | 0.00 | 0.00 | 0.00 | 0.00 | 0.00 | 0.00 | XXX
90713 |  | E | Poliovirus, ipv, sc | 0.00 | 0.00 | 0.00 | 0.00 | 0.00 | 0.00 | XXX
90715 |  | E | Tdap vaccine >7 im | 0.00 | 0.00 | 0.00 | 0.00 | 0.00 | 0.00 | XXX
90716 |  | E | Chicken pox vaccine, sc | 0.00 | 0.00 | 0.00 | 0.00 | 0.00 | 0.00 | XXX
90717 |  | E | Yellow fever vaccine, sc | 0.00 | 0.00 | 0.00 | 0.00 | 0.00 | 0.00 | XXX
90718 |  | E | Td vaccine > 7, im | 0.00 | 0.00 | 0.00 | 0.00 | 0.00 | 0.00 | XXX
90719 |  | E | Diphtheria vaccine, im | 0.00 | 0.00 | 0.00 | 0.00 | 0.00 | 0.00 | XXX
90720 |  | E | Dtp/hib vaccine, im | 0.00 | 0.00 | 0.00 | 0.00 | 0.00 | 0.00 | XXX
90721 |  | E | Dtap/hib vaccine, im | 0.00 | 0.00 | 0.00 | 0.00 | 0.00 | 0.00 | XXX
90723 |  | I | Dtap-hep b-ipv vaccine, im | 0.00 | 0.00 | 0.00 | 0.00 | 0.00 | 0.00 | XXX
90725 |  | E | Cholera vaccine, injectable | 0.00 | 0.00 | 0.00 | 0.00 | 0.00 | 0.00 | XXX
90727 |  | E | Plague vaccine, im | 0.00 | 0.00 | 0.00 | 0.00 | 0.00 | 0.00 | XXX
90732 |  | X | Pneumococcal vaccine | 0.00 | 0.00 | 0.00 | 0.00 | 0.00 | 0.00 | XXX
90733 |  | E | Meningococcal vaccine, sc | 0.00 | 0.00 | 0.00 | 0.00 | 0.00 | 0.00 | XXX
90734 |  | E | Meningococcal vaccine, im | 0.00 | 0.00 | 0.00 | 0.00 | 0.00 | 0.00 | XXX
90735 |  | E | Encephalitis vaccine, sc | 0.00 | 0.00 | 0.00 | 0.00 | 0.00 | 0.00 | XXX
90740 |  | X | Hepb vacc, ill pat 3 dose im | 0.00 | 0.00 | 0.00 | 0.00 | 0.00 | 0.00 | XXX
90743 |  | X | Hep b vacc, adol, 2 dose, im | 0.00 | 0.00 | 0.00 | 0.00 | 0.00 | 0.00 | XXX
90744 |  | X | Hepb vacc ped/adol 3 dose im | 0.00 | 0.00 | 0.00 | 0.00 | 0.00 | 0.00 | XXX
90746 |  | X | Hep b vaccine, adult, im | 0.00 | 0.00 | 0.00 | 0.00 | 0.00 | 0.00 | XXX
90747 |  | X | Hepb vacc, ill pat 4 dose im | 0.00 | 0.00 | 0.00 | 0.00 | 0.00 | 0.00 | XXX
90748 |  | I | Hep b/hib vaccine, im | 0.00 | 0.00 | 0.00 | 0.00 | 0.00 | 0.00 | XXX
90749 |  | E | Vaccine toxoid | 0.00 | 0.00 | 0.00 | 0.00 | 0.00 | 0.00 | XXX
90780 |  | A | IV infusion therapy, 1 hour | 0.00 | 1.10 | NA | 0.07 | 1.17 | NA | XXX
90781 |  | A | IV infusion, additional hour | 0.00 | 0.56 | NA | 0.04 | 0.60 | NA | ZZZ
90782 |  | T | Injection, sc/im | 0.00 | 0.11 | NA | 0.01 | 0.12 | NA | XXX
90783 |  | T | Injection, ia | 0.00 | 0.41 | NA | 0.02 | 0.43 | NA | XXX
90784 |  | T | Injection, iv | 0.00 | 0.47 | NA | 0.04 | 0.51 | NA | XXX
90788 |  | T | Injection of antibiotic | 0.00 | 0.12 | NA | 0.01 | 0.13 | NA | XXX
90799 |  | C | Ther/prophylactic/dx inject | 0.00 | 0.00 | 0.00 | 0.00 | 0.00 | 0.00 | XXX
90801 |  | A | Psy dx interview | 2.78 | 1.19 | 0.94 | 0.07 | 4.04 | 3.79 | XXX
90802 |  | A | Intac psy dx interview | 2.99 | 1.22 | 0.99 | 0.08 | 4.29 | 4.06 | XXX
90804 |  | A | Psytx, office, 20-30 min | 1.20 | 0.50 | 0.39 | 0.04 | 1.74 | 1.63 | XXX
90805 |  | A | Psytx, off, 20-30 min w/e&m | 1.36 | 0.51 | 0.43 | 0.04 | 1.91 | 1.83 | XXX
90806 |  | A | Psytx, off, 45-50 min | 1.85 | 0.71 | 0.62 | 0.05 | 2.61 | 2.52 | XXX
90807 |  | A | Psytx, off, 45-50 min w/e&m | 2.01 | 0.70 | 0.64 | 0.06 | 2.77 | 2.71 | XXX
90808 |  | A | Psytx, office, 75-80 min | 2.77 | 1.04 | 0.91 | 0.08 | 3.89 | 3.76 | XXX
90809 |  | A | Psytx, off, 75-80, w/e&m | 2.93 | 1.01 | 0.93 | 0.08 | 4.02 | 3.94 | XXX
90810 |  | A | Intac psytx, off, 20-30 min | 1.31 | 0.52 | 0.43 | 0.04 | 1.87 | 1.78 | XXX
90811 |  | A | Intac psytx, 20-30, w/e&m | 1.47 | 0.58 | 0.47 | 0.04 | 2.09 | 1.98 | XXX
90812 |  | A | Intac psytx, off, 45-50 min | 1.96 | 0.79 | 0.65 | 0.06 | 2.81 | 2.67 | XXX
90813 |  | A | Intac psytx, 45-50 min w/e&m | 2.12 | 0.77 | 0.67 | 0.06 | 2.95 | 2.85 | XXX
90814 |  | A | Intac psytx, off, 75-80 min | 2.88 | 1.11 | 0.99 | 0.08 | 4.07 | 3.95 | XXX
90815 |  | A | Intac psytx, 75-80 w/e&m | 3.04 | 1.06 | 0.96 | 0.08 | 4.18 | 4.08 | XXX
90816 |  | A | Psytx, hosp, 20-30 min | 1.24 | NA | 0.47 | 0.04 | NA | 1.75 | XXX
90817 |  | A | Psytx, hosp, 20-30 min w/e&m | 1.40 | NA | 0.47 | 0.04 | NA | 1.91 | XXX
90818 |  | A | Psytx, hosp, 45-50 min | 1.88 | NA | 0.69 | 0.05 | NA | 2.62 | XXX
90819 |  | A | Psytx, hosp, 45-50 min w/e&m | 2.04 | NA | 0.66 | 0.06 | NA | 2.76 | XXX
90821 |  | A | Psytx, hosp, 75-80 min | 2.81 | NA | 1.02 | 0.07 | NA | 3.90 | XXX
90822 |  | A | Psytx, hosp, 75-80 min w/e&m | 2.97 | NA | 0.96 | 0.08 | NA | 4.01 | XXX
90823 |  | A | Intac psytx, hosp, 20-30 min | 1.35 | NA | 0.49 | 0.04 | NA | 1.88 | XXX
90824 |  | A | Intac psytx, hsp 20-30 w/e&m | 1.51 | NA | 0.50 | 0.04 | NA | 2.05 | XXX
90826 |  | A | Intac psytx, hosp, 45-50 min | 2.00 | NA | 0.73 | 0.05 | NA | 2.78 | XXX
90827 |  | A | Intac psytx, hsp 45-50 w/e&m | 2.15 | NA | 0.69 | 0.06 | NA | 2.90 | XXX
90828 |  | A | Intac psytx, hosp, 75-80 min | 2.92 | NA | 1.08 | 0.08 | NA | 4.08 | XXX
90829 |  | A | Intac psytx, hsp 75-80 w/e&m | 3.08 | NA | 0.99 | 0.08 | NA | 4.15 | XXX
90845 |  | A | Psychoanalysis | 1.78 | 0.59 | 0.57 | 0.05 | 2.42 | 2.40 | XXX
90846 |  | R | Family psytx w/o patient | 1.82 | 0.66 | 0.65 | 0.05 | 2.53 | 2.52 | XXX
90847 |  | R | Family psytx w/patient | 2.20 | 0.82 | 0.77 | 0.06 | 3.08 | 3.03 | XXX
90849 |  | R | Multiple family group psytx | 0.59 | 0.28 | 0.24 | 0.01 | 0.88 | 0.84 | XXX
90853 |  | A | Group psychotherapy | 0.59 | 0.25 | 0.23 | 0.01 | 0.85 | 0.83 | XXX
90857 |  | A | Intac group psytx | 0.63 | 0.30 | 0.26 | 0.02 | 0.95 | 0.91 | XXX
90862 |  | A | Medication management | 0.94 | 0.41 | 0.33 | 0.02 | 1.37 | 1.29 | XXX
90865 |  | A | Narcosynthesis | 2.82 | 1.62 | 0.90 | 0.08 | 4.52 | 3.80 | XXX
90870 |  | A | Electroconvulsive therapy | 1.87 | 0.80 | 0.80 | 0.05 | 2.72 | 2.72 | 000
90871 |  | N | Electroconvulsive therapy | +2.70 | 1.07 | 1.07 | 0.07 | 3.84 | 3.84 | 000
90875 |  | N | Psychophysiological therapy | +1.19 | 0.90 | 0.47 | 0.04 | 2.13 | 1.70 | XXX
90876 |  | N | Psychophysiological therapy | +1.89 | 1.17 | 0.73 | 0.05 | 3.11 | 2.67 | XXX
90880 |  | A | Hypnotherapy | 2.18 | 1.05 | 0.69 | 0.06 | 3.29 | 2.93 | XXX
90882 |  | N | Environmental manipulation | 0.00 | 0.00 | 0.00 | 0.00 | 0.00 | 0.00 | XXX
90885 |  | B | Psy evaluation of records | +0.96 | 0.38 | 0.38 | 0.02 | 1.36 | 1.36 | XXX
90887 |  | B | Consultation with family | +1.47 | 0.83 | 0.57 | 0.04 | 2.34 | 2.08 | XXX
90889 |  | B | Preparation of report | 0.00 | 0.00 | 0.00 | 0.00 | 0.00 | 0.00 | XXX
90899 |  | C | Psychiatric service/therapy | 0.00 | 0.00 | 0.00 | 0.00 | 0.00 | 0.00 | XXX
90901 |  | A | Biofeedback train, any meth | 0.41 | 0.67 | 0.14 | 0.02 | 1.10 | 0.57 | 000
90911 |  | A | Biofeedback peri/uro/rectal | 0.88 | 1.64 | 0.32 | 0.05 | 2.57 | 1.25 | 000
90918 |  | I | ESRD related services, month | +11.12 | 7.50 | 7.50 | 0.36 | 18.98 | 18.98 | XXX
90919 |  | I | ESRD related services, month | +8.49 | 4.15 | 4.15 | 0.29 | 12.93 | 12.93 | XXX
90920 |  | I | ESRD related services, month | +7.23 | 3.89 | 3.89 | 0.23 | 11.35 | 11.35 | XXX
90921 |  | I | ESRD related services, month | +4.44 | 2.52 | 2.52 | 0.14 | 7.10 | 7.10 | XXX
90922 |  | A | ESRD related services, day | 0.37 | 0.22 | 0.22 | 0.01 | 0.60 | 0.60 | XXX
90923 |  | A | Esrd related services, day | 0.28 | 0.13 | 0.13 | 0.01 | 0.42 | 0.42 | XXX
90924 |  | A | Esrd related services, day | 0.24 | 0.12 | 0.12 | 0.01 | 0.37 | 0.37 | XXX
90925 |  | A | Esrd related services, day | 0.15 | 0.08 | 0.08 | 0.01 | 0.24 | 0.24 | XXX
90935 |  | A | Hemodialysis, one evaluation | 1.21 | NA | 0.68 | 0.04 | NA | 1.93 | 000
90937 |  | A | Hemodialysis, repeated eval | 2.10 | NA | 0.99 | 0.07 | NA | 3.16 | 000
90939 |  | X | Hemodialysis study, transcut | 0.00 | 0.00 | 0.00 | 0.00 | 0.00 | 0.00 | XXX
90940 |  | X | Hemodialysis access study | 0.00 | 0.00 | 0.00 | 0.00 | 0.00 | 0.00 | XXX
90945 |  | A | Dialysis, one evaluation | 1.27 | NA | 0.70 | 0.05 | NA | 2.02 | 000
90947 |  | A | Dialysis, repeated eval | 2.15 | NA | 1.01 | 0.07 | NA | 3.23 | 000
90989 |  | X | Dialysis training, complete | 0.00 | 0.00 | 0.00 | 0.00 | 0.00 | 0.00 | XXX
90993 |  | X | Dialysis training, incompl | 0.00 | 0.00 | 0.00 | 0.00 | 0.00 | 0.00 | XXX
90997 |  | A | Hemoperfusion | 1.83 | NA | 1.43 | 0.06 | NA | 3.32 | 000
90999 |  | C | Dialysis procedure | 0.00 | 0.00 | 0.00 | 0.00 | 0.00 | 0.00 | XXX
91000 |  | A | Esophageal intubation | 0.73 | 0.33 | NA | 0.05 | 1.11 | NA | 000
91000 | 26 | A | Esophageal intubation | 0.73 | 0.25 | 0.25 | 0.04 | 1.02 | 1.02 | 000
91000 | TC | A | Esophageal intubation | 0.00 | 0.08 | NA | 0.01 | 0.09 | NA | 000
91010 |  | A | Esophagus motility study | 1.24 | 2.76 | NA | 0.12 | 4.12 | NA | 000
91010 | 26 | A | Esophagus motility study | 1.24 | 0.45 | 0.45 | 0.06 | 1.75 | 1.75 | 000
91010 | TC | A | Esophagus motility study | 0.00 | 2.31 | NA | 0.06 | 2.37 | NA | 000
91011 |  | A | Esophagus motility study | 1.49 | 3.25 | NA | 0.12 | 4.86 | NA | 000
91011 | 26 | A | Esophagus motility study | 1.49 | 0.54 | 0.54 | 0.06 | 2.09 | 2.09 | 000
91011 | TC | A | Esophagus motility study | 0.00 | 2.71 | NA | 0.06 | 2.77 | NA | 000
91012 |  | A | Esophagus motility study | 1.45 | 3.40 | NA | 0.14 | 4.99 | NA | 000
91012 | 26 | A | Esophagus motility study | 1.45 | 0.52 | 0.52 | 0.07 | 2.04 | 2.04 | 000
91012 | TC | A | Esophagus motility study | 0.00 | 2.88 | NA | 0.07 | 2.95 | NA | 000
91020 |  | A | Gastric motility | 1.43 | 2.99 | NA | 0.13 | 4.55 | NA | 000
91020 | 26 | A | Gastric motility | 1.43 | 0.50 | 0.50 | 0.07 | 2.00 | 2.00 | 000
91020 | TC | A | Gastric motility | 0.00 | 2.49 | NA | 0.06 | 2.55 | NA | 000
91030 |  | A | Acid perfusion of esophagus | 0.90 | 2.43 | NA | 0.06 | 3.39 | NA | 000
91030 | 26 | A | Acid perfusion of esophagus | 0.90 | 0.33 | 0.33 | 0.04 | 1.27 | 1.27 | 000
91030 | TC | A | Acid perfusion of esophagus | 0.00 | 2.10 | NA | 0.02 | 2.12 | NA | 000
91032 |  | A | Esophagus, acid reflux test | 1.20 | 4.20 | NA | 0.12 | 5.52 | NA | 000
91032 | 26 | A | Esophagus, acid reflux test | 1.20 | 0.43 | 0.43 | 0.06 | 1.69 | 1.69 | 000
91032 | TC | A | Esophagus, acid reflux test | 0.00 | 3.77 | NA | 0.06 | 3.83 | NA | 000
91033 |  | A | Prolonged acid reflux test | 1.29 | 4.23 | NA | 0.17 | 5.69 | NA | 000
91033 | 26 | A | Prolonged acid reflux test | 1.29 | 0.46 | 0.46 | 0.06 | 1.81 | 1.81 | 000
91033 | TC | A | Prolonged acid reflux test | 0.00 | 3.77 | NA | 0.11 | 3.88 | NA | 000
91052 |  | A | Gastric analysis test | 0.79 | 2.22 | NA | 0.06 | 3.07 | NA | 000
91052 | 26 | A | Gastric analysis test | 0.79 | 0.28 | 0.28 | 0.04 | 1.11 | 1.11 | 000
91052 | TC | A | Gastric analysis test | 0.00 | 1.94 | NA | 0.02 | 1.96 | NA | 000
91055 |  | A | Gastric intubation for smear | 0.93 | 2.39 | NA | 0.07 | 3.39 | NA | 000
91055 | 26 | A | Gastric intubation for smear | 0.93 | 0.27 | 0.27 | 0.05 | 1.25 | 1.25 | 000
91055 | TC | A | Gastric intubation for smear | 0.00 | 2.12 | NA | 0.02 | 2.14 | NA | 000
91060 |  | A | Gastric saline load test | 0.45 | 0.30 | NA | 0.04 | 0.79 | NA | 000
91060 | 26 | A | Gastric saline load test | 0.45 | 0.14 | 0.14 | 0.02 | 0.61 | 0.61 | 000
91060 | TC | A | Gastric saline load test | 0.00 | 0.16 | NA | 0.02 | 0.18 | NA | 000
91065 |  | A | Breath hydrogen test | 0.20 | 2.00 | NA | 0.03 | 2.23 | NA | 000
91065 | 26 | A | Breath hydrogen test | 0.20 | 0.07 | 0.07 | 0.01 | 0.28 | 0.28 | 000
91065 | TC | A | Breath hydrogen test | 0.00 | 1.93 | NA | 0.02 | 1.95 | NA | 000
91100 |  | A | Pass intestine bleeding tube | 1.07 | NA | 0.29 | 0.07 | NA | 1.43 | 000
91105 |  | A | Gastric intubation treatment | 0.37 | NA | 0.09 | 0.02 | NA | 0.48 | 000
91110 |  | A | Gi tract capsule endoscopy | 3.63 | 21.39 | NA | 0.09 | 25.11 | NA | XXX
91110 | 26 | A | Gi tract capsule endoscopy | 3.63 | 1.31 | 1.31 | 0.02 | 4.96 | 4.96 | XXX
91110 | TC | A | Gi tract capsule endoscopy | 0.00 | 20.08 | NA | 0.07 | 20.15 | NA | XXX
91122 |  | A | Anal pressure record | 1.76 | 6.14 | NA | 0.20 | 8.10 | NA | 000
91122 | 26 | A | Anal pressure record | 1.76 | 0.62 | 0.62 | 0.12 | 2.50 | 2.50 | 000
91122 | TC | A | Anal pressure record | 0.00 | 5.52 | NA | 0.08 | 5.60 | NA | 000
91123 |  | B | Irrigate fecal impaction | 0.00 | 0.00 | 0.00 | 0.00 | 0.00 | 0.00 | XXX
91132 |  | C | Electrogastrography | 0.00 | 0.00 | 0.00 | 0.00 | 0.00 | 0.00 | XXX
91132 | 26 | A | Electrogastrography | 0.52 | 0.19 | 0.19 | 0.04 | 0.75 | 0.75 | XXX
91132 | TC | C | Electrogastrography | 0.00 | 0.00 | 0.00 | 0.00 | 0.00 | 0.00 | XXX
91133 |  | C | Electrogastrography w/test | 0.00 | 0.00 | 0.00 | 0.00 | 0.00 | 0.00 | XXX
91133 | 26 | A | Electrogastrography w/test | 0.66 | 0.24 | 0.24 | 0.04 | 0.94 | 0.94 | XXX
91133 | TC | C | Electrogastrography w/test | 0.00 | 0.00 | 0.00 | 0.00 | 0.00 | 0.00 | XXX
91299 |  | C | Gastroenterology procedure | 0.00 | 0.00 | 0.00 | 0.00 | 0.00 | 0.00 | XXX
91299 | 26 | C | Gastroenterology procedure | 0.00 | 0.00 | 0.00 | 0.00 | 0.00 | 0.00 | XXX
91299 | TC | C | Gastroenterology procedure | 0.00 | 0.00 | 0.00 | 0.00 | 0.00 | 0.00 | XXX
92002 |  | A | Eye exam, new patient | 0.87 | 0.97 | 0.35 | 0.02 | 1.86 | 1.24 | XXX
92004 |  | A | Eye exam, new patient | 1.66 | 1.70 | 0.68 | 0.04 | 3.40 | 2.38 | XXX
92012 |  | A | Eye exam established pat | 0.67 | 1.03 | 0.29 | 0.01 | 1.71 | 0.97 | XXX
92014 |  | A | Eye exam & treatment | 1.09 | 1.40 | 0.48 | 0.02 | 2.51 | 1.59 | XXX
92015 |  | N | Refraction | +0.38 | 1.50 | 0.15 | 0.01 | 1.89 | 0.54 | XXX
92018 |  | A | New eye exam & treatment | 2.49 | NA | 1.09 | 0.04 | NA | 3.62 | XXX
92019 |  | A | Eye exam & treatment | 1.30 | NA | 0.57 | 0.04 | NA | 1.91 | XXX
92020 |  | A | Special eye evaluation | 0.37 | 0.34 | 0.16 | 0.01 | 0.72 | 0.54 | XXX
92060 |  | A | Special eye evaluation | 0.69 | 0.73 | NA | 0.02 | 1.44 | NA | XXX
92060 | 26 | A | Special eye evaluation | 0.69 | 0.29 | 0.29 | 0.01 | 0.99 | 0.99 | XXX
92060 | TC | A | Special eye evaluation | 0.00 | 0.44 | NA | 0.01 | 0.45 | NA | XXX
92065 |  | A | Orthoptic/pleoptic training | 0.37 | 0.55 | NA | 0.02 | 0.94 | NA | XXX
92065 | 26 | A | Orthoptic/pleoptic training | 0.37 | 0.15 | 0.15 | 0.01 | 0.53 | 0.53 | XXX
92065 | TC | A | Orthoptic/pleoptic training | 0.00 | 0.40 | NA | 0.01 | 0.41 | NA | XXX
92070 |  | A | Fitting of contact lens | 0.70 | 1.08 | 0.32 | 0.01 | 1.79 | 1.03 | XXX
92081 |  | A | Visual field examination(s) | 0.36 | 0.87 | NA | 0.02 | 1.25 | NA | XXX
92081 | 26 | A | Visual field examination(s) | 0.36 | 0.16 | 0.16 | 0.01 | 0.53 | 0.53 | XXX
92081 | TC | A | Visual field examination(s) | 0.00 | 0.71 | NA | 0.01 | 0.72 | NA | XXX
92082 |  | A | Visual field examination(s) | 0.44 | 1.15 | NA | 0.02 | 1.61 | NA | XXX
92082 | 26 | A | Visual field examination(s) | 0.44 | 0.19 | 0.19 | 0.01 | 0.64 | 0.64 | XXX
92082 | TC | A | Visual field examination(s) | 0.00 | 0.96 | NA | 0.01 | 0.97 | NA | XXX
92083 |  | A | Visual field examination(s) | 0.50 | 1.34 | NA | 0.02 | 1.86 | NA | XXX
92083 | 26 | A | Visual field examination(s) | 0.50 | 0.22 | 0.22 | 0.01 | 0.73 | 0.73 | XXX
92083 | TC | A | Visual field examination(s) | 0.00 | 1.12 | NA | 0.01 | 1.13 | NA | XXX
92100 |  | A | Serial tonometry exam(s) | 0.91 | 1.27 | 0.37 | 0.02 | 2.20 | 1.30 | XXX
92120 |  | A | Tonography & eye evaluation | 0.81 | 1.05 | 0.32 | 0.02 | 1.88 | 1.15 | XXX
92130 |  | A | Water provocation tonography | 0.81 | 1.25 | 0.38 | 0.02 | 2.08 | 1.21 | XXX
92135 |  | A | Opthalmic dx imaging | 0.35 | 0.80 | NA | 0.02 | 1.17 | NA | XXX
92135 | 26 | A | Opthalmic dx imaging | 0.35 | 0.16 | 0.16 | 0.01 | 0.52 | 0.52 | XXX
92135 | TC | A | Opthalmic dx imaging | 0.00 | 0.64 | NA | 0.01 | 0.65 | NA | XXX
92136 |  | A | Ophthalmic biometry | 0.54 | 1.77 | NA | 0.08 | 2.39 | NA | XXX
92136 | 26 | A | Ophthalmic biometry | 0.54 | 0.25 | 0.25 | 0.01 | 0.80 | 0.80 | XXX
92136 | TC | A | Ophthalmic biometry | 0.00 | 1.52 | NA | 0.07 | 1.59 | NA | XXX
92140 |  | A | Glaucoma provocative tests | 0.50 | 0.94 | 0.22 | 0.01 | 1.45 | 0.73 | XXX
92225 |  | A | Special eye exam, initial | 0.38 | 0.22 | 0.16 | 0.01 | 0.61 | 0.55 | XXX
92226 |  | A | Special eye exam, subsequent | 0.33 | 0.21 | 0.15 | 0.01 | 0.55 | 0.49 | XXX
92230 |  | A | Eye exam with photos | 0.60 | 1.69 | 0.20 | 0.02 | 2.31 | 0.82 | XXX
92235 |  | A | Eye exam with photos | 0.81 | 2.95 | NA | 0.08 | 3.84 | NA | XXX
92235 | 26 | A | Eye exam with photos | 0.81 | 0.37 | 0.37 | 0.02 | 1.20 | 1.20 | XXX
92235 | TC | A | Eye exam with photos | 0.00 | 2.58 | NA | 0.06 | 2.64 | NA | XXX
92240 |  | A | Icg angiography | 1.09 | 7.12 | NA | 0.08 | 8.29 | NA | XXX
92240 | 26 | A | Icg angiography | 1.09 | 0.51 | 0.51 | 0.02 | 1.62 | 1.62 | XXX
92240 | TC | A | Icg angiography | 0.00 | 6.61 | NA | 0.06 | 6.67 | NA | XXX
92250 |  | A | Eye exam with photos | 0.44 | 1.75 | NA | 0.02 | 2.21 | NA | XXX
92250 | 26 | A | Eye exam with photos | 0.44 | 0.20 | 0.20 | 0.01 | 0.65 | 0.65 | XXX
92250 | TC | A | Eye exam with photos | 0.00 | 1.55 | NA | 0.01 | 1.56 | NA | XXX
92260 |  | A | Ophthalmoscopy/dynamometry | 0.20 | 0.29 | 0.09 | 0.01 | 0.50 | 0.30 | XXX
92265 |  | A | Eye muscle evaluation | 0.81 | 1.90 | NA | 0.04 | 2.75 | NA | XXX
92265 | 26 | A | Eye muscle evaluation | 0.81 | 0.29 | 0.29 | 0.02 | 1.12 | 1.12 | XXX
92265 | TC | A | Eye muscle evaluation | 0.00 | 1.61 | NA | 0.02 | 1.63 | NA | XXX
92270 |  | A | Electro-oculography | 0.81 | 1.57 | NA | 0.06 | 2.44 | NA | XXX
92270 | 26 | A | Electro-oculography | 0.81 | 0.34 | 0.34 | 0.04 | 1.19 | 1.19 | XXX
92270 | TC | A | Electro-oculography | 0.00 | 1.23 | NA | 0.02 | 1.25 | NA | XXX
92275 |  | A | Electroretinography | 1.00 | 1.97 | NA | 0.04 | 3.01 | NA | XXX
92275 | 26 | A | Electroretinography | 1.00 | 0.44 | 0.44 | 0.02 | 1.46 | 1.46 | XXX
92275 | TC | A | Electroretinography | 0.00 | 1.53 | NA | 0.02 | 1.55 | NA | XXX
92283 |  | A | Color vision examination | 0.17 | 0.84 | NA | 0.02 | 1.03 | NA | XXX
92283 | 26 | A | Color vision examination | 0.17 | 0.07 | 0.07 | 0.01 | 0.25 | 0.25 | XXX
92283 | TC | A | Color vision examination | 0.00 | 0.77 | NA | 0.01 | 0.78 | NA | XXX
92284 |  | A | Dark adaptation eye exam | 0.24 | 2.33 | NA | 0.02 | 2.59 | NA | XXX
92284 | 26 | A | Dark adaptation eye exam | 0.24 | 0.09 | 0.09 | 0.01 | 0.34 | 0.34 | XXX
92284 | TC | A | Dark adaptation eye exam | 0.00 | 2.24 | NA | 0.01 | 2.25 | NA | XXX
92285 |  | A | Eye photography | 0.20 | 1.07 | NA | 0.02 | 1.29 | NA | XXX
92285 | 26 | A | Eye photography | 0.20 | 0.09 | 0.09 | 0.01 | 0.30 | 0.30 | XXX
92285 | TC | A | Eye photography | 0.00 | 0.98 | NA | 0.01 | 0.99 | NA | XXX
92286 |  | A | Internal eye photography | 0.66 | 3.40 | NA | 0.03 | 4.09 | NA | XXX
92286 | 26 | A | Internal eye photography | 0.66 | 0.30 | 0.30 | 0.01 | 0.97 | 0.97 | XXX
92286 | TC | A | Internal eye photography | 0.00 | 3.10 | NA | 0.02 | 3.12 | NA | XXX
92287 |  | A | Internal eye photography | 0.81 | 2.73 | 0.31 | 0.02 | 3.56 | 1.14 | XXX
92310 |  | N | Contact lens fitting | +1.16 | 1.12 | 0.46 | 0.04 | 2.32 | 1.66 | XXX
92311 |  | A | Contact lens fitting | 1.07 | 1.20 | 0.35 | 0.04 | 2.31 | 1.46 | XXX
92312 |  | A | Contact lens fitting | 1.25 | 1.17 | 0.50 | 0.04 | 2.46 | 1.79 | XXX
92313 |  | A | Contact lens fitting | 0.91 | 1.17 | 0.29 | 0.02 | 2.10 | 1.22 | XXX
92314 |  | N | Prescription of contact lens | +0.69 | 0.94 | 0.27 | 0.01 | 1.64 | 0.97 | XXX
92315 |  | A | Prescription of contact lens | 0.45 | 0.96 | 0.16 | 0.01 | 1.42 | 0.62 | XXX
92316 |  | A | Prescription of contact lens | 0.68 | 1.00 | 0.30 | 0.01 | 1.69 | 0.99 | XXX
92317 |  | A | Prescription of contact lens | 0.45 | 1.06 | 0.14 | 0.01 | 1.52 | 0.60 | XXX
92325 |  | A | Modification of contact lens | 0.00 | 0.40 | NA | 0.01 | 0.41 | NA | XXX
92326 |  | A | Replacement of contact lens | 0.00 | 1.62 | NA | 0.06 | 1.68 | NA | XXX
92330 |  | A | Fitting of artificial eye | 1.07 | 1.08 | 0.33 | 0.05 | 2.20 | 1.45 | XXX
92335 |  | A | Fitting of artificial eye | 0.45 | 1.01 | 0.17 | 0.01 | 1.47 | 0.63 | XXX
92340 |  | N | Fitting of spectacles | +0.37 | 0.70 | 0.14 | 0.01 | 1.08 | 0.52 | XXX
92341 |  | N | Fitting of spectacles | +0.47 | 0.74 | 0.18 | 0.01 | 1.22 | 0.66 | XXX
92342 |  | N | Fitting of spectacles | +0.53 | 0.76 | 0.21 | 0.01 | 1.30 | 0.75 | XXX
92352 |  | B | Special spectacles fitting | +0.37 | 0.73 | 0.14 | 0.01 | 1.11 | 0.52 | XXX
92353 |  | B | Special spectacles fitting | +0.50 | 0.78 | 0.19 | 0.02 | 1.30 | 0.71 | XXX
92354 |  | B | Special spectacles fitting | +0.00 | 8.78 | NA | 0.10 | 8.88 | NA | XXX
92355 |  | B | Special spectacles fitting | +0.00 | 4.30 | NA | 0.01 | 4.31 | NA | XXX
92358 |  | B | Eye prosthesis service | +0.00 | 0.96 | NA | 0.05 | 1.01 | NA | XXX
92370 |  | N | Repair & adjust spectacles | +0.32 | 0.56 | 0.13 | 0.02 | 0.90 | 0.47 | XXX
92371 |  | B | Repair & adjust spectacles | +0.00 | 0.62 | NA | 0.02 | 0.64 | NA | XXX
92390 |  | N | Supply of spectacles | 0.00 | 0.00 | 0.00 | 0.00 | 0.00 | 0.00 | XXX
92391 |  | N | Supply of contact lenses | 0.00 | 0.00 | 0.00 | 0.00 | 0.00 | 0.00 | XXX
92392 |  | I | Supply of low vision aids | +0.00 | 3.81 | 3.81 | 0.02 | 3.83 | 3.83 | XXX
92393 |  | I | Supply of artificial eye | +0.00 | 11.83 | 11.83 | 0.56 | 12.39 | 12.39 | XXX
92395 |  | I | Supply of spectacles | +0.00 | 1.29 | 1.29 | 0.10 | 1.39 | 1.39 | XXX
92396 |  | I | Supply of contact lenses | +0.00 | 2.17 | 2.17 | 0.07 | 2.24 | 2.24 | XXX
92499 |  | C | Eye service or procedure | 0.00 | 0.00 | 0.00 | 0.00 | 0.00 | 0.00 | XXX
92499 | 26 | C | Eye service or procedure | 0.00 | 0.00 | 0.00 | 0.00 | 0.00 | 0.00 | XXX
92499 | TC | C | Eye service or procedure | 0.00 | 0.00 | 0.00 | 0.00 | 0.00 | 0.00 | XXX
92502 |  | A | Ear and throat examination | 1.50 | NA | 1.15 | 0.07 | NA | 2.72 | 000
92504 |  | A | Ear microscopy examination | 0.18 | 0.51 | 0.09 | 0.01 | 0.70 | 0.28 | XXX
92506 |  | A | Speech/hearing evaluation | 0.86 | 2.65 | 0.41 | 0.05 | 3.56 | 1.32 | XXX
92507 |  | A | Speech/hearing therapy | 0.52 | 1.15 | 0.24 | 0.02 | 1.69 | 0.78 | XXX
92508 |  | A | Speech/hearing therapy | 0.26 | 0.53 | 0.12 | 0.01 | 0.80 | 0.39 | XXX
92510 |  | I | Rehab for ear implant | +1.49 | 2.09 | 0.82 | 0.07 | 3.65 | 2.38 | XXX
92511 |  | A | Nasopharyngoscopy | 0.84 | 3.18 | 0.80 | 0.04 | 4.06 | 1.68 | 000
92512 |  | A | Nasal function studies | 0.55 | 1.09 | 0.18 | 0.02 | 1.66 | 0.75 | XXX
92516 |  | A | Facial nerve function test | 0.43 | 0.90 | 0.22 | 0.02 | 1.35 | 0.67 | XXX
92520 |  | A | Laryngeal function studies | 0.76 | 0.51 | 0.39 | 0.04 | 1.31 | 1.19 | XXX
92526 |  | A | Oral function therapy | 0.55 | 1.68 | 0.20 | 0.02 | 2.25 | 0.77 | XXX
92531 |  | B | Spontaneous nystagmus study | 0.00 | 0.00 | 0.00 | 0.00 | 0.00 | 0.00 | XXX
92532 |  | B | Positional nystagmus test | 0.00 | 0.00 | 0.00 | 0.00 | 0.00 | 0.00 | XXX
92533 |  | B | Caloric vestibular test | 0.00 | 0.00 | 0.00 | 0.00 | 0.00 | 0.00 | XXX
92534 |  | B | Optokinetic nystagmus test | 0.00 | 0.00 | 0.00 | 0.00 | 0.00 | 0.00 | XXX
92541 |  | A | Spontaneous nystagmus test | 0.40 | 0.97 | NA | 0.04 | 1.41 | NA | XXX
92541 | 26 | A | Spontaneous nystagmus test | 0.40 | 0.19 | 0.19 | 0.02 | 0.61 | 0.61 | XXX
92541 | TC | A | Spontaneous nystagmus test | 0.00 | 0.78 | NA | 0.02 | 0.80 | NA | XXX
92542 |  | A | Positional nystagmus test | 0.33 | 1.07 | NA | 0.03 | 1.43 | NA | XXX
92542 | 26 | A | Positional nystagmus test | 0.33 | 0.16 | 0.16 | 0.01 | 0.50 | 0.50 | XXX
92542 | TC | A | Positional nystagmus test | 0.00 | 0.91 | NA | 0.02 | 0.93 | NA | XXX
92543 |  | A | Caloric vestibular test | 0.10 | 0.55 | NA | 0.02 | 0.67 | NA | XXX
92543 | 26 | A | Caloric vestibular test | 0.10 | 0.05 | 0.05 | 0.01 | 0.16 | 0.16 | XXX
92543 | TC | A | Caloric vestibular test | 0.00 | 0.50 | NA | 0.01 | 0.51 | NA | XXX
92544 |  | A | Optokinetic nystagmus test | 0.26 | 0.85 | NA | 0.03 | 1.14 | NA | XXX
92544 | 26 | A | Optokinetic nystagmus test | 0.26 | 0.13 | 0.13 | 0.01 | 0.40 | 0.40 | XXX
92544 | TC | A | Optokinetic nystagmus test | 0.00 | 0.72 | NA | 0.02 | 0.74 | NA | XXX
92545 |  | A | Oscillating tracking test | 0.23 | 0.80 | NA | 0.03 | 1.06 | NA | XXX
92545 | 26 | A | Oscillating tracking test | 0.23 | 0.11 | 0.11 | 0.01 | 0.35 | 0.35 | XXX
92545 | TC | A | Oscillating tracking test | 0.00 | 0.69 | NA | 0.02 | 0.71 | NA | XXX
92546 |  | A | Sinusoidal rotational test | 0.29 | 1.82 | NA | 0.03 | 2.14 | NA | XXX
92546 | 26 | A | Sinusoidal rotational test | 0.29 | 0.13 | 0.13 | 0.01 | 0.43 | 0.43 | XXX
92546 | TC | A | Sinusoidal rotational test | 0.00 | 1.69 | NA | 0.02 | 1.71 | NA | XXX
92547 |  | A | Supplemental electrical test | 0.00 | 1.17 | NA | 0.06 | 1.23 | NA | ZZZ
92548 |  | A | Posturography | 0.50 | 3.23 | NA | 0.15 | 3.88 | NA | XXX
92548 | 26 | A | Posturography | 0.50 | 0.26 | 0.26 | 0.02 | 0.78 | 0.78 | XXX
92548 | TC | A | Posturography | 0.00 | 2.97 | NA | 0.13 | 3.10 | NA | XXX
92551 |  | N | Pure tone hearing test, air | 0.00 | 0.00 | 0.00 | 0.00 | 0.00 | 0.00 | XXX
92552 |  | A | Pure tone audiometry, air | 0.00 | 0.44 | NA | 0.04 | 0.48 | NA | XXX
92553 |  | A | Audiometry, air & bone | 0.00 | 0.65 | NA | 0.06 | 0.71 | NA | XXX
92555 |  | A | Speech threshold audiometry | 0.00 | 0.38 | NA | 0.04 | 0.42 | NA | XXX
92556 |  | A | Speech audiometry, complete | 0.00 | 0.57 | NA | 0.06 | 0.63 | NA | XXX
92557 |  | A | Comprehensive hearing test | 0.00 | 1.18 | NA | 0.12 | 1.30 | NA | XXX
92559 |  | N | Group audiometric testing | 0.00 | 0.00 | 0.00 | 0.00 | 0.00 | 0.00 | XXX
92560 |  | N | Bekesy audiometry, screen | 0.00 | 0.00 | 0.00 | 0.00 | 0.00 | 0.00 | XXX
92561 |  | A | Bekesy audiometry, diagnosis | 0.00 | 0.70 | NA | 0.06 | 0.76 | NA | XXX
92562 |  | A | Loudness balance test | 0.00 | 0.41 | NA | 0.04 | 0.45 | NA | XXX
92563 |  | A | Tone decay hearing test | 0.00 | 0.38 | NA | 0.04 | 0.42 | NA | XXX
92564 |  | A | Sisi hearing test | 0.00 | 0.47 | NA | 0.05 | 0.52 | NA | XXX
92565 |  | A | Stenger test, pure tone | 0.00 | 0.40 | NA | 0.04 | 0.44 | NA | XXX
92567 |  | A | Tympanometry | 0.00 | 0.52 | NA | 0.06 | 0.58 | NA | XXX
92568 |  | A | Acoustic reflex testing | 0.00 | 0.38 | NA | 0.04 | 0.42 | NA | XXX
92569 |  | A | Acoustic reflex decay test | 0.00 | 0.41 | NA | 0.04 | 0.45 | NA | XXX
92571 |  | A | Filtered speech hearing test | 0.00 | 0.39 | NA | 0.04 | 0.43 | NA | XXX
92572 |  | A | Staggered spondaic word test | 0.00 | 0.09 | NA | 0.01 | 0.10 | NA | XXX
92573 |  | A | Lombard test | 0.00 | 0.35 | NA | 0.04 | 0.39 | NA | XXX
92575 |  | A | Sensorineural acuity test | 0.00 | 0.30 | NA | 0.02 | 0.32 | NA | XXX
92576 |  | A | Synthetic sentence test | 0.00 | 0.44 | NA | 0.05 | 0.49 | NA | XXX
92577 |  | A | Stenger test, speech | 0.00 | 0.70 | NA | 0.07 | 0.77 | NA | XXX
92579 |  | A | Visual audiometry (vra) | 0.00 | 0.71 | NA | 0.06 | 0.77 | NA | XXX
92582 |  | A | Conditioning play audiometry | 0.00 | 0.71 | NA | 0.06 | 0.77 | NA | XXX
92583 |  | A | Select picture audiometry | 0.00 | 0.88 | NA | 0.08 | 0.96 | NA | XXX
92584 |  | A | Electrocochleography | 0.00 | 2.45 | NA | 0.20 | 2.65 | NA | XXX
92585 |  | A | Auditor evoke potent, compre | 0.50 | 2.06 | NA | 0.16 | 2.72 | NA | XXX
92585 | 26 | A | Auditor evoke potent, compre | 0.50 | 0.22 | 0.22 | 0.02 | 0.74 | 0.74 | XXX
92585 | TC | A | Auditor evoke potent, compre | 0.00 | 1.84 | NA | 0.14 | 1.98 | NA | XXX
92586 |  | A | Auditor evoke potent, limit | 0.00 | 1.84 | NA | 0.14 | 1.98 | NA | XXX
92587 |  | A | Evoked auditory test | 0.13 | 1.36 | NA | 0.12 | 1.61 | NA | XXX
92587 | 26 | A | Evoked auditory test | 0.13 | 0.07 | 0.07 | 0.01 | 0.21 | 0.21 | XXX
92587 | TC | A | Evoked auditory test | 0.00 | 1.29 | NA | 0.11 | 1.40 | NA | XXX
92588 |  | A | Evoked auditory test | 0.36 | 1.63 | NA | 0.14 | 2.13 | NA | XXX
92588 | 26 | A | Evoked auditory test | 0.36 | 0.17 | 0.17 | 0.01 | 0.54 | 0.54 | XXX
92588 | TC | A | Evoked auditory test | 0.00 | 1.46 | NA | 0.13 | 1.59 | NA | XXX
92589 |  | A | Auditory function test(s) | 0.00 | 0.53 | NA | 0.06 | 0.59 | NA | XXX
92590 |  | N | Hearing aid exam, one ear | 0.00 | 0.00 | 0.00 | 0.00 | 0.00 | 0.00 | XXX
92591 |  | N | Hearing aid exam, both ears | 0.00 | 0.00 | 0.00 | 0.00 | 0.00 | 0.00 | XXX
92592 |  | N | Hearing aid check, one ear | 0.00 | 0.00 | 0.00 | 0.00 | 0.00 | 0.00 | XXX
92593 |  | N | Hearing aid check, both ears | 0.00 | 0.00 | 0.00 | 0.00 | 0.00 | 0.00 | XXX
92594 |  | N | Electro hearng aid test, one | 0.00 | 0.00 | 0.00 | 0.00 | 0.00 | 0.00 | XXX
92595 |  | N | Electro hearng aid tst, both | 0.00 | 0.00 | 0.00 | 0.00 | 0.00 | 0.00 | XXX
92596 |  | A | Ear protector evaluation | 0.00 | 0.59 | NA | 0.06 | 0.65 | NA | XXX
92597 |  | A | Oral speech device eval | 0.86 | 1.71 | 0.46 | 0.05 | 2.62 | 1.37 | XXX
92601 |  | A | Cochlear implt f/up exam < 7 | 0.00 | 3.46 | NA | 0.07 | 3.53 | NA | XXX
92602 |  | A | Reprogram cochlear implt < 7 | 0.00 | 2.39 | NA | 0.07 | 2.46 | NA | XXX
92603 |  | A | Cochlear implt f/up exam 7 > | 0.00 | 2.26 | NA | 0.07 | 2.33 | NA | XXX
92604 |  | A | Reprogram cochlear implt 7 > | 0.00 | 1.49 | NA | 0.07 | 1.56 | NA | XXX
92605 |  | B | Eval for nonspeech device rx | 0.00 | 0.00 | 0.00 | 0.00 | 0.00 | 0.00 | XXX
92606 |  | B | Non-speech device service | 0.00 | 0.00 | 0.00 | 0.00 | 0.00 | 0.00 | XXX
92607 |  | A | Ex for speech device rx, 1hr | 0.00 | 3.25 | NA | 0.05 | 3.30 | NA | XXX
92608 |  | A | Ex for speech device rx addl | 0.00 | 0.67 | NA | 0.05 | 0.72 | NA | XXX
92609 |  | A | Use of speech device service | 0.00 | 1.62 | NA | 0.04 | 1.66 | NA | XXX
92610 |  | A | Evaluate swallowing function | 0.00 | 3.40 | NA | 0.08 | 3.48 | NA | XXX
92611 |  | A | Motion fluoroscopy/swallow | 0.00 | 3.40 | NA | 0.08 | 3.48 | NA | XXX
92612 |  | A | Endoscopy swallow tst (fees) | 1.26 | 2.74 | 0.67 | 0.08 | 4.08 | 2.01 | XXX
92613 |  | B | Endoscopy swallow tst (fees) | 0.00 | 0.00 | 0.00 | 0.00 | 0.00 | 0.00 | XXX
92614 |  | A | Laryngoscopic sensory test | 1.26 | 2.43 | 0.63 | 0.08 | 3.77 | 1.97 | XXX
92615 |  | B | Eval laryngoscopy sense tst | 0.00 | 0.00 | 0.00 | 0.00 | 0.00 | 0.00 | XXX
92616 |  | A | Fees w/laryngeal sense test | 1.87 | 3.31 | 0.97 | 0.08 | 5.26 | 2.92 | XXX
92617 |  | B | Interprt fees/laryngeal test | 0.00 | 0.00 | 0.00 | 0.00 | 0.00 | 0.00 | XXX
92700 |  | C | Ent procedure/service | 0.00 | 0.00 | 0.00 | 0.00 | 0.00 | 0.00 | XXX
92950 |  | A | Heart/lung resuscitation cpr | 3.78 | NA | 0.99 | 0.25 | NA | 5.02 | 000
92953 |  | A | Temporary external pacing | 0.23 | NA | 0.23 | 0.01 | NA | 0.47 | 000
92960 |  | A | Cardioversion electric, ext | 2.24 | 6.76 | 1.19 | 0.10 | 9.10 | 3.53 | 000
92961 |  | A | Cardioversion, electric, int | 4.57 | NA | 2.10 | 0.20 | NA | 6.87 | 000
92970 |  | A | Cardioassist, internal | 3.50 | NA | 1.07 | 0.20 | NA | 4.77 | 000
92971 |  | A | Cardioassist, external | 1.76 | NA | 0.86 | 0.07 | NA | 2.69 | 000
92973 |  | A | Percut coronary thrombectomy | 3.26 | NA | 1.31 | 0.14 | NA | 4.71 | ZZZ
92974 |  | A | Cath place, cardio brachytx | 2.98 | NA | 1.20 | 0.17 | NA | 4.35 | ZZZ
92975 |  | A | Dissolve clot, heart vessel | 7.21 | NA | 2.85 | 0.26 | NA | 10.32 | 000
92977 |  | A | Dissolve clot, heart vessel | 0.00 | 7.99 | NA | 0.46 | 8.45 | NA | XXX
92978 |  | A | Intravasc us, heart add-on | 1.79 | 5.23 | NA | 0.31 | 7.33 | NA | ZZZ
92978 | 26 | A | Intravasc us, heart add-on | 1.79 | 0.71 | 0.71 | 0.07 | 2.57 | 2.57 | ZZZ
92978 | TC | A | Intravasc us, heart add-on | 0.00 | 4.52 | NA | 0.24 | 4.76 | NA | ZZZ
92979 |  | A | Intravasc us, heart add-on | 1.43 | 2.84 | NA | 0.18 | 4.45 | NA | ZZZ
92979 | 26 | A | Intravasc us, heart add-on | 1.43 | 0.57 | 0.57 | 0.05 | 2.05 | 2.05 | ZZZ
92979 | TC | A | Intravasc us, heart add-on | 0.00 | 2.27 | NA | 0.13 | 2.40 | NA | ZZZ
92980 |  | A | Insert intracoronary stent | 14.76 | NA | 6.13 | 0.85 | NA | 21.74 | 000
92981 |  | A | Insert intracoronary stent | 4.15 | NA | 1.66 | 0.24 | NA | 6.05 | ZZZ
92982 |  | A | Coronary artery dilation | 10.92 | NA | 4.59 | 0.62 | NA | 16.13 | 000
92984 |  | A | Coronary artery dilation | 2.95 | NA | 1.18 | 0.17 | NA | 4.30 | ZZZ
92986 |  | A | Revision of aortic valve | 21.68 | NA | 11.78 | 1.37 | NA | 34.83 | 090
92987 |  | A | Revision of mitral valve | 22.57 | NA | 12.17 | 1.41 | NA | 36.15 | 090
92990 |  | A | Revision of pulmonary valve | 17.24 | NA | 9.76 | 1.08 | NA | 28.08 | 090
92992 |  | C | Revision of heart chamber | 0.00 | 0.00 | 0.00 | 0.00 | 0.00 | 0.00 | 090
92993 |  | C | Revision of heart chamber | 0.00 | 0.00 | 0.00 | 0.00 | 0.00 | 0.00 | 090
92995 |  | A | Coronary atherectomy | 12.02 | NA | 5.04 | 0.70 | NA | 17.76 | 000
92996 |  | A | Coronary atherectomy add-on | 3.24 | NA | 1.29 | 0.19 | NA | 4.72 | ZZZ
92997 |  | A | Pul art balloon repr, percut | 11.93 | NA | 4.89 | 0.76 | NA | 17.58 | 000
92998 |  | A | Pul art balloon repr, percut | 5.97 | NA | 2.23 | 0.37 | NA | 8.57 | ZZZ
93000 |  | A | Electrocardiogram, complete | 0.17 | 0.51 | NA | 0.03 | 0.71 | NA | XXX
93005 |  | A | Electrocardiogram, tracing | 0.00 | 0.45 | NA | 0.02 | 0.47 | NA | XXX
93010 |  | A | Electrocardiogram report | 0.17 | 0.06 | 0.06 | 0.01 | 0.24 | 0.24 | XXX
93012 |  | A | Transmission of ecg | 0.00 | 5.96 | NA | 0.18 | 6.14 | NA | XXX
93014 |  | A | Report on transmitted ecg | 0.52 | 0.19 | 0.19 | 0.02 | 0.73 | 0.73 | XXX
93015 |  | A | Cardiovascular stress test | 0.75 | 1.96 | NA | 0.13 | 2.84 | NA | XXX
93016 |  | A | Cardiovascular stress test | 0.45 | 0.17 | 0.17 | 0.01 | 0.63 | 0.63 | XXX
93017 |  | A | Cardiovascular stress test | 0.00 | 1.67 | NA | 0.11 | 1.78 | NA | XXX
93018 |  | A | Cardiovascular stress test | 0.30 | 0.12 | 0.12 | 0.01 | 0.43 | 0.43 | XXX
93024 |  | A | Cardiac drug stress test | 1.16 | 1.57 | NA | 0.13 | 2.86 | NA | XXX
93024 | 26 | A | Cardiac drug stress test | 1.16 | 0.46 | 0.46 | 0.05 | 1.67 | 1.67 | XXX
93024 | TC | A | Cardiac drug stress test | 0.00 | 1.11 | NA | 0.08 | 1.19 | NA | XXX
93025 |  | A | Microvolt t-wave assess | 0.75 | 8.30 | NA | 0.13 | 9.18 | NA | XXX
93025 | 26 | A | Microvolt t-wave assess | 0.75 | 0.30 | 0.30 | 0.02 | 1.07 | 1.07 | XXX
93025 | TC | A | Microvolt t-wave assess | 0.00 | 8.00 | NA | 0.11 | 8.11 | NA | XXX
93040 |  | A | Rhythm ECG with report | 0.16 | 0.19 | NA | 0.02 | 0.37 | NA | XXX
93041 |  | A | Rhythm ECG, tracing | 0.00 | 0.14 | NA | 0.01 | 0.15 | NA | XXX
93042 |  | A | Rhythm ECG, report | 0.16 | 0.05 | 0.05 | 0.01 | 0.22 | 0.22 | XXX
93224 |  | A | ECG monitor/report, 24 hrs | 0.52 | 3.59 | NA | 0.24 | 4.35 | NA | XXX
93225 |  | A | ECG monitor/record, 24 hrs | 0.00 | 1.23 | NA | 0.08 | 1.31 | NA | XXX
93226 |  | A | ECG monitor/report, 24 hrs | 0.00 | 2.16 | NA | 0.14 | 2.30 | NA | XXX
93227 |  | A | ECG monitor/review, 24 hrs | 0.52 | 0.20 | 0.20 | 0.02 | 0.74 | 0.74 | XXX
93230 |  | A | ECG monitor/report, 24 hrs | 0.52 | 3.86 | NA | 0.26 | 4.64 | NA | XXX
93231 |  | A | Ecg monitor/record, 24 hrs | 0.00 | 1.51 | NA | 0.11 | 1.62 | NA | XXX
93232 |  | A | ECG monitor/report, 24 hrs | 0.00 | 2.15 | NA | 0.13 | 2.28 | NA | XXX
93233 |  | A | ECG monitor/review, 24 hrs | 0.52 | 0.20 | 0.20 | 0.02 | 0.74 | 0.74 | XXX
93235 |  | A | ECG monitor/report, 24 hrs | 0.45 | 2.77 | NA | 0.15 | 3.37 | NA | XXX
93236 |  | A | ECG monitor/report, 24 hrs | 0.00 | 2.60 | NA | 0.14 | 2.74 | NA | XXX
93237 |  | A | ECG monitor/review, 24 hrs | 0.45 | 0.17 | 0.17 | 0.01 | 0.63 | 0.63 | XXX
93268 |  | A | ECG record/review | 0.52 | 7.38 | NA | 0.28 | 8.18 | NA | XXX
93270 |  | A | ECG recording | 0.00 | 1.23 | NA | 0.08 | 1.31 | NA | XXX
93271 |  | A | Ecg/monitoring and analysis | 0.00 | 5.96 | NA | 0.18 | 6.14 | NA | XXX
93272 |  | A | Ecg/review, interpret only | 0.52 | 0.19 | 0.19 | 0.02 | 0.73 | 0.73 | XXX
93278 |  | A | ECG/signal-averaged | 0.25 | 1.24 | NA | 0.12 | 1.61 | NA | XXX
93278 | 26 | A | ECG/signal-averaged | 0.25 | 0.10 | 0.10 | 0.01 | 0.36 | 0.36 | XXX
93278 | TC | A | ECG/signal-averaged | 0.00 | 1.14 | NA | 0.11 | 1.25 | NA | XXX
93303 |  | A | Echo transthoracic | 1.29 | 4.31 | NA | 0.28 | 5.88 | NA | XXX
93303 | 26 | A | Echo transthoracic | 1.29 | 0.49 | 0.49 | 0.05 | 1.83 | 1.83 | XXX
93303 | TC | A | Echo transthoracic | 0.00 | 3.82 | NA | 0.23 | 4.05 | NA | XXX
93304 |  | A | Echo transthoracic | 0.75 | 2.22 | NA | 0.15 | 3.12 | NA | XXX
93304 | 26 | A | Echo transthoracic | 0.75 | 0.29 | 0.29 | 0.02 | 1.06 | 1.06 | XXX
93304 | TC | A | Echo transthoracic | 0.00 | 1.93 | NA | 0.13 | 2.06 | NA | XXX
93307 |  | A | Echo exam of heart | 0.91 | 4.18 | NA | 0.27 | 5.36 | NA | XXX
93307 | 26 | A | Echo exam of heart | 0.91 | 0.36 | 0.36 | 0.04 | 1.31 | 1.31 | XXX
93307 | TC | A | Echo exam of heart | 0.00 | 3.82 | NA | 0.23 | 4.05 | NA | XXX
93308 |  | A | Echo exam of heart | 0.53 | 2.14 | NA | 0.15 | 2.82 | NA | XXX
93308 | 26 | A | Echo exam of heart | 0.53 | 0.21 | 0.21 | 0.02 | 0.76 | 0.76 | XXX
93308 | TC | A | Echo exam of heart | 0.00 | 1.93 | NA | 0.13 | 2.06 | NA | XXX
93312 |  | A | Echo transesophageal | 2.19 | 4.54 | NA | 0.39 | 7.12 | NA | XXX
93312 | 26 | A | Echo transesophageal | 2.19 | 0.79 | 0.79 | 0.10 | 3.08 | 3.08 | XXX
93312 | TC | A | Echo transesophageal | 0.00 | 3.75 | NA | 0.29 | 4.04 | NA | XXX
93313 |  | A | Echo transesophageal | 0.94 | NA | 0.21 | 0.06 | NA | 1.21 | XXX
93314 |  | A | Echo transesophageal | 1.24 | 4.23 | NA | 0.34 | 5.81 | NA | XXX
93314 | 26 | A | Echo transesophageal | 1.24 | 0.48 | 0.48 | 0.05 | 1.77 | 1.77 | XXX
93314 | TC | A | Echo transesophageal | 0.00 | 3.75 | NA | 0.29 | 4.04 | NA | XXX
93315 |  | C | Echo transesophageal | 0.00 | 0.00 | NA | 0.00 | 0.00 | NA | XXX
93315 | 26 | A | Echo transesophageal | 2.76 | 1.02 | 1.02 | 0.12 | 3.90 | 3.90 | XXX
93315 | TC | C | Echo transesophageal | 0.00 | 0.00 | NA | 0.00 | 0.00 | NA | XXX
93316 |  | A | Echo transesophageal | 0.94 | NA | 0.24 | 0.06 | NA | 1.24 | XXX
93317 |  | C | Echo transesophageal | 0.00 | 0.00 | NA | 0.00 | 0.00 | NA | XXX
93317 | 26 | A | Echo transesophageal | 1.82 | 0.67 | 0.67 | 0.07 | 2.56 | 2.56 | XXX
93317 | TC | C | Echo transesophageal | 0.00 | 0.00 | NA | 0.00 | 0.00 | NA | XXX
93318 |  | C | Echo transesophageal intraop | 0.00 | 0.00 | 0.00 | 0.00 | 0.00 | 0.00 | XXX
93318 | 26 | A | Echo transesophageal intraop | 2.19 | 0.49 | 0.49 | 0.07 | 2.75 | 2.75 | XXX
93318 | TC | C | Echo transesophageal intraop | 0.00 | 0.00 | 0.00 | 0.00 | 0.00 | 0.00 | XXX
93320 |  | A | Doppler echo exam, heart | 0.38 | 1.85 | NA | 0.13 | 2.36 | NA | ZZZ
93320 | 26 | A | Doppler echo exam, heart | 0.38 | 0.15 | 0.15 | 0.01 | 0.54 | 0.54 | ZZZ
93320 | TC | A | Doppler echo exam, heart | 0.00 | 1.70 | NA | 0.12 | 1.82 | NA | ZZZ
93321 |  | A | Doppler echo exam, heart | 0.15 | 1.16 | NA | 0.09 | 1.40 | NA | ZZZ
93321 | 26 | A | Doppler echo exam, heart | 0.15 | 0.06 | 0.06 | 0.01 | 0.22 | 0.22 | ZZZ
93321 | TC | A | Doppler echo exam, heart | 0.00 | 1.10 | NA | 0.08 | 1.18 | NA | ZZZ
93325 |  | A | Doppler color flow add-on | 0.07 | 2.91 | NA | 0.21 | 3.19 | NA | ZZZ
93325 | 26 | A | Doppler color flow add-on | 0.07 | 0.03 | 0.03 | 0.01 | 0.11 | 0.11 | ZZZ
93325 | TC | A | Doppler color flow add-on | 0.00 | 2.88 | NA | 0.20 | 3.08 | NA | ZZZ
93350 |  | A | Echo transthoracic | 1.47 | 2.33 | NA | 0.15 | 3.95 | NA | XXX
93350 | 26 | A | Echo transthoracic | 1.47 | 0.58 | 0.58 | 0.02 | 2.07 | 2.07 | XXX
93350 | TC | A | Echo transthoracic | 0.00 | 1.75 | NA | 0.13 | 1.88 | NA | XXX
93501 |  | A | Right heart catheterization | 3.00 | 17.93 | NA | 1.23 | 22.16 | NA | 000
93501 | 26 | A | Right heart catheterization | 3.00 | 1.17 | 1.17 | 0.19 | 4.36 | 4.36 | 000
93501 | TC | A | Right heart catheterization | 0.00 | 16.76 | NA | 1.04 | 17.80 | NA | 000
93503 |  | A | Insert/place heart catheter | 2.89 | NA | 0.68 | 0.19 | NA | 3.76 | 000
93505 |  | A | Biopsy of heart lining | 4.36 | 3.67 | NA | 0.44 | 8.47 | NA | 000
93505 | 26 | A | Biopsy of heart lining | 4.36 | 1.71 | 1.71 | 0.28 | 6.35 | 6.35 | 000
93505 | TC | A | Biopsy of heart lining | 0.00 | 1.96 | NA | 0.16 | 2.12 | NA | 000
93508 |  | A | Cath placement, angiography | 4.08 | 14.60 | NA | 0.90 | 19.58 | NA | 000
93508 | 26 | A | Cath placement, angiography | 4.08 | 2.11 | 2.11 | 0.25 | 6.44 | 6.44 | 000
93508 | TC | A | Cath placement, angiography | 0.00 | 12.49 | NA | 0.65 | 13.14 | NA | 000
93510 |  | A | Left heart catheterization | 4.31 | 38.84 | NA | 2.55 | 45.70 | NA | 000
93510 | 26 | A | Left heart catheterization | 4.31 | 2.20 | 2.20 | 0.26 | 6.77 | 6.77 | 000
93510 | TC | A | Left heart catheterization | 0.00 | 36.64 | NA | 2.29 | 38.93 | NA | 000
93511 |  | A | Left heart catheterization | 5.00 | 38.15 | NA | 2.53 | 45.68 | NA | 000
93511 | 26 | A | Left heart catheterization | 5.00 | 2.48 | 2.48 | 0.31 | 7.79 | 7.79 | 000
93511 | TC | A | Left heart catheterization | 0.00 | 35.67 | NA | 2.22 | 37.89 | NA | 000
93514 |  | A | Left heart catheterization | 7.01 | 38.85 | NA | 2.66 | 48.52 | NA | 000
93514 | 26 | A | Left heart catheterization | 7.01 | 3.18 | 3.18 | 0.44 | 10.63 | 10.63 | 000
93514 | TC | A | Left heart catheterization | 0.00 | 35.67 | NA | 2.22 | 37.89 | NA | 000
93524 |  | A | Left heart catheterization | 6.91 | 49.83 | NA | 3.34 | 60.08 | NA | 000
93524 | 26 | A | Left heart catheterization | 6.91 | 3.22 | 3.22 | 0.43 | 10.56 | 10.56 | 000
93524 | TC | A | Left heart catheterization | 0.00 | 46.61 | NA | 2.91 | 49.52 | NA | 000
93526 |  | A | Rt & Lt heart catheters | 5.96 | 50.74 | NA | 3.37 | 60.07 | NA | 000
93526 | 26 | A | Rt & Lt heart catheters | 5.96 | 2.86 | 2.86 | 0.37 | 9.19 | 9.19 | 000
93526 | TC | A | Rt & Lt heart catheters | 0.00 | 47.88 | NA | 3.00 | 50.88 | NA | 000
93527 |  | A | Rt & Lt heart catheters | 7.24 | 49.97 | NA | 3.37 | 60.58 | NA | 000
93527 | 26 | A | Rt & Lt heart catheters | 7.24 | 3.36 | 3.36 | 0.46 | 11.06 | 11.06 | 000
93527 | TC | A | Rt & Lt heart catheters | 0.00 | 46.61 | NA | 2.91 | 49.52 | NA | 000
93528 |  | A | Rt & Lt heart catheters | 8.95 | 50.70 | NA | 3.47 | 63.12 | NA | 000
93528 | 26 | A | Rt & Lt heart catheters | 8.95 | 4.09 | 4.09 | 0.56 | 13.60 | 13.60 | 000
93528 | TC | A | Rt & Lt heart catheters | 0.00 | 46.61 | NA | 2.91 | 49.52 | NA | 000
93529 |  | A | Rt, lt heart catheterization | 4.77 | 48.92 | NA | 3.21 | 56.90 | NA | 000
93529 | 26 | A | Rt, lt heart catheterization | 4.77 | 2.31 | 2.31 | 0.30 | 7.38 | 7.38 | 000
93529 | TC | A | Rt, lt heart catheterization | 0.00 | 46.61 | NA | 2.91 | 49.52 | NA | 000
93530 |  | A | Rt heart cath, congenital | 4.21 | 18.73 | NA | 1.33 | 24.27 | NA | 000
93530 | 26 | A | Rt heart cath, congenital | 4.21 | 1.97 | 1.97 | 0.29 | 6.47 | 6.47 | 000
93530 | TC | A | Rt heart cath, congenital | 0.00 | 16.76 | NA | 1.04 | 17.80 | NA | 000
93531 |  | A | R & l heart cath, congenital | 8.30 | 51.52 | NA | 3.55 | 63.37 | NA | 000
93531 | 26 | A | R & l heart cath, congenital | 8.30 | 3.64 | 3.64 | 0.55 | 12.49 | 12.49 | 000
93531 | TC | A | R & l heart cath, congenital | 0.00 | 47.88 | NA | 3.00 | 50.88 | NA | 000
93532 |  | A | R & l heart cath, congenital | 9.94 | 50.93 | NA | 3.53 | 64.40 | NA | 000
93532 | 26 | A | R & l heart cath, congenital | 9.94 | 4.32 | 4.32 | 0.62 | 14.88 | 14.88 | 000
93532 | TC | A | R & l heart cath, congenital | 0.00 | 46.61 | NA | 2.91 | 49.52 | NA | 000
93533 |  | A | R & l heart cath, congenital | 6.66 | 49.46 | NA | 3.43 | 59.55 | NA | 000
93533 | 26 | A | R & l heart cath, congenital | 6.66 | 2.85 | 2.85 | 0.52 | 10.03 | 10.03 | 000
93533 | TC | A | R & l heart cath, congenital | 0.00 | 46.61 | NA | 2.91 | 49.52 | NA | 000
93539 |  | A | Injection, cardiac cath | 0.40 | NA | 0.16 | 0.01 | NA | 0.57 | 000
93540 |  | A | Injection, cardiac cath | 0.43 | NA | 0.17 | 0.01 | NA | 0.61 | 000
93541 |  | A | Injection for lung angiogram | 0.29 | NA | 0.11 | 0.01 | NA | 0.41 | 000
93542 |  | A | Injection for heart x-rays | 0.29 | NA | 0.11 | 0.01 | NA | 0.41 | 000
93543 |  | A | Injection for heart x-rays | 0.29 | NA | 0.12 | 0.01 | NA | 0.42 | 000
93544 |  | A | Injection for aortography | 0.25 | NA | 0.10 | 0.01 | NA | 0.36 | 000
93545 |  | A | Inject for coronary x-rays | 0.40 | NA | 0.16 | 0.01 | NA | 0.57 | 000
93555 |  | A | Imaging, cardiac cath | 0.81 | 6.54 | NA | 0.38 | 7.73 | NA | XXX
93555 | 26 | A | Imaging, cardiac cath | 0.81 | 0.32 | 0.32 | 0.04 | 1.17 | 1.17 | XXX
93555 | TC | A | Imaging, cardiac cath | 0.00 | 6.22 | NA | 0.34 | 6.56 | NA | XXX
93556 |  | A | Imaging, cardiac cath | 0.83 | 10.13 | NA | 0.54 | 11.50 | NA | XXX
93556 | 26 | A | Imaging, cardiac cath | 0.83 | 0.33 | 0.33 | 0.04 | 1.20 | 1.20 | XXX
93556 | TC | A | Imaging, cardiac cath | 0.00 | 9.80 | NA | 0.50 | 10.30 | NA | XXX
93561 |  | A | Cardiac output measurement | 0.50 | 0.68 | NA | 0.08 | 1.26 | NA | 000
93561 | 26 | A | Cardiac output measurement | 0.50 | 0.16 | 0.16 | 0.02 | 0.68 | 0.68 | 000
93561 | TC | A | Cardiac output measurement | 0.00 | 0.52 | NA | 0.06 | 0.58 | NA | 000
93562 |  | A | Cardiac output measurement | 0.16 | 0.37 | NA | 0.05 | 0.58 | NA | 000
93562 | 26 | A | Cardiac output measurement | 0.16 | 0.05 | 0.05 | 0.01 | 0.22 | 0.22 | 000
93562 | TC | A | Cardiac output measurement | 0.00 | 0.32 | NA | 0.04 | 0.36 | NA | 000
93571 |  | A | Heart flow reserve measure | 1.79 | 5.20 | NA | 0.37 | 7.36 | NA | ZZZ
93571 | 26 | A | Heart flow reserve measure | 1.79 | 0.68 | 0.68 | 0.13 | 2.60 | 2.60 | ZZZ
93571 | TC | A | Heart flow reserve measure | 0.00 | 4.52 | NA | 0.24 | 4.76 | NA | ZZZ
93572 |  | A | Heart flow reserve measure | 1.43 | 2.77 | NA | 0.33 | 4.53 | NA | ZZZ
93572 | 26 | A | Heart flow reserve measure | 1.43 | 0.50 | 0.50 | 0.20 | 2.13 | 2.13 | ZZZ
93572 | TC | A | Heart flow reserve measure | 0.00 | 2.27 | NA | 0.13 | 2.40 | NA | ZZZ
93580 |  | A | Transcath closure of asd | 17.90 | NA | 7.27 | 1.37 | NA | 26.54 | 000
93581 |  | A | Transcath closure of vsd | 24.29 | NA | 9.74 | 1.37 | NA | 35.40 | 000
93600 |  | A | Bundle of His recording | 2.11 | 2.77 | NA | 0.26 | 5.14 | NA | 000
93600 | 26 | A | Bundle of His recording | 2.11 | 0.84 | 0.84 | 0.13 | 3.08 | 3.08 | 000
93600 | TC | A | Bundle of His recording | 0.00 | 1.93 | NA | 0.13 | 2.06 | NA | 000
93602 |  | A | Intra-atrial recording | 2.11 | 1.93 | NA | 0.21 | 4.25 | NA | 000
93602 | 26 | A | Intra-atrial recording | 2.11 | 0.83 | 0.83 | 0.14 | 3.08 | 3.08 | 000
93602 | TC | A | Intra-atrial recording | 0.00 | 1.10 | NA | 0.07 | 1.17 | NA | 000
93603 |  | A | Right ventricular recording | 2.11 | 2.49 | NA | 0.24 | 4.84 | NA | 000
93603 | 26 | A | Right ventricular recording | 2.11 | 0.82 | 0.82 | 0.13 | 3.06 | 3.06 | 000
93603 | TC | A | Right ventricular recording | 0.00 | 1.67 | NA | 0.11 | 1.78 | NA | 000
93609 |  | A | Map tachycardia, add-on | 4.97 | 4.66 | NA | 0.79 | 10.42 | NA | ZZZ
93609 | 26 | A | Map tachycardia, add-on | 4.97 | 1.97 | 1.97 | 0.62 | 7.56 | 7.56 | ZZZ
93609 | TC | A | Map tachycardia, add-on | 0.00 | 2.69 | NA | 0.17 | 2.86 | NA | ZZZ
93610 |  | A | Intra-atrial pacing | 3.00 | 2.51 | NA | 0.30 | 5.81 | NA | 000
93610 | 26 | A | Intra-atrial pacing | 3.00 | 1.17 | 1.17 | 0.20 | 4.37 | 4.37 | 000
93610 | TC | A | Intra-atrial pacing | 0.00 | 1.34 | NA | 0.10 | 1.44 | NA | 000
93612 |  | A | Intraventricular pacing | 3.00 | 2.77 | NA | 0.31 | 6.08 | NA | 000
93612 | 26 | A | Intraventricular pacing | 3.00 | 1.17 | 1.17 | 0.20 | 4.37 | 4.37 | 000
93612 | TC | A | Intraventricular pacing | 0.00 | 1.60 | NA | 0.11 | 1.71 | NA | 000
93613 |  | A | Electrophys map 3d, add-on | 6.96 | NA | 2.80 | 0.62 | NA | 10.38 | ZZZ
93615 |  | A | Esophageal recording | 0.98 | 0.59 | NA | 0.06 | 1.63 | NA | 000
93615 | 26 | A | Esophageal recording | 0.98 | 0.27 | 0.27 | 0.04 | 1.29 | 1.29 | 000
93615 | TC | A | Esophageal recording | 0.00 | 0.32 | NA | 0.02 | 0.34 | NA | 000
93616 |  | A | Esophageal recording | 1.48 | 0.76 | NA | 0.09 | 2.33 | NA | 000
93616 | 26 | A | Esophageal recording | 1.48 | 0.44 | 0.44 | 0.07 | 1.99 | 1.99 | 000
93616 | TC | A | Esophageal recording | 0.00 | 0.32 | NA | 0.02 | 0.34 | NA | 000
93618 |  | A | Heart rhythm pacing | 4.24 | 5.62 | NA | 0.50 | 10.36 | NA | 000
93618 | 26 | A | Heart rhythm pacing | 4.24 | 1.69 | 1.69 | 0.26 | 6.19 | 6.19 | 000
93618 | TC | A | Heart rhythm pacing | 0.00 | 3.93 | NA | 0.24 | 4.17 | NA | 000
93619 |  | A | Electrophysiology evaluation | 7.28 | 10.86 | NA | 0.93 | 19.07 | NA | 000
93619 | 26 | A | Electrophysiology evaluation | 7.28 | 3.22 | 3.22 | 0.46 | 10.96 | 10.96 | 000
93619 | TC | A | Electrophysiology evaluation | 0.00 | 7.64 | NA | 0.47 | 8.11 | NA | 000
93620 |  | C | Electrophysiology evaluation | 0.00 | 0.00 | NA | 0.00 | 0.00 | NA | 000
93620 | 26 | A | Electrophysiology evaluation | 11.52 | 4.91 | 4.91 | 0.72 | 17.15 | 17.15 | 000
93620 | TC | C | Electrophysiology evaluation | 0.00 | 0.00 | NA | 0.00 | 0.00 | NA | 000
93621 |  | C | Electrophysiology evaluation | 0.00 | 0.00 | 0.00 | 0.00 | 0.00 | 0.00 | ZZZ
93621 | 26 | A | Electrophysiology evaluation | 2.09 | 0.83 | 0.83 | 0.18 | 3.10 | 3.10 | ZZZ
93621 | TC | C | Electrophysiology evaluation | 0.00 | 0.00 | 0.00 | 0.00 | 0.00 | 0.00 | ZZZ
93622 |  | C | Electrophysiology evaluation | 0.00 | 0.00 | 0.00 | 0.00 | 0.00 | 0.00 | ZZZ
93622 | 26 | A | Electrophysiology evaluation | 3.08 | 1.22 | 1.22 | 0.80 | 5.10 | 5.10 | ZZZ
93622 | TC | C | Electrophysiology evaluation | 0.00 | 0.00 | 0.00 | 0.00 | 0.00 | 0.00 | ZZZ
93623 |  | C | Stimulation, pacing heart | 0.00 | 0.00 | 0.00 | 0.00 | 0.00 | 0.00 | ZZZ
93623 | 26 | A | Stimulation, pacing heart | 2.83 | 1.12 | 1.12 | 0.18 | 4.13 | 4.13 | ZZZ
93623 | TC | C | Stimulation, pacing heart | 0.00 | 0.00 | 0.00 | 0.00 | 0.00 | 0.00 | ZZZ
93624 |  | A | Electrophysiologic study | 4.78 | 4.19 | NA | 0.43 | 9.40 | NA | 000
93624 | 26 | A | Electrophysiologic study | 4.78 | 2.23 | 2.23 | 0.30 | 7.31 | 7.31 | 000
93624 | TC | A | Electrophysiologic study | 0.00 | 1.96 | NA | 0.13 | 2.09 | NA | 000
93631 |  | A | Heart pacing, mapping | 7.56 | 8.87 | NA | 1.40 | 17.83 | NA | 000
93631 | 26 | A | Heart pacing, mapping | 7.56 | 2.78 | 2.78 | 0.79 | 11.13 | 11.13 | 000
93631 | TC | A | Heart pacing, mapping | 0.00 | 6.09 | NA | 0.61 | 6.70 | NA | 000
93640 |  | A | Evaluation heart device | 3.50 | 8.49 | NA | 0.64 | 12.63 | NA | 000
93640 | 26 | A | Evaluation heart device | 3.50 | 1.38 | 1.38 | 0.22 | 5.10 | 5.10 | 000
93640 | TC | A | Evaluation heart device | 0.00 | 7.11 | NA | 0.42 | 7.53 | NA | 000
93641 |  | A | Electrophysiology evaluation | 5.90 | 9.45 | NA | 0.79 | 16.14 | NA | 000
93641 | 26 | A | Electrophysiology evaluation | 5.90 | 2.34 | 2.34 | 0.37 | 8.61 | 8.61 | 000
93641 | TC | A | Electrophysiology evaluation | 0.00 | 7.11 | NA | 0.42 | 7.53 | NA | 000
93642 |  | A | Electrophysiology evaluation | 4.86 | 9.36 | NA | 0.61 | 14.83 | NA | 000
93642 | 26 | A | Electrophysiology evaluation | 4.86 | 2.25 | 2.25 | 0.19 | 7.30 | 7.30 | 000
93642 | TC | A | Electrophysiology evaluation | 0.00 | 7.11 | NA | 0.42 | 7.53 | NA | 000
93650 |  | A | Ablate heart dysrhythm focus | 10.45 | NA | 4.50 | 0.66 | NA | 15.61 | 000
93651 |  | A | Ablate heart dysrhythm focus | 16.16 | NA | 6.41 | 1.02 | NA | 23.59 | 000
93652 |  | A | Ablate heart dysrhythm focus | 17.58 | NA | 6.98 | 1.10 | NA | 25.66 | 000
93660 |  | A | Tilt table evaluation | 1.88 | 2.42 | NA | 0.09 | 4.39 | NA | 000
93660 | 26 | A | Tilt table evaluation | 1.88 | 0.75 | 0.75 | 0.07 | 2.70 | 2.70 | 000
93660 | TC | A | Tilt table evaluation | 0.00 | 1.67 | NA | 0.02 | 1.69 | NA | 000
93662 |  | C | Intracardiac ecg (ice) | 0.00 | 0.00 | 0.00 | 0.00 | 0.00 | 0.00 | ZZZ
93662 | 26 | A | Intracardiac ecg (ice) | 2.78 | 1.12 | 1.12 | 0.49 | 4.39 | 4.39 | ZZZ
93662 | TC | C | Intracardiac ecg (ice) | 0.00 | 0.00 | NA | 0.00 | 0.00 | NA | ZZZ
93668 |  | N | Peripheral vascular rehab | 0.00 | 0.00 | 0.00 | 0.00 | 0.00 | 0.00 | XXX
93701 |  | A | Bioimpedance, thoracic | 0.17 | 1.03 | NA | 0.02 | 1.22 | NA | XXX
93701 | 26 | A | Bioimpedance, thoracic | 0.17 | 0.07 | 0.07 | 0.01 | 0.25 | 0.25 | XXX
93701 | TC | A | Bioimpedance, thoracic | 0.00 | 0.96 | NA | 0.01 | 0.97 | NA | XXX
93720 |  | A | Total body plethysmography | 0.17 | 0.75 | NA | 0.07 | 0.99 | NA | XXX
93721 |  | A | Plethysmography tracing | 0.00 | 0.70 | NA | 0.06 | 0.76 | NA | XXX
93722 |  | A | Plethysmography report | 0.17 | 0.05 | 0.05 | 0.01 | 0.23 | 0.23 | XXX
93724 |  | A | Analyze pacemaker system | 4.86 | 5.86 | NA | 0.46 | 11.18 | NA | 000
93724 | 26 | A | Analyze pacemaker system | 4.86 | 1.93 | 1.93 | 0.22 | 7.01 | 7.01 | 000
93724 | TC | A | Analyze pacemaker system | 0.00 | 3.93 | NA | 0.24 | 4.17 | NA | 000
93727 |  | A | Analyze ilr system | 0.52 | 0.20 | 0.20 | 0.06 | 0.78 | 0.78 | XXX
93731 |  | A | Analyze pacemaker system | 0.45 | 0.67 | NA | 0.06 | 1.18 | NA | XXX
93731 | 26 | A | Analyze pacemaker system | 0.45 | 0.18 | 0.18 | 0.02 | 0.65 | 0.65 | XXX
93731 | TC | A | Analyze pacemaker system | 0.00 | 0.49 | NA | 0.04 | 0.53 | NA | XXX
93732 |  | A | Analyze pacemaker system | 0.91 | 0.87 | NA | 0.08 | 1.86 | NA | XXX
93732 | 26 | A | Analyze pacemaker system | 0.91 | 0.36 | 0.36 | 0.04 | 1.31 | 1.31 | XXX
93732 | TC | A | Analyze pacemaker system | 0.00 | 0.51 | NA | 0.04 | 0.55 | NA | XXX
93733 |  | A | Telephone analy, pacemaker | 0.17 | 0.78 | NA | 0.07 | 1.02 | NA | XXX
93733 | 26 | A | Telephone analy, pacemaker | 0.17 | 0.07 | 0.07 | 0.01 | 0.25 | 0.25 | XXX
93733 | TC | A | Telephone analy, pacemaker | 0.00 | 0.71 | NA | 0.06 | 0.77 | NA | XXX
93734 |  | A | Analyze pacemaker system | 0.38 | 0.50 | NA | 0.03 | 0.91 | NA | XXX
93734 | 26 | A | Analyze pacemaker system | 0.38 | 0.15 | 0.15 | 0.01 | 0.54 | 0.54 | XXX
93734 | TC | A | Analyze pacemaker system | 0.00 | 0.35 | NA | 0.02 | 0.37 | NA | XXX
93735 |  | A | Analyze pacemaker system | 0.74 | 0.73 | NA | 0.08 | 1.55 | NA | XXX
93735 | 26 | A | Analyze pacemaker system | 0.74 | 0.29 | 0.29 | 0.04 | 1.07 | 1.07 | XXX
93735 | TC | A | Analyze pacemaker system | 0.00 | 0.44 | NA | 0.04 | 0.48 | NA | XXX
93736 |  | A | Telephonic analy, pacemaker | 0.15 | 0.69 | NA | 0.07 | 0.91 | NA | XXX
93736 | 26 | A | Telephonic analy, pacemaker | 0.15 | 0.06 | 0.06 | 0.01 | 0.22 | 0.22 | XXX
93736 | TC | A | Telephonic analy, pacemaker | 0.00 | 0.63 | NA | 0.06 | 0.69 | NA | XXX
93740 |  | B | Temperature gradient studies | +0.16 | 0.19 | NA | 0.02 | 0.37 | NA | XXX
93740 | 26 | B | Temperature gradient studies | +0.16 | 0.04 | 0.04 | 0.01 | 0.21 | 0.21 | XXX
93740 | TC | B | Temperature gradient studies | +0.00 | 0.15 | NA | 0.01 | 0.16 | NA | XXX
93741 |  | A | Analyze ht pace device sngl | 0.80 | 0.98 | NA | 0.06 | 1.84 | NA | XXX
93741 | 26 | A | Analyze ht pace device sngl | 0.80 | 0.32 | 0.32 | 0.02 | 1.14 | 1.14 | XXX
93741 | TC | A | Analyze ht pace device sngl | 0.00 | 0.66 | NA | 0.04 | 0.70 | NA | XXX
93742 |  | A | Analyze ht pace device sngl | 0.90 | 1.02 | NA | 0.06 | 1.98 | NA | XXX
93742 | 26 | A | Analyze ht pace device sngl | 0.90 | 0.36 | 0.36 | 0.02 | 1.28 | 1.28 | XXX
93742 | TC | A | Analyze ht pace device sngl | 0.00 | 0.66 | NA | 0.04 | 0.70 | NA | XXX
93743 |  | A | Analyze ht pace device dual | 1.02 | 1.13 | NA | 0.08 | 2.23 | NA | XXX
93743 | 26 | A | Analyze ht pace device dual | 1.02 | 0.41 | 0.41 | 0.04 | 1.47 | 1.47 | XXX
93743 | TC | A | Analyze ht pace device dual | 0.00 | 0.72 | NA | 0.04 | 0.76 | NA | XXX
93744 |  | A | Analyze ht pace device dual | 1.17 | 1.13 | NA | 0.08 | 2.38 | NA | XXX
93744 | 26 | A | Analyze ht pace device dual | 1.17 | 0.47 | 0.47 | 0.04 | 1.68 | 1.68 | XXX
93744 | TC | A | Analyze ht pace device dual | 0.00 | 0.66 | NA | 0.04 | 0.70 | NA | XXX
93760 |  | N | Cephalic thermogram | 0.00 | 0.00 | 0.00 | 0.00 | 0.00 | 0.00 | XXX
93762 |  | N | Peripheral thermogram | 0.00 | 0.00 | 0.00 | 0.00 | 0.00 | 0.00 | XXX
93770 |  | B | Measure venous pressure | +0.16 | 0.08 | NA | 0.02 | 0.26 | NA | XXX
93770 | 26 | B | Measure venous pressure | +0.16 | 0.05 | 0.05 | 0.01 | 0.22 | 0.22 | XXX
93770 | TC | B | Measure venous pressure | +0.00 | 0.03 | NA | 0.01 | 0.04 | NA | XXX
93784 |  | A | Ambulatory BP monitoring | 0.17 | 0.97 | 0.97 | 0.02 | 1.16 | 1.16 | XXX
93786 |  | A | Ambulatory BP recording | 0.00 | 0.90 | NA | 0.01 | 0.91 | NA | XXX
93788 |  | A | Ambulatory BP analysis | 0.00 | 0.51 | NA | 0.01 | 0.52 | NA | XXX
93790 |  | A | Review/report BP recording | 0.17 | 0.06 | 0.06 | 0.01 | 0.24 | 0.24 | XXX
93797 |  | A | Cardiac rehab | 0.18 | 0.39 | 0.07 | 0.01 | 0.58 | 0.26 | 000
93798 |  | A | Cardiac rehab/monitor | 0.28 | 0.51 | 0.11 | 0.01 | 0.80 | 0.40 | 000
93799 |  | C | Cardiovascular procedure | 0.00 | 0.00 | 0.00 | 0.00 | 0.00 | 0.00 | XXX
93799 | 26 | C | Cardiovascular procedure | 0.00 | 0.00 | 0.00 | 0.00 | 0.00 | 0.00 | XXX
93799 | TC | C | Cardiovascular procedure | 0.00 | 0.00 | 0.00 | 0.00 | 0.00 | 0.00 | XXX
93875 |  | A | Extracranial study | 0.22 | 1.67 | NA | 0.12 | 2.01 | NA | XXX
93875 | 26 | A | Extracranial study | 0.22 | 0.08 | 0.08 | 0.01 | 0.31 | 0.31 | XXX
93875 | TC | A | Extracranial study | 0.00 | 1.59 | NA | 0.11 | 1.70 | NA | XXX
93880 |  | A | Extracranial study | 0.60 | 4.20 | NA | 0.40 | 5.20 | NA | XXX
93880 | 26 | A | Extracranial study | 0.60 | 0.21 | 0.21 | 0.05 | 0.86 | 0.86 | XXX
93880 | TC | A | Extracranial study | 0.00 | 3.99 | NA | 0.35 | 4.34 | NA | XXX
93882 |  | A | Extracranial study | 0.40 | 3.02 | NA | 0.27 | 3.69 | NA | XXX
93882 | 26 | A | Extracranial study | 0.40 | 0.14 | 0.14 | 0.05 | 0.59 | 0.59 | XXX
93882 | TC | A | Extracranial study | 0.00 | 2.88 | NA | 0.22 | 3.10 | NA | XXX
93886 |  | A | Intracranial study | 0.93 | 4.51 | NA | 0.44 | 5.88 | NA | XXX
93886 | 26 | A | Intracranial study | 0.93 | 0.38 | 0.38 | 0.06 | 1.37 | 1.37 | XXX
93886 | TC | A | Intracranial study | 0.00 | 4.13 | NA | 0.38 | 4.51 | NA | XXX
93888 |  | A | Intracranial study | 0.62 | 3.06 | NA | 0.31 | 3.99 | NA | XXX
93888 | 26 | A | Intracranial study | 0.62 | 0.23 | 0.23 | 0.05 | 0.90 | 0.90 | XXX
93888 | TC | A | Intracranial study | 0.00 | 2.83 | NA | 0.26 | 3.09 | NA | XXX
93922 |  | A | Extremity study | 0.25 | 1.94 | NA | 0.15 | 2.34 | NA | XXX
93922 | 26 | A | Extremity study | 0.25 | 0.09 | 0.09 | 0.02 | 0.36 | 0.36 | XXX
93922 | TC | A | Extremity study | 0.00 | 1.85 | NA | 0.13 | 1.98 | NA | XXX
93923 |  | A | Extremity study | 0.45 | 3.03 | NA | 0.27 | 3.75 | NA | XXX
93923 | 26 | A | Extremity study | 0.45 | 0.16 | 0.16 | 0.05 | 0.66 | 0.66 | XXX
93923 | TC | A | Extremity study | 0.00 | 2.87 | NA | 0.22 | 3.09 | NA | XXX
93924 |  | A | Extremity study | 0.50 | 3.78 | NA | 0.31 | 4.59 | NA | XXX
93924 | 26 | A | Extremity study | 0.50 | 0.17 | 0.17 | 0.06 | 0.73 | 0.73 | XXX
93924 | TC | A | Extremity study | 0.00 | 3.61 | NA | 0.25 | 3.86 | NA | XXX
93925 |  | A | Lower extremity study | 0.58 | 4.90 | NA | 0.40 | 5.88 | NA | XXX
93925 | 26 | A | Lower extremity study | 0.58 | 0.20 | 0.20 | 0.05 | 0.83 | 0.83 | XXX
93925 | TC | A | Lower extremity study | 0.00 | 4.70 | NA | 0.35 | 5.05 | NA | XXX
93926 |  | A | Lower extremity study | 0.39 | 3.49 | NA | 0.27 | 4.15 | NA | XXX
93926 | 26 | A | Lower extremity study | 0.39 | 0.13 | 0.13 | 0.04 | 0.56 | 0.56 | XXX
93926 | TC | A | Lower extremity study | 0.00 | 3.36 | NA | 0.23 | 3.59 | NA | XXX
93930 |  | A | Upper extremity study | 0.46 | 3.89 | NA | 0.41 | 4.76 | NA | XXX
93930 | 26 | A | Upper extremity study | 0.46 | 0.16 | 0.16 | 0.04 | 0.66 | 0.66 | XXX
93930 | TC | A | Upper extremity study | 0.00 | 3.73 | NA | 0.37 | 4.10 | NA | XXX
93931 |  | A | Upper extremity study | 0.31 | 2.84 | NA | 0.26 | 3.41 | NA | XXX
93931 | 26 | A | Upper extremity study | 0.31 | 0.11 | 0.11 | 0.02 | 0.44 | 0.44 | XXX
93931 | TC | A | Upper extremity study | 0.00 | 2.73 | NA | 0.24 | 2.97 | NA | XXX
93965 |  | A | Extremity study | 0.35 | 1.87 | NA | 0.14 | 2.36 | NA | XXX
93965 | 26 | A | Extremity study | 0.35 | 0.12 | 0.12 | 0.02 | 0.49 | 0.49 | XXX
93965 | TC | A | Extremity study | 0.00 | 1.75 | NA | 0.12 | 1.87 | NA | XXX
93970 |  | A | Extremity study | 0.68 | 3.98 | NA | 0.46 | 5.12 | NA | XXX
93970 | 26 | A | Extremity study | 0.68 | 0.23 | 0.23 | 0.06 | 0.97 | 0.97 | XXX
93970 | TC | A | Extremity study | 0.00 | 3.75 | NA | 0.40 | 4.15 | NA | XXX
93971 |  | A | Extremity study | 0.45 | 2.87 | NA | 0.30 | 3.62 | NA | XXX
93971 | 26 | A | Extremity study | 0.45 | 0.15 | 0.15 | 0.04 | 0.64 | 0.64 | XXX
93971 | TC | A | Extremity study | 0.00 | 2.72 | NA | 0.26 | 2.98 | NA | XXX
93975 |  | A | Vascular study | 1.79 | 5.86 | NA | 0.56 | 8.21 | NA | XXX
93975 | 26 | A | Vascular study | 1.79 | 0.61 | 0.61 | 0.13 | 2.53 | 2.53 | XXX
93975 | TC | A | Vascular study | 0.00 | 5.25 | NA | 0.43 | 5.68 | NA | XXX
93976 |  | A | Vascular study | 1.20 | 3.48 | NA | 0.37 | 5.05 | NA | XXX
93976 | 26 | A | Vascular study | 1.20 | 0.41 | 0.41 | 0.07 | 1.68 | 1.68 | XXX
93976 | TC | A | Vascular study | 0.00 | 3.07 | NA | 0.30 | 3.37 | NA | XXX
93978 |  | A | Vascular study | 0.65 | 3.60 | NA | 0.43 | 4.68 | NA | XXX
93978 | 26 | A | Vascular study | 0.65 | 0.22 | 0.22 | 0.06 | 0.93 | 0.93 | XXX
93978 | TC | A | Vascular study | 0.00 | 3.38 | NA | 0.37 | 3.75 | NA | XXX
93979 |  | A | Vascular study | 0.44 | 2.67 | NA | 0.29 | 3.40 | NA | XXX
93979 | 26 | A | Vascular study | 0.44 | 0.16 | 0.16 | 0.05 | 0.65 | 0.65 | XXX
93979 | TC | A | Vascular study | 0.00 | 2.51 | NA | 0.24 | 2.75 | NA | XXX
93980 |  | A | Penile vascular study | 1.24 | 4.84 | NA | 0.42 | 6.50 | NA | XXX
93980 | 26 | A | Penile vascular study | 1.24 | 0.42 | 0.42 | 0.08 | 1.74 | 1.74 | XXX
93980 | TC | A | Penile vascular study | 0.00 | 4.42 | NA | 0.34 | 4.76 | NA | XXX
93981 |  | A | Penile vascular study | 0.44 | 4.66 | NA | 0.33 | 5.43 | NA | XXX
93981 | 26 | A | Penile vascular study | 0.44 | 0.15 | 0.15 | 0.02 | 0.61 | 0.61 | XXX
93981 | TC | A | Penile vascular study | 0.00 | 4.51 | NA | 0.31 | 4.82 | NA | XXX
93990 |  | A | Doppler flow testing | 0.25 | 3.41 | NA | 0.25 | 3.91 | NA | XXX
93990 | 26 | A | Doppler flow testing | 0.25 | 0.09 | 0.09 | 0.02 | 0.36 | 0.36 | XXX
93990 | TC | A | Doppler flow testing | 0.00 | 3.32 | NA | 0.23 | 3.55 | NA | XXX
94010 |  | A | Breathing capacity test | 0.17 | 0.69 | NA | 0.03 | 0.89 | NA | XXX
94010 | 26 | A | Breathing capacity test | 0.17 | 0.05 | 0.05 | 0.01 | 0.23 | 0.23 | XXX
94010 | TC | A | Breathing capacity test | 0.00 | 0.64 | NA | 0.02 | 0.66 | NA | XXX
94014 |  | A | Patient recorded spirometry | 0.52 | 0.78 | NA | 0.03 | 1.33 | NA | XXX
94015 |  | A | Patient recorded spirometry | 0.00 | 0.61 | NA | 0.01 | 0.62 | NA | XXX
94016 |  | A | Review patient spirometry | 0.52 | 0.17 | 0.17 | 0.02 | 0.71 | 0.71 | XXX
94060 |  | A | Evaluation of wheezing | 0.31 | 1.14 | NA | 0.07 | 1.52 | NA | XXX
94060 | 26 | A | Evaluation of wheezing | 0.31 | 0.10 | 0.10 | 0.01 | 0.42 | 0.42 | XXX
94060 | TC | A | Evaluation of wheezing | 0.00 | 1.04 | NA | 0.06 | 1.10 | NA | XXX
94070 |  | A | Evaluation of wheezing | 0.60 | 3.05 | NA | 0.12 | 3.77 | NA | XXX
94070 | 26 | A | Evaluation of wheezing | 0.60 | 0.19 | 0.19 | 0.02 | 0.81 | 0.81 | XXX
94070 | TC | A | Evaluation of wheezing | 0.00 | 2.86 | NA | 0.10 | 2.96 | NA | XXX
94150 |  | B | Vital capacity test | +0.07 | 0.49 | NA | 0.02 | 0.58 | NA | XXX
94150 | 26 | B | Vital capacity test | +0.07 | 0.03 | 0.03 | 0.01 | 0.11 | 0.11 | XXX
94150 | TC | B | Vital capacity test | +0.00 | 0.46 | NA | 0.01 | 0.47 | NA | XXX
94200 |  | A | Lung function test (MBC/MVV) | 0.11 | 0.45 | NA | 0.03 | 0.59 | NA | XXX
94200 | 26 | A | Lung function test (MBC/MVV) | 0.11 | 0.03 | 0.03 | 0.01 | 0.15 | 0.15 | XXX
94200 | TC | A | Lung function test (MBC/MVV) | 0.00 | 0.42 | NA | 0.02 | 0.44 | NA | XXX
94240 |  | A | Residual lung capacity | 0.26 | 0.67 | NA | 0.06 | 0.99 | NA | XXX
94240 | 26 | A | Residual lung capacity | 0.26 | 0.08 | 0.08 | 0.01 | 0.35 | 0.35 | XXX
94240 | TC | A | Residual lung capacity | 0.00 | 0.59 | NA | 0.05 | 0.64 | NA | XXX
94250 |  | A | Expired gas collection | 0.11 | 0.67 | NA | 0.02 | 0.80 | NA | XXX
94250 | 26 | A | Expired gas collection | 0.11 | 0.03 | 0.03 | 0.01 | 0.15 | 0.15 | XXX
94250 | TC | A | Expired gas collection | 0.00 | 0.64 | NA | 0.01 | 0.65 | NA | XXX
94260 |  | A | Thoracic gas volume | 0.13 | 0.59 | NA | 0.05 | 0.77 | NA | XXX
94260 | 26 | A | Thoracic gas volume | 0.13 | 0.04 | 0.04 | 0.01 | 0.18 | 0.18 | XXX
94260 | TC | A | Thoracic gas volume | 0.00 | 0.55 | NA | 0.04 | 0.59 | NA | XXX
94350 |  | A | Lung nitrogen washout curve | 0.26 | 0.76 | NA | 0.05 | 1.07 | NA | XXX
94350 | 26 | A | Lung nitrogen washout curve | 0.26 | 0.08 | 0.08 | 0.01 | 0.35 | 0.35 | XXX
94350 | TC | A | Lung nitrogen washout curve | 0.00 | 0.68 | NA | 0.04 | 0.72 | NA | XXX
94360 |  | A | Measure airflow resistance | 0.26 | 0.71 | NA | 0.07 | 1.04 | NA | XXX
94360 | 26 | A | Measure airflow resistance | 0.26 | 0.08 | 0.08 | 0.01 | 0.35 | 0.35 | XXX
94360 | TC | A | Measure airflow resistance | 0.00 | 0.63 | NA | 0.06 | 0.69 | NA | XXX
94370 |  | A | Breath airway closing volume | 0.26 | 0.73 | NA | 0.03 | 1.02 | NA | XXX
94370 | 26 | A | Breath airway closing volume | 0.26 | 0.08 | 0.08 | 0.01 | 0.35 | 0.35 | XXX
94370 | TC | A | Breath airway closing volume | 0.00 | 0.65 | NA | 0.02 | 0.67 | NA | XXX
94375 |  | A | Respiratory flow volume loop | 0.31 | 0.63 | NA | 0.03 | 0.97 | NA | XXX
94375 | 26 | A | Respiratory flow volume loop | 0.31 | 0.10 | 0.10 | 0.01 | 0.42 | 0.42 | XXX
94375 | TC | A | Respiratory flow volume loop | 0.00 | 0.53 | NA | 0.02 | 0.55 | NA | XXX
94400 |  | A | CO2 breathing response curve | 0.40 | 0.85 | NA | 0.07 | 1.32 | NA | XXX
94400 | 26 | A | CO2 breathing response curve | 0.40 | 0.13 | 0.13 | 0.01 | 0.54 | 0.54 | XXX
94400 | TC | A | CO2 breathing response curve | 0.00 | 0.72 | NA | 0.06 | 0.78 | NA | XXX
94450 |  | A | Hypoxia response curve | 0.40 | 0.69 | NA | 0.04 | 1.13 | NA | XXX
94450 | 26 | A | Hypoxia response curve | 0.40 | 0.12 | 0.12 | 0.02 | 0.54 | 0.54 | XXX
94450 | TC | A | Hypoxia response curve | 0.00 | 0.57 | NA | 0.02 | 0.59 | NA | XXX
94620 |  | A | Pulmonary stress test/simple | 0.64 | 2.45 | NA | 0.12 | 3.21 | NA | XXX
94620 | 26 | A | Pulmonary stress test/simple | 0.64 | 0.20 | 0.20 | 0.02 | 0.86 | 0.86 | XXX
94620 | TC | A | Pulmonary stress test/simple | 0.00 | 2.25 | NA | 0.10 | 2.35 | NA | XXX
94621 |  | A | Pulm stress test/complex | 1.41 | 2.10 | NA | 0.16 | 3.67 | NA | XXX
94621 | 26 | A | Pulm stress test/complex | 1.41 | 0.44 | 0.44 | 0.06 | 1.91 | 1.91 | XXX
94621 | TC | A | Pulm stress test/complex | 0.00 | 1.66 | NA | 0.10 | 1.76 | NA | XXX
94640 |  | A | Airway inhalation treatment | 0.00 | 0.32 | NA | 0.02 | 0.34 | NA | XXX
94642 |  | C | Aerosol inhalation treatment | 0.00 | 0.00 | 0.00 | 0.00 | 0.00 | 0.00 | XXX
94656 |  | A | Initial ventilator mgmt | 1.21 | 1.21 | 0.32 | 0.07 | 2.49 | 1.60 | XXX
94657 |  | A | Continued ventilator mgmt | 0.83 | 1.02 | 0.25 | 0.04 | 1.89 | 1.12 | XXX
94660 |  | A | Pos airway pressure, CPAP | 0.76 | 0.67 | 0.24 | 0.04 | 1.47 | 1.04 | XXX
94662 |  | A | Neg press ventilation, cnp | 0.76 | NA | 0.24 | 0.02 | NA | 1.02 | XXX
94664 |  | A | Evaluate pt use of inhaler | 0.00 | 0.33 | NA | 0.04 | 0.37 | NA | XXX
94667 |  | A | Chest wall manipulation | 0.00 | 0.57 | NA | 0.05 | 0.62 | NA | XXX
94668 |  | A | Chest wall manipulation | 0.00 | 0.48 | NA | 0.02 | 0.50 | NA | XXX
94680 |  | A | Exhaled air analysis, o2 | 0.26 | 1.93 | NA | 0.07 | 2.26 | NA | XXX
94680 | 26 | A | Exhaled air analysis, o2 | 0.26 | 0.08 | 0.08 | 0.01 | 0.35 | 0.35 | XXX
94680 | TC | A | Exhaled air analysis, o2 | 0.00 | 1.85 | NA | 0.06 | 1.91 | NA | XXX
94681 |  | A | Exhaled air analysis, o2/co2 | 0.20 | 2.66 | NA | 0.13 | 2.99 | NA | XXX
94681 | 26 | A | Exhaled air analysis, o2/co2 | 0.20 | 0.07 | 0.07 | 0.01 | 0.28 | 0.28 | XXX
94681 | TC | A | Exhaled air analysis, o2/co2 | 0.00 | 2.59 | NA | 0.12 | 2.71 | NA | XXX
94690 |  | A | Exhaled air analysis | 0.07 | 2.01 | NA | 0.05 | 2.13 | NA | XXX
94690 | 26 | A | Exhaled air analysis | 0.07 | 0.02 | 0.02 | 0.01 | 0.10 | 0.10 | XXX
94690 | TC | A | Exhaled air analysis | 0.00 | 1.99 | NA | 0.04 | 2.03 | NA | XXX
94720 |  | A | Monoxide diffusing capacity | 0.26 | 1.01 | NA | 0.07 | 1.34 | NA | XXX
94720 | 26 | A | Monoxide diffusing capacity | 0.26 | 0.08 | 0.08 | 0.01 | 0.35 | 0.35 | XXX
94720 | TC | A | Monoxide diffusing capacity | 0.00 | 0.93 | NA | 0.06 | 0.99 | NA | XXX
94725 |  | A | Membrane diffusion capacity | 0.26 | 3.00 | NA | 0.13 | 3.39 | NA | XXX
94725 | 26 | A | Membrane diffusion capacity | 0.26 | 0.08 | 0.08 | 0.01 | 0.35 | 0.35 | XXX
94725 | TC | A | Membrane diffusion capacity | 0.00 | 2.92 | NA | 0.12 | 3.04 | NA | XXX
94750 |  | A | Pulmonary compliance study | 0.23 | 1.38 | NA | 0.05 | 1.66 | NA | XXX
94750 | 26 | A | Pulmonary compliance study | 0.23 | 0.07 | 0.07 | 0.01 | 0.31 | 0.31 | XXX
94750 | TC | A | Pulmonary compliance study | 0.00 | 1.31 | NA | 0.04 | 1.35 | NA | XXX
94760 |  | T | Measure blood oxygen level | 0.00 | 0.04 | NA | 0.02 | 0.06 | NA | XXX
94761 |  | T | Measure blood oxygen level | 0.00 | 0.07 | NA | 0.06 | 0.13 | NA | XXX
94762 |  | A | Measure blood oxygen level | 0.00 | 0.41 | NA | 0.10 | 0.51 | NA | XXX
94770 |  | A | Exhaled carbon dioxide test | 0.15 | 1.70 | NA | 0.08 | 1.93 | NA | XXX
94770 | 26 | A | Exhaled carbon dioxide test | 0.15 | 0.04 | 0.04 | 0.01 | 0.20 | 0.20 | XXX
94770 | TC | A | Exhaled carbon dioxide test | 0.00 | 1.66 | NA | 0.07 | 1.73 | NA | XXX
94772 |  | C | Breath recording, infant | 0.00 | 0.00 | 0.00 | 0.00 | 0.00 | 0.00 | XXX
94772 | 26 | C | Breath recording, infant | 0.00 | 0.00 | 0.00 | 0.00 | 0.00 | 0.00 | XXX
94772 | TC | C | Breath recording, infant | 0.00 | 0.00 | 0.00 | 0.00 | 0.00 | 0.00 | XXX
94799 |  | C | Pulmonary service/procedure | 0.00 | 0.00 | 0.00 | 0.00 | 0.00 | 0.00 | XXX
94799 | 26 | C | Pulmonary service/procedure | 0.00 | 0.00 | 0.00 | 0.00 | 0.00 | 0.00 | XXX
94799 | TC | C | Pulmonary service/procedure | 0.00 | 0.00 | 0.00 | 0.00 | 0.00 | 0.00 | XXX
95004 |  | A | Percut allergy skin tests | 0.00 | 0.10 | NA | 0.01 | 0.11 | NA | XXX
95010 |  | A | Percut allergy titrate test | 0.15 | 0.33 | 0.06 | 0.01 | 0.49 | 0.22 | XXX
95015 |  | A | Id allergy titrate-drug/bug | 0.15 | 0.15 | 0.06 | 0.01 | 0.31 | 0.22 | XXX
95024 |  | A | Id allergy test, drug/bug | 0.00 | 0.14 | NA | 0.01 | 0.15 | NA | XXX
95027 |  | A | Id allergy titrate-airborne | 0.00 | 0.14 | NA | 0.01 | 0.15 | NA | XXX
95028 |  | A | Id allergy test-delayed type | 0.00 | 0.23 | NA | 0.01 | 0.24 | NA | XXX
95044 |  | A | Allergy patch tests | 0.00 | 0.20 | NA | 0.01 | 0.21 | NA | XXX
95052 |  | A | Photo patch test | 0.00 | 0.25 | NA | 0.01 | 0.26 | NA | XXX
95056 |  | A | Photosensitivity tests | 0.00 | 0.17 | NA | 0.01 | 0.18 | NA | XXX
95060 |  | A | Eye allergy tests | 0.00 | 0.35 | NA | 0.02 | 0.37 | NA | XXX
95065 |  | A | Nose allergy test | 0.00 | 0.20 | NA | 0.01 | 0.21 | NA | XXX
95070 |  | A | Bronchial allergy tests | 0.00 | 2.26 | NA | 0.02 | 2.28 | NA | XXX
95071 |  | A | Bronchial allergy tests | 0.00 | 2.90 | NA | 0.02 | 2.92 | NA | XXX
95075 |  | A | Ingestion challenge test | 0.94 | 0.83 | 0.39 | 0.04 | 1.81 | 1.37 | XXX
95078 |  | A | Provocative testing | 0.00 | 0.25 | NA | 0.02 | 0.27 | NA | XXX
95115 |  | A | Immunotherapy, one injection | 0.00 | 0.39 | NA | 0.02 | 0.41 | NA | 000
95117 |  | A | Immunotherapy injections | 0.00 | 0.50 | NA | 0.02 | 0.52 | NA | 000
95120 |  | I | Immunotherapy, one injection | 0.00 | 0.00 | 0.00 | 0.00 | 0.00 | 0.00 | XXX
95125 |  | I | Immunotherapy, many antigens | 0.00 | 0.00 | 0.00 | 0.00 | 0.00 | 0.00 | XXX
95130 |  | I | Immunotherapy, insect venom | 0.00 | 0.00 | 0.00 | 0.00 | 0.00 | 0.00 | XXX
95131 |  | I | Immunotherapy, insect venoms | 0.00 | 0.00 | 0.00 | 0.00 | 0.00 | 0.00 | XXX
95132 |  | I | Immunotherapy, insect venoms | 0.00 | 0.00 | 0.00 | 0.00 | 0.00 | 0.00 | XXX
95133 |  | I | Immunotherapy, insect venoms | 0.00 | 0.00 | 0.00 | 0.00 | 0.00 | 0.00 | XXX
95134 |  | I | Immunotherapy, insect venoms | 0.00 | 0.00 | 0.00 | 0.00 | 0.00 | 0.00 | XXX
95144 |  | A | Antigen therapy services | 0.06 | 0.15 | 0.02 | 0.01 | 0.22 | 0.09 | 000
95145 |  | A | Antigen therapy services | 0.06 | 0.33 | 0.02 | 0.01 | 0.40 | 0.09 | 000
95146 |  | A | Antigen therapy services | 0.06 | 0.46 | 0.03 | 0.01 | 0.53 | 0.10 | 000
95147 |  | A | Antigen therapy services | 0.06 | 0.43 | 0.02 | 0.01 | 0.50 | 0.09 | 000
95148 |  | A | Antigen therapy services | 0.06 | 0.60 | 0.03 | 0.01 | 0.67 | 0.10 | 000
95149 |  | A | Antigen therapy services | 0.06 | 0.82 | 0.03 | 0.01 | 0.89 | 0.10 | 000
95165 |  | A | Antigen therapy services | 0.06 | 0.20 | 0.02 | 0.01 | 0.27 | 0.09 | 000
95170 |  | A | Antigen therapy services | 0.06 | 0.14 | 0.02 | 0.01 | 0.21 | 0.09 | 000
95180 |  | A | Rapid desensitization | 2.00 | 1.54 | 0.83 | 0.05 | 3.59 | 2.88 | 000
95199 |  | C | Allergy immunology services | 0.00 | 0.00 | 0.00 | 0.00 | 0.00 | 0.00 | 000
95250 |  | A | Glucose monitoring, cont | 0.00 | 3.89 | NA | 0.01 | 3.90 | NA | XXX
95805 |  | A | Multiple sleep latency test | 1.87 | 16.50 | NA | 0.41 | 18.78 | NA | XXX
95805 | 26 | A | Multiple sleep latency test | 1.87 | 0.66 | 0.66 | 0.07 | 2.60 | 2.60 | XXX
95805 | TC | A | Multiple sleep latency test | 0.00 | 15.84 | NA | 0.34 | 16.18 | NA | XXX
95806 |  | A | Sleep study, unattended | 1.65 | 3.88 | NA | 0.38 | 5.91 | NA | XXX
95806 | 26 | A | Sleep study, unattended | 1.65 | 0.55 | 0.55 | 0.07 | 2.27 | 2.27 | XXX
95806 | TC | A | Sleep study, unattended | 0.00 | 3.33 | NA | 0.31 | 3.64 | NA | XXX
95807 |  | A | Sleep study, attended | 1.65 | 11.91 | NA | 0.48 | 14.04 | NA | XXX
95807 | 26 | A | Sleep study, attended | 1.65 | 0.54 | 0.54 | 0.06 | 2.25 | 2.25 | XXX
95807 | TC | A | Sleep study, attended | 0.00 | 11.37 | NA | 0.42 | 11.79 | NA | XXX
95808 |  | A | Polysomnography, 1-3 | 2.63 | 13.20 | NA | 0.53 | 16.36 | NA | XXX
95808 | 26 | A | Polysomnography, 1-3 | 2.63 | 0.93 | 0.93 | 0.11 | 3.67 | 3.67 | XXX
95808 | TC | A | Polysomnography, 1-3 | 0.00 | 12.27 | NA | 0.42 | 12.69 | NA | XXX
95810 |  | A | Polysomnography, 4 or more | 3.51 | 17.30 | NA | 0.56 | 21.37 | NA | XXX
95810 | 26 | A | Polysomnography, 4 or more | 3.51 | 1.20 | 1.20 | 0.14 | 4.85 | 4.85 | XXX
95810 | TC | A | Polysomnography, 4 or more | 0.00 | 16.10 | NA | 0.42 | 16.52 | NA | XXX
95811 |  | A | Polysomnography w/cpap | 3.78 | 18.74 | NA | 0.59 | 23.11 | NA | XXX
95811 | 26 | A | Polysomnography w/cpap | 3.78 | 1.29 | 1.29 | 0.16 | 5.23 | 5.23 | XXX
95811 | TC | A | Polysomnography w/cpap | 0.00 | 17.45 | NA | 0.43 | 17.88 | NA | XXX
95812 |  | A | Eeg, 41-60 minutes | 1.07 | 3.98 | NA | 0.16 | 5.21 | NA | XXX
95812 | 26 | A | Eeg, 41-60 minutes | 1.07 | 0.46 | 0.46 | 0.05 | 1.58 | 1.58 | XXX
95812 | TC | A | Eeg, 41-60 minutes | 0.00 | 3.52 | NA | 0.11 | 3.63 | NA | XXX
95813 |  | A | Eeg, over 1 hour | 1.72 | 5.00 | NA | 0.18 | 6.90 | NA | XXX
95813 | 26 | A | Eeg, over 1 hour | 1.72 | 0.70 | 0.70 | 0.07 | 2.49 | 2.49 | XXX
95813 | TC | A | Eeg, over 1 hour | 0.00 | 4.30 | NA | 0.11 | 4.41 | NA | XXX
95816 |  | A | Eeg, awake and drowsy | 1.07 | 3.20 | NA | 0.15 | 4.42 | NA | XXX
95816 | 26 | A | Eeg, awake and drowsy | 1.07 | 0.47 | 0.47 | 0.05 | 1.59 | 1.59 | XXX
95816 | TC | A | Eeg, awake and drowsy | 0.00 | 2.73 | NA | 0.10 | 2.83 | NA | XXX
95819 |  | A | Eeg, awake and asleep | 1.07 | 3.74 | NA | 0.15 | 4.96 | NA | XXX
95819 | 26 | A | Eeg, awake and asleep | 1.07 | 0.47 | 0.47 | 0.05 | 1.59 | 1.59 | XXX
95819 | TC | A | Eeg, awake and asleep | 0.00 | 3.27 | NA | 0.10 | 3.37 | NA | XXX
95822 |  | A | Eeg, coma or sleep only | 1.07 | 4.43 | NA | 0.18 | 5.68 | NA | XXX
95822 | 26 | A | Eeg, coma or sleep only | 1.07 | 0.47 | 0.47 | 0.05 | 1.59 | 1.59 | XXX
95822 | TC | A | Eeg, coma or sleep only | 0.00 | 3.96 | NA | 0.13 | 4.09 | NA | XXX
95824 |  | C | Eeg, cerebral death only | 0.00 | 0.00 | 0.00 | 0.00 | 0.00 | 0.00 | XXX
95824 | 26 | A | Eeg, cerebral death only | 0.74 | 0.32 | 0.32 | 0.06 | 1.12 | 1.12 | XXX
95824 | TC | C | Eeg, cerebral death only | 0.00 | 0.00 | NA | 0.00 | 0.00 | NA | XXX
95827 |  | A | Eeg, all night recording | 1.07 | 2.68 | NA | 0.18 | 3.93 | NA | XXX
95827 | 26 | A | Eeg, all night recording | 1.07 | 0.41 | 0.41 | 0.04 | 1.52 | 1.52 | XXX
95827 | TC | A | Eeg, all night recording | 0.00 | 2.27 | NA | 0.14 | 2.41 | NA | XXX
95829 |  | A | Surgery electrocorticogram | 6.17 | 32.01 | NA | 0.39 | 38.57 | NA | XXX
95829 | 26 | A | Surgery electrocorticogram | 6.17 | 2.35 | 2.35 | 0.37 | 8.89 | 8.89 | XXX
95829 | TC | A | Surgery electrocorticogram | 0.00 | 29.66 | NA | 0.02 | 29.68 | NA | XXX
95830 |  | A | Insert electrodes for EEG | 1.69 | 3.42 | 0.73 | 0.08 | 5.19 | 2.50 | XXX
95831 |  | A | Limb muscle testing, manual | 0.28 | 0.35 | 0.13 | 0.01 | 0.64 | 0.42 | XXX
95832 |  | A | Hand muscle testing, manual | 0.29 | 0.26 | 0.12 | 0.01 | 0.56 | 0.42 | XXX
95833 |  | A | Body muscle testing, manual | 0.47 | 0.46 | 0.23 | 0.01 | 0.94 | 0.71 | XXX
95834 |  | A | Body muscle testing, manual | 0.60 | 0.51 | 0.28 | 0.02 | 1.13 | 0.90 | XXX
95851 |  | A | Range of motion measurements | 0.16 | 0.37 | 0.08 | 0.01 | 0.54 | 0.25 | XXX
95852 |  | A | Range of motion measurements | 0.11 | 0.26 | 0.05 | 0.01 | 0.38 | 0.17 | XXX
95857 |  | A | Tensilon test | 0.53 | 0.62 | 0.23 | 0.02 | 1.17 | 0.78 | XXX
95858 |  | A | Tensilon test & myogram | 1.55 | 1.07 | NA | 0.09 | 2.71 | NA | XXX
95858 | 26 | A | Tensilon test & myogram | 1.55 | 0.67 | 0.67 | 0.05 | 2.27 | 2.27 | XXX
95858 | TC | A | Tensilon test & myogram | 0.00 | 0.40 | NA | 0.04 | 0.44 | NA | XXX
95860 |  | A | Muscle test, one limb | 0.95 | 1.47 | NA | 0.06 | 2.48 | NA | XXX
95860 | 26 | A | Muscle test, one limb | 0.95 | 0.43 | 0.43 | 0.04 | 1.42 | 1.42 | XXX
95860 | TC | A | Muscle test, one limb | 0.00 | 1.04 | NA | 0.02 | 1.06 | NA | XXX
95861 |  | A | Muscle test, 2 limbs | 1.53 | 1.40 | NA | 0.12 | 3.05 | NA | XXX
95861 | 26 | A | Muscle test, 2 limbs | 1.53 | 0.68 | 0.68 | 0.06 | 2.27 | 2.27 | XXX
95861 | TC | A | Muscle test, 2 limbs | 0.00 | 0.72 | NA | 0.06 | 0.78 | NA | XXX
95863 |  | A | Muscle test, 3 limbs | 1.86 | 1.74 | NA | 0.13 | 3.73 | NA | XXX
95863 | 26 | A | Muscle test, 3 limbs | 1.86 | 0.81 | 0.81 | 0.07 | 2.74 | 2.74 | XXX
95863 | TC | A | Muscle test, 3 limbs | 0.00 | 0.93 | NA | 0.06 | 0.99 | NA | XXX
95864 |  | A | Muscle test, 4 limbs | 1.98 | 2.65 | NA | 0.19 | 4.82 | NA | XXX
95864 | 26 | A | Muscle test, 4 limbs | 1.98 | 0.88 | 0.88 | 0.07 | 2.93 | 2.93 | XXX
95864 | TC | A | Muscle test, 4 limbs | 0.00 | 1.77 | NA | 0.12 | 1.89 | NA | XXX
95867 |  | A | Muscle test cran nerv unilat | 0.79 | 0.93 | NA | 0.08 | 1.80 | NA | XXX
95867 | 26 | A | Muscle test cran nerv unilat | 0.79 | 0.35 | 0.35 | 0.04 | 1.18 | 1.18 | XXX
95867 | TC | A | Muscle test cran nerv unilat | 0.00 | 0.58 | NA | 0.04 | 0.62 | NA | XXX
95868 |  | A | Muscle test cran nerve bilat | 1.17 | 1.21 | NA | 0.10 | 2.48 | NA | XXX
95868 | 26 | A | Muscle test cran nerve bilat | 1.17 | 0.52 | 0.52 | 0.05 | 1.74 | 1.74 | XXX
95868 | TC | A | Muscle test cran nerve bilat | 0.00 | 0.69 | NA | 0.05 | 0.74 | NA | XXX
95869 |  | A | Muscle test, thor paraspinal | 0.37 | 0.38 | NA | 0.03 | 0.78 | NA | XXX
95869 | 26 | A | Muscle test, thor paraspinal | 0.37 | 0.17 | 0.17 | 0.01 | 0.55 | 0.55 | XXX
95869 | TC | A | Muscle test, thor paraspinal | 0.00 | 0.21 | NA | 0.02 | 0.23 | NA | XXX
95870 |  | A | Muscle test, nonparaspinal | 0.37 | 0.37 | NA | 0.03 | 0.77 | NA | XXX
95870 | 26 | A | Muscle test, nonparaspinal | 0.37 | 0.16 | 0.16 | 0.01 | 0.54 | 0.54 | XXX
95870 | TC | A | Muscle test, nonparaspinal | 0.00 | 0.21 | NA | 0.02 | 0.23 | NA | XXX
95872 |  | A | Muscle test, one fiber | 1.49 | 1.24 | NA | 0.10 | 2.83 | NA | XXX
95872 | 26 | A | Muscle test, one fiber | 1.49 | 0.64 | 0.64 | 0.05 | 2.18 | 2.18 | XXX
95872 | TC | A | Muscle test, one fiber | 0.00 | 0.60 | NA | 0.05 | 0.65 | NA | XXX
95875 |  | A | Limb exercise test | 1.09 | 1.49 | NA | 0.11 | 2.69 | NA | XXX
95875 | 26 | A | Limb exercise test | 1.09 | 0.48 | 0.48 | 0.05 | 1.62 | 1.62 | XXX
95875 | TC | A | Limb exercise test | 0.00 | 1.01 | NA | 0.06 | 1.07 | NA | XXX
95900 |  | A | Motor nerve conduction test | 0.42 | 1.30 | NA | 0.03 | 1.75 | NA | XXX
95900 | 26 | A | Motor nerve conduction test | 0.42 | 0.19 | 0.19 | 0.01 | 0.62 | 0.62 | XXX
95900 | TC | A | Motor nerve conduction test | 0.00 | 1.11 | NA | 0.02 | 1.13 | NA | XXX
95903 |  | A | Motor nerve conduction test | 0.60 | 1.22 | NA | 0.04 | 1.86 | NA | XXX
95903 | 26 | A | Motor nerve conduction test | 0.60 | 0.26 | 0.26 | 0.02 | 0.88 | 0.88 | XXX
95903 | TC | A | Motor nerve conduction test | 0.00 | 0.96 | NA | 0.02 | 0.98 | NA | XXX
95904 |  | A | Sense nerve conduction test | 0.34 | 1.12 | NA | 0.03 | 1.49 | NA | XXX
95904 | 26 | A | Sense nerve conduction test | 0.34 | 0.15 | 0.15 | 0.01 | 0.50 | 0.50 | XXX
95904 | TC | A | Sense nerve conduction test | 0.00 | 0.97 | NA | 0.02 | 0.99 | NA | XXX
95920 |  | A | Intraop nerve test add-on | 2.10 | 2.23 | NA | 0.24 | 4.57 | NA | ZZZ
95920 | 26 | A | Intraop nerve test add-on | 2.10 | 0.94 | 0.94 | 0.17 | 3.21 | 3.21 | ZZZ
95920 | TC | A | Intraop nerve test add-on | 0.00 | 1.29 | NA | 0.07 | 1.36 | NA | ZZZ
95921 |  | A | Autonomic nerv function test | 0.89 | 0.71 | NA | 0.06 | 1.66 | NA | XXX
95921 | 26 | A | Autonomic nerv function test | 0.89 | 0.33 | 0.33 | 0.04 | 1.26 | 1.26 | XXX
95921 | TC | A | Autonomic nerv function test | 0.00 | 0.38 | NA | 0.02 | 0.40 | NA | XXX
95922 |  | A | Autonomic nerv function test | 0.95 | 0.79 | NA | 0.06 | 1.80 | NA | XXX
95922 | 26 | A | Autonomic nerv function test | 0.95 | 0.41 | 0.41 | 0.04 | 1.40 | 1.40 | XXX
95922 | TC | A | Autonomic nerv function test | 0.00 | 0.38 | NA | 0.02 | 0.40 | NA | XXX
95923 |  | A | Autonomic nerv function test | 0.89 | 2.13 | NA | 0.06 | 3.08 | NA | XXX
95923 | 26 | A | Autonomic nerv function test | 0.89 | 0.38 | 0.38 | 0.04 | 1.31 | 1.31 | XXX
95923 | TC | A | Autonomic nerv function test | 0.00 | 1.75 | NA | 0.02 | 1.77 | NA | XXX
95925 |  | A | Somatosensory testing | 0.54 | 1.13 | NA | 0.08 | 1.75 | NA | XXX
95925 | 26 | A | Somatosensory testing | 0.54 | 0.23 | 0.23 | 0.02 | 0.79 | 0.79 | XXX
95925 | TC | A | Somatosensory testing | 0.00 | 0.90 | NA | 0.06 | 0.96 | NA | XXX
95926 |  | A | Somatosensory testing | 0.54 | 1.14 | NA | 0.08 | 1.76 | NA | XXX
95926 | 26 | A | Somatosensory testing | 0.54 | 0.24 | 0.24 | 0.02 | 0.80 | 0.80 | XXX
95926 | TC | A | Somatosensory testing | 0.00 | 0.90 | NA | 0.06 | 0.96 | NA | XXX
95927 |  | A | Somatosensory testing | 0.54 | 1.15 | NA | 0.10 | 1.79 | NA | XXX
95927 | 26 | A | Somatosensory testing | 0.54 | 0.25 | 0.25 | 0.04 | 0.83 | 0.83 | XXX
95927 | TC | A | Somatosensory testing | 0.00 | 0.90 | NA | 0.06 | 0.96 | NA | XXX
95930 |  | A | Visual evoked potential test | 0.35 | 1.45 | NA | 0.02 | 1.82 | NA | XXX
95930 | 26 | A | Visual evoked potential test | 0.35 | 0.15 | 0.15 | 0.01 | 0.51 | 0.51 | XXX
95930 | TC | A | Visual evoked potential test | 0.00 | 1.30 | NA | 0.01 | 1.31 | NA | XXX
95933 |  | A | Blink reflex test | 0.59 | 1.02 | NA | 0.08 | 1.69 | NA | XXX
95933 | 26 | A | Blink reflex test | 0.59 | 0.25 | 0.25 | 0.02 | 0.86 | 0.86 | XXX
95933 | TC | A | Blink reflex test | 0.00 | 0.77 | NA | 0.06 | 0.83 | NA | XXX
95934 |  | A | H-reflex test | 0.51 | 0.44 | NA | 0.04 | 0.99 | NA | XXX
95934 | 26 | A | H-reflex test | 0.51 | 0.23 | 0.23 | 0.02 | 0.76 | 0.76 | XXX
95934 | TC | A | H-reflex test | 0.00 | 0.21 | NA | 0.02 | 0.23 | NA | XXX
95936 |  | A | H-reflex test | 0.55 | 0.45 | NA | 0.04 | 1.04 | NA | XXX
95936 | 26 | A | H-reflex test | 0.55 | 0.24 | 0.24 | 0.02 | 0.81 | 0.81 | XXX
95936 | TC | A | H-reflex test | 0.00 | 0.21 | NA | 0.02 | 0.23 | NA | XXX
95937 |  | A | Neuromuscular junction test | 0.65 | 0.61 | NA | 0.04 | 1.30 | NA | XXX
95937 | 26 | A | Neuromuscular junction test | 0.65 | 0.27 | 0.27 | 0.02 | 0.94 | 0.94 | XXX
95937 | TC | A | Neuromuscular junction test | 0.00 | 0.34 | NA | 0.02 | 0.36 | NA | XXX
95950 |  | A | Ambulatory eeg monitoring | 1.50 | 4.53 | NA | 0.53 | 6.56 | NA | XXX
95950 | 26 | A | Ambulatory eeg monitoring | 1.50 | 0.64 | 0.64 | 0.10 | 2.24 | 2.24 | XXX
95950 | TC | A | Ambulatory eeg monitoring | 0.00 | 3.89 | NA | 0.43 | 4.32 | NA | XXX
95951 |  | C | EEG monitoring/videorecord | 0.00 | 0.00 | NA | 0.00 | 0.00 | NA | XXX
95951 | 26 | A | EEG monitoring/videorecord | 5.97 | 2.59 | 2.59 | 0.24 | 8.80 | 8.80 | XXX
95951 | TC | C | EEG monitoring/videorecord | 0.00 | 0.00 | NA | 0.00 | 0.00 | NA | XXX
95953 |  | A | EEG monitoring/computer | 3.06 | 7.59 | NA | 0.55 | 11.20 | NA | XXX
95953 | 26 | A | EEG monitoring/computer | 3.06 | 1.31 | 1.31 | 0.12 | 4.49 | 4.49 | XXX
95953 | TC | A | EEG monitoring/computer | 0.00 | 6.28 | NA | 0.43 | 6.71 | NA | XXX
95954 |  | A | EEG monitoring/giving drugs | 2.44 | 4.33 | NA | 0.18 | 6.95 | NA | XXX
95954 | 26 | A | EEG monitoring/giving drugs | 2.44 | 1.05 | 1.05 | 0.12 | 3.61 | 3.61 | XXX
95954 | TC | A | EEG monitoring/giving drugs | 0.00 | 3.28 | NA | 0.06 | 3.34 | NA | XXX
95955 |  | A | EEG during surgery | 1.00 | 2.31 | NA | 0.23 | 3.54 | NA | XXX
95955 | 26 | A | EEG during surgery | 1.00 | 0.37 | 0.37 | 0.06 | 1.43 | 1.43 | XXX
95955 | TC | A | EEG during surgery | 0.00 | 1.94 | NA | 0.17 | 2.11 | NA | XXX
95956 |  | A | Eeg monitoring, cable/radio | 3.06 | 14.32 | NA | 0.56 | 17.94 | NA | XXX
95956 | 26 | A | Eeg monitoring, cable/radio | 3.06 | 1.32 | 1.32 | 0.13 | 4.51 | 4.51 | XXX
95956 | TC | A | Eeg monitoring, cable/radio | 0.00 | 13.00 | NA | 0.43 | 13.43 | NA | XXX
95957 |  | A | EEG digital analysis | 1.97 | 2.55 | NA | 0.20 | 4.72 | NA | XXX
95957 | 26 | A | EEG digital analysis | 1.97 | 0.86 | 0.86 | 0.08 | 2.91 | 2.91 | XXX
95957 | TC | A | EEG digital analysis | 0.00 | 1.69 | NA | 0.12 | 1.81 | NA | XXX
95958 |  | A | EEG monitoring/function test | 4.23 | 3.50 | NA | 0.35 | 8.08 | NA | XXX
95958 | 26 | A | EEG monitoring/function test | 4.23 | 1.77 | 1.77 | 0.22 | 6.22 | 6.22 | XXX
95958 | TC | A | EEG monitoring/function test | 0.00 | 1.73 | NA | 0.13 | 1.86 | NA | XXX
95961 |  | A | Electrode stimulation, brain | 2.95 | 2.63 | NA | 0.29 | 5.87 | NA | XXX
95961 | 26 | A | Electrode stimulation, brain | 2.95 | 1.34 | 1.34 | 0.22 | 4.51 | 4.51 | XXX
95961 | TC | A | Electrode stimulation, brain | 0.00 | 1.29 | NA | 0.07 | 1.36 | NA | XXX
95962 |  | A | Electrode stim, brain add-on | 3.19 | 2.70 | NA | 0.27 | 6.16 | NA | ZZZ
95962 | 26 | A | Electrode stim, brain add-on | 3.19 | 1.41 | 1.41 | 0.20 | 4.80 | 4.80 | ZZZ
95962 | TC | A | Electrode stim, brain add-on | 0.00 | 1.29 | NA | 0.07 | 1.36 | NA | ZZZ
95965 |  | C | Meg, spontaneous | 0.00 | 0.00 | 0.00 | 0.00 | 0.00 | 0.00 | XXX
95965 | 26 | A | Meg, spontaneous | 7.95 | 3.46 | 3.46 | 0.37 | 11.78 | 11.78 | XXX
95965 | TC | C | Meg, spontaneous | 0.00 | 0.00 | 0.00 | 0.00 | 0.00 | 0.00 | XXX
95966 |  | C | Meg, evoked, single | 0.00 | 0.00 | 0.00 | 0.00 | 0.00 | 0.00 | XXX
95966 | 26 | A | Meg, evoked, single | 3.98 | 1.74 | 1.74 | 0.18 | 5.90 | 5.90 | XXX
95966 | TC | C | Meg, evoked, single | 0.00 | 0.00 | 0.00 | 0.00 | 0.00 | 0.00 | XXX
95967 |  | C | Meg, evoked, each addl | 0.00 | 0.00 | 0.00 | 0.00 | 0.00 | 0.00 | ZZZ
95967 | 26 | A | Meg, evoked, each addl | 3.48 | 1.35 | 1.35 | 0.16 | 4.99 | 4.99 | ZZZ
95967 | TC | C | Meg, evoked, each addl | 0.00 | 0.00 | 0.00 | 0.00 | 0.00 | 0.00 | ZZZ
95970 |  | A | Analyze neurostim, no prog | 0.45 | 0.17 | 0.15 | 0.04 | 0.66 | 0.64 | XXX
95971 |  | A | Analyze neurostim, simple | 0.78 | 0.28 | 0.23 | 0.07 | 1.13 | 1.08 | XXX
95972 |  | A | Analyze neurostim, complex | 1.49 | 0.60 | 0.50 | 0.20 | 2.29 | 2.19 | XXX
95973 |  | A | Analyze neurostim, complex | 0.91 | 0.40 | 0.35 | 0.08 | 1.39 | 1.34 | ZZZ
95974 |  | A | Cranial neurostim, complex | 2.98 | 1.31 | 1.31 | 0.18 | 4.47 | 4.47 | XXX
95975 |  | A | Cranial neurostim, complex | 1.69 | 0.73 | 0.73 | 0.08 | 2.50 | 2.50 | ZZZ
95990 |  | A | Spin/brain pump refil & main | 0.00 | 1.49 | NA | 0.06 | 1.55 | NA | XXX
95991 |  | A | Spin/brain pump refil & main | 0.77 | 1.49 | 0.19 | 0.06 | 2.32 | 1.02 | XXX
95999 |  | C | Neurological procedure | 0.00 | 0.00 | 0.00 | 0.00 | 0.00 | 0.00 | XXX
96000 |  | A | Motion analysis, video/3d | 1.79 | NA | 0.57 | 0.02 | NA | 2.38 | XXX
96001 |  | A | Motion test w/ft press meas | 2.14 | NA | 0.67 | 0.02 | NA | 2.83 | XXX
96002 |  | A | Dynamic surface emg | 0.41 | NA | 0.15 | 0.02 | NA | 0.58 | XXX
96003 |  | A | Dynamic fine wire emg | 0.37 | NA | 0.14 | 0.04 | NA | 0.55 | XXX
96004 |  | A | Phys review of motion tests | 2.13 | 0.96 | 0.96 | 0.10 | 3.19 | 3.19 | XXX
96100 |  | A | Psychological testing | 0.00 | 1.75 | NA | 0.18 | 1.93 | NA | XXX
96105 |  | A | Assessment of aphasia | 0.00 | 1.75 | NA | 0.18 | 1.93 | NA | XXX
96110 |  | A | Developmental test, lim | 0.00 | 0.18 | NA | 0.18 | 0.36 | NA | XXX
96111 |  | A | Developmental test, extend | 2.59 | 1.07 | NA | 0.18 | 3.84 | NA | XXX
96115 |  | A | Neurobehavior status exam | 0.00 | 1.75 | NA | 0.18 | 1.93 | NA | XXX
96117 |  | A | Neuropsych test battery | 0.00 | 1.75 | NA | 0.18 | 1.93 | NA | XXX
96150 |  | A | Assess lth/behave, init | 0.50 | 0.19 | 0.18 | 0.02 | 0.71 | 0.70 | XXX
96151 |  | A | Assess hlth/behave, subseq | 0.48 | 0.18 | 0.17 | 0.02 | 0.68 | 0.67 | XXX
96152 |  | A | Intervene hlth/behave, indiv | 0.46 | 0.18 | 0.16 | 0.02 | 0.66 | 0.64 | XXX
96153 |  | A | Intervene hlth/behave, group | 0.10 | 0.04 | 0.04 | 0.01 | 0.15 | 0.15 | XXX
96154 |  | A | Interv hlth/behav, fam w/pt | 0.45 | 0.17 | 0.16 | 0.02 | 0.64 | 0.63 | XXX
96155 |  | N | Interv hlth/behav fam no pt | +0.44 | 0.18 | 0.17 | 0.02 | 0.64 | 0.63 | XXX
96400 |  | A | Chemotherapy, sc/im | 0.00 | 0.88 | NA | 0.01 | 0.89 | NA | XXX
96405 |  | A | Intralesional chemo admin | 0.52 | 1.94 | 0.23 | 0.02 | 2.48 | 0.77 | 000
96406 |  | A | Intralesional chemo admin | 0.80 | 2.58 | 0.30 | 0.02 | 3.40 | 1.12 | 000
96408 |  | A | Chemotherapy, push technique | 0.00 | 0.96 | NA | 0.06 | 1.02 | NA | XXX
96410 |  | A | Chemotherapy,infusion method | 0.00 | 1.54 | NA | 0.08 | 1.62 | NA | XXX
96412 |  | A | Chemo, infuse method add-on | 0.00 | 1.14 | NA | 0.07 | 1.21 | NA | ZZZ
96414 |  | A | Chemo, infuse method add-on | 0.00 | 1.32 | NA | 0.08 | 1.40 | NA | XXX
96420 |  | A | Chemotherapy, push technique | 0.00 | 1.24 | NA | 0.08 | 1.32 | NA | XXX
96422 |  | A | Chemotherapy,infusion method | 0.00 | 1.22 | NA | 0.08 | 1.30 | NA | XXX
96423 |  | A | Chemo, infuse method add-on | 0.00 | 0.48 | NA | 0.02 | 0.50 | NA | ZZZ
96425 |  | A | Chemotherapy,infusion method | 0.00 | 1.42 | NA | 0.08 | 1.50 | NA | XXX
96440 |  | A | Chemotherapy, intracavitary | 2.36 | 7.40 | 1.04 | 0.14 | 9.90 | 3.54 | 000
96445 |  | A | Chemotherapy, intracavitary | 2.19 | 7.38 | 1.03 | 0.08 | 9.65 | 3.30 | 000
96450 |  | A | Chemotherapy, into CNS | 1.88 | 6.26 | 0.91 | 0.07 | 8.21 | 2.86 | 000
96520 |  | A | Port pump refill & main | 0.00 | 0.88 | NA | 0.06 | 0.94 | NA | XXX
96530 |  | A | Syst pump refill & main | 0.00 | 1.05 | NA | 0.06 | 1.11 | NA | XXX
96542 |  | A | Chemotherapy injection | 1.41 | 3.80 | 0.55 | 0.06 | 5.27 | 2.02 | XXX
96545 |  | B | Provide chemotherapy agent | 0.00 | 0.00 | 0.00 | 0.00 | 0.00 | 0.00 | XXX
96549 |  | C | Chemotherapy, unspecified | 0.00 | 0.00 | 0.00 | 0.00 | 0.00 | 0.00 | XXX
96567 |  | A | Photodynamic tx, skin | 0.00 | 0.99 | NA | 0.04 | 1.03 | NA | XXX
96570 |  | A | Photodynamic tx, 30 min | 1.09 | NA | 0.37 | 0.05 | NA | 1.51 | ZZZ
96571 |  | A | Photodynamic tx, addl 15 min | 0.55 | NA | 0.20 | 0.02 | NA | 0.77 | ZZZ
96900 |  | A | Ultraviolet light therapy | 0.00 | 0.49 | NA | 0.02 | 0.51 | NA | XXX
96902 |  | B | Trichogram | +0.41 | 0.25 | 0.16 | 0.01 | 0.67 | 0.58 | XXX
96910 |  | A | Photochemotherapy with UV-B | 0.00 | 1.08 | NA | 0.04 | 1.12 | NA | XXX
96912 |  | A | Photochemotherapy with UV-A | 0.00 | 1.36 | NA | 0.05 | 1.41 | NA | XXX
96913 |  | A | Photochemotherapy, UV-A or B | 0.00 | 1.80 | NA | 0.10 | 1.90 | NA | XXX
96920 |  | A | Laser tx, skin < 250 sq cm | 1.14 | 7.74 | 0.58 | 0.11 | 8.99 | 1.83 | 000
96921 |  | A | Laser tx, skin 250-500 sq cm | 1.16 | 7.81 | 0.59 | 0.11 | 9.08 | 1.86 | 000
96922 |  | A | Laser tx, skin > 500 sq cm | 2.09 | 8.56 | 1.04 | 0.19 | 10.84 | 3.32 | 000
96999 |  | C | Dermatological procedure | 0.00 | 0.00 | 0.00 | 0.00 | 0.00 | 0.00 | XXX
97001 |  | A | Pt evaluation | 1.19 | 0.74 | 0.46 | 0.06 | 1.99 | 1.71 | XXX
97002 |  | A | Pt re-evaluation | 0.60 | 0.45 | 0.24 | 0.02 | 1.07 | 0.86 | XXX
97003 |  | A | Ot evaluation | 1.19 | 0.87 | 0.41 | 0.06 | 2.12 | 1.66 | XXX
97004 |  | A | Ot re-evaluation | 0.60 | 0.62 | 0.20 | 0.02 | 1.24 | 0.82 | XXX
97005 |  | I | Athletic train eval | 0.00 | 0.00 | 0.00 | 0.00 | 0.00 | 0.00 | XXX
97006 |  | I | Athletic train reeval | 0.00 | 0.00 | 0.00 | 0.00 | 0.00 | 0.00 | XXX
97010 |  | B | Hot or cold packs therapy | +0.06 | 0.05 | NA | 0.01 | 0.12 | NA | XXX
97012 |  | A | Mechanical traction therapy | 0.25 | 0.14 | NA | 0.01 | 0.40 | NA | XXX
97014 |  | I | Electric stimulation therapy | +0.18 | 0.19 | 0.19 | 0.01 | 0.38 | 0.38 | XXX
97016 |  | A | Vasopneumatic device therapy | 0.18 | 0.19 | NA | 0.01 | 0.38 | NA | XXX
97018 |  | A | Paraffin bath therapy | 0.06 | 0.11 | NA | 0.01 | 0.18 | NA | XXX
97020 |  | A | Microwave therapy | 0.06 | 0.06 | NA | 0.01 | 0.13 | NA | XXX
97022 |  | A | Whirlpool therapy | 0.17 | 0.22 | NA | 0.01 | 0.40 | NA | XXX
97024 |  | A | Diathermy treatment | 0.06 | 0.09 | NA | 0.01 | 0.16 | NA | XXX
97026 |  | A | Infrared therapy | 0.06 | 0.06 | NA | 0.01 | 0.13 | NA | XXX
97028 |  | A | Ultraviolet therapy | 0.08 | 0.07 | NA | 0.01 | 0.16 | NA | XXX
97032 |  | A | Electrical stimulation | 0.25 | 0.16 | NA | 0.01 | 0.42 | NA | XXX
97033 |  | A | Electric current therapy | 0.26 | 0.28 | NA | 0.02 | 0.56 | NA | XXX
97034 |  | A | Contrast bath therapy | 0.21 | 0.16 | NA | 0.01 | 0.38 | NA | XXX
97035 |  | A | Ultrasound therapy | 0.21 | 0.11 | NA | 0.01 | 0.33 | NA | XXX
97036 |  | A | Hydrotherapy | 0.28 | 0.33 | NA | 0.01 | 0.62 | NA | XXX
97039 |  | A | Physical therapy treatment | 0.20 | 0.10 | NA | 0.01 | 0.31 | NA | XXX
97110 |  | A | Therapeutic exercises | 0.45 | 0.28 | NA | 0.04 | 0.77 | NA | XXX
97112 |  | A | Neuromuscular reeducation | 0.45 | 0.31 | NA | 0.02 | 0.78 | NA | XXX
97113 |  | A | Aquatic therapy/exercises | 0.44 | 0.41 | NA | 0.04 | 0.89 | NA | XXX
97116 |  | A | Gait training therapy | 0.40 | 0.24 | NA | 0.02 | 0.66 | NA | XXX
97124 |  | A | Massage therapy | 0.35 | 0.23 | NA | 0.01 | 0.59 | NA | XXX
97139 |  | A | Physical medicine procedure | 0.21 | 0.21 | NA | 0.01 | 0.43 | NA | XXX
97140 |  | A | Manual therapy | 0.43 | 0.26 | NA | 0.02 | 0.71 | NA | XXX
97150 |  | A | Group therapeutic procedures | 0.27 | 0.18 | NA | 0.02 | 0.47 | NA | XXX
97504 |  | A | Orthotic training | 0.45 | 0.33 | NA | 0.04 | 0.82 | NA | XXX
97520 |  | A | Prosthetic training | 0.45 | 0.28 | NA | 0.02 | 0.75 | NA | XXX
97530 |  | A | Therapeutic activities | 0.44 | 0.32 | NA | 0.02 | 0.78 | NA | XXX
97532 |  | A | Cognitive skills development | 0.44 | 0.21 | NA | 0.01 | 0.66 | NA | XXX
97533 |  | A | Sensory integration | 0.44 | 0.24 | NA | 0.01 | 0.69 | NA | XXX
97535 |  | A | Self care mngment training | 0.45 | 0.34 | NA | 0.02 | 0.81 | NA | XXX
97537 |  | A | Community/work reintegration | 0.45 | 0.27 | NA | 0.01 | 0.73 | NA | XXX
97542 |  | A | Wheelchair mngment training | 0.45 | 0.28 | NA | 0.01 | 0.74 | NA | XXX
97545 |  | R | Work hardening | 0.00 | 0.00 | 0.00 | 0.00 | 0.00 | 0.00 | XXX
97546 |  | R | Work hardening add-on | 0.00 | 0.00 | 0.00 | 0.00 | 0.00 | 0.00 | ZZZ
97601 |  | A | Wound(s) care, selective | 0.50 | 0.50 | NA | 0.05 | 1.05 | NA | XXX
97602 |  | B | Wound(s) care non-selective | 0.00 | 0.00 | 0.00 | 0.00 | 0.00 | 0.00 | XXX
97703 |  | A | Prosthetic checkout | 0.25 | 0.42 | NA | 0.02 | 0.69 | NA | XXX
97750 |  | A | Physical performance test | 0.45 | 0.30 | NA | 0.02 | 0.77 | NA | XXX
97755 |  | A | Assistive technology assess | 0.62 | 0.29 | NA | 0.02 | 0.93 | NA | XXX
97780 |  | N | Acupuncture w/o stimul | 0.00 | 0.00 | 0.00 | 0.00 | 0.00 | 0.00 | XXX
97781 |  | N | Acupuncture w/stimul | 0.00 | 0.00 | 0.00 | 0.00 | 0.00 | 0.00 | XXX
97799 |  | C | Physical medicine procedure | 0.00 | 0.00 | 0.00 | 0.00 | 0.00 | 0.00 | XXX
97802 |  | A | Medical nutrition, indiv, in | 0.00 | 0.47 | NA | 0.01 | 0.48 | NA | XXX
97803 |  | A | Med nutrition, indiv, subseq | 0.00 | 0.47 | NA | 0.01 | 0.48 | NA | XXX
97804 |  | A | Medical nutrition, group | 0.00 | 0.18 | NA | 0.01 | 0.19 | NA | XXX
98925 |  | A | Osteopathic manipulation | 0.45 | 0.33 | 0.14 | 0.01 | 0.79 | 0.60 | 000
98926 |  | A | Osteopathic manipulation | 0.65 | 0.43 | 0.25 | 0.02 | 1.10 | 0.92 | 000
98927 |  | A | Osteopathic manipulation | 0.87 | 0.52 | 0.30 | 0.04 | 1.43 | 1.21 | 000
98928 |  | A | Osteopathic manipulation | 1.02 | 0.61 | 0.35 | 0.04 | 1.67 | 1.41 | 000
98929 |  | A | Osteopathic manipulation | 1.18 | 0.69 | 0.37 | 0.05 | 1.92 | 1.60 | 000
98940 |  | A | Chiropractic manipulation | 0.45 | 0.24 | 0.12 | 0.01 | 0.70 | 0.58 | 000
98941 |  | A | Chiropractic manipulation | 0.65 | 0.30 | 0.18 | 0.02 | 0.97 | 0.85 | 000
98942 |  | A | Chiropractic manipulation | 0.87 | 0.37 | 0.24 | 0.04 | 1.28 | 1.15 | 000
98943 |  | N | Chiropractic manipulation | +0.40 | 0.24 | 0.16 | 0.01 | 0.65 | 0.57 | XXX
99000 |  | B | Specimen handling | 0.00 | 0.00 | 0.00 | 0.00 | 0.00 | 0.00 | XXX
99001 |  | B | Specimen handling | 0.00 | 0.00 | 0.00 | 0.00 | 0.00 | 0.00 | XXX
99002 |  | B | Device handling | 0.00 | 0.00 | 0.00 | 0.00 | 0.00 | 0.00 | XXX
99024 |  | B | Postop follow-up visit | 0.00 | 0.00 | 0.00 | 0.00 | 0.00 | 0.00 | XXX
99025 |  | F | Initial surgical evaluation | 0.00 | 0.00 | 0.00 | 0.00 | 0.00 | 0.00 | XXX
99026 |  | N | In-hospital on call service | 0.00 | 0.00 | 0.00 | 0.00 | 0.00 | 0.00 | XXX
99027 |  | N | Out-of-hosp on call service | 0.00 | 0.00 | 0.00 | 0.00 | 0.00 | 0.00 | XXX
99050 |  | B | Medical services after hrs | 0.00 | 0.00 | 0.00 | 0.00 | 0.00 | 0.00 | XXX
99052 |  | B | Medical services at night | 0.00 | 0.00 | 0.00 | 0.00 | 0.00 | 0.00 | XXX
99054 |  | B | Medical servcs, unusual hrs | 0.00 | 0.00 | 0.00 | 0.00 | 0.00 | 0.00 | XXX
99056 |  | B | Non-office medical services | 0.00 | 0.00 | 0.00 | 0.00 | 0.00 | 0.00 | XXX
99058 |  | B | Office emergency care | 0.00 | 0.00 | 0.00 | 0.00 | 0.00 | 0.00 | XXX
99070 |  | B | Special supplies | 0.00 | 0.00 | 0.00 | 0.00 | 0.00 | 0.00 | XXX
99071 |  | B | Patient education materials | 0.00 | 0.00 | 0.00 | 0.00 | 0.00 | 0.00 | XXX
99075 |  | N | Medical testimony | 0.00 | 0.00 | 0.00 | 0.00 | 0.00 | 0.00 | XXX
99078 |  | B | Group health education | 0.00 | 0.00 | 0.00 | 0.00 | 0.00 | 0.00 | XXX
99080 |  | B | Special reports or forms | 0.00 | 0.00 | 0.00 | 0.00 | 0.00 | 0.00 | XXX
99082 |  | C | Unusual physician travel | 0.00 | 0.00 | 0.00 | 0.00 | 0.00 | 0.00 | XXX
99090 |  | B | Computer data analysis | 0.00 | 0.00 | 0.00 | 0.00 | 0.00 | 0.00 | XXX
99091 |  | B | Collect/review data from pt | 0.00 | 0.00 | 0.00 | 0.00 | 0.00 | 0.00 | XXX
99100 |  | B | Special anesthesia service | 0.00 | 0.00 | 0.00 | 0.00 | 0.00 | 0.00 | ZZZ
99116 |  | B | Anesthesia with hypothermia | 0.00 | 0.00 | 0.00 | 0.00 | 0.00 | 0.00 | ZZZ
99135 |  | B | Special anesthesia procedure | 0.00 | 0.00 | 0.00 | 0.00 | 0.00 | 0.00 | ZZZ
99140 |  | B | Emergency anesthesia | 0.00 | 0.00 | 0.00 | 0.00 | 0.00 | 0.00 | ZZZ
99141 |  | B | Sedation, iv/im or inhalant | +0.80 | 1.95 | 0.39 | 0.05 | 2.80 | 1.24 | XXX
99142 |  | B | Sedation, oral/rectal/nasal | +0.60 | 1.00 | 0.31 | 0.04 | 1.64 | 0.95 | XXX
99170 |  | A | Anogenital exam, child | 1.74 | 1.72 | 0.53 | 0.08 | 3.54 | 2.35 | 000
99172 |  | N | Ocular function screen | 0.00 | 0.00 | 0.00 | 0.00 | 0.00 | 0.00 | XXX
99173 |  | N | Visual acuity screen | 0.00 | 0.00 | 0.00 | 0.00 | 0.00 | 0.00 | XXX
99175 |  | A | Induction of vomiting | 0.00 | 1.38 | NA | 0.10 | 1.48 | NA | XXX
99183 |  | A | Hyperbaric oxygen therapy | 2.33 | 4.86 | 0.73 | 0.14 | 7.33 | 3.20 | XXX
99185 |  | A | Regional hypothermia | 0.00 | 0.64 | NA | 0.04 | 0.68 | NA | XXX
99186 |  | A | Total body hypothermia | 0.00 | 1.77 | NA | 0.44 | 2.21 | NA | XXX
99190 |  | X | Special pump services | 0.00 | 0.00 | 0.00 | 0.00 | 0.00 | 0.00 | XXX
99191 |  | X | Special pump services | 0.00 | 0.00 | 0.00 | 0.00 | 0.00 | 0.00 | XXX
99192 |  | X | Special pump services | 0.00 | 0.00 | 0.00 | 0.00 | 0.00 | 0.00 | XXX
99195 |  | A | Phlebotomy | 0.00 | 0.44 | NA | 0.02 | 0.46 | NA | XXX
99199 |  | C | Special service/proc/report | 0.00 | 0.00 | 0.00 | 0.00 | 0.00 | 0.00 | XXX
99201 |  | A | Office/outpatient visit, new | 0.45 | 0.51 | 0.16 | 0.02 | 0.98 | 0.63 | XXX
99202 |  | A | Office/outpatient visit, new | 0.87 | 0.79 | 0.32 | 0.06 | 1.72 | 1.25 | XXX
99203 |  | A | Office/outpatient visit, new | 1.33 | 1.15 | 0.49 | 0.10 | 2.58 | 1.92 | XXX
99204 |  | A | Office/outpatient visit, new | 1.99 | 1.54 | 0.71 | 0.12 | 3.65 | 2.82 | XXX
99205 |  | A | Office/outpatient visit, new | 2.65 | 1.82 | 0.93 | 0.14 | 4.61 | 3.72 | XXX
99211 |  | A | Office/outpatient visit, est | 0.17 | 0.41 | 0.06 | 0.01 | 0.59 | 0.24 | XXX
99212 |  | A | Office/outpatient visit, est | 0.45 | 0.56 | 0.16 | 0.02 | 1.03 | 0.63 | XXX
99213 |  | A | Office/outpatient visit, est | 0.67 | 0.71 | 0.23 | 0.04 | 1.42 | 0.94 | XXX
99214 |  | A | Office/outpatient visit, est | 1.09 | 1.06 | 0.39 | 0.05 | 2.20 | 1.53 | XXX
99215 |  | A | Office/outpatient visit, est | 1.76 | 1.36 | 0.63 | 0.08 | 3.20 | 2.47 | XXX
99217 |  | A | Observation care discharge | 1.27 | NA | 0.54 | 0.06 | NA | 1.87 | XXX
99218 |  | A | Observation care | 1.27 | NA | 0.44 | 0.06 | NA | 1.77 | XXX
99219 |  | A | Observation care | 2.13 | NA | 0.71 | 0.10 | NA | 2.94 | XXX
99220 |  | A | Observation care | 2.97 | NA | 1.02 | 0.13 | NA | 4.12 | XXX
99221 |  | A | Initial hospital care | 1.27 | NA | 0.45 | 0.06 | NA | 1.78 | XXX
99222 |  | A | Initial hospital care | 2.13 | NA | 0.73 | 0.10 | NA | 2.96 | XXX
99223 |  | A | Initial hospital care | 2.97 | NA | 1.03 | 0.12 | NA | 4.12 | XXX
99231 |  | A | Subsequent hospital care | 0.64 | NA | 0.23 | 0.02 | NA | 0.89 | XXX
99232 |  | A | Subsequent hospital care | 1.05 | NA | 0.37 | 0.04 | NA | 1.46 | XXX
99233 |  | A | Subsequent hospital care | 1.50 | NA | 0.53 | 0.06 | NA | 2.09 | XXX
99234 |  | A | Observ/hosp same date | 2.55 | NA | 0.99 | 0.13 | NA | 3.67 | XXX
99235 |  | A | Observ/hosp same date | 3.40 | NA | 1.29 | 0.16 | NA | 4.85 | XXX
99236 |  | A | Observ/hosp same date | 4.25 | NA | 1.58 | 0.20 | NA | 6.03 | XXX
99238 |  | A | Hospital discharge day | 1.27 | NA | 0.55 | 0.05 | NA | 1.87 | XXX
99239 |  | A | Hospital discharge day | 1.74 | NA | 0.74 | 0.06 | NA | 2.54 | XXX
99241 |  | A | Office consultation | 0.64 | 0.65 | 0.22 | 0.05 | 1.34 | 0.91 | XXX
99242 |  | A | Office consultation | 1.28 | 1.06 | 0.47 | 0.11 | 2.45 | 1.86 | XXX
99243 |  | A | Office consultation | 1.71 | 1.41 | 0.63 | 0.12 | 3.24 | 2.46 | XXX
99244 |  | A | Office consultation | 2.57 | 1.85 | 0.91 | 0.16 | 4.58 | 3.64 | XXX
99245 |  | A | Office consultation | 3.41 | 2.29 | 1.22 | 0.19 | 5.89 | 4.82 | XXX
99251 |  | A | Initial inpatient consult | 0.66 | NA | 0.25 | 0.05 | NA | 0.96 | XXX
99252 |  | A | Initial inpatient consult | 1.31 | NA | 0.51 | 0.10 | NA | 1.92 | XXX
99253 |  | A | Initial inpatient consult | 1.81 | NA | 0.68 | 0.11 | NA | 2.60 | XXX
99254 |  | A | Initial inpatient consult | 2.62 | NA | 0.98 | 0.13 | NA | 3.73 | XXX
99255 |  | A | Initial inpatient consult | 3.63 | NA | 1.34 | 0.18 | NA | 5.15 | XXX
99261 |  | A | Follow-up inpatient consult | 0.42 | NA | 0.15 | 0.02 | NA | 0.59 | XXX
99262 |  | A | Follow-up inpatient consult | 0.85 | NA | 0.31 | 0.04 | NA | 1.20 | XXX
99263 |  | A | Follow-up inpatient consult | 1.26 | NA | 0.46 | 0.05 | NA | 1.77 | XXX
99271 |  | A | Confirmatory consultation | 0.45 | 0.56 | 0.16 | 0.04 | 1.05 | 0.65 | XXX
99272 |  | A | Confirmatory consultation | 0.84 | 0.83 | 0.31 | 0.07 | 1.74 | 1.22 | XXX
99273 |  | A | Confirmatory consultation | 1.18 | 1.11 | 0.45 | 0.08 | 2.37 | 1.71 | XXX
99274 |  | A | Confirmatory consultation | 1.72 | 1.37 | 0.64 | 0.11 | 3.20 | 2.47 | XXX
99275 |  | A | Confirmatory consultation | 2.30 | 1.64 | 0.82 | 0.12 | 4.06 | 3.24 | XXX
99281 |  | A | Emergency dept visit | 0.33 | NA | 0.09 | 0.02 | NA | 0.44 | XXX
99282 |  | A | Emergency dept visit | 0.55 | NA | 0.15 | 0.04 | NA | 0.74 | XXX
99283 |  | A | Emergency dept visit | 1.23 | NA | 0.31 | 0.10 | NA | 1.64 | XXX
99284 |  | A | Emergency dept visit | 1.94 | NA | 0.48 | 0.14 | NA | 2.56 | XXX
99285 |  | A | Emergency dept visit | 3.04 | NA | 0.72 | 0.23 | NA | 3.99 | XXX
99288 |  | B | Direct advanced life support | 0.00 | 0.00 | 0.00 | 0.00 | 0.00 | 0.00 | XXX
99289 |  | A | Ped crit care transport | 4.77 | NA | 1.68 | 0.17 | NA | 6.62 | XXX
99290 |  | A | Ped crit care transport addl | 2.39 | NA | 0.83 | 0.08 | NA | 3.30 | ZZZ
99291 |  | A | Critical care, first hour | 3.98 | 2.37 | 1.29 | 0.17 | 6.52 | 5.44 | XXX
99292 |  | A | Critical care, addl 30 min | 1.99 | 0.81 | 0.64 | 0.08 | 2.88 | 2.71 | ZZZ
99293 |  | A | Ped critical care, initial | 15.91 | NA | 5.00 | 0.84 | NA | 21.75 | XXX
99294 |  | A | Ped critical care, subseq | 7.95 | NA | 2.50 | 0.28 | NA | 10.73 | XXX
99295 |  | A | Neonate crit care, initial | 18.38 | NA | 5.43 | 0.84 | NA | 24.65 | XXX
99296 |  | A | Neonate critical care subseq | 7.95 | NA | 2.57 | 0.28 | NA | 10.80 | XXX
99298 |  | A | Ic for lbw infant < 1500 gm | 2.73 | NA | 0.94 | 0.12 | NA | 3.79 | XXX
99299 |  | A | Ic, lbw infant 1500-2500 gm | 2.49 | NA | 0.96 | 0.12 | NA | 3.57 | XXX
99301 |  | A | Nursing facility care | 1.19 | 0.68 | 0.41 | 0.05 | 1.92 | 1.65 | XXX
99302 |  | A | Nursing facility care | 1.60 | 0.96 | 0.55 | 0.06 | 2.62 | 2.21 | XXX
99303 |  | A | Nursing facility care | 2.00 | 1.18 | 0.67 | 0.07 | 3.25 | 2.74 | XXX
99311 |  | A | Nursing fac care, subseq | 0.60 | 0.49 | 0.20 | 0.02 | 1.11 | 0.82 | XXX
99312 |  | A | Nursing fac care, subseq | 0.99 | 0.66 | 0.34 | 0.04 | 1.69 | 1.37 | XXX
99313 |  | A | Nursing fac care, subseq | 1.41 | 0.85 | 0.48 | 0.05 | 2.31 | 1.94 | XXX
99315 |  | A | Nursing fac discharge day | 1.12 | 0.47 | 0.38 | 0.05 | 1.64 | 1.55 | XXX
99316 |  | A | Nursing fac discharge day | 1.49 | 0.63 | 0.52 | 0.06 | 2.18 | 2.07 | XXX
99321 |  | A | Rest home visit, new patient | 0.71 | 0.35 | NA | 0.02 | 1.08 | NA | XXX
99322 |  | A | Rest home visit, new patient | 1.00 | 0.47 | NA | 0.04 | 1.51 | NA | XXX
99323 |  | A | Rest home visit, new patient | 1.27 | 0.56 | NA | 0.05 | 1.88 | NA | XXX
99331 |  | A | Rest home visit, est pat | 0.60 | 0.32 | NA | 0.02 | 0.94 | NA | XXX
99332 |  | A | Rest home visit, est pat | 0.80 | 0.39 | NA | 0.04 | 1.23 | NA | XXX
99333 |  | A | Rest home visit, est pat | 0.99 | 0.47 | NA | 0.04 | 1.50 | NA | XXX
99341 |  | A | Home visit, new patient | 1.00 | 0.49 | NA | 0.06 | 1.55 | NA | XXX
99342 |  | A | Home visit, new patient | 1.51 | 0.68 | NA | 0.06 | 2.25 | NA | XXX
99343 |  | A | Home visit, new patient | 2.26 | 0.95 | NA | 0.08 | 3.29 | NA | XXX
99344 |  | A | Home visit, new patient | 3.01 | 1.20 | NA | 0.12 | 4.33 | NA | XXX
99345 |  | A | Home visit, new patient | 3.77 | 1.45 | NA | 0.14 | 5.36 | NA | XXX
99347 |  | A | Home visit, est patient | 0.76 | 0.41 | NA | 0.04 | 1.21 | NA | XXX
99348 |  | A | Home visit, est patient | 1.25 | 0.71 | NA | 0.05 | 2.01 | NA | XXX
99349 |  | A | Home visit, est patient | 2.01 | 1.05 | NA | 0.07 | 3.13 | NA | XXX
99350 |  | A | Home visit, est patient | 3.01 | 1.43 | NA | 0.12 | 4.56 | NA | XXX
99354 |  | A | Prolonged service, office | 1.76 | 0.74 | 0.61 | 0.07 | 2.57 | 2.44 | ZZZ
99355 |  | A | Prolonged service, office | 1.76 | 0.72 | 0.58 | 0.07 | 2.55 | 2.41 | ZZZ
99356 |  | A | Prolonged service, inpatient | 1.70 | NA | 0.62 | 0.07 | NA | 2.39 | ZZZ
99357 |  | A | Prolonged service, inpatient | 1.70 | NA | 0.64 | 0.07 | NA | 2.41 | ZZZ
99358 |  | B | Prolonged serv, w/o contact | 0.00 | 0.00 | 0.00 | 0.00 | 0.00 | 0.00 | ZZZ
99359 |  | B | Prolonged serv, w/o contact | 0.00 | 0.00 | 0.00 | 0.00 | 0.00 | 0.00 | ZZZ
99360 |  | X | Physician standby services | 0.00 | 0.00 | 0.00 | 0.00 | 0.00 | 0.00 | XXX
99361 |  | B | Physician/team conference | 0.00 | 0.00 | 0.00 | 0.00 | 0.00 | 0.00 | XXX
99362 |  | B | Physician/team conference | 0.00 | 0.00 | 0.00 | 0.00 | 0.00 | 0.00 | XXX
99371 |  | B | Physician phone consultation | 0.00 | 0.00 | 0.00 | 0.00 | 0.00 | 0.00 | XXX
99372 |  | B | Physician phone consultation | 0.00 | 0.00 | 0.00 | 0.00 | 0.00 | 0.00 | XXX
99373 |  | B | Physician phone consultation | 0.00 | 0.00 | 0.00 | 0.00 | 0.00 | 0.00 | XXX
99374 |  | B | Home health care supervision | +1.09 | 0.70 | 0.43 | 0.05 | 1.84 | 1.57 | XXX
99375 |  | I | Home health care supervision | +1.72 | 1.56 | 1.56 | 0.07 | 3.35 | 3.35 | XXX
99377 |  | B | Hospice care supervision | +1.09 | 0.70 | 0.43 | 0.05 | 1.84 | 1.57 | XXX
99378 |  | I | Hospice care supervision | +1.72 | 1.95 | 1.95 | 0.07 | 3.74 | 3.74 | XXX
99379 |  | B | Nursing fac care supervision | +1.09 | 0.70 | 0.70 | 0.04 | 1.83 | 1.83 | XXX
99380 |  | B | Nursing fac care supervision | +1.72 | 1.00 | 1.00 | 0.06 | 2.78 | 2.78 | XXX
99381 |  | N | Prev visit, new, infant | +1.18 | 1.51 | 0.46 | 0.05 | 2.74 | 1.69 | XXX
99382 |  | N | Prev visit, new, age 1-4 | +1.35 | 1.55 | 0.53 | 0.05 | 2.95 | 1.93 | XXX
99383 |  | N | Prev visit, new, age 5-11 | +1.35 | 1.49 | 0.53 | 0.05 | 2.89 | 1.93 | XXX
99384 |  | N | Prev visit, new, age 12-17 | +1.52 | 1.56 | 0.60 | 0.06 | 3.14 | 2.18 | XXX
99385 |  | N | Prev visit, new, age 18-39 | +1.52 | 1.56 | 0.60 | 0.06 | 3.14 | 2.18 | XXX
99386 |  | N | Prev visit, new, age 40-64 | +1.87 | 1.75 | 0.72 | 0.07 | 3.69 | 2.66 | XXX
99387 |  | N | Prev visit, new, 65 & over | +2.05 | 1.88 | 0.79 | 0.07 | 4.00 | 2.91 | XXX
99391 |  | N | Prev visit, est, infant | +1.01 | 1.02 | 0.40 | 0.04 | 2.07 | 1.45 | XXX
99392 |  | N | Prev visit, est, age 1-4 | +1.18 | 1.09 | 0.46 | 0.05 | 2.32 | 1.69 | XXX
99393 |  | N | Prev visit, est, age 5-11 | +1.18 | 1.06 | 0.46 | 0.05 | 2.29 | 1.69 | XXX
99394 |  | N | Prev visit, est, age 12-17 | +1.35 | 1.14 | 0.53 | 0.05 | 2.54 | 1.93 | XXX
99395 |  | N | Prev visit, est, age 18-39 | +1.35 | 1.17 | 0.53 | 0.05 | 2.57 | 1.93 | XXX
99396 |  | N | Prev visit, est, age 40-64 | +1.52 | 1.26 | 0.60 | 0.06 | 2.84 | 2.18 | XXX
99397 |  | N | Prev visit, est, 65 & over | +1.70 | 1.37 | 0.66 | 0.06 | 3.13 | 2.42 | XXX
99401 |  | N | Preventive counseling, indiv | +0.48 | 0.63 | 0.19 | 0.01 | 1.12 | 0.68 | XXX
99402 |  | N | Preventive counseling, indiv | +0.97 | 0.87 | 0.38 | 0.02 | 1.86 | 1.37 | XXX
99403 |  | N | Preventive counseling, indiv | +1.45 | 1.09 | 0.57 | 0.04 | 2.58 | 2.06 | XXX
99404 |  | N | Preventive counseling, indiv | +1.94 | 1.33 | 0.75 | 0.05 | 3.32 | 2.74 | XXX
99411 |  | N | Preventive counseling, group | +0.15 | 0.18 | 0.06 | 0.01 | 0.34 | 0.22 | XXX
99412 |  | N | Preventive counseling, group | +0.25 | 0.25 | 0.10 | 0.01 | 0.51 | 0.36 | XXX
99420 |  | N | Health risk assessment test | 0.00 | 0.00 | 0.00 | 0.00 | 0.00 | 0.00 | XXX
99429 |  | N | Unlisted preventive service | 0.00 | 0.00 | 0.00 | 0.00 | 0.00 | 0.00 | XXX
99431 |  | A | Initial care, normal newborn | 1.16 | NA | 0.39 | 0.05 | NA | 1.60 | XXX
99432 |  | A | Newborn care, not in hosp | 1.25 | 0.91 | 0.41 | 0.07 | 2.23 | 1.73 | XXX
99433 |  | A | Normal newborn care/hospital | 0.62 | NA | 0.20 | 0.02 | NA | 0.84 | XXX
99435 |  | A | Newborn discharge day hosp | 1.49 | NA | 0.51 | 0.06 | NA | 2.06 | XXX
99436 |  | A | Attendance, birth | 1.49 | NA | 0.48 | 0.06 | NA | 2.03 | XXX
99440 |  | A | Newborn resuscitation | 2.91 | NA | 0.93 | 0.13 | NA | 3.97 | XXX
99450 |  | N | Life/disability evaluation | 0.00 | 0.00 | 0.00 | 0.00 | 0.00 | 0.00 | XXX
99455 |  | R | Disability examination | 0.00 | 0.00 | 0.00 | 0.00 | 0.00 | 0.00 | XXX
99456 |  | R | Disability examination | 0.00 | 0.00 | 0.00 | 0.00 | 0.00 | 0.00 | XXX
99499 |  | C | Unlisted e&m service | 0.00 | 0.00 | 0.00 | 0.00 | 0.00 | 0.00 | XXX
99500 |  | I | Home visit, prenatal | 0.00 | 0.00 | 0.00 | 0.00 | 0.00 | 0.00 | XXX
99501 |  | I | Home visit, postnatal | 0.00 | 0.00 | 0.00 | 0.00 | 0.00 | 0.00 | XXX
99502 |  | I | Home visit, nb care | 0.00 | 0.00 | 0.00 | 0.00 | 0.00 | 0.00 | XXX
99503 |  | I | Home visit, resp therapy | 0.00 | 0.00 | 0.00 | 0.00 | 0.00 | 0.00 | XXX
99504 |  | I | Home visit mech ventilator | 0.00 | 0.00 | 0.00 | 0.00 | 0.00 | 0.00 | XXX
99505 |  | I | Home visit, stoma care | 0.00 | 0.00 | 0.00 | 0.00 | 0.00 | 0.00 | XXX
99506 |  | I | Home visit, im injection | 0.00 | 0.00 | 0.00 | 0.00 | 0.00 | 0.00 | XXX
99507 |  | I | Home visit, cath maintain | 0.00 | 0.00 | 0.00 | 0.00 | 0.00 | 0.00 | XXX
99509 |  | I | Home visit day life activity | 0.00 | 0.00 | 0.00 | 0.00 | 0.00 | 0.00 | XXX
99510 |  | I | Home visit, sing/m/fam couns | 0.00 | 0.00 | 0.00 | 0.00 | 0.00 | 0.00 | XXX
99511 |  | I | Home visit, fecal/enema mgmt | 0.00 | 0.00 | 0.00 | 0.00 | 0.00 | 0.00 | XXX
99512 |  | I | Home visit for hemodialysis | 0.00 | 0.00 | 0.00 | 0.00 | 0.00 | 0.00 | XXX
99551 |  | F | Home infus, pain mgmt, iv/sc | 0.00 | 0.00 | 0.00 | 0.00 | 0.00 | 0.00 | XXX
99552 |  | F | Hm infus pain mgmt, epid/ith | 0.00 | 0.00 | 0.00 | 0.00 | 0.00 | 0.00 | XXX
99553 |  | F | Home infuse, tocolytic tx | 0.00 | 0.00 | 0.00 | 0.00 | 0.00 | 0.00 | XXX
99554 |  | F | Home infus, hormone/platelet | 0.00 | 0.00 | 0.00 | 0.00 | 0.00 | 0.00 | XXX
99555 |  | F | Home infuse, chemotheraphy | 0.00 | 0.00 | 0.00 | 0.00 | 0.00 | 0.00 | XXX
99556 |  | F | Home infus, antibio/fung/vir | 0.00 | 0.00 | 0.00 | 0.00 | 0.00 | 0.00 | XXX
99557 |  | F | Home infuse, anticoagulant | 0.00 | 0.00 | 0.00 | 0.00 | 0.00 | 0.00 | XXX
99558 |  | F | Home infuse, immunotherapy | 0.00 | 0.00 | 0.00 | 0.00 | 0.00 | 0.00 | XXX
99559 |  | F | Home infus, periton dialysis | 0.00 | 0.00 | 0.00 | 0.00 | 0.00 | 0.00 | XXX
99560 |  | F | Home infus, entero nutrition | 0.00 | 0.00 | 0.00 | 0.00 | 0.00 | 0.00 | XXX
99561 |  | F | Home infuse, hydration tx | 0.00 | 0.00 | 0.00 | 0.00 | 0.00 | 0.00 | XXX
99562 |  | F | Home infus, parent nutrition | 0.00 | 0.00 | 0.00 | 0.00 | 0.00 | 0.00 | XXX
99563 |  | F | Home admin, pentamidine | 0.00 | 0.00 | 0.00 | 0.00 | 0.00 | 0.00 | XXX
99564 |  | F | Hme infus, antihemophil agnt | 0.00 | 0.00 | 0.00 | 0.00 | 0.00 | 0.00 | XXX
99565 |  | F | Home infus, proteinase inhib | 0.00 | 0.00 | 0.00 | 0.00 | 0.00 | 0.00 | XXX
99566 |  | F | Home infuse, iv therapy | 0.00 | 0.00 | 0.00 | 0.00 | 0.00 | 0.00 | XXX
99567 |  | F | Home infuse, sympath agent | 0.00 | 0.00 | 0.00 | 0.00 | 0.00 | 0.00 | XXX
99568 |  | F | Home infus, misc drug, daily | 0.00 | 0.00 | 0.00 | 0.00 | 0.00 | 0.00 | XXX
99569 |  | F | Home infuse, each addl tx | 0.00 | 0.00 | 0.00 | 0.00 | 0.00 | 0.00 | XXX
99600 |  | I | Home visit nos | 0.00 | 0.00 | 0.00 | 0.00 | 0.00 | 0.00 | XXX
99601 |  | I | Home infusion/visit, 2 hrs | 0.00 | 0.00 | 0.00 | 0.00 | 0.00 | 0.00 | XXX
99602 |  | I | Home infusion, each addl hr | 0.00 | 0.00 | 0.00 | 0.00 | 0.00 | 0.00 | XXX
A4890 |  | R | Repair/maint cont hemo equip | 0.00 | 0.00 | 0.00 | 0.00 | 0.00 | 0.00 | XXX
D0150 |  | R | Comprehensve oral evaluation | 0.00 | 0.00 | 0.00 | 0.00 | 0.00 | 0.00 | YYY
D0240 |  | R | Intraoral occlusal film | 0.00 | 0.00 | 0.00 | 0.00 | 0.00 | 0.00 | YYY
D0250 |  | R | Extraoral first film | 0.00 | 0.00 | 0.00 | 0.00 | 0.00 | 0.00 | YYY
D0260 |  | R | Extraoral ea additional film | 0.00 | 0.00 | 0.00 | 0.00 | 0.00 | 0.00 | YYY
D0270 |  | R | Dental bitewing single film | 0.00 | 0.00 | 0.00 | 0.00 | 0.00 | 0.00 | YYY
D0272 |  | R | Dental bitewings two films | 0.00 | 0.00 | 0.00 | 0.00 | 0.00 | 0.00 | YYY
D0274 |  | R | Dental bitewings four films | 0.00 | 0.00 | 0.00 | 0.00 | 0.00 | 0.00 | YYY
D0277 |  | R | Vert bitewings-sev to eight | 0.00 | 0.00 | 0.00 | 0.00 | 0.00 | 0.00 | XXX
D0460 |  | R | Pulp vitality test | 0.00 | 0.00 | 0.00 | 0.00 | 0.00 | 0.00 | YYY
D0472 |  | R | Gross exam, prep & report | 0.00 | 0.00 | 0.00 | 0.00 | 0.00 | 0.00 | XXX
D0473 |  | R | Micro exam, prep & report | 0.00 | 0.00 | 0.00 | 0.00 | 0.00 | 0.00 | XXX
D0474 |  | R | Micro w exam of surg margins | 0.00 | 0.00 | 0.00 | 0.00 | 0.00 | 0.00 | XXX
D0480 |  | R | Cytopath smear prep & report | 0.00 | 0.00 | 0.00 | 0.00 | 0.00 | 0.00 | XXX
D0502 |  | R | Other oral pathology procedu | 0.00 | 0.00 | 0.00 | 0.00 | 0.00 | 0.00 | YYY
D0999 |  | R | Unspecified diagnostic proce | 0.00 | 0.00 | 0.00 | 0.00 | 0.00 | 0.00 | YYY
D1510 |  | R | Space maintainer fxd unilat | 0.00 | 0.00 | 0.00 | 0.00 | 0.00 | 0.00 | YYY
D1515 |  | R | Fixed bilat space maintainer | 0.00 | 0.00 | 0.00 | 0.00 | 0.00 | 0.00 | YYY
D1520 |  | R | Remove unilat space maintain | 0.00 | 0.00 | 0.00 | 0.00 | 0.00 | 0.00 | YYY
D1525 |  | R | Remove bilat space maintain | 0.00 | 0.00 | 0.00 | 0.00 | 0.00 | 0.00 | YYY
D1550 |  | R | Recement space maintainer | 0.00 | 0.00 | 0.00 | 0.00 | 0.00 | 0.00 | YYY
D2970 |  | R | Temporary- fractured tooth | 0.00 | 0.00 | 0.00 | 0.00 | 0.00 | 0.00 | YYY
D2999 |  | R | Dental unspec restorative pr | 0.00 | 0.00 | 0.00 | 0.00 | 0.00 | 0.00 | YYY
D3460 |  | R | Endodontic endosseous implan | 0.00 | 0.00 | 0.00 | 0.00 | 0.00 | 0.00 | YYY
D3999 |  | R | Endodontic procedure | 0.00 | 0.00 | 0.00 | 0.00 | 0.00 | 0.00 | YYY
D4260 |  | R | Osseous surgery per quadrant | 0.00 | 0.00 | 0.00 | 0.00 | 0.00 | 0.00 | YYY
D4263 |  | R | Bone replce graft first site | 0.00 | 0.00 | 0.00 | 0.00 | 0.00 | 0.00 | YYY
D4264 |  | R | Bone replce graft each add | 0.00 | 0.00 | 0.00 | 0.00 | 0.00 | 0.00 | YYY
D4268 |  | R | Surgical revision procedure | 0.00 | 0.00 | 0.00 | 0.00 | 0.00 | 0.00 | XXX
D4270 |  | R | Pedicle soft tissue graft pr | 0.00 | 0.00 | 0.00 | 0.00 | 0.00 | 0.00 | YYY
D4271 |  | R | Free soft tissue graft proc | 0.00 | 0.00 | 0.00 | 0.00 | 0.00 | 0.00 | YYY
D4273 |  | R | Subepithelial tissue graft | 0.00 | 0.00 | 0.00 | 0.00 | 0.00 | 0.00 | YYY
D4355 |  | R | Full mouth debridement | 0.00 | 0.00 | 0.00 | 0.00 | 0.00 | 0.00 | YYY
D4381 |  | R | Localized chemo delivery | 0.00 | 0.00 | 0.00 | 0.00 | 0.00 | 0.00 | YYY
D5911 |  | R | Facial moulage sectional | 0.00 | 0.00 | 0.00 | 0.00 | 0.00 | 0.00 | YYY
D5912 |  | R | Facial moulage complete | 0.00 | 0.00 | 0.00 | 0.00 | 0.00 | 0.00 | YYY
D5951 |  | R | Feeding aid | 0.00 | 0.00 | 0.00 | 0.00 | 0.00 | 0.00 | YYY
D5983 |  | R | Radiation applicator | 0.00 | 0.00 | 0.00 | 0.00 | 0.00 | 0.00 | YYY
D5984 |  | R | Radiation shield | 0.00 | 0.00 | 0.00 | 0.00 | 0.00 | 0.00 | YYY
D5985 |  | R | Radiation cone locator | 0.00 | 0.00 | 0.00 | 0.00 | 0.00 | 0.00 | YYY
D5987 |  | R | Commissure splint | 0.00 | 0.00 | 0.00 | 0.00 | 0.00 | 0.00 | YYY
D6920 |  | R | Dental connector bar | 0.00 | 0.00 | 0.00 | 0.00 | 0.00 | 0.00 | YYY
D7111 |  | R | Coronal remnants deciduous t | 0.00 | 0.00 | 0.00 | 0.00 | 0.00 | 0.00 | XXX
D7140 |  | R | Extraction erupted tooth/exr | 0.00 | 0.00 | 0.00 | 0.00 | 0.00 | 0.00 | XXX
D7210 |  | R | Rem imp tooth w mucoper flp | 0.00 | 0.00 | 0.00 | 0.00 | 0.00 | 0.00 | YYY
D7220 |  | R | Impact tooth remov soft tiss | 0.00 | 0.00 | 0.00 | 0.00 | 0.00 | 0.00 | YYY
D7230 |  | R | Impact tooth remov part bony | 0.00 | 0.00 | 0.00 | 0.00 | 0.00 | 0.00 | YYY
D7240 |  | R | Impact tooth remov comp bony | 0.00 | 0.00 | 0.00 | 0.00 | 0.00 | 0.00 | YYY
D7241 |  | R | Impact tooth rem bony w/comp | 0.00 | 0.00 | 0.00 | 0.00 | 0.00 | 0.00 | YYY
D7250 |  | R | Tooth root removal | 0.00 | 0.00 | 0.00 | 0.00 | 0.00 | 0.00 | YYY
D7260 |  | R | Oral antral fistula closure | 0.00 | 0.00 | 0.00 | 0.00 | 0.00 | 0.00 | YYY
D7261 |  | R | Primary closure sinus perf | 0.00 | 0.00 | 0.00 | 0.00 | 0.00 | 0.00 | XXX
D7291 |  | R | Transseptal fiberotomy | 0.00 | 0.00 | 0.00 | 0.00 | 0.00 | 0.00 | YYY
D7940 |  | R | Reshaping bone orthognathic | 0.00 | 0.00 | 0.00 | 0.00 | 0.00 | 0.00 | YYY
D9110 |  | R | Tx dental pain minor proc | 0.00 | 0.00 | 0.00 | 0.00 | 0.00 | 0.00 | YYY
D9230 |  | R | Analgesia | 0.00 | 0.00 | 0.00 | 0.00 | 0.00 | 0.00 | YYY
D9248 |  | R | Sedation (non-iv) | 0.00 | 0.00 | 0.00 | 0.00 | 0.00 | 0.00 | XXX
D9630 |  | R | Other drugs/medicaments | 0.00 | 0.00 | 0.00 | 0.00 | 0.00 | 0.00 | YYY
D9930 |  | R | Treatment of complications | 0.00 | 0.00 | 0.00 | 0.00 | 0.00 | 0.00 | YYY
D9940 |  | R | Dental occlusal guard | 0.00 | 0.00 | 0.00 | 0.00 | 0.00 | 0.00 | YYY
D9950 |  | R | Occlusion analysis | 0.00 | 0.00 | 0.00 | 0.00 | 0.00 | 0.00 | YYY
D9951 |  | R | Limited occlusal adjustment | 0.00 | 0.00 | 0.00 | 0.00 | 0.00 | 0.00 | YYY
D9952 |  | R | Complete occlusal adjustment | 0.00 | 0.00 | 0.00 | 0.00 | 0.00 | 0.00 | YYY
G0001 |  | X | Drawing blood for specimen | 0.00 | 0.00 | 0.00 | 0.00 | 0.00 | 0.00 | XXX
G0008 |  | X | Admin influenza virus vac | 0.00 | 0.00 | 0.00 | 0.00 | 0.00 | 0.00 | XXX
G0009 |  | X | Admin pneumococcal vaccine | 0.00 | 0.00 | 0.00 | 0.00 | 0.00 | 0.00 | XXX
G0010 |  | X | Admin hepatitis b vaccine | 0.00 | 0.00 | 0.00 | 0.00 | 0.00 | 0.00 | XXX
G0027 |  | X | Semen analysis | 0.00 | 0.00 | 0.00 | 0.00 | 0.00 | 0.00 | XXX
G0030 |  | C | PET imaging prev PET single | 0.00 | 0.00 | 0.00 | 0.00 | 0.00 | 0.00 | XXX
G0030 | 26 | A | PET imaging prev PET single | 1.49 | 0.60 | 0.60 | 0.05 | 2.14 | 2.14 | XXX
G0030 | TC | C | PET imaging prev PET single | 0.00 | 0.00 | 0.00 | 0.00 | 0.00 | 0.00 | XXX
G0031 |  | C | PET imaging prev PET multple | 0.00 | 0.00 | 0.00 | 0.00 | 0.00 | 0.00 | XXX
G0031 | 26 | A | PET imaging prev PET multple | 1.86 | 0.72 | 0.72 | 0.07 | 2.65 | 2.65 | XXX
G0031 | TC | C | PET imaging prev PET multple | 0.00 | 0.00 | 0.00 | 0.00 | 0.00 | 0.00 | XXX
G0032 |  | C | PET follow SPECT 78464 singl | 0.00 | 0.00 | 0.00 | 0.00 | 0.00 | 0.00 | XXX
G0032 | 26 | A | PET follow SPECT 78464 singl | 1.49 | 0.55 | 0.55 | 0.06 | 2.10 | 2.10 | XXX
G0032 | TC | C | PET follow SPECT 78464 singl | 0.00 | 0.00 | 0.00 | 0.00 | 0.00 | 0.00 | XXX
G0033 |  | C | PET follow SPECT 78464 mult | 0.00 | 0.00 | 0.00 | 0.00 | 0.00 | 0.00 | XXX
G0033 | 26 | A | PET follow SPECT 78464 mult | 1.86 | 0.74 | 0.74 | 0.07 | 2.67 | 2.67 | XXX
G0033 | TC | C | PET follow SPECT 78464 mult | 0.00 | 0.00 | 0.00 | 0.00 | 0.00 | 0.00 | XXX
G0034 |  | C | PET follow SPECT 76865 singl | 0.00 | 0.00 | 0.00 | 0.00 | 0.00 | 0.00 | XXX
G0034 | 26 | A | PET follow SPECT 76865 singl | 1.49 | 0.58 | 0.58 | 0.06 | 2.13 | 2.13 | XXX
G0034 | TC | C | PET follow SPECT 76865 singl | 0.00 | 0.00 | 0.00 | 0.00 | 0.00 | 0.00 | XXX
G0035 |  | C | PET follow SPECT 78465 mult | 0.00 | 0.00 | 0.00 | 0.00 | 0.00 | 0.00 | XXX
G0035 | 26 | A | PET follow SPECT 78465 mult | 1.86 | 0.73 | 0.73 | 0.07 | 2.66 | 2.66 | XXX
G0035 | TC | C | PET follow SPECT 78465 mult | 0.00 | 0.00 | 0.00 | 0.00 | 0.00 | 0.00 | XXX
G0036 |  | C | PET follow cornry angio sing | 0.00 | 0.00 | 0.00 | 0.00 | 0.00 | 0.00 | XXX
G0036 | 26 | A | PET follow cornry angio sing | 1.49 | 0.57 | 0.57 | 0.05 | 2.11 | 2.11 | XXX
G0036 | TC | C | PET follow cornry angio sing | 0.00 | 0.00 | 0.00 | 0.00 | 0.00 | 0.00 | XXX
G0037 |  | C | PET follow cornry angio mult | 0.00 | 0.00 | 0.00 | 0.00 | 0.00 | 0.00 | XXX
G0037 | 26 | A | PET follow cornry angio mult | 1.86 | 0.71 | 0.71 | 0.07 | 2.64 | 2.64 | XXX
G0037 | TC | C | PET follow cornry angio mult | 0.00 | 0.00 | 0.00 | 0.00 | 0.00 | 0.00 | XXX
G0038 |  | C | PET follow myocard perf sing | 0.00 | 0.00 | 0.00 | 0.00 | 0.00 | 0.00 | XXX
G0038 | 26 | A | PET follow myocard perf sing | 1.49 | 0.53 | 0.53 | 0.05 | 2.07 | 2.07 | XXX
G0038 | TC | C | PET follow myocard perf sing | 0.00 | 0.00 | 0.00 | 0.00 | 0.00 | 0.00 | XXX
G0039 |  | C | PET follow myocard perf mult | 0.00 | 0.00 | 0.00 | 0.00 | 0.00 | 0.00 | XXX
G0039 | 26 | A | PET follow myocard perf mult | 1.86 | 0.72 | 0.72 | 0.08 | 2.66 | 2.66 | XXX
G0039 | TC | C | PET follow myocard perf mult | 0.00 | 0.00 | 0.00 | 0.00 | 0.00 | 0.00 | XXX
G0040 |  | C | PET follow stress echo singl | 0.00 | 0.00 | 0.00 | 0.00 | 0.00 | 0.00 | XXX
G0040 | 26 | A | PET follow stress echo singl | 1.49 | 0.61 | 0.61 | 0.05 | 2.15 | 2.15 | XXX
G0040 | TC | C | PET follow stress echo singl | 0.00 | 0.00 | 0.00 | 0.00 | 0.00 | 0.00 | XXX
G0041 |  | C | PET follow stress echo mult | 0.00 | 0.00 | 0.00 | 0.00 | 0.00 | 0.00 | XXX
G0041 | 26 | A | PET follow stress echo mult | 1.86 | 0.74 | 0.74 | 0.06 | 2.66 | 2.66 | XXX
G0041 | TC | C | PET follow stress echo mult | 0.00 | 0.00 | 0.00 | 0.00 | 0.00 | 0.00 | XXX
G0042 |  | C | PET follow ventriculogm sing | 0.00 | 0.00 | 0.00 | 0.00 | 0.00 | 0.00 | XXX
G0042 | 26 | A | PET follow ventriculogm sing | 1.49 | 0.62 | 0.62 | 0.05 | 2.16 | 2.16 | XXX
G0042 | TC | C | PET follow ventriculogm sing | 0.00 | 0.00 | 0.00 | 0.00 | 0.00 | 0.00 | XXX
G0043 |  | C | PET follow ventriculogm mult | 0.00 | 0.00 | 0.00 | 0.00 | 0.00 | 0.00 | XXX
G0043 | 26 | A | PET follow ventriculogm mult | 1.86 | 0.75 | 0.75 | 0.07 | 2.68 | 2.68 | XXX
G0043 | TC | C | PET follow ventriculogm mult | 0.00 | 0.00 | 0.00 | 0.00 | 0.00 | 0.00 | XXX
G0044 |  | C | PET following rest ECG singl | 0.00 | 0.00 | 0.00 | 0.00 | 0.00 | 0.00 | XXX
G0044 | 26 | A | PET following rest ECG singl | 1.49 | 0.60 | 0.60 | 0.05 | 2.14 | 2.14 | XXX
G0044 | TC | C | PET following rest ECG singl | 0.00 | 0.00 | 0.00 | 0.00 | 0.00 | 0.00 | XXX
G0045 |  | C | PET following rest ECG mult | 0.00 | 0.00 | 0.00 | 0.00 | 0.00 | 0.00 | XXX
G0045 | 26 | A | PET following rest ECG mult | 1.86 | 0.73 | 0.73 | 0.07 | 2.66 | 2.66 | XXX
G0045 | TC | C | PET following rest ECG mult | 0.00 | 0.00 | 0.00 | 0.00 | 0.00 | 0.00 | XXX
G0046 |  | C | PET follow stress ECG singl | 0.00 | 0.00 | 0.00 | 0.00 | 0.00 | 0.00 | XXX
G0046 | 26 | A | PET follow stress ECG singl | 1.49 | 0.60 | 0.60 | 0.05 | 2.14 | 2.14 | XXX
G0046 | TC | C | PET follow stress ECG singl | 0.00 | 0.00 | 0.00 | 0.00 | 0.00 | 0.00 | XXX
G0047 |  | C | PET follow stress ECG mult | 0.00 | 0.00 | 0.00 | 0.00 | 0.00 | 0.00 | XXX
G0047 | 26 | A | PET follow stress ECG mult | 1.86 | 0.74 | 0.74 | 0.07 | 2.67 | 2.67 | XXX
G0047 | TC | C | PET follow stress ECG mult | 0.00 | 0.00 | 0.00 | 0.00 | 0.00 | 0.00 | XXX
G0101 |  | A | CA screen;pelvic/breast exam | 0.45 | 0.54 | 0.17 | 0.01 | 1.00 | 0.63 | XXX
G0102 |  | A | Prostate ca screening; dre | 0.17 | 0.41 | 0.06 | 0.01 | 0.59 | 0.24 | XXX
G0103 |  | X | Psa, total screening | 0.00 | 0.00 | 0.00 | 0.00 | 0.00 | 0.00 | XXX
G0104 |  | A | CA screen;flexi sigmoidscope | 0.95 | 2.24 | 0.53 | 0.06 | 3.25 | 1.54 | 000
G0105 |  | A | Colorectal scrn; hi risk ind | 3.68 | 6.13 | 1.60 | 0.24 | 10.05 | 5.52 | 000
G0105 | 53 | A | Colorectal scrn; hi risk ind | 0.95 | 2.24 | 0.53 | 0.06 | 3.25 | 1.54 | 000
G0106 |  | A | Colon CA screen;barium enema | 0.98 | 2.54 | NA | 0.18 | 3.70 | NA | XXX
G0106 | 26 | A | Colon CA screen;barium enema | 0.98 | 0.33 | 0.33 | 0.05 | 1.36 | 1.36 | XXX
G0106 | TC | A | Colon CA screen;barium enema | 0.00 | 2.21 | NA | 0.13 | 2.34 | NA | XXX
G0107 |  | X | CA screen; fecal blood test | 0.00 | 0.00 | 0.00 | 0.00 | 0.00 | 0.00 | XXX
G0108 |  | A | Diab manage trn per indiv | 0.00 | 0.82 | NA | 0.01 | 0.83 | NA | XXX
G0109 |  | A | Diab manage trn ind/group | 0.00 | 0.48 | NA | 0.01 | 0.49 | NA | XXX
G0110 |  | D | Nett pulm-rehab educ; ind | 0.00 | 0.00 | 0.00 | 0.00 | 0.00 | 0.00 | XXX
G0111 |  | D | Nett pulm-rehab educ; group | 0.00 | 0.00 | 0.00 | 0.00 | 0.00 | 0.00 | XXX
G0112 |  | D | Nett;nutrition guid, initial | 0.00 | 0.00 | 0.00 | 0.00 | 0.00 | 0.00 | XXX
G0113 |  | D | Nett;nutrition guid,subseqnt | 0.00 | 0.00 | 0.00 | 0.00 | 0.00 | 0.00 | XXX
G0114 |  | D | Nett; psychosocial consult | 0.00 | 0.00 | 0.00 | 0.00 | 0.00 | 0.00 | XXX
G0115 |  | D | Nett; psychological testing | 0.00 | 0.00 | 0.00 | 0.00 | 0.00 | 0.00 | XXX
G0116 |  | D | Nett; psychosocial counsel | 0.00 | 0.00 | 0.00 | 0.00 | 0.00 | 0.00 | XXX
G0117 |  | T | Glaucoma scrn hgh risk direc | 0.45 | 0.71 | 0.19 | 0.02 | 1.18 | 0.66 | XXX
G0118 |  | T | Glaucoma scrn hgh risk direc | 0.17 | 0.53 | 0.07 | 0.01 | 0.71 | 0.25 | XXX
G0120 |  | A | Colon ca scrn; barium enema | 0.98 | 2.54 | NA | 0.18 | 3.70 | NA | XXX
G0120 | 26 | A | Colon ca scrn; barium enema | 0.98 | 0.33 | 0.33 | 0.05 | 1.36 | 1.36 | XXX
G0120 | TC | A | Colon ca scrn; barium enema | 0.00 | 2.21 | NA | 0.13 | 2.34 | NA | XXX
G0121 |  | A | Colon ca scrn not hi rsk ind | 3.68 | 6.13 | 1.60 | 0.24 | 10.05 | 5.52 | 000
G0121 | 53 | A | Colon ca scrn not hi rsk ind | 0.95 | 2.24 | 0.53 | 0.06 | 3.25 | 1.54 | 000
G0122 |  | N | Colon ca scrn; barium enema | +0.98 | 2.59 | 2.59 | 0.18 | 3.75 | 3.75 | XXX
G0122 | 26 | N | Colon ca scrn; barium enema | +0.98 | 0.39 | 0.39 | 0.05 | 1.42 | 1.42 | XXX
G0122 | TC | N | Colon ca scrn; barium enema | +0.00 | 2.20 | 2.20 | 0.13 | 2.33 | 2.33 | XXX
G0123 |  | X | Screen cerv/vag thin layer | 0.00 | 0.00 | 0.00 | 0.00 | 0.00 | 0.00 | XXX
G0124 |  | A | Screen c/v thin layer by MD | 0.42 | 0.18 | 0.18 | 0.01 | 0.61 | 0.61 | XXX
G0125 |  | C | PET image pulmonary nodule | 0.00 | 0.00 | NA | 0.00 | 0.00 | NA | XXX
G0125 | 26 | A | PET image pulmonary nodule | 1.49 | 0.54 | 0.54 | 0.06 | 2.09 | 2.09 | XXX
G0125 | TC | C | PET image pulmonary nodule | 0.00 | 0.00 | NA | 0.00 | 0.00 | NA | XXX
G0127 |  | R | Trim nail(s) | 0.17 | 0.26 | 0.07 | 0.01 | 0.44 | 0.25 | 000
G0128 |  | R | CORF skilled nursing service | 0.08 | 0.03 | 0.03 | 0.01 | 0.12 | 0.12 | XXX
G0130 |  | A | Single energy x-ray study | 0.22 | 0.86 | NA | 0.06 | 1.14 | NA | XXX
G0130 | 26 | A | Single energy x-ray study | 0.22 | 0.07 | 0.07 | 0.01 | 0.30 | 0.30 | XXX
G0130 | TC | A | Single energy x-ray study | 0.00 | 0.79 | NA | 0.05 | 0.84 | NA | XXX
G0141 |  | A | Scr c/v cyto,autosys and md | 0.42 | 0.18 | 0.18 | 0.01 | 0.61 | 0.61 | XXX
G0143 |  | X | Scr c/v cyto,thinlayer,rescr | 0.00 | 0.00 | 0.00 | 0.00 | 0.00 | 0.00 | XXX
G0144 |  | X | Scr c/v cyto,thinlayer,rescr | 0.00 | 0.00 | 0.00 | 0.00 | 0.00 | 0.00 | XXX
G0145 |  | X | Scr c/v cyto,thinlayer,rescr | 0.00 | 0.00 | 0.00 | 0.00 | 0.00 | 0.00 | XXX
G0147 |  | X | Scr c/v cyto, automated sys | 0.00 | 0.00 | 0.00 | 0.00 | 0.00 | 0.00 | XXX
G0148 |  | X | Scr c/v cyto, autosys, rescr | 0.00 | 0.00 | 0.00 | 0.00 | 0.00 | 0.00 | XXX
G0166 |  | A | Extrnl counterpulse, per tx | 0.07 | 3.67 | 0.03 | 0.01 | 3.75 | 0.11 | XXX
G0167 |  | D | Hyperbaric oz tx;no md reqrd | 0.00 | 0.00 | 0.00 | 0.00 | 0.00 | 0.00 | XXX
G0168 |  | A | Wound closure by adhesive | 0.45 | 1.96 | 0.16 | 0.01 | 2.42 | 0.62 | 000
G0173 |  | X | Stereo radoisurgery,complete | 0.00 | 0.00 | 0.00 | 0.00 | 0.00 | 0.00 | XXX
G0175 |  | X | OPPS Service,sched team conf | 0.00 | 0.00 | 0.00 | 0.00 | 0.00 | 0.00 | XXX
G0176 |  | X | OPPS/PHP;activity therapy | 0.00 | 0.00 | 0.00 | 0.00 | 0.00 | 0.00 | XXX
G0177 |  | X | OPPS/PHP; train & educ serv | 0.00 | 0.00 | 0.00 | 0.00 | 0.00 | 0.00 | XXX
G0179 |  | A | MD recertification HHA PT | 0.45 | 1.09 | NA | 0.01 | 1.55 | NA | XXX
G0180 |  | A | MD certification HHA patient | 0.67 | 1.33 | NA | 0.02 | 2.02 | NA | XXX
G0181 |  | A | Home health care supervision | 1.72 | 1.56 | NA | 0.07 | 3.35 | NA | XXX
G0182 |  | A | Hospice care supervision | 1.72 | 1.76 | NA | 0.07 | 3.55 | NA | XXX
G0186 |  | C | Dstry eye lesn,fdr vssl tech | 0.00 | 0.00 | 0.00 | 0.00 | 0.00 | 0.00 | YYY
G0202 |  | A | Screeningmammographydigital | 0.70 | 2.75 | NA | 0.11 | 3.56 | NA | XXX
G0202 | 26 | A | Screeningmammographydigital | 0.70 | 0.23 | 0.23 | 0.04 | 0.97 | 0.97 | XXX
G0202 | TC | A | Screeningmammographydigital | 0.00 | 2.52 | NA | 0.07 | 2.59 | NA | XXX
G0204 |  | A | Diagnosticmammographydigital | 0.87 | 2.77 | NA | 0.12 | 3.76 | NA | XXX
G0204 | 26 | A | Diagnosticmammographydigital | 0.87 | 0.29 | 0.29 | 0.05 | 1.21 | 1.21 | XXX
G0204 | TC | A | Diagnosticmammographydigital | 0.00 | 2.48 | NA | 0.07 | 2.55 | NA | XXX
G0206 |  | A | Diagnosticmammographydigital | 0.70 | 2.23 | NA | 0.11 | 3.04 | NA | XXX
G0206 | 26 | A | Diagnosticmammographydigital | 0.70 | 0.23 | 0.23 | 0.05 | 0.98 | 0.98 | XXX
G0206 | TC | A | Diagnosticmammographydigital | 0.00 | 2.00 | NA | 0.06 | 2.06 | NA | XXX
G0210 |  | C | PET img wholebody dxlung | 0.00 | 0.00 | 0.00 | 0.00 | 0.00 | 0.00 | XXX
G0210 | 26 | A | PET img wholebody dxlung | 1.49 | 0.52 | 0.52 | 0.05 | 2.06 | 2.06 | XXX
G0210 | TC | C | PET img wholebody dxlung | 0.00 | 0.00 | 0.00 | 0.00 | 0.00 | 0.00 | XXX
G0211 |  | C | PET img wholbody init lung | 0.00 | 0.00 | 0.00 | 0.00 | 0.00 | 0.00 | XXX
G0211 | 26 | A | PET img wholbody init lung | 1.49 | 0.52 | 0.52 | 0.05 | 2.06 | 2.06 | XXX
G0211 | TC | C | PET img wholbody init lung | 0.00 | 0.00 | 0.00 | 0.00 | 0.00 | 0.00 | XXX
G0212 |  | C | PET img wholebod restag lung | 0.00 | 0.00 | 0.00 | 0.00 | 0.00 | 0.00 | XXX
G0212 | 26 | A | PET img wholebod restag lung | 1.49 | 0.52 | 0.52 | 0.05 | 2.06 | 2.06 | XXX
G0212 | TC | C | PET img wholebod restag lung | 0.00 | 0.00 | 0.00 | 0.00 | 0.00 | 0.00 | XXX
G0213 |  | C | PET img wholbody dx | 0.00 | 0.00 | 0.00 | 0.00 | 0.00 | 0.00 | XXX
G0213 | 26 | A | PET img wholbody dx | 1.49 | 0.52 | 0.52 | 0.05 | 2.06 | 2.06 | XXX
G0213 | TC | C | PET img wholbody dx | 0.00 | 0.00 | 0.00 | 0.00 | 0.00 | 0.00 | XXX
G0214 |  | C | PET img wholebod init | 0.00 | 0.00 | 0.00 | 0.00 | 0.00 | 0.00 | XXX
G0214 | 26 | A | PET img wholebod init | 1.49 | 0.52 | 0.52 | 0.05 | 2.06 | 2.06 | XXX
G0214 | TC | C | PET img wholebod init | 0.00 | 0.00 | 0.00 | 0.00 | 0.00 | 0.00 | XXX
G0215 |  | C | PETimg wholebod restag | 0.00 | 0.00 | 0.00 | 0.00 | 0.00 | 0.00 | XXX
G0215 | 26 | A | PETimg wholebod restag | 1.49 | 0.53 | 0.53 | 0.05 | 2.07 | 2.07 | XXX
G0215 | TC | C | PETimg wholebod restag | 0.00 | 0.00 | 0.00 | 0.00 | 0.00 | 0.00 | XXX
G0216 |  | C | PET img wholebod dx melanoma | 0.00 | 0.00 | 0.00 | 0.00 | 0.00 | 0.00 | XXX
G0216 | 26 | A | PET img wholebod dx melanoma | 1.49 | 0.52 | 0.52 | 0.05 | 2.06 | 2.06 | XXX
G0216 | TC | C | PET img wholebod dx melanoma | 0.00 | 0.00 | 0.00 | 0.00 | 0.00 | 0.00 | XXX
G0217 |  | C | PET img wholebod init melan | 0.00 | 0.00 | 0.00 | 0.00 | 0.00 | 0.00 | XXX
G0217 | 26 | A | PET img wholebod init melan | 1.49 | 0.53 | 0.53 | 0.05 | 2.07 | 2.07 | XXX
G0217 | TC | C | PET img wholebod init melan | 0.00 | 0.00 | 0.00 | 0.00 | 0.00 | 0.00 | XXX
G0218 |  | C | PET img wholebod restag mela | 0.00 | 0.00 | 0.00 | 0.00 | 0.00 | 0.00 | XXX
G0218 | 26 | A | PET img wholebod restag mela | 1.49 | 0.53 | 0.53 | 0.05 | 2.07 | 2.07 | XXX
G0218 | TC | C | PET img wholebod restag mela | 0.00 | 0.00 | 0.00 | 0.00 | 0.00 | 0.00 | XXX
G0219 |  | N | PET img wholbod melano nonco | 0.00 | 0.00 | 0.00 | 0.00 | 0.00 | 0.00 | XXX
G0219 | 26 | N | PET img wholbod melano nonco | 0.00 | 0.00 | 0.00 | 0.00 | 0.00 | 0.00 | XXX
G0219 | TC | N | PET img wholbod melano nonco | 0.00 | 0.00 | 0.00 | 0.00 | 0.00 | 0.00 | XXX
G0220 |  | C | PET img wholebod dx lymphoma | 0.00 | 0.00 | 0.00 | 0.00 | 0.00 | 0.00 | XXX
G0220 | 26 | A | PET img wholebod dx lymphoma | 1.49 | 0.52 | 0.52 | 0.05 | 2.06 | 2.06 | XXX
G0220 | TC | C | PET img wholebod dx lymphoma | 0.00 | 0.00 | 0.00 | 0.00 | 0.00 | 0.00 | XXX
G0221 |  | C | PET imag wholbod init lympho | 0.00 | 0.00 | 0.00 | 0.00 | 0.00 | 0.00 | XXX
G0221 | 26 | A | PET imag wholbod init lympho | 1.49 | 0.52 | 0.52 | 0.05 | 2.06 | 2.06 | XXX
G0221 | TC | C | PET imag wholbod init lympho | 0.00 | 0.00 | 0.00 | 0.00 | 0.00 | 0.00 | XXX
G0222 |  | C | PET imag wholbod resta lymph | 0.00 | 0.00 | 0.00 | 0.00 | 0.00 | 0.00 | XXX
G0222 | 26 | A | PET imag wholbod resta lymph | 1.49 | 0.53 | 0.53 | 0.05 | 2.07 | 2.07 | XXX
G0222 | TC | C | PET imag wholbod resta lymph | 0.00 | 0.00 | 0.00 | 0.00 | 0.00 | 0.00 | XXX
G0223 |  | C | PET imag wholbod reg dx head | 0.00 | 0.00 | 0.00 | 0.00 | 0.00 | 0.00 | XXX
G0223 | 26 | A | PET imag wholbod reg dx head | 1.49 | 0.52 | 0.52 | 0.05 | 2.06 | 2.06 | XXX
G0223 | TC | C | PET imag wholbod reg dx head | 0.00 | 0.00 | 0.00 | 0.00 | 0.00 | 0.00 | XXX
G0224 |  | C | PET imag wholbod reg ini hea | 0.00 | 0.00 | 0.00 | 0.00 | 0.00 | 0.00 | XXX
G0224 | 26 | A | PET imag wholbod reg ini hea | 1.49 | 0.52 | 0.52 | 0.05 | 2.06 | 2.06 | XXX
G0224 | TC | C | PET imag wholbod reg ini hea | 0.00 | 0.00 | 0.00 | 0.00 | 0.00 | 0.00 | XXX
G0225 |  | C | PET whol restag headneckonly | 0.00 | 0.00 | 0.00 | 0.00 | 0.00 | 0.00 | XXX
G0225 | 26 | A | PET whol restag headneckonly | 1.49 | 0.53 | 0.53 | 0.05 | 2.07 | 2.07 | XXX
G0225 | TC | C | PET whol restag headneckonly | 0.00 | 0.00 | 0.00 | 0.00 | 0.00 | 0.00 | XXX
G0226 |  | C | PET img wholbody dx esophagl | 0.00 | 0.00 | 0.00 | 0.00 | 0.00 | 0.00 | XXX
G0226 | 26 | A | PET img wholbody dx esophagl | 1.49 | 0.54 | 0.54 | 0.05 | 2.08 | 2.08 | XXX
G0226 | TC | C | PET img wholbody dx esophagl | 0.00 | 0.00 | 0.00 | 0.00 | 0.00 | 0.00 | XXX
G0227 |  | C | PET img wholbod ini esophage | 0.00 | 0.00 | 0.00 | 0.00 | 0.00 | 0.00 | XXX
G0227 | 26 | A | PET img wholbod ini esophage | 1.49 | 0.54 | 0.54 | 0.05 | 2.08 | 2.08 | XXX
G0227 | TC | C | PET img wholbod ini esophage | 0.00 | 0.00 | 0.00 | 0.00 | 0.00 | 0.00 | XXX
G0228 |  | C | PET img wholbod restg esopha | 0.00 | 0.00 | 0.00 | 0.00 | 0.00 | 0.00 | XXX
G0228 | 26 | A | PET img wholbod restg esopha | 1.49 | 0.52 | 0.52 | 0.05 | 2.06 | 2.06 | XXX
G0228 | TC | C | PET img wholbod restg esopha | 0.00 | 0.00 | 0.00 | 0.00 | 0.00 | 0.00 | XXX
G0229 |  | C | PET img metaboloc brain pres | 0.00 | 0.00 | 0.00 | 0.00 | 0.00 | 0.00 | XXX
G0229 | 26 | A | PET img metaboloc brain pres | 1.49 | 0.53 | 0.53 | 0.05 | 2.07 | 2.07 | XXX
G0229 | TC | C | PET img metaboloc brain pres | 0.00 | 0.00 | 0.00 | 0.00 | 0.00 | 0.00 | XXX
G0230 |  | C | PET myocard viability post | 0.00 | 0.00 | 0.00 | 0.00 | 0.00 | 0.00 | XXX
G0230 | 26 | A | PET myocard viability post | 1.49 | 0.55 | 0.55 | 0.05 | 2.09 | 2.09 | XXX
G0230 | TC | C | PET myocard viability post | 0.00 | 0.00 | 0.00 | 0.00 | 0.00 | 0.00 | XXX
G0231 |  | C | PET WhBD colorec; gamma cam | 0.00 | 0.00 | 0.00 | 0.00 | 0.00 | 0.00 | XXX
G0231 | 26 | A | PET WhBD colorec; gamma cam | 1.49 | 0.52 | 0.52 | 0.05 | 2.06 | 2.06 | XXX
G0231 | TC | C | PET WhBD colorec; gamma cam | 0.00 | 0.00 | 0.00 | 0.00 | 0.00 | 0.00 | XXX
G0232 |  | C | PET whbd lymphoma; gamma cam | 0.00 | 0.00 | 0.00 | 0.00 | 0.00 | 0.00 | XXX
G0232 | 26 | A | PET whbd lymphoma; gamma cam | 1.49 | 0.53 | 0.53 | 0.05 | 2.07 | 2.07 | XXX
G0232 | TC | C | PET whbd lymphoma; gamma cam | 0.00 | 0.00 | 0.00 | 0.00 | 0.00 | 0.00 | XXX
G0233 |  | C | PET whbd melanoma; gamma cam | 0.00 | 0.00 | 0.00 | 0.00 | 0.00 | 0.00 | XXX
G0233 | 26 | A | PET whbd melanoma; gamma cam | 1.49 | 0.53 | 0.53 | 0.05 | 2.07 | 2.07 | XXX
G0233 | TC | C | PET whbd melanoma; gamma cam | 0.00 | 0.00 | 0.00 | 0.00 | 0.00 | 0.00 | XXX
G0234 |  | C | PET WhBD pulm nod; gamma cam | 0.00 | 0.00 | 0.00 | 0.00 | 0.00 | 0.00 | XXX
G0234 | 26 | A | PET WhBD pulm nod; gamma cam | 1.49 | 0.53 | 0.53 | 0.05 | 2.07 | 2.07 | XXX
G0234 | TC | C | PET WhBD pulm nod; gamma cam | 0.00 | 0.00 | 0.00 | 0.00 | 0.00 | 0.00 | XXX
G0236 |  | F | Digital film convert diag ma | +0.00 | 0.00 | 0.00 | 0.00 | 0.00 | 0.00 | ZZZ
G0236 | 26 | F | Digital film convert diag ma | +0.00 | 0.00 | 0.00 | 0.00 | 0.00 | 0.00 | ZZZ
G0236 | TC | F | Digital film convert diag ma | +0.00 | 0.00 | 0.00 | 0.00 | 0.00 | 0.00 | ZZZ
G0237 |  | A | Therapeutic procd strg endur | 0.00 | 0.47 | NA | 0.02 | 0.49 | NA | XXX
G0238 |  | C | Oth resp proc, indiv | 0.00 | 0.00 | 0.00 | 0.00 | 0.00 | 0.00 | XXX
G0239 |  | C | Oth resp proc, group | 0.00 | 0.00 | 0.00 | 0.00 | 0.00 | 0.00 | XXX
G0242 |  | X | Multisource photon ster plan | 0.00 | 0.00 | 0.00 | 0.00 | 0.00 | 0.00 | XXX
G0243 |  | X | Multisour photon stero treat | 0.00 | 0.00 | 0.00 | 0.00 | 0.00 | 0.00 | XXX
G0244 |  | E | Observ care by facility topt | 0.00 | 0.00 | 0.00 | 0.00 | 0.00 | 0.00 | XXX
G0245 |  | R | Initial foot exam pt lops | 0.87 | 0.79 | 0.32 | 0.06 | 1.72 | 1.25 | XXX
G0246 |  | R | Followup eval of foot pt lop | 0.45 | 0.56 | 0.16 | 0.02 | 1.03 | 0.63 | XXX
G0247 |  | R | Routine footcare pt w lops | 0.50 | 0.52 | 0.21 | 0.06 | 1.08 | 0.77 | ZZZ
G0248 |  | R | Demonstrate use home inr mon | 0.00 | 6.84 | NA | 0.01 | 6.85 | NA | XXX
G0249 |  | R | Provide test material,equipm | 0.00 | 3.97 | NA | 0.01 | 3.98 | NA | XXX
G0250 |  | R | MD review interpret of test | 0.18 | 0.06 | 0.06 | 0.01 | 0.25 | 0.25 | XXX
G0251 |  | E | Linear acc based stero radio | 0.00 | 0.00 | 0.00 | 0.00 | 0.00 | 0.00 | XXX
G0252 |  | N | PET imaging initial dx | 0.00 | 0.00 | 0.00 | 0.00 | 0.00 | 0.00 | XXX
G0252 | 26 | N | PET imaging initial dx | +1.50 | 0.60 | 0.60 | 0.04 | 2.14 | 2.14 | XXX
G0252 | TC | N | PET imaging initial dx | 0.00 | 0.00 | 0.00 | 0.00 | 0.00 | 0.00 | XXX
G0253 |  | C | PET image brst dection recur | 0.00 | 0.00 | 0.00 | 0.00 | 0.00 | 0.00 | XXX
G0253 | 26 | A | PET image brst dection recur | 1.86 | 0.71 | 0.71 | 0.08 | 2.65 | 2.65 | XXX
G0253 | TC | C | PET image brst dection recur | 0.00 | 0.00 | 0.00 | 0.00 | 0.00 | 0.00 | XXX
G0254 |  | C | PET image brst eval to tx | 0.00 | 0.00 | 0.00 | 0.00 | 0.00 | 0.00 | XXX
G0254 | 26 | A | PET image brst eval to tx | 1.86 | 0.71 | 0.71 | 0.08 | 2.65 | 2.65 | XXX
G0254 | TC | C | PET image brst eval to tx | 0.00 | 0.00 | 0.00 | 0.00 | 0.00 | 0.00 | XXX
G0255 |  | N | Current percep threshold tst | 0.00 | 0.00 | 0.00 | 0.00 | 0.00 | 0.00 | XXX
G0255 | 26 | N | Current percep threshold tst | 0.00 | 0.00 | 0.00 | 0.00 | 0.00 | 0.00 | XXX
G0255 | TC | N | Current percep threshold tst | 0.00 | 0.00 | 0.00 | 0.00 | 0.00 | 0.00 | XXX
G0256 |  | E | Prostate brachy w palladium | 0.00 | 0.00 | 0.00 | 0.00 | 0.00 | 0.00 | XXX
G0257 |  | E | Unsched dialysis ESRD pt hos | 0.00 | 0.00 | 0.00 | 0.00 | 0.00 | 0.00 | XXX
G0258 |  | E | IV infusion during obs stay | 0.00 | 0.00 | 0.00 | 0.00 | 0.00 | 0.00 | XXX
G0259 |  | E | Inject for sacroiliac joint | 0.00 | 0.00 | 0.00 | 0.00 | 0.00 | 0.00 | XXX
G0260 |  | E | Inj for sacroiliac jt anesth | 0.00 | 0.00 | 0.00 | 0.00 | 0.00 | 0.00 | XXX
G0261 |  | E | Prostate brachy w iodine see | 0.00 | 0.00 | 0.00 | 0.00 | 0.00 | 0.00 | XXX
G0262 |  | D | Sm intestinal image capsule | 0.00 | 0.00 | 0.00 | 0.00 | 0.00 | 0.00 | XXX
G0262 | 26 | D | Sm intestinal image capsule | 0.00 | 0.00 | 0.00 | 0.00 | 0.00 | 0.00 | XXX
G0262 | TC | D | Sm intestinal image capsule | 0.00 | 0.00 | 0.00 | 0.00 | 0.00 | 0.00 | XXX
G0263 |  | E | Adm with CHF, CP, asthma | 0.00 | 0.00 | 0.00 | 0.00 | 0.00 | 0.00 | XXX
G0264 |  | E | Assmt otr CHF, CP, asthma | 0.00 | 0.00 | 0.00 | 0.00 | 0.00 | 0.00 | XXX
G0265 |  | X | Cryopresevation Freeze+stora | 0.00 | 0.00 | 0.00 | 0.00 | 0.00 | 0.00 | XXX
G0266 |  | X | Thawing + expansion froz cel | 0.00 | 0.00 | 0.00 | 0.00 | 0.00 | 0.00 | XXX
G0267 |  | X | Bone marrow or psc harvest | 0.00 | 0.00 | 0.00 | 0.00 | 0.00 | 0.00 | XXX
G0268 |  | A | Removal of impacted wax md | 0.61 | 0.64 | 0.25 | 0.05 | 1.30 | 0.91 | 000
G0269 |  | B | Occlusive device in vein art | 0.00 | 0.00 | 0.00 | 0.00 | 0.00 | 0.00 | XXX
G0270 |  | A | MNT subs tx for change dx | 0.00 | 0.47 | NA | 0.01 | 0.48 | NA | XXX
G0271 |  | A | Group MNT 2 or more 30 mins | 0.00 | 0.18 | NA | 0.01 | 0.19 | NA | XXX
G0272 |  | D | Naso/oro gastric tube pl MD | 0.00 | 0.00 | 0.00 | 0.00 | 0.00 | 0.00 | 000
G0273 |  | D | Pretx planning, non-Hodgkins | 0.00 | 0.00 | 0.00 | 0.00 | 0.00 | 0.00 | XXX
G0273 | 26 | D | Pretx planning, non-Hodgkins | 0.00 | 0.00 | 0.00 | 0.00 | 0.00 | 0.00 | XXX
G0273 | TC | D | Pretx planning, non-Hodgkins | 0.00 | 0.00 | 0.00 | 0.00 | 0.00 | 0.00 | XXX
G0274 |  | D | Radiopharm tx, non-Hodgkins | 0.00 | 0.00 | 0.00 | 0.00 | 0.00 | 0.00 | XXX
G0274 | 26 | D | Radiopharm tx, non-Hodgkins | 0.00 | 0.00 | 0.00 | 0.00 | 0.00 | 0.00 | XXX
G0274 | TC | D | Radiopharm tx, non-Hodgkins | 0.00 | 0.00 | 0.00 | 0.00 | 0.00 | 0.00 | XXX
G0275 |  | A | Renal angio, cardiac cath | 0.25 | NA | 0.10 | 0.01 | NA | 0.36 | ZZZ
G0278 |  | A | Iliac art angio,cardiac cath | 0.25 | NA | 0.10 | 0.01 | NA | 0.36 | ZZZ
G0279 |  | C | Excorp shock tx, elbow epi | 0.00 | 0.00 | 0.00 | 0.00 | 0.00 | 0.00 | XXX
G0280 |  | C | Excorp shock tx other than | 0.00 | 0.00 | 0.00 | 0.00 | 0.00 | 0.00 | XXX
G0281 |  | A | Elec stim unattend for press | 0.18 | 0.11 | NA | 0.01 | 0.30 | NA | XXX
G0282 |  | N | Elect stim wound care not pd | 0.00 | 0.00 | 0.00 | 0.00 | 0.00 | 0.00 | XXX
G0283 |  | A | Elec stim other than wound | 0.18 | 0.11 | NA | 0.01 | 0.30 | NA | XXX
G0288 |  | A | Recon, CTA for surg plan | 0.00 | 10.53 | NA | 0.18 | 10.71 | NA | XXX
G0289 |  | A | Arthro, loose body + chondro | 1.47 | NA | 0.57 | 0.32 | NA | 2.36 | ZZZ
G0290 |  | E | Drug-eluting stents, single | 0.00 | 0.00 | 0.00 | 0.00 | 0.00 | 0.00 | XXX
G0291 |  | E | Drug-eluting stents,each add | 0.00 | 0.00 | 0.00 | 0.00 | 0.00 | 0.00 | XXX
G0292 |  | E | Adm exp drugs,clinical trial | 0.00 | 0.00 | 0.00 | 0.00 | 0.00 | 0.00 | XXX
G0293 |  | E | Non-cov surg proc,clin trial | 0.00 | 0.00 | 0.00 | 0.00 | 0.00 | 0.00 | XXX
G0294 |  | E | Non-cov proc, clinical trial | 0.00 | 0.00 | 0.00 | 0.00 | 0.00 | 0.00 | XXX
G0295 |  | N | Electromagnetic therapy onc | 0.00 | 0.00 | 0.00 | 0.00 | 0.00 | 0.00 | XXX
G0296 |  | C | PET imge restag thyrod cance | 0.00 | 0.00 | 0.00 | 0.00 | 0.00 | 0.00 | XXX
G0296 | 26 | A | PET imge restag thyrod cance | 1.86 | 0.71 | 0.71 | 0.08 | 2.65 | 2.65 | XXX
G0296 | TC | C | PET imge restag thyrod cance | 0.00 | 0.00 | 0.00 | 0.00 | 0.00 | 0.00 | XXX
G0297 |  | X | Insert single chamber/cd | 0.00 | 0.00 | 0.00 | 0.00 | 0.00 | 0.00 | XXX
G0298 |  | X | Insert dual chamber/cd | 0.00 | 0.00 | 0.00 | 0.00 | 0.00 | 0.00 | XXX
G0299 |  | X | Inser/repos single icd+leads | 0.00 | 0.00 | 0.00 | 0.00 | 0.00 | 0.00 | XXX
G0300 |  | X | Insert reposit lead dual+gen | 0.00 | 0.00 | 0.00 | 0.00 | 0.00 | 0.00 | XXX
G0302 |  | X | Pre-op service LVRS complete | 0.00 | 0.00 | 0.00 | 0.00 | 0.00 | 0.00 | XXX
G0303 |  | X | Pre-op service LVRS 10-15dos | 0.00 | 0.00 | 0.00 | 0.00 | 0.00 | 0.00 | XXX
G0304 |  | X | Pre-op service LVRS 1-9 dos | 0.00 | 0.00 | 0.00 | 0.00 | 0.00 | 0.00 | XXX
G0305 |  | X | Post op service LVRS min 6 | 0.00 | 0.00 | 0.00 | 0.00 | 0.00 | 0.00 | XXX
G0306 |  | X | CBC/diffwbc w/o platelet | 0.00 | 0.00 | 0.00 | 0.00 | 0.00 | 0.00 | XXX
G0307 |  | X | CBC without platelet | 0.00 | 0.00 | 0.00 | 0.00 | 0.00 | 0.00 | XXX
G0308 |  | A | ESRD related svc 4+mo<2yrs | 12.69 | 8.58 | 8.58 | 0.42 | 21.69 | 21.69 | XXX
G0309 |  | A | ESRD related svc 2-3mo<2yrs | 10.57 | 7.13 | 7.13 | 0.36 | 18.06 | 18.06 | XXX
G0310 |  | A | ESRD related svc 1 visit<2yr | 8.45 | 5.72 | 5.72 | 0.28 | 14.45 | 14.45 | XXX
G0311 |  | A | ESRD related svs 4+mo 2-11yr | 9.68 | 4.74 | 4.74 | 0.34 | 14.76 | 14.76 | XXX
G0312 |  | A | ESRD relate svs 2-3 mo 2-11y | 8.07 | 3.94 | 3.94 | 0.29 | 12.30 | 12.30 | XXX
G0313 |  | A | ESRD related svs 1 mon 2-11y | 6.46 | 3.16 | 3.16 | 0.22 | 9.84 | 9.84 | XXX
G0314 |  | A | ESRD related svs 4+ mo 12-19 | 8.24 | 4.45 | 4.45 | 0.26 | 12.95 | 12.95 | XXX
G0315 |  | A | ESRD related svs 2-3mo 12-19 | 6.87 | 3.69 | 3.69 | 0.23 | 10.79 | 10.79 | XXX
G0316 |  | A | ESRD relate svs 1 vist 12-19 | 5.50 | 2.96 | 2.96 | 0.17 | 8.63 | 8.63 | XXX
G0317 |  | A | ESRD related svs 4+mo 20+yrs | 5.07 | 2.88 | 2.88 | 0.17 | 8.12 | 8.12 | XXX
G0318 |  | A | ESRD related svs 2-3 mo 20+y | 4.23 | 2.39 | 2.39 | 0.14 | 6.76 | 6.76 | XXX
G0319 |  | A | ESRD related svs 1 visit 20+ | 3.38 | 1.92 | 1.92 | 0.11 | 5.41 | 5.41 | XXX
G0320 |  | A | ESRD related svs home under2 | 10.57 | 7.13 | 7.13 | 0.36 | 18.06 | 18.06 | XXX
G0321 |  | A | ESRD related svs home mo<2ys | 6.87 | 3.69 | 3.69 | 0.23 | 10.79 | 10.79 | XXX
G0322 |  | A | ESRD relate svs home mo12-19 | 8.07 | 3.94 | 3.94 | 0.29 | 12.30 | 12.30 | XXX
G0323 |  | A | ESRD related svs home mo 20+ | 4.23 | 2.39 | 2.39 | 0.14 | 6.76 | 6.76 | XXX
G0324 |  | A | ESRD related svs home/dy<2y | 0.35 | 0.24 | 0.24 | 0.01 | 0.60 | 0.60 | XXX
G0325 |  | A | ESRD relate home/dy 2-11 yr | 0.23 | 0.12 | 0.12 | 0.01 | 0.36 | 0.36 | XXX
G0326 |  | A | ESRD relate home/dy 12-19y | 0.27 | 0.13 | 0.13 | 0.01 | 0.41 | 0.41 | XXX
G0327 |  | A | ESRD relate home/dy 20+yrs | 0.14 | 0.08 | 0.08 | 0.01 | 0.23 | 0.23 | XXX
G3001 |  | X | Admin + supply, tositumomab | 0.00 | 0.00 | 0.00 | 0.00 | 0.00 | 0.00 | XXX
G9001 |  | X | MCCD, initial rate | 0.00 | 0.00 | 0.00 | 0.00 | 0.00 | 0.00 | XXX
G9002 |  | X | MCCD,maintenance rate | 0.00 | 0.00 | 0.00 | 0.00 | 0.00 | 0.00 | XXX
G9003 |  | X | MCCD, risk adj hi, initial | 0.00 | 0.00 | 0.00 | 0.00 | 0.00 | 0.00 | XXX
G9004 |  | X | MCCD, risk adj lo, initial | 0.00 | 0.00 | 0.00 | 0.00 | 0.00 | 0.00 | XXX
G9005 |  | X | MCCD, risk adj, maintenance | 0.00 | 0.00 | 0.00 | 0.00 | 0.00 | 0.00 | XXX
G9006 |  | X | MCCD, Home monitoring | 0.00 | 0.00 | 0.00 | 0.00 | 0.00 | 0.00 | XXX
G9007 |  | X | MCCD, sch team conf | 0.00 | 0.00 | 0.00 | 0.00 | 0.00 | 0.00 | XXX
G9008 |  | X | Mccd,phys coor-care ovrsght | 0.00 | 0.00 | 0.00 | 0.00 | 0.00 | 0.00 | XXX
G9009 |  | X | MCCD, risk adj, level 3 | 0.00 | 0.00 | 0.00 | 0.00 | 0.00 | 0.00 | XXX
G9010 |  | X | MCCD, risk adj, level 4 | 0.00 | 0.00 | 0.00 | 0.00 | 0.00 | 0.00 | XXX
G9011 |  | X | MCCD, risk adj, level 5 | 0.00 | 0.00 | 0.00 | 0.00 | 0.00 | 0.00 | XXX
G9012 |  | X | Other Specified Case Mgmt | 0.00 | 0.00 | 0.00 | 0.00 | 0.00 | 0.00 | XXX
G9016 |  | N | Demo-smoking cessation coun | 0.00 | 0.00 | 0.00 | 0.00 | 0.00 | 0.00 | XXX
M0064 |  | A | Visit for drug monitoring | 0.37 | 0.35 | 0.12 | 0.01 | 0.73 | 0.50 | XXX
P3001 |  | A | Screening pap smear by phys | 0.42 | 0.18 | 0.18 | 0.01 | 0.61 | 0.61 | XXX
Q0035 |  | A | Cardiokymography | 0.17 | 0.46 | NA | 0.03 | 0.66 | NA | XXX
Q0035 | 26 | A | Cardiokymography | 0.17 | 0.07 | 0.07 | 0.01 | 0.25 | 0.25 | XXX
Q0035 | TC | A | Cardiokymography | 0.00 | 0.39 | NA | 0.02 | 0.41 | NA | XXX
Q0091 |  | A | Obtaining screen pap smear | 0.37 | 0.67 | 0.14 | 0.01 | 1.05 | 0.52 | XXX
Q0092 |  | A | Set up port xray equipment | 0.00 | 0.32 | NA | 0.01 | 0.33 | NA | XXX
Q3014 |  | X | Telehealth facility fee | 0.00 | 0.00 | 0.00 | 0.00 | 0.00 | 0.00 | XXX
R0070 |  | C | Transport portable x-ray | 0.00 | 0.00 | 0.00 | 0.00 | 0.00 | 0.00 | XXX
R0075 |  | C | Transport port x-ray multipl | 0.00 | 0.00 | 0.00 | 0.00 | 0.00 | 0.00 | XXX
R0076 |  | B | Transport portable EKG | 0.00 | 0.00 | 0.00 | 0.00 | 0.00 | 0.00 | XXX
V5299 |  | R | Hearing service | 0.00 | 0.00 | 0.00 | 0.00 | 0.00 | 0.00 | XXX
¹ CPT codes and descriptions only are copyright 2003 American Medical Association. All Rights Reserved. Applicable FARS/DFARS Apply.
² Copyright 2003 American Dental Association. All rights reserved.
³ +Indicates RVUs are not used for Medicare payment.

——————————

¹ CPT codes and descriptions only are copyright 2003 American Medical Association. All Rights Reserved. Applicable FARS/DFARS Apply.

² Copyright 2003 American Dental Association. All rights reserved.

³ +Indicates RVUs are not used for Medicare payment.

Addendum C.—Codes With Interim RVUs
CPT ¹/HCPCS ² | MOD | Status | Description | Physician work RVUs³ | Non-facility PE RVUs | Facility PE RVUs | Malpractice RVUs | Non-facility total | Facility total | Global
11400 |  | A | Exc tr-ext b9+marg 0.5 < cm | 0.85 | 2.04 | 0.90 | 0.07 | 2.96 | 1.82 | 010
11401 |  | A | Exc tr-ext b9+marg 0.6-1 cm | 1.22 | 2.10 | 1.04 | 0.11 | 3.43 | 2.37 | 010
11402 |  | A | Exc tr-ext b9+marg 1.1-2 cm | 1.50 | 2.27 | 1.10 | 0.14 | 3.91 | 2.74 | 010
11403 |  | A | Exc tr-ext b9+marg 2.1-3 cm | 1.78 | 2.45 | 1.35 | 0.19 | 4.42 | 3.32 | 010
11404 |  | A | Exc tr-ext b9+marg 3.1-4 cm | 2.05 | 2.77 | 1.43 | 0.22 | 5.04 | 3.70 | 010
11406 |  | A | Exc tr-ext b9+marg > 4.0 cm | 2.74 | 3.14 | 1.69 | 0.30 | 6.18 | 4.73 | 010
11420 |  | A | Exc h-f-nk-sp b9+marg 0.5 < | 0.97 | 1.80 | 0.94 | 0.10 | 2.87 | 2.01 | 010
11421 |  | A | Exc h-f-nk-sp b9+marg 0.6-1 | 1.41 | 2.10 | 1.13 | 0.13 | 3.64 | 2.67 | 010
11422 |  | A | Exc h-f-nk-sp b9+marg 1.1-2 | 1.62 | 2.30 | 1.36 | 0.17 | 4.09 | 3.15 | 010
11423 |  | A | Exc h-f-nk-sp b9+marg 2.1-3 | 2.00 | 2.64 | 1.48 | 0.20 | 4.84 | 3.68 | 010
11424 |  | A | Exc h-f-nk-sp b9+marg 3.1-4 | 2.42 | 2.86 | 1.63 | 0.25 | 5.53 | 4.30 | 010
11426 |  | A | Exc h-f-nk-sp b9+marg > 4 cm | 3.76 | 3.57 | 2.13 | 0.41 | 7.74 | 6.30 | 010
11440 |  | A | Exc face-mm b9+marg 0.5 < cm | 1.05 | 2.31 | 1.35 | 0.10 | 3.46 | 2.50 | 010
11441 |  | A | Exc face-mm b9+marg 0.6-1 cm | 1.47 | 2.42 | 1.53 | 0.13 | 4.02 | 3.13 | 010
11442 |  | A | Exc face-mm b9+marg 1.1-2 cm | 1.71 | 2.62 | 1.60 | 0.17 | 4.50 | 3.48 | 010
11443 |  | A | Exc face-mm b9+marg 2.1-3 cm | 2.28 | 3.01 | 1.85 | 0.22 | 5.51 | 4.35 | 010
11444 |  | A | Exc face-mm b9+marg 3.1-4 cm | 3.12 | 3.58 | 2.21 | 0.30 | 7.00 | 5.63 | 010
11446 |  | A | Exc face-mm b9+marg > 4 cm | 4.46 | 4.16 | 2.82 | 0.36 | 8.98 | 7.64 | 010
11600 |  | A | Exc tr-ext mlg+marg 0.5 < cm | 1.30 | 2.70 | 0.99 | 0.11 | 4.11 | 2.40 | 010
11601 |  | A | Exc tr-ext mlg+marg 0.6-1 cm | 1.79 | 2.76 | 1.24 | 0.14 | 4.69 | 3.17 | 010
11602 |  | A | Exc tr-ext mlg+marg 1.1-2 cm | 1.94 | 2.90 | 1.29 | 0.16 | 5.00 | 3.39 | 010
11603 |  | A | Exc tr-ext mlg+marg 2.1-3 cm | 2.18 | 3.15 | 1.35 | 0.19 | 5.52 | 3.72 | 010
11604 |  | A | Exc tr-ext mlg+marg 3.1-4 cm | 2.39 | 3.46 | 1.42 | 0.22 | 6.07 | 4.03 | 010
11606 |  | A | Exc tr-ext mlg+marg > 4 cm | 3.41 | 4.16 | 1.77 | 0.34 | 7.91 | 5.52 | 010
11620 |  | A | Exc h-f-nk-sp mlg+marg 0.5 < | 1.18 | 2.66 | 0.97 | 0.11 | 3.95 | 2.26 | 010
11621 |  | A | Exc h-f-nk-sp mlg+marg 0.6-1 | 1.75 | 2.77 | 1.26 | 0.14 | 4.66 | 3.15 | 010
11622 |  | A | Exc h-f-nk-sp mlg+marg 1.1-2 | 2.08 | 3.04 | 1.41 | 0.18 | 5.30 | 3.67 | 010
11623 |  | A | Exc h-f-nk-sp mlg+marg 2.1-3 | 2.60 | 3.41 | 1.61 | 0.24 | 6.25 | 4.45 | 010
11624 |  | A | Exc h-f-nk-sp mlg+marg 3.1-4 | 3.04 | 3.83 | 1.80 | 0.30 | 7.17 | 5.14 | 010
11626 |  | A | Exc h-f-nk-sp mlg+mar > 4 cm | 4.28 | 4.74 | 2.43 | 0.42 | 9.44 | 7.13 | 010
11640 |  | A | Exc face-mm malig+marg 0.5 < | 1.34 | 2.73 | 1.13 | 0.12 | 4.19 | 2.59 | 010
11641 |  | A | Exc face-mm malig+marg 0.6-1 | 2.15 | 3.10 | 1.55 | 0.18 | 5.43 | 3.88 | 010
11642 |  | A | Exc face-mm malig+marg 1.1-2 | 2.58 | 3.48 | 1.75 | 0.22 | 6.28 | 4.55 | 010
11643 |  | A | Exc face-mm malig+marg 2.1-3 | 3.08 | 3.89 | 1.98 | 0.29 | 7.26 | 5.35 | 010
11644 |  | A | Exc face-mm malig+marg 3.1-4 | 4.01 | 4.79 | 2.49 | 0.40 | 9.20 | 6.90 | 010
11646 |  | A | Exc face-mm mlg+marg > 4 cm | 5.92 | 5.87 | 3.53 | 0.55 | 12.34 | 10.00 | 010
20982 |  | A | Ablate, bone tumor(s) perq | 7.24 | 106.25 | 3.02 | 0.68 | 114.17 | 10.94 | 000
21030 |  | A | Excise max/zygoma b9 tumor | 3.87 | 6.57 | 4.05 | 0.72 | 11.16 | 8.64 | 090
21040 |  | A | Excise mandible lesion | 3.87 | 6.61 | 3.88 | 0.23 | 10.71 | 7.98 | 090
21685 |  | A | Hyoid myotomy & suspension | 12.93 | NA | 10.21 | 1.51 | NA | 24.65 | 090
21742 |  | C | Repair stern/nuss w/o scope | 0.00 | 0.00 | 0.00 | 0.00 | 0.00 | 0.00 | 090
21743 |  | C | Repair sternum/nuss w/scope | 0.00 | 0.00 | 0.00 | 0.00 | 0.00 | 0.00 | 090
22532 |  | A | Lat thorax spine fusion | 23.86 | NA | 14.92 | 4.53 | NA | 43.31 | 090
22533 |  | A | Lat lumbar spine fusion | 22.99 | NA | 13.60 | 3.81 | NA | 40.40 | 090
22534 |  | A | Lat thor/lumb, addl seg | 5.97 | NA | 3.08 | 1.17 | NA | 10.22 | ZZZ
31622 |  | A | Dx bronchoscope/wash | 2.76 | 4.20 | 0.89 | 0.17 | 7.13 | 3.82 | 000
31623 |  | A | Dx bronchoscope/brush | 2.86 | 5.09 | 0.90 | 0.17 | 8.12 | 3.93 | 000
31624 |  | A | Dx bronchoscope/lavage | 2.86 | 4.32 | 0.90 | 0.16 | 7.34 | 3.92 | 000
31625 |  | A | Bronchoscopy w/biopsy(s) | 3.35 | 5.41 | 1.27 | 0.19 | 8.95 | 4.81 | 000
31628 |  | A | Bronchoscopy/lung bx, each | 3.79 | 5.62 | 1.36 | 0.17 | 9.58 | 5.32 | 000
31629 |  | A | Bronchoscopy/needle bx, each | 3.35 | NA | 1.24 | 0.16 | NA | 4.75 | 000
31630 |  | A | Bronchoscopy dilate/fx repr | 3.80 | NA | 1.98 | 0.36 | NA | 6.14 | 000
31631 |  | A | Bronchoscopy, dilate w/stent | 4.35 | NA | 2.01 | 0.37 | NA | 6.73 | 000
31632 |  | A | Bronchoscopy/lung bx, addl | 1.02 | 0.76 | 0.32 | 0.17 | 1.95 | 1.51 | ZZZ
31633 |  | A | Bronchoscopy/needle bx addl | 1.31 | 0.92 | 0.41 | 0.17 | 2.40 | 1.89 | ZZZ
31635 |  | A | Bronchoscopy w/fb removal | 3.66 | NA | 1.68 | 0.25 | NA | 5.59 | 000
31640 |  | A | Bronchoscopy w/tumor excise | 4.91 | NA | 2.33 | 0.44 | NA | 7.68 | 000
33310 |  | A | Exploratory heart surgery | 18.40 | NA | 9.27 | 2.71 | NA | 30.38 | 090
33315 |  | A | Exploratory heart surgery | 22.24 | NA | 10.53 | 3.48 | NA | 36.25 | 090
34805 |  | A | Endovasc abdo repair w/pros | 21.76 | NA | 9.51 | 1.98 | NA | 33.25 | 090
35510 |  | A | Artery bypass graft | 22.87 | NA | 10.22 | 2.09 | NA | 35.18 | 090
35512 |  | A | Artery bypass graft | 22.37 | NA | 10.05 | 2.09 | NA | 34.51 | 090
35522 |  | A | Artery bypass graft | 21.64 | NA | 9.79 | 2.09 | NA | 33.52 | 090
35525 |  | A | Artery bypass graft | 20.51 | NA | 9.41 | 2.09 | NA | 32.01 | 090
35697 |  | A | Reimplant artery each | 2.98 | NA | 1.03 | 0.41 | NA | 4.42 | ZZZ
36511 |  | A | Apheresis wbc | 1.73 | NA | 0.69 | 0.07 | NA | 2.49 | 000
36512 |  | A | Apheresis rbc | 1.73 | NA | 0.69 | 0.07 | NA | 2.49 | 000
36513 |  | A | Apheresis platelets | 1.73 | NA | 0.69 | 0.07 | NA | 2.49 | 000
36514 |  | A | Apheresis plasma | 1.73 | NA | 0.69 | 0.07 | NA | 2.49 | 000
36515 |  | A | Apheresis, adsorp/reinfuse | 1.73 | NA | 0.73 | 0.07 | NA | 2.53 | 000
36516 |  | A | Apheresis, selective | 1.73 | NA | 0.73 | 0.07 | NA | 2.53 | 000
36555 |  | A | Insert non-tunnel cv cath | 2.66 | 6.06 | 0.82 | 0.20 | 8.92 | 3.68 | 000
36556 |  | A | Insert non-tunnel cv cath | 2.49 | 5.06 | 0.75 | 0.10 | 7.65 | 3.34 | 000
36557 |  | A | Insert tunneled cv cath | 5.07 | 13.64 | 2.59 | 0.59 | 19.30 | 8.25 | 010
36558 |  | A | Insert tunneled cv cath | 4.77 | 13.54 | 2.48 | 0.59 | 18.90 | 7.84 | 010
36560 |  | A | Insert tunneled cv cath | 6.21 | 29.38 | 2.98 | 0.59 | 36.18 | 9.78 | 010
36561 |  | A | Insert tunneled cv cath | 5.97 | 29.29 | 2.89 | 0.59 | 35.85 | 9.45 | 010
36563 |  | A | Insert tunneled cv cath | 6.16 | 26.75 | 2.99 | 0.67 | 33.58 | 9.82 | 010
36565 |  | A | Insert tunneled cv cath | 5.97 | 22.30 | 2.89 | 0.59 | 28.86 | 9.45 | 010
36566 |  | A | Insert tunneled cv cath | 6.46 | 23.11 | 3.06 | 0.59 | 30.16 | 10.11 | 010
36568 |  | A | Insert tunneled cv cath | 1.91 | 8.29 | 0.60 | 0.20 | 10.40 | 2.71 | 000
36569 |  | A | Insert tunneled cv cath | 1.81 | 6.77 | 0.58 | 0.16 | 8.74 | 2.55 | 000
36570 |  | A | Insert tunneled cv cath | 5.29 | 40.53 | 2.66 | 0.59 | 46.41 | 8.54 | 010
36571 |  | A | Insert tunneled cv cath | 5.27 | 35.86 | 2.65 | 0.59 | 41.72 | 8.51 | 010
36575 |  | A | Repair tunneled cv cath | 0.67 | 3.35 | 0.26 | 0.59 | 4.61 | 1.52 | 000
36576 |  | A | Repair tunneled cv cath | 3.17 | 7.73 | 1.77 | 0.59 | 11.49 | 5.53 | 010
36578 |  | A | Replace tunneled cv cath | 3.48 | 10.57 | 2.21 | 0.59 | 14.64 | 6.28 | 010
36580 |  | A | Replace tunneled cv cath | 1.30 | 5.88 | 0.42 | 0.16 | 7.34 | 1.88 | 000
36581 |  | A | Replace tunneled cv cath | 3.42 | 13.30 | 1.85 | 0.59 | 17.31 | 5.86 | 010
36582 |  | A | Replace tunneled cv cath | 5.17 | 26.69 | 2.78 | 0.59 | 32.45 | 8.54 | 010
36583 |  | A | Replace tunneled cv cath | 5.22 | 13.17 | 2.80 | 0.59 | 18.98 | 8.61 | 010
36584 |  | A | Replace tunneled cv cath | 1.19 | 6.33 | 0.56 | 0.16 | 7.68 | 1.91 | 000
36585 |  | A | Replace tunneled cv cath | 4.77 | 35.52 | 2.65 | 0.59 | 40.88 | 8.01 | 010
36589 |  | A | Removal tunneled cv cath | 2.26 | 2.13 | 1.42 | 0.25 | 4.64 | 3.93 | 010
36590 |  | A | Removal tunneled cv cath | 3.28 | 6.34 | 1.64 | 0.41 | 10.03 | 5.33 | 010
36595 |  | A | Mech remov tunneled cv cath | 3.58 | 18.94 | 1.47 | 0.28 | 22.80 | 5.33 | 000
36596 |  | A | Mech remov tunneled cv cath | 0.75 | 4.43 | 0.50 | 0.05 | 5.23 | 1.30 | 000
36597 |  | A | Reposition venous catheter | 1.20 | 3.18 | 0.44 | 0.07 | 4.45 | 1.71 | 000
36838 |  | A | Dist revas ligation, hemo | 20.51 | NA | 9.41 | 2.97 | NA | 32.89 | 090
37765 |  | A | Phleb veins—extrem—to 20 | 7.31 | NA | 4.56 | 0.48 | NA | 12.35 | 090
37766 |  | A | Phleb veins—extrem 20+ | 9.25 | NA | 5.28 | 0.48 | NA | 15.01 | 090
37785 |  | A | Ligate/divide/excise vein | 3.82 | 5.16 | 2.66 | 0.49 | 9.47 | 6.97 | 090
38207 |  | I | Cryopreserve stem cells | 0.00 | 0.00 | 0.00 | 0.00 | 0.00 | 0.00 | XXX
38208 |  | I | Thaw preserved stem cells | 0.00 | 0.00 | 0.00 | 0.00 | 0.00 | 0.00 | XXX
38209 |  | I | Wash harvest stem cells | 0.00 | 0.00 | 0.00 | 0.00 | 0.00 | 0.00 | XXX
38210 |  | I | T-cell depletion of harvest | 0.00 | 0.00 | 0.00 | 0.00 | 0.00 | 0.00 | XXX
38211 |  | I | Tumor cell deplete of harvst | 0.00 | 0.00 | 0.00 | 0.00 | 0.00 | 0.00 | XXX
38212 |  | I | Rbc depletion of harvest | 0.00 | 0.00 | 0.00 | 0.00 | 0.00 | 0.00 | XXX
38213 |  | I | Platelet deplete of harvest | 0.00 | 0.00 | 0.00 | 0.00 | 0.00 | 0.00 | XXX
38214 |  | I | Volume deplete of harvest | 0.00 | 0.00 | 0.00 | 0.00 | 0.00 | 0.00 | XXX
38215 |  | I | Harvest stem cell concentrte | 0.00 | 0.00 | 0.00 | 0.00 | 0.00 | 0.00 | XXX
43235 |  | A | Uppr gi endoscopy, diagnosis | 2.38 | 5.12 | 1.08 | 0.16 | 7.66 | 3.62 | 000
43237 |  | A | Endoscopic us exam, esoph | 3.97 | NA | 1.63 | 0.26 | NA | 5.86 | 000
43238 |  | A | Uppr gi endoscopy w/us fn bx | 5.00 | NA | 1.99 | 0.26 | NA | 7.25 | 000
43242 |  | A | Uppr gi endoscopy w/us fn bx | 7.27 | NA | 2.82 | 0.35 | NA | 10.44 | 000
43259 |  | A | Endoscopic ultrasound exam | 5.17 | NA | 2.06 | 0.26 | NA | 7.49 | 000
43752 |  | A | Nasal/orogastric w/stent | 0.68 | 0.26 | 0.26 | 0.02 | 0.96 | 0.96 | 000
47133 |  | X | Removal of donor liver | 0.00 | 0.00 | 0.00 | 0.00 | 0.00 | 0.00 | XXX
47140 |  | A | Partial removal, donor liver | 54.69 | NA | 22.98 | 4.77 | NA | 82.44 | 090
47141 |  | A | Partial removal, donor liver | 67.12 | NA | 27.70 | 4.77 | NA | 99.59 | 090
47142 |  | A | Partial removal, donor liver | 74.57 | NA | 30.29 | 4.77 | NA | 109.63 | 090
53500 |  | A | Urethrlys, transvag w/ scope | 12.14 | NA | 6.27 | 0.89 | NA | 19.30 | 090
57425 |  | A | Laparoscopy, surg, colpopexy | 15.66 | NA | 6.76 | 1.73 | NA | 24.15 | 090
58545 |  | A | Laparoscopic myomectomy | 14.52 | NA | 7.31 | 1.74 | NA | 23.57 | 090
58546 |  | A | Laparo-myomectomy, complex | 18.89 | NA | 9.12 | 1.74 | NA | 29.75 | 090
58550 |  | A | Laparo-asst vag hysterectomy | 14.11 | NA | 7.44 | 1.73 | NA | 23.28 | 090
58552 |  | A | Laparo-vag hyst incl t/o | 14.11 | NA | 7.42 | 1.73 | NA | 23.26 | 090
58553 |  | A | Laparo-vag hyst, complex | 18.89 | NA | 9.08 | 1.47 | NA | 29.44 | 090
58554 |  | A | Laparo-vag hyst w/t/o, compl | 18.89 | NA | 9.38 | 1.47 | NA | 29.74 | 090
59070 |  | A | Transabdom amnioinfus w/ us | 5.22 | 5.19 | 2.43 | 0.28 | 10.69 | 7.93 | 000
59072 |  | A | Umbilical cord occlud w/ us | 8.95 | NA | 3.17 | 0.67 | NA | 12.79 | 000
59074 |  | A | Fetal fluid drainage w/ us | 5.22 | 4.66 | 2.43 | 0.28 | 10.16 | 7.93 | 000
59076 |  | A | Fetal shunt placement, w/ us | 8.95 | NA | 3.17 | 0.67 | NA | 12.79 | 000
59897 |  | C | Fetal invas px w/ us | 0.00 | 0.00 | 0.00 | 0.00 | 0.00 | 0.00 | YYY
61537 |  | A | Removal of brain tissue | 24.86 | NA | 14.63 | 6.45 | NA | 45.94 | 090
61538 |  | A | Removal of brain tissue | 26.66 | NA | 15.58 | 6.45 | NA | 48.69 | 090
61539 |  | A | Removal of brain tissue | 31.90 | NA | 18.07 | 7.93 | NA | 57.90 | 090
61540 |  | A | Removal of brain tissue | 29.83 | NA | 17.69 | 7.93 | NA | 55.45 | 090
61543 |  | A | Removal of brain tissue | 29.05 | NA | 16.65 | 7.32 | NA | 53.02 | 090
61566 |  | A | Removal of brain tissue | 30.82 | NA | 17.62 | 6.45 | NA | 54.89 | 090
61567 |  | A | Incision of brain tissue | 35.30 | NA | 20.98 | 6.45 | NA | 62.73 | 090
61863 |  | A | Implant neuroelectrode | 13.84 | NA | 9.34 | 4.76 | NA | 27.94 | 090
61864 |  | A | Implant neuroelectrde, addl | 4.47 | NA | 2.31 | 1.13 | NA | 7.91 | ZZZ
61867 |  | A | Implant neuroelectrode | 22.83 | NA | 13.98 | 4.76 | NA | 41.57 | 090
61868 |  | A | Implant neuroelectrde, addl | 7.87 | NA | 4.07 | 1.20 | NA | 13.14 | ZZZ
63101 |  | A | Removal of vertebral body | 31.82 | NA | 19.57 | 5.66 | NA | 57.05 | 090
63102 |  | A | Removal of vertebral body | 31.82 | NA | 19.57 | 5.66 | NA | 57.05 | 090
63103 |  | A | Remove vertebral body add-on | 3.88 | NA | 2.03 | 0.76 | NA | 6.67 | ZZZ
64449 |  | A | N block inj, lumbar plexus | 2.98 | NA | 0.98 | 0.10 | NA | 4.06 | 010
64517 |  | A | N block inj, hypogas plxs | 2.19 | 2.76 | 0.89 | 0.13 | 5.08 | 3.21 | 000
64680 |  | A | Injection treatment of nerve | 2.61 | 6.08 | 1.31 | 0.18 | 8.87 | 4.10 | 010
64681 |  | A | Injection treatment of nerve | 3.53 | 8.81 | 2.13 | 0.18 | 12.52 | 5.84 | 010
65780 |  | A | Ocular reconst, transplant | 10.19 | NA | 10.04 | 0.35 | NA | 20.58 | 090
65781 |  | A | Ocular reconst, transplant | 17.57 | NA | 13.45 | 0.35 | NA | 31.37 | 090
65782 |  | A | Ocular reconst, transplant | 14.91 | NA | 11.79 | 0.35 | NA | 27.05 | 090
67912 |  | A | Correction eyelid w/ implant | 5.65 | 20.59 | 5.33 | 0.28 | 26.52 | 11.26 | 090
68371 |  | A | Harvest eye tissue, alograft | 4.87 | NA | 4.66 | 0.20 | NA | 9.73 | 010
70557 | 26 | A | Mri brain w/o dye | 2.88 | 0.99 | 0.99 | 0.08 | 3.95 | 3.95 | XXX
70558 | 26 | A | Mri brain w/ dye | 3.18 | 1.09 | 1.09 | 0.10 | 4.37 | 4.37 | XXX
70559 | 26 | A | Mri brain w/o & w/ dye | 3.18 | 1.09 | 1.09 | 0.12 | 4.39 | 4.39 | XXX
75901 | 26 | A | Remove cva device obstruct | 0.49 | 0.16 | 0.16 | 0.02 | 0.67 | 0.67 | XXX
75902 | 26 | A | Remove cva lumen obstruct | 0.39 | 0.13 | 0.13 | 0.02 | 0.54 | 0.54 | XXX
75998 | 26 | A | Fluoroguide for vein device | 0.38 | 0.13 | 0.13 | 0.05 | 0.56 | 0.56 | ZZZ
76082 | 26 | A | Computer mammogram add-on | 0.06 | 0.02 | 0.02 | 0.01 | 0.09 | 0.09 | ZZZ
76083 | 26 | A | Computer mammogram add-on | 0.06 | 0.02 | 0.02 | 0.01 | 0.09 | 0.09 | ZZZ
76514 | 26 | A | Echo exam of eye, thickness | 0.17 | 0.08 | 0.08 | 0.01 | 0.26 | 0.26 | XXX
76937 | 26 | A | Us guide, vascular access | 0.30 | 0.10 | 0.10 | 0.05 | 0.45 | 0.45 | ZZZ
78800 | 26 | A | Tumor imaging, limited area | 0.66 | 0.22 | 0.22 | 0.04 | 0.92 | 0.92 | XXX
78801 | 26 | A | Tumor imaging, mult areas | 0.79 | 0.27 | 0.27 | 0.04 | 1.10 | 1.10 | XXX
78802 | 26 | A | Tumor imaging, whole body | 0.86 | 0.30 | 0.30 | 0.04 | 1.20 | 1.20 | XXX
78803 | 26 | A | Tumor imaging (3D) | 1.08 | 0.39 | 0.39 | 0.05 | 1.52 | 1.52 | XXX
78804 | 26 | A | Tumor imaging, whole body | 1.06 | 0.38 | 0.38 | 0.04 | 1.48 | 1.48 | XXX
79100 | 26 | A | Hematopoetic nuclear therapy | 1.31 | 0.47 | 0.47 | 0.06 | 1.84 | 1.84 | XXX
79400 | 26 | A | Nonhemato nuclear therapy | 1.95 | 0.67 | 0.67 | 0.10 | 2.72 | 2.72 | XXX
79403 | 26 | A | Hematopoetic nuclear therapy | 2.24 | 0.91 | 0.91 | 0.10 | 3.25 | 3.25 | XXX
85396 |  | A | Clotting assay, whole blood | 0.37 | NA | 0.17 | 0.04 | NA | 0.58 | XXX
88112 | 26 | A | Cytopath, cell enhance tech | 1.17 | 0.53 | 0.53 | 0.06 | 1.76 | 1.76 | XXX
88342 | 26 | A | Immunohistochemistry | 0.85 | 0.38 | 0.38 | 0.04 | 1.27 | 1.27 | XXX
88358 | 26 | A | Analysis, tumor | 2.80 | 1.24 | 1.24 | 0.12 | 4.16 | 4.16 | XXX
88361 | 26 | A | Immunohistochemistry, tumor | 0.93 | 0.42 | 0.42 | 0.12 | 1.47 | 1.47 | XXX
91110 | 26 | A | Gi tract capsule endoscopy | 3.63 | 1.31 | 1.31 | 0.02 | 4.96 | 4.96 | XXX
93784 |  | A | Ambulatory BP monitoring | 0.17 | 0.97 | 0.97 | 0.02 | 1.16 | 1.16 | XXX
93786 |  | A | Ambulatory BP recording | 0.00 | 0.90 | NA | 0.01 | 0.91 | NA | XXX
93788 |  | A | Ambulatory BP analysis | 0.00 | 0.51 | NA | 0.01 | 0.52 | NA | XXX
93790 |  | A | Review/report BP recording | 0.17 | 0.06 | 0.06 | 0.01 | 0.24 | 0.24 | XXX
95990 |  | A | Spin/brain pump refil & main | 0.00 | 1.49 | NA | 0.06 | 1.55 | NA | XXX
95991 |  | A | Spin/brain pump refil & main | 0.77 | 1.49 | 0.19 | 0.06 | 2.32 | 1.02 | XXX
96110 |  | A | Developmental test, lim | 0.00 | 0.18 | NA | 0.18 | 0.36 | NA | XXX
96111 |  | A | Developmental test, extend | 2.59 | 1.07 | NA | 0.18 | 3.84 | NA | XXX
97537 |  | A | Community/work reintegration | 0.45 | 0.27 | NA | 0.01 | 0.73 | NA | XXX
97755 |  | A | Assistive technology assess | 0.62 | 0.29 | NA | 0.02 | 0.93 | NA | XXX
G0308 |  | A | ESRD related svc 4+mo<2yrs | 12.69 | 8.58 | 8.58 | 0.42 | 21.69 | 21.69 | XXX
G0309 |  | A | ESRD related svc 2-3mo<2yrs | 10.57 | 7.13 | 7.13 | 0.36 | 18.06 | 18.06 | XXX
G0310 |  | A | ESRD related svc 1 visit<2yr | 8.45 | 5.72 | 5.72 | 0.28 | 14.45 | 14.45 | XXX
G0311 |  | A | ESRD related svs 4+mo 2-11yr | 9.68 | 4.74 | 4.74 | 0.34 | 14.76 | 14.76 | XXX
G0312 |  | A | ESRD relate svs 2-3 mo 2-11y | 8.07 | 3.94 | 3.94 | 0.29 | 12.30 | 12.30 | XXX
G0313 |  | A | ESRD related svs 1 mon 2-11y | 6.46 | 3.16 | 3.16 | 0.22 | 9.84 | 9.84 | XXX
G0314 |  | A | ESRD related svs 4+ mo 12-19 | 8.24 | 4.45 | 4.45 | 0.26 | 12.95 | 12.95 | XXX
G0315 |  | A | ESRD related svs 2-3mo 12-19 | 6.87 | 3.69 | 3.69 | 0.23 | 10.79 | 10.79 | XXX
G0316 |  | A | ESRD relate svs 1 vist 12-19 | 5.50 | 2.96 | 2.96 | 0.17 | 8.63 | 8.63 | XXX
G0317 |  | A | ESRD related svs 4+mo 20+yrs | 5.07 | 2.88 | 2.88 | 0.17 | 8.12 | 8.12 | XXX
G0318 |  | A | ESRD related svs 2-3 mo 20+y | 4.23 | 2.39 | 2.39 | 0.14 | 6.76 | 6.76 | XXX
G0319 |  | A | ESRD related svs 1 visit 20+ | 3.38 | 1.92 | 1.92 | 0.11 | 5.41 | 5.41 | XXX
G0320 |  | A | ESRD related svs home under2 | 10.57 | 7.13 | 7.13 | 0.36 | 18.06 | 18.06 | XXX
G0321 |  | A | ESRD related svs home mo<2ys | 6.87 | 3.69 | 3.69 | 0.23 | 10.79 | 10.79 | XXX
G0322 |  | A | ESRD relate svs home mo12-19 | 8.07 | 3.94 | 3.94 | 0.29 | 12.30 | 12.30 | XXX
G0323 |  | A | ESRD related svs home mo 20+ | 4.23 | 2.39 | 2.39 | 0.14 | 6.76 | 6.76 | XXX
G0324 |  | A | ESRD related svs home/dy<2y | 0.35 | 0.24 | 0.24 | 0.01 | 0.60 | 0.60 | XXX
G0325 |  | A | ESRD relate home/dy 2-11 yr | 0.23 | 0.12 | 0.12 | 0.01 | 0.36 | 0.36 | XXX
G0326 |  | A | ESRD relate home/dy 12-19y | 0.27 | 0.13 | 0.13 | 0.01 | 0.41 | 0.41 | XXX
G0327 |  | A | ESRD relate home/dy 20+yrs | 0.14 | 0.08 | 0.08 | 0.01 | 0.23 | 0.23 | XXX
¹ CPT codes and descriptions only are copyright 2003 American Medical Association. All Rights Reserved. Applicable FARS/DFARS Apply.
² Copyright 2003 American Dental Association. All rights reserved.
³ +Indicates RVUs are not used for Medicare payment.

——————————

Payment locality serviced by two carriers.

Note: Only malpractice GPCI has been updated. The work and practice expense GPCIs will be updated as part of a mid-year, 2004 regulation. Malpractice GPCI scaled by 1.0021 to retain budget neutrality.

Addendum D.—2004 Geographic Practice Cost Indices by Medicare Carrier and Locality
Carrier No. | Locality No. | Locality name | Work | Practice expense | Malpractice
00510 | 00 | Alabama | 0.978 | 0.870 | 0.779
00831 | 01 | Alaska | 1.064 | 1.172 | 1.126
00832 | 00 | Arizona | 0.994 | 0.978 | 1.090
00520 | 13 | Arkansas | 0.953 | 0.847 | 0.389
31146 | 26 | Anaheim/Santa Ana, CA | 1.037 | 1.184 | 0.955
31146 | 18 | Los Angeles, CA | 1.056 | 1.139 | 0.955
31140 | 03 | Marin/Napa/Solano, CA | 1.015 | 1.248 | 0.669
31140 | 07 | Oakland/Berkeley, CA | 1.041 | 1.235 | 0.669
31140 | 05 | San Francisco, CA | 1.068 | 1.458 | 0.669
31140 | 06 | San Mateo, CA | 1.048 | 1.432 | .663
31140 | 09 | Santa Clara, CA | 1.063 | 1.380 | 0.622
31146 | 17 | Ventura, CA | 1.028 | 1.125 | 0.763
31146 | 99 | Rest of California* | 1.007 | 1.034 | 0.740
31140 | 99 | Rest of California* | 1.007 | 1.034 | 0.740
00824 | 01 | Colorado | 0.985 | 0.992 | 0.821
00591 | 00 | Connecticut | 1.050 | 1.156 | 0.933
00902 | 01 | Delaware | 1.019 | 1.035 | 0.802
00903 | 01 | DC + MD/VA Suburbs | 1.050 | 1.166 | 0.917
00590 | 03 | Fort Lauderdale, FL | 0.996 | 1.018 | 1.790
00590 | 04 | Miami, FL | 1.015 | 1.052 | 2.399
00590 | 99 | Rest of Florida | 0.975 | 0.946 | 1.268
00511 | 01 | Atlanta, GA | 1.006 | 1.059 | 0.951
00511 | 99 | Rest of Georgia | 0.970 | 0.892 | 0.951
00833 | 01 | Hawaii/Guam | 0.997 | 1.124 | 0.817
05130 | 00 | Idaho | 0.960 | 0.881 | 0.478
00952 | 16 | Chicago, IL | 1.028 | 1.092 | 1.832
00952 | 12 | East St. Louis, IL | 0.988 | 0.924 | 1.720
00952 | 15 | Suburban Chicago, IL | 1.006 | 1.071 | 1.648
00952 | 99 | Rest of Illinois | 0.964 | 0.889 | 1.175
00630 | 00 | Indiana | 0.981 | 0.922 | 0.459
00826 | 00 | Iowa | 0.959 | 0.876 | 0.593
00650 | 00 | Kansas* | 0.963 | 0.895 | 0.738
00740 | 04 | Kansas* | 0.963 | 0.895 | 0.738
00660 | 00 | Kentucky | 0.970 | 0.866 | 0.875
00528 | 01 | New Orleans, LA | 0.998 | 0.945 | 1.240
00528 | 99 | Rest of Louisiana | 0.968 | 0.870 | 1.066
31142 | 03 | Southern Maine | 0.979 | 0.999 | 0.652
31142 | 99 | Rest of Maine | 0.961 | 0.910 | 0.652
00901 | 01 | Baltimore/Surr. Cntys, MD | 1.021 | 1.038 | 0.931
00901 | 99 | Rest of Maryland | 0.984 | 0.972 | 0.767
31143 | 01 | Metropolitan Boston | 1.041 | 1.239 | 0.803
31143 | 99 | Rest of Massachusetts | 1.010 | 1.129 | 0.803
00953 | 01 | Detroit, MI | 1.043 | 1.038 | 2.741
00953 | 99 | Rest of Michigan | 0.997 | 0.938 | 1.545
00954 | 00 | Minnesota | 0.990 | 0.974 | 0.431
00512 | 00 | Mississippi | 0.957 | 0.837 | 0.750
00740 | 02 | Metropolitan Kansas City, MO | 0.988 | 0.967 | 0.896
00523 | 01 | Metropolitan St. Louis, MO | 0.994 | 0.938 | 0.893
00740 | 99 | Rest of Missouri* | 0.946 | 0.825 | 0.842
00523 | 99 | Rest of Missouri* | 0.946 | 0.825 | 0.842
00751 | 01 | Montana | 0.950 | 0.876 | 0.815
00655 | 00 | Nebraska | 0.948 | 0.877 | 0.442
00834 | 00 | Nevada | 1.005 | 1.039 | 1.138
31144 | 40 | New Hampshire | 0.986 | 1.030 | 0.883
00805 | 01 | Northern NJ | 1.058 | 1.193 | 0.916
00805 | 99 | Rest of New Jersey | 1.029 | 1.110 | 0.916
00521 | 05 | New Mexico | 0.973 | 0.900 | 0.898
00803 | 01 | Manhattan, NY | 1.094 | 1.351 | 1.586
00803 | 02 | Nyc Suburbs/Long I., NY | 1.068 | 1.251 | 1.869
00803 | 03 | Poughkpsie/N Nyc Suburbs, NY | 1.011 | 1.075 | 1.221
14330 | 04 | Queens, NY | 1.058 | 1.228 | 1.791
00801 | 99 | Rest of New York | 0.998 | 0.944 | 0.720
05535 | 00 | North Carolina | 0.970 | 0.931 | 0.618
00820 | 01 | North Dakota | 0.950 | 0.880 | 0.630
00883 | 00 | Ohio | 0.988 | 0.944 | 0.967
00522 | 00 | Oklahoma | 0.968 | 0.876 | 0.413
00835 | 01 | Portland, OR | 0.996 | 1.049 | 0.438
00835 | 99 | Rest of Oregon | 0.961 | 0.933 | 0.438
00865 | 01 | Metropolitan Philadelphia, PA | 1.023 | 1.092 | 1.400
00865 | 99 | Rest of Pennsylvania | 0.989 | 0.929 | 0.790
00973 | 20 | Puerto Rico | 0.881 | 0.712 | 0.268
00870 | 01 | Rhode Island | 1.017 | 1.065 | 0.896
00880 | 01 | South Carolina | 0.974 | 0.904 | 0.336
00820 | 02 | South Dakota | 0.935 | 0.878 | 0.385
05440 | 35 | Tennessee | 0.975 | 0.900 | 0.612
00900 | 31 | Austin, TX | 0.986 | 0.996 | 0.922
00900 | 20 | Beaumont, TX | 0.992 | 0.890 | 1.318
00900 | 09 | Brazoria, TX | 0.992 | 0.978 | 1.318
00900 | 11 | Dallas, TX | 1.010 | 1.065 | 0.996
00900 | 28 | Fort Worth, TX | 0.987 | 0.981 | 0.996
00900 | 15 | Galveston, TX | 0.988 | 0.969 | 1.318
00900 | 18 | Houston, TX | 1.020 | 1.007 | 1.316
00900 | 99 | Rest of Texas | 0.966 | 0.880 | 1.047
00910 | 09 | Utah | 0.976 | 0.941 | 0.653
31145 | 50 | Vermont | 0.973 | 0.986 | 0.527
00973 | 50 | Virgin Islands | 0.965 | 1.023 | 1.003
00904 | 00 | Virginia | 0.984 | 0.938 | 0.540
00836 | 02 | Seattle (King Cnty), WA | 1.005 | 1.100 | 0.803
00836 | 99 | Rest of Washington | 0.981 | 0.972 | 0.803
00884 | 16 | West Virginia | 0.963 | 0.850 | 1.462
00951 | 00 | Wisconsin | 0.981 | 0.929 | 0.865
00825 | 21 | Wyoming | 0.967 | 0.895 | 0.970
Payment locality serviced by two carriers.
Note: Only malpractice GPCI has been updated. The work and practice expense GPCIs will be updated as part of a mid-year, 2004 regulation. Malpractice GPCI scaled by 1.0021 to retain budget neutrality.

——————————

Payment locality serviced by two carriers.

Note: Only malpractice GPCI has been updated. The work and practice expense GPCIs will be updated as part of a mid-year, 2004 regulation. Malpractice GPCI scaled by 1.0021 to retain budget neutrality.

Addendum E.—2005 Geographic Practice Cost Indices by Medicare Carrier and Locality
Carrier No. | Locality No. | Locality name | Work | Practice expense | Malpractice
00510 | 00 | Alabama | 0.978 | 0.870 | 0.752
00831 | 01 | Alaska | 1.064 | 1.172 | 1.029
00832 | 00 | Arizona | 0.994 | 0.978 | 1.069
00520 | 13 | Arkansas | 0.953 | 0.847 | 0.438
31146 | 26 | Anaheim/Santa Ana, CA | 1.037 | 1.184 | 0.954
31146 | 18 | Los Angeles, CA | 1.056 | 1.139 | 0.954
31140 | 03 | Marin/Napa/Solano, CA | 1.015 | 1.248 | 0.651
31140 | 07 | Oakland/Berkeley, CA | 1.041 | 1.235 | 0.651
31140 | 05 | San Francisco, CA | 1.068 | 1.458 | 0.651
31140 | 06 | San Mateo, CA | 1.048 | 1.432 | 0.639
31140 | 09 | Santa Clara, CA | 1.063 | 1.380 | 0.604
31146 | 17 | Ventura, CA | 1.028 | 1.125 | 0.744
31146 | 99 | Rest of California* | 1.007 | 1.034 | 0.733
31140 | 99 | Rest of California* | 1.007 | 1.034 | 0.733
00824 | 01 | Colorado | 0.985 | 0.992 | 0.803
00591 | 00 | Connecticut | 1.050 | 1.156 | 0.900
00902 | 01 | Delaware | 1.019 | 1.035 | 0.892
00903 | 01 | DC + MD/VA Suburbs | 1.050 | 1.166 | 0.926
00590 | 03 | Fort Lauderdale, FL | 0.996 | 1.018 | 1.703
00590 | 04 | Miami, FL | 1.015 | 1.052 | 2.269
00590 | 99 | Rest of Florida | 0.975 | 0.946 | 1.272
00511 | 01 | Atlanta, GA | 1.006 | 1.059 | 0.966
00511 | 99 | Rest of Georgia | 0.970 | 0.892 | 0.966
00833 | 01 | Hawaii/Guam | 0.997 | 1.124 | 0.800
05130 | 00 | Idaho | 0.960 | 0.881 | 0.459
00952 | 16 | Chicago, IL | 1.028 | 1.092 | 1.867
00952 | 12 | East St. Louis, IL | 0.988 | 0.924 | 1.750
00952 | 15 | Suburban Chicago, IL | 1.006 | 1.071 | 1.652
00952 | 99 | Rest of Illinois | 0.964 | 0.889 | 1.193
00630 | 00 | Indiana | 0.981 | 0.922 | 0.436
00826 | 00 | Iowa | 0.959 | 0.876 | 0.589
00650 | 00 | Kansas* | 0.963 | 0.895 | 0.721
00740 | 04 | Kansas* | 0.963 | 0.895 | 0.721
00660 | 00 | Kentucky | 0.970 | 0.866 | 0.873
00528 | 01 | New Orleans, LA | 0.998 | 0.945 | 1.197
00528 | 99 | Rest of Louisiana | 0.968 | 0.870 | 1.058
31142 | 03 | Southern Maine | 0.979 | 0.999 | 0.637
31142 | 99 | Rest of Maine | 0.961 | 0.910 | 0.637
00901 | 01 | Baltimore/Surr. Cntys, MD | 1.021 | 1.038 | 0.947
00901 | 99 | Rest of Maryland | 0.984 | 0.972 | 0.760
31143 | 01 | Metropolitan Boston | 1.041 | 1.239 | 0.823
31143 | 99 | Rest of Massachusetts | 1.010 | 1.129 | 0.823
00953 | 01 | Detroit, MI | 1.043 | 1.038 | 2.744
00953 | 99 | Rest of Michigan | 0.997 | 0.938 | 1.518
00954 | 00 | Minnesota | 0.990 | 0.974 | 0.410
00512 | 00 | Mississippi | 0.957 | 0.837 | 0.722
00740 | 02 | Metropolitan Kansas City, MO | 0.988 | 0.967 | 0.946
00523 | 01 | Metropolitan St. Louis, MO | 0.994 | 0.938 | 0.941
00740 | 99 | Rest of Missouri* | 0.946 | 0.825 | 0.892
00523 | 99 | Rest of Missouri* | 0.946 | 0.825 | 0.892
00751 | 01 | Montana | 0.950 | 0.876 | 0.904
00655 | 00 | Nebraska | 0.948 | 0.877 | 0.454
00834 | 00 | Nevada | 1.005 | 1.039 | 1.068
31144 | 40 | New Hampshire | 0.986 | 1.030 | 0.942
00805 | 01 | Northern NJ | 1.058 | 1.193 | 0.973
00805 | 99 | Rest of New Jersey | 1.029 | 1.110 | 0.973
00521 | 05 | New Mexico | 0.973 | 0.900 | 0.895
00803 | 01 | Manhattan, NY | 1.094 | 1.351 | 1.504
00803 | 02 | Nyc Suburbs/Long I., NY | 1.068 | 1.251 | 1.785
00803 | 03 | Poughkpsie/N Nyc Suburbs, NY | 1.011 | 1.075 | 1.167
14330 | 04 | Queens, NY | 1.058 | 1.228 | 1.710
00801 | 99 | Rest of New York | 0.998 | 0.944 | 0.677
05535 | 00 | North Carolina | 0.970 | 0.931 | 0.640
00820 | 01 | North Dakota | 0.950 | 0.880 | 0.602
00883 | 00 | Ohio | 0.988 | 0.944 | 0.976
00522 | 00 | Oklahoma | 0.968 | 0.876 | 0.382
00835 | 01 | Portland, OR | 0.996 | 1.049 | 0.441
00835 | 99 | Rest of Oregon | 0.961 | 0.933 | 0.441
00865 | 01 | Metropolitan Philadelphia, PA | 1.023 | 1.092 | 1.386
00865 | 99 | Rest of Pennsylvania | 0.989 | 0.929 | 0.806
00973 | 20 | Puerto Rico | 0.881 | 0.712 | 0.261
00870 | 01 | Rhode Island | 1.017 | 1.065 | 0.909
00880 | 01 | South Carolina | 0.974 | 0.904 | 0.394
00820 | 02 | South Dakota | 0.935 | 0.878 | 0.365
05440 | 35 | Tennessee | 0.975 | 0.900 | 0.631
00900 | 31 | Austin, TX | 0.986 | 0.996 | 0.986
00900 | 20 | Beaumont, TX | 0.992 | 0.890 | 1.298
00900 | 09 | Brazoria, TX | 0.992 | 0.978 | 1.298
00900 | 11 | Dallas, TX | 1.010 | 1.065 | 1.061
00900 | 28 | Fort Worth, TX | 0.987 | 0.981 | 1.061
00900 | 15 | Galveston, TX | 0.988 | 0.969 | 1.298
00900 | 18 | Houston, TX | 1.020 | 1.007 | 1.297
00900 | 99 | Rest of Texas | 0.966 | 0.880 | 1.138
00910 | 09 | Utah | 0.976 | 0.941 | 0.662
31145 | 50 | Vermont | 0.973 | 0.986 | 0.514
00973 | 50 | Virgin Islands | 0.965 | 1.023 | 1.003
00904 | 00 | Virginia | 0.984 | 0.938 | 0.579
00836 | 02 | Seattle (King Cnty), WA | 1.005 | 1.100 | 0.819
00836 | 99 | Rest of Washington | 0.981 | 0.972 | 0.819
00884 | 16 | West Virginia | 0.963 | 0.850 | 1.547
00951 | 00 | Wisconsin | 0.981 | 0.929 | 0.790
00825 | 21 | Wyoming | 0.967 | 0.895 | 0.935
Payment locality serviced by two carriers.
Note: Only malpractice GPCI has been updated. The work and practice expense GPCIs will be updated as part of a mid-year, 2004 regulation. Malpractice GPCI scaled by 1.0021 to retain budget neutrality.

Addendum F.—Updated List of CPT ¹/HCPCS Codes Used to Describe Certain Designated Health Services Under the Physician Self-Referral Provisions (Section 1877 of the Social Security Act)
CLINICAL LABORATORY SERVICES
INCLUDE CPT codes for all clinical laboratory services in the 80000 series, except EXCLUDE CPT codes for the following blood component collection services:
86890 | Autologous blood process
86891 | Autologous blood, op salvage
86927 | Plasma, fresh frozen
86930 | Frozen blood prep
86931 | Frozen blood thaw
86932 | Frozen blood freeze/thaw
86945 | Blood product/irradiation
86950 | Leukacyte transfusion
86965 | Pooling blood platelets
86985 | Split blood or products
INCLUDE the following CPT and HCPCS level 2 codes for other clinical laboratory services:
0010T | TB test, gamma interferon
0023T | Phenotype drug test, hiv 1
0026T | Measure remnant lipoproteins
0030T | Antiprothrombin antibody
0041T | Detect ur infect agnt w/cpas
0043T | Co expired gas analysis
0058T | Cryopreservation, ovary tiss
0059T | Cryopreservation, oocyte
G0001 | Drawing blood for specimen
G0027 | Semen analysis
G0103 | Psa, total screening
G0107 | CA screen; fecal blood test
G0123 | Screen cerv/vag thin layer
G0124 | Screen c/v thin layer by MD
G0141 | Scr c/v cyto,autosys and md
G0143 | Scr c/v cyto,thinlayer,rescr
G0144 | Scr c/v cyto,thinlayer,rescr
G0145 | Scr c/v cyto,thinlayer,rescr
G0147 | Scr c/v cyto, automated sys
G0148 | Scr c/v cyto, autosys, rescr
G0306 | CBC/diffwbc w/o platelet
G0307 | CBC without platelet
P2028 | Cephalin floculation test
P2029 | Congo red blood test
P2033 | Blood thymol turbidity
P2038 | Blood mucoprotein
P3000 | Screen pap by tech w md supv
P3001 | Screening pap smear by phys
P9612 | Catheterize for urine spec
P9615 | Urine specimen collect mult
Q0111 | Wet mounts/ w preparations
Q0112 | Potassium hydroxide preps
Q0113 | Pinworm examinations
Q0114 | Fern test
Q0115 | Post-coital mucous exam
PHYSICAL THERAPY, OCCUPATIONAL THERAPY, AND SPEECH-LANGUAGE PATHOLOGY SERVICES
INCLUDE the following CPT codes for the physical therapy/occupational therapy/speech-language pathology services in the 97000 series:
97001 | Pt evaluation
97002 | Pt re-evaluation
97003 | Ot evaluation
97004 | Ot re-evaluation
97010 | Hot or cold packs therapy
97012 | Mechanical traction therapy
97016 | Vasopneumatic device therapy
97018 | Paraffin bath therapy
97020 | Microwave therapy
97022 | Whirlpool therapy
97024 | Diathermy treatment
97026 | Infrared therapy
97028 | Ultraviolet therapy
97032 | Electrical stimulation
97033 | Electric current therapy
97034 | Contrast bath therapy
97035 | Ultrasound therapy
97036 | Hydrotherapy
97039 | Physical therapy treatment
97110 | Therapeutic exercises
97112 | Neuromuscular reeducation
97113 | Aquatic therapy/exercises
97116 | Gait training therapy
97124 | Massage therapy
97139 | Physical medicine procedure
97140 | Manual therapy
97150 | Group therapeutic procedures
97504 | Orthotic training
97520 | Prosthetic training
97530 | Therapeutic activities
97532 | Cognitive skills development
97533 | Sensory integration
97535 | Self care mngment training
97537 | Community/work reintegration
97542 | Wheelchair mngment training
97545 | Work hardening
97546 | Work hardening add-on
97703 | Prosthetic checkout
97750 | Physical performance test
97755 | Assistive technology assess
97799 | Physical medicine procedure
INCLUDE CPT codes for physical therapy/occupational therapy/speech-language pathology services not in the 97000 series:
64550 | Apply neurostimulator
90901 | Biofeedback train, any meth
90911 | Biofeedback peri/uro/rectal
92506 | Speech/hearing evaluation
92507 | Speech/hearing therapy
92508 | Speech/hearing therapy
92526 | Oral function therapy
92597 | Oral speech device eval
92601 | Cochlear implt f/up exam < 7
92602 | Reprogram cochlear implt < 7
92603 | Cochlear implt f/up exam 7 >
92604 | Reprogram cochlear implt 7 >
92607 | Ex for speech device rx, 1hr
92608 | Ex for speech device rx addl
92609 | Use of speech device service
92610 | Evaluate swallowing function
92611 | Motion fluoroscopy/swallow
92612 | Endoscopy swallow tst (fees)
92614 | Laryngoscopic sensory test
92616 | Fees w/laryngeal sense test
93797 | Cardiac rehab
93798 | Cardiac rehab/monitor
94667 | Chest wall manipulation
94668 | Chest wall manipulation
94762 | Measure blood oxygen level
95831 | Limb muscle testing, manual
95832 | Hand muscle testing, manual
95833 | Body muscle testing, manual
95834 | Body muscle testing, manual
95851 | Range of motion measurements
95852 | Range of motion measurements
96000 | Motion analysis, video/3d
96001 | Motion test w/ft press meas
96002 | Dynamic surface emg
96003 | Dynamic fine wire emg
96105 | Assessment of aphasia
96110 | Developmental test, lim
96111 | Developmental test, extend
96115 | Neurobehavior status exam
0029T | Magnetic tx for incontinence
INCLUDE HCPCS level 2 codes for the following physical therapy/occupational therapy/speech-language pathology services:
G0279 | Excorp shock tx, elbow epi
G0280 | Excorp shock tx other than
G0281 | Elec stim unattend for press
G0283 | Elec stim other than wound
RADIOLOGY AND CERTAIN OTHER IMAGING SERVICES
INCLUDE the following codes in the CPT 70000 series:
70100 | X-ray exam of jaw
70110 | X-ray exam of jaw
70120 | X-ray exam of mastoids
70130 | X-ray exam of mastoids
70134 | X-ray exam of middle ear
70140 | X-ray exam of facial bones
70150 | X-ray exam of facial bones
70160 | X-ray exam of nasal bones
70190 | X-ray exam of eye sockets
70200 | X-ray exam of eye sockets
70210 | X-ray exam of sinuses
70220 | X-ray exam of sinuses
70240 | X-ray exam, pituitary saddle
70250 | X-ray exam of skull
70260 | X-ray exam of skull
70300 | X-ray exam of teeth
70310 | X-ray exam of teeth
70320 | Full mouth x-ray of teeth
70328 | X-ray exam of jaw joint
70330 | X-ray exam of jaw joints
70336 | Magnetic image, jaw joint
70350 | X-ray head for orthodontia
70355 | Panoramic x-ray of jaws
70360 | X-ray exam of neck
70370 | Throat x-ray & fluoroscopy
70371 | Speech evaluation, complex
70380 | X-ray exam of salivary gland
70450 | Ct head/brain w/o dye
70460 | Ct head/brain w/dye
70470 | Ct head/brain w/o & w/ dye
70480 | Ct orbit/ear/fossa w/o dye
70481 | Ct orbit/ear/fossa w/dye
70482 | Ct orbit/ear/fossa w/o&w dye
70486 | Ct maxillofacial w/o dye
70487 | Ct maxillofacial w/dye
70488 | Ct maxillofacial w/o & w dye
70490 | Ct soft tissue neck w/o dye
70491 | Ct soft tissue neck w/dye
70492 | Ct sft tsue nck w/o & w/dye
70496 | Ct angiography, head
70498 | Ct angiography, neck
70540 | Mri orbit/face/neck w/o dye
70542 | Mri orbit/face/neck w/dye
70543 | Mri orbt/fac/nck w/o & w dye
70544 | Mr angiography head w/o dye
70545 | Mr angiography head w/dye
70546 | Mr angiograph head w/o&w dye
70547 | Mr angiography neck w/o dye
70548 | Mr angiography neck w/dye
70549 | Mr angiograph neck w/o&w dye
70551 | Mri brain w/o dye
70552 | Mri brain w/ dye
70553 | Mri brain w/o & w/ dye
71010 | Chest x-ray
71015 | Chest x-ray
71020 | Chest x-ray
71021 | Chest x-ray
71022 | Chest x-ray
71023 | Chest x-ray and fluoroscopy
71030 | Chest x-ray
71034 | Chest x-ray and fluoroscopy
71035 | Chest x-ray
71100 | X-ray exam of ribs
71101 | X-ray exam of ribs/chest
71110 | X-ray exam of ribs
71111 | X-ray exam of ribs/ chest
71120 | X-ray exam of breastbone
71130 | X-ray exam of breastbone
71250 | Ct thorax w/o dye
71260 | Ct thorax w/dye
71270 | Ct thorax w/o & w/ dye
71275 | Ct angiography, chest
71550 | Mri chest w/o dye
71551 | Mri chest w/dye
71552 | Mri chest w/o & w/dye
71555 | Mri angio chest w or w/o dye
72010 | X-ray exam of spine
72020 | X-ray exam of spine
72040 | X-ray exam of neck spine
72050 | X-ray exam of neck spine
72052 | X-ray exam of neck spine
72069 | X-ray exam of trunk spine
72070 | X-ray exam of thoracic spine
72072 | X-ray exam of thoracic spine
72074 | X-ray exam of thoracic spine
72080 | X-ray exam of trunk spine
72090 | X-ray exam of trunk spine
72100 | X-ray exam of lower spine
72110 | X-ray exam of lower spine
72114 | X-ray exam of lower spine
72120 | X-ray exam of lower spine
72125 | Ct neck spine w/o dye
72126 | Ct neck spine w/dye
72127 | Ct neck spine w/o & w/dye
72128 | Ct chest spine w/o dye
72129 | Ct chest spine w/dye
72130 | Ct chest spine w/o & w/dye
72131 | Ct lumbar spine w/o dye
72132 | Ct lumbar spine w/dye
72133 | Ct lumbar spine w/o & w/dye
72141 | Mri neck spine w/o dye
72142 | Mri neck spine w/dye
72146 | Mri chest spine w/o dye
72147 | Mri chest spine w/dye
72148 | Mri lumbar spine w/o dye
72149 | Mri lumbar spine w/dye
72156 | Mri neck spine w/o & w/dye
72157 | Mri chest spine w/o & w/dye
72158 | Mri lumbar spine w/o & w/dye
72170 | X-ray exam of pelvis
72190 | X-ray exam of pelvis
72191 | Ct angiograph pelv w/o&w/dye
72192 | Ct pelvis w/o dye
72193 | Ct pelvis w/dye
72194 | Ct pelvis w/o & w/dye
72195 | Mri pelvis w/o dye
72196 | Mri pelvis w/dye
72197 | Mri pelvis w/o & w dye
72198 | Mr angio pelvis w/o & w/dye
72200 | X-ray exam sacroiliac joints
72202 | X-ray exam sacroiliac joints
72220 | X-ray exam of tailbone
73000 | X-ray exam of collar bone
73010 | X-ray exam of shoulder blade
73020 | X-ray exam of shoulder
73030 | X-ray exam of shoulder
73050 | X-ray exam of shoulders
73060 | X-ray exam of humerus
73070 | X-ray exam of elbow
73080 | X-ray exam of elbow
73090 | X-ray exam of forearm
73092 | X-ray exam of arm, infant
73100 | X-ray exam of wrist
73110 | X-ray exam of wrist
73120 | X-ray exam of hand
73130 | X-ray exam of hand
73140 | X-ray exam of finger(s)
73200 | Ct upper extremity w/o dye
73201 | Ct upper extremity w/dye
73202 | Ct uppr extremity w/o&w/dye
73206 | Ct angio upr extrm w/o&w/dye
73218 | Mri upper extremity w/o dye
73219 | Mri upper extremity w/dye
73220 | Mri uppr extremity w/o&w/dye
73221 | Mri joint upr extrem w/o dye
73222 | Mri joint upr extrem w/dye
73223 | Mri joint upr extr w/o&w/dye
73500 | X-ray exam of hip
73510 | X-ray exam of hip
73520 | X-ray exam of hips
73540 | X-ray exam of pelvis & hips
73550 | X-ray exam of thigh
73560 | X-ray exam of knee, 1 or 2
73562 | X-ray exam of knee, 3
73564 | X-ray exam, knee, 4 or more
73565 | X-ray exam of knees
73590 | X-ray exam of lower leg
73592 | X-ray exam of leg, infant
73600 | X-ray exam of ankle
73610 | X-ray exam of ankle
73620 | X-ray exam of foot
73630 | X-ray exam of foot
73650 | X-ray exam of heel
73660 | X-ray exam of toe(s)
73700 | Ct lower extremity w/o dye
73701 | Ct lower extremity w/dye
73702 | Ct lwr extremity w/o&w/dye
73706 | Ct angio lwr extr w/o&w/dye
73718 | Mri lower extremity w/o dye
73719 | Mri lower extremity w/dye
73720 | Mri lwr extremity w/o&w/dye
73721 | Mri jnt of lwr extre w/o dye
73722 | Mri joint of lwr extr w/dye
73723 | Mri joint lwr extr w/o&w/dye
73725 | Mr ang lwr ext w or w/o dye
74000 | X-ray exam of abdomen
74010 | X-ray exam of abdomen
74020 | X-ray exam of abdomen
74022 | X-ray exam series, abdomen
74150 | Ct abdomen w/o dye
74160 | Ct abdomen w/dye
74170 | Ct abdomen w/o &w /dye
74175 | Ct angio abdom w/o & w/dye
74181 | Mri abdomen w/o dye
74182 | Mri abdomen w/dye
74183 | Mri abdomen w/o & w/dye
74185 | Mri angio, abdom w orw/o dye
74210 | Contrst x-ray exam of throat
74220 | Contrast x-ray, esophagus
74230 | Cine/vid x-ray, throat/esoph
74240 | X-ray exam, upper gi tract
74241 | X-ray exam, upper gi tract
74245 | X-ray exam, upper gi tract
74246 | Contrst x-ray uppr gi tract
74247 | Contrst x-ray uppr gi tract
74249 | Contrst x-ray uppr gi tract
74250 | X-ray exam of small bowel
74290 | Contrast x-ray, gallbladder
74291 | Contrast x-rays, gallbladder
74710 | X-ray measurement of pelvis
75552 | Heart mri for morph w/o dye
75553 | Heart mri for morph w/dye
75554 | Cardiac MRI/function
75555 | Cardiac MRI/limited study
75635 | Ct angio abdominal arteries
76000 | Fluoroscope examination
76006 | X-ray stress view
76010 | X-ray, nose to rectum
76020 | X-rays for bone age
76040 | X-rays, bone evaluation
76061 | X-rays, bone survey
76062 | X-rays, bone survey
76065 | X-rays, bone evaluation
76066 | Joint survey, single view
76070 | Ct bone density, axial
76071 | Ct bone density, peripheral
76082 | Computer mammogram add-on
76083 | Computer mammogram add-on
76090 | Mammogram, one breast
76091 | Mammogram, both breasts
76092 | Mammogram, screening
76093 | Magnetic image, breast
76094 | Magnetic image, both breasts
76100 | X-ray exam of body section
76101 | Complex body section x-ray
76102 | Complex body section x-rays
76120 | Cine/video x-rays
76125 | Cine/video x-rays add-on
76150 | X-ray exam, dry process
76370 | Ct scan for therapy guide
76375 | 3d/holograph reconstr add-on
76380 | CAT scan follow-up study
76400 | Magnetic image, bone marrow
76499 | Radiographic procedure
76506 | Echo exam of head
76511 | Echo exam of eye
76512 | Echo exam of eye
76513 | Echo exam of eye, water bath
76514 | Echo exam of eye, thickness
76516 | Echo exam of eye
76519 | Echo exam of eye
76536 | Us exam of head and neck
76604 | Us exam, chest, b-scan
76645 | Us exam, breast(s)
76700 | Us exam, abdom, complete
76705 | Echo exam of abdomen
76770 | Us exam abdo back wall, comp
76775 | Us exam abdo back wall, lim
76778 | Us exam kidney transplant
76800 | Us exam, spinal canal
76801 | Ob us < 14 wks, single fetus
76802 | Ob us < 14 wks, add'l fetus
76805 | Ob us >/= 14 wks, sngl fetus
76810 | Ob us >/= 14 wks, addl fetus
76811 | Ob us, detailed, sngl fetus
76812 | Ob us, detailed, addl fetus
76815 | Ob us, limited, fetus(s)
76816 | Ob us, follow-up, per fetus
76818 | Fetal biophys profile w/nst
76819 | Fetal biophys profil w/o nst
76825 | Echo exam of fetal heart
76826 | Echo exam of fetal heart
76827 | Echo exam of fetal heart
76828 | Echo exam of fetal heart
76856 | Us exam, pelvic, complete
76857 | Us exam, pelvic, limited
76870 | Us exam, scrotum
76880 | Us exam, extremity
76885 | Us exam infant hips, dynamic
76886 | Us exam infant hips, static
76970 | Ultrasound exam follow-up
76977 | Us bone density measure
76999 | Echo examination procedure
INCLUDE the following CPT codes for echocardiography and vascular ultrasound:
93303 | Echo transthoracic
93304 | Echo transthoracic
93307 | Echo exam of heart
93308 | Echo exam of heart
93320 | Doppler echo exam, heart [if used in conjunction with 93303-93308]
93321 | Doppler echo exam, heart [if used in conjunction with 93303-93308]
93325 | Doppler color flow add-on [if used in conjunction with 93303-93308]
93875 | Extracranial study
93880 | Extracranial study
93882 | Extracranial study
93886 | Intracranial study
93888 | Intracranial study
93922 | Extremity study
93923 | Extremity study
93924 | Extremity study
93925 | Lower extremity study
93926 | Lower extremity study
93930 | Upper extremity study
93931 | Upper extremity study
93965 | Extremity study
93970 | Extremity study
93971 | Extremity study
93975 | Vascular study
93976 | Vascular study
93978 | Vascular study
93979 | Vascular study
93980 | Penile vascular study
93981 | Penile vascular study
93990 | Doppler flow testing
INCLUDE the following CPT and HCPCS level 2 codes:
51798 | Us urine capacity measure
91110 | Gi tract capsule endoscopy
0028T | Dexa body composition study
0042T | Ct perfusion w/contrast, cbf
G0202 | Screeningmammographydigital
G0204 | Diagnosticmammographydigital
G0206 | Diagnosticmammographydigital
G0288 | Recon, CTA for surg plan
R0070 | Transport portable x-ray
R0075 | Transport port x-ray multipl
RADIATION THERAPY SERVICES AND SUPPLIES
INCLUDE the following codes in the CPT 70000 series:
77261 | Radiation therapy planning
77262 | Radiation therapy planning
77263 | Radiation therapy planning
77280 | Set radiation therapy field
77285 | Set radiation therapy field
77290 | Set radiation therapy field
77295 | Set radiation therapy field
77299 | Radiation therapy planning
77300 | Radiation therapy dose plan
77301 | Radiotherapy dose plan, imrt
77305 | Teletx isodose plan simple
77310 | Teletx isodose plan intermed
77315 | Teletx isodose plan complex
77321 | Special teletx port plan
77326 | Brachytx isodose calc simp
77327 | Brachytx isodose calc interm
77328 | Brachytx isodose plan compl
77331 | Special radiation dosimetry
77332 | Radiation treatment aid(s)
77333 | Radiation treatment aid(s)
77334 | Radiation treatment aid(s)
77336 | Radiation physics consult
77370 | Radiation physics consult
77399 | External radiation dosimetry
77401 | Radiation treatment delivery
77402 | Radiation treatment delivery
77403 | Radiation treatment delivery
77404 | Radiation treatment delivery
77406 | Radiation treatment delivery
77407 | Radiation treatment delivery
77408 | Radiation treatment delivery
77409 | Radiation treatment delivery
77411 | Radiation treatment delivery
77412 | Radiation treatment delivery
77413 | Radiation treatment delivery
77414 | Radiation treatment delivery
77416 | Radiation treatment delivery
77417 | Radiology port film(s)
77418 | Radiation tx delivery, imrt
77427 | Radiation tx management, x5
77431 | Radiation therapy management
77432 | Stereotactic radiation trmt
77470 | Special radiation treatment
77499 | Radiation therapy management
77520 | Proton trmt, simple w/o comp
77522 | Proton trmt, simple w/comp
77523 | Proton trmt, intermediate
77525 | Proton treatment, complex
77600 | Hyperthermia treatment
77605 | Hyperthermia treatment
77610 | Hyperthermia treatment
77615 | Hyperthermia treatment
77620 | Hyperthermia treatment
77750 | Infuse radioactive materials
77761 | Apply intrcav radiat simple
77762 | Apply intrcav radiat interm
77763 | Apply intrcav radiat compl
77776 | Apply interstit radiat simpl
77777 | Apply interstit radiat inter
77778 | Apply interstit radiat compl
77781 | High intensity brachytherapy
77782 | High intensity brachytherapy
77783 | High intensity brachytherapy
77784 | High intensity brachytherapy
77789 | Apply surface radiation
77790 | Radiation handling
77799 | Radium/radioisotope therapy
INCLUDE the following CPT and HCPCS level 2 codes classified elsewhere:
31643 | Diag bronchoscope/catheter
50559 | Renal endoscopy/radiotracer
55859 | Percut/needle insert, pros
61770 | Incise skull for treatment
61793 | Focus radiation beam
92974 | Cath place, cardio brachytx
G0173 | Stereo radiosurgery,complete
G0242 | Multisource photon ster plan
G0243 | Multisour photon stero treat
G0251 | Linear acc based stero radio
G0256 | Prostate brachy w palladium
G0261 | Prostate brachytherapy w/rad
G0338 | Linear accelerator stero pln
G0339 | Robot lin-radsurg com, first
G0340 | Robt lin-radsurg fractx 2-5
DRUGS USED BY PATIENTS UNDERGOING DIALYSIS
The physician self-referral prohibition does not apply to the following dialysis-related outpatient prescription drugs furnished in or by an ESRD facility if the conditions in § 411.355(g) are satisfied:
J0636 | Inj calcitriol per 0.1 mcg
J0895 | Deferoxamine mesylate inj
J1270 | Injection, doxercalciferol
J1750 | Iron dextran
J1756 | Iron sucrose injection
J2501 | Paricalcitol
J2916 | Na ferric gluconate complex
J2997 | Alteplase recombinant
Q4054 | Darbepoetin alfa, esrd use
Q4055 | Epoetin alfa, esrd use
PREVENTIVE SCREENING TESTS, IMMUNIZATIONS AND VACCINES
The physician self-referral prohibition does not apply to the following tests if they are performed for screening purposes and satisfy the conditions in § 411.355(h):
76083 | Computer mammogram add-on
76092 | Mammogram, screening
76977 | Us bone density measure
G0103 | Psa, total screening
G0107 | CA screen; fecal blood test
G0123 | Screen cerv/vag thin layer
G0124 | Screen c/v thin layer by MD
G0141 | Scr c/v cyto,autosys and md
G0143 | Scr c/v cyto,thinlayer,rescr
G0144 | Scr c/v cyto,thinlayer,rescr
G0145 | Scr c/v cyto,thinlayer,rescr
G0147 | Scr c/v cyto, automated sys
G0148 | Scr c/v cyto, autosys, rescr
G0202 | Screeningmammographydigital
P3000 | Screen pap by tech w md supv
P3001 | Screening pap smear by phys
The physician self-referral prohibition does not apply to the following immunization and vaccine codes if they satisfy the conditions in § 411.355(h):
90655 | Flu vaccine, 6-35 mo, im
90657 | Flu vaccine, 6-35 mo, im
90658 | Flu vaccine, 3 yrs, im
90732 | Pneumococcal vaccine
90740 | Hepb vacc, ill pat dose im
90743 | Hep b vacc, adol, 2 dose im
90744 | Hepb vacc ped/adol 3 dose im
90746 | Hepb vaccine, adult, im
90747 | Hepb vacc, ill pat 4 dose im
¹ CPT codes and descriptions only are copyright 2003 American Medical Association. All rights are reserved and applicable FARS/DFARS clauses apply.

[FR Doc. 03-27639 Filed 10-30-03; 3:43 pm]

BILLING CODE 4120-01-P